DEPARTMENT OF HEALTH AND HUMAN SERVICES

Centers for Medicare & Medicaid Services

42 CFR Parts 405, 410, 411, 414, and 415

[CMS-1169-P]

RIN 0938-AK57

Medicare Program; Revisions to Payment Policies Under the Physician Fee Schedule for Calendar Year 2002

AGENCY: Centers for Medicare & Medicaid Services (CMS), HHS.

ACTION: Proposed rule.

SUMMARY: This proposed rule would refine the resource-based practice expense relative value units and make several changes to Medicare Part B payment. The policy changes concern services and supplies incident to a physician's professional service; anesthesia base unit variations; recognition of CPT tracking codes; and nurse practitioners, physician assistants, and clinical nurse specialists performing screening sigmoidoscopies. We are proposing these refinements and changes to ensure that our payment systems are updated to reflect changes in medical practice and the relative value of services. We are soliciting comments on the proposed policy changes as well as comments on the payment policy for CPT modifier 62 that is used to report the work of co-surgeons.

The Medicare, Medicaid, and SCHIP Benefits Improvement and Protection Act of 2000 modernizes the mammography screening benefit and authorizes payment under the physician fee schedule effective January 1, 2002; provides for biennial screening pelvic examinations for certain beneficiaries effective July 1, 2001; provides for annual glaucoma screenings for high-risk beneficiaries effective January 1, 2002; expands coverage for screening colonoscopies to all beneficiaries effective July 1, 2001; establishes coverage for medical nutrition therapy services for certain beneficiaries effective January 1, 2002; expands payment for telehealth services effective October 1, 2001; requires certain Indian Health Service providers to be paid for some services under the physician fee schedule effective July 1, 2001; and revises the payment for certain physician pathology services effective January 1, 2001. This proposed rule would conform our regulations to reflect the statutory provisions.

DATES: We will consider comments if we receive them at the appropriate address, as provided below, no later than 5 p.m. on October 1, 2001.

ADDRESSES: Mail written comments (1 original and 3 copies) to the following address:

Centers for Medicare & Medicaid Services, Department of Health and Human Services, Attention: CMS-1169-P, P.O. Box 8013, Baltimore, MD 21244-8013.

To insure that mailed comments are received in time for us to consider them, please allow for possible delays in delivering them. If you prefer, you may deliver your written comments (1 original and 3 copies) to one of the following addresses: Room C5-14-03, 7500 Security Boulevard, Baltimore, MD 21244-8013.

Comments mailed to the above addresses may be delayed and received too late for us to consider them.

Because of staff and resource limitations, we cannot accept comments by facsimile (FAX) transmission. In commenting, please refer to file code CMS-1169-P.

For information on viewing public comments, please see the beginning of the Supplementary Information section.

FOR FURTHER INFORMATION CONTACT: Carolyn Mullen, (410) 786-4589 or Marc Hartstein, (410) 786-4539 (for issues related to resource-based practice expense relative value units).

Carlos Cano, (410) 786-0245 (for issues related to screenings for sigmoidoscopies).

Paul W. Kim, (410) 786-7410 (for issues related to incident to services).

Rick Ensor, (410) 786-5617 (for issues related to mammography screenings).

Bill Larson, (410) 786-4639 (for issues related to screening pelvic examinations, screenings for glaucoma, and coverage for screening colonoscopies).

Bob Ulikowski, (410) 786-5721 (for issues related to the payment for screening colonoscopies).

Mary Stojak, (410) 786-6939 (for issues related to medical nutrition therapy).

Joan Mitchell, (410) 786-4508 (for issues related to the payment for medical nutrition therapy).

Craig Dobyski, (410) 786-4584 (for issues related to telehealth).

Terri Harris, (410) 786-6830 (for issues related to Indian Health Service providers).

Jim Menas, (410) 786-4507 (for issues related to anesthesia and pathology services).

Diane Milstead, (410) 786-3355 (for all other issues).

SUPPLEMENTARY INFORMATION: Inspection of Public Comments: Comments received timely will be available for public inspection as they are received, generally beginning approximately 3 weeks after publication of a document, at 7500 Security Blvd, Baltimore, Maryland 21244, Monday through Friday of each week from 8:30 a.m. to 5 p.m. Please call (410) 786-7197 to make an appointment to view the public comments.

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $9. As an alternative, you can view and photocopy the Federal Register document at most libraries designated as Federal Depository Libraries and at many other public and academic libraries throughout the country that receive the Federal Register.

This Federal Register document is also available from the Federal Register online database through GPO Access, a service of the U.S. Government Printing Office. The Website address is: http://www.access.gpo.gov/nara/index.html.

Information on the physician fee schedule can be found on our homepage. You can access this data by using the following directions:

1. Go to the CMS homepage (http://www.cms.hhs.gov).

2. Click on “Medicare.”

3. Click on “Professional/Technical Information.”

4. Select Medicare Payment Systems.

5. Select Physician Fee Schedule.

Or, you can go directly to the Physician Fee Schedule page by typing the following: http://www.cms.hhs.gov/medicare/pfsmain.htm.

To assist readers in referencing sections contained in this preamble, we are providing the following table of contents. Some of the issues discussed in this preamble affect the payment policies but do not require changes to the regulations in the Code of Federal Regulations. Information on the regulation's impact appears throughout the preamble and is not exclusively in section VI.

Table of Contents

I. Background

A. Legislative History

B. Published Changes to the Fee Schedule

II. Specific Proposals for Calendar Year 2002

A. Resource-Based Practice Expense Relative Value Units

B. Nurse Practitioners, Physician Assistants, and Clinical Nurse Specialists Performing Screening Sigmoidoscopies

C. Services and Supplies Incident to a Physician's Professional Services: Conditions

D. Anesthesia Services

E. Performance Measurement and Emerging Technology Codes

F. Payment Policy for CPT Modifier 62 (Co-Surgery)

III. Implementation of Medicare, Medicaid, and SCHIP Benefits Improvement and Protection Act of 2000

A. Screening Mammography

B. Screening Pelvic Examinations

C. Screening for Glaucoma

D. Screening Colonoscopy

E. Medical Nutrition Therapy

F. Telehealth Services

G. Indian Health Service

H. Pathology Services

IV. Collection of Information Requirements

V.Response to Comments

VI. Regulatory Impact Analysis

Addendum A—Explanation and Use of Addendum B

Addendum B—2002 Relative Value Units and Related Information Used in Determining Medicare Payments for 2002

In addition, because of the many organizations and terms to which we refer by acronym in this proposed rule, we are listing these acronyms and their corresponding terms in alphabetical order below:

AMA American Medical Association

BBA Balanced Budget Act of 1997

BBRA Balanced Budget Refinement Act of 1999

CF Conversion factor

CFR Code of Federal Regulations

CPT [Physicians'] Current Procedural Terminology [4th Edition, 1997, copyrighted by the American Medical Association]

CPEP Clinical Practice Expert Panel

CRNA Certified Registered Nurse Anesthetist

E/M Evaluation and management

EB Electrical bioimpedance

FMR Fair market rental

GAF Geographic adjustment factor

GPCI Geographic practice cost index

CMS Centers for Medicare & Medicaid Services

HCPCS Healthcare Common Procedure Coding System

HHA Home health agency

HHS [Department of] Health and Human Services

IDTFs Independent Diagnostic Testing Facilities

MCM Medicare Carrier Manual

MedPAC Medicare Payment Advisory Commission

MEI Medicare Economic Index

MGMA Medical Group Management Association

MSA Metropolitan Statistical Area

NAMCS National Ambulatory Medical Care Survey

PC Professional component

PEAC Practice Expense Advisory Committee

PPAC Practicing Physicians Advisory Council

PPS Prospective payment system

RUC [AMA's Specialty Society] Relative [Value] Update Committee

RVU Relative value unit

SGR Sustainable growth rate

SMS [AMA's] Socioeconomic Monitoring System

TC Technical component

I. Background

A. Legislative History

Since January 1, 1992, Medicare has paid for physicians' services under section 1848 of the Social Security Act (the Act), “Payment for Physicians” Services.” This section provides for three major elements: (1) A fee schedule for the payment of physicians' services; (2) a sustainable growth rate for the rates of increase in Medicare expenditures for physicians' services; and (3) limits on the amounts that nonparticipating physicians can charge beneficiaries. The Act requires that payments under the fee schedule be based on national uniform relative value units (RVUs) based on the resources used in furnishing a service. Section 1848(c) of the Act requires that national RVUs be established for physician work, practice expense, and malpractice expense. Section 1848(c)(2)(B)(ii)(II) of the Act provides that adjustments in RVUs may not cause total physician fee schedule payments to differ by more than $20 million from what they would have been had the adjustments not been made. If adjustments to RVUs cause expenditures to change by more than $20 million, we must make adjustments to preserve budget neutrality.

B. Published Changes to the Fee Schedule

In the July 2000 proposed rule (65 FR 44177), we listed all of the final rules published through November 1999, relating to the updates to the RVUs and revisions to payment policies under the physician fee schedule.

In the November 2000 final rule with comment period (65 FR 65376), we revised the policy for resource-based practice expense relative value units (RVUs); the geographic practice cost indices; resource-based malpractice RVUs; critical care RVUs; care plan oversight, physician certification and recertification for home health services; observation care codes; ocular photodynamic therapy and other ophthalmologic treatments; electrical bioimpedance; antigen supply, and the implantation of ventricular assist devices. This rule also addressed the comments received on the May 3, 2000 interim final rule (65 FR 25664) on the supplemental survey criteria and made modifications to the criteria for data submitted in 2001. Based on public comments, we withdrew our proposals related to the global period for insertion, removal, and replacement of pacemakers and cardioverter defibrillators, and to the removal of RVUs for low intensity ultrasound. The November 2000 final rule also discussed or clarified the payment policy for incomplete medical direction, pulse oximetry services, outpatient therapy supervision, outpatient therapy caps, HCPCS “G” Codes, and the second 5-year refinement of work RVUs for services furnished beginning January 1, 2002. In addition, we finalized the calendar year (CY) 2000 interim physician work RVUs and issued interim RVUs for new and revised codes for CY 2001. We made these changes to ensure that our payment systems are updated to reflect changes in medical practice and the relative value of services. This final rule also announced the CY 2001 Medicare physician fee schedule conversion factor under the Medicare Supplementary Medical Insurance (Part B) program as required by section 1848(d) of the Act. The 2001 Medicare physician fee schedule conversion factor was $38.2581.

II. Specific Proposals for Calendar Year 2002

This proposed rule would affect the regulations set forth at Part 405, Federal health insurance for the aged and disabled, Part 410, Supplementary medical insurance (SMI) benefits; Part 411, Exclusions from Medicare and limitations on Medicare payment; Part 414, Payment for Part B medical and other health services; and Part 415, Services furnished by physicians in providers, supervising physicians in teaching settings, and residents in certain settings.

A. Resource-Based Practice Expense Relative Value Units

1. Resource-Based Practice Expense Legislation

Section 121 of the Social Security Act Amendments of 1994 (Public Law 103-432), enacted on October 31, 1994, required us to develop a methodology for a resource-based system for determining practice expense RVUs for each physician's service beginning in 1998. In developing the methodology, we were to consider the staff, equipment, and supplies used in providing medical and surgical services in various settings. The legislation specifically required that, in implementing the new system of practice expense RVUs, we apply the same budget-neutrality provisions that we apply to other adjustments under the physician fee schedule.

Section 4505(a) of the BBA amended section 1848(c)(2)(ii) of the Act and delayed the effective date of the resource-based practice expense RVU system until January 1, 1999. In addition, section 4505(b) of the BBA provided for a 4-year transition period from charge-based practice expense RVUs to resource-based RVUs. The practice expense RVUs for CY 1999 were the product of 75 percent of charge-based RVUs and 25 percent of the resource-based RVUs. For CY 2000, the RVUs were 50 percent charge-based RVUs and 50 percent resource-based RVUs. For CY 2001, the RVUs are 25 percent charge-based and 75 percent resource-based. After CY 2001, the RVUs will be totally resource-based.

Section 4505(e) of the BBA amended section 1848(c)(2) of the Act by providing that 1998 practice expense RVUs be adjusted for certain services in anticipation of implementation of resource-based practice expenses beginning in 1999. As a result, the statute required us to increase practice expense RVUs for office visits. For other services in which practice expense RVUs exceeded 110 percent of the work RVUs and were furnished less than 75 percent of the time in an office setting, the statute required us to reduce the 1998 practice expense RVUs to a number equal to 110 percent of the work RVUs. This reduction did not apply to services that had proposed resource-based practice expense RVUs that increased from their 1997 practice expense RVUs as reflected in the June 18, 1997 proposed rule (62 FR 33196). The services affected and the final RVUs for 1998 were published in the October 1997 final rule (62 FR 59103).

Further legislation affecting resource-based practice expense RVUs was included in the Balanced Budget Refinement Act of 1999 (BBRA) (Public Law 106-113). Section 212 of the BBRA amended section 1848(c)(2)(ii) of the Act by directing us to establish a process under which we accept and use, to the maximum extent practicable and consistent with sound data practices, data collected or developed by entities and organizations. These data would supplement the data we normally collect in determining the practice expense component of the physician fee schedule for payments in CY 2001 and CY 2002.

2. Current Methodology for Computing the Practice Expense Relative Value Unit System

Effective with services furnished on or after January 1, 1999, we established a new methodology for computing resource-based practice expense RVUs that used the two significant sources of actual practice expense data we have available—the Clinical Practice Expert Panel (CPEP) data and the American Medical Association's (AMA) Socioeconomic Monitoring System (SMS) data. The methodology was based on an assumption that current aggregate specialty practice costs are a reasonable way to establish initial estimates of relative resource costs for physicians' services across specialties. The methodology allocated these aggregate specialty practice costs to specific procedures and, thus, can be seen as a “top-down” approach. Discussion of the various elements of the methodology and their application follow.

a. Practice Expense Cost Pools. We used actual practice expense data by specialty, derived from the 1995 through 1998 SMS survey data, to create six cost pools—administrative labor, clinical labor, medical supplies, medical equipment, office supplies, and all other expenses. There were three steps in the creation of the cost pools. (Please note that use of the 1998 data was incorporated for CY 2001.)

• Step (1) We used the AMA's SMS survey of actual cost data to determine practice expenses per hour by cost category. The practice expenses per hour for each physician respondent's practice was calculated as the practice expenses for the practice divided by the total number of hours spent in patient care activities. The practice expenses per hour for the specialty were an average of the practice expenses per hour for the respondent physicians in that specialty. For the CY 2000 physician fee schedule, we also used data from a survey submitted by the Society of Thoracic Surgeons (STS) in calculating thoracic and cardiac surgeons' practice expense per hour. (Please see the November 1999 final rule (64 FR 59391) for additional information concerning acceptance of these data.) For CY 2001 we used these STS data, as well as survey data submitted by the American Society of Vascular Surgery and the Society of Vascular Surgery. (Please see the November 2000 final rule (65 FR 65385) for additional information on acceptance of these data.)

• Step (2) We determined the total number of physician hours (by specialty) spent treating Medicare patients. This was calculated from physician time data for each procedure code and from Medicare claims data.

• Step (3) We calculated the practice expense pools by specialty and by cost category by multiplying the specialty practice expenses per hour for each category by the total physician hours.

For services with work RVUs equal to zero (including the technical component (TC) of services with a TC and professional component (PC)), we created a separate practice expense pool using the average clinical staff time from the CPEP data (since these codes by definition do not have physician time) and the “all physicians” practice expense per hour.

b. Cost Allocation Methodology. For each specialty, we divided the six practice expense pools into two groups, based on whether direct or indirect costs were involved, and used a different allocation basis for each group. The first group included clinical labor, medical supplies, and medical equipment. The second group included administrative labor, office expenses, and all other expenses.

(i) Direct Costs. For direct costs (including clinical labor, medical supplies, and medical equipment), we used the CPEP data as the allocation basis. The CPEP data for clinical labor, medical supplies, and medical equipment were used to allocate the costs for each of the respective cost pools.

For the separate practice expense pool for services with work RVUs equal to zero, we used adjusted 1998 practice expense RVUs as an interim measure to allocate the direct cost pools. (Please see the November 1998 final rule (63 FR 58891) for further information related to this adjustment.) Also, for all radiology services that are assigned work RVUs, we used the adjusted 1998 practice expense RVUs for radiology services as an interim measure to allocate the direct practice expense cost pool for radiology. For all other specialties that perform radiology services, we used the CPEP data for radiology services in the allocation of that specialty's direct practice expense cost pools.

(ii) Indirect Costs. To allocate the cost pools for indirect costs, including administrative labor, office expenses, and all other expenses, we used the total direct costs, as described above, in combination with the physician fee schedule work RVUs. We converted the work RVUs to dollars using the Medicare CF (expressed in 1995 dollars for consistency with the SMS survey years).

The SMS pool was divided by the CPEP pool for each specialty to produce a scaling factor that was applied to the CPEP direct cost inputs. This was intended to match costs counted as practice expenses in the SMS survey with items counted as practice expenses in the CPEP process. When the specialty-specific scaling factor exceeded the average scaling factor by more than 3 standard deviations, we used the average scaling factor. (Please see the November 1999 final rule (64 FR 59390) for further discussion of this issue.)

For procedures performed by more than one specialty, the final procedure code allocation was a weighted average of allocations for the specialties that perform the procedure, with the weights being the frequency with which each specialty performs the procedure on Medicare patients.

c. Other Methodological Issues. (i) Global Practice Expense Relative Value Units. For services with the PC and TC paid under the physician fee schedule, the global practice expense RVUs were set equal to the sum of the PC and TC.

(ii) Practice Expenses per Hour Adjustments and Specialty Crosswalks. Since many specialties identified in our claims data did not correspond exactly to the specialties included in the practice expense tables from the SMS survey data, it was necessary to crosswalk these specialties to the most appropriate SMS specialty category. We also made the following adjustments to the practice expense per hour data. (For the rationale for these adjustments to the practice expense per hour, see the November 1998 final rule (63 FR 58841).)

• We set the medical materials and supplies practice expenses per hour for the specialty of “oncology” equal to the “all physician” medical materials and supplies practice expenses per hour.

• We based the administrative payroll, office, and other practice expenses per hour for the specialties of “physical therapy” and “occupational therapy” on data used to develop the salary equivalency guidelines for these specialties. We set the remaining practice expense per hour categories equal to the “all physician” practice expenses per hour from the SMS survey data. (Note that in the November 2000 final rule (65 FR 65403), we increased the space allotment for therapy services to 750 square feet.)

• Due to uncertainty concerning the appropriate crosswalk and time data for the nonphysician specialty “audiologist,” we derived the resource-based practice expense RVUs for codes performed by audiologists from the practice expenses per hour of the other specialties that perform these services.

• For the specialty of “emergency medicine,” we used the “all physician” practice expense per hour to create practice expense cost pools for the categories “clerical payroll” and “other expenses.”

• For the specialty of “podiatry,” we used the “all physician” practice expense per hour to create the practice expense pool.

• For the specialty of “pathology,” we removed the supervision and autopsy hours reimbursed through Part A of the Medicare program from the practice expense per hour calculation.

• For the specialty “maxillofacial prosthetics,” we used the “all physician” practice expense per hour to create practice expense cost pools and, as an interim measure, allocated these pools using the adjusted 1998 practice expense RVUs.

• We split the practice expenses per hour for the specialty “radiology” into “radiation oncology” and “radiology other than radiation oncology” and used this split practice expense per hour to create practice expense cost pools for these specialties.

(iii) Time Associated with the Work RVUs. The time data resulting from the refinement of the work RVUs have been, on average, 25 percent greater than the time data obtained by the Harvard study for the same services. We increased the Harvard study's time data to ensure consistency between these data sources.

For services with no assigned physician time, such as dialysis, physical therapy, psychology, and many radiology and other diagnostic services, we calculated estimated total physician time based on work RVUs, maximum clinical staff time for each service as shown in the CPEP data, or the judgment of our clinical staff.

We calculated the time for CPT codes (hereafter referred to as “codes”) 00100 through 01996 using the base and time units from the anesthesia fee schedule and the Medicare allowed claims data.

3. Refinement

a. Background. Section 4505(d)(1)(C) of the BBA amended section 1848(c)(2)(C)(ii) of the Act by directing us to develop a refinement process to be used during each of the 4 years of the transition period. We did not propose a specific long-term refinement process in the June 1998 proposed rule (63 FR 30835). Rather, we set out the parameters for an acceptable refinement process for practice expense RVUs and solicited comments on our proposal. We received a variety of comments about broad methodology issues, practice expense per-hour data, and detailed code-level data. We made adjustments to our proposal based on comments we received. We also indicated that we would consider other comments for possible refinement and that the RVUs for all codes would be considered interim for 1999 and for future years during the transition period.

We outlined in the November 1998 final rule (63 FR 58832) the steps we were undertaking as part of the initial refinement process. These steps included the following:

• Establishment of a mechanism to receive independent advice for dealing with broad practice expense RVU technical and methodological issues.

• Evaluation of any additional recommendations from the General Accounting Office, the Medicare Payment Advisory Commission (MedPAC), and the Practicing Physicians Advisory Council (PPAC).

• Consultation with physician and other groups about these issues.

We also discussed a proposal submitted by the AMA's Specialty Society Relative Value Update Committee (RUC) for development of a new advisory committee, the Practice Expense Advisory Committee (PEAC), to review comments and recommendations on the code-specific CPEP data during the refinement period. In addition, we solicited comments and suggestions about our practice expense methodology from organizations that have a broad range of interests and expertise in practice expense and survey issues.

b. Current Status of Refinement Activities. In the 1999 and 2000 proposed and final rules, we provided further information on refinement activities underway, including the AMA's formation of the PEAC and the support contract that we awarded to the Lewin Group to focus on methodologic issues. In addition, in these rules we announced actions taken and decisions made in response to the hundreds of comments received on our resource-based physician practice expense initiative. Because the transition will be completed in CY 2002 and the practice expense RVUs will then be totally resource-based, it is appropriate to recap the specific achievements reached and decisions implemented during this refinement effort to date.

(i) Use of the Top-Down Approach. Most of the physician organizations commenting agreed that this methodology was preferred for computing resource-based practice expense RVUs and that it was in accordance with the requirements of the BBA. KPMG Peat Marwick, under contract to us, reviewed the top-down methodology in which aggregate specialty costs are applied to specific procedures and concluded that it followed reasonable cost accounting principles. A 1999 GAO report concludes, “HCFA's new approach represents a reasonable starting point for creating resource-based practice expense RVUs. It uses the best available data for this purpose and explicitly recognizes specialty differences in practice expense.” Based on these comments and assessments, we made the decision to continue to use the top-down methodology to calculate the resource-based practice expense RVUs.

(ii) Use of the SMS Survey. The supplemental non-SMS survey data submitted by several specialties in response to the 1998 proposed rule, with the exception of the survey data from the thoracic surgeons, were not compatible with the format or methodology of the SMS. We awarded a contract to the Lewin Group to recommend criteria for the acceptance of specialty-specific practice expense data so that we could supplement the SMS data as appropriate. These recommended criteria are contained in the final report, “An Evaluation of the Health Care Financing Administration's Resource-Based Practice Expense Methodology.” This report is available on our web page under the same title. (Access to our web site is discussed under the SUPPLEMENTARY INFORMATION section above.)

The report also contains recommendations for revisions to the SMS or other surveys to efficiently meet the needs of our practice expense methodology. We augmented these recommendations and forwarded our suggestions for revisions to any future surveys to the AMA. For example, we developed supplementary survey questions that would allow us to distinguish both costs and direct patient care hours for all midlevel practitioners. We also suggested revisions that would capture the necessary information on separately billable supplies and services so that we could eliminate these costs from the specialty-specific practice expense per-hour calculations.

To obtain supplementary specialty-specific practice expense data that could be used in computing practice expense RVUs beginning January 1, 2001, we published an interim final rule on May 3, 2000 (65 FR 25664) that set forth the criteria applicable to supplemental survey data submitted to us by August 1, 2000.

We also provided a 60-day period for submission of public comments on our criteria for survey data submitted between August 2, 2000 and August 1, 2001 for use in computing the practice expense RVUs for the CY 2002 physician fee schedule.

In the November 1, 2000 final rule (65 FR 65385), we responded to comments received on the interim final rule and made modifications to the criteria for supplemental survey data that will be considered in computing practice expense RVUs for the CY 2002 physician fee schedule. These data can then be used to supplement the SMS survey data currently used to estimate each specialty's aggregate practice costs or to replace the crosswalks used for specialties not represented in the SMS.

In our November 1999 final rule, we accepted supplementary data submitted by the thoracic surgeons and, in our November 2000 rule, we accepted survey data from the vascular surgeons that replaced the previously crosswalked practice expense per hour data for that specialty. If we receive additional specialty-specific survey data before August 1, 2001 that meets the criteria outlined in the November 1, 2000 final rule, we will use this supplementary data in calculating the CY 2002 practice expense RVUs.

We accepted our contractor's recommendation to incorporate the latest SMS data into our practice-expense-per-hour calculations. For CY 2001, we incorporated the 1998 SMS data into a 4-year average and are proposing to incorporate the 1999 SMS data into a 5-year average to calculate the CY 2002 practice expense RVUs.

We also accepted the contractor's recommendation to standardize the survey practice expense data to a common year. We adjusted the data to reflect a 1995 cost year.

We received comments that urged us to use the median SMS specialty-specific data instead of the mean, as well as comments supporting our use of the mean values. We made a decision to continue to use the mean in calculating the specialty-specific practice expense per hour. We believe that, in a small sample, using the median could eliminate outlying data from the calculation that represent real costs and thus should be considered.

(iii) CPEP Data. The AMA has formed a multispecialty sub-committee of their Relative Value Update Committee (RUC), the Practice Expense Advisory Committee (PEAC), to review the CPEP clinical staff, equipment, and supply data for all physician services. This multispecialty committee, which includes representatives from all major specialty societies, would then make recommendations on suggested refinements to this data. We indicated in our November 1998 final rule (63 FR 58833) that we would work with the PEAC and RUC to refine the practice expense direct cost inputs. This refinement process was supported in comments we received from almost every major physician specialty society.

In our 1999 physician fee schedule final rule, we implemented most CPEP refinements recommended by the RUC. For the 2000 final rule, the RUC forwarded to us significant additional refinement recommendations that reflected multispecialty agreement on the typical resources for many important services, including visit codes, that account for approximately 24 percent of Medicare spending for physician services. Again we received and accepted almost all of these RUC recommendations. In addition, at its October 2000, February 2001, and April 2001 meetings, the PEAC focused on high-volume services and on standardizing inputs across wide ranges of services. We, therefore, anticipate that the pace of refinement of the CPEP inputs will continue to accelerate.

In addition to implementing most of the RUC-recommended refinements, we responded to comments on errors and anomalies in the CPEP data in both the November 1999 and November 2000 final rules. For example, we removed separately billable casting supplies and drugs from all services, we adjusted the prices of certain supplies that were clearly in error, we removed duplicated equipment from the direct inputs of the nuclear medicine codes, we added clearly essential equipment that was missing from the lithotripsy and photochemotherapy codes, we corrected anomalies in inputs within several families of codes, and we changed the crosswalks for the CPEP inputs of several codes not valued by the CPEP panels when a commenter suggested more appropriate crosswalks.

We simplified the refinement of equipment inputs by combining both the procedure-specific and overhead equipment into a single equipment category. We also deleted stand-by equipment and equipment used for multiple services at one time from the direct cost inputs because of the difficulty of allocating these costs at the code-specific level.

We are resolving issues related to averaging input costs for codes that were valued by more than one CPEP panel. While we have received comments agreeing and disagreeing with our use of mean costs, the issue is moot because we are substituting refined data for the data previously produced by multiple CPEPs.

(iv) Physician Time Data. In the November 1999 rule (64 FR 59404), we stated that, in general, requests for revisions for the procedure-specific physician times should be deferred to either the RUC process or the 5-year review process. However, we did adopt the newer data to correct the physician time for the pediatric surgery codes and made the requested revisions to correct anomalies in the times of certain psychotherapy codes.

In response to comments on the times associated with physical and occupational therapy services, we added preservice and postservice times to all of these codes.

(v) Crosswalk Issues. In response to concerns expressed by specialty societies representing emergency medicine that the SMS data did not capture the costs of uncompensated care, we crosswalked emergency medicine's administrative labor and other expenses cost pools to the practice expense per hour for “all physicians.”

We resolved issues related to the specialty crosswalk for nursing specialties by eliminating the separate practice expense pools for midlevel practitioners.

(vi) Calculation of Practice Expense Pools—Other Issues. We addressed concerns that potential errors in our specialty utilization data will have an effect on the calculation of practice expense RVUs. In the July 2000 proposed rule (65 FR 44178), we discussed our simulations that demonstrated that the small percentage of potential errors in our very large database have no adverse effect on specialty-specific practice expense RVUs.

We have created the zero-work pool for services with no physician work to ensure that these services are not inappropriately disadvantaged by our methodology. We have also agreed with the request of all the specialty societies that commented that their services should be moved out of the zero-work pool and into the specialty-specific pool. The specialties whose services remain in the zero-work pool have indicated that they wish their services to remain there. We plan to eliminate this separate pool for services with no physician work only when we have determined what revisions to our methodology are required so that we can value these services appropriately outside of the zero-work pool.

(vii) Calculation of Indirect Cost. We requested that our contractor evaluate various options for calculating indirect costs. The final report, referenced above, contains an analysis of the impacts of six alternative allocation methodologies. In confirming the suitability of our allocation methodology, the report concludes that “HCFA's approach is broadly consistent with most of the alternative methods. This consistency suggests that, from a broad perspective, no other allocation methodology offers a compelling reason to abandon the current HCFA approach.”

(viii) Site-of-Service. The practice expense RVUs would be expected to be higher in the non-facility setting, where the practitioner bears the costs of the necessary staff, supplies, and equipment, than in the facility setting. To prevent potential anomalies in our calculations due to the different mix of specialties performing a given service in different settings, we capped the facility practice expense RVUs at the non-facility level for each specific service.

In the November 1999 final rule (64 FR 59407), in response to a comment from the Renal Physicians Association, we agreed that the monthly capitated service codes should always be reported using the non-facility designation. The site of service designations are not meaningful for a monthly service that may be provided in different settings for the same patient during a given month.

Although we need to do additional work to complete the refinement of all practice expense RVUs, we believe that the above description of our actions to date shows that much has been accomplished. We also believe that it demonstrates that we have been responsive to comments from the medical community and have established a process that enables this community to participate fully in the refinement of both the specialty-specific practice expense per hour and the CPEP code-specific inputs.

Practice Expense Proposals for Calendar Year 2002

(1) Use of 1999 SMS Survey Data

We are currently using data from the 1995 through the 1998 SMS surveys (1994 through 1997 practice expense data) in order to calculate the specialty-specific practice expense per hour. The 1999 SMS survey data is now available. Because we want to incorporate the most recent survey data into our methodology during the transition period, we are proposing to add this 1999 data to the 4 years of data we are currently using.

We are proposing to use these 5 years of data in addition to any supplemental specialty-specific data that meet our criteria as the basis of the practice expense per hour calculations until the first 5-year review of practice expense RVUs in 2007. At that time, we anticipate that newer practice expense survey data might be available.

The proposed specialty-specific practice-expense per hour calculations are shown in Table 1. The specialty level impact of using the additional SMS data is shown in Table 5 of the regulatory impact statement. As indicated, Table 5 shows the impact of this change only relative to the current estimated fully-implemented practice expense RVUs.

Table 1.—Specialty-Specific Practice Expense Per Hour Calculations
Specialty | Clinical payroll per hour | Clerical payroll per hour | Office expense per hour | Supplies expense per hour | Equipment expense per hour | Other expense per hour | Total expense per hour
ALL PHYSICIANS | 12.3 | 15.4 | 19.4 | 7.4 | 3.2 | 11.5 | 69
GENERAL/FAMILY PRACTICE | 14.8 | 14.9 | 17.7 | 7.9 | 3.1 | 8.8 | 67.1
GENERAL INTERNAL MEDICINE | 9.4 | 14.4 | 17.9 | 6.1 | 2.1 | 6.6 | 56.5
CARDIOVASCULAR DISEASE | 15.8 | 15.2 | 20.7 | 6.2 | 5.9 | 17.8 | 81.6
GASTROENTEROLOGY | 8.9 | 17 | 18 | 3.6 | 2.1 | 12.3 | 61.8
ALLERGY/IMMUNOLOGY | 36.3 | 25.3 | 31.4 | 16 | 2 | 15.8 | 128.8
PULMONARY DISEASE | 6.9 | 12.4 | 15.7 | 2.6 | 1.6 | 6.9 | 46.1
ONCOLOGY (with supplies adjustment) | 27.4 | 24.1 | 26.5 | 7.4 | 4.6 | 9.3 | 99.3
GENERAL SURGERY | 7.2 | 15.6 | 16.8 | 3.4 | 2 | 9.9 | 54.9
OTOLARYNGOLOGY | 17.2 | 25.2 | 32.9 | 7.5 | 5.6 | 17.2 | 105.7
ORTHOPEDIC SURGERY | 16.6 | 28.5 | 29.7 | 10.3 | 3.8 | 19.1 | 108
OPHTHALMOLOGY | 25.1 | 25.8 | 34.1 | 10.8 | 8.4 | 21.1 | 125.3
UROLOGICAL SURGERY | 12.4 | 18.5 | 23.2 | 25.5 | 5.3 | 11.3 | 96.2
PLASTIC SURGERY | 15 | 20.3 | 32.4 | 18.5 | 5.7 | 25.2 | 117.2
NEUROLOGICAL SURGERY | 8.6 | 25.6 | 28.6 | 1.8 | 1.4 | 16.1 | 82.2
CARDIAC/THORACIC SURGERY | 18.1 | 16.8 | 16.8 | 1.8 | 2.2 | 13.1 | 68.8
PEDIATRICS | 12.4 | 12.9 | 18.9 | 10.2 | 1.7 | 8.6 | 64.8
OBSTETRICS/GYNECOLOGY | 16.4 | 18.8 | 24.7 | 7.3 | 3.2 | 11.2 | 81.7
RADIATION ONCOLOGY | 14 | 9.2 | 12.1 | 5.4 | 9.7 | 16.4 | 66.8
RADIOLOGY | 9.3 | 10.8 | 14.8 | 4.8 | 7.4 | 20.9 | 68
PSYCHIATRY | 1.7 | 5.1 | 10.5 | 0.4 | 0.4 | 7.2 | 25.3
ANESTHESIOLOGY | 11.3 | 3.7 | 5.9 | 0.4 | 0.4 | 5.9 | 27.6
PATHOLOGY (adjusted to remove Part A Hrs) | 11.2 | 14 | 11.9 | 6.8 | 2 | 21 | 66.9
DERMATOLOGY | 22.5 | 28.4 | 33.4 | 12.6 | 5.4 | 17.2 | 119.4
EMERGENCY MEDICINE (adjusted for admin/other) | 3.3 | 15.4 | 2 | 0.7 | 0.1 | 11.5 | 33
NEUROLOGY | 8.3 | 23 | 19.5 | 5.2 | 4.4 | 9.3 | 69.7
PHYS MED/RHEUMATOLOGY | 14.9 | 23.7 | 30.7 | 6.5 | 6.2 | 12.2 | 94.2
OTHER SPECIALTY | 9.3 | 13 | 19.3 | 4.9 | 1.9 | 8.8 | 57.3
VASCULAR SURGERY (supplemental data) | 20.2 | 18.1 | 17.7 | 3.2 | 4.5 | 11.4 | 75.1
PHYSICAL AND OCCUPATIONAL THERAPY (see | 12.3 | 5.9 | 7.5 | 7.4 | 3.2 | 4.4 | 40.7
* Total expenses exclude professional liability insurance premiums and employee physician payroll.
Notes:
—Only self-employed non-federal non-resident patient care physicians who responded to all relevant expense questions are included. Self-employed physician respondents with no practice expenses for the year are excluded.
—Physicians whose typical number of hours worked in patient care activities per week is missing, less than 20, or equal to 168 are excluded. Physicians whose number of weeks worked the previous year is missing or less than 26 are excluded.
—For each respondent, total practice expense and expense components per hour are calculated as (4)/(5) below.
—Expenses adjusted for practice size = self-employed respondent expenses X # physician owners
—Hours adjusted for practice size =(respondent hours * # physician owners) + (employee physician hours (see (6) below) * # employee physicians)
—The typical number of hours worked in patient care activities for the employee physician(s) of a self-employed physician's practice is not known.
Mean hours worked in patient care activities for employee physicians of each specialty are used as an estimate of employee physician hours.
—As described earlier in this proposed rule, the practice expense per hour shown above reflect:
—the “All Physician” supplies expense per hour for Oncology
—use of supplemental SMS practice expense data for Cardiac and Thoracic Surgery in addition to regular SMS data collection.
—removal of hours spent in Part A activities for Pathology.
—Using the “All Physician” administration and other practice expense data for Emergency Medicine.
—Vascular Surgery data is based on supplemental survey not the SMS.
—Physical and occupational therapy data is based on “All Physician” for clinical, staff, supplies and equipment.
It is based on salary equivalency guidelines assuming 750 square feet of office space for clerical, office and other.

Supplemental Practice Expense Survey Data

To ensure the maximum opportunity for specialties to submit supplementary practice expense data, we are proposing to accept survey data that meets the criteria set forth in the November 2000 final rule for an additional 2 years. The deadlines for submission of such supplemental data to be considered in CY 2003 and CY 2004 are August 1, 2002 and August 1, 2003, respectively.

Repricing of CPEP Inputs

The cost of the original CPEP inputs for staff, supplies, and equipment were assigned by our contractor, Abt Associates, based primarily on 1994 and 1995 pricing data. In addition, for many items on the equipment and supply list, the associated costs were based on the recommendation of a CPEP panel member, rather than on actual catalog prices. Several equipment and supply items and clinical staff types also have been added subsequent to the CPEP panels. In general, the costs of these inputs have been provided by the relevant specialty society, with and without documentation of the costs.

We are proposing to revise the salary and cost estimates by using the most current pricing data available. We contracted with a consultant to help us in this endeavor and the contractor also solicited advice and information from the major medical specialty societies. We appreciate the time and effort given to this project by the staff of many of the specialty societies. We have at this time completed our proposals for the update of clinical staff salary data and discuss these proposals below. However, we have not yet completed the pricing update for all of the hundreds of supplies and pieces of equipment that are in our CPEP database. We have had difficulty in identifying some of these inputs because many of the original descriptions are too general to price (for example, “laser” or “antibody”) or because the item cannot be found in any supplier's catalog. In addition, several of the pieces of equipment are now obsolete and we need input regarding the appropriate equipment to price. Therefore, we need to work closely with the specialty societies in the coming months so that we can propose accurate prices for all the supply and equipment inputs in next year's proposed rule.

Staff Types and Wages

For the original CPEP wage data, Abt Associates used three primary external data sets: The Bureau of Labor Statistics' (BLS) Occupation Compensation Survey, 1993; The University of Texas Medical Branch (UTMB) Survey of Hospital and Medical School Salaries, 1994; and the Current Population Survey, 1993. Abt's report on the CPEP cost estimation stated that, “* * * the BLS data were considered to be the preferred data set. The BLS’ reputation for publishing valid estimates that are nationally representative led to the choice of the BLS data as the main source. If more than one data set provided an exact mapping for a receptionist, then the BLS wage was chosen over any other mapping.”

We agreed with this assessment and directed our current contractor to use the most current BLS survey (1999) as the main source of wage data. The two other data sets used by Abt were not useful in this pricing update. The UTMB survey has apparently not been repeated and the Current Population Survey was used mainly for administrative staff types that are no longer treated as a direct cost.

It should also be noted that the BLS discontinued the Occupational Compensation Survey used in 1995 and now conducts the National Compensation Survey that has a different breakdown of staff types than the earlier survey. This survey also does not cover all the staff types contained in the CPEP data. Therefore, it has been necessary for us to crosswalk or extrapolate the wages for several staff types using supplementary data sources for verification whenever possible.

We used three other data sources to price wages of staff types that were not referenced in the BLS data—the American Society of Clinical Pathologists' survey of laboratory staff salaries (found at www.ascp.org); the survey done by the American Academy of Health Physics and the American Board of Health Physics (found at www.hps1.org); and national salary data from the Salary Expert, an Internet site that develops national and local salary ranges and averages for thousands of job titles using mainly government sources. (A detailed explanation of the methodology used to determine the specific job salaries can be found at www.salaryexpert.com.)

We welcome comments and input on both our proposed wage rates and our proposed crosswalks. We are particularly seeking any additional sources of reliable national pricing for the wages of staff types not included in the BLS. Anecdotal information regarding individual pay scales will not be particularly helpful for setting national rates, though such information could help with verification of other data. For those staff types that are included in the BLS, we would require data that is equally representative and valid in order to consider revising our proposed salaries.

The table below lists the clinical staff types whose input has been priced, the source for the data, the staff type crosswalk used, the proposed annual salary in 2001 dollars (using the Medicare Economic Index to convert 1999 salaries to 2001 dollars), the proposed cost per minute (including benefits) and the current cost per minute (including benefits) for comparison purposes. The proposed cost per minute was derived by dividing the annual salary by 2080 to arrive at the hourly wage rate and then again by 60 to arrive at the per minute cost. To account for the employers' cost of providing fringe benefits, such as sick leave, we used the same benefits multiplier of 1.366 used by Abt. The last column in the table refers to the numbered notes following the table that contain proposals regarding the pricing of the staff types and additional information as needed.

Table 2.—Proposed Wage Rates for CPEP Clinical Staff Types
Description | Source | Crosswalk | Mean yrly 2001 | Proposed per minute | Current per minute | Note #
Physical Therapy Aide | BLS | Physical Therapist Aides | 21,077.36 | 0.226 | 0.232 |
Medical Assistant | BLS | Medical Assistants | 23,680.67 | 0.254 | 0.162 | 1
Technical Aide | BLS | Medical Assistants | 23,680.67 | 0.254 | 0.225 | 1
Medical Technician | BLS | Medical Assistants | 23,680.67 | 0.254 | 0.225 | 1
EKG Technician | BLS | Medical Assistants | 23,680.67 | 0.254 | 0.204 | 1
Anesthesia Technician | BLS | Medical Assistants | 23,680.67 | 0.254 | 0.225 | 1
Technician | BLS | Medical Assistants | 23,680.67 | 0.254 | 0.225 | 1
Cast Technician | BLS | Medical Assistants | 23,680.67 | 0.254 | 0.177 | 1
LPN | BLS | Licensed Practical Nurses | 30,340.53 | 0.325 | 0.267 |
RN | BLS | Registered Nurses | 46,493.56 | 0.498 | 0.422 |
RN Cardiology | BLS | Registered Nurses | 46,493.56 | 0.498 | 0.574 | 2
RN Oncology | BLS | Registered Nurses plus adjustment | 54,862.40 | 0.587 | 0.497 | 2
Surgery Assistant | BLS | Surgical Technologists | 28,814.09 | 0.308 | 0.326 | 3
Certified Surgical Technician | BLS | Surgical Technologists | 28,814.09 | 0.308 | 0.262 |
Lab Technician | BLS | Medical and Clinical Laboratory Technicians | 29,723.68 | 0.318 | 0.288 |
Histotechnician | ASCP | Histologic Technologist | 33,924.51 | 0.363 | 0.306 | 4
Electron Microscopy Technician | ASCP | Histologic Technologist | 33,924.51 | 0.363 | 0.312 | 5
Cytotechnologist | BLS | Medical and Clinical Laboratory Technologists | 41,098.76 | 0.440 | 0.415 |
EEG Technician | Salary Expert | Electroencephalographic Technician | 29,150.74 | 0.312 | 0.283 | 6
Electrodiagnostic Technologist | BLS | Electroneurodiagnostic Technologists | 33,529.31 | 0.359 | 0.302 | 6
Registered EEG Technologist | Current Rate | Registered EEG Technologist | 37,645.00 | 0.403 | 0.403 | 6
Vascular Technician | BLS | Cardiovascular Technologists and Technicians | 34,794.37 | 0.372 | 0.351 | 7
Cardiovascular Technician | BLS | Cardiovascular Technologists and Technicians | 34,794.37 | 0.372 | 0.351 |
Radiation Technologist | BLS | Radiologic Technologists and Technicians | 37,125.85 | 0.397 | 0.319 | 8
X-Ray Technologist | BLS | Radiologic Technologists and Technicians | 37,125.85 | 0.397 | 0.319 | 8
Angiographic Technician | BLS | Radiologic Technologists and Technicians | 37,125.85 | 0.397 | 0.351 | 9
CAT Scan Technician | BLS | Radiologic Technologists and Technicians | 37,125.85 | 0.397 | 0.319 | 9
MRI Technician | BLS | Radiologic Technologists and Technicians | 37,125.85 | 0.397 | 0.319 | 9
Nuclear Medicine Technician | BLS | Nuclear Medicine Technologists | 44,360.73 | 0.475 | 0.392 |
Nuclear Cardiology Technician | BLS | Nuclear Medicine Technologists | 44,360.73 | 0.475 | 0.392 | 10
Ultrasound Technician | BLS | Diagnostic Medical Sonographers | 45,751.26 | 0.490 | 0.389 | 11
Sonographer | BLS | Diagnostic Medical Sonographers | 45,751.26 | 0.490 | 0.389 | 11
Cardiac Sonographer | BLS | Diagnostic Medical Sonographers | 45,751.26 | 0.490 | 0.389 | 11
Radiation Technical Therapist | BLS | Radiation Therapists | 45,333.05 | 0.485 | 0.404 |
Dosimetrist | BLS | Radiation Therapists | 45,333.05 | 0.485 | 0.500 |
Physicist | AAHP | Certified Health Physicists | 84,495.54 | 0.905 | 0.968 | 12
COT | X-WALK | Lab Technician | 29,723.68 | 0.318 | 0.256 | 13
COMT | X-WALK | Histotechnician | 33,924.51 | 0.363 | 0.278 | 13
Optician | BLS | Opticians, Dispensing | 26,336.25 | 0.282 | 0.278 |
Certified Retinal Angiographer | Salary Expert | Ophthalmic Photographer | 35,453.04 | 0.380 | 0.351 | 14
Orthoptist | X-WALK | COMT | 33,924.51 | 0.363 | 0.315 | 15
Respiratory Therapist | BLS | Respiratory Therapists | 38,537.28 | 0.413 | 0.421 |
Speech Pathologist | BLS | Speech-Language Pathologists | 49,996.00 | 0.535 | 0.419 |
Audiologist | BLS | Audiologists | 47,748.17 | 0.511 | 0.411 |
Registered Dietician | BLS | Dieticians and Nutritionists | 39,049.57 | 0.418 | 0.365 |
Counselor | BLS | Mental Health Counselors | 30,769.18 | 0.329 | 0.422 |

(1) We are proposing to collapse the medical assistant, technical aide, medical technician, EKG technician, anesthesia technician, technician, and cast technician staff types into a new staff type called, “medical or technical assistant” that will be priced at the medical assistant proposed wage rate per minute. This will represent an increased per minute rate for all the bundled staff types.

(2) We are proposing to bundle the staff type “RN-cardiology” into the staff type “RN.” RN-cardiology is used as the staff type for the pre- and post-service time of only three percutaneous valvuloplasty services, codes 92986, 92987 and 92990. We were unable to find any national salary data for the oncology certified nurse (OCN). In the absence of other information, we are adjusting the proposed wage rate to be 18 percent higher than the RN; this is the same differential that currently exists between these two staff types.

(3) We are proposing to bundle the staff type “surgery assistant”, which is assigned to only 19 surgical services, into the staff type “certified surgical technologist (CST)”, which is assigned to 133 services. It also appears that Abt mapped the averaged costs from a first assistant and certified scrub technician to the surgery assistant staff type, which does not appear to be the most appropriate crosswalk for the office setting.

(4) We used the average hourly rate for histologic technologists from the 1998 American Society of Clinical Pathologists' survey to propose a wage for the histotechnician staff type. This survey's average hourly rate of $12.90 for laboratory technician generally corresponds to our proposed rate of $13.67 and its average hourly rate of $19.00 for cytotechnologists almost matches our proposed rate of $18.90. Therefore, we believe that the $15.60 hourly rate we are proposing for the histotechnician maintains the current relativity between these laboratory staff types.

(5) We were unable to find any national salary data for the electron microscopy technician and, in the absence of such data, are crosswalking the salary from the wage rate for the histotechnician. This does represent an increase in the per minute cost for this staff type. However, we would welcome reliable national survey data from the specialty that we could use in pricing this staff type.

(6) We were only able to find direct BLS salary data for the electroneurodiagnostic technologist staff type. This information was contained in the BLS Occupational Outlook Handbook rather than in the listing of Occupational Employment Statistics where we found all other BLS data. We are proposing to crosswalk the corresponding salary from the Handbook to the electrodiagnostic technologist staff type. Data for the EEG technician came from the Salary Expert. We were unable to find any national salary data for registered EEG technologist (REEGT) and are proposing to maintain the current rate, since the speciality society recently recommended this rate of pay. However, we would also welcome reliable national survey data from the specialty that we could use in pricing these three levels of neurodiagnostic staff.

(7) We are proposing to bundle the vascular technician in with the cardiovascular technology staff type. Currently both are priced at the same rate.

(8) We are proposing to merge the x-ray technician and radiation technologist staff types, which are currently priced at the same rate, into a staff type called “Radiologic Technologist.”

(9) Because we were unable to find any national survey data regarding the salaries for CAT scan technician, MRI technician, or angiographic technician, we are proposing to crosswalk these staff types to the BLS radiologic technologist pay scale. If there is a generally applied differential for these specialized radiologic technologists, we would welcome any reliable national survey data that would allow us to separately price these staff types.

(10) We are proposing to merge the nuclear cardiology technician in with the nuclear medicine technician staff type. Currently, both are priced at the same rate.

(11) We are proposing to merge the cardiac sonographer and the ultrasound technician into the sonographer staff type. Currently, all three are priced at the same rate.

(12) We are proposing to use the average salary data for all certified health physicists from the 1999 survey done by the American Academy of Health Physics and the American Board of Health Physics.

(13) We were unable to find representative national salary data for either the certified ophthalmic technician (COT) or the certified ophthalmic medical technologist (COMT). Until we can obtain such data, we are proposing to crosswalk the COT and COMT to the lab technician and histotechnician, respectively, since we believe that the skill and responsibility of these staff types would generally correspond. Again, we would welcome reliable and representative national salary data for these staff types.

(14) Data for our proposed salary for the certified retinal angiographer came from the Salary Expert. The position description for the ophthalmic photographer appeared to match the duties of a retinal angiographer: “Photographs medical phenomena of eye to document diseases, surgeries, treatment and congenital problems * * * Injects contrast medium into vein of patient and photographs fluorescent dye as it flows through retina or iris vessels to obtain angiogram of eye * * *”

(15) In the absence of any national salary data for the orthoptist, we crosswalked the salary from that of the COMT, the highest level of ophthalmic medical personnel.

We are also proposing to delete those clinical staff that can bill separately from the list of CPEP staff types. We believe that these staff types are used as physician extenders and thus their salaries should not be considered as practice expense. Therefore, we are proposing to substitute physical therapy aide for physical therapist, registered nurse for physician assistant, nurse practitioner and psychologist, and counselor for social worker. We are also proposing to delete as redundant the ophthalmic medical personnel (OMP) staff type and are substituting the COMT/COT/RN/CST blend that was suggested by the American Academy of Ophthalmology and recommended by the AMA's Relative Value Update Committee.

The CPEP clinical staff inputs also include blends of staff types that are used for those services where more than one type of clinical staff may be used in the performance of the service. We are proposing to establish the payment rates for these blends by calculating a simple average of the wage rates of the staff types included. The table below shows the blended staff types, the proposed cost per minute and the current cost per minute.

Table 3.—Proposed Wage Rates for CPEP Blended Clinical Staff Types
Current description | Proposed description | Proposed per minute | Current per minute
COMT/COT/RN/CST | Same | 0.372 | 0.307
EKG Tech/MA | Medical or Technical Assistant (MTA) | 0.254 | 0.183
EKG Tech/Med Tech | Medical or Technical Assistant (MTA) | 0.254 | 0.214
Lab Tech/Histotech | Same | 0.341 | 0.297
Lab Tech/Med Tech | Lab Tech/MTA | 0.286 | 0.257
Optician/COMT | Same | 0.323 | 0.278
RN/LPN | Same | 0.412 | 0.389
RN/LPN/MA | RN/LPN/MTA | 0.359 | 0.317
RN/LPN/MA/Tech | RN/LPN/MTA | 0.359 | 0.269
RN/Med Tech/MA | RN/LPN/MTA | 0.359 | 0.269
RN/OCN | Same | 0.543 | 0.497
RN/PA/Cast Tech | RN/LPN/MTA | 0.359 | 0.402
RN/Respiratory Therapist | Same | 0.456 | 0.421
RN/Tech | RN/LPN/MTA | 0.359 | 0.323
RN/Ultrasound Tech | RN/Sonographer | 0.494 | 0.405
RN//MA | RN/LPN/MTA | 0.359 | 0.326
Note: The proposed descriptions are based on our proposals on staff types from the previous table. We have eliminated the staff types we have proposed deleting from the above blends. We are also proposing to add LPN to the blend of an RN and a medical or technical assistant because we believe that if an RN and an assistant can perform a service, it is reasonable to assume that an LPN could as well.

Revision of the Ophthalmology Visit Supply Package

In its May 2000 submission to us, the RUC recommended the use of an ophthalmology visit supply package that would contain the routine supplies typically used in each 90-day global postsurgical visit for ophthalmology services. We accepted this recommendation. However, upon further review, we noted that two of the supplies—rev eyes and post myd spectacles—were not used in many of the postsurgical office visits. Therefore, after consulting with the ophthalmology specialty society, we are proposing to remove these two items from the ophthalmology visit package. Instead, we propose to include these items as appropriate on a code-by-code basis.

Deletion of Contrast Agents From the Practice Expense Inputs

Section 430(b) of BIPA amends section 1861(t)(1) of the Act to include contrast agents in the definition of drugs and biologicals. Previously, contrast agents were defined as supplies and were included in the list of CPEP supplies for the appropriate services. Therefore, we are proposing to delete the costs of the following contrast agents from our CPEP data—hypaque, methylene blue, high density barium, polibar, telopaque tablets, barium paste contrast, effervescent sparkies (fizzies) and renographin-60 iodinated contrast.

Physician Time

RUC Time Database

The primary sources for the physician time data used in creating the specialty-specific practice expense pools are the surveys performed for the initial establishment of the work RVUs and the surveys submitted to the AMA RUC. The AMA informed us that some of the times used for the November 1998 final rule (63 FR 58823) differed from the official RUC database, and we agreed to use the RUC-verified physician time database when we received it from the AMA. Subsequently, the AMA notified us that there were gaps in its own database for certain global surgery codes and that a revised time database would be sent to us once all the times were verified. We have now received this revised database and are proposing to use it in the calculation of the specialty-specific practice expense pools. It should be noted that the RUC database reflects the proposed physician times for those codes that were surveyed as part of the 5-year review of physician work.

c. Site-of-Service: Comments on Site of Service. In the November 2, 1998 final rule (63 FR 58830) and the November 2, 1999 final rule (64 FR 59407), we indicated the circumstances under which either the facility or the non-facility RVUs are used to calculate payment for a service. Specifically, we indicated that the lower facility practice expense RVUs apply when the service is performed in an Ambulatory Service Center (ASC) and the procedure is on the ASC-approved procedures list. The higher non-facility practice expense RVUs apply to procedures performed in an ASC that are not on the ASC-approved list because there will be no separate facility payment for these services. We have recently received a number of inquiries asking about the place-of-service that should be used on the Medicare claim when a service not on the ASC-approved procedures list is provided in an ASC. In these circumstances, physicians should indicate ASC as the place-of-service on the Medicare claim. Other questions have arisen as to whether a beneficiary can be billed the ASC facility fee when Medicare does not pay a facility fee because a procedure not on the ASC list is performed in a certified ASC. In this situation, Medicare pays the higher non-facility practice expense RVUs because the ASC is effectively serving as a physician's office, and Medicare's payment for the physician's service includes payment for all practice expenses incurred in furnishing the service. The ASC benefit does not apply since the services do not meet the provisions of section 1833(i) of the Act. The services are covered as physicians' services and paid under the physician fee schedule. Therefore, payment to the physician reflects payment for the whole service, and the beneficiary cannot be charged in excess of the limiting charge for the physician fee schedule service.

B. Nurse Practitioners, Physician Assistants, and Clinical Nurse Specialists Performing Screening Sigmoidoscopies

On January 1, 1998, we implemented regulations at § 410.37(d) (Conditions for coverage of screening flexible sigmoidoscopies) requiring that screening flexible sigmoidoscopies be performed by a doctor of medicine or osteopathy (as defined in section 1861(r)(1) of the Act). Based on our review of current medical literature, we believe that there are other practitioners whose services are covered under Medicare who have been trained and are qualified to perform these procedures safely and accurately, such as nurse practitioners, clinical nurse specialists, and physician assistants.

A growing body of literature has shown that certain non-physician health care professionals can carry out screening by flexible sigmoidoscopy as accurately and safely as physicians when properly trained. This procedure requires fewer supervised examinations to attain objective measures of technical competency than other endoscopic procedures, does not require sedation, and has a low rate of related complications. In the studies reviewed, physician and non-physician endoscopists achieved similar polyp detection rates and depth of insertion in screenings performed independently. No significant complications from sigmoidoscopy were reported in any of these studies. The level of satisfaction with the procedure was similar for all practitioners.

Therefore, we are proposing to revise § 410.37(d) to provide that, in addition to medical doctors and doctors of osteopathy, physician assistants, nurse practitioners, and clinical nurse specialists also be allowed to perform screening flexible sigmoidoscopies for beneficiaries if they meet the applicable Medicare qualification requirements in §§ 410.74, 410.75, and 410.76, and if they are authorized to perform these services under State law.

C. Services and Supplies Incident to a Physician's Professional Services: Conditions

Section 1861(s)(2)(A) of the Act authorizes coverage of services and supplies (including drugs and biologicals that cannot, as determined in accordance with regulations, be self-administered) furnished as an incident to a physician's service, of kinds which are commonly furnished in physicians' offices and are commonly either furnished without charge or included in the physician's bills. This statutory “incident to” benefit differs from the “incident to” benefit in the hospital setting as set forth in section 1861(s)(2)(B) of the Act, which authorizes coverage of hospital services (including drugs and biologicals which cannot, as determined in accordance with regulations, be self-administered) incident to a physician's service furnished to outpatients and partial hospitalization services furnished to outpatients incident to a physician's service. This proposal only addresses the “incident to” benefit set forth in section 1861(s)(2)(A) of the Act.

In addition, the statute provides Medicare coverage of services incident to practitioners other than physicians. For example, section 1861(s)(2)(K) of the Act authorizes Medicare to pay for services incident to a service of a nurse practitioner or a physician assistant.

Section 2050 of the Medicare Carriers Manual (the manual) clarifies the coverage of services “incident to” physician services as described in section 1861(s)(2)(A) of the Act. Specifically, services incident to a physician service may be furnished by an employee of the physician. Alternatively, both the physician and the individual furnishing the “incident to” service must be employed by a common employer. Furthermore, the individual furnishing the “incident to” service may be any staff member working with the physician and not just one of the non-physician practitioners listed in section 1842(b)(18)(C) of the Act. We shall refer to these staff members as auxiliary personnel, a term which includes registered nurses and medical assistants.

Currently, our manual requires that the physician be either the employer of the auxiliary personnel or be an employee of the same entity that employs the auxiliary personnel. We note that, under our manual, auxiliary personnel may be either employees, leased employees, or independent contractors. An independent contractor relationship appears to be common current practice because it affords the auxiliary personnel the flexibility to work with various physicians or practitioners on a part-time basis. We do not believe that the nature of the employment relationship is critical for purposes of payment for services incident to the services of physicians and practitioners, so long as the auxiliary personnel reports to a physician or practitioner under the required level of supervision. We see no clinical reason to exclude independent contractor physicians and practitioners from the class of practitioners who can receive Medicare payment for services incident to their own services based solely on their status as independent contractors. Accordingly, we propose to allow auxiliary personnel to provide services incident to the services of physicians or practitioners who supervise them, regardless of the employment relationship. Thus, auxiliary personnel may be employees, leased employees, or independent contractors, and may provide services incident to the services of physicians and practitioners who employ or contract with them or who are employees or independent contractors of the same entity, provided that the other requirements for payment for “incident to” services are met. We note, however, that the employment relationship remains relevant under our rules prohibiting reassignment of Medicare benefits. (§§ 424.73 and 424.80) We also propose to codify the following definitions:

• Auxiliary personnel means any individual who is acting under the supervision of a physician, regardless of whether the individual is an employee, leased employee, or independent contractor of the physician (or other practitioner) or of the same entity that employs or contracts with the physician (or other practitioner).

• Direct supervision means the level of supervision by the physician (or other practitioner) of auxiliary personnel as defined in § 410.32(b)(3)(ii).

• Independent contractor means an individual who performs part-time or full-time work for which the individual receives an IRS-1099 form.

• Leased employment means an employment relationship that is recognized by applicable State law and that is established by two employers by a contract such that one employer hires the services of an employee of the other employer.

• Noninstitutional setting means all settings other than a hospital or skilled nursing facility.

• Practitioner means a non-physician practitioner who is authorized by the Act to receive payment for services incident to his or her own services.

• Services and supplies means any service or supply (including any drug and biological that cannot be self-administered) that is included in section 1861(s)(2)(A) of the Act and is not specifically listed in the Act as a separate benefit included in the Medicare program.

We also propose to codify the provisions in section 2050 of the manual by revising § 410.26 to clarify the requirements for “incident to” services. Section 410.26 would be revised as follows:

• Services and supplies must be furnished in a noninstitutional setting to noninstitutional patients.

• Services and supplies must be an integral, although incidental, part of the service of a physician (or other practitioner) in the course of diagnosis or treatment of an injury or illness.

• Services and supplies must be commonly furnished without charge or included in the bill of a physician (or other practitioner).

• Services and supplies must be of a type that are commonly furnished in the office or clinic of a physician (or other practitioner).

• Services and supplies must be furnished under the direct supervision of the physician (or other practitioner).

• Services and supplies must be furnished by the physician, practitioner with an incident to benefit, or by auxiliary personnel.

• A physician (or other practitioner) may be an employee or an independent contractor.

• Drugs and biologicals are also subject to the limitations specified in § 410.29.

D. Anesthesia Services

Section 4048(b) of the Omnibus Budget Reconciliation Act of 1987 amended section 1842(b) of the Act and required us to establish a uniform relative value guide for use in all carrier localities in determining payment for anesthesia services furnished by physicians under Medicare Part B. In accordance with the law, the uniform relative value guide was designed so that Medicare payment for anesthesia services would not exceed the amount that would have occurred under the then-existing system of payment.

We implemented the uniform relative value guide in March 1989 and selected the 1988 American Society of Anesthesiologists' (ASA) Relative Value Guide as the basis for the uniform relative value guide. (For a discussion of this issue, please see the August 7, 1990 final rule (55 FR 32078).)

To determine base unit values, we used the 1988 ASA base unit values for each anesthesia code, except for codes 00142 (lens surgery) and 00147 (iridectomy). The base unit values for each of these codes were set at 4 units instead of the ASA values of 6 and 5 units, respectively.

The ASA has requested that we ensure that the anesthesia base units under our uniform relative value guide are the same as those listed in the ASA's most current guide. Standardization of base units between Medicare and the ASA guide will simplify billing by anesthesiologists. The ASA's base unit values for the following 8 codes are different than CMS's values:

Code | CMS | ASA
0081 | 6 | 5
00902 | 4 | 5
01150 | 8 | 10
01214 | 10 | 8
01432 | 5 | 6
01440 | 5 | 8
01770 | 8 | 6
01921 | 7 | 8

We are proposing to use the ASA base unit values from the 1999 guide beginning in CY 2002 for the above codes. However, the base unit values for codes 00142 and 00147 would remain at 4 units. The values for these codes were established by us under the “inherent reasonableness” process in 1987.

We would make an adjustment to the anesthesia conversion factor in 2001 so that payments would not exceed payments that would have been made using the current values. We currently estimate that this adjustment will be less than 0.5 percent.

E. Performance Measurement and Emerging Technology Codes

In modernizing the CPT, the AMA has developed two new categories of codes. In addition to the traditional codes for physicians' and other practitioners' services, referred to as Category I CPT codes, which are coded by five digit numbers, the new codes describe Performance Measures and Emerging Technologies and are coded with four digits followed by a letter.

The Performance Measure codes, referred to as Category II CPT codes, are intended to facilitate data collection. These codes are designed to decrease the need for review of medical records to document when services were performed. They allow practitioners to indicate in their billing records that the visit addressed issues that need to be tracked for quality and outcome measurement. For example, there is likely to be a code to indicate that a diabetic patient received a retinal examination. The visit that contained that specific service might have been reported with an evaluation and management code or with a more general ophthalmological service code and paid for based on the code selected. Thus, the performance measurement code is used only to assist the practitioner to specify that the performance measurement service was furnished. The syntax of this code will be four digits followed by the letter “F.” We are proposing that no values are placed on the Performance Measure codes and no additional payment is made for the use of these codes. Practitioners will, however, be able to list them on their Medicare bills, to facilitate the tracking of these services.

The Emerging Technology codes, referred to as Category III CPT codes, are intended to track new and emerging technologies. These codes were developed to facilitate data collection on and assessment of new services and procedures. These data could be used to document the use of services and procedures in the Food and Drug Administration approval process or while the efficacy of a procedure is being demonstrated. The syntax of these codes is four digits followed by the letter “T.” In general, these codes represent services that are still experimental or have unverified effectiveness and would not be covered services. Although we were concerned that codes with a “T” designation might be needed for use by some Medicaid programs, we now believe that we would be able to process claims with the “T” in the fifth digit. However, we propose not to provide payment for all of the Emerging Technology Codes. Rather, we would provide payment on a case-by-case basis only in specific situations when we determine that the codes represent services that are not, in fact, experimental, but have been shown to be safe and effective. If the coverage policy is not consistent with the existing tracking codes, a Medicare-specific code may need to be developed to allow payment for the service. Thus, we propose that only specific emerging technology codes will be recognized for Medicare payment.

F. Payment Policy for CPT Modifier 62 (Co-Surgery)

The CPT modifier code 62 is used to report the work of co-surgeons. Currently, if we pay for co-surgery, we pay a total of 125 percent of the fee schedule amount to the co-surgeons who each receive half of this total payment. This policy was established at the beginning of the fee schedule and the level of payment reflected the predominant payment rate used by Medicare carriers at that time. Unlike other components of the fee schedule, this payment policy was not based on an analysis of the relative physician work effort for surgical services involving co-surgeons.

In addition, surgical practice has changed significantly over the past 10 years. For example, there is increasing use of noninvasive, minimally invasive, percutaneous, and endoscopic approaches to performing surgical procedures that were formerly performed as open procedures. Therefore, we are reviewing our payment policies for co-surgery to consider possible ways to ensure that they reflect current clinical practices and properly reflect the relative resources and work effort required to perform these services.

Among the issues we are considering are:

(1) Whether it would be possible to establish criteria for distinguishing the roles of a co-surgeon (when both surgeons are paid at 125 percent of the surgery amount) and assistant at surgery (when the total payment is 116 percent of the surgery amount);

(2) Whether any such criteria should vary by type of procedure (that is, open surgical, minimally invasive (including interventional procedures), and endoscopic procedures);

(3) Which procedures require a co-surgeon and under what circumstances should documentation be required for payment; and

(4) How to value the work performed by a co-surgeon.

While we are not making a specific proposal at this time, we will consider any information we receive to assist us in deciding whether to make a future proposal affecting payments for co-surgery.

III. Implementation of Medicare, Medicaid, and SCHIP Benefits Improvement and Protection Act of 2000

The Medicare, Medicaid, and SCHIP Benefits Improvement and Protection Act of 2000 (BIPA) (Public Law 106-554), enacted on December 21, 2000, provides for revisions to policies applicable to the physician fee schedule. These revisions are presented below.

A. Screening Mammography

Medicare has paid for screening mammography since January 1, 1991. Section 1834(c) of the Act governing these screenings did not include screening mammography under the physician fee schedule and required payment using a different methodology. As stated in § 405.534, Medicare payment for screening mammography currently equals the lesser of the following: the actual charge for the service; the applicable amount under the physician fee schedule in an area for a bilateral diagnostic mammogram; or $55, a figure specified in section 1834(c)(3) of the Act, updated since 1991 by the Medicare Economic Index (MEI). In 2001, the statutory payment limit for screening mammography is $69.23. In most cases, payment for screening mammography is made at the national limit with no differences among geographical areas.

Section 104 of the Medicare, Medicaid, and SCHIP Benefits Improvement and Protection Act of 2000 (BIPA) amends section 1848(j)(3) of the Act to include screening mammography as a physician service for which payment is made under the physician fee schedule beginning January 1, 2002. We are proposing to amend §§ 405.534 and 405.535 to reflect the inclusion of screening mammography as a physician service which will be payable under the physician fee schedule. In addition, we are amending § 414.2 to include screening mammography under the definition for physicians' services. In accordance with part 414, payments for screening mammography will be resource-based and will have geographic adjustments that reflect cost differences among areas as do all other services under the physician fee schedule, including diagnostic mammography. The following is a discussion of our proposed RVUs for the professional and technical components (PC and TC) of a screening mammography, code 76092, under the physician fee schedule.

Professional Component

We are proposing to establish physician work RVUs=0.70. This value is equal to the proposed work RVUs from the 5-year review of physician work for code 76090, unilateral diagnostic mammogram. Due to the comparable number of views taken in both a unilateral diagnostic mammography and a screening mammography, we believe the physician work associated with the performance of screening mammography is similar to the physician work associated with unilateral diagnostic mammography.

We note that in the June 8, 2001 proposed notice on the 5-year review of work RVUs (66 FR 31028), we proposed to increase the work RVUs for unilateral diagnostic mammography from 0.58 to 0.70 RVUs, an increase of 21 percent. Additionally, we are proposing to increase the work RVUs for bilateral diagnostic mammography from 0.69 to 0.87 RVUs, an increase of 26 percent. Both of these increases would be effective for services performed on or after January 1, 2002. Our proposal to establish physician work RVUs for screening mammography equal to the physician work RVUs for unilateral diagnostic mammography, since both involve a four view film study, incorporates the increases we have proposed in the June 8, 2001 proposed notice.

We also believe that the practice expense and malpractice expense for the professional component of screening mammography is similar to the professional component of unilateral diagnostic mammography. As a result, we are proposing 0.25 practice expense RVUs and 0.03 malpractice RVUs for the PC of screening mammography. These proposed RVUs reflect changes to the practice expense RVUs for code 76090.

Technical Component

We propose valuing the technical component of screening mammography using a methodology that updates the original statutory limit for the technical component of screening mammography of $37.40, by the cumulative increase in physician fee schedule rates between 1992 and 2001. While screening mammography payments increased through application of the MEI between 1992 and 2001, resulting in a cumulative increase of 25.9 percent, physician fee schedule payments increased by 35.6 percent during this period. As a result, increasing payment for screening mammography by the statutory limit led to lower payment than if payment for the procedure had increased at the same rate as physician fee schedule services.

We propose updating the technical component of the initial screening mammography statutory limit of $37.40 by the same update factor that would have applied if screening mammography had received the same increases as physician fee schedule services. Currently, payment for the technical component of a screening mammography is equal to 68 percent of the statutory payment limit. To update the current value, we took 68 percent of the original $55 payment limit and increased it by 35.6 percent ($55 × 0.68 × 1.356 = $50.70). We divided this figure by the 2001 physician fee schedule CF of $38.2581 to determine total RVUs of 1.33. Since the TC is comprised only of practice and malpractice RVUs, we then used the practice expense and malpractice expense percentages for the TC of unilateral diagnostic mammography (95.3 and 4.7 percent, respectively) to determine the practice expense and malpractice RVUs for the technical component of screening mammography. We multiplied the total RVUs of 1.33 by 0.953 to determine the proposed practice expense RVUs of 1.27 and by 0.047 to determine the proposed malpractice expense RVUs of 0.06.

Overall, the proposed total RVUs associated with the combined PC and TC of code 76092 are 2.31 (0.70 work RVUs, 1.52 practice expense RVUs, and 0.09 malpractice expense RVUs). These proposed RVUs would result in a payment for CY 2002 of approximately $88.50, before application of any geographic adjustments.

New Technology Mammography

The BIPA requires us to determine whether the assignment of new HCPCS codes is appropriate for both screening and diagnostic mammography using new technologies. If new codes are appropriate, the provision requires us to provide for their use beginning January 1, 2002. The provision defines new technology mammography to be an advance in technology with respect to the test or equipment that results in: (a) A significant increase or decrease in the resources used in the test or in the manufacture of the equipment; (b) a significant improvement in the performance of the test or equipment; or (c) a significant advance in medical technology that is expected to significantly improve the treatment of Medicare beneficiaries.

Before January 1, 2002, the BIPA provides for temporary payment amounts during the period April 1, 2001 to December 31, 2001 for two types of new technology mammography used in both diagnostic and screening procedures. The BIPA specifies that payment for technologies that directly take digital images would equal 150 percent of the amount that would otherwise be paid for bilateral diagnostic mammography. The BIPA also specifies that for technologies that convert standard film to a digital form which is then analyzed, payment would be equal to the statutory screening mammography limit for CY 2001, plus an additional payment of $15.00. Moreover, the BIPA specifies that the same payment amount be used for a screening or diagnostic procedure for each of the new technologies. We have implemented the temporary payment provisions via a Program Memorandum sent to Medicare carriers on February 1, 2000.

We believe that new HCPCS codes are appropriate for new technology mammography beginning with January 1, 2002 and propose codes to be used with the associated RVUs described below. We propose to establish three separate codes for directly taking a digital image (one for screening and one each for unilateral and bilateral diagnostic). Our approach would establish a single add-on code for computer-aided diagnosis with conversion of standard film images to digital images. At the present time, the FDA has approved computer-aided diagnosis only for use in conjunction with standard film screening mammography. Thus, at the present time, our proposal would only allow Gxxx4 to be billed as an add-on to 76090 if medically necessary. In the section that follows, we discuss the proposed coding and payment methodologies for new technology mammography.

Screening mammography, direct digital image (Gxxx1). We propose to use HCPCS code Gxxx1 to report screening mammography performed using direct digital images as opposed to mammography that is performed using the standard film images associated with code 76092, or conversion of a standard film image to a digital image. (Note: Gxxx is used as a placeholder; the actual “G” code designation for payment will be included in the final rule.)

We believe that the physician work and malpractice expense associated with both the PC and TC of HCPCS code Gxxx1 are analogous to the professional and technical components of CPT code 76092. (Note: Proposed work RVUs for code 76092, discussed above, are being increased to 0.70.) However, because the equipment involved with direct digital images is different from the equipment involved with standard film images, we believe that the practice expense RVUs are different than the practice expense RVUs for code 76092. Thus, we are proposing to value the practice expense for the PC of this service using the methodology for determining resource-based practice expense RVUs. We are proposing to value the practice expense RVUs for the TC of the service using the practice expense methodology for the “zero work pool.” (For more information about the practice expense methodology for PC and TC services, see the November 2, 1998 final rule (63 FR 58817).

For the PC of HCPCS code Gxxx1, we propose 0.70 work RVUs, 0.28 practice expense RVUs, and 0.03 malpractice expense RVUs. For the TC of HCPCS code Gxxx1, for which there is no physician work associated, we propose 2.50 practice expense RVUs and 0.06 malpractice RVUs. Please see Table 4 below for a summary of all component RVUs associated with this and other mammography services.

Diagnostic mammography, unilateral, direct digital image (Gxxx2). We propose to use HCPCS code Gxxx2 to report unilateral diagnostic mammography performed using direct digital images as opposed to mammography performed using the standard film images associated with code 76090, or conversion of a standard film image to a digital image.

We believe that the physician work and malpractice expense associated with both the PC and TC of HCPCS code Gxxx2 are analogous to the PC and TC of code 76090. (Note: Proposed work RVUs for code 76090, discussed above, are being increased to 0.70). However, because the equipment involved with direct digital images is different from the equipment involved with standard film images, we believe that the practice expense RVUs are different than those for code 76090. Thus, we are proposing to value the practice expense for the PC of this service using the methodology for determining resource-based practice expense RVUs. We are proposing to value the practice expense RVUs for the TC of the service using the practice expense methodology for the “zero work pool.”

For the professional component of HCPCS code Gxxx2, we propose 0.70 work RVUs, 0.28 practice expense RVUs, and 0.03 malpractice expense RVUs. For the TC of HCPCS code Gxxx2, for which there is no physician work associated, we propose 1.99 practice expense RVUs and 0.05 malpractice expense RVUs. Please see Table 4 below for a summary of all component RVUs associated with this and other mammography services.

Diagnostic mammography, bilateral, direct digital image (Gxxx3). We propose to use HCPCS code Gxxx3 to report bilateral diagnostic mammography that is performed using direct digital images as opposed to mammography performed using the standard film images associated with code 76091, or conversion of a standard film image to a digital image.

We believe that the physician work and malpractice expenses associated with both the PC and TC of HCPCS code Gxxx3 are analogous to the PC and TC of code 76091. (Note: Proposed work RVUs for code 76091, discussed above, are being increased to 0.87). However, because the equipment involved with direct digital images is different from the equipment involved with standard film images, we believe that the practice expense RVUs are different than those for code 76091. Thus, we are proposing to value the practice expense for the PC of this service using the methodology for determining resource-based practice expense RVUs. The practice expense RVUs for the TC of the service are being valued using the practice expense methodology for the “zero work pool.”

For the PC of HCPCS code Gxxx3, we propose 0.87 work RVUs, 0.34 practice expense RVUs, and 0.03 malpractice expense RVUs. For the TC of HCPCS code Gxxx3, with which there is no physician work associated, we propose 2.47 practice expense RVUs and 0.06 malpractice expense RVUs. Please see Table 4 below for a summary of all component relative values associated with this and other mammography services.

Computer-aided detection, conversion of standard film images to digital images (HCPCS Code Gxxx4). We propose to use HCPCS code Gxxx4 to report conversion of standard film images to digital images when used in conjunction with computer-aided diagnosis software.

We propose establishing HCPCS code Gxxx4 as an add-on code that can be billed only in conjunction with the primary service, code 76092. At this time, we understand that the only FDA-approved use of the computer-aided diagnosis mammography software is with screening film images. If there are other FDA-approved uses of computer-aided diagnosis, we allow for use of Gxxx4 as an add-on to other mammography services. We believe that the physician work associated with CPT code 76375, Coronal, sagittal, multiplanar, oblique, 3-dimensional and/or holographic reconstruction of computerized tomography, magnetic resonance imaging, or other tomographic modality, is comparable, per unit of time, to the physician work of Gxxx4. We have determined that the physician time associated with HCPCS code Gxxx4 is approximately 1/3 of the physician time associated with CPT code 76375. Using this relationship, we propose 0.06 work relative value units for HCPCS code Gxxx4. Additionally, we believe the malpractice expense RVUs for HCPCS code Gxxx4 are analogous to a level two established office visit, CPT code 99212. However, we believe that the practice expense RVUs for HCPCS code Gxxx4 are markedly different from either of the two aforementioned services; therefore, we are valuing the PC of this service using the methodology for determining resource-based practice expense RVUs. The TC of the service is being valued using the practice expense methodology for the “zero work pool.”

For the PC of code Gxxx4, we propose 0.06 work RVUs, 0.02 practice expense RVUs, and 0.01 malpractice expense RVUs. For the TC of HCPCS code Gxxx4, with which there is no physician work associated, we propose 0.41 practice expense RVUs and 0.01 malpractice expense RVUs. Table 4 below summarizes all component RVUs associated with this and other mammography services.

Table 4.—Proposed RVUs for Mammography Services
Code | Modifier | Work | Practice expense | Malpractice | Total
76090 |  | 0.70 | 1.28 | 0.08 | 2.06
76090 | 26 | 0.70 | 0.24 | 0.03 | 0.97
76090 | TC | 0.00 | 1.04 | 0.05 | 1.09
76091 |  | 0.87 | 1.59 | 0.09 | 2.55
76091 | 26 | 0.87 | 0.30 | 0.03 | 1.20
76091 | TC | 0.00 | 1.29 | 0.06 | 1.35
76092 |  | 0.70 | 1.52 | 0.09 | 2.31
76092 | 26 | 0.70 | 0.25 | 0.03 | 0.98
76092 | TC | 0.00 | 1.27 | 0.06 | 1.33
Gxxx1 |  | 0.70 | 2.78 | 0.09 | 3.57
Gxxx1 | 26 | 0.70 | 0.28 | 0.03 | 1.01
Gxxx1 | TC | 0.00 | 2.50 | 0.06 | 2.56
Gxxx2 |  | 0.70 | 2.27 | 0.08 | 3.05
Gxxx2 | 26 | 0.70 | 0.28 | 0.03 | 1.01
Gxxx2 | TC | 0.00 | 1.99 | 0.05 | 2.04
Gxxx3 |  | 0.87 | 2.81 | 0.09 | 3.77
Gxxx3 | 26 | 0.87 | 0.34 | 0.03 | 1.24
Gxxx3 | TC | 0.00 | 2.47 | 0.06 | 2.53
Gxxx4 |  | 0.06 | 0.43 | 0.02 | 0.51
Gxxx4 | 26 | 0.06 | 0.02 | 0.01 | 0.09
Gxxx4 | TC | 0.00 | 0.41 | 0.01 | 0.42

B. Screening Pelvic Examinations

Before the enactment of the BIPA, section 1861(nn)(2) of the Act authorized Medicare coverage for a screening pelvic examination (including a clinical breast examination) furnished to a woman for the purpose of early detection of cervical or vaginal cancer once every 3 years, or once every year for a woman who is at high risk for one of these conditions, or who is of childbearing age and meets certain other requirements.

Section 101 of the BIPA amends section 1861(nn)(2) of the Act (effective July 1, 2001) to provide that a woman who does not qualify for annual coverage of a screening pelvic examination under one of the statutory exceptions, qualifies for coverage of a screening pelvic examination (including a clinical breast examination) once every 2 years rather than once every 3 years.

We are conforming § 410.56 (Screening Pelvic Examinations) of the regulations to the new statutory provision that has been implemented through sections 4603, 3628.1 and 4731 of the Medicare Carrier Manual, the Medicare Intermediary Manual, and the Medicare Hospital Manual, respectively.

C. Screening for Glaucoma

Section 102 of BIPA provides for Medicare coverage under Part B for screening for glaucoma for individuals with diabetes, a family history of glaucoma, or others determined to be at “high risk” for glaucoma effective for services furnished on or after January 1, 2002. The statute provides for coverage of glaucoma screening, including (1) a dilated eye examination with an intraocular pressure measurement, and (2) a direct ophthalmoscopy or a slit-lamp biomicroscopic examination, subject to certain frequency and other limitations.

Currently, Medicare coverage policy allows for payment for examinations to diagnose glaucoma and related medically necessary services that are furnished to beneficiaries. Under this policy, diagnostic glaucoma tests are covered if they are medically necessary to evaluate a specific complaint or symptom that might indicate glaucoma or to monitor an existing medical condition of an individual who has had a history of elevated intraocular pressure or other signs of possible glaucoma. This coverage is based on sections 1861(s)(1) and (s)(3) of the Act. Section 1861(s)(1) of the Act provides for general Medicare coverage of physicians' services, including a physician's interpretation of the results of tests performed. Section 1861(s)(3) of the Act provides for general Medicare coverage of diagnostic x-ray, clinical laboratory, and other diagnostic tests. Before the enactment of the BIPA, screening for glaucoma was excluded from coverage based on § 411.15 (Particular services excluded from coverage), paragraphs (a) and (k).

To conform our regulations to the statutory requirements of the BIPA, we are specifying an exception to the list of examples of routine physical checkups excluded from coverage in §§ 411.15(a)(1) and 411.15(k)(9) for glaucoma screening examinations that meet the frequency limitation and the conditions for coverage that we are specifying under new § 410.23 (Screening for Glaucoma: Conditions for and Limitations on Coverage). Coverage of glaucoma screening is provided under Medicare Part B only. As provided in the statute, this new coverage allows payment for one glaucoma screening examination every year. We are proposing to add new § 410.23 (Screening for Glaucoma: Conditions for and Limitations on Coverage), to provide for coverage of the various types of glaucoma screening examinations specified in the statute. We are proposing several definitions of terms that would be included to implement the statutory provisions and to help the reader in understanding the provisions of the regulation. These include definitions of the following terms: (1) Screening for glaucoma, (2) eligible beneficiaries, and (3) direct supervision.

Section 102(b) of the BIPA defines the term “screening for glaucoma” to mean a dilated eye examination with an intraocular pressure measurement and a direct ophthalmoscopy or a slit-lamp biomicroscopic examination for the early detection of glaucoma. This section also provides that the screening examinations that are to be covered under Medicare are to be furnished by or under the direct supervision of an optometrist or ophthalmologist who is legally authorized to furnish these services under State law (or the State regulatory mechanism provided by State law) of the State in which the services are furnished. These are services that would otherwise be covered if furnished by a physician or as incident to a physician's professional service.

Section 102(a) of BIPA also provides that coverage of screening for glaucoma services will be available only for individuals determined to be at high risk for glaucoma, individuals with a family history of glaucoma and individuals with diabetes. Based on our review of the medical literature, and consultation with staff of the National Eye Institute and representatives of the American Academy of Ophthalmology and the American Optometric Association, we are proposing to interpret the statutory language, “individuals determined to be at high risk for glaucoma” to include Medicare beneficiaries who are African-Americans age 50 and over. While the National Eye Institute and others have provided us with information indicating that age and other factors may place a Medicare beneficiary at increased risk for glaucoma, we believe that the medical evidence available at this time is only sufficient to support inclusion of African-Americans age 50 and over in the statutory “high risk” category, in addition to individuals with diabetes and those with a family history of glaucoma who are covered separately under the new screening benefit. Studies have shown that the prevalence of glaucoma increases with age and is four to five times more likely to occur in African-Americans than in Caucasians. (Tielsch et al. JAMA 1991; Quigley. NEJM 1997) For African-Americans, the evidence indicates that the onset of the disease comes at an earlier age, and that the damage is more severe at the time of diagnosis. In view of the possibility that it may be appropriate to include other individuals in the statutory definition of those at “high risk” for glaucoma, however, we are requesting public comments on this issue. Specifically, we ask that anyone providing us with specific recommendations on this issue should provide documentation in support of them from the medical literature. In addition, we are proposing to use the term “eligible beneficiaries” to indicate who may qualify for the new screening glaucoma benefit, and we are proposing to define that term to include: (1) Individuals with diabetes mellitus, (2) individuals with a family history of glaucoma, and (3) African-Americans age 50 and over.

Section 102(b) of the BIPA also provides that the glaucoma screening examination is to be furnished by or under the direct supervision of an ophthalmologist or optometrist who is legally authorized to furnish such services under State law or regulation in which the services are furnished. We are proposing to define the term “direct supervision” as that term is defined in § 410.32(b)(3)(ii) for purposes of the oversight of covered diagnostic laboratory services as they are performed in the office setting. Specifically, we are proposing that the term “direct supervision” be defined to mean that the ophthalmologist or optometrist must be present in the office suite and immediately available to furnish assistance and direction throughout the performance of the procedure. The proposed definition states that the term “direct supervision” does not mean the physician must be present in the room when the procedure is performed.

Payment for Glaucoma Screening

We believe that services provided as part of glaucoma screening will often overlap other services a physician provides during a patient encounter as part of basic ophthalmological services and will result in no additional work or practice expense. Therefore, we propose bundling payment for glaucoma screening when it is provided on the same day as an evaluation and management (E/M) service, or when it is provided as part of any ophthalmology service. When glaucoma screening is the only service provided, or when it is provided as part of an otherwise noncovered service (for example, CPT 99397, preventive services visit), we propose to establish the following HCPCS codes and payments:

Gxxx5, Glaucoma Screening Furnished by a Physician for High Risk Patients

For physician work and for malpractice, we propose crosswalking this new HCPCS code to a level II E/M code, CPT 99212, which we believe represents a comparable level of work. The proposed work and malpractice RVUs are 0.45 and 0.02, respectively.

Gxxx6, Glaucoma Screening Furnished Under the Direct Supervision of a Physician for High Risk Patients

For physician work and for malpractice, we propose crosswalking this new HCPCS code to the lowest level E/M code, CPT 99211, which we believe represents a comparable level of work. The proposed work and malpractice RVUs are 0.17 and 0.01, respectively.

For non-facility settings, we propose the following practice expense inputs for both of the above HCPCS Codes:

clinical staff time-certified ophthalmic medical technologist/certified ophthalmic technician/registered

nurse: five minutes;

equipment: screening lane; and

supplies: ophthalmology visit supply package.

D. Screening Colonoscopy

Before the enactment of the BIPA, sections 1861(pp)(1)(C) and 1834(d)(3)(E) of the Act authorized Medicare coverage of screening colonoscopies once every 2 years for individuals at high risk for colorectal cancer. Individuals not at high risk for colorectal cancer did not qualify for coverage of screening colonoscopies under the colorectal cancer screening benefit, but they did qualify for coverage of other colorectal cancer screening examinations specified in the statute. These other examinations that were covered for individuals not at high risk for colorectal cancer included screening fecal-occult blood tests, screening flexible sigmoidoscopies, and screening barium enema examinations at certain frequency intervals specified in the statute and the regulations at § 410.37 (Colorectal cancer screening tests).

Section 103 of the BIPA amended sections 1861(pp)(1)(C), 1834(d)(2)(E)(ii), and 1834(d)(3)(F) of the Act to add coverage of screening colonoscopies once every 10 years for individuals not at high risk for colorectal cancer. However, in the case of an individual who is not at high risk for colorectal cancer, but who has had a screening flexible sigmoidoscopy within the last 4 years, the statute provides that payment may be made for a screening colonoscopy only after at least 47 months have passed following the month in which the last screening flexible sigmoidoscopy was performed. In addition, the statute provides that in the case of an individual who is not at high risk for colorectal cancer but who does have a screening colonoscopy performed on or after July 1, 2001, payment may be made for a screening flexible sigmoidoscopy only after at least 119 months have passed following the month in which the last screening colonoscopy was performed.

In view of the statutory changes, we are conforming §§ 410.37(e) and 410.37(g) (related to limitations on coverage of screening colonoscopies and screening flexible sigmoidoscopies) to make them consistent with the new provisions of the statute that have been implemented through manual provisions of the Medicare Carriers Manual, the Medicare Intermediary Manual Part III, and the Medicare Hospital Manual in transmittal numbers 6097, 1824, and 7069, respectively, in February 2001.

Payment for Screening Colonoscopy

Payment for screening colonoscopy will be made under HCPCS code G0121: colorectal screening; colonoscopy for an individual not meeting criteria for high risk. As with current code G0105, screening colonoscopy for an individual at high risk, payment will be made at the level for a diagnostic colonoscopy, CPT code 45378, because the work is the same whether a procedure is screening or diagnostic. As the statute requires for both individuals who are or are not at high risk, if, during the course of the screening colonoscopy, a lesion or growth is detected that results in a biopsy or removal of the growth, the appropriate diagnostic procedure classified as colonoscopy with biopsy or removal should be billed and paid rather than HCPCS code G0105 or G0121.

E. Medical Nutrition Therapy

1. Legislation

Section 105 of the BIPA amended section 1861(s)(2) of the Act to authorize Medicare Part B coverage under Part B of medical nutrition therapy (MNT) for beneficiaries who have diabetes or renal disease, effective for services furnished on or after January 1, 2002. The legislation also:

• Authorizes dietitians and nutritionists who meet certain qualifications to be reimbursed directly by Medicare.

• Excludes from coverage beneficiaries who are receiving maintenance dialysis for which payment is made under section 1881 of the Act.

• Requires coordination of medical nutrition therapy benefits with the existing benefit for diabetes outpatient self-management training services.

• Defines a registered dietitian or other nutrition professional, and grandfathers dietitians or nutrition professionals who were licensed or certified in their States as of December 21, 2000, but would not otherwise meet the new requirements.

• Specifies that Medicare payment for MNT services must equal 80 percent of the lesser of the actual charge for the services or 85 percent of the amount determined under the physician fee schedule for the same services if furnished by a physician.

• Requires that we submit a report to the Congress by July 1, 2003, that contains recommendations with respect to expansion of the MNT benefit for other medical conditions.

This new benefit, while related, differs from the diabetes outpatient self-management training (DSMT) benefit, which was established by the BBA in section 1861(s)(2)(S) of the Act and described at section 1861(qq). The DSMT benefit is a comprehensive diabetes training program, of which nutrition training is only one component. Most of the available research (Diabetes Control and Complication Trial Research Group, 1993; UK Prospective Diabetes Study Group, 1995; and UK Prospective Diabetes Study Group, 1998) supports the use of a multi-disciplinary approach to diabetes, which includes nutrition training. As a result, nutrition training is considered to be an essential element of the DSMT benefit. Section 1861(qq) of the Act mandates the use of quality standards for DSMT and allows certified individuals or entities designated by the Secretary that meet such standards to receive Medicare payment for the service, provided that the physician managing the patient certified that DSMT is needed.

The approach in the BIPA with regard to MNT is different. The statute mandates specific qualifications regarding who may provide MNT services, but does not require that we establish quality standards. We are also instructed by the Congress to establish criteria for recognition of individuals in States that do not have licensure or certification requirements for registered dietitians or nutrition professionals.

We set specific duration and frequency limits for DSMT, consistent with the statutory authority granted by the BBA. In accordance with our regulations in § 410.141(c), all beneficiaries receiving the DSMT benefit may have up to 10 hours of initial training within a continuous 12-month period. For most beneficiaries, 9 of these 10 hours of training must be in a group setting. One hour of training may be on an individual basis for purposes of conducting an individual assessment and providing specialized training. Once a beneficiary has completed the 10 hours of initial training, the benefit provides for up to 2 hours of follow-up training each subsequent year. As with the DSMT benefit the duration and frequency of the MNT benefit was not prescribed by the Congress. However, since the Congress has indicated that beneficiaries who have received DSMT within a designated time period (to be specified by the Secretary) are not eligible for MNT, the two benefits must be coordinated.

2. Proposed Policy

Consistent with section 105(a)(3) of the BIPA, we considered the protocols of the American Dietetic Association and the National Kidney Foundation regarding nutrition training for both diabetes and renal disease. Because the protocols were inconclusive with respect to the duration and frequency issues, we are proposing to determine the duration and frequency of the benefit through the National Coverage Determination (NCD) process rather than through the rulemaking process. We will solicit the opinions of all interested parties as a part of the NCD process.

We propose to set forth the provisions regarding medical nutrition therapy at Part 410, subpart G and at § 414.64. The MNT provisions of the proposed rule are as follows:

Definitions (§ 410.130). We propose to define “renal disease” for the purpose of this benefit as only chronic renal insufficiency and post-transplant care provided after discharge from the hospital. The exclusion of patients receiving maintenance dialysis under section 1881 of the Act is consistent with section 1861(s)(2) of the Act, as amended by section 105(a)(3) of the BIPA. We propose to limit post-transplant care to care furnished within 6 months after discharge from the hospital, if the transplant is viable and effective, because under such conditions we believe the beneficiary would no longer have renal disease and would not be eligible to receive the benefit under the statutory provision. We propose a 6-month time period based on expert opinions. We specifically request comments on this proposed time period and request that commenters submit articles from clinical journals to support their comments. We do not make separate payments for MNT while the beneficiary is an inpatient in the hospital because the statute only authorizes payment for this service under Part B. We are proposing definitions of “diabetes” and “chronic renal insufficiency” for the purpose of this benefit using definitions from the Institute of Medicine report, “The Role of Nutrition in Maintaining Health in the Nation's Elderly,” published in 2000.

We propose to define “episode of care” as a time period that may not exceed 12 months, starting with the assessment (based on a referral from a physician), and including all covered interventions. The number of episodes of care covered during the lifetime of an individual beneficiary is unlimited. We chose a 12-month period to allow for the coordination of the MNT and DSMT benefits, as authorized by section 105(a)(3) of the BIPA.

Finally, in accordance with the statute, we define MNT services as nutritional diagnostic, therapy, and counseling services provided by a registered dietitian or nutrition professional for the purpose of managing disease. This definition tracks the language of the statute.

Medical Nutrition Therapy (§ 410.132).

At proposed § 410.132(a), we set forth conditions for coverage of MNT services. Specifically, we provide that Medicare Part B pays for MNT services furnished by a registered dietitian or nutrition professional as defined in § 410.134 when the beneficiary is referred for the service by the beneficiary's treating physician. We limit the definition of physician to “treating physician” to ensure that the physician establishing the need for MNT is actually treating the beneficiary for the chronic disease and the therapy is coordinated with the care being provided by the treating physician. Referrals by a non-treating physician might also be interpreted as an indication that a fraudulent situation exists.

We are proposing that the services covered will consist of nutritional assessment, interventions, reassessment, and follow-up interventions. We chose not to define the specific components of the benefit in more detail because we anticipate that registered dietitians and nutritionists will use nationally recognized protocols, such as those developed by the American Dietetic Association (ADA) as they normally would in their business practice. We also chose not to specify the number of hours of MNT that will be covered. Rather, we will develop these frequency limits using the NCD process. After we complete a literature review, we will solicit input from interested parties as part of the NCD process.

At § 410.132(b), we set forth proposed coverage limitations for MNT services. In accordance with section 1861(s)(2)(V)(ii) of the Act, we would provide that MNT services are not covered for beneficiaries on dialysis for end-stage renal disease. We do not exclude all beneficiaries who are diagnosed with end-stage renal disease because a few individuals with end-stage renal disease do not receive maintenance dialysis and the statute specifically excludes beneficiaries receiving maintenance dialysis under section 1881 of the Act. The other provisions of this section would coordinate the referrals for MNT for diabetes and renal disease, and coordinate MNT services with DSMT services as follows:

• If a beneficiary has both diabetes and a renal disease as defined in this subpart, the beneficiary may receive both MNT and DSMT, but coverage in any 12-month period would be limited to the number of hours the beneficiary would receive under either the MNT benefit or the DSMT benefit for that period, whichever is greater.

• MNT would only be covered if the beneficiary had not started initial training under the diabetes self-management training benefit (as described in § 410.141) within the past 12 months, unless: (1) the need for a reassessment had been documented by the referring physician; or (2) the beneficiary had been diagnosed with both diabetes and renal disease.

• If a beneficiary diagnosed with diabetes was referred for both follow-up DSMT services and MNT, the beneficiary would only receive the total amount of hours covered under either follow-up DSMT services or MNT, whichever was greater.

If DSMT and MNT benefits overlapped, we would not allow the number of hours covered under the MNT benefit to exceed the hours Medicare would cover if the beneficiary was only receiving DSMT, except if a beneficiary receiving initial DSMT subsequently was diagnosed with renal disease or if there was a change in diagnosis or medical condition that occurred during an episode of care. We would allow additional hours of coverage for patients with renal disease and diabetes because MNT for renal disease is more complex than MNT for diabetes alone.

Eligibility for MNT services would be dependent upon diagnoses and referrals made by the treating physician. At proposed § 410.132(c), we provide that referral may only be made by the treating physician when the beneficiary has been diagnosed with diabetes or renal disease, with documentation maintained by the referring physician in the beneficiary's medical record. Referrals must be made for each episode of care. We note that the statute specifies that a physician, as defined in section 1861(r)(1) of the Act, must refer the beneficiary in order for the therapy to be covered. We are proposing to limit referrals to those made by the treating physician as noted earlier.

At proposed § 410.132(d), we set forth requirements regarding reassessment and follow-up interventions. Specifically, we provide that reassessments and follow-up interventions would only be covered when the referring physician determines that there was a change of diagnosis or medical condition within an episode of care that made a change in diet necessary.

Provider Qualifications (§ 410.134). BIPA specifies how we must define “registered dietitian or nutrition professional” for the purposes of this benefit and allows for the grandfathering of nutrition professionals licensed or certified by States at the time of BIPA's enactment. Pursuant to BIPA, a registered dietitian or nutrition professional means an individual who meets the following criteria:

• Holds a bachelor's or higher degree granted by a regionally accredited ollege or university in the United States (or an equivalent foreign degree) with completion of the academic requirements of a program in nutrition or dietetics, as accredited by an appropriate national accreditation organization we have recognized for this purpose.

• Has completed at least 900 hours of supervised dietetics practice under the supervision of a registered dietitian or nutrition professional.

• Is licensed or certified as a dietitian or nutrition professional by the State in which the services are performed, or, if a State does not provide for licensure or certification, meets other criteria established by the Secretary.

We propose to exercise our statutory discretion, with respect to such alternative criteria, by providing that in States that do not provide licensure or certification requirements, we would use the designation of “registered dietitian” as certified by the Commission on Dietetic Registration, the credentialing agency for the American Dietetic Association; or require compliance with the statutory educational and experience requirements alone. The Commission on Dietetic Registration is currently considered to be the recognized standard in certification programs for registered dietitians. If an individual can supply documentation to us that he/she is a “registered dietitian,” we would not require that individual to also supply documentation that he/she meets the minimum statutory educational and experience requirements, because these latter requirements are also requirements an individual must currently meet to become a “registered dietitian.” Likewise, if an individual supplies documentation to us that he/she meets the minimum statutory educational and experience requirements, that individual would not need to supply documentation to us that he/she is a “registered dietitian.”

The statute also requires that an individual who, as of December 21, 2000 (BIPA's date of enactment), is licensed or certified under the law of the State in which the services are performed as a dietitian or nutrition professional, qualifies as a “registered dietitian or nutrition professional” even if he or she does not meet the other education and experience requirements. There is no provision in the law to allow grandfathering of dietitian or nutrition professionals in States with no licensure or certification requirements, or of individuals who did not choose to be licensed or credentialed as of the date of enactment of section 1861(vv)(3) of the Act. Therefore, we only provide for “grandfathering” of individuals who do meet the specific criteria of section 1861(vv)(3) of the Act.

Payment for Medical Nutrition Therapy (§ 414.64). Section 105(c) of the BIPA requires that we pay for medical nutrition therapy services at 80 percent of the lesser of the actual charge for the services or 85 percent of the amount determined under the physician fee schedule for the same services if such services had been furnished by a physician. Section 1848 of the Act requires that payments under the physician fee schedule be established on national uniform RVUs based on the resources used in furnishing a service. We have consulted with the ADA to assess the types of resource inputs that are used to furnish a 15-minute medical nutrition therapy session by a Registered Dietitian or Professional Nutritionist.

As stated above, these services would be paid under the physician fee schedule. Malpractice RVUs for medical nutrition therapy services have been extrapolated based on analogous service procedures. The statute specifically provides that medical nutrition therapy services may only be provided by registered dietitians or nutrition professionals. We do not believe that physicians will be able to satisfy the qualification requirements and therefore will not be able to provide this service themselves. Therefore, we are not establishing physician work RVUs for this service. We interpret section 105(c)(2) of BIPA to mean that if a physician were to furnish this service, that the service was performed “incident to” the physicians treatment plan and provided by a registered dietitian or nutrition professional. Since we are not proposing work RVUs for medical nutrition therapy, we propose to determine practice expense RVUs using the practice expense methodology for the “zero work pool.” (For more information about the practice expense methodology for services that have no physician work, see the November 2, 1998 final rule (63 FR 58814)). The proposed RVUs for individuals and individuals in a group are found in Table 5 as follows:

Table 5.—RVUs for Individuals and Individuals in a Group
Code | Description | Work RVUs | Practice expense RVUs | Malpractice RVUs | Total
97802 | Medical nutrition, individual, initial | 0.00 | 0.47 | 0.01 | 0.48
97803 | Medical nutrition, individual, subseq | 0.00 | 0.34 | 0.01 | 0.35
97804 | Medical nutrition, group | 0.00 | 0.14 | 0.01 | 0.15

Much like diabetes education, the number of MNT beneficiaries attending a group session would vary. As defined in the CPT's Physical Medicine Rehabilitation codes, a group is considered to be two or more individuals.

We would refine the medical nutritional therapy services payment amounts in the future by including the services into the refinement process used for other Medicare services payable under the physician fee schedule.

Medicare co-payments and deductibles would apply for medical nutritional therapy services. We are proposing to pay for this service under the physician fee schedule using the following codes:

CPT 97802—Medical nutrition therapy; initial assessment and intervention, individual, face-to-face with the patient, each 15 minutes.

CPT 97803—reassessments and intervention, individual, face-to-face with the patient, each 15 minutes.

CPT 97804—Group, 2 or more individuals, each 30 minutes.

Since payment for MNT will be included in our payment for facility services, separate payment will not be made for hospital inpatients or skilled nursing facility patients. Section 105(c) of BIPA amends section 1833(a)(1) to add subparagraph (T), requiring Medicare payment to equal 80 percent of the of the lesser of the actual charge for the service or 85 percent of the amount determined under the physician fee schedule. Thus, we will make payment in the hospital outpatient department, Federally Qualified Health Centers and Rural Health Clinics at the lesser of 80 percent of the actual charge or 85 percent of the physician fee schedule amount. The RVUs shown above do not reflect this 85 percent adjustment. To determine payment, the RVUs shown above will need to be multiplied by the physician fee schedule conversion factor and 0.85. We expect to provide the Medicare carriers with a payment file that includes this 85 percent adjustment. That is, we expect to determine the payment amount using the RVUs shown and apply the 85 percent adjustment to the product of the geographically adjusted RVUs and conversion factor. The Medicare carriers will not need to make any additional adjustment to the payments we provide.

F. Telehealth Services

1. Background

a. History. Before January 1, 1999, payment for services delivered via a telecommunications system was limited to services that do not require a face-to-face, “hands-on” encounter under the traditional delivery of medical care. Examples of these services include interpretation of an x-ray, electrocardiogram and electroencephalogram tracings, and cardiac pacemaker analysis.

The BBA provided for coverage of and payment for consultation services delivered via a telecommunications system to Medicare beneficiaries residing in rural health professional shortage areas (HPSA) as defined by section 332(a)(1)(A) of the Public Health Services Act. Additionally, a Medicare practitioner was required to be with the patient at the time of a teleconsultation.

The BBA specified that payment for a teleconsultation had to be shared between the consulting physician or practitioner and the referring physician or practitioner and could not exceed the fee schedule payment which would have been made to the consultant for the service provided. The BBA prohibited payment for any line charges or facility fees associated with the teleconsultation and clarified that the beneficiary may not be billed for these charges or fees.

These provisions became effective January 1, 1999. The November 2, 1998 final rule on “Revisions to Payment Policies Under the Physicians Fee Schedule for Calendar Year 1999” (63 FR 58879) implemented these provisions.

b. Legislative Summary. In section 223 of the BIPA, the Congress provided for a “Revision of Medicare Reimbursement for Telehealth Services” and specified a “sunset” date for the current statutory teleconsultation provisions. The current teleconsultation provisions contained in section 4206(a) and (b) of the BBA and implemented in §§ 410.78 and 414.65 apply only to teleconsultations provided on or after January 1, 1999 and before October 1, 2001.

Beginning October 1, 2001, the BIPA amends section 1834 of the Act to provide for a new subsection (m) “Payment for Telehealth Services.” This amendment provides for an expansion of Medicare payment for telehealth services. A summary of the expansion appears below.

The BIPA specifies that we pay for telehealth services that are furnished via a telecommunications system by a physician (as defined in section 1861(r) of the Act) or a practitioner (described in section 1842(b)(18)(C) of the Act). Telehealth services may be provided only to an eligible telehealth individual enrolled under Medicare, notwithstanding the fact that the individual physician or practitioner providing the telehealth service is not at the same location as the beneficiary.

The BIPA defines Medicare telehealth services as professional consultations, office or other outpatient visits, and office psychiatry services identified as of July 1, 2000, by CPT codes 99241 through 99275; 99201 through 99215, 90804 through 90809 and 90862 (and as we may subsequently modify) and any additional service we specify.

The statute requires us to establish a process that provides, on an annual basis, for the addition or deletion of services (and HCPCS codes) as appropriate, to the services specified above, for authorized payment under Medicare.

Section 1834(m)(4)(B) of the Act, as added by the BIPA, specifies that an eligible telehealth individual means an individual enrolled under Part B who receives a telehealth service furnished at an originating site. Originating sites are defined only as specified medical facilities located in specific geographic areas. Section 1834(m)(4)(C) of the Act, as added by the BIPA, limits originating sites to the following types of facilities:

• The office of a physician or practitioner.

• A critical access hospital (as defined in section 1861(mm)(1) of the Act).

• A rural health clinic (as defined in section 1861(aa)(s) of the Act).

• A Federally qualified health center (as defined in section 1861(aa)(4) of the Act).

• A hospital (as defined in section 1861(e) of the Act).

The BIPA specifies that the originating site must be located in one of the following geographic areas:

• In an area that is designated as a rural health professional shortage area under section 332(a)(1)(A) of the Public Health Service Act.

• In a county that is not included in a Metropolitan Statistical Area.

• From an entity that participates in a Federal telemedicine demonstration project that has been approved by (or receives funding from) the Secretary of Health and Human Services as of December 31, 2000.

The BIPA relaxes some of the conditions for payment imposed by the BBA. Section 1834(m)(2)(C) of the Act, as added by the BIPA, specifies that a telepresenter is not required and specifically states that nothing in section 1834(m)(2)(C) of the Act shall be construed as requiring an eligible telehealth beneficiary to be presented by a physician or practitioner at the originating site for the furnishing of a service via a telecommunications system, unless it is medically necessary (as determined by the physician or practitioner at the distant site).

Additionally, section 1834(m)(1) of the Act, as added by the BIPA, specifies that, for purposes of defining a telecommunications system, in the case of any Federal telemedicine demonstration program conducted in Alaska or Hawaii, the term “telecommunications system” includes store and forward technologies that provide for the asynchronous transmission of health care information in single or multimedia formats.

Section 1834(m)(2) of the Act, as added by the BIPA, states that we pay a physician or practitioner located at a distant site that furnishes a telehealth service to an eligible telehealth beneficiary an amount equal to the amount that the physician or practitioner would have been paid under Medicare had the service been furnished without the use of a telecommunications system.

This section also provides for a facility fee payment to the originating site. It specifies that for the period beginning October 1, 2001 through December 31, 2002, the originating site facility fee is equal to $20. For each subsequent year, the facility fee for the preceding year is increased by the percentage increase in the MEI as defined in section 1842(i)(3) of the Act.

The BIPA amended section 1833(a)(1) of the Act by adding subparagraph (U), specifying that with respect to the originating site facility fees, the amount paid is 80 percent of the lesser of the actual charge or the amounts specified in new section 1834(m)(2) of the Act.

Section 1834(m)(3) of the Act requires that the provisions of sections 1848(g) and 1842(b)(18)(A) and (B) of the Act apply to physicians and practitioners. The provisions of section 1842(b)(18) of the Act apply to originating sites receiving a facility payment as the provisions apply to practitioners under section 1834(m) of the Act.

Section 1848(g) of the Act provides a limitation of charges to beneficiaries and provides sanctions if a physician, supplier, or other person knowingly and willfully bills or collects for services in violation of the limitation. It also provides for sanctions if a physician, supplier, or other person fails—(1) to timely correct excess charges by reducing the actual charge billed for the service to an amount that does not exceed the limiting charge for the service, or (2) to timely refund excess collections. In addition, it requires that physicians and suppliers submit claims for services they furnished to a beneficiary to a carrier on behalf of the beneficiary using a standard Medicare claim form. The statute imposes a penalty for failure to submit the claim. In addition, section 1848(g) of the Act prohibits imposing any charge relating to completing and submitting the claim. Section 1842(b)(18) of the Act provides that services furnished by a physician assistant, nurse practitioner, clinical nurse specialist, certified registered nurse anesthetist, anesthesiologist's assistant, certified nurse-midwife, clinical social worker, or clinical psychologist for which payment may be made on a reasonable charge or fee schedule basis may be made only on an assignment-related basis. It also limits the beneficiary's liability to any applicable deductible and coinsurance amounts. It further provides for sanctions against a practitioner who knowingly and willfully bills (or collects an amount) in violation of the limitation.

c. Implementation. Section 223 of the BIPA limits the application of the existing telehealth provision to services furnished before October 1, 2001 and mandates that the expanded benefit be effective for services furnished on or after October 1, 2001. Therefore, this benefit expansion is being implemented via program memorandum. The program memorandum is effective October 1, 2001 when the telehealth benefit supercedes the teleconsultation benefit authorized by section 4206 of the BBA and existing regulations at § 410.78 and § 414.65. Any regulatory changes resulting from this rulemaking process will be effective January 1, 2002.

d. Proposed Policies. This rule proposes to establish policies for implementing the provisions of section 1834(m) of the Act, as added by the BIPA, that change Medicare payment for telehealth services.

(i) Scope of telehealth benefit. Section 1834(m)(4)(B) of the Act, as added by the BIPA, defines an eligible telehealth individual as a Medicare beneficiary who receives a telehealth service furnished at an originating site. As discussed earlier, originating sites are limited to certain facilities within specifically identified geographic areas.

We would revise § 410.78 to specify that Medicare beneficiaries are eligible for telehealth services only if they receive services from an originating site located in either a rural HPSA as defined by section 332(a)(1)(A) of the Public Health Services Act or in a county outside of a MSA as defined by section 1886(d)(2)(D) of the Act. Additionally, we would provide for an exception if an entity participates in a Federal telemedicine demonstration project that has been approved by, or receives funding from, us as of December 31, 2000. That entity would not be required to be in a rural HPSA or non-MSA as described above.

We would also specify that, providing the geographic criteria are met, the following sites qualify as originating sites under this provision:

• The office of a physician or practitioner.

• A hospital as defined in section 1861(e) of the Act.

• A critical access hospital as defined in section 1861(mm)(1).

• A rural health clinic as defined in section 1861(aa)(2) of the Act.

• A Federally qualified health center as defined in section 1861(aa)(4) of the Act.

Covered Services. Section 1834(m)(4)(F) of the Act, as added by the BIPA, defines telehealth services as professional consultations, office and other outpatient visits, individual psychotherapy, pharmacologic management and any additional service we specify. Additionally, this provision identifies covered services by HCPCS codes identified as of July 1, 2000. We propose to revise § 410.78 to implement this coverage expansion. The services and corresponding CPT codes are listed below:

• Consultations (codes 99241 through 99275).

• Office and other outpatient visits (codes 99201 through 99215).

• Individual Psychotherapy (codes 90804 through 90809).

• Pharmacologic management (code 90862).

The BIPA provision is effective for services beginning on October 1, 2001. Payment for the statutorily specified codes, as listed above, will be implemented beginning with that date. We propose to make any additions or deletions to the services defined as telehealth effective on a January 1st basis. We plan to use the annual physician fee schedule proposed rule published in the summer and the final rule (published by November 1) each year as the vehicle to make these changes. Since the statutory provision will be implemented on October 1, 2001, and there is limited published data on telehealth in clinical settings, we will not make any recommendations on additional services until we have had time to ensure we have a process for redefining covered services in place.

We are soliciting suggestions and comments from the public regarding the guidelines that we should use to make additions or deletions of services. We also solicit suggestions and comments about specific services that may be appropriate to be covered under the Medicare telehealth benefit. Once we complete our review of these suggestions and comments, we will propose a more detailed approach as to how we would make modifications to the existing telehealth benefit.

(ii) Conditions of Payment: Technology. The Congress defines the term “telecommunications system” with respect to demonstration projects conducted in Alaska or Hawaii; however, the BIPA does not define a telecommunications system in any other case. In a non-telehealth setting, Medicare pays for these codes only if there is a face-to-face encounter between the patient and attending physician or practitioner. We believe that the patient's presence and use of an interactive audio and video telecommunications system permitting the distant site practitioner to interact with the patient provides a reasonable substitute for a face-to-face encounter.

Limited exception to the interactive telecommunications requirement. For purposes of defining a telecommunications system, section 1834(m)(1) of the Act includes the use of store and forward technology in very limited circumstances. This provision specifies that, in the case of a Federal telemedicine demonstration program conducted in Alaska or Hawaii, Medicare payment is permitted when asynchronous, store and forward technologies, in single or multimedia formats is used to deliver the service.

Store and forward technology substitutes for an interactive, patient-present encounter in these limited circumstances. The patient is not present or available to interact with the distant site physician or practitioner in real-time.

We believe that when store and forward technologies are used to substitute for an interactive patient encounter, the technology must permit the distant site practitioner adequate medical information for recommending or confirming a diagnosis or treatment plan. A patient's medical information may typically include various combinations of the following items—video clips, still images, x-rays, magnetic resonance images, electrocardiogram and electroencephalogram tracings, tissue samples, laboratory results, and audio clips of heart or lungs.

We propose to specify at § 410.78 that, except for the statutory provision noted above, an interactive telecommunications system must be used and that the medical examination of the patient is at the control of the physician or practitioner at the distant site. We would define interactive telecommunications system as multimedia communications equipment that includes, at a minimum, audio and video equipment permitting two-way, real-time interactive communication between the patient and physician or practitioner at the distant site. We would also specify that telephones, facsimile machines, and electronic mail systems do not meet the definition of an interactive telecommunications system.

Additionally, we would provide an exception to the interactive requirements where the patient must be present for a Federal telemedicine demonstration program conducted in Alaska or Hawaii. We would specify that for Federal telemedicine demonstration programs conducted in Alaska or Hawaii, Medicare payment is permitted for telehealth when asynchronous store and forward technologies, in single or multimedia formats, are used as a substitute for an interactive telecommunications system. Additionally, we would specify that the physician or practitioner at the distant site must be affiliated with the demonstration program.

This exception would be permitted for Federal telemedicine demonstration projects conducted in Alaska or Hawaii only. Interactive telecommunications system with the real-time presence of the patient is required as a condition of payment in all other circumstances.

We would define asynchronous, store and forward technologies, as the transmission of the patient's medical information from an originating site to the physician or practitioner at the distant site. The physician or practitioner at the distant site can review the medical case without the patient being present. Asynchronous telecommunications system in single media format does not include telephone calls, images transmitted via facsimile machines, and text messages without visualization of the patient (electronic mail). Photographs must be specific to the patient's medical condition and adequate for rendering or confirming a diagnosis or treatment plan. Dermatological photographs, for example, a photograph of a skin lesion may be considered to meet the requirement of a single media format under this provision.

Additionally, we would define the originating site as the location of an eligible Medicare beneficiary at the time the service being furnished via a telecommunications system occurs. For asynchronous, store and forward telecommunications technologies, an originating site is a Federal telemedicine demonstration program conducted in Alaska or Hawaii.

Telepresenter. As mentioned earlier, the BIPA changed the telepresenter requirements. In accordance with section 1834(m)(2)(C) of the Act, a telepresenter is not required to be present. Therefore, we would not require a telepresenter as a condition of Medicare payment.

Practitioners eligible to receive payment for Medicare Telehealth Services. Section 1834(m)(1) of the Act requires that Medicare make payments for telehealth services furnished via a telecommunications system by a physician or a practitioner (described in section 1842(b)(18)(C) of the Act). Non-physician practitioners described in this section of the Act include nurse practitioners, physician assistants, clinical nurse specialists, certified nurse midwives, clinical psychologists, clinical social workers, and certified registered nurse anesthetists or anesthesiologists' assistants. Section 1834(m)(2) of the Act specifies that the payment amount to the physician or practitioner at the distant site who furnishes a telehealth service be equal to the amount that the physician or practitioner would have been paid under Medicare had the service been furnished without the use of a telecommunications system.

As discussed earlier in this document, covered telehealth services include office visits (codes 99201 through 99215), consultation (codes 99241 through 99275), individual psychotherapy (codes 90804 through 90809), and pharmacologic management (code 90862). If a physician, clinical nurse specialist, nurse practitioner, physician assistant, nurse midwife, clinical psychologist, or clinical social worker is licensed under State law to provide a service listed above, then these practitioners may bill for and receive payment for this service when delivered via a telecommunications system.

Clinical psychologists and clinical social workers cannot bill or receive payment for psychotherapy involving evaluation and management services under Medicare when the service is delivered face-to-face (that is, without the use of a telecommunications system). Therefore, clinical psychologists and clinical social workers cannot receive payment for these services under the telehealth benefit.

Certified registered nurse anesthetists and anesthesiologists' assistants are not eligible. Certified registered nurse anesthetists and anesthesiologists' assistants would not be permitted to bill for and receive payment for a telehealth service under this provision. Section 1861(bb) of the Act defines services provided by these practitioners as anesthesia services and related care only. Under the Medicare program, these practitioners do not receive payment for office visits, consultation, individual psychotherapy, or pharmacologic management when these services are furnished without the use of a telecommunications system. Section 1834(m)(2) of the Act specifies that the payment amount made to the distant site physician or practitioner must be equal to what would have been paid for the service without the use of a telecommunications system. Therefore, certified registered nurse anesthetists and anesthesiologists' assistants would not receive payment for telehealth services.

Proposed regulatory provisions. Based on the law, we would state at § 410.78 that, as a condition of Part B payment for telehealth services, the physician or practitioner at the distant site must be licensed to provide the service under State law. When the physician or practitioner at the distant site is licensed under State law to provide a covered telehealth service (that is, professional consultations, office and other outpatient visits, individual psychotherapy, and pharmacologic management), then he or she may bill for and receive payment for this service when delivered via a telecommunications system.

We would specify that the physician or practitioner at the distant site may be any of the following (provided that the physician or practitioner is licensed to bill for the service being furnished via a telecommunications system):

• A physician as described in § 410.20.

• A physician assistant as defined in § 410.74.

• A nurse practitioner as defined in § 410.75.

• A clinical nurse specialist as described in § 410.76.

• A nurse midwife as defined in § 410.77.

• A clinical psychologist as described in § 410.71.

• A clinical social worker as defined in § 410.73.

However, we would further specify that a clinical psychologist and clinical social worker may bill for individual psychotherapy furnished via a telecommunications system, but may not seek payment for medical evaluation and management services.

Documentation. Documentation requirements as specified in our most recent documentation guidelines are applicable to services delivered via a telecommunications system. At this time, we will not require additional documentation under this provision beyond what is already required for medical services delivered without the use of a telecommunications system. Medicare documentation guidelines are available from our web site. You may access our documentation guidelines by using the following directions:

1. Go to the CMS Homepage (http://www.cms.gov).

2. Click on “Medicare” (Top left hand column).

3. Click on “Professional/Technical Information”

4. Click on “Documentation Guidelines for Evaluation and Management Services:”

5. You may choose the 1995 version or the 1997 version whichever best fits your needs.

(iii) Payment provisions. Professional Services: General—Section 1834(m)(2)(A) of the Act, specifies that the payment amount for the professional service is equal to the amount that would have been paid without the use of a telecommunications system. Medicare payment for physicians' services is generally based, under section 1848 of the Act, on the resource-based physician fee schedule. Payment to other health care practitioners listed earlier, authorized under section 1833 of the Act, is based on a percentage of the physician fee schedule payment amount. Therefore, we would pay for office or other outpatient visits, consultation, individual psychotherapy, and pharmacologic management services furnished by physicians at 80 percent of the lower of the actual charge or the fee schedule amount for physicians' services. We would also pay for services furnished by other practitioners at 80 percent of the lower of the actual charge or that practitioner's respective percentage of the physician fee schedule (for example, the fee schedule amount for clinical psychologists would be 100 percent of the physician fee schedule; for clinical social workers, the payment would be made at 75 percent of the clinical psychologist fee schedule; for certified nurse midwives, the payment would be made at 65 percent of the physicians fee schedule; and for all other eligible health care practitioners, payment would be made at 85 percent of the physician fee schedule). Assuming the beneficiary has met his or her Part B deductible, the beneficiary would be responsible for 20 percent of the appropriate payment amount.

Payment for Telepresenter. Section 1834(m)(2) of the Act, provides for a professional fee for the physician or practitioner at the distant site (equal to the applicable Part B fee schedule amount) and a $20 facility fee for the originating site. Telepresenters are not required, unless one is deemed medically necessary by the physician or practitioner at the distant site. BIPA does not address the issue of payment for the telepresenter. The Office of the Inspector General has advised us that permitting the physician or practitioner at the distant site to pay the telepresenter creates a significant risk under the anti-kickback statute and may also violate many State fee-splitting laws. Therefore, we would propose in § 414.65 that payments made to the distant site physician or practitioner for professional fees, including deductible and coinsurance (for the professional service), are not to be shared with the referring practitioner or telepresenter.

However, the telepresenter could bill and receive payment for services that are not telehealth services that a telepresenter would otherwise be allowed to provide under the Medicare statute, including services furnished on the same day as the telehealth service.

Facility Fee for the Originating Site. The BBA prohibited any payment for line charges or facility fees associated with a professional consultation via a telecommunications system. Section 1834(m)(2)(B) of the Act, as added by the BIPA, provides for a facility fee payment to the originating site, specifying that the amount of payment is 80 percent of the lesser of the actual charge or a facility fee of $20.00. The BIPA further specifies that, beginning January 1, 2003, the originating facility fee be increased annually by the Medicare Economic Index (MEI) as defined in section 1842(i)(3) of the Act. Additionally, we clarify that the Geographic Practice Cost Index (GPCI) would not apply to the facility fee for the originating site. This fee is statutorily set and is not subject to the geographic payment adjustments authorized under the physician's fee schedule. The beneficiary is responsible for any unmet deductible amount and Medicare coinsurance. We would revise § 414.65 to provide for payment of a facility fee to the originating site.

Coding. For office and other outpatient visits, consultation, individual psychotherapy, and pharmacologic management delivered via a telecommunications system, we would use modifiers in conjunction with existing CPT codes to indicate the use of a telecommunications system in delivering the service.

A new HCPCS code for the facility fee for the originating site will be used to identify this fee. Since this is a new occasion of payment under Medicare, a separate and distinct code for the facility fee is necessary for contractors to make the appropriate payment.

G. Indian Health Service

The Indian health care system provides primary health care to many American Indian and Alaska Native Medicare beneficiaries. This system consists of programs operated by a Federal agency, the Indian Health Service (IHS), and Federally funded programs operated by Indian tribes, tribal organizations, and urban Indian organizations (as those terms are defined in section 4 of the Indian Health Care Improvement Act). These programs deliver a range of clinical and preventive health services to their beneficiaries through a network of facilities including hospitals and outpatient clinics. Programs operated in IHS-owned or leased facilities, by IHS or by tribes or tribal organizations, are considered “Federal providers” by Medicare. Sections 1814(c) and 1835(d) of the Act generally prohibit payment to Federal providers, subject to exceptions contained in section 1880 of the Act for these IHS facilities. Prior to enactment of the BIPA, the exception in section 1880 of the Act was applicable only to IHS hospitals including provider-based clinics (IHS hospital outpatient clinics) and skilled nursing facilities. The exception did not permit Medicare to pay for services furnished by IHS free-standing outpatient clinics or to pay any IHS facilities for services by physicians and other practitioners paid under a fee schedule.

Effective July 1, 2001, section 432 of the BIPA extends the exception in section 1880 of the Act to permit Medicare payments to hospitals and outpatient clinics (provider-based or free-standing), operated by the IHS or by a tribe or tribal organization, for services furnished by physicians and specified non-physician practitioners in or at the direction of an IHS hospital or outpatient clinic. Payments for these services are made to the IHS or tribal hospital or outpatient clinic, not to the physician or other practitioner. These payments are subject to the same situations, terms, and conditions as would apply if the services were furnished in or at the direction of a hospital or outpatient clinic that is not operated by the IHS or by a tribe or tribal organization. The payments include incentive payments for physicians furnishing covered physicians' services in rural or urban HPSAs if the usual HPSA criteria are met. (For further information see section 1833 of the Act and § 414.42 of our regulations.) Payments will not be made under these provisions to the extent that Medicare is otherwise paying for the same services under other provisions (for example, as part of a bundled payment, or if a tribal hospital outpatient clinic continues to bill as a Federally qualified health center (FQHC)).

We are adding a new § 410.46 to our regulations to reflect this new statutory provision. Due to the statutory effective date of July 1, 2001, we will implement this BIPA provision through program memorandum instructions.

H. Pathology Services

Background

The November 2, 1999 final rule (64 FR 59380) provided that, for services furnished on or after January, 1, 2001, carriers would no longer pay claims to independent laboratories under the physician fee schedule for the technical component (TC) of physician pathology services for hospital inpatients. Before this rule, independent laboratories could bill the carrier under the physician fee schedule for the TC of a physician pathology service furnished to a hospital inpatient. Under the rule, independent labs would still have been able to bill and receive payment for TC physician pathology services furnished to patients who are not hospital inpatients. (The TC of physicians' pathology services includes the TC of cytopathology and surgical pathology physicians' services as described in the Medicare Carrier Manual, section 15020 B and C.) This change was to take effect for services furnished on or after January 1, 2001. The delay between publication and effective date was intended to allow independent laboratories and hospitals sufficient time to negotiate new arrangements, if necessary.

BIPA Provision

Section 542 of the BIPA requires the Medicare carrier to continue to pay for the TC of physician pathology services when an independent laboratory furnishes these services to an inpatient or outpatient of a covered hospital. The BIPA provisions apply to TC services furnished during the 2-year period beginning January 1, 2001 and continuing through December 31, 2002. We informed the carriers and the intermediaries of this provision through program memorandum AB-01-47 which was issued in March 2001. This program memorandum requested the carriers to notify independent laboratories of this provision in their next regularly scheduled bulletin and to place this bulletin on their Internet web site.

In the absence of further legislation, the policy of the November 1999 final rule will take effect for the TC of physician pathology services furnished to hospital patients after December 31, 2002.

Definitions

For this provision, “covered hospital” means a hospital that had an arrangement with an independent laboratory that was in effect as of July 22, 1999, under which a laboratory furnished the TC of physician pathology services to fee-for-service Medicare beneficiaries who were hospital inpatients or outpatients and submitted claims for payment for the TC to a carrier. The TC could have been submitted separately or combined with the professional component and reported as a combined service.

The term “fee-for-service Medicare beneficiary” means an individual who—(1) Is entitled to benefits under Part A or enrolled under Part B of Title XVIII or both, and; (2) Is not enrolled in any of the following:

• A Medicare+Choice plan under Part C of that title.

• A plan offered by an eligible organization under section 1876 of the Act.

• A program of all-inclusive care for the elderly (PACE) under section 1894 of the Act.

• A social health maintenance organization (SHMO) demonstration project established under section 4018(b) of the Omnibus Budget Reconciliation Act of 1987.

V. Collection of Information Requirements

Under the Paperwork Reduction Act (PRA) of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comment on each of these issues for the following sections of this document that contain information collection requirements:

§ 410.132—Medical Nutrition Therapy

Paragraph (c) of this section requires a referring physician or practitioner to maintain referral documentation in the beneficiary's medical record for each referral. Paragraph (b)(3)(i) requires that the referring physician or qualified non-physician practitioner document a reassessment in the beneficiary's medical record. Paragraph (e) of this section requires the medical nutrition therapy care plan to be sent to the referring physician initially and each time the medical nutrition therapy care plan is updated. If the physician makes recommendations regarding the medical nutrition therapy care plan, the registered dietitian or nutrition professional must integrate the requirements into the medical nutrition therapy care plan.

We believe the burden associated with these provisions is exempt in accordance with 5 CFR 1320.3(b)(2) because the time, effort, and financial resources necessary to comply with these requirements would be incurred by certified providers in the normal course of business activities.

If you comment on these information collection and recordkeeping requirements, please mail copies directly to the following:

Health Care Financing Administration, Office of Information Services, Information Technology Investment Management Group, Attn.: John Burke, CMS-1169-P, Room N2-14-26, 7500 Security Boulevard, Baltimore, MD 21244-1850.

Office of Information and Regulatory Affairs, Office of Management and Budget, Room 10235, New Executive Office Building, Washington, DC 20503, Attn: Allison Eydt, CMS Desk Officer.

VI. Response to Comments

Because of the large number of items of correspondence we normally receive on Federal Register documents published for comment, we are not able to acknowledge or respond to them individually. We will consider all comments we receive by the date and time specified in the “DATES” section of this preamble, and, if we proceed with a subsequent document, we will respond to the major comments in the preamble to that document.

VII. Regulatory Impact Analysis

We have examined the impact of this rule as required by Executive Order 12866 (September 1993, Regulatory Planning and Review) and the Regulatory Flexibility Act (RFA) (Public Law 96-354). Executive Order 12866 directs agencies to assess all costs and benefits of available regulatory alternatives and, when regulation is necessary, to select regulatory approaches that maximize net benefits (including potential economic, environmental, public health and safety effects, distributive impacts, and equity). A regulatory impact analysis must be prepared for proposed rules with economically significant effects (that is, a proposed rule that would have an annual effect on the economy of $100 million or more or would adversely affect in a material way the economy, a sector of the economy, productivity, competition, jobs, the environment, public health or safety, or State, local, or tribal governments or communities). We estimate the changes to the practice expense RVUs (not including earlier proposed changes to the work RVUs) may result in a redistribution of payments among physician specialties of approximately $100 million. We estimate the benefit changes in this proposed rule resulting from the BIPA will likely result in additional Medicare expenditures of $210 to $360 million or more for any single FY through FY 2006. Therefore, this proposed rule is considered economically significant, and, thus, we have prepared a regulatory impact analysis.

The RFA requires agencies to analyze options for regulatory relief of small businesses. For purposes of the RFA, small entities include small businesses, nonprofit organizations and government agencies. Most hospitals, and most other providers, physicians, and health care suppliers are small entities, either by nonprofit status or by having revenues of $7.5 million or less annually for physicians and $5 million or less for other practitioners. For purposes of the RFA and based on small business administration data for 1997, we estimate that there are 162,000 physician organizations that meet the definition of a small entity. There are about 700,000 physicians and other practitioners who receive Medicare payment under the physician fee schedule. Individuals and States are not included in the definition of a small entity.

Section 1102(b) of the Social Security Act requires us to prepare a regulatory impact analysis for any proposed rule that may have a significant impact on the operations of a substantial number of small rural hospitals. This analysis must conform to the provisions of section 603 of the RFA. For purposes of section 1102(b) of the Act, we define a small rural hospital as a hospital that is located outside a Metropolitan Statistical Area and has fewer than 100 beds.

Section 202 of the Unfunded Mandates Reform Act of 1995 also requires that agencies assess anticipated costs and benefits before issuing any rule that may result in expenditure in any one year by State, local, or tribal governments, in the aggregate, or by the private sector, of $110 million. We have determined that this proposed rule will have no consequential effect on State, local, or tribal governments. We believe the private sector cost of this rule falls below the above-stated threshold as well.

Thus, we have prepared the following analysis, which together with the rest of this preamble, meets all assessment requirements. It explains the rationale for, and purposes of, the rule, details the costs and benefits of the rule, analyzes alternatives, and presents the measures we propose to use to minimize the burden on small entities.

A. Resource-Based Practice Expense Relative Value Units and 5-Year Review Changes

Under section 1848(c)(2) of the Act, adjustments to relative value units may not cause the amount of expenditures to differ by more than $20 million from the amount expenditures would have been without such adjustments. We are proposing several changes that would result in a change of expenditures exceeding $20 million without offsetting adjustments to either the conversion factor or relative value units. In the June 8, 2001 Five-Year Review of Relative Value Units Under the Physician Fee Schedule, (66 FR 31028), we described the specialty level impact on payments of proposed changes in work RVUs. We estimated that the increase in physician work RVUs would increase expenditures by more than $20 million without an offsetting adjustment to either the relative value units or conversion factor. We proposed to meet the budget neutrality requirements in the statute by reducing the physician fee schedule conversion factor by an estimated 0.3 percent. Since the changes to the physician work RVUs included in our earlier proposed notice will affect payments in 2002, we are repeating those impacts in Table 6. In addition, we are also showing the impact of proposed changes that will affect the practice expense relative value units.

With respect to practice expense, our policy has been to meet the budget neutrality requirements in the statute by incorporating a rescaling adjustment in the practice expense methodology. That is, we determined the aggregate number of practice expense relative values that will be paid under current and proposed policy in 2002. We apply a uniform adjustment factor to all proposed practice expense relative value units to make them equal to the aggregate number of practice expense relative values that we estimate will be paid under current policy. Table 6 shows the specialty level impact on payment of changes being proposed for 2002.

The three columns under the label “5-Year Review of Work” show the estimated change in payments that will result from our earlier notice on the 5-Year Review of Work Relative Value Units. The column labeled “Work” shows the impact on total payments that will result from increases in physician work relative value units. Since the practice expense relative value units are based, in part, on the physician work, the 5-year review will also result in a change to the practice expense relative value units. The column labeled “Practice Expense” shows this impact and includes the effect of the rescaling adjustment discussed above to make the practice expense relative value units budget neutral. The column labeled “Total” reflects the total impact on payments resulting from proposed changes in work and practice expense from the 5-year review of physician work. This column includes the effect of a 0.3 percent reduction to the physician fee schedule conversion factor to meet the budget neutrality requirements in the statute.

The column labeled “New Time” reflects the estimated specialty level impact on payments that will result from using new physician times in the practice expense methodology. As described earlier in section II.A., physician time is used in conjunction with information on practice expense per hour and Medicare utilization to create specialty practice expense pools that are used to allocate practice expenses to different services. The RUC earlier indicated to us that some of the times we were using in the practice expense methodology differed from the times included in the RUC database. We understand that the RUC has made substantial efforts to validate the time in its database with physician specialty societies and to supply us with times that were missing for some services. The RUC recently forwarded the results of this effort to us and is recommending that we use the new times in the practice expense methodology. In addition, several physician specialty societies obtained new and more recent survey times as a result of the five-year review of physician work. The RUC has reviewed and forwarded these times to us as well and is also recommending that we use them in the practice expense methodology. We believe the times supplied to us by the RUC are more likely to be reflective of the actual time it takes to perform a procedure. For this reason, we are proposing to use these new times in the practice expense methodology. As indicated in our June 8, 2001 proposed notice, our expectation was that the substitution of new times would reduce payments to cardiac and thoracic surgeons because the new times for many heart and chest procedures are shorter than those we have been using in the practice expense methodology. We estimate that substitution of new physician times will reduce payments to cardiac and thoracic surgeons by an estimated 5 and 4 percent, respectively. Combining this reduction with the change in work relative value units will result in a total estimated increase in payments from between 0 and 1 percent for cardiac and thoracic surgeons. We estimate change in payments to other specialties from using new time data will be one percent or less.

The column labeled “New SMS” refers to our proposal to recalculate the practice expense per hour data based on the 1995 through 1999 SMS. (We refer to the SMS based on its publication year. The practice expense data is actually from surveys performed the year prior to publication. For example, the 1998 SMS includes 1997 cost data.) The proposed changes in practice expense per hour from incorporating the latest SMS data are modest. Payments to pathologists are estimated to increase by 2 percent. Specialty 69—Independent Laboratory, the largest specialty included in the supplier category, bills for many of the same services as pathologists, producing our estimated 2 percent increase in Medicare payments to suppliers.

The column labeled “Clinical Labor Repricing” reflects our proposal to use 1999 information from the Bureau of Labor Statistics to update the wage rate information that is used to price clinical labor inputs in the practice expense methodology. We estimate that this proposal will result in less than a 1 percent change in payments to any physician specialty.

The column labeled “Other” refers to our proposal to make minor modifications to the specialty utilization. As discussed earlier, we are proposing to recode the specialty for several very low volume physician specialties that likely have practice expenses that are similar to other larger physician specialties. In addition, this policy reflects our proposal to drop the utilization for a number of specialties from the practice expense methodology because a very small percentage (one percent or less) of their allowed charges are from physician fee schedule services. The modifications to the utilization data that we are proposing have virtually no specialty level impact on any specialty.

Table 6.—Impact of Proposed Work and Practice Expense Changes Total Allowed Charges by Specialty
Specialty | Allowed charges $ Billions | 5 year review of work practice: Work | 5 year review of work practice: Expense | 5 year review of work practice: Total | New time | New SMS | Clinical labor repricing | Other | Total
ANESTHESIOLOGY | 1.5 | 1% | 0% | 1% | 0% | 0% | 0% | 0% | 1%
CARDIAC SURGERY | 0.3 | 5% | 1% | 6% | 5% | 0% | 0% | 0% | 0%
CARDIOLOGY | 4.2 | 0% | 0% | 0% | 0% | 0% | 0% | 0% | 0%
CHIROPRACTOR | 0.4 | 0% | 0% | 0% | 0% | 0% | 0% | 0% | 0%
CLINICS | 1.6 | 0% | 0% | 0% | 0% | 0% | 0% | 0% | 0%
DERMATOLOGY | 1.4 | 0% | 0% | 0% | 0% | 1% | 0% | 0% | 1%
EMERGENCY MEDICINE | 1.0 | 0% | 0% | 0% | 0% | 0% | 0% | 0% | 0%
FAMILY PRACTICE | 3.3 | 0% | 0% | 0% | 0% | 0% | 0% | 0% | 0%
GASTROENTEROLOGY | 1.2 | 0% | 0% | 0% | 1% | 0% | 0% | 0% | 1%
GENERAL PRACTICE | 1.0 | 0% | 0% | 0% | 0% | 0% | 0% | 0% | 0%
GENERAL SURGERY | 2.0 | 3% | 1% | 4% | 0% | 0% | 0% | 0% | 4%
HEMATOLOGY ONCOLOGY | 0.6 | 0% | −1% | −1% | 0% | 0% | 0% | 0% | 0%
INTERNAL MEDICINE | 7.1 | 0% | 0% | 0% | 0% | 0% | 0% | 0% | 0%
NEPHROLOGY | 1.0 | 0% | 0% | 0% | 0% | 0% | 0% | 0% | 0%
NEUROLOGY | 0.9 | 0% | 0% | 0% | 0% | 0% | 0% | 0% | 0%
NEUROSURGERY | 0.4 | 0% | 0% | 0% | 0% | 0% | 0% | 0% | 0%
NONPHYSICIAN PRACTITIONER | 1.2 | 0% | 0% | 0% | 0% | 0% | 0% | 0% | 0%
OBSTETRICS/GYNECOLOGY | 0.4 | 0% | 0% | 1% | 0% | 1% | 0% | 0% | 1%
OPHTHALMOLOGY | 3.9 | 0% | 0% | 0% | 0% | −1% | 0% | 0% | −1%
OPTOMETRIST | 0.5 | 0% | 0% | 0% | 0% | −1% | 1% | 0% | 0%
ORTHOPEDIC SURGERY | 2.3 | 0% | 0% | 0% | 0% | 0% | 0% | 0% | 0%
OTHER PHYSICIAN | 1.6 | 0% | 0% | 0% | 0% | 0% | 0% | 0% | 1%
OTOLARYNGOLOGY | 0.6 | 0% | 0% | 0% | 1% | 0% | 0% | 0% | 0%
PATHOLOGY | 0.6 | 0% | 0% | 0% | 0% | 2% | 0% | 0% | 3%
PLASTIC SURGERY | 0.2 | 0% | 0% | 0% | 0% | 0% | 0% | 0% | 0%
PODIATRY | 1.1 | 0% | 0% | 0% | 1% | 0% | 0% | 0% | 1%
PSYCHIATRY | 1.1 | 0% | 0% | 0% | 0% | 0% | 0% | 0% | 0%
PULMONARY | 1.1 | 0% | 0% | 0% | 0% | 0% | 0% | 0% | 0%
RADIATION ONCOLOGY | 0.7 | 0% | −1% | −1% | 0% | 0% | 0% | 0% | 0%
RADIOLOGY | 3.3 | 0% | −1% | 0% | 0% | 0% | 0% | 0% | 0%
RHEUMATOLOGY | 0.3 | 0% | 0% | 0% | 0% | 0% | 0% | 0% | 0%
SUPPLIERS | 0.5 | 0% | −1% | −1% | −1% | 2% | 0% | 1% | 2%
THORACIC SURGERY | 0.5 | 4% | 1% | 5% | −4% | 0% | 0% | 0% | 1%
UROLOGY | 1.3 | 0% | 0% | 0% | 0% | 0% | 0% | 0% | 1%
VASCULAR SURGERY | 0.3 | 2% | 0% | 2% | −1% | 0% | 0% | 0% | 2%

Table 7 shows the impact on payments for selected high volume procedures of all of the changes previously discussed. This table shows the combined impact of the change in physician work and the fully implemented practice expense relative value units on total payment for the procedure. There are separate columns that show the change in the old and new facility rates and the old and new nonfacility rates. The table does not show the actual change in payments from 2001 to 2002 for the procedures because the “old” payments do not take into account that the practice expense relative value units in 2001 are a blend of the old charge-based relative value units and the new resource-based practice expense relative value determined under current policy. We show the amounts in this way to isolate the impact of new proposals on the change in payment without including the effect of continuing to transition resource-based practice expense relative value units that will occur regardless of whether we publish this proposed rule. For an explanation of facility and non-facility practice expense refer to § 414.22(b)(5)(i).

Table 7.—Impact of 5 Year Review and Proposed Rule on Medicare Payment for Selected Procedures
HCPCS | MOD | Desc | Old non-facility | New non-facility | Percent change | Old facility | New facility | Percent change
11721 |  | Debride nail, 6 or more | $42.47 | $42.47 | 0% | $30.61 | $30.61 | 0%
17000 |  | Destroy benign/premal lesion | $63.89 | $65.80 | 3% | $34.43 | $34.43 | 0%
27130 |  | Total hip replacement | NA | NA | NA | $1,499.72 | $1,502.40 | 0%
27236 |  | Treat thigh fracture | NA | NA | NA | $1,150.80 | $1,152.72 | 0%
27244 |  | Treat thigh fracture | NA | NA | NA | $1,174.91 | $1,177.20 | 0%
27447 |  | Total knee replacement | NA | NA | NA | $1,567.43 | $1,570.50 | 0%
33533 |  | CABG, arterial, single | NA | NA | NA | $1,855.90 | $1,900.28 | 2%
35301 |  | Rechanneling of artery | NA | NA | NA | $1,170.32 | $1,141.24 | −2%
43239 |  | Upper GI endoscopy, biopsy | $298.03 | $318.31 | 7% | $157.24 | $158.39 | 1%
45385 |  | Lesion removal colonoscopy | $501.95 | $534.47 | 6% | $299.56 | $303.00 | 1%
66821 |  | After cataract laser surgery | $229.93 | $228.02 | −1% | $215.01 | $212.72 | −1%
66984 |  | Cataract surg w/iol, i stage | NA | NA | NA | $697.83 | $691.71 | −1%
67210 |  | Treatment of retinal lesion | $627.82 | $620.55 | −1% | $575.40 | $569.66 | −1%
71010 | 26 | Chest x-ray | $9.56 | $9.56 | 0% | $9.56 | $9.56 | 0%
71020 | 26 | Chest x-ray | $11.86 | $11.86 | 0% | $11.86 | $11.86 | 0%
77427 |  | Radiation tx management, x5 | $176.75 | $177.52 | 0% | $176.75 | $177.52 | 0%
78465 | 26 | Heart image (3d), multiple | $79.58 | $78.81 | −1% | $79.58 | $78.81 | −1%
88305 | 26 | Tissue exam by pathologist | $42.08 | $42.85 | 2% | $42.08 | $42.85 | 2%
90801 |  | Psy dx interview | $153.80 | $152.65 | −1% | $145.00 | $144.62 | 0%
90806 |  | Psytx, off, 45-50 min | $102.15 | $101.38 | −1% | $96.41 | $96.41 | 0%
90807 |  | Psytx, off, 45-50 min w/e&m | $109.80 | $109.42 | 0% | $104.44 | $104.44 | 0%
90862 |  | Medication management | $53.94 | $53.94 | 0% | $48.97 | $48.97 | 0%
90921 |  | ESRD related services, month | $278.90 | $279.28 | 0% | $278.90 | $279.28 | 0%
90935 |  | Hemodialysis, one evaluation | NA | NA | NA | $77.66 | $78.05 | 1%
92004 |  | Eye exam, new patient | $131.23 | $130.84 | 0% | $92.58 | $92.20 | 0%
92012 |  | Eye exam established pat | $66.19 | $65.80 | −1% | $37.88 | $37.49 | −1%
92014 |  | Eye exam & treatment | $94.88 | $94.50 | 0% | $62.36 | $61.60 | −1%
92980 |  | Insert intracoronary stent | NA | NA | NA | $845.12 | $832.88 | 1%
92982 |  | Coronary artery dilation | NA | NA | NA | $625.90 | $616.34 | −2%
93000 |  | Electrocardiogram, complete | $27.55 | $27.16 | −1% | NA | NA | NA
93010 |  | Electrocardiogram report | $9.56 | $9.18 | −4% | $9.56 | $9.18 | −4%
93015 |  | Cardiovascular stress test | $108.65 | $107.51 | −1% | NA | NA | NA
93307 | 26 | Echo exam of heart | $51.27 | $50.50 | −2% | $51.27 | $50.50 | −2%
93510 | 26 | Left heart catheterization | $246.00 | $242.17 | −2% | $246.00 | $242.17 | −2%
98941 |  | Chiropractic manipulation | $37.49 | $37.49 | 0% | $32.52 | $32.52 | 0%
99202 |  | Office/outpatient visit, new | $63.89 | $63.89 | 0% | $48.21 | $48.21 | 0%
99203 |  | Office/outpatient visit, new | $95.65 | $95.26 | 0% | $73.46 | $73.46 | 0%
99204 |  | Office/outpatient visit, new | $137.73 | $136.96 | −1% | $108.65 | $108.65 | 0%
99205 |  | Office/outpatient visit, new | $174.46 | $174.46 | 0% | $143.85 | $143.47 | 0%
99211 |  | Office/outpatient visit, est | $21.04 | $21.04 | 0% | $9.18 | $9.18 | 0%
99212 |  | Office/outpatient visit, est | $37.49 | $37.49 | 0% | $24.49 | $24.49 | 0%
99213 |  | Office/outpatient visit, est | $52.41 | $52.41 | 0% | $35.96 | $35.96 | 0%
99214 |  | Office/outpatient visit, est | $82.64 | $82.64 | 0% | $58.92 | $58.92 | 0%
99215 |  | Office/outpatient visit, est | $120.90 | $121.28 | 0% | $95.26 | $95.26 | 0%
99221 |  | Initial hospital care | NA | NA | NA | $68.86 | $68.86 | 0%
99222 |  | Initial hospital care | NA | NA | NA | $114.01 | $114.01 | 0%
99223 |  | Initial hospital care | NA | NA | NA | $159.15 | $159.15 | 0%
99231 |  | Subsequent hospital care | NA | NA | NA | $34.43 | $34.43 | 0%
99232 |  | Subsequent hospital care | NA | NA | NA | $56.24 | $56.24 | 0%
99233 |  | Subsequent hospital care | NA | NA | NA | $80.34 | $80.34 | 0%
99236 |  | Observ/hosp same date | NA | NA | NA | $225.72 | $225.34 | 0%
99238 |  | Hospital discharge day | NA | NA | NA | $67.72 | $67.72 | 0%
99239 |  | Hospital discharge day | NA | NA | NA | $92.58 | $92.58 | 0%
99241 |  | Office consultation | $48.97 | $48.97 | 0% | $34.81 | $34.81 | 0%
99242 |  | Office consultation | $91.05 | $90.67 | 0% | $71.54 | $71.54 | 0%
99243 |  | Office consultation | $120.90 | $120.51 | 0% | $95.26 | $94.88 | 0%
99244 |  | Office consultation | $171.78 | $171.78 | 0% | $140.79 | $140.79 | 0%
99245 |  | Office consultation | $223.04 | $223.43 | 0% | $186.70 | $186.32 | 0%
99251 |  | Initial inpatient consult | NA | NA | NA | $38.26 | $38.26 | 0%
99252 |  | Initial inpatient consult | NA | NA | NA | $75.37 | $75.37 | 0%
99253 |  | Initial inpatient consult | NA | NA | NA | $102.15 | $102.15 | 0%
99254 |  | Initial inpatient consult | NA | NA | NA | $146.15 | $146.15 | 0%
99255 |  | Initial inpatient consult | NA | NA | NA | $200.47 | $200.47 | 0%
99261 |  | Follow-up inpatient consult | NA | NA | NA | $24.87 | $24.87 | 0%
99262 |  | Follow-up inpatient consult | NA | NA | NA | $47.82 | $47.82 | 0%
99263 |  | Follow-up inpatient consult | NA | NA | NA | $70.01 | $70.01 | 0%
99282 |  | Emergency dept visit | NA | NA | NA | $27.93 | $27.93 | 0%
99283 |  | Emergency dept visit | NA | NA | NA | $62.74 | $62.74 | 0%
99284 |  | Emergency dept visit | NA | NA | NA | $97.94 | $98.32 | 0%
99285 |  | Emergency dept visit | NA | NA | NA | $152.65 | $153.03 | 0%
99291 |  | Critical care, first hour | $218.45 | $219.22 | 0% | $208.89 | $209.27 | 0%
99292 |  | Critical care, addl 30 min | $111.71 | $112.10 | 0% | $104.06 | $104.44 | 0%
99301 |  | Nursing facility care | NA | NA | NA | $63.51 | $63.51 | 0%
99302 |  | Nursing facility care | NA | NA | NA | $84.93 | $84.93 | 0%
99303 |  | Nursing facility care | NA | NA | NA | $105.59 | $105.59 | 0%
99311 |  | Nursing fac care, subseq | NA | NA | NA | $31.75 | $31.75 | 0%
99312 |  | Nursing fac care, subseq | NA | NA | NA | $52.41 | $52.41 | 0%
99313 |  | Nursing fac care, subseq | NA | NA | NA | $74.60 | $74.60 | 0%
99348 |  | Home visit, est patient | $77.28 | $76.90 | 0% | $70.01 | $70.01 | 0%
99350 |  | Home visit, est patient | $176.37 | $175.60 | 0% | $164.13 | $164.13 | 0%

B. Nurse Practitioners, Physician Assistants, and Clinical Nurse Specialists Performing Screening Sigmoidoscopies

As discussed in section II.B. of the preamble, this proposed regulation would expand the scope of who is allowed to perform screening flexible sigmoidoscopies for Medicare coverage and payment purposes to include nurse practitioners, physician assistants, and clinical nurse specialists, as long as those practitioners meet applicable Medicare qualification requirements, and they are authorized to perform those screening services under State law. At present, the Medicare condition of coverage for screening flexible sigmoidoscopies limits coverage of those services to those that are performed by either a doctor of medicine or osteopathy (as defined in section 1861(r)(1) of the Act) who is authorized under State law to perform the examination.

We estimate that this expansion in the scope of who is allowed to perform screening flexible sigmoidoscopies will increase beneficiary access to these screening services and will result in an increase in the number of covered exams that are performed. At the same time, we estimate that this proposed rule will result in a decrease in payments that are made for certain screening flexible sigmoidoscopies because they will be performed by nurse practitioners, physician assistants, and clinical nurse specialists who are paid at 85 percent of the amount of payment that is made to physicians for the same screening service. Taking these factors into account, we estimate that this proposal will result in negligible additional Medicare program costs. For a more detailed discussion of this provision see section II.B. of this preamble.

C. Services and Supplies Incident to a Physician's Professional Services—Conditions

We are proposing to allow auxiliary personnel to provide services incident to the services of physicians or practitioners who supervise them, regardless of the employment relationship. There are no costs or savings to the Medicare program associated with this proposal because the same physicians and practitioners would have performed these services before publication of this proposed rule. For a more detailed discussion of this provision see section II.C. of this preamble.

D. Anesthesia Services—Anesthesia Base Units

As previously discussed in section II.D. of the preamble, with the exception of codes 00142 and 00147, we propose to use the same anesthesia base unit per anesthesia code as the ASA provides in its uniform relative value guide. There are eight codes for which the base unit values would be different under our proposed rule.

Under this proposal, the estimated total number of base units would decrease. This is due primarily to the fact that code 001214 is the dominant code in terms of allowed services and the base unit for this code would decrease from 10 to 8 units.

To maintain neutrality in the anesthesia conversion factor, we would provide for a slight increase in the anesthesia conversion factor, less than 0.5 percent. For a more detailed discussion of this provision see section II.D. of this preamble.

E. Performance Measurement and Emerging Technology Codes

As previously discussed in section II.E. of the preamble, the AMA has developed two new categories of codes: performance codes and emerging technology. Allowing the performance measurement code to be referenced on Medicare billing forms will have no budgetary impact since we are not proposing payment for these codes. We are proposing to allow for carrier pricing of the emerging technology codes.

We expect that the emerging technology codes will be used infrequently and may be used in place of “unlisted” procedure codes that are also carrier priced. There would be few, if any, no Medicare program costs associated with this proposal. For a more detailed discussion of this provision see section II.E. of this preamble.

F. BIPA Provisions Included in This Proposed Rule

The following provisions of the BIPA are discussed in detail in section III of this preamble. This proposed rule would conform the regulations text to the BIPA provisions. Table 8 provides the estimated costs (in millions of dollars) for the Medicare program for these provisions for the fiscal years shown:

Table 8.—Medicare Cost Estimates for BIPA 2000 Provisions
[In millions]
BIPA provisions | FY 2002 | FY 2003 | FY 2004 | FY 2005 | FY 2006
Sec. 101 Biennial Pelvic Examinations | 10 | 20 | 20 | 20 | 20
Sec. 102 Screening Glaucoma | 30 | 50 | 50 | 60 | 60
Sec. 103 Screening Colonoscopy | 40 | 40 | 30 | 10 | 10
Sec. 104 Screening Mammography | 30 | 40 | 40 | 40 | 50
Sec. 105 Medical Nutrition | 20 | 50 | 60 | 70 | 70
Sec. 223 Telehealth Services | 20 | 30 | 40 | 50 | 60
Sec. 432 Indian Health | 60 | 70 | 80 | 80 | 90

1. Screening Mammography

As discussed in section III.A. of the preamble, the BIPA eliminates the statutorily prescribed payment rate for screening mammography and specifies that it will be paid under the physician fee schedule beginning January 1, 2002. To pay for the professional component of the screening mammography, we propose to use the work and malpractice RVUs that have been established for unilateral diagnostic mammography. We are establishing the practice expense RVUs for the professional component under the resource-based methodology. To establish practice expense RVUs for the technical component, we propose using the statutory payment limit and the applicable physician fee schedule update factor used each year. Currently, we pay for screening mammography under section 1834(c) of the Act. Payment for screening mammography is not subject to the budget neutrality requirements that apply to physician fee schedule services under section 1848(c)(2)(B)(ii)(II) of the Act. Effective January 1, 2002, screening mammography will be subject to the budget neutrality requirements that apply to physician fee schedule services. We will include the current payment amounts for screening mammography in aggregate physician fee schedule payments subject to the budget neutrality requirements. As a result, the BIPA requirement to pay for screening mammography under the physician fee schedule will not result in an increase in Medicare program expenditures. However, the increase in payment for screening mammography under the physician fee schedule will be included in the budget neutrality adjustments that apply to physician fee schedule services. The BIPA also establishes a methodology for determining payment for certain types of new technology that are used in providing both diagnostic and screening mammography services. The statutory provisions are in effect from April 1, 2001 to December 31, 2001. The statute gives us the authority to determine whether separate codes and payment amounts are appropriate for screening and diagnostic mammography services that involve use of a new technology on or after January 1, 2002. We are proposing several new codes and fee schedule amounts for screening and diagnostic mammography services that involve use of a new technology. The BIPA provisions related to new technology mammography will result in the Medicare program costs shown in Table 8. The BIPA makes no changes to provisions for Medicare coverage of screening mammography.

2. Screening Pelvic Examinations

As discussed in section III.B. of the preamble, section 101 of the BIPA provides for expanded coverage for screening pelvic examinations (including a clinical breast examination) furnished on or after July 1, 2001. Specifically, the revised benefit will allow for biennial coverage of screening pelvic examination for all women who do not qualify under the law for annual coverage of such tests. We estimate that this change in the frequency of coverage for certain beneficiaries will result in an increase in Medicare payments. These payments will be made to a large number of physicians and other practitioners who provide these tests, any medically necessary follow-up tests, or treatment that may be required as a result of the increased frequency of coverage of these tests. Medicare program expenditures associated with screening pelvic examinations have been included in the budget. The impact of this provision is shown in Table 8.

3. Screening for Glaucoma

As discussed in section III.C. of the preamble, section 102 of the BIPA authorizes coverage of glaucoma screening examinations effective January 1, 2002, subject to certain frequency and other limitations. We believe services provided as part of glaucoma screening will often overlap with other services a physician provides during a patient encounter that is associated with a higher payment amount. We believe that physicians will more commonly provide glaucoma tests in conjunction with other services and will rarely provide only glaucoma screening to Medicare patients. Based on the projected utilization of these screening services and related medically necessary follow-up tests and treatment that may be required for the beneficiaries screened, we estimate that this new benefit will result in an increase in Medicare payments. These payments will be made to ophthalmologists or optometrists who will provide these screening tests and related follow-up tests and treatment that may be required. Medicare program expenditures associated with the BIPA provision that establishes coverage for screening glaucoma are shown in Table 8.

4. Screening Colonoscopy

As discussed in section III.D. of the preamble, section 103 of the BIPA amended the Act to add coverage of screening colonoscopies once every 10 years for individuals not at high risk for colorectal cancer. We estimate that this new benefit will result in an increase in Medicare payments. These payments will be made to practitioners who will provide these screening tests and related follow-up tests and treatment that may be required. The impact of this provision is shown in Table 8.

5. Medical Nutrition Therapy

As discussed in section III.E. of the preamble, section 105 of the BIPA amended the Act to authorize Medicare coverage under Part B of medical nutrition therapy (MNT) for beneficiaries who have diabetes or renal disease, effective for services furnished on or after January 1, 2002. We propose to implement this provision at part 410, subpart G. Specifically, the proposed rule discusses the education, experience, and licensing requirements for dietitians or nutritionists furnishing the service. In addition, the proposed rule discusses the payment provisions, a referral requirement, and the manner by which the medical nutrition therapy and diabetes outpatient self-management training benefits will be coordinated to avoid duplicate payment. We also propose to establish payment amounts for these services under the physician fee schedule.

We estimate that this new benefit will result in an increase in Medicare payments. These payments will be made to dietitians and nutrition professionals who will provide these diagnostic therapy and counseling services. Costs to the Medicare program associated with this provision are shown in Table 8.

6. Telehealth

We estimate that the cost of providing office or other outpatient visits, consultation services, individual psychotherapy, and pharmacologic management in accordance with section 223 of the BIPA will be approximately $20 million in FY 2002 and approximately $60 million by FY 2006, as indicated above in Table 8.

This rule does not mandate that entities provide consultation, office or other outpatient visits, individual psychotherapy or pharmacological management services via a telecommunications system. Thus, this rule would not require entities to purchase telehealth equipment or to acquire the telecommunications infrastructure necessary to deliver these services via a telecommunications system. Therefore, this rule does not impose costs associated with starting and operating a telehealth network.

7. Indian Health Services

As discussed in section III.G. of the preamble, in addition to payment for Medicare services in hospitals and skilled nursing facilities, section 432 of the BIPA authorizes payment under the physician fee schedule to physicians and certain practitioners for services furnished in a hospital and an ambulatory care clinic, whether provider-based or free-standing, of the Indian Health Service effective for services furnished on or after July 1, 2001. We propose to add a new § 410.46 to conform our regulations to the statute. Costs to the Medicare program for this BIPA provision are shown in Table 8.

8. Pathology Services

As discussed in section III.H. of the preamble, in the November 2, 1999 physician fee schedule final rule (64 FR 59381), we stated that we would implement a policy to pay only hospitals for the TC of physician pathology services furnished to hospital inpatients. Before the effective date of this proposal, any independent laboratory could bill the carrier under the physician fee schedule for the TC of physician pathology to a hospital inpatient. The regulation provided that for services furnished on or after January 1, 2001, the carriers would no longer pay claims to an independent laboratory under the physician fee schedule for the TC of physician pathology services furnished for hospital inpatients. Similar treatment was provided under the hospital outpatient prospective payment system for the TC of physician pathology services to hospital outpatients. We delayed implementation of this provision for one year; it was to take effect for services furnished on or after January 1, 2001. The delay was intended to allow independent laboratories and hospitals sufficient time to negotiate arrangements.

Section 542 of the BIPA requires Medicare to continue to pay for the TC of physician pathology services when an independent laboratory furnishes this service to an inpatient or outpatient of a covered hospital. This provision applies to TC services furnished during the 2-year period beginning on January 1, 2001.

In the November 2, 1999 final rule, we estimated that payment under the physician fee schedule for TC billings by independent laboratories would decrease by $6 million per year if the original proposal had been implemented on January 1, 2001. As a result of the BIPA, these savings are not realized for two years.

G. Budget Neutrality

Each year since the fee schedule has been implemented, our actuaries have determined any adjustments needed to meet the budget neutrality requirement of the statute. A component of the actuarial determination of budget-neutrality involves estimating the impact of changes in the volume and intensity of physicians' services provided to Medicare beneficiaries as a result of the proposed changes. Since the November 1998 final rule (63 FR 58891), we have used a model that assumes 30 percent of anticipated payment reductions will be offset through an increase in the volume and intensity of services. We will continue to use the same assumption in this year's final rule.

H. Impact on Beneficiaries

Although changes in physicians' payments were large when the physician fee schedule was implemented in 1992, we detected no problems with beneficiary access to care. Furthermore, since beginning our transition to a resource-based practice expense system in 1999, we have not found that there are problems with beneficiary access to care. In addition, the implementation of the BIPA proposals that are contained in this rule will improve beneficiary access to health care under the Medicare program since certain preventative services, such as screening glaucoma, will now be covered for the first time and coverage of several existing services is being expanded.

I. Federalism

We have examined this proposed rule in accordance with Executive Order 13132 and have determined that this regulation would not have any negative impact on the rights, roles, or responsibilities of State, local, or tribal governments.

In accordance with the provisions of Executive Order 12866, this regulation was reviewed by the Office of Management and Budget.

List of Subjects

42 CFR Part 405

Administrative practice and procedure, Health facilities, Health professions, Kidney diseases, Medicare, Reporting and recordkeeping requirements, Rural areas, X-rays.

42 CFR Part 410

Health facilities, Health professions, Kidney diseases, Laboratories, Medicare, Rural areas, X-rays.

42 CFR Part 411

Kidney diseases, Medicare, Reporting and recordkeeping requirements.

42 CFR Part 414

Administrative practice and procedure, Health facilities, Health professions, Kidney diseases, Medicare, Reporting and recordkeeping requirements, Rural areas, X-rays.

42 CFR Part 415

Health facilities, Health professions, Medicare, Reporting and recordkeeping requirements.

For the reasons set forth in the preamble, the Health Care Financing Administration proposes to amend 42 CFR chapter IV as follows:

PART 405—FEDERAL HEALTH INSURANCE FOR THE AGED AND DISABLED

1. The authority citation for part 405 continues to read as follows:

Authority: Secs. 1102 and 1871 of the Social Security Act (42 U.S.C. 1302 and 1395hh).

2. In § 405.534, an introductory paragraph is added to read as follows:

§ 405.534 Limitation on payment for screening mammography services.

The provisions in paragraphs (a), (b), and (c) of this section apply for services provided from January 1, 1991 until December 31, 2001. Screening mammography services provided after December 31, 2001 are paid under the physician fee schedule in accordance with § 414.2 of this chapter.

* * * * *

3. In § 405.535, the section heading is revised and the introductory text is amended by adding two sentences to the beginning to read as follows:

§ 405.535 Special rule for nonparticipating physicians and suppliers furnishing screening mammography services before January 1, 2002.

The provisions in this section apply for screening mammography services provided from January 1, 1991 until December 31, 2001. Screening mammography services provided after December 31, 2001 are paid under the physician fee schedule in accordance with § 414.2 of this chapter. * * *

* * * * *

PART 410—SUPPLEMENTARY MEDICAL INSURANCE (SMI) BENEFITS

1. The authority citation for part 410 continues to read as follows:

Authority: Secs. 1102 and 1871 of the Social Security Act (42 U.S.C. 1302 and 1395hh).

2. Section 410.3 is amended by revising paragraph (a)(1) to read as follows:

§ 410.3 Scope of benefits.

(a) * * *

(1) Medical and other health services such as physicians' services, outpatient services furnished by a hospital or a CAH, diagnostic tests, outpatient physical therapy and speech pathology services, rural health clinic services, Federally qualified health center services, IHS, Indian tribe, or tribal organization facility services, and outpatient renal dialysis services.

* * * * *

3. Section 410.10 is amended by adding paragraph (x) to read as follows:

§ 410.10 Medical and other health services: Included services.

* * * * *

(x) IHS, Indian tribe, or tribal organization facility services.

4. Section 410.22 is redesignated as § 410.21, § 410.23 is redesignated as § 410.22, and a new § 410.23 is added to read as follows:

§ 410.23 Screening for glaucoma: Conditions for and limitations on coverage.

(a) Definitions: As used in this section, the following definitions apply:

(1) Direct supervision in the office setting means the optometrist or the ophthalmologist must be present in the office suite and be immediately available to furnish assistance and direction throughout the performance of the procedure. It does not mean the physician must be present in the room when the procedure is performed.

(2) Eligible beneficiary means:

(i) Individual with diabetes mellitus;

(ii) Individual with a family history of glaucoma; or

(iii) African-Americans age 50 and over.

(3) Screening for glaucoma means the following procedures furnished to an individual for the early detection of glaucoma:

(i) A dilated eye examination with an intraocular pressure measurement.

(ii) A direct ophthalmoscopy examination, or a slit-lamp biomicroscopic examination.

(b) Condition for coverage of screening for glaucoma.

Medicare Part B pays for glaucoma screening examinations provided to eligible beneficiaries as described in paragraph (a)(2) of this section if they are furnished by or under the direct supervision in the office setting of an optometrist or ophthalmologist who is legally authorized to perform these services under State law (or the State regulatory mechanism provided by State law) of the State in which the services are furnished, as would otherwise be covered if furnished by a physician or incident to a physician's professional service.

(c) Limitations on coverage of glaucoma screening examinations.

(1) Payment may not be made for a glaucoma screening examination that is performed for an individual who is not an eligible beneficiary as described in paragraph (a)(2) of this section.

(2) Payment may be made for a glaucoma screening examination that is performed on an individual who is an eligible beneficiary as described in paragraph (a)(2) of this section, after at least 11 months have passed following the month in which the last glaucoma screening examination was performed.

5. In § 410.26, paragraph (b) is redesignated as paragraph (c), paragraph (a) is redesignated as paragraph (b) and revised, a new paragraph (a) is added, and newly designated paragraph (c) is amended by adding a paragraph heading:

§ 410.26 Services and supplies incident to a physician's professional service: Conditions.

(a) Definitions. For purposes of this section, the following definitions apply:

(1) Auxiliary personnel means any individual who is acting under the supervision of a physician, regardless of whether the individual is an employee, leased employee, or independent contractor of the physician (or other practitioner) or of the same entity that employs or contracts with the physician (or other practitioner).

(2) Direct supervision means the level of supervision by the physician (or other practitioner) of auxiliary personnel as defined in § 410.32(b)(3)(ii).

(3) Independent contractor means an individual who performs part-time or full-time work for which the individual receives an IRS-1099 form.

(4) Leased employment means an employment relationship that is recognized by applicable State law and that is established by two employers by a contract such that one employer hires the services of an employee of the other employer.

(5) Noninstitutional setting means all settings other than a hospital or skilled nursing facility.

(6) Practitioner means a non-physician practitioner who is authorized by the Act to receive payment for services incident to his or her own services.

(7) Services and supplies means any service or supply (including any drug or biological that cannot be self-administered) that is included in section 1861(s)(2)(A) of the Act and is not specifically listed in the Act as a separate benefit included in the Medicare program.

(b) Medicare Part B pays for services and supplies incident to the service of a physician (or other practitioner).

(1) Services and supplies must be furnished in a noninstitutional setting to noninstitutional patients.

(2) Services and supplies must be an integral, though incidental, part of the service of a physician (or other practitioner) in the course of diagnosis or treatment of an injury or illness.

(3) Services and supplies must be commonly furnished without charge or included in the bill of a physician (or other practitioner).

(4) Services and supplies must be of a type that are commonly furnished in the office or clinic of a physician (or other practitioner).

(5) Services and supplies must be furnished under the supervision of the physician (or other practitioner).

(6) Services and supplies must be furnished by the physician, practitioner with an incident to benefit, or auxiliary personnel.

(7) A physician (or other practitioner) may be an employee or an independent contractor.

(c) Limitation. * * *

6. In § 410.37, paragraphs (d), (e)(2), and (g) are revised and paragraph (e)(3) is added to read as follows:

§ 410.37 Colorectal cancer screening tests: Conditions for and limitations on coverage.

* * * * *

(d) Condition for coverage of flexible sigmoidoscopy screening. Medicare Part B pays for a flexible sigmoidoscopy screening service if it is performed by a doctor of medicine or osteopathy (as defined in section 1861(r)(1) of the Act), or by a physician assistant, nurse practitioner, or clinical nurse specialist (as defined in section 1861(aa)(5) of the Act and §§ 410.74, 410.75, and 410.76) who is authorized under State law to perform the examination.

(e) Limitations on coverage of screening flexible sigmoidoscopies. * * *

(2) For an individual 50 years of age or over, except as described in paragraph (e)(3) of this section, payment may be made for screening flexible sigmoidoscopy after at least 47 months have passed following the month in which the last screening flexible sigmoidoscopy or, as provided in paragraphs (h) and (i) of this section, the last screening barium enema was performed.

(3) In the case of an individual who is not at high risk for colorectal cancer as described in paragraph (a)(3) of this section but who has had a screening colonoscopy performed, payment may be made for a screening flexible sigmoidosocopy only after at least 119 months have passed following the month in which the last screening colonoscopy was performed.

* * * * *

(g) Limitations on coverage of screening colonoscopies. (1) Effective for services furnished on or after January 1, 1998 through June 30, 2001, payment may not be made for a screening colonoscopy for an individual who is not at high risk for colorectal cancer as described in paragraph (a)(3) of this section.

(2) Effective for services furnished on or after July 1, 2001, except as described in paragraph (g)(4) of this section, payment may be made for a screening colonoscopy performed for an individual who is not at high risk for colorectal cancer as described in paragraph (a)(3) of this section, after at least 119 months have passed following the month in which the last screening colonoscopy was performed.

(3) Payment may be made for a screening colonoscopy performed for an individual who is at high risk for colorectal cancer as described in paragraph (a)(3) of this section, after at least 23 months have passed following the month in which the last screening colonoscopy was performed, or, as provided in paragraphs (h) and (i) of this section, the last screening barium enema was performed.

(4) In the case of an individual who is not at high risk for colorectal cancer as described in paragraph (a)(3) of this section but who has had a screening flexible sigmoidoscopy performed, payment may be made for a screening colonoscopy only after at least 47 months have passed following the month in which the last screening flexible sigmoidoscopy was performed.

* * * * *

7. Section 410.46 is added to read as follows:

§ 410.46 Physician and other practitioner services furnished in or at the direction of an IHS or Indian tribal hospital or clinic: Scope and conditions.

(a) Medicare Part B pays, in accordance with the physician fee schedule, for services furnished in or at the direction of a hospital or outpatient clinic (provider-based or free-standing) that is operated by the Indian Health Service (IHS) or by an Indian tribe or tribal organization (as those terms are defined in section 4 of the Indian Health Care Improvement Act). These services are subject to the same situations, terms, and conditions that would apply if the services were furnished in or at the direction of a hospital or clinic that is not operated by IHS or by an Indian tribe or tribal organization. Payments include health professional shortage areas incentive payments when the requirements for these incentive payments in § 414.42 of this chapter are met.

(b) Payment is not made under this section to the extent that Medicare otherwise pays for the same services under other provisions.

(c) Payment is made under these provisions for the following services:

(1) Services for which payment is made under the physician fee schedule in accordance with part 414 of this chapter.

(2) Services furnished by non-physician practitioners for which payment under Part B is made under the physician fee schedule.

(3) Services furnished by a physical therapist or occupational therapist, for which payment under Part B is made under the physician fee schedule.

(d) Payments under these provisions will be paid to the IHS or tribal hospital or clinic.

8. In § 410.56, paragraphs (b)(1), the introductory text of (b)(2), and (b)(3) are revised to read as follows:

§ 410.56 Screening pelvic examinations.

* * * * *

(b) * * *

(1) General rule. Except as specified in paragraphs (b)(2) and (b)(3) of this section, payment may be made for a pelvic examination performed on an asymptomatic woman only if the individual has not had a pelvic examination paid for by Medicare during the preceding 23 months following the month in which her last Medicare-covered screening pelvic examination was performed.

(2) More frequent screening based on high-risk factors. Subject to the limitation as specified in paragraph (b)(4) of this section, payment may be made for a screening pelvic examination performed more frequently than once every 24 months if the test is performed by a physician or other practitioner specified in paragraph (a) of this section, and there is evidence that the woman is at high risk (on the basis of her medical history or other findings) of developing cervical cancer or vaginal cancer, as determined in accordance with the following risk factors:

* * * * *

(3) More frequent screening for women of childbearing age. Subject to the limitation as specified in paragraph (b)(4) of this section, payment may be made for a screening pelvic examination performed more frequently than once every 24 months if the test is performed by a physician or other practitioner as specified in paragraph (a) of this section for a woman of childbearing age who has had an examination that indicated the presence of cervical or vaginal cancer or other abnormality during any of the preceding 3 years. The term “woman of childbearing age” means a woman who is premenopausal, and has been determined by a physician, or a qualified practitioner, as specified in paragraph (a) of this section, to be of childbearing age, based on her medical history or other findings.

* * * * *

9. Section 410.78 is revised to read as follows:

§ 410.78 Office and other outpatient visits, consultation, individual psychotherapy and pharmacologic management via an interactive telecommunications system.

(a) Definitions. For the purposes of this section the following definitions apply:

(1) Asynchronous store and forward technologies means the transmission of a patient's medical information from an originating site to the physician or practitioner at the distant site. The physician or practitioner at the distant site can review the medical case without the patient being present. An asynchronous telecommunications system in single media format does not include telephone calls, images transmitted via facsimile machines and text messages without visualization of the patient (electronic mail). Photographs visualized by a telecommunications system must be specific to the patient's medical condition and adequate for furnishing or confirming a diagnosis and or treatment plan. Dermatological photographs, for example, a photograph of a skin lesion, may be considered to meet the requirement of a single media format under this provision.

(2) Distant site means the site at which the physician or practitioner delivering the service is located at the time the service is provided via a telecommunications system.

(3) Interactive telecommunications system means multimedia communications equipment that includes, at a minimum, audio and video equipment permitting two-way, real-time interactive communication between the patient and distant site physician or practitioner. Telephones, facsimile machines, and electronic mail systems do not meet the definition of an interactive telecommunications system.

(4) Originating site means, for purposes of a consultation, office or other outpatient visit, individual psychotherapy, or pharmacologic management via an interactive telecommunications system, the location of an eligible Medicare beneficiary at the time the service being furnished via a telecommunications system occurs. For asynchronous store and forward telecommunications technologies, the only originating sites are Federal telemedicine demonstration programs conducted in Alaska or Hawaii.

(b) General rule. Medicare Part B pays for office and other outpatient visits, professional consultation, individual psychotherapy, and pharmacologic management furnished by means of an interactive telecommunications system if the following conditions are met:

(1) The physician or practitioner at the distant site must be licensed to provide the service under State law. When the physician or practitioner at the distant site is licensed under State law to provide a covered telehealth service (that is, professional consultations, office and other outpatient visits, individual psychotherapy, and pharmacologic management), he or she may bill for, and receive payment for, this service when delivered via a telecommunications system.

(2) The practitioner at the distant site is one of the following:

(i) A physician as described in § 410.20.

(ii) A physician assistant as described § 410.74.

(iii) A nurse practitioner as described in § 410.75.

(iv) A clinical nurse specialist as described in § 410.76.

(v) A nurse-midwife as described in § 410.77.

(vi) A clinical psychologist as described in § 410.71.

(vii) A clinical social worker as described in § 410.73.

(3) The services are furnished to a beneficiary at an originating site, which is one of the following:

(i) The office of a physician or practitioner.

(ii) A critical access hospital (as described in section 1861(mm)(1) of the Act).

(iii) A rural health clinic (as described in section 1861(aa)(2) of the Act).

(iv) A Federally qualified health center (as defined in section 1861(aa)(4) of the Act).

(v) A hospital (as defined in section 1861(e) of the Act).

(4) Originating sites must be located in either a rural health professional shortage area as defined under section 332(a)(1)(A) of the Public Health Service Act (42 U.S.C. 254e(a)(1)(A)) or in a county that is not included in a Metropolitan Statistical Area as defined in section 1886(d)(2)(D) of the Act. Entities participating in a Federal telemedicine demonstration project that have been approved by, or receive funding from, the Secretary as of December 31, 2000 qualify as an eligible originating site regardless of geographic location.

(5) The medical examination of the patient is under the control of the physician or practitioner at the distant site.

(c) Telepresenter not required. A telepresenter is not required as a condition of payment unless a telepresenter is medically necessary as determined by the physician or practitioner at the distant site.

(d) Exception to the interactive telecommunications system requirement. For Federal telemedicine demonstration programs conducted in Alaska or Hawaii only, Medicare payment is permitted for telehealth when asynchronous store and forward technologies, in single or multimedia formats, are used as a substitute for an interactive telecommunications system.

(e) Limitation. A clinical psychologist and a clinical social worker may bill and receive payment for individual psychotherapy via a telecommunications system, but may not seek payment for medical evaluation and management services.

10. A new subpart G is added to read as follows:

Subpart G—Medical Nutrition Therapy
Sec.
410.130 Definitions.
410.132 Medical nutrition therapy.
410.134 Provider qualifications.

Subpart G—Medical Nutrition Therapy

§ 410.130 Definitions.

For the purposes of this subpart, the following definitions apply:

Chronic renal insufficiency is defined as the stage of renal disease associated with a reduction in renal function not severe enough to require dialysis or transplantation (glomerular filtration rate [GFR] 13-50 ml/min/1.73m²).

Diabetes is diabetes mellitus consisting of two types. Type 1 is an autoimmune disease that destroys the beta cells of the pancreas, leading to insulin deficiency. Type 2 is familial hyperglycemia that occurs primarily in adults but can also occur in children and adolescents. The diagnostic criterion for a diagnosis of diabetes for a fasting glucose tolerance test is greater than or equal to 126 mg/dL.

Episode of care means a time period not exceeding 12 months, starting with the assessment and including all covered interventions based on a referral from a physician as specified in § 410.132(c).

Medical nutrition therapy services means nutritional diagnostic, therapy, and counseling services provided by a registered dietitian or nutrition professional for the purpose of managing diabetes or renal disease.

Physician means a doctor of medicine or osteopathy legally authorized to practice medicine and surgery by the State in which he or she performs such function or action (including a physician within the meaning of section of 1101(a)(7) of the Act).

Renal disease means chronic renal insufficiency and the medical condition of a beneficiary who has been discharged from the hospital within the last six months after a successful renal transplant.

§ 410.132 Medical nutrition therapy.

(a) Conditions for coverage of medical nutrition therapy services. Medicare Part B pays for medical nutrition therapy services provided by a registered dietitian or nutrition professional as defined in § 410.134 when the beneficiary is referred for the service by the treating physician. Services covered consist of nutritional assessment, interventions, and reassessment and follow-up interventions in accordance with nationally accepted dietary or nutritional protocols.

(b) Limitations on coverage of medical nutrition therapy services.

(1) Medical nutrition therapy services are not covered for beneficiaries receiving maintenance dialysis for which payment is made under section 1881 of the Act.

(2) If a beneficiary has both diabetes and renal disease, the beneficiary may receive both MNT and DSMT, but coverage is limited to the number of hours the beneficiary would receive under either the MNT benefit or the DSMT benefit for the episode of care, whichever is greater.

(3) Medical nutrition therapy is only covered if the beneficiary has not started initial training under the diabetes self-management training benefit as described in § 410.141 within the 12 months previous to initial referral for MNT, unless—

(i) The need for a reassessment and additional therapy has been documented by the referring physician as a result of a change in diagnosis or medical condition; or

(ii) The beneficiary is diagnosed with both diabetes and renal disease.

(4) If a beneficiary diagnosed with diabetes has been referred for both follow-up diabetes self-management training services and medical nutrition therapy, the number of hours the beneficiary may receive is limited to the number of hours under either follow-up diabetes self-management training services or medical nutrition therapy for any 12 month period.

(c) Referrals. Referral may only be made by the treating physician when the beneficiary has been diagnosed with diabetes or renal disease as defined in this subpart with documentation maintained by the referring physician in the beneficiary's medical record. Referrals must be made for each episode of care and any reassessments or follow-up interventions during an episode of care.

(d) Reassessments and follow-up interventions. Reassessments and follow-up interventions are only covered within an episode of care when the referring physician determines there is a change of diagnosis or medical condition within such episode of care that makes a change in diet necessary.

§ 410.134 Provider qualifications.

For Medicare Part B coverage of medical nutrition therapy, only a registered dietitian or nutrition professional may provide the services. “Registered dietitian or nutrition professional” means an individual who on or after December 22, 2000—

(a) Holds a bachelor's or higher degree granted by a regionally accredited college or university in the United States (or an equivalent foreign degree) with completion of the academic requirements of a program in nutrition or dietetics, as accredited by an appropriate national accreditation organization recognized for this purpose;

(b) Has completed at least 900 hours of supervised dietetics practice under the supervision of a registered dietitian or nutrition professional; and

(c) Is licensed or certified as a dietitian or nutrition professional by the State in which the services are performed. In a State that does not provide for licensure or certification, the individual will be deemed to have met this requirement if he or she is recognized as a “registered dietitian” by the Commission on Dietetic Registration or its successor organization, or meets the requirements of paragraphs (a) and (b) of this section; or a dietitian or nutritionist licensed or certified in a State as of December 21, 2000.

PART 411—EXCLUSIONS FROM MEDICARE AND LIMITATIONS ON MEDICARE PAYMENT

1. The authority citation for part 411 continues to read as follows:

Authority: Secs. 1102 and 1871 of the Social Security Act (42 U.S.C. 1302 and 1395hh).

2. In § 411.15, paragraph (a)(1) is revised, and a new paragraph (k)(10) is added to read as follows:

§ 411.15 Particular services excluded from coverage.

* * * * *

(a) * * *

(1) Examinations performed for a purpose other than treatment or diagnosis of a specific illness, symptoms, complaint, or injury, except for screening mammography, colorectal cancer screening tests, screening pelvic examinations, prostate cancer screening tests, or glaucoma screening exams that meet the criteria specified in paragraphs (k)(6) through (k)(10) of this section.

* * * * *

(k) * * *

(10) In the case of screening exams for glaucoma, for the purpose of early detection of glaucoma, subject to the conditions and limitations specified in § 410.23 of this chapter.

* * * * *

PART 414—PAYMENT FOR PART B MEDICAL AND OTHER HEALTH SERVICES

1. The authority citation for part 414 continues to read as follows:

Authority: Secs. 1102, 1871, and 1881(b)(1) of the Social Security Act (42 U.S.C. 1302, 1395hh, and 1395rr(b)(1)).

2. In 414.2, the definition of “Physician services” is amended by adding a new paragraph (8) to read as follows:

§ 414.2 Definitions.

* * * * *

Physician Services * * *

(8) Screening mammography services.

* * * * *

3. A new § 414.64 is added to read as follows:

§ 414.64 Payment for medical nutrition therapy.

(a) Payment under the physician fee schedule. Medicare payment for medical nutrition therapy is made under the physician fee schedule in accordance with subpart B of this part.

(b) To whom payment may be made. Payment may be made to a supplier (registered dietitian or nutrition professional) approved by CMS to furnish medical nutrition therapy in accordance with part 410, subpart G of this chapter.

(c) Effective date of payment. Medicare pays suppliers of medical nutrition therapy on or after the effective date of enrollment of the supplier at the carrier.

(d) Limitation on payment. Payment is made only for nutritional therapy sessions actually attended by the beneficiary and documented for payment purposes.

(e) Other conditions for fee-for-service payment. Payment is made only if the beneficiary:

(1) Is not an inpatient of a hospital, SNF, nursing home, or hospice.

(2) Is not receiving services in an RHC, FQHC or ESRD dialysis facility.

4. Section 414.65 is revised to read as follows:

§ 414.65 Payment for office or other outpatient visits, consultation, individual psychotherapy, and pharmacologic management via interactive telecommunications systems.

(a) Professional service. Medicare payment for the professional service via an interactive telecommunications system is made according to the following limitations:

(1) The Medicare payment amount for office or other outpatient visits, consultation, individual psychotherapy, and pharmacologic management via an interactive telecommunications system is equal to the current fee schedule amount applicable to services of the physician or practitioner.

(2) Only the physician or practitioner at the distant site may bill and receive payment for the professional service via an interactive telecommunications system.

(3) Payments made to the physician or practitioner at the distant site, including deductible and coinsurance, for the professional service may not be shared with the referring practitioner or telepresenter.

(b) Originating site facility fee. For office or other outpatient visits, consultation, individual psychotherapy, or pharmacologic management services delivered via an interactive telecommunications system furnished on or after October 1, 2001.

(1) Payment amount. For services furnished on or after October 1, 2001 through December 31, 2002, the payment amount to the originating site is the lesser of the actual charge or the originating site facility fee of $20. For services furnished on or after January 1 of each subsequent year, the facility fee for the originating site will be updated by the Medicare Economic Index (MEI) as defined in section 1842(i)(3) of the Act.

(2) Who may bill for the originating site facility fee. Only the originating site may bill for the originating site facility fee and only on an assignment-related basis. The distant site physician or practitioner may not bill for or receive payment for facility fees associated with the professional service furnished via an interactive telecommunications system.

(c) Deductible and coinsurance apply. The payment for the professional service and originating site facility fee is subject to the coinsurance and deductible requirements of sections 1833(a)(1) and (b) of the Act.

(d) Sanctions. A distant site practitioner or originating site facility may be subject to the applicable sanctions provided for in chapter IV, part 402 and chapter V, parts 1001, 1002, and 1003 of this title if he or she does any of the following:

(1) Knowingly and willfully bills or collects for services in violation of the limitation of this section.

(2) Fails to timely correct excess charges by reducing the actual charge billed for the service in an amount that does not exceed the limiting charge for the service or fails to timely refund excess collections.

(3) Fails to submit a claim on a standard form for services provided for which payment is made on a fee schedule basis; or

(4) Imposes a charge for completing and submitting the standard claims form.

PART 415—SERVICES FURNISHED BY PHYSICIANS IN PROVIDERS, SUPERVISING PHYSICIANS IN TEACHING SETTINGS, AND RESIDENTS IN CERTAIN SETTINGS

1. The authority citation for part 415 continues to read as follows:

Authority: Secs. 1102 and 1871 of the Social Security Act (42 U.S.C. 1302 and 1395hh).

2. Section 415.130 is amended by:

A. Redesignating paragraphs (a), (b), and (c) as paragraphs (b), (c), and (d).

B. Adding a new paragraph (a).

C. Amending newly designated paragraph (b)(3) by removing the reference “paragraph (b)” and adding “paragraph (c)” in its place.

D. Amending newly designated paragraph (b)(4) by removing the reference “paragraphs (b)(1), (b)(3), and (b)(4)” and adding “paragraphs (c)(1), (c)(3), and (c)(4)” in their place.

E. Revising newly designated paragraph (d).

§ 415.130 Conditions for payment: Physician pathology services.

(a) Definitions. The following definitions are used in this section.

(1) Covered hospital means, with respect to an inpatient or an outpatient, a hospital that had an arrangement with an independent laboratory that was in effect as of July 22, 1999, under which a laboratory furnished the technical component of physician pathology services to fee-for-service Medicare beneficiaries who were hospital inpatients or outpatients, and submitted claims for payment for this technical component to a Medicare carrier and not to the hospital.

(2) Fee-for-service Medicare beneficiaries means those beneficiaries who are entitled to benefits under Part A or are enrolled under Part B of Title XVIII of the Act or both and are not enrolled in any of the following:

(i) A Medicare+Choice plan under Part C of Title XVIII of the Act.

(ii) A plan offered by an eligible organization under section 1876 of the Act;

(iii) A program of all-inclusive care for the elderly (PACE) under 1894 of the Act; or

(iv) A social health maintenance organization (SHMO) demonstration project established under section 4018(b) of the Omnibus Budget Reconciliation Act of 1987.

* * * * *

(d) Physician pathology services furnished by an independent laboratory. The technical component of physician pathology services furnished by an independent laboratory to a hospital inpatient or outpatient before January 1, 2001 may be paid on a fee schedule basis. After December 31, 2001 but before January 1, 2003, if an independent laboratory furnishes the technical component of a physician pathology service to a fee-for-service Medicare beneficiary who is an inpatient or outpatient of a covered hospital, the carrier will treat the technical component as a service for which payment will be made to the laboratory under the physician fee schedule. The service will not be treated as an inpatient hospital service for which payment is made to the hospital under section 1886(d) of the Act or as an outpatient hospital service for which payment is made to the hospital under section 1833(t) of the Act. After December 31, 2002, the technical component for physician pathology services furnished by an independent laboratory to a hospital inpatient or outpatient is paid only to the hospital.

(Catalog of Federal Domestic Assistance Program No. 93.774, Medicare—Supplementary Medical Insurance Program)
Dated: June 19, 2001.
Thomas A. Scully,
Administrator, Health Care Financing Administration.
Approved: July 12, 2001.
Tommy G. Thompson,
Secretary.

Note: These addenda will not appear in the Code of Federal Regulations.

Addendum A—Explanation and Use of Addenda B

The addenda on the following pages provide various data pertaining to the Medicare fee schedule for physicians' services furnished in 2002. Addendum B contains the RVUs for work, non-facility practice expense, facility practice expense, and malpractice expense, and other information for all services included in the physician fee schedule.

Addendum B—2002 Relative Value Units and Related Information Used in Determining Medicare Payments for 2002

This addendum contains the following information for each CPT code and alphanumeric HCPCS code, except for alphanumeric codes beginning with B (enteral and parenteral therapy), E (durable medical equipment), K (temporary codes for nonphysicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier -26) for the service. If there is a PC and a TC for the service, Addendum B contains three entries for the code: One for the global values (both professional and technical); one for modifier -26 (PC); and one for modifier TC. The global service is not designated by a modifier, and physicians must bill using the code without a modifier if the physician furnishes both the PC and the TC of the service.

Modifier -53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

G = Code not valid for Medicare purposes. Medicare does not recognize codes assigned this status. Medicare uses another code for reporting of, and payment for, these services.

N = Noncovered service. These codes are noncovered services. Medicare payment may not be made for these codes. If RVUs are shown, they are not used for Medicare payment.

P = Bundled or excluded code. There are no RVUs for these services. No separate payment should be made for them under the physician fee schedule.

—If the item or service is covered as incident to a physician's service and is furnished on the same day as a physician's service, payment for it is bundled into the payment for the physician's service to which it is incident (an example is an elastic bandage furnished by a physician incident to a physician's service).

—If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians” services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2000. Codes that are not used for Medicare payment are identified with a “+.”

6. Facility practice expense RVUs. These are the fully implemented resource-based practice expense RVUs for facility settings.

7. Non-facility practice expense RVUs. These are the fully implemented resource-based practice expense RVUs for non-facility settings.

8. Malpractice expense RVUs. These are the RVUs for the malpractice expense for the service for 2000.

9. Facility total. This is the sum of the work, fully implemented facility practice expense, and malpractice expense RVUs.

10. Non-facility total. This is the sum of the work, fully implemented non-facility practice expense, and malpractice expense RVUs.

11. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = The code is part of another service and falls within the global period for the other service.

——————————

¹ CPT codes and descriptions only are copyright 2001 American Medical Association. All Rights Reserved. Applicable FARS/DFARS Apply.

² Copyright 1994 American Dental Association. All rights reserved.

³ + Indicates RVUs are not used for Medicare payments.

⁴ PE RVUs = Practice Expense Relative Value Units.

Addendum B.—Relative Value Units (RVUs) and Related Information
CPT ¹/HCPCS ² | MOD | Status | Description | Physician Work RVUs ³ | Facility PE RVUs | Non- Facility PE RVUs | Mal- Practice RVUs | Facility Total | Non- Facility Total | Global
10040 |  | A | Acne surgery of skin abscess | 1.18 | 0.52 | 1.63 | 0.05 | 1.75 | 2.86 | 010
10060 |  | A | Drainage of skin abscess | 1.17 | 0.66 | 1.35 | 0.08 | 1.91 | 2.60 | 010
10061 |  | A | Drainage of skin abscess | 2.40 | 1.15 | 2.07 | 0.17 | 3.72 | 4.64 | 010
10080 |  | A | Drainage of pilonidal cyst | 1.17 | 0.71 | 2.11 | 0.09 | 1.97 | 3.37 | 010
10081 |  | A | Drainage of pilonidal cyst | 2.45 | 1.55 | 2.89 | 0.19 | 4.19 | 5.53 | 010
10120 |  | A | Remove foreign body | 1.22 | 0.73 | 1.83 | 0.10 | 2.05 | 3.15 | 010
10121 |  | A | Remove foreign body | 2.69 | 1.77 | 2.83 | 0.25 | 4.71 | 5.77 | 010
10140 |  | A | Drainage of hematoma/fluid | 1.53 | 0.87 | 1.42 | 0.15 | 2.55 | 3.10 | 010
10160 |  | A | Puncture drainage of lesion | 1.20 | 0.77 | 1.56 | 0.11 | 2.08 | 2.87 | 010
10180 |  | A | Complex drainage, wound | 2.25 | 1.25 | 1.51 | 0.25 | 3.75 | 4.01 | 010
11000 |  | A | Debride infected skin | 0.60 | 0.24 | 0.58 | 0.05 | 0.89 | 1.23 | 000
11001 |  | A | Debride infected skin add-on | 0.30 | 0.11 | 0.34 | 0.02 | 0.43 | 0.66 | ZZZ
11010 |  | A | Debride skin, fx | 4.20 | 2.00 | 2.51 | 0.45 | 6.65 | 7.16 | 010
11011 |  | A | Debride skin/muscle, fx | 4.95 | 2.59 | 3.87 | 0.53 | 8.07 | 9.35 | 000
11012 |  | A | Debride skin/muscle/bone, fx | 6.88 | 4.21 | 5.67 | 0.89 | 11.98 | 13.44 | 000
11040 |  | A | Debride skin, partial | 0.50 | 0.21 | 0.50 | 0.05 | 0.76 | 1.05 | 000
11041 |  | A | Debride skin, full | 0.82 | 0.34 | 0.67 | 0.08 | 1.24 | 1.57 | 000
11042 |  | A | Debride skin/tissue | 1.12 | 0.46 | 0.95 | 0.11 | 1.69 | 2.18 | 000
11043 |  | A | Debride tissue/muscle | 2.38 | 1.38 | 2.60 | 0.24 | 4.00 | 5.22 | 010
11044 |  | A | Debride tissue/muscle/bone | 3.06 | 1.80 | 3.11 | 0.34 | 5.20 | 6.51 | 010
11055 |  | R | Trim skin lesion | 0.27 | 0.12 | 0.38 | 0.02 | 0.41 | 0.67 | 000
11056 |  | R | Trim skin lesion, 2 to 4 | 0.39 | 0.17 | 0.42 | 0.03 | 0.59 | 0.84 | 000
11057 |  | R | Trim skin lesions, over 4 | 0.50 | 0.22 | 0.46 | 0.04 | 0.76 | 1.00 | 000
11100 |  | A | Biopsy of skin lesion | 0.81 | 0.38 | 1.49 | 0.04 | 1.23 | 2.34 | 000
11101 |  | A | Biopsy, skin add-on | 0.41 | 0.20 | 0.70 | 0.02 | 0.63 | 1.13 | ZZZ
11200 |  | A | Removal of skin tags | 0.77 | 0.31 | 1.17 | 0.04 | 1.12 | 1.98 | 010
11201 |  | A | Remove skin tags add-on | 0.29 | 0.12 | 0.52 | 0.02 | 0.43 | 0.83 | ZZZ
11300 |  | A | Shave skin lesion | 0.51 | 0.22 | 1.02 | 0.03 | 0.76 | 1.56 | 000
11301 |  | A | Shave skin lesion | 0.85 | 0.38 | 1.11 | 0.04 | 1.27 | 2.00 | 000
11302 |  | A | Shave skin lesion | 1.05 | 0.48 | 1.21 | 0.05 | 1.58 | 2.31 | 000
11303 |  | A | Shave skin lesion | 1.24 | 0.54 | 1.34 | 0.06 | 1.84 | 2.64 | 000
11305 |  | A | Shave skin lesion | 0.67 | 0.29 | 0.81 | 0.04 | 1.00 | 1.52 | 000
11306 |  | A | Shave skin lesion | 0.99 | 0.43 | 1.06 | 0.05 | 1.47 | 2.10 | 000
11307 |  | A | Shave skin lesion | 1.14 | 0.51 | 1.18 | 0.05 | 1.70 | 2.37 | 000
11308 |  | A | Shave skin lesion | 1.41 | 0.63 | 1.27 | 0.07 | 2.11 | 2.75 | 000
11310 |  | A | Shave skin lesion | 0.73 | 0.33 | 1.12 | 0.04 | 1.10 | 1.89 | 000
11311 |  | A | Shave skin lesion | 1.05 | 0.50 | 1.23 | 0.05 | 1.60 | 2.33 | 000
11312 |  | A | Shave skin lesion | 1.20 | 0.57 | 1.30 | 0.06 | 1.83 | 2.56 | 000
11313 |  | A | Shave skin lesion | 1.62 | 0.75 | 1.58 | 0.09 | 2.46 | 3.29 | 000
11400 |  | A | Removal of skin lesion | 0.91 | 0.73 | 2.42 | 0.06 | 1.70 | 3.39 | 010
11401 |  | A | Removal of skin lesion | 1.32 | 0.88 | 2.43 | 0.09 | 2.29 | 3.84 | 010
11402 |  | A | Removal of skin lesion | 1.61 | 0.96 | 2.52 | 0.12 | 2.69 | 4.25 | 010
11403 |  | A | Removal of skin lesion | 1.92 | 1.07 | 2.76 | 0.16 | 3.15 | 4.84 | 010
11404 |  | A | Removal of skin lesion | 2.20 | 1.17 | 2.92 | 0.18 | 3.55 | 5.30 | 010
11406 |  | A | Removal of skin lesion | 2.76 | 1.38 | 3.20 | 0.25 | 4.39 | 6.21 | 010
11420 |  | A | Removal of skin lesion | 1.06 | 0.77 | 2.03 | 0.08 | 1.91 | 3.17 | 010
11421 |  | A | Removal of skin lesion | 1.53 | 0.99 | 2.36 | 0.11 | 2.63 | 4.00 | 010
11422 |  | A | Removal of skin lesion | 1.76 | 1.06 | 2.51 | 0.14 | 2.96 | 4.41 | 010
11423 |  | A | Removal of skin lesion | 2.17 | 1.22 | 2.94 | 0.17 | 3.56 | 5.28 | 010
11424 |  | A | Removal of skin lesion | 2.62 | 1.41 | 3.09 | 0.21 | 4.24 | 5.92 | 010
11426 |  | A | Removal of skin lesion | 3.78 | 1.85 | 3.74 | 0.34 | 5.97 | 7.86 | 010
11440 |  | A | Removal of skin lesion | 1.15 | 0.92 | 2.54 | 0.08 | 2.15 | 3.77 | 010
11441 |  | A | Removal of skin lesion | 1.61 | 1.16 | 2.70 | 0.11 | 2.88 | 4.42 | 010
11442 |  | A | Removal of skin lesion | 1.87 | 1.25 | 2.77 | 0.14 | 3.26 | 4.78 | 010
11443 |  | A | Removal of skin lesion | 2.49 | 1.59 | 3.32 | 0.18 | 4.26 | 5.99 | 010
11444 |  | A | Removal of skin lesion | 3.42 | 2.00 | 3.74 | 0.25 | 5.67 | 7.41 | 010
11446 |  | A | Removal of skin lesion | 4.49 | 2.49 | 4.18 | 0.30 | 7.28 | 8.97 | 010
11450 |  | A | Removal, sweat gland lesion | 2.73 | 1.05 | 4.02 | 0.26 | 4.04 | 7.01 | 090
11451 |  | A | Removal, sweat gland lesion | 3.95 | 1.59 | 4.83 | 0.39 | 5.93 | 9.17 | 090
11462 |  | A | Removal, sweat gland lesion | 2.51 | 0.98 | 4.14 | 0.23 | 3.72 | 6.88 | 090
11463 |  | A | Removal, sweat gland lesion | 3.95 | 1.62 | 5.63 | 0.40 | 5.97 | 9.98 | 090
11470 |  | A | Removal, sweat gland lesion | 3.25 | 1.28 | 4.41 | 0.30 | 4.83 | 7.96 | 090
11471 |  | A | Removal, sweat gland lesion | 4.41 | 1.77 | 5.42 | 0.40 | 6.58 | 10.23 | 090
11600 |  | A | Removal of skin lesion | 1.41 | 0.94 | 2.57 | 0.09 | 2.44 | 4.07 | 010
11601 |  | A | Removal of skin lesion | 1.93 | 1.08 | 2.63 | 0.12 | 3.13 | 4.68 | 010
11602 |  | A | Removal of skin lesion | 2.09 | 1.32 | 2.69 | 0.13 | 3.54 | 4.91 | 010
11603 |  | A | Removal of skin lesion | 2.35 | 1.39 | 2.88 | 0.16 | 3.90 | 5.39 | 010
11604 |  | A | Removal of skin lesion | 2.58 | 1.46 | 3.07 | 0.18 | 4.22 | 5.83 | 010
11606 |  | A | Removal of skin lesion | 3.43 | 1.75 | 3.63 | 0.28 | 5.46 | 7.34 | 010
11620 |  | A | Removal of skin lesion | 1.34 | 0.89 | 2.53 | 0.09 | 2.32 | 3.96 | 010
11621 |  | A | Removal of skin lesion | 1.97 | 1.35 | 2.67 | 0.12 | 3.44 | 4.76 | 010
11622 |  | A | Removal of skin lesion | 2.34 | 1.50 | 2.84 | 0.15 | 3.99 | 5.33 | 010
11623 |  | A | Removal of skin lesion | 2.93 | 1.71 | 2.79 | 0.20 | 4.84 | 5.92 | 010
11624 |  | A | Removal of skin lesion | 3.43 | 1.93 | 3.16 | 0.25 | 5.61 | 6.84 | 010
11626 |  | A | Removal of skin lesion | 4.30 | 2.34 | 4.18 | 0.35 | 6.99 | 8.83 | 010
11640 |  | A | Removal of skin lesion | 1.53 | 1.11 | 2.62 | 0.10 | 2.74 | 4.25 | 010
11641 |  | A | Removal of skin lesion | 2.44 | 1.66 | 2.96 | 0.15 | 4.25 | 5.55 | 010
11642 |  | A | Removal of skin lesion | 2.93 | 1.88 | 2.89 | 0.18 | 4.99 | 6.00 | 010
11643 |  | A | Removal of skin lesion | 3.50 | 2.17 | 3.25 | 0.24 | 5.91 | 6.99 | 010
11644 |  | A | Removal of skin lesion | 4.55 | 2.68 | 3.91 | 0.33 | 7.56 | 8.79 | 010
11646 |  | A | Removal of skin lesion | 5.95 | 3.38 | 5.19 | 0.46 | 9.79 | 11.60 | 010
11719 |  | R | Trim nail(s) | 0.11 | 0.07 | 0.54 | 0.01 | 0.19 | 0.66 | 000
11720 |  | A | Debride nail, 1-5 | 0.32 | 0.13 | 0.42 | 0.02 | 0.47 | 0.76 | 000
11721 |  | A | Debride nail, 6 or more | 0.54 | 0.22 | 0.53 | 0.04 | 0.80 | 1.11 | 000
11730 |  | A | Removal of nail plate | 1.13 | 0.46 | 0.74 | 0.09 | 1.68 | 1.96 | 000
11732 |  | A | Remove nail plate, add-on | 0.57 | 0.24 | 0.29 | 0.05 | 0.86 | 0.91 | ZZZ
11740 |  | A | Drain blood from under nail | 0.37 | 0.14 | 0.68 | 0.03 | 0.54 | 1.08 | 000
11750 |  | A | Removal of nail bed | 1.86 | 0.79 | 1.55 | 0.16 | 2.81 | 3.57 | 010
11752 |  | A | Remove nail bed/finger tip | 2.67 | 1.75 | 1.99 | 0.33 | 4.75 | 4.99 | 010
11755 |  | A | Biopsy, nail unit | 1.31 | 0.59 | 1.03 | 0.06 | 1.96 | 2.40 | 000
11760 |  | A | Repair of nail bed | 1.58 | 1.19 | 1.70 | 0.17 | 2.94 | 3.45 | 010
11762 |  | A | Reconstruction of nail bed | 2.89 | 1.87 | 2.15 | 0.32 | 5.08 | 5.36 | 010
11765 |  | A | Excision of nail fold, toe | 0.69 | 0.45 | 0.97 | 0.05 | 1.19 | 1.71 | 010
11770 |  | A | Removal of pilonidal lesion | 2.61 | 1.26 | 2.97 | 0.24 | 4.11 | 5.82 | 010
11771 |  | A | Removal of pilonidal lesion | 5.74 | 3.92 | 5.34 | 0.56 | 10.22 | 11.64 | 090
11772 |  | A | Removal of pilonidal lesion | 6.98 | 4.36 | 6.12 | 0.68 | 12.02 | 13.78 | 090
11900 |  | A | Injection into skin lesions | 0.52 | 0.23 | 0.76 | 0.02 | 0.77 | 1.30 | 000
11901 |  | A | Added skin lesions injection | 0.80 | 0.37 | 0.89 | 0.03 | 1.20 | 1.72 | 000
11920 |  | R | Correct skin color defects | 1.61 | 0.83 | 2.24 | 0.17 | 2.61 | 4.02 | 000
11921 |  | R | Correct skin color defects | 1.93 | 1.04 | 2.63 | 0.21 | 3.18 | 4.77 | 000
11922 |  | R | Correct skin color defects | 0.49 | 0.26 | 0.39 | 0.05 | 0.80 | 0.93 | ZZZ
11950 |  | R | Therapy for contour defects | 0.84 | 0.47 | 1.28 | 0.06 | 1.37 | 2.18 | 000
11951 |  | R | Therapy for contour defects | 1.19 | 0.54 | 1.71 | 0.10 | 1.83 | 3.00 | 000
11952 |  | R | Therapy for contour defects | 1.69 | 0.89 | 2.15 | 0.17 | 2.75 | 4.01 | 000
11954 |  | R | Therapy for contour defects | 1.85 | 0.94 | 2.85 | 0.19 | 2.98 | 4.89 | 000
11960 |  | A | Insert tissue expander(s) | 9.08 | 10.76 | NA | 0.88 | 20.72 | NA | 090
11970 |  | A | Replace tissue expander | 7.06 | 5.06 | NA | 0.77 | 12.89 | NA | 090
11971 |  | A | Remove tissue expander(s) | 2.13 | 3.86 | 6.15 | 0.21 | 6.20 | 8.49 | 090
11975 |  | N | Insert contraceptive cap | +1.48 | 0.59 | 1.54 | 0.14 | 2.21 | 3.16 | XXX
11976 |  | R | Removal of contraceptive cap | 1.78 | 0.77 | 1.58 | 0.17 | 2.72 | 3.53 | XXX
11977 |  | N | Removal/reinsert contra cap | +3.30 | 1.30 | 2.25 | 0.31 | 4.91 | 5.86 | XXX
11980 |  | A | Implant hormone pellet(s) | 1.48 | 0.63 | 1.13 | 0.10 | 2.21 | 2.71 | 000
12001 |  | A | Repair superficial wound(s) | 1.70 | 0.83 | 2.31 | 0.13 | 2.66 | 4.14 | 010
12002 |  | A | Repair superficial wound(s) | 1.86 | 0.86 | 2.41 | 0.15 | 2.87 | 4.42 | 010
12004 |  | A | Repair superficial wound(s) | 2.24 | 0.98 | 2.59 | 0.17 | 3.39 | 5.00 | 010
12005 |  | A | Repair superficial wound(s) | 2.86 | 1.23 | 3.05 | 0.23 | 4.32 | 6.14 | 010
12006 |  | A | Repair superficial wound(s) | 3.67 | 1.92 | 4.15 | 0.31 | 5.90 | 8.13 | 010
12007 |  | A | Repair superficial wound(s) | 4.12 | 2.24 | 4.63 | 0.37 | 6.73 | 9.12 | 010
12011 |  | A | Repair superficial wound(s) | 1.76 | 0.83 | 2.37 | 0.14 | 2.73 | 4.27 | 010
12013 |  | A | Repair superficial wound(s) | 1.99 | 0.89 | 2.53 | 0.16 | 3.04 | 4.68 | 010
12014 |  | A | Repair superficial wound(s) | 2.46 | 1.06 | 2.83 | 0.18 | 3.70 | 5.47 | 010
12015 |  | A | Repair superficial wound(s) | 3.19 | 1.26 | 3.26 | 0.24 | 4.69 | 6.69 | 010
12016 |  | A | Repair superficial wound(s) | 3.93 | 1.50 | 3.79 | 0.32 | 5.75 | 8.04 | 010
12017 |  | A | Repair superficial wound(s) | 4.71 | 2.44 | 5.41 | 0.39 | 7.54 | 10.51 | 010
12018 |  | A | Repair superficial wound(s) | 5.53 | 2.69 | 6.31 | 0.46 | 8.68 | 12.30 | 010
12020 |  | A | Closure of split wound | 2.62 | 1.45 | 2.60 | 0.24 | 4.31 | 5.46 | 010
12021 |  | A | Closure of split wound | 1.84 | 1.12 | 2.11 | 0.19 | 3.15 | 4.14 | 010
12031 |  | A | Layer closure of wound(s) | 2.15 | 1.19 | 2.74 | 0.15 | 3.49 | 5.04 | 010
12032 |  | A | Layer closure of wound(s) | 2.47 | 1.27 | 2.80 | 0.15 | 3.89 | 5.42 | 010
12034 |  | A | Layer closure of wound(s) | 2.92 | 1.44 | 3.06 | 0.21 | 4.57 | 6.19 | 010
12035 |  | A | Layer closure of wound(s) | 3.43 | 1.65 | 3.03 | 0.30 | 5.38 | 6.76 | 010
12036 |  | A | Layer closure of wound(s) | 4.05 | 2.47 | 5.20 | 0.41 | 6.93 | 9.66 | 010
12037 |  | A | Layer closure of wound(s) | 4.67 | 2.82 | 5.61 | 0.49 | 7.98 | 10.77 | 010
12041 |  | A | Layer closure of wound(s) | 2.37 | 1.26 | 3.03 | 0.17 | 3.80 | 5.57 | 010
12042 |  | A | Layer closure of wound(s) | 2.74 | 1.41 | 3.01 | 0.17 | 4.32 | 5.92 | 010
12044 |  | A | Layer closure of wound(s) | 3.14 | 1.61 | 3.17 | 0.24 | 4.99 | 6.55 | 010
12045 |  | A | Layer closure of wound(s) | 3.64 | 1.84 | 3.58 | 0.34 | 5.82 | 7.56 | 010
12046 |  | A | Layer closure of wound(s) | 4.25 | 2.53 | 5.31 | 0.40 | 7.18 | 9.96 | 010
12047 |  | A | Layer closure of wound(s) | 4.65 | 2.90 | 5.94 | 0.41 | 7.96 | 11.00 | 010
12051 |  | A | Layer closure of wound(s) | 2.47 | 1.41 | 3.00 | 0.16 | 4.04 | 5.63 | 010
12052 |  | A | Layer closure of wound(s) | 2.77 | 1.37 | 2.97 | 0.17 | 4.31 | 5.91 | 010
12053 |  | A | Layer closure of wound(s) | 3.12 | 1.51 | 3.11 | 0.20 | 4.83 | 6.43 | 010
12054 |  | A | Layer closure of wound(s) | 3.46 | 1.63 | 3.43 | 0.25 | 5.34 | 7.14 | 010
12055 |  | A | Layer closure of wound(s) | 4.43 | 2.14 | 4.67 | 0.35 | 6.92 | 9.45 | 010
12056 |  | A | Layer closure of wound(s) | 5.24 | 2.86 | 6.76 | 0.43 | 8.53 | 12.43 | 010
12057 |  | A | Layer closure of wound(s) | 5.96 | 3.88 | 6.67 | 0.50 | 10.34 | 13.13 | 010
13100 |  | A | Repair of wound or lesion | 3.12 | 1.85 | 3.38 | 0.21 | 5.18 | 6.71 | 010
13101 |  | A | Repair of wound or lesion | 3.92 | 2.31 | 3.61 | 0.22 | 6.45 | 7.75 | 010
13102 |  | A | Repair wound/lesion add-on | 1.24 | 0.58 | 0.74 | 0.10 | 1.92 | 2.08 | ZZZ
13120 |  | A | Repair of wound or lesion | 3.30 | 1.92 | 3.49 | 0.23 | 5.45 | 7.02 | 010
13121 |  | A | Repair of wound or lesion | 4.33 | 2.40 | 3.82 | 0.25 | 6.98 | 8.40 | 010
13122 |  | A | Repair wound/lesion add-on | 1.44 | 0.67 | 0.86 | 0.12 | 2.23 | 2.42 | ZZZ
13131 |  | A | Repair of wound or lesion | 3.79 | 2.22 | 3.73 | 0.25 | 6.26 | 7.77 | 010
13132 |  | A | Repair of wound or lesion | 5.95 | 3.28 | 4.56 | 0.32 | 9.55 | 10.83 | 010
13133 |  | A | Repair wound/lesion add-on | 2.19 | 1.02 | 1.21 | 0.17 | 3.38 | 3.57 | ZZZ
13150 |  | A | Repair of wound or lesion | 3.81 | 2.68 | 5.27 | 0.29 | 6.78 | 9.37 | 010
13151 |  | A | Repair of wound or lesion | 4.45 | 3.13 | 5.18 | 0.28 | 7.86 | 9.91 | 010
13152 |  | A | Repair of wound or lesion | 6.33 | 4.03 | 5.89 | 0.38 | 10.74 | 12.60 | 010
13153 |  | A | Repair wound/lesion add-on | 2.38 | 1.11 | 1.34 | 0.18 | 3.67 | 3.90 | ZZZ
13160 |  | A | Late closure of wound | 10.48 | 6.24 | NA | 1.19 | 17.91 | NA | 090
14000 |  | A | Skin tissue rearrangement | 5.89 | 4.63 | 7.50 | 0.46 | 10.98 | 13.85 | 090
14001 |  | A | Skin tissue rearrangement | 8.47 | 5.99 | 8.93 | 0.65 | 15.11 | 18.05 | 090
14020 |  | A | Skin tissue rearrangement | 6.59 | 5.36 | 8.11 | 0.50 | 12.45 | 15.20 | 090
14021 |  | A | Skin tissue rearrangement | 10.06 | 7.16 | 9.38 | 0.69 | 17.91 | 20.13 | 090
14040 |  | A | Skin tissue rearrangement | 7.87 | 6.12 | 8.33 | 0.53 | 14.52 | 16.73 | 090
14041 |  | A | Skin tissue rearrangement | 11.49 | 7.98 | 10.13 | 0.68 | 20.15 | 22.30 | 090
14060 |  | A | Skin tissue rearrangement | 8.50 | 6.97 | 8.82 | 0.59 | 16.06 | 17.91 | 090
14061 |  | A | Skin tissue rearrangement | 12.29 | 8.92 | 10.97 | 0.75 | 21.96 | 24.01 | 090
14300 |  | A | Skin tissue rearrangement | 11.76 | 8.50 | 10.37 | 0.88 | 21.14 | 23.01 | 090
14350 |  | A | Skin tissue rearrangement | 9.61 | 6.41 | NA | 1.09 | 17.11 | NA | 090
15000 |  | A | Skin graft | 4.00 | 1.92 | 2.52 | 0.37 | 6.29 | 6.89 | 000
15001 |  | A | Skin graft add-on | 1.00 | 0.43 | 0.56 | 0.11 | 1.54 | 1.67 | ZZZ
15050 |  | A | Skin pinch graft | 4.30 | 3.94 | 4.91 | 0.46 | 8.70 | 9.67 | 090
15100 |  | A | Skin split graft | 9.05 | 6.17 | 6.26 | 0.94 | 16.16 | 16.25 | 090
15101 |  | A | Skin split graft add-on | 1.72 | 0.75 | 1.21 | 0.18 | 2.65 | 3.11 | ZZZ
15120 |  | A | Skin split graft | 9.83 | 6.67 | 8.99 | 0.87 | 17.37 | 19.69 | 090
15121 |  | A | Skin split graft add-on | 2.67 | 1.25 | 1.57 | 0.27 | 4.19 | 4.51 | ZZZ
15200 |  | A | Skin full graft | 8.03 | 5.64 | 9.59 | 0.73 | 14.40 | 18.35 | 090
15201 |  | A | Skin full graft add-on | 1.32 | 0.65 | 1.00 | 0.14 | 2.11 | 2.46 | ZZZ
15220 |  | A | Skin full graft | 7.87 | 6.23 | 9.66 | 0.68 | 14.78 | 18.21 | 090
15221 |  | A | Skin full graft add-on | 1.19 | 0.58 | 1.00 | 0.12 | 1.89 | 2.31 | ZZZ
15240 |  | A | Skin full graft | 9.04 | 7.12 | 9.28 | 0.77 | 16.93 | 19.09 | 090
15241 |  | A | Skin full graft add-on | 1.86 | 0.96 | 1.53 | 0.17 | 2.99 | 3.56 | ZZZ
15260 |  | A | Skin full graft | 10.06 | 7.53 | 9.16 | 0.63 | 18.22 | 19.85 | 090
15261 |  | A | Skin full graft add-on | 2.23 | 1.16 | 1.63 | 0.17 | 3.56 | 4.03 | ZZZ
15342 |  | A | Cultured skin graft, 25 cm | 1.00 | 0.79 | 2.18 | 0.39 | 2.18 | 3.57 | 010
15343 |  | A | Culture skn graft addl 25 cm | 0.25 | 0.10 | 0.27 | 0.09 | 0.44 | 0.61 | ZZZ
15350 |  | A | Skin homograft | 4.00 | 4.37 | 7.37 | 0.42 | 8.79 | 11.79 | 090
15351 |  | A | Skin homograft add-on | 1.00 | 0.42 | 0.94 | 0.11 | 1.53 | 2.05 | ZZZ
15400 |  | A | Skin heterograft | 4.00 | 4.96 | 4.96 | 0.40 | 9.36 | 9.36 | 090
15401 |  | A | Skin heterograft add-on | 1.00 | 0.46 | 1.14 | 0.11 | 1.57 | 2.25 | ZZZ
15570 |  | A | Form skin pedicle flap | 9.21 | 6.27 | 8.42 | 0.96 | 16.44 | 18.59 | 090
15572 |  | A | Form skin pedicle flap | 9.27 | 6.18 | 7.54 | 0.93 | 16.38 | 17.74 | 090
15574 |  | A | Form skin pedicle flap | 9.88 | 6.94 | 8.53 | 0.92 | 17.74 | 19.33 | 090
15576 |  | A | Form skin pedicle flap | 8.69 | 6.35 | 8.97 | 0.72 | 15.76 | 18.38 | 090
15600 |  | A | Skin graft | 1.91 | 2.34 | 6.62 | 0.19 | 4.44 | 8.72 | 090
15610 |  | A | Skin graft | 2.42 | 2.70 | 4.56 | 0.25 | 5.37 | 7.23 | 090
15620 |  | A | Skin graft | 2.94 | 3.29 | 6.92 | 0.28 | 6.51 | 10.14 | 090
15630 |  | A | Skin graft | 3.27 | 3.73 | 6.19 | 0.28 | 7.28 | 9.74 | 090
15650 |  | A | Transfer skin pedicle flap | 3.97 | 3.84 | 6.26 | 0.36 | 8.17 | 10.59 | 090
15732 |  | A | Muscle-skin graft, head/neck | 17.84 | 11.39 | NA | 1.50 | 30.73 | NA | 090
15734 |  | A | Muscle-skin graft, trunk | 17.79 | 11.31 | NA | 1.91 | 31.01 | NA | 090
15736 |  | A | Muscle-skin graft, arm | 16.27 | 10.77 | NA | 1.78 | 28.82 | NA | 090
15738 |  | A | Muscle-skin graft, leg | 17.92 | 11.27 | NA | 1.95 | 31.14 | NA | 090
15740 |  | A | Island pedicle flap graft | 10.25 | 7.12 | 8.87 | 0.62 | 17.99 | 19.74 | 090
15750 |  | A | Neurovascular pedicle graft | 11.41 | 8.05 | NA | 1.12 | 20.58 | NA | 090
15756 |  | A | Free muscle flap, microvasc | 35.23 | 18.80 | NA | 3.11 | 57.14 | NA | 090
15757 |  | A | Free skin flap, microvasc | 35.23 | 22.15 | NA | 3.37 | 60.75 | NA | 090
15758 |  | A | Free fascial flap, microvasc | 35.10 | 22.48 | NA | 3.52 | 61.10 | NA | 090
15760 |  | A | Composite skin graft | 8.74 | 6.79 | 9.31 | 0.72 | 16.25 | 18.77 | 090
15770 |  | A | Derma-fat-fascia graft | 7.52 | 6.02 | NA | 0.78 | 14.32 | NA | 090
15775 |  | R | Hair transplant punch grafts | 3.96 | 1.58 | 3.04 | 0.43 | 5.97 | 7.43 | 000
15776 |  | R | Hair transplant punch grafts | 5.54 | 2.94 | 3.88 | 0.60 | 9.08 | 10.02 | 000
15780 |  | A | Abrasion treatment of skin | 7.29 | 6.30 | 6.30 | 0.41 | 14.00 | 14.00 | 090
15781 |  | A | Abrasion treatment of skin | 4.85 | 4.76 | 4.76 | 0.27 | 9.88 | 9.88 | 090
15782 |  | A | Abrasion treatment of skin | 4.32 | 4.10 | 4.10 | 0.21 | 8.63 | 8.63 | 090
15783 |  | A | Abrasion treatment of skin | 4.29 | 3.46 | 4.45 | 0.26 | 8.01 | 9.00 | 090
15786 |  | A | Abrasion, lesion, single | 2.03 | 1.27 | 1.69 | 0.11 | 3.41 | 3.83 | 010
15787 |  | A | Abrasion, lesions, add-on | 0.33 | 0.17 | 0.37 | 0.02 | 0.52 | 0.72 | ZZZ
15788 |  | R | Chemical peel, face, epiderm | 2.09 | 1.05 | 3.00 | 0.11 | 3.25 | 5.20 | 090
15789 |  | R | Chemical peel, face, dermal | 4.92 | 3.67 | 5.59 | 0.27 | 8.86 | 10.78 | 090
15792 |  | R | Chemical peel, nonfacial | 1.86 | 1.81 | 2.77 | 0.10 | 3.77 | 4.73 | 090
15793 |  | A | Chemical peel, nonfacial | 3.74 | 3.34 | NA | 0.17 | 7.25 | NA | 090
15810 |  | A | Salabrasion | 4.74 | 3.85 | 3.85 | 0.42 | 9.01 | 9.01 | 090
15811 |  | A | Salabrasion | 5.39 | 4.03 | 4.03 | 0.52 | 9.94 | 9.94 | 090
15819 |  | A | Plastic surgery, neck | 9.38 | 6.82 | NA | 0.77 | 16.97 | NA | 090
15820 |  | A | Revision of lower eyelid | 5.15 | 6.55 | 10.91 | 0.30 | 12.00 | 16.36 | 090
15821 |  | A | Revision of lower eyelid | 5.72 | 6.67 | 11.61 | 0.31 | 12.70 | 17.64 | 090
15822 |  | A | Revision of upper eyelid | 4.45 | 5.86 | 8.92 | 0.22 | 10.53 | 13.59 | 090
15823 |  | A | Revision of upper eyelid | 7.05 | 6.95 | 10.06 | 0.32 | 14.32 | 17.43 | 090
15824 |  | R | Removal of forehead wrinkles | 0.00 | 0.00 | 0.00 | 0.00 | 0.00 | 0.00 | XXX
15825 |  | R | Removal of neck wrinkles | 0.00 | 0.00 | 0.00 | 0.00 | 0.00 | 0.00 | XXX
15826 |  | R | Removal of brow wrinkles | 0.00 | 0.00 | 0.00 | 0.00 | 0.00 | 0.00 | XXX
15828 |  | R | Removal of face wrinkles | 0.00 | 0.00 | 0.00 | 0.00 | 0.00 | 0.00 | XXX
15829 |  | R | Removal of skin wrinkles | 0.00 | 0.00 | 0.00 | 0.00 | 0.00 | 0.00 | XXX
15831 |  | A | Excise excessive skin tissue | 12.40 | 8.14 | NA | 1.30 | 21.84 | NA | 090
15832 |  | A | Excise excessive skin tissue | 11.59 | 7.81 | NA | 1.21 | 20.61 | NA | 090
15833 |  | A | Excise excessive skin tissue | 10.64 | 7.55 | NA | 1.17 | 19.36 | NA | 090
15834 |  | A | Excise excessive skin tissue | 10.85 | 6.03 | NA | 1.18 | 18.06 | NA | 090
15835 |  | A | Excise excessive skin tissue | 11.67 | 5.70 | NA | 1.13 | 18.50 | NA | 090
15836 |  | A | Excise excessive skin tissue | 9.34 | 6.16 | NA | 0.95 | 16.45 | NA | 090
15837 |  | A | Excise excessive skin tissue | 8.43 | 6.10 | 7.85 | 0.78 | 15.31 | 17.06 | 090
15838 |  | A | Excise excessive skin tissue | 7.13 | 5.70 | NA | 0.58 | 13.41 | NA | 090
15839 |  | A | Excise excessive skin tissue | 9.38 | 5.95 | 7.60 | 0.88 | 16.21 | 17.86 | 090
15840 |  | A | Graft for face nerve palsy | 13.26 | 9.84 | NA | 1.15 | 24.25 | NA | 090
15841 |  | A | Graft for face nerve palsy | 23.26 | 15.24 | NA | 2.65 | 41.15 | NA | 090
15842 |  | A | Flap for face nerve palsy | 37.96 | 21.68 | NA | 3.99 | 63.63 | NA | 090
15845 |  | A | Skin and muscle repair, face | 12.57 | 8.65 | NA | 0.80 | 22.02 | NA | 090
15850 |  | B | Removal of sutures | +0.78 | 0.31 | 1.37 | 0.04 | 1.13 | 2.19 | XXX
15851 |  | A | Removal of sutures | 0.86 | 0.35 | 1.56 | 0.05 | 1.26 | 2.47 | 000
15852 |  | A | Dressing change,not for burn | 0.86 | 0.36 | 1.76 | 0.07 | 1.29 | 2.69 | 000
15860 |  | A | Test for blood flow in graft | 1.95 | 0.80 | 1.31 | 0.13 | 2.88 | 3.39 | 000
15876 |  | R | Suction assisted lipectomy | 0.00 | 0.00 | 0.00 | 0.00 | 0.00 | 0.00 | XXX
15877 |  | R | Suction assisted lipectomy | 0.00 | 0.00 | 0.00 | 0.00 | 0.00 | 0.00 | XXX
15878 |  | R | Suction assisted lipectomy | 0.00 | 0.00 | 0.00 | 0.00 | 0.00 | 0.00 | XXX
15879 |  | R | Suction assisted lipectomy | 0.00 | 0.00 | 0.00 | 0.00 | 0.00 | 0.00 | XXX
15920 |  | A | Removal of tail bone ulcer | 7.95 | 5.38 | NA | 0.83 | 14.16 | NA | 090
15922 |  | A | Removal of tail bone ulcer | 9.90 | 7.27 | NA | 1.06 | 18.23 | NA | 090
15931 |  | A | Remove sacrum pressure sore | 9.24 | 5.59 | NA | 0.95 | 15.78 | NA | 090
15933 |  | A | Remove sacrum pressure sore | 10.85 | 7.74 | NA | 1.14 | 19.73 | NA | 090
15934 |  | A | Remove sacrum pressure sore | 12.69 | 8.36 | NA | 1.35 | 22.40 | NA | 090
15935 |  | A | Remove sacrum pressure sore | 14.57 | 10.35 | NA | 1.56 | 26.48 | NA | 090
15936 |  | A | Remove sacrum pressure sore | 12.38 | 8.98 | NA | 1.32 | 22.68 | NA | 090
15937 |  | A | Remove sacrum pressure sore | 14.21 | 10.45 | NA | 1.51 | 26.17 | NA | 090
15940 |  | A | Remove hip pressure sore | 9.34 | 5.94 | NA | 0.98 | 16.26 | NA | 090
15941 |  | A | Remove hip pressure sore | 11.43 | 9.77 | NA | 1.23 | 22.43 | NA | 090
15944 |  | A | Remove hip pressure sore | 11.46 | 8.68 | NA | 1.21 | 21.35 | NA | 090
15945 |  | A | Remove hip pressure sore | 12.69 | 9.83 | NA | 1.38 | 23.90 | NA | 090
15946 |  | A | Remove hip pressure sore | 21.57 | 14.57 | NA | 2.32 | 38.46 | NA | 090
15950 |  | A | Remove thigh pressure sore | 7.54 | 5.17 | NA | 0.80 | 13.51 | NA | 090
15951 |  | A | Remove thigh pressure sore | 10.72 | 7.67 | NA | 1.14 | 19.53 | NA | 090
15952 |  | A | Remove thigh pressure sore | 11.39 | 7.38 | NA | 1.19 | 19.96 | NA | 090
15953 |  | A | Remove thigh pressure sore | 12.63 | 8.89 | NA | 1.38 | 22.90 | NA | 090
15956 |  | A | Remove thigh pressure sore | 15.52 | 10.60 | NA | 1.64 | 27.76 | NA | 090
15958 |  | A | Remove thigh pressure sore | 15.48 | 10.97 | NA | 1.66 | 28.11 | NA | 090
15999 |  | C | Removal of pressure sore | 0.00 | 0.00 | 0.00 | 0.00 | 0.00 | 0.00 | YYY
16000 |  | A | Initial treatment of burn(s) | 0.89 | 0.27 | 1.06 | 0.06 | 1.22 | 2.01 | 000
16010 |  | A | Treatment of burn(s) | 0.87 | 0.38 | 1.17 | 0.07 | 1.32 | 2.11 | 000
16015 |  | A | Treatment of burn(s) | 2.35 | 0.97 | 1.93 | 0.22 | 3.54 | 4.50 | 000
16020 |  | A | Treatment of burn(s) | 0.80 | 0.26 | 1.17 | 0.06 | 1.12 | 2.03 | 000
16025 |  | A | Treatment of burn(s) | 1.85 | 0.68 | 1.87 | 0.16 | 2.69 | 3.88 | 000
16030 |  | A | Treatment of burn(s) | 2.08 | 0.93 | 3.03 | 0.18 | 3.19 | 5.29 | 000
16035 |  | A | Incision of burn scab, initi | 3.75 | 1.53 | NA | 0.36 | 5.64 | NA | 090
16036 |  | A | Incise burn scab, addl incis | 1.50 | 0.61 | NA | 0.18 | 2.29 | NA | ZZZ
17000 |  | A | Destroy benign/premal lesion | 0.60 | 0.27 | 1.09 | 0.03 | 0.90 | 1.72 | 010
17003 |  | A | Destroy lesions, 2-14 | 0.15 | 0.07 | 0.24 | 0.01 | 0.23 | 0.40 | ZZZ
17004 |  | A | Destroy lesions, 15 or more | 2.79 | 1.29 | 2.56 | 0.12 | 4.20 | 5.47 | 010
17106 |  | A | Destruction of skin lesions | 4.59 | 2.68 | 4.68 | 0.28 | 7.55 | 9.55 | 090
17107 |  | A | Destruction of skin lesions | 9.16 | 4.75 | 6.80 | 0.53 | 14.44 | 16.49 | 090
17108 |  | A | Destruction of skin lesions | 13.20 | 7.27 | 8.63 | 0.89 | 21.36 | 22.72 | 090
17110 |  | A | Destruct lesion, 1-14 | 0.65 | 0.26 | 1.07 | 0.04 | 0.95 | 1.76 | 010
17111 |  | A | Destruct lesion, 15 or more | 0.92 | 0.40 | 1.13 | 0.04 | 1.36 | 2.09 | 010
17250 |  | A | Chemical cautery, tissue | 0.50 | 0.21 | 0.71 | 0.04 | 0.75 | 1.25 | 000
17260 |  | A | Destruction of skin lesions | 0.91 | 0.42 | 1.37 | 0.04 | 1.37 | 2.32 | 010
17261 |  | A | Destruction of skin lesions | 1.17 | 0.55 | 1.48 | 0.05 | 1.77 | 2.70 | 010
17262 |  | A | Destruction of skin lesions | 1.58 | 0.75 | 1.68 | 0.07 | 2.40 | 3.33 | 010
17263 |  | A | Destruction of skin lesions | 1.79 | 0.82 | 1.79 | 0.08 | 2.69 | 3.66 | 010
17264 |  | A | Destruction of skin lesions | 1.94 | 0.84 | 1.87 | 0.08 | 2.86 | 3.89 | 010
17266 |  | A | Destruction of skin lesions | 2.34 | 0.94 | 2.08 | 0.11 | 3.39 | 4.53 | 010
17270 |  | A | Destruction of skin lesions | 1.32 | 0.62 | 1.57 | 0.06 | 2.00 | 2.95 | 010
17271 |  | A | Destruction of skin lesions | 1.49 | 0.72 | 1.64 | 0.06 | 2.27 | 3.19 | 010
17272 |  | A | Destruction of skin lesions | 1.77 | 0.85 | 1.78 | 0.07 | 2.69 | 3.62 | 010
17273 |  | A | Destruction of skin lesions | 2.05 | 0.98 | 1.93 | 0.09 | 3.12 | 4.07 | 010
17274 |  | A | Destruction of skin lesions | 2.59 | 1.19 | 2.19 | 0.11 | 3.89 | 4.89 | 010
17276 |  | A | Destruction of skin lesions | 3.20 | 1.71 | 2.50 | 0.15 | 5.06 | 5.85 | 010
17280 |  | A | Destruction of skin lesions | 1.17 | 0.54 | 1.40 | 0.05 | 1.76 | 2.62 | 010
17281 |  | A | Destruction of skin lesions | 1.72 | 0.83 | 1.76 | 0.07 | 2.62 | 3.55 | 010
17282 |  | A | Destruction of skin lesions | 2.04 | 0.99 | 1.92 | 0.09 | 3.12 | 4.05 | 010
17283 |  | A | Destruction of skin lesions | 2.64 | 1.24 | 2.23 | 0.11 | 3.99 | 4.98 | 010
17284 |  | A | Destruction of skin lesions | 3.21 | 1.50 | 2.52 | 0.14 | 4.85 | 5.87 | 010
17286 |  | A | Destruction of skin lesions | 4.44 | 2.48 | 3.15 | 0.22 | 7.14 | 7.81 | 010
17304 |  | A | Chemosurgery of skin lesion | 7.60 | 3.67 | 7.75 | 0.31 | 11.58 | 15.66 | 000
17305 |  | A | 2nd stage chemosurgery | 2.85 | 1.38 | 3.60 | 0.12 | 4.35 | 6.57 | 000
17306 |  | A | 3rd stage chemosurgery | 2.85 | 1.39 | 3.64 | 0.12 | 4.36 | 6.61 | 000
17307 |  | A | Followup skin lesion therapy | 2.85 | 1.41 | 3.16 | 0.12 | 4.38 | 6.13 | 000
17310 |  | A | Extensive skin chemosurgery | 0.95 | 0.48 | 1.49 | 0.05 | 1.48 | 2.49 | 000
17340 |  | A | Cryotherapy of skin | 0.76 | 0.27 | 1.36 | 0.04 | 1.07 | 2.16 | 010
17360 |  | A | Skin peel therapy | 1.43 | 0.70 | 1.48 | 0.06 | 2.19 | 2.97 | 010
17380 |  | R | Hair removal by electrolysis | 0.00 | 0.00 | 0.00 | 0.00 | 0.00 | 0.00 | XXX
17999 |  | C | Skin tissue procedure | 0.00 | 0.00 | 0.00 | 0.00 | 0.00 | 0.00 | YYY
19000 |  | A | Drainage of breast lesion | 0.84 | 0.29 | 1.23 | 0.07 | 1.20 | 2.14 | 000
19001 |  | A | Drain breast lesion add-on | 0.42 | 0.15 | 0.83 | 0.03 | 0.60 | 1.28 | ZZZ
19020 |  | A | Incision of breast lesion | 3.57 | 3.41 | 6.96 | 0.35 | 7.33 | 10.88 | 090
19030 |  | A | Injection for breast x-ray | 1.53 | 0.53 | 11.25 | 0.07 | 2.13 | 12.85 | 000
19100 |  | A | Biopsy of breast | 1.27 | 0.45 | 3.56 | 0.10 | 1.82 | 4.93 | 000
19101 |  | A | Biopsy of breast, open | 3.18 | 3.09 | 10.62 | 0.20 | 6.47 | 14.00 | 010
19102 |  | A | Bx breast percut w/image | 2.00 | 0.71 | 4.88 | 0.08 | 2.79 | 6.96 | 000
19103 |  | A | Bx breast percut w/device | 2.37 | 0.84 | 11.46 | 0.08 | 3.29 | 13.91 | 000
19110 |  | A | Nipple exploration | 4.30 | 4.40 | 8.43 | 0.44 | 9.14 | 13.17 | 090
19112 |  | A | Excise breast duct fistula | 3.67 | 3.09 | 7.24 | 0.38 | 7.14 | 11.29 | 090
19120 |  | A | Removal of breast lesion | 5.56 | 3.55 | 4.41 | 0.56 | 9.67 | 10.53 | 090
19125 |  | A | Excision, breast lesion | 6.06 | 3.70 | 5.02 | 0.61 | 10.37 | 11.69 | 090
19126 |  | A | Excision, addl breast lesion | 2.93 | 1.05 | NA | 0.30 | 4.28 | NA | ZZZ
19140 |  | A | Removal of breast tissue | 5.14 | 3.72 | 9.03 | 0.52 | 9.38 | 14.69 | 090
19160 |  | A | Removal of breast tissue | 5.99 | 4.52 | NA | 0.61 | 11.12 | NA | 090
19162 |  | A | Remove breast tissue, nodes | 13.53 | 7.94 | NA | 1.38 | 22.85 | NA | 090
19180 |  | A | Removal of breast | 8.80 | 5.97 | NA | 0.88 | 15.65 | NA | 090
19182 |  | A | Removal of breast | 7.73 | 5.01 | NA | 0.79 | 13.53 | NA | 090
19200 |  | A | Removal of breast | 15.49 | 9.24 | NA | 1.51 | 26.24 | NA | 090
19220 |  | A | Removal of breast | 15.72 | 9.22 | NA | 1.56 | 26.50 | NA | 090
19240 |  | A | Removal of breast | 16.00 | 8.82 | NA | 1.62 | 26.44 | NA | 090
19260 |  | A | Removal of chest wall lesion | 15.44 | 9.35 | NA | 1.64 | 26.43 | NA | 090
19271 |  | A | Revision of chest wall | 18.90 | 11.61 | NA | 2.27 | 32.78 | NA | 090
19272 |  | A | Extensive chest wall surgery | 21.55 | 12.54 | NA | 2.54 | 36.63 | NA | 090
19290 |  | A | Place needle wire, breast | 1.27 | 0.44 | 5.08 | 0.06 | 1.77 | 6.41 | 000
19291 |  | A | Place needle wire, breast | 0.63 | 0.22 | 1.72 | 0.03 | 0.88 | 2.38 | ZZZ
19295 |  | A | Place breast clip, percut | 0.00 | NA | 2.65 | 0.01 | NA | 2.66 | ZZZ
19316 |  | A | Suspension of breast | 10.69 | 7.65 | NA | 1.15 | 19.49 | NA | 090
19318 |  | A | Reduction of large breast | 15.62 | 10.47 | NA | 1.69 | 27.78 | NA | 090
19324 |  | A | Enlarge breast | 5.85 | 4.64 | NA | 0.63 | 11.12 | NA | 090
19325 |  | A | Enlarge breast with implant | 8.45 | 6.82 | NA | 0.90 | 16.17 | NA | 090
19328 |  | A | Removal of breast implant | 5.68 | 4.63 | NA | 0.61 | 10.92 | NA | 090
19330 |  | A | Removal of implant material | 7.59 | 5.35 | NA | 0.81 | 13.75 | NA | 090
19340 |  | A | Immediate breast prosthesis | 6.33 | 3.25 | NA | 0.68 | 10.26 | NA | ZZZ
19342 |  | A | Delayed breast prosthesis | 11.20 | 8.01 | NA | 1.21 | 20.42 | NA | 090
19350 |  | A | Breast reconstruction | 8.92 | 6.92 | 14.29 | 0.95 | 16.79 | 24.16 | 090
19355 |  | A | Correct inverted nipple(s) | 7.57 | 6.10 | 12.05 | 0.80 | 14.47 | 20.42 | 090
19357 |  | A | Breast reconstruction | 18.16 | 14.04 | NA | 1.96 | 34.16 | NA | 090
19361 |  | A | Breast reconstruction | 19.26 | 12.20 | NA | 2.08 | 33.54 | NA | 090
19364 |  | A | Breast reconstruction | 41.00 | 22.78 | NA | 3.91 | 67.69 | NA | 090
19366 |  | A | Breast reconstruction | 21.28 | 12.20 | NA | 2.27 | 35.75 | NA | 090
19367 |  | A | Breast reconstruction | 25.73 | 15.53 | NA | 2.78 | 44.04 | NA | 090
19368 |  | A | Breast reconstruction | 32.42 | 19.28 | NA | 3.51 | 55.21 | NA | 090
19369 |  | A | Breast reconstruction | 29.82 | 18.49 | NA | 3.24 | 51.55 | NA | 090
19370 |  | A | Surgery of breast capsule | 8.05 | 6.21 | NA | 0.86 | 15.12 | NA | 090
19371 |  | A | Removal of breast capsule | 9.35 | 7.32 | NA | 1.01 | 17.68 | NA | 090
19380 |  | A | Revise breast reconstruction | 9.14 | 7.21 | NA | 0.98 | 17.33 | NA | 090
19396 |  | A | Design custom breast implant | 2.17 | 0.80 | 5.35 | 0.23 | 3.20 | 7.75 | 000
19499 |  | C | Breast surgery procedure | 0.00 | 0.00 | 0.00 | 0.00 | 0.00 | 0.00 | YYY
20000 |  | A | Incision of abscess | 2.12 | 1.19 | 2.01 | 0.17 | 3.48 | 4.30 | 010
20005 |  | A | Incision of deep abscess | 3.42 | 2.20 | 2.92 | 0.34 | 5.96 | 6.68 | 010
20100 |  | A | Explore wound, neck | 10.08 | 4.47 | 5.92 | 0.99 | 15.54 | 16.99 | 010
20101 |  | A | Explore wound, chest | 3.22 | 1.30 | 3.00 | 0.24 | 4.76 | 6.46 | 010
20102 |  | A | Explore wound, abdomen | 3.94 | 1.67 | 3.34 | 0.35 | 5.96 | 7.63 | 010
20103 |  | A | Explore wound, extremity | 5.30 | 2.98 | 4.10 | 0.57 | 8.85 | 9.97 | 010
20150 |  | A | Excise epiphyseal bar | 13.69 | 7.83 | NA | 0.96 | 22.48 | NA | 090
20200 |  | A | Muscle biopsy | 1.46 | 0.62 | 1.72 | 0.17 | 2.25 | 3.35 | 000
20205 |  | A | Deep muscle biopsy | 2.35 | 0.98 | 3.72 | 0.23 | 3.56 | 6.30 | 000
20206 |  | A | Needle biopsy, muscle | 0.99 | 0.36 | 3.15 | 0.06 | 1.41 | 4.20 | 000
20220 |  | A | Bone biopsy, trocar/needle | 1.27 | 3.02 | 4.98 | 0.06 | 4.35 | 6.31 | 000
20225 |  | A | Bone biopsy, trocar/needle | 1.87 | 3.03 | 4.52 | 0.11 | 5.01 | 6.50 | 000
20240 |  | A | Bone biopsy, excisional | 3.23 | 4.07 | NA | 0.33 | 7.63 | NA | 010
20245 |  | A | Bone biopsy, excisional | 7.78 | 6.69 | NA | 0.44 | 14.91 | NA | 010
20250 |  | A | Open bone biopsy | 5.03 | 4.30 | NA | 0.50 | 9.83 | NA | 010
20251 |  | A | Open bone biopsy | 5.56 | 4.74 | NA | 0.79 | 11.09 | NA | 010
20500 |  | A | Injection of sinus tract | 1.23 | 4.03 | 5.37 | 0.10 | 5.36 | 6.70 | 010
20501 |  | A | Inject sinus tract for x-ray | 0.76 | 0.26 | 13.46 | 0.03 | 1.05 | 14.25 | 000
20520 |  | A | Removal of foreign body | 1.85 | 3.37 | 5.40 | 0.17 | 5.39 | 7.42 | 010
20525 |  | A | Removal of foreign body | 3.50 | 4.15 | 6.66 | 0.40 | 8.05 | 10.56 | 010
20550 |  | A | Inject tendon/ligament/cyst | 0.86 | 0.22 | 2.05 | 0.06 | 1.14 | 2.97 | 000
20600 |  | A | Drain/inject, joint/bursa | 0.66 | 0.27 | 1.38 | 0.06 | 0.99 | 2.10 | 000
20605 |  | A | Drain/inject, joint/bursa | 0.68 | 0.27 | 1.71 | 0.06 | 1.01 | 2.45 | 000
20610 |  | A | Drain/inject, joint/bursa | 0.79 | 0.56 | 2.11 | 0.08 | 1.43 | 2.98 | 000
20615 |  | A | Treatment of bone cyst | 2.28 | 2.51 | 4.52 | 0.19 | 4.98 | 6.99 | 010
20650 |  | A | Insert and remove bone pin | 2.23 | 2.90 | 4.38 | 0.28 | 5.41 | 6.89 | 010
20660 |  | A | Apply,remove fixation device | 2.51 | 1.49 | NA | 0.48 | 4.48 | NA | 000
20661 |  | A | Application of head brace | 4.89 | 6.47 | NA | 0.92 | 12.28 | NA | 090
20662 |  | A | Application of pelvis brace | 6.07 | 5.15 | NA | 0.81 | 12.03 | NA | 090
20663 |  | A | Application of thigh brace | 5.43 | 4.78 | NA | 0.77 | 10.98 | NA | 090
20664 |  | A | Halo brace application | 8.06 | 8.21 | NA | 1.49 | 17.76 | NA | 090
20665 |  | A | Removal of fixation device | 1.31 | 1.23 | 2.34 | 0.17 | 2.71 | 3.82 | 010
20670 |  | A | Removal of support implant | 1.74 | 3.37 | 5.51 | 0.23 | 5.34 | 7.48 | 010
20680 |  | A | Removal of support implant | 3.35 | 4.98 | 4.98 | 0.46 | 8.79 | 8.79 | 090
20690 |  | A | Apply bone fixation device | 3.52 | 1.89 | NA | 0.47 | 5.88 | NA | 090
20692 |  | A | Apply bone fixation device | 6.41 | 2.50 | NA | 0.60 | 9.51 | NA | 090
20693 |  | A | Adjust bone fixation device | 5.86 | 11.53 | NA | 0.85 | 18.24 | NA | 090
20694 |  | A | Remove bone fixation device | 4.16 | 5.77 | 8.18 | 0.57 | 10.50 | 12.91 | 090
20802 |  | A | Replantation, arm, complete | 41.15 | 31.17 | NA | 5.81 | 78.13 | NA | 090
20805 |  | A | Replant, forearm, complete | 50.00 | 49.91 | NA | 3.95 | 103.86 | NA | 090
20808 |  | A | Replantation hand, complete | 61.65 | 43.88 | NA | 6.49 | 112.02 | NA | 090
20816 |  | A | Replantation digit, complete | 30.94 | 43.13 | NA | 3.01 | 77.08 | NA | 090
20822 |  | A | Replantation digit, complete | 25.59 | 39.51 | NA | 3.07 | 68.17 | NA | 090
20824 |  | A | Replantation thumb, complete | 30.94 | 36.86 | NA | 3.48 | 71.28 | NA | 090
20827 |  | A | Replantation thumb, complete | 26.41 | 45.96 | NA | 3.21 | 75.58 | NA | 090
20838 |  | A | Replantation foot, complete | 41.41 | 28.52 | NA | 5.85 | 75.78 | NA | 090
20900 |  | A | Removal of bone for graft | 5.58 | 5.83 | 6.77 | 0.77 | 12.18 | 13.12 | 090
20902 |  | A | Removal of bone for graft | 7.55 | 8.29 | NA | 1.06 | 16.90 | NA | 090
20910 |  | A | Remove cartilage for graft | 5.34 | 6.69 | 8.21 | 0.50 | 12.53 | 14.05 | 090
20912 |  | A | Remove cartilage for graft | 6.35 | 7.51 | NA | 0.55 | 14.41 | NA | 090
20920 |  | A | Removal of fascia for graft | 5.31 | 5.57 | NA | 0.54 | 11.42 | NA | 090
20922 |  | A | Removal of fascia for graft | 6.61 | 6.25 | 8.76 | 0.88 | 13.74 | 16.25 | 090
20924 |  | A | Removal of tendon for graft | 6.48 | 6.73 | NA | 0.82 | 14.03 | NA | 090
20926 |  | A | Removal of tissue for graft | 5.53 | 6.23 | NA | 0.73 | 12.49 | NA | 090
20930 |  | B | Spinal bone allograft | 0.00 | 0.00 | 0.00 | 0.00 | 0.00 | 0.00 | XXX
20931 |  | A | Spinal bone allograft | 1.81 | 0.97 | NA | 0.34 | 3.12 | NA | ZZZ
20936 |  | B | Spinal bone autograft | 0.00 | 0.00 | 0.00 | 0.00 | 0.00 | 0.00 | XXX
20937 |  | A | Spinal bone autograft | 2.79 | 1.53 | NA | 0.43 | 4.75 | NA | ZZZ
20938 |  | A | Spinal bone autograft | 3.02 | 1.63 | NA | 0.52 | 5.17 | NA | ZZZ
20950 |  | A | Fluid pressure, muscle | 1.26 | 2.10 | NA | 0.16 | 3.52 | NA | 000
20955 |  | A | Fibula bone graft, microvasc | 39.21 | 30.01 | NA | 4.35 | 73.57 | NA | 090
20956 |  | A | Iliac bone graft, microvasc | 39.27 | 28.48 | NA | 5.77 | 73.52 | NA | 090
20957 |  | A | Mt bone graft, microvasc | 40.65 | 24.37 | NA | 5.74 | 70.76 | NA | 090
20962 |  | A | Other bone graft, microvasc | 39.27 | 28.18 | NA | 5.19 | 72.64 | NA | 090
20969 |  | A | Bone/skin graft, microvasc | 43.92 | 32.94 | NA | 4.34 | 81.20 | NA | 090
20970 |  | A | Bone/skin graft, iliac crest | 43.06 | 30.40 | NA | 4.64 | 78.10 | NA | 090
20972 |  | A | Bone/skin graft, metatarsal | 42.99 | 18.86 | NA | 6.07 | 67.92 | NA | 090
20973 |  | A | Bone/skin graft, great toe | 45.76 | 22.15 | NA | 4.65 | 72.56 | NA | 090
20974 |  | A | Electrical bone stimulation | 0.62 | 0.34 | 0.39 | 0.09 | 1.05 | 1.10 | 000
20975 |  | A | Electrical bone stimulation | 2.60 | 1.42 | NA | 0.42 | 4.44 | NA | 000
20979 |  | A | Us bone stimulation | 0.62 | 0.25 | 0.56 | 0.04 | 0.91 | 1.22 | 000
20999 |  | C | Musculoskeletal surgery | 0.00 | 0.00 | 0.00 | 0.00 | 0.00 | 0.00 | YYY
21010 |  | A | Incision of jaw joint | 10.14 | 7.05 | NA | 0.54 | 17.73 | NA | 090
21015 |  | A | Resection of facial tumor | 5.29 | 7.20 | NA | 0.52 | 13.01 | NA | 090
21025 |  | A | Excision of bone, lower jaw | 10.06 | 6.86 | 7.38 | 0.79 | 17.71 | 18.23 | 090
21026 |  | A | Excision of facial bone(s) | 4.85 | 4.83 | 5.49 | 0.40 | 10.08 | 10.74 | 090
21029 |  | A | Contour of face bone lesion | 7.71 | 6.11 | 6.87 | 0.74 | 14.56 | 15.32 | 090
21030 |  | A | Removal of face bone lesion | 6.46 | 4.88 | 5.39 | 0.60 | 11.94 | 12.45 | 090
21031 |  | A | Remove exostosis, mandible | 3.24 | 2.11 | 3.34 | 0.28 | 5.63 | 6.86 | 090
21032 |  | A | Remove exostosis, maxilla | 3.24 | 2.15 | 3.30 | 0.27 | 5.66 | 6.81 | 090
21034 |  | A | Removal of face bone lesion | 16.17 | 10.67 | 12.00 | 1.37 | 28.21 | 29.54 | 090
21040 |  | A | Removal of jaw bone lesion | 2.11 | 1.85 | 2.98 | 0.19 | 4.15 | 5.28 | 090
21041 |  | A | Removal of jaw bone lesion | 6.71 | 4.34 | 5.61 | 0.56 | 11.61 | 12.88 | 090
21044 |  | A | Removal of jaw bone lesion | 11.86 | 7.92 | NA | 0.87 | 20.65 | NA | 090
21045 |  | A | Extensive jaw surgery | 16.17 | 10.27 | NA | 1.20 | 27.64 | NA | 090
21050 |  | A | Removal of jaw joint | 10.77 | 11.32 | NA | 0.84 | 22.93 | NA | 090
21060 |  | A | Remove jaw joint cartilage | 10.23 | 10.11 | NA | 1.16 | 21.50 | NA | 090
21070 |  | A | Remove coronoid process | 8.20 | 6.09 | NA | 0.67 | 14.96 | NA | 090
21076 |  | A | Prepare face/oral prosthesis | 13.42 | 7.29 | 9.70 | 1.36 | 22.07 | 24.48 | 010
21077 |  | A | Prepare face/oral prosthesis | 33.75 | 18.34 | 24.39 | 3.43 | 55.52 | 61.57 | 090
21079 |  | A | Prepare face/oral prosthesis | 22.34 | 12.68 | 17.23 | 1.59 | 36.61 | 41.16 | 090
21080 |  | A | Prepare face/oral prosthesis | 25.10 | 14.25 | 19.36 | 2.55 | 41.90 | 47.01 | 090
21081 |  | A | Prepare face/oral prosthesis | 22.88 | 12.99 | 17.65 | 1.87 | 37.74 | 42.40 | 090
21082 |  | A | Prepare face/oral prosthesis | 20.87 | 11.34 | 15.08 | 1.46 | 33.67 | 37.41 | 090
21083 |  | A | Prepare face/oral prosthesis | 19.30 | 10.96 | 14.89 | 1.96 | 32.22 | 36.15 | 090
21084 |  | A | Prepare face/oral prosthesis | 22.51 | 12.78 | 17.36 | 1.57 | 36.86 | 41.44 | 090
21085 |  | A | Prepare face/oral prosthesis | 9.00 | 4.89 | 6.50 | 0.65 | 14.54 | 16.15 | 010
21086 |  | A | Prepare face/oral prosthesis | 24.92 | 14.15 | 19.22 | 1.86 | 40.93 | 46.00 | 090
21087 |  | A | Prepare face/oral prosthesis | 24.92 | 13.54 | 18.00 | 2.22 | 40.68 | 45.14 | 090
21088 |  | C | Prepare face/oral prosthesis | 0.00 | 0.00 | 0.00 | 0.00 | 0.00 | 0.00 | 090
21089 |  | C | Prepare face/oral prosthesis | 0.00 | 0.00 | 0.00 | 0.00 | 0.00 | 0.00 | 090
21100 |  | A | Maxillofacial fixation | 4.22 | 4.06 | 5.89 | 0.18 | 8.46 | 10.29 | 090
21110 |  | A | Interdental fixation | 5.21 | 4.57 | 5.23 | 0.28 | 10.06 | 10.72 | 090
21116 |  | A | Injection, jaw joint x-ray | 0.81 | 0.30 | 8.08 | 0.05 | 1.16 | 8.94 | 000
21120 |  | A | Reconstruction of chin | 4.93 | 6.32 | 10.45 | 0.29 | 11.54 | 15.67 | 090
21121 |  | A | Reconstruction of chin | 7.64 | 5.82 | 8.09 | 0.56 | 14.02 | 16.29 | 090
21122 |  | A | Reconstruction of chin | 8.52 | 7.36 | NA | 0.59 | 16.47 | NA | 090
21123 |  | A | Reconstruction of chin | 11.16 | 8.54 | NA | 1.16 | 20.86 | NA | 090
21125 |  | A | Augmentation, lower jaw bone | 10.62 | 8.72 | 9.17 | 0.72 | 20.06 | 20.51 | 090
21127 |  | A | Augmentation, lower jaw bone | 11.12 | 6.69 | 9.64 | 0.76 | 18.57 | 21.52 | 090
21137 |  | A | Reduction of forehead | 9.82 | 6.95 | NA | 0.53 | 17.30 | NA | 090
21138 |  | A | Reduction of forehead | 12.19 | 9.93 | NA | 1.47 | 23.59 | NA | 090
21139 |  | A | Reduction of forehead | 14.61 | 9.39 | NA | 1.02 | 25.02 | NA | 090
21141 |  | A | Reconstruct midface, lefort | 18.10 | 11.14 | NA | 1.63 | 30.87 | NA | 090
21142 |  | A | Reconstruct midface, lefort | 18.81 | 11.26 | NA | 1.16 | 31.23 | NA | 090
21143 |  | A | Reconstruct midface, lefort | 19.58 | 11.74 | NA | 0.90 | 32.22 | NA | 090
21145 |  | A | Reconstruct midface, lefort | 19.94 | 11.43 | NA | 2.09 | 33.46 | NA | 090
21146 |  | A | Reconstruct midface, lefort | 20.71 | 12.11 | NA | 2.13 | 34.95 | NA | 090
21147 |  | A | Reconstruct midface, lefort | 21.77 | 13.27 | NA | 1.52 | 36.56 | NA | 090
21150 |  | A | Reconstruct midface, lefort | 25.24 | 14.91 | NA | 1.09 | 41.24 | NA | 090
21151 |  | A | Reconstruct midface, lefort | 28.30 | 18.38 | NA | 1.98 | 48.66 | NA | 090
21154 |  | A | Reconstruct midface, lefort | 30.52 | 18.49 | NA | 4.86 | 53.87 | NA | 090
21155 |  | A | Reconstruct midface, lefort | 34.45 | 18.24 | NA | 5.48 | 58.17 | NA | 090
21159 |  | A | Reconstruct midface, lefort | 42.38 | 21.37 | NA | 6.74 | 70.49 | NA | 090
21160 |  | A | Reconstruct midface, lefort | 46.44 | 24.49 | NA | 4.39 | 75.32 | NA | 090
21172 |  | A | Reconstruct orbit/forehead | 27.80 | 18.30 | NA | 1.91 | 48.01 | NA | 090
21175 |  | A | Reconstruct orbit/forehead | 33.17 | 18.70 | NA | 5.16 | 57.03 | NA | 090
21179 |  | A | Reconstruct entire forehead | 22.25 | 18.90 | NA | 2.48 | 43.63 | NA | 090
21180 |  | A | Reconstruct entire forehead | 25.19 | 19.28 | NA | 2.15 | 46.62 | NA | 090
21181 |  | A | Contour cranial bone lesion | 9.90 | 8.90 | NA | 0.97 | 19.77 | NA | 090
21182 |  | A | Reconstruct cranial bone | 32.19 | 22.36 | NA | 2.53 | 57.08 | NA | 090
21183 |  | A | Reconstruct cranial bone | 35.31 | 23.10 | NA | 2.75 | 61.16 | NA | 090
21184 |  | A | Reconstruct cranial bone | 38.24 | 21.38 | NA | 4.12 | 63.74 | NA | 090
21188 |  | A | Reconstruction of midface | 22.46 | 15.78 | NA | 1.85 | 40.09 | NA | 090
21193 |  | A | Reconst lwr jaw w/o graft | 17.15 | 11.03 | NA | 1.53 | 29.71 | NA | 090
21194 |  | A | Reconst lwr jaw w/graft | 19.84 | 12.07 | NA | 1.39 | 33.30 | NA | 090
21195 |  | A | Reconst lwr jaw w/o fixation | 17.24 | 12.94 | NA | 1.20 | 31.38 | NA | 090
21196 |  | A | Reconst lwr jaw w/fixation | 18.91 | 12.88 | NA | 1.62 | 33.41 | NA | 090
21198 |  | A | Reconstr lwr jaw segment | 14.16 | 11.84 | NA | 1.05 | 27.05 | NA | 090
21199 |  | A | Reconstr lwr jaw w/advance | 16.00 | 10.56 | NA | 1.00 | 27.56 | NA | 090
21206 |  | A | Reconstruct upper jaw bone | 14.10 | 10.13 | NA | 1.01 | 25.24 | NA | 090
21208 |  | A | Augmentation of facial bones | 10.23 | 8.46 | 10.12 | 0.92 | 19.61 | 21.27 | 090
21209 |  | A | Reduction of facial bones | 6.72 | 5.69 | 8.96 | 0.60 | 13.01 | 16.28 | 090
21210 |  | A | Face bone graft | 10.23 | 8.02 | 8.95 | 0.88 | 19.13 | 20.06 | 090
21215 |  | A | Lower jaw bone graft | 10.77 | 6.88 | 8.75 | 1.04 | 18.69 | 20.56 | 090
21230 |  | A | Rib cartilage graft | 10.77 | 10.27 | NA | 0.96 | 22.00 | NA | 090
21235 |  | A | Ear cartilage graft | 6.72 | 8.03 | 11.81 | 0.52 | 15.27 | 19.05 | 090
21240 |  | A | Reconstruction of jaw joint | 14.05 | 11.49 | NA | 1.15 | 26.69 | NA | 090
21242 |  | A | Reconstruction of jaw joint | 12.95 | 11.53 | NA | 1.40 | 25.88 | NA | 090
21243 |  | A | Reconstruction of jaw joint | 20.79 | 14.75 | NA | 1.85 | 37.39 | NA | 090
21244 |  | A | Reconstruction of lower jaw | 11.86 | 9.03 | NA | 0.95 | 21.84 | NA | 090
21245 |  | A | Reconstruction of jaw | 11.86 | 10.15 | 16.56 | 0.88 | 22.89 | 29.30 | 090
21246 |  | A | Reconstruction of jaw | 12.47 | 10.98 | 12.51 | 1.21 | 24.66 | 26.19 | 090
21247 |  | A | Reconstruct lower jaw bone | 22.63 | 18.84 | NA | 2.21 | 43.68 | NA | 090
21248 |  | A | Reconstruction of jaw | 11.48 | 8.01 | 8.86 | 1.01 | 20.50 | 21.35 | 090
21249 |  | A | Reconstruction of jaw | 17.52 | 10.16 | 11.38 | 1.39 | 29.07 | 30.29 | 090
21255 |  | A | Reconstruct lower jaw bone | 16.72 | 10.96 | NA | 1.13 | 28.81 | NA | 090
21256 |  | A | Reconstruction of orbit | 16.19 | 13.20 | NA | 1.04 | 30.43 | NA | 090
21260 |  | A | Revise eye sockets | 16.52 | 11.65 | NA | 1.25 | 29.42 | NA | 090
21261 |  | A | Revise eye sockets | 31.49 | 19.12 | NA | 2.20 | 52.81 | NA | 090
21263 |  | A | Revise eye sockets | 28.42 | 14.84 | NA | 2.16 | 45.42 | NA | 090
21267 |  | A | Revise eye sockets | 18.90 | 14.43 | NA | 1.35 | 34.68 | NA | 090
21268 |  | A | Revise eye sockets | 24.48 | 11.93 | NA | 0.79 | 37.20 | NA | 090
21270 |  | A | Augmentation, cheek bone | 10.23 | 9.10 | 10.49 | 0.73 | 20.06 | 21.45 | 090
21275 |  | A | Revision, orbitofacial bones | 11.24 | 11.24 | NA | 1.03 | 23.51 | NA | 090
21280 |  | A | Revision of eyelid | 6.03 | 5.88 | NA | 0.27 | 12.18 | NA | 090
21282 |  | A | Revision of eyelid | 3.49 | 5.04 | NA | 0.21 | 8.74 | NA | 090
21295 |  | A | Revision of jaw muscle/bone | 1.53 | 3.55 | NA | 0.13 | 5.21 | NA | 090
21296 |  | A | Revision of jaw muscle/bone | 4.25 | 5.17 | NA | 0.30 | 9.72 | NA | 090
21299 |  | C | Cranio/maxillofacial surgery | 0.00 | 0.00 | 0.00 | 0.00 | 0.00 | 0.00 | YYY
21300 |  | A | Treatment of skull fracture | 0.72 | 0.27 | 2.37 | 0.09 | 1.08 | 3.18 | 000
21310 |  | A | Treatment of nose fracture | 0.58 | 0.15 | 2.54 | 0.05 | 0.78 | 3.17 | 000
21315 |  | A | Treatment of nose fracture | 1.51 | 1.24 | 3.30 | 0.12 | 2.87 | 4.93 | 010
21320 |  | A | Treatment of nose fracture | 1.85 | 1.99 | 4.85 | 0.15 | 3.99 | 6.85 | 010
21325 |  | A | Treatment of nose fracture | 3.77 | 3.71 | NA | 0.31 | 7.79 | NA | 090
21330 |  | A | Treatment of nose fracture | 5.38 | 5.50 | NA | 0.48 | 11.36 | NA | 090
21335 |  | A | Treatment of nose fracture | 8.61 | 7.10 | NA | 0.64 | 16.35 | NA | 090
21336 |  | A | Treat nasal septal fracture | 5.72 | 5.50 | NA | 0.45 | 11.67 | NA | 090
21337 |  | A | Treat nasal septal fracture | 2.70 | 3.17 | 5.02 | 0.22 | 6.09 | 7.94 | 090
21338 |  | A | Treat nasoethmoid fracture | 6.46 | 5.94 | NA | 0.53 | 12.93 | NA | 090
21339 |  | A | Treat nasoethmoid fracture | 8.09 | 6.95 | NA | 0.76 | 15.80 | NA | 090
21340 |  | A | Treatment of nose fracture | 10.77 | 9.36 | NA | 0.85 | 20.98 | NA | 090
21343 |  | A | Treatment of sinus fracture | 12.95 | 9.99 | NA | 1.06 | 24.00 | NA | 090
21344 |  | A | Treatment of sinus fracture | 19.72 | 13.42 | NA | 1.72 | 34.86 | NA | 090
21345 |  | A | Treat nose/jaw fracture | 8.16 | 7.44 | 8.86 | 0.60 | 16.20 | 17.62 | 090
21346 |  | A | Treat nose/jaw fracture | 10.61 | 10.35 | NA | 0.85 | 21.81 | NA | 090
21347 |  | A | Treat nose/jaw fracture | 12.69 | 9.36 | NA | 1.14 | 23.19 | NA | 090
21348 |  | A | Treat nose/jaw fracture | 16.69 | 10.37 | NA | 1.50 | 28.56 | NA | 090
21355 |  | A | Treat cheek bone fracture | 3.77 | 2.41 | 4.84 | 0.29 | 6.47 | 8.90 | 010
21356 |  | A | Treat cheek bone fracture | 4.15 | 3.25 | NA | 0.36 | 7.76 | NA | 010
21360 |  | A | Treat cheek bone fracture | 6.46 | 5.77 | NA | 0.52 | 12.75 | NA | 090
21365 |  | A | Treat cheek bone fracture | 14.95 | 11.37 | NA | 1.30 | 27.62 | NA | 090
21366 |  | A | Treat cheek bone fracture | 17.77 | 12.08 | NA | 1.41 | 31.26 | NA | 090
21385 |  | A | Treat eye socket fracture | 9.16 | 7.63 | NA | 0.64 | 17.43 | NA | 090
21386 |  | A | Treat eye socket fracture | 9.16 | 8.03 | NA | 0.76 | 17.95 | NA | 090
21387 |  | A | Treat eye socket fracture | 9.70 | 8.16 | NA | 0.78 | 18.64 | NA | 090
21390 |  | A | Treat eye socket fracture | 10.13 | 8.38 | NA | 0.70 | 19.21 | NA | 090
21395 |  | A | Treat eye socket fracture | 12.68 | 10.07 | NA | 1.09 | 23.84 | NA | 090
21400 |  | A | Treat eye socket fracture | 1.40 | 1.08 | 2.93 | 0.12 | 2.60 | 4.45 | 090
21401 |  | A | Treat eye socket fracture | 3.26 | 3.25 | 5.59 | 0.34 | 6.85 | 9.19 | 090
21406 |  | A | Treat eye socket fracture | 7.01 | 6.60 | NA | 0.59 | 14.20 | NA | 090
21407 |  | A | Treat eye socket fracture | 8.61 | 7.71 | NA | 0.67 | 16.99 | NA | 090
21408 |  | A | Treat eye socket fracture | 12.38 | 9.70 | NA | 1.24 | 23.32 | NA | 090
21421 |  | A | Treat mouth roof fracture | 5.14 | 6.35 | 7.45 | 0.42 | 11.91 | 13.01 | 090
21422 |  | A | Treat mouth roof fracture | 8.32 | 7.21 | NA | 0.69 | 16.22 | NA | 090
21423 |  | A | Treat mouth roof fracture | 10.40 | 8.19 | NA | 0.95 | 19.54 | NA | 090
21431 |  | A | Treat craniofacial fracture | 7.05 | 5.25 | NA | 0.58 | 12.88 | NA | 090
21432 |  | A | Treat craniofacial fracture | 8.61 | 7.40 | NA | 0.55 | 16.56 | NA | 090
21433 |  | A | Treat craniofacial fracture | 25.35 | 17.86 | NA | 2.46 | 45.67 | NA | 090
21435 |  | A | Treat craniofacial fracture | 17.25 | 11.71 | NA | 1.66 | 30.62 | NA | 090
21436 |  | A | Treat craniofacial fracture | 28.04 | 18.98 | NA | 2.32 | 49.34 | NA | 090
21440 |  | A | Treat dental ridge fracture | 2.70 | 3.38 | 5.43 | 0.22 | 6.30 | 8.35 | 090
21445 |  | A | Treat dental ridge fracture | 5.38 | 5.37 | 7.07 | 0.55 | 11.30 | 13.00 | 090
21450 |  | A | Treat lower jaw fracture | 2.97 | 2.67 | 6.70 | 0.23 | 5.87 | 9.90 | 090
21451 |  | A | Treat lower jaw fracture | 4.87 | 5.49 | 6.58 | 0.39 | 10.75 | 11.84 | 090
21452 |  | A | Treat lower jaw fracture | 1.98 | 3.84 | 9.04 | 0.14 | 5.96 | 11.16 | 090
21453 |  | A | Treat lower jaw fracture | 5.54 | 6.28 | 7.56 | 0.49 | 12.31 | 13.59 | 090
21454 |  | A | Treat lower jaw fracture | 6.46 | 6.01 | NA | 0.55 | 13.02 | NA | 090
21461 |  | A | Treat lower jaw fracture | 8.09 | 7.83 | 9.74 | 0.73 | 16.65 | 18.56 | 090
21462 |  | A | Treat lower jaw fracture | 9.79 | 7.91 | 11.11 | 0.80 | 18.50 | 21.70 | 090
21465 |  | A | Treat lower jaw fracture | 11.91 | 7.37 | NA | 0.84 | 20.12 | NA | 090
21470 |  | A | Treat lower jaw fracture | 15.34 | 9.83 | NA | 1.36 | 26.53 | NA | 090
21480 |  | A | Reset dislocated jaw | 0.61 | 0.18 | 1.59 | 0.05 | 0.84 | 2.25 | 000
21485 |  | A | Reset dislocated jaw | 3.99 | 3.49 | 3.80 | 0.31 | 7.79 | 8.10 | 090
21490 |  | A | Repair dislocated jaw | 11.86 | 7.50 | NA | 1.31 | 20.67 | NA | 090
21493 |  | A | Treat hyoid bone fracture | 1.27 | 3.05 | NA | 0.10 | 4.42 | NA | 090
21494 |  | A | Treat hyoid bone fracture | 6.28 | 5.28 | NA | 0.44 | 12.00 | NA | 090
21495 |  | A | Treat hyoid bone fracture | 5.69 | 4.83 | NA | 0.41 | 10.93 | NA | 090
21497 |  | A | Interdental wiring | 3.86 | 3.78 | 4.72 | 0.31 | 7.95 | 8.89 | 090
21499 |  | C | Head surgery procedure | 0.00 | 0.00 | 0.00 | 0.00 | 0.00 | 0.00 | YYY
21501 |  | A | Drain neck/chest lesion | 3.81 | 3.57 | 4.31 | 0.36 | 7.74 | 8.48 | 090
21502 |  | A | Drain chest lesion | 7.12 | 7.71 | NA | 0.79 | 15.62 | NA | 090
21510 |  | A | Drainage of bone lesion | 5.74 | 6.86 | NA | 0.67 | 13.27 | NA | 090
21550 |  | A | Biopsy of neck/chest | 2.06 | 1.22 | 2.24 | 0.13 | 3.41 | 4.43 | 010
21555 |  | A | Remove lesion, neck/chest | 4.35 | 2.47 | 4.15 | 0.41 | 7.23 | 8.91 | 090
21556 |  | A | Remove lesion, neck/chest | 5.57 | 3.24 | NA | 0.51 | 9.32 | NA | 090
21557 |  | A | Remove tumor, neck/chest | 8.88 | 7.74 | NA | 0.85 | 17.47 | NA | 090
21600 |  | A | Partial removal of rib | 6.89 | 7.59 | NA | 0.81 | 15.29 | NA | 090
21610 |  | A | Partial removal of rib | 14.61 | 10.68 | NA | 1.85 | 27.14 | NA | 090
21615 |  | A | Removal of rib | 9.87 | 8.29 | NA | 1.20 | 19.36 | NA | 090
21616 |  | A | Removal of rib and nerves | 12.04 | 8.18 | NA | 1.31 | 21.53 | NA | 090
21620 |  | A | Partial removal of sternum | 6.79 | 8.03 | NA | 0.77 | 15.59 | NA | 090
21627 |  | A | Sternal debridement | 6.81 | 12.78 | NA | 0.82 | 20.41 | NA | 090
21630 |  | A | Extensive sternum surgery | 17.38 | 13.87 | NA | 1.95 | 33.20 | NA | 090
21632 |  | A | Extensive sternum surgery | 18.14 | 12.62 | NA | 2.16 | 32.92 | NA | 090
21700 |  | A | Revision of neck muscle | 6.19 | 7.11 | 8.71 | 0.31 | 13.61 | 15.21 | 090
21705 |  | A | Revision of neck muscle/rib | 9.60 | 7.18 | NA | 0.92 | 17.70 | NA | 090
21720 |  | A | Revision of neck muscle | 5.68 | 7.01 | 7.61 | 0.80 | 13.49 | 14.09 | 090
21725 |  | A | Revision of neck muscle | 6.99 | 6.89 | NA | 0.90 | 14.78 | NA | 090
21740 |  | A | Reconstruction of sternum | 16.50 | 12.24 | NA | 2.03 | 30.77 | NA | 090
21750 |  | A | Repair of sternum separation | 10.77 | 9.98 | NA | 1.35 | 22.10 | NA | 090
21800 |  | A | Treatment of rib fracture | 0.96 | 1.01 | 2.21 | 0.09 | 2.06 | 3.26 | 090
21805 |  | A | Treatment of rib fracture | 2.75 | 4.06 | NA | 0.29 | 7.10 | NA | 090
21810 |  | A | Treatment of rib fracture(s) | 6.86 | 6.27 | NA | 0.60 | 13.73 | NA | 090
21820 |  | A | Treat sternum fracture | 1.28 | 1.46 | 2.61 | 0.15 | 2.89 | 4.04 | 090
21825 |  | A | Treat sternum fracture | 7.41 | 10.09 | NA | 0.84 | 18.34 | NA | 090
21899 |  | C | Neck/chest surgery procedure | 0.00 | 0.00 | 0.00 | 0.00 | 0.00 | 0.00 | YYY
21920 |  | A | Biopsy soft tissue of back | 2.06 | 0.75 | 2.32 | 0.12 | 2.93 | 4.50 | 010
21925 |  | A | Biopsy soft tissue of back | 4.49 | 4.47 | 10.95 | 0.44 | 9.40 | 15.88 | 090
21930 |  | A | Remove lesion, back or flank | 5.00 | 2.65 | 4.56 | 0.49 | 8.14 | 10.05 | 090
21935 |  | A | Remove tumor, back | 17.96 | 13.26 | NA | 1.87 | 33.09 | NA | 090
22100 |  | A | Remove part of neck vertebra | 9.73 | 8.67 | NA | 1.55 | 19.95 | NA | 090
22101 |  | A | Remove part, thorax vertebra | 9.81 | 8.49 | NA | 1.51 | 19.81 | NA | 090
22102 |  | A | Remove part, lumbar vertebra | 9.81 | 8.70 | NA | 1.46 | 19.97 | NA | 090
22103 |  | A | Remove extra spine segment | 2.34 | 1.30 | NA | 0.37 | 4.01 | NA | ZZZ
22110 |  | A | Remove part of neck vertebra | 12.74 | 10.53 | NA | 2.20 | 25.47 | NA | 090
22112 |  | A | Remove part, thorax vertebra | 12.81 | 10.60 | NA | 1.96 | 25.37 | NA | 090
22114 |  | A | Remove part, lumbar vertebra | 12.81 | 10.34 | NA | 1.98 | 25.13 | NA | 090
22116 |  | A | Remove extra spine segment | 2.32 | 1.19 | NA | 0.40 | 3.91 | NA | ZZZ
22210 |  | A | Revision of neck spine | 23.82 | 16.94 | NA | 4.23 | 44.99 | NA | 090
22212 |  | A | Revision of thorax spine | 19.42 | 14.35 | NA | 2.78 | 36.55 | NA | 090
22214 |  | A | Revision of lumbar spine | 19.45 | 14.92 | NA | 2.78 | 37.15 | NA | 090
22216 |  | A | Revise, extra spine segment | 6.04 | 3.31 | NA | 0.98 | 10.33 | NA | ZZZ
22220 |  | A | Revision of neck spine | 21.37 | 15.46 | NA | 3.65 | 40.48 | NA | 090
22222 |  | A | Revision of thorax spine | 21.52 | 13.62 | NA | 3.08 | 38.22 | NA | 090
22224 |  | A | Revision of lumbar spine | 21.52 | 15.68 | NA | 3.20 | 40.40 | NA | 090
22226 |  | A | Revise, extra spine segment | 6.04 | 3.30 | NA | 1.01 | 10.35 | NA | ZZZ
22305 |  | A | Treat spine process fracture | 2.05 | 1.87 | 3.03 | 0.29 | 4.21 | 5.37 | 090
22310 |  | A | Treat spine fracture | 2.61 | 3.28 | 4.38 | 0.37 | 6.26 | 7.36 | 090
22315 |  | A | Treat spine fracture | 8.84 | 8.89 | NA | 1.37 | 19.10 | NA | 090
22318 |  | A | Treat odontoid fx w/o graft | 21.50 | 14.60 | NA | 4.26 | 40.36 | NA | 090
22319 |  | A | Treat odontoid fx w/graft | 24.00 | 16.89 | NA | 4.76 | 45.65 | NA | 090
22325 |  | A | Treat spine fracture | 18.30 | 14.45 | NA | 2.61 | 35.36 | NA | 090
22326 |  | A | Treat neck spine fracture | 19.59 | 15.28 | NA | 3.54 | 38.41 | NA | 090
22327 |  | A | Treat thorax spine fracture | 19.20 | 14.83 | NA | 2.75 | 36.78 | NA | 090
22328 |  | A | Treat each add spine fx | 4.61 | 2.30 | NA | 0.66 | 7.57 | NA | ZZZ
22505 |  | A | Manipulation of spine | 1.87 | 3.01 | 4.59 | 0.27 | 5.15 | 6.73 | 010
22520 |  | A | Percut vertebroplasty thor | 8.91 | 3.91 | NA | 0.89 | 13.71 | NA | 010
22521 |  | A | Percut vertebroplasty lumb | 8.34 | 3.68 | NA | 0.84 | 12.86 | NA | 010
22522 |  | A | Percut vertebroplasty addl | 3.00 | 1.19 | NA | 0.30 | 4.49 | NA | ZZZ
22548 |  | A | Neck spine fusion | 25.82 | 17.74 | NA | 4.98 | 48.54 | NA | 090
22554 |  | A | Neck spine fusion | 18.62 | 13.65 | NA | 3.51 | 35.78 | NA | 090
22556 |  | A | Thorax spine fusion | 23.46 | 16.42 | NA | 3.78 | 43.66 | NA | 090
22558 |  | A | Lumbar spine fusion | 22.28 | 14.36 | NA | 3.18 | 39.82 | NA | 090
22585 |  | A | Additional spinal fusion | 5.53 | 2.92 | NA | 0.98 | 9.43 | NA | ZZZ
22590 |  | A | Spine & skull spinal fusion | 20.51 | 15.33 | NA | 3.81 | 39.65 | NA | 090
22595 |  | A | Neck spinal fusion | 19.39 | 14.31 | NA | 3.62 | 37.32 | NA | 090
22600 |  | A | Neck spine fusion | 16.14 | 12.58 | NA | 2.89 | 31.61 | NA | 090
22610 |  | A | Thorax spine fusion | 16.02 | 12.54 | NA | 2.66 | 31.22 | NA | 090
22612 |  | A | Lumbar spine fusion | 21.00 | 15.36 | NA | 3.28 | 39.64 | NA | 090
22614 |  | A | Spine fusion, extra segment | 6.44 | 3.53 | NA | 1.04 | 11.01 | NA | ZZZ
22630 |  | A | Lumbar spine fusion | 20.84 | 15.57 | NA | 3.79 | 40.20 | NA | 090
22632 |  | A | Spine fusion, extra segment | 5.23 | 2.82 | NA | 0.90 | 8.95 | NA | ZZZ
22800 |  | A | Fusion of spine | 18.25 | 13.64 | NA | 2.71 | 34.60 | NA | 090
22802 |  | A | Fusion of spine | 30.88 | 21.30 | NA | 4.42 | 56.60 | NA | 090
22804 |  | A | Fusion of spine | 36.27 | 24.04 | NA | 5.23 | 65.54 | NA | 090
22808 |  | A | Fusion of spine | 26.27 | 18.18 | NA | 4.36 | 48.81 | NA | 090
22810 |  | A | Fusion of spine | 30.27 | 19.81 | NA | 4.49 | 54.57 | NA | 090
22812 |  | A | Fusion of spine | 32.70 | 21.83 | NA | 4.67 | 59.20 | NA | 090
22818 |  | A | Kyphectomy, 1-2 segments | 31.83 | 21.14 | NA | 5.01 | 57.98 | NA | 090
22819 |  | A | Kyphectomy, 3 or more | 36.44 | 20.86 | NA | 5.20 | 62.50 | NA | 090
22830 |  | A | Exploration of spinal fusion | 10.85 | 9.57 | NA | 1.73 | 22.15 | NA | 090
22840 |  | A | Insert spine fixation device | 12.54 | 8.37 | NA | 2.03 | 22.94 | NA | ZZZ
22841 |  | B | Insert spine fixation device | 0.00 | 0.00 | 0.00 | 0.00 | 0.00 | 0.00 | XXX
22842 |  | A | Insert spine fixation device | 12.58 | 6.87 | NA | 2.04 | 21.49 | NA | ZZZ
22843 |  | A | Insert spine fixation device | 13.46 | 8.86 | NA | 2.10 | 24.42 | NA | ZZZ
22844 |  | A | Insert spine fixation device | 16.44 | 10.54 | NA | 2.42 | 29.40 | NA | ZZZ
22845 |  | A | Insert spine fixation device | 11.96 | 7.95 | NA | 2.22 | 22.13 | NA | ZZZ
22846 |  | A | Insert spine fixation device | 12.42 | 8.21 | NA | 2.26 | 22.89 | NA | ZZZ
22847 |  | A | Insert spine fixation device | 13.80 | 8.97 | NA | 2.36 | 25.13 | NA | ZZZ
22848 |  | A | Insert pelv fixation device | 6.00 | 4.75 | NA | 0.88 | 11.63 | NA | ZZZ
22849 |  | A | Reinsert spinal fixation | 18.51 | 13.72 | NA | 2.87 | 35.10 | NA | 090
22850 |  | A | Remove spine fixation device | 9.52 | 8.41 | NA | 1.51 | 19.44 | NA | 090
22851 |  | A | Apply spine prosth device | 6.71 | 5.08 | NA | 1.11 | 12.90 | NA | ZZZ
22852 |  | A | Remove spine fixation device | 9.01 | 8.18 | NA | 1.40 | 18.59 | NA | 090
22855 |  | A | Remove spine fixation device | 15.13 | 11.28 | NA | 2.74 | 29.15 | NA | 090
22899 |  | C | Spine surgery procedure | 0.00 | 0.00 | 0.00 | 0.00 | 0.00 | 0.00 | YYY
22900 |  | A | Remove abdominal wall lesion | 5.80 | 4.29 | NA | 0.58 | 10.67 | NA | 090
22999 |  | C | Abdomen surgery procedure | 0.00 | 0.00 | 0.00 | 0.00 | 0.00 | 0.00 | YYY
23000 |  | A | Removal of calcium deposits | 4.36 | 6.59 | 8.98 | 0.50 | 11.45 | 13.84 | 090
23020 |  | A | Release shoulder joint | 8.93 | 10.02 | NA | 1.23 | 20.18 | NA | 090
23030 |  | A | Drain shoulder lesion | 3.43 | 4.18 | 5.88 | 0.42 | 8.03 | 9.73 | 010
23031 |  | A | Drain shoulder bursa | 2.74 | 3.82 | 5.81 | 0.33 | 6.89 | 8.88 | 010
23035 |  | A | Drain shoulder bone lesion | 8.61 | 14.53 | NA | 1.19 | 24.33 | NA | 090
23040 |  | A | Exploratory shoulder surgery | 9.20 | 10.87 | NA | 1.28 | 21.35 | NA | 090
23044 |  | A | Exploratory shoulder surgery | 7.12 | 9.79 | NA | 0.97 | 17.88 | NA | 090
23065 |  | A | Biopsy shoulder tissues | 2.27 | 1.29 | 2.53 | 0.14 | 3.70 | 4.94 | 010
23066 |  | A | Biopsy shoulder tissues | 4.16 | 6.04 | 7.42 | 0.50 | 10.70 | 12.08 | 090
23075 |  | A | Removal of shoulder lesion | 2.39 | 3.08 | 5.25 | 0.25 | 5.72 | 7.89 | 010
23076 |  | A | Removal of shoulder lesion | 7.63 | 8.03 | NA | 0.87 | 16.53 | NA | 090
23077 |  | A | Remove tumor of shoulder | 16.09 | 14.40 | NA | 1.81 | 32.30 | NA | 090
23100 |  | A | Biopsy of shoulder joint | 6.03 | 8.01 | NA | 0.81 | 14.85 | NA | 090
23101 |  | A | Shoulder joint surgery | 5.58 | 8.10 | NA | 0.77 | 14.45 | NA | 090
23105 |  | A | Remove shoulder joint lining | 8.23 | 9.64 | NA | 1.13 | 19.00 | NA | 090
23106 |  | A | Incision of collarbone joint | 5.96 | 8.29 | NA | 0.82 | 15.07 | NA | 090
23107 |  | A | Explore treat shoulder joint | 8.62 | 9.61 | NA | 1.19 | 19.42 | NA | 090
23120 |  | A | Partial removal, collar bone | 7.11 | 8.86 | NA | 0.99 | 16.96 | NA | 090
23125 |  | A | Removal of collar bone | 9.39 | 10.24 | NA | 1.27 | 20.90 | NA | 090
23130 |  | A | Remove shoulder bone, part | 7.55 | 9.11 | NA | 1.06 | 17.72 | NA | 090
23140 |  | A | Removal of bone lesion | 6.89 | 8.21 | NA | 0.82 | 15.92 | NA | 090
23145 |  | A | Removal of bone lesion | 9.09 | 11.52 | NA | 1.24 | 21.85 | NA | 090
23146 |  | A | Removal of bone lesion | 7.83 | 9.97 | NA | 1.11 | 18.91 | NA | 090
23150 |  | A | Removal of humerus lesion | 8.48 | 9.44 | NA | 1.14 | 19.06 | NA | 090
23155 |  | A | Removal of humerus lesion | 10.35 | 10.88 | NA | 1.20 | 22.43 | NA | 090
23156 |  | A | Removal of humerus lesion | 8.68 | 9.69 | NA | 1.18 | 19.55 | NA | 090
23170 |  | A | Remove collar bone lesion | 6.86 | 10.32 | NA | 0.84 | 18.02 | NA | 090
23172 |  | A | Remove shoulder blade lesion | 6.90 | 10.73 | NA | 0.95 | 18.58 | NA | 090
23174 |  | A | Remove humerus lesion | 9.51 | 10.99 | NA | 1.30 | 21.80 | NA | 090
23180 |  | A | Remove collar bone lesion | 8.53 | 14.68 | NA | 1.18 | 24.39 | NA | 090
23182 |  | A | Remove shoulder blade lesion | 8.15 | 15.09 | NA | 1.08 | 24.32 | NA | 090
23184 |  | A | Remove humerus lesion | 9.38 | 14.91 | NA | 1.24 | 25.53 | NA | 090
23190 |  | A | Partial removal of scapula | 7.24 | 8.12 | NA | 0.97 | 16.33 | NA | 090
23195 |  | A | Removal of head of humerus | 9.81 | 10.47 | NA | 1.38 | 21.66 | NA | 090
23200 |  | A | Removal of collar bone | 12.08 | 13.34 | NA | 1.48 | 26.90 | NA | 090
23210 |  | A | Removal of shoulder blade | 12.49 | 13.73 | NA | 1.61 | 27.83 | NA | 090
23220 |  | A | Partial removal of humerus | 14.56 | 14.41 | NA | 2.03 | 31.00 | NA | 090
23221 |  | A | Partial removal of humerus | 17.74 | 16.13 | NA | 2.51 | 36.38 | NA | 090
23222 |  | A | Partial removal of humerus | 23.92 | 19.80 | NA | 3.37 | 47.09 | NA | 090
23330 |  | A | Remove shoulder foreign body | 1.85 | 4.11 | 5.58 | 0.18 | 6.14 | 7.61 | 010
23331 |  | A | Remove shoulder foreign body | 7.38 | 8.97 | NA | 1.02 | 17.37 | NA | 090
23332 |  | A | Remove shoulder foreign body | 11.62 | 11.35 | NA | 1.62 | 24.59 | NA | 090
23350 |  | A | Injection for shoulder x-ray | 1.00 | 0.35 | 9.72 | 0.05 | 1.40 | 10.77 | 000
23395 |  | A | Muscle transfer,shoulder/arm | 16.85 | 13.51 | NA | 2.29 | 32.65 | NA | 090
23397 |  | A | Muscle transfers | 16.13 | 14.01 | NA | 2.24 | 32.38 | NA | 090
23400 |  | A | Fixation of shoulder blade | 13.54 | 12.98 | NA | 1.91 | 28.43 | NA | 090
23405 |  | A | Incision of tendon & muscle | 8.37 | 8.93 | NA | 1.12 | 18.42 | NA | 090
23406 |  | A | Incise tendon(s) & muscle(s) | 10.79 | 10.89 | NA | 1.48 | 23.16 | NA | 090
23410 |  | A | Repair of tendon(s) | 12.45 | 11.71 | NA | 1.72 | 25.88 | NA | 090
23412 |  | A | Repair of tendon(s) | 13.31 | 12.29 | NA | 1.86 | 27.46 | NA | 090
23415 |  | A | Release of shoulder ligament | 9.97 | 9.62 | NA | 1.39 | 20.98 | NA | 090
23420 |  | A | Repair of shoulder | 13.30 | 13.10 | NA | 1.86 | 28.26 | NA | 090
23430 |  | A | Repair biceps tendon | 9.98 | 10.45 | NA | 1.40 | 21.83 | NA | 090
23440 |  | A | Remove/transplant tendon | 10.48 | 10.69 | NA | 1.47 | 22.64 | NA | 090
23450 |  | A | Repair shoulder capsule | 13.40 | 12.40 | NA | 1.86 | 27.66 | NA | 090
23455 |  | A | Repair shoulder capsule | 14.37 | 12.91 | NA | 2.01 | 29.29 | NA | 090
23460 |  | A | Repair shoulder capsule | 15.37 | 13.57 | NA | 2.17 | 31.11 | NA | 090
23462 |  | A | Repair shoulder capsule | 15.30 | 13.41 | NA | 2.16 | 30.87 | NA | 090
23465 |  | A | Repair shoulder capsule | 15.85 | 12.40 | NA | 1.61 | 29.86 | NA | 090
23466 |  | A | Repair shoulder capsule | 14.22 | 12.83 | NA | 2.00 | 29.05 | NA | 090
23470 |  | A | Reconstruct shoulder joint | 17.15 | 14.42 | NA | 2.40 | 33.97 | NA | 090
23472 |  | A | Reconstruct shoulder joint | 21.10 | 16.66 | NA | 2.37 | 40.13 | NA | 090
23480 |  | A | Revision of collar bone | 11.18 | 11.16 | NA | 1.56 | 23.90 | NA | 090
23485 |  | A | Revision of collar bone | 13.43 | 12.42 | NA | 1.84 | 27.69 | NA | 090
23490 |  | A | Reinforce clavicle | 11.86 | 10.64 | NA | 1.11 | 23.61 | NA | 090
23491 |  | A | Reinforce shoulder bones | 14.21 | 12.60 | NA | 2.00 | 28.81 | NA | 090
23500 |  | A | Treat clavicle fracture | 2.08 | 2.38 | 3.55 | 0.26 | 4.72 | 5.89 | 090
23505 |  | A | Treat clavicle fracture | 3.69 | 3.78 | 5.48 | 0.50 | 7.97 | 9.67 | 090
23515 |  | A | Treat clavicle fracture | 7.41 | 7.70 | NA | 1.03 | 16.14 | NA | 090
23520 |  | A | Treat clavicle dislocation | 2.16 | 2.42 | 3.49 | 0.26 | 4.84 | 5.91 | 090
23525 |  | A | Treat clavicle dislocation | 3.60 | 3.65 | 5.36 | 0.44 | 7.69 | 9.40 | 090
23530 |  | A | Treat clavicle dislocation | 7.31 | 8.24 | NA | 0.85 | 16.40 | NA | 090
23532 |  | A | Treat clavicle dislocation | 8.01 | 8.09 | NA | 1.13 | 17.23 | NA | 090
23540 |  | A | Treat clavicle dislocation | 2.23 | 2.40 | 4.13 | 0.24 | 4.87 | 6.60 | 090
23545 |  | A | Treat clavicle dislocation | 3.25 | 3.46 | 4.74 | 0.39 | 7.10 | 8.38 | 090
23550 |  | A | Treat clavicle dislocation | 7.24 | 7.74 | NA | 0.94 | 15.92 | NA | 090
23552 |  | A | Treat clavicle dislocation | 8.45 | 8.31 | NA | 1.18 | 17.94 | NA | 090
23570 |  | A | Treat shoulder blade fx | 2.23 | 2.49 | 3.53 | 0.29 | 5.01 | 6.05 | 090
23575 |  | A | Treat shoulder blade fx | 4.06 | 4.00 | 5.61 | 0.53 | 8.59 | 10.20 | 090
23585 |  | A | Treat scapula fracture | 8.96 | 8.85 | NA | 1.25 | 19.06 | NA | 090
23600 |  | A | Treat humerus fracture | 2.93 | 3.37 | 5.09 | 0.39 | 6.69 | 8.41 | 090
23605 |  | A | Treat humerus fracture | 4.87 | 6.04 | 7.59 | 0.67 | 11.58 | 13.13 | 090
23615 |  | A | Treat humerus fracture | 9.35 | 9.54 | NA | 1.31 | 20.20 | NA | 090
23616 |  | A | Treat humerus fracture | 21.27 | 15.63 | NA | 2.98 | 39.88 | NA | 090
23620 |  | A | Treat humerus fracture | 2.40 | 3.11 | 4.79 | 0.32 | 5.83 | 7.51 | 090
23625 |  | A | Treat humerus fracture | 3.93 | 5.07 | 6.64 | 0.53 | 9.53 | 11.10 | 090
23630 |  | A | Treat humerus fracture | 7.35 | 7.69 | NA | 1.03 | 16.07 | NA | 090
23650 |  | A | Treat shoulder dislocation | 3.39 | 3.37 | 5.22 | 0.31 | 7.07 | 8.92 | 090
23655 |  | A | Treat shoulder dislocation | 4.57 | 4.06 | NA | 0.52 | 9.15 | NA | 090
23660 |  | A | Treat shoulder dislocation | 7.49 | 7.67 | NA | 1.01 | 16.17 | NA | 090
23665 |  | A | Treat dislocation/fracture | 4.47 | 5.35 | 6.96 | 0.60 | 10.42 | 12.03 | 090
23670 |  | A | Treat dislocation/fracture | 7.90 | 8.14 | NA | 1.10 | 17.14 | NA | 090
23675 |  | A | Treat dislocation/fracture | 6.05 | 6.26 | 7.75 | 0.83 | 13.14 | 14.63 | 090
23680 |  | A | Treat dislocation/fracture | 10.06 | 9.35 | NA | 1.39 | 20.80 | NA | 090
23700 |  | A | Fixation of shoulder | 2.52 | 3.22 | NA | 0.35 | 6.09 | NA | 010
23800 |  | A | Fusion of shoulder joint | 14.16 | 13.57 | NA | 1.97 | 29.70 | NA | 090
23802 |  | A | Fusion of shoulder joint | 16.60 | 15.04 | NA | 2.34 | 33.98 | NA | 090
23900 |  | A | Amputation of arm & girdle | 19.72 | 14.75 | NA | 2.47 | 36.94 | NA | 090
23920 |  | A | Amputation at shoulder joint | 14.61 | 13.93 | NA | 1.92 | 30.46 | NA | 090
23921 |  | A | Amputation follow-up surgery | 5.49 | 6.54 | NA | 0.78 | 12.81 | NA | 090
23929 |  | C | Shoulder surgery procedure | 0.00 | 0.00 | 0.00 | 0.00 | 0.00 | 0.00 | YYY
23930 |  | A | Drainage of arm lesion | 2.94 | 3.86 | 5.96 | 0.32 | 7.12 | 9.22 | 010
23931 |  | A | Drainage of arm bursa | 1.79 | 3.38 | 5.50 | 0.21 | 5.38 | 7.50 | 010
23935 |  | A | Drain arm/elbow bone lesion | 6.09 | 11.98 | NA | 0.84 | 18.91 | NA | 090
24000 |  | A | Exploratory elbow surgery | 5.82 | 5.71 | NA | 0.77 | 12.30 | NA | 090
24006 |  | A | Release elbow joint | 9.31 | 8.16 | NA | 1.27 | 18.74 | NA | 090
24065 |  | A | Biopsy arm/elbow soft tissue | 2.08 | 3.25 | 5.41 | 0.14 | 5.47 | 7.63 | 010
24066 |  | A | Biopsy arm/elbow soft tissue | 5.21 | 6.39 | 8.70 | 0.61 | 12.21 | 14.52 | 090
24075 |  | A | Remove arm/elbow lesion | 3.92 | 5.87 | 8.10 | 0.43 | 10.22 | 12.45 | 090
24076 |  | A | Remove arm/elbow lesion | 6.30 | 6.92 | NA | 0.70 | 13.92 | NA | 090
24077 |  | A | Remove tumor of arm/elbow | 11.76 | 13.74 | NA | 1.32 | 26.82 | NA | 090
24100 |  | A | Biopsy elbow joint lining | 4.93 | 5.51 | NA | 0.62 | 11.06 | NA | 090
24101 |  | A | Explore/treat elbow joint | 6.13 | 6.33 | NA | 0.84 | 13.30 | NA | 090
24102 |  | A | Remove elbow joint lining | 8.03 | 7.45 | NA | 1.09 | 16.57 | NA | 090
24105 |  | A | Removal of elbow bursa | 3.61 | 4.84 | NA | 0.49 | 8.94 | NA | 090
24110 |  | A | Remove humerus lesion | 7.39 | 9.03 | NA | 0.99 | 17.41 | NA | 090
24115 |  | A | Remove/graft bone lesion | 9.63 | 9.42 | NA | 1.15 | 20.20 | NA | 090
24116 |  | A | Remove/graft bone lesion | 11.81 | 11.23 | NA | 1.66 | 24.70 | NA | 090
24120 |  | A | Remove elbow lesion | 6.65 | 6.33 | NA | 0.87 | 13.85 | NA | 090
24125 |  | A | Remove/graft bone lesion | 7.89 | 6.60 | NA | 0.88 | 15.37 | NA | 090
24126 |  | A | Remove/graft bone lesion | 8.31 | 7.22 | NA | 0.90 | 16.43 | NA | 090
24130 |  | A | Removal of head of radius | 6.25 | 6.43 | NA | 0.87 | 13.55 | NA | 090
24134 |  | A | Removal of arm bone lesion | 9.73 | 15.45 | NA | 1.31 | 26.49 | NA | 090
24136 |  | A | Remove radius bone lesion | 7.99 | 6.71 | NA | 0.85 | 15.55 | NA | 090
24138 |  | A | Remove elbow bone lesion | 8.05 | 7.37 | NA | 1.12 | 16.54 | NA | 090
24140 |  | A | Partial removal of arm bone | 9.18 | 15.93 | NA | 1.23 | 26.34 | NA | 090
24145 |  | A | Partial removal of radius | 7.58 | 10.30 | NA | 1.01 | 18.89 | NA | 090
24147 |  | A | Partial removal of elbow | 7.54 | 10.34 | NA | 1.04 | 18.92 | NA | 090
24149 |  | A | Radical resection of elbow | 14.20 | 10.85 | NA | 1.90 | 26.95 | NA | 090
24150 |  | A | Extensive humerus surgery | 13.27 | 13.78 | NA | 1.81 | 28.86 | NA | 090
24151 |  | A | Extensive humerus surgery | 15.58 | 15.36 | NA | 2.19 | 33.13 | NA | 090
24152 |  | A | Extensive radius surgery | 10.06 | 8.95 | NA | 1.19 | 20.20 | NA | 090
24153 |  | A | Extensive radius surgery | 11.54 | 7.34 | NA | 0.64 | 19.52 | NA | 090
24155 |  | A | Removal of elbow joint | 11.73 | 8.81 | NA | 1.42 | 21.96 | NA | 090
24160 |  | A | Remove elbow joint implant | 7.83 | 7.33 | NA | 1.07 | 16.23 | NA | 090
24164 |  | A | Remove radius head implant | 6.23 | 6.36 | NA | 0.84 | 13.43 | NA | 090
24200 |  | A | Removal of arm foreign body | 1.76 | 3.16 | 5.90 | 0.15 | 5.07 | 7.81 | 010
24201 |  | A | Removal of arm foreign body | 4.56 | 6.75 | 8.45 | 0.56 | 11.87 | 13.57 | 090
24220 |  | A | Injection for elbow x-ray | 1.31 | 0.47 | 10.76 | 0.07 | 1.85 | 12.14 | 000
24301 |  | A | Muscle/tendon transfer | 10.20 | 8.94 | NA | 1.30 | 20.44 | NA | 090
24305 |  | A | Arm tendon lengthening | 7.45 | 7.15 | NA | 0.98 | 15.58 | NA | 090
24310 |  | A | Revision of arm tendon | 5.98 | 7.77 | NA | 0.74 | 14.49 | NA | 090
24320 |  | A | Repair of arm tendon | 10.56 | 10.12 | NA | 1.00 | 21.68 | NA | 090
24330 |  | A | Revision of arm muscles | 9.60 | 8.44 | NA | 1.21 | 19.25 | NA | 090
24331 |  | A | Revision of arm muscles | 10.65 | 8.80 | NA | 1.41 | 20.86 | NA | 090
24340 |  | A | Repair of biceps tendon | 7.89 | 7.23 | NA | 1.08 | 16.20 | NA | 090
24341 |  | A | Repair arm tendon/muscle | 7.90 | 7.30 | NA | 1.08 | 16.28 | NA | 090
24342 |  | A | Repair of ruptured tendon | 10.62 | 8.91 | NA | 1.48 | 21.01 | NA | 090
24350 |  | A | Repair of tennis elbow | 5.25 | 5.91 | NA | 0.72 | 11.88 | NA | 090
24351 |  | A | Repair of tennis elbow | 5.91 | 6.34 | NA | 0.82 | 13.07 | NA | 090
24352 |  | A | Repair of tennis elbow | 6.43 | 6.61 | NA | 0.90 | 13.94 | NA | 090
24354 |  | A | Repair of tennis elbow | 6.48 | 6.55 | NA | 0.88 | 13.91 | NA | 090
24356 |  | A | Revision of tennis elbow | 6.68 | 6.74 | NA | 0.90 | 14.32 | NA | 090
24360 |  | A | Reconstruct elbow joint | 12.34 | 9.65 | NA | 1.69 | 23.68 | NA | 090
24361 |  | A | Reconstruct elbow joint | 14.08 | 10.36 | NA | 1.95 | 26.39 | NA | 090
24362 |  | A | Reconstruct elbow joint | 14.99 | 10.93 | NA | 1.92 | 27.84 | NA | 090
24363 |  | A | Replace elbow joint | 18.49 | 13.26 | NA | 2.52 | 34.27 | NA | 090
24365 |  | A | Reconstruct head of radius | 8.39 | 7.62 | NA | 1.11 | 17.12 | NA | 090
24366 |  | A | Reconstruct head of radius | 9.13 | 8.06 | NA | 1.28 | 18.47 | NA | 090
24400 |  | A | Revision of humerus | 11.06 | 11.89 | NA | 1.53 | 24.48 | NA | 090
24410 |  | A | Revision of humerus | 14.82 | 13.84 | NA | 1.89 | 30.55 | NA | 090
24420 |  | A | Revision of humerus | 13.44 | 15.43 | NA | 1.82 | 30.69 | NA | 090
24430 |  | A | Repair of humerus | 12.81 | 12.15 | NA | 1.80 | 26.76 | NA | 090
24435 |  | A | Repair humerus with graft | 13.17 | 13.11 | NA | 1.84 | 28.12 | NA | 090
24470 |  | A | Revision of elbow joint | 8.74 | 7.17 | NA | 1.23 | 17.14 | NA | 090
24495 |  | A | Decompression of forearm | 8.12 | 9.47 | NA | 0.92 | 18.51 | NA | 090
24498 |  | A | Reinforce humerus | 11.92 | 11.60 | NA | 1.67 | 25.19 | NA | 090
24500 |  | A | Treat humerus fracture | 3.21 | 3.11 | 4.67 | 0.41 | 6.73 | 8.29 | 090
24505 |  | A | Treat humerus fracture | 5.17 | 6.31 | 8.09 | 0.72 | 12.20 | 13.98 | 090
24515 |  | A | Treat humerus fracture | 11.65 | 10.79 | NA | 1.63 | 24.07 | NA | 090
24516 |  | A | Treat humerus fracture | 11.65 | 11.17 | NA | 1.63 | 24.45 | NA | 090
24530 |  | A | Treat humerus fracture | 3.50 | 4.44 | 5.64 | 0.47 | 8.41 | 9.61 | 090
24535 |  | A | Treat humerus fracture | 6.87 | 6.38 | 8.13 | 0.96 | 14.21 | 15.96 | 090
24538 |  | A | Treat humerus fracture | 9.43 | 9.79 | NA | 1.25 | 20.47 | NA | 090
24545 |  | A | Treat humerus fracture | 10.46 | 9.60 | NA | 1.47 | 21.53 | NA | 090
24546 |  | A | Treat humerus fracture | 15.69 | 13.03 | NA | 2.18 | 30.90 | NA | 090
24560 |  | A | Treat humerus fracture | 2.80 | 2.89 | 4.48 | 0.35 | 6.04 | 7.63 | 090
24565 |  | A | Treat humerus fracture | 5.56 | 5.62 | 7.40 | 0.74 | 11.92 | 13.70 | 090
24566 |  | A | Treat humerus fracture | 7.79 | 9.23 | NA | 1.10 | 18.12 | NA | 090
24575 |  | A | Treat humerus fracture | 10.66 | 8.03 | NA | 1.44 | 20.13 | NA | 090
24576 |  | A | Treat humerus fracture | 2.86 | 3.01 | 4.25 | 0.38 | 6.25 | 7.49 | 090
24577 |  | A | Treat humerus fracture | 5.79 | 5.75 | 7.51 | 0.81 | 12.35 | 14.11 | 090
24579 |  | A | Treat humerus fracture | 11.60 | 10.69 | NA | 1.62 | 23.91 | NA | 090
24582 |  | A | Treat humerus fracture | 8.55 | 9.72 | NA | 1.20 | 19.47 | NA | 090
24586 |  | A | Treat elbow fracture | 15.21 | 10.77 | NA | 2.12 | 28.10 | NA | 090
24587 |  | A | Treat elbow fracture | 15.16 | 10.55 | NA | 2.14 | 27.85 | NA | 090
24600 |  | A | Treat elbow dislocation | 4.23 | 4.70 | 6.32 | 0.49 | 9.42 | 11.04 | 090
24605 |  | A | Treat elbow dislocation | 5.42 | 4.75 | NA | 0.72 | 10.89 | NA | 090
24615 |  | A | Treat elbow dislocation | 9.42 | 7.58 | NA | 1.31 | 18.31 | NA | 090
24620 |  | A | Treat elbow fracture | 6.98 | 6.21 | NA | 0.90 | 14.09 | NA | 090
24635 |  | A | Treat elbow fracture | 13.19 | 15.10 | NA | 1.84 | 30.13 | NA | 090
24640 |  | A | Treat elbow dislocation | 1.20 | 1.70 | 3.24 | 0.11 | 3.01 | 4.55 | 010
24650 |  | A | Treat radius fracture | 2.16 | 2.65 | 4.13 | 0.28 | 5.09 | 6.57 | 090
24655 |  | A | Treat radius fracture | 4.40 | 4.90 | 6.70 | 0.58 | 9.88 | 11.68 | 090
24665 |  | A | Treat radius fracture | 8.14 | 8.79 | NA | 1.13 | 18.06 | NA | 090
24666 |  | A | Treat radius fracture | 9.49 | 9.53 | NA | 1.32 | 20.34 | NA | 090
24670 |  | A | Treat ulnar fracture | 2.54 | 2.85 | 4.10 | 0.33 | 5.72 | 6.97 | 090
24675 |  | A | Treat ulnar fracture | 4.72 | 5.12 | 6.84 | 0.65 | 10.49 | 12.21 | 090
24685 |  | A | Treat ulnar fracture | 8.80 | 9.15 | NA | 1.23 | 19.18 | NA | 090
24800 |  | A | Fusion of elbow joint | 11.20 | 9.43 | NA | 1.41 | 22.04 | NA | 090
24802 |  | A | Fusion/graft of elbow joint | 13.69 | 11.22 | NA | 1.89 | 26.80 | NA | 090
24900 |  | A | Amputation of upper arm | 9.60 | 10.69 | NA | 1.18 | 21.47 | NA | 090
24920 |  | A | Amputation of upper arm | 9.54 | 12.12 | NA | 1.22 | 22.88 | NA | 090
24925 |  | A | Amputation follow-up surgery | 7.07 | 8.94 | NA | 0.95 | 16.96 | NA | 090
24930 |  | A | Amputation follow-up surgery | 10.25 | 11.17 | NA | 1.23 | 22.65 | NA | 090
24931 |  | A | Amputate upper arm & implant | 12.72 | 11.41 | NA | 1.56 | 25.69 | NA | 090
24935 |  | A | Revision of amputation | 15.56 | 11.97 | NA | 1.58 | 29.11 | NA | 090
24940 |  | C | Revision of upper arm | 0.00 | 0.00 | 0.00 | 0.00 | 0.00 | 0.00 | 090
24999 |  | C | Upper arm/elbow surgery | 0.00 | 0.00 | 0.00 | 0.00 | 0.00 | 0.00 | YYY
25000 |  | A | Incision of tendon sheath | 3.38 | 6.63 | NA | 0.45 | 10.46 | NA | 090
25020 |  | A | Decompression of forearm | 5.92 | 10.41 | NA | 0.75 | 17.08 | NA | 090
25023 |  | A | Decompression of forearm | 12.96 | 16.09 | NA | 1.50 | 30.55 | NA | 090
25028 |  | A | Drainage of forearm lesion | 5.25 | 9.40 | NA | 0.61 | 15.26 | NA | 090
25031 |  | A | Drainage of forearm bursa | 4.14 | 9.13 | NA | 0.50 | 13.77 | NA | 090
25035 |  | A | Treat forearm bone lesion | 7.36 | 15.24 | NA | 0.98 | 23.58 | NA | 090
25040 |  | A | Explore/treat wrist joint | 7.18 | 8.62 | NA | 0.96 | 16.76 | NA | 090
25065 |  | A | Biopsy forearm soft tissues | 1.99 | 2.42 | 2.42 | 0.12 | 4.53 | 4.53 | 010
25066 |  | A | Biopsy forearm soft tissues | 4.13 | 7.44 | NA | 0.49 | 12.06 | NA | 090
25075 |  | A | Removal of forearm lesion | 3.74 | 6.93 | NA | 0.40 | 11.07 | NA | 090
25076 |  | A | Removal of forearm lesion | 4.92 | 11.70 | NA | 0.59 | 17.21 | NA | 090
25077 |  | A | Remove tumor, forearm/wrist | 9.76 | 15.47 | NA | 1.10 | 26.33 | NA | 090
25085 |  | A | Incision of wrist capsule | 5.50 | 9.97 | NA | 0.71 | 16.18 | NA | 090
25100 |  | A | Biopsy of wrist joint | 3.90 | 6.70 | NA | 0.50 | 11.10 | NA | 090
25101 |  | A | Explore/treat wrist joint | 4.69 | 7.29 | NA | 0.60 | 12.58 | NA | 090
25105 |  | A | Remove wrist joint lining | 5.85 | 10.15 | NA | 0.77 | 16.77 | NA | 090
25107 |  | A | Remove wrist joint cartilage | 6.43 | 10.29 | NA | 0.82 | 17.54 | NA | 090
25110 |  | A | Remove wrist tendon lesion | 3.92 | 7.83 | NA | 0.48 | 12.23 | NA | 090
25111 |  | A | Remove wrist tendon lesion | 3.39 | 6.12 | NA | 0.42 | 9.93 | NA | 090
25112 |  | A | Reremove wrist tendon lesion | 4.53 | 7.02 | NA | 0.54 | 12.09 | NA | 090
25115 |  | A | Remove wrist/forearm lesion | 8.82 | 15.64 | NA | 1.11 | 25.57 | NA | 090
25116 |  | A | Remove wrist/forearm lesion | 7.11 | 14.57 | NA | 0.90 | 22.58 | NA | 090
25118 |  | A | Excise wrist tendon sheath | 4.37 | 7.29 | NA | 0.55 | 12.21 | NA | 090
25119 |  | A | Partial removal of ulna | 6.04 | 10.04 | NA | 0.80 | 16.88 | NA | 090
25120 |  | A | Removal of forearm lesion | 6.10 | 13.32 | NA | 0.81 | 20.23 | NA | 090
25125 |  | A | Remove/graft forearm lesion | 7.48 | 14.60 | NA | 1.02 | 23.10 | NA | 090
25126 |  | A | Remove/graft forearm lesion | 7.55 | 13.98 | NA | 1.00 | 22.53 | NA | 090
25130 |  | A | Removal of wrist lesion | 5.26 | 7.58 | NA | 0.66 | 13.50 | NA | 090
25135 |  | A | Remove & graft wrist lesion | 6.89 | 8.35 | NA | 0.89 | 16.13 | NA | 090
25136 |  | A | Remove & graft wrist lesion | 5.97 | 6.45 | NA | 0.58 | 13.00 | NA | 090
25145 |  | A | Remove forearm bone lesion | 6.37 | 14.15 | NA | 0.82 | 21.34 | NA | 090
25150 |  | A | Partial removal of ulna | 7.09 | 11.10 | NA | 0.96 | 19.15 | NA | 090
25151 |  | A | Partial removal of radius | 7.39 | 13.87 | NA | 0.93 | 22.19 | NA | 090
25170 |  | A | Extensive forearm surgery | 11.09 | 16.11 | NA | 1.52 | 28.72 | NA | 090
25210 |  | A | Removal of wrist bone | 5.95 | 8.13 | NA | 0.73 | 14.81 | NA | 090
25215 |  | A | Removal of wrist bones | 7.89 | 11.22 | NA | 1.02 | 20.13 | NA | 090
25230 |  | A | Partial removal of radius | 5.23 | 7.50 | NA | 0.66 | 13.39 | NA | 090
25240 |  | A | Partial removal of ulna | 5.17 | 9.65 | NA | 0.69 | 15.51 | NA | 090
25246 |  | A | Injection for wrist x-ray | 1.45 | 0.51 | 10.21 | 0.07 | 2.03 | 11.73 | 000
25248 |  | A | Remove forearm foreign body | 5.14 | 9.18 | NA | 0.54 | 14.86 | NA | 090
25250 |  | A | Removal of wrist prosthesis | 6.60 | 8.22 | NA | 0.84 | 15.66 | NA | 090
25251 |  | A | Removal of wrist prosthesis | 9.57 | 11.59 | NA | 1.15 | 22.31 | NA | 090
25260 |  | A | Repair forearm tendon/muscle | 7.80 | 15.87 | NA | 0.97 | 24.64 | NA | 090
25263 |  | A | Repair forearm tendon/muscle | 7.82 | 15.18 | NA | 0.94 | 23.94 | NA | 090
25265 |  | A | Repair forearm tendon/muscle | 9.88 | 15.91 | NA | 1.19 | 26.98 | NA | 090
25270 |  | A | Repair forearm tendon/muscle | 6.00 | 14.75 | NA | 0.76 | 21.51 | NA | 090
25272 |  | A | Repair forearm tendon/muscle | 7.04 | 15.38 | NA | 0.89 | 23.31 | NA | 090
25274 |  | A | Repair forearm tendon/muscle | 8.75 | 15.08 | NA | 1.11 | 24.94 | NA | 090
25280 |  | A | Revise wrist/forearm tendon | 7.22 | 14.41 | NA | 0.91 | 22.54 | NA | 090
25290 |  | A | Incise wrist/forearm tendon | 5.29 | 16.27 | NA | 0.66 | 22.22 | NA | 090
25295 |  | A | Release wrist/forearm tendon | 6.55 | 14.17 | NA | 0.84 | 21.56 | NA | 090
25300 |  | A | Fusion of tendons at wrist | 8.80 | 9.65 | NA | 1.07 | 19.52 | NA | 090
25301 |  | A | Fusion of tendons at wrist | 8.40 | 9.34 | NA | 1.08 | 18.82 | NA | 090
25310 |  | A | Transplant forearm tendon | 8.14 | 14.69 | NA | 1.01 | 23.84 | NA | 090
25312 |  | A | Transplant forearm tendon | 9.57 | 15.68 | NA | 1.22 | 26.47 | NA | 090
25315 |  | A | Revise palsy hand tendon(s) | 10.20 | 16.52 | NA | 1.26 | 27.98 | NA | 090
25316 |  | A | Revise palsy hand tendon(s) | 12.33 | 17.21 | NA | 1.74 | 31.28 | NA | 090
25320 |  | A | Repair/revise wrist joint | 10.77 | 10.80 | NA | 1.32 | 22.89 | NA | 090
25332 |  | A | Revise wrist joint | 11.41 | 11.30 | NA | 1.46 | 24.17 | NA | 090
25335 |  | A | Realignment of hand | 12.88 | 13.40 | NA | 1.66 | 27.94 | NA | 090
25337 |  | A | Reconstruct ulna/radioulnar | 10.17 | 12.46 | NA | 1.31 | 23.94 | NA | 090
25350 |  | A | Revision of radius | 8.78 | 14.90 | NA | 1.17 | 24.85 | NA | 090
25355 |  | A | Revision of radius | 10.17 | 15.98 | NA | 1.44 | 27.59 | NA | 090
25360 |  | A | Revision of ulna | 8.43 | 15.02 | NA | 1.17 | 24.62 | NA | 090
25365 |  | A | Revise radius & ulna | 12.40 | 16.38 | NA | 1.67 | 30.45 | NA | 090
25370 |  | A | Revise radius or ulna | 13.36 | 17.87 | NA | 1.88 | 33.11 | NA | 090
25375 |  | A | Revise radius & ulna | 13.04 | 17.69 | NA | 1.84 | 32.57 | NA | 090
25390 |  | A | Shorten radius or ulna | 10.40 | 15.98 | NA | 1.38 | 27.76 | NA | 090
25391 |  | A | Lengthen radius or ulna | 13.65 | 17.30 | NA | 1.73 | 32.68 | NA | 090
25392 |  | A | Shorten radius & ulna | 13.95 | 16.70 | NA | 1.73 | 32.38 | NA | 090
25393 |  | A | Lengthen radius & ulna | 15.87 | 16.87 | NA | 1.87 | 34.61 | NA | 090
25400 |  | A | Repair radius or ulna | 10.92 | 16.14 | NA | 1.50 | 28.56 | NA | 090
25405 |  | A | Repair/graft radius or ulna | 14.38 | 18.44 | NA | 1.95 | 34.77 | NA | 090
25415 |  | A | Repair radius & ulna | 13.35 | 17.54 | NA | 1.87 | 32.76 | NA | 090
25420 |  | A | Repair/graft radius & ulna | 16.33 | 19.34 | NA | 2.20 | 37.87 | NA | 090
25425 |  | A | Repair/graft radius or ulna | 13.21 | 24.49 | NA | 1.61 | 39.31 | NA | 090
25426 |  | A | Repair/graft radius & ulna | 15.82 | 19.57 | NA | 2.23 | 37.62 | NA | 090
25440 |  | A | Repair/graft wrist bone | 10.44 | 10.49 | NA | 1.41 | 22.34 | NA | 090
25441 |  | A | Reconstruct wrist joint | 12.90 | 11.56 | NA | 1.83 | 26.29 | NA | 090
25442 |  | A | Reconstruct wrist joint | 10.85 | 10.66 | NA | 1.24 | 22.75 | NA | 090
25443 |  | A | Reconstruct wrist joint | 10.39 | 14.76 | NA | 1.30 | 26.45 | NA | 090
25444 |  | A | Reconstruct wrist joint | 11.15 | 12.37 | NA | 1.43 | 24.95 | NA | 090
25445 |  | A | Reconstruct wrist joint | 9.69 | 12.45 | NA | 1.26 | 23.40 | NA | 090
25446 |  | A | Wrist replacement | 16.55 | 13.94 | NA | 2.20 | 32.69 | NA | 090
25447 |  | A | Repair wrist joint(s) | 10.37 | 10.50 | NA | 1.34 | 22.21 | NA | 090
25449 |  | A | Remove wrist joint implant | 14.49 | 14.77 | NA | 1.77 | 31.03 | NA | 090
25450 |  | A | Revision of wrist joint | 7.87 | 11.88 | NA | 0.88 | 20.63 | NA | 090
25455 |  | A | Revision of wrist joint | 9.49 | 11.30 | NA | 1.07 | 21.86 | NA | 090
25490 |  | A | Reinforce radius | 9.54 | 15.04 | NA | 1.19 | 25.77 | NA | 090
25491 |  | A | Reinforce ulna | 9.96 | 15.44 | NA | 1.41 | 26.81 | NA | 090
25492 |  | A | Reinforce radius and ulna | 12.33 | 14.22 | NA | 1.62 | 28.17 | NA | 090
25500 |  | A | Treat fracture of radius | 2.45 | 2.73 | 3.94 | 0.28 | 5.46 | 6.67 | 090
25505 |  | A | Treat fracture of radius | 5.21 | 5.33 | 7.08 | 0.69 | 11.23 | 12.98 | 090
25515 |  | A | Treat fracture of radius | 9.18 | 9.26 | NA | 1.22 | 19.66 | NA | 090
25520 |  | A | Treat fracture of radius | 6.26 | 6.01 | 7.39 | 0.85 | 13.12 | 14.50 | 090
25525 |  | A | Treat fracture of radius | 12.24 | 11.02 | NA | 1.68 | 24.94 | NA | 090
25526 |  | A | Treat fracture of radius | 12.98 | 14.20 | NA | 1.80 | 28.98 | NA | 090
25530 |  | A | Treat fracture of ulna | 2.09 | 2.64 | 3.82 | 0.27 | 5.00 | 6.18 | 090
25535 |  | A | Treat fracture of ulna | 5.14 | 5.29 | 7.08 | 0.68 | 11.11 | 12.90 | 090
25545 |  | A | Treat fracture of ulna | 8.90 | 9.22 | NA | 1.23 | 19.35 | NA | 090
25560 |  | A | Treat fracture radius & ulna | 2.44 | 2.69 | 3.94 | 0.27 | 5.40 | 6.65 | 090
25565 |  | A | Treat fracture radius & ulna | 5.63 | 5.55 | 7.34 | 0.76 | 11.94 | 13.73 | 090
25574 |  | A | Treat fracture radius & ulna | 7.01 | 8.12 | NA | 0.96 | 16.09 | NA | 090
25575 |  | A | Treat fracture radius/ulna | 10.45 | 10.09 | NA | 1.46 | 22.00 | NA | 090
25600 |  | A | Treat fracture radius/ulna | 2.63 | 2.85 | 4.13 | 0.34 | 5.82 | 7.10 | 090
25605 |  | A | Treat fracture radius/ulna | 5.81 | 5.73 | 7.51 | 0.81 | 12.35 | 14.13 | 090
25611 |  | A | Treat fracture radius/ulna | 7.77 | 9.27 | NA | 1.08 | 18.12 | NA | 090
5620 |  | A | Treat fracture radius/ulna | 8.55 | 9.03 | NA | 1.17 | 18.75 | NA | 090
25622 |  | A | Treat wrist bone fracture | 2.61 | 2.83 | 4.11 | 0.33 | 5.77 | 7.05 | 090
25624 |  | A | Treat wrist bone fracture | 4.53 | 4.98 | 6.72 | 0.61 | 10.12 | 11.86 | 090
25628 |  | A | Treat wrist bone fracture | 8.43 | 9.15 | NA | 1.14 | 18.72 | NA | 090
25630 |  | A | Treat wrist bone fracture | 2.88 | 2.93 | 4.26 | 0.37 | 6.18 | 7.51 | 090
25635 |  | A | Treat wrist bone fracture | 4.39 | 4.05 | 6.78 | 0.39 | 8.83 | 11.56 | 090
25645 |  | A | Treat wrist bone fracture | 7.25 | 9.29 | NA | 0.93 | 17.47 | NA | 090
25650 |  | A | Treat wrist bone fracture | 3.05 | 2.96 | 4.36 | 0.37 | 6.38 | 7.78 | 090
25660 |  | A | Treat wrist dislocation | 4.76 | 5.14 | NA | 0.59 | 10.49 | NA | 090
25670 |  | A | Treat wrist dislocation | 7.92 | 8.94 | NA | 1.07 | 17.93 | NA | 090
25675 |  | A | Treat wrist dislocation | 4.67 | 4.90 | 6.75 | 0.57 | 10.14 | 11.99 | 090
25676 |  | A | Treat wrist dislocation | 8.04 | 8.99 | NA | 1.10 | 18.13 | NA | 090
25680 |  | A | Treat wrist fracture | 5.99 | 6.13 | NA | 0.61 | 12.73 | NA | 090
25685 |  | A | Treat wrist fracture | 9.78 | 9.62 | NA | 1.25 | 20.65 | NA | 090
25690 |  | A | Treat wrist dislocation | 5.50 | 6.50 | NA | 0.78 | 12.78 | NA | 090
25695 |  | A | Treat wrist dislocation | 8.34 | 8.92 | NA | 1.07 | 18.33 | NA | 090
25800 |  | A | Fusion of wrist joint | 9.76 | 10.06 | NA | 1.30 | 21.12 | NA | 090
25805 |  | A | Fusion/graft of wrist joint | 11.28 | 11.01 | NA | 1.51 | 23.80 | NA | 090
25810 |  | A | Fusion/graft of wrist joint | 10.57 | 10.56 | NA | 1.37 | 22.50 | NA | 090
25820 |  | A | Fusion of hand bones | 7.45 | 8.83 | NA | 0.96 | 17.24 | NA | 090
25825 |  | A | Fuse hand bones with graft | 9.27 | 9.90 | NA | 1.20 | 20.37 | NA | 090
25830 |  | A | Fusion, radioulnar jnt/ulna | 10.06 | 15.03 | NA | 1.27 | 26.36 | NA | 090
25900 |  | A | Amputation of forearm | 9.01 | 13.44 | NA | 1.08 | 23.53 | NA | 090
25905 |  | A | Amputation of forearm | 9.12 | 15.44 | NA | 1.06 | 25.62 | NA | 090
25907 |  | A | Amputation follow-up surgery | 7.80 | 13.37 | NA | 1.01 | 22.18 | NA | 090
25909 |  | A | Amputation follow-up surgery | 8.96 | 15.46 | NA | 1.07 | 25.49 | NA | 090
25915 |  | A | Amputation of forearm | 17.08 | 20.29 | NA | 2.41 | 39.78 | NA | 090
25920 |  | A | Amputate hand at wrist | 8.68 | 9.45 | NA | 1.06 | 19.19 | NA | 090
25922 |  | A | Amputate hand at wrist | 7.42 | 8.61 | NA | 0.93 | 16.96 | NA | 090
25924 |  | A | Amputation follow-up surgery | 8.46 | 9.25 | NA | 1.07 | 18.78 | NA | 090
25927 |  | A | Amputation of hand | 8.80 | 13.77 | NA | 1.02 | 23.59 | NA | 090
25929 |  | A | Amputation follow-up surgery | 7.59 | 6.66 | NA | 0.89 | 15.14 | NA | 090
25931 |  | A | Amputation follow-up surgery | 7.81 | 13.86 | NA | 0.88 | 22.55 | NA | 090
25999 |  | C | Forearm or wrist surgery | 0.00 | 0.00 | 0.00 | 0.00 | 0.00 | 0.00 | YYY
26010 |  | A | Drainage of finger abscess | 1.54 | 3.50 | 4.85 | 0.14 | 5.18 | 6.53 | 010
26011 |  | A | Drainage of finger abscess | 2.19 | 5.80 | 6.86 | 0.25 | 8.24 | 9.30 | 010
26020 |  | A | Drain hand tendon sheath | 4.67 | 11.73 | NA | 0.59 | 16.99 | NA | 090
26025 |  | A | Drainage of palm bursa | 4.82 | 11.93 | NA | 0.60 | 17.35 | NA | 090
26030 |  | A | Drainage of palm bursa(s) | 5.93 | 12.37 | NA | 0.72 | 19.02 | NA | 090
26034 |  | A | Treat hand bone lesion | 6.23 | 13.53 | NA | 0.79 | 20.55 | NA | 090
26035 |  | A | Decompress fingers/hand | 9.51 | 15.47 | NA | 1.12 | 26.10 | NA | 090
26037 |  | A | Decompress fingers/hand | 7.25 | 11.90 | NA | 0.87 | 20.02 | NA | 090
26040 |  | A | Release palm contracture | 3.33 | 11.30 | NA | 0.45 | 15.08 | NA | 090
26045 |  | A | Release palm contracture | 5.56 | 12.48 | NA | 0.74 | 18.78 | NA | 090
26055 |  | A | Incise finger tendon sheath | 2.69 | 6.82 | 7.13 | 0.36 | 9.87 | 10.18 | 090
26060 |  | A | Incision of finger tendon | 2.81 | 6.75 | NA | 0.35 | 9.91 | NA | 090
26070 |  | A | Explore/treat hand joint | 3.69 | 10.47 | NA | 0.35 | 14.51 | NA | 090
26075 |  | A | Explore/treat finger joint | 3.79 | 11.05 | NA | 0.40 | 15.24 | NA | 090
26080 |  | A | Explore/treat finger joint | 4.24 | 11.75 | NA | 0.52 | 16.51 | NA | 090
26100 |  | A | Biopsy hand joint lining | 3.67 | 7.53 | NA | 0.45 | 11.65 | NA | 090
26105 |  | A | Biopsy finger joint lining | 3.71 | 10.82 | NA | 0.45 | 14.98 | NA | 090
26110 |  | A | Biopsy finger joint lining | 3.53 | 10.83 | NA | 0.44 | 14.80 | NA | 090
26115 |  | A | Removal of hand lesion | 3.86 | 7.37 | 7.37 | 0.48 | 11.71 | 11.71 | 090
26116 |  | A | Removal of hand lesion | 5.53 | 12.40 | NA | 0.69 | 18.62 | NA | 090
26117 |  | A | Remove tumor, hand/finger | 8.55 | 14.68 | NA | 1.01 | 24.24 | NA | 090
26121 |  | A | Release palm contracture | 7.54 | 14.45 | NA | 0.94 | 22.93 | NA | 090
26123 |  | A | Release palm contracture | 9.29 | 15.42 | NA | 1.17 | 25.88 | NA | 090
26125 |  | A | Release palm contracture | 4.61 | 2.58 | NA | 0.57 | 7.76 | NA | ZZZ
26130 |  | A | Remove wrist joint lining | 5.42 | 15.08 | NA | 0.65 | 21.15 | NA | 090
26135 |  | A | Revise finger joint, each | 6.96 | 15.66 | NA | 0.87 | 23.49 | NA | 090
26140 |  | A | Revise finger joint, each | 6.17 | 14.55 | NA | 0.76 | 21.48 | NA | 090
26145 |  | A | Tendon excision, palm/finger | 6.32 | 14.53 | NA | 0.77 | 21.62 | NA | 090
26160 |  | A | Remove tendon sheath lesion | 3.15 | 7.07 | 7.42 | 0.39 | 10.61 | 10.96 | 090
26170 |  | A | Removal of palm tendon, each | 4.77 | 8.10 | NA | 0.60 | 13.47 | NA | 090
26180 |  | A | Removal of finger tendon | 5.18 | 7.90 | NA | 0.64 | 13.72 | NA | 090
26185 |  | A | Remove finger bone | 5.25 | 8.47 | NA | 0.67 | 14.39 | NA | 090
26200 |  | A | Remove hand bone lesion | 5.51 | 12.49 | NA | 0.71 | 18.71 | NA | 090
26205 |  | A | Remove/graft bone lesion | 7.70 | 14.21 | NA | 0.95 | 22.86 | NA | 090
26210 |  | A | Removal of finger lesion | 5.15 | 13.15 | NA | 0.64 | 18.94 | NA | 090
26215 |  | A | Remove/graft finger lesion | 7.10 | 13.64 | NA | 0.77 | 21.51 | NA | 090
26230 |  | A | Partial removal of hand bone | 6.33 | 11.95 | NA | 0.84 | 19.12 | NA | 090
26235 |  | A | Partial removal, finger bone | 6.19 | 11.60 | NA | 0.78 | 18.57 | NA | 090
26236 |  | A | Partial removal, finger bone | 5.32 | 11.50 | NA | 0.66 | 17.48 | NA | 090
26250 |  | A | Extensive hand surgery | 7.55 | 16.17 | NA | 0.92 | 24.64 | NA | 090
26255 |  | A | Extensive hand surgery | 12.43 | 17.40 | NA | 1.05 | 30.88 | NA | 090
26260 |  | A | Extensive finger surgery | 7.03 | 16.10 | NA | 0.83 | 23.96 | NA | 090
26261 |  | A | Extensive finger surgery | 9.09 | 17.27 | NA | 0.84 | 27.20 | NA | 090
26262 |  | A | Partial removal of finger | 5.67 | 13.02 | NA | 0.70 | 19.39 | NA | 090
26320 |  | A | Removal of implant from hand | 3.98 | 11.90 | NA | 0.49 | 16.37 | NA | 090
26350 |  | A | Repair finger/hand tendon | 5.99 | 18.44 | NA | 0.73 | 25.16 | NA | 090
26352 |  | A | Repair/graft hand tendon | 7.68 | 17.73 | NA | 0.93 | 26.34 | NA | 090
26356 |  | A | Repair finger/hand tendon | 8.07 | 19.76 | NA | 0.99 | 28.82 | NA | 090
26357 |  | A | Repair finger/hand tendon | 8.58 | 19.18 | NA | 1.02 | 28.78 | NA | 090
26358 |  | A | Repair/graft hand tendon | 9.14 | 18.83 | NA | 1.07 | 29.04 | NA | 090
26370 |  | A | Repair finger/hand tendon | 7.11 | 18.97 | NA | 0.90 | 26.98 | NA | 090
26372 |  | A | Repair/graft hand tendon | 8.76 | 19.04 | NA | 1.06 | 28.86 | NA | 090
26373 |  | A | Repair finger/hand tendon | 8.16 | 21.85 | NA | 0.98 | 30.99 | NA | 090
26390 |  | A | Revise hand/finger tendon | 9.19 | 14.73 | NA | 1.09 | 25.01 | NA | 090
26392 |  | A | Repair/graft hand tendon | 10.26 | 20.11 | NA | 1.26 | 31.63 | NA | 090
26410 |  | A | Repair hand tendon | 4.63 | 14.73 | NA | 0.57 | 19.93 | NA | 090
26412 |  | A | Repair/graft hand tendon | 6.31 | 15.14 | NA | 0.80 | 22.25 | NA | 090
26415 |  | A | Excision, hand/finger tendon | 8.34 | 14.78 | NA | 0.77 | 23.89 | NA | 090
26416 |  | A | Graft hand or finger tendon | 9.37 | 15.98 | NA | 1.20 | 26.55 | NA | 090
26418 |  | A | Repair finger tendon | 4.25 | 14.47 | NA | 0.50 | 19.22 | NA | 090
26420 |  | A | Repair/graft finger tendon | 6.77 | 15.94 | NA | 0.83 | 23.54 | NA | 090
26426 |  | A | Repair finger/hand tendon | 6.15 | 15.25 | NA | 0.77 | 22.17 | NA | 090
26428 |  | A | Repair/graft finger tendon | 7.21 | 15.88 | NA | 0.84 | 23.93 | NA | 090
26432 |  | A | Repair finger tendon | 4.02 | 11.21 | NA | 0.48 | 15.71 | NA | 090
26433 |  | A | Repair finger tendon | 4.56 | 12.90 | NA | 0.56 | 18.02 | NA | 090
26434 |  | A | Repair/graft finger tendon | 6.09 | 12.26 | NA | 0.71 | 19.06 | NA | 090
26437 |  | A | Realignment of tendons | 5.82 | 12.65 | NA | 0.74 | 19.21 | NA | 090
26440 |  | A | Release palm/finger tendon | 5.02 | 16.29 | NA | 0.62 | 21.93 | NA | 090
26442 |  | A | Release palm & finger tendon | 8.16 | 18.65 | NA | 0.94 | 27.75 | NA | 090
26445 |  | A | Release hand/finger tendon | 4.31 | 16.15 | NA | 0.54 | 21.00 | NA | 090
26449 |  | A | Release forearm/hand tendon | 7.00 | 16.93 | NA | 0.84 | 24.77 | NA | 090
26450 |  | A | Incision of palm tendon | 3.67 | 7.35 | NA | 0.46 | 11.48 | NA | 090
26455 |  | A | Incision of finger tendon | 3.64 | 7.62 | NA | 0.47 | 11.73 | NA | 090
26460 |  | A | Incise hand/finger tendon | 3.46 | 7.16 | NA | 0.44 | 11.06 | NA | 090
26471 |  | A | Fusion of finger tendons | 5.73 | 12.60 | NA | 0.73 | 19.06 | NA | 090
26474 |  | A | Fusion of finger tendons | 5.32 | 12.98 | NA | 0.69 | 18.99 | NA | 090
26476 |  | A | Tendon lengthening | 5.18 | 13.01 | NA | 0.62 | 18.81 | NA | 090
26477 |  | A | Tendon shortening | 5.15 | 12.42 | NA | 0.60 | 18.17 | NA | 090
26478 |  | A | Lengthening of hand tendon | 5.80 | 12.68 | NA | 0.77 | 19.25 | NA | 090
26479 |  | A | Shortening of hand tendon | 5.74 | 12.93 | NA | 0.76 | 19.43 | NA | 090
26480 |  | A | Transplant hand tendon | 6.69 | 17.38 | NA | 0.84 | 24.91 | NA | 090
26483 |  | A | Transplant/graft hand tendon | 8.29 | 18.21 | NA | 1.03 | 27.53 | NA | 090
26485 |  | A | Transplant palm tendon | 7.70 | 17.29 | NA | 0.94 | 25.93 | NA | 090
26489 |  | A | Transplant/graft palm tendon | 9.55 | 16.81 | NA | 0.98 | 27.34 | NA | 090
26490 |  | A | Revise thumb tendon | 8.41 | 13.89 | NA | 1.05 | 23.35 | NA | 090
26492 |  | A | Tendon transfer with graft | 9.62 | 15.06 | NA | 1.19 | 25.87 | NA | 090
26494 |  | A | Hand tendon/muscle transfer | 8.47 | 14.39 | NA | 1.13 | 23.99 | NA | 090
26496 |  | A | Revise thumb tendon | 9.59 | 14.31 | NA | 1.17 | 25.07 | NA | 090
26497 |  | A | Finger tendon transfer | 9.57 | 14.56 | NA | 1.17 | 25.30 | NA | 090
26498 |  | A | Finger tendon transfer | 14.00 | 16.84 | NA | 1.74 | 32.58 | NA | 090
26499 |  | A | Revision of finger | 8.98 | 16.21 | NA | 0.94 | 26.13 | NA | 090
26500 |  | A | Hand tendon reconstruction | 5.96 | 13.54 | NA | 0.66 | 20.16 | NA | 090
26502 |  | A | Hand tendon reconstruction | 7.14 | 14.64 | NA | 0.87 | 22.65 | NA | 090
26504 |  | A | Hand tendon reconstruction | 7.47 | 10.07 | NA | 0.84 | 18.38 | NA | 090
26508 |  | A | Release thumb contracture | 6.01 | 13.31 | NA | 0.76 | 20.08 | NA | 090
26510 |  | A | Thumb tendon transfer | 5.43 | 12.63 | NA | 0.71 | 18.77 | NA | 090
26516 |  | A | Fusion of knuckle joint | 7.15 | 13.37 | NA | 0.90 | 21.42 | NA | 090
26517 |  | A | Fusion of knuckle joints | 8.83 | 13.80 | NA | 0.96 | 23.59 | NA | 090
26518 |  | A | Fusion of knuckle joints | 9.02 | 13.39 | NA | 1.13 | 23.54 | NA | 090
26520 |  | A | Release knuckle contracture | 5.30 | 16.60 | NA | 0.65 | 22.55 | NA | 090
26525 |  | A | Release finger contracture | 5.33 | 17.02 | NA | 0.66 | 23.01 | NA | 090
26530 |  | A | Revise knuckle joint | 6.69 | 17.06 | NA | 0.86 | 24.61 | NA | 090
26531 |  | A | Revise knuckle with implant | 7.91 | 17.47 | NA | 1.01 | 26.39 | NA | 090
26535 |  | A | Revise finger joint | 5.24 | 9.35 | NA | 0.66 | 15.25 | NA | 090
26536 |  | A | Revise/implant finger joint | 6.37 | 16.17 | NA | 0.80 | 23.34 | NA | 090
26540 |  | A | Repair hand joint | 6.43 | 13.61 | NA | 0.81 | 20.85 | NA | 090
26541 |  | A | Repair hand joint with graft | 8.62 | 14.98 | NA | 1.12 | 24.72 | NA | 090
26542 |  | A | Repair hand joint with graft | 6.78 | 12.89 | NA | 0.87 | 20.54 | NA | 090
26545 |  | A | Reconstruct finger joint | 6.92 | 14.40 | NA | 0.79 | 22.11 | NA | 090
26546 |  | A | Repair nonunion hand | 8.92 | 14.17 | NA | 1.14 | 24.23 | NA | 090
26548 |  | A | Reconstruct finger joint | 8.03 | 14.48 | NA | 0.98 | 23.49 | NA | 090
26550 |  | A | Construct thumb replacement | 21.24 | 20.44 | NA | 1.80 | 43.48 | NA | 090
26551 |  | A | Great toe-hand transfer | 46.58 | 28.68 | NA | 6.57 | 81.83 | NA | 090
26553 |  | A | Single transfer, toe-hand | 46.27 | 29.02 | NA | 1.99 | 77.28 | NA | 090
26554 |  | A | Double transfer, toe-hand | 54.95 | 34.09 | NA | 7.76 | 96.80 | NA | 090
26555 |  | A | Positional change of finger | 16.63 | 22.63 | NA | 2.13 | 41.39 | NA | 090
26556 |  | A | Toe joint transfer | 47.26 | 28.95 | NA | 6.67 | 82.88 | NA | 090
26560 |  | A | Repair of web finger | 5.38 | 13.36 | NA | 0.60 | 19.34 | NA | 090
26561 |  | A | Repair of web finger | 10.92 | 14.12 | NA | 0.69 | 25.73 | NA | 090
26562 |  | A | Repair of web finger | 15.00 | 10.53 | NA | 0.98 | 26.51 | NA | 090
26565 |  | A | Correct metacarpal flaw | 6.74 | 13.32 | NA | 0.84 | 20.90 | NA | 090
26567 |  | A | Correct finger deformity | 6.82 | 13.21 | NA | 0.84 | 20.87 | NA | 090
26568 |  | A | Lengthen metacarpal/finger | 9.08 | 17.70 | NA | 1.10 | 27.88 | NA | 090
26580 |  | A | Repair hand deformity | 18.18 | 16.51 | NA | 1.46 | 36.15 | NA | 090
26585 |  | A | Repair finger deformity | 14.05 | 14.32 | NA | 1.08 | 29.45 | NA | 090
26587 |  | C | Reconstruct extra finger | 0.00 | 0.00 | 0.00 | 0.00 | 0.00 | 0.00 | 090
26590 |  | A | Repair finger deformity | 17.96 | 14.17 | NA | 1.32 | 33.45 | NA | 090
26591 |  | A | Repair muscles of hand | 3.25 | 13.02 | NA | 0.37 | 16.64 | NA | 090
26593 |  | A | Release muscles of hand | 5.31 | 11.86 | NA | 0.64 | 17.81 | NA | 090
26596 |  | A | Excision constricting tissue | 8.95 | 9.21 | NA | 0.87 | 19.03 | NA | 090
26597 |  | A | Release of scar contracture | 9.82 | 15.51 | NA | 1.20 | 26.53 | NA | 090
26600 |  | A | Treat metacarpal fracture | 1.96 | 2.58 | 3.76 | 0.25 | 4.79 | 5.97 | 090
26605 |  | A | Treat metacarpal fracture | 2.85 | 3.98 | 5.45 | 0.38 | 7.21 | 8.68 | 090
26607 |  | A | Treat metacarpal fracture | 5.36 | 7.74 | NA | 0.70 | 13.80 | NA | 090
26608 |  | A | Treat metacarpal fracture | 5.36 | 8.10 | NA | 0.73 | 14.19 | NA | 090
26615 |  | A | Treat metacarpal fracture | 5.33 | 7.86 | NA | 0.70 | 13.89 | NA | 090
26641 |  | A | Treat thumb dislocation | 3.94 | 4.53 | 6.22 | 0.42 | 8.89 | 10.58 | 090
26645 |  | A | Treat thumb fracture | 4.41 | 4.91 | 6.61 | 0.54 | 9.86 | 11.56 | 090
26650 |  | A | Treat thumb fracture | 5.72 | 8.28 | NA | 0.77 | 14.77 | NA | 090
26665 |  | A | Treat thumb fracture | 7.60 | 8.80 | NA | 0.97 | 17.37 | NA | 090
26670 |  | A | Treat hand dislocation | 3.69 | 4.38 | 5.78 | 0.36 | 8.43 | 9.83 | 090
26675 |  | A | Treat hand dislocation | 4.64 | 4.49 | 5.64 | 0.56 | 9.69 | 10.84 | 090
26676 |  | A | Pin hand dislocation | 5.52 | 8.12 | NA | 0.76 | 14.40 | NA | 090
26685 |  | A | Treat hand dislocation | 6.98 | 8.29 | NA | 0.95 | 16.22 | NA | 090
26686 |  | A | Treat hand dislocation | 7.94 | 9.26 | NA | 1.05 | 18.25 | NA | 090
26700 |  | A | Treat knuckle dislocation | 3.69 | 2.84 | 4.80 | 0.35 | 6.88 | 8.84 | 090
26705 |  | A | Treat knuckle dislocation | 4.19 | 4.12 | 5.79 | 0.50 | 8.81 | 10.48 | 090
26706 |  | A | Pin knuckle dislocation | 5.12 | 5.54 | NA | 0.64 | 11.30 | NA | 090
26715 |  | A | Treat knuckle dislocation | 5.74 | 7.97 | NA | 0.75 | 14.46 | NA | 090
26720 |  | A | Treat finger fracture, each | 1.66 | 1.58 | 2.83 | 0.20 | 3.44 | 4.69 | 090
26725 |  | A | Treat finger fracture, each | 3.33 | 3.05 | 4.83 | 0.43 | 6.81 | 8.59 | 090
26727 |  | A | Treat finger fracture, each | 5.23 | 8.38 | NA | 0.69 | 14.30 | NA | 090
26735 |  | A | Treat finger fracture, each | 5.98 | 8.36 | NA | 0.77 | 15.11 | NA | 090
26740 |  | A | Treat finger fracture, each | 1.94 | 2.43 | 3.54 | 0.24 | 4.61 | 5.72 | 090
26742 |  | A | Treat finger fracture, each | 3.85 | 4.93 | 6.64 | 0.49 | 9.27 | 10.98 | 090
26746 |  | A | Treat finger fracture, each | 5.81 | 8.51 | NA | 0.74 | 15.06 | NA | 090
26750 |  | A | Treat finger fracture, each | 1.70 | 2.24 | 3.37 | 0.19 | 4.13 | 5.26 | 090
26755 |  | A | Treat finger fracture, each | 3.10 | 2.94 | 4.75 | 0.37 | 6.41 | 8.22 | 090
26756 |  | A | Pin finger fracture, each | 4.39 | 8.31 | NA | 0.56 | 13.26 | NA | 090
26765 |  | A | Treat finger fracture, each | 4.17 | 7.47 | NA | 0.51 | 12.15 | NA | 090
26770 |  | A | Treat finger dislocation | 3.02 | 2.57 | 4.52 | 0.27 | 5.86 | 7.81 | 090
26775 |  | A | Treat finger dislocation | 3.71 | 3.79 | 5.62 | 0.43 | 7.93 | 9.76 | 090
26776 |  | A | Pin finger dislocation | 4.80 | 8.34 | NA | 0.63 | 13.77 | NA | 090
26785 |  | A | Treat finger dislocation | 4.21 | 7.36 | NA | 0.54 | 12.11 | NA | 090
26820 |  | A | Thumb fusion with graft | 8.26 | 14.74 | NA | 1.11 | 24.11 | NA | 090
26841 |  | A | Fusion of thumb | 7.13 | 13.62 | NA | 0.97 | 21.72 | NA | 090
26842 |  | A | Thumb fusion with graft | 8.24 | 14.38 | NA | 1.10 | 23.72 | NA | 090
26843 |  | A | Fusion of hand joint | 7.61 | 13.54 | NA | 0.99 | 22.14 | NA | 090
26844 |  | A | Fusion/graft of hand joint | 8.73 | 13.97 | NA | 1.12 | 23.82 | NA | 090
26850 |  | A | Fusion of knuckle | 6.97 | 13.04 | NA | 0.89 | 20.90 | NA | 090
26852 |  | A | Fusion of knuckle with graft | 8.46 | 13.95 | NA | 1.05 | 23.46 | NA | 090
26860 |  | A | Fusion of finger joint | 4.69 | 12.02 | NA | 0.60 | 17.31 | NA | 090
26861 |  | A | Fusion of finger jnt, add-on | 1.74 | 0.98 | NA | 0.22 | 2.94 | NA | ZZZ
26862 |  | A | Fusion/graft of finger joint | 7.37 | 13.58 | NA | 0.92 | 21.87 | NA | 090
26863 |  | A | Fuse/graft added joint | 3.90 | 2.21 | NA | 0.51 | 6.62 | NA | ZZZ
26910 |  | A | Amputate metacarpal bone | 7.60 | 13.34 | NA | 0.90 | 21.84 | NA | 090
26951 |  | A | Amputation of finger/thumb | 4.59 | 11.90 | NA | 0.56 | 17.05 | NA | 090
26952 |  | A | Amputation of finger/thumb | 6.31 | 13.26 | NA | 0.74 | 20.31 | NA | 090
26989 |  | C | Hand/finger surgery | 0.00 | 0.00 | 0.00 | 0.00 | 0.00 | 0.00 | YYY
26990 |  | A | Drainage of pelvis lesion | 7.48 | 14.75 | NA | 0.92 | 23.15 | NA | 090
26991 |  | A | Drainage of pelvis bursa | 6.68 | 9.26 | 10.55 | 0.85 | 16.79 | 18.08 | 090
26992 |  | A | Drainage of bone lesion | 13.02 | 18.66 | NA | 1.75 | 33.43 | NA | 090
27000 |  | A | Incision of hip tendon | 5.62 | 6.95 | NA | 0.76 | 13.33 | NA | 090
27001 |  | A | Incision of hip tendon | 6.94 | 7.86 | NA | 0.95 | 15.75 | NA | 090
27003 |  | A | Incision of hip tendon | 7.34 | 8.49 | NA | 0.93 | 16.76 | NA | 090
27005 |  | A | Incision of hip tendon | 9.66 | 9.91 | NA | 1.36 | 20.93 | NA | 090
27006 |  | A | Incision of hip tendons | 9.68 | 9.86 | NA | 1.33 | 20.87 | NA | 090
27025 |  | A | Incision of hip/thigh fascia | 11.16 | 9.72 | NA | 1.38 | 22.26 | NA | 090
27030 |  | A | Drainage of hip joint | 13.01 | 11.78 | NA | 1.81 | 26.60 | NA | 090
27033 |  | A | Exploration of hip joint | 13.39 | 11.95 | NA | 1.87 | 27.21 | NA | 090
27035 |  | A | Denervation of hip joint | 16.69 | 16.51 | NA | 1.70 | 34.90 | NA | 090
27036 |  | A | Excision of hip joint/muscle | 12.88 | 13.14 | NA | 1.80 | 27.82 | NA | 090
27040 |  | A | Biopsy of soft tissues | 2.87 | 3.82 | 5.89 | 0.21 | 6.90 | 8.97 | 010
27041 |  | A | Biopsy of soft tissues | 9.89 | 8.34 | NA | 1.01 | 19.24 | NA | 090
27047 |  | A | Remove hip/pelvis lesion | 7.45 | 6.95 | 9.43 | 0.79 | 15.19 | 17.67 | 090
27048 |  | A | Remove hip/pelvis lesion | 6.25 | 7.67 | NA | 0.73 | 14.65 | NA | 090
27049 |  | A | Remove tumor, hip/pelvis | 13.66 | 12.98 | NA | 1.60 | 28.24 | NA | 090
27050 |  | A | Biopsy of sacroiliac joint | 4.36 | 6.53 | NA | 0.53 | 11.42 | NA | 090
27052 |  | A | Biopsy of hip joint | 6.23 | 7.72 | NA | 0.85 | 14.80 | NA | 090
27054 |  | A | Removal of hip joint lining | 8.54 | 10.02 | NA | 1.17 | 19.73 | NA | 090
27060 |  | A | Removal of ischial bursa | 5.43 | 7.97 | NA | 0.60 | 14.00 | NA | 090
27062 |  | A | Remove femur lesion/bursa | 5.37 | 6.79 | NA | 0.74 | 12.90 | NA | 090
27065 |  | A | Removal of hip bone lesion | 5.90 | 8.03 | NA | 0.76 | 14.69 | NA | 090
27066 |  | A | Removal of hip bone lesion | 10.33 | 11.61 | NA | 1.42 | 23.36 | NA | 090
27067 |  | A | Remove/graft hip bone lesion | 13.83 | 13.58 | NA | 1.95 | 29.36 | NA | 090
27070 |  | A | Partial removal of hip bone | 10.72 | 16.17 | NA | 1.36 | 28.25 | NA | 090
27071 |  | A | Partial removal of hip bone | 11.46 | 17.22 | NA | 1.51 | 30.19 | NA | 090
27075 |  | A | Extensive hip surgery | 35.00 | 25.69 | NA | 2.22 | 62.91 | NA | 090
27076 |  | A | Extensive hip surgery | 22.12 | 19.75 | NA | 2.86 | 44.73 | NA | 090
27077 |  | A | Extensive hip surgery | 40.00 | 27.07 | NA | 3.18 | 70.25 | NA | 090
27078 |  | A | Extensive hip surgery | 13.44 | 14.69 | NA | 1.67 | 29.80 | NA | 090
27079 |  | A | Extensive hip surgery | 13.75 | 14.34 | NA | 1.86 | 29.95 | NA | 090
27080 |  | A | Removal of tail bone | 6.39 | 7.60 | NA | 0.80 | 14.79 | NA | 090
27086 |  | A | Remove hip foreign body | 1.87 | 3.74 | 5.20 | 0.17 | 5.78 | 7.24 | 010
27087 |  | A | Remove hip foreign body | 8.54 | 8.42 | NA | 1.09 | 18.05 | NA | 090
27090 |  | A | Removal of hip prosthesis | 11.15 | 10.67 | NA | 1.55 | 23.37 | NA | 090
27091 |  | A | Removal of hip prosthesis | 22.14 | 16.83 | NA | 3.11 | 42.08 | NA | 090
27093 |  | A | Injection for hip x-ray | 1.30 | 0.51 | 12.12 | 0.09 | 1.90 | 13.51 | 000
27095 |  | A | Injection for hip x-ray | 1.50 | 0.52 | 10.61 | 0.10 | 2.12 | 12.21 | 000
27096 |  | A | Inject sacroiliac joint | 1.40 | 0.53 | 11.75 | 0.08 | 2.01 | 13.23 | 000
27097 |  | A | Revision of hip tendon | 8.80 | 9.30 | NA | 1.22 | 19.32 | NA | 090
27098 |  | A | Transfer tendon to pelvis | 8.83 | 9.47 | NA | 1.24 | 19.54 | NA | 090
27100 |  | A | Transfer of abdominal muscle | 11.08 | 11.75 | NA | 1.57 | 24.40 | NA | 090
27105 |  | A | Transfer of spinal muscle | 11.77 | 11.80 | NA | 1.66 | 25.23 | NA | 090
27110 |  | A | Transfer of iliopsoas muscle | 13.26 | 11.37 | NA | 1.38 | 26.01 | NA | 090
27111 |  | A | Transfer of iliopsoas muscle | 12.15 | 10.72 | NA | 1.48 | 24.35 | NA | 090
27120 |  | A | Reconstruction of hip socket | 18.01 | 13.97 | NA | 2.45 | 34.43 | NA | 090
27122 |  | A | Reconstruction of hip socket | 14.98 | 13.58 | NA | 2.08 | 30.64 | NA | 090
27125 |  | A | Partial hip replacement | 14.69 | 13.17 | NA | 2.05 | 29.91 | NA | 090
27130 |  | A | Total hip replacement | 20.12 | 16.33 | NA | 2.82 | 39.27 | NA | 090
27132 |  | A | Total hip replacement | 23.30 | 18.15 | NA | 3.26 | 44.71 | NA | 090
27134 |  | A | Revise hip joint replacement | 28.52 | 20.90 | NA | 3.97 | 53.39 | NA | 090
27137 |  | A | Revise hip joint replacement | 21.17 | 17.00 | NA | 2.97 | 41.14 | NA | 090
27138 |  | A | Revise hip joint replacement | 22.17 | 17.56 | NA | 3.11 | 42.84 | NA | 090
27140 |  | A | Transplant femur ridge | 12.24 | 11.37 | NA | 1.67 | 25.28 | NA | 090
27146 |  | A | Incision of hip bone | 17.43 | 15.10 | NA | 2.27 | 34.80 | NA | 090
27147 |  | A | Revision of hip bone | 20.58 | 17.18 | NA | 2.61 | 40.37 | NA | 090
27151 |  | A | Incision of hip bones | 22.51 | 18.88 | NA | 3.12 | 44.51 | NA | 090
27156 |  | A | Revision of hip bones | 24.63 | 19.71 | NA | 3.48 | 47.82 | NA | 090
27158 |  | A | Revision of pelvis | 19.74 | 17.31 | NA | 2.60 | 39.65 | NA | 090
27161 |  | A | Incision of neck of femur | 16.71 | 13.78 | NA | 2.32 | 32.81 | NA | 090
27165 |  | A | Incision/fixation of femur | 17.91 | 14.34 | NA | 2.51 | 34.76 | NA | 090
27170 |  | A | Repair/graft femur head/neck | 16.07 | 13.42 | NA | 2.20 | 31.69 | NA | 090
27175 |  | A | Treat slipped epiphysis | 8.46 | 6.96 | NA | 1.19 | 16.61 | NA | 090
27176 |  | A | Treat slipped epiphysis | 12.05 | 9.79 | NA | 1.68 | 23.52 | NA | 090
27177 |  | A | Treat slipped epiphysis | 15.08 | 11.34 | NA | 2.11 | 28.53 | NA | 090
27178 |  | A | Treat slipped epiphysis | 11.99 | 9.32 | NA | 1.68 | 22.99 | NA | 090
27179 |  | A | Revise head/neck of femur | 12.98 | 9.67 | NA | 1.84 | 24.49 | NA | 090
27181 |  | A | Treat slipped epiphysis | 14.68 | 10.55 | NA | 1.74 | 26.97 | NA | 090
27185 |  | A | Revision of femur epiphysis | 9.18 | 9.67 | NA | 1.29 | 20.14 | NA | 090
27187 |  | A | Reinforce hip bones | 13.54 | 12.78 | NA | 1.89 | 28.21 | NA | 090
27193 |  | A | Treat pelvic ring fracture | 5.56 | 5.05 | 6.60 | 0.77 | 11.38 | 12.93 | 090
27194 |  | A | Treat pelvic ring fracture | 9.65 | 7.32 | 8.78 | 1.32 | 18.29 | 19.75 | 090
27200 |  | A | Treat tail bone fracture | 1.84 | 1.71 | 2.87 | 0.22 | 3.77 | 4.93 | 090
27202 |  | A | Treat tail bone fracture | 7.04 | 18.71 | NA | 0.69 | 26.44 | NA | 090
27215 |  | A | Treat pelvic fracture(s) | 10.05 | 9.89 | NA | 1.37 | 21.31 | NA | 090
27216 |  | A | Treat pelvic ring fracture | 15.19 | 14.74 | NA | 2.15 | 32.08 | NA | 090
27217 |  | A | Treat pelvic ring fracture | 14.11 | 12.25 | NA | 1.95 | 28.31 | NA | 090
27218 |  | A | Treat pelvic ring fracture | 20.15 | 15.81 | NA | 2.85 | 38.81 | NA | 090
27220 |  | A | Treat hip socket fracture | 6.18 | 5.40 | 6.94 | 0.85 | 12.43 | 13.97 | 090
27222 |  | A | Treat hip socket fracture | 12.70 | 9.90 | NA | 1.77 | 24.37 | NA | 090
27226 |  | A | Treat hip wall fracture | 14.91 | 12.77 | NA | 2.07 | 29.75 | NA | 090
27227 |  | A | Treat hip fracture(s) | 23.45 | 16.93 | NA | 3.24 | 43.62 | NA | 090
27228 |  | A | Treat hip fracture(s) | 27.16 | 19.17 | NA | 3.77 | 50.10 | NA | 090
27230 |  | A | Treat thigh fracture | 5.50 | 5.85 | 7.09 | 0.73 | 12.08 | 13.32 | 090
27232 |  | A | Treat thigh fracture | 10.68 | 8.85 | NA | 1.45 | 20.98 | NA | 090
27235 |  | A | Treat thigh fracture | 12.16 | 10.62 | NA | 1.71 | 24.49 | NA | 090
27236 |  | A | Treat thigh fracture | 15.60 | 12.35 | NA | 2.18 | 30.13 | NA | 090
27238 |  | A | Treat thigh fracture | 5.52 | 5.92 | NA | 0.76 | 12.20 | NA | 090
27240 |  | A | Treat thigh fracture | 12.50 | 9.90 | NA | 1.69 | 24.09 | NA | 090
27244 |  | A | Treat thigh fracture | 15.94 | 12.60 | NA | 2.23 | 30.77 | NA | 090
27245 |  | A | Treat thigh fracture | 20.31 | 15.07 | NA | 2.85 | 38.23 | NA | 090
27246 |  | A | Treat thigh fracture | 4.71 | 5.51 | 6.73 | 0.66 | 10.88 | 12.10 | 090
27248 |  | A | Treat thigh fracture | 10.45 | 9.54 | NA | 1.45 | 21.44 | NA | 090
27250 |  | A | Treat hip dislocation | 6.95 | 6.09 | NA | 0.68 | 13.72 | NA | 090
27252 |  | A | Treat hip dislocation | 10.39 | 7.92 | NA | 1.37 | 19.68 | NA | 090
27253 |  | A | Treat hip dislocation | 12.92 | 10.54 | NA | 1.81 | 25.27 | NA | 090
27254 |  | A | Treat hip dislocation | 18.26 | 13.72 | NA | 2.52 | 34.50 | NA | 090
27256 |  | A | Treat hip dislocation | 4.12 | 4.17 | NA | 0.49 | 8.78 | NA | 010
27257 |  | A | Treat hip dislocation | 5.22 | 4.55 | NA | 0.56 | 10.33 | NA | 010
27258 |  | A | Treat hip dislocation | 15.43 | 13.02 | NA | 2.06 | 30.51 | NA | 090
27259 |  | A | Treat hip dislocation | 21.55 | 16.30 | NA | 2.99 | 40.84 | NA | 090
27265 |  | A | Treat hip dislocation | 5.05 | 5.64 | NA | 0.65 | 11.34 | NA | 090
27266 |  | A | Treat hip dislocation | 7.49 | 7.06 | NA | 1.04 | 15.59 | NA | 090
27275 |  | A | Manipulation of hip joint | 2.27 | 3.29 | NA | 0.31 | 5.87 | NA | 010
27280 |  | A | Fusion of sacroiliac joint | 13.39 | 13.42 | NA | 1.98 | 28.79 | NA | 090
27282 |  | A | Fusion of pubic bones | 11.34 | 12.51 | NA | 1.14 | 24.99 | NA | 090
27284 |  | A | Fusion of hip joint | 23.45 | 18.36 | NA | 2.36 | 44.17 | NA | 090
27286 |  | A | Fusion of hip joint | 16.79 | 14.57 | NA | 2.37 | 33.73 | NA | 090
27290 |  | A | Amputation of leg at hip | 23.28 | 16.85 | NA | 2.94 | 43.07 | NA | 090
27295 |  | A | Amputation of leg at hip | 18.65 | 13.93 | NA | 2.35 | 34.93 | NA | 090
27299 |  | C | Pelvis/hip joint surgery | 0.00 | 0.00 | 0.00 | 0.00 | 0.00 | 0.00 | YYY
27301 |  | A | Drain thigh/knee lesion | 6.49 | 13.35 | 15.31 | 0.80 | 20.64 | 22.60 | 090
27303 |  | A | Drainage of bone lesion | 8.28 | 13.63 | NA | 1.14 | 23.05 | NA | 090
27305 |  | A | Incise thigh tendon & fascia | 5.92 | 8.77 | NA | 0.77 | 15.46 | NA | 090
27306 |  | A | Incision of thigh tendon | 4.62 | 7.05 | NA | 0.62 | 12.29 | NA | 090
27307 |  | A | Incision of thigh tendons | 5.80 | 7.75 | NA | 0.78 | 14.33 | NA | 090
27310 |  | A | Exploration of knee joint | 9.27 | 9.49 | NA | 1.29 | 20.05 | NA | 090
27315 |  | A | Partial removal, thigh nerve | 6.97 | 4.58 | NA | 0.79 | 12.34 | NA | 090
27320 |  | A | Partial removal, thigh nerve | 6.30 | 4.28 | NA | 0.78 | 11.36 | NA | 090
27323 |  | A | Biopsy, thigh soft tissues | 2.28 | 3.34 | 5.64 | 0.17 | 5.79 | 8.09 | 010
27324 |  | A | Biopsy, thigh soft tissues | 4.90 | 6.53 | NA | 0.59 | 12.02 | NA | 090
27327 |  | A | Removal of thigh lesion | 4.47 | 6.19 | 8.40 | 0.50 | 11.16 | 13.37 | 090
27328 |  | A | Removal of thigh lesion | 5.57 | 6.79 | NA | 0.66 | 13.02 | NA | 090
27329 |  | A | Remove tumor, thigh/knee | 14.14 | 13.97 | NA | 1.68 | 29.79 | NA | 090
27330 |  | A | Biopsy, knee joint lining | 4.97 | 5.95 | NA | 0.66 | 11.58 | NA | 090
27331 |  | A | Explore/treat knee joint | 5.88 | 7.00 | NA | 0.81 | 13.69 | NA | 090
27332 |  | A | Removal of knee cartilage | 8.27 | 8.37 | NA | 1.15 | 17.79 | NA | 090
27333 |  | A | Removal of knee cartilage | 7.30 | 7.88 | NA | 1.03 | 16.21 | NA | 090
27334 |  | A | Remove knee joint lining | 8.70 | 9.16 | NA | 1.21 | 19.07 | NA | 090
27335 |  | A | Remove knee joint lining | 10.00 | 9.92 | NA | 1.41 | 21.33 | NA | 090
27340 |  | A | Removal of kneecap bursa | 4.18 | 5.59 | NA | 0.58 | 10.35 | NA | 090
27345 |  | A | Removal of knee cyst | 5.92 | 6.92 | NA | 0.81 | 13.65 | NA | 090
27347 |  | A | Remove knee cyst | 5.78 | 2.82 | 2.82 | 0.76 | 9.36 | 9.36 | 090
27350 |  | A | Removal of kneecap | 8.17 | 8.36 | NA | 1.15 | 17.68 | NA | 090
27355 |  | A | Remove femur lesion | 7.65 | 9.58 | NA | 1.07 | 18.30 | NA | 090
27356 |  | A | Remove femur lesion/graft | 9.48 | 10.60 | NA | 1.29 | 21.37 | NA | 090
27357 |  | A | Remove femur lesion/graft | 10.53 | 11.14 | NA | 1.48 | 23.15 | NA | 090
27358 |  | A | Remove femur lesion/fixation | 4.74 | 2.67 | NA | 0.67 | 8.08 | NA | ZZZ
27360 |  | A | Partial removal, leg bone(s) | 10.50 | 16.98 | NA | 1.42 | 28.90 | NA | 090
27365 |  | A | Extensive leg surgery | 16.27 | 13.73 | NA | 2.26 | 32.26 | NA | 090
27370 |  | A | Injection for knee x-ray | 0.96 | 0.34 | 12.03 | 0.06 | 1.36 | 13.05 | 000
27372 |  | A | Removal of foreign body | 5.07 | 6.07 | 8.36 | 0.62 | 11.76 | 14.05 | 090
27380 |  | A | Repair of kneecap tendon | 7.16 | 7.87 | NA | 1.00 | 16.03 | NA | 090
27381 |  | A | Repair/graft kneecap tendon | 10.34 | 9.66 | NA | 1.44 | 21.44 | NA | 090
27385 |  | A | Repair of thigh muscle | 7.76 | 8.22 | NA | 1.09 | 17.07 | NA | 090
27386 |  | A | Repair/graft of thigh muscle | 10.56 | 10.34 | NA | 1.49 | 22.39 | NA | 090
27390 |  | A | Incision of thigh tendon | 5.33 | 7.26 | NA | 0.69 | 13.28 | NA | 090
27391 |  | A | Incision of thigh tendons | 7.20 | 8.37 | NA | 0.99 | 16.56 | NA | 090
27392 |  | A | Incision of thigh tendons | 9.20 | 10.37 | NA | 1.23 | 20.80 | NA | 090
27393 |  | A | Lengthening of thigh tendon | 6.39 | 7.77 | NA | 0.90 | 15.06 | NA | 090
27394 |  | A | Lengthening of thigh tendons | 8.50 | 10.05 | NA | 1.17 | 19.72 | NA | 090
27395 |  | A | Lengthening of thigh tendons | 11.73 | 12.75 | NA | 1.63 | 26.11 | NA | 090
27396 |  | A | Transplant of thigh tendon | 7.86 | 9.69 | NA | 1.11 | 18.66 | NA | 090
27397 |  | A | Transplants of thigh tendons | 11.28 | 11.12 | NA | 1.58 | 23.98 | NA | 090
27400 |  | A | Revise thigh muscles/tendons | 9.02 | 10.67 | NA | 1.18 | 20.87 | NA | 090
27403 |  | A | Repair of knee cartilage | 8.33 | 8.41 | NA | 1.16 | 17.90 | NA | 090
27405 |  | A | Repair of knee ligament | 8.65 | 9.10 | NA | 1.21 | 18.96 | NA | 090
27407 |  | A | Repair of knee ligament | 10.28 | 9.88 | NA | 1.38 | 21.54 | NA | 090
27409 |  | A | Repair of knee ligaments | 12.90 | 11.31 | NA | 1.75 | 25.96 | NA | 090
27418 |  | A | Repair degenerated kneecap | 10.85 | 10.40 | NA | 1.51 | 22.76 | NA | 090
27420 |  | A | Revision of unstable kneecap | 9.83 | 9.29 | NA | 1.38 | 20.50 | NA | 090
27422 |  | A | Revision of unstable kneecap | 9.78 | 9.30 | NA | 1.37 | 20.45 | NA | 090
27424 |  | A | Revision/removal of kneecap | 9.81 | 9.28 | NA | 1.38 | 20.47 | NA | 090
27425 |  | A | Lateral retinacular release | 5.22 | 6.72 | NA | 0.73 | 12.67 | NA | 090
27427 |  | A | Reconstruction, knee | 9.36 | 8.94 | NA | 1.29 | 19.59 | NA | 090
27428 |  | A | Reconstruction, knee | 14.00 | 11.95 | NA | 1.95 | 27.90 | NA | 090
27429 |  | A | Reconstruction, knee | 15.52 | 12.95 | NA | 2.18 | 30.65 | NA | 090
27430 |  | A | Revision of thigh muscles | 9.67 | 9.29 | NA | 1.35 | 20.31 | NA | 090
27435 |  | A | Incision of knee joint | 9.49 | 9.21 | NA | 1.33 | 20.03 | NA | 090
27437 |  | A | Revise kneecap | 8.46 | 9.35 | NA | 1.18 | 18.99 | NA | 090
27438 |  | A | Revise kneecap with implant | 11.23 | 10.55 | NA | 1.56 | 23.34 | NA | 090
27440 |  | A | Revision of knee joint | 10.43 | 10.22 | NA | 1.42 | 22.07 | NA | 090
27441 |  | A | Revision of knee joint | 10.82 | 10.58 | NA | 1.49 | 22.89 | NA | 090
27442 |  | A | Revision of knee joint | 11.89 | 11.16 | NA | 1.68 | 24.73 | NA | 090
27443 |  | A | Revision of knee joint | 10.93 | 10.82 | NA | 1.52 | 23.27 | NA | 090
27445 |  | A | Revision of knee joint | 17.68 | 14.44 | NA | 2.49 | 34.61 | NA | 090
27446 |  | A | Revision of knee joint | 15.84 | 13.51 | NA | 2.22 | 31.57 | NA | 090
27447 |  | A | Total knee replacement | 21.48 | 16.57 | NA | 3.00 | 41.05 | NA | 090
27448 |  | A | Incision of thigh | 11.06 | 11.43 | NA | 1.51 | 24.00 | NA | 090
27450 |  | A | Incision of thigh | 13.98 | 13.10 | NA | 1.96 | 29.04 | NA | 090
27454 |  | A | Realignment of thigh bone | 17.56 | 15.15 | NA | 2.46 | 35.17 | NA | 090
27455 |  | A | Realignment of knee | 12.82 | 11.89 | NA | 1.78 | 26.49 | NA | 090
27457 |  | A | Realignment of knee | 13.45 | 11.16 | NA | 1.88 | 26.49 | NA | 090
27465 |  | A | Shortening of thigh bone | 13.87 | 13.49 | NA | 1.86 | 29.22 | NA | 090
27466 |  | A | Lengthening of thigh bone | 16.33 | 14.79 | NA | 1.92 | 33.04 | NA | 090
27468 |  | A | Shorten/lengthen thighs | 18.97 | 16.66 | NA | 2.68 | 38.31 | NA | 090
27470 |  | A | Repair of thigh | 16.07 | 15.10 | NA | 2.24 | 33.41 | NA | 090
27472 |  | A | Repair/graft of thigh | 17.72 | 16.03 | NA | 2.49 | 36.24 | NA | 090
27475 |  | A | Surgery to stop leg growth | 8.64 | 9.39 | NA | 1.13 | 19.16 | NA | 090
27477 |  | A | Surgery to stop leg growth | 9.85 | 9.25 | NA | 1.31 | 20.41 | NA | 090
27479 |  | A | Surgery to stop leg growth | 12.80 | 10.30 | NA | 1.81 | 24.91 | NA | 090
27485 |  | A | Surgery to stop leg growth | 8.84 | 8.75 | NA | 1.24 | 18.83 | NA | 090
27486 |  | A | Revise/replace knee joint | 19.27 | 15.41 | NA | 2.70 | 37.38 | NA | 090
27487 |  | A | Revise/replace knee joint | 25.27 | 18.75 | NA | 3.54 | 47.56 | NA | 090
27488 |  | A | Removal of knee prosthesis | 15.74 | 13.51 | NA | 2.21 | 31.46 | NA | 090
27495 |  | A | Reinforce thigh | 15.55 | 14.86 | NA | 2.18 | 32.59 | NA | 090
27496 |  | A | Decompression of thigh/knee | 6.11 | 7.28 | NA | 0.77 | 14.16 | NA | 090
27497 |  | A | Decompression of thigh/knee | 7.17 | 7.52 | NA | 0.84 | 15.53 | NA | 090
27498 |  | A | Decompression of thigh/knee | 7.99 | 8.72 | NA | 0.97 | 17.68 | NA | 090
27499 |  | A | Decompression of thigh/knee | 9.00 | 9.01 | NA | 1.18 | 19.19 | NA | 090
27500 |  | A | Treatment of thigh fracture | 5.92 | 7.03 | 9.03 | 0.80 | 13.75 | 15.75 | 090
27501 |  | A | Treatment of thigh fracture | 5.92 | 7.95 | 10.01 | 0.83 | 14.70 | 16.76 | 090
27502 |  | A | Treatment of thigh fracture | 10.58 | 10.59 | NA | 1.49 | 22.66 | NA | 090
27503 |  | A | Treatment of thigh fracture | 10.58 | 10.58 | NA | 1.49 | 22.65 | NA | 090
27506 |  | A | Treatment of thigh fracture | 17.45 | 13.54 | NA | 2.33 | 33.32 | NA | 090
27507 |  | A | Treatment of thigh fracture | 13.99 | 11.92 | NA | 1.95 | 27.86 | NA | 090
27508 |  | A | Treatment of thigh fracture | 5.83 | 5.13 | 6.64 | 0.80 | 11.76 | 13.27 | 090
27509 |  | A | Treatment of thigh fracture | 7.71 | 8.62 | NA | 1.08 | 17.41 | NA | 090
27510 |  | A | Treatment of thigh fracture | 9.13 | 7.02 | NA | 1.26 | 17.41 | NA | 090
27511 |  | A | Treatment of thigh fracture | 13.64 | 12.45 | NA | 1.91 | 28.00 | NA | 090
27513 |  | A | Treatment of thigh fracture | 17.92 | 14.85 | NA | 2.51 | 35.28 | NA | 090
27514 |  | A | Treatment of thigh fracture | 17.30 | 14.31 | NA | 2.41 | 34.02 | NA | 090
27516 |  | A | Treat thigh fx growth plate | 5.37 | 5.53 | 7.10 | 0.74 | 11.64 | 13.21 | 090
27517 |  | A | Treat thigh fx growth plate | 8.78 | 7.49 | 9.23 | 1.22 | 17.49 | 19.23 | 090
27519 |  | A | Treat thigh fx growth plate | 15.02 | 12.72 | NA | 2.09 | 29.83 | NA | 090
27520 |  | A | Treat kneecap fracture | 2.86 | 3.50 | 4.97 | 0.38 | 6.74 | 8.21 | 090
27524 |  | A | Treat kneecap fracture | 10.00 | 8.48 | NA | 1.40 | 19.88 | NA | 090
27530 |  | A | Treat knee fracture | 3.78 | 4.03 | 5.49 | 0.51 | 8.32 | 9.78 | 090
27532 |  | A | Treat knee fracture | 7.30 | 5.58 | 7.16 | 1.02 | 13.90 | 15.48 | 090
27535 |  | A | Treat knee fracture | 11.50 | 11.30 | NA | 1.61 | 24.41 | NA | 090
27536 |  | A | Treat knee fracture | 15.65 | 11.62 | NA | 2.19 | 29.46 | NA | 090
27538 |  | A | Treat knee fracture(s) | 4.87 | 5.15 | 6.98 | 0.67 | 10.69 | 12.52 | 090
27540 |  | A | Treat knee fracture | 13.10 | 10.02 | NA | 1.80 | 24.92 | NA | 090
27550 |  | A | Treat knee dislocation | 5.76 | 5.39 | 6.99 | 0.68 | 11.83 | 13.43 | 090
27552 |  | A | Treat knee dislocation | 7.90 | 7.56 | NA | 1.10 | 16.56 | NA | 090
27556 |  | A | Treat knee dislocation | 14.41 | 13.70 | NA | 2.01 | 30.12 | NA | 090
27557 |  | A | Treat knee dislocation | 16.77 | 14.90 | NA | 2.37 | 34.04 | NA | 090
27558 |  | A | Treat knee dislocation | 17.72 | 15.15 | NA | 2.51 | 35.38 | NA | 090
27560 |  | A | Treat kneecap dislocation | 3.82 | 3.73 | 5.48 | 0.40 | 7.95 | 9.70 | 090
27562 |  | A | Treat kneecap dislocation | 5.79 | 5.40 | NA | 0.69 | 11.88 | NA | 090
27566 |  | A | Treat kneecap dislocation | 12.23 | 9.85 | NA | 1.73 | 23.81 | NA | 090
27570 |  | A | Fixation of knee joint | 1.74 | 2.97 | NA | 0.24 | 4.95 | NA | 010
27580 |  | A | Fusion of knee | 19.37 | 15.82 | NA | 2.70 | 37.89 | NA | 090
27590 |  | A | Amputate leg at thigh | 12.03 | 12.40 | NA | 1.35 | 25.78 | NA | 090
27591 |  | A | Amputate leg at thigh | 12.68 | 13.36 | NA | 1.63 | 27.67 | NA | 090
27592 |  | A | Amputate leg at thigh | 10.02 | 11.90 | NA | 1.17 | 23.09 | NA | 090
27594 |  | A | Amputation follow-up surgery | 6.92 | 8.82 | NA | 0.82 | 16.56 | NA | 090
27596 |  | A | Amputation follow-up surgery | 10.60 | 12.19 | NA | 1.24 | 24.03 | NA | 090
27598 |  | A | Amputate lower leg at knee | 10.53 | 10.97 | NA | 1.24 | 22.74 | NA | 090
27599 |  | C | Leg surgery procedure | 0.00 | 0.00 | 0.00 | 0.00 | 0.00 | 0.00 | YYY
27600 |  | A | Decompression of lower leg | 5.65 | 7.81 | NA | 0.68 | 14.14 | NA | 090
27601 |  | A | Decompression of lower leg | 5.64 | 7.17 | NA | 0.69 | 13.50 | NA | 090
27602 |  | A | Decompression of lower leg | 7.35 | 8.12 | NA | 0.85 | 16.32 | NA | 090
27603 |  | A | Drain lower leg lesion | 4.94 | 10.08 | 15.62 | 0.56 | 15.58 | 21.12 | 090
27604 |  | A | Drain lower leg bursa | 4.47 | 7.81 | 10.69 | 0.54 | 12.82 | 15.70 | 090
27605 |  | A | Incision of achilles tendon | 2.87 | 3.67 | 9.73 | 0.38 | 6.92 | 12.98 | 010
27606 |  | A | Incision of achilles tendon | 4.14 | 4.76 | 11.66 | 0.57 | 9.47 | 16.37 | 010
27607 |  | A | Treat lower leg bone lesion | 7.97 | 12.93 | NA | 1.08 | 21.98 | NA | 090
27610 |  | A | Explore/treat ankle joint | 8.34 | 9.84 | NA | 1.15 | 19.33 | NA | 090
27612 |  | A | Exploration of ankle joint | 7.33 | 7.59 | NA | 1.01 | 15.93 | NA | 090
27613 |  | A | Biopsy lower leg soft tissue | 2.17 | 3.13 | 5.62 | 0.16 | 5.46 | 7.95 | 010
27614 |  | A | Biopsy lower leg soft tissue | 5.66 | 6.91 | 11.43 | 0.62 | 13.19 | 17.71 | 090
27615 |  | A | Remove tumor, lower leg | 12.56 | 17.04 | NA | 1.39 | 30.99 | NA | 090
27618 |  | A | Remove lower leg lesion | 5.09 | 6.46 | 11.09 | 0.54 | 12.09 | 16.72 | 090
27619 |  | A | Remove lower leg lesion | 8.40 | 8.95 | 13.47 | 1.01 | 18.36 | 22.88 | 090
27620 |  | A | Explore/treat ankle joint | 5.98 | 7.31 | NA | 0.83 | 14.12 | NA | 090
27625 |  | A | Remove ankle joint lining | 8.30 | 9.15 | NA | 1.16 | 18.61 | NA | 090
27626 |  | A | Remove ankle joint lining | 8.91 | 9.83 | NA | 1.23 | 19.97 | NA | 090
27630 |  | A | Removal of tendon lesion | 4.80 | 6.58 | 11.43 | 0.60 | 11.98 | 16.83 | 090
27635 |  | A | Remove lower leg bone lesion | 7.78 | 10.35 | NA | 1.06 | 19.19 | NA | 090
27637 |  | A | Remove/graft leg bone lesion | 9.85 | 11.58 | NA | 1.38 | 22.81 | NA | 090
27638 |  | A | Remove/graft leg bone lesion | 10.57 | 12.14 | NA | 1.47 | 24.18 | NA | 090
27640 |  | A | Partial removal of tibia | 11.37 | 17.11 | NA | 1.54 | 30.02 | NA | 090
27641 |  | A | Partial removal of fibula | 9.24 | 14.98 | NA | 1.22 | 25.44 | NA | 090
27645 |  | A | Extensive lower leg surgery | 14.17 | 16.93 | NA | 1.98 | 33.08 | NA | 090
27646 |  | A | Extensive lower leg surgery | 12.66 | 15.65 | NA | 1.55 | 29.86 | NA | 090
27647 |  | A | Extensive ankle/heel surgery | 12.24 | 10.62 | NA | 1.64 | 24.50 | NA | 090
27648 |  | A | Injection for ankle x-ray | 0.96 | 0.34 | 9.37 | 0.05 | 1.35 | 10.38 | 000
27650 |  | A | Repair achilles tendon | 9.69 | 8.97 | NA | 1.35 | 20.01 | NA | 090
27652 |  | A | Repair/graft achilles tendon | 10.33 | 9.31 | NA | 1.45 | 21.09 | NA | 090
27654 |  | A | Repair of achilles tendon | 10.02 | 9.60 | NA | 1.41 | 21.03 | NA | 090
27656 |  | A | Repair leg fascia defect | 4.57 | 6.11 | 12.80 | 0.48 | 11.16 | 17.85 | 090
27658 |  | A | Repair of leg tendon, each | 4.98 | 8.27 | 14.26 | 0.68 | 13.93 | 19.92 | 090
27659 |  | A | Repair of leg tendon, each | 6.81 | 9.22 | 16.82 | 0.96 | 16.99 | 24.59 | 090
27664 |  | A | Repair of leg tendon, each | 4.59 | 8.23 | 12.05 | 0.63 | 13.45 | 17.27 | 090
27665 |  | A | Repair of leg tendon, each | 5.40 | 8.39 | 13.42 | 0.75 | 14.54 | 19.57 | 090
27675 |  | A | Repair lower leg tendons | 7.18 | 7.46 | NA | 1.01 | 15.65 | NA | 090
27676 |  | A | Repair lower leg tendons | 8.42 | 8.74 | NA | 1.15 | 18.31 | NA | 090
27680 |  | A | Release of lower leg tendon | 5.74 | 7.47 | NA | 0.80 | 14.01 | NA | 090
27681 |  | A | Release of lower leg tendons | 6.82 | 7.51 | NA | 0.92 | 15.25 | NA | 090
27685 |  | A | Revision of lower leg tendon | 6.50 | 7.69 | 10.30 | 0.91 | 15.10 | 17.71 | 090
27686 |  | A | Revise lower leg tendons | 7.46 | 9.22 | 16.33 | 1.05 | 17.73 | 24.84 | 090
27687 |  | A | Revision of calf tendon | 6.24 | 7.78 | NA | 0.88 | 14.90 | NA | 090
27690 |  | A | Revise lower leg tendon | 8.71 | 8.75 | NA | 1.22 | 18.68 | NA | 090
27691 |  | A | Revise lower leg tendon | 9.96 | 10.31 | NA | 1.40 | 21.67 | NA | 090
27692 |  | A | Revise additional leg tendon | 1.87 | 0.99 | NA | 0.26 | 3.12 | NA | ZZZ
27695 |  | A | Repair of ankle ligament | 6.51 | 8.47 | NA | 0.90 | 15.88 | NA | 090
27696 |  | A | Repair of ankle ligaments | 8.27 | 8.96 | NA | 1.16 | 18.39 | NA | 090
27698 |  | A | Repair of ankle ligament | 9.36 | 8.70 | NA | 1.31 | 19.37 | NA | 090
27700 |  | A | Revision of ankle joint | 9.29 | 7.42 | NA | 1.24 | 17.95 | NA | 090
27702 |  | A | Reconstruct ankle joint | 13.67 | 12.31 | NA | 1.92 | 27.90 | NA | 090
27703 |  | A | Reconstruction, ankle joint | 15.87 | 13.65 | NA | 2.24 | 31.76 | NA | 090
27704 |  | A | Removal of ankle implant | 7.62 | 7.54 | NA | 0.61 | 15.77 | NA | 090
27705 |  | A | Incision of tibia | 10.38 | 10.88 | NA | 1.44 | 22.70 | NA | 090
27707 |  | A | Incision of fibula | 4.37 | 7.73 | NA | 0.60 | 12.70 | NA | 090
27709 |  | A | Incision of tibia & fibula | 9.95 | 10.81 | NA | 1.39 | 22.15 | NA | 090
27712 |  | A | Realignment of lower leg | 14.25 | 12.96 | NA | 2.00 | 29.21 | NA | 090
27715 |  | A | Revision of lower leg | 14.39 | 14.20 | NA | 2.00 | 30.59 | NA | 090
27720 |  | A | Repair of tibia | 11.79 | 12.75 | NA | 1.66 | 26.20 | NA | 090
27722 |  | A | Repair/graft of tibia | 11.82 | 12.39 | NA | 1.65 | 25.86 | NA | 090
27724 |  | A | Repair/graft of tibia | 18.20 | 16.34 | NA | 2.10 | 36.64 | NA | 090
27725 |  | A | Repair of lower leg | 15.59 | 14.94 | NA | 2.20 | 32.73 | NA | 090
27727 |  | A | Repair of lower leg | 14.01 | 12.62 | NA | 1.84 | 28.47 | NA | 090
27730 |  | A | Repair of tibia epiphysis | 7.41 | 10.05 | 14.78 | 0.75 | 18.21 | 22.94 | 090
27732 |  | A | Repair of fibula epiphysis | 5.32 | 8.24 | 11.97 | 0.63 | 14.19 | 17.92 | 090
27734 |  | A | Repair lower leg epiphyses | 8.48 | 9.20 | NA | 0.85 | 18.53 | NA | 090
27740 |  | A | Repair of leg epiphyses | 9.30 | 10.50 | 15.53 | 1.31 | 21.11 | 26.14 | 090
27742 |  | A | Repair of leg epiphyses | 10.30 | 11.08 | 15.92 | 1.55 | 22.93 | 27.77 | 090
27745 |  | A | Reinforce tibia | 10.07 | 10.86 | NA | 1.38 | 22.31 | NA | 090
27750 |  | A | Treatment of tibia fracture | 3.19 | 3.69 | 5.14 | 0.43 | 7.31 | 8.76 | 090
27752 |  | A | Treatment of tibia fracture | 5.84 | 5.76 | 7.54 | 0.82 | 12.42 | 14.20 | 090
27756 |  | A | Treatment of tibia fracture | 6.78 | 9.98 | NA | 0.94 | 17.70 | NA | 090
27758 |  | A | Treatment of tibia fracture | 11.67 | 11.15 | NA | 1.52 | 24.34 | NA | 090
27759 |  | A | Treatment of tibia fracture | 13.76 | 12.70 | NA | 1.93 | 28.39 | NA | 090
27760 |  | A | Treatment of ankle fracture | 3.01 | 3.54 | 4.93 | 0.39 | 6.94 | 8.33 | 090
27762 |  | A | Treatment of ankle fracture | 5.25 | 5.34 | 7.10 | 0.71 | 11.30 | 13.06 | 090
27766 |  | A | Treatment of ankle fracture | 8.36 | 8.07 | NA | 1.17 | 17.60 | NA | 090
27780 |  | A | Treatment of fibula fracture | 2.65 | 3.36 | 4.88 | 0.33 | 6.34 | 7.86 | 090
27781 |  | A | Treatment of fibula fracture | 4.40 | 4.29 | 6.07 | 0.57 | 9.26 | 11.04 | 090
27784 |  | A | Treatment of fibula fracture | 7.11 | 8.00 | NA | 0.98 | 16.09 | NA | 090
27786 |  | A | Treatment of ankle fracture | 2.84 | 3.47 | 4.90 | 0.37 | 6.68 | 8.11 | 090
27788 |  | A | Treatment of ankle fracture | 4.45 | 4.34 | 6.06 | 0.61 | 9.40 | 11.12 | 090
27792 |  | A | Treatment of ankle fracture | 7.66 | 7.65 | NA | 1.07 | 16.38 | NA | 090
27808 |  | A | Treatment of ankle fracture | 2.83 | 4.08 | 5.79 | 0.38 | 7.29 | 9.00 | 090
27810 |  | A | Treatment of ankle fracture | 5.13 | 5.31 | 7.06 | 0.71 | 11.15 | 12.90 | 090
27814 |  | A | Treatment of ankle fracture | 10.68 | 10.27 | NA | 1.50 | 22.45 | NA | 090
27816 |  | A | Treatment of ankle fracture | 2.89 | 4.11 | 5.43 | 0.37 | 7.37 | 8.69 | 090
27818 |  | A | Treatment of ankle fracture | 5.50 | 5.48 | 7.27 | 0.74 | 11.72 | 13.51 | 090
27822 |  | A | Treatment of ankle fracture | 11.00 | 12.26 | NA | 1.29 | 24.55 | NA | 090
27823 |  | A | Treatment of ankle fracture | 13.00 | 13.32 | NA | 1.65 | 27.97 | NA | 090
27824 |  | A | Treat lower leg fracture | 2.89 | 4.09 | 5.83 | 0.39 | 7.37 | 9.11 | 090
27825 |  | A | Treat lower leg fracture | 6.19 | 5.94 | 7.66 | 0.85 | 12.98 | 14.70 | 090
27826 |  | A | Treat lower leg fracture | 8.54 | 10.89 | NA | 1.19 | 20.62 | NA | 090
27827 |  | A | Treat lower leg fracture | 14.06 | 14.00 | NA | 1.96 | 30.02 | NA | 090
27828 |  | A | Treat lower leg fracture | 16.23 | 15.15 | NA | 2.27 | 33.65 | NA | 090
27829 |  | A | Treat lower leg joint | 5.49 | 7.89 | NA | 0.77 | 14.15 | NA | 090
27830 |  | A | Treat lower leg dislocation | 3.79 | 4.05 | 4.53 | 0.44 | 8.28 | 8.76 | 090
27831 |  | A | Treat lower leg dislocation | 4.56 | 4.97 | NA | 0.61 | 10.14 | NA | 090
27832 |  | A | Treat lower leg dislocation | 6.49 | 7.75 | NA | 0.91 | 15.15 | NA | 090
27840 |  | A | Treat ankle dislocation | 4.58 | 5.60 | NA | 0.47 | 10.65 | NA | 090
27842 |  | A | Treat ankle dislocation | 6.21 | 4.91 | NA | 0.76 | 11.88 | NA | 090
27846 |  | A | Treat ankle dislocation | 9.79 | 9.79 | NA | 1.36 | 20.94 | NA | 090
27848 |  | A | Treat ankle dislocation | 11.20 | 10.93 | NA | 1.55 | 23.68 | NA | 090
27860 |  | A | Fixation of ankle joint | 2.34 | 3.59 | NA | 0.31 | 6.24 | NA | 010
27870 |  | A | Fusion of ankle joint | 13.91 | 12.94 | NA | 1.95 | 28.80 | NA | 090
27871 |  | A | Fusion of tibiofibular joint | 9.17 | 10.24 | NA | 1.29 | 20.70 | NA | 090
27880 |  | A | Amputation of lower leg | 11.85 | 11.64 | NA | 1.38 | 24.87 | NA | 090
27881 |  | A | Amputation of lower leg | 12.34 | 12.77 | NA | 1.59 | 26.70 | NA | 090
27882 |  | A | Amputation of lower leg | 8.94 | 13.04 | NA | 1.03 | 23.01 | NA | 090
27884 |  | A | Amputation follow-up surgery | 8.21 | 10.30 | NA | 0.95 | 19.46 | NA | 090
27886 |  | A | Amputation follow-up surgery | 9.32 | 11.00 | NA | 1.13 | 21.45 | NA | 090
27888 |  | A | Amputation of foot at ankle | 9.67 | 10.31 | NA | 1.26 | 21.24 | NA | 090
27889 |  | A | Amputation of foot at ankle | 9.98 | 10.64 | NA | 1.19 | 21.81 | NA | 090
27892 |  | A | Decompression of leg | 7.39 | 8.15 | NA | 0.86 | 16.40 | NA | 090
27893 |  | A | Decompression of leg | 7.35 | 8.37 | NA | 0.90 | 16.62 | NA | 090
27894 |  | A | Decompression of leg | 10.49 | 9.47 | NA | 1.25 | 21.21 | NA | 090
27899 |  | C | Leg/ankle surgery procedure | 0.00 | 0.00 | 0.00 | 0.00 | 0.00 | 0.00 | YYY
28001 |  | A | Drainage of bursa of foot | 2.73 | 2.87 | 4.72 | 0.31 | 5.91 | 7.76 | 010
28002 |  | A | Treatment of foot infection | 4.62 | 4.11 | 6.34 | 0.56 | 9.29 | 11.52 | 010
28003 |  | A | Treatment of foot infection | 8.41 | 10.05 | 10.23 | 1.03 | 19.49 | 19.67 | 090
28005 |  | A | Treat foot bone lesion | 8.68 | 9.63 | NA | 1.14 | 19.45 | NA | 090
28008 |  | A | Incision of foot fascia | 4.45 | 5.83 | 7.00 | 0.56 | 10.84 | 12.01 | 090
28010 |  | A | Incision of toe tendon | 2.84 | 4.54 | 6.37 | 0.39 | 7.77 | 9.60 | 090
28011 |  | A | Incision of toe tendons | 4.14 | 6.04 | 8.32 | 0.58 | 10.76 | 13.04 | 090
28020 |  | A | Exploration of foot joint | 5.01 | 5.81 | 8.48 | 0.64 | 11.46 | 14.13 | 090
28022 |  | A | Exploration of foot joint | 4.67 | 5.62 | 7.68 | 0.62 | 10.91 | 12.97 | 090
28024 |  | A | Exploration of toe joint | 4.38 | 5.92 | 7.41 | 0.50 | 10.80 | 12.29 | 090
28030 |  | A | Removal of foot nerve | 6.15 | 3.44 | NA | 0.85 | 10.44 | NA | 090
28035 |  | A | Decompression of tibia nerve | 5.09 | 4.97 | 8.95 | 0.71 | 10.77 | 14.75 | 090
28043 |  | A | Excision of foot lesion | 3.54 | 4.63 | 6.68 | 0.45 | 8.62 | 10.67 | 090
28045 |  | A | Excision of foot lesion | 4.72 | 5.24 | 7.06 | 0.62 | 10.58 | 12.40 | 090
28046 |  | A | Resection of tumor, foot | 10.18 | 10.69 | 12.22 | 1.13 | 22.00 | 23.53 | 090
28050 |  | A | Biopsy of foot joint lining | 4.25 | 5.23 | 6.13 | 0.55 | 10.03 | 10.93 | 090
28052 |  | A | Biopsy of foot joint lining | 3.94 | 5.33 | 7.61 | 0.51 | 9.78 | 12.06 | 090
28054 |  | A | Biopsy of toe joint lining | 3.45 | 5.04 | 7.21 | 0.45 | 8.94 | 11.11 | 090
28060 |  | A | Partial removal, foot fascia | 5.23 | 5.91 | 7.83 | 0.69 | 11.83 | 13.75 | 090
28062 |  | A | Removal of foot fascia | 6.52 | 5.97 | 8.74 | 0.85 | 13.34 | 16.11 | 090
28070 |  | A | Removal of foot joint lining | 5.10 | 5.45 | 7.97 | 0.68 | 11.23 | 13.75 | 090
28072 |  | A | Removal of foot joint lining | 4.58 | 6.10 | 7.45 | 0.64 | 11.32 | 12.67 | 090
28080 |  | A | Removal of foot lesion | 3.58 | 4.88 | 6.86 | 0.50 | 8.96 | 10.94 | 090
28086 |  | A | Excise foot tendon sheath | 4.78 | 6.69 | 10.90 | 0.66 | 12.13 | 16.34 | 090
28088 |  | A | Excise foot tendon sheath | 3.86 | 5.84 | 8.17 | 0.52 | 10.22 | 12.55 | 090
28090 |  | A | Removal of foot lesion | 4.41 | 5.10 | 7.15 | 0.57 | 10.08 | 12.13 | 090
28092 |  | A | Removal of toe lesions | 3.64 | 5.38 | 7.61 | 0.46 | 9.48 | 11.71 | 090
28100 |  | A | Removal of ankle/heel lesion | 5.66 | 7.00 | 10.92 | 0.76 | 13.42 | 17.34 | 090
28102 |  | A | Remove/graft foot lesion | 7.73 | 7.99 | NA | 0.97 | 16.69 | NA | 090
28103 |  | A | Remove/graft foot lesion | 6.50 | 7.04 | 10.80 | 0.89 | 14.43 | 18.19 | 090
28104 |  | A | Removal of foot lesion | 5.12 | 6.22 | 8.21 | 0.69 | 12.03 | 14.02 | 090
28106 |  | A | Remove/graft foot lesion | 7.16 | 5.93 | NA | 1.01 | 14.10 | NA | 090
28107 |  | A | Remove/graft foot lesion | 5.56 | 6.31 | 8.70 | 0.74 | 12.61 | 15.00 | 090
28108 |  | A | Removal of toe lesions | 4.16 | 4.80 | 6.43 | 0.52 | 9.48 | 11.11 | 090
28110 |  | A | Part removal of metatarsal | 4.08 | 6.11 | 7.87 | 0.49 | 10.68 | 12.44 | 090
28111 |  | A | Part removal of metatarsal | 5.01 | 7.11 | 10.56 | 0.63 | 12.75 | 16.20 | 090
28112 |  | A | Part removal of metatarsal | 4.49 | 6.71 | 9.19 | 0.60 | 11.80 | 14.28 | 090
28113 |  | A | Part removal of metatarsal | 4.79 | 6.47 | 8.43 | 0.63 | 11.89 | 13.85 | 090
28114 |  | A | Removal of metatarsal heads | 9.79 | 10.01 | 14.52 | 1.36 | 21.16 | 25.67 | 090
28116 |  | A | Revision of foot | 7.75 | 6.47 | 8.21 | 1.03 | 15.25 | 16.99 | 090
28118 |  | A | Removal of heel bone | 5.96 | 6.43 | 9.35 | 0.79 | 13.18 | 16.10 | 090
28119 |  | A | Removal of heel spur | 5.39 | 5.47 | 7.52 | 0.74 | 11.60 | 13.65 | 090
28120 |  | A | Part removal of ankle/heel | 5.40 | 8.96 | 11.93 | 0.69 | 15.05 | 18.02 | 090
28122 |  | A | Partial removal of foot bone | 7.29 | 8.55 | 10.38 | 0.96 | 16.80 | 18.63 | 090
28124 |  | A | Partial removal of toe | 4.81 | 6.76 | 8.04 | 0.65 | 12.22 | 13.50 | 090
28126 |  | A | Partial removal of toe | 3.52 | 6.19 | 6.89 | 0.49 | 10.20 | 10.90 | 090
28130 |  | A | Removal of ankle bone | 8.11 | 7.90 | NA | 1.11 | 17.12 | NA | 090
28140 |  | A | Removal of metatarsal | 6.91 | 7.63 | 10.94 | 0.84 | 15.38 | 18.69 | 090
28150 |  | A | Removal of toe | 4.09 | 6.43 | 7.98 | 0.52 | 11.04 | 12.59 | 090
28153 |  | A | Partial removal of toe | 3.66 | 5.33 | 6.97 | 0.49 | 9.48 | 11.12 | 090
28160 |  | A | Partial removal of toe | 3.74 | 6.36 | 7.45 | 0.51 | 10.61 | 11.70 | 090
28171 |  | A | Extensive foot surgery | 9.60 | 8.77 | NA | 1.13 | 19.50 | NA | 090
28173 |  | A | Extensive foot surgery | 8.80 | 8.07 | 11.16 | 1.04 | 17.91 | 21.00 | 090
28175 |  | A | Extensive foot surgery | 6.05 | 6.25 | 8.19 | 0.75 | 13.05 | 14.99 | 090
28190 |  | A | Removal of foot foreign body | 1.96 | 3.19 | 5.55 | 0.16 | 5.31 | 7.67 | 010
28192 |  | A | Removal of foot foreign body | 4.64 | 5.11 | 7.06 | 0.52 | 10.27 | 12.22 | 090
28193 |  | A | Removal of foot foreign body | 5.73 | 5.94 | 7.46 | 0.63 | 12.30 | 13.82 | 090
28200 |  | A | Repair of foot tendon | 4.60 | 5.54 | 7.61 | 0.59 | 10.73 | 12.80 | 090
28202 |  | A | Repair/graft of foot tendon | 6.84 | 6.42 | 11.03 | 0.86 | 14.12 | 18.73 | 090
28208 |  | A | Repair of foot tendon | 4.37 | 5.63 | 7.34 | 0.59 | 10.59 | 12.30 | 090
28210 |  | A | Repair/graft of foot tendon | 6.35 | 5.84 | 8.55 | 0.77 | 12.96 | 15.67 | 090
28220 |  | A | Release of foot tendon | 4.53 | 5.56 | 6.68 | 0.63 | 10.72 | 11.84 | 090
28222 |  | A | Release of foot tendons | 5.62 | 6.54 | 7.17 | 0.77 | 12.93 | 13.56 | 090
28225 |  | A | Release of foot tendon | 3.66 | 5.11 | 6.57 | 0.50 | 9.27 | 10.73 | 090
28226 |  | A | Release of foot tendons | 4.53 | 6.61 | 6.61 | 0.62 | 11.76 | 11.76 | 090
28230 |  | A | Incision of foot tendon(s) | 4.24 | 6.20 | 6.88 | 0.59 | 11.03 | 11.71 | 090
28232 |  | A | Incision of toe tendon | 3.39 | 5.81 | 6.84 | 0.48 | 9.68 | 10.71 | 090
28234 |  | A | Incision of foot tendon | 3.37 | 5.33 | 6.91 | 0.46 | 9.16 | 10.74 | 090
28238 |  | A | Revision of foot tendon | 7.73 | 6.95 | 10.42 | 1.08 | 15.76 | 19.23 | 090
28240 |  | A | Release of big toe | 4.36 | 5.72 | 6.85 | 0.61 | 10.69 | 11.82 | 090
28250 |  | A | Revision of foot fascia | 5.92 | 6.62 | 8.40 | 0.81 | 13.35 | 15.13 | 090
28260 |  | A | Release of midfoot joint | 7.96 | 6.88 | 8.02 | 1.08 | 15.92 | 17.06 | 090
28261 |  | A | Revision of foot tendon | 11.73 | 8.86 | 9.82 | 1.66 | 22.25 | 23.21 | 090
28262 |  | A | Revision of foot and ankle | 15.83 | 14.52 | 17.21 | 2.22 | 32.57 | 35.26 | 090
28264 |  | A | Release of midfoot joint | 10.35 | 11.05 | 11.16 | 1.46 | 22.86 | 22.97 | 090
28270 |  | A | Release of foot contracture | 4.76 | 6.39 | 7.38 | 0.67 | 11.82 | 12.81 | 090
28272 |  | A | Release of toe joint, each | 3.80 | 4.79 | 6.35 | 0.52 | 9.11 | 10.67 | 090
28280 |  | A | Fusion of toes | 5.19 | 6.27 | 8.82 | 0.72 | 12.18 | 14.73 | 090
28285 |  | A | Repair of hammertoe | 4.59 | 5.87 | 7.57 | 0.64 | 11.10 | 12.80 | 090
28286 |  | A | Repair of hammertoe | 4.56 | 5.93 | 7.24 | 0.64 | 11.13 | 12.44 | 090
28288 |  | A | Partial removal of foot bone | 4.74 | 7.27 | 8.26 | 0.65 | 12.66 | 13.65 | 090
28289 |  | A | Repair hallux rigidus | 7.04 | 7.97 | 9.66 | 0.96 | 15.97 | 17.66 | 090
28290 |  | A | Correction of bunion | 5.66 | 8.02 | 9.17 | 0.79 | 14.47 | 15.62 | 090
28292 |  | A | Correction of bunion | 7.04 | 6.89 | 8.87 | 0.98 | 14.91 | 16.89 | 090
28293 |  | A | Correction of bunion | 9.15 | 7.21 | 9.98 | 1.28 | 17.64 | 20.41 | 090
28294 |  | A | Correction of bunion | 8.56 | 7.19 | 9.33 | 1.16 | 16.91 | 19.05 | 090
28296 |  | A | Correction of bunion | 9.18 | 7.83 | 10.01 | 1.28 | 18.29 | 20.47 | 090
28297 |  | A | Correction of bunion | 9.18 | 9.47 | 12.30 | 1.31 | 19.96 | 22.79 | 090
28298 |  | A | Correction of bunion | 7.94 | 7.52 | 8.91 | 1.12 | 16.58 | 17.97 | 090
28299 |  | A | Correction of bunion | 9.18 | 7.81 | 9.97 | 1.24 | 18.23 | 20.39 | 090
28300 |  | A | Incision of heel bone | 9.54 | 8.93 | 14.62 | 1.31 | 19.78 | 25.47 | 090
28302 |  | A | Incision of ankle bone | 9.55 | 8.75 | 18.58 | 1.15 | 19.45 | 29.28 | 090
28304 |  | A | Incision of midfoot bones | 9.16 | 7.19 | 9.35 | 1.00 | 17.35 | 19.51 | 090
28305 |  | A | Incise/graft midfoot bones | 10.50 | 9.21 | 14.83 | 0.55 | 20.26 | 25.88 | 090
28306 |  | A | Incision of metatarsal | 5.86 | 5.80 | 9.30 | 0.81 | 12.47 | 15.97 | 090
28307 |  | A | Incision of metatarsal | 6.33 | 7.76 | 15.35 | 0.71 | 14.80 | 22.39 | 090
28308 |  | A | Incision of metatarsal | 5.29 | 4.92 | 6.95 | 0.74 | 10.95 | 12.98 | 090
28309 |  | A | Incision of metatarsals | 12.78 | 10.50 | NA | 1.64 | 24.92 | NA | 090
28310 |  | A | Revision of big toe | 5.43 | 6.14 | 8.17 | 0.76 | 12.33 | 14.36 | 090
28312 |  | A | Revision of toe | 4.55 | 6.72 | 7.78 | 0.62 | 11.89 | 12.95 | 090
28313 |  | A | Repair deformity of toe | 5.01 | 8.16 | 8.16 | 0.68 | 13.85 | 13.85 | 090
28315 |  | A | Removal of sesamoid bone | 4.86 | 5.06 | 6.81 | 0.66 | 10.58 | 12.33 | 090
28320 |  | A | Repair of foot bones | 9.18 | 8.11 | NA | 1.27 | 18.56 | NA | 090
28322 |  | A | Repair of metatarsals | 8.34 | 8.17 | 11.63 | 1.17 | 17.68 | 21.14 | 090
28340 |  | A | Resect enlarged toe tissue | 6.98 | 5.73 | 8.90 | 0.98 | 13.69 | 16.86 | 090
28341 |  | A | Resect enlarged toe | 8.41 | 6.57 | 8.21 | 1.18 | 16.16 | 17.80 | 090
28344 |  | A | Repair extra toe(s) | 4.26 | 5.02 | 12.54 | 0.60 | 9.88 | 17.40 | 090
28345 |  | A | Repair webbed toe(s) | 5.92 | 6.43 | 8.86 | 0.84 | 13.19 | 15.62 | 090
28360 |  | A | Reconstruct cleft foot | 13.34 | 12.22 | NA | 1.88 | 27.44 | NA | 090
28400 |  | A | Treatment of heel fracture | 2.16 | 4.28 | 5.15 | 0.29 | 6.73 | 7.60 | 090
28405 |  | A | Treatment of heel fracture | 4.57 | 5.42 | 6.19 | 0.63 | 10.62 | 11.39 | 090
28406 |  | A | Treatment of heel fracture | 6.31 | 8.08 | NA | 0.87 | 15.26 | NA | 090
28415 |  | A | Treat heel fracture | 15.97 | 14.55 | NA | 2.24 | 32.76 | NA | 090
28420 |  | A | Treat/graft heel fracture | 16.64 | 14.62 | NA | 2.29 | 33.55 | NA | 090
28430 |  | A | Treatment of ankle fracture | 2.09 | 3.84 | 4.79 | 0.27 | 6.20 | 7.15 | 090
28435 |  | A | Treatment of ankle fracture | 3.40 | 4.34 | 5.43 | 0.47 | 8.21 | 9.30 | 090
28436 |  | A | Treatment of ankle fracture | 4.71 | 7.27 | NA | 0.66 | 12.64 | NA | 090
28445 |  | A | Treat ankle fracture | 15.62 | 12.97 | NA | 1.29 | 29.88 | NA | 090
28450 |  | A | Treat midfoot fracture, each | 1.90 | 3.69 | 4.69 | 0.25 | 5.84 | 6.84 | 090
28455 |  | A | Treat midfoot fracture, each | 3.09 | 4.56 | 5.17 | 0.43 | 8.08 | 8.69 | 090
28456 |  | A | Treat midfoot fracture | 2.68 | 5.64 | NA | 0.36 | 8.68 | NA | 090
28465 |  | A | Treat midfoot fracture, each | 7.01 | 7.32 | NA | 0.87 | 15.20 | NA | 090
28470 |  | A | Treat metatarsal fracture | 1.99 | 3.08 | 4.07 | 0.26 | 5.33 | 6.32 | 090
28475 |  | A | Treat metatarsal fracture | 2.97 | 4.02 | 4.75 | 0.41 | 7.40 | 8.13 | 090
28476 |  | A | Treat metatarsal fracture | 3.38 | 5.92 | NA | 0.46 | 9.76 | NA | 090
28485 |  | A | Treat metatarsal fracture | 5.71 | 7.13 | NA | 0.80 | 13.64 | NA | 090
28490 |  | A | Treat big toe fracture | 1.09 | 2.01 | 2.46 | 0.13 | 3.23 | 3.68 | 090
28495 |  | A | Treat big toe fracture | 1.58 | 2.06 | 2.59 | 0.19 | 3.83 | 4.36 | 090
28496 |  | A | Treat big toe fracture | 2.33 | 4.26 | 10.08 | 0.32 | 6.91 | 12.73 | 090
28505 |  | A | Treat big toe fracture | 3.81 | 5.99 | 10.51 | 0.50 | 10.30 | 14.82 | 090
28510 |  | A | Treatment of toe fracture | 1.09 | 1.99 | 2.20 | 0.13 | 3.21 | 3.42 | 090
28515 |  | A | Treatment of toe fracture | 1.46 | 2.01 | 2.43 | 0.17 | 3.64 | 4.06 | 090
28525 |  | A | Treat toe fracture | 3.32 | 5.79 | 10.05 | 0.44 | 9.55 | 13.81 | 090
28530 |  | A | Treat sesamoid bone fracture | 1.06 | 2.18 | 2.52 | 0.13 | 3.37 | 3.71 | 090
28531 |  | A | Treat sesamoid bone fracture | 2.35 | 3.40 | 11.43 | 0.33 | 6.08 | 14.11 | 090
28540 |  | A | Treat foot dislocation | 2.04 | 3.13 | 3.13 | 0.24 | 5.41 | 5.41 | 090
28545 |  | A | Treat foot dislocation | 2.45 | 3.56 | 3.56 | 0.33 | 6.34 | 6.34 | 090
28546 |  | A | Treat foot dislocation | 3.20 | 5.31 | 5.31 | 0.46 | 8.97 | 8.97 | 090
28555 |  | A | Repair foot dislocation | 6.30 | 7.85 | 13.60 | 0.88 | 15.03 | 20.78 | 090
28570 |  | A | Treat foot dislocation | 1.66 | 3.35 | 3.36 | 0.22 | 5.23 | 5.24 | 090
28575 |  | A | Treat foot dislocation | 3.31 | 4.90 | 5.89 | 0.45 | 8.66 | 9.65 | 090
28576 |  | A | Treat foot dislocation | 4.17 | 6.04 | 13.73 | 0.56 | 10.77 | 18.46 | 090
28585 |  | A | Repair foot dislocation | 7.99 | 7.63 | 8.63 | 1.13 | 16.75 | 17.75 | 090
28600 |  | A | Treat foot dislocation | 1.89 | 3.67 | 3.83 | 0.24 | 5.80 | 5.96 | 090
28605 |  | A | Treat foot dislocation | 2.71 | 4.42 | 4.42 | 0.35 | 7.48 | 7.48 | 090
28606 |  | A | Treat foot dislocation | 4.90 | 6.59 | 15.56 | 0.68 | 12.17 | 21.14 | 090
28615 |  | A | Repair foot dislocation | 7.77 | 8.82 | NA | 1.09 | 17.68 | NA | 090
28630 |  | A | Treat toe dislocation | 1.70 | 2.09 | 2.09 | 0.17 | 3.96 | 3.96 | 010
28635 |  | A | Treat toe dislocation | 1.91 | 2.32 | 2.32 | 0.24 | 4.47 | 4.47 | 010
28636 |  | A | Treat toe dislocation | 2.77 | 3.12 | 6.60 | 0.39 | 6.28 | 9.76 | 010
28645 |  | A | Repair toe dislocation | 4.22 | 4.01 | 6.01 | 0.58 | 8.81 | 10.81 | 090
28660 |  | A | Treat toe dislocation | 1.23 | 2.27 | 2.92 | 0.11 | 3.61 | 4.26 | 010
28665 |  | A | Treat toe dislocation | 1.92 | 2.44 | 2.44 | 0.24 | 4.60 | 4.60 | 010
28666 |  | A | Treat toe dislocation | 2.66 | 2.31 | 6.55 | 0.38 | 5.35 | 9.59 | 010
28675 |  | A | Repair of toe dislocation | 2.92 | 4.47 | 8.80 | 0.41 | 7.80 | 12.13 | 090
28705 |  | A | Fusion of foot bones | 18.80 | 14.55 | NA | 2.13 | 35.48 | NA | 090
28715 |  | A | Fusion of foot bones | 13.10 | 11.82 | NA | 1.84 | 26.76 | NA | 090
28725 |  | A | Fusion of foot bones | 11.61 | 10.68 | NA | 1.63 | 23.92 | NA | 090
28730 |  | A | Fusion of foot bones | 10.76 | 9.98 | NA | 1.51 | 22.25 | NA | 090
28735 |  | A | Fusion of foot bones | 10.85 | 10.28 | NA | 1.51 | 22.64 | NA | 090
28737 |  | A | Revision of foot bones | 9.64 | 8.18 | NA | 1.36 | 19.18 | NA | 090
28740 |  | A | Fusion of foot bones | 8.02 | 8.30 | 13.40 | 1.13 | 17.45 | 22.55 | 090
28750 |  | A | Fusion of big toe joint | 7.30 | 8.51 | 14.60 | 1.03 | 16.84 | 22.93 | 090
28755 |  | A | Fusion of big toe joint | 4.74 | 5.98 | 8.64 | 0.66 | 11.38 | 14.04 | 090
28760 |  | A | Fusion of big toe joint | 7.75 | 7.09 | 9.78 | 1.07 | 15.91 | 18.60 | 090
28800 |  | A | Amputation of midfoot | 8.21 | 8.68 | NA | 0.98 | 17.87 | NA | 090
28805 |  | A | Amputation thru metatarsal | 8.39 | 8.86 | NA | 0.97 | 18.22 | NA | 090
28810 |  | A | Amputation toe & metatarsal | 6.21 | 7.75 | NA | 0.70 | 14.66 | NA | 090
28820 |  | A | Amputation of toe | 4.41 | 6.86 | 11.18 | 0.51 | 11.78 | 16.10 | 090
28825 |  | A | Partial amputation of toe | 3.59 | 6.70 | 10.28 | 0.43 | 10.72 | 14.30 | 090
28899 |  | C | Foot/toes surgery procedure | 0.00 | 0.00 | 0.00 | 0.00 | 0.00 | 0.00 | YYY
29000 |  | A | Application of body cast | 2.25 | 1.33 | 2.75 | 0.30 | 3.88 | 5.30 | 000
29010 |  | A | Application of body cast | 2.06 | 1.27 | 2.56 | 0.27 | 3.60 | 4.89 | 000
29015 |  | A | Application of body cast | 2.41 | 1.17 | 2.50 | 0.21 | 3.79 | 5.12 | 000
29020 |  | A | Application of body cast | 2.11 | 0.98 | 2.48 | 0.16 | 3.25 | 4.75 | 000
29025 |  | A | Application of body cast | 2.40 | 1.46 | 2.92 | 0.26 | 4.12 | 5.58 | 000
29035 |  | A | Application of body cast | 1.77 | 1.09 | 2.49 | 0.24 | 3.10 | 4.50 | 000
29040 |  | A | Application of body cast | 2.22 | 1.39 | 1.60 | 0.35 | 3.96 | 4.17 | 000
29044 |  | A | Application of body cast | 2.12 | 1.32 | 2.72 | 0.29 | 3.73 | 5.13 | 000
29046 |  | A | Application of body cast | 2.41 | 1.38 | 2.86 | 0.34 | 4.13 | 5.61 | 000
29049 |  | A | Application of figure eight | 0.89 | 0.51 | 1.54 | 0.12 | 1.52 | 2.55 | 000
29055 |  | A | Application of shoulder cast | 1.78 | 1.07 | 2.16 | 0.24 | 3.09 | 4.18 | 000
29058 |  | A | Application of shoulder cast | 1.31 | 0.64 | 1.81 | 0.14 | 2.09 | 3.26 | 000
29065 |  | A | Application of long arm cast | 0.87 | 0.54 | 1.27 | 0.12 | 1.53 | 2.26 | 000
29075 |  | A | Application of forearm cast | 0.77 | 0.47 | 1.22 | 0.11 | 1.35 | 2.10 | 000
29085 |  | A | Apply hand/wrist cast | 0.87 | 0.47 | 1.27 | 0.11 | 1.45 | 2.25 | 000
29105 |  | A | Apply long arm splint | 0.87 | 0.40 | 1.27 | 0.11 | 1.38 | 2.25 | 000
29125 |  | A | Apply forearm splint | 0.59 | 0.29 | 1.13 | 0.06 | 0.94 | 1.78 | 000
29126 |  | A | Apply forearm splint | 0.77 | 0.45 | 1.93 | 0.06 | 1.28 | 2.76 | 000
29130 |  | A | Application of finger splint | 0.50 | 0.27 | 0.92 | 0.05 | 0.82 | 1.47 | 000
29131 |  | A | Application of finger splint | 0.55 | 0.38 | 1.82 | 0.03 | 0.96 | 2.40 | 000
29200 |  | A | Strapping of chest | 0.65 | 0.30 | 1.40 | 0.04 | 0.99 | 2.09 | 000
29220 |  | A | Strapping of low back | 0.64 | 0.33 | 1.05 | 0.07 | 1.04 | 1.76 | 000
29240 |  | A | Strapping of shoulder | 0.71 | 0.32 | 1.43 | 0.05 | 1.08 | 2.19 | 000
29260 |  | A | Strapping of elbow or wrist | 0.55 | 0.27 | 1.16 | 0.04 | 0.86 | 1.75 | 000
29280 |  | A | Strapping of hand or finger | 0.51 | 0.27 | 1.30 | 0.04 | 0.82 | 1.85 | 000
29305 |  | A | Application of hip cast | 2.03 | 1.28 | 2.44 | 0.29 | 3.60 | 4.76 | 000
29325 |  | A | Application of hip casts | 2.32 | 1.44 | 2.59 | 0.31 | 4.07 | 5.22 | 000
29345 |  | A | Application of long leg cast | 1.40 | 0.85 | 1.65 | 0.19 | 2.44 | 3.24 | 000
29355 |  | A | Application of long leg cast | 1.53 | 0.87 | 1.67 | 0.20 | 2.60 | 3.40 | 000
29358 |  | A | Apply long leg cast brace | 1.43 | 0.93 | 1.86 | 0.19 | 2.55 | 3.48 | 000
29365 |  | A | Application of long leg cast | 1.18 | 0.72 | 1.50 | 0.17 | 2.07 | 2.85 | 000
29405 |  | A | Apply short leg cast | 0.86 | 0.52 | 1.18 | 0.12 | 1.50 | 2.16 | 000
29425 |  | A | Apply short leg cast | 1.01 | 0.56 | 1.13 | 0.14 | 1.71 | 2.28 | 000
29435 |  | A | Apply short leg cast | 1.18 | 0.79 | 1.79 | 0.17 | 2.14 | 3.14 | 000
29440 |  | A | Addition of walker to cast | 0.57 | 0.32 | 0.90 | 0.07 | 0.96 | 1.54 | 000
29445 |  | A | Apply rigid leg cast | 1.78 | 0.86 | 2.01 | 0.24 | 2.88 | 4.03 | 000
29450 |  | A | Application of leg cast | 2.08 | 1.01 | 1.69 | 0.13 | 3.22 | 3.90 | 000
29505 |  | A | Application, long leg splint | 0.69 | 0.42 | 1.61 | 0.06 | 1.17 | 2.36 | 000
29515 |  | A | Application lower leg splint | 0.73 | 0.43 | 1.17 | 0.07 | 1.23 | 1.97 | 000
29520 |  | A | Strapping of hip | 0.54 | 0.38 | 1.54 | 0.02 | 0.94 | 2.10 | 000
29530 |  | A | Strapping of knee | 0.57 | 0.28 | 1.22 | 0.04 | 0.89 | 1.83 | 000
29540 |  | A | Strapping of ankle | 0.51 | 0.26 | 0.51 | 0.04 | 0.81 | 1.06 | 000
29550 |  | A | Strapping of toes | 0.47 | 0.24 | 0.50 | 0.05 | 0.76 | 1.02 | 000
29580 |  | A | Application of paste boot | 0.57 | 0.31 | 0.85 | 0.05 | 0.93 | 1.47 | 000
29590 |  | A | Application of foot splint | 0.76 | 0.41 | 0.79 | 0.06 | 1.23 | 1.61 | 000
29700 |  | A | Removal/revision of cast | 0.57 | 0.31 | 0.81 | 0.07 | 0.95 | 1.45 | 000
29705 |  | A | Removal/revision of cast | 0.76 | 0.41 | 0.97 | 0.10 | 1.27 | 1.83 | 000
29710 |  | A | Removal/revision of cast | 1.34 | 0.85 | 1.78 | 0.17 | 2.36 | 3.29 | 000
29715 |  | A | Removal/revision of cast | 0.94 | 0.72 | 3.90 | 0.08 | 1.74 | 4.92 | 000
29720 |  | A | Repair of body cast | 0.68 | 0.50 | 1.45 | 0.10 | 1.28 | 2.23 | 000
29730 |  | A | Windowing of cast | 0.75 | 0.39 | 0.92 | 0.10 | 1.24 | 1.77 | 000
29740 |  | A | Wedging of cast | 1.12 | 0.53 | 1.35 | 0.15 | 1.80 | 2.62 | 000
29750 |  | A | Wedging of clubfoot cast | 1.26 | 0.59 | 1.58 | 0.16 | 2.01 | 3.00 | 000
29799 |  | C | Casting/strapping procedure | 0.00 | 0.00 | 0.00 | 0.00 | 0.00 | 0.00 | YYY
29800 |  | A | Jaw arthroscopy/surgery | 6.43 | 8.44 | NA | 0.84 | 15.71 | NA | 090
29804 |  | A | Jaw arthroscopy/surgery | 8.14 | 8.83 | NA | 0.66 | 17.63 | NA | 090
29815 |  | A | Shoulder arthroscopy | 5.89 | 7.31 | NA | 0.83 | 14.03 | NA | 090
29819 |  | A | Shoulder arthroscopy/surgery | 7.62 | 9.18 | NA | 1.07 | 17.87 | NA | 090
29820 |  | A | Shoulder arthroscopy/surgery | 7.07 | 8.81 | NA | 0.99 | 16.87 | NA | 090
29821 |  | A | Shoulder arthroscopy/surgery | 7.72 | 9.18 | NA | 1.08 | 17.98 | NA | 090
29822 |  | A | Shoulder arthroscopy/surgery | 7.43 | 9.06 | NA | 1.04 | 17.53 | NA | 090
29823 |  | A | Shoulder arthroscopy/surgery | 8.17 | 9.43 | NA | 1.15 | 18.75 | NA | 090
29825 |  | A | Shoulder arthroscopy/surgery | 7.62 | 9.19 | NA | 1.06 | 17.87 | NA | 090
29826 |  | A | Shoulder arthroscopy/surgery | 8.99 | 9.92 | NA | 1.26 | 20.17 | NA | 090
29830 |  | A | Elbow arthroscopy | 5.76 | 5.72 | NA | 0.79 | 12.27 | NA | 090
29834 |  | A | Elbow arthroscopy/surgery | 6.28 | 6.51 | NA | 0.86 | 13.65 | NA | 090
29835 |  | A | Elbow arthroscopy/surgery | 6.48 | 6.50 | NA | 0.88 | 13.86 | NA | 090
29836 |  | A | Elbow arthroscopy/surgery | 7.55 | 7.24 | NA | 1.06 | 15.85 | NA | 090
29837 |  | A | Elbow arthroscopy/surgery | 6.87 | 6.80 | NA | 0.96 | 14.63 | NA | 090
29838 |  | A | Elbow arthroscopy/surgery | 7.71 | 7.31 | NA | 1.07 | 16.09 | NA | 090
29840 |  | A | Wrist arthroscopy | 5.54 | 8.36 | NA | 0.69 | 14.59 | NA | 090
29843 |  | A | Wrist arthroscopy/surgery | 6.01 | 7.95 | NA | 0.82 | 14.78 | NA | 090
29844 |  | A | Wrist arthroscopy/surgery | 6.37 | 8.11 | NA | 0.86 | 15.34 | NA | 090
29845 |  | A | Wrist arthroscopy/surgery | 7.52 | 8.57 | NA | 0.84 | 16.93 | NA | 090
29846 |  | A | Wrist arthroscopy/surgery | 6.75 | 10.62 | NA | 0.89 | 18.26 | NA | 090
29847 |  | A | Wrist arthroscopy/surgery | 7.08 | 10.57 | NA | 0.91 | 18.56 | NA | 090
29848 |  | A | Wrist endoscopy/surgery | 5.44 | 7.82 | NA | 0.72 | 13.98 | NA | 090
29850 |  | A | Knee arthroscopy/surgery | 8.19 | 7.05 | NA | 0.74 | 15.98 | NA | 090
29851 |  | A | Knee arthroscopy/surgery | 13.10 | 11.36 | NA | 1.81 | 26.27 | NA | 090
29855 |  | A | Tibial arthroscopy/surgery | 10.62 | 10.01 | NA | 1.50 | 22.13 | NA | 090
29856 |  | A | Tibial arthroscopy/surgery | 14.14 | 11.98 | NA | 2.00 | 28.12 | NA | 090
29860 |  | A | Hip arthroscopy, dx | 8.05 | 7.61 | NA | 1.14 | 16.80 | NA | 090
29861 |  | A | Hip arthroscopy/surgery | 9.15 | 8.76 | NA | 1.29 | 19.20 | NA | 090
29862 |  | A | Hip arthroscopy/surgery | 9.90 | 9.09 | NA | 1.39 | 20.38 | NA | 090
29863 |  | A | Hip arthroscopy/surgery | 9.90 | 9.71 | NA | 1.40 | 21.01 | NA | 090
29870 |  | A | Knee arthroscopy, dx | 5.07 | 5.81 | NA | 0.67 | 11.55 | NA | 090
29871 |  | A | Knee arthroscopy/drainage | 6.55 | 7.74 | NA | 0.88 | 15.17 | NA | 090
29874 |  | A | Knee arthroscopy/surgery | 7.05 | 7.42 | NA | 0.87 | 15.34 | NA | 090
29875 |  | A | Knee arthroscopy/surgery | 6.31 | 7.15 | NA | 0.88 | 14.34 | NA | 090
29876 |  | A | Knee arthroscopy/surgery | 7.92 | 8.57 | NA | 1.11 | 17.60 | NA | 090
29877 |  | A | Knee arthroscopy/surgery | 7.35 | 7.74 | NA | 1.03 | 16.12 | NA | 090
29879 |  | A | Knee arthroscopy/surgery | 8.04 | 8.13 | NA | 1.13 | 17.30 | NA | 090
29880 |  | A | Knee arthroscopy/surgery | 8.50 | 8.39 | NA | 1.19 | 18.08 | NA | 090
29881 |  | A | Knee arthroscopy/surgery | 7.76 | 7.97 | NA | 1.09 | 16.82 | NA | 090
29882 |  | A | Knee arthroscopy/surgery | 8.65 | 8.02 | NA | 1.09 | 17.76 | NA | 090
29883 |  | A | Knee arthroscopy/surgery | 11.05 | 9.82 | NA | 1.33 | 22.20 | NA | 090
29884 |  | A | Knee arthroscopy/surgery | 7.33 | 8.25 | NA | 1.03 | 16.61 | NA | 090
29885 |  | A | Knee arthroscopy/surgery | 9.09 | 9.19 | NA | 1.27 | 19.55 | NA | 090
29886 |  | A | Knee arthroscopy/surgery | 7.54 | 8.36 | NA | 1.06 | 16.96 | NA | 090
29887 |  | A | Knee arthroscopy/surgery | 9.04 | 9.19 | NA | 1.27 | 19.50 | NA | 090
29888 |  | A | Knee arthroscopy/surgery | 13.90 | 11.89 | NA | 1.95 | 27.74 | NA | 090
29889 |  | A | Knee arthroscopy/surgery | 16.00 | 12.98 | NA | 2.11 | 31.09 | NA | 090
29891 |  | A | Ankle arthroscopy/surgery | 8.40 | 8.76 | NA | 1.17 | 18.33 | NA | 090
29892 |  | A | Ankle arthroscopy/surgery | 9.00 | 8.60 | NA | 1.26 | 18.86 | NA | 090
29893 |  | A | Scope, plantar fasciotomy | 5.22 | 4.81 | NA | 0.74 | 10.77 | NA | 090
29894 |  | A | Ankle arthroscopy/surgery | 7.21 | 7.40 | NA | 1.01 | 15.62 | NA | 090
29895 |  | A | Ankle arthroscopy/surgery | 6.99 | 7.69 | NA | 0.97 | 15.65 | NA | 090
29897 |  | A | Ankle arthroscopy/surgery | 7.18 | 8.29 | NA | 1.01 | 16.48 | NA | 090
29898 |  | A | Ankle arthroscopy/surgery | 8.32 | 8.15 | NA | 1.14 | 17.61 | NA | 090
29909 |  | C | Arthroscopy of joint | 0.00 | 0.00 | 0.00 | 0.00 | 0.00 | 0.00 | YYY
30000 |  | A | Drainage of nose lesion | 1.43 | 1.45 | 2.41 | 0.10 | 2.98 | 3.94 | 010
30020 |  | A | Drainage of nose lesion | 1.43 | 1.54 | 2.62 | 0.08 | 3.05 | 4.13 | 010
30100 |  | A | Intranasal biopsy | 0.94 | 0.53 | 1.28 | 0.06 | 1.53 | 2.28 | 000
30110 |  | A | Removal of nose polyp(s) | 1.63 | 0.90 | 2.66 | 0.12 | 2.65 | 4.41 | 010
30115 |  | A | Removal of nose polyp(s) | 4.35 | 4.37 | NA | 0.31 | 9.03 | NA | 090
30117 |  | A | Removal of intranasal lesion | 3.16 | 3.10 | 4.66 | 0.22 | 6.48 | 8.04 | 090
30118 |  | A | Removal of intranasal lesion | 9.69 | 7.48 | NA | 0.66 | 17.83 | NA | 090
30120 |  | A | Revision of nose | 5.27 | 5.93 | 5.93 | 0.41 | 11.61 | 11.61 | 090
30124 |  | A | Removal of nose lesion | 3.10 | 3.27 | NA | 0.20 | 6.57 | NA | 090
30125 |  | A | Removal of nose lesion | 7.16 | 6.29 | NA | 0.54 | 13.99 | NA | 090
30130 |  | A | Removal of turbinate bones | 3.38 | 3.81 | NA | 0.22 | 7.41 | NA | 090
30140 |  | A | Removal of turbinate bones | 3.43 | 4.40 | NA | 0.24 | 8.07 | NA | 090
30150 |  | A | Partial removal of nose | 9.14 | 8.58 | NA | 0.76 | 18.48 | NA | 090
30160 |  | A | Removal of nose | 9.58 | 8.39 | NA | 0.78 | 18.75 | NA | 090
30200 |  | A | Injection treatment of nose | 0.78 | 0.45 | 1.16 | 0.06 | 1.29 | 2.00 | 000
30210 |  | A | Nasal sinus therapy | 1.08 | 0.61 | 2.04 | 0.08 | 1.77 | 3.20 | 010
30220 |  | A | Insert nasal septal button | 1.54 | 0.87 | 2.36 | 0.11 | 2.52 | 4.01 | 010
30300 |  | A | Remove nasal foreign body | 1.04 | 0.38 | 2.43 | 0.07 | 1.49 | 3.54 | 010
30310 |  | A | Remove nasal foreign body | 1.96 | 1.84 | NA | 0.14 | 3.94 | NA | 010
30320 |  | A | Remove nasal foreign body | 4.52 | 5.40 | NA | 0.36 | 10.28 | NA | 090
30400 |  | R | Reconstruction of nose | 9.83 | 8.68 | NA | 0.80 | 19.31 | NA | 090
30410 |  | R | Reconstruction of nose | 12.98 | 10.55 | NA | 1.08 | 24.61 | NA | 090
30420 |  | R | Reconstruction of nose | 15.88 | 12.25 | NA | 1.24 | 29.37 | NA | 090
30430 |  | R | Revision of nose | 7.21 | 7.15 | NA | 0.62 | 14.98 | NA | 090
30435 |  | R | Revision of nose | 11.71 | 10.47 | NA | 1.10 | 23.28 | NA | 090
30450 |  | R | Revision of nose | 18.65 | 14.05 | NA | 1.53 | 34.23 | NA | 090
30460 |  | A | Revision of nose | 9.96 | 9.51 | NA | 0.85 | 20.32 | NA | 090
30462 |  | A | Revision of nose | 19.57 | 14.96 | NA | 1.92 | 36.45 | NA | 090
30465 |  | A | Repair nasal stenosis | 11.64 | 9.21 | NA | 0.82 | 21.67 | NA | 090
30520 |  | A | Repair of nasal septum | 5.70 | 5.71 | NA | 0.41 | 11.82 | NA | 090
30540 |  | A | Repair nasal defect | 7.75 | 6.46 | NA | 0.53 | 14.74 | NA | 090
30545 |  | A | Repair nasal defect | 11.38 | 8.20 | NA | 0.80 | 20.38 | NA | 090
30560 |  | A | Release of nasal adhesions | 1.26 | 1.46 | 2.25 | 0.09 | 2.81 | 3.60 | 010
30580 |  | A | Repair upper jaw fistula | 6.69 | 4.94 | 4.94 | 0.50 | 12.13 | 12.13 | 090
30600 |  | A | Repair mouth/nose fistula | 6.02 | 5.17 | 5.17 | 0.70 | 11.89 | 11.89 | 090
30620 |  | A | Intranasal reconstruction | 5.97 | 6.44 | NA | 0.45 | 12.86 | NA | 090
30630 |  | A | Repair nasal septum defect | 7.12 | 6.89 | NA | 0.51 | 14.52 | NA | 090
30801 |  | A | Cauterization, inner nose | 1.09 | 2.17 | 2.45 | 0.08 | 3.34 | 3.62 | 010
30802 |  | A | Cauterization, inner nose | 2.03 | 2.72 | 2.99 | 0.15 | 4.90 | 5.17 | 010
30901 |  | A | Control of nosebleed | 1.21 | 0.44 | 2.05 | 0.09 | 1.74 | 3.35 | 000
30903 |  | A | Control of nosebleed | 1.54 | 0.63 | 2.46 | 0.12 | 2.29 | 4.12 | 000
30905 |  | A | Control of nosebleed | 1.97 | 0.89 | 4.32 | 0.15 | 3.01 | 6.44 | 000
30906 |  | A | Repeat control of nosebleed | 2.45 | 1.35 | 4.56 | 0.17 | 3.97 | 7.18 | 000
30915 |  | A | Ligation, nasal sinus artery | 7.20 | 6.84 | NA | 0.50 | 14.54 | NA | 090
30920 |  | A | Ligation, upper jaw artery | 9.83 | 8.33 | NA | 0.69 | 18.85 | NA | 090
30930 |  | A | Therapy, fracture of nose | 1.26 | 2.05 | NA | 0.09 | 3.40 | NA | 010
30999 |  | C | Nasal surgery procedure | 0.00 | 0.00 | 0.00 | 0.00 | 0.00 | 0.00 | YYY
31000 |  | A | Irrigation, maxillary sinus | 1.15 | 0.64 | 2.33 | 0.08 | 1.87 | 3.56 | 010
31002 |  | A | Irrigation, sphenoid sinus | 1.91 | 1.98 | NA | 0.14 | 4.03 | NA | 010
31020 |  | A | Exploration, maxillary sinus | 2.94 | 3.53 | 4.22 | 0.20 | 6.67 | 7.36 | 090
31030 |  | A | Exploration, maxillary sinus | 5.92 | 4.54 | 4.79 | 0.42 | 10.88 | 11.13 | 090
31032 |  | A | Explore sinus,remove polyps | 6.57 | 5.91 | NA | 0.47 | 12.95 | NA | 090
31040 |  | A | Exploration behind upper jaw | 9.42 | 6.80 | NA | 0.71 | 16.93 | NA | 090
31050 |  | A | Exploration, sphenoid sinus | 5.28 | 4.93 | NA | 0.39 | 10.60 | NA | 090
31051 |  | A | Sphenoid sinus surgery | 7.11 | 6.35 | NA | 0.55 | 14.01 | NA | 090
31070 |  | A | Exploration of frontal sinus | 4.28 | 4.85 | NA | 0.30 | 9.43 | NA | 090
31075 |  | A | Exploration of frontal sinus | 9.16 | 8.02 | NA | 0.64 | 17.82 | NA | 090
31080 |  | A | Removal of frontal sinus | 11.42 | 8.69 | NA | 0.78 | 20.89 | NA | 090
31081 |  | A | Removal of frontal sinus | 12.75 | 9.38 | NA | 1.84 | 23.97 | NA | 090
31084 |  | A | Removal of frontal sinus | 13.51 | 10.41 | NA | 0.96 | 24.88 | NA | 090
31085 |  | A | Removal of frontal sinus | 14.20 | 10.67 | NA | 1.18 | 26.05 | NA | 090
31086 |  | A | Removal of frontal sinus | 12.86 | 9.97 | NA | 0.90 | 23.73 | NA | 090
31087 |  | A | Removal of frontal sinus | 13.10 | 10.51 | NA | 1.15 | 24.76 | NA | 090
31090 |  | A | Exploration of sinuses | 9.53 | 8.66 | NA | 0.66 | 18.85 | NA | 090
31200 |  | A | Removal of ethmoid sinus | 4.97 | 5.52 | NA | 0.25 | 10.74 | NA | 090
31201 |  | A | Removal of ethmoid sinus | 8.37 | 7.61 | NA | 0.58 | 16.56 | NA | 090
31205 |  | A | Removal of ethmoid sinus | 10.24 | 8.20 | NA | 0.58 | 19.02 | NA | 090
31225 |  | A | Removal of upper jaw | 19.23 | 14.89 | NA | 1.38 | 35.50 | NA | 090
31230 |  | A | Removal of upper jaw | 21.94 | 16.19 | NA | 1.57 | 39.70 | NA | 090
31231 |  | A | Nasal endoscopy, dx | 1.10 | 0.59 | 1.91 | 0.08 | 1.77 | 3.09 | 000
31233 |  | A | Nasal/sinus endoscopy, dx | 2.18 | 1.19 | 2.55 | 0.16 | 3.53 | 4.89 | 000
31235 |  | A | Nasal/sinus endoscopy, dx | 2.64 | 1.49 | 2.82 | 0.18 | 4.31 | 5.64 | 000
31237 |  | A | Nasal/sinus endoscopy, surg | 2.98 | 1.65 | 3.10 | 0.21 | 4.84 | 6.29 | 000
31238 |  | A | Nasal/sinus endoscopy, surg | 3.26 | 1.86 | 3.59 | 0.23 | 5.35 | 7.08 | 000
31239 |  | A | Nasal/sinus endoscopy, surg | 8.70 | 6.37 | NA | 0.46 | 15.53 | NA | 010
31240 |  | A | Nasal/sinus endoscopy, surg | 2.61 | 1.59 | NA | 0.18 | 4.38 | NA | 000
31254 |  | A | Revision of ethmoid sinus | 4.65 | 2.75 | NA | 0.32 | 7.72 | NA | 000
31255 |  | A | Removal of ethmoid sinus | 6.96 | 4.07 | NA | 0.49 | 11.52 | NA | 000
31256 |  | A | Exploration maxillary sinus | 3.29 | 1.98 | NA | 0.23 | 5.50 | NA | 000
31267 |  | A | Endoscopy, maxillary sinus | 5.46 | 3.22 | NA | 0.38 | 9.06 | NA | 000
31276 |  | A | Sinus endoscopy, surgical | 8.85 | 5.16 | NA | 0.62 | 14.63 | NA | 000
31287 |  | A | Nasal/sinus endoscopy, surg | 3.92 | 2.34 | NA | 0.27 | 6.53 | NA | 000
31288 |  | A | Nasal/sinus endoscopy, surg | 4.58 | 2.71 | NA | 0.32 | 7.61 | NA | 000
31290 |  | A | Nasal/sinus endoscopy, surg | 17.24 | 11.70 | NA | 1.20 | 30.14 | NA | 010
31291 |  | A | Nasal/sinus endoscopy, surg | 18.19 | 11.90 | NA | 1.73 | 31.82 | NA | 010
31292 |  | A | Nasal/sinus endoscopy, surg | 14.76 | 10.04 | NA | 0.99 | 25.79 | NA | 010
31293 |  | A | Nasal/sinus endoscopy, surg | 16.21 | 10.71 | NA | 0.97 | 27.89 | NA | 010
31294 |  | A | Nasal/sinus endoscopy, surg | 19.06 | 11.48 | NA | 1.04 | 31.58 | NA | 010
31299 |  | C | Sinus surgery procedure | 0.00 | 0.00 | 0.00 | 0.00 | 0.00 | 0.00 | YYY
31300 |  | A | Removal of larynx lesion | 14.29 | 16.71 | NA | 0.99 | 31.99 | NA | 090
31320 |  | A | Diagnostic incision, larynx | 5.26 | 13.00 | NA | 0.40 | 18.66 | NA | 090
31360 |  | A | Removal of larynx | 17.08 | 18.54 | NA | 1.20 | 36.82 | NA | 090
31365 |  | A | Removal of larynx | 24.16 | 22.21 | NA | 1.72 | 48.09 | NA | 090
31367 |  | A | Partial removal of larynx | 21.86 | 22.87 | NA | 1.57 | 46.30 | NA | 090
31368 |  | A | Partial removal of larynx | 27.09 | 27.69 | NA | 1.90 | 56.68 | NA | 090
31370 |  | A | Partial removal of larynx | 21.38 | 22.65 | NA | 1.51 | 45.54 | NA | 090
31375 |  | A | Partial removal of larynx | 20.21 | 20.63 | NA | 1.43 | 42.27 | NA | 090
31380 |  | A | Partial removal of larynx | 20.21 | 20.16 | NA | 1.40 | 41.77 | NA | 090
31382 |  | A | Partial removal of larynx | 20.52 | 22.33 | NA | 1.44 | 44.29 | NA | 090
31390 |  | A | Removal of larynx & pharynx | 27.53 | 28.12 | NA | 1.95 | 57.60 | NA | 090
31395 |  | A | Reconstruct larynx & pharynx | 31.09 | 33.15 | NA | 2.27 | 66.51 | NA | 090
31400 |  | A | Revision of larynx | 10.31 | 15.09 | NA | 0.72 | 26.12 | NA | 090
31420 |  | A | Removal of epiglottis | 10.22 | 14.89 | NA | 0.71 | 25.82 | NA | 090
31500 |  | A | Insert emergency airway | 2.33 | 0.68 | NA | 0.15 | 3.16 | NA | 000
31502 |  | A | Change of windpipe airway | 0.65 | 0.27 | 1.85 | 0.04 | 0.96 | 2.54 | 000
31505 |  | A | Diagnostic laryngoscopy | 0.61 | 0.34 | 1.74 | 0.04 | 0.99 | 2.39 | 000
31510 |  | A | Laryngoscopy with biopsy | 1.92 | 1.01 | 2.70 | 0.15 | 3.08 | 4.77 | 000
31511 |  | A | Remove foreign body, larynx | 2.16 | 0.77 | 2.94 | 0.16 | 3.09 | 5.26 | 000
31512 |  | A | Removal of larynx lesion | 2.07 | 1.14 | 2.89 | 0.16 | 3.37 | 5.12 | 000
31513 |  | A | Injection into vocal cord | 2.10 | 1.29 | NA | 0.15 | 3.54 | NA | 000
31515 |  | A | Laryngoscopy for aspiration | 1.80 | 0.85 | 2.40 | 0.12 | 2.77 | 4.32 | 000
31520 |  | A | Diagnostic laryngoscopy | 2.56 | 1.41 | NA | 0.17 | 4.14 | NA | 000
31525 |  | A | Diagnostic laryngoscopy | 2.63 | 1.50 | 2.82 | 0.18 | 4.31 | 5.63 | 000
31526 |  | A | Diagnostic laryngoscopy | 2.57 | 1.56 | NA | 0.18 | 4.31 | NA | 000
31527 |  | A | Laryngoscopy for treatment | 3.27 | 1.72 | NA | 0.21 | 5.20 | NA | 000
31528 |  | A | Laryngoscopy and dilatation | 2.37 | 1.31 | NA | 0.16 | 3.84 | NA | 000
31529 |  | A | Laryngoscopy and dilatation | 2.68 | 1.59 | NA | 0.18 | 4.45 | NA | 000
31530 |  | A | Operative laryngoscopy | 3.39 | 1.83 | NA | 0.24 | 5.46 | NA | 000
31531 |  | A | Operative laryngoscopy | 3.59 | 2.15 | NA | 0.25 | 5.99 | NA | 000
31535 |  | A | Operative laryngoscopy | 3.16 | 1.86 | NA | 0.22 | 5.24 | NA | 000
31536 |  | A | Operative laryngoscopy | 3.56 | 2.12 | NA | 0.25 | 5.93 | NA | 000
31540 |  | A | Operative laryngoscopy | 4.13 | 2.43 | NA | 0.29 | 6.85 | NA | 000
31541 |  | A | Operative laryngoscopy | 4.53 | 2.68 | NA | 0.32 | 7.53 | NA | 000
31560 |  | A | Operative laryngoscopy | 5.46 | 3.06 | NA | 0.38 | 8.90 | NA | 000
31561 |  | A | Operative laryngoscopy | 6.00 | 3.53 | NA | 0.42 | 9.95 | NA | 000
31570 |  | A | Laryngoscopy with injection | 3.87 | 2.28 | 4.21 | 0.24 | 6.39 | 8.32 | 000
31571 |  | A | Laryngoscopy with injection | 4.27 | 2.53 | NA | 0.30 | 7.10 | NA | 000
31575 |  | A | Diagnostic laryngoscopy | 1.10 | 0.62 | 2.10 | 0.08 | 1.80 | 3.28 | 000
31576 |  | A | Laryngoscopy with biopsy | 1.97 | 0.98 | 2.36 | 0.13 | 3.08 | 4.46 | 000
31577 |  | A | Remove foreign body, larynx | 2.47 | 1.34 | 2.79 | 0.17 | 3.98 | 5.43 | 000
31578 |  | A | Removal of larynx lesion | 2.84 | 1.59 | 3.00 | 0.20 | 4.63 | 6.04 | 000
31579 |  | A | Diagnostic laryngoscopy | 2.26 | 1.22 | 2.84 | 0.16 | 3.64 | 5.26 | 000
31580 |  | A | Revision of larynx | 12.38 | 15.82 | NA | 0.87 | 29.07 | NA | 090
31582 |  | A | Revision of larynx | 21.62 | 21.18 | NA | 1.52 | 44.32 | NA | 090
31584 |  | A | Treat larynx fracture | 19.64 | 18.51 | NA | 1.42 | 39.57 | NA | 090
31585 |  | A | Treat larynx fracture | 4.64 | 8.67 | NA | 0.30 | 13.61 | NA | 090
31586 |  | A | Treat larynx fracture | 8.03 | 12.02 | NA | 0.56 | 20.61 | NA | 090
31587 |  | A | Revision of larynx | 11.99 | 13.39 | NA | 0.88 | 26.26 | NA | 090
31588 |  | A | Revision of larynx | 13.11 | 16.53 | NA | 0.92 | 30.56 | NA | 090
31590 |  | A | Reinnervate larynx | 6.97 | 11.67 | NA | 0.50 | 19.14 | NA | 090
31595 |  | A | Larynx nerve surgery | 8.34 | 10.54 | NA | 0.62 | 19.50 | NA | 090
31599 |  | C | Larynx surgery procedure | 0.00 | 0.00 | 0.00 | 0.00 | 0.00 | 0.00 | YYY
31600 |  | A | Incision of windpipe | 7.18 | 3.12 | NA | 0.34 | 10.64 | NA | 000
31601 |  | A | Incision of windpipe | 4.45 | 2.11 | NA | 0.39 | 6.95 | NA | 000
31603 |  | A | Incision of windpipe | 4.15 | 1.67 | NA | 0.35 | 6.17 | NA | 000
31605 |  | A | Incision of windpipe | 3.58 | 1.24 | NA | 0.33 | 5.15 | NA | 000
31610 |  | A | Incision of windpipe | 8.76 | 10.50 | NA | 0.69 | 19.95 | NA | 090
31611 |  | A | Surgery/speech prosthesis | 5.64 | 9.78 | NA | 0.40 | 15.82 | NA | 090
31612 |  | A | Puncture/clear windpipe | 0.91 | 0.43 | 1.49 | 0.06 | 1.40 | 2.46 | 000
31613 |  | A | Repair windpipe opening | 4.59 | 8.57 | NA | 0.37 | 13.53 | NA | 090
31614 |  | A | Repair windpipe opening | 7.12 | 11.72 | NA | 0.51 | 19.35 | NA | 090
31615 |  | A | Visualization of windpipe | 2.09 | 1.20 | 3.54 | 0.14 | 3.43 | 5.77 | 000
31622 |  | A | Dx bronchoscope/wash | 2.78 | 1.19 | 3.30 | 0.14 | 4.11 | 6.22 | 000
31623 |  | A | Dx bronchoscope/brush | 2.88 | 1.20 | 3.23 | 0.14 | 4.22 | 6.25 | 000
31624 |  | A | Dx bronchoscope/lavage | 2.88 | 1.20 | 2.90 | 0.13 | 4.21 | 5.91 | 000
31625 |  | A | Bronchoscopy with biopsy | 3.37 | 1.34 | 2.93 | 0.16 | 4.87 | 6.46 | 000
31628 |  | A | Bronchoscopy with biopsy | 3.81 | 1.45 | 3.36 | 0.14 | 5.40 | 7.31 | 000
31629 |  | A | Bronchoscopy with biopsy | 3.37 | 1.32 | NA | 0.13 | 4.82 | NA | 000
31630 |  | A | Bronchoscopy with repair | 3.82 | 2.03 | NA | 0.30 | 6.15 | NA | 000
31631 |  | A | Bronchoscopy with dilation | 4.37 | 2.06 | NA | 0.31 | 6.74 | NA | 000
31635 |  | A | Remove foreign body, airway | 3.68 | 1.73 | NA | 0.21 | 5.62 | NA | 000
31640 |  | A | Bronchoscopy & remove lesion | 4.94 | 2.37 | NA | 0.37 | 7.68 | NA | 000
31641 |  | A | Bronchoscopy, treat blockage | 5.03 | 2.20 | NA | 0.30 | 7.53 | NA | 000
31643 |  | A | Diag bronchoscope/catheter | 3.50 | 1.17 | 1.17 | 0.15 | 4.82 | 4.82 | 000
31645 |  | A | Bronchoscopy, clear airways | 3.16 | 1.26 | NA | 0.13 | 4.55 | NA | 000
31646 |  | A | Bronchoscopy, reclear airway | 2.72 | 1.12 | NA | 0.12 | 3.96 | NA | 000
31656 |  | A | Bronchoscopy, inj for xray | 2.17 | 0.94 | NA | 0.10 | 3.21 | NA | 000
31700 |  | A | Insertion of airway catheter | 1.34 | 0.75 | 2.53 | 0.07 | 2.16 | 3.94 | 000
31708 |  | A | Instill airway contrast dye | 1.41 | 0.63 | NA | 0.06 | 2.10 | NA | 000
31710 |  | A | Insertion of airway catheter | 1.30 | 0.74 | NA | 0.06 | 2.10 | NA | 000
31715 |  | A | Injection for bronchus x-ray | 1.11 | 0.66 | NA | 0.06 | 1.83 | NA | 000
31717 |  | A | Bronchial brush biopsy | 2.12 | 0.92 | 2.79 | 0.09 | 3.13 | 5.00 | 000
31720 |  | A | Clearance of airways | 1.06 | 0.34 | 1.88 | 0.06 | 1.46 | 3.00 | 000
31725 |  | A | Clearance of airways | 1.96 | 0.62 | NA | 0.10 | 2.68 | NA | 000
31730 |  | A | Intro, windpipe wire/tube | 2.85 | 1.13 | 2.43 | 0.15 | 4.13 | 5.43 | 000
31750 |  | A | Repair of windpipe | 13.02 | 15.46 | NA | 1.02 | 29.50 | NA | 090
31755 |  | A | Repair of windpipe | 15.93 | 18.50 | NA | 1.15 | 35.58 | NA | 090
31760 |  | A | Repair of windpipe | 22.35 | 11.89 | NA | 1.48 | 35.72 | NA | 090
31766 |  | A | Reconstruction of windpipe | 30.43 | 17.60 | NA | 3.16 | 51.19 | NA | 090
31770 |  | A | Repair/graft of bronchus | 22.51 | 14.69 | NA | 2.27 | 39.47 | NA | 090
31775 |  | A | Reconstruct bronchus | 23.54 | 14.06 | NA | 2.91 | 40.51 | NA | 090
31780 |  | A | Reconstruct windpipe | 17.72 | 12.93 | NA | 1.55 | 32.20 | NA | 090
31781 |  | A | Reconstruct windpipe | 23.53 | 13.82 | NA | 2.04 | 39.39 | NA | 090
31785 |  | A | Remove windpipe lesion | 17.23 | 12.69 | NA | 1.36 | 31.28 | NA | 090
31786 |  | A | Remove windpipe lesion | 23.98 | 14.62 | NA | 2.20 | 40.80 | NA | 090
31800 |  | A | Repair of windpipe injury | 7.43 | 6.95 | NA | 0.67 | 15.05 | NA | 090
31805 |  | A | Repair of windpipe injury | 13.13 | 10.09 | NA | 1.45 | 24.67 | NA | 090
31820 |  | A | Closure of windpipe lesion | 4.49 | 7.70 | 7.74 | 0.35 | 12.54 | 12.58 | 090
31825 |  | A | Repair of windpipe defect | 6.81 | 10.92 | 11.15 | 0.50 | 18.23 | 18.46 | 090
31830 |  | A | Revise windpipe scar | 4.50 | 7.84 | 7.84 | 0.36 | 12.70 | 12.70 | 090
31899 |  | C | Airways surgical procedure | 0.00 | 0.00 | 0.00 | 0.00 | 0.00 | 0.00 | YYY
32000 |  | A | Drainage of chest | 1.54 | 0.51 | 3.04 | 0.07 | 2.12 | 4.65 | 000
32002 |  | A | Treatment of collapsed lung | 2.19 | 0.87 | NA | 0.11 | 3.17 | NA | 000
32005 |  | A | Treat lung lining chemically | 2.19 | 0.88 | NA | 0.17 | 3.24 | NA | 000
32020 |  | A | Insertion of chest tube | 3.98 | 1.48 | NA | 0.36 | 5.82 | NA | 000
32035 |  | A | Exploration of chest | 8.67 | 7.78 | NA | 1.02 | 17.47 | NA | 090
32036 |  | A | Exploration of chest | 9.68 | 8.82 | NA | 1.20 | 19.70 | NA | 090
32095 |  | A | Biopsy through chest wall | 8.36 | 8.17 | NA | 0.99 | 17.52 | NA | 090
32100 |  | A | Exploration/biopsy of chest | 15.24 | 10.45 | NA | 1.45 | 27.14 | NA | 090
32110 |  | A | Explore/repair chest | 23.00 | 13.15 | NA | 1.63 | 37.78 | NA | 090
32120 |  | A | Re-exploration of chest | 11.54 | 9.57 | NA | 1.42 | 22.53 | NA | 090
32124 |  | A | Explore chest free adhesions | 12.72 | 9.38 | NA | 1.51 | 23.61 | NA | 090
32140 |  | A | Removal of lung lesion(s) | 13.93 | 10.02 | NA | 1.68 | 25.63 | NA | 090
32141 |  | A | Remove/treat lung lesions | 14.00 | 10.20 | NA | 1.72 | 25.92 | NA | 090
32150 |  | A | Removal of lung lesion(s) | 14.15 | 9.78 | NA | 1.60 | 25.53 | NA | 090
32151 |  | A | Remove lung foreign body | 14.21 | 10.46 | NA | 1.49 | 26.16 | NA | 090
32160 |  | A | Open chest heart massage | 9.30 | 6.29 | NA | 1.01 | 16.60 | NA | 090
32200 |  | A | Drain, open, lung lesion | 15.29 | 10.30 | NA | 1.46 | 27.05 | NA | 090
32201 |  | A | Drain, percut, lung lesion | 4.00 | 6.49 | NA | 0.18 | 10.67 | NA | 000
32215 |  | A | Treat chest lining | 11.33 | 9.64 | NA | 1.34 | 22.31 | NA | 090
32220 |  | A | Release of lung | 24.00 | 13.70 | NA | 2.39 | 40.09 | NA | 090
32225 |  | A | Partial release of lung | 13.96 | 10.10 | NA | 1.70 | 25.76 | NA | 090
32310 |  | A | Removal of chest lining | 13.44 | 9.86 | NA | 1.65 | 24.95 | NA | 090
32320 |  | A | Free/remove chest lining | 24.00 | 13.32 | NA | 2.50 | 39.82 | NA | 090
32400 |  | A | Needle biopsy chest lining | 1.76 | 0.58 | 1.94 | 0.07 | 2.41 | 3.77 | 000
32402 |  | A | Open biopsy chest lining | 7.56 | 8.16 | NA | 0.91 | 16.63 | NA | 090
32405 |  | A | Biopsy, lung or mediastinum | 1.93 | 0.67 | 2.34 | 0.09 | 2.69 | 4.36 | 000
32420 |  | A | Puncture/clear lung | 2.18 | 0.86 | NA | 0.11 | 3.15 | NA | 000
32440 |  | A | Removal of lung | 25.00 | 13.83 | NA | 2.56 | 41.39 | NA | 090
32442 |  | A | Sleeve pneumonectomy | 26.24 | 15.04 | NA | 3.12 | 44.40 | NA | 090
32445 |  | A | Removal of lung | 25.09 | 13.71 | NA | 3.11 | 41.91 | NA | 090
32480 |  | A | Partial removal of lung | 23.75 | 12.95 | NA | 2.24 | 38.94 | NA | 090
32482 |  | A | Bilobectomy | 25.00 | 13.65 | NA | 2.35 | 41.00 | NA | 090
32484 |  | A | Segmentectomy | 20.69 | 12.09 | NA | 2.54 | 35.32 | NA | 090
32486 |  | A | Sleeve lobectomy | 23.92 | 13.44 | NA | 3.00 | 40.36 | NA | 090
32488 |  | A | Completion pneumonectomy | 25.71 | 14.22 | NA | 3.18 | 43.11 | NA | 090
32491 |  | R | Lung volume reduction | 21.25 | 13.52 | NA | 2.66 | 37.43 | NA | 090
32500 |  | A | Partial removal of lung | 22.00 | 12.94 | NA | 1.77 | 36.71 | NA | 090
32501 |  | A | Repair bronchus add-on | 4.69 | 1.59 | NA | 0.56 | 6.84 | NA | ZZZ
32520 |  | A | Remove lung & revise chest | 21.68 | 12.88 | NA | 2.71 | 37.27 | NA | 090
32522 |  | A | Remove lung & revise chest | 24.20 | 13.48 | NA | 2.84 | 40.52 | NA | 090
32525 |  | A | Remove lung & revise chest | 26.50 | 14.29 | NA | 3.25 | 44.04 | NA | 090
32540 |  | A | Removal of lung lesion | 14.64 | 10.51 | NA | 1.84 | 26.99 | NA | 090
32601 |  | A | Thoracoscopy, diagnostic | 5.46 | 3.67 | NA | 0.63 | 9.76 | NA | 000
32602 |  | A | Thoracoscopy, diagnostic | 5.96 | 3.85 | NA | 0.70 | 10.51 | NA | 000
32603 |  | A | Thoracoscopy, diagnostic | 7.81 | 4.29 | NA | 0.76 | 12.86 | NA | 000
32604 |  | A | Thoracoscopy, diagnostic | 8.78 | 4.83 | NA | 0.97 | 14.58 | NA | 000
32605 |  | A | Thoracoscopy, diagnostic | 6.93 | 4.36 | NA | 0.86 | 12.15 | NA | 000
32606 |  | A | Thoracoscopy, diagnostic | 8.40 | 4.65 | NA | 0.99 | 14.04 | NA | 000
32650 |  | A | Thoracoscopy, surgical | 10.75 | 8.63 | NA | 1.25 | 20.63 | NA | 090
32651 |  | A | Thoracoscopy, surgical | 12.91 | 8.87 | NA | 1.50 | 23.28 | NA | 090
32652 |  | A | Thoracoscopy, surgical | 18.66 | 11.51 | NA | 2.30 | 32.47 | NA | 090
32653 |  | A | Thoracoscopy, surgical | 12.87 | 9.30 | NA | 1.55 | 23.72 | NA | 090
32654 |  | A | Thoracoscopy, surgical | 12.44 | 7.38 | NA | 1.51 | 21.33 | NA | 090
32655 |  | A | Thoracoscopy, surgical | 13.10 | 8.99 | NA | 1.53 | 23.62 | NA | 090
32656 |  | A | Thoracoscopy, surgical | 12.91 | 9.71 | NA | 1.61 | 24.23 | NA | 090
32657 |  | A | Thoracoscopy, surgical | 13.65 | 9.51 | NA | 1.64 | 24.80 | NA | 090
32658 |  | A | Thoracoscopy, surgical | 11.63 | 9.85 | NA | 1.47 | 22.95 | NA | 090
32659 |  | A | Thoracoscopy, surgical | 11.59 | 8.96 | NA | 1.39 | 21.94 | NA | 090
32660 |  | A | Thoracoscopy, surgical | 17.43 | 10.64 | NA | 2.09 | 30.16 | NA | 090
32661 |  | A | Thoracoscopy, surgical | 13.25 | 9.75 | NA | 1.66 | 24.66 | NA | 090
32662 |  | A | Thoracoscopy, surgical | 16.44 | 10.73 | NA | 2.01 | 29.18 | NA | 090
32663 |  | A | Thoracoscopy, surgical | 18.47 | 11.44 | NA | 2.28 | 32.19 | NA | 090
32664 |  | A | Thoracoscopy, surgical | 14.20 | 9.22 | NA | 1.70 | 25.12 | NA | 090
32665 |  | A | Thoracoscopy, surgical | 15.54 | 9.49 | NA | 1.79 | 26.82 | NA | 090
32800 |  | A | Repair lung hernia | 13.69 | 9.70 | NA | 1.51 | 24.90 | NA | 090
32810 |  | A | Close chest after drainage | 13.05 | 9.65 | NA | 1.55 | 24.25 | NA | 090
32815 |  | A | Close bronchial fistula | 23.15 | 13.57 | NA | 2.84 | 39.56 | NA | 090
32820 |  | A | Reconstruct injured chest | 21.48 | 13.85 | NA | 2.31 | 37.64 | NA | 090
32850 |  | X | Donor pneumonectomy | 0.00 | 0.00 | 0.00 | 0.00 | 0.00 | 0.00 | XXX
32851 |  | A | Lung transplant, single | 38.63 | 20.37 | NA | 4.90 | 63.90 | NA | 090
32852 |  | A | Lung transplant with bypass | 41.80 | 22.29 | NA | 5.17 | 69.26 | NA | 090
32853 |  | A | Lung transplant, double | 47.81 | 23.87 | NA | 6.13 | 77.81 | NA | 090
32854 |  | A | Lung transplant with bypass | 50.98 | 24.28 | NA | 6.41 | 81.67 | NA | 090
32900 |  | A | Removal of rib(s) | 20.27 | 12.21 | NA | 2.42 | 34.90 | NA | 090
32905 |  | A | Revise & repair chest wall | 20.75 | 12.70 | NA | 2.54 | 35.99 | NA | 090
32906 |  | A | Revise & repair chest wall | 26.77 | 15.56 | NA | 3.30 | 45.63 | NA | 090
32940 |  | A | Revision of lung | 19.43 | 12.41 | NA | 2.47 | 34.31 | NA | 090
32960 |  | A | Therapeutic pneumothorax | 1.84 | 0.60 | 1.58 | 0.12 | 2.56 | 3.54 | 000
32997 |  | A | Total lung lavage | 6.00 | 2.12 | NA | 0.55 | 8.67 | NA | 000
32999 |  | C | Chest surgery procedure | 0.00 | 0.00 | 0.00 | 0.00 | 0.00 | 0.00 | YYY
33010 |  | A | Drainage of heart sac | 2.24 | 1.00 | NA | 0.13 | 3.37 | NA | 000
33011 |  | A | Repeat drainage of heart sac | 2.24 | 1.04 | NA | 0.13 | 3.41 | NA | 000
33015 |  | A | Incision of heart sac | 6.80 | 4.48 | NA | 0.64 | 11.92 | NA | 090
33020 |  | A | Incision of heart sac | 12.61 | 7.93 | NA | 1.50 | 22.04 | NA | 090
33025 |  | A | Incision of heart sac | 12.09 | 7.94 | NA | 1.50 | 21.53 | NA | 090
33030 |  | A | Partial removal of heart sac | 18.71 | 12.50 | NA | 2.40 | 33.61 | NA | 090
33031 |  | A | Partial removal of heart sac | 21.79 | 13.63 | NA | 2.78 | 38.20 | NA | 090
33050 |  | A | Removal of heart sac lesion | 14.36 | 10.20 | NA | 1.73 | 26.29 | NA | 090
33120 |  | A | Removal of heart lesion | 24.56 | 16.06 | NA | 3.06 | 43.68 | NA | 090
33130 |  | A | Removal of heart lesion | 21.39 | 13.11 | NA | 2.51 | 37.01 | NA | 090
33140 |  | A | Heart revascularize (tmr) | 20.00 | 10.59 | NA | 2.27 | 32.86 | NA | 090
33141 |  | A | Heart tmr w/other procedure | 4.84 | 1.69 | NA | 0.60 | 7.13 | NA | ZZZ
33200 |  | A | Insertion of heart pacemaker | 12.48 | 9.74 | NA | 1.17 | 23.39 | NA | 090
33201 |  | A | Insertion of heart pacemaker | 10.18 | 9.67 | NA | 1.21 | 21.06 | NA | 090
33206 |  | A | Insertion of heart pacemaker | 6.67 | 5.54 | NA | 0.50 | 12.71 | NA | 090
33207 |  | A | Insertion of heart pacemaker | 8.04 | 6.05 | NA | 0.57 | 14.66 | NA | 090
33208 |  | A | Insertion of heart pacemaker | 8.13 | 6.20 | NA | 0.54 | 14.87 | NA | 090
33210 |  | A | Insertion of heart electrode | 3.30 | 1.32 | NA | 0.17 | 4.79 | NA | 000
33211 |  | A | Insertion of heart electrode | 3.40 | 1.39 | NA | 0.17 | 4.96 | NA | 000
33212 |  | A | Insertion of pulse generator | 5.52 | 4.48 | NA | 0.44 | 10.44 | NA | 090
33213 |  | A | Insertion of pulse generator | 6.37 | 4.86 | NA | 0.46 | 11.69 | NA | 090
33214 |  | A | Upgrade of pacemaker system | 7.75 | 6.00 | NA | 0.52 | 14.27 | NA | 090
33216 |  | A | Revise eltrd pacing-defib | 5.39 | 4.96 | NA | 0.36 | 10.71 | NA | 090
33217 |  | A | Revise eltrd pacing-defib | 5.75 | 5.30 | NA | 0.36 | 11.41 | NA | 090
33218 |  | A | Revise eltrd pacing-defib | 5.44 | 4.53 | NA | 0.40 | 10.37 | NA | 090
33220 |  | A | Revise eltrd pacing-defib | 5.52 | 4.59 | NA | 0.39 | 10.50 | NA | 090
33222 |  | A | Revise pocket, pacemaker | 4.96 | 3.97 | NA | 0.39 | 9.32 | NA | 090
33223 |  | A | Revise pocket, pacing-defib | 6.46 | 5.19 | NA | 0.44 | 12.09 | NA | 090
33233 |  | A | Removal of pacemaker system | 3.29 | 3.86 | NA | 0.22 | 7.37 | NA | 090
33234 |  | A | Removal of pacemaker system | 7.82 | 5.67 | NA | 0.56 | 14.05 | NA | 090
33235 |  | A | Removal of pacemaker electro | 9.40 | 6.33 | NA | 0.68 | 16.41 | NA | 090
33236 |  | A | Remove electrode/thoracotomy | 12.60 | 9.27 | NA | 1.49 | 23.36 | NA | 090
33237 |  | A | Remove electrode/thoracotomy | 13.71 | 9.90 | NA | 1.57 | 25.18 | NA | 090
33238 |  | A | Remove electrode/thoracotomy | 15.22 | 9.86 | NA | 1.56 | 26.64 | NA | 090
33240 |  | A | Insert pulse generator | 7.60 | 5.57 | NA | 0.53 | 13.70 | NA | 090
33241 |  | A | Remove pulse generator | 3.24 | 3.47 | NA | 0.21 | 6.92 | NA | 090
33243 |  | A | Remove eltrd/thoracotomy | 22.64 | 10.96 | NA | 2.53 | 36.13 | NA | 090
33244 |  | A | Remove eltrd, transven | 13.76 | 8.29 | NA | 1.05 | 23.10 | NA | 090
33245 |  | A | Insert epic eltrd pace-defib | 14.30 | 10.98 | NA | 1.28 | 26.56 | NA | 090
33246 |  | A | Insert epic eltrd/generator | 20.71 | 14.37 | NA | 2.22 | 37.30 | NA | 090
33249 |  | A | Eltrd/insert pace-defib | 14.23 | 9.00 | NA | 0.80 | 24.03 | NA | 090
33250 |  | A | Ablate heart dysrhythm focus | 21.85 | 13.79 | NA | 1.01 | 36.65 | NA | 090
33251 |  | A | Ablate heart dysrhythm focus | 24.88 | 14.75 | NA | 2.41 | 42.04 | NA | 090
33253 |  | A | Reconstruct atria | 31.06 | 17.03 | NA | 3.68 | 51.77 | NA | 090
33261 |  | A | Ablate heart dysrhythm focus | 24.88 | 14.70 | NA | 2.82 | 42.40 | NA | 090
33282 |  | A | Implant pat-active ht record | 4.17 | 4.64 | NA | 0.39 | 9.20 | NA | 090
33284 |  | A | Remove pat-active ht record | 2.50 | 4.16 | NA | 0.23 | 6.89 | NA | 090
33300 |  | A | Repair of heart wound | 17.92 | 12.15 | NA | 1.91 | 31.98 | NA | 090
33305 |  | A | Repair of heart wound | 21.44 | 13.61 | NA | 2.68 | 37.73 | NA | 090
33310 |  | A | Exploratory heart surgery | 18.51 | 12.35 | NA | 2.26 | 33.12 | NA | 090
33315 |  | A | Exploratory heart surgery | 22.37 | 13.84 | NA | 2.90 | 39.11 | NA | 090
33320 |  | A | Repair major blood vessel(s) | 16.79 | 11.30 | NA | 1.66 | 29.75 | NA | 090
33321 |  | A | Repair major vessel | 20.20 | 13.19 | NA | 2.70 | 36.09 | NA | 090
33322 |  | A | Repair major blood vessel(s) | 20.62 | 13.29 | NA | 2.51 | 36.42 | NA | 090
33330 |  | A | Insert major vessel graft | 21.43 | 13.08 | NA | 2.49 | 37.00 | NA | 090
33332 |  | A | Insert major vessel graft | 23.96 | 13.61 | NA | 2.45 | 40.02 | NA | 090
33335 |  | A | Insert major vessel graft | 30.01 | 16.34 | NA | 3.79 | 50.14 | NA | 090
33400 |  | A | Repair of aortic valve | 28.50 | 17.31 | NA | 3.09 | 48.90 | NA | 090
33401 |  | A | Valvuloplasty, open | 23.91 | 15.66 | NA | 2.71 | 42.28 | NA | 090
33403 |  | A | Valvuloplasty, w/cp bypass | 24.89 | 15.61 | NA | 2.48 | 42.98 | NA | 090
33404 |  | A | Prepare heart-aorta conduit | 28.54 | 17.27 | NA | 3.31 | 49.12 | NA | 090
33405 |  | A | Replacement of aortic valve | 35.00 | 18.13 | NA | 3.86 | 56.99 | NA | 090
33406 |  | A | Replacement of aortic valve | 37.50 | 18.83 | NA | 4.07 | 60.40 | NA | 090
33410 |  | A | Replacement of aortic valve | 32.46 | 17.28 | NA | 4.11 | 53.85 | NA | 090
33411 |  | A | Replacement of aortic valve | 36.25 | 18.61 | NA | 4.16 | 59.02 | NA | 090
33412 |  | A | Replacement of aortic valve | 42.00 | 22.33 | NA | 4.66 | 68.99 | NA | 090
33413 |  | A | Replacement of aortic valve | 43.50 | 23.30 | NA | 4.26 | 71.06 | NA | 090
33414 |  | A | Repair of aortic valve | 30.35 | 18.26 | NA | 3.79 | 52.40 | NA | 090
33415 |  | A | Revision, subvalvular tissue | 27.15 | 17.07 | NA | 3.25 | 47.47 | NA | 090
33416 |  | A | Revise ventricle muscle | 30.35 | 16.61 | NA | 3.85 | 50.81 | NA | 090
33417 |  | A | Repair of aortic valve | 28.53 | 17.74 | NA | 3.58 | 49.85 | NA | 090
33420 |  | A | Revision of mitral valve | 22.70 | 11.82 | NA | 1.48 | 36.00 | NA | 090
33422 |  | A | Revision of mitral valve | 25.94 | 15.09 | NA | 3.30 | 44.33 | NA | 090
33425 |  | A | Repair of mitral valve | 27.00 | 14.50 | NA | 3.00 | 44.50 | NA | 090
33426 |  | A | Repair of mitral valve | 33.00 | 17.51 | NA | 3.87 | 54.38 | NA | 090
33427 |  | A | Repair of mitral valve | 40.00 | 19.71 | NA | 4.30 | 64.01 | NA | 090
33430 |  | A | Replacement of mitral valve | 33.50 | 17.65 | NA | 3.95 | 55.10 | NA | 090
33460 |  | A | Revision of tricuspid valve | 23.60 | 14.40 | NA | 3.02 | 41.02 | NA | 090
33463 |  | A | Valvuloplasty, tricuspid | 25.62 | 15.07 | NA | 3.17 | 43.86 | NA | 090
33464 |  | A | Valvuloplasty, tricuspid | 27.33 | 15.63 | NA | 3.47 | 46.43 | NA | 090
33465 |  | A | Replace tricuspid valve | 28.79 | 15.92 | NA | 3.61 | 48.32 | NA | 090
33468 |  | A | Revision of tricuspid valve | 30.12 | 20.51 | NA | 4.00 | 54.63 | NA | 090
33470 |  | A | Revision of pulmonary valve | 20.81 | 13.69 | NA | 2.81 | 37.31 | NA | 090
33471 |  | A | Valvotomy, pulmonary valve | 22.25 | 14.65 | NA | 3.00 | 39.90 | NA | 090
33472 |  | A | Revision of pulmonary valve | 22.25 | 14.77 | NA | 2.92 | 39.94 | NA | 090
33474 |  | A | Revision of pulmonary valve | 23.04 | 13.61 | NA | 2.84 | 39.49 | NA | 090
33475 |  | A | Replacement, pulmonary valve | 33.00 | 19.81 | NA | 2.64 | 55.45 | NA | 090
33476 |  | A | Revision of heart chamber | 25.77 | 14.43 | NA | 2.40 | 42.60 | NA | 090
33478 |  | A | Revision of heart chamber | 26.74 | 15.00 | NA | 3.56 | 45.30 | NA | 090
33496 |  | A | Repair, prosth valve clot | 27.25 | 17.25 | NA | 3.44 | 47.94 | NA | 090
33500 |  | A | Repair heart vessel fistula | 25.55 | 13.93 | NA | 2.80 | 42.28 | NA | 090
33501 |  | A | Repair heart vessel fistula | 17.78 | 10.63 | NA | 2.05 | 30.46 | NA | 090
33502 |  | A | Coronary artery correction | 21.04 | 16.64 | NA | 2.51 | 40.19 | NA | 090
33503 |  | A | Coronary artery graft | 21.78 | 12.32 | NA | 1.42 | 35.52 | NA | 090
33504 |  | A | Coronary artery graft | 24.66 | 17.34 | NA | 3.04 | 45.04 | NA | 090
33505 |  | A | Repair artery w/tunnel | 26.84 | 18.35 | NA | 1.52 | 46.71 | NA | 090
33506 |  | A | Repair artery, translocation | 35.50 | 19.13 | NA | 3.19 | 57.82 | NA | 090
33510 |  | A | CABG, vein, single | 29.00 | 16.12 | NA | 3.13 | 48.25 | NA | 090
33511 |  | A | CABG, vein, two | 30.00 | 16.25 | NA | 3.34 | 49.59 | NA | 090
33512 |  | A | CABG, vein, three | 31.80 | 17.01 | NA | 3.70 | 52.51 | NA | 090
33513 |  | A | CABG, vein, four | 32.00 | 17.09 | NA | 3.99 | 53.08 | NA | 090
33514 |  | A | CABG, vein, five | 32.75 | 17.36 | NA | 4.37 | 54.48 | NA | 090
33516 |  | A | Cabg, vein, six or more | 35.00 | 18.13 | NA | 4.62 | 57.75 | NA | 090
33517 |  | A | CABG, artery-vein, single | 2.57 | 0.86 | NA | 0.32 | 3.75 | NA | ZZZ
33518 |  | A | CABG, artery-vein, two | 4.85 | 1.63 | NA | 0.61 | 7.09 | NA | ZZZ
33519 |  | A | CABG, artery-vein, three | 7.12 | 2.39 | NA | 0.89 | 10.40 | NA | ZZZ
33521 |  | A | CABG, artery-vein, four | 9.40 | 3.15 | NA | 1.18 | 13.73 | NA | ZZZ
33522 |  | A | CABG, artery-vein, five | 11.67 | 3.91 | NA | 1.48 | 17.06 | NA | ZZZ
33523 |  | A | Cabg, art-vein, six or more | 13.95 | 4.62 | NA | 1.78 | 20.35 | NA | ZZZ
33530 |  | A | Coronary artery, bypass/reop | 5.86 | 1.95 | NA | 0.73 | 8.54 | NA | ZZZ
33533 |  | A | CABG, arterial, single | 30.00 | 16.43 | NA | 3.24 | 49.67 | NA | 090
33534 |  | A | CABG, arterial, two | 32.20 | 16.71 | NA | 3.63 | 52.54 | NA | 090
33535 |  | A | CABG, arterial, three | 34.50 | 17.46 | NA | 3.97 | 55.93 | NA | 090
33536 |  | A | Cabg, arterial, four or more | 37.50 | 15.94 | NA | 3.29 | 56.73 | NA | 090
33542 |  | A | Removal of heart lesion | 28.85 | 17.56 | NA | 3.61 | 50.02 | NA | 090
33545 |  | A | Repair of heart damage | 36.78 | 20.21 | NA | 4.40 | 61.39 | NA | 090
33572 |  | A | Open coronary endarterectomy | 4.45 | 1.50 | NA | 0.55 | 6.50 | NA | ZZZ
33600 |  | A | Closure of valve | 29.51 | 16.62 | NA | 2.30 | 48.43 | NA | 090
33602 |  | A | Closure of valve | 28.54 | 14.97 | NA | 2.90 | 46.41 | NA | 090
33606 |  | A | Anastomosis/artery-aorta | 30.74 | 15.77 | NA | 3.59 | 50.10 | NA | 090
33608 |  | A | Repair anomaly w/conduit | 31.09 | 18.69 | NA | 4.17 | 53.95 | NA | 090
33610 |  | A | Repair by enlargement | 30.61 | 19.41 | NA | 4.02 | 54.04 | NA | 090
33611 |  | A | Repair double ventricle | 34.00 | 18.98 | NA | 3.28 | 56.26 | NA | 090
33612 |  | A | Repair double ventricle | 35.00 | 20.65 | NA | 4.44 | 60.09 | NA | 090
33615 |  | A | Repair, simple fontan | 34.00 | 21.46 | NA | 3.15 | 58.61 | NA | 090
33617 |  | A | Repair, modified fontan | 37.00 | 21.51 | NA | 4.09 | 62.60 | NA | 090
33619 |  | A | Repair single ventricle | 45.00 | 25.91 | NA | 4.71 | 75.62 | NA | 090
33641 |  | A | Repair heart septum defect | 21.39 | 12.07 | NA | 2.67 | 36.13 | NA | 090
33645 |  | A | Revision of heart veins | 24.82 | 14.37 | NA | 3.27 | 42.46 | NA | 090
33647 |  | A | Repair heart septum defects | 28.73 | 17.60 | NA | 3.37 | 49.70 | NA | 090
33660 |  | A | Repair of heart defects | 30.00 | 17.54 | NA | 2.82 | 50.36 | NA | 090
33665 |  | A | Repair of heart defects | 28.60 | 17.59 | NA | 3.81 | 50.00 | NA | 090
33670 |  | A | Repair of heart chambers | 35.00 | 16.14 | NA | 2.18 | 53.32 | NA | 090
33681 |  | A | Repair heart septum defect | 30.61 | 18.11 | NA | 3.53 | 52.25 | NA | 090
33684 |  | A | Repair heart septum defect | 29.65 | 17.18 | NA | 3.77 | 50.60 | NA | 090
33688 |  | A | Repair heart septum defect | 30.62 | 16.22 | NA | 3.89 | 50.73 | NA | 090
33690 |  | A | Reinforce pulmonary artery | 19.55 | 14.09 | NA | 2.56 | 36.20 | NA | 090
33692 |  | A | Repair of heart defects | 30.75 | 16.68 | NA | 3.77 | 51.20 | NA | 090
33694 |  | A | Repair of heart defects | 34.00 | 18.48 | NA | 4.27 | 56.75 | NA | 090
33697 |  | A | Repair of heart defects | 36.00 | 19.78 | NA | 4.54 | 60.32 | NA | 090
33702 |  | A | Repair of heart defects | 26.54 | 15.95 | NA | 3.45 | 45.94 | NA | 090
33710 |  | A | Repair of heart defects | 29.71 | 15.86 | NA | 3.85 | 49.42 | NA | 090
33720 |  | A | Repair of heart defect | 26.56 | 16.35 | NA | 3.21 | 46.12 | NA | 090
33722 |  | A | Repair of heart defect | 28.41 | 17.16 | NA | 3.80 | 49.37 | NA | 090
33730 |  | A | Repair heart-vein defect(s) | 34.25 | 17.77 | NA | 2.85 | 54.87 | NA | 090
33732 |  | A | Repair heart-vein defect | 28.16 | 15.96 | NA | 2.78 | 46.90 | NA | 090
33735 |  | A | Revision of heart chamber | 21.39 | 13.10 | NA | 1.12 | 35.61 | NA | 090
33736 |  | A | Revision of heart chamber | 23.52 | 15.44 | NA | 2.70 | 41.66 | NA | 090
33737 |  | A | Revision of heart chamber | 21.76 | 14.04 | NA | 2.93 | 38.73 | NA | 090
33750 |  | A | Major vessel shunt | 21.41 | 14.61 | NA | 1.74 | 37.76 | NA | 090
33755 |  | A | Major vessel shunt | 21.79 | 14.05 | NA | 2.93 | 38.77 | NA | 090
33762 |  | A | Major vessel shunt | 21.79 | 11.09 | NA | 1.59 | 34.47 | NA | 090
33764 |  | A | Major vessel shunt & graft | 21.79 | 12.21 | NA | 1.93 | 35.93 | NA | 090
33766 |  | A | Major vessel shunt | 22.76 | 15.50 | NA | 3.04 | 41.30 | NA | 090
33767 |  | A | Major vessel shunt | 24.50 | 15.24 | NA | 3.14 | 42.88 | NA | 090
33770 |  | A | Repair great vessels defect | 37.00 | 19.57 | NA | 4.49 | 61.06 | NA | 090
33771 |  | A | Repair great vessels defect | 34.65 | 17.81 | NA | 4.67 | 57.13 | NA | 090
33774 |  | A | Repair great vessels defect | 30.98 | 16.36 | NA | 4.18 | 51.52 | NA | 090
33775 |  | A | Repair great vessels defect | 32.20 | 16.84 | NA | 4.34 | 53.38 | NA | 090
33776 |  | A | Repair great vessels defect | 34.04 | 17.57 | NA | 4.58 | 56.19 | NA | 090
33777 |  | A | Repair great vessels defect | 33.46 | 17.34 | NA | 4.51 | 55.31 | NA | 090
33778 |  | A | Repair great vessels defect | 40.00 | 19.93 | NA | 4.83 | 64.76 | NA | 090
33779 |  | A | Repair great vessels defect | 36.21 | 18.50 | NA | 2.40 | 57.11 | NA | 090
33780 |  | A | Repair great vessels defect | 41.75 | 24.12 | NA | 5.21 | 71.08 | NA | 090
33781 |  | A | Repair great vessels defect | 36.45 | 18.52 | NA | 4.91 | 59.88 | NA | 090
33786 |  | A | Repair arterial trunk | 39.00 | 20.29 | NA | 4.69 | 63.98 | NA | 090
33788 |  | A | Revision of pulmonary artery | 26.62 | 15.90 | NA | 3.32 | 45.84 | NA | 090
33800 |  | A | Aortic suspension | 16.24 | 10.41 | NA | 1.11 | 27.76 | NA | 090
33802 |  | A | Repair vessel defect | 17.66 | 9.73 | NA | 1.56 | 28.95 | NA | 090
33803 |  | A | Repair vessel defect | 19.60 | 13.91 | NA | 2.63 | 36.14 | NA | 090
33813 |  | A | Repair septal defect | 20.65 | 13.64 | NA | 2.78 | 37.07 | NA | 090
33814 |  | A | Repair septal defect | 25.77 | 17.46 | NA | 2.52 | 45.75 | NA | 090
33820 |  | A | Revise major vessel | 16.29 | 11.56 | NA | 2.10 | 29.95 | NA | 090
33822 |  | A | Revise major vessel | 17.32 | 13.89 | NA | 2.33 | 33.54 | NA | 090
33824 |  | A | Revise major vessel | 19.52 | 12.77 | NA | 2.61 | 34.90 | NA | 090
33840 |  | A | Remove aorta constriction | 20.63 | 12.98 | NA | 2.36 | 35.97 | NA | 090
33845 |  | A | Remove aorta constriction | 22.12 | 14.93 | NA | 2.90 | 39.95 | NA | 090
33851 |  | A | Remove aorta constriction | 21.27 | 13.86 | NA | 2.86 | 37.99 | NA | 090
33852 |  | A | Repair septal defect | 23.71 | 15.17 | NA | 3.19 | 42.07 | NA | 090
33853 |  | A | Repair septal defect | 31.72 | 18.40 | NA | 4.23 | 54.35 | NA | 090
33860 |  | A | Ascending aortic graft | 38.00 | 19.11 | NA | 4.30 | 61.41 | NA | 090
33861 |  | A | Ascending aortic graft | 42.00 | 20.36 | NA | 4.24 | 66.60 | NA | 090
33863 |  | A | Ascending aortic graft | 45.00 | 21.45 | NA | 4.60 | 71.05 | NA | 090
33870 |  | A | Transverse aortic arch graft | 44.00 | 21.05 | NA | 5.09 | 70.14 | NA | 090
33875 |  | A | Thoracic aortic graft | 33.06 | 17.33 | NA | 4.08 | 54.47 | NA | 090
33877 |  | A | Thoracoabdominal graft | 42.60 | 22.98 | NA | 5.07 | 70.65 | NA | 090
33910 |  | A | Remove lung artery emboli | 24.59 | 14.45 | NA | 3.06 | 42.10 | NA | 090
33915 |  | A | Remove lung artery emboli | 21.02 | 12.55 | NA | 1.20 | 34.77 | NA | 090
33916 |  | A | Surgery of great vessel | 25.83 | 14.01 | NA | 3.04 | 42.88 | NA | 090
33917 |  | A | Repair pulmonary artery | 24.50 | 16.12 | NA | 3.17 | 43.79 | NA | 090
33918 |  | A | Repair pulmonary atresia | 26.45 | 14.57 | NA | 3.42 | 44.44 | NA | 090
33919 |  | A | Repair pulmonary atresia | 40.00 | 21.39 | NA | 3.48 | 64.87 | NA | 090
33920 |  | A | Repair pulmonary atresia | 31.95 | 15.83 | NA | 3.61 | 51.39 | NA | 090
33922 |  | A | Transect pulmonary artery | 23.52 | 14.54 | NA | 2.30 | 40.36 | NA | 090
33924 |  | A | Remove pulmonary shunt | 5.50 | 1.86 | NA | 0.74 | 8.10 | NA | ZZZ
33930 |  | X | Removal of donor heart/lung | 0.00 | 0.00 | 0.00 | 0.00 | 0.00 | 0.00 | XXX
33935 |  | R | Transplantation, heart/lung | 60.96 | 28.42 | NA | 8.15 | 97.53 | NA | 090
33940 |  | X | Removal of donor heart | 0.00 | 0.00 | 0.00 | 0.00 | 0.00 | 0.00 | XXX
33945 |  | R | Transplantation of heart | 42.10 | 21.97 | NA | 5.42 | 69.49 | NA | 090
33960 |  | A | External circulation assist | 19.36 | 6.32 | NA | 2.14 | 27.82 | NA | XXX
33961 |  | A | External circulation assist | 10.93 | 3.64 | NA | 1.47 | 16.04 | NA | ZZZ
33968 |  | A | Remove aortic assist device | 0.64 | 0.25 | NA | 0.07 | 0.96 | NA | 000
33970 |  | A | Aortic circulation assist | 6.75 | 2.36 | NA | 0.70 | 9.81 | NA | 000
33971 |  | A | Aortic circulation assist | 9.69 | 7.99 | NA | 0.97 | 18.65 | NA | 090
33973 |  | A | Insert balloon device | 9.76 | 3.40 | NA | 1.01 | 14.17 | NA | 000
33974 |  | A | Remove intra-aortic balloon | 14.41 | 10.78 | NA | 1.48 | 26.67 | NA | 090
33975 |  | A | Implant ventricular device | 21.00 | 5.63 | NA | 1.72 | 28.35 | NA | XXX
33976 |  | A | Implant ventricular device | 23.00 | 7.71 | NA | 2.82 | 33.53 | NA | XXX
33977 |  | A | Remove ventricular device | 19.29 | 10.57 | NA | 2.44 | 32.30 | NA | 090
33978 |  | A | Remove ventricular device | 21.73 | 11.51 | NA | 2.66 | 35.90 | NA | 090
33999 |  | C | Cardiac surgery procedure | 0.00 | 0.00 | 0.00 | 0.00 | 0.00 | 0.00 | YYY
34001 |  | A | Removal of artery clot | 12.91 | 5.88 | NA | 1.46 | 20.25 | NA | 090
34051 |  | A | Removal of artery clot | 15.21 | 7.04 | NA | 1.90 | 24.15 | NA | 090
34101 |  | A | Removal of artery clot | 10.00 | 4.82 | NA | 1.11 | 15.93 | NA | 090
34111 |  | A | Removal of arm artery clot | 10.00 | 4.84 | NA | 0.85 | 15.69 | NA | 090
34151 |  | A | Removal of artery clot | 25.00 | 10.43 | NA | 1.84 | 37.27 | NA | 090
34201 |  | A | Removal of artery clot | 10.03 | 5.12 | NA | 1.02 | 16.17 | NA | 090
34203 |  | A | Removal of leg artery clot | 16.50 | 7.61 | NA | 1.37 | 25.48 | NA | 090
34401 |  | A | Removal of vein clot | 25.00 | 10.42 | NA | 1.20 | 36.62 | NA | 090
34421 |  | A | Removal of vein clot | 12.00 | 5.96 | NA | 0.95 | 18.91 | NA | 090
34451 |  | A | Removal of vein clot | 27.00 | 11.13 | NA | 1.59 | 39.72 | NA | 090
34471 |  | A | Removal of vein clot | 10.18 | 5.02 | NA | 0.90 | 16.10 | NA | 090
34490 |  | A | Removal of vein clot | 9.86 | 6.22 | NA | 0.73 | 16.81 | NA | 090
34501 |  | A | Repair valve, femoral vein | 16.00 | 9.41 | NA | 1.37 | 26.78 | NA | 090
34502 |  | A | Reconstruct vena cava | 26.95 | 11.22 | NA | 2.99 | 41.16 | NA | 090
34510 |  | A | Transposition of vein valve | 18.95 | 10.16 | NA | 1.60 | 30.71 | NA | 090
34520 |  | A | Cross-over vein graft | 17.95 | 9.27 | NA | 1.41 | 28.63 | NA | 090
34530 |  | A | Leg vein fusion | 16.64 | 9.12 | NA | 2.06 | 27.82 | NA | 090
34800 |  | A | Endovasc abdo repair w/tube | 20.75 | 9.65 | NA | 1.49 | 31.89 | NA | 090
34802 |  | A | Endovasc abdo repr w/device | 23.00 | 10.54 | NA | 1.65 | 35.19 | NA | 090
34804 |  | A | Endovasc abdo repr w/device | 23.00 | 10.54 | NA | 1.65 | 35.19 | NA | 090
34808 |  | A | Endovasc abdo occlud device | 4.13 | 1.63 | NA | 0.29 | 6.05 | NA | ZZZ
34812 |  | A | Xpose for endoprosth, aortic | 6.75 | 2.67 | NA | 0.49 | 9.91 | NA | 000
34813 |  | A | Xpose for endoprosth, femorl | 4.80 | 1.90 | NA | 0.34 | 7.04 | NA | ZZZ
34820 |  | A | Xpose for endoprosth, iliac | 9.75 | 3.85 | NA | 0.70 | 14.30 | NA | 000
34825 |  | A | Endovasc extend prosth, init | 12.00 | 6.19 | NA | 0.86 | 19.05 | NA | 090
34826 |  | A | Endovasc exten prosth, addl | 4.13 | 1.63 | NA | 0.29 | 6.05 | NA | ZZZ
34830 |  | A | Open aortic tube prosth repr | 32.59 | 14.68 | NA | 2.34 | 49.61 | NA | 090
34831 |  | A | Open aortoiliac prosth repr | 35.34 | 15.77 | NA | 2.53 | 53.64 | NA | 090
34832 |  | A | Open aortofemor prosth repr | 35.34 | 15.77 | NA | 2.53 | 53.64 | NA | 090
35001 |  | A | Repair defect of artery | 19.64 | 8.49 | NA | 2.44 | 30.57 | NA | 090
35002 |  | A | Repair artery rupture, neck | 21.00 | 9.60 | NA | 1.82 | 32.42 | NA | 090
35005 |  | A | Repair defect of artery | 18.12 | 8.12 | NA | 1.35 | 27.59 | NA | 090
35011 |  | A | Repair defect of artery | 18.00 | 7.55 | NA | 1.30 | 26.85 | NA | 090
35013 |  | A | Repair artery rupture, arm | 22.00 | 8.94 | NA | 1.91 | 32.85 | NA | 090
35021 |  | A | Repair defect of artery | 19.65 | 8.91 | NA | 1.93 | 30.49 | NA | 090
35022 |  | A | Repair artery rupture, chest | 23.18 | 9.48 | NA | 1.99 | 34.65 | NA | 090
35045 |  | A | Repair defect of arm artery | 17.57 | 9.04 | NA | 1.25 | 27.86 | NA | 090
35081 |  | A | Repair defect of artery | 28.01 | 11.65 | NA | 3.20 | 42.86 | NA | 090
35082 |  | A | Repair artery rupture, aorta | 38.50 | 15.04 | NA | 4.07 | 57.61 | NA | 090
35091 |  | A | Repair defect of artery | 35.40 | 14.28 | NA | 4.09 | 53.77 | NA | 090
35092 |  | A | Repair artery rupture, aorta | 45.00 | 17.41 | NA | 4.31 | 66.72 | NA | 090
35102 |  | A | Repair defect of artery | 30.76 | 12.58 | NA | 3.44 | 46.78 | NA | 090
35103 |  | A | Repair artery rupture, groin | 40.50 | 15.75 | NA | 3.79 | 60.04 | NA | 090
35111 |  | A | Repair defect of artery | 25.00 | 10.36 | NA | 1.81 | 37.17 | NA | 090
35112 |  | A | Repair artery rupture,spleen | 30.00 | 11.97 | NA | 1.95 | 43.92 | NA | 090
35121 |  | A | Repair defect of artery | 30.00 | 12.29 | NA | 2.93 | 45.22 | NA | 090
35122 |  | A | Repair artery rupture, belly | 35.00 | 13.81 | NA | 3.54 | 52.35 | NA | 090
35131 |  | A | Repair defect of artery | 25.00 | 10.62 | NA | 2.11 | 37.73 | NA | 090
35132 |  | A | Repair artery rupture, groin | 30.00 | 12.05 | NA | 2.48 | 44.53 | NA | 090
35141 |  | A | Repair defect of artery | 20.00 | 8.67 | NA | 1.65 | 30.32 | NA | 090
35142 |  | A | Repair artery rupture, thigh | 23.30 | 9.81 | NA | 1.75 | 34.86 | NA | 090
35151 |  | A | Repair defect of artery | 22.64 | 9.75 | NA | 1.93 | 34.32 | NA | 090
35152 |  | A | Repair artery rupture, knee | 25.62 | 10.60 | NA | 1.93 | 38.15 | NA | 090
35161 |  | A | Repair defect of artery | 18.76 | 8.92 | NA | 2.21 | 29.89 | NA | 090
35162 |  | A | Repair artery rupture | 19.78 | 9.44 | NA | 2.21 | 31.43 | NA | 090
35180 |  | A | Repair blood vessel lesion | 13.62 | 6.05 | NA | 1.44 | 21.11 | NA | 090
35182 |  | A | Repair blood vessel lesion | 30.00 | 12.49 | NA | 1.88 | 44.37 | NA | 090
35184 |  | A | Repair blood vessel lesion | 18.00 | 7.83 | NA | 1.34 | 27.17 | NA | 090
35188 |  | A | Repair blood vessel lesion | 14.28 | 6.49 | NA | 1.53 | 22.30 | NA | 090
35189 |  | A | Repair blood vessel lesion | 28.00 | 11.66 | NA | 2.12 | 41.78 | NA | 090
35190 |  | A | Repair blood vessel lesion | 12.75 | 5.81 | NA | 1.33 | 19.89 | NA | 090
35201 |  | A | Repair blood vessel lesion | 16.14 | 7.14 | NA | 1.17 | 24.45 | NA | 090
35206 |  | A | Repair blood vessel lesion | 13.25 | 7.64 | NA | 1.04 | 21.93 | NA | 090
35207 |  | A | Repair blood vessel lesion | 10.15 | 9.54 | NA | 1.15 | 20.84 | NA | 090
35211 |  | A | Repair blood vessel lesion | 22.12 | 13.89 | NA | 2.83 | 38.84 | NA | 090
35216 |  | A | Repair blood vessel lesion | 18.75 | 11.66 | NA | 2.17 | 32.58 | NA | 090
35221 |  | A | Repair blood vessel lesion | 24.39 | 10.30 | NA | 1.79 | 36.48 | NA | 090
35226 |  | A | Repair blood vessel lesion | 14.50 | 8.72 | NA | 0.84 | 24.06 | NA | 090
35231 |  | A | Repair blood vessel lesion | 20.00 | 9.35 | NA | 1.32 | 30.67 | NA | 090
35236 |  | A | Repair blood vessel lesion | 17.11 | 9.07 | NA | 1.19 | 27.37 | NA | 090
35241 |  | A | Repair blood vessel lesion | 23.12 | 14.48 | NA | 2.90 | 40.50 | NA | 090
35246 |  | A | Repair blood vessel lesion | 26.45 | 14.54 | NA | 2.22 | 43.21 | NA | 090
35251 |  | A | Repair blood vessel lesion | 30.20 | 12.23 | NA | 1.87 | 44.30 | NA | 090
35256 |  | A | Repair blood vessel lesion | 18.36 | 9.67 | NA | 1.32 | 29.35 | NA | 090
35261 |  | A | Repair blood vessel lesion | 17.80 | 7.57 | NA | 1.34 | 26.71 | NA | 090
35266 |  | A | Repair blood vessel lesion | 14.91 | 8.23 | NA | 1.16 | 24.30 | NA | 090
35271 |  | A | Repair blood vessel lesion | 22.12 | 13.34 | NA | 2.77 | 38.23 | NA | 090
35276 |  | A | Repair blood vessel lesion | 24.25 | 13.98 | NA | 2.37 | 40.60 | NA | 090
35281 |  | A | Repair blood vessel lesion | 28.00 | 11.70 | NA | 1.82 | 41.52 | NA | 090
35286 |  | A | Repair blood vessel lesion | 16.16 | 8.76 | NA | 1.36 | 26.28 | NA | 090
35301 |  | A | Rechanneling of artery | 18.70 | 8.90 | NA | 2.23 | 29.83 | NA | 090
35311 |  | A | Rechanneling of artery | 27.00 | 11.11 | NA | 2.75 | 40.86 | NA | 090
35321 |  | A | Rechanneling of artery | 16.00 | 6.86 | NA | 1.36 | 24.22 | NA | 090
35331 |  | A | Rechanneling of artery | 26.20 | 11.03 | NA | 2.71 | 39.94 | NA | 090
35341 |  | A | Rechanneling of artery | 25.11 | 10.64 | NA | 2.87 | 38.62 | NA | 090
35351 |  | A | Rechanneling of artery | 23.00 | 9.86 | NA | 2.29 | 35.15 | NA | 090
35355 |  | A | Rechanneling of artery | 18.50 | 8.29 | NA | 1.80 | 28.59 | NA | 090
35361 |  | A | Rechanneling of artery | 28.20 | 11.63 | NA | 2.66 | 42.49 | NA | 090
35363 |  | A | Rechanneling of artery | 30.20 | 12.17 | NA | 2.77 | 45.14 | NA | 090
35371 |  | A | Rechanneling of artery | 14.72 | 6.75 | NA | 1.32 | 22.79 | NA | 090
35372 |  | A | Rechanneling of artery | 18.00 | 7.91 | NA | 1.53 | 27.44 | NA | 090
35381 |  | A | Rechanneling of artery | 15.81 | 7.38 | NA | 1.80 | 24.99 | NA | 090
35390 |  | A | Reoperation, carotid add-on | 3.19 | 1.11 | NA | 0.38 | 4.68 | NA | ZZZ
35400 |  | A | Angioscopy | 3.00 | 1.05 | NA | 0.34 | 4.39 | NA | ZZZ
35450 |  | A | Repair arterial blockage | 10.07 | 3.76 | NA | 0.84 | 14.67 | NA | 000
35452 |  | A | Repair arterial blockage | 6.91 | 3.20 | NA | 0.76 | 10.87 | NA | 000
35454 |  | A | Repair arterial blockage | 6.04 | 2.85 | NA | 0.67 | 9.56 | NA | 000
35456 |  | A | Repair arterial blockage | 7.35 | 3.30 | NA | 0.82 | 11.47 | NA | 000
35458 |  | A | Repair arterial blockage | 9.49 | 4.01 | NA | 1.09 | 14.59 | NA | 000
35459 |  | A | Repair arterial blockage | 8.63 | 3.68 | NA | 0.96 | 13.27 | NA | 000
35460 |  | A | Repair venous blockage | 6.04 | 2.71 | NA | 0.66 | 9.41 | NA | 000
35470 |  | A | Repair arterial blockage | 8.63 | 4.00 | NA | 0.50 | 13.13 | NA | 000
35471 |  | A | Repair arterial blockage | 10.07 | 4.67 | NA | 0.50 | 15.24 | NA | 000
35472 |  | A | Repair arterial blockage | 6.91 | 3.39 | NA | 0.39 | 10.69 | NA | 000
35473 |  | A | Repair arterial blockage | 6.04 | 3.05 | NA | 0.34 | 9.43 | NA | 000
35474 |  | A | Repair arterial blockage | 7.36 | 3.54 | NA | 0.40 | 11.30 | NA | 000
35475 |  | R | Repair arterial blockage | 9.49 | 4.23 | NA | 0.47 | 14.19 | NA | 000
35476 |  | A | Repair venous blockage | 6.04 | 2.97 | NA | 0.27 | 9.28 | NA | 000
35480 |  | A | Atherectomy, open | 11.08 | 4.61 | NA | 1.13 | 16.82 | NA | 000
35481 |  | A | Atherectomy, open | 7.61 | 3.48 | NA | 0.84 | 11.93 | NA | 000
35482 |  | A | Atherectomy, open | 6.65 | 3.04 | NA | 0.75 | 10.44 | NA | 000
35483 |  | A | Atherectomy, open | 8.10 | 3.61 | NA | 0.81 | 12.52 | NA | 000
35484 |  | A | Atherectomy, open | 10.44 | 4.32 | NA | 1.13 | 15.89 | NA | 000
35485 |  | A | Atherectomy, open | 9.49 | 4.22 | NA | 1.06 | 14.77 | NA | 000
35490 |  | A | Atherectomy, percutaneous | 11.08 | 4.95 | NA | 0.55 | 16.58 | NA | 000
35491 |  | A | Atherectomy, percutaneous | 7.61 | 3.54 | NA | 0.49 | 11.64 | NA | 000
35492 |  | A | Atherectomy, percutaneous | 6.65 | 3.30 | NA | 0.43 | 10.38 | NA | 000
35493 |  | A | Atherectomy, percutaneous | 8.10 | 3.93 | NA | 0.47 | 12.50 | NA | 000
35494 |  | A | Atherectomy, percutaneous | 10.44 | 4.63 | NA | 0.48 | 15.55 | NA | 000
35495 |  | A | Atherectomy, percutaneous | 9.49 | 4.58 | NA | 0.51 | 14.58 | NA | 000
35500 |  | A | Harvest vein for bypass | 6.45 | 2.03 | NA | 0.63 | 9.11 | NA | ZZZ
35501 |  | A | Artery bypass graft | 19.19 | 8.17 | NA | 2.33 | 29.69 | NA | 090
35506 |  | A | Artery bypass graft | 19.67 | 8.29 | NA | 2.33 | 30.29 | NA | 090
35507 |  | A | Artery bypass graft | 19.67 | 8.27 | NA | 2.27 | 30.21 | NA | 090
35508 |  | A | Artery bypass graft | 18.65 | 7.99 | NA | 2.34 | 28.98 | NA | 090
35509 |  | A | Artery bypass graft | 18.07 | 7.75 | NA | 2.12 | 27.94 | NA | 090
35511 |  | A | Artery bypass graft | 21.20 | 8.89 | NA | 1.74 | 31.83 | NA | 090
35515 |  | A | Artery bypass graft | 18.65 | 8.01 | NA | 2.26 | 28.92 | NA | 090
35516 |  | A | Artery bypass graft | 16.32 | 7.05 | NA | 1.88 | 25.25 | NA | 090
35518 |  | A | Artery bypass graft | 21.20 | 8.71 | NA | 1.78 | 31.69 | NA | 090
35521 |  | A | Artery bypass graft | 22.20 | 9.51 | NA | 1.82 | 33.53 | NA | 090
35526 |  | A | Artery bypass graft | 29.95 | 12.21 | NA | 2.18 | 44.34 | NA | 090
35531 |  | A | Artery bypass graft | 36.20 | 14.49 | NA | 2.91 | 53.60 | NA | 090
35533 |  | A | Artery bypass graft | 28.00 | 11.56 | NA | 2.35 | 41.91 | NA | 090
35536 |  | A | Artery bypass graft | 31.70 | 12.90 | NA | 2.62 | 47.22 | NA | 090
35541 |  | A | Artery bypass graft | 25.80 | 10.99 | NA | 2.74 | 39.53 | NA | 090
35546 |  | A | Artery bypass graft | 25.54 | 10.67 | NA | 2.84 | 39.05 | NA | 090
35548 |  | A | Artery bypass graft | 21.57 | 9.21 | NA | 2.45 | 33.23 | NA | 090
35549 |  | A | Artery bypass graft | 23.35 | 9.97 | NA | 2.77 | 36.09 | NA | 090
35551 |  | A | Artery bypass graft | 26.67 | 11.21 | NA | 3.19 | 41.07 | NA | 090
35556 |  | A | Artery bypass graft | 21.76 | 9.44 | NA | 2.48 | 33.68 | NA | 090
35558 |  | A | Artery bypass graft | 21.20 | 9.20 | NA | 1.58 | 31.98 | NA | 090
35560 |  | A | Artery bypass graft | 32.00 | 13.04 | NA | 2.73 | 47.77 | NA | 090
35563 |  | A | Artery bypass graft | 24.20 | 10.33 | NA | 1.68 | 36.21 | NA | 090
35565 |  | A | Artery bypass graft | 23.20 | 9.88 | NA | 1.71 | 34.79 | NA | 090
35566 |  | A | Artery bypass graft | 26.92 | 13.89 | NA | 3.02 | 43.83 | NA | 090
35571 |  | A | Artery bypass graft | 24.06 | 12.17 | NA | 2.14 | 38.37 | NA | 090
35582 |  | A | Vein bypass graft | 27.13 | 11.40 | NA | 3.11 | 41.64 | NA | 090
35583 |  | A | Vein bypass graft | 22.37 | 10.60 | NA | 2.53 | 35.50 | NA | 090
35585 |  | A | Vein bypass graft | 28.39 | 14.59 | NA | 3.21 | 46.19 | NA | 090
35587 |  | A | Vein bypass graft | 24.75 | 12.80 | NA | 2.17 | 39.72 | NA | 090
35600 |  | A | Harvest artery for cabg | 4.95 | 1.96 | NA | 0.54 | 7.45 | NA | ZZZ
35601 |  | A | Artery bypass graft | 17.50 | 7.50 | NA | 2.08 | 27.08 | NA | 090
35606 |  | A | Artery bypass graft | 18.71 | 7.91 | NA | 2.17 | 28.79 | NA | 090
35612 |  | A | Artery bypass graft | 15.76 | 6.84 | NA | 1.72 | 24.32 | NA | 090
35616 |  | A | Artery bypass graft | 15.70 | 7.02 | NA | 1.84 | 24.56 | NA | 090
35621 |  | A | Artery bypass graft | 20.00 | 8.87 | NA | 1.68 | 30.55 | NA | 090
35623 |  | A | Bypass graft, not vein | 24.00 | 10.22 | NA | 1.91 | 36.13 | NA | 090
35626 |  | A | Artery bypass graft | 27.75 | 11.13 | NA | 2.89 | 41.77 | NA | 090
35631 |  | A | Artery bypass graft | 34.00 | 13.77 | NA | 2.83 | 50.60 | NA | 090
35636 |  | A | Artery bypass graft | 29.50 | 12.31 | NA | 2.37 | 44.18 | NA | 090
35641 |  | A | Artery bypass graft | 24.57 | 10.47 | NA | 2.83 | 37.87 | NA | 090
35642 |  | A | Artery bypass graft | 17.98 | 8.52 | NA | 1.84 | 28.34 | NA | 090
35645 |  | A | Artery bypass graft | 17.47 | 7.98 | NA | 1.91 | 27.36 | NA | 090
35646 |  | A | Artery bypass graft | 25.81 | 10.89 | NA | 2.98 | 39.68 | NA | 090
35650 |  | A | Artery bypass graft | 19.00 | 7.91 | NA | 1.64 | 28.55 | NA | 090
35651 |  | A | Artery bypass graft | 25.04 | 10.68 | NA | 2.53 | 38.25 | NA | 090
35654 |  | A | Artery bypass graft | 25.00 | 10.57 | NA | 2.10 | 37.67 | NA | 090
35656 |  | A | Artery bypass graft | 19.53 | 8.44 | NA | 2.21 | 30.18 | NA | 090
35661 |  | A | Artery bypass graft | 19.00 | 8.26 | NA | 1.50 | 28.76 | NA | 090
35663 |  | A | Artery bypass graft | 22.00 | 9.64 | NA | 1.55 | 33.19 | NA | 090
35665 |  | A | Artery bypass graft | 21.00 | 9.17 | NA | 1.76 | 31.93 | NA | 090
35666 |  | A | Artery bypass graft | 22.19 | 11.95 | NA | 2.19 | 36.33 | NA | 090
35671 |  | A | Artery bypass graft | 19.33 | 10.48 | NA | 1.68 | 31.49 | NA | 090
35681 |  | A | Composite bypass graft | 1.60 | 2.34 | NA | 0.18 | 4.12 | NA | ZZZ
35682 |  | A | Composite bypass graft | 7.20 | 2.51 | NA | 0.83 | 10.54 | NA | ZZZ
35683 |  | A | Composite bypass graft | 8.50 | 2.96 | NA | 0.98 | 12.44 | NA | ZZZ
35691 |  | A | Arterial transposition | 18.05 | 7.66 | NA | 2.06 | 27.77 | NA | 090
35693 |  | A | Arterial transposition | 15.36 | 6.82 | NA | 1.80 | 23.98 | NA | 090
35694 |  | A | Arterial transposition | 19.16 | 8.12 | NA | 2.13 | 29.41 | NA | 090
35695 |  | A | Arterial transposition | 19.16 | 8.01 | NA | 2.19 | 29.36 | NA | 090
35700 |  | A | Reoperation, bypass graft | 3.08 | 2.96 | NA | 0.36 | 6.40 | NA | ZZZ
35701 |  | A | Exploration, carotid artery | 8.50 | 4.61 | NA | 0.64 | 13.75 | NA | 090
35721 |  | A | Exploration, femoral artery | 7.18 | 5.16 | NA | 0.59 | 12.93 | NA | 090
35741 |  | A | Exploration popliteal artery | 8.00 | 5.37 | NA | 0.60 | 13.97 | NA | 090
35761 |  | A | Exploration of artery/vein | 5.37 | 4.46 | NA | 0.60 | 10.43 | NA | 090
35800 |  | A | Explore neck vessels | 7.02 | 3.96 | NA | 0.79 | 11.77 | NA | 090
35820 |  | A | Explore chest vessels | 12.88 | 4.33 | NA | 1.61 | 18.82 | NA | 090
35840 |  | A | Explore abdominal vessels | 9.77 | 5.19 | NA | 1.06 | 16.02 | NA | 090
35860 |  | A | Explore limb vessels | 5.55 | 3.59 | NA | 0.63 | 9.77 | NA | 090
35870 |  | A | Repair vessel graft defect | 22.17 | 10.21 | NA | 2.47 | 34.85 | NA | 090
35875 |  | A | Removal of clot in graft | 10.13 | 6.55 | NA | 0.97 | 17.65 | NA | 090
35876 |  | A | Removal of clot in graft | 17.00 | 9.07 | NA | 1.88 | 27.95 | NA | 090
35879 |  | A | Revise graft w/vein | 16.00 | 8.23 | NA | 1.35 | 25.58 | NA | 090
35881 |  | A | Revise graft w/vein | 18.00 | 9.21 | NA | 1.44 | 28.65 | NA | 090
35901 |  | A | Excision, graft, neck | 8.19 | 5.68 | NA | 0.90 | 14.77 | NA | 090
35903 |  | A | Excision, graft, extremity | 9.39 | 8.15 | NA | 1.03 | 18.57 | NA | 090
35905 |  | A | Excision, graft, thorax | 31.25 | 15.71 | NA | 2.15 | 49.11 | NA | 090
35907 |  | A | Excision, graft, abdomen | 35.00 | 14.91 | NA | 2.17 | 52.08 | NA | 090
36000 |  | A | Place needle in vein | 0.18 | 0.05 | 0.64 | 0.01 | 0.24 | 0.83 | XXX
36005 |  | A | Injection, venography | 0.95 | 0.33 | 15.92 | 0.04 | 1.32 | 16.91 | 000
36010 |  | A | Place catheter in vein | 2.43 | 0.87 | NA | 0.16 | 3.46 | NA | XXX
36011 |  | A | Place catheter in vein | 3.14 | 1.13 | NA | 0.17 | 4.44 | NA | XXX
36012 |  | A | Place catheter in vein | 3.52 | 1.26 | NA | 0.17 | 4.95 | NA | XXX
36013 |  | A | Place catheter in artery | 2.52 | 0.77 | NA | 0.17 | 3.46 | NA | XXX
36014 |  | A | Place catheter in artery | 3.02 | 1.09 | NA | 0.14 | 4.25 | NA | XXX
36015 |  | A | Place catheter in artery | 3.52 | 1.26 | NA | 0.16 | 4.94 | NA | XXX
36100 |  | A | Establish access to artery | 3.02 | 1.20 | NA | 0.18 | 4.40 | NA | XXX
36120 |  | A | Establish access to artery | 2.01 | 0.71 | NA | 0.11 | 2.83 | NA | XXX
36140 |  | A | Establish access to artery | 2.01 | 0.71 | NA | 0.12 | 2.84 | NA | XXX
36145 |  | A | Artery to vein shunt | 2.01 | 0.73 | NA | 0.10 | 2.84 | NA | XXX
36160 |  | A | Establish access to aorta | 2.52 | 0.93 | NA | 0.20 | 3.65 | NA | XXX
36200 |  | A | Place catheter in aorta | 3.02 | 1.08 | NA | 0.15 | 4.25 | NA | XXX
36215 |  | A | Place catheter in artery | 4.68 | 1.69 | NA | 0.22 | 6.59 | NA | XXX
36216 |  | A | Place catheter in artery | 5.28 | 1.90 | NA | 0.24 | 7.42 | NA | XXX
36217 |  | A | Place catheter in artery | 6.30 | 2.31 | NA | 0.32 | 8.93 | NA | XXX
36218 |  | A | Place catheter in artery | 1.01 | 0.40 | NA | 0.05 | 1.46 | NA | ZZZ
36245 |  | A | Place catheter in artery | 4.68 | 1.79 | NA | 0.23 | 6.70 | NA | XXX
36246 |  | A | Place catheter in artery | 5.28 | 1.92 | NA | 0.26 | 7.46 | NA | XXX
36247 |  | A | Place catheter in artery | 6.30 | 2.26 | NA | 0.32 | 8.88 | NA | XXX
36248 |  | A | Place catheter in artery | 1.01 | 0.40 | NA | 0.06 | 1.47 | NA | ZZZ
36260 |  | A | Insertion of infusion pump | 9.71 | 5.58 | NA | 1.00 | 16.29 | NA | 090
36261 |  | A | Revision of infusion pump | 5.45 | 3.47 | NA | 0.50 | 9.42 | NA | 090
36262 |  | A | Removal of infusion pump | 4.02 | 2.52 | NA | 0.43 | 6.97 | NA | 090
36299 |  | C | Vessel injection procedure | 0.00 | 0.00 | 0.00 | 0.00 | 0.00 | 0.00 | YYY
36400 |  | A | Drawing blood | 0.18 | 0.05 | 0.64 | 0.01 | 0.24 | 0.83 | XXX
36405 |  | A | Drawing blood | 0.18 | 0.06 | 0.57 | 0.01 | 0.25 | 0.76 | XXX
36406 |  | A | Drawing blood | 0.18 | 0.05 | 0.80 | 0.01 | 0.24 | 0.99 | XXX
36410 |  | A | Drawing blood | 0.18 | 0.05 | 0.49 | 0.01 | 0.24 | 0.68 | XXX
36415 |  | I | Drawing blood | 0.00 | 0.00 | 0.00 | 0.00 | 0.00 | 0.00 | XXX
36420 |  | A | Establish access to vein | 1.01 | 0.31 | NA | 0.09 | 1.41 | NA | XXX
36425 |  | A | Establish access to vein | 0.76 | 0.17 | 3.39 | 0.05 | 0.98 | 4.20 | XXX
36430 |  | A | Blood transfusion service | 0.00 | NA | 0.99 | 0.05 | NA | 1.04 | XXX
36440 |  | A | Blood transfusion service | 1.03 | 0.29 | NA | 0.08 | 1.40 | NA | XXX
36450 |  | A | Exchange transfusion service | 2.23 | 0.74 | NA | 0.16 | 3.13 | NA | XXX
36455 |  | A | Exchange transfusion service | 2.43 | 0.96 | NA | 0.10 | 3.49 | NA | XXX
36460 |  | A | Transfusion service, fetal | 6.59 | 2.38 | NA | 0.56 | 9.53 | NA | XXX
36468 |  | R | Injection(s), spider veins | 0.00 | 0.00 | 0.00 | 0.00 | 0.00 | 0.00 | XXX
36469 |  | R | Injection(s), spider veins | 0.00 | 0.00 | 0.00 | 0.00 | 0.00 | 0.00 | XXX
36470 |  | A | Injection therapy of vein | 1.09 | 0.39 | 2.64 | 0.10 | 1.58 | 3.83 | 010
36471 |  | A | Injection therapy of veins | 1.57 | 0.58 | 3.25 | 0.15 | 2.30 | 4.97 | 010
36481 |  | A | Insertion of catheter, vein | 6.99 | 2.85 | NA | 0.40 | 10.24 | NA | 000
36488 |  | A | Insertion of catheter, vein | 1.35 | 0.74 | NA | 0.09 | 2.18 | NA | 000
36489 |  | A | Insertion of catheter, vein | 2.50 | 1.06 | 3.84 | 0.08 | 3.64 | 6.42 | 000
36490 |  | A | Insertion of catheter, vein | 1.67 | 0.85 | NA | 0.17 | 2.69 | NA | 000
36491 |  | A | Insertion of catheter, vein | 1.43 | 0.76 | NA | 0.13 | 2.32 | NA | 000
36493 |  | A | Repositioning of cvc | 1.21 | 0.87 | NA | 0.06 | 2.14 | NA | 000
36500 |  | A | Insertion of catheter, vein | 3.52 | 1.30 | NA | 0.14 | 4.96 | NA | 000
36510 |  | A | Insertion of catheter, vein | 1.09 | 0.63 | NA | 0.06 | 1.78 | NA | 000
36520 |  | A | Plasma and/or cell exchange | 1.74 | 1.00 | NA | 0.06 | 2.80 | NA | 000
36521 |  | A | Apheresis w/ adsorp/reinfuse | 1.74 | 1.00 | NA | 0.06 | 2.80 | NA | 000
36522 |  | A | Photopheresis | 1.67 | 1.13 | 6.29 | 0.07 | 2.87 | 8.03 | 000
36530 |  | R | Insertion of infusion pump | 6.20 | 3.70 | NA | 0.56 | 10.46 | NA | 010
36531 |  | R | Revision of infusion pump | 4.87 | 3.26 | NA | 0.44 | 8.57 | NA | 010
36532 |  | R | Removal of infusion pump | 3.30 | 1.56 | NA | 0.34 | 5.20 | NA | 010
36533 |  | A | Insertion of access device | 5.32 | 3.45 | 4.31 | 0.49 | 9.26 | 10.12 | 010
36534 |  | A | Revision of access device | 2.80 | 1.50 | NA | 0.19 | 4.49 | NA | 010
36535 |  | A | Removal of access device | 2.27 | 1.85 | 2.84 | 0.21 | 4.33 | 5.32 | 010
36540 |  | B | Collect blood venous device | 0.00 | 0.00 | 0.00 | 0.00 | 0.00 | 0.00 | XXX
36550 |  | A | Declot vascular device | 0.00 | NA | 0.37 | 0.31 | NA | 0.68 | XXX
36600 |  | A | Withdrawal of arterial blood | 0.32 | 0.09 | 0.43 | 0.02 | 0.43 | 0.77 | XXX
36620 |  | A | Insertion catheter, artery | 1.15 | 0.25 | NA | 0.06 | 1.46 | NA | 000
36625 |  | A | Insertion catheter, artery | 2.11 | 0.57 | NA | 0.16 | 2.84 | NA | 000
36640 |  | A | Insertion catheter, artery | 2.10 | 0.74 | NA | 0.18 | 3.02 | NA | 000
36660 |  | A | Insertion catheter, artery | 1.40 | 0.47 | NA | 0.08 | 1.95 | NA | 000
36680 |  | A | Insert needle, bone cavity | 1.20 | 0.60 | NA | 0.08 | 1.88 | NA | 000
36800 |  | A | Insertion of cannula | 2.43 | 1.62 | NA | 0.17 | 4.22 | NA | 000
36810 |  | A | Insertion of cannula | 3.97 | 2.34 | NA | 0.40 | 6.71 | NA | 000
36815 |  | A | Insertion of cannula | 2.62 | 1.73 | NA | 0.26 | 4.61 | NA | 000
36819 |  | A | Av fusion by basilic vein | 14.00 | 6.55 | NA | 1.53 | 22.08 | NA | 090
36821 |  | A | Av fusion direct any site | 8.93 | 5.04 | NA | 0.97 | 14.94 | NA | 090
36822 |  | A | Insertion of cannula(s) | 5.42 | 6.99 | NA | 0.63 | 13.04 | NA | 090
36823 |  | A | Insertion of cannula(s) | 21.00 | 10.55 | NA | 2.18 | 33.73 | NA | 090
36825 |  | A | Artery-vein graft | 9.84 | 5.61 | NA | 1.09 | 16.54 | NA | 090
36830 |  | A | Artery-vein graft | 12.00 | 6.16 | NA | 1.32 | 19.48 | NA | 090
36831 |  | A | Av fistula excision, open | 8.00 | 4.02 | NA | 0.79 | 12.81 | NA | 090
36832 |  | A | Av fistula revision, open | 10.50 | 5.62 | NA | 1.13 | 17.25 | NA | 090
36833 |  | A | Av fistula revision | 11.95 | 6.10 | NA | 1.29 | 19.34 | NA | 090
36834 |  | A | Repair A-V aneurysm | 9.93 | 3.84 | NA | 1.06 | 14.83 | NA | 090
36835 |  | A | Artery to vein shunt | 7.15 | 4.47 | NA | 0.80 | 12.42 | NA | 090
36860 |  | A | External cannula declotting | 2.01 | 1.68 | 2.36 | 0.10 | 3.79 | 4.47 | 000
36861 |  | A | Cannula declotting | 2.52 | 1.84 | NA | 0.14 | 4.50 | NA | 000
36870 |  | A | Av fistula revision, open | 5.16 | 2.49 | 31.10 | 0.40 | 8.05 | 36.66 | 090
37140 |  | A | Revision of circulation | 23.60 | 10.54 | NA | 1.21 | 35.35 | NA | 090
37145 |  | A | Revision of circulation | 24.61 | 10.87 | NA | 2.48 | 37.96 | NA | 090
37160 |  | A | Revision of circulation | 21.60 | 9.42 | NA | 2.16 | 33.18 | NA | 090
37180 |  | A | Revision of circulation | 24.61 | 10.79 | NA | 2.63 | 38.03 | NA | 090
37181 |  | A | Splice spleen/kidney veins | 26.68 | 11.10 | NA | 2.67 | 40.45 | NA | 090
37195 |  | A | Thrombolytic therapy, stroke | 0.00 | NA | 7.93 | 0.38 | NA | 8.31 | XXX
37200 |  | A | Transcatheter biopsy | 4.56 | 1.62 | NA | 0.19 | 6.37 | NA | 000
37201 |  | A | Transcatheter therapy infuse | 5.00 | 2.62 | NA | 0.24 | 7.86 | NA | 000
37202 |  | A | Transcatheter therapy infuse | 5.68 | 3.23 | NA | 0.38 | 9.29 | NA | 000
37203 |  | A | Transcatheter retrieval | 5.03 | 2.65 | NA | 0.23 | 7.91 | NA | 000
37204 |  | A | Transcatheter occlusion | 18.14 | 6.20 | NA | 0.85 | 25.19 | NA | 000
37205 |  | A | Transcatheter stent | 8.28 | 3.92 | NA | 0.43 | 12.63 | NA | 000
37206 |  | A | Transcatheter stent add-on | 4.13 | 1.56 | NA | 0.22 | 5.91 | NA | ZZZ
37207 |  | A | Transcatheter stent | 8.28 | 3.62 | NA | 0.89 | 12.79 | NA | 000
37208 |  | A | Transcatheter stent add-on | 4.13 | 1.47 | NA | 0.44 | 6.04 | NA | ZZZ
37209 |  | A | Exchange arterial catheter | 2.27 | 0.83 | NA | 0.11 | 3.21 | NA | 000
37250 |  | A | Iv us first vessel add-on | 2.10 | 0.81 | NA | 0.17 | 3.08 | NA | ZZZ
37251 |  | A | Iv us each add vessel add-on | 1.60 | 0.61 | NA | 0.14 | 2.35 | NA | ZZZ
37565 |  | A | Ligation of neck vein | 10.88 | 5.13 | NA | 0.45 | 16.46 | NA | 090
37600 |  | A | Ligation of neck artery | 11.25 | 6.41 | NA | 0.40 | 18.06 | NA | 090
37605 |  | A | Ligation of neck artery | 13.11 | 6.61 | NA | 0.77 | 20.49 | NA | 090
37606 |  | A | Ligation of neck artery | 6.28 | 3.72 | NA | 0.79 | 10.79 | NA | 090
37607 |  | A | Ligation of a-v fistula | 6.16 | 3.71 | NA | 0.67 | 10.54 | NA | 090
37609 |  | A | Temporal artery procedure | 3.00 | 2.53 | 6.59 | 0.21 | 5.74 | 9.80 | 010
37615 |  | A | Ligation of neck artery | 5.73 | 3.65 | NA | 0.57 | 9.95 | NA | 090
37616 |  | A | Ligation of chest artery | 16.49 | 10.83 | NA | 1.93 | 29.25 | NA | 090
37617 |  | A | Ligation of abdomen artery | 22.06 | 9.60 | NA | 1.69 | 33.35 | NA | 090
37618 |  | A | Ligation of extremity artery | 4.84 | 3.55 | NA | 0.54 | 8.93 | NA | 090
37620 |  | A | Revision of major vein | 10.56 | 5.50 | NA | 0.75 | 16.81 | NA | 090
37650 |  | A | Revision of major vein | 7.80 | 4.66 | NA | 0.56 | 13.02 | NA | 090
37660 |  | A | Revision of major vein | 21.00 | 9.33 | NA | 1.17 | 31.50 | NA | 090
37700 |  | A | Revise leg vein | 3.73 | 3.20 | NA | 0.40 | 7.33 | NA | 090
37720 |  | A | Removal of leg vein | 5.66 | 3.71 | NA | 0.61 | 9.98 | NA | 090
37730 |  | A | Removal of leg veins | 7.33 | 4.59 | NA | 0.77 | 12.69 | NA | 090
37735 |  | A | Removal of leg veins/lesion | 10.53 | 5.84 | NA | 1.17 | 17.54 | NA | 090
37760 |  | A | Revision of leg veins | 10.47 | 5.79 | NA | 1.11 | 17.37 | NA | 090
37780 |  | A | Revision of leg vein | 3.84 | 2.93 | NA | 0.41 | 7.18 | NA | 090
37785 |  | A | Revision secondary varicosit | 3.84 | 2.89 | 6.94 | 0.41 | 7.14 | 11.19 | 090
37788 |  | A | Revascularization, penis | 22.01 | 12.79 | NA | 1.35 | 36.15 | NA | 090
37790 |  | A | Penile venous occlusion | 8.34 | 7.01 | NA | 0.63 | 15.98 | NA | 090
37799 |  | C | Vascular surgery procedure | 0.00 | 0.00 | 0.00 | 0.00 | 0.00 | 0.00 | YYY
38100 |  | A | Removal of spleen, total | 14.50 | 6.64 | NA | 1.30 | 22.44 | NA | 090
38101 |  | A | Removal of spleen, partial | 15.31 | 7.00 | NA | 1.38 | 23.69 | NA | 090
38102 |  | A | Removal of spleen, total | 4.80 | 1.72 | NA | 0.49 | 7.01 | NA | ZZZ
38115 |  | A | Repair of ruptured spleen | 15.82 | 7.14 | NA | 1.40 | 24.36 | NA | 090
38120 |  | A | Laparoscopy, splenectomy | 17.00 | 7.48 | NA | 1.73 | 26.21 | NA | 090
38129 |  | C | Laparoscope proc, spleen | 0.00 | 0.00 | 0.00 | 0.00 | 0.00 | 0.00 | YYY
38200 |  | A | Injection for spleen x-ray | 2.64 | 0.96 | NA | 0.12 | 3.72 | NA | 000
38230 |  | R | Bone marrow collection | 4.54 | 2.34 | NA | 0.25 | 7.13 | NA | 010
38231 |  | R | Stem cell collection | 1.50 | 0.60 | NA | 0.05 | 2.15 | NA | 000
38240 |  | R | Bone marrow/stem transplant | 2.24 | 0.85 | NA | 0.08 | 3.17 | NA | XXX
38241 |  | R | Bone marrow/stem transplant | 2.24 | 0.84 | NA | 0.08 | 3.16 | NA | XXX
38300 |  | A | Drainage, lymph node lesion | 1.99 | 2.63 | 4.62 | 0.15 | 4.77 | 6.76 | 010
38305 |  | A | Drainage, lymph node lesion | 6.00 | 6.37 | 8.67 | 0.36 | 12.73 | 15.03 | 090
38308 |  | A | Incision of lymph channels | 6.45 | 5.65 | NA | 0.51 | 12.61 | NA | 090
38380 |  | A | Thoracic duct procedure | 7.46 | 7.38 | NA | 0.68 | 15.52 | NA | 090
38381 |  | A | Thoracic duct procedure | 12.88 | 9.76 | NA | 1.58 | 24.22 | NA | 090
38382 |  | A | Thoracic duct procedure | 10.08 | 9.46 | NA | 1.08 | 20.62 | NA | 090
38500 |  | A | Biopsy/removal, lymph nodes | 3.75 | 2.57 | 2.98 | 0.28 | 6.60 | 7.01 | 010
38505 |  | A | Needle biopsy, lymph nodes | 1.14 | 1.16 | 3.06 | 0.09 | 2.39 | 4.29 | 000
38510 |  | A | Biopsy/removal, lymph nodes | 6.43 | 5.38 | NA | 0.38 | 12.19 | NA | 090
38520 |  | A | Biopsy/removal, lymph nodes | 6.67 | 5.56 | NA | 0.52 | 12.75 | NA | 090
38525 |  | A | Biopsy/removal, lymph nodes | 6.07 | 4.44 | NA | 0.48 | 10.99 | NA | 090
38530 |  | A | Biopsy/removal, lymph nodes | 7.98 | 5.69 | NA | 0.63 | 14.30 | NA | 090
38542 |  | A | Explore deep node(s), neck | 5.91 | 5.90 | NA | 0.50 | 12.31 | NA | 090
38550 |  | A | Removal, neck/armpit lesion | 6.92 | 4.92 | NA | 0.69 | 12.53 | NA | 090
38555 |  | A | Removal, neck/armpit lesion | 14.14 | 10.70 | NA | 1.46 | 26.30 | NA | 090
38562 |  | A | Removal, pelvic lymph nodes | 10.49 | 6.59 | NA | 0.97 | 18.05 | NA | 090
38564 |  | A | Removal, abdomen lymph nodes | 10.83 | 6.42 | NA | 1.06 | 18.31 | NA | 090
38570 |  | A | Laparoscopy, lymph node biop | 9.25 | 4.53 | NA | 0.89 | 14.67 | NA | 010
38571 |  | A | Laparoscopy, lymphadenectomy | 12.38 | 5.53 | NA | 0.80 | 18.71 | NA | 010
38572 |  | A | Laparoscopy, lymphadenectomy | 16.59 | 7.58 | NA | 1.32 | 25.49 | NA | 010
38589 |  | C | Laparoscope proc, lymphatic | 0.00 | 0.00 | 0.00 | 0.00 | 0.00 | 0.00 | YYY
38700 |  | A | Removal of lymph nodes, neck | 8.24 | 13.31 | NA | 0.60 | 22.15 | NA | 090
38720 |  | A | Removal of lymph nodes, neck | 13.61 | 15.74 | NA | 1.03 | 30.38 | NA | 090
38724 |  | A | Removal of lymph nodes, neck | 14.54 | 16.21 | NA | 1.10 | 31.85 | NA | 090
38740 |  | A | Remove armpit lymph nodes | 10.02 | 5.87 | NA | 0.69 | 16.58 | NA | 090
38745 |  | A | Remove armpit lymph nodes | 13.00 | 8.24 | NA | 0.90 | 22.14 | NA | 090
38746 |  | A | Remove thoracic lymph nodes | 4.89 | 1.65 | NA | 0.55 | 7.09 | NA | ZZZ
38747 |  | A | Remove abdominal lymph nodes | 4.89 | 1.75 | NA | 0.50 | 7.14 | NA | ZZZ
38760 |  | A | Remove groin lymph nodes | 12.94 | 7.26 | NA | 0.88 | 21.08 | NA | 090
38765 |  | A | Remove groin lymph nodes | 19.98 | 11.36 | NA | 1.50 | 32.84 | NA | 090
38770 |  | A | Remove pelvis lymph nodes | 13.23 | 6.94 | NA | 0.94 | 21.11 | NA | 090
38780 |  | A | Remove abdomen lymph nodes | 16.59 | 9.49 | NA | 1.60 | 27.68 | NA | 090
38790 |  | A | Inject for lymphatic x-ray | 1.29 | 0.46 | 37.13 | 0.09 | 1.84 | 38.51 | 000
38792 |  | A | Identify sentinel node | 0.52 | 0.19 | NA | 0.04 | 0.75 | NA | 000
38794 |  | A | Access thoracic lymph duct | 4.45 | 1.67 | NA | 0.17 | 6.29 | NA | 090
38999 |  | C | Blood/lymph system procedure | 0.00 | 0.00 | 0.00 | 0.00 | 0.00 | 0.00 | YYY
39000 |  | A | Exploration of chest | 6.10 | 7.52 | NA | 0.73 | 14.35 | NA | 090
39010 |  | A | Exploration of chest | 11.79 | 9.80 | NA | 1.46 | 23.05 | NA | 090
39200 |  | A | Removal chest lesion | 13.62 | 10.17 | NA | 1.65 | 25.44 | NA | 090
39220 |  | A | Removal chest lesion | 17.42 | 11.54 | NA | 2.10 | 31.06 | NA | 090
39400 |  | A | Visualization of chest | 5.61 | 7.22 | NA | 0.69 | 13.52 | NA | 010
39499 |  | C | Chest procedure | 0.00 | 0.00 | 0.00 | 0.00 | 0.00 | 0.00 | YYY
39501 |  | A | Repair diaphragm laceration | 13.19 | 7.76 | NA | 1.38 | 22.33 | NA | 090
39502 |  | A | Repair paraesophageal hernia | 16.33 | 8.38 | NA | 1.68 | 26.39 | NA | 090
39503 |  | A | Repair of diaphragm hernia | 34.85 | 15.15 | NA | 3.52 | 53.52 | NA | 090
39520 |  | A | Repair of diaphragm hernia | 16.10 | 9.81 | NA | 1.83 | 27.74 | NA | 090
39530 |  | A | Repair of diaphragm hernia | 15.41 | 8.61 | NA | 1.66 | 25.68 | NA | 090
39531 |  | A | Repair of diaphragm hernia | 16.42 | 9.33 | NA | 1.83 | 27.58 | NA | 090
39540 |  | A | Repair of diaphragm hernia | 13.32 | 7.83 | NA | 1.38 | 22.53 | NA | 090
39541 |  | A | Repair of diaphragm hernia | 14.41 | 8.06 | NA | 1.52 | 23.99 | NA | 090
39545 |  | A | Revision of diaphragm | 13.37 | 9.52 | NA | 1.55 | 24.44 | NA | 090
39560 |  | A | Resect diaphragm, simple | 12.00 | 7.91 | NA | 1.35 | 21.26 | NA | 090
39561 |  | A | Resect diaphragm, complex | 17.50 | 9.85 | NA | 1.97 | 29.32 | NA | 090
39599 |  | C | Diaphragm surgery procedure | 0.00 | 0.00 | 0.00 | 0.00 | 0.00 | 0.00 | YYY
40490 |  | A | Biopsy of lip | 1.22 | 0.62 | 1.61 | 0.06 | 1.90 | 2.89 | 000
40500 |  | A | Partial excision of lip | 4.28 | 5.61 | 5.65 | 0.31 | 10.20 | 10.24 | 090
40510 |  | A | Partial excision of lip | 4.70 | 6.46 | 6.70 | 0.38 | 11.54 | 11.78 | 090
40520 |  | A | Partial excision of lip | 4.67 | 6.93 | 7.81 | 0.42 | 12.02 | 12.90 | 090
40525 |  | A | Reconstruct lip with flap | 7.55 | 8.40 | NA | 0.68 | 16.63 | NA | 090
40527 |  | A | Reconstruct lip with flap | 9.13 | 9.25 | NA | 0.82 | 19.20 | NA | 090
40530 |  | A | Partial removal of lip | 5.40 | 6.34 | 6.49 | 0.47 | 12.21 | 12.36 | 090
40650 |  | A | Repair lip | 3.64 | 4.55 | 5.53 | 0.31 | 8.50 | 9.48 | 090
40652 |  | A | Repair lip | 4.26 | 6.53 | 6.53 | 0.39 | 11.18 | 11.18 | 090
40654 |  | A | Repair lip | 5.31 | 7.67 | 7.86 | 0.48 | 13.46 | 13.65 | 090
40700 |  | A | Repair cleft lip/nasal | 12.79 | 10.51 | NA | 0.93 | 24.23 | NA | 090
40701 |  | A | Repair cleft lip/nasal | 15.85 | 10.01 | NA | 1.36 | 27.22 | NA | 090
40702 |  | A | Repair cleft lip/nasal | 13.04 | 9.40 | NA | 1.01 | 23.45 | NA | 090
40720 |  | A | Repair cleft lip/nasal | 13.55 | 12.69 | NA | 1.31 | 27.55 | NA | 090
40761 |  | A | Repair cleft lip/nasal | 14.72 | 11.77 | NA | 1.41 | 27.90 | NA | 090
40799 |  | C | Lip surgery procedure | 0.00 | 0.00 | 0.00 | 0.00 | 0.00 | 0.00 | YYY
40800 |  | A | Drainage of mouth lesion | 1.17 | 0.46 | 1.93 | 0.09 | 1.72 | 3.19 | 010
40801 |  | A | Drainage of mouth lesion | 2.53 | 1.90 | 2.45 | 0.18 | 4.61 | 5.16 | 010
40804 |  | A | Removal, foreign body, mouth | 1.24 | 2.15 | 2.58 | 0.09 | 3.48 | 3.91 | 010
40805 |  | A | Removal, foreign body, mouth | 2.69 | 2.70 | 3.10 | 0.17 | 5.56 | 5.96 | 010
40806 |  | A | Incision of lip fold | 0.31 | 0.88 | 0.88 | 0.02 | 1.21 | 1.21 | 000
40808 |  | A | Biopsy of mouth lesion | 0.96 | 2.05 | 2.05 | 0.07 | 3.08 | 3.08 | 010
40810 |  | A | Excision of mouth lesion | 1.31 | 2.34 | 2.67 | 0.09 | 3.74 | 4.07 | 010
40812 |  | A | Excise/repair mouth lesion | 2.31 | 2.86 | 2.89 | 0.17 | 5.34 | 5.37 | 010
40814 |  | A | Excise/repair mouth lesion | 3.42 | 4.07 | 4.07 | 0.26 | 7.75 | 7.75 | 090
40816 |  | A | Excision of mouth lesion | 3.67 | 4.39 | 4.39 | 0.27 | 8.33 | 8.33 | 090
40818 |  | A | Excise oral mucosa for graft | 2.41 | 4.03 | 4.03 | 0.14 | 6.58 | 6.58 | 090
40819 |  | A | Excise lip or cheek fold | 2.41 | 3.54 | 3.54 | 0.17 | 6.12 | 6.12 | 090
40820 |  | A | Treatment of mouth lesion | 1.28 | 2.15 | 2.33 | 0.08 | 3.51 | 3.69 | 010
40830 |  | A | Repair mouth laceration | 1.76 | 2.39 | 2.50 | 0.14 | 4.29 | 4.40 | 010
40831 |  | A | Repair mouth laceration | 2.46 | 2.84 | 2.84 | 0.21 | 5.51 | 5.51 | 010
40840 |  | R | Reconstruction of mouth | 8.73 | 6.22 | 6.22 | 0.79 | 15.74 | 15.74 | 090
40842 |  | R | Reconstruction of mouth | 8.73 | 5.98 | 5.98 | 0.65 | 15.36 | 15.36 | 090
40843 |  | R | Reconstruction of mouth | 12.10 | 8.48 | 8.48 | 0.84 | 21.42 | 21.42 | 090
40844 |  | R | Reconstruction of mouth | 16.01 | 8.37 | 8.93 | 1.63 | 26.01 | 26.57 | 090
40845 |  | R | Reconstruction of mouth | 18.58 | 10.56 | 10.56 | 1.47 | 30.61 | 30.61 | 090
40899 |  | C | Mouth surgery procedure | 0.00 | 0.00 | 0.00 | 0.00 | 0.00 | 0.00 | YYY
41000 |  | A | Drainage of mouth lesion | 1.30 | 1.53 | 2.36 | 0.09 | 2.92 | 3.75 | 010
41005 |  | A | Drainage of mouth lesion | 1.26 | 1.24 | 2.11 | 0.09 | 2.59 | 3.46 | 010
41006 |  | A | Drainage of mouth lesion | 3.24 | 3.40 | 3.51 | 0.25 | 6.89 | 7.00 | 090
41007 |  | A | Drainage of mouth lesion | 3.10 | 3.03 | 3.34 | 0.22 | 6.35 | 6.66 | 090
41008 |  | A | Drainage of mouth lesion | 3.37 | 3.18 | 3.59 | 0.24 | 6.79 | 7.20 | 090
41009 |  | A | Drainage of mouth lesion | 3.59 | 3.19 | 3.60 | 0.25 | 7.03 | 7.44 | 090
41010 |  | A | Incision of tongue fold | 1.06 | 2.97 | 2.97 | 0.06 | 4.09 | 4.09 | 010
41015 |  | A | Drainage of mouth lesion | 3.96 | 3.17 | 4.36 | 0.29 | 7.42 | 8.61 | 090
41016 |  | A | Drainage of mouth lesion | 4.07 | 3.39 | 4.17 | 0.28 | 7.74 | 8.52 | 090
41017 |  | A | Drainage of mouth lesion | 4.07 | 3.30 | 4.04 | 0.32 | 7.69 | 8.43 | 090
41018 |  | A | Drainage of mouth lesion | 5.10 | 3.88 | 4.55 | 0.35 | 9.33 | 10.00 | 090
41100 |  | A | Biopsy of tongue | 1.63 | 2.54 | 2.59 | 0.12 | 4.29 | 4.34 | 010
41105 |  | A | Biopsy of tongue | 1.42 | 2.43 | 2.43 | 0.10 | 3.95 | 3.95 | 010
41108 |  | A | Biopsy of floor of mouth | 1.05 | 2.20 | 2.29 | 0.08 | 3.33 | 3.42 | 010
41110 |  | A | Excision of tongue lesion | 1.51 | 2.47 | 3.04 | 0.11 | 4.09 | 4.66 | 010
41112 |  | A | Excision of tongue lesion | 2.73 | 3.50 | 3.50 | 0.20 | 6.43 | 6.43 | 090
41113 |  | A | Excision of tongue lesion | 3.19 | 3.48 | 3.48 | 0.23 | 6.90 | 6.90 | 090
41114 |  | A | Excision of tongue lesion | 8.47 | 6.36 | NA | 0.64 | 15.47 | NA | 090
41115 |  | A | Excision of tongue fold | 1.74 | 2.33 | 2.33 | 0.13 | 4.20 | 4.20 | 010
41116 |  | A | Excision of mouth lesion | 2.44 | 3.38 | 3.38 | 0.17 | 5.99 | 5.99 | 090
41120 |  | A | Partial removal of tongue | 9.77 | 8.68 | NA | 0.70 | 19.15 | NA | 090
41130 |  | A | Partial removal of tongue | 11.15 | 9.53 | NA | 0.81 | 21.49 | NA | 090
41135 |  | A | Tongue and neck surgery | 23.09 | 15.92 | NA | 1.66 | 40.67 | NA | 090
41140 |  | A | Removal of tongue | 25.50 | 18.11 | NA | 1.85 | 45.46 | NA | 090
41145 |  | A | Tongue removal, neck surgery | 30.06 | 21.54 | NA | 2.11 | 53.71 | NA | 090
41150 |  | A | Tongue, mouth, jaw surgery | 23.04 | 17.08 | NA | 1.67 | 41.79 | NA | 090
41153 |  | A | Tongue, mouth, neck surgery | 23.77 | 17.84 | NA | 1.71 | 43.32 | NA | 090
41155 |  | A | Tongue, jaw, & neck surgery | 27.72 | 19.87 | NA | 2.02 | 49.61 | NA | 090
41250 |  | A | Repair tongue laceration | 1.91 | 1.63 | 2.82 | 0.15 | 3.69 | 4.88 | 010
41251 |  | A | Repair tongue laceration | 2.27 | 2.27 | 2.80 | 0.18 | 4.72 | 5.25 | 010
41252 |  | A | Repair tongue laceration | 2.97 | 2.32 | 3.63 | 0.23 | 5.52 | 6.83 | 010
41500 |  | A | Fixation of tongue | 3.71 | 4.25 | NA | 0.26 | 8.22 | NA | 090
41510 |  | A | Tongue to lip surgery | 3.42 | 4.51 | NA | 0.24 | 8.17 | NA | 090
41520 |  | A | Reconstruction, tongue fold | 2.73 | 3.17 | 3.17 | 0.19 | 6.09 | 6.09 | 090
41599 |  | C | Tongue and mouth surgery | 0.00 | 0.00 | 0.00 | 0.00 | 0.00 | 0.00 | YYY
41800 |  | A | Drainage of gum lesion | 1.17 | 1.31 | 1.90 | 0.09 | 2.57 | 3.16 | 010
41805 |  | A | Removal foreign body, gum | 1.24 | 1.93 | 1.93 | 0.09 | 3.26 | 3.26 | 010
41806 |  | A | Removal foreign body,jawbone | 2.69 | 2.38 | 2.58 | 0.22 | 5.29 | 5.49 | 010
41820 |  | R | Excision, gum, each quadrant | 0.00 | 0.00 | 0.00 | 0.00 | 0.00 | 0.00 | XXX
41821 |  | R | Excision of gum flap | 0.00 | 0.00 | 0.00 | 0.00 | 0.00 | 0.00 | XXX
41822 |  | R | Excision of gum lesion | 2.31 | 0.89 | 2.89 | 0.24 | 3.44 | 5.44 | 010
41823 |  | R | Excision of gum lesion | 3.30 | 2.75 | 3.77 | 0.29 | 6.34 | 7.36 | 090
41825 |  | A | Excision of gum lesion | 1.31 | 2.25 | 2.36 | 0.10 | 3.66 | 3.77 | 010
41826 |  | A | Excision of gum lesion | 2.31 | 2.57 | 2.62 | 0.17 | 5.05 | 5.10 | 010
41827 |  | A | Excision of gum lesion | 3.42 | 3.58 | 3.58 | 0.25 | 7.25 | 7.25 | 090
41828 |  | R | Excision of gum lesion | 3.09 | 2.29 | 3.03 | 0.22 | 5.60 | 6.34 | 010
41830 |  | R | Removal of gum tissue | 3.35 | 3.14 | 3.18 | 0.23 | 6.72 | 6.76 | 010
41850 |  | R | Treatment of gum lesion | 0.00 | 0.00 | 0.00 | 0.00 | 0.00 | 0.00 | XXX
41870 |  | R | Gum graft | 0.00 | 0.00 | 0.00 | 0.00 | 0.00 | 0.00 | XXX
41872 |  | R | Repair gum | 2.59 | 2.69 | 2.69 | 0.18 | 5.46 | 5.46 | 090
41874 |  | R | Repair tooth socket | 3.09 | 2.33 | 2.83 | 0.23 | 5.65 | 6.15 | 090
41899 |  | C | Dental surgery procedure | 0.00 | 0.00 | 0.00 | 0.00 | 0.00 | 0.00 | YYY
42000 |  | A | Drainage mouth roof lesion | 1.23 | 1.59 | 2.42 | 0.10 | 2.92 | 3.75 | 010
42100 |  | A | Biopsy roof of mouth | 1.31 | 2.36 | 2.36 | 0.10 | 3.77 | 3.77 | 010
42104 |  | A | Excision lesion, mouth roof | 1.64 | 2.44 | 2.44 | 0.12 | 4.20 | 4.20 | 010
42106 |  | A | Excision lesion, mouth roof | 2.10 | 2.63 | 2.63 | 0.16 | 4.89 | 4.89 | 010
42107 |  | A | Excision lesion, mouth roof | 4.44 | 4.05 | 4.05 | 0.32 | 8.81 | 8.81 | 090
42120 |  | A | Remove palate/lesion | 6.17 | 5.99 | NA | 0.44 | 12.60 | NA | 090
42140 |  | A | Excision of uvula | 1.62 | 3.18 | 3.65 | 0.12 | 4.92 | 5.39 | 090
42145 |  | A | Repair palate, pharynx/uvula | 8.05 | 7.31 | NA | 0.56 | 15.92 | NA | 090
42160 |  | A | Treatment mouth roof lesion | 1.80 | 2.60 | 3.16 | 0.13 | 4.53 | 5.09 | 010
42180 |  | A | Repair palate | 2.50 | 2.10 | 2.75 | 0.19 | 4.79 | 5.44 | 010
42182 |  | A | Repair palate | 3.83 | 2.99 | 3.95 | 0.27 | 7.09 | 8.05 | 010
42200 |  | A | Reconstruct cleft palate | 12.00 | 10.00 | NA | 0.97 | 22.97 | NA | 090
42205 |  | A | Reconstruct cleft palate | 13.29 | 9.62 | NA | 0.82 | 23.73 | NA | 090
42210 |  | A | Reconstruct cleft palate | 14.50 | 7.95 | NA | 1.24 | 23.69 | NA | 090
42215 |  | A | Reconstruct cleft palate | 8.82 | 7.48 | NA | 0.96 | 17.26 | NA | 090
42220 |  | A | Reconstruct cleft palate | 7.02 | 5.82 | NA | 0.41 | 13.25 | NA | 090
42225 |  | A | Reconstruct cleft palate | 9.54 | 8.92 | NA | 0.75 | 19.21 | NA | 090
42226 |  | A | Lengthening of palate | 10.01 | 9.14 | NA | 0.73 | 19.88 | NA | 090
42227 |  | A | Lengthening of palate | 9.52 | 6.67 | NA | 0.70 | 16.89 | NA | 090
42235 |  | A | Repair palate | 7.87 | 5.92 | NA | 0.49 | 14.28 | NA | 090
42260 |  | A | Repair nose to lip fistula | 9.80 | 7.33 | 7.33 | 0.85 | 17.98 | 17.98 | 090
42280 |  | A | Preparation, palate mold | 1.54 | 0.81 | 1.41 | 0.12 | 2.47 | 3.07 | 010
42281 |  | A | Insertion, palate prosthesis | 1.93 | 1.04 | 2.00 | 0.14 | 3.11 | 4.07 | 010
42299 |  | C | Palate/uvula surgery | 0.00 | 0.00 | 0.00 | 0.00 | 0.00 | 0.00 | YYY
42300 |  | A | Drainage of salivary gland | 1.93 | 1.77 | 2.55 | 0.15 | 3.85 | 4.63 | 010
42305 |  | A | Drainage of salivary gland | 6.07 | 5.16 | NA | 0.46 | 11.69 | NA | 090
42310 |  | A | Drainage of salivary gland | 1.56 | 1.67 | 2.25 | 0.11 | 3.34 | 3.92 | 010
42320 |  | A | Drainage of salivary gland | 2.35 | 2.12 | 2.79 | 0.17 | 4.64 | 5.31 | 010
42325 |  | A | Create salivary cyst drain | 2.75 | 1.21 | 3.32 | 0.17 | 4.13 | 6.24 | 090
42326 |  | A | Create salivary cyst drain | 3.78 | 2.10 | 3.29 | 0.34 | 6.22 | 7.41 | 090
42330 |  | A | Removal of salivary stone | 2.21 | 1.22 | 2.70 | 0.16 | 3.59 | 5.07 | 010
42335 |  | A | Removal of salivary stone | 3.31 | 3.56 | 3.56 | 0.23 | 7.10 | 7.10 | 090
42340 |  | A | Removal of salivary stone | 4.60 | 4.57 | 4.57 | 0.34 | 9.51 | 9.51 | 090
42400 |  | A | Biopsy of salivary gland | 0.78 | 0.40 | 2.37 | 0.06 | 1.24 | 3.21 | 000
42405 |  | A | Biopsy of salivary gland | 3.29 | 3.27 | 3.36 | 0.24 | 6.80 | 6.89 | 010
42408 |  | A | Excision of salivary cyst | 4.54 | 4.62 | 4.62 | 0.34 | 9.50 | 9.50 | 090
42409 |  | A | Drainage of salivary cyst | 2.81 | 3.44 | 3.44 | 0.20 | 6.45 | 6.45 | 090
42410 |  | A | Excise parotid gland/lesion | 9.34 | 7.76 | NA | 0.77 | 17.87 | NA | 090
42415 |  | A | Excise parotid gland/lesion | 16.89 | 12.43 | NA | 1.26 | 30.58 | NA | 090
42420 |  | A | Excise parotid gland/lesion | 19.59 | 14.02 | NA | 1.45 | 35.06 | NA | 090
42425 |  | A | Excise parotid gland/lesion | 13.02 | 10.29 | NA | 0.98 | 24.29 | NA | 090
42426 |  | A | Excise parotid gland/lesion | 21.26 | 14.84 | NA | 1.57 | 37.67 | NA | 090
42440 |  | A | Excise submaxillary gland | 6.97 | 5.87 | NA | 0.51 | 13.35 | NA | 090
42450 |  | A | Excise sublingual gland | 4.62 | 4.91 | 4.99 | 0.34 | 9.87 | 9.95 | 090
42500 |  | A | Repair salivary duct | 4.30 | 4.69 | 4.69 | 0.30 | 9.29 | 9.29 | 090
42505 |  | A | Repair salivary duct | 6.18 | 5.36 | 5.36 | 0.44 | 11.98 | 11.98 | 090
42507 |  | A | Parotid duct diversion | 6.11 | 5.84 | NA | 0.66 | 12.61 | NA | 090
42508 |  | A | Parotid duct diversion | 9.10 | 7.95 | NA | 0.64 | 17.69 | NA | 090
42509 |  | A | Parotid duct diversion | 11.54 | 7.62 | NA | 1.24 | 20.40 | NA | 090
42510 |  | A | Parotid duct diversion | 8.15 | 7.45 | NA | 0.57 | 16.17 | NA | 090
42550 |  | A | Injection for salivary x-ray | 1.25 | 0.44 | 12.88 | 0.06 | 1.75 | 14.19 | 000
42600 |  | A | Closure of salivary fistula | 4.82 | 5.54 | 6.03 | 0.34 | 10.70 | 11.19 | 090
42650 |  | A | Dilation of salivary duct | 0.77 | 0.43 | 1.06 | 0.06 | 1.26 | 1.89 | 000
42660 |  | A | Dilation of salivary duct | 1.13 | 1.15 | 1.15 | 0.07 | 2.35 | 2.35 | 000
42665 |  | A | Ligation of salivary duct | 2.53 | 3.65 | 3.72 | 0.17 | 6.35 | 6.42 | 090
42699 |  | C | Salivary surgery procedure | 0.00 | 0.00 | 0.00 | 0.00 | 0.00 | 0.00 | YYY
42700 |  | A | Drainage of tonsil abscess | 1.62 | 1.79 | 3.08 | 0.12 | 3.53 | 4.82 | 010
42720 |  | A | Drainage of throat abscess | 5.42 | 4.66 | 4.75 | 0.39 | 10.47 | 10.56 | 010
42725 |  | A | Drainage of throat abscess | 10.72 | 8.30 | NA | 0.80 | 19.82 | NA | 090
42800 |  | A | Biopsy of throat | 1.39 | 2.46 | 2.90 | 0.10 | 3.95 | 4.39 | 010
42802 |  | A | Biopsy of throat | 1.54 | 2.58 | 3.00 | 0.11 | 4.23 | 4.65 | 010
42804 |  | A | Biopsy of upper nose/throat | 1.24 | 2.42 | 2.85 | 0.09 | 3.75 | 4.18 | 010
42806 |  | A | Biopsy of upper nose/throat | 1.58 | 2.60 | 3.27 | 0.12 | 4.30 | 4.97 | 010
42808 |  | A | Excise pharynx lesion | 2.30 | 3.01 | 4.67 | 0.17 | 5.48 | 7.14 | 010
42809 |  | A | Remove pharynx foreign body | 1.81 | 1.66 | 3.33 | 0.13 | 3.60 | 5.27 | 010
42810 |  | A | Excision of neck cyst | 3.25 | 4.42 | 5.33 | 0.25 | 7.92 | 8.83 | 090
42815 |  | A | Excision of neck cyst | 7.07 | 6.44 | NA | 0.53 | 14.04 | NA | 090
42820 |  | A | Remove tonsils and adenoids | 3.91 | 3.87 | NA | 0.28 | 8.06 | NA | 090
42821 |  | A | Remove tonsils and adenoids | 4.29 | 4.12 | NA | 0.30 | 8.71 | NA | 090
42825 |  | A | Removal of tonsils | 3.42 | 3.55 | NA | 0.24 | 7.21 | NA | 090
42826 |  | A | Removal of tonsils | 3.38 | 3.59 | NA | 0.23 | 7.20 | NA | 090
42830 |  | A | Removal of adenoids | 2.57 | 2.25 | NA | 0.18 | 5.00 | NA | 090
42831 |  | A | Removal of adenoids | 2.71 | 2.50 | NA | 0.19 | 5.40 | NA | 090
42835 |  | A | Removal of adenoids | 2.30 | 2.44 | NA | 0.17 | 4.91 | NA | 090
42836 |  | A | Removal of adenoids | 3.18 | 3.55 | NA | 0.22 | 6.95 | NA | 090
42842 |  | A | Extensive surgery of throat | 8.76 | 7.71 | NA | 0.61 | 17.08 | NA | 090
42844 |  | A | Extensive surgery of throat | 14.31 | 11.33 | NA | 1.04 | 26.68 | NA | 090
42845 |  | A | Extensive surgery of throat | 24.29 | 17.53 | NA | 1.76 | 43.58 | NA | 090
42860 |  | A | Excision of tonsil tags | 2.22 | 2.98 | NA | 0.16 | 5.36 | NA | 090
42870 |  | A | Excision of lingual tonsil | 5.40 | 5.80 | NA | 0.38 | 11.58 | NA | 090
42890 |  | A | Partial removal of pharynx | 12.94 | 10.63 | NA | 0.91 | 24.48 | NA | 090
42892 |  | A | Revision of pharyngeal walls | 15.83 | 12.19 | NA | 1.14 | 29.16 | NA | 090
42894 |  | A | Revision of pharyngeal walls | 22.88 | 16.90 | NA | 1.64 | 41.42 | NA | 090
42900 |  | A | Repair throat wound | 5.25 | 3.75 | NA | 0.39 | 9.39 | NA | 010
42950 |  | A | Reconstruction of throat | 8.10 | 7.42 | NA | 0.58 | 16.10 | NA | 090
42953 |  | A | Repair throat, esophagus | 8.96 | 8.98 | NA | 0.73 | 18.67 | NA | 090
42955 |  | A | Surgical opening of throat | 7.39 | 6.27 | NA | 0.63 | 14.29 | NA | 090
42960 |  | A | Control throat bleeding | 2.33 | 2.08 | NA | 0.17 | 4.58 | NA | 010
42961 |  | A | Control throat bleeding | 5.59 | 5.22 | NA | 0.40 | 11.21 | NA | 090
42962 |  | A | Control throat bleeding | 7.14 | 6.27 | NA | 0.51 | 13.92 | NA | 090
42970 |  | A | Control nose/throat bleeding | 5.43 | 3.79 | NA | 0.37 | 9.59 | NA | 090
42971 |  | A | Control nose/throat bleeding | 6.21 | 5.70 | NA | 0.45 | 12.36 | NA | 090
42972 |  | A | Control nose/throat bleeding | 7.20 | 5.31 | NA | 0.54 | 13.05 | NA | 090
42999 |  | C | Throat surgery procedure | 0.00 | 0.00 | 0.00 | 0.00 | 0.00 | 0.00 | YYY
43020 |  | A | Incision of esophagus | 8.09 | 6.30 | NA | 0.70 | 15.09 | NA | 090
43030 |  | A | Throat muscle surgery | 7.69 | 6.79 | NA | 0.60 | 15.08 | NA | 090
43045 |  | A | Incision of esophagus | 20.12 | 10.99 | NA | 2.15 | 33.26 | NA | 090
43100 |  | A | Excision of esophagus lesion | 9.19 | 7.27 | NA | 0.79 | 17.25 | NA | 090
43101 |  | A | Excision of esophagus lesion | 16.24 | 8.55 | NA | 1.81 | 26.60 | NA | 090
43107 |  | A | Removal of esophagus | 40.00 | 18.57 | NA | 3.29 | 61.86 | NA | 090
43108 |  | A | Removal of esophagus | 34.19 | 15.74 | NA | 3.78 | 53.71 | NA | 090
43112 |  | A | Removal of esophagus | 43.50 | 20.06 | NA | 3.67 | 67.23 | NA | 090
43113 |  | A | Removal of esophagus | 35.27 | 16.69 | NA | 4.33 | 56.29 | NA | 090
43116 |  | A | Partial removal of esophagus | 31.22 | 20.19 | NA | 2.62 | 54.03 | NA | 090
43117 |  | A | Partial removal of esophagus | 40.00 | 18.55 | NA | 3.51 | 62.06 | NA | 090
43118 |  | A | Partial removal of esophagus | 33.20 | 15.82 | NA | 3.56 | 52.58 | NA | 090
43121 |  | A | Partial removal of esophagus | 29.19 | 14.85 | NA | 3.44 | 47.48 | NA | 090
43122 |  | A | Parital removal of esophagus | 40.00 | 18.10 | NA | 3.27 | 61.37 | NA | 090
43123 |  | A | Partial removal of esophagus | 33.20 | 16.59 | NA | 3.96 | 53.75 | NA | 090
43124 |  | A | Removal of esophagus | 27.32 | 15.10 | NA | 2.95 | 45.37 | NA | 090
43130 |  | A | Removal of esophagus pouch | 11.75 | 8.80 | NA | 1.06 | 21.61 | NA | 090
43135 |  | A | Removal of esophagus pouch | 16.10 | 9.86 | NA | 1.85 | 27.81 | NA | 090
43200 |  | A | Esophagus endoscopy | 1.59 | 1.18 | 6.85 | 0.11 | 2.88 | 8.55 | 000
43202 |  | A | Esophagus endoscopy, biopsy | 1.89 | 1.13 | 5.67 | 0.12 | 3.14 | 7.68 | 000
43204 |  | A | Esophagus endoscopy & inject | 3.77 | 1.69 | NA | 0.18 | 5.64 | NA | 000
43205 |  | A | Esophagus endoscopy/ligation | 3.79 | 1.70 | NA | 0.17 | 5.66 | NA | 000
43215 |  | A | Esophagus endoscopy | 2.60 | 1.25 | NA | 0.17 | 4.02 | NA | 000
43216 |  | A | Esophagus endoscopy/lesion | 2.40 | 1.19 | NA | 0.15 | 3.74 | NA | 000
43217 |  | A | Esophagus endoscopy | 2.90 | 1.35 | NA | 0.17 | 4.42 | NA | 000
43219 |  | A | Esophagus endoscopy | 2.80 | 1.40 | NA | 0.16 | 4.36 | NA | 000
43220 |  | A | Esoph endoscopy, dilation | 2.10 | 1.11 | NA | 0.12 | 3.33 | NA | 000
43226 |  | A | Esoph endoscopy, dilation | 2.34 | 1.18 | NA | 0.12 | 3.64 | NA | 000
43227 |  | A | Esoph endoscopy, repair | 3.60 | 1.62 | NA | 0.18 | 5.40 | NA | 000
43228 |  | A | Esoph endoscopy, ablation | 3.77 | 1.73 | NA | 0.25 | 5.75 | NA | 000
43231 |  | A | Esoph endoscopy w/us exam | 4.09 | 1.89 | NA | 0.24 | 6.22 | NA | 000
43232 |  | A | Esoph endoscopy w/us fn bx | 4.71 | 2.22 | NA | 0.28 | 7.21 | NA | 000
43234 |  | A | Upper GI endoscopy, exam | 2.01 | 1.04 | 3.89 | 0.13 | 3.18 | 6.03 | 000
43235 |  | A | Uppr gi endoscopy, diagnosis | 2.39 | 1.20 | 5.27 | 0.13 | 3.72 | 7.79 | 000
43239 |  | A | Upper GI endoscopy, biopsy | 2.69 | 1.31 | 5.49 | 0.14 | 4.14 | 8.32 | 000
43240 |  | A | Esoph endoscope w/drain cyst | 7.39 | 3.14 | NA | 0.45 | 10.98 | NA | 000
43241 |  | A | Upper GI endoscopy with tube | 2.59 | 1.25 | NA | 0.14 | 3.98 | NA | 000
43242 |  | A | Uppr gi endoscopy w/us fn bx | 5.51 | 2.00 | 2.00 | 0.34 | 7.85 | 7.85 | 000
43243 |  | A | Upper gi endoscopy & inject | 4.57 | 1.98 | NA | 0.21 | 6.76 | NA | 000
43244 |  | A | Upper GI endoscopy/ligation | 4.59 | 1.99 | NA | 0.21 | 6.79 | NA | 000
43245 |  | A | Operative upper GI endoscopy | 3.39 | 1.53 | NA | 0.18 | 5.10 | NA | 000
43246 |  | A | Place gastrostomy tube | 4.33 | 1.82 | NA | 0.24 | 6.39 | NA | 000
43247 |  | A | Operative upper GI endoscopy | 3.39 | 1.53 | NA | 0.17 | 5.09 | NA | 000
43248 |  | A | Uppr gi endoscopy/guide wire | 3.15 | 1.46 | NA | 0.15 | 4.76 | NA | 000
43249 |  | A | Esoph endoscopy, dilation | 2.90 | 1.36 | NA | 0.15 | 4.41 | NA | 000
43250 |  | A | Upper GI endoscopy/tumor | 3.20 | 1.46 | NA | 0.17 | 4.83 | NA | 000
43251 |  | A | Operative upper GI endoscopy | 3.70 | 1.65 | NA | 0.19 | 5.54 | NA | 000
43255 |  | A | Operative upper GI endoscopy | 4.40 | 1.80 | NA | 0.20 | 6.40 | NA | 000
43256 |  | A | Uppr gi endoscopy w stent | 4.35 | 1.58 | 1.58 | 0.26 | 6.19 | 6.19 | 000
43258 |  | A | Operative upper GI endoscopy | 4.55 | 1.97 | NA | 0.22 | 6.74 | NA | 000
43259 |  | A | Endoscopic ultrasound exam | 4.89 | 2.19 | NA | 0.22 | 7.30 | NA | 000
43260 |  | A | Endo cholangiopancreatograph | 5.96 | 2.48 | NA | 0.27 | 8.71 | NA | 000
43261 |  | A | Endo cholangiopancreatograph | 6.27 | 2.59 | NA | 0.29 | 9.15 | NA | 000
43262 |  | A | Endo cholangiopancreatograph | 7.39 | 3.01 | NA | 0.34 | 10.74 | NA | 000
43263 |  | A | Endo cholangiopancreatograph | 6.19 | 2.58 | NA | 0.28 | 9.05 | NA | 000
43264 |  | A | Endo cholangiopancreatograph | 8.90 | 3.57 | NA | 0.41 | 12.88 | NA | 000
43265 |  | A | Endo cholangiopancreatograph | 8.90 | 3.56 | NA | 0.42 | 12.88 | NA | 000
43267 |  | A | Endo cholangiopancreatograph | 7.39 | 3.01 | NA | 0.34 | 10.74 | NA | 000
43268 |  | A | Endo cholangiopancreatograph | 7.39 | 3.01 | NA | 0.34 | 10.74 | NA | 000
43269 |  | A | Endo cholangiopancreatograph | 6.04 | 2.51 | NA | 0.28 | 8.83 | NA | 000
43271 |  | A | Endo cholangiopancreatograph | 7.39 | 3.00 | NA | 0.34 | 10.73 | NA | 000
43272 |  | A | Endo cholangiopancreatograph | 7.39 | 3.01 | NA | 0.34 | 10.74 | NA | 000
43280 |  | A | Laparoscopy, fundoplasty | 17.25 | 8.37 | NA | 1.76 | 27.38 | NA | 090
43289 |  | C | Laparoscope proc, esoph | 0.00 | 0.00 | 0.00 | 0.00 | 0.00 | 0.00 | YYY
43300 |  | A | Repair of esophagus | 9.14 | 7.43 | NA | 0.85 | 17.42 | NA | 090
43305 |  | A | Repair esophagus and fistula | 17.39 | 12.48 | NA | 1.36 | 31.23 | NA | 090
43310 |  | A | Repair of esophagus | 25.39 | 14.68 | NA | 3.18 | 43.25 | NA | 090
43312 |  | A | Repair esophagus and fistula | 28.42 | 18.43 | NA | 3.38 | 50.23 | NA | 090
43320 |  | A | Fuse esophagus & stomach | 19.93 | 10.60 | NA | 1.59 | 32.12 | NA | 090
43324 |  | A | Revise esophagus & stomach | 20.57 | 9.71 | NA | 1.72 | 32.00 | NA | 090
43325 |  | A | Revise esophagus & stomach | 20.06 | 9.97 | NA | 1.65 | 31.68 | NA | 090
43326 |  | A | Revise esophagus & stomach | 19.74 | 10.75 | NA | 1.84 | 32.33 | NA | 090
43330 |  | A | Repair of esophagus | 19.77 | 9.69 | NA | 1.52 | 30.98 | NA | 090
43331 |  | A | Repair of esophagus | 20.13 | 11.46 | NA | 1.93 | 33.52 | NA | 090
43340 |  | A | Fuse esophagus & intestine | 19.61 | 10.60 | NA | 1.53 | 31.74 | NA | 090
43341 |  | A | Fuse esophagus & intestine | 20.85 | 13.19 | NA | 2.14 | 36.18 | NA | 090
43350 |  | A | Surgical opening, esophagus | 15.78 | 10.59 | NA | 1.15 | 27.52 | NA | 090
43351 |  | A | Surgical opening, esophagus | 18.35 | 9.93 | NA | 1.51 | 29.79 | NA | 090
43352 |  | A | Surgical opening, esophagus | 15.26 | 9.64 | NA | 1.28 | 26.18 | NA | 090
43360 |  | A | Gastrointestinal repair | 35.70 | 16.95 | NA | 3.00 | 55.65 | NA | 090
43361 |  | A | Gastrointestinal repair | 40.50 | 19.13 | NA | 3.52 | 63.15 | NA | 090
43400 |  | A | Ligate esophagus veins | 21.20 | 10.43 | NA | 0.99 | 32.62 | NA | 090
43401 |  | A | Esophagus surgery for veins | 22.09 | 10.05 | NA | 1.73 | 33.87 | NA | 090
43405 |  | A | Ligate/staple esophagus | 20.01 | 9.83 | NA | 1.63 | 31.47 | NA | 090
43410 |  | A | Repair esophagus wound | 13.47 | 8.91 | NA | 1.15 | 23.53 | NA | 090
43415 |  | A | Repair esophagus wound | 25.00 | 12.50 | NA | 1.92 | 39.42 | NA | 090
43420 |  | A | Repair esophagus opening | 14.35 | 9.56 | NA | 0.86 | 24.77 | NA | 090
43425 |  | A | Repair esophagus opening | 21.03 | 11.55 | NA | 2.03 | 34.61 | NA | 090
43450 |  | A | Dilate esophagus | 1.38 | 0.62 | 1.34 | 0.07 | 2.07 | 2.79 | 000
43453 |  | A | Dilate esophagus | 1.51 | 0.67 | NA | 0.08 | 2.26 | NA | 000
43456 |  | A | Dilate esophagus | 2.57 | 1.06 | NA | 0.14 | 3.77 | NA | 000
43458 |  | A | Dilate esophagus | 3.06 | 1.25 | NA | 0.17 | 4.48 | NA | 000
43460 |  | A | Pressure treatment esophagus | 3.80 | 1.53 | NA | 0.21 | 5.54 | NA | 000
43496 |  | C | Free jejunum flap, microvasc | 0.00 | 0.00 | 0.00 | 0.00 | 0.00 | 0.00 | 090
43499 |  | C | Esophagus surgery procedure | 0.00 | 0.00 | 0.00 | 0.00 | 0.00 | 0.00 | YYY
43500 |  | A | Surgical opening of stomach | 11.05 | 5.16 | NA | 0.84 | 17.05 | NA | 090
43501 |  | A | Surgical repair of stomach | 20.04 | 8.75 | NA | 1.55 | 30.34 | NA | 090
43502 |  | A | Surgical repair of stomach | 23.13 | 9.96 | NA | 1.83 | 34.92 | NA | 090
43510 |  | A | Surgical opening of stomach | 13.08 | 7.42 | NA | 0.90 | 21.40 | NA | 090
43520 |  | A | Incision of pyloric muscle | 9.99 | 5.92 | NA | 0.84 | 16.75 | NA | 090
43600 |  | A | Biopsy of stomach | 1.91 | 1.02 | NA | 0.11 | 3.04 | NA | 000
43605 |  | A | Biopsy of stomach | 11.98 | 5.44 | NA | 0.93 | 18.35 | NA | 090
43610 |  | A | Excision of stomach lesion | 14.60 | 6.79 | NA | 1.14 | 22.53 | NA | 090
43611 |  | A | Excision of stomach lesion | 17.84 | 8.06 | NA | 1.38 | 27.28 | NA | 090
43620 |  | A | Removal of stomach | 30.04 | 12.99 | NA | 2.29 | 45.32 | NA | 090
43621 |  | A | Removal of stomach | 30.73 | 13.14 | NA | 2.36 | 46.23 | NA | 090
43622 |  | A | Removal of stomach | 32.53 | 13.74 | NA | 2.48 | 48.75 | NA | 090
43631 |  | A | Removal of stomach, partial | 22.59 | 9.65 | NA | 1.99 | 34.23 | NA | 090
43632 |  | A | Removal of stomach, partial | 22.59 | 9.65 | NA | 2.00 | 34.24 | NA | 090
43633 |  | A | Removal of stomach, partial | 23.10 | 9.84 | NA | 2.05 | 34.99 | NA | 090
43634 |  | A | Removal of stomach, partial | 25.12 | 10.50 | NA | 2.18 | 37.80 | NA | 090
43635 |  | A | Removal of stomach, partial | 2.06 | 0.74 | NA | 0.21 | 3.01 | NA | ZZZ
43638 |  | A | Removal of stomach, partial | 29.00 | 12.03 | NA | 2.24 | 43.27 | NA | 090
43639 |  | A | Removal of stomach, partial | 29.65 | 12.28 | NA | 2.31 | 44.24 | NA | 090
43640 |  | A | Vagotomy & pylorus repair | 17.02 | 7.66 | NA | 1.51 | 26.19 | NA | 090
43641 |  | A | Vagotomy & pylorus repair | 17.27 | 7.79 | NA | 1.53 | 26.59 | NA | 090
43651 |  | A | Laparoscopy, vagus nerve | 10.15 | 4.72 | NA | 1.03 | 15.90 | NA | 090
43652 |  | A | Laparoscopy, vagus nerve | 12.15 | 5.37 | NA | 1.25 | 18.77 | NA | 090
43653 |  | A | Laparoscopy, gastrostomy | 7.73 | 4.27 | NA | 0.78 | 12.78 | NA | 090
43659 |  | C | Laparoscope proc, stom | 0.00 | 0.00 | 0.00 | 0.00 | 0.00 | 0.00 | YYY
43750 |  | A | Place gastrostomy tube | 4.49 | 2.63 | NA | 0.33 | 7.45 | NA | 010
43752 |  | B | Nasal/orogastric w/stent | 0.00 | 0.00 | 0.00 | 0.00 | 0.00 | 0.00 | XXX
43760 |  | A | Change gastrostomy tube | 1.10 | 0.46 | 1.41 | 0.07 | 1.63 | 2.58 | 000
43761 |  | A | Reposition gastrostomy tube | 2.01 | 0.82 | NA | 0.10 | 2.93 | NA | 000
43800 |  | A | Reconstruction of pylorus | 13.69 | 6.56 | NA | 1.07 | 21.32 | NA | 090
43810 |  | A | Fusion of stomach and bowel | 14.65 | 6.86 | NA | 1.10 | 22.61 | NA | 090
43820 |  | A | Fusion of stomach and bowel | 15.37 | 7.07 | NA | 1.18 | 23.62 | NA | 090
43825 |  | A | Fusion of stomach and bowel | 19.22 | 8.39 | NA | 1.50 | 29.11 | NA | 090
43830 |  | A | Place gastrostomy tube | 9.53 | 4.98 | NA | 0.69 | 15.20 | NA | 090
43831 |  | A | Place gastrostomy tube | 7.84 | 4.26 | NA | 0.81 | 12.91 | NA | 090
43832 |  | A | Place gastrostomy tube | 15.60 | 7.56 | NA | 1.13 | 24.29 | NA | 090
43840 |  | A | Repair of stomach lesion | 15.56 | 7.12 | NA | 1.20 | 23.88 | NA | 090
43842 |  | A | Gastroplasty for obesity | 18.47 | 11.14 | NA | 1.51 | 31.12 | NA | 090
43843 |  | A | Gastroplasty for obesity | 18.65 | 11.01 | NA | 1.53 | 31.19 | NA | 090
43846 |  | A | Gastric bypass for obesity | 24.05 | 13.28 | NA | 1.96 | 39.29 | NA | 090
43847 |  | A | Gastric bypass for obesity | 26.92 | 14.88 | NA | 2.14 | 43.94 | NA | 090
43848 |  | A | Revision gastroplasty | 29.39 | 15.95 | NA | 2.39 | 47.73 | NA | 090
43850 |  | A | Revise stomach-bowel fusion | 24.72 | 10.34 | NA | 1.97 | 37.03 | NA | 090
43855 |  | A | Revise stomach-bowel fusion | 26.16 | 11.24 | NA | 2.01 | 39.41 | NA | 090
43860 |  | A | Revise stomach-bowel fusion | 25.00 | 10.52 | NA | 2.03 | 37.55 | NA | 090
43865 |  | A | Revise stomach-bowel fusion | 26.52 | 11.05 | NA | 2.15 | 39.72 | NA | 090
43870 |  | A | Repair stomach opening | 9.69 | 5.08 | NA | 0.71 | 15.48 | NA | 090
43880 |  | A | Repair stomach-bowel fistula | 24.65 | 10.86 | NA | 1.94 | 37.45 | NA | 090
43999 |  | C | Stomach surgery procedure | 0.00 | 0.00 | 0.00 | 0.00 | 0.00 | 0.00 | YYY
44005 |  | A | Freeing of bowel adhesion | 16.23 | 7.34 | NA | 1.39 | 24.96 | NA | 090
44010 |  | A | Incision of small bowel | 12.52 | 6.42 | NA | 1.05 | 19.99 | NA | 090
44015 |  | A | Insert needle cath bowel | 2.62 | 0.93 | NA | 0.25 | 3.80 | NA | ZZZ
44020 |  | A | Exploration of small bowel | 13.99 | 6.50 | NA | 1.20 | 21.69 | NA | 090
44021 |  | A | Decompress small bowel | 14.08 | 6.90 | NA | 1.18 | 22.16 | NA | 090
44025 |  | A | Incision of large bowel | 14.28 | 6.61 | NA | 1.21 | 22.10 | NA | 090
44050 |  | A | Reduce bowel obstruction | 14.03 | 6.52 | NA | 1.15 | 21.70 | NA | 090
44055 |  | A | Correct malrotation of bowel | 22.00 | 9.38 | NA | 1.32 | 32.70 | NA | 090
44100 |  | A | Biopsy of bowel | 2.01 | 1.07 | NA | 0.12 | 3.20 | NA | 000
44110 |  | A | Excision of bowel lesion(s) | 11.81 | 5.78 | NA | 1.00 | 18.59 | NA | 090
44111 |  | A | Excision of bowel lesion(s) | 14.29 | 7.20 | NA | 1.22 | 22.71 | NA | 090
44120 |  | A | Removal of small intestine | 17.00 | 7.59 | NA | 1.46 | 26.05 | NA | 090
44121 |  | A | Removal of small intestine | 4.45 | 1.60 | NA | 0.45 | 6.50 | NA | ZZZ
44125 |  | A | Removal of small intestine | 17.54 | 7.77 | NA | 1.49 | 26.80 | NA | 090
44130 |  | A | Bowel to bowel fusion | 14.49 | 6.69 | NA | 1.23 | 22.41 | NA | 090
44132 |  | R | Enterectomy, cadaver donor | 0.00 | 0.00 | 0.00 | 0.00 | 0.00 | 0.00 | XXX
44133 |  | R | Enterectomy, live donor | 0.00 | 0.00 | 0.00 | 0.00 | 0.00 | 0.00 | XXX
44135 |  | R | Intestine transplnt, cadaver | 0.00 | 0.00 | 0.00 | 0.00 | 0.00 | 0.00 | XXX
44136 |  | R | Intestine transplant, live | 0.00 | 0.00 | 0.00 | 0.00 | 0.00 | 0.00 | XXX
44139 |  | A | Mobilization of colon | 2.23 | 0.80 | NA | 0.21 | 3.24 | NA | ZZZ
44140 |  | A | Partial removal of colon | 21.00 | 9.46 | NA | 1.83 | 32.29 | NA | 090
44141 |  | A | Partial removal of colon | 19.51 | 11.66 | NA | 1.95 | 33.12 | NA | 090
44143 |  | A | Partial removal of colon | 22.99 | 12.88 | NA | 2.02 | 37.89 | NA | 090
44144 |  | A | Partial removal of colon | 21.53 | 11.57 | NA | 1.89 | 34.99 | NA | 090
44145 |  | A | Partial removal of colon | 26.42 | 11.77 | NA | 2.22 | 40.41 | NA | 090
44146 |  | A | Partial removal of colon | 27.54 | 14.77 | NA | 2.20 | 44.51 | NA | 090
44147 |  | A | Partial removal of colon | 20.71 | 10.09 | NA | 1.74 | 32.54 | NA | 090
44150 |  | A | Removal of colon | 23.95 | 13.79 | NA | 2.05 | 39.79 | NA | 090
44151 |  | A | Removal of colon/ileostomy | 26.88 | 14.74 | NA | 1.97 | 43.59 | NA | 090
44152 |  | A | Removal of colon/ileostomy | 27.83 | 16.60 | NA | 2.36 | 46.79 | NA | 090
44153 |  | A | Removal of colon/ileostomy | 30.59 | 16.26 | NA | 2.33 | 49.18 | NA | 090
44155 |  | A | Removal of colon/ileostomy | 27.86 | 15.02 | NA | 2.26 | 45.14 | NA | 090
44156 |  | A | Removal of colon/ileostomy | 30.79 | 16.48 | NA | 2.19 | 49.46 | NA | 090
44160 |  | A | Removal of colon | 18.62 | 8.56 | NA | 1.55 | 28.73 | NA | 090
44200 |  | A | Laparoscopy, enterolysis | 14.44 | 6.78 | NA | 1.46 | 22.68 | NA | 090
44201 |  | A | Laparoscopy, jejunostomy | 9.78 | 5.11 | NA | 0.97 | 15.86 | NA | 090
44202 |  | A | Laparo, resect intestine | 22.04 | 9.78 | NA | 2.16 | 33.98 | NA | 090
44209 |  | C | Laparoscope proc, intestine | 0.00 | 0.00 | 0.00 | 0.00 | 0.00 | 0.00 | YYY
44300 |  | A | Open bowel to skin | 12.11 | 6.62 | NA | 0.88 | 19.61 | NA | 090
44310 |  | A | Ileostomy/jejunostomy | 15.95 | 10.29 | NA | 1.13 | 27.37 | NA | 090
44312 |  | A | Revision of ileostomy | 8.02 | 5.02 | NA | 0.54 | 13.58 | NA | 090
44314 |  | A | Revision of ileostomy | 15.05 | 10.19 | NA | 0.99 | 26.23 | NA | 090
44316 |  | A | Devise bowel pouch | 21.09 | 14.20 | NA | 1.41 | 36.70 | NA | 090
44320 |  | A | Colostomy | 17.64 | 11.80 | NA | 1.28 | 30.72 | NA | 090
44322 |  | A | Colostomy with biopsies | 11.98 | 9.91 | NA | 1.18 | 23.07 | NA | 090
44340 |  | A | Revision of colostomy | 7.72 | 4.71 | NA | 0.56 | 12.99 | NA | 090
44345 |  | A | Revision of colostomy | 15.43 | 8.19 | NA | 1.11 | 24.73 | NA | 090
44346 |  | A | Revision of colostomy | 16.99 | 8.74 | NA | 1.20 | 26.93 | NA | 090
44360 |  | A | Small bowel endoscopy | 2.59 | 1.36 | NA | 0.14 | 4.09 | NA | 000
44361 |  | A | Small bowel endoscopy/biopsy | 2.87 | 1.46 | NA | 0.15 | 4.48 | NA | 000
44363 |  | A | Small bowel endoscopy | 3.50 | 1.65 | NA | 0.19 | 5.34 | NA | 000
44364 |  | A | Small bowel endoscopy | 3.74 | 1.78 | NA | 0.21 | 5.73 | NA | 000
44365 |  | A | Small bowel endoscopy | 3.31 | 1.63 | NA | 0.18 | 5.12 | NA | 000
44366 |  | A | Small bowel endoscopy | 4.41 | 2.02 | NA | 0.22 | 6.65 | NA | 000
44369 |  | A | Small bowel endoscopy | 4.52 | 2.00 | NA | 0.23 | 6.75 | NA | 000
44370 |  | A | Small bowel endoscopy/stent | 4.33 | 1.59 | 1.59 | 0.26 | 6.18 | 6.18 | 000
44372 |  | A | Small bowel endoscopy | 4.41 | 2.02 | NA | 0.27 | 6.70 | NA | 000
44373 |  | A | Small bowel endoscopy | 3.50 | 1.74 | NA | 0.19 | 5.43 | NA | 000
44376 |  | A | Small bowel endoscopy | 5.26 | 2.32 | NA | 0.29 | 7.87 | NA | 000
44377 |  | A | Small bowel endoscopy/biopsy | 5.53 | 2.45 | NA | 0.28 | 8.26 | NA | 000
44378 |  | A | Small bowel endoscopy | 7.13 | 3.02 | NA | 0.37 | 10.52 | NA | 000
44379 |  | A | S bowel endoscope w/stent | 7.07 | 2.55 | 2.55 | 0.45 | 10.07 | 10.07 | 000
44380 |  | A | Small bowel endoscopy | 1.05 | 0.77 | NA | 0.08 | 1.90 | NA | 000
44382 |  | A | Small bowel endoscopy | 1.27 | 0.86 | NA | 0.09 | 2.22 | NA | 000
44383 |  | A | Ileoscopy w/stent | 2.41 | 0.87 | 0.87 | 0.15 | 3.43 | 3.43 | 000
44385 |  | A | Endoscopy of bowel pouch | 1.82 | 0.94 | 4.40 | 0.12 | 2.88 | 6.34 | 000
44386 |  | A | Endoscopy, bowel pouch/biop | 2.12 | 1.09 | 5.56 | 0.15 | 3.36 | 7.83 | 000
44388 |  | A | Colon endoscopy | 2.82 | 1.39 | 6.06 | 0.18 | 4.39 | 9.06 | 000
44389 |  | A | Colonoscopy with biopsy | 3.13 | 1.52 | 6.65 | 0.18 | 4.83 | 9.96 | 000
44390 |  | A | Colonoscopy for foreign body | 3.83 | 1.80 | 7.38 | 0.22 | 5.85 | 11.43 | 000
44391 |  | A | Colonoscopy for bleeding | 4.32 | 1.76 | 6.17 | 0.23 | 6.31 | 10.72 | 000
44392 |  | A | Colonoscopy and polypectomy | 3.82 | 1.76 | 6.74 | 0.23 | 5.81 | 10.79 | 000
44393 |  | A | Colonoscopy, lesion removal | 4.84 | 2.15 | 7.45 | 0.27 | 7.26 | 12.56 | 000
44394 |  | A | Colonoscopy w/snare | 4.43 | 1.99 | 7.40 | 0.26 | 6.68 | 12.09 | 000
44397 |  | A | Colonoscopy w stent | 4.23 | 1.90 | NA | 0.30 | 6.43 | NA | 000
44500 |  | A | Intro, gastrointestinal tube | 0.49 | 0.36 | NA | 0.02 | 0.87 | NA | 000
44602 |  | A | Suture, small intestine | 16.03 | 7.26 | NA | 1.07 | 24.36 | NA | 090
44603 |  | A | Suture, small intestine | 18.66 | 8.18 | NA | 1.39 | 28.23 | NA | 090
44604 |  | A | Suture, large intestine | 16.03 | 7.26 | NA | 1.42 | 24.71 | NA | 090
44605 |  | A | Repair of bowel lesion | 19.53 | 8.92 | NA | 1.54 | 29.99 | NA | 090
44615 |  | A | Intestinal stricturoplasty | 15.93 | 7.20 | NA | 1.39 | 24.52 | NA | 090
44620 |  | A | Repair bowel opening | 12.20 | 5.79 | NA | 1.05 | 19.04 | NA | 090
44625 |  | A | Repair bowel opening | 15.05 | 6.83 | NA | 1.30 | 23.18 | NA | 090
44626 |  | A | Repair bowel opening | 25.36 | 10.52 | NA | 2.19 | 38.07 | NA | 090
44640 |  | A | Repair bowel-skin fistula | 21.65 | 9.57 | NA | 1.46 | 32.68 | NA | 090
44650 |  | A | Repair bowel fistula | 22.57 | 9.80 | NA | 1.49 | 33.86 | NA | 090
44660 |  | A | Repair bowel-bladder fistula | 21.36 | 9.40 | NA | 1.14 | 31.90 | NA | 090
44661 |  | A | Repair bowel-bladder fistula | 24.81 | 10.56 | NA | 1.53 | 36.90 | NA | 090
44680 |  | A | Surgical revision, intestine | 15.40 | 7.38 | NA | 1.37 | 24.15 | NA | 090
44700 |  | A | Suspend bowel w/prosthesis | 16.11 | 7.43 | NA | 1.21 | 24.75 | NA | 090
44799 |  | C | Intestine surgery procedure | 0.00 | 0.00 | 0.00 | 0.00 | 0.00 | 0.00 | YYY
44800 |  | A | Excision of bowel pouch | 11.23 | 5.51 | NA | 1.11 | 17.85 | NA | 090
44820 |  | A | Excision of mesentery lesion | 12.09 | 5.89 | NA | 1.03 | 19.01 | NA | 090
44850 |  | A | Repair of mesentery | 10.74 | 5.55 | NA | 0.99 | 17.28 | NA | 090
44899 |  | C | Bowel surgery procedure | 0.00 | 0.00 | 0.00 | 0.00 | 0.00 | 0.00 | YYY
44900 |  | A | Drain app abscess, open | 10.14 | 5.83 | NA | 0.84 | 16.81 | NA | 090
44901 |  | A | Drain app abscess, percut | 3.38 | 5.25 | NA | 0.17 | 8.80 | NA | 000
44950 |  | A | Appendectomy | 10.00 | 5.25 | NA | 0.88 | 16.13 | NA | 090
44955 |  | A | Appendectomy add-on | 1.53 | 0.57 | NA | 0.16 | 2.26 | NA | ZZZ
44960 |  | A | Appendectomy | 12.34 | 6.41 | NA | 1.09 | 19.84 | NA | 090
44970 |  | A | Laparoscopy, appendectomy | 8.70 | 4.16 | NA | 0.88 | 13.74 | NA | 090
44979 |  | C | Laparoscope proc, app | 0.00 | 0.00 | 0.00 | 0.00 | 0.00 | 0.00 | YYY
45000 |  | A | Drainage of pelvic abscess | 4.52 | 3.86 | NA | 0.37 | 8.75 | NA | 090
45005 |  | A | Drainage of rectal abscess | 1.99 | 1.57 | 4.41 | 0.18 | 3.74 | 6.58 | 010
45020 |  | A | Drainage of rectal abscess | 4.72 | 3.89 | NA | 0.41 | 9.02 | NA | 090
45100 |  | A | Biopsy of rectum | 3.68 | 2.08 | 4.75 | 0.33 | 6.09 | 8.76 | 090
45108 |  | A | Removal of anorectal lesion | 4.76 | 3.06 | 5.90 | 0.46 | 8.28 | 11.12 | 090
45110 |  | A | Removal of rectum | 28.00 | 13.10 | NA | 2.26 | 43.36 | NA | 090
45111 |  | A | Partial removal of rectum | 16.48 | 8.62 | NA | 1.60 | 26.70 | NA | 090
45112 |  | A | Removal of rectum | 30.54 | 13.57 | NA | 2.35 | 46.46 | NA | 090
45113 |  | A | Partial proctectomy | 30.58 | 12.85 | NA | 2.13 | 45.56 | NA | 090
45114 |  | A | Partial removal of rectum | 27.32 | 12.41 | NA | 2.28 | 42.01 | NA | 090
45116 |  | A | Partial removal of rectum | 24.58 | 11.19 | NA | 2.00 | 37.77 | NA | 090
45119 |  | A | Remove rectum w/reservoir | 30.84 | 13.31 | NA | 2.13 | 46.28 | NA | 090
45120 |  | A | Removal of rectum | 24.60 | 11.41 | NA | 2.28 | 38.29 | NA | 090
45121 |  | A | Removal of rectum and colon | 27.04 | 12.37 | NA | 2.66 | 42.07 | NA | 090
45123 |  | A | Partial proctectomy | 16.71 | 7.62 | NA | 1.04 | 25.37 | NA | 090
45126 |  | A | Pelvic exenteration | 45.16 | 19.69 | NA | 3.23 | 68.08 | NA | 090
45130 |  | A | Excision of rectal prolapse | 16.44 | 7.66 | NA | 1.12 | 25.22 | NA | 090
45135 |  | A | Excision of rectal prolapse | 19.28 | 9.16 | NA | 1.52 | 29.96 | NA | 090
45150 |  | A | Excision of rectal stricture | 5.67 | 3.08 | 5.08 | 0.46 | 9.21 | 11.21 | 090
45160 |  | A | Excision of rectal lesion | 15.32 | 6.97 | NA | 1.07 | 23.36 | NA | 090
45170 |  | A | Excision of rectal lesion | 11.49 | 5.80 | NA | 0.89 | 18.18 | NA | 090
45190 |  | A | Destruction, rectal tumor | 9.74 | 5.19 | NA | 0.76 | 15.69 | NA | 090
45300 |  | A | Proctosigmoidoscopy dx | 0.38 | 0.23 | 1.28 | 0.05 | 0.66 | 1.71 | 000
45303 |  | A | Proctosigmoidoscopy dilate | 0.44 | 0.26 | 1.47 | 0.06 | 0.76 | 1.97 | 000
45305 |  | A | Proctosigmoidoscopy & biopsy | 1.01 | 0.45 | 1.55 | 0.09 | 1.55 | 2.65 | 000
45307 |  | A | Protosigmoidoscopy fb | 0.94 | 0.42 | 2.35 | 0.15 | 1.51 | 3.44 | 000
45308 |  | A | Protosigmoidoscopy removal | 0.83 | 0.39 | 1.53 | 0.13 | 1.35 | 2.49 | 000
45309 |  | A | Proctosigmoidoscopy | 2.01 | 0.80 | 2.46 | 0.17 | 2.98 | 4.64 | 000
45315 |  | A | Protosigmoidoscopy removal | 1.40 | 0.60 | 2.42 | 0.20 | 2.20 | 4.02 | 000
45317 |  | A | Protosigmoidoscopy bleed | 1.50 | 0.63 | 1.79 | 0.20 | 2.33 | 3.49 | 000
45320 |  | A | Protosigmoidoscopy ablate | 1.58 | 0.67 | 1.74 | 0.20 | 2.45 | 3.52 | 000
45321 |  | A | Protosigmoidoscopy volvul | 1.17 | 0.52 | NA | 0.17 | 1.86 | NA | 000
45327 |  | A | Proctosigmoidoscopy w/stent | 1.46 | 0.81 | NA | 0.12 | 2.39 | NA | 000
45330 |  | A | Diagnostic sigmoidoscopy | 0.88 | 0.45 | 1.88 | 0.05 | 1.38 | 2.81 | 000
45331 |  | A | Sigmoidoscopy and biopsy | 1.15 | 0.53 | 2.13 | 0.07 | 1.75 | 3.35 | 000
45332 |  | A | Sigmoidoscopy w/fb removal | 1.79 | 0.76 | 3.73 | 0.11 | 2.66 | 5.63 | 000
45333 |  | A | Sigmoidoscopy & polypectomy | 1.79 | 0.76 | 3.37 | 0.12 | 2.67 | 5.28 | 000
45334 |  | A | Sigmoidoscopy for bleeding | 2.73 | 1.11 | NA | 0.16 | 4.00 | NA | 000
45337 |  | A | Sigmoidoscopy & decompress | 2.36 | 0.97 | NA | 0.15 | 3.48 | NA | 000
45338 |  | A | Sigmoidoscpy w/tumr remove | 2.34 | 0.96 | 4.01 | 0.15 | 3.45 | 6.50 | 000
45339 |  | A | Sigmoidoscopy | 3.14 | 1.26 | 3.05 | 0.17 | 4.57 | 6.36 | 000
45341 |  | A | Sigmoidoscopy w/ultrasound | 3.46 | 1.68 | NA | 0.24 | 5.38 | NA | 000
45342 |  | A | Sigmoidoscopy w/us guide bx | 4.08 | 1.83 | NA | 0.29 | 6.20 | NA | 000
45345 |  | A | Sigmodoscopy w/stent | 2.66 | 1.32 | NA | 0.18 | 4.16 | NA | 000
45355 |  | A | Surgical colonoscopy | 3.52 | 1.27 | NA | 0.26 | 5.05 | NA | 000
45378 |  | A | Diagnostic colonoscopy | 3.68 | 1.74 | 7.30 | 0.20 | 5.62 | 11.18 | 000
45378 | 53 | A | Diagnostic colonoscopy | 0.88 | 0.45 | 1.88 | 0.05 | 1.38 | 2.81 | 000
45379 |  | A | Colonoscopy w/fb removal | 4.69 | 2.09 | 7.87 | 0.25 | 7.03 | 12.81 | 000
45380 |  | A | Colonoscopy and biopsy | 4.01 | 1.86 | 7.53 | 0.21 | 6.08 | 11.75 | 000
45382 |  | A | Colonoscopy/control bleeding | 5.69 | 2.28 | 8.80 | 0.27 | 8.24 | 14.76 | 000
45383 |  | A | Lesion removal colonoscopy | 5.87 | 2.52 | 8.59 | 0.32 | 8.71 | 14.78 | 000
45384 |  | A | Colonoscopy | 4.70 | 2.11 | 8.21 | 0.24 | 7.05 | 13.15 | 000
45385 |  | A | Lesion removal colonoscopy | 5.31 | 2.33 | 8.38 | 0.28 | 7.92 | 13.97 | 000
45387 |  | A | Colonoscopy w/stent | 5.62 | 2.44 | NA | 0.36 | 8.42 | NA | 000
45500 |  | A | Repair of rectum | 7.29 | 4.19 | NA | 0.56 | 12.04 | NA | 090
45505 |  | A | Repair of rectum | 7.58 | 3.73 | NA | 0.50 | 11.81 | NA | 090
45520 |  | A | Treatment of rectal prolapse | 0.55 | 0.19 | 0.75 | 0.04 | 0.78 | 1.34 | 000
45540 |  | A | Correct rectal prolapse | 16.27 | 7.98 | NA | 1.17 | 25.42 | NA | 090
45541 |  | A | Correct rectal prolapse | 13.40 | 6.83 | NA | 0.88 | 21.11 | NA | 090
45550 |  | A | Repair rectum/remove sigmoid | 23.00 | 10.25 | NA | 1.58 | 34.83 | NA | 090
45560 |  | A | Repair of rectocele | 10.58 | 5.99 | NA | 0.73 | 17.30 | NA | 090
45562 |  | A | Exploration/repair of rectum | 15.38 | 7.40 | NA | 1.15 | 23.93 | NA | 090
45563 |  | A | Exploration/repair of rectum | 23.47 | 11.08 | NA | 1.84 | 36.39 | NA | 090
45800 |  | A | Repair rect/bladder fistula | 17.77 | 8.10 | NA | 1.14 | 27.01 | NA | 090
45805 |  | A | Repair fistula w/colostomy | 20.78 | 9.94 | NA | 1.47 | 32.19 | NA | 090
45820 |  | A | Repair rectourethral fistula | 18.48 | 8.48 | NA | 1.17 | 28.13 | NA | 090
45825 |  | A | Repair fistula w/colostomy | 21.25 | 10.11 | NA | 0.97 | 32.33 | NA | 090
45900 |  | A | Reduction of rectal prolapse | 2.61 | 1.03 | NA | 0.17 | 3.81 | NA | 010
45905 |  | A | Dilation of anal sphincter | 2.30 | 0.95 | 3.50 | 0.14 | 3.39 | 5.94 | 010
45910 |  | A | Dilation of rectal narrowing | 2.80 | 1.15 | 4.78 | 0.14 | 4.09 | 7.72 | 010
45915 |  | A | Remove rectal obstruction | 3.14 | 1.11 | 4.59 | 0.17 | 4.42 | 7.90 | 010
45999 |  | C | Rectum surgery procedure | 0.00 | 0.00 | 0.00 | 0.00 | 0.00 | 0.00 | YYY
46030 |  | A | Removal of rectal marker | 1.23 | 1.20 | 3.35 | 0.11 | 2.54 | 4.69 | 010
46040 |  | A | Incision of rectal abscess | 4.96 | 3.06 | 5.40 | 0.48 | 8.50 | 10.84 | 090
46045 |  | A | Incision of rectal abscess | 4.32 | 2.77 | NA | 0.40 | 7.49 | NA | 090
46050 |  | A | Incision of anal abscess | 1.19 | 1.30 | 3.53 | 0.11 | 2.60 | 4.83 | 010
46060 |  | A | Incision of rectal abscess | 5.69 | 3.75 | NA | 0.52 | 9.96 | NA | 090
46070 |  | A | Incision of anal septum | 2.71 | 2.48 | NA | 0.27 | 5.46 | NA | 090
46080 |  | A | Incision of anal sphincter | 2.49 | 1.61 | 3.81 | 0.23 | 4.33 | 6.53 | 010
46083 |  | A | Incise external hemorrhoid | 1.40 | 1.47 | 4.60 | 0.12 | 2.99 | 6.12 | 010
46200 |  | A | Removal of anal fissure | 3.42 | 2.35 | 3.90 | 0.30 | 6.07 | 7.62 | 090
46210 |  | A | Removal of anal crypt | 2.67 | 2.15 | 5.01 | 0.26 | 5.08 | 7.94 | 090
46211 |  | A | Removal of anal crypts | 4.25 | 2.94 | 5.48 | 0.37 | 7.56 | 10.10 | 090
46220 |  | A | Removal of anal tab | 1.56 | 0.56 | 1.24 | 0.14 | 2.26 | 2.94 | 010
46221 |  | A | Ligation of hemorrhoid(s) | 2.04 | 0.73 | 3.40 | 0.12 | 2.89 | 5.56 | 010
46230 |  | A | Removal of anal tabs | 2.57 | 1.68 | 4.18 | 0.22 | 4.47 | 6.97 | 010
46250 |  | A | Hemorrhoidectomy | 3.89 | 2.67 | 5.25 | 0.43 | 6.99 | 9.57 | 090
46255 |  | A | Hemorrhoidectomy | 4.60 | 2.88 | 5.87 | 0.51 | 7.99 | 10.98 | 090
46257 |  | A | Remove hemorrhoids & fissure | 5.40 | 3.06 | NA | 0.59 | 9.05 | NA | 090
46258 |  | A | Remove hemorrhoids & fistula | 5.73 | 3.27 | NA | 0.64 | 9.64 | NA | 090
46260 |  | A | Hemorrhoidectomy | 6.37 | 3.94 | NA | 0.68 | 10.99 | NA | 090
46261 |  | A | Remove hemorrhoids & fissure | 7.08 | 4.05 | NA | 0.70 | 11.83 | NA | 090
46262 |  | A | Remove hemorrhoids & fistula | 7.50 | 4.31 | NA | 0.76 | 12.57 | NA | 090
46270 |  | A | Removal of anal fistula | 3.72 | 2.55 | 4.91 | 0.36 | 6.63 | 8.99 | 090
46275 |  | A | Removal of anal fistula | 4.56 | 2.78 | 4.70 | 0.40 | 7.74 | 9.66 | 090
46280 |  | A | Removal of anal fistula | 5.98 | 3.69 | NA | 0.50 | 10.17 | NA | 090
46285 |  | A | Removal of anal fistula | 4.09 | 2.60 | 3.91 | 0.34 | 7.03 | 8.34 | 090
46288 |  | A | Repair anal fistula | 7.13 | 4.16 | NA | 0.60 | 11.89 | NA | 090
46320 |  | A | Removal of hemorrhoid clot | 1.61 | 1.50 | 3.79 | 0.14 | 3.25 | 5.54 | 010
46500 |  | A | Injection into hemorrhoids | 1.61 | 0.59 | 2.63 | 0.12 | 2.32 | 4.36 | 010
46600 |  | A | Diagnostic anoscopy | 0.50 | 0.15 | 0.79 | 0.04 | 0.69 | 1.33 | 000
46604 |  | A | Anoscopy and dilation | 1.31 | 0.47 | 0.95 | 0.09 | 1.87 | 2.35 | 000
46606 |  | A | Anoscopy and biopsy | 0.81 | 0.29 | 0.88 | 0.07 | 1.17 | 1.76 | 000
46608 |  | A | Anoscopy/ remove for body | 1.51 | 0.46 | 1.82 | 0.13 | 2.10 | 3.46 | 000
46610 |  | A | Anoscopy/remove lesion | 1.32 | 0.48 | 1.44 | 0.12 | 1.92 | 2.88 | 000
46611 |  | A | Anoscopy | 1.81 | 0.65 | 2.00 | 0.15 | 2.61 | 3.96 | 000
46612 |  | A | Anoscopy/ remove lesions | 2.34 | 0.85 | 2.46 | 0.18 | 3.37 | 4.98 | 000
46614 |  | A | Anoscopy/control bleeding | 2.01 | 0.71 | 1.68 | 0.14 | 2.86 | 3.83 | 000
46615 |  | A | Anoscopy | 2.68 | 0.96 | 1.72 | 0.23 | 3.87 | 4.63 | 000
46700 |  | A | Repair of anal stricture | 9.13 | 4.68 | NA | 0.56 | 14.37 | NA | 090
46705 |  | A | Repair of anal stricture | 6.90 | 4.73 | NA | 0.73 | 12.36 | NA | 090
46715 |  | A | Repair of anovaginal fistula | 7.20 | 4.50 | NA | 0.76 | 12.46 | NA | 090
46716 |  | A | Repair of anovaginal fistula | 15.07 | 7.81 | NA | 1.30 | 24.18 | NA | 090
46730 |  | A | Construction of absent anus | 26.75 | 12.10 | NA | 2.03 | 40.88 | NA | 090
46735 |  | A | Construction of absent anus | 32.17 | 14.90 | NA | 2.64 | 49.71 | NA | 090
46740 |  | A | Construction of absent anus | 30.00 | 12.81 | NA | 1.99 | 44.80 | NA | 090
46742 |  | A | Repair of imperforated anus | 35.80 | 17.97 | NA | 2.63 | 56.40 | NA | 090
46744 |  | A | Repair of cloacal anomaly | 52.63 | 20.67 | NA | 2.27 | 75.57 | NA | 090
46746 |  | A | Repair of cloacal anomaly | 58.22 | 26.84 | NA | 2.51 | 87.57 | NA | 090
46748 |  | A | Repair of cloacal anomaly | 64.21 | 29.21 | NA | 2.77 | 96.19 | NA | 090
46750 |  | A | Repair of anal sphincter | 10.25 | 5.65 | NA | 0.69 | 16.59 | NA | 090
46751 |  | A | Repair of anal sphincter | 8.77 | 6.30 | NA | 0.78 | 15.85 | NA | 090
46753 |  | A | Reconstruction of anus | 8.29 | 4.04 | NA | 0.58 | 12.91 | NA | 090
46754 |  | A | Removal of suture from anus | 2.20 | 1.32 | 5.40 | 0.12 | 3.64 | 7.72 | 010
46760 |  | A | Repair of anal sphincter | 14.43 | 6.74 | NA | 0.86 | 22.03 | NA | 090
46761 |  | A | Repair of anal sphincter | 13.84 | 6.62 | NA | 0.84 | 21.30 | NA | 090
46762 |  | A | Implant artificial sphincter | 12.71 | 5.67 | NA | 0.71 | 19.09 | NA | 090
46900 |  | A | Destruction, anal lesion(s) | 1.91 | 0.77 | 3.28 | 0.13 | 2.81 | 5.32 | 010
46910 |  | A | Destruction, anal lesion(s) | 1.86 | 1.49 | 3.52 | 0.14 | 3.49 | 5.52 | 010
46916 |  | A | Cryosurgery, anal lesion(s) | 1.86 | 1.60 | 3.44 | 0.09 | 3.55 | 5.39 | 010
46917 |  | A | Laser surgery, anal lesions | 1.86 | 1.57 | 4.61 | 0.16 | 3.59 | 6.63 | 010
46922 |  | A | Excision of anal lesion(s) | 1.86 | 1.43 | 3.81 | 0.17 | 3.46 | 5.84 | 010
46924 |  | A | Destruction, anal lesion(s) | 2.76 | 1.70 | 5.01 | 0.20 | 4.66 | 7.97 | 010
46934 |  | A | Destruction of hemorrhoids | 3.51 | 3.49 | 5.92 | 0.26 | 7.26 | 9.69 | 090
46935 |  | A | Destruction of hemorrhoids | 2.43 | 0.87 | 4.07 | 0.17 | 3.47 | 6.67 | 010
46936 |  | A | Destruction of hemorrhoids | 3.69 | 3.34 | 5.73 | 0.30 | 7.33 | 9.72 | 090
46937 |  | A | Cryotherapy of rectal lesion | 2.69 | 2.44 | 4.03 | 0.12 | 5.25 | 6.84 | 010
46938 |  | A | Cryotherapy of rectal lesion | 4.66 | 3.48 | 3.99 | 0.40 | 8.54 | 9.05 | 090
46940 |  | A | Treatment of anal fissure | 2.32 | 0.83 | 3.08 | 0.17 | 3.32 | 5.57 | 010
46942 |  | A | Treatment of anal fissure | 2.04 | 0.71 | 3.21 | 0.14 | 2.89 | 5.39 | 010
46945 |  | A | Ligation of hemorrhoids | 1.84 | 2.13 | 3.83 | 0.17 | 4.14 | 5.84 | 090
46946 |  | A | Ligation of hemorrhoids | 2.58 | 2.44 | 5.05 | 0.22 | 5.24 | 7.85 | 090
46999 |  | C | Anus surgery procedure | 0.00 | 0.00 | 0.00 | 0.00 | 0.00 | 0.00 | YYY
47000 |  | A | Needle biopsy of liver | 1.90 | 0.67 | 9.17 | 0.09 | 2.66 | 11.16 | 000
47001 |  | A | Needle biopsy, liver add-on | 1.90 | 0.68 | NA | 0.18 | 2.76 | NA | ZZZ
47010 |  | A | Open drainage, liver lesion | 16.01 | 9.58 | NA | 0.65 | 26.24 | NA | 090
47011 |  | A | Percut drain, liver lesion | 3.70 | 6.24 | NA | 0.17 | 10.11 | NA | 000
47015 |  | A | Inject/aspirate liver cyst | 15.11 | 7.96 | NA | 0.86 | 23.93 | NA | 090
47100 |  | A | Wedge biopsy of liver | 11.67 | 6.37 | NA | 0.75 | 18.79 | NA | 090
47120 |  | A | Partial removal of liver | 35.50 | 16.79 | NA | 2.29 | 54.58 | NA | 090
47122 |  | A | Extensive removal of liver | 55.13 | 23.83 | NA | 3.60 | 82.56 | NA | 090
47125 |  | A | Partial removal of liver | 49.19 | 21.66 | NA | 3.18 | 74.03 | NA | 090
47130 |  | A | Partial removal of liver | 53.35 | 23.34 | NA | 3.47 | 80.16 | NA | 090
47133 |  | X | Removal of donor liver | 0.00 | 0.00 | 0.00 | 0.00 | 0.00 | 0.00 | XXX
47134 |  | R | Partial removal, donor liver | 39.15 | 14.22 | NA | 3.98 | 57.35 | NA | XXX
47135 |  | R | Transplantation of liver | 81.52 | 42.54 | NA | 8.13 | 132.19 | NA | 090
47136 |  | R | Transplantation of liver | 68.60 | 46.19 | NA | 6.93 | 121.72 | NA | 090
47300 |  | A | Surgery for liver lesion | 15.08 | 7.62 | NA | 0.97 | 23.67 | NA | 090
47350 |  | A | Repair liver wound | 19.56 | 9.32 | NA | 1.25 | 30.13 | NA | 090
47360 |  | A | Repair liver wound | 26.92 | 12.57 | NA | 1.71 | 41.20 | NA | 090
47361 |  | A | Repair liver wound | 47.12 | 20.03 | NA | 3.11 | 70.26 | NA | 090
47362 |  | A | Repair liver wound | 18.51 | 10.17 | NA | 1.22 | 29.90 | NA | 090
47379 |  | C | Laparoscope procedure, liver | 0.00 | 0.00 | 0.00 | 0.00 | 0.00 | 0.00 | YYY
47399 |  | C | Liver surgery procedure | 0.00 | 0.00 | 0.00 | 0.00 | 0.00 | 0.00 | YYY
47400 |  | A | Incision of liver duct | 32.49 | 14.82 | NA | 1.82 | 49.13 | NA | 090
47420 |  | A | Incision of bile duct | 19.88 | 9.28 | NA | 1.70 | 30.86 | NA | 090
47425 |  | A | Incision of bile duct | 19.83 | 9.54 | NA | 1.60 | 30.97 | NA | 090
47460 |  | A | Incise bile duct sphincter | 18.04 | 8.90 | NA | 1.24 | 28.18 | NA | 090
47480 |  | A | Incision of gallbladder | 10.82 | 6.52 | NA | 0.85 | 18.19 | NA | 090
47490 |  | A | Incision of gallbladder | 7.23 | 7.60 | NA | 0.33 | 15.16 | NA | 090
47500 |  | A | Injection for liver x-rays | 1.96 | 0.68 | NA | 0.09 | 2.73 | NA | 000
47505 |  | A | Injection for liver x-rays | 0.76 | 0.26 | 15.72 | 0.03 | 1.05 | 16.51 | 000
47510 |  | A | Insert catheter, bile duct | 7.83 | 9.35 | NA | 0.36 | 17.54 | NA | 090
47511 |  | A | Insert bile duct drain | 10.50 | 10.59 | NA | 0.47 | 21.56 | NA | 090
47525 |  | A | Change bile duct catheter | 5.55 | 3.33 | NA | 0.24 | 9.12 | NA | 010
47530 |  | A | Revise/reinsert bile tube | 5.85 | 5.02 | NA | 0.29 | 11.16 | NA | 090
47550 |  | A | Bile duct endoscopy add-on | 3.02 | 1.08 | NA | 0.30 | 4.40 | NA | ZZZ
47552 |  | A | Biliary endoscopy thru skin | 6.04 | 2.51 | NA | 0.42 | 8.97 | NA | 000
47553 |  | A | Biliary endoscopy thru skin | 6.35 | 2.70 | NA | 0.30 | 9.35 | NA | 000
47554 |  | A | Biliary endoscopy thru skin | 9.06 | 3.52 | NA | 0.74 | 13.32 | NA | 000
47555 |  | A | Biliary endoscopy thru skin | 7.56 | 3.13 | NA | 0.35 | 11.04 | NA | 000
47556 |  | A | Biliary endoscopy thru skin | 8.56 | 3.48 | NA | 0.38 | 12.42 | NA | 000
47560 |  | A | Laparoscopy w/cholangio | 4.89 | 1.90 | NA | 0.49 | 7.28 | NA | 000
47561 |  | A | Laparo w/cholangio/biopsy | 5.18 | 2.22 | NA | 0.49 | 7.89 | NA | 000
47562 |  | A | Laparoscopic cholecystectomy | 11.09 | 4.82 | NA | 1.13 | 17.04 | NA | 090
47563 |  | A | Laparoscopic cholecystectomy | 11.94 | 5.32 | NA | 1.21 | 18.47 | NA | 090
47564 |  | A | Laparo cholecystectomy/explr | 14.23 | 6.94 | NA | 1.44 | 22.61 | NA | 090
47570 |  | A | Laparo cholecystoenterostomy | 12.58 | 5.93 | NA | 1.28 | 19.79 | NA | 090
47579 |  | C | Laparoscope proc, biliary | 0.00 | 0.00 | 0.00 | 0.00 | 0.00 | 0.00 | YYY
47600 |  | A | Removal of gallbladder | 13.58 | 6.75 | NA | 1.16 | 21.49 | NA | 090
47605 |  | A | Removal of gallbladder | 14.69 | 7.14 | NA | 1.25 | 23.08 | NA | 090
47610 |  | A | Removal of gallbladder | 18.82 | 8.75 | NA | 1.61 | 29.18 | NA | 090
47612 |  | A | Removal of gallbladder | 18.78 | 8.59 | NA | 1.60 | 28.97 | NA | 090
47620 |  | A | Removal of gallbladder | 20.64 | 9.25 | NA | 1.77 | 31.66 | NA | 090
47630 |  | A | Remove bile duct stone | 9.11 | 3.17 | NA | 0.46 | 12.74 | NA | 090
47700 |  | A | Exploration of bile ducts | 15.62 | 8.73 | NA | 1.40 | 25.75 | NA | 090
47701 |  | A | Bile duct revision | 27.81 | 13.42 | NA | 3.00 | 44.23 | NA | 090
47711 |  | A | Excision of bile duct tumor | 23.03 | 11.21 | NA | 1.98 | 36.22 | NA | 090
47712 |  | A | Excision of bile duct tumor | 30.24 | 14.20 | NA | 2.67 | 47.11 | NA | 090
47715 |  | A | Excision of bile duct cyst | 18.80 | 8.85 | NA | 1.59 | 29.24 | NA | 090
47716 |  | A | Fusion of bile duct cyst | 16.44 | 9.46 | NA | 1.41 | 27.31 | NA | 090
47720 |  | A | Fuse gallbladder & bowel | 15.91 | 8.67 | NA | 1.37 | 25.95 | NA | 090
47721 |  | A | Fuse upper gi structures | 19.12 | 9.77 | NA | 1.63 | 30.52 | NA | 090
47740 |  | A | Fuse gallbladder & bowel | 18.48 | 9.61 | NA | 1.59 | 29.68 | NA | 090
47741 |  | A | Fuse gallbladder & bowel | 21.34 | 10.50 | NA | 1.82 | 33.66 | NA | 090
47760 |  | A | Fuse bile ducts and bowel | 25.85 | 12.12 | NA | 2.21 | 40.18 | NA | 090
47765 |  | A | Fuse liver ducts & bowel | 24.88 | 12.79 | NA | 2.18 | 39.85 | NA | 090
47780 |  | A | Fuse bile ducts and bowel | 26.50 | 12.37 | NA | 2.27 | 41.14 | NA | 090
47785 |  | A | Fuse bile ducts and bowel | 31.18 | 14.72 | NA | 2.69 | 48.59 | NA | 090
47800 |  | A | Reconstruction of bile ducts | 23.30 | 11.22 | NA | 1.95 | 36.47 | NA | 090
47801 |  | A | Placement, bile duct support | 15.17 | 10.25 | NA | 0.69 | 26.11 | NA | 090
47802 |  | A | Fuse liver duct & intestine | 21.55 | 11.28 | NA | 1.84 | 34.67 | NA | 090
47900 |  | A | Suture bile duct injury | 19.90 | 10.04 | NA | 1.65 | 31.59 | NA | 090
47999 |  | C | Bile tract surgery procedure | 0.00 | 0.00 | 0.00 | 0.00 | 0.00 | 0.00 | YYY
48000 |  | A | Drainage of abdomen | 28.07 | 12.79 | NA | 1.32 | 42.18 | NA | 090
48001 |  | A | Placement of drain, pancreas | 35.45 | 14.98 | NA | 1.90 | 52.33 | NA | 090
48005 |  | A | Resect/debride pancreas | 42.17 | 17.36 | NA | 2.26 | 61.79 | NA | 090
48020 |  | A | Removal of pancreatic stone | 15.70 | 7.61 | NA | 1.36 | 24.67 | NA | 090
48100 |  | A | Biopsy of pancreas | 12.23 | 6.89 | NA | 1.08 | 20.20 | NA | 090
48102 |  | A | Needle biopsy, pancreas | 4.68 | 2.44 | 8.98 | 0.20 | 7.32 | 13.86 | 010
48120 |  | A | Removal of pancreas lesion | 15.85 | 7.51 | NA | 1.35 | 24.71 | NA | 090
48140 |  | A | Partial removal of pancreas | 22.94 | 10.69 | NA | 2.12 | 35.75 | NA | 090
48145 |  | A | Partial removal of pancreas | 24.02 | 11.58 | NA | 2.25 | 37.85 | NA | 090
48146 |  | A | Pancreatectomy | 26.40 | 13.53 | NA | 2.43 | 42.36 | NA | 090
48148 |  | A | Removal of pancreatic duct | 17.34 | 9.25 | NA | 1.61 | 28.20 | NA | 090
48150 |  | A | Partial removal of pancreas | 48.00 | 21.99 | NA | 4.43 | 74.42 | NA | 090
48152 |  | A | Pancreatectomy | 43.75 | 20.61 | NA | 4.07 | 68.43 | NA | 090
48153 |  | A | Pancreatectomy | 47.89 | 21.97 | NA | 4.40 | 74.26 | NA | 090
48154 |  | A | Pancreatectomy | 44.10 | 20.71 | NA | 4.10 | 68.91 | NA | 090
48155 |  | A | Removal of pancreas | 24.64 | 13.79 | NA | 2.30 | 40.73 | NA | 090
48160 |  | N | Pancreas removal/transplant | 0.00 | 0.00 | 0.00 | 0.00 | 0.00 | 0.00 | XXX
48180 |  | A | Fuse pancreas and bowel | 24.72 | 11.10 | NA | 2.24 | 38.06 | NA | 090
48400 |  | A | Injection, intraop add-on | 1.95 | 0.68 | NA | 0.10 | 2.73 | NA | ZZZ
48500 |  | A | Surgery of pancreas cyst | 15.28 | 7.53 | NA | 1.35 | 24.16 | NA | 090
48510 |  | A | Drain pancreatic pseudocyst | 14.31 | 7.48 | NA | 1.07 | 22.86 | NA | 090
48511 |  | A | Drain pancreatic pseudocyst | 4.00 | 4.71 | NA | 0.17 | 8.88 | NA | 000
48520 |  | A | Fuse pancreas cyst and bowel | 15.59 | 7.29 | NA | 1.41 | 24.29 | NA | 090
48540 |  | A | Fuse pancreas cyst and bowel | 19.72 | 8.81 | NA | 1.82 | 30.35 | NA | 090
48545 |  | A | Pancreatorrhaphy | 18.18 | 8.74 | NA | 1.61 | 28.53 | NA | 090
48547 |  | A | Duodenal exclusion | 25.83 | 10.89 | NA | 2.30 | 39.02 | NA | 090
48550 |  | X | Donor pancreatectomy | 0.00 | 0.00 | 0.00 | 0.00 | 0.00 | 0.00 | XXX
48554 |  | R | Transpl allograft pancreas | 34.17 | 12.27 | NA | 3.30 | 49.74 | NA | 090
48556 |  | A | Removal, allograft pancreas | 15.71 | 8.56 | NA | 1.52 | 25.79 | NA | 090
48999 |  | C | Pancreas surgery procedure | 0.00 | 0.00 | 0.00 | 0.00 | 0.00 | 0.00 | YYY
49000 |  | A | Exploration of abdomen | 11.68 | 6.14 | NA | 1.17 | 18.99 | NA | 090
49002 |  | A | Reopening of abdomen | 10.49 | 6.02 | NA | 1.06 | 17.57 | NA | 090
49010 |  | A | Exploration behind abdomen | 12.28 | 6.94 | NA | 1.22 | 20.44 | NA | 090
49020 |  | A | Drain abdominal abscess | 22.84 | 11.55 | NA | 1.31 | 35.70 | NA | 090
49021 |  | A | Drain abdominal abscess | 3.38 | 6.31 | NA | 0.16 | 9.85 | NA | 000
49040 |  | A | Drain, open, abdom abscess | 13.52 | 8.00 | NA | 0.84 | 22.36 | NA | 090
49041 |  | A | Drain, percut, abdom abscess | 4.00 | 6.50 | NA | 0.18 | 10.68 | NA | 000
49060 |  | A | Drain, open, retrop abscess | 15.86 | 9.58 | NA | 0.77 | 26.21 | NA | 090
49061 |  | A | Drain, percut, retroper absc | 3.70 | 6.44 | NA | 0.17 | 10.31 | NA | 000
49062 |  | A | Drain to peritoneal cavity | 11.36 | 7.15 | NA | 1.08 | 19.59 | NA | 090
49080 |  | A | Puncture, peritoneal cavity | 1.35 | 0.62 | 3.08 | 0.07 | 2.04 | 4.50 | 000
49081 |  | A | Removal of abdominal fluid | 1.26 | 0.59 | 2.93 | 0.06 | 1.91 | 4.25 | 000
49085 |  | A | Remove abdomen foreign body | 12.14 | 6.59 | NA | 0.88 | 19.61 | NA | 090
49180 |  | A | Biopsy, abdominal mass | 1.73 | 0.60 | 7.64 | 0.08 | 2.41 | 9.45 | 000
49200 |  | A | Removal of abdominal lesion | 10.25 | 6.43 | NA | 0.89 | 17.57 | NA | 090
49201 |  | A | Removal of abdominal lesion | 14.84 | 8.71 | NA | 1.44 | 24.99 | NA | 090
49215 |  | A | Excise sacral spine tumor | 33.50 | 14.97 | NA | 2.48 | 50.95 | NA | 090
49220 |  | A | Multiple surgery, abdomen | 14.88 | 7.71 | NA | 1.51 | 24.10 | NA | 090
49250 |  | A | Excision of umbilicus | 8.35 | 5.10 | NA | 0.84 | 14.29 | NA | 090
49255 |  | A | Removal of omentum | 11.14 | 6.63 | NA | 1.12 | 18.89 | NA | 090
49320 |  | A | Diag laparo separate proc | 5.10 | 3.04 | NA | 0.50 | 8.64 | NA | 010
49321 |  | A | Laparoscopy; biopsy | 5.40 | 3.08 | NA | 0.53 | 9.01 | NA | 010
49322 |  | A | Laparoscopy; aspiration | 5.70 | 3.47 | NA | 0.57 | 9.74 | NA | 010
49323 |  | A | Laparo drain lymphocele | 9.48 | 4.01 | NA | 0.88 | 14.37 | NA | 090
49329 |  | C | Laparo proc, abdm/per/oment | 0.00 | 0.00 | 0.00 | 0.00 | 0.00 | 0.00 | YYY
49400 |  | A | Air injection into abdomen | 1.88 | 0.81 | NA | 0.11 | 2.80 | NA | 000
49420 |  | A | Insert abdominal drain | 2.22 | 0.98 | NA | 0.13 | 3.33 | NA | 000
49421 |  | A | Insert abdominal drain | 5.54 | 4.03 | NA | 0.55 | 10.12 | NA | 090
49422 |  | A | Remove perm cannula/catheter | 6.25 | 2.96 | NA | 0.63 | 9.84 | NA | 010
49423 |  | A | Exchange drainage catheter | 1.46 | 0.69 | NA | 0.07 | 2.22 | NA | 000
49424 |  | A | Assess cyst, contrast inject | 0.76 | 0.45 | NA | 0.03 | 1.24 | NA | 000
49425 |  | A | Insert abdomen-venous drain | 11.37 | 6.70 | NA | 1.21 | 19.28 | NA | 090
49426 |  | A | Revise abdomen-venous shunt | 9.63 | 6.06 | NA | 0.93 | 16.62 | NA | 090
49427 |  | A | Injection, abdominal shunt | 0.89 | 0.49 | NA | 0.05 | 1.43 | NA | 000
49428 |  | A | Ligation of shunt | 6.06 | 3.22 | NA | 0.31 | 9.59 | NA | 010
49429 |  | A | Removal of shunt | 7.40 | 3.49 | NA | 0.81 | 11.70 | NA | 010
49495 |  | A | Repair inguinal hernia, init | 5.89 | 3.49 | NA | 0.55 | 9.93 | NA | 090
49496 |  | A | Repair inguinal hernia, init | 8.79 | 6.44 | NA | 0.89 | 16.12 | NA | 090
49500 |  | A | Repair inguinal hernia | 5.48 | 3.38 | NA | 0.46 | 9.32 | NA | 090
49501 |  | A | Repair inguinal hernia, init | 8.88 | 4.48 | NA | 0.76 | 14.12 | NA | 090
49505 |  | A | Repair inguinal hernia | 7.60 | 4.07 | 4.53 | 0.65 | 12.32 | 12.78 | 090
49507 |  | A | Repair inguinal hernia | 9.57 | 6.05 | NA | 0.83 | 16.45 | NA | 090
49520 |  | A | Rerepair inguinal hernia | 9.63 | 5.41 | NA | 0.84 | 15.88 | NA | 090
49521 |  | A | Repair inguinal hernia, rec | 11.97 | 5.78 | NA | 1.04 | 18.79 | NA | 090
49525 |  | A | Repair inguinal hernia | 8.57 | 4.90 | NA | 0.74 | 14.21 | NA | 090
49540 |  | A | Repair lumbar hernia | 10.39 | 5.62 | NA | 0.90 | 16.91 | NA | 090
49550 |  | A | Repair femoral hernia | 8.63 | 4.48 | NA | 0.75 | 13.86 | NA | 090
49553 |  | A | Repair femoral hernia, init | 9.44 | 4.91 | NA | 0.83 | 15.18 | NA | 090
49555 |  | A | Repair femoral hernia | 9.03 | 5.21 | NA | 0.79 | 15.03 | NA | 090
49557 |  | A | Repair femoral hernia, recur | 11.15 | 5.51 | NA | 0.97 | 17.63 | NA | 090
49560 |  | A | Repair abdominal hernia | 11.57 | 6.03 | NA | 1.00 | 18.60 | NA | 090
49561 |  | A | Repair incisional hernia | 14.25 | 6.64 | NA | 1.23 | 22.12 | NA | 090
49565 |  | A | Rerepair abdominal hernia | 11.57 | 6.21 | NA | 1.00 | 18.78 | NA | 090
49566 |  | A | Repair incisional hernia | 14.40 | 6.69 | NA | 1.24 | 22.33 | NA | 090
49568 |  | A | Hernia repair w/mesh | 4.89 | 1.76 | NA | 0.50 | 7.15 | NA | ZZZ
49570 |  | A | Repair epigastric hernia | 5.69 | 3.44 | NA | 0.50 | 9.63 | NA | 090
49572 |  | A | Repair epigastric hernia | 6.73 | 3.95 | NA | 0.58 | 11.26 | NA | 090
49580 |  | A | Repair umbilical hernia | 4.11 | 2.92 | NA | 0.34 | 7.37 | NA | 090
49582 |  | A | Repair umbilical hernia | 6.65 | 4.82 | NA | 0.57 | 12.04 | NA | 090
49585 |  | A | Repair umbilical hernia | 6.23 | 4.07 | NA | 0.53 | 10.83 | NA | 090
49587 |  | A | Repair umbilical hernia | 7.56 | 4.21 | NA | 0.65 | 12.42 | NA | 090
49590 |  | A | Repair abdominal hernia | 8.54 | 4.89 | NA | 0.74 | 14.17 | NA | 090
49600 |  | A | Repair umbilical lesion | 10.96 | 6.30 | NA | 1.13 | 18.39 | NA | 090
49605 |  | A | Repair umbilical lesion | 22.66 | 10.94 | NA | 2.57 | 36.17 | NA | 090
49606 |  | A | Repair umbilical lesion | 18.60 | 9.23 | NA | 2.22 | 30.05 | NA | 090
49610 |  | A | Repair umbilical lesion | 10.50 | 6.73 | NA | 0.77 | 18.00 | NA | 090
49611 |  | A | Repair umbilical lesion | 8.92 | 6.42 | NA | 0.65 | 15.99 | NA | 090
49650 |  | A | Laparo hernia repair initial | 6.27 | 3.29 | NA | 0.64 | 10.20 | NA | 090
49651 |  | A | Laparo hernia repair recur | 8.24 | 4.34 | NA | 0.84 | 13.42 | NA | 090
49659 |  | C | Laparo proc, hernia repair | 0.00 | 0.00 | 0.00 | 0.00 | 0.00 | 0.00 | YYY
49900 |  | A | Repair of abdominal wall | 12.28 | 6.72 | NA | 1.23 | 20.23 | NA | 090
49905 |  | A | Omental flap | 6.55 | 2.30 | NA | 0.61 | 9.46 | NA | ZZZ
49906 |  | C | Free omental flap, microvasc | 0.00 | 0.00 | 0.00 | 0.00 | 0.00 | 0.00 | 090
49999 |  | C | Abdomen surgery procedure | 0.00 | 0.00 | 0.00 | 0.00 | 0.00 | 0.00 | YYY
50010 |  | A | Exploration of kidney | 10.98 | 6.80 | NA | 0.79 | 18.57 | NA | 090
50020 |  | A | Renal abscess, open drain | 14.66 | 13.73 | NA | 0.80 | 29.19 | NA | 090
50021 |  | A | Renal abscess, percut drain | 3.38 | 12.63 | NA | 0.15 | 16.16 | NA | 000
50040 |  | A | Drainage of kidney | 14.94 | 11.46 | NA | 0.82 | 27.22 | NA | 090
50045 |  | A | Exploration of kidney | 15.46 | 8.23 | NA | 1.06 | 24.75 | NA | 090
50060 |  | A | Removal of kidney stone | 19.30 | 9.60 | NA | 1.14 | 30.04 | NA | 090
50065 |  | A | Incision of kidney | 20.79 | 7.79 | NA | 1.13 | 29.71 | NA | 090
50070 |  | A | Incision of kidney | 20.32 | 10.48 | NA | 1.20 | 32.00 | NA | 090
50075 |  | A | Removal of kidney stone | 25.34 | 12.28 | NA | 1.51 | 39.13 | NA | 090
50080 |  | A | Removal of kidney stone | 14.71 | 10.56 | NA | 0.86 | 26.13 | NA | 090
50081 |  | A | Removal of kidney stone | 21.80 | 12.63 | NA | 1.30 | 35.73 | NA | 090
50100 |  | A | Revise kidney blood vessels | 16.09 | 9.39 | NA | 1.64 | 27.12 | NA | 090
50120 |  | A | Exploration of kidney | 15.91 | 8.65 | NA | 1.04 | 25.60 | NA | 090
50125 |  | A | Explore and drain kidney | 16.52 | 8.73 | NA | 1.07 | 26.32 | NA | 090
50130 |  | A | Removal of kidney stone | 17.29 | 8.89 | NA | 1.04 | 27.22 | NA | 090
50135 |  | A | Exploration of kidney | 19.18 | 9.49 | NA | 1.18 | 29.85 | NA | 090
50200 |  | A | Biopsy of kidney | 2.63 | 0.93 | NA | 0.12 | 3.68 | NA | 000
50205 |  | A | Biopsy of kidney | 11.31 | 6.38 | NA | 0.94 | 18.63 | NA | 090
50220 |  | A | Removal of kidney | 17.15 | 8.98 | NA | 1.16 | 27.29 | NA | 090
50225 |  | A | Removal of kidney | 20.23 | 9.94 | NA | 1.26 | 31.43 | NA | 090
50230 |  | A | Removal of kidney | 22.07 | 10.54 | NA | 1.35 | 33.96 | NA | 090
50234 |  | A | Removal of kidney & ureter | 22.40 | 10.62 | NA | 1.37 | 34.39 | NA | 090
50236 |  | A | Removal of kidney & ureter | 24.86 | 13.67 | NA | 1.50 | 40.03 | NA | 090
50240 |  | A | Partial removal of kidney | 22.00 | 12.71 | NA | 1.36 | 36.07 | NA | 090
50280 |  | A | Removal of kidney lesion | 15.67 | 8.38 | NA | 0.99 | 25.04 | NA | 090
50290 |  | A | Removal of kidney lesion | 14.73 | 8.15 | NA | 1.11 | 23.99 | NA | 090
50300 |  | X | Removal of donor kidney | 0.00 | 0.00 | 0.00 | 0.00 | 0.00 | 0.00 | XXX
50320 |  | A | Removal of donor kidney | 22.21 | 10.41 | NA | 1.78 | 34.40 | NA | 090
50340 |  | A | Removal of kidney | 12.15 | 8.83 | NA | 1.15 | 22.13 | NA | 090
50360 |  | A | Transplantation of kidney | 31.53 | 17.54 | NA | 2.97 | 52.04 | NA | 090
50365 |  | A | Transplantation of kidney | 36.81 | 21.31 | NA | 3.51 | 61.63 | NA | 090
50370 |  | A | Remove transplanted kidney | 13.72 | 9.67 | NA | 1.26 | 24.65 | NA | 090
50380 |  | A | Reimplantation of kidney | 20.76 | 13.56 | NA | 1.80 | 36.12 | NA | 090
50390 |  | A | Drainage of kidney lesion | 1.96 | 0.68 | NA | 0.09 | 2.73 | NA | 000
50392 |  | A | Insert kidney drain | 3.38 | 1.17 | NA | 0.15 | 4.70 | NA | 000
50393 |  | A | Insert ureteral tube | 4.16 | 1.44 | NA | 0.18 | 5.78 | NA | 000
50394 |  | A | Injection for kidney x-ray | 0.76 | 0.26 | 13.83 | 0.04 | 1.06 | 14.63 | 000
50395 |  | A | Create passage to kidney | 3.38 | 1.16 | NA | 0.16 | 4.70 | NA | 000
50396 |  | A | Measure kidney pressure | 2.09 | 0.88 | NA | 0.10 | 3.07 | NA | 000
50398 |  | A | Change kidney tube | 1.46 | 0.50 | 1.36 | 0.07 | 2.03 | 2.89 | 000
50400 |  | A | Revision of kidney/ureter | 19.50 | 9.69 | NA | 1.21 | 30.40 | NA | 090
50405 |  | A | Revision of kidney/ureter | 23.93 | 12.83 | NA | 1.45 | 38.21 | NA | 090
50500 |  | A | Repair of kidney wound | 19.57 | 11.22 | NA | 1.45 | 32.24 | NA | 090
50520 |  | A | Close kidney-skin fistula | 17.23 | 10.54 | NA | 1.26 | 29.03 | NA | 090
50525 |  | A | Repair renal-abdomen fistula | 22.27 | 12.65 | NA | 1.51 | 36.43 | NA | 090
50526 |  | A | Repair renal-abdomen fistula | 24.02 | 15.49 | NA | 1.62 | 41.13 | NA | 090
50540 |  | A | Revision of horseshoe kidney | 19.93 | 10.96 | NA | 1.28 | 32.17 | NA | 090
50541 |  | A | Laparo ablate renal cyst | 16.00 | 6.63 | NA | 0.99 | 23.62 | NA | 090
50544 |  | A | Laparoscopy, pyeloplasty | 22.40 | 8.83 | NA | 1.41 | 32.64 | NA | 090
50545 |  | A | Laparo radical nephrectomy | 24.00 | 9.44 | NA | 1.81 | 35.25 | NA | 090
50546 |  | A | Laparoscopic nephrectomy | 20.48 | 8.27 | NA | 1.37 | 30.12 | NA | 090
50547 |  | A | Laparo removal donor kidney | 25.50 | 10.71 | NA | 2.04 | 38.25 | NA | 090
50548 |  | A | Laparo remove k/ureter | 24.40 | 9.47 | NA | 1.49 | 35.36 | NA | 090
50549 |  | C | Laparoscope proc, renal | 0.00 | 0.00 | 0.00 | 0.00 | 0.00 | 0.00 | YYY
50551 |  | A | Kidney endoscopy | 5.60 | 1.87 | 4.62 | 0.33 | 7.80 | 10.55 | 000
50553 |  | A | Kidney endoscopy | 5.99 | 2.05 | 16.02 | 0.35 | 8.39 | 22.36 | 000
50555 |  | A | Kidney endoscopy & biopsy | 6.53 | 2.20 | 18.71 | 0.38 | 9.11 | 25.62 | 000
50557 |  | A | Kidney endoscopy & treatment | 6.62 | 2.22 | 18.82 | 0.39 | 9.23 | 25.83 | 000
50559 |  | A | Renal endoscopy/radiotracer | 6.78 | 2.43 | NA | 0.27 | 9.48 | NA | 000
50561 |  | A | Kidney endoscopy & treatment | 7.59 | 2.56 | 16.87 | 0.44 | 10.59 | 24.90 | 000
50570 |  | A | Kidney endoscopy | 9.54 | 3.20 | NA | 0.56 | 13.30 | NA | 000
50572 |  | A | Kidney endoscopy | 10.35 | 3.47 | NA | 0.64 | 14.46 | NA | 000
50574 |  | A | Kidney endoscopy & biopsy | 11.02 | 3.69 | NA | 0.65 | 15.36 | NA | 000
50575 |  | A | Kidney endoscopy | 13.98 | 4.69 | NA | 0.84 | 19.51 | NA | 000
50576 |  | A | Kidney endoscopy & treatment | 10.99 | 3.65 | NA | 0.66 | 15.30 | NA | 000
50578 |  | A | Renal endoscopy/radiotracer | 11.35 | 3.80 | NA | 0.67 | 15.82 | NA | 000
50580 |  | A | Kidney endoscopy & treatment | 11.86 | 3.99 | NA | 0.70 | 16.55 | NA | 000
50590 |  | A | Fragmenting of kidney stone | 9.09 | 5.07 | 10.10 | 0.54 | 14.70 | 19.73 | 090
50600 |  | A | Exploration of ureter | 15.84 | 8.51 | NA | 0.99 | 25.34 | NA | 090
50605 |  | A | Insert ureteral support | 15.46 | 8.71 | NA | 1.13 | 25.30 | NA | 090
50610 |  | A | Removal of ureter stone | 15.92 | 8.96 | NA | 1.08 | 25.96 | NA | 090
50620 |  | A | Removal of ureter stone | 15.16 | 8.09 | NA | 0.91 | 24.16 | NA | 090
50630 |  | A | Removal of ureter stone | 14.94 | 8.16 | NA | 0.90 | 24.00 | NA | 090
50650 |  | A | Removal of ureter | 17.41 | 9.25 | NA | 1.07 | 27.73 | NA | 090
50660 |  | A | Removal of ureter | 19.55 | 10.03 | NA | 1.19 | 30.77 | NA | 090
50684 |  | A | Injection for ureter x-ray | 0.76 | 0.26 | 14.20 | 0.04 | 1.06 | 15.00 | 000
50686 |  | A | Measure ureter pressure | 1.51 | 0.71 | 4.77 | 0.09 | 2.31 | 6.37 | 000
50688 |  | A | Change of ureter tube | 1.17 | 1.75 | NA | 0.06 | 2.98 | NA | 010
50690 |  | A | Injection for ureter x-ray | 1.16 | 0.40 | 14.48 | 0.06 | 1.62 | 15.70 | 000
50700 |  | A | Revision of ureter | 15.21 | 8.97 | NA | 0.86 | 25.04 | NA | 090
50715 |  | A | Release of ureter | 18.90 | 12.10 | NA | 1.68 | 32.68 | NA | 090
50722 |  | A | Release of ureter | 16.35 | 9.40 | NA | 1.41 | 27.16 | NA | 090
50725 |  | A | Release/revise ureter | 18.49 | 10.26 | NA | 1.44 | 30.19 | NA | 090
50727 |  | A | Revise ureter | 8.18 | 6.23 | NA | 0.51 | 14.92 | NA | 090
50728 |  | A | Revise ureter | 12.02 | 7.80 | NA | 0.88 | 20.70 | NA | 090
50740 |  | A | Fusion of ureter & kidney | 18.42 | 9.33 | NA | 1.49 | 29.24 | NA | 090
50750 |  | A | Fusion of ureter & kidney | 19.51 | 10.28 | NA | 1.24 | 31.03 | NA | 090
50760 |  | A | Fusion of ureters | 18.42 | 9.70 | NA | 1.25 | 29.37 | NA | 090
50770 |  | A | Splicing of ureters | 19.51 | 9.93 | NA | 1.25 | 30.69 | NA | 090
50780 |  | A | Reimplant ureter in bladder | 18.36 | 9.65 | NA | 1.20 | 29.21 | NA | 090
50782 |  | A | Reimplant ureter in bladder | 19.54 | 11.18 | NA | 1.13 | 31.85 | NA | 090
50783 |  | A | Reimplant ureter in bladder | 20.55 | 10.62 | NA | 1.35 | 32.52 | NA | 090
50785 |  | A | Reimplant ureter in bladder | 20.52 | 10.37 | NA | 1.30 | 32.19 | NA | 090
50800 |  | A | Implant ureter in bowel | 14.52 | 9.38 | NA | 0.92 | 24.82 | NA | 090
50810 |  | A | Fusion of ureter & bowel | 20.05 | 12.91 | NA | 1.78 | 34.74 | NA | 090
50815 |  | A | Urine shunt to bowel | 19.93 | 11.47 | NA | 1.31 | 32.71 | NA | 090
50820 |  | A | Construct bowel bladder | 21.89 | 11.33 | NA | 1.38 | 34.60 | NA | 090
50825 |  | A | Construct bowel bladder | 28.18 | 14.68 | NA | 1.81 | 44.67 | NA | 090
50830 |  | A | Revise urine flow | 31.28 | 15.36 | NA | 2.20 | 48.84 | NA | 090
50840 |  | A | Replace ureter by bowel | 20.00 | 11.53 | NA | 1.26 | 32.79 | NA | 090
50845 |  | A | Appendico-vesicostomy | 20.89 | 9.67 | NA | 1.26 | 31.82 | NA | 090
50860 |  | A | Transplant ureter to skin | 15.36 | 8.67 | NA | 1.01 | 25.04 | NA | 090
50900 |  | A | Repair of ureter | 13.62 | 7.77 | NA | 0.98 | 22.37 | NA | 090
50920 |  | A | Closure ureter/skin fistula | 14.33 | 8.72 | NA | 0.84 | 23.89 | NA | 090
50930 |  | A | Closure ureter/bowel fistula | 18.72 | 9.73 | NA | 1.57 | 30.02 | NA | 090
50940 |  | A | Release of ureter | 14.51 | 8.17 | NA | 1.04 | 23.72 | NA | 090
50945 |  | A | Laparoscopy ureterolithotomy | 17.00 | 7.41 | NA | 1.15 | 25.56 | NA | 090
50947 |  | A | Laparo new ureter/bladder | 24.50 | 11.58 | NA | 1.84 | 37.92 | NA | 090
50948 |  | A | Laparo new ureter/bladder | 22.50 | 10.47 | NA | 1.70 | 34.67 | NA | 090
50949 |  | C | Laparoscope proc, ureter | 0.00 | 0.00 | 0.00 | 0.00 | 0.00 | 0.00 | YYY
50951 |  | A | Endoscopy of ureter | 5.84 | 1.96 | 5.01 | 0.35 | 8.15 | 11.20 | 000
50953 |  | A | Endoscopy of ureter | 6.24 | 2.09 | 17.98 | 0.37 | 8.70 | 24.59 | 000
50955 |  | A | Ureter endoscopy & biopsy | 6.75 | 2.30 | 18.69 | 0.38 | 9.43 | 25.82 | 000
50957 |  | A | Ureter endoscopy & treatment | 6.79 | 2.28 | 18.28 | 0.40 | 9.47 | 25.47 | 000
50959 |  | A | Ureter endoscopy & tracer | 4.40 | 1.59 | NA | 0.18 | 6.17 | NA | 000
50961 |  | A | Ureter endoscopy & treatment | 6.05 | 2.04 | 22.48 | 0.35 | 8.44 | 28.88 | 000
50970 |  | A | Ureter endoscopy | 7.14 | 2.40 | NA | 0.43 | 9.97 | NA | 000
50972 |  | A | Ureter endoscopy & catheter | 6.89 | 2.37 | NA | 0.39 | 9.65 | NA | 000
50974 |  | A | Ureter endoscopy & biopsy | 9.17 | 3.01 | NA | 0.53 | 12.71 | NA | 000
50976 |  | A | Ureter endoscopy & treatment | 9.04 | 3.03 | NA | 0.53 | 12.60 | NA | 000
50978 |  | A | Ureter endoscopy & tracer | 5.10 | 1.75 | NA | 0.30 | 7.15 | NA | 000
50980 |  | A | Ureter endoscopy & treatment | 6.85 | 2.31 | NA | 0.41 | 9.57 | NA | 000
51000 |  | A | Drainage of bladder | 0.78 | 0.25 | 1.95 | 0.05 | 1.08 | 2.78 | 000
51005 |  | A | Drainage of bladder | 1.02 | 0.35 | 3.25 | 0.08 | 1.45 | 4.35 | 000
51010 |  | A | Drainage of bladder | 3.53 | 1.86 | 6.96 | 0.23 | 5.62 | 10.72 | 010
51020 |  | A | Incise & treat bladder | 6.71 | 5.42 | NA | 0.42 | 12.55 | NA | 090
51030 |  | A | Incise & treat bladder | 6.77 | 5.46 | NA | 0.42 | 12.65 | NA | 090
51040 |  | A | Incise & drain bladder | 4.40 | 4.19 | NA | 0.27 | 8.86 | NA | 090
51045 |  | A | Incise bladder/drain ureter | 6.77 | 5.73 | NA | 0.47 | 12.97 | NA | 090
51050 |  | A | Removal of bladder stone | 6.92 | 4.98 | NA | 0.42 | 12.32 | NA | 090
51060 |  | A | Removal of ureter stone | 8.85 | 6.16 | NA | 0.54 | 15.55 | NA | 090
51065 |  | A | Removal of ureter stone | 8.85 | 5.99 | NA | 0.53 | 15.37 | NA | 090
51080 |  | A | Drainage of bladder abscess | 5.96 | 5.51 | NA | 0.35 | 11.82 | NA | 090
51500 |  | A | Removal of bladder cyst | 10.14 | 5.99 | NA | 0.88 | 17.01 | NA | 090
51520 |  | A | Removal of bladder lesion | 9.29 | 6.21 | NA | 0.58 | 16.08 | NA | 090
51525 |  | A | Removal of bladder lesion | 13.97 | 7.78 | NA | 0.85 | 22.60 | NA | 090
51530 |  | A | Removal of bladder lesion | 12.38 | 7.37 | NA | 0.82 | 20.57 | NA | 090
51535 |  | A | Repair of ureter lesion | 12.57 | 7.80 | NA | 0.90 | 21.27 | NA | 090
51550 |  | A | Partial removal of bladder | 15.66 | 8.38 | NA | 1.05 | 25.09 | NA | 090
51555 |  | A | Partial removal of bladder | 21.23 | 10.64 | NA | 1.37 | 33.24 | NA | 090
51565 |  | A | Revise bladder & ureter(s) | 21.62 | 11.17 | NA | 1.40 | 34.19 | NA | 090
51570 |  | A | Removal of bladder | 24.24 | 12.39 | NA | 1.59 | 38.22 | NA | 090
51575 |  | A | Removal of bladder & nodes | 30.45 | 14.82 | NA | 1.88 | 47.15 | NA | 090
51580 |  | A | Remove bladder/revise tract | 31.08 | 15.33 | NA | 1.94 | 48.35 | NA | 090
51585 |  | A | Removal of bladder & nodes | 35.23 | 16.59 | NA | 2.18 | 54.00 | NA | 090
51590 |  | A | Remove bladder/revise tract | 32.66 | 15.48 | NA | 2.01 | 50.15 | NA | 090
51595 |  | A | Remove bladder/revise tract | 37.14 | 16.93 | NA | 2.23 | 56.30 | NA | 090
51596 |  | A | Remove bladder/create pouch | 39.52 | 18.20 | NA | 2.39 | 60.11 | NA | 090
51597 |  | A | Removal of pelvic structures | 38.35 | 17.93 | NA | 2.49 | 58.77 | NA | 090
51600 |  | A | Injection for bladder x-ray | 0.88 | 0.30 | 14.75 | 0.04 | 1.22 | 15.67 | 000
51605 |  | A | Preparation for bladder xray | 0.64 | 0.22 | 15.45 | 0.04 | 0.90 | 16.13 | 000
51610 |  | A | Injection for bladder x-ray | 1.05 | 0.36 | 15.23 | 0.05 | 1.46 | 16.33 | 000
51700 |  | A | Irrigation of bladder | 0.88 | 0.33 | 3.74 | 0.05 | 1.26 | 4.67 | 000
51705 |  | A | Change of bladder tube | 1.02 | 1.25 | 2.50 | 0.06 | 2.33 | 3.58 | 010
51710 |  | A | Change of bladder tube | 1.49 | 1.39 | 4.72 | 0.09 | 2.97 | 6.30 | 010
51715 |  | A | Endoscopic injection/implant | 3.74 | 1.28 | 4.20 | 0.24 | 5.26 | 8.18 | 000
51720 |  | A | Treatment of bladder lesion | 1.96 | 0.66 | 4.03 | 0.12 | 2.74 | 6.11 | 000
51725 |  | A | Simple cystometrogram | 1.51 | NA | 5.50 | 0.13 | NA | 7.14 | 000
51725 | 26 | A | Simple cystometrogram | 1.51 | 0.52 | 0.52 | 0.10 | 2.13 | 2.13 | 000
51725 | TC | A | Simple cystometrogram | 0.00 | NA | 4.98 | 0.03 | NA | 5.01 | 000
51726 |  | A | Complex cystometrogram | 1.71 | NA | 4.33 | 0.15 | NA | 6.19 | 000
51726 | 26 | A | Complex cystometrogram | 1.71 | 0.59 | 0.59 | 0.11 | 2.41 | 2.41 | 000
51726 | TC | A | Complex cystometrogram | 0.00 | NA | 3.74 | 0.04 | NA | 3.78 | 000
51736 |  | A | Urine flow measurement | 0.61 | NA | 0.99 | 0.05 | NA | 1.65 | 000
51736 | 26 | A | Urine flow measurement | 0.61 | 0.21 | 0.21 | 0.04 | 0.86 | 0.86 | 000
51736 | TC | A | Urine flow measurement | 0.00 | NA | 0.78 | 0.01 | NA | 0.79 | 000
51741 |  | A | Electro-uroflowmetry, first | 1.14 | NA | 1.75 | 0.09 | NA | 2.98 | 000
51741 | 26 | A | Electro-uroflowmetry, first | 1.14 | 0.39 | 0.39 | 0.07 | 1.60 | 1.60 | 000
51741 | TC | A | Electro-uroflowmetry, first | 0.00 | NA | 1.36 | 0.02 | NA | 1.38 | 000
51772 |  | A | Urethra pressure profile | 1.61 | NA | 4.42 | 0.16 | NA | 6.19 | 000
51772 | 26 | A | Urethra pressure profile | 1.61 | 0.58 | 0.58 | 0.12 | 2.31 | 2.31 | 000
51772 | TC | A | Urethra pressure profile | 0.00 | NA | 3.84 | 0.04 | NA | 3.88 | 000
51784 |  | A | Anal/urinary muscle study | 1.53 | NA | 3.08 | 0.13 | NA | 4.74 | 000
51784 | 26 | A | Anal/urinary muscle study | 1.53 | 0.53 | 0.53 | 0.10 | 2.16 | 2.16 | 000
51784 | TC | A | Anal/urinary muscle study | 0.00 | NA | 2.55 | 0.03 | NA | 2.58 | 000
51785 |  | A | Anal/urinary muscle study | 1.53 | NA | 3.12 | 0.12 | NA | 4.77 | 000
51785 | 26 | A | Anal/urinary muscle study | 1.53 | 0.53 | 0.53 | 0.09 | 2.15 | 2.15 | 000
51785 | TC | A | Anal/urinary muscle study | 0.00 | NA | 2.59 | 0.03 | NA | 2.62 | 000
51792 |  | A | Urinary reflex study | 1.10 | NA | 3.18 | 0.20 | NA | 4.48 | 000
51792 | 26 | A | Urinary reflex study | 1.10 | 0.44 | 0.44 | 0.09 | 1.63 | 1.63 | 000
51792 | TC | A | Urinary reflex study | 0.00 | NA | 2.74 | 0.11 | NA | 2.85 | 000
51795 |  | A | Urine voiding pressure study | 1.53 | NA | 4.53 | 0.18 | NA | 6.24 | 000
51795 | 26 | A | Urine voiding pressure study | 1.53 | 0.53 | 0.53 | 0.10 | 2.16 | 2.16 | 000
51795 | TC | A | Urine voiding pressure study | 0.00 | NA | 4.00 | 0.08 | NA | 4.08 | 000
51797 |  | A | Intraabdominal pressure test | 1.60 | NA | 4.48 | 0.14 | NA | 6.22 | 000
51797 | 26 | A | Intraabdominal pressure test | 1.60 | 0.55 | 0.55 | 0.10 | 2.25 | 2.25 | 000
51797 | TC | A | Intraabdominal pressure test | 0.00 | NA | 3.93 | 0.04 | NA | 3.97 | 000
51800 |  | A | Revision of bladder/urethra | 17.42 | 9.26 | NA | 1.17 | 27.85 | NA | 090
51820 |  | A | Revision of urinary tract | 17.89 | 10.78 | NA | 1.45 | 30.12 | NA | 090
51840 |  | A | Attach bladder/urethra | 10.71 | 6.65 | NA | 0.87 | 18.23 | NA | 090
51841 |  | A | Attach bladder/urethra | 13.03 | 8.36 | NA | 1.04 | 22.43 | NA | 090
51845 |  | A | Repair bladder neck | 9.73 | 6.56 | NA | 0.62 | 16.91 | NA | 090
51860 |  | A | Repair of bladder wound | 12.02 | 7.66 | NA | 0.89 | 20.57 | NA | 090
51865 |  | A | Repair of bladder wound | 15.04 | 8.55 | NA | 1.01 | 24.60 | NA | 090
51880 |  | A | Repair of bladder opening | 7.66 | 5.56 | NA | 0.54 | 13.76 | NA | 090
51900 |  | A | Repair bladder/vagina lesion | 12.97 | 7.93 | NA | 0.87 | 21.77 | NA | 090
51920 |  | A | Close bladder-uterus fistula | 11.81 | 7.67 | NA | 0.86 | 20.34 | NA | 090
51925 |  | A | Hysterectomy/bladder repair | 15.58 | 9.17 | NA | 1.48 | 26.23 | NA | 090
51940 |  | A | Correction of bladder defect | 28.43 | 14.31 | NA | 1.97 | 44.71 | NA | 090
51960 |  | A | Revision of bladder & bowel | 23.01 | 12.58 | NA | 1.41 | 37.00 | NA | 090
51980 |  | A | Construct bladder opening | 11.36 | 7.01 | NA | 0.74 | 19.11 | NA | 090
51990 |  | A | Laparo urethral suspension | 12.50 | 6.53 | NA | 1.02 | 20.05 | NA | 090
51992 |  | A | Laparo sling operation | 14.01 | 6.54 | NA | 0.93 | 21.48 | NA | 090
52000 |  | A | Cystoscopy | 2.01 | 0.68 | 3.20 | 0.12 | 2.81 | 5.33 | 000
52005 |  | A | Cystoscopy & ureter catheter | 2.37 | 0.79 | 4.97 | 0.15 | 3.31 | 7.49 | 000
52007 |  | A | Cystoscopy and biopsy | 3.02 | 1.01 | NA | 0.18 | 4.21 | NA | 000
52010 |  | A | Cystoscopy & duct catheter | 3.02 | 1.02 | 5.34 | 0.18 | 4.22 | 8.54 | 000
52204 |  | A | Cystoscopy | 2.37 | 0.80 | 5.72 | 0.15 | 3.32 | 8.24 | 000
52214 |  | A | Cystoscopy and treatment | 3.71 | 1.24 | 6.08 | 0.22 | 5.17 | 10.01 | 000
52224 |  | A | Cystoscopy and treatment | 3.14 | 1.05 | 5.94 | 0.18 | 4.37 | 9.26 | 000
52234 |  | A | Cystoscopy and treatment | 4.63 | 1.55 | 6.86 | 0.27 | 6.45 | 11.76 | 000
52235 |  | A | Cystoscopy and treatment | 5.45 | 1.83 | 7.15 | 0.32 | 7.60 | 12.92 | 000
52240 |  | A | Cystoscopy and treatment | 9.72 | 3.26 | 8.58 | 0.58 | 13.56 | 18.88 | 000
52250 |  | A | Cystoscopy and radiotracer | 4.50 | 1.51 | NA | 0.27 | 6.28 | NA | 000
52260 |  | A | Cystoscopy and treatment | 3.92 | 1.32 | NA | 0.23 | 5.47 | NA | 000
52265 |  | A | Cystoscopy and treatment | 2.94 | 0.99 | 3.62 | 0.18 | 4.11 | 6.74 | 000
52270 |  | A | Cystoscopy & revise urethra | 3.37 | 1.13 | 6.47 | 0.20 | 4.70 | 10.04 | 000
52275 |  | A | Cystoscopy & revise urethra | 4.70 | 1.57 | 6.96 | 0.28 | 6.55 | 11.94 | 000
52276 |  | A | Cystoscopy and treatment | 5.00 | 1.67 | 7.06 | 0.30 | 6.97 | 12.36 | 000
52277 |  | A | Cystoscopy and treatment | 6.17 | 2.10 | NA | 0.38 | 8.65 | NA | 000
52281 |  | A | Cystoscopy and treatment | 2.80 | 0.94 | 3.62 | 0.17 | 3.91 | 6.59 | 000
52282 |  | A | Cystoscopy, implant stent | 6.40 | 2.15 | 7.23 | 0.38 | 8.93 | 14.01 | 000
52283 |  | A | Cystoscopy and treatment | 3.74 | 1.26 | 6.37 | 0.22 | 5.22 | 10.33 | 000
52285 |  | A | Cystoscopy and treatment | 3.61 | 1.21 | 6.58 | 0.22 | 5.04 | 10.41 | 000
52290 |  | A | Cystoscopy and treatment | 4.59 | 1.55 | NA | 0.27 | 6.41 | NA | 000
52300 |  | A | Cystoscopy and treatment | 5.31 | 1.78 | NA | 0.32 | 7.41 | NA | 000
52301 |  | A | Cystoscopy and treatment | 5.51 | 1.79 | NA | 0.39 | 7.69 | NA | 000
52305 |  | A | Cystoscopy and treatment | 5.31 | 1.78 | NA | 0.31 | 7.40 | NA | 000
52310 |  | A | Cystoscopy and treatment | 2.81 | 0.94 | 14.32 | 0.17 | 3.92 | 17.30 | 000
52315 |  | A | Cystoscopy and treatment | 5.21 | 1.75 | 15.30 | 0.31 | 7.27 | 20.82 | 000
52317 |  | A | Remove bladder stone | 6.72 | 2.25 | 24.35 | 0.40 | 9.37 | 31.47 | 000
52318 |  | A | Remove bladder stone | 9.19 | 3.08 | NA | 0.54 | 12.81 | NA | 000
52320 |  | A | Cystoscopy and treatment | 4.70 | 1.58 | NA | 0.28 | 6.56 | NA | 000
52325 |  | A | Cystoscopy, stone removal | 6.16 | 2.06 | NA | 0.37 | 8.59 | NA | 000
52327 |  | A | Cystoscopy, inject material | 5.19 | 1.77 | NA | 0.32 | 7.28 | NA | 000
52330 |  | A | Cystoscopy and treatment | 5.04 | 1.69 | 19.35 | 0.30 | 7.03 | 24.69 | 000
52332 |  | A | Cystoscopy and treatment | 2.83 | 0.95 | 29.05 | 0.17 | 3.95 | 32.05 | 000
52334 |  | A | Create passage to kidney | 4.83 | 1.62 | NA | 0.28 | 6.73 | NA | 000
52341 |  | A | Cysto w/ureter stricture tx | 6.00 | 2.37 | NA | 0.34 | 8.71 | NA | 000
52342 |  | A | Cysto w/up stricture tx | 6.50 | 2.57 | NA | 0.36 | 9.43 | NA | 000
52343 |  | A | Cysto w/renal stricture tx | 7.20 | 2.85 | NA | 0.40 | 10.45 | NA | 000
52344 |  | A | Cysto/uretero, stone remove | 7.70 | 3.04 | NA | 0.42 | 11.16 | NA | 000
52345 |  | A | Cysto/uretero w/up stricture | 8.20 | 3.24 | NA | 0.46 | 11.90 | NA | 000
52346 |  | A | Cystouretero w/renal strict | 9.23 | 3.65 | NA | 0.51 | 13.39 | NA | 000
52351 |  | A | Cystouretro & or pyeloscope | 5.86 | 1.97 | NA | 0.32 | 8.15 | NA | 000
52352 |  | A | Cystouretro w/stone remove | 6.88 | 2.31 | NA | 0.38 | 9.57 | NA | 000
52353 |  | A | Cystouretero w/lithotripsy | 7.97 | 2.67 | NA | 0.44 | 11.08 | NA | 000
52354 |  | A | Cystouretero w/biopsy | 7.34 | 2.46 | NA | 0.41 | 10.21 | NA | 000
52355 |  | A | Cystouretero w/excise tumor | 8.82 | 2.96 | NA | 0.50 | 12.28 | NA | 000
52400 |  | A | Cystouretero w/congen repr | 9.68 | 5.45 | NA | 0.53 | 15.66 | NA | 090
52450 |  | A | Incision of prostate | 7.64 | 6.17 | NA | 0.46 | 14.27 | NA | 090
52500 |  | A | Revision of bladder neck | 8.47 | 6.44 | NA | 0.50 | 15.41 | NA | 090
52510 |  | A | Dilation prostatic urethra | 6.72 | 5.50 | NA | 0.40 | 12.62 | NA | 090
52601 |  | A | Prostatectomy (TURP) | 12.37 | 7.76 | NA | 0.74 | 20.87 | NA | 090
52606 |  | A | Control postop bleeding | 8.13 | 5.93 | NA | 0.49 | 14.55 | NA | 090
52612 |  | A | Prostatectomy, first stage | 7.98 | 6.29 | NA | 0.48 | 14.75 | NA | 090
52614 |  | A | Prostatectomy, second stage | 6.84 | 5.89 | NA | 0.41 | 13.14 | NA | 090
52620 |  | A | Remove residual prostate | 6.61 | 5.83 | NA | 0.39 | 12.83 | NA | 090
52630 |  | A | Remove prostate regrowth | 7.26 | 6.05 | NA | 0.43 | 13.74 | NA | 090
52640 |  | A | Relieve bladder contracture | 6.62 | 5.40 | NA | 0.39 | 12.41 | NA | 090
52647 |  | A | Laser surgery of prostate | 10.36 | 5.33 | 57.84 | 0.61 | 16.30 | 68.81 | 090
52648 |  | A | Laser surgery of prostate | 11.21 | 7.39 | NA | 0.66 | 19.26 | NA | 090
52700 |  | A | Drainage of prostate abscess | 6.80 | 5.98 | NA | 0.41 | 13.19 | NA | 090
53000 |  | A | Incision of urethra | 2.28 | 2.46 | 7.27 | 0.13 | 4.87 | 9.68 | 010
53010 |  | A | Incision of urethra | 3.64 | 3.97 | NA | 0.20 | 7.81 | NA | 090
53020 |  | A | Incision of urethra | 1.77 | 0.66 | 3.91 | 0.11 | 2.54 | 5.79 | 000
53025 |  | A | Incision of urethra | 1.13 | 0.44 | 4.44 | 0.07 | 1.64 | 5.64 | 000
53040 |  | A | Drainage of urethra abscess | 6.40 | 7.92 | 12.82 | 0.41 | 14.73 | 19.63 | 090
53060 |  | A | Drainage of urethra abscess | 2.63 | 3.03 | 6.22 | 0.23 | 5.89 | 9.08 | 010
53080 |  | A | Drainage of urinary leakage | 6.29 | 7.84 | NA | 0.42 | 14.55 | NA | 090
53085 |  | A | Drainage of urinary leakage | 10.27 | 9.30 | NA | 0.67 | 20.24 | NA | 090
53200 |  | A | Biopsy of urethra | 2.59 | 0.96 | 5.28 | 0.17 | 3.72 | 8.04 | 000
53210 |  | A | Removal of urethra | 12.57 | 7.75 | NA | 0.81 | 21.13 | NA | 090
53215 |  | A | Removal of urethra | 15.58 | 8.41 | NA | 0.93 | 24.92 | NA | 090
53220 |  | A | Treatment of urethra lesion | 7.00 | 5.35 | NA | 0.44 | 12.79 | NA | 090
53230 |  | A | Removal of urethra lesion | 9.58 | 6.09 | NA | 0.60 | 16.27 | NA | 090
53235 |  | A | Removal of urethra lesion | 10.14 | 6.33 | NA | 0.60 | 17.07 | NA | 090
53240 |  | A | Surgery for urethra pouch | 6.45 | 4.92 | NA | 0.42 | 11.79 | NA | 090
53250 |  | A | Removal of urethra gland | 5.89 | 4.21 | NA | 0.35 | 10.45 | NA | 090
53260 |  | A | Treatment of urethra lesion | 2.98 | 2.33 | 5.88 | 0.23 | 5.54 | 9.09 | 010
53265 |  | A | Treatment of urethra lesion | 3.12 | 2.28 | 6.20 | 0.20 | 5.60 | 9.52 | 010
53270 |  | A | Removal of urethra gland | 3.09 | 2.41 | 5.55 | 0.21 | 5.71 | 8.85 | 010
53275 |  | A | Repair of urethra defect | 4.53 | 3.22 | NA | 0.28 | 8.03 | NA | 010
53400 |  | A | Revise urethra, stage 1 | 12.77 | 7.82 | NA | 0.85 | 21.44 | NA | 090
53405 |  | A | Revise urethra, stage 2 | 14.48 | 8.12 | NA | 0.91 | 23.51 | NA | 090
53410 |  | A | Reconstruction of urethra | 16.44 | 8.72 | NA | 0.99 | 26.15 | NA | 090
53415 |  | A | Reconstruction of urethra | 19.41 | 9.63 | NA | 1.16 | 30.20 | NA | 090
53420 |  | A | Reconstruct urethra, stage 1 | 14.08 | 8.41 | NA | 0.90 | 23.39 | NA | 090
53425 |  | A | Reconstruct urethra, stage 2 | 15.98 | 8.93 | NA | 0.97 | 25.88 | NA | 090
53430 |  | A | Reconstruction of urethra | 16.34 | 8.88 | NA | 1.01 | 26.23 | NA | 090
53440 |  | A | Correct bladder function | 12.34 | 7.66 | NA | 0.73 | 20.73 | NA | 090
53442 |  | A | Remove perineal prosthesis | 8.27 | 5.81 | NA | 0.55 | 14.63 | NA | 090
53443 |  | A | Reconstruction of urethra | 19.89 | 9.44 | NA | 1.25 | 30.58 | NA | 090
53445 |  | A | Correct urine flow control | 14.06 | 8.26 | NA | 0.84 | 23.16 | NA | 090
53447 |  | A | Remove artificial sphincter | 13.17 | 7.55 | NA | 0.79 | 21.51 | NA | 090
53449 |  | A | Correct artificial sphincter | 9.70 | 6.38 | NA | 0.57 | 16.65 | NA | 090
53450 |  | A | Revision of urethra | 6.14 | 4.84 | NA | 0.37 | 11.35 | NA | 090
53460 |  | A | Revision of urethra | 7.12 | 5.21 | NA | 0.43 | 12.76 | NA | 090
53502 |  | A | Repair of urethra injury | 7.63 | 5.42 | NA | 0.50 | 13.55 | NA | 090
53505 |  | A | Repair of urethra injury | 7.63 | 5.35 | NA | 0.46 | 13.44 | NA | 090
53510 |  | A | Repair of urethra injury | 10.11 | 6.41 | NA | 0.60 | 17.12 | NA | 090
53515 |  | A | Repair of urethra injury | 13.31 | 7.29 | NA | 0.83 | 21.43 | NA | 090
53520 |  | A | Repair of urethra defect | 8.68 | 5.82 | NA | 0.53 | 15.03 | NA | 090
53600 |  | A | Dilate urethra stricture | 1.21 | 0.50 | 3.94 | 0.07 | 1.78 | 5.22 | 000
53601 |  | A | Dilate urethra stricture | 0.98 | 0.43 | 3.87 | 0.06 | 1.47 | 4.91 | 000
53605 |  | A | Dilate urethra stricture | 1.28 | 0.43 | NA | 0.08 | 1.79 | NA | 000
53620 |  | A | Dilate urethra stricture | 1.62 | 0.54 | 5.85 | 0.10 | 2.26 | 7.57 | 000
53621 |  | A | Dilate urethra stricture | 1.35 | 0.45 | 5.87 | 0.08 | 1.88 | 7.30 | 000
53660 |  | A | Dilation of urethra | 0.71 | 0.34 | 3.72 | 0.04 | 1.09 | 4.47 | 000
53661 |  | A | Dilation of urethra | 0.72 | 0.24 | 3.77 | 0.04 | 1.00 | 4.53 | 000
53665 |  | A | Dilation of urethra | 0.76 | 0.26 | NA | 0.05 | 1.07 | NA | 000
53670 |  | A | Insert urinary catheter | 0.50 | 0.21 | 3.48 | 0.03 | 0.74 | 4.01 | 000
53675 |  | A | Insert urinary catheter | 1.47 | 0.48 | 4.70 | 0.09 | 2.04 | 6.26 | 000
53850 |  | A | Prostatic microwave thermotx | 9.45 | 4.98 | 82.83 | 0.56 | 14.99 | 92.84 | 090
53852 |  | A | Prostatic rf thermotx | 9.88 | 5.23 | 71.16 | 0.58 | 15.69 | 81.62 | 090
53899 |  | C | Urology surgery procedure | 0.00 | 0.00 | 0.00 | 0.00 | 0.00 | 0.00 | YYY
54000 |  | A | Slitting of prepuce | 1.54 | 1.39 | 5.42 | 0.10 | 3.03 | 7.06 | 010
54001 |  | A | Slitting of prepuce | 2.19 | 2.01 | 6.02 | 0.14 | 4.34 | 8.35 | 010
54015 |  | A | Drain penis lesion | 5.32 | 3.07 | 6.85 | 0.33 | 8.72 | 12.50 | 010
54050 |  | A | Destruction, penis lesion(s) | 1.24 | 0.50 | 2.64 | 0.07 | 1.81 | 3.95 | 010
54055 |  | A | Destruction, penis lesion(s) | 1.22 | 1.40 | 6.48 | 0.07 | 2.69 | 7.77 | 010
54056 |  | A | Cryosurgery, penis lesion(s) | 1.24 | 0.53 | 2.92 | 0.06 | 1.83 | 4.22 | 010
54057 |  | A | Laser surg, penis lesion(s) | 1.24 | 1.30 | 2.92 | 0.08 | 2.62 | 4.24 | 010
54060 |  | A | Excision of penis lesion(s) | 1.93 | 1.56 | 5.37 | 0.12 | 3.61 | 7.42 | 010
54065 |  | A | Destruction, penis lesion(s) | 2.42 | 2.08 | 5.28 | 0.13 | 4.63 | 7.83 | 010
54100 |  | A | Biopsy of penis | 1.90 | 0.74 | 3.57 | 0.10 | 2.74 | 5.57 | 000
54105 |  | A | Biopsy of penis | 3.50 | 2.09 | 6.24 | 0.21 | 5.80 | 9.95 | 010
54110 |  | A | Treatment of penis lesion | 10.13 | 7.76 | NA | 0.60 | 18.49 | NA | 090
54111 |  | A | Treat penis lesion, graft | 13.57 | 8.81 | NA | 0.79 | 23.17 | NA | 090
54112 |  | A | Treat penis lesion, graft | 15.86 | 9.64 | NA | 0.94 | 26.44 | NA | 090
54115 |  | A | Treatment of penis lesion | 6.15 | 6.49 | 10.30 | 0.39 | 13.03 | 16.84 | 090
54120 |  | A | Partial removal of penis | 9.97 | 7.69 | NA | 0.60 | 18.26 | NA | 090
54125 |  | A | Removal of penis | 13.53 | 8.86 | NA | 0.81 | 23.20 | NA | 090
54130 |  | A | Remove penis & nodes | 20.14 | 11.35 | NA | 1.19 | 32.68 | NA | 090
54135 |  | A | Remove penis & nodes | 26.36 | 13.47 | NA | 1.58 | 41.41 | NA | 090
54150 |  | A | Circumcision | 1.81 | 1.91 | 7.90 | 0.17 | 3.89 | 9.88 | 010
54152 |  | A | Circumcision | 2.31 | 1.71 | NA | 0.16 | 4.18 | NA | 010
54160 |  | A | Circumcision | 2.48 | 1.71 | 5.89 | 0.16 | 4.35 | 8.53 | 010
54161 |  | A | Circumcision | 3.27 | 1.99 | NA | 0.20 | 5.46 | NA | 010
54200 |  | A | Treatment of penis lesion | 1.06 | 0.37 | 2.62 | 0.06 | 1.49 | 3.74 | 010
54205 |  | A | Treatment of penis lesion | 7.93 | 7.15 | NA | 0.47 | 15.55 | NA | 090
54220 |  | A | Treatment of penis lesion | 2.42 | 1.00 | 1.94 | 0.15 | 3.57 | 4.51 | 000
54230 |  | A | Prepare penis study | 1.34 | 0.45 | NA | 0.08 | 1.87 | NA | 000
54231 |  | A | Dynamic cavernosometry | 2.04 | 0.80 | 2.19 | 0.14 | 2.98 | 4.37 | 000
54235 |  | A | Penile injection | 1.19 | 0.40 | 1.11 | 0.07 | 1.66 | 2.37 | 000
54240 |  | A | Penis study | 1.31 | NA | 1.19 | 0.13 | NA | 2.63 | 000
54240 | 26 | A | Penis study | 1.31 | 0.45 | 0.45 | 0.08 | 1.84 | 1.84 | 000
54240 | TC | A | Penis study | 0.00 | NA | 0.74 | 0.05 | NA | 0.79 | 000
54250 |  | A | Penis study | 2.22 | NA | 3.37 | 0.16 | NA | 5.75 | 000
54250 | 26 | A | Penis study | 2.22 | 0.74 | 0.74 | 0.14 | 3.10 | 3.10 | 000
54250 | TC | A | Penis study | 0.00 | NA | 2.63 | 0.02 | NA | 2.65 | 000
54300 |  | A | Revision of penis | 10.41 | 8.42 | NA | 0.64 | 19.47 | NA | 090
54304 |  | A | Revision of penis | 12.49 | 9.50 | NA | 0.74 | 22.73 | NA | 090
54308 |  | A | Reconstruction of urethra | 11.83 | 9.16 | NA | 0.70 | 21.69 | NA | 090
54312 |  | A | Reconstruction of urethra | 13.57 | 10.23 | NA | 0.81 | 24.61 | NA | 090
54316 |  | A | Reconstruction of urethra | 16.82 | 11.67 | NA | 1.00 | 29.49 | NA | 090
54318 |  | A | Reconstruction of urethra | 11.25 | 9.18 | NA | 1.15 | 21.58 | NA | 090
54322 |  | A | Reconstruction of urethra | 13.01 | 8.75 | NA | 0.77 | 22.53 | NA | 090
54324 |  | A | Reconstruction of urethra | 16.31 | 11.64 | NA | 1.03 | 28.98 | NA | 090
54326 |  | A | Reconstruction of urethra | 15.72 | 10.09 | NA | 0.93 | 26.74 | NA | 090
54328 |  | A | Revise penis/urethra | 15.65 | 10.43 | NA | 0.92 | 27.00 | NA | 090
54332 |  | A | Revise penis/urethra | 17.08 | 11.76 | NA | 1.01 | 29.85 | NA | 090
54336 |  | A | Revise penis/urethra | 20.04 | 16.59 | NA | 1.90 | 38.53 | NA | 090
54340 |  | A | Secondary urethral surgery | 8.91 | 7.79 | NA | 0.72 | 17.42 | NA | 090
54344 |  | A | Secondary urethral surgery | 15.94 | 11.73 | NA | 1.10 | 28.77 | NA | 090
54348 |  | A | Secondary urethral surgery | 17.15 | 12.66 | NA | 1.02 | 30.83 | NA | 090
54352 |  | A | Reconstruct urethra/penis | 24.74 | 15.36 | NA | 1.62 | 41.72 | NA | 090
54360 |  | A | Penis plastic surgery | 11.93 | 8.27 | NA | 0.72 | 20.92 | NA | 090
54380 |  | A | Repair penis | 13.18 | 9.18 | NA | 1.16 | 23.52 | NA | 090
54385 |  | A | Repair penis | 15.39 | 11.82 | NA | 0.71 | 27.92 | NA | 090
54390 |  | A | Repair penis and bladder | 21.61 | 13.41 | NA | 1.28 | 36.30 | NA | 090
54400 |  | A | Insert semi-rigid prosthesis | 8.99 | 6.12 | NA | 0.53 | 15.64 | NA | 090
54401 |  | A | Insert self-contd prosthesis | 10.28 | 6.93 | NA | 0.61 | 17.82 | NA | 090
54402 |  | A | Remove penis prosthesis | 9.21 | 6.23 | NA | 0.55 | 15.99 | NA | 090
54405 |  | A | Insert multi-comp prosthesis | 13.43 | 8.03 | NA | 0.80 | 22.26 | NA | 090
54407 |  | A | Remove multi-comp prosthesis | 13.34 | 7.62 | NA | 0.80 | 21.76 | NA | 090
54409 |  | A | Revise penis prosthesis | 12.20 | 7.37 | NA | 0.73 | 20.30 | NA | 090
54420 |  | A | Revision of penis | 11.42 | 8.18 | NA | 0.72 | 20.32 | NA | 090
54430 |  | A | Revision of penis | 10.15 | 7.71 | NA | 0.60 | 18.46 | NA | 090
54435 |  | A | Revision of penis | 6.12 | 5.81 | NA | 0.36 | 12.29 | NA | 090
54440 |  | C | Repair of penis | 0.00 | 0.00 | 0.00 | 0.00 | 0.00 | 0.00 | 090
54450 |  | A | Preputial stretching | 1.12 | 0.47 | 1.01 | 0.07 | 1.66 | 2.20 | 000
54500 |  | A | Biopsy of testis | 1.31 | 0.45 | 6.11 | 0.08 | 1.84 | 7.50 | 000
54505 |  | A | Biopsy of testis | 3.46 | 2.57 | NA | 0.21 | 6.24 | NA | 010
54510 |  | A | Removal of testis lesion | 5.45 | 3.43 | NA | 0.35 | 9.23 | NA | 090
54512 |  | A | Excise lesion testis | 8.58 | 4.92 | NA | 0.51 | 14.01 | NA | 090
54520 |  | A | Removal of testis | 5.23 | 3.55 | NA | 0.33 | 9.11 | NA | 090
54522 |  | A | Orchiectomy, partial | 9.50 | 5.88 | NA | 0.57 | 15.95 | NA | 090
54530 |  | A | Removal of testis | 8.58 | 5.18 | NA | 0.53 | 14.29 | NA | 090
54535 |  | A | Extensive testis surgery | 12.16 | 7.07 | NA | 0.83 | 20.06 | NA | 090
54550 |  | A | Exploration for testis | 7.78 | 4.70 | NA | 0.49 | 12.97 | NA | 090
54560 |  | A | Exploration for testis | 11.13 | 6.79 | NA | 0.79 | 18.71 | NA | 090
54600 |  | A | Reduce testis torsion | 7.01 | 4.21 | NA | 0.45 | 11.67 | NA | 090
54620 |  | A | Suspension of testis | 4.90 | 3.05 | NA | 0.31 | 8.26 | NA | 010
54640 |  | A | Suspension of testis | 6.90 | 4.21 | NA | 0.49 | 11.60 | NA | 090
54650 |  | A | Orchiopexy (Fowler-Stephens) | 11.45 | 7.11 | NA | 0.81 | 19.37 | NA | 090
54660 |  | A | Revision of testis | 5.11 | 3.26 | NA | 0.35 | 8.72 | NA | 090
54670 |  | A | Repair testis injury | 6.41 | 4.16 | NA | 0.41 | 10.98 | NA | 090
54680 |  | A | Relocation of testis(es) | 12.65 | 7.47 | NA | 0.94 | 21.06 | NA | 090
54690 |  | A | Laparoscopy, orchiectomy | 10.96 | 6.42 | NA | 0.99 | 18.37 | NA | 090
54692 |  | A | Laparoscopy, orchiopexy | 12.88 | 5.68 | NA | 0.87 | 19.43 | NA | 090
54699 |  | C | Laparoscope proc, testis | 0.00 | 0.00 | 0.00 | 0.00 | 0.00 | 0.00 | YYY
54700 |  | A | Drainage of scrotum | 3.43 | 3.32 | 8.16 | 0.23 | 6.98 | 11.82 | 010
54800 |  | A | Biopsy of epididymis | 2.33 | 0.81 | 6.31 | 0.14 | 3.28 | 8.78 | 000
54820 |  | A | Exploration of epididymis | 5.14 | 3.55 | NA | 0.33 | 9.02 | NA | 090
54830 |  | A | Remove epididymis lesion | 5.38 | 3.64 | NA | 0.34 | 9.36 | NA | 090
54840 |  | A | Remove epididymis lesion | 5.20 | 3.57 | NA | 0.31 | 9.08 | NA | 090
54860 |  | A | Removal of epididymis | 6.32 | 4.14 | NA | 0.38 | 10.84 | NA | 090
54861 |  | A | Removal of epididymis | 8.90 | 5.01 | NA | 0.52 | 14.43 | NA | 090
54900 |  | A | Fusion of spermatic ducts | 13.20 | 7.06 | NA | 1.34 | 21.60 | NA | 090
54901 |  | A | Fusion of spermatic ducts | 17.94 | 9.80 | NA | 1.83 | 29.57 | NA | 090
55000 |  | A | Drainage of hydrocele | 1.43 | 0.49 | 2.10 | 0.10 | 2.02 | 3.63 | 000
55040 |  | A | Removal of hydrocele | 5.36 | 3.40 | NA | 0.35 | 9.11 | NA | 090
55041 |  | A | Removal of hydroceles | 7.74 | 4.43 | NA | 0.50 | 12.67 | NA | 090
55060 |  | A | Repair of hydrocele | 5.52 | 3.44 | NA | 0.37 | 9.33 | NA | 090
55100 |  | A | Drainage of scrotum abscess | 2.13 | 3.56 | 9.32 | 0.15 | 5.84 | 11.60 | 010
55110 |  | A | Explore scrotum | 5.70 | 3.55 | NA | 0.36 | 9.61 | NA | 090
55120 |  | A | Removal of scrotum lesion | 5.09 | 3.32 | NA | 0.33 | 8.74 | NA | 090
55150 |  | A | Removal of scrotum | 7.22 | 4.52 | NA | 0.47 | 12.21 | NA | 090
55175 |  | A | Revision of scrotum | 5.24 | 3.66 | NA | 0.33 | 9.23 | NA | 090
55180 |  | A | Revision of scrotum | 10.72 | 6.39 | NA | 0.72 | 17.83 | NA | 090
55200 |  | A | Incision of sperm duct | 4.24 | 3.06 | NA | 0.25 | 7.55 | NA | 090
55250 |  | A | Removal of sperm duct(s) | 3.29 | 3.00 | 9.03 | 0.21 | 6.50 | 12.53 | 090
55300 |  | A | Prepare, sperm duct x-ray | 3.51 | 1.45 | NA | 0.20 | 5.16 | NA | 000
55400 |  | A | Repair of sperm duct | 8.49 | 5.17 | NA | 0.50 | 14.16 | NA | 090
55450 |  | A | Ligation of sperm duct | 4.12 | 2.42 | 7.52 | 0.24 | 6.78 | 11.88 | 010
55500 |  | A | Removal of hydrocele | 5.59 | 3.61 | NA | 0.43 | 9.63 | NA | 090
55520 |  | A | Removal of sperm cord lesion | 6.03 | 3.72 | NA | 0.56 | 10.31 | NA | 090
55530 |  | A | Revise spermatic cord veins | 5.66 | 3.74 | NA | 0.36 | 9.76 | NA | 090
55535 |  | A | Revise spermatic cord veins | 6.56 | 4.05 | NA | 0.42 | 11.03 | NA | 090
55540 |  | A | Revise hernia & sperm veins | 7.67 | 4.30 | NA | 0.74 | 12.71 | NA | 090
55550 |  | A | Laparo ligate spermatic vein | 6.57 | 3.34 | NA | 0.47 | 10.38 | NA | 090
55559 |  | C | Laparo proc, spermatic cord | 0.00 | 0.00 | 0.00 | 0.00 | 0.00 | 0.00 | YYY
55600 |  | A | Incise sperm duct pouch | 6.38 | 4.18 | NA | 0.38 | 10.94 | NA | 090
55605 |  | A | Incise sperm duct pouch | 7.96 | 5.13 | NA | 0.54 | 13.63 | NA | 090
55650 |  | A | Remove sperm duct pouch | 11.80 | 6.17 | NA | 0.72 | 18.69 | NA | 090
55680 |  | A | Remove sperm pouch lesion | 5.19 | 3.84 | NA | 0.31 | 9.34 | NA | 090
55700 |  | A | Biopsy of prostate | 1.57 | 0.53 | 3.75 | 0.10 | 2.20 | 5.42 | 000
55705 |  | A | Biopsy of prostate | 4.57 | 3.71 | NA | 0.26 | 8.54 | NA | 010
55720 |  | A | Drainage of prostate abscess | 7.64 | 5.92 | NA | 0.44 | 14.00 | NA | 090
55725 |  | A | Drainage of prostate abscess | 8.68 | 6.48 | NA | 0.51 | 15.67 | NA | 090
55801 |  | A | Removal of prostate | 17.80 | 9.33 | NA | 1.08 | 28.21 | NA | 090
55810 |  | A | Extensive prostate surgery | 22.58 | 11.34 | NA | 1.35 | 35.27 | NA | 090
55812 |  | A | Extensive prostate surgery | 27.51 | 13.82 | NA | 1.69 | 43.02 | NA | 090
55815 |  | A | Extensive prostate surgery | 30.46 | 14.38 | NA | 1.84 | 46.68 | NA | 090
55821 |  | A | Removal of prostate | 14.25 | 7.83 | NA | 0.85 | 22.93 | NA | 090
55831 |  | A | Removal of prostate | 15.62 | 8.32 | NA | 0.94 | 24.88 | NA | 090
55840 |  | A | Extensive prostate surgery | 22.69 | 11.76 | NA | 1.37 | 35.82 | NA | 090
55842 |  | A | Extensive prostate surgery | 24.38 | 12.37 | NA | 1.48 | 38.23 | NA | 090
55845 |  | A | Extensive prostate surgery | 28.55 | 13.70 | NA | 1.71 | 43.96 | NA | 090
55859 |  | A | Percut/needle insert, pros | 12.52 | 7.41 | NA | 0.74 | 20.67 | NA | 090
55860 |  | A | Surgical exposure, prostate | 14.45 | 8.41 | NA | 0.82 | 23.68 | NA | 090
55862 |  | A | Extensive prostate surgery | 18.39 | 9.45 | NA | 1.14 | 28.98 | NA | 090
55865 |  | A | Extensive prostate surgery | 22.87 | 11.07 | NA | 1.37 | 35.31 | NA | 090
55870 |  | A | Electroejaculation | 2.58 | 1.15 | 1.84 | 0.14 | 3.87 | 4.56 | 000
55873 |  | A | Cryoablate prostate | 17.80 | 9.99 | NA | 1.01 | 28.80 | NA | 090
55899 |  | C | Genital surgery procedure | 0.00 | 0.00 | 0.00 | 0.00 | 0.00 | 0.00 | YYY
55970 |  | N | Sex transformation, M to F | 0.00 | 0.00 | 0.00 | 0.00 | 0.00 | 0.00 | XXX
55980 |  | N | Sex transformation, F to M | 0.00 | 0.00 | 0.00 | 0.00 | 0.00 | 0.00 | XXX
56405 |  | A | I & D of vulva/perineum | 1.44 | 1.26 | 2.35 | 0.14 | 2.84 | 3.93 | 010
56420 |  | A | Drainage of gland abscess | 1.39 | 1.19 | 2.33 | 0.13 | 2.71 | 3.85 | 010
56440 |  | A | Surgery for vulva lesion | 2.84 | 2.32 | 3.58 | 0.28 | 5.44 | 6.70 | 010
56441 |  | A | Lysis of labial lesion(s) | 1.97 | 2.02 | 2.56 | 0.17 | 4.16 | 4.70 | 010
56501 |  | A | Destruction, vulva lesion(s) | 1.53 | 1.35 | 2.31 | 0.15 | 3.03 | 3.99 | 010
56515 |  | A | Destruction, vulva lesion(s) | 2.76 | 2.35 | 3.11 | 0.18 | 5.29 | 6.05 | 010
56605 |  | A | Biopsy of vulva/perineum | 1.10 | 0.50 | 1.79 | 0.11 | 1.71 | 3.00 | 000
56606 |  | A | Biopsy of vulva/perineum | 0.55 | 0.23 | 1.56 | 0.06 | 0.84 | 2.17 | ZZZ
56620 |  | A | Partial removal of vulva | 7.47 | 5.00 | NA | 0.76 | 13.23 | NA | 090
56625 |  | A | Complete removal of vulva | 8.40 | 5.92 | NA | 0.84 | 15.16 | NA | 090
56630 |  | A | Extensive vulva surgery | 12.36 | 7.84 | NA | 1.23 | 21.43 | NA | 090
56631 |  | A | Extensive vulva surgery | 16.20 | 10.53 | NA | 1.63 | 28.36 | NA | 090
56632 |  | A | Extensive vulva surgery | 20.29 | 12.33 | NA | 2.03 | 34.65 | NA | 090
56633 |  | A | Extensive vulva surgery | 16.47 | 9.51 | NA | 1.66 | 27.64 | NA | 090
56634 |  | A | Extensive vulva surgery | 17.88 | 11.26 | NA | 1.78 | 30.92 | NA | 090
56637 |  | A | Extensive vulva surgery | 21.97 | 13.02 | NA | 2.18 | 37.17 | NA | 090
56640 |  | A | Extensive vulva surgery | 22.17 | 12.70 | NA | 2.26 | 37.13 | NA | 090
56700 |  | A | Partial removal of hymen | 2.52 | 2.06 | 2.90 | 0.24 | 4.82 | 5.66 | 010
56720 |  | A | Incision of hymen | 0.68 | 0.70 | 1.67 | 0.07 | 1.45 | 2.42 | 000
56740 |  | A | Remove vagina gland lesion | 4.57 | 3.00 | 3.91 | 0.37 | 7.94 | 8.85 | 010
56800 |  | A | Repair of vagina | 3.89 | 2.73 | NA | 0.37 | 6.99 | NA | 010
56805 |  | A | Repair clitoris | 18.86 | 9.64 | NA | 1.82 | 30.32 | NA | 090
56810 |  | A | Repair of perineum | 4.13 | 2.83 | NA | 0.41 | 7.37 | NA | 010
57000 |  | A | Exploration of vagina | 2.97 | 2.35 | NA | 0.28 | 5.60 | NA | 010
57010 |  | A | Drainage of pelvic abscess | 6.03 | 3.86 | NA | 0.57 | 10.46 | NA | 090
57020 |  | A | Drainage of pelvic fluid | 1.50 | 0.65 | 1.61 | 0.15 | 2.30 | 3.26 | 000
57022 |  | A | I &d vaginal hematoma, ob | 2.56 | 1.58 | NA | 0.14 | 4.28 | NA | 010
57023 |  | A | I &d vag hematoma, trauma | 2.56 | 1.58 | NA | 0.14 | 4.28 | NA | 010
57061 |  | A | Destruction vagina lesion(s) | 1.25 | 1.24 | 2.25 | 0.13 | 2.62 | 3.63 | 010
57065 |  | A | Destruction vagina lesion(s) | 2.61 | 2.32 | 2.97 | 0.26 | 5.19 | 5.84 | 010
57100 |  | A | Biopsy of vagina | 1.20 | 0.52 | 1.56 | 0.10 | 1.82 | 2.86 | 000
57105 |  | A | Biopsy of vagina | 1.69 | 2.23 | 2.25 | 0.17 | 4.09 | 4.11 | 010
57106 |  | A | Remove vagina wall, partial | 6.36 | 2.55 | 2.55 | 0.58 | 9.49 | 9.49 | 090
57107 |  | A | Remove vagina tissue, part | 23.00 | 10.63 | NA | 2.17 | 35.80 | NA | 090
57109 |  | A | Vaginectomy partial w/nodes | 27.00 | 12.01 | NA | 1.97 | 40.98 | NA | 090
57110 |  | A | Remove vagina wall, complete | 14.29 | 7.53 | NA | 1.43 | 23.25 | NA | 090
57111 |  | A | Remove vagina tissue, compl | 27.00 | 12.71 | NA | 2.71 | 42.42 | NA | 090
57112 |  | A | Vaginectomy w/nodes, compl | 29.00 | 12.95 | NA | 2.19 | 44.14 | NA | 090
57120 |  | A | Closure of vagina | 7.41 | 4.75 | NA | 0.75 | 12.91 | NA | 090
57130 |  | A | Remove vagina lesion | 2.43 | 2.15 | NA | 0.23 | 4.81 | NA | 010
57135 |  | A | Remove vagina lesion | 2.67 | 2.25 | 2.95 | 0.26 | 5.18 | 5.88 | 010
57150 |  | A | Treat vagina infection | 0.55 | 0.22 | 1.00 | 0.06 | 0.83 | 1.61 | 000
57160 |  | A | Insert pessary/other device | 0.89 | 0.37 | 1.38 | 0.09 | 1.35 | 2.36 | 000
57170 |  | A | Fitting of diaphragm/cap | 0.91 | 0.35 | 1.42 | 0.09 | 1.35 | 2.42 | 000
57180 |  | A | Treat vaginal bleeding | 1.58 | 1.47 | 2.28 | 0.16 | 3.21 | 4.02 | 010
57200 |  | A | Repair of vagina | 3.94 | 3.03 | NA | 0.38 | 7.35 | NA | 090
57210 |  | A | Repair vagina/perineum | 5.17 | 3.54 | NA | 0.50 | 9.21 | NA | 090
57220 |  | A | Revision of urethra | 4.31 | 3.43 | NA | 0.42 | 8.16 | NA | 090
57230 |  | A | Repair of urethral lesion | 5.64 | 4.34 | NA | 0.50 | 10.48 | NA | 090
57240 |  | A | Repair bladder & vagina | 6.07 | 4.46 | NA | 0.53 | 11.06 | NA | 090
57250 |  | A | Repair rectum & vagina | 5.53 | 3.89 | NA | 0.54 | 9.96 | NA | 090
57260 |  | A | Repair of vagina | 8.27 | 5.06 | NA | 0.83 | 14.16 | NA | 090
57265 |  | A | Extensive repair of vagina | 11.34 | 7.10 | NA | 1.14 | 19.58 | NA | 090
57268 |  | A | Repair of bowel bulge | 6.76 | 4.40 | NA | 0.66 | 11.82 | NA | 090
57270 |  | A | Repair of bowel pouch | 12.11 | 6.45 | NA | 1.17 | 19.73 | NA | 090
57280 |  | A | Suspension of vagina | 15.04 | 7.62 | NA | 1.44 | 24.10 | NA | 090
57282 |  | A | Repair of vaginal prolapse | 8.86 | 5.31 | NA | 0.86 | 15.03 | NA | 090
57284 |  | A | Repair paravaginal defect | 12.70 | 7.28 | NA | 1.17 | 21.15 | NA | 090
57287 |  | A | Revise/remove sling repair | 10.71 | 7.13 | NA | 0.64 | 18.48 | NA | 090
57288 |  | A | Repair bladder defect | 13.02 | 6.95 | NA | 0.86 | 20.83 | NA | 090
57289 |  | A | Repair bladder & vagina | 11.58 | 6.89 | NA | 0.95 | 19.42 | NA | 090
57291 |  | A | Construction of vagina | 7.95 | 6.21 | NA | 0.78 | 14.94 | NA | 090
57292 |  | A | Construct vagina with graft | 13.09 | 7.45 | NA | 1.29 | 21.83 | NA | 090
57300 |  | A | Repair rectum-vagina fistula | 7.61 | 4.72 | NA | 0.70 | 13.03 | NA | 090
57305 |  | A | Repair rectum-vagina fistula | 13.77 | 6.94 | NA | 1.33 | 22.04 | NA | 090
57307 |  | A | Fistula repair & colostomy | 15.93 | 7.63 | NA | 1.59 | 25.15 | NA | 090
57308 |  | A | Fistula repair, transperine | 9.94 | 5.85 | NA | 0.91 | 16.70 | NA | 090
57310 |  | A | Repair urethrovaginal lesion | 6.78 | 4.69 | NA | 0.45 | 11.92 | NA | 090
57311 |  | A | Repair urethrovaginal lesion | 7.98 | 5.30 | NA | 0.51 | 13.79 | NA | 090
57320 |  | A | Repair bladder-vagina lesion | 8.01 | 5.38 | NA | 0.60 | 13.99 | NA | 090
57330 |  | A | Repair bladder-vagina lesion | 12.35 | 6.72 | NA | 0.86 | 19.93 | NA | 090
57335 |  | A | Repair vagina | 18.73 | 9.43 | NA | 1.66 | 29.82 | NA | 090
57400 |  | A | Dilation of vagina | 2.27 | 1.33 | NA | 0.22 | 3.82 | NA | 000
57410 |  | A | Pelvic examination | 1.75 | 1.09 | 2.64 | 0.14 | 2.98 | 4.53 | 000
57415 |  | A | Remove vaginal foreign body | 2.17 | 2.06 | 3.48 | 0.19 | 4.42 | 5.84 | 010
57452 |  | A | Examination of vagina | 0.99 | 0.46 | 1.60 | 0.10 | 1.55 | 2.69 | 000
57454 |  | A | Vagina examination & biopsy | 1.27 | 0.62 | 1.79 | 0.13 | 2.02 | 3.19 | 000
57460 |  | A | Cervix excision | 2.83 | 1.20 | 2.13 | 0.28 | 4.31 | 5.24 | 000
57500 |  | A | Biopsy of cervix | 0.97 | 0.50 | 2.12 | 0.10 | 1.57 | 3.19 | 000
57505 |  | A | Endocervical curettage | 1.14 | 1.27 | 1.95 | 0.12 | 2.53 | 3.21 | 010
57510 |  | A | Cauterization of cervix | 1.90 | 1.58 | 3.18 | 0.18 | 3.66 | 5.26 | 010
57511 |  | A | Cryocautery of cervix | 1.90 | 0.78 | 2.43 | 0.18 | 2.86 | 4.51 | 010
57513 |  | A | Laser surgery of cervix | 1.90 | 1.57 | 2.60 | 0.19 | 3.66 | 4.69 | 010
57520 |  | A | Conization of cervix | 4.04 | 2.87 | 4.28 | 0.41 | 7.32 | 8.73 | 090
57522 |  | A | Conization of cervix | 3.36 | 2.58 | 3.81 | 0.34 | 6.28 | 7.51 | 090
57530 |  | A | Removal of cervix | 4.79 | 3.65 | NA | 0.48 | 8.92 | NA | 090
57531 |  | A | Removal of cervix, radical | 28.00 | 13.63 | NA | 2.46 | 44.09 | NA | 090
57540 |  | A | Removal of residual cervix | 12.22 | 6.32 | NA | 1.21 | 19.75 | NA | 090
57545 |  | A | Remove cervix/repair pelvis | 13.03 | 6.90 | NA | 1.30 | 21.23 | NA | 090
57550 |  | A | Removal of residual cervix | 5.53 | 3.91 | NA | 0.55 | 9.99 | NA | 090
57555 |  | A | Remove cervix/repair vagina | 8.95 | 5.73 | NA | 0.89 | 15.57 | NA | 090
57556 |  | A | Remove cervix, repair bowel | 8.37 | 5.05 | NA | 0.80 | 14.22 | NA | 090
57700 |  | A | Revision of cervix | 3.55 | 2.53 | NA | 0.33 | 6.41 | NA | 090
57720 |  | A | Revision of cervix | 4.13 | 3.34 | NA | 0.41 | 7.88 | NA | 090
57800 |  | A | Dilation of cervical canal | 0.77 | 0.36 | 1.18 | 0.08 | 1.21 | 2.03 | 000
57820 |  | A | D & c of residual cervix | 1.67 | 2.24 | 2.53 | 0.17 | 4.08 | 4.37 | 010
58100 |  | A | Biopsy of uterus lining | 0.71 | 0.29 | 2.06 | 0.07 | 1.07 | 2.84 | 000
58120 |  | A | Dilation and curettage | 3.27 | 2.46 | 3.86 | 0.33 | 6.06 | 7.46 | 010
58140 |  | A | Removal of uterus lesion | 14.60 | 7.26 | NA | 1.46 | 23.32 | NA | 090
58145 |  | A | Removal of uterus lesion | 8.04 | 4.99 | NA | 0.80 | 13.83 | NA | 090
58150 |  | A | Total hysterectomy | 15.24 | 7.77 | NA | 1.53 | 24.54 | NA | 090
58152 |  | A | Total hysterectomy | 20.60 | 10.05 | NA | 1.52 | 32.17 | NA | 090
58180 |  | A | Partial hysterectomy | 15.29 | 7.72 | NA | 1.54 | 24.55 | NA | 090
58200 |  | A | Extensive hysterectomy | 21.59 | 11.52 | NA | 2.15 | 35.26 | NA | 090
58210 |  | A | Extensive hysterectomy | 28.85 | 14.52 | NA | 2.91 | 46.28 | NA | 090
58240 |  | A | Removal of pelvis contents | 38.39 | 19.57 | NA | 3.76 | 61.72 | NA | 090
58260 |  | A | Vaginal hysterectomy | 12.98 | 6.54 | NA | 1.23 | 20.75 | NA | 090
58262 |  | A | Vaginal hysterectomy | 14.77 | 7.32 | NA | 1.42 | 23.51 | NA | 090
58263 |  | A | Vaginal hysterectomy | 16.06 | 7.85 | NA | 1.55 | 25.46 | NA | 090
58267 |  | A | Hysterectomy & vagina repair | 17.04 | 8.25 | NA | 1.51 | 26.80 | NA | 090
58270 |  | A | Hysterectomy & vagina repair | 14.26 | 7.09 | NA | 1.37 | 22.72 | NA | 090
58275 |  | A | Hysterectomy/revise vagina | 15.76 | 7.64 | NA | 1.51 | 24.91 | NA | 090
58280 |  | A | Hysterectomy/revise vagina | 17.01 | 8.11 | NA | 1.54 | 26.66 | NA | 090
58285 |  | A | Extensive hysterectomy | 22.26 | 11.76 | NA | 1.88 | 35.90 | NA | 090
58300 |  | N | Insert intrauterine device | +1.01 | 0.40 | 1.37 | 0.10 | 1.51 | 2.48 | XXX
58301 |  | A | Remove intrauterine device | 1.27 | 0.52 | 1.57 | 0.13 | 1.92 | 2.97 | 000
58321 |  | A | Artificial insemination | 0.92 | 0.36 | 0.92 | 0.10 | 1.38 | 1.94 | 000
58322 |  | A | Artificial insemination | 1.10 | 0.44 | 1.04 | 0.11 | 1.65 | 2.25 | 000
58323 |  | A | Sperm washing | 0.23 | 0.10 | 0.53 | 0.02 | 0.35 | 0.78 | 000
58340 |  | A | Catheter for hysterography | 0.88 | 0.34 | 11.96 | 0.08 | 1.30 | 12.92 | 000
58345 |  | A | Reopen fallopian tube | 4.66 | 1.87 | NA | 0.36 | 6.89 | NA | 010
58350 |  | A | Reopen fallopian tube | 1.01 | 1.11 | 2.06 | 0.10 | 2.22 | 3.17 | 010
58353 |  | A | Endometr ablate, thermal | 3.56 | 2.26 | NA | 0.19 | 6.01 | NA | 010
58400 |  | A | Suspension of uterus | 6.36 | 4.09 | NA | 0.62 | 11.07 | NA | 090
58410 |  | A | Suspension of uterus | 12.73 | 6.75 | NA | 1.09 | 20.57 | NA | 090
58520 |  | A | Repair of ruptured uterus | 11.92 | 6.04 | NA | 1.17 | 19.13 | NA | 090
58540 |  | A | Revision of uterus | 14.64 | 7.29 | NA | 1.28 | 23.21 | NA | 090
58550 |  | A | Laparo-asst vag hysterectomy | 14.19 | 7.04 | NA | 1.44 | 22.67 | NA | 010
58551 |  | A | Laparoscopy, remove myoma | 14.21 | 6.95 | NA | 1.45 | 22.61 | NA | 010
58555 |  | A | Hysteroscopy, dx, sep proc | 3.33 | 1.52 | 2.90 | 0.34 | 5.19 | 6.57 | 000
58558 |  | A | Hysteroscopy, biopsy | 4.75 | 2.14 | 3.50 | 0.49 | 7.38 | 8.74 | 000
58559 |  | A | Hysteroscopy, lysis | 6.17 | 2.54 | 2.54 | 0.62 | 9.33 | 9.33 | 000
58560 |  | A | Hysteroscopy, resect septum | 7.00 | 3.02 | 3.02 | 0.71 | 10.73 | 10.73 | 000
58561 |  | A | Hysteroscopy, remove myoma | 10.00 | 4.27 | 4.27 | 1.02 | 15.29 | 15.29 | 000
58562 |  | A | Hysteroscopy, remove fb | 5.21 | 2.30 | NA | 0.52 | 8.03 | NA | 000
58563 |  | A | Hysteroscopy, ablation | 6.17 | 2.62 | 2.62 | 0.62 | 9.41 | 9.41 | 000
58578 |  | C | Laparo proc, uterus | 0.00 | 0.00 | 0.00 | 0.00 | 0.00 | 0.00 | YYY
58579 |  | C | Hysteroscope procedure | 0.00 | 0.00 | 0.00 | 0.00 | 0.00 | 0.00 | YYY
58600 |  | A | Division of fallopian tube | 5.60 | 3.43 | NA | 0.39 | 9.42 | NA | 090
58605 |  | A | Division of fallopian tube | 5.00 | 3.19 | NA | 0.33 | 8.52 | NA | 090
58611 |  | A | Ligate oviduct(s) add-on | 1.45 | 0.61 | NA | 0.07 | 2.13 | NA | ZZZ
58615 |  | A | Occlude fallopian tube(s) | 3.90 | 2.62 | NA | 0.40 | 6.92 | NA | 010
58660 |  | A | Laparoscopy, lysis | 11.29 | 5.48 | NA | 1.14 | 17.91 | NA | 090
58661 |  | A | Laparoscopy, remove adnexa | 11.05 | 5.42 | NA | 1.12 | 17.59 | NA | 010
58662 |  | A | Laparoscopy, excise lesions | 11.79 | 5.68 | NA | 1.18 | 18.65 | NA | 090
58670 |  | A | Laparoscopy, tubal cautery | 5.60 | 3.65 | NA | 0.55 | 9.80 | NA | 090
58671 |  | A | Laparoscopy, tubal block | 5.60 | 3.72 | NA | 0.56 | 9.88 | NA | 090
58672 |  | A | Laparoscopy, fimbrioplasty | 12.88 | 6.09 | NA | 1.22 | 20.19 | NA | 090
58673 |  | A | Laparoscopy, salpingostomy | 13.74 | 7.12 | NA | 1.40 | 22.26 | NA | 090
58679 |  | C | Laparo proc, oviduct-ovary | 0.00 | 0.00 | 0.00 | 0.00 | 0.00 | 0.00 | YYY
58700 |  | A | Removal of fallopian tube | 12.05 | 6.05 | NA | 0.64 | 18.74 | NA | 090
58720 |  | A | Removal of ovary/tube(s) | 11.36 | 5.92 | NA | 1.14 | 18.42 | NA | 090
58740 |  | A | Revise fallopian tube(s) | 14.00 | 7.22 | NA | 0.59 | 21.81 | NA | 090
58750 |  | A | Repair oviduct | 14.84 | 7.52 | NA | 1.52 | 23.88 | NA | 090
58752 |  | A | Revise ovarian tube(s) | 14.84 | 7.91 | NA | 1.51 | 24.26 | NA | 090
58760 |  | A | Remove tubal obstruction | 13.13 | 6.58 | NA | 1.34 | 21.05 | NA | 090
58770 |  | A | Create new tubal opening | 13.97 | 7.24 | NA | 1.42 | 22.63 | NA | 090
58800 |  | A | Drainage of ovarian cyst(s) | 4.14 | 4.40 | 4.55 | 0.36 | 8.90 | 9.05 | 090
58805 |  | A | Drainage of ovarian cyst(s) | 5.88 | 3.53 | NA | 0.56 | 9.97 | NA | 090
58820 |  | A | Drain ovary abscess, open | 4.22 | 3.30 | NA | 0.29 | 7.81 | NA | 090
58822 |  | A | Drain ovary abscess, percut | 10.13 | 5.16 | NA | 0.92 | 16.21 | NA | 090
58823 |  | A | Drain pelvic abscess, percut | 3.38 | 3.18 | NA | 0.18 | 6.74 | NA | 000
58825 |  | A | Transposition, ovary(s) | 10.98 | 5.96 | NA | 0.62 | 17.56 | NA | 090
58900 |  | A | Biopsy of ovary(s) | 5.99 | 3.62 | NA | 0.56 | 10.17 | NA | 090
58920 |  | A | Partial removal of ovary(s) | 11.36 | 5.62 | NA | 0.68 | 17.66 | NA | 090
58925 |  | A | Removal of ovarian cyst(s) | 11.36 | 5.70 | NA | 1.14 | 18.20 | NA | 090
58940 |  | A | Removal of ovary(s) | 7.29 | 4.06 | NA | 0.73 | 12.08 | NA | 090
58943 |  | A | Removal of ovary(s) | 18.43 | 9.79 | NA | 1.86 | 30.08 | NA | 090
58950 |  | A | Resect ovarian malignancy | 16.93 | 9.26 | NA | 1.55 | 27.74 | NA | 090
58951 |  | A | Resect ovarian malignancy | 22.38 | 11.66 | NA | 2.20 | 36.24 | NA | 090
58952 |  | A | Resect ovarian malignancy | 25.01 | 12.80 | NA | 2.50 | 40.31 | NA | 090
58960 |  | A | Exploration of abdomen | 14.65 | 8.39 | NA | 1.47 | 24.51 | NA | 090
58970 |  | A | Retrieval of oocyte | 3.53 | 1.81 | 8.66 | 0.36 | 5.70 | 12.55 | 000
58974 |  | C | Transfer of embryo | 0.00 | 0.00 | 0.00 | 0.00 | 0.00 | 0.00 | 000
58976 |  | A | Transfer of embryo | 3.83 | 1.51 | 2.25 | 0.39 | 5.73 | 6.47 | 000
58999 |  | C | Genital surgery procedure | 0.00 | 0.00 | 0.00 | 0.00 | 0.00 | 0.00 | YYY
59000 |  | A | Amniocentesis | 1.30 | 0.64 | 1.95 | 0.23 | 2.17 | 3.48 | 000
59012 |  | A | Fetal cord puncture,prenatal | 3.45 | 1.70 | NA | 0.62 | 5.77 | NA | 000
59015 |  | A | Chorion biopsy | 2.20 | 0.95 | 1.39 | 0.40 | 3.55 | 3.99 | 000
59020 |  | A | Fetal contract stress test | 0.66 | NA | 0.79 | 0.20 | NA | 1.65 | 000
59020 | 26 | A | Fetal contract stress test | 0.66 | 0.28 | 0.28 | 0.12 | 1.06 | 1.06 | 000
59020 | TC | A | Fetal contract stress test | 0.00 | NA | 0.51 | 0.08 | NA | 0.59 | 000
59025 |  | A | Fetal non-stress test | 0.53 | NA | 0.45 | 0.12 | NA | 1.10 | 000
59025 | 26 | A | Fetal non-stress test | 0.53 | 0.22 | 0.22 | 0.10 | 0.85 | 0.85 | 000
59025 | TC | A | Fetal non-stress test | 0.00 | NA | 0.23 | 0.02 | NA | 0.25 | 000
59030 |  | A | Fetal scalp blood sample | 1.99 | 0.97 | NA | 0.36 | 3.32 | NA | 000
59050 |  | A | Fetal monitor w/report | 0.89 | 0.36 | NA | 0.16 | 1.41 | NA | XXX
59051 |  | A | Fetal monitor/interpret only | 0.74 | 0.29 | NA | 0.14 | 1.17 | NA | XXX
59100 |  | A | Remove uterus lesion | 12.35 | 6.34 | NA | 2.21 | 20.90 | NA | 090
59120 |  | A | Treat ectopic pregnancy | 11.49 | 6.28 | NA | 2.06 | 19.83 | NA | 090
59121 |  | A | Treat ectopic pregnancy | 11.67 | 6.31 | NA | 2.09 | 20.07 | NA | 090
59130 |  | A | Treat ectopic pregnancy | 14.22 | 7.04 | NA | 2.54 | 23.80 | NA | 090
59135 |  | A | Treat ectopic pregnancy | 13.88 | 6.90 | NA | 2.49 | 23.27 | NA | 090
59136 |  | A | Treat ectopic pregnancy | 13.18 | 6.99 | NA | 2.36 | 22.53 | NA | 090
59140 |  | A | Treat ectopic pregnancy | 5.46 | 3.28 | NA | 0.98 | 9.72 | NA | 090
59150 |  | A | Treat ectopic pregnancy | 11.67 | 6.57 | NA | 1.23 | 19.47 | NA | 090
59151 |  | A | Treat ectopic pregnancy | 11.49 | 6.03 | NA | 1.41 | 18.93 | NA | 090
59160 |  | A | D & c after delivery | 2.71 | 2.26 | 3.60 | 0.49 | 5.46 | 6.80 | 010
59200 |  | A | Insert cervical dilator | 0.79 | 0.33 | 1.35 | 0.15 | 1.27 | 2.29 | 000
59300 |  | A | Episiotomy or vaginal repair | 2.41 | 1.01 | 2.10 | 0.43 | 3.85 | 4.94 | 000
59320 |  | A | Revision of cervix | 2.48 | 1.46 | NA | 0.45 | 4.39 | NA | 000
59325 |  | A | Revision of cervix | 4.07 | 2.11 | NA | 0.73 | 6.91 | NA | 000
59350 |  | A | Repair of uterus | 4.95 | 2.03 | NA | 0.88 | 7.86 | NA | 000
59400 |  | A | Obstetrical care | 23.06 | 15.19 | NA | 4.14 | 42.39 | NA | MMM
59409 |  | A | Obstetrical care | 13.50 | 5.58 | NA | 2.42 | 21.50 | NA | MMM
59410 |  | A | Obstetrical care | 14.78 | 6.67 | NA | 2.65 | 24.10 | NA | MMM
59412 |  | A | Antepartum manipulation | 1.71 | 0.73 | 1.34 | 0.31 | 2.75 | 3.36 | MMM
59414 |  | A | Deliver placenta | 1.61 | 1.31 | NA | 0.29 | 3.21 | NA | MMM
59425 |  | A | Antepartum care only | 4.81 | 5.18 | 5.23 | 0.86 | 10.85 | 10.90 | MMM
59426 |  | A | Antepartum care only | 8.28 | 8.95 | 8.95 | 1.49 | 18.72 | 18.72 | MMM
59430 |  | A | Care after delivery | 2.13 | 1.26 | 1.27 | 0.38 | 3.77 | 3.78 | MMM
59510 |  | A | Cesarean delivery | 26.22 | 17.34 | NA | 4.70 | 48.26 | NA | MMM
59514 |  | A | Cesarean delivery only | 15.97 | 6.53 | NA | 2.86 | 25.36 | NA | MMM
59515 |  | A | Cesarean delivery | 17.37 | 8.42 | NA | 3.12 | 28.91 | NA | MMM
59525 |  | A | Remove uterus after cesarean | 8.54 | 3.51 | NA | 1.53 | 13.58 | NA | ZZZ
59610 |  | A | Vbac delivery | 24.62 | 15.74 | NA | 4.41 | 44.77 | NA | MMM
59612 |  | A | Vbac delivery only | 15.06 | 6.38 | NA | 2.70 | 24.14 | NA | MMM
59614 |  | A | Vbac care after delivery | 16.34 | 7.64 | NA | 2.93 | 26.91 | NA | MMM
59618 |  | A | Attempted vbac delivery | 27.78 | 18.17 | NA | 4.98 | 50.93 | NA | MMM
59620 |  | A | Attempted vbac delivery only | 17.53 | 6.91 | NA | 3.15 | 27.59 | NA | MMM
59622 |  | A | Attempted vbac after care | 18.93 | 8.88 | NA | 3.39 | 31.20 | NA | MMM
59812 |  | A | Treatment of miscarriage | 4.01 | 2.50 | 3.68 | 0.58 | 7.09 | 8.27 | 090
59820 |  | A | Care of miscarriage | 4.01 | 2.75 | 3.70 | 0.72 | 7.48 | 8.43 | 090
59821 |  | A | Treatment of miscarriage | 4.47 | 2.96 | 3.86 | 0.80 | 8.23 | 9.13 | 090
59830 |  | A | Treat uterus infection | 6.11 | 3.88 | NA | 1.10 | 11.09 | NA | 090
59840 |  | R | Abortion | 3.01 | 2.27 | 3.96 | 0.54 | 5.82 | 7.51 | 010
59841 |  | R | Abortion | 5.24 | 3.63 | 5.70 | 0.94 | 9.81 | 11.88 | 010
59850 |  | R | Abortion | 5.91 | 2.85 | NA | 1.06 | 9.82 | NA | 090
59851 |  | R | Abortion | 5.93 | 3.20 | NA | 1.06 | 10.19 | NA | 090
59852 |  | R | Abortion | 8.24 | 4.45 | NA | 1.48 | 14.17 | NA | 090
59855 |  | R | Abortion | 6.12 | 3.35 | NA | 1.10 | 10.57 | NA | 090
59856 |  | R | Abortion | 7.48 | 3.68 | NA | 1.34 | 12.50 | NA | 090
59857 |  | R | Abortion | 9.29 | 4.40 | NA | 1.66 | 15.35 | NA | 090
59866 |  | R | Abortion (mpr) | 4.00 | 1.58 | NA | 0.72 | 6.30 | NA | 000
59870 |  | A | Evacuate mole of uterus | 6.01 | 3.90 | NA | 0.77 | 10.68 | NA | 090
59871 |  | A | Remove cerclage suture | 2.13 | 0.92 | 1.99 | 0.38 | 3.43 | 4.50 | 000
59898 |  | C | Laparo proc, ob care/deliver | 0.00 | 0.00 | 0.00 | 0.00 | 0.00 | 0.00 | YYY
59899 |  | C | Maternity care procedure | 0.00 | 0.00 | 0.00 | 0.00 | 0.00 | 0.00 | YYY
60000 |  | A | Drain thyroid/tongue cyst | 1.76 | 2.26 | 2.38 | 0.14 | 4.16 | 4.28 | 010
60001 |  | A | Aspirate/inject thyriod cyst | 0.97 | 0.36 | 1.58 | 0.06 | 1.39 | 2.61 | 000
60100 |  | A | Biopsy of thyroid | 1.56 | 0.56 | 2.63 | 0.05 | 2.17 | 4.24 | 000
60200 |  | A | Remove thyroid lesion | 9.55 | 6.63 | NA | 0.84 | 17.02 | NA | 090
60210 |  | A | Partial thyroid excision | 10.88 | 6.54 | NA | 1.01 | 18.43 | NA | 090
60212 |  | A | Parital thyroid excision | 16.03 | 8.59 | NA | 1.51 | 26.13 | NA | 090
60220 |  | A | Partial removal of thyroid | 11.90 | 7.05 | NA | 0.97 | 19.92 | NA | 090
60225 |  | A | Partial removal of thyroid | 14.19 | 7.96 | NA | 1.31 | 23.46 | NA | 090
60240 |  | A | Removal of thyroid | 16.06 | 9.11 | NA | 1.50 | 26.67 | NA | 090
60252 |  | A | Removal of thyroid | 20.57 | 11.58 | NA | 1.63 | 33.78 | NA | 090
60254 |  | A | Extensive thyroid surgery | 26.99 | 15.89 | NA | 1.96 | 44.84 | NA | 090
60260 |  | A | Repeat thyroid surgery | 17.47 | 10.39 | NA | 1.39 | 29.25 | NA | 090
60270 |  | A | Removal of thyroid | 20.27 | 11.95 | NA | 1.78 | 34.00 | NA | 090
60271 |  | A | Removal of thyroid | 16.83 | 9.80 | NA | 1.35 | 27.98 | NA | 090
60280 |  | A | Remove thyroid duct lesion | 5.87 | 5.19 | NA | 0.45 | 11.51 | NA | 090
60281 |  | A | Remove thyroid duct lesion | 8.53 | 6.43 | NA | 0.67 | 15.63 | NA | 090
60500 |  | A | Explore parathyroid glands | 16.23 | 7.84 | NA | 1.61 | 25.68 | NA | 090
60502 |  | A | Re-explore parathyroids | 20.35 | 9.63 | NA | 2.00 | 31.98 | NA | 090
60505 |  | A | Explore parathyroid glands | 21.49 | 11.03 | NA | 2.14 | 34.66 | NA | 090
60512 |  | A | Autotransplant parathyroid | 4.45 | 1.70 | NA | 0.44 | 6.59 | NA | ZZZ
60520 |  | A | Removal of thymus gland | 16.81 | 9.87 | NA | 1.84 | 28.52 | NA | 090
60521 |  | A | Removal of thymus gland | 18.87 | 11.73 | NA | 2.34 | 32.94 | NA | 090
60522 |  | A | Removal of thymus gland | 23.09 | 13.10 | NA | 2.83 | 39.02 | NA | 090
60540 |  | A | Explore adrenal gland | 17.03 | 7.85 | NA | 1.42 | 26.30 | NA | 090
60545 |  | A | Explore adrenal gland | 19.88 | 9.55 | NA | 1.75 | 31.18 | NA | 090
60600 |  | A | Remove carotid body lesion | 17.93 | 13.45 | NA | 1.87 | 33.25 | NA | 090
60605 |  | A | Remove carotid body lesion | 20.24 | 18.32 | NA | 2.28 | 40.84 | NA | 090
60650 |  | A | Laparoscopy adrenalectomy | 20.00 | 8.26 | NA | 1.98 | 30.24 | NA | 090
60659 |  | C | Laparo proc, endocrine | 0.00 | 0.00 | 0.00 | 0.00 | 0.00 | 0.00 | YYY
60699 |  | C | Endocrine surgery procedure | 0.00 | 0.00 | 0.00 | 0.00 | 0.00 | 0.00 | YYY
61000 |  | A | Remove cranial cavity fluid | 1.58 | 1.56 | 1.72 | 0.13 | 3.27 | 3.43 | 000
61001 |  | A | Remove cranial cavity fluid | 1.49 | 1.37 | 1.86 | 0.15 | 3.01 | 3.50 | 000
61020 |  | A | Remove brain cavity fluid | 1.51 | 1.46 | 2.26 | 0.26 | 3.23 | 4.03 | 000
61026 |  | A | Injection into brain canal | 1.69 | 1.68 | 2.19 | 0.21 | 3.58 | 4.09 | 000
61050 |  | A | Remove brain canal fluid | 1.51 | 1.59 | NA | 0.13 | 3.23 | NA | 000
61055 |  | A | Injection into brain canal | 2.10 | 1.76 | NA | 0.13 | 3.99 | NA | 000
61070 |  | A | Brain canal shunt procedure | 0.89 | 1.17 | 6.75 | 0.09 | 2.15 | 7.73 | 000
61105 |  | A | Twist drill hole | 5.14 | 3.63 | NA | 1.05 | 9.82 | NA | 090
61107 |  | A | Drill skull for implantation | 5.00 | 3.13 | NA | 1.02 | 9.15 | NA | 000
61108 |  | A | Drill skull for drainage | 10.19 | 6.95 | NA | 2.04 | 19.18 | NA | 090
61120 |  | A | Burr hole for puncture | 8.76 | 5.81 | NA | 1.81 | 16.38 | NA | 090
61140 |  | A | Pierce skull for biopsy | 15.90 | 9.91 | NA | 3.15 | 28.96 | NA | 090
61150 |  | A | Pierce skull for drainage | 17.57 | 10.63 | NA | 3.52 | 31.72 | NA | 090
61151 |  | A | Pierce skull for drainage | 12.42 | 8.26 | NA | 2.45 | 23.13 | NA | 090
61154 |  | A | Pierce skull & remove clot | 14.99 | 9.48 | NA | 3.05 | 27.52 | NA | 090
61156 |  | A | Pierce skull for drainage | 16.32 | 10.33 | NA | 3.42 | 30.07 | NA | 090
61210 |  | A | Pierce skull, implant device | 5.84 | 3.52 | NA | 1.16 | 10.52 | NA | 000
61215 |  | A | Insert brain-fluid device | 4.89 | 4.17 | NA | 0.99 | 10.05 | NA | 090
61250 |  | A | Pierce skull & explore | 10.42 | 6.70 | NA | 2.02 | 19.14 | NA | 090
61253 |  | A | Pierce skull & explore | 12.36 | 7.36 | NA | 2.26 | 21.98 | NA | 090
61304 |  | A | Open skull for exploration | 21.96 | 12.68 | NA | 4.33 | 38.97 | NA | 090
61305 |  | A | Open skull for exploration | 26.61 | 15.06 | NA | 5.25 | 46.92 | NA | 090
61312 |  | A | Open skull for drainage | 24.57 | 14.43 | NA | 4.99 | 43.99 | NA | 090
61313 |  | A | Open skull for drainage | 24.93 | 14.66 | NA | 5.07 | 44.66 | NA | 090
61314 |  | A | Open skull for drainage | 24.23 | 12.45 | NA | 4.00 | 40.68 | NA | 090
61315 |  | A | Open skull for drainage | 27.68 | 16.13 | NA | 5.62 | 49.43 | NA | 090
61320 |  | A | Open skull for drainage | 25.62 | 15.03 | NA | 5.20 | 45.85 | NA | 090
61321 |  | A | Open skull for drainage | 28.50 | 16.15 | NA | 5.35 | 50.00 | NA | 090
61330 |  | A | Decompress eye socket | 23.32 | 17.12 | NA | 2.58 | 43.02 | NA | 090
61332 |  | A | Explore/biopsy eye socket | 27.28 | 19.52 | NA | 4.15 | 50.95 | NA | 090
61333 |  | A | Explore orbit/remove lesion | 27.95 | 16.03 | NA | 2.24 | 46.22 | NA | 090
61334 |  | A | Explore orbit/remove object | 18.27 | 11.86 | NA | 3.02 | 33.15 | NA | 090
61340 |  | A | Relieve cranial pressure | 18.66 | 11.56 | NA | 3.66 | 33.88 | NA | 090
61343 |  | A | Incise skull (press relief) | 29.77 | 17.82 | NA | 6.04 | 53.63 | NA | 090
61345 |  | A | Relieve cranial pressure | 27.20 | 16.42 | NA | 5.23 | 48.85 | NA | 090
61440 |  | A | Incise skull for surgery | 26.63 | 16.16 | NA | 5.57 | 48.36 | NA | 090
61450 |  | A | Incise skull for surgery | 25.95 | 14.71 | NA | 5.11 | 45.77 | NA | 090
61458 |  | A | Incise skull for brain wound | 27.29 | 15.81 | NA | 5.28 | 48.38 | NA | 090
61460 |  | A | Incise skull for surgery | 28.39 | 16.82 | NA | 5.13 | 50.34 | NA | 090
61470 |  | A | Incise skull for surgery | 26.06 | 14.19 | NA | 4.65 | 44.90 | NA | 090
61480 |  | A | Incise skull for surgery | 26.49 | 14.00 | NA | 5.54 | 46.03 | NA | 090
61490 |  | A | Incise skull for surgery | 25.66 | 15.05 | NA | 5.37 | 46.08 | NA | 090
61500 |  | A | Removal of skull lesion | 17.92 | 10.99 | NA | 3.26 | 32.17 | NA | 090
61501 |  | A | Remove infected skull bone | 14.84 | 9.17 | NA | 2.63 | 26.64 | NA | 090
61510 |  | A | Removal of brain lesion | 28.45 | 16.46 | NA | 5.77 | 50.68 | NA | 090
61512 |  | A | Remove brain lining lesion | 35.09 | 20.04 | NA | 7.14 | 62.27 | NA | 090
61514 |  | A | Removal of brain abscess | 25.26 | 14.64 | NA | 5.12 | 45.02 | NA | 090
61516 |  | A | Removal of brain lesion | 24.61 | 14.81 | NA | 4.94 | 44.36 | NA | 090
61518 |  | A | Removal of brain lesion | 37.32 | 22.11 | NA | 7.53 | 66.96 | NA | 090
61519 |  | A | Remove brain lining lesion | 41.39 | 24.02 | NA | 8.15 | 73.56 | NA | 090
61520 |  | A | Removal of brain lesion | 54.84 | 31.79 | NA | 10.10 | 96.73 | NA | 090
61521 |  | A | Removal of brain lesion | 44.48 | 26.00 | NA | 8.85 | 79.33 | NA | 090
61522 |  | A | Removal of brain abscess | 29.45 | 17.12 | NA | 5.30 | 51.87 | NA | 090
61524 |  | A | Removal of brain lesion | 27.86 | 16.60 | NA | 5.01 | 49.47 | NA | 090
61526 |  | A | Removal of brain lesion | 52.17 | 30.36 | NA | 6.72 | 89.25 | NA | 090
61530 |  | A | Removal of brain lesion | 43.86 | 27.22 | NA | 6.17 | 77.25 | NA | 090
61531 |  | A | Implant brain electrodes | 14.63 | 9.23 | NA | 2.84 | 26.70 | NA | 090
61533 |  | A | Implant brain electrodes | 19.71 | 12.05 | NA | 3.80 | 35.56 | NA | 090
61534 |  | A | Removal of brain lesion | 20.97 | 12.99 | NA | 4.15 | 38.11 | NA | 090
61535 |  | A | Remove brain electrodes | 11.63 | 7.73 | NA | 2.29 | 21.65 | NA | 090
61536 |  | A | Removal of brain lesion | 35.52 | 20.53 | NA | 6.68 | 62.73 | NA | 090
61538 |  | A | Removal of brain tissue | 26.81 | 16.08 | NA | 5.38 | 48.27 | NA | 090
61539 |  | A | Removal of brain tissue | 32.08 | 19.01 | NA | 6.62 | 57.71 | NA | 090
61541 |  | A | Incision of brain tissue | 28.85 | 16.37 | NA | 5.50 | 50.72 | NA | 090
61542 |  | A | Removal of brain tissue | 31.02 | 18.89 | NA | 6.49 | 56.40 | NA | 090
61543 |  | A | Removal of brain tissue | 29.22 | 17.92 | NA | 6.11 | 53.25 | NA | 090
61544 |  | A | Remove & treat brain lesion | 25.50 | 12.06 | NA | 4.91 | 42.47 | NA | 090
61545 |  | A | Excision of brain tumor | 43.80 | 24.74 | NA | 8.88 | 77.42 | NA | 090
61546 |  | A | Removal of pituitary gland | 31.30 | 18.26 | NA | 6.06 | 55.62 | NA | 090
61548 |  | A | Removal of pituitary gland | 21.53 | 13.57 | NA | 3.63 | 38.73 | NA | 090
61550 |  | A | Release of skull seams | 14.65 | 7.59 | NA | 1.14 | 23.38 | NA | 090
61552 |  | A | Release of skull seams | 19.56 | 10.42 | NA | 0.88 | 30.86 | NA | 090
61556 |  | A | Incise skull/sutures | 22.26 | 12.47 | NA | 3.57 | 38.30 | NA | 090
61557 |  | A | Incise skull/sutures | 22.38 | 12.86 | NA | 4.68 | 39.92 | NA | 090
61558 |  | A | Excision of skull/sutures | 25.58 | 13.34 | NA | 2.61 | 41.53 | NA | 090
61559 |  | A | Excision of skull/sutures | 32.79 | 19.09 | NA | 6.86 | 58.74 | NA | 090
61563 |  | A | Excision of skull tumor | 26.83 | 16.05 | NA | 4.46 | 47.34 | NA | 090
61564 |  | A | Excision of skull tumor | 33.83 | 19.37 | NA | 7.08 | 60.28 | NA | 090
61570 |  | A | Remove foreign body, brain | 24.60 | 13.42 | NA | 4.60 | 42.62 | NA | 090
61571 |  | A | Incise skull for brain wound | 26.39 | 15.08 | NA | 5.23 | 46.70 | NA | 090
61575 |  | A | Skull base/brainstem surgery | 34.36 | 21.06 | NA | 5.02 | 60.44 | NA | 090
61576 |  | A | Skull base/brainstem surgery | 52.43 | 29.82 | NA | 4.68 | 86.93 | NA | 090
61580 |  | A | Craniofacial approach, skull | 30.35 | 19.50 | NA | 2.75 | 52.60 | NA | 090
61581 |  | A | Craniofacial approach, skull | 34.60 | 21.70 | NA | 3.37 | 59.67 | NA | 090
61582 |  | A | Craniofacial approach, skull | 31.66 | 19.38 | NA | 6.30 | 57.34 | NA | 090
61583 |  | A | Craniofacial approach, skull | 36.21 | 22.33 | NA | 6.94 | 65.48 | NA | 090
61584 |  | A | Orbitocranial approach/skull | 34.65 | 20.92 | NA | 6.53 | 62.10 | NA | 090
61585 |  | A | Orbitocranial approach/skull | 38.61 | 22.75 | NA | 6.19 | 67.55 | NA | 090
61586 |  | A | Resect nasopharynx, skull | 25.10 | 16.18 | NA | 3.52 | 44.80 | NA | 090
61590 |  | A | Infratemporal approach/skull | 41.78 | 25.75 | NA | 4.28 | 71.81 | NA | 090
61591 |  | A | Infratemporal approach/skull | 43.68 | 26.81 | NA | 5.26 | 75.75 | NA | 090
61592 |  | A | Orbitocranial approach/skull | 39.64 | 23.45 | NA | 7.55 | 70.64 | NA | 090
61595 |  | A | Transtemporal approach/skull | 29.57 | 19.37 | NA | 3.05 | 51.99 | NA | 090
61596 |  | A | Transcochlear approach/skull | 35.63 | 22.22 | NA | 4.25 | 62.10 | NA | 090
61597 |  | A | Transcondylar approach/skull | 37.96 | 21.94 | NA | 6.65 | 66.55 | NA | 090
61598 |  | A | Transpetrosal approach/skull | 33.41 | 20.82 | NA | 4.60 | 58.83 | NA | 090
61600 |  | A | Resect/excise cranial lesion | 25.85 | 16.64 | NA | 3.12 | 45.61 | NA | 090
61601 |  | A | Resect/excise cranial lesion | 27.89 | 17.15 | NA | 5.29 | 50.33 | NA | 090
61605 |  | A | Resect/excise cranial lesion | 29.33 | 18.58 | NA | 2.51 | 50.42 | NA | 090
61606 |  | A | Resect/excise cranial lesion | 38.83 | 23.30 | NA | 6.81 | 68.94 | NA | 090
61607 |  | A | Resect/excise cranial lesion | 36.27 | 21.90 | NA | 5.69 | 63.86 | NA | 090
61608 |  | A | Resect/excise cranial lesion | 42.10 | 24.57 | NA | 8.31 | 74.98 | NA | 090
61609 |  | A | Transect artery, sinus | 9.89 | 4.61 | NA | 2.07 | 16.57 | NA | ZZZ
61610 |  | A | Transect artery, sinus | 29.67 | 12.80 | NA | 3.52 | 45.99 | NA | ZZZ
61611 |  | A | Transect artery, sinus | 7.42 | 2.93 | NA | 1.55 | 11.90 | NA | ZZZ
61612 |  | A | Transect artery, sinus | 27.88 | 14.33 | NA | 3.55 | 45.76 | NA | ZZZ
61613 |  | A | Remove aneurysm, sinus | 40.86 | 24.08 | NA | 8.32 | 73.26 | NA | 090
61615 |  | A | Resect/excise lesion, skull | 32.07 | 20.45 | NA | 4.64 | 57.16 | NA | 090
61616 |  | A | Resect/excise lesion, skull | 43.33 | 27.05 | NA | 7.02 | 77.40 | NA | 090
61618 |  | A | Repair dura | 16.99 | 11.22 | NA | 2.92 | 31.13 | NA | 090
61619 |  | A | Repair dura | 20.71 | 13.26 | NA | 3.42 | 37.39 | NA | 090
61624 |  | A | Occlusion/embolization cath | 20.15 | 7.28 | NA | 1.15 | 28.58 | NA | 000
61626 |  | A | Occlusion/embolization cath | 16.62 | 5.88 | NA | 0.84 | 23.34 | NA | 000
61680 |  | A | Intracranial vessel surgery | 30.71 | 18.55 | NA | 6.04 | 55.30 | NA | 090
61682 |  | A | Intracranial vessel surgery | 61.57 | 34.03 | NA | 12.69 | 108.29 | NA | 090
61684 |  | A | Intracranial vessel surgery | 39.81 | 22.06 | NA | 7.87 | 69.74 | NA | 090
61686 |  | A | Intracranial vessel surgery | 64.49 | 36.32 | NA | 13.20 | 114.01 | NA | 090
61690 |  | A | Intracranial vessel surgery | 29.31 | 17.73 | NA | 5.51 | 52.55 | NA | 090
61692 |  | A | Intracranial vessel surgery | 51.87 | 29.41 | NA | 10.17 | 91.45 | NA | 090
61697 |  | A | Brain aneurysm repr, complx | 50.52 | 28.07 | NA | 9.57 | 88.16 | NA | 090
61698 |  | A | Brain aneurysm repr, complx | 48.41 | 27.18 | NA | 9.28 | 84.87 | NA | 090
61700 |  | A | Brain aneurysm repr , simple | 50.52 | 28.07 | NA | 10.18 | 88.77 | NA | 090
61702 |  | A | Inner skull vessel surgery | 48.41 | 27.18 | NA | 9.75 | 85.34 | NA | 090
61703 |  | A | Clamp neck artery | 17.47 | 11.04 | NA | 3.62 | 32.13 | NA | 090
61705 |  | A | Revise circulation to head | 36.20 | 20.39 | NA | 6.67 | 63.26 | NA | 090
61708 |  | A | Revise circulation to head | 35.30 | 16.07 | NA | 2.18 | 53.55 | NA | 090
61710 |  | A | Revise circulation to head | 29.67 | 14.41 | NA | 2.42 | 46.50 | NA | 090
61711 |  | A | Fusion of skull arteries | 36.33 | 20.11 | NA | 7.39 | 63.83 | NA | 090
61720 |  | A | Incise skull/brain surgery | 16.77 | 10.75 | NA | 3.51 | 31.03 | NA | 090
61735 |  | A | Incise skull/brain surgery | 20.43 | 12.67 | NA | 4.16 | 37.26 | NA | 090
61750 |  | A | Incise skull/brain biopsy | 18.20 | 11.09 | NA | 3.71 | 33.00 | NA | 090
61751 |  | A | Brain biopsy w/ ct/mr guide | 17.62 | 10.82 | NA | 3.57 | 32.01 | NA | 090
61760 |  | A | Implant brain electrodes | 22.27 | 13.25 | NA | 4.59 | 40.11 | NA | 090
61770 |  | A | Incise skull for treatment | 21.44 | 12.86 | NA | 4.09 | 38.39 | NA | 090
61790 |  | A | Treat trigeminal nerve | 10.86 | 6.17 | NA | 1.82 | 18.85 | NA | 090
61791 |  | A | Treat trigeminal tract | 14.61 | 9.33 | NA | 3.03 | 26.97 | NA | 090
61793 |  | A | Focus radiation beam | 17.24 | 10.92 | NA | 3.51 | 31.67 | NA | 090
61795 |  | A | Brain surgery using computer | 4.04 | 2.12 | NA | 0.81 | 6.97 | NA | ZZZ
61850 |  | A | Implant neuroelectrodes | 12.39 | 8.00 | NA | 2.23 | 22.62 | NA | 090
61860 |  | A | Implant neuroelectrodes | 20.87 | 12.80 | NA | 4.04 | 37.71 | NA | 090
61862 |  | A | Implant neurostimul, subcort | 19.34 | 12.05 | NA | 3.97 | 35.36 | NA | 090
61870 |  | A | Implant neuroelectrodes | 14.94 | 11.37 | NA | 1.70 | 28.01 | NA | 090
61875 |  | A | Implant neuroelectrodes | 15.06 | 9.86 | NA | 2.42 | 27.34 | NA | 090
61880 |  | A | Revise/remove neuroelectrode | 6.29 | 5.20 | NA | 1.31 | 12.80 | NA | 090
61885 |  | A | Implant neurostim one array | 5.85 | 4.26 | NA | 1.22 | 11.33 | NA | 090
61886 |  | A | Implant neurostim arrays | 8.00 | 6.07 | NA | 1.64 | 15.71 | NA | 090
61888 |  | A | Revise/remove neuroreceiver | 5.07 | 3.86 | NA | 1.04 | 9.97 | NA | 010
62000 |  | A | Treat skull fracture | 12.53 | 5.48 | NA | 0.87 | 18.88 | NA | 090
62005 |  | A | Treat skull fracture | 16.17 | 9.04 | NA | 2.33 | 27.54 | NA | 090
62010 |  | A | Treatment of head injury | 19.81 | 11.71 | NA | 4.05 | 35.57 | NA | 090
62100 |  | A | Repair brain fluid leakage | 22.03 | 13.99 | NA | 4.07 | 40.09 | NA | 090
62115 |  | A | Reduction of skull defect | 21.66 | 10.54 | NA | 4.53 | 36.73 | NA | 090
62116 |  | A | Reduction of skull defect | 23.59 | 13.81 | NA | 4.85 | 42.25 | NA | 090
62117 |  | A | Reduction of skull defect | 26.60 | 15.24 | NA | 5.56 | 47.40 | NA | 090
62120 |  | A | Repair skull cavity lesion | 23.35 | 14.11 | NA | 3.07 | 40.53 | NA | 090
62121 |  | A | Incise skull repair | 21.58 | 13.89 | NA | 2.47 | 37.94 | NA | 090
62140 |  | A | Repair of skull defect | 13.51 | 8.60 | NA | 2.60 | 24.71 | NA | 090
62141 |  | A | Repair of skull defect | 14.91 | 9.74 | NA | 2.85 | 27.50 | NA | 090
62142 |  | A | Remove skull plate/flap | 10.79 | 7.22 | NA | 2.10 | 20.11 | NA | 090
62143 |  | A | Replace skull plate/flap | 13.05 | 8.70 | NA | 2.55 | 24.30 | NA | 090
62145 |  | A | Repair of skull & brain | 18.82 | 11.37 | NA | 3.81 | 34.00 | NA | 090
62146 |  | A | Repair of skull with graft | 16.12 | 10.46 | NA | 2.94 | 29.52 | NA | 090
62147 |  | A | Repair of skull with graft | 19.34 | 12.26 | NA | 3.64 | 35.24 | NA | 090
62180 |  | A | Establish brain cavity shunt | 21.06 | 12.91 | NA | 4.32 | 38.29 | NA | 090
62190 |  | A | Establish brain cavity shunt | 11.07 | 7.68 | NA | 2.18 | 20.93 | NA | 090
62192 |  | A | Establish brain cavity shunt | 12.25 | 8.21 | NA | 2.46 | 22.92 | NA | 090
62194 |  | A | Replace/irrigate catheter | 5.03 | 2.11 | NA | 0.50 | 7.64 | NA | 010
62200 |  | A | Establish brain cavity shunt | 18.32 | 11.46 | NA | 3.70 | 33.48 | NA | 090
62201 |  | A | Establish brain cavity shunt | 14.86 | 9.19 | NA | 2.52 | 26.57 | NA | 090
62220 |  | A | Establish brain cavity shunt | 13.00 | 8.63 | NA | 2.53 | 24.16 | NA | 090
62223 |  | A | Establish brain cavity shunt | 12.87 | 8.45 | NA | 2.58 | 23.90 | NA | 090
62225 |  | A | Replace/irrigate catheter | 5.41 | 4.05 | NA | 1.09 | 10.55 | NA | 090
62230 |  | A | Replace/revise brain shunt | 10.54 | 6.61 | NA | 2.10 | 19.25 | NA | 090
62252 |  | A | Csf shunt reprogram | 0.74 | NA | 1.38 | 0.04 | NA | 2.16 | XXX
62252 | 26 | A | Csf shunt reprogram | 0.74 | 0.29 | 0.29 | 0.02 | 1.05 | 1.05 | XXX
62252 | TC | A | Csf shunt reprogram | 0.00 | NA | 1.09 | 0.02 | NA | 1.11 | XXX
62256 |  | A | Remove brain cavity shunt | 6.60 | 5.30 | NA | 1.34 | 13.24 | NA | 090
62258 |  | A | Replace brain cavity shunt | 14.54 | 8.70 | NA | 2.91 | 26.15 | NA | 090
62263 |  | A | Lysis epidural adhesions | 6.14 | 2.27 | 5.65 | 0.42 | 8.83 | 12.21 | 010
62268 |  | A | Drain spinal cord cyst | 4.74 | 2.74 | NA | 0.29 | 7.77 | NA | 000
62269 |  | A | Needle biopsy, spinal cord | 5.02 | 2.35 | NA | 0.29 | 7.66 | NA | 000
62270 |  | A | Spinal fluid tap, diagnostic | 1.13 | 0.48 | 3.78 | 0.06 | 1.67 | 4.97 | 000
62272 |  | A | Drain spinal fluid | 1.35 | 0.62 | 3.26 | 0.13 | 2.10 | 4.74 | 000
62273 |  | A | Treat epidural spine lesion | 2.15 | 1.27 | 1.31 | 0.14 | 3.56 | 3.60 | 000
62280 |  | A | Treat spinal cord lesion | 2.63 | 0.70 | 3.38 | 0.17 | 3.50 | 6.18 | 010
62281 |  | A | Treat spinal cord lesion | 2.66 | 0.61 | 3.81 | 0.16 | 3.43 | 6.63 | 010
62282 |  | A | Treat spinal canal lesion | 2.33 | 0.61 | 5.23 | 0.14 | 3.08 | 7.70 | 010
62284 |  | A | Injection for myelogram | 1.54 | 0.71 | 4.39 | 0.10 | 2.35 | 6.03 | 000
62287 |  | A | Percutaneous diskectomy | 8.08 | 4.74 | NA | 0.66 | 13.48 | NA | 090
62290 |  | A | Inject for spine disk x-ray | 3.00 | 1.27 | 5.68 | 0.20 | 4.47 | 8.88 | 000
62291 |  | A | Inject for spine disk x-ray | 2.91 | 1.16 | 5.74 | 0.17 | 4.24 | 8.82 | 000
62292 |  | A | Injection into disk lesion | 7.86 | 4.76 | NA | 0.65 | 13.27 | NA | 090
62294 |  | A | Injection into spinal artery | 11.83 | 6.17 | NA | 0.85 | 18.85 | NA | 090
62310 |  | A | Inject spine c/t | 1.94 | 0.42 | 3.61 | 0.11 | 2.47 | 5.66 | 000
62311 |  | A | Inject spine l/s (cd) | 1.57 | 0.36 | 3.87 | 0.09 | 2.02 | 5.53 | 000
62318 |  | A | Inject spine w/cath, c/t | 2.08 | 0.46 | 3.70 | 0.12 | 2.66 | 5.90 | 000
62319 |  | A | Inject spine w/cath l/s (cd) | 1.90 | 0.39 | 3.18 | 0.11 | 2.40 | 5.19 | 000
62350 |  | A | Implant spinal canal cath | 6.87 | 3.70 | NA | 0.64 | 11.21 | NA | 090
62351 |  | A | Implant spinal canal cath | 10.00 | 6.77 | NA | 1.79 | 18.56 | NA | 090
62355 |  | A | Remove spinal canal catheter | 5.45 | 2.80 | NA | 0.47 | 8.72 | NA | 090
62360 |  | A | Insert spine infusion device | 2.62 | 2.22 | NA | 0.21 | 5.05 | NA | 090
62361 |  | A | Implant spine infusion pump | 5.42 | 3.54 | NA | 0.50 | 9.46 | NA | 090
62362 |  | A | Implant spine infusion pump | 7.04 | 4.08 | NA | 0.86 | 11.98 | NA | 090
62365 |  | A | Remove spine infusion device | 5.42 | 3.06 | NA | 0.58 | 9.06 | NA | 090
62367 |  | C | Analyze spine infusion pump | 0.00 | 0.00 | 0.00 | 0.00 | 0.00 | 0.00 | XXX
62367 | 26 | A | Analyze spine infusion pump | 0.48 | 0.14 | 0.14 | 0.03 | 0.65 | 0.65 | XXX
62367 | TC | C | Analyze spine infusion pump | 0.00 | 0.00 | 0.00 | 0.00 | 0.00 | 0.00 | XXX
62368 |  | C | Analyze spine infusion pump | 0.00 | 0.00 | 0.00 | 0.00 | 0.00 | 0.00 | XXX
62368 | 26 | A | Analyze spine infusion pump | 0.75 | 0.20 | 0.20 | 0.05 | 1.00 | 1.00 | XXX
62368 | TC | C | Analyze spine infusion pump | 0.00 | 0.00 | 0.00 | 0.00 | 0.00 | 0.00 | XXX
63001 |  | A | Removal of spinal lamina | 15.82 | 11.55 | NA | 3.03 | 30.40 | NA | 090
63003 |  | A | Removal of spinal lamina | 15.95 | 11.68 | NA | 2.98 | 30.61 | NA | 090
63005 |  | A | Removal of spinal lamina | 14.92 | 11.16 | NA | 2.62 | 28.70 | NA | 090
63011 |  | A | Removal of spinal lamina | 14.52 | 9.38 | NA | 1.43 | 25.33 | NA | 090
63012 |  | A | Removal of spinal lamina | 15.40 | 10.10 | NA | 2.71 | 28.21 | NA | 090
63015 |  | A | Removal of spinal lamina | 19.35 | 13.43 | NA | 3.84 | 36.62 | NA | 090
63016 |  | A | Removal of spinal lamina | 19.20 | 13.38 | NA | 3.62 | 36.20 | NA | 090
63017 |  | A | Removal of spinal lamina | 15.94 | 11.68 | NA | 2.91 | 30.53 | NA | 090
63020 |  | A | Neck spine disk surgery | 14.81 | 11.10 | NA | 2.89 | 28.80 | NA | 090
63030 |  | A | Low back disk surgery | 12.00 | 9.64 | NA | 2.21 | 23.85 | NA | 090
63035 |  | A | Spinal disk surgery add-on | 3.15 | 1.66 | NA | 0.57 | 5.38 | NA | ZZZ
63040 |  | A | Laminotomy, single cervical | 18.81 | 13.04 | NA | 3.36 | 35.21 | NA | 090
63042 |  | A | Laminotomy, single lumbar | 17.47 | 12.65 | NA | 3.11 | 33.23 | NA | 090
63043 |  | C | Laminotomy, addl cervical | 0.00 | 0.00 | 0.00 | 0.00 | 0.00 | 0.00 | ZZZ
63044 |  | C | Laminotomy, addl lumbar | 0.00 | 0.00 | 0.00 | 0.00 | 0.00 | 0.00 | ZZZ
63045 |  | A | Removal of spinal lamina | 16.50 | 11.99 | NA | 3.19 | 31.68 | NA | 090
63046 |  | A | Removal of spinal lamina | 15.80 | 11.64 | NA | 2.89 | 30.33 | NA | 090
63047 |  | A | Removal of spinal lamina | 14.61 | 11.09 | NA | 2.61 | 28.31 | NA | 090
63048 |  | A | Remove spinal lamina add-on | 3.26 | 1.75 | NA | 0.58 | 5.59 | NA | ZZZ
63055 |  | A | Decompress spinal cord | 21.99 | 14.82 | NA | 4.09 | 40.90 | NA | 090
63056 |  | A | Decompress spinal cord | 20.36 | 14.12 | NA | 3.34 | 37.82 | NA | 090
63057 |  | A | Decompress spine cord add-on | 5.26 | 2.69 | NA | 0.81 | 8.76 | NA | ZZZ
63064 |  | A | Decompress spinal cord | 24.61 | 16.74 | NA | 4.72 | 46.07 | NA | 090
63066 |  | A | Decompress spine cord add-on | 3.26 | 1.76 | NA | 0.63 | 5.65 | NA | ZZZ
63075 |  | A | Neck spine disk surgery | 19.41 | 13.57 | NA | 3.73 | 36.71 | NA | 090
63076 |  | A | Neck spine disk surgery | 4.05 | 2.16 | NA | 0.78 | 6.99 | NA | ZZZ
63077 |  | A | Spine disk surgery, thorax | 21.44 | 14.91 | NA | 3.44 | 39.79 | NA | 090
63078 |  | A | Spine disk surgery, thorax | 3.28 | 1.70 | NA | 0.50 | 5.48 | NA | ZZZ
63081 |  | A | Removal of vertebral body | 23.73 | 16.42 | NA | 4.46 | 44.61 | NA | 090
63082 |  | A | Remove vertebral body add-on | 4.37 | 2.34 | NA | 0.82 | 7.53 | NA | ZZZ
63085 |  | A | Removal of vertebral body | 26.92 | 17.85 | NA | 4.70 | 49.47 | NA | 090
63086 |  | A | Remove vertebral body add-on | 3.19 | 1.66 | NA | 0.55 | 5.40 | NA | ZZZ
63087 |  | A | Removal of vertebral body | 35.57 | 21.93 | NA | 5.87 | 63.37 | NA | 090
63088 |  | A | Remove vertebral body add-on | 4.33 | 2.28 | NA | 0.77 | 7.38 | NA | ZZZ
63090 |  | A | Removal of vertebral body | 28.16 | 17.88 | NA | 4.27 | 50.31 | NA | 090
63091 |  | A | Remove vertebral body add-on | 3.03 | 1.52 | NA | 0.45 | 5.00 | NA | ZZZ
63170 |  | A | Incise spinal cord tract(s) | 19.83 | 13.68 | NA | 3.89 | 37.40 | NA | 090
63172 |  | A | Drainage of spinal cyst | 17.66 | 13.11 | NA | 3.46 | 34.23 | NA | 090
63173 |  | A | Drainage of spinal cyst | 21.99 | 14.91 | NA | 4.14 | 41.04 | NA | 090
63180 |  | A | Revise spinal cord ligaments | 18.27 | 12.45 | NA | 3.83 | 34.55 | NA | 090
63182 |  | A | Revise spinal cord ligaments | 20.50 | 12.80 | NA | 3.48 | 36.78 | NA | 090
63185 |  | A | Incise spinal column/nerves | 15.04 | 9.84 | NA | 2.08 | 26.96 | NA | 090
63190 |  | A | Incise spinal column/nerves | 17.45 | 12.01 | NA | 2.88 | 32.34 | NA | 090
63191 |  | A | Incise spinal column/nerves | 17.54 | 12.40 | NA | 3.50 | 33.44 | NA | 090
63194 |  | A | Incise spinal column & cord | 19.19 | 13.15 | NA | 4.01 | 36.35 | NA | 090
63195 |  | A | Incise spinal column & cord | 18.84 | 12.11 | NA | 3.44 | 34.39 | NA | 090
63196 |  | A | Incise spinal column & cord | 22.30 | 12.35 | NA | 4.66 | 39.31 | NA | 090
63197 |  | A | Incise spinal column & cord | 21.11 | 13.76 | NA | 4.42 | 39.29 | NA | 090
63198 |  | A | Incise spinal column & cord | 25.38 | 13.57 | NA | 5.31 | 44.26 | NA | 090
63199 |  | A | Incise spinal column & cord | 26.89 | 14.17 | NA | 5.62 | 46.68 | NA | 090
63200 |  | A | Release of spinal cord | 19.18 | 13.16 | NA | 3.61 | 35.95 | NA | 090
63250 |  | A | Revise spinal cord vessels | 40.76 | 20.99 | NA | 7.65 | 69.40 | NA | 090
63251 |  | A | Revise spinal cord vessels | 41.20 | 23.28 | NA | 7.98 | 72.46 | NA | 090
63252 |  | A | Revise spinal cord vessels | 41.19 | 22.61 | NA | 7.75 | 71.55 | NA | 090
63265 |  | A | Excise intraspinal lesion | 21.56 | 13.21 | NA | 4.29 | 39.06 | NA | 090
63266 |  | A | Excise intraspinal lesion | 22.30 | 13.55 | NA | 4.47 | 40.32 | NA | 090
63267 |  | A | Excise intraspinal lesion | 17.95 | 11.36 | NA | 3.50 | 32.81 | NA | 090
63268 |  | A | Excise intraspinal lesion | 18.52 | 10.91 | NA | 3.18 | 32.61 | NA | 090
63270 |  | A | Excise intraspinal lesion | 26.80 | 16.01 | NA | 5.41 | 48.22 | NA | 090
63271 |  | A | Excise intraspinal lesion | 26.92 | 16.14 | NA | 5.56 | 48.62 | NA | 090
63272 |  | A | Excise intraspinal lesion | 25.32 | 15.26 | NA | 5.07 | 45.65 | NA | 090
63273 |  | A | Excise intraspinal lesion | 24.29 | 14.68 | NA | 5.08 | 44.05 | NA | 090
63275 |  | A | Biopsy/excise spinal tumor | 23.68 | 14.18 | NA | 4.68 | 42.54 | NA | 090
63276 |  | A | Biopsy/excise spinal tumor | 23.45 | 14.11 | NA | 4.63 | 42.19 | NA | 090
63277 |  | A | Biopsy/excise spinal tumor | 20.83 | 12.87 | NA | 4.03 | 37.73 | NA | 090
63278 |  | A | Biopsy/excise spinal tumor | 20.56 | 12.49 | NA | 4.02 | 37.07 | NA | 090
63280 |  | A | Biopsy/excise spinal tumor | 28.35 | 16.74 | NA | 5.80 | 50.89 | NA | 090
63281 |  | A | Biopsy/excise spinal tumor | 28.05 | 16.50 | NA | 5.67 | 50.22 | NA | 090
63282 |  | A | Biopsy/excise spinal tumor | 26.39 | 15.69 | NA | 5.33 | 47.41 | NA | 090
63283 |  | A | Biopsy/excise spinal tumor | 25.00 | 14.89 | NA | 5.12 | 45.01 | NA | 090
63285 |  | A | Biopsy/excise spinal tumor | 36.00 | 20.43 | NA | 7.31 | 63.74 | NA | 090
63286 |  | A | Biopsy/excise spinal tumor | 35.63 | 20.55 | NA | 7.07 | 63.25 | NA | 090
63287 |  | A | Biopsy/excise spinal tumor | 36.70 | 20.93 | NA | 7.48 | 65.11 | NA | 090
63290 |  | A | Biopsy/excise spinal tumor | 37.38 | 21.51 | NA | 7.65 | 66.54 | NA | 090
63300 |  | A | Removal of vertebral body | 24.43 | 14.89 | NA | 4.78 | 44.10 | NA | 090
63301 |  | A | Removal of vertebral body | 27.60 | 15.85 | NA | 5.03 | 48.48 | NA | 090
63302 |  | A | Removal of vertebral body | 27.81 | 15.89 | NA | 5.25 | 48.95 | NA | 090
63303 |  | A | Removal of vertebral body | 30.50 | 17.46 | NA | 5.21 | 53.17 | NA | 090
63304 |  | A | Removal of vertebral body | 30.33 | 16.32 | NA | 4.72 | 51.37 | NA | 090
63305 |  | A | Removal of vertebral body | 32.03 | 18.86 | NA | 5.39 | 56.28 | NA | 090
63306 |  | A | Removal of vertebral body | 32.22 | 17.06 | NA | 2.39 | 51.67 | NA | 090
63307 |  | A | Removal of vertebral body | 31.63 | 18.18 | NA | 4.23 | 54.04 | NA | 090
63308 |  | A | Remove vertebral body add-on | 5.25 | 2.77 | NA | 1.01 | 9.03 | NA | ZZZ
63600 |  | A | Remove spinal cord lesion | 14.02 | 5.95 | NA | 1.22 | 21.19 | NA | 090
63610 |  | A | Stimulation of spinal cord | 8.73 | 5.07 | NA | 0.43 | 14.23 | NA | 000
63615 |  | A | Remove lesion of spinal cord | 16.28 | 10.42 | NA | 2.85 | 29.55 | NA | 090
63650 |  | A | Implant neuroelectrodes | 6.74 | 3.03 | NA | 0.48 | 10.25 | NA | 090
63655 |  | A | Implant neuroelectrodes | 10.29 | 7.11 | NA | 1.85 | 19.25 | NA | 090
63660 |  | A | Revise/remove neuroelectrode | 6.16 | 3.66 | NA | 0.65 | 10.47 | NA | 090
63685 |  | A | Implant neuroreceiver | 7.04 | 4.40 | NA | 0.96 | 12.40 | NA | 090
63688 |  | A | Revise/remove neuroreceiver | 5.39 | 3.68 | NA | 0.70 | 9.77 | NA | 090
63700 |  | A | Repair of spinal herniation | 16.53 | 10.39 | NA | 2.69 | 29.61 | NA | 090
63702 |  | A | Repair of spinal herniation | 18.48 | 10.70 | NA | 1.36 | 30.54 | NA | 090
63704 |  | A | Repair of spinal herniation | 21.18 | 12.18 | NA | 3.84 | 37.20 | NA | 090
63706 |  | A | Repair of spinal herniation | 24.11 | 14.00 | NA | 4.73 | 42.84 | NA | 090
63707 |  | A | Repair spinal fluid leakage | 11.26 | 7.85 | NA | 1.96 | 21.07 | NA | 090
63709 |  | A | Repair spinal fluid leakage | 14.32 | 9.62 | NA | 2.49 | 26.43 | NA | 090
63710 |  | A | Graft repair of spine defect | 14.07 | 9.36 | NA | 2.61 | 26.04 | NA | 090
63740 |  | A | Install spinal shunt | 11.36 | 7.56 | NA | 2.15 | 21.07 | NA | 090
63741 |  | A | Install spinal shunt | 8.25 | 4.72 | NA | 1.05 | 14.02 | NA | 090
63744 |  | A | Revision of spinal shunt | 8.10 | 5.49 | NA | 1.51 | 15.10 | NA | 090
63746 |  | A | Removal of spinal shunt | 6.43 | 4.53 | NA | 1.15 | 12.11 | NA | 090
64400 |  | A | Injection for nerve block | 1.11 | 0.27 | 2.55 | 0.06 | 1.44 | 3.72 | 000
64402 |  | A | Injection for nerve block | 1.25 | 0.44 | 4.03 | 0.07 | 1.76 | 5.35 | 000
64405 |  | A | Injection for nerve block | 1.32 | 0.31 | 2.53 | 0.08 | 1.71 | 3.93 | 000
64408 |  | A | Injection for nerve block | 1.41 | 0.70 | 2.77 | 0.09 | 2.20 | 4.27 | 000
64410 |  | A | Injection for nerve block | 1.43 | 0.30 | 2.45 | 0.08 | 1.81 | 3.96 | 000
64412 |  | A | Injection for nerve block | 1.18 | 0.27 | 2.56 | 0.08 | 1.53 | 3.82 | 000
64413 |  | A | Injection for nerve block | 1.40 | 0.36 | 2.79 | 0.09 | 1.85 | 4.28 | 000
64415 |  | A | Injection for nerve block | 1.48 | 0.31 | 2.62 | 0.08 | 1.87 | 4.18 | 000
64417 |  | A | Injection for nerve block | 1.44 | 0.33 | 2.57 | 0.09 | 1.86 | 4.10 | 000
64418 |  | A | Injection for nerve block | 1.32 | 0.29 | 2.34 | 0.07 | 1.68 | 3.73 | 000
64420 |  | A | Injection for nerve block | 1.18 | 0.27 | 2.33 | 0.07 | 1.52 | 3.58 | 000
64421 |  | A | Injection for nerve block | 1.68 | 0.38 | 2.74 | 0.10 | 2.16 | 4.52 | 000
64425 |  | A | Injection for nerve block | 1.75 | 0.40 | 2.30 | 0.11 | 2.26 | 4.16 | 000
64430 |  | A | Injection for nerve block | 1.46 | 0.43 | 2.60 | 0.11 | 2.00 | 4.17 | 000
64435 |  | A | Injection for nerve block | 1.45 | 0.57 | 2.88 | 0.15 | 2.17 | 4.48 | 000
64445 |  | A | Injection for nerve block | 1.48 | 0.34 | 3.25 | 0.08 | 1.90 | 4.81 | 000
64450 |  | A | Injection for nerve block | 1.27 | 0.33 | 1.60 | 0.08 | 1.68 | 2.95 | 000
64470 |  | A | Inj paravertebral c/t | 1.85 | 0.50 | 3.84 | 0.12 | 2.47 | 5.81 | 000
64472 |  | A | Inj paravertebral c/t add-on | 1.29 | 0.35 | 3.50 | 0.09 | 1.73 | 4.88 | ZZZ
64475 |  | A | Inj paravertebral l/s | 1.41 | 0.38 | 3.67 | 0.09 | 1.88 | 5.17 | 000
64476 |  | A | Inj paravertebral l/s add-on | 0.98 | 0.26 | 4.03 | 0.06 | 1.30 | 5.07 | ZZZ
64479 |  | A | Inj foramen epidural c/t | 2.20 | 0.62 | 3.97 | 0.14 | 2.96 | 6.31 | 000
64480 |  | A | Inj foramen epidural add-on | 1.54 | 0.42 | 4.11 | 0.09 | 2.05 | 5.74 | ZZZ
64483 |  | A | Inj foramen epidural l/s | 1.90 | 0.53 | 3.85 | 0.12 | 2.55 | 5.87 | 000
64484 |  | A | Inj foramen epidural add-on | 1.33 | 0.36 | 4.02 | 0.08 | 1.77 | 5.43 | ZZZ
64505 |  | A | Injection for nerve block | 1.36 | 0.35 | 2.23 | 0.08 | 1.79 | 3.67 | 000
64508 |  | A | Injection for nerve block | 1.12 | 0.37 | 2.82 | 0.06 | 1.55 | 4.00 | 000
64510 |  | A | Injection for nerve block | 1.22 | 0.26 | 2.54 | 0.07 | 1.55 | 3.83 | 000
64520 |  | A | Injection for nerve block | 1.35 | 0.29 | 3.48 | 0.08 | 1.72 | 4.91 | 000
64530 |  | A | Injection for nerve block | 1.58 | 0.36 | 3.14 | 0.09 | 2.03 | 4.81 | 000
64550 |  | A | Apply neurostimulator | 0.18 | 0.05 | 0.51 | 0.01 | 0.24 | 0.70 | 000
64553 |  | A | Implant neuroelectrodes | 2.31 | 1.29 | 4.86 | 0.17 | 3.77 | 7.34 | 010
64555 |  | A | Implant neuroelectrodes | 2.27 | 0.71 | 2.41 | 0.11 | 3.09 | 4.79 | 010
64560 |  | A | Implant neuroelectrodes | 2.36 | 0.87 | 2.44 | 0.17 | 3.40 | 4.97 | 010
64565 |  | A | Implant neuroelectrodes | 1.76 | 0.62 | 3.16 | 0.08 | 2.46 | 5.00 | 010
64573 |  | A | Implant neuroelectrodes | 7.50 | 5.42 | NA | 1.48 | 14.40 | NA | 090
64575 |  | A | Implant neuroelectrodes | 4.35 | 3.19 | NA | 0.37 | 7.91 | NA | 090
64577 |  | A | Implant neuroelectrodes | 4.62 | 3.58 | NA | 0.50 | 8.70 | NA | 090
64580 |  | A | Implant neuroelectrodes | 4.12 | 4.22 | NA | 0.21 | 8.55 | NA | 090
64585 |  | A | Revise/remove neuroelectrode | 2.06 | 2.17 | 2.75 | 0.29 | 4.52 | 5.10 | 010
64590 |  | A | Implant neuroreceiver | 2.40 | 2.36 | NA | 0.40 | 5.16 | NA | 010
64595 |  | A | Revise/remove neuroreceiver | 1.73 | 2.07 | NA | 0.22 | 4.02 | NA | 010
64600 |  | A | Injection treatment of nerve | 3.45 | 2.07 | 3.11 | 0.28 | 5.80 | 6.84 | 010
64605 |  | A | Injection treatment of nerve | 5.61 | 2.80 | 4.14 | 0.53 | 8.94 | 10.28 | 010
64610 |  | A | Injection treatment of nerve | 7.16 | 3.79 | NA | 1.12 | 12.07 | NA | 010
64612 |  | A | Destroy nerve, face muscle | 1.96 | 1.60 | 2.84 | 0.09 | 3.65 | 4.89 | 010
64613 |  | A | Destroy nerve, spine muscle | 1.96 | 1.46 | 1.77 | 0.10 | 3.52 | 3.83 | 010
64614 |  | A | Destroy nerve, extrem musc | 2.20 | 0.80 | 3.56 | 0.16 | 3.16 | 5.92 | 010
64620 |  | A | Injection treatment of nerve | 2.84 | 0.68 | 2.94 | 0.17 | 3.69 | 5.95 | 010
64622 |  | A | Destr paravertebrl nerve l/s | 3.00 | 0.73 | 4.38 | 0.17 | 3.90 | 7.55 | 010
64623 |  | A | Destr paravertebral n add-on | 0.99 | 0.24 | 3.46 | 0.06 | 1.29 | 4.51 | ZZZ
64626 |  | A | Destr paravertebrl nerve c/t | 3.28 | 0.88 | 3.84 | 0.22 | 4.38 | 7.34 | 010
64627 |  | A | Destr paravertebral n add-on | 1.16 | 0.31 | 3.19 | 0.08 | 1.55 | 4.43 | ZZZ
64630 |  | A | Injection treatment of nerve | 3.00 | 0.79 | 3.61 | 0.16 | 3.95 | 6.77 | 010
64640 |  | A | Injection treatment of nerve | 2.76 | 1.01 | 5.49 | 0.11 | 3.88 | 8.36 | 010
64680 |  | A | Injection treatment of nerve | 2.62 | 0.65 | 2.82 | 0.15 | 3.42 | 5.59 | 010
64702 |  | A | Revise finger/toe nerve | 4.23 | 3.78 | NA | 0.51 | 8.52 | NA | 090
64704 |  | A | Revise hand/foot nerve | 4.57 | 3.14 | NA | 0.59 | 8.30 | NA | 090
64708 |  | A | Revise arm/leg nerve | 6.12 | 4.90 | NA | 0.82 | 11.84 | NA | 090
64712 |  | A | Revision of sciatic nerve | 7.75 | 5.01 | NA | 0.54 | 13.30 | NA | 090
64713 |  | A | Revision of arm nerve(s) | 11.00 | 5.85 | NA | 1.01 | 17.86 | NA | 090
64714 |  | A | Revise low back nerve(s) | 10.33 | 3.99 | NA | 0.64 | 14.96 | NA | 090
64716 |  | A | Revision of cranial nerve | 6.31 | 5.01 | NA | 0.59 | 11.91 | NA | 090
64718 |  | A | Revise ulnar nerve at elbow | 5.99 | 5.00 | NA | 0.87 | 11.86 | NA | 090
64719 |  | A | Revise ulnar nerve at wrist | 4.85 | 4.51 | NA | 0.63 | 9.99 | NA | 090
64721 |  | A | Carpal tunnel surgery | 4.29 | 5.65 | 5.97 | 0.59 | 10.53 | 10.85 | 090
64722 |  | A | Relieve pressure on nerve(s) | 4.70 | 3.02 | NA | 0.32 | 8.04 | NA | 090
64726 |  | A | Release foot/toe nerve | 4.18 | 3.03 | NA | 0.57 | 7.78 | NA | 090
64727 |  | A | Internal nerve revision | 3.10 | 1.62 | NA | 0.40 | 5.12 | NA | ZZZ
64732 |  | A | Incision of brow nerve | 4.41 | 3.46 | NA | 0.77 | 8.64 | NA | 090
64734 |  | A | Incision of cheek nerve | 4.92 | 3.53 | NA | 0.83 | 9.28 | NA | 090
64736 |  | A | Incision of chin nerve | 4.60 | 2.98 | NA | 0.71 | 8.29 | NA | 090
64738 |  | A | Incision of jaw nerve | 5.73 | 3.64 | NA | 0.84 | 10.21 | NA | 090
64740 |  | A | Incision of tongue nerve | 5.59 | 4.08 | NA | 0.43 | 10.10 | NA | 090
64742 |  | A | Incision of facial nerve | 6.22 | 4.84 | NA | 0.69 | 11.75 | NA | 090
64744 |  | A | Incise nerve, back of head | 5.24 | 3.92 | NA | 0.98 | 10.14 | NA | 090
64746 |  | A | Incise diaphragm nerve | 5.93 | 4.64 | NA | 0.75 | 11.32 | NA | 090
64752 |  | A | Incision of vagus nerve | 7.06 | 4.71 | NA | 0.83 | 12.60 | NA | 090
64755 |  | A | Incision of stomach nerves | 13.52 | 6.22 | NA | 1.16 | 20.90 | NA | 090
64760 |  | A | Incision of vagus nerve | 6.96 | 4.02 | NA | 0.51 | 11.49 | NA | 090
64761 |  | A | Incision of pelvis nerve | 6.41 | 3.31 | NA | 0.26 | 9.98 | NA | 090
64763 |  | A | Incise hip/thigh nerve | 6.93 | 6.37 | NA | 0.77 | 14.07 | NA | 090
64766 |  | A | Incise hip/thigh nerve | 8.67 | 6.18 | NA | 0.99 | 15.84 | NA | 090
64771 |  | A | Sever cranial nerve | 7.35 | 5.56 | NA | 1.32 | 14.23 | NA | 090
64772 |  | A | Incision of spinal nerve | 7.21 | 4.96 | NA | 1.20 | 13.37 | NA | 090
64774 |  | A | Remove skin nerve lesion | 5.17 | 3.66 | NA | 0.60 | 9.43 | NA | 090
64776 |  | A | Remove digit nerve lesion | 5.12 | 3.81 | NA | 0.63 | 9.56 | NA | 090
64778 |  | A | Digit nerve surgery add-on | 3.11 | 1.52 | NA | 0.38 | 5.01 | NA | ZZZ
64782 |  | A | Remove limb nerve lesion | 6.23 | 3.65 | NA | 0.79 | 10.67 | NA | 090
64783 |  | A | Limb nerve surgery add-on | 3.72 | 2.02 | NA | 0.48 | 6.22 | NA | ZZZ
64784 |  | A | Remove nerve lesion | 9.82 | 6.39 | NA | 1.17 | 17.38 | NA | 090
64786 |  | A | Remove sciatic nerve lesion | 15.46 | 10.25 | NA | 2.22 | 27.93 | NA | 090
64787 |  | A | Implant nerve end | 4.30 | 2.21 | NA | 0.56 | 7.07 | NA | ZZZ
64788 |  | A | Remove skin nerve lesion | 4.61 | 3.31 | NA | 0.54 | 8.46 | NA | 090
64790 |  | A | Removal of nerve lesion | 11.31 | 7.17 | NA | 1.68 | 20.16 | NA | 090
64792 |  | A | Removal of nerve lesion | 14.92 | 9.04 | NA | 1.88 | 25.84 | NA | 090
64795 |  | A | Biopsy of nerve | 3.01 | 1.85 | NA | 0.40 | 5.26 | NA | 000
64802 |  | A | Remove sympathetic nerves | 9.15 | 5.53 | NA | 0.87 | 15.55 | NA | 090
64804 |  | A | Remove sympathetic nerves | 14.64 | 7.82 | NA | 1.79 | 24.25 | NA | 090
64809 |  | A | Remove sympathetic nerves | 13.67 | 5.32 | NA | 0.96 | 19.95 | NA | 090
64818 |  | A | Remove sympathetic nerves | 10.30 | 5.79 | NA | 1.08 | 17.17 | NA | 090
64820 |  | A | Remove sympathetic nerves | 10.37 | 7.88 | NA | 1.17 | 19.42 | NA | 090
64831 |  | A | Repair of digit nerve | 9.44 | 7.17 | NA | 1.14 | 17.75 | NA | 090
64832 |  | A | Repair nerve add-on | 5.66 | 3.12 | NA | 0.68 | 9.46 | NA | ZZZ
64834 |  | A | Repair of hand or foot nerve | 10.19 | 7.18 | NA | 1.23 | 18.60 | NA | 090
64835 |  | A | Repair of hand or foot nerve | 10.94 | 7.82 | NA | 1.36 | 20.12 | NA | 090
64836 |  | A | Repair of hand or foot nerve | 10.94 | 7.67 | NA | 1.32 | 19.93 | NA | 090
64837 |  | A | Repair nerve add-on | 6.26 | 3.40 | NA | 0.80 | 10.46 | NA | ZZZ
64840 |  | A | Repair of leg nerve | 13.02 | 9.23 | NA | 0.86 | 23.11 | NA | 090
64856 |  | A | Repair/transpose nerve | 13.80 | 9.39 | NA | 1.71 | 24.90 | NA | 090
64857 |  | A | Repair arm/leg nerve | 14.49 | 9.76 | NA | 1.76 | 26.01 | NA | 090
64858 |  | A | Repair sciatic nerve | 16.49 | 10.31 | NA | 2.78 | 29.58 | NA | 090
64859 |  | A | Nerve surgery | 4.26 | 2.30 | NA | 0.50 | 7.06 | NA | ZZZ
64861 |  | A | Repair of arm nerves | 19.24 | 12.91 | NA | 2.45 | 34.60 | NA | 090
64862 |  | A | Repair of low back nerves | 19.44 | 9.63 | NA | 2.47 | 31.54 | NA | 090
64864 |  | A | Repair of facial nerve | 12.55 | 8.72 | NA | 1.13 | 22.40 | NA | 090
64865 |  | A | Repair of facial nerve | 15.24 | 10.03 | NA | 1.37 | 26.64 | NA | 090
64866 |  | A | Fusion of facial/other nerve | 15.74 | 9.73 | NA | 1.06 | 26.53 | NA | 090
64868 |  | A | Fusion of facial/other nerve | 14.04 | 9.38 | NA | 1.40 | 24.82 | NA | 090
64870 |  | A | Fusion of facial/other nerve | 15.99 | 7.98 | NA | 1.08 | 25.05 | NA | 090
64872 |  | A | Subsequent repair of nerve | 1.99 | 1.11 | NA | 0.24 | 3.34 | NA | ZZZ
64874 |  | A | Repair & revise nerve add-on | 2.98 | 1.58 | NA | 0.34 | 4.90 | NA | ZZZ
64876 |  | A | Repair nerve/shorten bone | 3.38 | 1.34 | NA | 0.39 | 5.11 | NA | ZZZ
64885 |  | A | Nerve graft, head or neck | 17.53 | 11.25 | NA | 1.51 | 30.29 | NA | 090
64886 |  | A | Nerve graft, head or neck | 20.75 | 13.10 | NA | 1.73 | 35.58 | NA | 090
64890 |  | A | Nerve graft, hand or foot | 15.15 | 10.14 | NA | 1.74 | 27.03 | NA | 090
64891 |  | A | Nerve graft, hand or foot | 16.14 | 7.59 | NA | 1.38 | 25.11 | NA | 090
64892 |  | A | Nerve graft, arm or leg | 14.65 | 8.73 | NA | 1.65 | 25.03 | NA | 090
64893 |  | A | Nerve graft, arm or leg | 15.60 | 10.34 | NA | 1.77 | 27.71 | NA | 090
64895 |  | A | Nerve graft, hand or foot | 19.25 | 11.12 | NA | 2.04 | 32.41 | NA | 090
64896 |  | A | Nerve graft, hand or foot | 20.49 | 9.36 | NA | 1.85 | 31.70 | NA | 090
64897 |  | A | Nerve graft, arm or leg | 18.24 | 10.73 | NA | 2.64 | 31.61 | NA | 090
64898 |  | A | Nerve graft, arm or leg | 19.50 | 12.30 | NA | 2.71 | 34.51 | NA | 090
64901 |  | A | Nerve graft add-on | 10.22 | 5.29 | NA | 0.99 | 16.50 | NA | ZZZ
64902 |  | A | Nerve graft add-on | 11.83 | 6.03 | NA | 1.10 | 18.96 | NA | ZZZ
64905 |  | A | Nerve pedicle transfer | 14.02 | 8.63 | NA | 1.52 | 24.17 | NA | 090
64907 |  | A | Nerve pedicle transfer | 18.83 | 11.68 | NA | 1.79 | 32.30 | NA | 090
64999 |  | C | Nervous system surgery | 0.00 | 0.00 | 0.00 | 0.00 | 0.00 | 0.00 | YYY
65091 |  | A | Revise eye | 6.46 | 9.45 | NA | 0.26 | 16.17 | NA | 090
65093 |  | A | Revise eye with implant | 6.87 | 9.65 | NA | 0.28 | 16.80 | NA | 090
65101 |  | A | Removal of eye | 7.03 | 9.48 | NA | 0.28 | 16.79 | NA | 090
65103 |  | A | Remove eye/insert implant | 7.57 | 9.82 | NA | 0.30 | 17.69 | NA | 090
65105 |  | A | Remove eye/attach implant | 8.49 | 10.37 | NA | 0.34 | 19.20 | NA | 090
65110 |  | A | Removal of eye | 13.95 | 14.03 | NA | 0.68 | 28.66 | NA | 090
65112 |  | A | Remove eye/revise socket | 16.38 | 17.35 | NA | 0.96 | 34.69 | NA | 090
65114 |  | A | Remove eye/revise socket | 17.53 | 16.37 | NA | 0.94 | 34.84 | NA | 090
65125 |  | A | Revise ocular implant | 3.12 | 1.47 | 4.85 | 0.15 | 4.74 | 8.12 | 090
65130 |  | A | Insert ocular implant | 7.15 | 9.56 | NA | 0.28 | 16.99 | NA | 090
65135 |  | A | Insert ocular implant | 7.33 | 9.30 | NA | 0.29 | 16.92 | NA | 090
65140 |  | A | Attach ocular implant | 8.02 | 9.73 | NA | 0.31 | 18.06 | NA | 090
65150 |  | A | Revise ocular implant | 6.26 | 9.01 | NA | 0.25 | 15.52 | NA | 090
65155 |  | A | Reinsert ocular implant | 8.66 | 11.15 | NA | 0.40 | 20.21 | NA | 090
65175 |  | A | Removal of ocular implant | 6.28 | 9.03 | NA | 0.26 | 15.57 | NA | 090
65205 |  | A | Remove foreign body from eye | 0.71 | 0.20 | 5.14 | 0.03 | 0.94 | 5.88 | 000
65210 |  | A | Remove foreign body from eye | 0.84 | 0.31 | 5.30 | 0.03 | 1.18 | 6.17 | 000
65220 |  | A | Remove foreign body from eye | 0.71 | 0.19 | 6.66 | 0.05 | 0.95 | 7.42 | 000
65222 |  | A | Remove foreign body from eye | 0.93 | 0.28 | 5.24 | 0.04 | 1.25 | 6.21 | 000
65235 |  | A | Remove foreign body from eye | 7.57 | 6.67 | NA | 0.30 | 14.54 | NA | 090
65260 |  | A | Remove foreign body from eye | 10.96 | 11.53 | NA | 0.43 | 22.92 | NA | 090
65265 |  | A | Remove foreign body from eye | 12.59 | 13.08 | NA | 0.50 | 26.17 | NA | 090
65270 |  | A | Repair of eye wound | 1.90 | 1.98 | 3.59 | 0.08 | 3.96 | 5.57 | 010
65272 |  | A | Repair of eye wound | 3.82 | 3.81 | 4.88 | 0.16 | 7.79 | 8.86 | 090
65273 |  | A | Repair of eye wound | 4.36 | 4.26 | NA | 0.17 | 8.79 | NA | 090
65275 |  | A | Repair of eye wound | 5.34 | 4.60 | 5.03 | 0.27 | 10.21 | 10.64 | 090
65280 |  | A | Repair of eye wound | 7.66 | 7.12 | NA | 0.30 | 15.08 | NA | 090
65285 |  | A | Repair of eye wound | 12.90 | 12.78 | NA | 0.51 | 26.19 | NA | 090
65286 |  | A | Repair of eye wound | 5.51 | 6.63 | 7.74 | 0.21 | 12.35 | 13.46 | 090
65290 |  | A | Repair of eye socket wound | 5.41 | 6.69 | NA | 0.26 | 12.36 | NA | 090
65400 |  | A | Removal of eye lesion | 6.06 | 6.38 | 7.70 | 0.24 | 12.68 | 14.00 | 090
65410 |  | A | Biopsy of cornea | 1.47 | 0.65 | 1.61 | 0.06 | 2.18 | 3.14 | 000
65420 |  | A | Removal of eye lesion | 4.17 | 5.95 | 6.92 | 0.17 | 10.29 | 11.26 | 090
65426 |  | A | Removal of eye lesion | 5.25 | 5.99 | 7.12 | 0.20 | 11.44 | 12.57 | 090
65430 |  | A | Corneal smear | 1.47 | 0.69 | 5.79 | 0.06 | 2.22 | 7.32 | 000
65435 |  | A | Curette/treat cornea | 0.92 | 0.41 | 1.27 | 0.04 | 1.37 | 2.23 | 000
65436 |  | A | Curette/treat cornea | 4.19 | 4.24 | 5.10 | 0.17 | 8.60 | 9.46 | 090
65450 |  | A | Treatment of corneal lesion | 3.27 | 5.55 | 6.68 | 0.13 | 8.95 | 10.08 | 090
65600 |  | A | Revision of cornea | 3.40 | 1.45 | 4.65 | 0.14 | 4.99 | 8.19 | 090
65710 |  | A | Corneal transplant | 12.35 | 12.27 | NA | 0.49 | 25.11 | NA | 090
65730 |  | A | Corneal transplant | 14.25 | 11.75 | NA | 0.56 | 26.56 | NA | 090
65750 |  | A | Corneal transplant | 15.00 | 13.52 | NA | 0.59 | 29.11 | NA | 090
65755 |  | A | Corneal transplant | 14.89 | 13.44 | NA | 0.58 | 28.91 | NA | 090
65760 |  | N | Revision of cornea | 0.00 | 0.00 | 0.00 | 0.00 | 0.00 | 0.00 | XXX
65765 |  | N | Revision of cornea | 0.00 | 0.00 | 0.00 | 0.00 | 0.00 | 0.00 | XXX
65767 |  | N | Corneal tissue transplant | 0.00 | 0.00 | 0.00 | 0.00 | 0.00 | 0.00 | XXX
65770 |  | A | Revise cornea with implant | 17.56 | 14.45 | NA | 0.69 | 32.70 | NA | 090
65771 |  | N | Radial keratotomy | 0.00 | 0.00 | 0.00 | 0.00 | 0.00 | 0.00 | XXX
65772 |  | A | Correction of astigmatism | 4.29 | 5.26 | 6.16 | 0.17 | 9.72 | 10.62 | 090
65775 |  | A | Correction of astigmatism | 5.79 | 7.87 | NA | 0.22 | 13.88 | NA | 090
65800 |  | A | Drainage of eye | 1.91 | 1.36 | 2.13 | 0.08 | 3.35 | 4.12 | 000
65805 |  | A | Drainage of eye | 1.91 | 1.37 | 2.13 | 0.08 | 3.36 | 4.12 | 000
65810 |  | A | Drainage of eye | 4.87 | 7.32 | NA | 0.19 | 12.38 | NA | 090
65815 |  | A | Drainage of eye | 5.05 | 6.86 | 7.93 | 0.20 | 12.11 | 13.18 | 090
65820 |  | A | Relieve inner eye pressure | 8.13 | 9.12 | NA | 0.32 | 17.57 | NA | 090
65850 |  | A | Incision of eye | 10.52 | 9.40 | NA | 0.41 | 20.33 | NA | 090
65855 |  | A | Laser surgery of eye | 3.85 | 3.56 | 4.83 | 0.17 | 7.58 | 8.85 | 090
65860 |  | A | Incise inner eye adhesions | 3.55 | 2.93 | 3.71 | 0.14 | 6.62 | 7.40 | 090
65865 |  | A | Incise inner eye adhesions | 5.60 | 6.14 | NA | 0.22 | 11.96 | NA | 090
65870 |  | A | Incise inner eye adhesions | 6.27 | 6.47 | NA | 0.24 | 12.98 | NA | 090
65875 |  | A | Incise inner eye adhesions | 6.54 | 6.59 | NA | 0.25 | 13.38 | NA | 090
65880 |  | A | Incise inner eye adhesions | 7.09 | 6.82 | NA | 0.28 | 14.19 | NA | 090
65900 |  | A | Remove eye lesion | 10.93 | 11.71 | NA | 0.46 | 23.10 | NA | 090
65920 |  | A | Remove implant from eye | 8.40 | 7.47 | NA | 0.33 | 16.20 | NA | 090
65930 |  | A | Remove blood clot from eye | 7.44 | 7.92 | NA | 0.29 | 15.65 | NA | 090
66020 |  | A | Injection treatment of eye | 1.59 | 1.45 | 2.20 | 0.07 | 3.11 | 3.86 | 010
66030 |  | A | Injection treatment of eye | 1.25 | 1.29 | 2.05 | 0.05 | 2.59 | 3.35 | 010
66130 |  | A | Remove eye lesion | 7.69 | 5.91 | 6.73 | 0.31 | 13.91 | 14.73 | 090
66150 |  | A | Glaucoma surgery | 8.30 | 10.08 | NA | 0.33 | 18.71 | NA | 090
66155 |  | A | Glaucoma surgery | 8.29 | 10.06 | NA | 0.32 | 18.67 | NA | 090
66160 |  | A | Glaucoma surgery | 10.17 | 10.94 | NA | 0.41 | 21.52 | NA | 090
66165 |  | A | Glaucoma surgery | 8.01 | 9.97 | NA | 0.31 | 18.29 | NA | 090
66170 |  | A | Glaucoma surgery | 12.16 | 11.90 | NA | 0.48 | 24.54 | NA | 090
66172 |  | A | Incision of eye | 15.04 | 14.75 | NA | 0.59 | 30.38 | NA | 090
66180 |  | A | Implant eye shunt | 14.55 | 11.76 | NA | 0.57 | 26.88 | NA | 090
66185 |  | A | Revise eye shunt | 8.14 | 8.25 | NA | 0.32 | 16.71 | NA | 090
66220 |  | A | Repair eye lesion | 7.77 | 9.97 | NA | 0.32 | 18.06 | NA | 090
66225 |  | A | Repair/graft eye lesion | 11.05 | 9.28 | NA | 0.44 | 20.77 | NA | 090
66250 |  | A | Follow-up surgery of eye | 5.98 | 6.35 | 7.71 | 0.23 | 12.56 | 13.92 | 090
66500 |  | A | Incision of iris | 3.71 | 4.00 | NA | 0.15 | 7.86 | NA | 090
66505 |  | A | Incision of iris | 4.08 | 4.20 | NA | 0.17 | 8.45 | NA | 090
66600 |  | A | Remove iris and lesion | 8.68 | 9.14 | NA | 0.34 | 18.16 | NA | 090
66605 |  | A | Removal of iris | 12.79 | 12.23 | NA | 0.61 | 25.63 | NA | 090
66625 |  | A | Removal of iris | 5.13 | 6.88 | 7.80 | 0.20 | 12.21 | 13.13 | 090
66630 |  | A | Removal of iris | 6.16 | 7.91 | NA | 0.24 | 14.31 | NA | 090
66635 |  | A | Removal of iris | 6.25 | 6.45 | NA | 0.24 | 12.94 | NA | 090
66680 |  | A | Repair iris & ciliary body | 5.44 | 6.06 | NA | 0.21 | 11.71 | NA | 090
66682 |  | A | Repair iris & ciliary body | 6.21 | 7.95 | NA | 0.24 | 14.40 | NA | 090
66700 |  | A | Destruction, ciliary body | 4.78 | 6.25 | 7.59 | 0.19 | 11.22 | 12.56 | 090
66710 |  | A | Destruction, ciliary body | 4.78 | 6.28 | 7.47 | 0.18 | 11.24 | 12.43 | 090
66720 |  | A | Destruction, ciliary body | 4.78 | 6.24 | 7.37 | 0.19 | 11.21 | 12.34 | 090
66740 |  | A | Destruction, ciliary body | 4.78 | 5.75 | NA | 0.18 | 10.71 | NA | 090
66761 |  | A | Revision of iris | 4.07 | 4.03 | 5.13 | 0.16 | 8.26 | 9.36 | 090
66762 |  | A | Revision of iris | 4.58 | 4.19 | 5.26 | 0.18 | 8.95 | 10.02 | 090
66770 |  | A | Removal of inner eye lesion | 5.18 | 4.45 | 5.56 | 0.20 | 9.83 | 10.94 | 090
66820 |  | A | Incision, secondary cataract | 3.89 | 6.91 | NA | 0.16 | 10.96 | NA | 090
66821 |  | A | After cataract laser surgery | 2.35 | 3.11 | 3.51 | 0.10 | 5.56 | 5.96 | 090
66825 |  | A | Reposition intraocular lens | 8.23 | 8.88 | NA | 0.32 | 17.43 | NA | 090
66830 |  | A | Removal of lens lesion | 8.20 | 6.65 | NA | 0.32 | 15.17 | NA | 090
66840 |  | A | Removal of lens material | 7.91 | 6.59 | NA | 0.31 | 14.81 | NA | 090
66850 |  | A | Removal of lens material | 9.11 | 7.13 | NA | 0.36 | 16.60 | NA | 090
66852 |  | A | Removal of lens material | 9.97 | 7.59 | NA | 0.39 | 17.95 | NA | 090
66920 |  | A | Extraction of lens | 8.86 | 7.06 | NA | 0.35 | 16.27 | NA | 090
66930 |  | A | Extraction of lens | 10.18 | 8.53 | NA | 0.41 | 19.12 | NA | 090
66940 |  | A | Extraction of lens | 8.93 | 7.93 | NA | 0.35 | 17.21 | NA | 090
66982 |  | A | Cataract surgery, complex | 13.50 | 8.88 | NA | 0.55 | 22.93 | NA | 090
66983 |  | A | Cataract surg w/iol, 1 stage | 8.99 | 5.74 | NA | 0.37 | 15.10 | NA | 090
66984 |  | A | Cataract surg w/iol, i stage | 10.23 | 7.44 | NA | 0.41 | 18.08 | NA | 090
66985 |  | A | Insert lens prosthesis | 8.39 | 6.61 | NA | 0.33 | 15.33 | NA | 090
66986 |  | A | Exchange lens prosthesis | 12.28 | 8.65 | NA | 0.49 | 21.42 | NA | 090
66999 |  | C | Eye surgery procedure | 0.00 | 0.00 | 0.00 | 0.00 | 0.00 | 0.00 | YYY
67005 |  | A | Partial removal of eye fluid | 5.70 | 2.70 | NA | 0.22 | 8.62 | NA | 090
67010 |  | A | Partial removal of eye fluid | 6.87 | 3.28 | NA | 0.27 | 10.42 | NA | 090
67015 |  | A | Release of eye fluid | 6.92 | 7.62 | NA | 0.27 | 14.81 | NA | 090
67025 |  | A | Replace eye fluid | 6.84 | 7.10 | 14.50 | 0.27 | 14.21 | 21.61 | 090
67027 |  | A | Implant eye drug system | 10.85 | 8.45 | 16.16 | 0.46 | 19.76 | 27.47 | 090
67028 |  | A | Injection eye drug | 2.52 | 1.20 | 8.03 | 0.11 | 3.83 | 10.66 | 000
67030 |  | A | Incise inner eye strands | 4.84 | 6.21 | NA | 0.19 | 11.24 | NA | 090
67031 |  | A | Laser surgery, eye strands | 3.67 | 3.00 | 3.80 | 0.15 | 6.82 | 7.62 | 090
67036 |  | A | Removal of inner eye fluid | 11.89 | 8.81 | NA | 0.47 | 21.17 | NA | 090
67038 |  | A | Strip retinal membrane | 21.24 | 15.12 | NA | 0.84 | 37.20 | NA | 090
67039 |  | A | Laser treatment of retina | 14.52 | 11.91 | NA | 0.57 | 27.00 | NA | 090
67040 |  | A | Laser treatment of retina | 17.23 | 13.22 | NA | 0.68 | 31.13 | NA | 090
67101 |  | A | Repair detached retina | 7.53 | 8.49 | 10.38 | 0.29 | 16.31 | 18.20 | 090
67105 |  | A | Repair detached retina | 7.41 | 5.48 | 7.24 | 0.29 | 13.18 | 14.94 | 090
67107 |  | A | Repair detached retina | 14.84 | 12.77 | NA | 0.58 | 28.19 | NA | 090
67108 |  | A | Repair detached retina | 20.82 | 17.00 | NA | 0.82 | 38.64 | NA | 090
67110 |  | A | Repair detached retina | 8.81 | 9.89 | 17.89 | 0.35 | 19.05 | 27.05 | 090
67112 |  | A | Rerepair detached retina | 16.86 | 15.09 | NA | 0.66 | 32.61 | NA | 090
67115 |  | A | Release encircling material | 4.99 | 6.30 | NA | 0.19 | 11.48 | NA | 090
67120 |  | A | Remove eye implant material | 5.98 | 6.69 | 13.93 | 0.23 | 12.90 | 20.14 | 090
67121 |  | A | Remove eye implant material | 10.67 | 11.36 | NA | 0.42 | 22.45 | NA | 090
67141 |  | A | Treatment of retina | 5.20 | 6.47 | 7.44 | 0.20 | 11.87 | 12.84 | 090
67145 |  | A | Treatment of retina | 5.37 | 4.10 | 5.09 | 0.21 | 9.68 | 10.67 | 090
67208 |  | A | Treatment of retinal lesion | 6.70 | 6.61 | 7.81 | 0.26 | 13.57 | 14.77 | 090
67210 |  | A | Treatment of retinal lesion | 8.82 | 5.72 | 7.05 | 0.35 | 14.89 | 16.22 | 090
67218 |  | A | Treatment of retinal lesion | 18.53 | 15.13 | NA | 0.53 | 34.19 | NA | 090
67220 |  | A | Treatment of choroid lesion | 13.13 | 9.81 | 10.88 | 0.51 | 23.45 | 24.52 | 090
67221 |  | A | Ocular photodynamic ther | 4.01 | 1.92 | 4.19 | 0.50 | 6.43 | 8.70 | 000
67227 |  | A | Treatment of retinal lesion | 6.58 | 6.72 | 8.39 | 0.26 | 13.56 | 15.23 | 090
67228 |  | A | Treatment of retinal lesion | 12.74 | 7.25 | 9.63 | 0.50 | 20.49 | 22.87 | 090
67250 |  | A | Reinforce eye wall | 8.66 | 10.21 | NA | 0.36 | 19.23 | NA | 090
67255 |  | A | Reinforce/graft eye wall | 8.90 | 10.14 | NA | 0.35 | 19.39 | NA | 090
67299 |  | C | Eye surgery procedure | 0.00 | 0.00 | 0.00 | 0.00 | 0.00 | 0.00 | YYY
67311 |  | A | Revise eye muscle | 6.65 | 6.09 | NA | 0.27 | 13.01 | NA | 090
67312 |  | A | Revise two eye muscles | 8.54 | 7.06 | NA | 0.35 | 15.95 | NA | 090
67314 |  | A | Revise eye muscle | 7.52 | 6.57 | NA | 0.30 | 14.39 | NA | 090
67316 |  | A | Revise two eye muscles | 9.66 | 7.55 | NA | 0.40 | 17.61 | NA | 090
67318 |  | A | Revise eye muscle(s) | 7.85 | 6.96 | NA | 0.31 | 15.12 | NA | 090
67320 |  | A | Revise eye muscle(s) add-on | 4.33 | 6.56 | NA | 0.17 | 11.06 | NA | ZZZ
67331 |  | A | Eye surgery follow-up add-on | 4.06 | 5.01 | NA | 0.17 | 9.24 | NA | ZZZ
67332 |  | A | Rerevise eye muscles add-on | 4.49 | 5.66 | NA | 0.18 | 10.33 | NA | ZZZ
67334 |  | A | Revise eye muscle w/suture | 3.98 | 5.15 | NA | 0.16 | 9.29 | NA | ZZZ
67335 |  | A | Eye suture during surgery | 2.49 | 1.18 | NA | 0.10 | 3.77 | NA | ZZZ
67340 |  | A | Revise eye muscle add-on | 4.93 | 6.82 | NA | 0.19 | 11.94 | NA | ZZZ
67343 |  | A | Release eye tissue | 7.35 | 6.94 | NA | 0.30 | 14.59 | NA | 090
67345 |  | A | Destroy nerve of eye muscle | 2.96 | 1.38 | 4.19 | 0.13 | 4.47 | 7.28 | 010
67350 |  | A | Biopsy eye muscle | 2.87 | 2.37 | NA | 0.13 | 5.37 | NA | 000
67399 |  | C | Eye muscle surgery procedure | 0.00 | 0.00 | 0.00 | 0.00 | 0.00 | 0.00 | YYY
67400 |  | A | Explore/biopsy eye socket | 9.76 | 11.78 | NA | 0.43 | 21.97 | NA | 090
67405 |  | A | Explore/drain eye socket | 7.93 | 10.62 | NA | 0.36 | 18.91 | NA | 090
67412 |  | A | Explore/treat eye socket | 9.50 | 12.91 | NA | 0.41 | 22.82 | NA | 090
67413 |  | A | Explore/treat eye socket | 10.00 | 11.35 | NA | 0.43 | 21.78 | NA | 090
67414 |  | A | Explr/decompress eye socket | 11.13 | 13.53 | NA | 0.48 | 25.14 | NA | 090
67415 |  | A | Aspiration, orbital contents | 1.76 | 0.83 | NA | 0.09 | 2.68 | NA | 000
67420 |  | A | Explore/treat eye socket | 20.06 | 17.23 | NA | 0.84 | 38.13 | NA | 090
67430 |  | A | Explore/treat eye socket | 13.39 | 19.03 | NA | 0.97 | 33.39 | NA | 090
67440 |  | A | Explore/drain eye socket | 13.09 | 14.28 | NA | 0.58 | 27.95 | NA | 090
67445 |  | A | Explr/decompress eye socket | 14.42 | 15.52 | NA | 0.63 | 30.57 | NA | 090
67450 |  | A | Explore/biopsy eye socket | 13.51 | 14.00 | NA | 0.56 | 28.07 | NA | 090
67500 |  | A | Inject/treat eye socket | 0.79 | 0.20 | 1.93 | 0.04 | 1.03 | 2.76 | 000
67505 |  | A | Inject/treat eye socket | 0.82 | 0.21 | 0.90 | 0.04 | 1.07 | 1.76 | 000
67515 |  | A | Inject/treat eye socket | 0.61 | 0.29 | 0.79 | 0.02 | 0.92 | 1.42 | 000
67550 |  | A | Insert eye socket implant | 10.19 | 11.87 | NA | 0.50 | 22.56 | NA | 090
67560 |  | A | Revise eye socket implant | 10.60 | 11.46 | NA | 0.47 | 22.53 | NA | 090
67570 |  | A | Decompress optic nerve | 13.58 | 14.77 | NA | 0.69 | 29.04 | NA | 090
67599 |  | C | Orbit surgery procedure | 0.00 | 0.00 | 0.00 | 0.00 | 0.00 | 0.00 | YYY
67700 |  | A | Drainage of eyelid abscess | 1.35 | 0.60 | 5.34 | 0.06 | 2.01 | 6.75 | 010
67710 |  | A | Incision of eyelid | 1.02 | 0.49 | 5.48 | 0.04 | 1.55 | 6.54 | 010
67715 |  | A | Incision of eyelid fold | 1.22 | 0.59 | NA | 0.05 | 1.86 | NA | 010
67800 |  | A | Remove eyelid lesion | 1.38 | 0.66 | 2.18 | 0.06 | 2.10 | 3.62 | 010
67801 |  | A | Remove eyelid lesions | 1.88 | 0.90 | 5.68 | 0.08 | 2.86 | 7.64 | 010
67805 |  | A | Remove eyelid lesions | 2.22 | 1.06 | 5.88 | 0.09 | 3.37 | 8.19 | 010
67808 |  | A | Remove eyelid lesion(s) | 3.80 | 3.79 | NA | 0.17 | 7.76 | NA | 090
67810 |  | A | Biopsy of eyelid | 1.48 | 0.71 | 4.45 | 0.06 | 2.25 | 5.99 | 000
67820 |  | A | Revise eyelashes | 0.89 | 0.38 | 1.56 | 0.04 | 1.31 | 2.49 | 000
67825 |  | A | Revise eyelashes | 1.38 | 1.66 | 6.95 | 0.06 | 3.10 | 8.39 | 010
67830 |  | A | Revise eyelashes | 1.70 | 1.87 | 8.18 | 0.07 | 3.64 | 9.95 | 010
67835 |  | A | Revise eyelashes | 5.56 | 4.53 | NA | 0.22 | 10.31 | NA | 090
67840 |  | A | Remove eyelid lesion | 2.04 | 0.97 | 5.75 | 0.08 | 3.09 | 7.87 | 010
67850 |  | A | Treat eyelid lesion | 1.69 | 1.76 | 7.12 | 0.07 | 3.52 | 8.88 | 010
67875 |  | A | Closure of eyelid by suture | 1.35 | 1.84 | 8.34 | 0.06 | 3.25 | 9.75 | 000
67880 |  | A | Revision of eyelid | 3.80 | 2.90 | 9.21 | 0.16 | 6.86 | 13.17 | 090
67882 |  | A | Revision of eyelid | 5.07 | 4.36 | 11.96 | 0.21 | 9.64 | 17.24 | 090
67900 |  | A | Repair brow defect | 6.14 | 6.16 | 10.03 | 0.30 | 12.60 | 16.47 | 090
67901 |  | A | Repair eyelid defect | 6.97 | 6.35 | NA | 0.32 | 13.64 | NA | 090
67902 |  | A | Repair eyelid defect | 7.03 | 6.44 | NA | 0.34 | 13.81 | NA | 090
67903 |  | A | Repair eyelid defect | 6.37 | 7.12 | 11.86 | 0.39 | 13.88 | 18.62 | 090
67904 |  | A | Repair eyelid defect | 6.26 | 7.21 | 12.42 | 0.26 | 13.73 | 18.94 | 090
67906 |  | A | Repair eyelid defect | 6.79 | 6.29 | 7.52 | 0.42 | 13.50 | 14.73 | 090
67908 |  | A | Repair eyelid defect | 5.13 | 5.67 | 8.20 | 0.20 | 11.00 | 13.53 | 090
67909 |  | A | Revise eyelid defect | 5.40 | 6.37 | 9.33 | 0.25 | 12.02 | 14.98 | 090
67911 |  | A | Revise eyelid defect | 5.27 | 6.15 | NA | 0.23 | 11.65 | NA | 090
67914 |  | A | Repair eyelid defect | 3.68 | 3.31 | 9.72 | 0.16 | 7.15 | 13.56 | 090
67915 |  | A | Repair eyelid defect | 3.18 | 1.54 | 8.46 | 0.13 | 4.85 | 11.77 | 090
67916 |  | A | Repair eyelid defect | 5.31 | 5.00 | 12.94 | 0.22 | 10.53 | 18.47 | 090
67917 |  | A | Repair eyelid defect | 6.02 | 6.18 | 9.20 | 0.25 | 12.45 | 15.47 | 090
67921 |  | A | Repair eyelid defect | 3.40 | 3.05 | 9.35 | 0.14 | 6.59 | 12.89 | 090
67922 |  | A | Repair eyelid defect | 3.06 | 2.89 | 8.41 | 0.13 | 6.08 | 11.60 | 090
67923 |  | A | Repair eyelid defect | 5.88 | 5.14 | 12.91 | 0.24 | 11.26 | 19.03 | 090
67924 |  | A | Repair eyelid defect | 5.79 | 5.55 | 8.55 | 0.23 | 11.57 | 14.57 | 090
67930 |  | A | Repair eyelid wound | 3.61 | 2.88 | 9.23 | 0.17 | 6.66 | 13.01 | 010
67935 |  | A | Repair eyelid wound | 6.22 | 5.19 | 13.75 | 0.29 | 11.70 | 20.26 | 090
67938 |  | A | Remove eyelid foreign body | 1.33 | 0.53 | 6.62 | 0.06 | 1.92 | 8.01 | 010
67950 |  | A | Revision of eyelid | 5.82 | 6.94 | 8.40 | 0.30 | 13.06 | 14.52 | 090
67961 |  | A | Revision of eyelid | 5.69 | 5.86 | 8.54 | 0.26 | 11.81 | 14.49 | 090
67966 |  | A | Revision of eyelid | 6.57 | 6.05 | 8.43 | 0.33 | 12.95 | 15.33 | 090
67971 |  | A | Reconstruction of eyelid | 9.79 | 7.56 | NA | 0.42 | 17.77 | NA | 090
67973 |  | A | Reconstruction of eyelid | 12.87 | 9.70 | NA | 0.59 | 23.16 | NA | 090
67974 |  | A | Reconstruction of eyelid | 12.84 | 9.61 | NA | 0.54 | 22.99 | NA | 090
67975 |  | A | Reconstruction of eyelid | 9.13 | 7.20 | NA | 0.38 | 16.71 | NA | 090
67999 |  | C | Revision of eyelid | 0.00 | 0.00 | 0.00 | 0.00 | 0.00 | 0.00 | YYY
68020 |  | A | Incise/drain eyelid lining | 1.37 | 0.65 | 5.28 | 0.06 | 2.08 | 6.71 | 010
68040 |  | A | Treatment of eyelid lesions | 0.85 | 0.41 | 5.13 | 0.03 | 1.29 | 6.01 | 000
68100 |  | A | Biopsy of eyelid lining | 1.35 | 0.64 | 5.64 | 0.06 | 2.05 | 7.05 | 000
68110 |  | A | Remove eyelid lining lesion | 1.77 | 1.35 | 6.35 | 0.07 | 3.19 | 8.19 | 010
68115 |  | A | Remove eyelid lining lesion | 2.36 | 1.12 | 5.90 | 0.10 | 3.58 | 8.36 | 010
68130 |  | A | Remove eyelid lining lesion | 4.93 | 2.35 | NA | 0.19 | 7.47 | NA | 090
68135 |  | A | Remove eyelid lining lesion | 1.84 | 0.87 | 5.65 | 0.07 | 2.78 | 7.56 | 010
68200 |  | A | Treat eyelid by injection | 0.49 | 0.23 | 5.25 | 0.02 | 0.74 | 5.76 | 000
68320 |  | A | Revise/graft eyelid lining | 5.37 | 5.05 | 5.14 | 0.21 | 10.63 | 10.72 | 090
68325 |  | A | Revise/graft eyelid lining | 7.36 | 6.07 | NA | 0.30 | 13.73 | NA | 090
68326 |  | A | Revise/graft eyelid lining | 7.15 | 5.96 | NA | 0.30 | 13.41 | NA | 090
68328 |  | A | Revise/graft eyelid lining | 8.18 | 6.81 | NA | 0.40 | 15.39 | NA | 090
68330 |  | A | Revise eyelid lining | 4.83 | 5.00 | 6.69 | 0.19 | 10.02 | 11.71 | 090
68335 |  | A | Revise/graft eyelid lining | 7.19 | 5.16 | NA | 0.29 | 12.64 | NA | 090
68340 |  | A | Separate eyelid adhesions | 4.17 | 3.89 | 11.78 | 0.17 | 8.23 | 16.12 | 090
68360 |  | A | Revise eyelid lining | 4.37 | 4.78 | 5.92 | 0.17 | 9.32 | 10.46 | 090
68362 |  | A | Revise eyelid lining | 7.34 | 7.43 | NA | 0.29 | 15.06 | NA | 090
68399 |  | C | Eyelid lining surgery | 0.00 | 0.00 | 0.00 | 0.00 | 0.00 | 0.00 | YYY
68400 |  | A | Incise/drain tear gland | 1.69 | 1.88 | 8.24 | 0.07 | 3.64 | 10.00 | 010
68420 |  | A | Incise/drain tear sac | 2.30 | 2.17 | 8.38 | 0.10 | 4.57 | 10.78 | 010
68440 |  | A | Incise tear duct opening | 0.94 | 0.45 | 5.27 | 0.04 | 1.43 | 6.25 | 010
68500 |  | A | Removal of tear gland | 11.02 | 10.17 | NA | 0.60 | 21.79 | NA | 090
68505 |  | A | Partial removal, tear gland | 10.94 | 10.38 | NA | 0.57 | 21.89 | NA | 090
68510 |  | A | Biopsy of tear gland | 4.61 | 2.16 | 9.87 | 0.19 | 6.96 | 14.67 | 000
68520 |  | A | Removal of tear sac | 7.51 | 6.72 | NA | 0.33 | 14.56 | NA | 090
68525 |  | A | Biopsy of tear sac | 4.43 | 2.11 | NA | 0.18 | 6.72 | NA | 000
68530 |  | A | Clearance of tear duct | 3.66 | 2.76 | 11.01 | 0.16 | 6.58 | 14.83 | 010
68540 |  | A | Remove tear gland lesion | 10.60 | 8.32 | NA | 0.46 | 19.38 | NA | 090
68550 |  | A | Remove tear gland lesion | 13.26 | 10.39 | NA | 0.66 | 24.31 | NA | 090
68700 |  | A | Repair tear ducts | 6.60 | 6.10 | NA | 0.27 | 12.97 | NA | 090
68705 |  | A | Revise tear duct opening | 2.06 | 0.98 | 5.90 | 0.08 | 3.12 | 8.04 | 010
68720 |  | A | Create tear sac drain | 8.96 | 7.26 | NA | 0.38 | 16.60 | NA | 090
68745 |  | A | Create tear duct drain | 8.63 | 7.26 | NA | 0.38 | 16.27 | NA | 090
68750 |  | A | Create tear duct drain | 8.66 | 7.68 | NA | 0.37 | 16.71 | NA | 090
68760 |  | A | Close tear duct opening | 1.73 | 0.82 | 5.54 | 0.07 | 2.62 | 7.34 | 010
68761 |  | A | Close tear duct opening | 1.36 | 0.63 | 6.39 | 0.06 | 2.05 | 7.81 | 010
68770 |  | A | Close tear system fistula | 7.02 | 5.56 | 13.49 | 0.28 | 12.86 | 20.79 | 090
68801 |  | A | Dilate tear duct opening | 0.94 | 0.44 | 6.44 | 0.04 | 1.42 | 7.42 | 010
68810 |  | A | Probe nasolacrimal duct | 1.90 | 1.89 | 8.09 | 0.08 | 3.87 | 10.07 | 010
68811 |  | A | Probe nasolacrimal duct | 2.35 | 2.14 | NA | 0.10 | 4.59 | NA | 010
68815 |  | A | Probe nasolacrimal duct | 3.20 | 2.61 | 9.93 | 0.14 | 5.95 | 13.27 | 010
68840 |  | A | Explore/irrigate tear ducts | 1.25 | 0.59 | 7.01 | 0.05 | 1.89 | 8.31 | 010
68850 |  | A | Injection for tear sac x-ray | 0.80 | 0.31 | 12.26 | 0.03 | 1.14 | 13.09 | 000
68899 |  | C | Tear duct system surgery | 0.00 | 0.00 | 0.00 | 0.00 | 0.00 | 0.00 | YYY
69000 |  | A | Drain external ear lesion | 1.45 | 0.58 | 2.03 | 0.10 | 2.13 | 3.58 | 010
69005 |  | A | Drain external ear lesion | 2.11 | 2.06 | 2.46 | 0.16 | 4.33 | 4.73 | 010
69020 |  | A | Drain outer ear canal lesion | 1.48 | 0.75 | 2.13 | 0.11 | 2.34 | 3.72 | 010
69090 |  | N | Pierce earlobes | 0.00 | 0.00 | 0.00 | 0.00 | 0.00 | 0.00 | XXX
69100 |  | A | Biopsy of external ear | 0.81 | 0.41 | 1.44 | 0.04 | 1.26 | 2.29 | 000
69105 |  | A | Biopsy of external ear canal | 0.85 | 0.96 | 1.45 | 0.06 | 1.87 | 2.36 | 000
69110 |  | A | Remove external ear, partial | 3.44 | 2.79 | 3.43 | 0.24 | 6.47 | 7.11 | 090
69120 |  | A | Removal of external ear | 4.05 | 4.42 | NA | 0.31 | 8.78 | NA | 090
69140 |  | A | Remove ear canal lesion(s) | 7.97 | 7.89 | NA | 0.56 | 16.42 | NA | 090
69145 |  | A | Remove ear canal lesion(s) | 2.62 | 2.44 | 3.26 | 0.18 | 5.24 | 6.06 | 090
69150 |  | A | Extensive ear canal surgery | 13.43 | 11.19 | NA | 1.07 | 25.69 | NA | 090
69155 |  | A | Extensive ear/neck surgery | 20.80 | 15.24 | NA | 1.51 | 37.55 | NA | 090
69200 |  | A | Clear outer ear canal | 0.77 | 0.72 | 1.38 | 0.05 | 1.54 | 2.20 | 000
69205 |  | A | Clear outer ear canal | 1.20 | 1.50 | NA | 0.09 | 2.79 | NA | 010
69210 |  | A | Remove impacted ear wax | 0.61 | 0.25 | 1.27 | 0.04 | 0.90 | 1.92 | 000
69220 |  | A | Clean out mastoid cavity | 0.83 | 0.43 | 1.44 | 0.06 | 1.32 | 2.33 | 000
69222 |  | A | Clean out mastoid cavity | 1.40 | 1.63 | 2.12 | 0.10 | 3.13 | 3.62 | 010
69300 |  | R | Revise external ear | 6.36 | 4.35 | NA | 0.43 | 11.14 | NA | YYY
69310 |  | A | Rebuild outer ear canal | 10.79 | 9.48 | NA | 0.77 | 21.04 | NA | 090
69320 |  | A | Rebuild outer ear canal | 16.96 | 13.66 | NA | 1.17 | 31.79 | NA | 090
69399 |  | C | Outer ear surgery procedure | 0.00 | 0.00 | 0.00 | 0.00 | 0.00 | 0.00 | YYY
69400 |  | A | Inflate middle ear canal | 0.83 | 0.46 | 1.44 | 0.06 | 1.35 | 2.33 | 000
69401 |  | A | Inflate middle ear canal | 0.63 | 0.37 | 1.34 | 0.04 | 1.04 | 2.01 | 000
69405 |  | A | Catheterize middle ear canal | 2.63 | 1.48 | 2.97 | 0.18 | 4.29 | 5.78 | 010
69410 |  | A | Inset middle ear (baffle) | 0.33 | 0.16 | 1.38 | 0.02 | 0.51 | 1.73 | 000
69420 |  | A | Incision of eardrum | 1.33 | 0.72 | 2.22 | 0.10 | 2.15 | 3.65 | 010
69421 |  | A | Incision of eardrum | 1.73 | 1.83 | 2.46 | 0.13 | 3.69 | 4.32 | 010
69424 |  | A | Remove ventilating tube | 0.85 | 0.89 | 1.59 | 0.06 | 1.80 | 2.50 | 000
69433 |  | A | Create eardrum opening | 1.52 | 0.86 | 2.20 | 0.11 | 2.49 | 3.83 | 010
69436 |  | A | Create eardrum opening | 1.96 | 1.97 | NA | 0.14 | 4.07 | NA | 010
69440 |  | A | Exploration of middle ear | 7.57 | 7.11 | NA | 0.53 | 15.21 | NA | 090
69450 |  | A | Eardrum revision | 5.57 | 5.90 | NA | 0.39 | 11.86 | NA | 090
69501 |  | A | Mastoidectomy | 9.07 | 7.91 | NA | 0.65 | 17.63 | NA | 090
69502 |  | A | Mastoidectomy | 12.38 | 10.47 | NA | 0.86 | 23.71 | NA | 090
69505 |  | A | Remove mastoid structures | 12.99 | 10.66 | NA | 0.92 | 24.57 | NA | 090
69511 |  | A | Extensive mastoid surgery | 13.52 | 11.04 | NA | 0.96 | 25.52 | NA | 090
69530 |  | A | Extensive mastoid surgery | 19.19 | 14.65 | NA | 1.32 | 35.16 | NA | 090
69535 |  | A | Remove part of temporal bone | 36.14 | 24.24 | NA | 2.59 | 62.97 | NA | 090
69540 |  | A | Remove ear lesion | 1.20 | 1.52 | 2.13 | 0.09 | 2.81 | 3.42 | 010
69550 |  | A | Remove ear lesion | 10.99 | 9.68 | NA | 0.80 | 21.47 | NA | 090
69552 |  | A | Remove ear lesion | 19.46 | 14.31 | NA | 1.36 | 35.13 | NA | 090
69554 |  | A | Remove ear lesion | 33.16 | 21.82 | NA | 2.32 | 57.30 | NA | 090
69601 |  | A | Mastoid surgery revision | 13.24 | 11.61 | NA | 0.92 | 25.77 | NA | 090
69602 |  | A | Mastoid surgery revision | 13.58 | 11.19 | NA | 0.94 | 25.71 | NA | 090
69603 |  | A | Mastoid surgery revision | 14.02 | 11.48 | NA | 1.00 | 26.50 | NA | 090
69604 |  | A | Mastoid surgery revision | 14.02 | 11.26 | NA | 0.98 | 26.26 | NA | 090
69605 |  | A | Mastoid surgery revision | 18.49 | 13.94 | NA | 1.29 | 33.72 | NA | 090
69610 |  | A | Repair of eardrum | 4.43 | 3.37 | 4.09 | 0.31 | 8.11 | 8.83 | 010
69620 |  | A | Repair of eardrum | 5.89 | 2.95 | 6.61 | 0.40 | 9.24 | 12.90 | 090
69631 |  | A | Repair eardrum structures | 9.86 | 9.04 | NA | 0.69 | 19.59 | NA | 090
69632 |  | A | Rebuild eardrum structures | 12.75 | 11.27 | NA | 0.89 | 24.91 | NA | 090
69633 |  | A | Rebuild eardrum structures | 12.10 | 10.91 | NA | 0.84 | 23.85 | NA | 090
69635 |  | A | Repair eardrum structures | 13.33 | 9.46 | NA | 0.87 | 23.66 | NA | 090
69636 |  | A | Rebuild eardrum structures | 15.22 | 12.80 | NA | 1.07 | 29.09 | NA | 090
69637 |  | A | Rebuild eardrum structures | 15.11 | 12.73 | NA | 1.06 | 28.90 | NA | 090
69641 |  | A | Revise middle ear & mastoid | 12.71 | 10.63 | NA | 0.89 | 24.23 | NA | 090
69642 |  | A | Revise middle ear & mastoid | 16.84 | 13.65 | NA | 1.18 | 31.67 | NA | 090
69643 |  | A | Revise middle ear & mastoid | 15.32 | 12.78 | NA | 1.08 | 29.18 | NA | 090
69644 |  | A | Revise middle ear & mastoid | 16.97 | 13.73 | NA | 1.19 | 31.89 | NA | 090
69645 |  | A | Revise middle ear & mastoid | 16.38 | 13.36 | NA | 1.16 | 30.90 | NA | 090
69646 |  | A | Revise middle ear & mastoid | 17.99 | 14.33 | NA | 1.26 | 33.58 | NA | 090
69650 |  | A | Release middle ear bone | 9.66 | 8.30 | NA | 0.68 | 18.64 | NA | 090
69660 |  | A | Revise middle ear bone | 11.90 | 9.53 | NA | 0.84 | 22.27 | NA | 090
69661 |  | A | Revise middle ear bone | 15.74 | 12.32 | NA | 1.10 | 29.16 | NA | 090
69662 |  | A | Revise middle ear bone | 15.44 | 12.17 | NA | 1.08 | 28.69 | NA | 090
69666 |  | A | Repair middle ear structures | 9.75 | 8.34 | NA | 0.68 | 18.77 | NA | 090
69667 |  | A | Repair middle ear structures | 9.76 | 8.29 | NA | 0.72 | 18.77 | NA | 090
69670 |  | A | Remove mastoid air cells | 11.51 | 9.91 | NA | 0.78 | 22.20 | NA | 090
69676 |  | A | Remove middle ear nerve | 9.52 | 8.62 | NA | 0.69 | 18.83 | NA | 090
69700 |  | A | Close mastoid fistula | 8.23 | 5.24 | NA | 0.55 | 14.02 | NA | 090
69710 |  | N | Implant/replace hearing aid | 0.00 | 0.00 | 0.00 | 0.00 | 0.00 | 0.00 | XXX
69711 |  | A | Remove/repair hearing aid | 10.44 | 9.18 | NA | 0.62 | 20.24 | NA | 090
69714 |  | A | Implant temple bone w/stimul | 14.00 | 8.65 | NA | 0.97 | 23.62 | NA | 090
69715 |  | A | Temple bne implnt w/stimulat | 18.25 | 10.42 | NA | 1.25 | 29.92 | NA | 090
69717 |  | A | Temple bone implant revision | 14.98 | 8.31 | NA | 1.04 | 24.33 | NA | 090
69718 |  | A | Revise temple bone implant | 18.50 | 10.51 | NA | 1.27 | 30.28 | NA | 090
69720 |  | A | Release facial nerve | 14.38 | 12.04 | NA | 1.03 | 27.45 | NA | 090
69725 |  | A | Release facial nerve | 25.38 | 18.21 | NA | 1.78 | 45.37 | NA | 090
69740 |  | A | Repair facial nerve | 15.96 | 11.55 | NA | 1.13 | 28.64 | NA | 090
69745 |  | A | Repair facial nerve | 16.69 | 11.91 | NA | 1.00 | 29.60 | NA | 090
69799 |  | C | Middle ear surgery procedure | 0.00 | 0.00 | 0.00 | 0.00 | 0.00 | 0.00 | YYY
69801 |  | A | Incise inner ear | 8.56 | 7.68 | NA | 0.60 | 16.84 | NA | 090
69802 |  | A | Incise inner ear | 13.10 | 10.97 | NA | 0.91 | 24.98 | NA | 090
69805 |  | A | Explore inner ear | 13.82 | 10.74 | NA | 0.97 | 25.53 | NA | 090
69806 |  | A | Explore inner ear | 12.35 | 10.50 | NA | 0.86 | 23.71 | NA | 090
69820 |  | A | Establish inner ear window | 10.34 | 9.02 | NA | 0.66 | 20.02 | NA | 090
69840 |  | A | Revise inner ear window | 10.26 | 9.90 | NA | 0.64 | 20.80 | NA | 090
69905 |  | A | Remove inner ear | 11.10 | 9.34 | NA | 0.77 | 21.21 | NA | 090
69910 |  | A | Remove inner ear & mastoid | 13.63 | 10.98 | NA | 0.94 | 25.55 | NA | 090
69915 |  | A | Incise inner ear nerve | 21.23 | 15.31 | NA | 1.54 | 38.08 | NA | 090
69930 |  | A | Implant cochlear device | 16.81 | 12.66 | NA | 1.19 | 30.66 | NA | 090
69949 |  | C | Inner ear surgery procedure | 0.00 | 0.00 | 0.00 | 0.00 | 0.00 | 0.00 | YYY
69950 |  | A | Incise inner ear nerve | 25.64 | 16.14 | NA | 2.90 | 44.68 | NA | 090
69955 |  | A | Release facial nerve | 27.04 | 18.47 | NA | 1.89 | 47.40 | NA | 090
69960 |  | A | Release inner ear canal | 27.04 | 17.99 | NA | 2.43 | 47.46 | NA | 090
69970 |  | A | Remove inner ear lesion | 30.04 | 19.13 | NA | 2.34 | 51.51 | NA | 090
69979 |  | C | Temporal bone surgery | 0.00 | 0.00 | 0.00 | 0.00 | 0.00 | 0.00 | YYY
69990 |  | R | Microsurgery add-on | 3.47 | 1.88 | NA | 0.56 | 5.91 | NA | ZZZ
70010 |  | A | Contrast x-ray of brain | 1.19 | NA | 4.69 | 0.24 | NA | 6.12 | XXX
70010 | 26 | A | Contrast x-ray of brain | 1.19 | 0.42 | 0.42 | 0.06 | 1.67 | 1.67 | XXX
70010 | TC | A | Contrast x-ray of brain | 0.00 | NA | 4.27 | 0.18 | NA | 4.45 | XXX
70015 |  | A | Contrast x-ray of brain | 1.19 | NA | 1.76 | 0.12 | NA | 3.07 | XXX
70015 | 26 | A | Contrast x-ray of brain | 1.19 | 0.43 | 0.43 | 0.05 | 1.67 | 1.67 | XXX
70015 | TC | A | Contrast x-ray of brain | 0.00 | NA | 1.33 | 0.07 | NA | 1.40 | XXX
70030 |  | A | X-ray eye for foreign body | 0.17 | NA | 0.47 | 0.03 | NA | 0.67 | XXX
70030 | 26 | A | X-ray eye for foreign body | 0.17 | 0.06 | 0.06 | 0.01 | 0.24 | 0.24 | XXX
70030 | TC | A | X-ray eye for foreign body | 0.00 | NA | 0.41 | 0.02 | NA | 0.43 | XXX
70100 |  | A | X-ray exam of jaw | 0.18 | NA | 0.57 | 0.03 | NA | 0.78 | XXX
70100 | 26 | A | X-ray exam of jaw | 0.18 | 0.06 | 0.06 | 0.01 | 0.25 | 0.25 | XXX
70100 | TC | A | X-ray exam of jaw | 0.00 | NA | 0.51 | 0.02 | NA | 0.53 | XXX
70110 |  | A | X-ray exam of jaw | 0.25 | NA | 0.70 | 0.04 | NA | 0.99 | XXX
70110 | 26 | A | X-ray exam of jaw | 0.25 | 0.09 | 0.09 | 0.01 | 0.35 | 0.35 | XXX
70110 | TC | A | X-ray exam of jaw | 0.00 | NA | 0.61 | 0.03 | NA | 0.64 | XXX
70120 |  | A | X-ray exam of mastoids | 0.18 | NA | 0.67 | 0.04 | NA | 0.89 | XXX
70120 | 26 | A | X-ray exam of mastoids | 0.18 | 0.06 | 0.06 | 0.01 | 0.25 | 0.25 | XXX
70120 | TC | A | X-ray exam of mastoids | 0.00 | NA | 0.61 | 0.03 | NA | 0.64 | XXX
70130 |  | A | X-ray exam of mastoids | 0.34 | NA | 0.89 | 0.05 | NA | 1.28 | XXX
70130 | 26 | A | X-ray exam of mastoids | 0.34 | 0.12 | 0.12 | 0.01 | 0.47 | 0.47 | XXX
70130 | TC | A | X-ray exam of mastoids | 0.00 | NA | 0.77 | 0.04 | NA | 0.81 | XXX
70134 |  | A | X-ray exam of middle ear | 0.34 | NA | 0.84 | 0.05 | NA | 1.23 | XXX
70134 | 26 | A | X-ray exam of middle ear | 0.34 | 0.12 | 0.12 | 0.01 | 0.47 | 0.47 | XXX
70134 | TC | A | X-ray exam of middle ear | 0.00 | NA | 0.72 | 0.04 | NA | 0.76 | XXX
70140 |  | A | X-ray exam of facial bones | 0.19 | NA | 0.68 | 0.04 | NA | 0.91 | XXX
70140 | 26 | A | X-ray exam of facial bones | 0.19 | 0.07 | 0.07 | 0.01 | 0.27 | 0.27 | XXX
70140 | TC | A | X-ray exam of facial bones | 0.00 | NA | 0.61 | 0.03 | NA | 0.64 | XXX
70150 |  | A | X-ray exam of facial bones | 0.26 | NA | 0.86 | 0.05 | NA | 1.17 | XXX
70150 | 26 | A | X-ray exam of facial bones | 0.26 | 0.09 | 0.09 | 0.01 | 0.36 | 0.36 | XXX
70150 | TC | A | X-ray exam of facial bones | 0.00 | NA | 0.77 | 0.04 | NA | 0.81 | XXX
70160 |  | A | X-ray exam of nasal bones | 0.17 | NA | 0.57 | 0.03 | NA | 0.77 | XXX
70160 | 26 | A | X-ray exam of nasal bones | 0.17 | 0.06 | 0.06 | 0.01 | 0.24 | 0.24 | XXX
70160 | TC | A | X-ray exam of nasal bones | 0.00 | NA | 0.51 | 0.02 | NA | 0.53 | XXX
70170 |  | A | X-ray exam of tear duct | 0.30 | NA | 1.04 | 0.06 | NA | 1.40 | XXX
70170 | 26 | A | X-ray exam of tear duct | 0.30 | 0.11 | 0.11 | 0.01 | 0.42 | 0.42 | XXX
70170 | TC | A | X-ray exam of tear duct | 0.00 | NA | 0.93 | 0.05 | NA | 0.98 | XXX
70190 |  | A | X-ray exam of eye sockets | 0.21 | NA | 0.68 | 0.04 | NA | 0.93 | XXX
70190 | 26 | A | X-ray exam of eye sockets | 0.21 | 0.07 | 0.07 | 0.01 | 0.29 | 0.29 | XXX
70190 | TC | A | X-ray exam of eye sockets | 0.00 | NA | 0.61 | 0.03 | NA | 0.64 | XXX
70200 |  | A | X-ray exam of eye sockets | 0.28 | NA | 0.87 | 0.05 | NA | 1.20 | XXX
70200 | 26 | A | X-ray exam of eye sockets | 0.28 | 0.10 | 0.10 | 0.01 | 0.39 | 0.39 | XXX
70200 | TC | A | X-ray exam of eye sockets | 0.00 | NA | 0.77 | 0.04 | NA | 0.81 | XXX
70210 |  | A | X-ray exam of sinuses | 0.17 | NA | 0.67 | 0.04 | NA | 0.88 | XXX
70210 | 26 | A | X-ray exam of sinuses | 0.17 | 0.06 | 0.06 | 0.01 | 0.24 | 0.24 | XXX
70210 | TC | A | X-ray exam of sinuses | 0.00 | NA | 0.61 | 0.03 | NA | 0.64 | XXX
70220 |  | A | X-ray exam of sinuses | 0.25 | NA | 0.86 | 0.05 | NA | 1.16 | XXX
70220 | 26 | A | X-ray exam of sinuses | 0.25 | 0.09 | 0.09 | 0.01 | 0.35 | 0.35 | XXX
70220 | TC | A | X-ray exam of sinuses | 0.00 | NA | 0.77 | 0.04 | NA | 0.81 | XXX
70240 |  | A | X-ray exam, pituitary saddle | 0.19 | NA | 0.48 | 0.03 | NA | 0.70 | XXX
70240 | 26 | A | X-ray exam, pituitary saddle | 0.19 | 0.07 | 0.07 | 0.01 | 0.27 | 0.27 | XXX
70240 | TC | A | X-ray exam, pituitary saddle | 0.00 | NA | 0.41 | 0.02 | NA | 0.43 | XXX
70250 |  | A | X-ray exam of skull | 0.24 | NA | 0.69 | 0.04 | NA | 0.97 | XXX
70250 | 26 | A | X-ray exam of skull | 0.24 | 0.08 | 0.08 | 0.01 | 0.33 | 0.33 | XXX
70250 | TC | A | X-ray exam of skull | 0.00 | NA | 0.61 | 0.03 | NA | 0.64 | XXX
70260 |  | A | X-ray exam of skull | 0.34 | NA | 1.00 | 0.06 | NA | 1.40 | XXX
70260 | 26 | A | X-ray exam of skull | 0.34 | 0.12 | 0.12 | 0.01 | 0.47 | 0.47 | XXX
70260 | TC | A | X-ray exam of skull | 0.00 | NA | 0.88 | 0.05 | NA | 0.93 | XXX
70300 |  | A | X-ray exam of teeth | 0.10 | NA | 0.30 | 0.03 | NA | 0.43 | XXX
70300 | 26 | A | X-ray exam of teeth | 0.10 | 0.04 | 0.04 | 0.01 | 0.15 | 0.15 | XXX
70300 | TC | A | X-ray exam of teeth | 0.00 | NA | 0.26 | 0.02 | NA | 0.28 | XXX
70310 |  | A | X-ray exam of teeth | 0.16 | NA | 0.47 | 0.03 | NA | 0.66 | XXX
70310 | 26 | A | X-ray exam of teeth | 0.16 | 0.06 | 0.06 | 0.01 | 0.23 | 0.23 | XXX
70310 | TC | A | X-ray exam of teeth | 0.00 | NA | 0.41 | 0.02 | NA | 0.43 | XXX
70320 |  | A | Full mouth x-ray of teeth | 0.22 | NA | 0.85 | 0.05 | NA | 1.12 | XXX
70320 | 26 | A | Full mouth x-ray of teeth | 0.22 | 0.08 | 0.08 | 0.01 | 0.31 | 0.31 | XXX
70320 | TC | A | Full mouth x-ray of teeth | 0.00 | NA | 0.77 | 0.04 | NA | 0.81 | XXX
70328 |  | A | X-ray exam of jaw joint | 0.18 | NA | 0.55 | 0.03 | NA | 0.76 | XXX
70328 | 26 | A | X-ray exam of jaw joint | 0.18 | 0.06 | 0.06 | 0.01 | 0.25 | 0.25 | XXX
70328 | TC | A | X-ray exam of jaw joint | 0.00 | NA | 0.49 | 0.02 | NA | 0.51 | XXX
70330 |  | A | X-ray exam of jaw joints | 0.24 | NA | 0.91 | 0.05 | NA | 1.20 | XXX
70330 | 26 | A | X-ray exam of jaw joints | 0.24 | 0.08 | 0.08 | 0.01 | 0.33 | 0.33 | XXX
70330 | TC | A | X-ray exam of jaw joints | 0.00 | NA | 0.83 | 0.04 | NA | 0.87 | XXX
70332 |  | A | X-ray exam of jaw joint | 0.54 | NA | 2.26 | 0.12 | NA | 2.92 | XXX
70332 | 26 | A | X-ray exam of jaw joint | 0.54 | 0.19 | 0.19 | 0.02 | 0.75 | 0.75 | XXX
70332 | TC | A | X-ray exam of jaw joint | 0.00 | NA | 2.07 | 0.10 | NA | 2.17 | XXX
70336 |  | A | Magnetic image, jaw joint | 1.48 | NA | 11.55 | 0.56 | NA | 13.59 | XXX
70336 | 26 | A | Magnetic image, jaw joint | 1.48 | 0.52 | 0.52 | 0.07 | 2.07 | 2.07 | XXX
70336 | TC | A | Magnetic image, jaw joint | 0.00 | NA | 11.03 | 0.49 | NA | 11.52 | XXX
70350 |  | A | X-ray head for orthodontia | 0.17 | NA | 0.43 | 0.03 | NA | 0.63 | XXX
70350 | 26 | A | X-ray head for orthodontia | 0.17 | 0.06 | 0.06 | 0.01 | 0.24 | 0.24 | XXX
70350 | TC | A | X-ray head for orthodontia | 0.00 | NA | 0.37 | 0.02 | NA | 0.39 | XXX
70355 |  | A | Panoramic x-ray of jaws | 0.20 | NA | 0.63 | 0.04 | NA | 0.87 | XXX
70355 | 26 | A | Panoramic x-ray of jaws | 0.20 | 0.07 | 0.07 | 0.01 | 0.28 | 0.28 | XXX
70355 | TC | A | Panoramic x-ray of jaws | 0.00 | NA | 0.56 | 0.03 | NA | 0.59 | XXX
70360 |  | A | X-ray exam of neck | 0.17 | NA | 0.47 | 0.03 | NA | 0.67 | XXX
70360 | 26 | A | X-ray exam of neck | 0.17 | 0.06 | 0.06 | 0.01 | 0.24 | 0.24 | XXX
70360 | TC | A | X-ray exam of neck | 0.00 | NA | 0.41 | 0.02 | NA | 0.43 | XXX
70370 |  | A | Throat x-ray & fluoroscopy | 0.32 | NA | 1.40 | 0.07 | NA | 1.79 | XXX
70370 | 26 | A | Throat x-ray & fluoroscopy | 0.32 | 0.11 | 0.11 | 0.01 | 0.44 | 0.44 | XXX
70370 | TC | A | Throat x-ray & fluoroscopy | 0.00 | NA | 1.29 | 0.06 | NA | 1.35 | XXX
70371 |  | A | Speech evaluation, complex | 0.84 | NA | 2.36 | 0.14 | NA | 3.34 | XXX
70371 | 26 | A | Speech evaluation, complex | 0.84 | 0.29 | 0.29 | 0.04 | 1.17 | 1.17 | XXX
70371 | TC | A | Speech evaluation, complex | 0.00 | NA | 2.07 | 0.10 | NA | 2.17 | XXX
70373 |  | A | Contrast x-ray of larynx | 0.44 | NA | 1.90 | 0.11 | NA | 2.45 | XXX
70373 | 26 | A | Contrast x-ray of larynx | 0.44 | 0.15 | 0.15 | 0.02 | 0.61 | 0.61 | XXX
70373 | TC | A | Contrast x-ray of larynx | 0.00 | NA | 1.75 | 0.09 | NA | 1.84 | XXX
70380 |  | A | X-ray exam of salivary gland | 0.17 | NA | 0.72 | 0.04 | NA | 0.93 | XXX
70380 | 26 | A | X-ray exam of salivary gland | 0.17 | 0.06 | 0.06 | 0.01 | 0.24 | 0.24 | XXX
70380 | TC | A | X-ray exam of salivary gland | 0.00 | NA | 0.66 | 0.03 | NA | 0.69 | XXX
70390 |  | A | X-ray exam of salivary duct | 0.38 | NA | 1.88 | 0.11 | NA | 2.37 | XXX
70390 | 26 | A | X-ray exam of salivary duct | 0.38 | 0.13 | 0.13 | 0.02 | 0.53 | 0.53 | XXX
70390 | TC | A | X-ray exam of salivary duct | 0.00 | NA | 1.75 | 0.09 | NA | 1.84 | XXX
70450 |  | A | Ct head/brain w/o dye | 0.85 | NA | 4.95 | 0.25 | NA | 6.05 | XXX
70450 | 26 | A | Ct head/brain w/o dye | 0.85 | 0.30 | 0.30 | 0.04 | 1.19 | 1.19 | XXX
70450 | TC | A | Ct head/brain w/o dye | 0.00 | NA | 4.65 | 0.21 | NA | 4.86 | XXX
70460 |  | A | Ct head/brain w/dye | 1.13 | NA | 5.97 | 0.30 | NA | 7.40 | XXX
70460 | 26 | A | Ct head/brain w/dye | 1.13 | 0.40 | 0.40 | 0.05 | 1.58 | 1.58 | XXX
70460 | TC | A | Ct head/brain w/dye | 0.00 | NA | 5.57 | 0.25 | NA | 5.82 | XXX
70470 |  | A | Ct head/brain w/o&w dye | 1.27 | NA | 7.40 | 0.37 | NA | 9.04 | XXX
70470 | 26 | A | Ct head/brain w/o&w dye | 1.27 | 0.44 | 0.44 | 0.06 | 1.77 | 1.77 | XXX
70470 | TC | A | Ct head/brain w/o&w dye | 0.00 | NA | 6.96 | 0.31 | NA | 7.27 | XXX
70480 |  | A | Ct orbit/ear/fossa w/o dye | 1.28 | NA | 5.10 | 0.27 | NA | 6.65 | XXX
70480 | 26 | A | Ct orbit/ear/fossa w/o dye | 1.28 | 0.45 | 0.45 | 0.06 | 1.79 | 1.79 | XXX
70480 | TC | A | Ct orbit/ear/fossa w/o dye | 0.00 | NA | 4.65 | 0.21 | NA | 4.86 | XXX
70481 |  | A | Ct orbit/ear/fossa w/dye | 1.38 | NA | 6.05 | 0.31 | NA | 7.74 | XXX
70481 | 26 | A | Ct orbit/ear/fossa w/dye | 1.38 | 0.48 | 0.48 | 0.06 | 1.92 | 1.92 | XXX
70481 | TC | A | Ct orbit/ear/fossa w/dye | 0.00 | NA | 5.57 | 0.25 | NA | 5.82 | XXX
70482 |  | A | Ct orbit/ear/fossa w/o&w dye | 1.45 | NA | 7.47 | 0.37 | NA | 9.29 | XXX
70482 | 26 | A | Ct orbit/ear/fossa w/o&w dye | 1.45 | 0.51 | 0.51 | 0.06 | 2.02 | 2.02 | XXX
70482 | TC | A | Ct orbit/ear/fossa w/o&w dye | 0.00 | NA | 6.96 | 0.31 | NA | 7.27 | XXX
70486 |  | A | Ct maxillofacial w/o dye | 1.14 | NA | 5.05 | 0.26 | NA | 6.45 | XXX
70486 | 26 | A | Ct maxillofacial w/o dye | 1.14 | 0.40 | 0.40 | 0.05 | 1.59 | 1.59 | XXX
70486 | TC | A | Ct maxillofacial w/o dye | 0.00 | NA | 4.65 | 0.21 | NA | 4.86 | XXX
70487 |  | A | Ct maxillofacial w/dye | 1.30 | NA | 6.02 | 0.31 | NA | 7.63 | XXX
70487 | 26 | A | Ct maxillofacial w/dye | 1.30 | 0.45 | 0.45 | 0.06 | 1.81 | 1.81 | XXX
70487 | TC | A | Ct maxillofacial w/dye | 0.00 | NA | 5.57 | 0.25 | NA | 5.82 | XXX
70488 |  | A | Ct maxillofacial w/o&w dye | 1.42 | NA | 7.45 | 0.37 | NA | 9.24 | XXX
70488 | 26 | A | Ct maxillofacial w/o&w dye | 1.42 | 0.49 | 0.49 | 0.06 | 1.97 | 1.97 | XXX
70488 | TC | A | Ct maxillofacial w/o&w dye | 0.00 | NA | 6.96 | 0.31 | NA | 7.27 | XXX
70490 |  | A | Ct soft tissue neck w/o dye | 1.28 | NA | 5.10 | 0.27 | NA | 6.65 | XXX
70490 | 26 | A | Ct soft tissue neck w/o dye | 1.28 | 0.45 | 0.45 | 0.06 | 1.79 | 1.79 | XXX
70490 | TC | A | Ct soft tissue neck w/o dye | 0.00 | NA | 4.65 | 0.21 | NA | 4.86 | XXX
70491 |  | A | Ct soft tissue neck w/dye | 1.38 | NA | 6.05 | 0.31 | NA | 7.74 | XXX
70491 | 26 | A | Ct soft tissue neck w/dye | 1.38 | 0.48 | 0.48 | 0.06 | 1.92 | 1.92 | XXX
70491 | TC | A | Ct soft tissue neck w/dye | 0.00 | NA | 5.57 | 0.25 | NA | 5.82 | XXX
70492 |  | A | Ct sft tsue nck w/o & w/dye | 1.45 | NA | 7.47 | 0.37 | NA | 9.29 | XXX
70492 | 26 | A | Ct sft tsue nck w/o & w/dye | 1.45 | 0.51 | 0.51 | 0.06 | 2.02 | 2.02 | XXX
70492 | TC | A | Ct sft tsue nck w/o & w/dye | 0.00 | NA | 6.96 | 0.31 | NA | 7.27 | XXX
70496 |  | A | Ct angiography, head | 1.75 | NA | 7.65 | 0.54 | NA | 9.94 | XXX
70496 | 26 | A | Ct angiography, head | 1.75 | 0.69 | 0.69 | 0.06 | 2.50 | 2.50 | XXX
70496 | TC | A | Ct angiography, head | 0.00 | NA | 6.96 | 0.48 | NA | 7.44 | XXX
70498 |  | A | Ct angiography, neck | 1.75 | NA | 7.65 | 0.54 | NA | 9.94 | XXX
70498 | 26 | A | Ct angiography, neck | 1.75 | 0.69 | 0.69 | 0.06 | 2.50 | 2.50 | XXX
70498 | TC | A | Ct angiography, neck | 0.00 | NA | 6.96 | 0.48 | NA | 7.44 | XXX
70540 |  | A | Mri orbit/face/neck w/o dye | 1.10 | NA | 11.41 | 0.36 | NA | 12.87 | XXX
70540 | 26 | A | Mri orbit/face/neck w/o dye | 1.10 | 0.38 | 0.38 | 0.04 | 1.52 | 1.52 | XXX
70540 | TC | A | Mri orbit/face/neck w/o dye | 0.00 | NA | 11.03 | 0.32 | NA | 11.35 | XXX
70542 |  | A | Mri orbit/face/neck w/dye | 1.33 | NA | 13.69 | 0.43 | NA | 15.45 | XXX
70542 | 26 | A | Mri orbit/face/neck w/dye | 1.33 | 0.46 | 0.46 | 0.04 | 1.83 | 1.83 | XXX
70542 | TC | A | Mri orbit/face/neck w/dye | 0.00 | NA | 13.23 | 0.39 | NA | 13.62 | XXX
70543 |  | A | Mri orbt/fac/nck w/o&w dye | 1.76 | NA | 25.13 | 0.78 | NA | 27.67 | XXX
70543 | 26 | A | Mri orbt/fac/nck w/o&w dye | 1.76 | 0.62 | 0.62 | 0.08 | 2.46 | 2.46 | XXX
70543 | TC | A | Mri orbt/fac/nck w/o&w dye | 0.00 | NA | 24.51 | 0.70 | NA | 25.21 | XXX
70544 |  | A | Mr angiography head w/o dye | 1.20 | NA | 11.45 | 0.56 | NA | 13.21 | XXX
70544 | 26 | A | Mr angiography head w/o dye | 1.20 | 0.42 | 0.42 | 0.07 | 1.69 | 1.69 | XXX
70544 | TC | A | Mr angiography head w/o dye | 0.00 | NA | 11.03 | 0.49 | NA | 11.52 | XXX
70545 |  | A | Mr angiography head w/dye | 1.20 | NA | 11.45 | 0.56 | NA | 13.21 | XXX
70545 | 26 | A | Mr angiography head w/dye | 1.20 | 0.42 | 0.42 | 0.07 | 1.69 | 1.69 | XXX
70545 | TC | A | Mr angiography head w/dye | 0.00 | NA | 11.03 | 0.49 | NA | 11.52 | XXX
70546 |  | A | Mr angiograph head w/o&w dye | 1.80 | NA | 22.70 | 0.56 | NA | 25.06 | XXX
70546 | 26 | A | Mr angiograph head w/o&w dye | 1.80 | 0.63 | 0.63 | 0.07 | 2.50 | 2.50 | XXX
70546 | TC | A | Mr angiograph head w/o&w dye | 0.00 | NA | 22.07 | 0.49 | NA | 22.56 | XXX
70547 |  | A | Mr angiography neck w/o dye | 1.20 | NA | 11.45 | 0.56 | NA | 13.21 | XXX
70547 | 26 | A | Mr angiography neck w/o dye | 1.20 | 0.42 | 0.42 | 0.07 | 1.69 | 1.69 | XXX
70547 | TC | A | Mr angiography neck w/o dye | 0.00 | NA | 11.03 | 0.49 | NA | 11.52 | XXX
70548 |  | A | Mr angiography neck w/dye | 1.20 | NA | 11.45 | 0.56 | NA | 13.21 | XXX
70548 | 26 | A | Mr angiography neck w/dye | 1.20 | 0.42 | 0.42 | 0.07 | 1.69 | 1.69 | XXX
70548 | TC | A | Mr angiography neck w/dye | 0.00 | NA | 11.03 | 0.49 | NA | 11.52 | XXX
70549 |  | A | Mr angiograph neck w/o&w dye | 1.80 | NA | 22.70 | 0.56 | NA | 25.06 | XXX
70549 | 26 | A | Mr angiograph neck w/o&w dye | 1.80 | 0.63 | 0.63 | 0.07 | 2.50 | 2.50 | XXX
70549 | TC | A | Mr angiograph neck w/o&w dye | 0.00 | NA | 22.07 | 0.49 | NA | 22.56 | XXX
70551 |  | A | Mri brain w/o dye | 1.48 | NA | 11.55 | 0.56 | NA | 13.59 | XXX
70551 | 26 | A | Mri brain w/o dye | 1.48 | 0.52 | 0.52 | 0.07 | 2.07 | 2.07 | XXX
70551 | TC | A | Mri brain w/o dye | 0.00 | NA | 11.03 | 0.49 | NA | 11.52 | XXX
70552 |  | A | Mri brain w/dye | 1.78 | NA | 13.86 | 0.66 | NA | 16.30 | XXX
70552 | 26 | A | Mri brain w/dye | 1.78 | 0.63 | 0.63 | 0.08 | 2.49 | 2.49 | XXX
70552 | TC | A | Mri brain w/dye | 0.00 | NA | 13.23 | 0.58 | NA | 13.81 | XXX
70553 |  | A | Mri brain w/o&w dye | 2.36 | NA | 25.34 | 1.19 | NA | 28.89 | XXX
70553 | 26 | A | Mri brain w/o&w dye | 2.36 | 0.83 | 0.83 | 0.10 | 3.29 | 3.29 | XXX
70553 | TC | A | Mri brain w/o&w dye | 0.00 | NA | 24.51 | 1.09 | NA | 25.60 | XXX
71010 |  | A | Chest x-ray | 0.18 | NA | 0.53 | 0.03 | NA | 0.74 | XXX
71010 | 26 | A | Chest x-ray | 0.18 | 0.06 | 0.06 | 0.01 | 0.25 | 0.25 | XXX
71010 | TC | A | Chest x-ray | 0.00 | NA | 0.47 | 0.02 | NA | 0.49 | XXX
71015 |  | A | Chest x-ray | 0.21 | NA | 0.58 | 0.03 | NA | 0.82 | XXX
71015 | 26 | A | Chest x-ray | 0.21 | 0.07 | 0.07 | 0.01 | 0.29 | 0.29 | XXX
71015 | TC | A | Chest x-ray | 0.00 | NA | 0.51 | 0.02 | NA | 0.53 | XXX
71020 |  | A | Chest x-ray | 0.22 | NA | 0.69 | 0.04 | NA | 0.95 | XXX
71020 | 26 | A | Chest x-ray | 0.22 | 0.08 | 0.08 | 0.01 | 0.31 | 0.31 | XXX
71020 | TC | A | Chest x-ray | 0.00 | NA | 0.61 | 0.03 | NA | 0.64 | XXX
71021 |  | A | Chest x-ray | 0.27 | NA | 0.81 | 0.05 | NA | 1.13 | XXX
71021 | 26 | A | Chest x-ray | 0.27 | 0.09 | 0.09 | 0.01 | 0.37 | 0.37 | XXX
71021 | TC | A | Chest x-ray | 0.00 | NA | 0.72 | 0.04 | NA | 0.76 | XXX
71022 |  | A | Chest x-ray | 0.31 | NA | 0.83 | 0.06 | NA | 1.20 | XXX
71022 | 26 | A | Chest x-ray | 0.31 | 0.11 | 0.11 | 0.02 | 0.44 | 0.44 | XXX
71022 | TC | A | Chest x-ray | 0.00 | NA | 0.72 | 0.04 | NA | 0.76 | XXX
71023 |  | A | Chest x-ray and fluoroscopy | 0.38 | NA | 0.91 | 0.06 | NA | 1.35 | XXX
71023 | 26 | A | Chest x-ray and fluoroscopy | 0.38 | 0.14 | 0.14 | 0.02 | 0.54 | 0.54 | XXX
71023 | TC | A | Chest x-ray and fluoroscopy | 0.00 | NA | 0.77 | 0.04 | NA | 0.81 | XXX
71030 |  | A | Chest x-ray | 0.31 | NA | 0.88 | 0.05 | NA | 1.24 | XXX
71030 | 26 | A | Chest x-ray | 0.31 | 0.11 | 0.11 | 0.01 | 0.43 | 0.43 | XXX
71030 | TC | A | Chest x-ray | 0.00 | NA | 0.77 | 0.04 | NA | 0.81 | XXX
71034 |  | A | Chest x-ray and fluoroscopy | 0.46 | NA | 1.59 | 0.09 | NA | 2.14 | XXX
71034 | 26 | A | Chest x-ray and fluoroscopy | 0.46 | 0.17 | 0.17 | 0.02 | 0.65 | 0.65 | XXX
71034 | TC | A | Chest x-ray and fluoroscopy | 0.00 | NA | 1.42 | 0.07 | NA | 1.49 | XXX
71035 |  | A | Chest x-ray | 0.18 | NA | 0.57 | 0.03 | NA | 0.78 | XXX
71035 | 26 | A | Chest x-ray | 0.18 | 0.06 | 0.06 | 0.01 | 0.25 | 0.25 | XXX
71035 | TC | A | Chest x-ray | 0.00 | NA | 0.51 | 0.02 | NA | 0.53 | XXX
71040 |  | A | Contrast x-ray of bronchi | 0.58 | NA | 1.64 | 0.10 | NA | 2.32 | XXX
71040 | 26 | A | Contrast x-ray of bronchi | 0.58 | 0.20 | 0.20 | 0.03 | 0.81 | 0.81 | XXX
71040 | TC | A | Contrast x-ray of bronchi | 0.00 | NA | 1.44 | 0.07 | NA | 1.51 | XXX
71060 |  | A | Contrast x-ray of bronchi | 0.74 | NA | 2.43 | 0.14 | NA | 3.31 | XXX
71060 | 26 | A | Contrast x-ray of bronchi | 0.74 | 0.26 | 0.26 | 0.03 | 1.03 | 1.03 | XXX
71060 | TC | A | Contrast x-ray of bronchi | 0.00 | NA | 2.17 | 0.11 | NA | 2.28 | XXX
71090 |  | A | X-ray & pacemaker insertion | 0.54 | NA | 1.88 | 0.11 | NA | 2.53 | XXX
71090 | 26 | A | X-ray & pacemaker insertion | 0.54 | 0.22 | 0.22 | 0.02 | 0.78 | 0.78 | XXX
71090 | TC | A | X-ray & pacemaker insertion | 0.00 | NA | 1.66 | 0.09 | NA | 1.75 | XXX
71100 |  | A | X-ray exam of ribs | 0.22 | NA | 0.64 | 0.04 | NA | 0.90 | XXX
71100 | 26 | A | X-ray exam of ribs | 0.22 | 0.08 | 0.08 | 0.01 | 0.31 | 0.31 | XXX
71100 | TC | A | X-ray exam of ribs | 0.00 | NA | 0.56 | 0.03 | NA | 0.59 | XXX
71101 |  | A | X-ray exam of ribs/chest | 0.27 | NA | 0.75 | 0.04 | NA | 1.06 | XXX
71101 | 26 | A | X-ray exam of ribs/chest | 0.27 | 0.09 | 0.09 | 0.01 | 0.37 | 0.37 | XXX
71101 | TC | A | X-ray exam of ribs/chest | 0.00 | NA | 0.66 | 0.03 | NA | 0.69 | XXX
71110 |  | A | X-ray exam of ribs | 0.27 | NA | 0.86 | 0.05 | NA | 1.18 | XXX
71110 | 26 | A | X-ray exam of ribs | 0.27 | 0.09 | 0.09 | 0.01 | 0.37 | 0.37 | XXX
71110 | TC | A | X-ray exam of ribs | 0.00 | NA | 0.77 | 0.04 | NA | 0.81 | XXX
71111 |  | A | X-ray exam of ribs/ chest | 0.32 | NA | 0.99 | 0.06 | NA | 1.37 | XXX
71111 | 26 | A | X-ray exam of ribs/ chest | 0.32 | 0.11 | 0.11 | 0.01 | 0.44 | 0.44 | XXX
71111 | TC | A | X-ray exam of ribs/ chest | 0.00 | NA | 0.88 | 0.05 | NA | 0.93 | XXX
71120 |  | A | X-ray exam of breastbone | 0.20 | NA | 0.71 | 0.04 | NA | 0.95 | XXX
71120 | 26 | A | X-ray exam of breastbone | 0.20 | 0.07 | 0.07 | 0.01 | 0.28 | 0.28 | XXX
71120 | TC | A | X-ray exam of breastbone | 0.00 | NA | 0.64 | 0.03 | NA | 0.67 | XXX
71130 |  | A | X-ray exam of breastbone | 0.22 | NA | 0.78 | 0.04 | NA | 1.04 | XXX
71130 | 26 | A | X-ray exam of breastbone | 0.22 | 0.08 | 0.08 | 0.01 | 0.31 | 0.31 | XXX
71130 | TC | A | X-ray exam of breastbone | 0.00 | NA | 0.70 | 0.03 | NA | 0.73 | XXX
71250 |  | A | Ct thorax w/o dye | 1.16 | NA | 6.22 | 0.31 | NA | 7.69 | XXX
71250 | 26 | A | Ct thorax w/o dye | 1.16 | 0.40 | 0.40 | 0.05 | 1.61 | 1.61 | XXX
71250 | TC | A | Ct thorax w/o dye | 0.00 | NA | 5.82 | 0.26 | NA | 6.08 | XXX
71260 |  | A | Ct thorax w/dye | 1.24 | NA | 7.39 | 0.36 | NA | 8.99 | XXX
71260 | 26 | A | Ct thorax w/dye | 1.24 | 0.43 | 0.43 | 0.05 | 1.72 | 1.72 | XXX
71260 | TC | A | Ct thorax w/dye | 0.00 | NA | 6.96 | 0.31 | NA | 7.27 | XXX
71270 |  | A | Ct thorax w/o&w dye | 1.38 | NA | 9.19 | 0.44 | NA | 11.01 | XXX
71270 | 26 | A | Ct thorax w/o&w dye | 1.38 | 0.48 | 0.48 | 0.06 | 1.92 | 1.92 | XXX
71270 | TC | A | Ct thorax w/o&w dye | 0.00 | NA | 8.71 | 0.38 | NA | 9.09 | XXX
71275 |  | A | Ct angiography, chest | 1.20 | NA | 9.18 | 0.37 | NA | 10.75 | XXX
71275 | 26 | A | Ct angiography, chest | 1.20 | 0.47 | 0.47 | 0.05 | 1.72 | 1.72 | XXX
71275 | TC | A | Ct angiography, chest | 0.00 | NA | 8.71 | 0.32 | NA | 9.03 | XXX
71550 |  | A | Mri chest w/o dye | 1.22 | NA | 11.46 | 0.41 | NA | 13.09 | XXX
71550 | 26 | A | Mri chest w/o dye | 1.22 | 0.43 | 0.43 | 0.04 | 1.69 | 1.69 | XXX
71550 | TC | A | Mri chest w/o dye | 0.00 | NA | 11.03 | 0.37 | NA | 11.40 | XXX
71551 |  | A | Mri chest w/dye | 1.44 | NA | 13.73 | 0.48 | NA | 15.65 | XXX
71551 | 26 | A | Mri chest w/dye | 1.44 | 0.50 | 0.50 | 0.05 | 1.99 | 1.99 | XXX
71551 | TC | A | Mri chest w/dye | 0.00 | NA | 13.23 | 0.43 | NA | 13.66 | XXX
71552 |  | A | Mri chest w/o&w dye | 1.89 | NA | 25.17 | 0.63 | NA | 27.69 | XXX
71552 | 26 | A | Mri chest w/o&w dye | 1.89 | 0.66 | 0.66 | 0.07 | 2.62 | 2.62 | XXX
71552 | TC | A | Mri chest w/o&w dye | 0.00 | NA | 24.51 | 0.56 | NA | 25.07 | XXX
71555 |  | R | Mri angio chest w or w/o dye | 1.81 | NA | 11.66 | 0.57 | NA | 14.04 | XXX
71555 | 26 | R | Mri angio chest w or w/o dye | 1.81 | 0.63 | 0.63 | 0.08 | 2.52 | 2.52 | XXX
71555 | TC | R | Mri angio chest w or w/o dye | 0.00 | NA | 11.03 | 0.49 | NA | 11.52 | XXX
72010 |  | A | X-ray exam of spine | 0.45 | NA | 1.17 | 0.08 | NA | 1.70 | XXX
72010 | 26 | A | X-ray exam of spine | 0.45 | 0.16 | 0.16 | 0.03 | 0.64 | 0.64 | XXX
72010 | TC | A | X-ray exam of spine | 0.00 | NA | 1.01 | 0.05 | NA | 1.06 | XXX
72020 |  | A | X-ray exam of spine | 0.15 | NA | 0.46 | 0.03 | NA | 0.64 | XXX
72020 | 26 | A | X-ray exam of spine | 0.15 | 0.05 | 0.05 | 0.01 | 0.21 | 0.21 | XXX
72020 | TC | A | X-ray exam of spine | 0.00 | NA | 0.41 | 0.02 | NA | 0.43 | XXX
72040 |  | A | X-ray exam of neck spine | 0.22 | NA | 0.67 | 0.04 | NA | 0.93 | XXX
72040 | 26 | A | X-ray exam of neck spine | 0.22 | 0.08 | 0.08 | 0.01 | 0.31 | 0.31 | XXX
72040 | TC | A | X-ray exam of neck spine | 0.00 | NA | 0.59 | 0.03 | NA | 0.62 | XXX
72050 |  | A | X-ray exam of neck spine | 0.31 | NA | 0.99 | 0.07 | NA | 1.37 | XXX
72050 | 26 | A | X-ray exam of neck spine | 0.31 | 0.11 | 0.11 | 0.02 | 0.44 | 0.44 | XXX
72050 | TC | A | X-ray exam of neck spine | 0.00 | NA | 0.88 | 0.05 | NA | 0.93 | XXX
72052 |  | A | X-ray exam of neck spine | 0.36 | NA | 1.24 | 0.07 | NA | 1.67 | XXX
72052 | 26 | A | X-ray exam of neck spine | 0.36 | 0.13 | 0.13 | 0.02 | 0.51 | 0.51 | XXX
72052 | TC | A | X-ray exam of neck spine | 0.00 | NA | 1.11 | 0.05 | NA | 1.16 | XXX
72069 |  | A | X-ray exam of trunk spine | 0.22 | NA | 0.57 | 0.04 | NA | 0.83 | XXX
72069 | 26 | A | X-ray exam of trunk spine | 0.22 | 0.08 | 0.08 | 0.02 | 0.32 | 0.32 | XXX
72069 | TC | A | X-ray exam of trunk spine | 0.00 | NA | 0.49 | 0.02 | NA | 0.51 | XXX
72070 |  | A | X-ray exam of thoracic spine | 0.22 | NA | 0.72 | 0.04 | NA | 0.98 | XXX
72070 | 26 | A | X-ray exam of thoracic spine | 0.22 | 0.08 | 0.08 | 0.01 | 0.31 | 0.31 | XXX
72070 | TC | A | X-ray exam of thoracic spine | 0.00 | NA | 0.64 | 0.03 | NA | 0.67 | XXX
72072 |  | A | X-ray exam of thoracic spine | 0.22 | NA | 0.80 | 0.05 | NA | 1.07 | XXX
72072 | 26 | A | X-ray exam of thoracic spine | 0.22 | 0.08 | 0.08 | 0.01 | 0.31 | 0.31 | XXX
72072 | TC | A | X-ray exam of thoracic spine | 0.00 | NA | 0.72 | 0.04 | NA | 0.76 | XXX
72074 |  | A | X-ray exam of thoracic spine | 0.22 | NA | 0.97 | 0.06 | NA | 1.25 | XXX
72074 | 26 | A | X-ray exam of thoracic spine | 0.22 | 0.08 | 0.08 | 0.01 | 0.31 | 0.31 | XXX
72074 | TC | A | X-ray exam of thoracic spine | 0.00 | NA | 0.89 | 0.05 | NA | 0.94 | XXX
72080 |  | A | X-ray exam of trunk spine | 0.22 | NA | 0.74 | 0.05 | NA | 1.01 | XXX
72080 | 26 | A | X-ray exam of trunk spine | 0.22 | 0.08 | 0.08 | 0.02 | 0.32 | 0.32 | XXX
72080 | TC | A | X-ray exam of trunk spine | 0.00 | NA | 0.66 | 0.03 | NA | 0.69 | XXX
72090 |  | A | X-ray exam of trunk spine | 0.28 | NA | 0.76 | 0.05 | NA | 1.09 | XXX
72090 | 26 | A | X-ray exam of trunk spine | 0.28 | 0.10 | 0.10 | 0.02 | 0.40 | 0.40 | XXX
72090 | TC | A | X-ray exam of trunk spine | 0.00 | NA | 0.66 | 0.03 | NA | 0.69 | XXX
72100 |  | A | X-ray exam of lower spine | 0.22 | NA | 0.74 | 0.05 | NA | 1.01 | XXX
72100 | 26 | A | X-ray exam of lower spine | 0.22 | 0.08 | 0.08 | 0.02 | 0.32 | 0.32 | XXX
72100 | TC | A | X-ray exam of lower spine | 0.00 | NA | 0.66 | 0.03 | NA | 0.69 | XXX
72110 |  | A | X-ray exam of lower spine | 0.31 | NA | 1.00 | 0.07 | NA | 1.38 | XXX
72110 | 26 | A | X-ray exam of lower spine | 0.31 | 0.11 | 0.11 | 0.02 | 0.44 | 0.44 | XXX
72110 | TC | A | X-ray exam of lower spine | 0.00 | NA | 0.89 | 0.05 | NA | 0.94 | XXX
72114 |  | A | X-ray exam of lower spine | 0.36 | NA | 1.30 | 0.08 | NA | 1.74 | XXX
72114 | 26 | A | X-ray exam of lower spine | 0.36 | 0.13 | 0.13 | 0.03 | 0.52 | 0.52 | XXX
72114 | TC | A | X-ray exam of lower spine | 0.00 | NA | 1.17 | 0.05 | NA | 1.22 | XXX
72120 |  | A | X-ray exam of lower spine | 0.22 | NA | 0.96 | 0.07 | NA | 1.25 | XXX
72120 | 26 | A | X-ray exam of lower spine | 0.22 | 0.08 | 0.08 | 0.02 | 0.32 | 0.32 | XXX
72120 | TC | A | X-ray exam of lower spine | 0.00 | NA | 0.88 | 0.05 | NA | 0.93 | XXX
72125 |  | A | Ct neck spine w/o dye | 1.16 | NA | 6.22 | 0.31 | NA | 7.69 | XXX
72125 | 26 | A | Ct neck spine w/o dye | 1.16 | 0.40 | 0.40 | 0.05 | 1.61 | 1.61 | XXX
72125 | TC | A | Ct neck spine w/o dye | 0.00 | NA | 5.82 | 0.26 | NA | 6.08 | XXX
72126 |  | A | Ct neck spine w/dye | 1.22 | NA | 7.38 | 0.36 | NA | 8.96 | XXX
72126 | 26 | A | Ct neck spine w/dye | 1.22 | 0.42 | 0.42 | 0.05 | 1.69 | 1.69 | XXX
72126 | TC | A | Ct neck spine w/dye | 0.00 | NA | 6.96 | 0.31 | NA | 7.27 | XXX
72127 |  | A | Ct neck spine w/o&w dye | 1.27 | NA | 9.16 | 0.44 | NA | 10.87 | XXX
72127 | 26 | A | Ct neck spine w/o&w dye | 1.27 | 0.45 | 0.45 | 0.06 | 1.78 | 1.78 | XXX
72127 | TC | A | Ct neck spine w/o&w dye | 0.00 | NA | 8.71 | 0.38 | NA | 9.09 | XXX
72128 |  | A | Ct chest spine w/o dye | 1.16 | NA | 6.22 | 0.31 | NA | 7.69 | XXX
72128 | 26 | A | Ct chest spine w/o dye | 1.16 | 0.40 | 0.40 | 0.05 | 1.61 | 1.61 | XXX
72128 | TC | A | Ct chest spine w/o dye | 0.00 | NA | 5.82 | 0.26 | NA | 6.08 | XXX
72129 |  | A | Ct chest spine w/dye | 1.22 | NA | 7.38 | 0.36 | NA | 8.96 | XXX
72129 | 26 | A | Ct chest spine w/dye | 1.22 | 0.42 | 0.42 | 0.05 | 1.69 | 1.69 | XXX
72129 | TC | A | Ct chest spine w/dye | 0.00 | NA | 6.96 | 0.31 | NA | 7.27 | XXX
72130 |  | A | Ct chest spine w/o&w dye | 1.27 | NA | 9.15 | 0.44 | NA | 10.86 | XXX
72130 | 26 | A | Ct chest spine w/o&w dye | 1.27 | 0.44 | 0.44 | 0.06 | 1.77 | 1.77 | XXX
72130 | TC | A | Ct chest spine w/o&w dye | 0.00 | NA | 8.71 | 0.38 | NA | 9.09 | XXX
72131 |  | A | Ct lumbar spine w/o dye | 1.16 | NA | 6.22 | 0.31 | NA | 7.69 | XXX
72131 | 26 | A | Ct lumbar spine w/o dye | 1.16 | 0.40 | 0.40 | 0.05 | 1.61 | 1.61 | XXX
72131 | TC | A | Ct lumbar spine w/o dye | 0.00 | NA | 5.82 | 0.26 | NA | 6.08 | XXX
72132 |  | A | Ct lumbar spine w/dye | 1.22 | NA | 7.38 | 0.37 | NA | 8.97 | XXX
72132 | 26 | A | Ct lumbar spine w/dye | 1.22 | 0.42 | 0.42 | 0.06 | 1.70 | 1.70 | XXX
72132 | TC | A | Ct lumbar spine w/dye | 0.00 | NA | 6.96 | 0.31 | NA | 7.27 | XXX
72133 |  | A | Ct lumbar spine w/o&w dye | 1.27 | NA | 9.16 | 0.44 | NA | 10.87 | XXX
72133 | 26 | A | Ct lumbar spine w/o&w dye | 1.27 | 0.45 | 0.45 | 0.06 | 1.78 | 1.78 | XXX
72133 | TC | A | Ct lumbar spine w/o&w dye | 0.00 | NA | 8.71 | 0.38 | NA | 9.09 | XXX
72141 |  | A | Mri neck spine w/o dye | 1.60 | NA | 11.59 | 0.56 | NA | 13.75 | XXX
72141 | 26 | A | Mri neck spine w/o dye | 1.60 | 0.56 | 0.56 | 0.07 | 2.23 | 2.23 | XXX
72141 | TC | A | Mri neck spine w/o dye | 0.00 | NA | 11.03 | 0.49 | NA | 11.52 | XXX
72142 |  | A | Mri neck spine w/dye | 1.92 | NA | 13.92 | 0.67 | NA | 16.51 | XXX
72142 | 26 | A | Mri neck spine w/dye | 1.92 | 0.69 | 0.69 | 0.09 | 2.70 | 2.70 | XXX
72142 | TC | A | Mri neck spine w/dye | 0.00 | NA | 13.23 | 0.58 | NA | 13.81 | XXX
72146 |  | A | Mri chest spine w/o dye | 1.60 | NA | 12.81 | 0.60 | NA | 15.01 | XXX
72146 | 26 | A | Mri chest spine w/o dye | 1.60 | 0.56 | 0.56 | 0.07 | 2.23 | 2.23 | XXX
72146 | TC | A | Mri chest spine w/o dye | 0.00 | NA | 12.25 | 0.53 | NA | 12.78 | XXX
72147 |  | A | Mri chest spine w/dye | 1.92 | NA | 13.91 | 0.67 | NA | 16.50 | XXX
72147 | 26 | A | Mri chest spine w/dye | 1.92 | 0.68 | 0.68 | 0.09 | 2.69 | 2.69 | XXX
72147 | TC | A | Mri chest spine w/dye | 0.00 | NA | 13.23 | 0.58 | NA | 13.81 | XXX
72148 |  | A | Mri lumbar spine w/o dye | 1.48 | NA | 12.77 | 0.60 | NA | 14.85 | XXX
72148 | 26 | A | Mri lumbar spine w/o dye | 1.48 | 0.52 | 0.52 | 0.07 | 2.07 | 2.07 | XXX
72148 | TC | A | Mri lumbar spine w/o dye | 0.00 | NA | 12.25 | 0.53 | NA | 12.78 | XXX
72149 |  | A | Mri lumbar spine w/dye | 1.78 | NA | 13.87 | 0.67 | NA | 16.32 | XXX
72149 | 26 | A | Mri lumbar spine w/dye | 1.78 | 0.64 | 0.64 | 0.09 | 2.51 | 2.51 | XXX
72149 | TC | A | Mri lumbar spine w/dye | 0.00 | NA | 13.23 | 0.58 | NA | 13.81 | XXX
72156 |  | A | Mri neck spine w/o&w dye | 2.57 | NA | 25.41 | 1.20 | NA | 29.18 | XXX
72156 | 26 | A | Mri neck spine w/o&w dye | 2.57 | 0.90 | 0.90 | 0.11 | 3.58 | 3.58 | XXX
72156 | TC | A | Mri neck spine w/o&w dye | 0.00 | NA | 24.51 | 1.09 | NA | 25.60 | XXX
72157 |  | A | Mri chest spine w/o&w dye | 2.57 | NA | 25.41 | 1.20 | NA | 29.18 | XXX
72157 | 26 | A | Mri chest spine w/o&w dye | 2.57 | 0.90 | 0.90 | 0.11 | 3.58 | 3.58 | XXX
72157 | TC | A | Mri chest spine w/o&w dye | 0.00 | NA | 24.51 | 1.09 | NA | 25.60 | XXX
72158 |  | A | Mri lumbar spine w/o&w dye | 2.36 | NA | 25.34 | 1.20 | NA | 28.90 | XXX
72158 | 26 | A | Mri lumbar spine w/o&w dye | 2.36 | 0.83 | 0.83 | 0.11 | 3.30 | 3.30 | XXX
72158 | TC | A | Mri lumbar spine w/o&w dye | 0.00 | NA | 24.51 | 1.09 | NA | 25.60 | XXX
72159 |  | N | Mr angio spine w/o&w dye | +1.80 | NA | 12.96 | 0.61 | NA | 15.37 | XXX
72159 | 26 | N | Mr angio spine w/o&w dye | +1.80 | 0.71 | 0.71 | 0.08 | 2.59 | 2.59 | XXX
72159 | TC | N | Mr angio spine w/o&w dye | +0.00 | NA | 12.25 | 0.53 | NA | 12.78 | XXX
72170 |  | A | X-ray exam of pelvis | 0.17 | NA | 0.57 | 0.03 | NA | 0.77 | XXX
72170 | 26 | A | X-ray exam of pelvis | 0.17 | 0.06 | 0.06 | 0.01 | 0.24 | 0.24 | XXX
72170 | TC | A | X-ray exam of pelvis | 0.00 | NA | 0.51 | 0.02 | NA | 0.53 | XXX
72190 |  | A | X-ray exam of pelvis | 0.21 | NA | 0.73 | 0.04 | NA | 0.98 | XXX
72190 | 26 | A | X-ray exam of pelvis | 0.21 | 0.07 | 0.07 | 0.01 | 0.29 | 0.29 | XXX
72190 | TC | A | X-ray exam of pelvis | 0.00 | NA | 0.66 | 0.03 | NA | 0.69 | XXX
72191 |  | A | Ct angiograph pelv w/o&w dye | 1.20 | NA | 8.83 | 0.37 | NA | 10.40 | XXX
72191 | 26 | A | Ct angiograph pelv w/o&w dye | 1.20 | 0.47 | 0.47 | 0.05 | 1.72 | 1.72 | XXX
72191 | TC | A | Ct angiograph pelv w/o&w dye | 0.00 | NA | 8.36 | 0.32 | NA | 8.68 | XXX
72192 |  | A | Ct pelvis w/o dye | 1.09 | NA | 6.20 | 0.31 | NA | 7.60 | XXX
72192 | 26 | A | Ct pelvis w/o dye | 1.09 | 0.38 | 0.38 | 0.05 | 1.52 | 1.52 | XXX
72192 | TC | A | Ct pelvis w/o dye | 0.00 | NA | 5.82 | 0.26 | NA | 6.08 | XXX
72193 |  | A | Ct pelvis w/dye | 1.16 | NA | 7.14 | 0.35 | NA | 8.65 | XXX
72193 | 26 | A | Ct pelvis w/dye | 1.16 | 0.40 | 0.40 | 0.05 | 1.61 | 1.61 | XXX
72193 | TC | A | Ct pelvis w/dye | 0.00 | NA | 6.74 | 0.30 | NA | 7.04 | XXX
72194 |  | A | Ct pelvis w/o&w dye | 1.22 | NA | 8.78 | 0.41 | NA | 10.41 | XXX
72194 | 26 | A | Ct pelvis w/o&w dye | 1.22 | 0.42 | 0.42 | 0.05 | 1.69 | 1.69 | XXX
72194 | TC | A | Ct pelvis w/o&w dye | 0.00 | NA | 8.36 | 0.36 | NA | 8.72 | XXX
72195 |  | A | Mri pelvis w/o dye | 1.22 | NA | 11.46 | 0.41 | NA | 13.09 | XXX
72195 | 26 | A | Mri pelvis w/o dye | 1.22 | 0.43 | 0.43 | 0.04 | 1.69 | 1.69 | XXX
72195 | TC | A | Mri pelvis w/o dye | 0.00 | NA | 11.03 | 0.37 | NA | 11.40 | XXX
72196 |  | A | Mri pelvis w/dye | 1.44 | NA | 13.73 | 0.48 | NA | 15.65 | XXX
72196 | 26 | A | Mri pelvis w/dye | 1.44 | 0.50 | 0.50 | 0.05 | 1.99 | 1.99 | XXX
72196 | TC | A | Mri pelvis w/dye | 0.00 | NA | 13.23 | 0.43 | NA | 13.66 | XXX
72197 |  | A | Mri pelvis w/o & w dye | 1.89 | NA | 25.17 | 0.85 | NA | 27.91 | XXX
72197 | 26 | A | Mri pelvis w/o & w dye | 1.89 | 0.66 | 0.66 | 0.09 | 2.64 | 2.64 | XXX
72197 | TC | A | Mri pelvis w/o & w dye | 0.00 | NA | 24.51 | 0.76 | NA | 25.27 | XXX
72198 |  | N | Mr angio pelvis w/o&w dye | +1.80 | NA | 11.74 | 0.57 | NA | 14.11 | XXX
72198 | 26 | N | Mr angio pelvis w/o&w dye | +1.80 | 0.71 | 0.71 | 0.08 | 2.59 | 2.59 | XXX
72198 | TC | N | Mr angio pelvis w/o&w dye | +0.00 | NA | 11.03 | 0.49 | NA | 11.52 | XXX
72200 |  | A | X-ray exam sacroiliac joints | 0.17 | NA | 0.57 | 0.03 | NA | 0.77 | XXX
72200 | 26 | A | X-ray exam sacroiliac joints | 0.17 | 0.06 | 0.06 | 0.01 | 0.24 | 0.24 | XXX
72200 | TC | A | X-ray exam sacroiliac joints | 0.00 | NA | 0.51 | 0.02 | NA | 0.53 | XXX
72202 |  | A | X-ray exam sacroiliac joints | 0.19 | NA | 0.68 | 0.04 | NA | 0.91 | XXX
72202 | 26 | A | X-ray exam sacroiliac joints | 0.19 | 0.07 | 0.07 | 0.01 | 0.27 | 0.27 | XXX
72202 | TC | A | X-ray exam sacroiliac joints | 0.00 | NA | 0.61 | 0.03 | NA | 0.64 | XXX
72220 |  | A | X-ray exam of tailbone | 0.17 | NA | 0.62 | 0.04 | NA | 0.83 | XXX
72220 | 26 | A | X-ray exam of tailbone | 0.17 | 0.06 | 0.06 | 0.01 | 0.24 | 0.24 | XXX
72220 | TC | A | X-ray exam of tailbone | 0.00 | NA | 0.56 | 0.03 | NA | 0.59 | XXX
72240 |  | A | Contrast x-ray of neck spine | 0.91 | NA | 4.97 | 0.25 | NA | 6.13 | XXX
72240 | 26 | A | Contrast x-ray of neck spine | 0.91 | 0.30 | 0.30 | 0.04 | 1.25 | 1.25 | XXX
72240 | TC | A | Contrast x-ray of neck spine | 0.00 | NA | 4.67 | 0.21 | NA | 4.88 | XXX
72255 |  | A | Contrast x-ray, thorax spine | 0.91 | NA | 4.56 | 0.22 | NA | 5.69 | XXX
72255 | 26 | A | Contrast x-ray, thorax spine | 0.91 | 0.29 | 0.29 | 0.04 | 1.24 | 1.24 | XXX
72255 | TC | A | Contrast x-ray, thorax spine | 0.00 | NA | 4.27 | 0.18 | NA | 4.45 | XXX
72265 |  | A | Contrast x-ray, lower spine | 0.83 | NA | 4.28 | 0.22 | NA | 5.33 | XXX
72265 | 26 | A | Contrast x-ray, lower spine | 0.83 | 0.27 | 0.27 | 0.04 | 1.14 | 1.14 | XXX
72265 | TC | A | Contrast x-ray, lower spine | 0.00 | NA | 4.01 | 0.18 | NA | 4.19 | XXX
72270 |  | A | Contrast x-ray of spine | 1.33 | NA | 6.44 | 0.34 | NA | 8.11 | XXX
72270 | 26 | A | Contrast x-ray of spine | 1.33 | 0.43 | 0.43 | 0.07 | 1.83 | 1.83 | XXX
72270 | TC | A | Contrast x-ray of spine | 0.00 | NA | 6.01 | 0.27 | NA | 6.28 | XXX
72275 |  | A | Epidurography | 0.76 | NA | 2.32 | 0.21 | NA | 3.29 | XXX
72275 | 26 | A | Epidurography | 0.76 | 0.25 | 0.25 | 0.03 | 1.04 | 1.04 | XXX
72275 | TC | A | Epidurography | 0.00 | NA | 2.07 | 0.18 | NA | 2.25 | XXX
72285 |  | A | X-ray c/t spine disk | 1.16 | NA | 8.64 | 0.42 | NA | 10.22 | XXX
72285 | 26 | A | X-ray c/t spine disk | 1.16 | 0.39 | 0.39 | 0.06 | 1.61 | 1.61 | XXX
72285 | TC | A | X-ray c/t spine disk | 0.00 | NA | 8.25 | 0.36 | NA | 8.61 | XXX
72295 |  | A | X-ray of lower spine disk | 0.83 | NA | 8.02 | 0.37 | NA | 9.22 | XXX
72295 | 26 | A | X-ray of lower spine disk | 0.83 | 0.28 | 0.28 | 0.04 | 1.15 | 1.15 | XXX
72295 | TC | A | X-ray of lower spine disk | 0.00 | NA | 7.74 | 0.33 | NA | 8.07 | XXX
73000 |  | A | X-ray exam of collar bone | 0.16 | NA | 0.57 | 0.03 | NA | 0.76 | XXX
73000 | 26 | A | X-ray exam of collar bone | 0.16 | 0.06 | 0.06 | 0.01 | 0.23 | 0.23 | XXX
73000 | TC | A | X-ray exam of collar bone | 0.00 | NA | 0.51 | 0.02 | NA | 0.53 | XXX
73010 |  | A | X-ray exam of shoulder blade | 0.17 | NA | 0.57 | 0.03 | NA | 0.77 | XXX
73010 | 26 | A | X-ray exam of shoulder blade | 0.17 | 0.06 | 0.06 | 0.01 | 0.24 | 0.24 | XXX
73010 | TC | A | X-ray exam of shoulder blade | 0.00 | NA | 0.51 | 0.02 | NA | 0.53 | XXX
73020 |  | A | X-ray exam of shoulder | 0.15 | NA | 0.52 | 0.03 | NA | 0.70 | XXX
73020 | 26 | A | X-ray exam of shoulder | 0.15 | 0.05 | 0.05 | 0.01 | 0.21 | 0.21 | XXX
73020 | TC | A | X-ray exam of shoulder | 0.00 | NA | 0.47 | 0.02 | NA | 0.49 | XXX
73030 |  | A | X-ray exam of shoulder | 0.18 | NA | 0.62 | 0.04 | NA | 0.84 | XXX
73030 | 26 | A | X-ray exam of shoulder | 0.18 | 0.06 | 0.06 | 0.01 | 0.25 | 0.25 | XXX
73030 | TC | A | X-ray exam of shoulder | 0.00 | NA | 0.56 | 0.03 | NA | 0.59 | XXX
73040 |  | A | Contrast x-ray of shoulder | 0.54 | NA | 2.26 | 0.13 | NA | 2.93 | XXX
73040 | 26 | A | Contrast x-ray of shoulder | 0.54 | 0.19 | 0.19 | 0.03 | 0.76 | 0.76 | XXX
73040 | TC | A | Contrast x-ray of shoulder | 0.00 | NA | 2.07 | 0.10 | NA | 2.17 | XXX
73050 |  | A | X-ray exam of shoulders | 0.20 | NA | 0.73 | 0.05 | NA | 0.98 | XXX
73050 | 26 | A | X-ray exam of shoulders | 0.20 | 0.07 | 0.07 | 0.02 | 0.29 | 0.29 | XXX
73050 | TC | A | X-ray exam of shoulders | 0.00 | NA | 0.66 | 0.03 | NA | 0.69 | XXX
73060 |  | A | X-ray exam of humerus | 0.17 | NA | 0.62 | 0.04 | NA | 0.83 | XXX
73060 | 26 | A | X-ray exam of humerus | 0.17 | 0.06 | 0.06 | 0.01 | 0.24 | 0.24 | XXX
73060 | TC | A | X-ray exam of humerus | 0.00 | NA | 0.56 | 0.03 | NA | 0.59 | XXX
73070 |  | A | X-ray exam of elbow | 0.15 | NA | 0.56 | 0.03 | NA | 0.74 | XXX
73070 | 26 | A | X-ray exam of elbow | 0.15 | 0.05 | 0.05 | 0.01 | 0.21 | 0.21 | XXX
73070 | TC | A | X-ray exam of elbow | 0.00 | NA | 0.51 | 0.02 | NA | 0.53 | XXX
73080 |  | A | X-ray exam of elbow | 0.17 | NA | 0.62 | 0.04 | NA | 0.83 | XXX
73080 | 26 | A | X-ray exam of elbow | 0.17 | 0.06 | 0.06 | 0.01 | 0.24 | 0.24 | XXX
73080 | TC | A | X-ray exam of elbow | 0.00 | NA | 0.56 | 0.03 | NA | 0.59 | XXX
73085 |  | A | Contrast x-ray of elbow | 0.54 | NA | 2.27 | 0.13 | NA | 2.94 | XXX
73085 | 26 | A | Contrast x-ray of elbow | 0.54 | 0.20 | 0.20 | 0.03 | 0.77 | 0.77 | XXX
73085 | TC | A | Contrast x-ray of elbow | 0.00 | NA | 2.07 | 0.10 | NA | 2.17 | XXX
73090 |  | A | X-ray exam of forearm | 0.16 | NA | 0.57 | 0.03 | NA | 0.76 | XXX
73090 | 26 | A | X-ray exam of forearm | 0.16 | 0.06 | 0.06 | 0.01 | 0.23 | 0.23 | XXX
73090 | TC | A | X-ray exam of forearm | 0.00 | NA | 0.51 | 0.02 | NA | 0.53 | XXX
73092 |  | A | X-ray exam of arm, infant | 0.16 | NA | 0.55 | 0.03 | NA | 0.74 | XXX
73092 | 26 | A | X-ray exam of arm, infant | 0.16 | 0.06 | 0.06 | 0.01 | 0.23 | 0.23 | XXX
73092 | TC | A | X-ray exam of arm, infant | 0.00 | NA | 0.49 | 0.02 | NA | 0.51 | XXX
73100 |  | A | X-ray exam of wrist | 0.16 | NA | 0.55 | 0.04 | NA | 0.75 | XXX
73100 | 26 | A | X-ray exam of wrist | 0.16 | 0.06 | 0.06 | 0.02 | 0.24 | 0.24 | XXX
73100 | TC | A | X-ray exam of wrist | 0.00 | NA | 0.49 | 0.02 | NA | 0.51 | XXX
73110 |  | A | X-ray exam of wrist | 0.17 | NA | 0.58 | 0.03 | NA | 0.78 | XXX
73110 | 26 | A | X-ray exam of wrist | 0.17 | 0.06 | 0.06 | 0.01 | 0.24 | 0.24 | XXX
73110 | TC | A | X-ray exam of wrist | 0.00 | NA | 0.52 | 0.02 | NA | 0.54 | XXX
73115 |  | A | Contrast x-ray of wrist | 0.54 | NA | 1.74 | 0.11 | NA | 2.39 | XXX
73115 | 26 | A | Contrast x-ray of wrist | 0.54 | 0.19 | 0.19 | 0.03 | 0.76 | 0.76 | XXX
73115 | TC | A | Contrast x-ray of wrist | 0.00 | NA | 1.55 | 0.08 | NA | 1.63 | XXX
73120 |  | A | X-ray exam of hand | 0.16 | NA | 0.55 | 0.03 | NA | 0.74 | XXX
73120 | 26 | A | X-ray exam of hand | 0.16 | 0.06 | 0.06 | 0.01 | 0.23 | 0.23 | XXX
73120 | TC | A | X-ray exam of hand | 0.00 | NA | 0.49 | 0.02 | NA | 0.51 | XXX
73130 |  | A | X-ray exam of hand | 0.17 | NA | 0.58 | 0.03 | NA | 0.78 | XXX
73130 | 26 | A | X-ray exam of hand | 0.17 | 0.06 | 0.06 | 0.01 | 0.24 | 0.24 | XXX
73130 | TC | A | X-ray exam of hand | 0.00 | NA | 0.52 | 0.02 | NA | 0.54 | XXX
73140 |  | A | X-ray exam of finger(s) | 0.13 | NA | 0.46 | 0.03 | NA | 0.62 | XXX
73140 | 26 | A | X-ray exam of finger(s) | 0.13 | 0.05 | 0.05 | 0.01 | 0.19 | 0.19 | XXX
73140 | TC | A | X-ray exam of finger(s) | 0.00 | NA | 0.41 | 0.02 | NA | 0.43 | XXX
73200 |  | A | Ct upper extremity w/o dye | 1.09 | NA | 5.26 | 0.26 | NA | 6.61 | XXX
73200 | 26 | A | Ct upper extremity w/o dye | 1.09 | 0.38 | 0.38 | 0.05 | 1.52 | 1.52 | XXX
73200 | TC | A | Ct upper extremity w/o dye | 0.00 | NA | 4.88 | 0.21 | NA | 5.09 | XXX
73201 |  | A | Ct upper extremity w/dye | 1.16 | NA | 6.23 | 0.31 | NA | 7.70 | XXX
73201 | 26 | A | Ct upper extremity w/dye | 1.16 | 0.41 | 0.41 | 0.05 | 1.62 | 1.62 | XXX
73201 | TC | A | Ct upper extremity w/dye | 0.00 | NA | 5.82 | 0.26 | NA | 6.08 | XXX
73202 |  | A | Ct uppr extremity w/o&w dye | 1.22 | NA | 7.74 | 0.38 | NA | 9.34 | XXX
73202 | 26 | A | Ct uppr extremity w/o&w dye | 1.22 | 0.43 | 0.43 | 0.06 | 1.71 | 1.71 | XXX
73202 | TC | A | Ct uppr extremity w/o&w dye | 0.00 | NA | 7.31 | 0.32 | NA | 7.63 | XXX
73206 |  | A | Ct angio upr extrm w/o&w dye | 1.20 | NA | 7.78 | 0.37 | NA | 9.35 | XXX
73206 | 26 | A | Ct angio upr extrm w/o&w dye | 1.20 | 0.47 | 0.47 | 0.05 | 1.72 | 1.72 | XXX
73206 | TC | A | Ct angio upr extrm w/o&w dye | 0.00 | NA | 7.31 | 0.32 | NA | 7.63 | XXX
73218 |  | A | Mri upper extremity w/o dye | 1.10 | NA | 11.42 | 0.36 | NA | 12.88 | XXX
73218 | 26 | A | Mri upper extremity w/o dye | 1.10 | 0.39 | 0.39 | 0.04 | 1.53 | 1.53 | XXX
73218 | TC | A | Mri upper extremity w/o dye | 0.00 | NA | 11.03 | 0.32 | NA | 11.35 | XXX
73219 |  | A | Mri upper extremity w/dye | 1.33 | NA | 13.70 | 0.43 | NA | 15.46 | XXX
73219 | 26 | A | Mri upper extremity w/dye | 1.33 | 0.47 | 0.47 | 0.04 | 1.84 | 1.84 | XXX
73219 | TC | A | Mri upper extremity w/dye | 0.00 | NA | 13.23 | 0.39 | NA | 13.62 | XXX
73220 |  | A | Mri uppr extremity w/o&w dye | 1.76 | NA | 25.13 | 0.78 | NA | 27.67 | XXX
73220 | 26 | A | Mri uppr extremity w/o&w dye | 1.76 | 0.62 | 0.62 | 0.08 | 2.46 | 2.46 | XXX
73220 | TC | A | Mri uppr extremity w/o&w dye | 0.00 | NA | 24.51 | 0.70 | NA | 25.21 | XXX
73221 |  | A | Mri joint upr extrem w/o dye | 1.10 | NA | 11.42 | 0.36 | NA | 12.88 | XXX
73221 | 26 | A | Mri joint upr extrem w/o dye | 1.10 | 0.39 | 0.39 | 0.04 | 1.53 | 1.53 | XXX
73221 | TC | A | Mri joint upr extrem w/o dye | 0.00 | NA | 11.03 | 0.32 | NA | 11.35 | XXX
73222 |  | A | Mri joint upr extrem w/ dye | 1.33 | NA | 13.70 | 0.43 | NA | 15.46 | XXX
73222 | 26 | A | Mri joint upr extrem w/ dye | 1.33 | 0.47 | 0.47 | 0.04 | 1.84 | 1.84 | XXX
73222 | TC | A | Mri joint upr extrem w/ dye | 0.00 | NA | 13.23 | 0.39 | NA | 13.62 | XXX
73223 |  | A | Mri joint upr extr w/o&w dye | 1.76 | NA | 25.13 | 0.78 | NA | 27.67 | XXX
73223 | 26 | A | Mri joint upr extr w/o&w dye | 1.76 | 0.62 | 0.62 | 0.08 | 2.46 | 2.46 | XXX
73223 | TC | A | Mri joint upr extr w/o&w dye | 0.00 | NA | 24.51 | 0.70 | NA | 25.21 | XXX
73225 |  | N | Mr angio upr extr w/o&w dye | +1.73 | NA | 11.71 | 0.57 | NA | 14.01 | XXX
73225 | 26 | N | Mr angio upr extr w/o&w dye | +1.73 | 0.68 | 0.68 | 0.08 | 2.49 | 2.49 | XXX
73225 | TC | N | Mr angio upr extr w/o&w dye | +0.00 | NA | 11.03 | 0.49 | NA | 11.52 | XXX
73500 |  | A | X-ray exam of hip | 0.17 | NA | 0.53 | 0.03 | NA | 0.73 | XXX
73500 | 26 | A | X-ray exam of hip | 0.17 | 0.06 | 0.06 | 0.01 | 0.24 | 0.24 | XXX
73500 | TC | A | X-ray exam of hip | 0.00 | NA | 0.47 | 0.02 | NA | 0.49 | XXX
73510 |  | A | X-ray exam of hip | 0.21 | NA | 0.63 | 0.05 | NA | 0.89 | XXX
73510 | 26 | A | X-ray exam of hip | 0.21 | 0.07 | 0.07 | 0.02 | 0.30 | 0.30 | XXX
73510 | TC | A | X-ray exam of hip | 0.00 | NA | 0.56 | 0.03 | NA | 0.59 | XXX
73520 |  | A | X-ray exam of hips | 0.26 | NA | 0.75 | 0.05 | NA | 1.06 | XXX
73520 | 26 | A | X-ray exam of hips | 0.26 | 0.09 | 0.09 | 0.02 | 0.37 | 0.37 | XXX
73520 | TC | A | X-ray exam of hips | 0.00 | NA | 0.66 | 0.03 | NA | 0.69 | XXX
73525 |  | A | Contrast x-ray of hip | 0.54 | NA | 2.26 | 0.13 | NA | 2.93 | XXX
73525 | 26 | A | Contrast x-ray of hip | 0.54 | 0.19 | 0.19 | 0.03 | 0.76 | 0.76 | XXX
73525 | TC | A | Contrast x-ray of hip | 0.00 | NA | 2.07 | 0.10 | NA | 2.17 | XXX
73530 |  | A | X-ray exam of hip | 0.29 | NA | 0.61 | 0.03 | NA | 0.93 | XXX
73530 | 26 | A | X-ray exam of hip | 0.29 | 0.10 | 0.10 | 0.01 | 0.40 | 0.40 | XXX
73530 | TC | A | X-ray exam of hip | 0.00 | NA | 0.51 | 0.02 | NA | 0.53 | XXX
73540 |  | A | X-ray exam of pelvis & hips | 0.20 | NA | 0.63 | 0.05 | NA | 0.88 | XXX
73540 | 26 | A | X-ray exam of pelvis & hips | 0.20 | 0.07 | 0.07 | 0.02 | 0.29 | 0.29 | XXX
73540 | TC | A | X-ray exam of pelvis & hips | 0.00 | NA | 0.56 | 0.03 | NA | 0.59 | XXX
73542 |  | A | X-ray exam, sacroiliac joint | 0.59 | NA | 2.28 | 0.13 | NA | 3.00 | XXX
73542 | 26 | A | X-ray exam, sacroiliac joint | 0.59 | 0.21 | 0.21 | 0.03 | 0.83 | 0.83 | XXX
73542 | TC | A | X-ray exam, sacroiliac joint | 0.00 | NA | 2.07 | 0.10 | NA | 2.17 | XXX
73550 |  | A | X-ray exam of thigh | 0.17 | NA | 0.62 | 0.04 | NA | 0.83 | XXX
73550 | 26 | A | X-ray exam of thigh | 0.17 | 0.06 | 0.06 | 0.01 | 0.24 | 0.24 | XXX
73550 | TC | A | X-ray exam of thigh | 0.00 | NA | 0.56 | 0.03 | NA | 0.59 | XXX
73560 |  | A | X-ray exam of knee, 1 or 2 | 0.17 | NA | 0.57 | 0.04 | NA | 0.78 | XXX
73560 | 26 | A | X-ray exam of knee, 1 or 2 | 0.17 | 0.06 | 0.06 | 0.02 | 0.25 | 0.25 | XXX
73560 | TC | A | X-ray exam of knee, 1 or 2 | 0.00 | NA | 0.51 | 0.02 | NA | 0.53 | XXX
73562 |  | A | X-ray exam of knee, 3 | 0.18 | NA | 0.62 | 0.05 | NA | 0.85 | XXX
73562 | 26 | A | X-ray exam of knee, 3 | 0.18 | 0.06 | 0.06 | 0.02 | 0.26 | 0.26 | XXX
73562 | TC | A | X-ray exam of knee, 3 | 0.00 | NA | 0.56 | 0.03 | NA | 0.59 | XXX
73564 |  | A | X-ray exam, knee, 4 or more | 0.22 | NA | 0.69 | 0.05 | NA | 0.96 | XXX
73564 | 26 | A | X-ray exam, knee, 4 or more | 0.22 | 0.08 | 0.08 | 0.02 | 0.32 | 0.32 | XXX
73564 | TC | A | X-ray exam, knee, 4 or more | 0.00 | NA | 0.61 | 0.03 | NA | 0.64 | XXX
73565 |  | A | X-ray exam of knees | 0.17 | NA | 0.56 | 0.04 | NA | 0.77 | XXX
73565 | 26 | A | X-ray exam of knees | 0.17 | 0.07 | 0.07 | 0.02 | 0.26 | 0.26 | XXX
73565 | TC | A | X-ray exam of knees | 0.00 | NA | 0.49 | 0.02 | NA | 0.51 | XXX
73580 |  | A | Contrast x-ray of knee joint | 0.54 | NA | 2.77 | 0.15 | NA | 3.46 | XXX
73580 | 26 | A | Contrast x-ray of knee joint | 0.54 | 0.19 | 0.19 | 0.03 | 0.76 | 0.76 | XXX
73580 | TC | A | Contrast x-ray of knee joint | 0.00 | NA | 2.58 | 0.12 | NA | 2.70 | XXX
73590 |  | A | X-ray exam of lower leg | 0.17 | NA | 0.57 | 0.03 | NA | 0.77 | XXX
73590 | 26 | A | X-ray exam of lower leg | 0.17 | 0.06 | 0.06 | 0.01 | 0.24 | 0.24 | XXX
73590 | TC | A | X-ray exam of lower leg | 0.00 | NA | 0.51 | 0.02 | NA | 0.53 | XXX
73592 |  | A | X-ray exam of leg, infant | 0.16 | NA | 0.55 | 0.03 | NA | 0.74 | XXX
73592 | 26 | A | X-ray exam of leg, infant | 0.16 | 0.06 | 0.06 | 0.01 | 0.23 | 0.23 | XXX
73592 | TC | A | X-ray exam of leg, infant | 0.00 | NA | 0.49 | 0.02 | NA | 0.51 | XXX
73600 |  | A | X-ray exam of ankle | 0.16 | NA | 0.55 | 0.03 | NA | 0.74 | XXX
73600 | 26 | A | X-ray exam of ankle | 0.16 | 0.06 | 0.06 | 0.01 | 0.23 | 0.23 | XXX
73600 | TC | A | X-ray exam of ankle | 0.00 | NA | 0.49 | 0.02 | NA | 0.51 | XXX
73610 |  | A | X-ray exam of ankle | 0.17 | NA | 0.58 | 0.03 | NA | 0.78 | XXX
73610 | 26 | A | X-ray exam of ankle | 0.17 | 0.06 | 0.06 | 0.01 | 0.24 | 0.24 | XXX
73610 | TC | A | X-ray exam of ankle | 0.00 | NA | 0.52 | 0.02 | NA | 0.54 | XXX
73615 |  | A | Contrast x-ray of ankle | 0.54 | NA | 2.27 | 0.13 | NA | 2.94 | XXX
73615 | 26 | A | Contrast x-ray of ankle | 0.54 | 0.20 | 0.20 | 0.03 | 0.77 | 0.77 | XXX
73615 | TC | A | Contrast x-ray of ankle | 0.00 | NA | 2.07 | 0.10 | NA | 2.17 | XXX
73620 |  | A | X-ray exam of foot | 0.16 | NA | 0.55 | 0.03 | NA | 0.74 | XXX
73620 | 26 | A | X-ray exam of foot | 0.16 | 0.06 | 0.06 | 0.01 | 0.23 | 0.23 | XXX
73620 | TC | A | X-ray exam of foot | 0.00 | NA | 0.49 | 0.02 | NA | 0.51 | XXX
73630 |  | A | X-ray exam of foot | 0.17 | NA | 0.58 | 0.03 | NA | 0.78 | XXX
73630 | 26 | A | X-ray exam of foot | 0.17 | 0.06 | 0.06 | 0.01 | 0.24 | 0.24 | XXX
73630 | TC | A | X-ray exam of foot | 0.00 | NA | 0.52 | 0.02 | NA | 0.54 | XXX
73650 |  | A | X-ray exam of heel | 0.16 | NA | 0.53 | 0.03 | NA | 0.72 | XXX
73650 | 26 | A | X-ray exam of heel | 0.16 | 0.06 | 0.06 | 0.01 | 0.23 | 0.23 | XXX
73650 | TC | A | X-ray exam of heel | 0.00 | NA | 0.47 | 0.02 | NA | 0.49 | XXX
73660 |  | A | X-ray exam of toe(s) | 0.13 | NA | 0.46 | 0.03 | NA | 0.62 | XXX
73660 | 26 | A | X-ray exam of toe(s) | 0.13 | 0.05 | 0.05 | 0.01 | 0.19 | 0.19 | XXX
73660 | TC | A | X-ray exam of toe(s) | 0.00 | NA | 0.41 | 0.02 | NA | 0.43 | XXX
73700 |  | A | Ct lower extremity w/o dye | 1.09 | NA | 5.26 | 0.26 | NA | 6.61 | XXX
73700 | 26 | A | Ct lower extremity w/o dye | 1.09 | 0.38 | 0.38 | 0.05 | 1.52 | 1.52 | XXX
73700 | TC | A | Ct lower extremity w/o dye | 0.00 | NA | 4.88 | 0.21 | NA | 5.09 | XXX
73701 |  | A | Ct lower extremity w/dye | 1.16 | NA | 6.22 | 0.31 | NA | 7.69 | XXX
73701 | 26 | A | Ct lower extremity w/dye | 1.16 | 0.40 | 0.40 | 0.05 | 1.61 | 1.61 | XXX
73701 | TC | A | Ct lower extremity w/dye | 0.00 | NA | 5.82 | 0.26 | NA | 6.08 | XXX
73702 |  | A | Ct lwr extremity w/o&w dye | 1.22 | NA | 7.74 | 0.37 | NA | 9.33 | XXX
73702 | 26 | A | Ct lwr extremity w/o&w dye | 1.22 | 0.43 | 0.43 | 0.05 | 1.70 | 1.70 | XXX
73702 | TC | A | Ct lwr extremity w/o&w dye | 0.00 | NA | 7.31 | 0.32 | NA | 7.63 | XXX
73706 |  | A | Ct angio lwr extr w/o&w dye | 1.20 | NA | 7.78 | 0.37 | NA | 9.35 | XXX
73706 | 26 | A | Ct angio lwr extr w/o&w dye | 1.20 | 0.47 | 0.47 | 0.05 | 1.72 | 1.72 | XXX
73706 | TC | A | Ct angio lwr extr w/o&w dye | 0.00 | NA | 7.31 | 0.32 | NA | 7.63 | XXX
73718 |  | A | Mri lower extremity w/o dye | 1.10 | NA | 11.41 | 0.36 | NA | 12.87 | XXX
73718 | 26 | A | Mri lower extremity w/o dye | 1.10 | 0.38 | 0.38 | 0.04 | 1.52 | 1.52 | XXX
73718 | TC | A | Mri lower extremity w/o dye | 0.00 | NA | 11.03 | 0.32 | NA | 11.35 | XXX
73719 |  | A | Mri lower extremity w/dye | 1.33 | NA | 13.69 | 0.43 | NA | 15.45 | XXX
73719 | 26 | A | Mri lower extremity w/dye | 1.33 | 0.46 | 0.46 | 0.04 | 1.83 | 1.83 | XXX
73719 | TC | A | Mri lower extremity w/dye | 0.00 | NA | 13.23 | 0.39 | NA | 13.62 | XXX
73720 |  | A | Mri lwr extremity w/o&w dye | 1.76 | NA | 25.12 | 0.78 | NA | 27.66 | XXX
73720 | 26 | A | Mri lwr extremity w/o&w dye | 1.76 | 0.61 | 0.61 | 0.08 | 2.45 | 2.45 | XXX
73720 | TC | A | Mri lwr extremity w/o&w dye | 0.00 | NA | 24.51 | 0.70 | NA | 25.21 | XXX
73721 |  | A | Mri joint of lwr extre w/o d | 1.10 | NA | 11.42 | 0.36 | NA | 12.88 | XXX
73721 | 26 | A | Mri joint of lwr extre w/o d | 1.10 | 0.39 | 0.39 | 0.04 | 1.53 | 1.53 | XXX
73721 | TC | A | Mri joint of lwr extre w/o d | 0.00 | NA | 11.03 | 0.32 | NA | 11.35 | XXX
73722 |  | A | Mri joint of lwr extr w/dye | 1.33 | NA | 13.70 | 0.43 | NA | 15.46 | XXX
73722 | 26 | A | Mri joint of lwr extr w/dye | 1.33 | 0.47 | 0.47 | 0.04 | 1.84 | 1.84 | XXX
73722 | TC | A | Mri joint of lwr extr w/dye | 0.00 | NA | 13.23 | 0.39 | NA | 13.62 | XXX
73723 |  | A | Mri joint lwr extr w/o&w dye | 1.76 | NA | 25.13 | 0.78 | NA | 27.67 | XXX
73723 | 26 | A | Mri joint lwr extr w/o&w dye | 1.76 | 0.62 | 0.62 | 0.08 | 2.46 | 2.46 | XXX
73723 | TC | A | Mri joint lwr extr w/o&w dye | 0.00 | NA | 24.51 | 0.70 | NA | 25.21 | XXX
73725 |  | R | Mr ang lwr ext w or w/o dye | 1.82 | NA | 11.67 | 0.57 | NA | 14.06 | XXX
73725 | 26 | R | Mr ang lwr ext w or w/o dye | 1.82 | 0.64 | 0.64 | 0.08 | 2.54 | 2.54 | XXX
73725 | TC | R | Mr ang lwr ext w or w/o dye | 0.00 | NA | 11.03 | 0.49 | NA | 11.52 | XXX
74000 |  | A | X-ray exam of abdomen | 0.18 | NA | 0.57 | 0.03 | NA | 0.78 | XXX
74000 | 26 | A | X-ray exam of abdomen | 0.18 | 0.06 | 0.06 | 0.01 | 0.25 | 0.25 | XXX
74000 | TC | A | X-ray exam of abdomen | 0.00 | NA | 0.51 | 0.02 | NA | 0.53 | XXX
74010 |  | A | X-ray exam of abdomen | 0.23 | NA | 0.64 | 0.04 | NA | 0.91 | XXX
74010 | 26 | A | X-ray exam of abdomen | 0.23 | 0.08 | 0.08 | 0.01 | 0.32 | 0.32 | XXX
74010 | TC | A | X-ray exam of abdomen | 0.00 | NA | 0.56 | 0.03 | NA | 0.59 | XXX
74020 |  | A | X-ray exam of abdomen | 0.27 | NA | 0.70 | 0.04 | NA | 1.01 | XXX
74020 | 26 | A | X-ray exam of abdomen | 0.27 | 0.09 | 0.09 | 0.01 | 0.37 | 0.37 | XXX
74020 | TC | A | X-ray exam of abdomen | 0.00 | NA | 0.61 | 0.03 | NA | 0.64 | XXX
74022 |  | A | X-ray exam series, abdomen | 0.32 | NA | 0.83 | 0.05 | NA | 1.20 | XXX
74022 | 26 | A | X-ray exam series, abdomen | 0.32 | 0.11 | 0.11 | 0.01 | 0.44 | 0.44 | XXX
74022 | TC | A | X-ray exam series, abdomen | 0.00 | NA | 0.72 | 0.04 | NA | 0.76 | XXX
74150 |  | A | Ct abdomen w/o dye | 1.19 | NA | 5.98 | 0.30 | NA | 7.47 | XXX
74150 | 26 | A | Ct abdomen w/o dye | 1.19 | 0.41 | 0.41 | 0.05 | 1.65 | 1.65 | XXX
74150 | TC | A | Ct abdomen w/o dye | 0.00 | NA | 5.57 | 0.25 | NA | 5.82 | XXX
74160 |  | A | Ct abdomen w/dye | 1.27 | NA | 7.18 | 0.36 | NA | 8.81 | XXX
74160 | 26 | A | Ct abdomen w/dye | 1.27 | 0.44 | 0.44 | 0.06 | 1.77 | 1.77 | XXX
74160 | TC | A | Ct abdomen w/dye | 0.00 | NA | 6.74 | 0.30 | NA | 7.04 | XXX
74170 |  | A | Ct abdomen w/o&w dye | 1.40 | NA | 8.85 | 0.42 | NA | 10.67 | XXX
74170 | 26 | A | Ct abdomen w/o&w dye | 1.40 | 0.49 | 0.49 | 0.06 | 1.95 | 1.95 | XXX
74170 | TC | A | Ct abdomen w/o&w dye | 0.00 | NA | 8.36 | 0.36 | NA | 8.72 | XXX
74175 |  | A | Ct angio abdom w/o&w dye | 1.20 | NA | 8.83 | 0.37 | NA | 10.40 | XXX
74175 | 26 | A | Ct angio abdom w/o&w dye | 1.20 | 0.47 | 0.47 | 0.05 | 1.72 | 1.72 | XXX
74175 | TC | A | Ct angio abdom w/o&w dye | 0.00 | NA | 8.36 | 0.32 | NA | 8.68 | XXX
74181 |  | A | Mri abdomen w/o dye | 1.22 | NA | 11.46 | 0.41 | NA | 13.09 | XXX
74181 | 26 | A | Mri abdomen w/o dye | 1.22 | 0.43 | 0.43 | 0.04 | 1.69 | 1.69 | XXX
74181 | TC | A | Mri abdomen w/o dye | 0.00 | NA | 11.03 | 0.37 | NA | 11.40 | XXX
74182 |  | A | Mri abdomen w/dye | 1.44 | NA | 13.73 | 0.48 | NA | 15.65 | XXX
74182 | 26 | A | Mri abdomen w/dye | 1.44 | 0.50 | 0.50 | 0.05 | 1.99 | 1.99 | XXX
74182 | TC | A | Mri abdomen w/dye | 0.00 | NA | 13.23 | 0.43 | NA | 13.66 | XXX
74183 |  | A | Mri abdomen w/o&w dye | 1.89 | NA | 25.17 | 0.85 | NA | 27.91 | XXX
74183 | 26 | A | Mri abdomen w/o&w dye | 1.89 | 0.66 | 0.66 | 0.09 | 2.64 | 2.64 | XXX
74183 | TC | A | Mri abdomen w/o&w dye | 0.00 | NA | 24.51 | 0.76 | NA | 25.27 | XXX
74185 |  | R | Mri angio, abdom w or w/o dy | 1.80 | NA | 11.66 | 0.57 | NA | 14.03 | XXX
74185 | 26 | R | Mri angio, abdom w or w/o dy | 1.80 | 0.63 | 0.63 | 0.08 | 2.51 | 2.51 | XXX
74185 | TC | R | Mri angio, abdom w or w/o dy | 0.00 | NA | 11.03 | 0.49 | NA | 11.52 | XXX
74190 |  | A | X-ray exam of peritoneum | 0.48 | NA | 1.46 | 0.08 | NA | 2.02 | XXX
74190 | 26 | A | X-ray exam of peritoneum | 0.48 | 0.17 | 0.17 | 0.02 | 0.67 | 0.67 | XXX
74190 | TC | A | X-ray exam of peritoneum | 0.00 | NA | 1.29 | 0.06 | NA | 1.35 | XXX
74210 |  | A | Contrst x-ray exam of throat | 0.36 | NA | 1.30 | 0.07 | NA | 1.73 | XXX
74210 | 26 | A | Contrst x-ray exam of throat | 0.36 | 0.13 | 0.13 | 0.02 | 0.51 | 0.51 | XXX
74210 | TC | A | Contrst x-ray exam of throat | 0.00 | NA | 1.17 | 0.05 | NA | 1.22 | XXX
74220 |  | A | Contrast x-ray, esophagus | 0.46 | NA | 1.33 | 0.07 | NA | 1.86 | XXX
74220 | 26 | A | Contrast x-ray, esophagus | 0.46 | 0.16 | 0.16 | 0.02 | 0.64 | 0.64 | XXX
74220 | TC | A | Contrast x-ray, esophagus | 0.00 | NA | 1.17 | 0.05 | NA | 1.22 | XXX
74230 |  | A | Cinema x-ray, throat/esoph | 0.53 | NA | 1.48 | 0.08 | NA | 2.09 | XXX
74230 | 26 | A | Cinema x-ray, throat/esoph | 0.53 | 0.19 | 0.19 | 0.02 | 0.74 | 0.74 | XXX
74230 | TC | A | Cinema x-ray, throat/esoph | 0.00 | NA | 1.29 | 0.06 | NA | 1.35 | XXX
74235 |  | A | Remove esophagus obstruction | 1.19 | NA | 3.00 | 0.17 | NA | 4.36 | XXX
74235 | 26 | A | Remove esophagus obstruction | 1.19 | 0.42 | 0.42 | 0.05 | 1.66 | 1.66 | XXX
74235 | TC | A | Remove esophagus obstruction | 0.00 | NA | 2.58 | 0.12 | NA | 2.70 | XXX
74240 |  | A | X-ray exam, upper gi tract | 0.69 | NA | 1.68 | 0.10 | NA | 2.47 | XXX
74240 | 26 | A | X-ray exam, upper gi tract | 0.69 | 0.24 | 0.24 | 0.03 | 0.96 | 0.96 | XXX
74240 | TC | A | X-ray exam, upper gi tract | 0.00 | NA | 1.44 | 0.07 | NA | 1.51 | XXX
74241 |  | A | X-ray exam, upper gi tract | 0.69 | NA | 1.71 | 0.10 | NA | 2.50 | XXX
74241 | 26 | A | X-ray exam, upper gi tract | 0.69 | 0.24 | 0.24 | 0.03 | 0.96 | 0.96 | XXX
74241 | TC | A | X-ray exam, upper gi tract | 0.00 | NA | 1.47 | 0.07 | NA | 1.54 | XXX
74245 |  | A | X-ray exam, upper gi tract | 0.91 | NA | 2.66 | 0.15 | NA | 3.72 | XXX
74245 | 26 | A | X-ray exam, upper gi tract | 0.91 | 0.32 | 0.32 | 0.04 | 1.27 | 1.27 | XXX
74245 | TC | A | X-ray exam, upper gi tract | 0.00 | NA | 2.34 | 0.11 | NA | 2.45 | XXX
74246 |  | A | Contrst x-ray uppr gi tract | 0.69 | NA | 1.86 | 0.11 | NA | 2.66 | XXX
74246 | 26 | A | Contrst x-ray uppr gi tract | 0.69 | 0.24 | 0.24 | 0.03 | 0.96 | 0.96 | XXX
74246 | TC | A | Contrst x-ray uppr gi tract | 0.00 | NA | 1.62 | 0.08 | NA | 1.70 | XXX
74247 |  | A | Contrst x-ray uppr gi tract | 0.69 | NA | 1.90 | 0.12 | NA | 2.71 | XXX
74247 | 26 | A | Contrst x-ray uppr gi tract | 0.69 | 0.24 | 0.24 | 0.03 | 0.96 | 0.96 | XXX
74247 | TC | A | Contrst x-ray uppr gi tract | 0.00 | NA | 1.66 | 0.09 | NA | 1.75 | XXX
74249 |  | A | Contrst x-ray uppr gi tract | 0.91 | NA | 2.85 | 0.16 | NA | 3.92 | XXX
74249 | 26 | A | Contrst x-ray uppr gi tract | 0.91 | 0.32 | 0.32 | 0.04 | 1.27 | 1.27 | XXX
74249 | TC | A | Contrst x-ray uppr gi tract | 0.00 | NA | 2.53 | 0.12 | NA | 2.65 | XXX
74250 |  | A | X-ray exam of small bowel | 0.47 | NA | 1.45 | 0.08 | NA | 2.00 | XXX
74250 | 26 | A | X-ray exam of small bowel | 0.47 | 0.16 | 0.16 | 0.02 | 0.65 | 0.65 | XXX
74250 | TC | A | X-ray exam of small bowel | 0.00 | NA | 1.29 | 0.06 | NA | 1.35 | XXX
74251 |  | A | X-ray exam of small bowel | 0.69 | NA | 1.53 | 0.09 | NA | 2.31 | XXX
74251 | 26 | A | X-ray exam of small bowel | 0.69 | 0.24 | 0.24 | 0.03 | 0.96 | 0.96 | XXX
74251 | TC | A | X-ray exam of small bowel | 0.00 | NA | 1.29 | 0.06 | NA | 1.35 | XXX
74260 |  | A | X-ray exam of small bowel | 0.50 | NA | 1.64 | 0.09 | NA | 2.23 | XXX
74260 | 26 | A | X-ray exam of small bowel | 0.50 | 0.17 | 0.17 | 0.02 | 0.69 | 0.69 | XXX
74260 | TC | A | X-ray exam of small bowel | 0.00 | NA | 1.47 | 0.07 | NA | 1.54 | XXX
74270 |  | A | Contrast x-ray exam of colon | 0.69 | NA | 1.92 | 0.12 | NA | 2.73 | XXX
74270 | 26 | A | Contrast x-ray exam of colon | 0.69 | 0.24 | 0.24 | 0.03 | 0.96 | 0.96 | XXX
74270 | TC | A | Contrast x-ray exam of colon | 0.00 | NA | 1.68 | 0.09 | NA | 1.77 | XXX
74280 |  | A | Contrast x-ray exam of colon | 0.99 | NA | 2.55 | 0.15 | NA | 3.69 | XXX
74280 | 26 | A | Contrast x-ray exam of colon | 0.99 | 0.35 | 0.35 | 0.04 | 1.38 | 1.38 | XXX
74280 | TC | A | Contrast x-ray exam of colon | 0.00 | NA | 2.20 | 0.11 | NA | 2.31 | XXX
74283 |  | A | Contrast x-ray exam of colon | 2.02 | NA | 3.22 | 0.21 | NA | 5.45 | XXX
74283 | 26 | A | Contrast x-ray exam of colon | 2.02 | 0.70 | 0.70 | 0.09 | 2.81 | 2.81 | XXX
74283 | TC | A | Contrast x-ray exam of colon | 0.00 | NA | 2.52 | 0.12 | NA | 2.64 | XXX
74290 |  | A | Contrast x-ray, gallbladder | 0.32 | NA | 0.83 | 0.05 | NA | 1.20 | XXX
74290 | 26 | A | Contrast x-ray, gallbladder | 0.32 | 0.11 | 0.11 | 0.01 | 0.44 | 0.44 | XXX
74290 | TC | A | Contrast x-ray, gallbladder | 0.00 | NA | 0.72 | 0.04 | NA | 0.76 | XXX
74291 |  | A | Contrast x-rays, gallbladder | 0.20 | NA | 0.48 | 0.03 | NA | 0.71 | XXX
74291 | 26 | A | Contrast x-rays, gallbladder | 0.20 | 0.07 | 0.07 | 0.01 | 0.28 | 0.28 | XXX
74291 | TC | A | Contrast x-rays, gallbladder | 0.00 | NA | 0.41 | 0.02 | NA | 0.43 | XXX
74300 |  | C | X-ray bile ducts/pancreas | 0.00 | NA | 0.00 | 0.00 | NA | 0.00 | XXX
74300 | 26 | A | X-ray bile ducts/pancreas | 0.36 | 0.13 | 0.13 | 0.02 | 0.51 | 0.51 | XXX
74300 | TC | C | X-ray bile ducts/pancreas | 0.00 | NA | 0.00 | 0.00 | NA | 0.00 | XXX
74301 |  | C | X-rays at surgery add-on | 0.00 | NA | 0.00 | 0.00 | NA | 0.00 | ZZZ
74301 | 26 | A | X-rays at surgery add-on | 0.21 | 0.07 | 0.07 | 0.01 | 0.29 | 0.29 | ZZZ
74301 | TC | C | X-rays at surgery add-on | 0.00 | NA | 0.00 | 0.00 | NA | 0.00 | ZZZ
74305 |  | A | X-ray bile ducts/pancreas | 0.42 | NA | 0.92 | 0.06 | NA | 1.40 | XXX
74305 | 26 | A | X-ray bile ducts/pancreas | 0.42 | 0.15 | 0.15 | 0.02 | 0.59 | 0.59 | XXX
74305 | TC | A | X-ray bile ducts/pancreas | 0.00 | NA | 0.77 | 0.04 | NA | 0.81 | XXX
74320 |  | A | Contrast x-ray of bile ducts | 0.54 | NA | 3.29 | 0.16 | NA | 3.99 | XXX
74320 | 26 | A | Contrast x-ray of bile ducts | 0.54 | 0.19 | 0.19 | 0.02 | 0.75 | 0.75 | XXX
74320 | TC | A | Contrast x-ray of bile ducts | 0.00 | NA | 3.10 | 0.14 | NA | 3.24 | XXX
74327 |  | A | X-ray bile stone removal | 0.70 | NA | 1.97 | 0.12 | NA | 2.79 | XXX
74327 | 26 | A | X-ray bile stone removal | 0.70 | 0.24 | 0.24 | 0.03 | 0.97 | 0.97 | XXX
74327 | TC | A | X-ray bile stone removal | 0.00 | NA | 1.73 | 0.09 | NA | 1.82 | XXX
74328 |  | A | Xray bile duct endoscopy | 0.70 | NA | 3.34 | 0.17 | NA | 4.21 | XXX
74328 | 26 | A | Xray bile duct endoscopy | 0.70 | 0.24 | 0.24 | 0.03 | 0.97 | 0.97 | XXX
74328 | TC | A | Xray bile duct endoscopy | 0.00 | NA | 3.10 | 0.14 | NA | 3.24 | XXX
74329 |  | A | X-ray for pancreas endoscopy | 0.70 | NA | 3.34 | 0.17 | NA | 4.21 | XXX
74329 | 26 | A | X-ray for pancreas endoscopy | 0.70 | 0.24 | 0.24 | 0.03 | 0.97 | 0.97 | XXX
74329 | TC | A | X-ray for pancreas endoscopy | 0.00 | NA | 3.10 | 0.14 | NA | 3.24 | XXX
74330 |  | A | X-ray bile/panc endoscopy | 0.90 | NA | 3.41 | 0.18 | NA | 4.49 | XXX
74330 | 26 | A | X-ray bile/panc endoscopy | 0.90 | 0.31 | 0.31 | 0.04 | 1.25 | 1.25 | XXX
74330 | TC | A | X-ray bile/panc endoscopy | 0.00 | NA | 3.10 | 0.14 | NA | 3.24 | XXX
74340 |  | A | X-ray guide for GI tube | 0.54 | NA | 2.77 | 0.14 | NA | 3.45 | XXX
74340 | 26 | A | X-ray guide for GI tube | 0.54 | 0.19 | 0.19 | 0.02 | 0.75 | 0.75 | XXX
74340 | TC | A | X-ray guide for GI tube | 0.00 | NA | 2.58 | 0.12 | NA | 2.70 | XXX
74350 |  | A | X-ray guide, stomach tube | 0.76 | NA | 3.36 | 0.17 | NA | 4.29 | XXX
74350 | 26 | A | X-ray guide, stomach tube | 0.76 | 0.26 | 0.26 | 0.03 | 1.05 | 1.05 | XXX
74350 | TC | A | X-ray guide, stomach tube | 0.00 | NA | 3.10 | 0.14 | NA | 3.24 | XXX
74355 |  | A | X-ray guide, intestinal tube | 0.76 | NA | 2.84 | 0.15 | NA | 3.75 | XXX
74355 | 26 | A | X-ray guide, intestinal tube | 0.76 | 0.26 | 0.26 | 0.03 | 1.05 | 1.05 | XXX
74355 | TC | A | X-ray guide, intestinal tube | 0.00 | NA | 2.58 | 0.12 | NA | 2.70 | XXX
74360 |  | A | X-ray guide, GI dilation | 0.54 | NA | 3.29 | 0.16 | NA | 3.99 | XXX
74360 | 26 | A | X-ray guide, GI dilation | 0.54 | 0.19 | 0.19 | 0.02 | 0.75 | 0.75 | XXX
74360 | TC | A | X-ray guide, GI dilation | 0.00 | NA | 3.10 | 0.14 | NA | 3.24 | XXX
74363 |  | A | X-ray, bile duct dilation | 0.88 | NA | 6.31 | 0.31 | NA | 7.50 | XXX
74363 | 26 | A | X-ray, bile duct dilation | 0.88 | 0.30 | 0.30 | 0.04 | 1.22 | 1.22 | XXX
74363 | TC | A | X-ray, bile duct dilation | 0.00 | NA | 6.01 | 0.27 | NA | 6.28 | XXX
74400 |  | A | Contrst x-ray, urinary tract | 0.49 | NA | 1.83 | 0.11 | NA | 2.43 | XXX
74400 | 26 | A | Contrst x-ray, urinary tract | 0.49 | 0.17 | 0.17 | 0.02 | 0.68 | 0.68 | XXX
74400 | TC | A | Contrst x-ray, urinary tract | 0.00 | NA | 1.66 | 0.09 | NA | 1.75 | XXX
74410 |  | A | Contrst x-ray, urinary tract | 0.49 | NA | 2.09 | 0.11 | NA | 2.69 | XXX
74410 | 26 | A | Contrst x-ray, urinary tract | 0.49 | 0.17 | 0.17 | 0.02 | 0.68 | 0.68 | XXX
74410 | TC | A | Contrst x-ray, urinary tract | 0.00 | NA | 1.92 | 0.09 | NA | 2.01 | XXX
74415 |  | A | Contrst x-ray, urinary tract | 0.49 | NA | 2.26 | 0.12 | NA | 2.87 | XXX
74415 | 26 | A | Contrst x-ray, urinary tract | 0.49 | 0.17 | 0.17 | 0.02 | 0.68 | 0.68 | XXX
74415 | TC | A | Contrst x-ray, urinary tract | 0.00 | NA | 2.09 | 0.10 | NA | 2.19 | XXX
74420 |  | A | Contrst x-ray, urinary tract | 0.36 | NA | 2.70 | 0.14 | NA | 3.20 | XXX
74420 | 26 | A | Contrst x-ray, urinary tract | 0.36 | 0.12 | 0.12 | 0.02 | 0.50 | 0.50 | XXX
74420 | TC | A | Contrst x-ray, urinary tract | 0.00 | NA | 2.58 | 0.12 | NA | 2.70 | XXX
74425 |  | A | Contrst x-ray, urinary tract | 0.36 | NA | 1.41 | 0.08 | NA | 1.85 | XXX
74425 | 26 | A | Contrst x-ray, urinary tract | 0.36 | 0.12 | 0.12 | 0.02 | 0.50 | 0.50 | XXX
74425 | TC | A | Contrst x-ray, urinary tract | 0.00 | NA | 1.29 | 0.06 | NA | 1.35 | XXX
74430 |  | A | Contrast x-ray, bladder | 0.32 | NA | 1.15 | 0.07 | NA | 1.54 | XXX
74430 | 26 | A | Contrast x-ray, bladder | 0.32 | 0.11 | 0.11 | 0.02 | 0.45 | 0.45 | XXX
74430 | TC | A | Contrast x-ray, bladder | 0.00 | NA | 1.04 | 0.05 | NA | 1.09 | XXX
74440 |  | A | X-ray, male genital tract | 0.38 | NA | 1.24 | 0.07 | NA | 1.69 | XXX
74440 | 26 | A | X-ray, male genital tract | 0.38 | 0.13 | 0.13 | 0.02 | 0.53 | 0.53 | XXX
74440 | TC | A | X-ray, male genital tract | 0.00 | NA | 1.11 | 0.05 | NA | 1.16 | XXX
74445 |  | A | X-ray exam of penis | 1.14 | NA | 1.51 | 0.10 | NA | 2.75 | XXX
74445 | 26 | A | X-ray exam of penis | 1.14 | 0.40 | 0.40 | 0.05 | 1.59 | 1.59 | XXX
74445 | TC | A | X-ray exam of penis | 0.00 | NA | 1.11 | 0.05 | NA | 1.16 | XXX
74450 |  | A | X-ray, urethra/bladder | 0.33 | NA | 1.55 | 0.09 | NA | 1.97 | XXX
74450 | 26 | A | X-ray, urethra/bladder | 0.33 | 0.11 | 0.11 | 0.02 | 0.46 | 0.46 | XXX
74450 | TC | A | X-ray, urethra/bladder | 0.00 | NA | 1.44 | 0.07 | NA | 1.51 | XXX
74455 |  | A | X-ray, urethra/bladder | 0.33 | NA | 1.66 | 0.10 | NA | 2.09 | XXX
74455 | 26 | A | X-ray, urethra/bladder | 0.33 | 0.11 | 0.11 | 0.02 | 0.46 | 0.46 | XXX
74455 | TC | A | X-ray, urethra/bladder | 0.00 | NA | 1.55 | 0.08 | NA | 1.63 | XXX
74470 |  | A | X-ray exam of kidney lesion | 0.54 | NA | 1.42 | 0.08 | NA | 2.04 | XXX
74470 | 26 | A | X-ray exam of kidney lesion | 0.54 | 0.19 | 0.19 | 0.02 | 0.75 | 0.75 | XXX
74470 | TC | A | X-ray exam of kidney lesion | 0.00 | NA | 1.23 | 0.06 | NA | 1.29 | XXX
74475 |  | A | X-ray control, cath insert | 0.54 | NA | 4.20 | 0.20 | NA | 4.94 | XXX
74475 | 26 | A | X-ray control, cath insert | 0.54 | 0.19 | 0.19 | 0.02 | 0.75 | 0.75 | XXX
74475 | TC | A | X-ray control, cath insert | 0.00 | NA | 4.01 | 0.18 | NA | 4.19 | XXX
74480 |  | A | X-ray control, cath insert | 0.54 | NA | 4.20 | 0.20 | NA | 4.94 | XXX
74480 | 26 | A | X-ray control, cath insert | 0.54 | 0.19 | 0.19 | 0.02 | 0.75 | 0.75 | XXX
74480 | TC | A | X-ray control, cath insert | 0.00 | NA | 4.01 | 0.18 | NA | 4.19 | XXX
74485 |  | A | X-ray guide, GU dilation | 0.54 | NA | 3.29 | 0.17 | NA | 4.00 | XXX
74485 | 26 | A | X-ray guide, GU dilation | 0.54 | 0.19 | 0.19 | 0.03 | 0.76 | 0.76 | XXX
74485 | TC | A | X-ray guide, GU dilation | 0.00 | NA | 3.10 | 0.14 | NA | 3.24 | XXX
74710 |  | A | X-ray measurement of pelvis | 0.34 | NA | 1.16 | 0.07 | NA | 1.57 | XXX
74710 | 26 | A | X-ray measurement of pelvis | 0.34 | 0.12 | 0.12 | 0.02 | 0.48 | 0.48 | XXX
74710 | TC | A | X-ray measurement of pelvis | 0.00 | NA | 1.04 | 0.05 | NA | 1.09 | XXX
74740 |  | A | X-ray, female genital tract | 0.38 | NA | 1.42 | 0.08 | NA | 1.88 | XXX
74740 | 26 | A | X-ray, female genital tract | 0.38 | 0.13 | 0.13 | 0.02 | 0.53 | 0.53 | XXX
74740 | TC | A | X-ray, female genital tract | 0.00 | NA | 1.29 | 0.06 | NA | 1.35 | XXX
74742 |  | A | X-ray, fallopian tube | 0.61 | NA | 3.32 | 0.16 | NA | 4.09 | XXX
74742 | 26 | A | X-ray, fallopian tube | 0.61 | 0.22 | 0.22 | 0.02 | 0.85 | 0.85 | XXX
74742 | TC | A | X-ray, fallopian tube | 0.00 | NA | 3.10 | 0.14 | NA | 3.24 | XXX
74775 |  | A | X-ray exam of perineum | 0.62 | NA | 1.66 | 0.10 | NA | 2.38 | XXX
74775 | 26 | A | X-ray exam of perineum | 0.62 | 0.22 | 0.22 | 0.03 | 0.87 | 0.87 | XXX
74775 | TC | A | X-ray exam of perineum | 0.00 | NA | 1.44 | 0.07 | NA | 1.51 | XXX
75552 |  | A | Heart mri for morph w/o dye | 1.60 | NA | 11.59 | 0.56 | NA | 13.75 | XXX
75552 | 26 | A | Heart mri for morph w/o dye | 1.60 | 0.56 | 0.56 | 0.07 | 2.23 | 2.23 | XXX
75552 | TC | A | Heart mri for morph w/o dye | 0.00 | NA | 11.03 | 0.49 | NA | 11.52 | XXX
75553 |  | A | Heart mri for morph w/dye | 2.00 | NA | 11.73 | 0.58 | NA | 14.31 | XXX
75553 | 26 | A | Heart mri for morph w/dye | 2.00 | 0.70 | 0.70 | 0.09 | 2.79 | 2.79 | XXX
75553 | TC | A | Heart mri for morph w/dye | 0.00 | NA | 11.03 | 0.49 | NA | 11.52 | XXX
75554 |  | A | Cardiac MRI/function | 1.83 | NA | 11.72 | 0.56 | NA | 14.11 | XXX
75554 | 26 | A | Cardiac MRI/function | 1.83 | 0.69 | 0.69 | 0.07 | 2.59 | 2.59 | XXX
75554 | TC | A | Cardiac MRI/function | 0.00 | NA | 11.03 | 0.49 | NA | 11.52 | XXX
75555 |  | A | Cardiac MRI/limited study | 1.74 | NA | 11.70 | 0.56 | NA | 14.00 | XXX
75555 | 26 | A | Cardiac MRI/limited study | 1.74 | 0.67 | 0.67 | 0.07 | 2.48 | 2.48 | XXX
75555 | TC | A | Cardiac MRI/limited study | 0.00 | NA | 11.03 | 0.49 | NA | 11.52 | XXX
75556 |  | N | Cardiac MRI/flow mapping | 0.00 | NA | 0.00 | 0.00 | NA | 0.00 | XXX
75600 |  | A | Contrast x-ray exam of aorta | 0.49 | NA | 12.61 | 0.56 | NA | 13.66 | XXX
75600 | 26 | A | Contrast x-ray exam of aorta | 0.49 | 0.20 | 0.20 | 0.02 | 0.71 | 0.71 | XXX
75600 | TC | A | Contrast x-ray exam of aorta | 0.00 | NA | 12.41 | 0.54 | NA | 12.95 | XXX
75605 |  | A | Contrast x-ray exam of aorta | 1.14 | NA | 12.83 | 0.59 | NA | 14.56 | XXX
75605 | 26 | A | Contrast x-ray exam of aorta | 1.14 | 0.42 | 0.42 | 0.05 | 1.61 | 1.61 | XXX
75605 | TC | A | Contrast x-ray exam of aorta | 0.00 | NA | 12.41 | 0.54 | NA | 12.95 | XXX
75625 |  | A | Contrast x-ray exam of aorta | 1.14 | NA | 12.81 | 0.59 | NA | 14.54 | XXX
75625 | 26 | A | Contrast x-ray exam of aorta | 1.14 | 0.40 | 0.40 | 0.05 | 1.59 | 1.59 | XXX
75625 | TC | A | Contrast x-ray exam of aorta | 0.00 | NA | 12.41 | 0.54 | NA | 12.95 | XXX
75630 |  | A | X-ray aorta, leg arteries | 1.79 | NA | 13.58 | 0.65 | NA | 16.02 | XXX
75630 | 26 | A | X-ray aorta, leg arteries | 1.79 | 0.65 | 0.65 | 0.08 | 2.52 | 2.52 | XXX
75630 | TC | A | X-ray aorta, leg arteries | 0.00 | NA | 12.93 | 0.57 | NA | 13.50 | XXX
75635 |  | A | Ct angio abdominal arteries | 1.89 | NA | 9.11 | 0.37 | NA | 11.37 | XXX
75635 | 26 | A | Ct angio abdominal arteries | 1.89 | 0.75 | 0.75 | 0.05 | 2.69 | 2.69 | XXX
75635 | TC | A | Ct angio abdominal arteries | 0.00 | NA | 8.36 | 0.32 | NA | 8.68 | XXX
75650 |  | A | Artery x-rays, head & neck | 1.49 | NA | 12.93 | 0.61 | NA | 15.03 | XXX
75650 | 26 | A | Artery x-rays, head & neck | 1.49 | 0.52 | 0.52 | 0.07 | 2.08 | 2.08 | XXX
75650 | TC | A | Artery x-rays, head & neck | 0.00 | NA | 12.41 | 0.54 | NA | 12.95 | XXX
75658 |  | A | Artery x-rays, arm | 1.31 | NA | 12.92 | 0.60 | NA | 14.83 | XXX
75658 | 26 | A | Artery x-rays, arm | 1.31 | 0.51 | 0.51 | 0.06 | 1.88 | 1.88 | XXX
75658 | TC | A | Artery x-rays, arm | 0.00 | NA | 12.41 | 0.54 | NA | 12.95 | XXX
75660 |  | A | Artery x-rays, head & neck | 1.31 | NA | 12.88 | 0.60 | NA | 14.79 | XXX
75660 | 26 | A | Artery x-rays, head & neck | 1.31 | 0.47 | 0.47 | 0.06 | 1.84 | 1.84 | XXX
75660 | TC | A | Artery x-rays, head & neck | 0.00 | NA | 12.41 | 0.54 | NA | 12.95 | XXX
75662 |  | A | Artery x-rays, head & neck | 1.66 | NA | 13.04 | 0.62 | NA | 15.32 | XXX
75662 | 26 | A | Artery x-rays, head & neck | 1.66 | 0.63 | 0.63 | 0.08 | 2.37 | 2.37 | XXX
75662 | TC | A | Artery x-rays, head & neck | 0.00 | NA | 12.41 | 0.54 | NA | 12.95 | XXX
75665 |  | A | Artery x-rays, head & neck | 1.31 | NA | 12.87 | 0.61 | NA | 14.79 | XXX
75665 | 26 | A | Artery x-rays, head & neck | 1.31 | 0.46 | 0.46 | 0.07 | 1.84 | 1.84 | XXX
75665 | TC | A | Artery x-rays, head & neck | 0.00 | NA | 12.41 | 0.54 | NA | 12.95 | XXX
75671 |  | A | Artery x-rays, head & neck | 1.66 | NA | 12.99 | 0.62 | NA | 15.27 | XXX
75671 | 26 | A | Artery x-rays, head & neck | 1.66 | 0.58 | 0.58 | 0.08 | 2.32 | 2.32 | XXX
75671 | TC | A | Artery x-rays, head & neck | 0.00 | NA | 12.41 | 0.54 | NA | 12.95 | XXX
75676 |  | A | Artery x-rays, neck | 1.31 | NA | 12.88 | 0.61 | NA | 14.80 | XXX
75676 | 26 | A | Artery x-rays, neck | 1.31 | 0.47 | 0.47 | 0.07 | 1.85 | 1.85 | XXX
75676 | TC | A | Artery x-rays, neck | 0.00 | NA | 12.41 | 0.54 | NA | 12.95 | XXX
75680 |  | A | Artery x-rays, neck | 1.66 | NA | 12.99 | 0.62 | NA | 15.27 | XXX
75680 | 26 | A | Artery x-rays, neck | 1.66 | 0.58 | 0.58 | 0.08 | 2.32 | 2.32 | XXX
75680 | TC | A | Artery x-rays, neck | 0.00 | NA | 12.41 | 0.54 | NA | 12.95 | XXX
75685 |  | A | Artery x-rays, spine | 1.31 | NA | 12.87 | 0.60 | NA | 14.78 | XXX
75685 | 26 | A | Artery x-rays, spine | 1.31 | 0.46 | 0.46 | 0.06 | 1.83 | 1.83 | XXX
75685 | TC | A | Artery x-rays, spine | 0.00 | NA | 12.41 | 0.54 | NA | 12.95 | XXX
75705 |  | A | Artery x-rays, spine | 2.18 | NA | 13.18 | 0.65 | NA | 16.01 | XXX
75705 | 26 | A | Artery x-rays, spine | 2.18 | 0.77 | 0.77 | 0.11 | 3.06 | 3.06 | XXX
75705 | TC | A | Artery x-rays, spine | 0.00 | NA | 12.41 | 0.54 | NA | 12.95 | XXX
75710 |  | A | Artery x-rays, arm/leg | 1.14 | NA | 12.82 | 0.60 | NA | 14.56 | XXX
75710 | 26 | A | Artery x-rays, arm/leg | 1.14 | 0.41 | 0.41 | 0.06 | 1.61 | 1.61 | XXX
75710 | TC | A | Artery x-rays, arm/leg | 0.00 | NA | 12.41 | 0.54 | NA | 12.95 | XXX
75716 |  | A | Artery x-rays, arms/legs | 1.31 | NA | 12.87 | 0.60 | NA | 14.78 | XXX
75716 | 26 | A | Artery x-rays, arms/legs | 1.31 | 0.46 | 0.46 | 0.06 | 1.83 | 1.83 | XXX
75716 | TC | A | Artery x-rays, arms/legs | 0.00 | NA | 12.41 | 0.54 | NA | 12.95 | XXX
75722 |  | A | Artery x-rays, kidney | 1.14 | NA | 12.83 | 0.59 | NA | 14.56 | XXX
75722 | 26 | A | Artery x-rays, kidney | 1.14 | 0.42 | 0.42 | 0.05 | 1.61 | 1.61 | XXX
75722 | TC | A | Artery x-rays, kidney | 0.00 | NA | 12.41 | 0.54 | NA | 12.95 | XXX
75724 |  | A | Artery x-rays, kidneys | 1.49 | NA | 13.00 | 0.59 | NA | 15.08 | XXX
75724 | 26 | A | Artery x-rays, kidneys | 1.49 | 0.59 | 0.59 | 0.05 | 2.13 | 2.13 | XXX
75724 | TC | A | Artery x-rays, kidneys | 0.00 | NA | 12.41 | 0.54 | NA | 12.95 | XXX
75726 |  | A | Artery x-rays, abdomen | 1.14 | NA | 12.81 | 0.59 | NA | 14.54 | XXX
75726 | 26 | A | Artery x-rays, abdomen | 1.14 | 0.40 | 0.40 | 0.05 | 1.59 | 1.59 | XXX
75726 | TC | A | Artery x-rays, abdomen | 0.00 | NA | 12.41 | 0.54 | NA | 12.95 | XXX
75731 |  | A | Artery x-rays, adrenal gland | 1.14 | NA | 12.81 | 0.59 | NA | 14.54 | XXX
75731 | 26 | A | Artery x-rays, adrenal gland | 1.14 | 0.40 | 0.40 | 0.05 | 1.59 | 1.59 | XXX
75731 | TC | A | Artery x-rays, adrenal gland | 0.00 | NA | 12.41 | 0.54 | NA | 12.95 | XXX
75733 |  | A | Artery x-rays, adrenals | 1.31 | NA | 12.88 | 0.60 | NA | 14.79 | XXX
75733 | 26 | A | Artery x-rays, adrenals | 1.31 | 0.47 | 0.47 | 0.06 | 1.84 | 1.84 | XXX
75733 | TC | A | Artery x-rays, adrenals | 0.00 | NA | 12.41 | 0.54 | NA | 12.95 | XXX
75736 |  | A | Artery x-rays, pelvis | 1.14 | NA | 12.81 | 0.59 | NA | 14.54 | XXX
75736 | 26 | A | Artery x-rays, pelvis | 1.14 | 0.40 | 0.40 | 0.05 | 1.59 | 1.59 | XXX
75736 | TC | A | Artery x-rays, pelvis | 0.00 | NA | 12.41 | 0.54 | NA | 12.95 | XXX
75741 |  | A | Artery x-rays, lung | 1.31 | NA | 12.87 | 0.60 | NA | 14.78 | XXX
75741 | 26 | A | Artery x-rays, lung | 1.31 | 0.46 | 0.46 | 0.06 | 1.83 | 1.83 | XXX
75741 | TC | A | Artery x-rays, lung | 0.00 | NA | 12.41 | 0.54 | NA | 12.95 | XXX
75743 |  | A | Artery x-rays, lungs | 1.66 | NA | 12.99 | 0.61 | NA | 15.26 | XXX
75743 | 26 | A | Artery x-rays, lungs | 1.66 | 0.58 | 0.58 | 0.07 | 2.31 | 2.31 | XXX
75743 | TC | A | Artery x-rays, lungs | 0.00 | NA | 12.41 | 0.54 | NA | 12.95 | XXX
75746 |  | A | Artery x-rays, lung | 1.14 | NA | 12.81 | 0.59 | NA | 14.54 | XXX
75746 | 26 | A | Artery x-rays, lung | 1.14 | 0.40 | 0.40 | 0.05 | 1.59 | 1.59 | XXX
75746 | TC | A | Artery x-rays, lung | 0.00 | NA | 12.41 | 0.54 | NA | 12.95 | XXX
75756 |  | A | Artery x-rays, chest | 1.14 | NA | 12.88 | 0.58 | NA | 14.60 | XXX
75756 | 26 | A | Artery x-rays, chest | 1.14 | 0.47 | 0.47 | 0.04 | 1.65 | 1.65 | XXX
75756 | TC | A | Artery x-rays, chest | 0.00 | NA | 12.41 | 0.54 | NA | 12.95 | XXX
75774 |  | A | Artery x-ray, each vessel | 0.36 | NA | 12.54 | 0.56 | NA | 13.46 | ZZZ
75774 | 26 | A | Artery x-ray, each vessel | 0.36 | 0.13 | 0.13 | 0.02 | 0.51 | 0.51 | ZZZ
75774 | TC | A | Artery x-ray, each vessel | 0.00 | NA | 12.41 | 0.54 | NA | 12.95 | ZZZ
75790 |  | A | Visualize A-V shunt | 1.84 | NA | 1.97 | 0.16 | NA | 3.97 | XXX
75790 | 26 | A | Visualize A-V shunt | 1.84 | 0.64 | 0.64 | 0.09 | 2.57 | 2.57 | XXX
75790 | TC | A | Visualize A-V shunt | 0.00 | NA | 1.33 | 0.07 | NA | 1.40 | XXX
75801 |  | A | Lymph vessel x-ray, arm/leg | 0.81 | NA | 5.61 | 0.29 | NA | 6.71 | XXX
75801 | 26 | A | Lymph vessel x-ray, arm/leg | 0.81 | 0.28 | 0.28 | 0.05 | 1.14 | 1.14 | XXX
75801 | TC | A | Lymph vessel x-ray, arm/leg | 0.00 | NA | 5.33 | 0.24 | NA | 5.57 | XXX
75803 |  | A | Lymph vessel x-ray,arms/legs | 1.17 | NA | 5.74 | 0.29 | NA | 7.20 | XXX
75803 | 26 | A | Lymph vessel x-ray,arms/legs | 1.17 | 0.41 | 0.41 | 0.05 | 1.63 | 1.63 | XXX
75803 | TC | A | Lymph vessel x-ray,arms/legs | 0.00 | NA | 5.33 | 0.24 | NA | 5.57 | XXX
75805 |  | A | Lymph vessel x-ray, trunk | 0.81 | NA | 6.30 | 0.31 | NA | 7.42 | XXX
75805 | 26 | A | Lymph vessel x-ray, trunk | 0.81 | 0.29 | 0.29 | 0.04 | 1.14 | 1.14 | XXX
75805 | TC | A | Lymph vessel x-ray, trunk | 0.00 | NA | 6.01 | 0.27 | NA | 6.28 | XXX
75807 |  | A | Lymph vessel x-ray, trunk | 1.17 | NA | 6.42 | 0.32 | NA | 7.91 | XXX
75807 | 26 | A | Lymph vessel x-ray, trunk | 1.17 | 0.41 | 0.41 | 0.05 | 1.63 | 1.63 | XXX
75807 | TC | A | Lymph vessel x-ray, trunk | 0.00 | NA | 6.01 | 0.27 | NA | 6.28 | XXX
75809 |  | A | Nonvascular shunt, x-ray | 0.47 | NA | 0.94 | 0.06 | NA | 1.47 | XXX
75809 | 26 | A | Nonvascular shunt, x-ray | 0.47 | 0.17 | 0.17 | 0.02 | 0.66 | 0.66 | XXX
75809 | TC | A | Nonvascular shunt, x-ray | 0.00 | NA | 0.77 | 0.04 | NA | 0.81 | XXX
75810 |  | A | Vein x-ray, spleen/liver | 1.14 | NA | 12.81 | 0.60 | NA | 14.55 | XXX
75810 | 26 | A | Vein x-ray, spleen/liver | 1.14 | 0.40 | 0.40 | 0.06 | 1.60 | 1.60 | XXX
75810 | TC | A | Vein x-ray, spleen/liver | 0.00 | NA | 12.41 | 0.54 | NA | 12.95 | XXX
75820 |  | A | Vein x-ray, arm/leg | 0.70 | NA | 1.17 | 0.08 | NA | 1.95 | XXX
75820 | 26 | A | Vein x-ray, arm/leg | 0.70 | 0.24 | 0.24 | 0.03 | 0.97 | 0.97 | XXX
75820 | TC | A | Vein x-ray, arm/leg | 0.00 | NA | 0.93 | 0.05 | NA | 0.98 | XXX
75822 |  | A | Vein x-ray, arms/legs | 1.06 | NA | 1.83 | 0.12 | NA | 3.01 | XXX
75822 | 26 | A | Vein x-ray, arms/legs | 1.06 | 0.37 | 0.37 | 0.05 | 1.48 | 1.48 | XXX
75822 | TC | A | Vein x-ray, arms/legs | 0.00 | NA | 1.46 | 0.07 | NA | 1.53 | XXX
75825 |  | A | Vein x-ray, trunk | 1.14 | NA | 12.81 | 0.60 | NA | 14.55 | XXX
75825 | 26 | A | Vein x-ray, trunk | 1.14 | 0.40 | 0.40 | 0.06 | 1.60 | 1.60 | XXX
75825 | TC | A | Vein x-ray, trunk | 0.00 | NA | 12.41 | 0.54 | NA | 12.95 | XXX
75827 |  | A | Vein x-ray, chest | 1.14 | NA | 12.80 | 0.59 | NA | 14.53 | XXX
75827 | 26 | A | Vein x-ray, chest | 1.14 | 0.39 | 0.39 | 0.05 | 1.58 | 1.58 | XXX
75827 | TC | A | Vein x-ray, chest | 0.00 | NA | 12.41 | 0.54 | NA | 12.95 | XXX
75831 |  | A | Vein x-ray, kidney | 1.14 | NA | 12.81 | 0.59 | NA | 14.54 | XXX
75831 | 26 | A | Vein x-ray, kidney | 1.14 | 0.40 | 0.40 | 0.05 | 1.59 | 1.59 | XXX
75831 | TC | A | Vein x-ray, kidney | 0.00 | NA | 12.41 | 0.54 | NA | 12.95 | XXX
75833 |  | A | Vein x-ray, kidneys | 1.49 | NA | 12.93 | 0.61 | NA | 15.03 | XXX
75833 | 26 | A | Vein x-ray, kidneys | 1.49 | 0.52 | 0.52 | 0.07 | 2.08 | 2.08 | XXX
75833 | TC | A | Vein x-ray, kidneys | 0.00 | NA | 12.41 | 0.54 | NA | 12.95 | XXX
75840 |  | A | Vein x-ray, adrenal gland | 1.14 | NA | 12.81 | 0.61 | NA | 14.56 | XXX
75840 | 26 | A | Vein x-ray, adrenal gland | 1.14 | 0.40 | 0.40 | 0.07 | 1.61 | 1.61 | XXX
75840 | TC | A | Vein x-ray, adrenal gland | 0.00 | NA | 12.41 | 0.54 | NA | 12.95 | XXX
75842 |  | A | Vein x-ray, adrenal glands | 1.49 | NA | 12.92 | 0.61 | NA | 15.02 | XXX
75842 | 26 | A | Vein x-ray, adrenal glands | 1.49 | 0.51 | 0.51 | 0.07 | 2.07 | 2.07 | XXX
75842 | TC | A | Vein x-ray, adrenal glands | 0.00 | NA | 12.41 | 0.54 | NA | 12.95 | XXX
75860 |  | A | Vein x-ray, neck | 1.14 | NA | 12.82 | 0.60 | NA | 14.56 | XXX
75860 | 26 | A | Vein x-ray, neck | 1.14 | 0.41 | 0.41 | 0.06 | 1.61 | 1.61 | XXX
75860 | TC | A | Vein x-ray, neck | 0.00 | NA | 12.41 | 0.54 | NA | 12.95 | XXX
75870 |  | A | Vein x-ray, skull | 1.14 | NA | 12.83 | 0.60 | NA | 14.57 | XXX
75870 | 26 | A | Vein x-ray, skull | 1.14 | 0.42 | 0.42 | 0.06 | 1.62 | 1.62 | XXX
75870 | TC | A | Vein x-ray, skull | 0.00 | NA | 12.41 | 0.54 | NA | 12.95 | XXX
75872 |  | A | Vein x-ray, skull | 1.14 | NA | 12.81 | 0.59 | NA | 14.54 | XXX
75872 | 26 | A | Vein x-ray, skull | 1.14 | 0.40 | 0.40 | 0.05 | 1.59 | 1.59 | XXX
75872 | TC | A | Vein x-ray, skull | 0.00 | NA | 12.41 | 0.54 | NA | 12.95 | XXX
75880 |  | A | Vein x-ray, eye socket | 0.70 | NA | 1.18 | 0.08 | NA | 1.96 | XXX
75880 | 26 | A | Vein x-ray, eye socket | 0.70 | 0.25 | 0.25 | 0.03 | 0.98 | 0.98 | XXX
75880 | TC | A | Vein x-ray, eye socket | 0.00 | NA | 0.93 | 0.05 | NA | 0.98 | XXX
75885 |  | A | Vein x-ray, liver | 1.44 | NA | 12.91 | 0.60 | NA | 14.95 | XXX
75885 | 26 | A | Vein x-ray, liver | 1.44 | 0.50 | 0.50 | 0.06 | 2.00 | 2.00 | XXX
75885 | TC | A | Vein x-ray, liver | 0.00 | NA | 12.41 | 0.54 | NA | 12.95 | XXX
75887 |  | A | Vein x-ray, liver | 1.44 | NA | 12.91 | 0.60 | NA | 14.95 | XXX
75887 | 26 | A | Vein x-ray, liver | 1.44 | 0.50 | 0.50 | 0.06 | 2.00 | 2.00 | XXX
75887 | TC | A | Vein x-ray, liver | 0.00 | NA | 12.41 | 0.54 | NA | 12.95 | XXX
75889 |  | A | Vein x-ray, liver | 1.14 | NA | 12.80 | 0.59 | NA | 14.53 | XXX
75889 | 26 | A | Vein x-ray, liver | 1.14 | 0.39 | 0.39 | 0.05 | 1.58 | 1.58 | XXX
75889 | TC | A | Vein x-ray, liver | 0.00 | NA | 12.41 | 0.54 | NA | 12.95 | XXX
75891 |  | A | Vein x-ray, liver | 1.14 | NA | 12.80 | 0.59 | NA | 14.53 | XXX
75891 | 26 | A | Vein x-ray, liver | 1.14 | 0.39 | 0.39 | 0.05 | 1.58 | 1.58 | XXX
75891 | TC | A | Vein x-ray, liver | 0.00 | NA | 12.41 | 0.54 | NA | 12.95 | XXX
75893 |  | A | Venous sampling by catheter | 0.54 | NA | 12.60 | 0.56 | NA | 13.70 | XXX
75893 | 26 | A | Venous sampling by catheter | 0.54 | 0.19 | 0.19 | 0.02 | 0.75 | 0.75 | XXX
75893 | TC | A | Venous sampling by catheter | 0.00 | NA | 12.41 | 0.54 | NA | 12.95 | XXX
75894 |  | A | X-rays, transcath therapy | 1.31 | NA | 24.22 | 1.12 | NA | 26.65 | XXX
75894 | 26 | A | X-rays, transcath therapy | 1.31 | 0.46 | 0.46 | 0.07 | 1.84 | 1.84 | XXX
75894 | TC | A | X-rays, transcath therapy | 0.00 | NA | 23.76 | 1.05 | NA | 24.81 | XXX
75896 |  | A | X-rays, transcath therapy | 1.31 | NA | 21.14 | 0.97 | NA | 23.42 | XXX
75896 | 26 | A | X-rays, transcath therapy | 1.31 | 0.47 | 0.47 | 0.06 | 1.84 | 1.84 | XXX
75896 | TC | A | X-rays, transcath therapy | 0.00 | NA | 20.67 | 0.91 | NA | 21.58 | XXX
75898 |  | A | Follow-up angiogram | 1.65 | NA | 1.62 | 0.12 | NA | 3.39 | XXX
75898 | 26 | A | Follow-up angiogram | 1.65 | 0.58 | 0.58 | 0.07 | 2.30 | 2.30 | XXX
75898 | TC | A | Follow-up angiogram | 0.00 | NA | 1.04 | 0.05 | NA | 1.09 | XXX
75900 |  | A | Arterial catheter exchange | 0.49 | NA | 20.82 | 0.94 | NA | 22.25 | XXX
75900 | 26 | A | Arterial catheter exchange | 0.49 | 0.17 | 0.17 | 0.02 | 0.68 | 0.68 | XXX
75900 | TC | A | Arterial catheter exchange | 0.00 | NA | 20.65 | 0.92 | NA | 21.57 | XXX
75940 |  | A | X-ray placement, vein filter | 0.54 | NA | 12.60 | 0.57 | NA | 13.71 | XXX
75940 | 26 | A | X-ray placement, vein filter | 0.54 | 0.19 | 0.19 | 0.03 | 0.76 | 0.76 | XXX
75940 | TC | A | X-ray placement, vein filter | 0.00 | NA | 12.41 | 0.54 | NA | 12.95 | XXX
75945 |  | A | Intravascular us | 0.40 | NA | 4.64 | 0.23 | NA | 5.27 | XXX
75945 | 26 | A | Intravascular us | 0.40 | 0.15 | 0.15 | 0.03 | 0.58 | 0.58 | XXX
75945 | TC | A | Intravascular us | 0.00 | NA | 4.49 | 0.20 | NA | 4.69 | XXX
75946 |  | A | Intravascular us add-on | 0.40 | NA | 2.40 | 0.14 | NA | 2.94 | ZZZ
75946 | 26 | A | Intravascular us add-on | 0.40 | 0.14 | 0.14 | 0.03 | 0.57 | 0.57 | ZZZ
75946 | TC | A | Intravascular us add-on | 0.00 | NA | 2.26 | 0.11 | NA | 2.37 | ZZZ
75952 |  | A | Endovasc repair abdom aorta | 4.00 | 1.58 | 1.58 | 0.68 | 6.26 | 6.26 | XXX
75953 |  | A | Abdom aneurysm endovas rpr | 1.36 | 0.54 | 0.54 | 0.68 | 2.58 | 2.58 | XXX
75960 |  | A | Transcatheter intro, stent | 0.82 | NA | 14.97 | 0.68 | NA | 16.47 | XXX
75960 | 26 | A | Transcatheter intro, stent | 0.82 | 0.30 | 0.30 | 0.04 | 1.16 | 1.16 | XXX
75960 | TC | A | Transcatheter intro, stent | 0.00 | NA | 14.67 | 0.64 | NA | 15.31 | XXX
75961 |  | A | Retrieval, broken catheter | 4.25 | NA | 11.83 | 0.64 | NA | 16.72 | XXX
75961 | 26 | A | Retrieval, broken catheter | 4.25 | 1.49 | 1.49 | 0.18 | 5.92 | 5.92 | XXX
75961 | TC | A | Retrieval, broken catheter | 0.00 | NA | 10.34 | 0.46 | NA | 10.80 | XXX
75962 |  | A | Repair arterial blockage | 0.54 | NA | 15.69 | 0.72 | NA | 16.95 | XXX
75962 | 26 | A | Repair arterial blockage | 0.54 | 0.19 | 0.19 | 0.03 | 0.76 | 0.76 | XXX
75962 | TC | A | Repair arterial blockage | 0.00 | NA | 15.50 | 0.69 | NA | 16.19 | XXX
75964 |  | A | Repair artery blockage, each | 0.36 | NA | 8.39 | 0.38 | NA | 9.13 | ZZZ
75964 | 26 | A | Repair artery blockage, each | 0.36 | 0.13 | 0.13 | 0.02 | 0.51 | 0.51 | ZZZ
75964 | TC | A | Repair artery blockage, each | 0.00 | NA | 8.26 | 0.36 | NA | 8.62 | ZZZ
75966 |  | A | Repair arterial blockage | 1.31 | NA | 15.99 | 0.75 | NA | 18.05 | XXX
75966 | 26 | A | Repair arterial blockage | 1.31 | 0.49 | 0.49 | 0.06 | 1.86 | 1.86 | XXX
75966 | TC | A | Repair arterial blockage | 0.00 | NA | 15.50 | 0.69 | NA | 16.19 | XXX
75968 |  | A | Repair artery blockage, each | 0.36 | NA | 8.40 | 0.37 | NA | 9.13 | ZZZ
75968 | 26 | A | Repair artery blockage, each | 0.36 | 0.14 | 0.14 | 0.01 | 0.51 | 0.51 | ZZZ
75968 | TC | A | Repair artery blockage, each | 0.00 | NA | 8.26 | 0.36 | NA | 8.62 | ZZZ
75970 |  | A | Vascular biopsy | 0.83 | NA | 11.67 | 0.54 | NA | 13.04 | XXX
75970 | 26 | A | Vascular biopsy | 0.83 | 0.30 | 0.30 | 0.04 | 1.17 | 1.17 | XXX
75970 | TC | A | Vascular biopsy | 0.00 | NA | 11.37 | 0.50 | NA | 11.87 | XXX
75978 |  | A | Repair venous blockage | 0.54 | NA | 15.69 | 0.71 | NA | 16.94 | XXX
75978 | 26 | A | Repair venous blockage | 0.54 | 0.19 | 0.19 | 0.02 | 0.75 | 0.75 | XXX
75978 | TC | A | Repair venous blockage | 0.00 | NA | 15.50 | 0.69 | NA | 16.19 | XXX
75980 |  | A | Contrast xray exam bile duct | 1.44 | NA | 5.83 | 0.30 | NA | 7.57 | XXX
75980 | 26 | A | Contrast xray exam bile duct | 1.44 | 0.50 | 0.50 | 0.06 | 2.00 | 2.00 | XXX
75980 | TC | A | Contrast xray exam bile duct | 0.00 | NA | 5.33 | 0.24 | NA | 5.57 | XXX
75982 |  | A | Contrast xray exam bile duct | 1.44 | NA | 6.51 | 0.33 | NA | 8.28 | XXX
75982 | 26 | A | Contrast xray exam bile duct | 1.44 | 0.50 | 0.50 | 0.06 | 2.00 | 2.00 | XXX
75982 | TC | A | Contrast xray exam bile duct | 0.00 | NA | 6.01 | 0.27 | NA | 6.28 | XXX
75984 |  | A | Xray control catheter change | 0.72 | NA | 2.17 | 0.12 | NA | 3.01 | XXX
75984 | 26 | A | Xray control catheter change | 0.72 | 0.25 | 0.25 | 0.03 | 1.00 | 1.00 | XXX
75984 | TC | A | Xray control catheter change | 0.00 | NA | 1.92 | 0.09 | NA | 2.01 | XXX
75989 |  | A | Abscess drainage under x-ray | 1.19 | NA | 3.51 | 0.19 | NA | 4.89 | XXX
75989 | 26 | A | Abscess drainage under x-ray | 1.19 | 0.41 | 0.41 | 0.05 | 1.65 | 1.65 | XXX
75989 | TC | A | Abscess drainage under x-ray | 0.00 | NA | 3.10 | 0.14 | NA | 3.24 | XXX
75992 |  | A | Atherectomy, x-ray exam | 0.54 | NA | 15.70 | 0.71 | NA | 16.95 | XXX
75992 | 26 | A | Atherectomy, x-ray exam | 0.54 | 0.20 | 0.20 | 0.02 | 0.76 | 0.76 | XXX
75992 | TC | A | Atherectomy, x-ray exam | 0.00 | NA | 15.50 | 0.69 | NA | 16.19 | XXX
75993 |  | A | Atherectomy, x-ray exam | 0.36 | NA | 8.40 | 0.37 | NA | 9.13 | ZZZ
75993 | 26 | A | Atherectomy, x-ray exam | 0.36 | 0.14 | 0.14 | 0.01 | 0.51 | 0.51 | ZZZ
75993 | TC | A | Atherectomy, x-ray exam | 0.00 | NA | 8.26 | 0.36 | NA | 8.62 | ZZZ
75994 |  | A | Atherectomy, x-ray exam | 1.31 | NA | 15.99 | 0.75 | NA | 18.05 | XXX
75994 | 26 | A | Atherectomy, x-ray exam | 1.31 | 0.49 | 0.49 | 0.06 | 1.86 | 1.86 | XXX
75994 | TC | A | Atherectomy, x-ray exam | 0.00 | NA | 15.50 | 0.69 | NA | 16.19 | XXX
75995 |  | A | Atherectomy, x-ray exam | 1.31 | NA | 15.95 | 0.75 | NA | 18.01 | XXX
75995 | 26 | A | Atherectomy, x-ray exam | 1.31 | 0.45 | 0.45 | 0.06 | 1.82 | 1.82 | XXX
75995 | TC | A | Atherectomy, x-ray exam | 0.00 | NA | 15.50 | 0.69 | NA | 16.19 | XXX
75996 |  | A | Atherectomy, x-ray exam | 0.36 | NA | 8.39 | 0.37 | NA | 9.12 | ZZZ
75996 | 26 | A | Atherectomy, x-ray exam | 0.36 | 0.13 | 0.13 | 0.01 | 0.50 | 0.50 | ZZZ
75996 | TC | A | Atherectomy, x-ray exam | 0.00 | NA | 8.26 | 0.36 | NA | 8.62 | ZZZ
76000 |  | A | Fluoroscope examination | 0.17 | NA | 1.34 | 0.01 | NA | 1.52 | XXX
76001 |  | A | Fluoroscope exam, extensive | 0.67 | NA | 2.81 | 0.15 | NA | 3.63 | XXX
76001 | 26 | A | Fluoroscope exam, extensive | 0.67 | 0.23 | 0.23 | 0.03 | 0.93 | 0.93 | XXX
76001 | TC | A | Fluoroscope exam, extensive | 0.00 | NA | 2.58 | 0.12 | NA | 2.70 | XXX
76003 |  | A | Needle localization by x-ray | 0.54 | NA | 1.47 | 0.09 | NA | 2.10 | XXX
76003 | 26 | A | Needle localization by x-ray | 0.54 | 0.18 | 0.18 | 0.03 | 0.75 | 0.75 | XXX
76003 | TC | A | Needle localization by x-ray | 0.00 | NA | 1.29 | 0.06 | NA | 1.35 | XXX
76005 |  | A | Fluoroguide for spine inject | 0.60 | NA | 1.48 | 0.09 | NA | 2.17 | XXX
76005 | 26 | A | Fluoroguide for spine inject | 0.60 | 0.19 | 0.19 | 0.03 | 0.82 | 0.82 | XXX
76005 | TC | A | Fluoroguide for spine inject | 0.00 | NA | 1.29 | 0.06 | NA | 1.35 | XXX
76006 |  | A | X-ray stress view | 0.41 | 0.19 | 0.19 | 0.04 | 0.64 | 0.64 | XXX
76010 |  | A | X-ray, nose to rectum | 0.18 | NA | 0.57 | 0.03 | NA | 0.78 | XXX
76010 | 26 | A | X-ray, nose to rectum | 0.18 | 0.06 | 0.06 | 0.01 | 0.25 | 0.25 | XXX
76010 | TC | A | X-ray, nose to rectum | 0.00 | NA | 0.51 | 0.02 | NA | 0.53 | XXX
76012 |  | A | Percut vertebroplasty fluor | 1.31 | 0.49 | 0.49 | 0.23 | 2.03 | 2.03 | XXX
76013 |  | A | Percut vertebroplasty, ct | 1.38 | 0.51 | 0.51 | 0.48 | 2.37 | 2.37 | XXX
76020 |  | A | X-rays for bone age | 0.19 | NA | 0.58 | 0.03 | NA | 0.80 | XXX
76020 | 26 | A | X-rays for bone age | 0.19 | 0.07 | 0.07 | 0.01 | 0.27 | 0.27 | XXX
76020 | TC | A | X-rays for bone age | 0.00 | NA | 0.51 | 0.02 | NA | 0.53 | XXX
76040 |  | A | X-rays, bone evaluation | 0.27 | NA | 0.87 | 0.07 | NA | 1.21 | XXX
76040 | 26 | A | X-rays, bone evaluation | 0.27 | 0.10 | 0.10 | 0.03 | 0.40 | 0.40 | XXX
76040 | TC | A | X-rays, bone evaluation | 0.00 | NA | 0.77 | 0.04 | NA | 0.81 | XXX
76061 |  | A | X-rays, bone survey | 0.45 | NA | 1.14 | 0.07 | NA | 1.66 | XXX
76061 | 26 | A | X-rays, bone survey | 0.45 | 0.16 | 0.16 | 0.02 | 0.63 | 0.63 | XXX
76061 | TC | A | X-rays, bone survey | 0.00 | NA | 0.98 | 0.05 | NA | 1.03 | XXX
76062 |  | A | X-rays, bone survey | 0.54 | NA | 1.61 | 0.09 | NA | 2.24 | XXX
76062 | 26 | A | X-rays, bone survey | 0.54 | 0.19 | 0.19 | 0.02 | 0.75 | 0.75 | XXX
76062 | TC | A | X-rays, bone survey | 0.00 | NA | 1.42 | 0.07 | NA | 1.49 | XXX
76065 |  | A | X-rays, bone evaluation | 0.70 | NA | 0.96 | 0.05 | NA | 1.71 | XXX
76065 | 26 | A | X-rays, bone evaluation | 0.70 | 0.24 | 0.24 | 0.01 | 0.95 | 0.95 | XXX
76065 | TC | A | X-rays, bone evaluation | 0.00 | NA | 0.72 | 0.04 | NA | 0.76 | XXX
76066 |  | A | Joint(s) survey, single film | 0.31 | NA | 1.20 | 0.07 | NA | 1.58 | XXX
76066 | 26 | A | Joint(s) survey, single film | 0.31 | 0.11 | 0.11 | 0.02 | 0.44 | 0.44 | XXX
76066 | TC | A | Joint(s) survey, single film | 0.00 | NA | 1.09 | 0.05 | NA | 1.14 | XXX
76070 |  | I | CT scan, bone density study | 0.25 | NA | 3.00 | 0.14 | NA | 3.39 | XXX
76070 | 26 | I | CT scan, bone density study | 0.25 | 0.10 | 0.10 | 0.01 | 0.36 | 0.36 | XXX
76070 | TC | I | CT scan, bone density study | 0.00 | NA | 2.90 | 0.13 | NA | 3.03 | XXX
76075 |  | A | Dual energy x-ray study | 0.30 | NA | 3.16 | 0.15 | NA | 3.61 | XXX
76075 | 26 | A | Dual energy x-ray study | 0.30 | 0.11 | 0.11 | 0.01 | 0.42 | 0.42 | XXX
76075 | TC | A | Dual energy x-ray study | 0.00 | NA | 3.05 | 0.14 | NA | 3.19 | XXX
76076 |  | A | Dual energy x-ray study | 0.22 | NA | 0.82 | 0.05 | NA | 1.09 | XXX
76076 | 26 | A | Dual energy x-ray study | 0.22 | 0.08 | 0.08 | 0.01 | 0.31 | 0.31 | XXX
76076 | TC | A | Dual energy x-ray study | 0.00 | NA | 0.74 | 0.04 | NA | 0.78 | XXX
76078 |  | A | Photodensitometry | 0.20 | NA | 0.82 | 0.05 | NA | 1.07 | XXX
76078 | 26 | A | Photodensitometry | 0.20 | 0.08 | 0.08 | 0.01 | 0.29 | 0.29 | XXX
76078 | TC | A | Photodensitometry | 0.00 | NA | 0.74 | 0.04 | NA | 0.78 | XXX
76080 |  | A | X-ray exam of fistula | 0.54 | NA | 1.23 | 0.07 | NA | 1.84 | XXX
76080 | 26 | A | X-ray exam of fistula | 0.54 | 0.19 | 0.19 | 0.02 | 0.75 | 0.75 | XXX
76080 | TC | A | X-ray exam of fistula | 0.00 | NA | 1.04 | 0.05 | NA | 1.09 | XXX
76086 |  | A | X-ray of mammary duct | 0.36 | NA | 2.71 | 0.14 | NA | 3.21 | XXX
76086 | 26 | A | X-ray of mammary duct | 0.36 | 0.13 | 0.13 | 0.02 | 0.51 | 0.51 | XXX
76086 | TC | A | X-ray of mammary duct | 0.00 | NA | 2.58 | 0.12 | NA | 2.70 | XXX
76088 |  | A | X-ray of mammary ducts | 0.45 | NA | 3.77 | 0.18 | NA | 4.40 | XXX
76088 | 26 | A | X-ray of mammary ducts | 0.45 | 0.16 | 0.16 | 0.02 | 0.63 | 0.63 | XXX
76088 | TC | A | X-ray of mammary ducts | 0.00 | NA | 3.61 | 0.16 | NA | 3.77 | XXX
76090 |  | A | Mammogram, one breast | 0.70 | NA | 1.28 | 0.08 | NA | 2.06 | XXX
76090 | 26 | A | Mammogram, one breast | 0.70 | 0.24 | 0.24 | 0.03 | 0.97 | 0.97 | XXX
76090 | TC | A | Mammogram, one breast | 0.00 | NA | 1.04 | 0.05 | NA | 1.09 | XXX
76091 |  | A | Mammogram, both breasts | 0.87 | NA | 1.59 | 0.09 | NA | 2.55 | XXX
76091 | 26 | A | Mammogram, both breasts | 0.87 | 0.30 | 0.30 | 0.03 | 1.20 | 1.20 | XXX
76091 | TC | A | Mammogram, both breasts | 0.00 | NA | 1.29 | 0.06 | NA | 1.35 | XXX
76092 |  | A | Mammogram, screening | 0.70 | NA | 1.52 | 0.09 | NA | 2.31 | XXX
76092 | 26 | A | Mammogram, screening | 0.70 | 0.25 | 0.25 | 0.03 | 0.98 | 0.98 | XXX
76092 | TC | A | Mammogram, screening | 0.00 | NA | 1.27 | 0.06 | NA | 1.33 | XXX
76093 |  | A | Magnetic image, breast | 1.63 | NA | 17.93 | 0.83 | NA | 20.39 | XXX
76093 | 26 | A | Magnetic image, breast | 1.63 | 0.57 | 0.57 | 0.07 | 2.27 | 2.27 | XXX
76093 | TC | A | Magnetic image, breast | 0.00 | NA | 17.36 | 0.76 | NA | 18.12 | XXX
76094 |  | A | Magnetic image, both breasts | 1.63 | NA | 24.12 | 1.10 | NA | 26.85 | XXX
76094 | 26 | A | Magnetic image, both breasts | 1.63 | 0.57 | 0.57 | 0.07 | 2.27 | 2.27 | XXX
76094 | TC | A | Magnetic image, both breasts | 0.00 | NA | 23.55 | 1.03 | NA | 24.58 | XXX
76095 |  | A | Stereotactic breast biopsy | 1.59 | NA | 7.62 | 0.40 | NA | 9.61 | XXX
76095 | 26 | A | Stereotactic breast biopsy | 1.59 | 0.56 | 0.56 | 0.09 | 2.24 | 2.24 | XXX
76095 | TC | A | Stereotactic breast biopsy | 0.00 | NA | 7.06 | 0.31 | NA | 7.37 | XXX
76096 |  | A | X-ray of needle wire, breast | 0.56 | NA | 1.49 | 0.09 | NA | 2.14 | XXX
76096 | 26 | A | X-ray of needle wire, breast | 0.56 | 0.20 | 0.20 | 0.03 | 0.79 | 0.79 | XXX
76096 | TC | A | X-ray of needle wire, breast | 0.00 | NA | 1.29 | 0.06 | NA | 1.35 | XXX
76098 |  | A | X-ray exam, breast specimen | 0.16 | NA | 0.47 | 0.03 | NA | 0.66 | XXX
76098 | 26 | A | X-ray exam, breast specimen | 0.16 | 0.06 | 0.06 | 0.01 | 0.23 | 0.23 | XXX
76098 | TC | A | X-ray exam, breast specimen | 0.00 | NA | 0.41 | 0.02 | NA | 0.43 | XXX
76100 |  | A | X-ray exam of body section | 0.58 | NA | 1.43 | 0.09 | NA | 2.10 | XXX
76100 | 26 | A | X-ray exam of body section | 0.58 | 0.20 | 0.20 | 0.03 | 0.81 | 0.81 | XXX
76100 | TC | A | X-ray exam of body section | 0.00 | NA | 1.23 | 0.06 | NA | 1.29 | XXX
76101 |  | A | Complex body section x-ray | 0.58 | NA | 1.60 | 0.10 | NA | 2.28 | XXX
76101 | 26 | A | Complex body section x-ray | 0.58 | 0.20 | 0.20 | 0.03 | 0.81 | 0.81 | XXX
76101 | TC | A | Complex body section x-ray | 0.00 | NA | 1.40 | 0.07 | NA | 1.47 | XXX
76102 |  | A | Complex body section x-rays | 0.58 | NA | 1.90 | 0.12 | NA | 2.60 | XXX
76102 | 26 | A | Complex body section x-rays | 0.58 | 0.20 | 0.20 | 0.03 | 0.81 | 0.81 | XXX
76102 | TC | A | Complex body section x-rays | 0.00 | NA | 1.70 | 0.09 | NA | 1.79 | XXX
76120 |  | A | Cinematic x-rays | 0.38 | NA | 1.17 | 0.07 | NA | 1.62 | XXX
76120 | 26 | A | Cinematic x-rays | 0.38 | 0.13 | 0.13 | 0.02 | 0.53 | 0.53 | XXX
76120 | TC | A | Cinematic x-rays | 0.00 | NA | 1.04 | 0.05 | NA | 1.09 | XXX
76125 |  | A | Cinematic x-rays add-on | 0.27 | NA | 0.87 | 0.05 | NA | 1.19 | ZZZ
76125 | 26 | A | Cinematic x-rays add-on | 0.27 | 0.10 | 0.10 | 0.01 | 0.38 | 0.38 | ZZZ
76125 | TC | A | Cinematic x-rays add-on | 0.00 | NA | 0.77 | 0.04 | NA | 0.81 | ZZZ
76140 |  | I | X-ray consultation | 0.00 | NA | 0.00 | 0.00 | NA | 0.00 | XXX
76150 |  | A | X-ray exam, dry process | 0.00 | NA | 0.41 | 0.02 | NA | 0.43 | XXX
76350 |  | C | Special x-ray contrast study | 0.00 | 0.00 | 0.00 | 0.00 | 0.00 | 0.00 | XXX
76355 |  | A | CAT scan for localization | 1.21 | NA | 8.56 | 0.41 | NA | 10.18 | XXX
76355 | 26 | A | CAT scan for localization | 1.21 | 0.43 | 0.43 | 0.06 | 1.70 | 1.70 | XXX
76355 | TC | A | CAT scan for localization | 0.00 | NA | 8.13 | 0.35 | NA | 8.48 | XXX
76360 |  | A | CAT scan for needle biopsy | 1.16 | NA | 8.53 | 0.40 | NA | 10.09 | XXX
76360 | 26 | A | CAT scan for needle biopsy | 1.16 | 0.40 | 0.40 | 0.05 | 1.61 | 1.61 | XXX
76360 | TC | A | CAT scan for needle biopsy | 0.00 | NA | 8.13 | 0.35 | NA | 8.48 | XXX
76370 |  | A | CAT scan for therapy guide | 0.85 | NA | 3.20 | 0.17 | NA | 4.22 | XXX
76370 | 26 | A | CAT scan for therapy guide | 0.85 | 0.30 | 0.30 | 0.04 | 1.19 | 1.19 | XXX
76370 | TC | A | CAT scan for therapy guide | 0.00 | NA | 2.90 | 0.13 | NA | 3.03 | XXX
76375 |  | A | 3d/holograph reconstr add-on | 0.16 | NA | 3.54 | 0.16 | NA | 3.86 | XXX
76375 | 26 | A | 3d/holograph reconstr add-on | 0.16 | 0.06 | 0.06 | 0.01 | 0.23 | 0.23 | XXX
76375 | TC | A | 3d/holograph reconstr add-on | 0.00 | NA | 3.48 | 0.15 | NA | 3.63 | XXX
76380 |  | A | CAT scan follow-up study | 0.98 | NA | 3.79 | 0.19 | NA | 4.96 | XXX
76380 | 26 | A | CAT scan follow-up study | 0.98 | 0.34 | 0.34 | 0.04 | 1.36 | 1.36 | XXX
76380 | TC | A | CAT scan follow-up study | 0.00 | NA | 3.45 | 0.15 | NA | 3.60 | XXX
76390 |  | A | Mr spectroscopy | 1.40 | NA | 11.52 | 0.55 | NA | 13.47 | XXX
76390 | 26 | A | Mr spectroscopy | 1.40 | 0.49 | 0.49 | 0.06 | 1.95 | 1.95 | XXX
76390 | TC | A | Mr spectroscopy | 0.00 | NA | 11.03 | 0.49 | NA | 11.52 | XXX
76393 |  | A | Mr guidance for needle place | 1.50 | NA | 11.55 | 0.52 | NA | 13.57 | XXX
76393 | 26 | A | Mr guidance for needle place | 1.50 | 0.52 | 0.52 | 0.06 | 2.08 | 2.08 | XXX
76393 | TC | A | Mr guidance for needle place | 0.00 | NA | 11.03 | 0.46 | NA | 11.49 | XXX
76400 |  | A | Magnetic image, bone marrow | 1.60 | NA | 11.59 | 0.56 | NA | 13.75 | XXX
76400 | 26 | A | Magnetic image, bone marrow | 1.60 | 0.56 | 0.56 | 0.07 | 2.23 | 2.23 | XXX
76400 | TC | A | Magnetic image, bone marrow | 0.00 | NA | 11.03 | 0.49 | NA | 11.52 | XXX
76499 |  | C | Radiographic procedure | 0.00 | NA | 0.00 | 0.00 | NA | 0.00 | XXX
76499 | 26 | C | Radiographic procedure | 0.00 | 0.00 | 0.00 | 0.00 | 0.00 | 0.00 | XXX
76499 | TC | C | Radiographic procedure | 0.00 | NA | 0.00 | 0.00 | NA | 0.00 | XXX
76506 |  | A | Echo exam of head | 0.63 | NA | 1.66 | 0.10 | NA | 2.39 | XXX
76506 | 26 | A | Echo exam of head | 0.63 | 0.26 | 0.26 | 0.03 | 0.92 | 0.92 | XXX
76506 | TC | A | Echo exam of head | 0.00 | NA | 1.40 | 0.07 | NA | 1.47 | XXX
76511 |  | A | Echo exam of eye | 0.94 | NA | 1.75 | 0.08 | NA | 2.77 | XXX
76511 | 26 | A | Echo exam of eye | 0.94 | 0.42 | 0.42 | 0.02 | 1.38 | 1.38 | XXX
76511 | TC | A | Echo exam of eye | 0.00 | NA | 1.33 | 0.06 | NA | 1.39 | XXX
76512 |  | A | Echo exam of eye | 0.66 | NA | 1.85 | 0.09 | NA | 2.60 | XXX
76512 | 26 | A | Echo exam of eye | 0.66 | 0.31 | 0.31 | 0.01 | 0.98 | 0.98 | XXX
76512 | TC | A | Echo exam of eye | 0.00 | NA | 1.54 | 0.08 | NA | 1.62 | XXX
76513 |  | A | Echo exam of eye, water bath | 0.66 | NA | 2.25 | 0.09 | NA | 3.00 | XXX
76513 | 26 | A | Echo exam of eye, water bath | 0.66 | 0.31 | 0.31 | 0.01 | 0.98 | 0.98 | XXX
76513 | TC | A | Echo exam of eye, water bath | 0.00 | NA | 1.94 | 0.08 | NA | 2.02 | XXX
76516 |  | A | Echo exam of eye | 0.54 | NA | 1.35 | 0.07 | NA | 1.96 | XXX
76516 | 26 | A | Echo exam of eye | 0.54 | 0.26 | 0.26 | 0.01 | 0.81 | 0.81 | XXX
76516 | TC | A | Echo exam of eye | 0.00 | NA | 1.09 | 0.06 | NA | 1.15 | XXX
76519 |  | A | Echo exam of eye | 0.54 | NA | 1.49 | 0.07 | NA | 2.10 | XXX
76519 | 26 | A | Echo exam of eye | 0.54 | 0.26 | 0.26 | 0.01 | 0.81 | 0.81 | XXX
76519 | TC | A | Echo exam of eye | 0.00 | NA | 1.23 | 0.06 | NA | 1.29 | XXX
76529 |  | A | Echo exam of eye | 0.57 | NA | 2.03 | 0.08 | NA | 2.68 | XXX
76529 | 26 | A | Echo exam of eye | 0.57 | 0.26 | 0.26 | 0.01 | 0.84 | 0.84 | XXX
76529 | TC | A | Echo exam of eye | 0.00 | NA | 1.77 | 0.07 | NA | 1.84 | XXX
76536 |  | A | Echo exam of head and neck | 0.56 | NA | 1.60 | 0.09 | NA | 2.25 | XXX
76536 | 26 | A | Echo exam of head and neck | 0.56 | 0.20 | 0.20 | 0.02 | 0.78 | 0.78 | XXX
76536 | TC | A | Echo exam of head and neck | 0.00 | NA | 1.40 | 0.07 | NA | 1.47 | XXX
76604 |  | A | Echo exam of chest | 0.55 | NA | 1.48 | 0.08 | NA | 2.11 | XXX
76604 | 26 | A | Echo exam of chest | 0.55 | 0.19 | 0.19 | 0.02 | 0.76 | 0.76 | XXX
76604 | TC | A | Echo exam of chest | 0.00 | NA | 1.29 | 0.06 | NA | 1.35 | XXX
76645 |  | A | Echo exam of breast(s) | 0.54 | NA | 1.23 | 0.08 | NA | 1.85 | XXX
76645 | 26 | A | Echo exam of breast(s) | 0.54 | 0.19 | 0.19 | 0.03 | 0.76 | 0.76 | XXX
76645 | TC | A | Echo exam of breast(s) | 0.00 | NA | 1.04 | 0.05 | NA | 1.09 | XXX
76700 |  | A | Echo exam of abdomen | 0.81 | NA | 2.22 | 0.13 | NA | 3.16 | XXX
76700 | 26 | A | Echo exam of abdomen | 0.81 | 0.28 | 0.28 | 0.04 | 1.13 | 1.13 | XXX
76700 | TC | A | Echo exam of abdomen | 0.00 | NA | 1.94 | 0.09 | NA | 2.03 | XXX
76705 |  | A | Echo exam of abdomen | 0.59 | NA | 1.61 | 0.10 | NA | 2.30 | XXX
76705 | 26 | A | Echo exam of abdomen | 0.59 | 0.21 | 0.21 | 0.03 | 0.83 | 0.83 | XXX
76705 | TC | A | Echo exam of abdomen | 0.00 | NA | 1.40 | 0.07 | NA | 1.47 | XXX
76770 |  | A | Echo exam abdomen back wall | 0.74 | NA | 2.20 | 0.12 | NA | 3.06 | XXX
76770 | 26 | A | Echo exam abdomen back wall | 0.74 | 0.26 | 0.26 | 0.03 | 1.03 | 1.03 | XXX
76770 | TC | A | Echo exam abdomen back wall | 0.00 | NA | 1.94 | 0.09 | NA | 2.03 | XXX
76775 |  | A | Echo exam abdomen back wall | 0.58 | NA | 1.60 | 0.10 | NA | 2.28 | XXX
76775 | 26 | A | Echo exam abdomen back wall | 0.58 | 0.20 | 0.20 | 0.03 | 0.81 | 0.81 | XXX
76775 | TC | A | Echo exam abdomen back wall | 0.00 | NA | 1.40 | 0.07 | NA | 1.47 | XXX
76778 |  | A | Echo exam kidney transplant | 0.74 | NA | 2.20 | 0.12 | NA | 3.06 | XXX
76778 | 26 | A | Echo exam kidney transplant | 0.74 | 0.26 | 0.26 | 0.03 | 1.03 | 1.03 | XXX
76778 | TC | A | Echo exam kidney transplant | 0.00 | NA | 1.94 | 0.09 | NA | 2.03 | XXX
76800 |  | A | Echo exam spinal canal | 1.13 | NA | 1.73 | 0.11 | NA | 2.97 | XXX
76800 | 26 | A | Echo exam spinal canal | 1.13 | 0.33 | 0.33 | 0.04 | 1.50 | 1.50 | XXX
76800 | TC | A | Echo exam spinal canal | 0.00 | NA | 1.40 | 0.07 | NA | 1.47 | XXX
76805 |  | A | Echo exam of pregnant uterus | 0.99 | NA | 2.43 | 0.14 | NA | 3.56 | XXX
76805 | 26 | A | Echo exam of pregnant uterus | 0.99 | 0.36 | 0.36 | 0.04 | 1.39 | 1.39 | XXX
76805 | TC | A | Echo exam of pregnant uterus | 0.00 | NA | 2.07 | 0.10 | NA | 2.17 | XXX
76810 |  | A | Echo exam of pregnant uterus | 1.97 | NA | 4.87 | 0.25 | NA | 7.09 | XXX
76810 | 26 | A | Echo exam of pregnant uterus | 1.97 | 0.74 | 0.74 | 0.07 | 2.78 | 2.78 | XXX
76810 | TC | A | Echo exam of pregnant uterus | 0.00 | NA | 4.13 | 0.18 | NA | 4.31 | XXX
76815 |  | A | Echo exam of pregnant uterus | 0.65 | NA | 1.65 | 0.09 | NA | 2.39 | XXX
76815 | 26 | A | Echo exam of pregnant uterus | 0.65 | 0.25 | 0.25 | 0.02 | 0.92 | 0.92 | XXX
76815 | TC | A | Echo exam of pregnant uterus | 0.00 | NA | 1.40 | 0.07 | NA | 1.47 | XXX
76816 |  | A | Echo exam follow-up/repeat | 0.57 | NA | 1.32 | 0.07 | NA | 1.96 | XXX
76816 | 26 | A | Echo exam follow-up/repeat | 0.57 | 0.23 | 0.23 | 0.02 | 0.82 | 0.82 | XXX
76816 | TC | A | Echo exam follow-up/repeat | 0.00 | NA | 1.09 | 0.05 | NA | 1.14 | XXX
76818 |  | A | Fetl biophys profil w/stress | 0.86 | NA | 1.93 | 0.12 | NA | 2.91 | XXX
76818 | 26 | A | Fetl biophys profil w/stress | 0.86 | 0.34 | 0.34 | 0.04 | 1.24 | 1.24 | XXX
76818 | TC | A | Fetl biophys profil w/stress | 0.00 | NA | 1.59 | 0.08 | NA | 1.67 | XXX
76819 |  | A | Fetl biophys profil w/o strs | 0.63 | NA | 1.84 | 0.11 | NA | 2.58 | XXX
76819 | 26 | A | Fetl biophys profil w/o strs | 0.63 | 0.25 | 0.25 | 0.03 | 0.91 | 0.91 | XXX
76819 | TC | A | Fetl biophys profil w/o strs | 0.00 | NA | 1.59 | 0.08 | NA | 1.67 | XXX
76825 |  | A | Echo exam of fetal heart | 1.67 | NA | 2.57 | 0.15 | NA | 4.39 | XXX
76825 | 26 | A | Echo exam of fetal heart | 1.67 | 0.63 | 0.63 | 0.06 | 2.36 | 2.36 | XXX
76825 | TC | A | Echo exam of fetal heart | 0.00 | NA | 1.94 | 0.09 | NA | 2.03 | XXX
76826 |  | A | Echo exam of fetal heart | 0.83 | NA | 1.00 | 0.07 | NA | 1.90 | XXX
76826 | 26 | A | Echo exam of fetal heart | 0.83 | 0.30 | 0.30 | 0.03 | 1.16 | 1.16 | XXX
76826 | TC | A | Echo exam of fetal heart | 0.00 | NA | 0.70 | 0.04 | NA | 0.74 | XXX
76827 |  | A | Echo exam of fetal heart | 0.58 | NA | 1.91 | 0.12 | NA | 2.61 | XXX
76827 | 26 | A | Echo exam of fetal heart | 0.58 | 0.22 | 0.22 | 0.02 | 0.82 | 0.82 | XXX
76827 | TC | A | Echo exam of fetal heart | 0.00 | NA | 1.69 | 0.10 | NA | 1.79 | XXX
76828 |  | A | Echo exam of fetal heart | 0.56 | NA | 1.32 | 0.09 | NA | 1.97 | XXX
76828 | 26 | A | Echo exam of fetal heart | 0.56 | 0.23 | 0.23 | 0.02 | 0.81 | 0.81 | XXX
76828 | TC | A | Echo exam of fetal heart | 0.00 | NA | 1.09 | 0.07 | NA | 1.16 | XXX
76830 |  | A | Echo exam, transvaginal | 0.69 | NA | 1.73 | 0.11 | NA | 2.53 | XXX
76830 | 26 | A | Echo exam, transvaginal | 0.69 | 0.24 | 0.24 | 0.03 | 0.96 | 0.96 | XXX
76830 | TC | A | Echo exam, transvaginal | 0.00 | NA | 1.49 | 0.08 | NA | 1.57 | XXX
76831 |  | A | Echo exam, uterus | 0.72 | NA | 1.76 | 0.10 | NA | 2.58 | XXX
76831 | 26 | A | Echo exam, uterus | 0.72 | 0.27 | 0.27 | 0.02 | 1.01 | 1.01 | XXX
76831 | TC | A | Echo exam, uterus | 0.00 | NA | 1.49 | 0.08 | NA | 1.57 | XXX
76856 |  | A | Echo exam of pelvis | 0.69 | NA | 1.73 | 0.11 | NA | 2.53 | XXX
76856 | 26 | A | Echo exam of pelvis | 0.69 | 0.24 | 0.24 | 0.03 | 0.96 | 0.96 | XXX
76856 | TC | A | Echo exam of pelvis | 0.00 | NA | 1.49 | 0.08 | NA | 1.57 | XXX
76857 |  | A | Echo exam of pelvis | 0.38 | NA | 1.17 | 0.07 | NA | 1.62 | XXX
76857 | 26 | A | Echo exam of pelvis | 0.38 | 0.13 | 0.13 | 0.02 | 0.53 | 0.53 | XXX
76857 | TC | A | Echo exam of pelvis | 0.00 | NA | 1.04 | 0.05 | NA | 1.09 | XXX
76870 |  | A | Echo exam of scrotum | 0.64 | NA | 1.71 | 0.11 | NA | 2.46 | XXX
76870 | 26 | A | Echo exam of scrotum | 0.64 | 0.22 | 0.22 | 0.03 | 0.89 | 0.89 | XXX
76870 | TC | A | Echo exam of scrotum | 0.00 | NA | 1.49 | 0.08 | NA | 1.57 | XXX
76872 |  | A | Echo exam, transrectal | 0.69 | NA | 1.73 | 0.12 | NA | 2.54 | XXX
76872 | 26 | A | Echo exam, transrectal | 0.69 | 0.24 | 0.24 | 0.04 | 0.97 | 0.97 | XXX
76872 | TC | A | Echo exam, transrectal | 0.00 | NA | 1.49 | 0.08 | NA | 1.57 | XXX
76873 |  | A | Echograp trans r, pros study | 1.55 | NA | 2.60 | 0.21 | NA | 4.36 | XXX
76873 | 26 | A | Echograp trans r, pros study | 1.55 | 0.53 | 0.53 | 0.08 | 2.16 | 2.16 | XXX
76873 | TC | A | Echograp trans r, pros study | 0.00 | NA | 2.07 | 0.13 | NA | 2.20 | XXX
76880 |  | A | Echo exam of extremity | 0.59 | NA | 1.61 | 0.10 | NA | 2.30 | XXX
76880 | 26 | A | Echo exam of extremity | 0.59 | 0.21 | 0.21 | 0.03 | 0.83 | 0.83 | XXX
76880 | TC | A | Echo exam of extremity | 0.00 | NA | 1.40 | 0.07 | NA | 1.47 | XXX
76885 |  | A | Echo exam, infant hips | 0.74 | NA | 1.75 | 0.11 | NA | 2.60 | XXX
76885 | 26 | A | Echo exam, infant hips | 0.74 | 0.26 | 0.26 | 0.03 | 1.03 | 1.03 | XXX
76885 | TC | A | Echo exam, infant hips | 0.00 | NA | 1.49 | 0.08 | NA | 1.57 | XXX
76886 |  | A | Echo exam, infant hips | 0.62 | NA | 1.61 | 0.10 | NA | 2.33 | XXX
76886 | 26 | A | Echo exam, infant hips | 0.62 | 0.21 | 0.21 | 0.03 | 0.86 | 0.86 | XXX
76886 | TC | A | Echo exam, infant hips | 0.00 | NA | 1.40 | 0.07 | NA | 1.47 | XXX
76930 |  | A | Echo guide, cardiocentesis | 0.67 | NA | 1.76 | 0.10 | NA | 2.53 | XXX
76930 | 26 | A | Echo guide, cardiocentesis | 0.67 | 0.27 | 0.27 | 0.02 | 0.96 | 0.96 | XXX
76930 | TC | A | Echo guide, cardiocentesis | 0.00 | NA | 1.49 | 0.08 | NA | 1.57 | XXX
76932 |  | A | Echo guide for heart biopsy | 0.67 | NA | 1.76 | 0.10 | NA | 2.53 | XXX
76932 | 26 | A | Echo guide for heart biopsy | 0.67 | 0.27 | 0.27 | 0.02 | 0.96 | 0.96 | XXX
76932 | TC | A | Echo guide for heart biopsy | 0.00 | NA | 1.49 | 0.08 | NA | 1.57 | XXX
76936 |  | A | Echo guide for artery repair | 1.99 | NA | 6.90 | 0.39 | NA | 9.28 | XXX
76936 | 26 | A | Echo guide for artery repair | 1.99 | 0.70 | 0.70 | 0.11 | 2.80 | 2.80 | XXX
76936 | TC | A | Echo guide for artery repair | 0.00 | NA | 6.20 | 0.28 | NA | 6.48 | XXX
76941 |  | A | Echo guide for transfusion | 1.34 | NA | 2.00 | 0.13 | NA | 3.47 | XXX
76941 | 26 | A | Echo guide for transfusion | 1.34 | 0.50 | 0.50 | 0.06 | 1.90 | 1.90 | XXX
76941 | TC | A | Echo guide for transfusion | 0.00 | NA | 1.50 | 0.07 | NA | 1.57 | XXX
76942 |  | A | Echo guide for biopsy | 0.67 | NA | 1.72 | 0.12 | NA | 2.51 | XXX
76942 | 26 | A | Echo guide for biopsy | 0.67 | 0.23 | 0.23 | 0.04 | 0.94 | 0.94 | XXX
76942 | TC | A | Echo guide for biopsy | 0.00 | NA | 1.49 | 0.08 | NA | 1.57 | XXX
76945 |  | A | Echo guide, villus sampling | 0.67 | NA | 1.74 | 0.10 | NA | 2.51 | XXX
76945 | 26 | A | Echo guide, villus sampling | 0.67 | 0.24 | 0.24 | 0.03 | 0.94 | 0.94 | XXX
76945 | TC | A | Echo guide, villus sampling | 0.00 | NA | 1.50 | 0.07 | NA | 1.57 | XXX
76946 |  | A | Echo guide for amniocentesis | 0.38 | NA | 1.64 | 0.09 | NA | 2.11 | XXX
76946 | 26 | A | Echo guide for amniocentesis | 0.38 | 0.15 | 0.15 | 0.01 | 0.54 | 0.54 | XXX
76946 | TC | A | Echo guide for amniocentesis | 0.00 | NA | 1.49 | 0.08 | NA | 1.57 | XXX
76948 |  | A | Echo guide, ova aspiration | 0.38 | NA | 1.63 | 0.10 | NA | 2.11 | XXX
76948 | 26 | A | Echo guide, ova aspiration | 0.38 | 0.14 | 0.14 | 0.02 | 0.54 | 0.54 | XXX
76948 | TC | A | Echo guide, ova aspiration | 0.00 | NA | 1.49 | 0.08 | NA | 1.57 | XXX
76950 |  | A | Echo guidance radiotherapy | 0.58 | NA | 1.49 | 0.09 | NA | 2.16 | XXX
76950 | 26 | A | Echo guidance radiotherapy | 0.58 | 0.20 | 0.20 | 0.03 | 0.81 | 0.81 | XXX
76950 | TC | A | Echo guidance radiotherapy | 0.00 | NA | 1.29 | 0.06 | NA | 1.35 | XXX
76965 |  | A | Echo guidance radiotherapy | 1.34 | NA | 5.94 | 0.31 | NA | 7.59 | XXX
76965 | 26 | A | Echo guidance radiotherapy | 1.34 | 0.46 | 0.46 | 0.07 | 1.87 | 1.87 | XXX
76965 | TC | A | Echo guidance radiotherapy | 0.00 | NA | 5.48 | 0.24 | NA | 5.72 | XXX
76970 |  | A | Ultrasound exam follow-up | 0.40 | NA | 1.18 | 0.07 | NA | 1.65 | XXX
76970 | 26 | A | Ultrasound exam follow-up | 0.40 | 0.14 | 0.14 | 0.02 | 0.56 | 0.56 | XXX
76970 | TC | A | Ultrasound exam follow-up | 0.00 | NA | 1.04 | 0.05 | NA | 1.09 | XXX
76975 |  | A | GI endoscopic ultrasound | 0.81 | NA | 1.78 | 0.11 | NA | 2.70 | XXX
76975 | 26 | A | GI endoscopic ultrasound | 0.81 | 0.29 | 0.29 | 0.03 | 1.13 | 1.13 | XXX
76975 | TC | A | GI endoscopic ultrasound | 0.00 | NA | 1.49 | 0.08 | NA | 1.57 | XXX
76977 |  | A | Us bone density measure | 0.05 | NA | 1.42 | 0.05 | NA | 1.52 | XXX
76977 | 26 | A | Us bone density measure | 0.05 | 0.02 | 0.02 | 0.01 | 0.08 | 0.08 | XXX
76977 | TC | A | Us bone density measure | 0.00 | NA | 1.40 | 0.04 | NA | 1.44 | XXX
76986 |  | A | Ultrasound guide intraoper | 1.20 | NA | 3.00 | 0.19 | NA | 4.39 | XXX
76986 | 26 | A | Ultrasound guide intraoper | 1.20 | 0.42 | 0.42 | 0.07 | 1.69 | 1.69 | XXX
76986 | TC | A | Ultrasound guide intraoper | 0.00 | NA | 2.58 | 0.12 | NA | 2.70 | XXX
76999 |  | C | Echo examination procedure | 0.00 | NA | 0.00 | 0.00 | NA | 0.00 | XXX
76999 | 26 | C | Echo examination procedure | 0.00 | 0.00 | 0.00 | 0.00 | 0.00 | 0.00 | XXX
76999 | TC | C | Echo examination procedure | 0.00 | NA | 0.00 | 0.00 | NA | 0.00 | XXX
77261 |  | A | Radiation therapy planning | 1.39 | 0.56 | 0.56 | 0.06 | 2.01 | 2.01 | XXX
77262 |  | A | Radiation therapy planning | 2.11 | 0.83 | 0.83 | 0.09 | 3.03 | 3.03 | XXX
77263 |  | A | Radiation therapy planning | 3.14 | 1.24 | 1.24 | 0.13 | 4.51 | 4.51 | XXX
77280 |  | A | Set radiation therapy field | 0.70 | NA | 3.67 | 0.18 | NA | 4.55 | XXX
77280 | 26 | A | Set radiation therapy field | 0.70 | 0.25 | 0.25 | 0.03 | 0.98 | 0.98 | XXX
77280 | TC | A | Set radiation therapy field | 0.00 | NA | 3.42 | 0.15 | NA | 3.57 | XXX
77285 |  | A | Set radiation therapy field | 1.05 | NA | 5.86 | 0.29 | NA | 7.20 | XXX
77285 | 26 | A | Set radiation therapy field | 1.05 | 0.38 | 0.38 | 0.04 | 1.47 | 1.47 | XXX
77285 | TC | A | Set radiation therapy field | 0.00 | NA | 5.48 | 0.25 | NA | 5.73 | XXX
77290 |  | A | Set radiation therapy field | 1.56 | NA | 6.97 | 0.35 | NA | 8.88 | XXX
77290 | 26 | A | Set radiation therapy field | 1.56 | 0.56 | 0.56 | 0.06 | 2.18 | 2.18 | XXX
77290 | TC | A | Set radiation therapy field | 0.00 | NA | 6.41 | 0.29 | NA | 6.70 | XXX
77295 |  | A | Set radiation therapy field | 4.57 | NA | 29.15 | 1.41 | NA | 35.13 | XXX
77295 | 26 | A | Set radiation therapy field | 4.57 | 1.64 | 1.64 | 0.18 | 6.39 | 6.39 | XXX
77295 | TC | A | Set radiation therapy field | 0.00 | NA | 27.51 | 1.23 | NA | 28.74 | XXX
77299 |  | C | Radiation therapy planning | 0.00 | 0.00 | 0.00 | 0.00 | 0.00 | 0.00 | XXX
77299 | 26 | C | Radiation therapy planning | 0.00 | 0.00 | 0.00 | 0.00 | 0.00 | 0.00 | XXX
77299 | TC | C | Radiation therapy planning | 0.00 | 0.00 | 0.00 | 0.00 | 0.00 | 0.00 | XXX
77300 |  | A | Radiation therapy dose plan | 0.62 | NA | 1.54 | 0.09 | NA | 2.25 | XXX
77300 | 26 | A | Radiation therapy dose plan | 0.62 | 0.22 | 0.22 | 0.03 | 0.87 | 0.87 | XXX
77300 | TC | A | Radiation therapy dose plan | 0.00 | NA | 1.32 | 0.06 | NA | 1.38 | XXX
77305 |  | A | Radiation therapy dose plan | 0.70 | NA | 2.08 | 0.12 | NA | 2.90 | XXX
77305 | 26 | A | Radiation therapy dose plan | 0.70 | 0.25 | 0.25 | 0.03 | 0.98 | 0.98 | XXX
77305 | TC | A | Radiation therapy dose plan | 0.00 | NA | 1.83 | 0.09 | NA | 1.92 | XXX
77310 |  | A | Radiation therapy dose plan | 1.05 | NA | 2.67 | 0.15 | NA | 3.87 | XXX
77310 | 26 | A | Radiation therapy dose plan | 1.05 | 0.38 | 0.38 | 0.04 | 1.47 | 1.47 | XXX
77310 | TC | A | Radiation therapy dose plan | 0.00 | NA | 2.29 | 0.11 | NA | 2.40 | XXX
77315 |  | A | Radiation therapy dose plan | 1.56 | NA | 3.18 | 0.18 | NA | 4.92 | XXX
77315 | 26 | A | Radiation therapy dose plan | 1.56 | 0.56 | 0.56 | 0.06 | 2.18 | 2.18 | XXX
77315 | TC | A | Radiation therapy dose plan | 0.00 | NA | 2.62 | 0.12 | NA | 2.74 | XXX
77321 |  | A | Radiation therapy port plan | 0.95 | NA | 4.32 | 0.21 | NA | 5.48 | XXX
77321 | 26 | A | Radiation therapy port plan | 0.95 | 0.34 | 0.34 | 0.04 | 1.33 | 1.33 | XXX
77321 | TC | A | Radiation therapy port plan | 0.00 | NA | 3.98 | 0.17 | NA | 4.15 | XXX
77326 |  | A | Radiation therapy dose plan | 0.93 | NA | 2.65 | 0.15 | NA | 3.73 | XXX
77326 | 26 | A | Radiation therapy dose plan | 0.93 | 0.33 | 0.33 | 0.04 | 1.30 | 1.30 | XXX
77326 | TC | A | Radiation therapy dose plan | 0.00 | NA | 2.32 | 0.11 | NA | 2.43 | XXX
77327 |  | A | Radiation therapy dose plan | 1.39 | NA | 3.92 | 0.21 | NA | 5.52 | XXX
77327 | 26 | A | Radiation therapy dose plan | 1.39 | 0.50 | 0.50 | 0.06 | 1.95 | 1.95 | XXX
77327 | TC | A | Radiation therapy dose plan | 0.00 | NA | 3.42 | 0.15 | NA | 3.57 | XXX
77328 |  | A | Radiation therapy dose plan | 2.09 | NA | 5.63 | 0.30 | NA | 8.02 | XXX
77328 | 26 | A | Radiation therapy dose plan | 2.09 | 0.75 | 0.75 | 0.09 | 2.93 | 2.93 | XXX
77328 | TC | A | Radiation therapy dose plan | 0.00 | NA | 4.88 | 0.21 | NA | 5.09 | XXX
77331 |  | A | Special radiation dosimetry | 0.87 | NA | 0.81 | 0.06 | NA | 1.74 | XXX
77331 | 26 | A | Special radiation dosimetry | 0.87 | 0.31 | 0.31 | 0.04 | 1.22 | 1.22 | XXX
77331 | TC | A | Special radiation dosimetry | 0.00 | NA | 0.50 | 0.02 | NA | 0.52 | XXX
77332 |  | A | Radiation treatment aid(s) | 0.54 | NA | 1.51 | 0.08 | NA | 2.13 | XXX
77332 | 26 | A | Radiation treatment aid(s) | 0.54 | 0.19 | 0.19 | 0.02 | 0.75 | 0.75 | XXX
77332 | TC | A | Radiation treatment aid(s) | 0.00 | NA | 1.32 | 0.06 | NA | 1.38 | XXX
77333 |  | A | Radiation treatment aid(s) | 0.84 | NA | 2.17 | 0.13 | NA | 3.14 | XXX
77333 | 26 | A | Radiation treatment aid(s) | 0.84 | 0.30 | 0.30 | 0.04 | 1.18 | 1.18 | XXX
77333 | TC | A | Radiation treatment aid(s) | 0.00 | NA | 1.87 | 0.09 | NA | 1.96 | XXX
77334 |  | A | Radiation treatment aid(s) | 1.24 | NA | 3.64 | 0.19 | NA | 5.07 | XXX
77334 | 26 | A | Radiation treatment aid(s) | 1.24 | 0.44 | 0.44 | 0.05 | 1.73 | 1.73 | XXX
77334 | TC | A | Radiation treatment aid(s) | 0.00 | NA | 3.20 | 0.14 | NA | 3.34 | XXX
77336 |  | A | Radiation physics consult | 0.00 | NA | 2.93 | 0.13 | NA | 3.06 | XXX
77370 |  | A | Radiation physics consult | 0.00 | NA | 3.44 | 0.15 | NA | 3.59 | XXX
77399 |  | C | External radiation dosimetry | 0.00 | NA | 0.00 | 0.00 | NA | 0.00 | XXX
77399 | 26 | C | External radiation dosimetry | 0.00 | 0.00 | 0.00 | 0.00 | 0.00 | 0.00 | XXX
77399 | TC | C | External radiation dosimetry | 0.00 | NA | 0.00 | 0.00 | NA | 0.00 | XXX
77401 |  | A | Radiation treatment delivery | 0.00 | NA | 1.74 | 0.09 | NA | 1.83 | XXX
77402 |  | A | Radiation treatment delivery | 0.00 | NA | 1.74 | 0.09 | NA | 1.83 | XXX
77403 |  | A | Radiation treatment delivery | 0.00 | NA | 1.74 | 0.09 | NA | 1.83 | XXX
77404 |  | A | Radiation treatment delivery | 0.00 | NA | 1.74 | 0.09 | NA | 1.83 | XXX
77406 |  | A | Radiation treatment delivery | 0.00 | NA | 1.74 | 0.09 | NA | 1.83 | XXX
77407 |  | A | Radiation treatment delivery | 0.00 | NA | 2.06 | 0.10 | NA | 2.16 | XXX
77408 |  | A | Radiation treatment delivery | 0.00 | NA | 2.06 | 0.10 | NA | 2.16 | XXX
77409 |  | A | Radiation treatment delivery | 0.00 | NA | 2.06 | 0.10 | NA | 2.16 | XXX
77411 |  | A | Radiation treatment delivery | 0.00 | NA | 2.06 | 0.10 | NA | 2.16 | XXX
77412 |  | A | Radiation treatment delivery | 0.00 | NA | 2.29 | 0.11 | NA | 2.40 | XXX
77413 |  | A | Radiation treatment delivery | 0.00 | NA | 2.29 | 0.11 | NA | 2.40 | XXX
77414 |  | A | Radiation treatment delivery | 0.00 | NA | 2.29 | 0.11 | NA | 2.40 | XXX
77416 |  | A | Radiation treatment delivery | 0.00 | NA | 2.29 | 0.11 | NA | 2.40 | XXX
77417 |  | A | Radiology port film(s) | 0.00 | NA | 0.58 | 0.03 | NA | 0.61 | XXX
77427 |  | A | Radiation tx management, x5 | 3.31 | 1.19 | 1.19 | 0.14 | 4.64 | 4.64 | XXX
77431 |  | A | Radiation therapy management | 1.81 | 0.75 | 0.75 | 0.07 | 2.63 | 2.63 | XXX
77432 |  | A | Stereotactic radiation trmt | 7.93 | 3.26 | 3.26 | 0.33 | 11.52 | 11.52 | XXX
77470 |  | A | Special radiation treatment | 2.09 | NA | 11.73 | 0.58 | NA | 14.40 | XXX
77470 | 26 | A | Special radiation treatment | 2.09 | 0.75 | 0.75 | 0.09 | 2.93 | 2.93 | XXX
77470 | TC | A | Special radiation treatment | 0.00 | NA | 10.98 | 0.49 | NA | 11.47 | XXX
77499 |  | C | Radiation therapy management | 0.00 | NA | 0.00 | 0.00 | NA | 0.00 | XXX
77499 | 26 | C | Radiation therapy management | 0.00 | 0.00 | 0.00 | 0.00 | 0.00 | 0.00 | XXX
77499 | TC | C | Radiation therapy management | 0.00 | NA | 0.00 | 0.00 | NA | 0.00 | XXX
77520 |  | C | Proton trmt, simple w/o comp | 0.00 | 0.00 | 0.00 | 0.00 | 0.00 | 0.00 | XXX
77522 |  | C | Proton trmt, simple w/comp | 0.00 | 0.00 | 0.00 | 0.00 | 0.00 | 0.00 | XXX
77523 |  | C | Proton trmt, intermediate | 0.00 | 0.00 | 0.00 | 0.00 | 0.00 | 0.00 | XXX
77525 |  | C | Proton treatment, complex | 0.00 | 0.00 | 0.00 | 0.00 | 0.00 | 0.00 | XXX
77600 |  | R | Hyperthermia treatment | 1.56 | NA | 3.55 | 0.21 | NA | 5.32 | XXX
77600 | 26 | R | Hyperthermia treatment | 1.56 | 0.55 | 0.55 | 0.08 | 2.19 | 2.19 | XXX
77600 | TC | R | Hyperthermia treatment | 0.00 | NA | 3.00 | 0.13 | NA | 3.13 | XXX
77605 |  | R | Hyperthermia treatment | 2.09 | NA | 4.75 | 0.31 | NA | 7.15 | XXX
77605 | 26 | R | Hyperthermia treatment | 2.09 | 0.75 | 0.75 | 0.13 | 2.97 | 2.97 | XXX
77605 | TC | R | Hyperthermia treatment | 0.00 | NA | 4.00 | 0.18 | NA | 4.18 | XXX
77610 |  | R | Hyperthermia treatment | 1.56 | NA | 3.55 | 0.20 | NA | 5.31 | XXX
77610 | 26 | R | Hyperthermia treatment | 1.56 | 0.55 | 0.55 | 0.07 | 2.18 | 2.18 | XXX
77610 | TC | R | Hyperthermia treatment | 0.00 | NA | 3.00 | 0.13 | NA | 3.13 | XXX
77615 |  | R | Hyperthermia treatment | 2.09 | NA | 4.75 | 0.27 | NA | 7.11 | XXX
77615 | 26 | R | Hyperthermia treatment | 2.09 | 0.75 | 0.75 | 0.09 | 2.93 | 2.93 | XXX
77615 | TC | R | Hyperthermia treatment | 0.00 | NA | 4.00 | 0.18 | NA | 4.18 | XXX
77620 |  | R | Hyperthermia treatment | 1.56 | NA | 3.57 | 0.19 | NA | 5.32 | XXX
77620 | 26 | R | Hyperthermia treatment | 1.56 | 0.57 | 0.57 | 0.06 | 2.19 | 2.19 | XXX
77620 | TC | R | Hyperthermia treatment | 0.00 | NA | 3.00 | 0.13 | NA | 3.13 | XXX
77750 |  | A | Infuse radioactive materials | 4.91 | NA | 3.08 | 0.23 | NA | 8.22 | 090
77750 | 26 | A | Infuse radioactive materials | 4.91 | 1.77 | 1.77 | 0.17 | 6.85 | 6.85 | 090
77750 | TC | A | Infuse radioactive materials | 0.00 | NA | 1.31 | 0.06 | NA | 1.37 | 090
77761 |  | A | Apply intrcav radiat simple | 3.81 | NA | 3.75 | 0.28 | NA | 7.84 | 090
77761 | 26 | A | Apply intrcav radiat simple | 3.81 | 1.28 | 1.28 | 0.16 | 5.25 | 5.25 | 090
77761 | TC | A | Apply intrcav radiat simple | 0.00 | NA | 2.47 | 0.12 | NA | 2.59 | 090
77762 |  | A | Apply intrcav radiat interm | 5.72 | NA | 5.65 | 0.38 | NA | 11.75 | 090
77762 | 26 | A | Apply intrcav radiat interm | 5.72 | 2.10 | 2.10 | 0.22 | 8.04 | 8.04 | 090
77762 | TC | A | Apply intrcav radiat interm | 0.00 | NA | 3.55 | 0.16 | NA | 3.71 | 090
77763 |  | A | Apply intrcav radiat compl | 8.57 | NA | 7.52 | 0.53 | NA | 16.62 | 090
77763 | 26 | A | Apply intrcav radiat compl | 8.57 | 3.10 | 3.10 | 0.34 | 12.01 | 12.01 | 090
77763 | TC | A | Apply intrcav radiat compl | 0.00 | NA | 4.42 | 0.19 | NA | 4.61 | 090
77776 |  | A | Apply interstit radiat simpl | 4.66 | NA | 3.28 | 0.35 | NA | 8.29 | 090
77776 | 26 | A | Apply interstit radiat simpl | 4.66 | 1.14 | 1.14 | 0.24 | 6.04 | 6.04 | 090
77776 | TC | A | Apply interstit radiat simpl | 0.00 | NA | 2.14 | 0.11 | NA | 2.25 | 090
77777 |  | A | Apply interstit radiat inter | 7.48 | NA | 6.85 | 0.50 | NA | 14.83 | 090
77777 | 26 | A | Apply interstit radiat inter | 7.48 | 2.68 | 2.68 | 0.32 | 10.48 | 10.48 | 090
77777 | TC | A | Apply interstit radiat inter | 0.00 | NA | 4.17 | 0.18 | NA | 4.35 | 090
77778 |  | A | Apply iterstit radiat compl | 11.19 | NA | 9.03 | 0.69 | NA | 20.91 | 090
77778 | 26 | A | Apply iterstit radiat compl | 11.19 | 3.97 | 3.97 | 0.47 | 15.63 | 15.63 | 090
77778 | TC | A | Apply iterstit radiat compl | 0.00 | NA | 5.06 | 0.22 | NA | 5.28 | 090
77781 |  | A | High intensity brachytherapy | 1.66 | NA | 20.59 | 0.95 | NA | 23.20 | 090
77781 | 26 | A | High intensity brachytherapy | 1.66 | 0.60 | 0.60 | 0.07 | 2.33 | 2.33 | 090
77781 | TC | A | High intensity brachytherapy | 0.00 | NA | 19.99 | 0.88 | NA | 20.87 | 090
77782 |  | A | High intensity brachytherapy | 2.49 | NA | 20.89 | 0.98 | NA | 24.36 | 090
77782 | 26 | A | High intensity brachytherapy | 2.49 | 0.90 | 0.90 | 0.10 | 3.49 | 3.49 | 090
77782 | TC | A | High intensity brachytherapy | 0.00 | NA | 19.99 | 0.88 | NA | 20.87 | 090
77783 |  | A | High intensity brachytherapy | 3.73 | NA | 21.32 | 1.03 | NA | 26.08 | 090
77783 | 26 | A | High intensity brachytherapy | 3.73 | 1.33 | 1.33 | 0.15 | 5.21 | 5.21 | 090
77783 | TC | A | High intensity brachytherapy | 0.00 | NA | 19.99 | 0.88 | NA | 20.87 | 090
77784 |  | A | High intensity brachytherapy | 5.61 | NA | 22.00 | 1.10 | NA | 28.71 | 090
77784 | 26 | A | High intensity brachytherapy | 5.61 | 2.01 | 2.01 | 0.22 | 7.84 | 7.84 | 090
77784 | TC | A | High intensity brachytherapy | 0.00 | NA | 19.99 | 0.88 | NA | 20.87 | 090
77789 |  | A | Apply surface radiation | 1.12 | NA | 0.86 | 0.05 | NA | 2.03 | 090
77789 | 26 | A | Apply surface radiation | 1.12 | 0.41 | 0.41 | 0.03 | 1.56 | 1.56 | 090
77789 | TC | A | Apply surface radiation | 0.00 | NA | 0.45 | 0.02 | NA | 0.47 | 090
77790 |  | A | Radiation handling | 1.05 | NA | 0.88 | 0.06 | NA | 1.99 | XXX
77790 | 26 | A | Radiation handling | 1.05 | 0.38 | 0.38 | 0.04 | 1.47 | 1.47 | XXX
77790 | TC | A | Radiation handling | 0.00 | NA | 0.50 | 0.02 | NA | 0.52 | XXX
77799 |  | C | Radium/radioisotope therapy | 0.00 | NA | 0.00 | 0.00 | NA | 0.00 | XXX
77799 | 26 | C | Radium/radioisotope therapy | 0.00 | 0.00 | 0.00 | 0.00 | 0.00 | 0.00 | XXX
77799 | TC | C | Radium/radioisotope therapy | 0.00 | NA | 0.00 | 0.00 | NA | 0.00 | XXX
78000 |  | A | Thyroid, single uptake | 0.19 | NA | 1.02 | 0.06 | NA | 1.27 | XXX
78000 | 26 | A | Thyroid, single uptake | 0.19 | 0.07 | 0.07 | 0.01 | 0.27 | 0.27 | XXX
78000 | TC | A | Thyroid, single uptake | 0.00 | NA | 0.95 | 0.05 | NA | 1.00 | XXX
78001 |  | A | Thyroid, multiple uptakes | 0.26 | NA | 1.38 | 0.07 | NA | 1.71 | XXX
78001 | 26 | A | Thyroid, multiple uptakes | 0.26 | 0.09 | 0.09 | 0.01 | 0.36 | 0.36 | XXX
78001 | TC | A | Thyroid, multiple uptakes | 0.00 | NA | 1.29 | 0.06 | NA | 1.35 | XXX
78003 |  | A | Thyroid suppress/stimul | 0.33 | NA | 1.07 | 0.06 | NA | 1.46 | XXX
78003 | 26 | A | Thyroid suppress/stimul | 0.33 | 0.12 | 0.12 | 0.01 | 0.46 | 0.46 | XXX
78003 | TC | A | Thyroid suppress/stimul | 0.00 | NA | 0.95 | 0.05 | NA | 1.00 | XXX
78006 |  | A | Thyroid imaging with uptake | 0.49 | NA | 2.51 | 0.13 | NA | 3.13 | XXX
78006 | 26 | A | Thyroid imaging with uptake | 0.49 | 0.17 | 0.17 | 0.02 | 0.68 | 0.68 | XXX
78006 | TC | A | Thyroid imaging with uptake | 0.00 | NA | 2.34 | 0.11 | NA | 2.45 | XXX
78007 |  | A | Thyroid image, mult uptakes | 0.50 | NA | 2.71 | 0.14 | NA | 3.35 | XXX
78007 | 26 | A | Thyroid image, mult uptakes | 0.50 | 0.18 | 0.18 | 0.02 | 0.70 | 0.70 | XXX
78007 | TC | A | Thyroid image, mult uptakes | 0.00 | NA | 2.53 | 0.12 | NA | 2.65 | XXX
78010 |  | A | Thyroid imaging | 0.39 | NA | 1.93 | 0.11 | NA | 2.43 | XXX
78010 | 26 | A | Thyroid imaging | 0.39 | 0.14 | 0.14 | 0.02 | 0.55 | 0.55 | XXX
78010 | TC | A | Thyroid imaging | 0.00 | NA | 1.79 | 0.09 | NA | 1.88 | XXX
78011 |  | A | Thyroid imaging with flow | 0.45 | NA | 2.53 | 0.13 | NA | 3.11 | XXX
78011 | 26 | A | Thyroid imaging with flow | 0.45 | 0.16 | 0.16 | 0.02 | 0.63 | 0.63 | XXX
78011 | TC | A | Thyroid imaging with flow | 0.00 | NA | 2.37 | 0.11 | NA | 2.48 | XXX
78015 |  | A | Thyroid met imaging | 0.67 | NA | 2.77 | 0.15 | NA | 3.59 | XXX
78015 | 26 | A | Thyroid met imaging | 0.67 | 0.24 | 0.24 | 0.03 | 0.94 | 0.94 | XXX
78015 | TC | A | Thyroid met imaging | 0.00 | NA | 2.53 | 0.12 | NA | 2.65 | XXX
78016 |  | A | Thyroid met imaging/studies | 0.82 | NA | 3.73 | 0.18 | NA | 4.73 | XXX
78016 | 26 | A | Thyroid met imaging/studies | 0.82 | 0.30 | 0.30 | 0.03 | 1.15 | 1.15 | XXX
78016 | TC | A | Thyroid met imaging/studies | 0.00 | NA | 3.43 | 0.15 | NA | 3.58 | XXX
78018 |  | A | Thyroid met imaging, body | 0.86 | NA | 5.66 | 0.27 | NA | 6.79 | XXX
78018 | 26 | A | Thyroid met imaging, body | 0.86 | 0.32 | 0.32 | 0.03 | 1.21 | 1.21 | XXX
78018 | TC | A | Thyroid met imaging, body | 0.00 | NA | 5.34 | 0.24 | NA | 5.58 | XXX
78020 |  | A | Thyroid met uptake | 0.60 | NA | 1.52 | 0.14 | NA | 2.26 | ZZZ
78020 | 26 | A | Thyroid met uptake | 0.60 | 0.23 | 0.23 | 0.02 | 0.85 | 0.85 | ZZZ
78020 | TC | A | Thyroid met uptake | 0.00 | NA | 1.29 | 0.12 | NA | 1.41 | ZZZ
78070 |  | A | Parathyroid nuclear imaging | 0.82 | NA | 2.09 | 0.12 | NA | 3.03 | XXX
78070 | 26 | A | Parathyroid nuclear imaging | 0.82 | 0.30 | 0.30 | 0.03 | 1.15 | 1.15 | XXX
78070 | TC | A | Parathyroid nuclear imaging | 0.00 | NA | 1.79 | 0.09 | NA | 1.88 | XXX
78075 |  | A | Adrenal nuclear imaging | 0.74 | NA | 5.62 | 0.27 | NA | 6.63 | XXX
78075 | 26 | A | Adrenal nuclear imaging | 0.74 | 0.28 | 0.28 | 0.03 | 1.05 | 1.05 | XXX
78075 | TC | A | Adrenal nuclear imaging | 0.00 | NA | 5.34 | 0.24 | NA | 5.58 | XXX
78099 |  | C | Endocrine nuclear procedure | 0.00 | NA | 0.00 | 0.00 | NA | 0.00 | XXX
78099 | 26 | C | Endocrine nuclear procedure | 0.00 | 0.00 | 0.00 | 0.00 | 0.00 | 0.00 | XXX
78099 | TC | C | Endocrine nuclear procedure | 0.00 | NA | 0.00 | 0.00 | NA | 0.00 | XXX
78102 |  | A | Bone marrow imaging, ltd | 0.55 | NA | 2.22 | 0.12 | NA | 2.89 | XXX
78102 | 26 | A | Bone marrow imaging, ltd | 0.55 | 0.21 | 0.21 | 0.02 | 0.78 | 0.78 | XXX
78102 | TC | A | Bone marrow imaging, ltd | 0.00 | NA | 2.01 | 0.10 | NA | 2.11 | XXX
78103 |  | A | Bone marrow imaging, mult | 0.75 | NA | 3.40 | 0.17 | NA | 4.32 | XXX
78103 | 26 | A | Bone marrow imaging, mult | 0.75 | 0.28 | 0.28 | 0.03 | 1.06 | 1.06 | XXX
78103 | TC | A | Bone marrow imaging, mult | 0.00 | NA | 3.12 | 0.14 | NA | 3.26 | XXX
78104 |  | A | Bone marrow imaging, body | 0.80 | NA | 4.30 | 0.21 | NA | 5.31 | XXX
78104 | 26 | A | Bone marrow imaging, body | 0.80 | 0.29 | 0.29 | 0.03 | 1.12 | 1.12 | XXX
78104 | TC | A | Bone marrow imaging, body | 0.00 | NA | 4.01 | 0.18 | NA | 4.19 | XXX
78110 |  | A | Plasma volume, single | 0.19 | NA | 1.00 | 0.06 | NA | 1.25 | XXX
78110 | 26 | A | Plasma volume, single | 0.19 | 0.07 | 0.07 | 0.01 | 0.27 | 0.27 | XXX
78110 | TC | A | Plasma volume, single | 0.00 | NA | 0.93 | 0.05 | NA | 0.98 | XXX
78111 |  | A | Plasma volume, multiple | 0.22 | NA | 2.61 | 0.13 | NA | 2.96 | XXX
78111 | 26 | A | Plasma volume, multiple | 0.22 | 0.08 | 0.08 | 0.01 | 0.31 | 0.31 | XXX
78111 | TC | A | Plasma volume, multiple | 0.00 | NA | 2.53 | 0.12 | NA | 2.65 | XXX
78120 |  | A | Red cell mass, single | 0.23 | NA | 1.79 | 0.10 | NA | 2.12 | XXX
78120 | 26 | A | Red cell mass, single | 0.23 | 0.09 | 0.09 | 0.01 | 0.33 | 0.33 | XXX
78120 | TC | A | Red cell mass, single | 0.00 | NA | 1.70 | 0.09 | NA | 1.79 | XXX
78121 |  | A | Red cell mass, multiple | 0.32 | NA | 2.99 | 0.13 | NA | 3.44 | XXX
78121 | 26 | A | Red cell mass, multiple | 0.32 | 0.12 | 0.12 | 0.01 | 0.45 | 0.45 | XXX
78121 | TC | A | Red cell mass, multiple | 0.00 | NA | 2.87 | 0.12 | NA | 2.99 | XXX
78122 |  | A | Blood volume | 0.45 | NA | 4.70 | 0.22 | NA | 5.37 | XXX
78122 | 26 | A | Blood volume | 0.45 | 0.17 | 0.17 | 0.02 | 0.64 | 0.64 | XXX
78122 | TC | A | Blood volume | 0.00 | NA | 4.53 | 0.20 | NA | 4.73 | XXX
78130 |  | A | Red cell survival study | 0.61 | NA | 3.04 | 0.15 | NA | 3.80 | XXX
78130 | 26 | A | Red cell survival study | 0.61 | 0.23 | 0.23 | 0.03 | 0.87 | 0.87 | XXX
78130 | TC | A | Red cell survival study | 0.00 | NA | 2.81 | 0.12 | NA | 2.93 | XXX
78135 |  | A | Red cell survival kinetics | 0.64 | NA | 5.03 | 0.24 | NA | 5.91 | XXX
78135 | 26 | A | Red cell survival kinetics | 0.64 | 0.23 | 0.23 | 0.03 | 0.90 | 0.90 | XXX
78135 | TC | A | Red cell survival kinetics | 0.00 | NA | 4.80 | 0.21 | NA | 5.01 | XXX
78140 |  | A | Red cell sequestration | 0.61 | NA | 4.09 | 0.20 | NA | 4.90 | XXX
78140 | 26 | A | Red cell sequestration | 0.61 | 0.21 | 0.21 | 0.03 | 0.85 | 0.85 | XXX
78140 | TC | A | Red cell sequestration | 0.00 | NA | 3.88 | 0.17 | NA | 4.05 | XXX
78160 |  | A | Plasma iron turnover | 0.33 | NA | 3.75 | 0.19 | NA | 4.27 | XXX
78160 | 26 | A | Plasma iron turnover | 0.33 | 0.14 | 0.14 | 0.03 | 0.50 | 0.50 | XXX
78160 | TC | A | Plasma iron turnover | 0.00 | NA | 3.61 | 0.16 | NA | 3.77 | XXX
78162 |  | A | Iron absorption exam | 0.45 | NA | 3.33 | 0.15 | NA | 3.93 | XXX
78162 | 26 | A | Iron absorption exam | 0.45 | 0.18 | 0.18 | 0.01 | 0.64 | 0.64 | XXX
78162 | TC | A | Iron absorption exam | 0.00 | NA | 3.15 | 0.14 | NA | 3.29 | XXX
78170 |  | A | Red cell iron utilization | 0.41 | NA | 5.37 | 0.27 | NA | 6.05 | XXX
78170 | 26 | A | Red cell iron utilization | 0.41 | 0.14 | 0.14 | 0.04 | 0.59 | 0.59 | XXX
78170 | TC | A | Red cell iron utilization | 0.00 | NA | 5.23 | 0.23 | NA | 5.46 | XXX
78172 |  | C | Total body iron estimation | 0.00 | NA | 0.00 | 0.00 | NA | 0.00 | XXX
78172 | 26 | A | Total body iron estimation | 0.53 | 0.19 | 0.19 | 0.02 | 0.74 | 0.74 | XXX
78172 | TC | C | Total body iron estimation | 0.00 | NA | 0.00 | 0.00 | NA | 0.00 | XXX
78185 |  | A | Spleen imaging | 0.40 | NA | 2.46 | 0.13 | NA | 2.99 | XXX
78185 | 26 | A | Spleen imaging | 0.40 | 0.14 | 0.14 | 0.02 | 0.56 | 0.56 | XXX
78185 | TC | A | Spleen imaging | 0.00 | NA | 2.32 | 0.11 | NA | 2.43 | XXX
78190 |  | A | Platelet survival, kinetics | 1.09 | NA | 6.02 | 0.31 | NA | 7.42 | XXX
78190 | 26 | A | Platelet survival, kinetics | 1.09 | 0.39 | 0.39 | 0.06 | 1.54 | 1.54 | XXX
78190 | TC | A | Platelet survival, kinetics | 0.00 | NA | 5.63 | 0.25 | NA | 5.88 | XXX
78191 |  | A | Platelet survival | 0.61 | NA | 7.45 | 0.34 | NA | 8.40 | XXX
78191 | 26 | A | Platelet survival | 0.61 | 0.22 | 0.22 | 0.03 | 0.86 | 0.86 | XXX
78191 | TC | A | Platelet survival | 0.00 | NA | 7.23 | 0.31 | NA | 7.54 | XXX
78195 |  | A | Lymph system imaging | 1.20 | NA | 4.45 | 0.23 | NA | 5.88 | XXX
78195 | 26 | A | Lymph system imaging | 1.20 | 0.44 | 0.44 | 0.05 | 1.69 | 1.69 | XXX
78195 | TC | A | Lymph system imaging | 0.00 | NA | 4.01 | 0.18 | NA | 4.19 | XXX
78199 |  | C | Blood/lymph nuclear exam | 0.00 | NA | 0.00 | 0.00 | NA | 0.00 | XXX
78199 | 26 | C | Blood/lymph nuclear exam | 0.00 | 0.00 | 0.00 | 0.00 | 0.00 | 0.00 | XXX
78199 | TC | C | Blood/lymph nuclear exam | 0.00 | NA | 0.00 | 0.00 | NA | 0.00 | XXX
78201 |  | A | Liver imaging | 0.44 | NA | 2.48 | 0.13 | NA | 3.05 | XXX
78201 | 26 | A | Liver imaging | 0.44 | 0.16 | 0.16 | 0.02 | 0.62 | 0.62 | XXX
78201 | TC | A | Liver imaging | 0.00 | NA | 2.32 | 0.11 | NA | 2.43 | XXX
78202 |  | A | Liver imaging with flow | 0.51 | NA | 3.03 | 0.14 | NA | 3.68 | XXX
78202 | 26 | A | Liver imaging with flow | 0.51 | 0.19 | 0.19 | 0.02 | 0.72 | 0.72 | XXX
78202 | TC | A | Liver imaging with flow | 0.00 | NA | 2.84 | 0.12 | NA | 2.96 | XXX
78205 |  | A | Liver imaging (3D) | 0.71 | NA | 6.08 | 0.29 | NA | 7.08 | XXX
78205 | 26 | A | Liver imaging (3D) | 0.71 | 0.26 | 0.26 | 0.03 | 1.00 | 1.00 | XXX
78205 | TC | A | Liver imaging (3D) | 0.00 | NA | 5.82 | 0.26 | NA | 6.08 | XXX
78206 |  | A | Liver image (3d) w/flow | 0.96 | NA | 6.17 | 0.13 | NA | 7.26 | XXX
78206 | 26 | A | Liver image (3d) w/flow | 0.96 | 0.35 | 0.35 | 0.04 | 1.35 | 1.35 | XXX
78206 | TC | A | Liver image (3d) w/flow | 0.00 | NA | 5.82 | 0.09 | NA | 5.91 | XXX
78215 |  | A | Liver and spleen imaging | 0.49 | NA | 3.06 | 0.14 | NA | 3.69 | XXX
78215 | 26 | A | Liver and spleen imaging | 0.49 | 0.17 | 0.17 | 0.02 | 0.68 | 0.68 | XXX
78215 | TC | A | Liver and spleen imaging | 0.00 | NA | 2.89 | 0.12 | NA | 3.01 | XXX
78216 |  | A | Liver & spleen image/flow | 0.57 | NA | 3.63 | 0.17 | NA | 4.37 | XXX
78216 | 26 | A | Liver & spleen image/flow | 0.57 | 0.20 | 0.20 | 0.02 | 0.79 | 0.79 | XXX
78216 | TC | A | Liver & spleen image/flow | 0.00 | NA | 3.43 | 0.15 | NA | 3.58 | XXX
78220 |  | A | Liver function study | 0.49 | NA | 3.84 | 0.18 | NA | 4.51 | XXX
78220 | 26 | A | Liver function study | 0.49 | 0.17 | 0.17 | 0.02 | 0.68 | 0.68 | XXX
78220 | TC | A | Liver function study | 0.00 | NA | 3.67 | 0.16 | NA | 3.83 | XXX
78223 |  | A | Hepatobiliary imaging | 0.84 | NA | 3.91 | 0.20 | NA | 4.95 | XXX
78223 | 26 | A | Hepatobiliary imaging | 0.84 | 0.30 | 0.30 | 0.04 | 1.18 | 1.18 | XXX
78223 | TC | A | Hepatobiliary imaging | 0.00 | NA | 3.61 | 0.16 | NA | 3.77 | XXX
78230 |  | A | Salivary gland imaging | 0.45 | NA | 2.30 | 0.13 | NA | 2.88 | XXX
78230 | 26 | A | Salivary gland imaging | 0.45 | 0.16 | 0.16 | 0.02 | 0.63 | 0.63 | XXX
78230 | TC | A | Salivary gland imaging | 0.00 | NA | 2.14 | 0.11 | NA | 2.25 | XXX
78231 |  | A | Serial salivary imaging | 0.52 | NA | 3.32 | 0.16 | NA | 4.00 | XXX
78231 | 26 | A | Serial salivary imaging | 0.52 | 0.20 | 0.20 | 0.02 | 0.74 | 0.74 | XXX
78231 | TC | A | Serial salivary imaging | 0.00 | NA | 3.12 | 0.14 | NA | 3.26 | XXX
78232 |  | A | Salivary gland function exam | 0.47 | NA | 3.66 | 0.16 | NA | 4.29 | XXX
78232 | 26 | A | Salivary gland function exam | 0.47 | 0.18 | 0.18 | 0.01 | 0.66 | 0.66 | XXX
78232 | TC | A | Salivary gland function exam | 0.00 | NA | 3.48 | 0.15 | NA | 3.63 | XXX
78258 |  | A | Esophageal motility study | 0.74 | NA | 3.10 | 0.15 | NA | 3.99 | XXX
78258 | 26 | A | Esophageal motility study | 0.74 | 0.26 | 0.26 | 0.03 | 1.03 | 1.03 | XXX
78258 | TC | A | Esophageal motility study | 0.00 | NA | 2.84 | 0.12 | NA | 2.96 | XXX
78261 |  | A | Gastric mucosa imaging | 0.69 | NA | 4.30 | 0.21 | NA | 5.20 | XXX
78261 | 26 | A | Gastric mucosa imaging | 0.69 | 0.26 | 0.26 | 0.03 | 0.98 | 0.98 | XXX
78261 | TC | A | Gastric mucosa imaging | 0.00 | NA | 4.04 | 0.18 | NA | 4.22 | XXX
78262 |  | A | Gastroesophageal reflux exam | 0.68 | NA | 4.44 | 0.21 | NA | 5.33 | XXX
78262 | 26 | A | Gastroesophageal reflux exam | 0.68 | 0.25 | 0.25 | 0.03 | 0.96 | 0.96 | XXX
78262 | TC | A | Gastroesophageal reflux exam | 0.00 | NA | 4.19 | 0.18 | NA | 4.37 | XXX
78264 |  | A | Gastric emptying study | 0.78 | NA | 4.35 | 0.21 | NA | 5.34 | XXX
78264 | 26 | A | Gastric emptying study | 0.78 | 0.28 | 0.28 | 0.03 | 1.09 | 1.09 | XXX
78264 | TC | A | Gastric emptying study | 0.00 | NA | 4.07 | 0.18 | NA | 4.25 | XXX
78267 |  | X | Breath tst attain/anal c-14 | 0.00 | NA | 0.00 | 0.00 | NA | 0.00 | XXX
78268 |  | X | Breath test analysis, c-14 | 0.00 | 0.00 | 0.00 | 0.00 | 0.00 | 0.00 | XXX
78270 |  | A | Vit B-12 absorption exam | 0.20 | NA | 1.59 | 0.09 | NA | 1.88 | XXX
78270 | 26 | A | Vit B-12 absorption exam | 0.20 | 0.07 | 0.07 | 0.01 | 0.28 | 0.28 | XXX
78270 | TC | A | Vit B-12 absorption exam | 0.00 | NA | 1.52 | 0.08 | NA | 1.60 | XXX
78271 |  | A | Vit B-12 absorp exam, IF | 0.20 | NA | 1.69 | 0.09 | NA | 1.98 | XXX
78271 | 26 | A | Vit B-12 absorp exam, IF | 0.20 | 0.07 | 0.07 | 0.01 | 0.28 | 0.28 | XXX
78271 | TC | A | Vit B-12 absorp exam, IF | 0.00 | NA | 1.62 | 0.08 | NA | 1.70 | XXX
78272 |  | A | Vit B-12 absorp, combined | 0.27 | NA | 2.39 | 0.12 | NA | 2.78 | XXX
78272 | 26 | A | Vit B-12 absorp, combined | 0.27 | 0.10 | 0.10 | 0.01 | 0.38 | 0.38 | XXX
78272 | TC | A | Vit B-12 absorp, combined | 0.00 | NA | 2.29 | 0.11 | NA | 2.40 | XXX
78278 |  | A | Acute GI blood loss imaging | 0.99 | NA | 5.15 | 0.25 | NA | 6.39 | XXX
78278 | 26 | A | Acute GI blood loss imaging | 0.99 | 0.35 | 0.35 | 0.04 | 1.38 | 1.38 | XXX
78278 | TC | A | Acute GI blood loss imaging | 0.00 | NA | 4.80 | 0.21 | NA | 5.01 | XXX
78282 |  | C | GI protein loss exam | 0.00 | NA | 0.00 | 0.00 | NA | 0.00 | XXX
78282 | 26 | A | GI protein loss exam | 0.38 | 0.14 | 0.14 | 0.02 | 0.54 | 0.54 | XXX
78282 | TC | C | GI protein loss exam | 0.00 | NA | 0.00 | 0.00 | NA | 0.00 | XXX
78290 |  | A | Meckel's divert exam | 0.68 | NA | 3.24 | 0.16 | NA | 4.08 | XXX
78290 | 26 | A | Meckel's divert exam | 0.68 | 0.24 | 0.24 | 0.03 | 0.95 | 0.95 | XXX
78290 | TC | A | Meckel's divert exam | 0.00 | NA | 3.00 | 0.13 | NA | 3.13 | XXX
78291 |  | A | Leveen/shunt patency exam | 0.88 | NA | 3.34 | 0.17 | NA | 4.39 | XXX
78291 | 26 | A | Leveen/shunt patency exam | 0.88 | 0.32 | 0.32 | 0.04 | 1.24 | 1.24 | XXX
78291 | TC | A | Leveen/shunt patency exam | 0.00 | NA | 3.02 | 0.13 | NA | 3.15 | XXX
78299 |  | C | GI nuclear procedure | 0.00 | NA | 0.00 | 0.00 | NA | 0.00 | XXX
78299 | 26 | C | GI nuclear procedure | 0.00 | 0.00 | 0.00 | 0.00 | 0.00 | 0.00 | XXX
78299 | TC | C | GI nuclear procedure | 0.00 | NA | 0.00 | 0.00 | NA | 0.00 | XXX
78300 |  | A | Bone imaging, limited area | 0.62 | NA | 2.67 | 0.15 | NA | 3.44 | XXX
78300 | 26 | A | Bone imaging, limited area | 0.62 | 0.22 | 0.22 | 0.03 | 0.87 | 0.87 | XXX
78300 | TC | A | Bone imaging, limited area | 0.00 | NA | 2.45 | 0.12 | NA | 2.57 | XXX
78305 |  | A | Bone imaging, multiple areas | 0.83 | NA | 3.90 | 0.19 | NA | 4.92 | XXX
78305 | 26 | A | Bone imaging, multiple areas | 0.83 | 0.29 | 0.29 | 0.03 | 1.15 | 1.15 | XXX
78305 | TC | A | Bone imaging, multiple areas | 0.00 | NA | 3.61 | 0.16 | NA | 3.77 | XXX
78306 |  | A | Bone imaging, whole body | 0.86 | NA | 4.52 | 0.22 | NA | 5.60 | XXX
78306 | 26 | A | Bone imaging, whole body | 0.86 | 0.31 | 0.31 | 0.04 | 1.21 | 1.21 | XXX
78306 | TC | A | Bone imaging, whole body | 0.00 | NA | 4.21 | 0.18 | NA | 4.39 | XXX
78315 |  | A | Bone imaging, 3 phase | 1.02 | NA | 5.07 | 0.25 | NA | 6.34 | XXX
78315 | 26 | A | Bone imaging, 3 phase | 1.02 | 0.37 | 0.37 | 0.04 | 1.43 | 1.43 | XXX
78315 | TC | A | Bone imaging, 3 phase | 0.00 | NA | 4.70 | 0.21 | NA | 4.91 | XXX
78320 |  | A | Bone imaging (3D) | 1.04 | NA | 6.20 | 0.30 | NA | 7.54 | XXX
78320 | 26 | A | Bone imaging (3D) | 1.04 | 0.38 | 0.38 | 0.04 | 1.46 | 1.46 | XXX
78320 | TC | A | Bone imaging (3D) | 0.00 | NA | 5.82 | 0.26 | NA | 6.08 | XXX
78350 |  | A | Bone mineral, single photon | 0.22 | NA | 0.82 | 0.05 | NA | 1.09 | XXX
78350 | 26 | A | Bone mineral, single photon | 0.22 | 0.08 | 0.08 | 0.01 | 0.31 | 0.31 | XXX
78350 | TC | A | Bone mineral, single photon | 0.00 | NA | 0.74 | 0.04 | NA | 0.78 | XXX
78351 |  | N | Bone mineral, dual photon | +0.30 | 0.12 | 1.60 | 0.01 | 0.43 | 1.91 | XXX
78399 |  | C | Musculoskeletal nuclear exam | 0.00 | NA | 0.00 | 0.00 | NA | 0.00 | XXX
78399 | 26 | C | Musculoskeletal nuclear exam | 0.00 | 0.00 | 0.00 | 0.00 | 0.00 | 0.00 | XXX
78399 | TC | C | Musculoskeletal nuclear exam | 0.00 | NA | 0.00 | 0.00 | NA | 0.00 | XXX
78414 |  | C | Non-imaging heart function | 0.00 | NA | 0.00 | 0.00 | NA | 0.00 | XXX
78414 | 26 | A | Non-imaging heart function | 0.45 | 0.16 | 0.16 | 0.02 | 0.63 | 0.63 | XXX
78414 | TC | C | Non-imaging heart function | 0.00 | NA | 0.00 | 0.00 | NA | 0.00 | XXX
78428 |  | A | Cardiac shunt imaging | 0.78 | NA | 2.53 | 0.14 | NA | 3.45 | XXX
78428 | 26 | A | Cardiac shunt imaging | 0.78 | 0.31 | 0.31 | 0.03 | 1.12 | 1.12 | XXX
78428 | TC | A | Cardiac shunt imaging | 0.00 | NA | 2.22 | 0.11 | NA | 2.33 | XXX
78445 |  | A | Vascular flow imaging | 0.49 | NA | 2.01 | 0.11 | NA | 2.61 | XXX
78445 | 26 | A | Vascular flow imaging | 0.49 | 0.18 | 0.18 | 0.02 | 0.69 | 0.69 | XXX
78445 | TC | A | Vascular flow imaging | 0.00 | NA | 1.83 | 0.09 | NA | 1.92 | XXX
78455 |  | A | Venous thrombosis study | 0.73 | NA | 4.18 | 0.20 | NA | 5.11 | XXX
78455 | 26 | A | Venous thrombosis study | 0.73 | 0.26 | 0.26 | 0.03 | 1.02 | 1.02 | XXX
78455 | TC | A | Venous thrombosis study | 0.00 | NA | 3.92 | 0.17 | NA | 4.09 | XXX
78456 |  | A | Acute venous thrombus image | 1.00 | NA | 4.29 | 0.28 | NA | 5.57 | XXX
78456 | 26 | A | Acute venous thrombus image | 1.00 | 0.37 | 0.37 | 0.04 | 1.41 | 1.41 | XXX
78456 | TC | A | Acute venous thrombus image | 0.00 | NA | 3.92 | 0.24 | NA | 4.16 | XXX
78457 |  | A | Venous thrombosis imaging | 0.77 | NA | 2.90 | 0.15 | NA | 3.82 | XXX
78457 | 26 | A | Venous thrombosis imaging | 0.77 | 0.28 | 0.28 | 0.03 | 1.08 | 1.08 | XXX
78457 | TC | A | Venous thrombosis imaging | 0.00 | NA | 2.62 | 0.12 | NA | 2.74 | XXX
78458 |  | A | Ven thrombosis images, bilat | 0.90 | NA | 4.30 | 0.20 | NA | 5.40 | XXX
78458 | 26 | A | Ven thrombosis images, bilat | 0.90 | 0.34 | 0.34 | 0.03 | 1.27 | 1.27 | XXX
78458 | TC | A | Ven thrombosis images, bilat | 0.00 | NA | 3.96 | 0.17 | NA | 4.13 | XXX
78459 |  | I | Heart muscle imaging (PET) | 0.00 | 0.74 | 0.74 | 0.00 | 0.74 | 0.74 | XXX
78459 | 26 | I | Heart muscle imaging (PET) | 1.88 | 0.74 | 0.74 | 0.08 | 2.70 | 2.70 | XXX
78459 | TC | I | Heart muscle imaging (PET) | 0.00 | 0.00 | 0.00 | 0.00 | 0.00 | 0.00 | XXX
78460 |  | A | Heart muscle blood, single | 0.86 | NA | 2.63 | 0.14 | NA | 3.63 | XXX
78460 | 26 | A | Heart muscle blood, single | 0.86 | 0.31 | 0.31 | 0.03 | 1.20 | 1.20 | XXX
78460 | TC | A | Heart muscle blood, single | 0.00 | NA | 2.32 | 0.11 | NA | 2.43 | XXX
78461 |  | A | Heart muscle blood, multiple | 1.23 | NA | 5.11 | 0.26 | NA | 6.60 | XXX
78461 | 26 | A | Heart muscle blood, multiple | 1.23 | 0.46 | 0.46 | 0.05 | 1.74 | 1.74 | XXX
78461 | TC | A | Heart muscle blood, multiple | 0.00 | NA | 4.65 | 0.21 | NA | 4.86 | XXX
78464 |  | A | Heart image (3d), single | 1.09 | NA | 7.36 | 0.35 | NA | 8.80 | XXX
78464 | 26 | A | Heart image (3d), single | 1.09 | 0.40 | 0.40 | 0.04 | 1.53 | 1.53 | XXX
78464 | TC | A | Heart image (3d), single | 0.00 | NA | 6.96 | 0.31 | NA | 7.27 | XXX
78465 |  | A | Heart image (3d), multiple | 1.46 | NA | 12.17 | 0.56 | NA | 14.19 | XXX
78465 | 26 | A | Heart image (3d), multiple | 1.46 | 0.55 | 0.55 | 0.05 | 2.06 | 2.06 | XXX
78465 | TC | A | Heart image (3d), multiple | 0.00 | NA | 11.62 | 0.51 | NA | 12.13 | XXX
78466 |  | A | Heart infarct image | 0.69 | NA | 2.84 | 0.15 | NA | 3.68 | XXX
78466 | 26 | A | Heart infarct image | 0.69 | 0.26 | 0.26 | 0.03 | 0.98 | 0.98 | XXX
78466 | TC | A | Heart infarct image | 0.00 | NA | 2.58 | 0.12 | NA | 2.70 | XXX
78468 |  | A | Heart infarct image (ef) | 0.80 | NA | 3.90 | 0.19 | NA | 4.89 | XXX
78468 | 26 | A | Heart infarct image (ef) | 0.80 | 0.29 | 0.29 | 0.03 | 1.12 | 1.12 | XXX
78468 | TC | A | Heart infarct image (ef) | 0.00 | NA | 3.61 | 0.16 | NA | 3.77 | XXX
78469 |  | A | Heart infarct image (3D) | 0.92 | NA | 5.47 | 0.26 | NA | 6.65 | XXX
78469 | 26 | A | Heart infarct image (3D) | 0.92 | 0.33 | 0.33 | 0.03 | 1.28 | 1.28 | XXX
78469 | TC | A | Heart infarct image (3D) | 0.00 | NA | 5.14 | 0.23 | NA | 5.37 | XXX
78472 |  | A | Gated heart, planar, single | 0.98 | NA | 5.79 | 0.29 | NA | 7.06 | XXX
78472 | 26 | A | Gated heart, planar, single | 0.98 | 0.36 | 0.36 | 0.04 | 1.38 | 1.38 | XXX
78472 | TC | A | Gated heart, planar, single | 0.00 | NA | 5.43 | 0.25 | NA | 5.68 | XXX
78473 |  | A | Gated heart, multiple | 1.47 | NA | 8.67 | 0.40 | NA | 10.54 | XXX
78473 | 26 | A | Gated heart, multiple | 1.47 | 0.54 | 0.54 | 0.05 | 2.06 | 2.06 | XXX
78473 | TC | A | Gated heart, multiple | 0.00 | NA | 8.13 | 0.35 | NA | 8.48 | XXX
78478 |  | A | Heart wall motion add-on | 0.62 | NA | 1.77 | 0.10 | NA | 2.49 | ZZZ
78478 | 26 | A | Heart wall motion add-on | 0.62 | 0.24 | 0.24 | 0.02 | 0.88 | 0.88 | ZZZ
78478 | TC | A | Heart wall motion add-on | 0.00 | NA | 1.53 | 0.08 | NA | 1.61 | ZZZ
78480 |  | A | Heart function add-on | 0.62 | NA | 1.77 | 0.10 | NA | 2.49 | ZZZ
78480 | 26 | A | Heart function add-on | 0.62 | 0.24 | 0.24 | 0.02 | 0.88 | 0.88 | ZZZ
78480 | TC | A | Heart function add-on | 0.00 | NA | 1.53 | 0.08 | NA | 1.61 | ZZZ
78481 |  | A | Heart first pass, single | 0.98 | NA | 5.52 | 0.26 | NA | 6.76 | XXX
78481 | 26 | A | Heart first pass, single | 0.98 | 0.38 | 0.38 | 0.03 | 1.39 | 1.39 | XXX
78481 | TC | A | Heart first pass, single | 0.00 | NA | 5.14 | 0.23 | NA | 5.37 | XXX
78483 |  | A | Heart first pass, multiple | 1.47 | NA | 8.32 | 0.39 | NA | 10.18 | XXX
78483 | 26 | A | Heart first pass, multiple | 1.47 | 0.57 | 0.57 | 0.05 | 2.09 | 2.09 | XXX
78483 | TC | A | Heart first pass, multiple | 0.00 | NA | 7.75 | 0.34 | NA | 8.09 | XXX
78491 |  | I | Heart image (pet), single | 0.00 | NA | 0.59 | 0.00 | NA | 0.59 | XXX
78491 | 26 | I | Heart image (pet), single | 1.50 | 0.59 | 0.59 | 0.05 | 2.14 | 2.14 | XXX
78491 | TC | I | Heart image (pet), single | 0.00 | NA | 0.00 | 0.00 | NA | 0.00 | XXX
78492 |  | I | Heart image (pet), multiple | +0.00 | NA | 0.74 | 0.00 | NA | 0.74 | XXX
78492 | 26 | I | Heart image (pet), multiple | +1.87 | 0.74 | 0.74 | 0.06 | 2.67 | 2.67 | XXX
78492 | TC | I | Heart image (pet), multiple | 0.00 | NA | 0.00 | 0.00 | NA | 0.00 | XXX
78494 |  | A | Heart image, spect | 1.19 | NA | 7.40 | 0.29 | NA | 8.88 | XXX
78494 | 26 | A | Heart image, spect | 1.19 | 0.44 | 0.44 | 0.04 | 1.67 | 1.67 | XXX
78494 | TC | A | Heart image, spect | 0.00 | NA | 6.96 | 0.25 | NA | 7.21 | XXX
78496 |  | A | Heart first pass add-on | 0.50 | NA | 7.15 | 0.27 | NA | 7.92 | ZZZ
78496 | 26 | A | Heart first pass add-on | 0.50 | 0.19 | 0.19 | 0.02 | 0.71 | 0.71 | ZZZ
78496 | TC | A | Heart first pass add-on | 0.00 | NA | 6.96 | 0.25 | NA | 7.21 | ZZZ
78499 |  | C | Cardiovascular nuclear exam | 0.00 | NA | 0.00 | 0.00 | NA | 0.00 | XXX
78499 | 26 | C | Cardiovascular nuclear exam | 0.00 | 0.00 | 0.00 | 0.00 | 0.00 | 0.00 | XXX
78499 | TC | C | Cardiovascular nuclear exam | 0.00 | NA | 0.00 | 0.00 | NA | 0.00 | XXX
78580 |  | A | Lung perfusion imaging | 0.74 | NA | 3.65 | 0.18 | NA | 4.57 | XXX
78580 | 26 | A | Lung perfusion imaging | 0.74 | 0.27 | 0.27 | 0.03 | 1.04 | 1.04 | XXX
78580 | TC | A | Lung perfusion imaging | 0.00 | NA | 3.38 | 0.15 | NA | 3.53 | XXX
78584 |  | A | Lung V/Q image single breath | 0.99 | NA | 3.50 | 0.18 | NA | 4.67 | XXX
78584 | 26 | A | Lung V/Q image single breath | 0.99 | 0.35 | 0.35 | 0.04 | 1.38 | 1.38 | XXX
78584 | TC | A | Lung V/Q image single breath | 0.00 | NA | 3.15 | 0.14 | NA | 3.29 | XXX
78585 |  | A | Lung V/Q imaging | 1.09 | NA | 5.94 | 0.30 | NA | 7.33 | XXX
78585 | 26 | A | Lung V/Q imaging | 1.09 | 0.39 | 0.39 | 0.05 | 1.53 | 1.53 | XXX
78585 | TC | A | Lung V/Q imaging | 0.00 | NA | 5.55 | 0.25 | NA | 5.80 | XXX
78586 |  | A | Aerosol lung image, single | 0.40 | NA | 2.69 | 0.14 | NA | 3.23 | XXX
78586 | 26 | A | Aerosol lung image, single | 0.40 | 0.14 | 0.14 | 0.02 | 0.56 | 0.56 | XXX
78586 | TC | A | Aerosol lung image, single | 0.00 | NA | 2.55 | 0.12 | NA | 2.67 | XXX
78587 |  | A | Aerosol lung image, multiple | 0.49 | NA | 2.94 | 0.14 | NA | 3.57 | XXX
78587 | 26 | A | Aerosol lung image, multiple | 0.49 | 0.18 | 0.18 | 0.02 | 0.69 | 0.69 | XXX
78587 | TC | A | Aerosol lung image, multiple | 0.00 | NA | 2.76 | 0.12 | NA | 2.88 | XXX
78588 |  | A | Perfusion lung image | 1.09 | NA | 3.54 | 0.20 | NA | 4.83 | XXX
78588 | 26 | A | Perfusion lung image | 1.09 | 0.39 | 0.39 | 0.05 | 1.53 | 1.53 | XXX
78588 | TC | A | Perfusion lung image | 0.00 | NA | 3.15 | 0.15 | NA | 3.30 | XXX
78591 |  | A | Vent image, 1 breath, 1 proj | 0.40 | NA | 2.95 | 0.14 | NA | 3.49 | XXX
78591 | 26 | A | Vent image, 1 breath, 1 proj | 0.40 | 0.14 | 0.14 | 0.02 | 0.56 | 0.56 | XXX
78591 | TC | A | Vent image, 1 breath, 1 proj | 0.00 | NA | 2.81 | 0.12 | NA | 2.93 | XXX
78593 |  | A | Vent image, 1 proj, gas | 0.49 | NA | 3.57 | 0.17 | NA | 4.23 | XXX
78593 | 26 | A | Vent image, 1 proj, gas | 0.49 | 0.17 | 0.17 | 0.02 | 0.68 | 0.68 | XXX
78593 | TC | A | Vent image, 1 proj, gas | 0.00 | NA | 3.40 | 0.15 | NA | 3.55 | XXX
78594 |  | A | Vent image, mult proj, gas | 0.53 | NA | 5.09 | 0.23 | NA | 5.85 | XXX
78594 | 26 | A | Vent image, mult proj, gas | 0.53 | 0.19 | 0.19 | 0.02 | 0.74 | 0.74 | XXX
78594 | TC | A | Vent image, mult proj, gas | 0.00 | NA | 4.90 | 0.21 | NA | 5.11 | XXX
78596 |  | A | Lung differential function | 1.27 | NA | 7.41 | 0.36 | NA | 9.04 | XXX
78596 | 26 | A | Lung differential function | 1.27 | 0.45 | 0.45 | 0.05 | 1.77 | 1.77 | XXX
78596 | TC | A | Lung differential function | 0.00 | NA | 6.96 | 0.31 | NA | 7.27 | XXX
78599 |  | C | Respiratory nuclear exam | 0.00 | NA | 0.00 | 0.00 | NA | 0.00 | XXX
78599 | 26 | C | Respiratory nuclear exam | 0.00 | 0.00 | 0.00 | 0.00 | 0.00 | 0.00 | XXX
78599 | TC | C | Respiratory nuclear exam | 0.00 | NA | 0.00 | 0.00 | NA | 0.00 | XXX
78600 |  | A | Brain imaging, ltd static | 0.44 | NA | 3.05 | 0.14 | NA | 3.63 | XXX
78600 | 26 | A | Brain imaging, ltd static | 0.44 | 0.16 | 0.16 | 0.02 | 0.62 | 0.62 | XXX
78600 | TC | A | Brain imaging, ltd static | 0.00 | NA | 2.89 | 0.12 | NA | 3.01 | XXX
78601 |  | A | Brain imaging, ltd w/ flow | 0.51 | NA | 3.53 | 0.17 | NA | 4.21 | XXX
78601 | 26 | A | Brain imaging, ltd w/ flow | 0.51 | 0.18 | 0.18 | 0.02 | 0.71 | 0.71 | XXX
78601 | TC | A | Brain imaging, ltd w/ flow | 0.00 | NA | 3.35 | 0.15 | NA | 3.50 | XXX
78605 |  | A | Brain imaging, complete | 0.53 | NA | 3.55 | 0.17 | NA | 4.25 | XXX
78605 | 26 | A | Brain imaging, complete | 0.53 | 0.20 | 0.20 | 0.02 | 0.75 | 0.75 | XXX
78605 | TC | A | Brain imaging, complete | 0.00 | NA | 3.35 | 0.15 | NA | 3.50 | XXX
78606 |  | A | Brain imaging, compl w/flow | 0.64 | NA | 4.04 | 0.20 | NA | 4.88 | XXX
78606 | 26 | A | Brain imaging, compl w/flow | 0.64 | 0.23 | 0.23 | 0.03 | 0.90 | 0.90 | XXX
78606 | TC | A | Brain imaging, compl w/flow | 0.00 | NA | 3.81 | 0.17 | NA | 3.98 | XXX
78607 |  | A | Brain imaging (3D) | 1.23 | NA | 6.92 | 0.34 | NA | 8.49 | XXX
78607 | 26 | A | Brain imaging (3D) | 1.23 | 0.46 | 0.46 | 0.05 | 1.74 | 1.74 | XXX
78607 | TC | A | Brain imaging (3D) | 0.00 | NA | 6.46 | 0.29 | NA | 6.75 | XXX
78608 |  | N | Brain imaging (PET) | 0.00 | 0.00 | 0.00 | 0.00 | 0.00 | 0.00 | XXX
78609 |  | N | Brain imaging (PET) | 0.00 | 0.00 | 0.00 | 0.00 | 0.00 | 0.00 | XXX
78610 |  | A | Brain flow imaging only | 0.30 | NA | 1.66 | 0.09 | NA | 2.05 | XXX
78610 | 26 | A | Brain flow imaging only | 0.30 | 0.11 | 0.11 | 0.01 | 0.42 | 0.42 | XXX
78610 | TC | A | Brain flow imaging only | 0.00 | NA | 1.55 | 0.08 | NA | 1.63 | XXX
78615 |  | A | Cerebral blood flow imaging | 0.42 | NA | 3.95 | 0.19 | NA | 4.56 | XXX
78615 | 26 | A | Cerebral blood flow imaging | 0.42 | 0.16 | 0.16 | 0.02 | 0.60 | 0.60 | XXX
78615 | TC | A | Cerebral blood flow imaging | 0.00 | NA | 3.79 | 0.17 | NA | 3.96 | XXX
78630 |  | A | Cerebrospinal fluid scan | 0.68 | NA | 5.20 | 0.25 | NA | 6.13 | XXX
78630 | 26 | A | Cerebrospinal fluid scan | 0.68 | 0.24 | 0.24 | 0.03 | 0.95 | 0.95 | XXX
78630 | TC | A | Cerebrospinal fluid scan | 0.00 | NA | 4.96 | 0.22 | NA | 5.18 | XXX
78635 |  | A | CSF ventriculography | 0.61 | NA | 2.74 | 0.14 | NA | 3.49 | XXX
78635 | 26 | A | CSF ventriculography | 0.61 | 0.24 | 0.24 | 0.02 | 0.87 | 0.87 | XXX
78635 | TC | A | CSF ventriculography | 0.00 | NA | 2.50 | 0.12 | NA | 2.62 | XXX
78645 |  | A | CSF shunt evaluation | 0.57 | NA | 3.59 | 0.17 | NA | 4.33 | XXX
78645 | 26 | A | CSF shunt evaluation | 0.57 | 0.21 | 0.21 | 0.02 | 0.80 | 0.80 | XXX
78645 | TC | A | CSF shunt evaluation | 0.00 | NA | 3.38 | 0.15 | NA | 3.53 | XXX
78647 |  | A | Cerebrospinal fluid scan | 0.90 | NA | 6.16 | 0.29 | NA | 7.35 | XXX
78647 | 26 | A | Cerebrospinal fluid scan | 0.90 | 0.34 | 0.34 | 0.03 | 1.27 | 1.27 | XXX
78647 | TC | A | Cerebrospinal fluid scan | 0.00 | NA | 5.82 | 0.26 | NA | 6.08 | XXX
78650 |  | A | CSF leakage imaging | 0.61 | NA | 4.79 | 0.22 | NA | 5.62 | XXX
78650 | 26 | A | CSF leakage imaging | 0.61 | 0.22 | 0.22 | 0.02 | 0.85 | 0.85 | XXX
78650 | TC | A | CSF leakage imaging | 0.00 | NA | 4.57 | 0.20 | NA | 4.77 | XXX
78660 |  | A | Nuclear exam of tear flow | 0.53 | NA | 2.28 | 0.12 | NA | 2.93 | XXX
78660 | 26 | A | Nuclear exam of tear flow | 0.53 | 0.19 | 0.19 | 0.02 | 0.74 | 0.74 | XXX
78660 | TC | A | Nuclear exam of tear flow | 0.00 | NA | 2.09 | 0.10 | NA | 2.19 | XXX
78699 |  | C | Nervous system nuclear exam | 0.00 | NA | 0.00 | 0.00 | NA | 0.00 | XXX
78699 | 26 | C | Nervous system nuclear exam | 0.00 | 0.00 | 0.00 | 0.00 | 0.00 | 0.00 | XXX
78699 | TC | C | Nervous system nuclear exam | 0.00 | NA | 0.00 | 0.00 | NA | 0.00 | XXX
78700 |  | A | Kidney imaging, static | 0.45 | NA | 3.16 | 0.15 | NA | 3.76 | XXX
78700 | 26 | A | Kidney imaging, static | 0.45 | 0.16 | 0.16 | 0.02 | 0.63 | 0.63 | XXX
78700 | TC | A | Kidney imaging, static | 0.00 | NA | 3.00 | 0.13 | NA | 3.13 | XXX
78701 |  | A | Kidney imaging with flow | 0.49 | NA | 3.67 | 0.17 | NA | 4.33 | XXX
78701 | 26 | A | Kidney imaging with flow | 0.49 | 0.17 | 0.17 | 0.02 | 0.68 | 0.68 | XXX
78701 | TC | A | Kidney imaging with flow | 0.00 | NA | 3.50 | 0.15 | NA | 3.65 | XXX
78704 |  | A | Imaging renogram | 0.74 | NA | 4.15 | 0.20 | NA | 5.09 | XXX
78704 | 26 | A | Imaging renogram | 0.74 | 0.26 | 0.26 | 0.03 | 1.03 | 1.03 | XXX
78704 | TC | A | Imaging renogram | 0.00 | NA | 3.89 | 0.17 | NA | 4.06 | XXX
78707 |  | A | Kidney flow/function image | 0.96 | NA | 4.75 | 0.23 | NA | 5.94 | XXX
78707 | 26 | A | Kidney flow/function image | 0.96 | 0.35 | 0.35 | 0.04 | 1.35 | 1.35 | XXX
78707 | TC | A | Kidney flow/function image | 0.00 | NA | 4.40 | 0.19 | NA | 4.59 | XXX
78708 |  | A | Kidney flow/function image | 1.21 | NA | 4.84 | 0.24 | NA | 6.29 | XXX
78708 | 26 | A | Kidney flow/function image | 1.21 | 0.44 | 0.44 | 0.05 | 1.70 | 1.70 | XXX
78708 | TC | A | Kidney flow/function image | 0.00 | NA | 4.40 | 0.19 | NA | 4.59 | XXX
78709 |  | A | Kidney flow/function image | 1.41 | NA | 4.90 | 0.25 | NA | 6.56 | XXX
78709 | 26 | A | Kidney flow/function image | 1.41 | 0.50 | 0.50 | 0.06 | 1.97 | 1.97 | XXX
78709 | TC | A | Kidney flow/function image | 0.00 | NA | 4.40 | 0.19 | NA | 4.59 | XXX
78710 |  | A | Kidney imaging (3D) | 0.66 | NA | 6.05 | 0.29 | NA | 7.00 | XXX
78710 | 26 | A | Kidney imaging (3D) | 0.66 | 0.23 | 0.23 | 0.03 | 0.92 | 0.92 | XXX
78710 | TC | A | Kidney imaging (3D) | 0.00 | NA | 5.82 | 0.26 | NA | 6.08 | XXX
78715 |  | A | Renal vascular flow exam | 0.30 | NA | 1.66 | 0.09 | NA | 2.05 | XXX
78715 | 26 | A | Renal vascular flow exam | 0.30 | 0.11 | 0.11 | 0.01 | 0.42 | 0.42 | XXX
78715 | TC | A | Renal vascular flow exam | 0.00 | NA | 1.55 | 0.08 | NA | 1.63 | XXX
78725 |  | A | Kidney function study | 0.38 | NA | 1.89 | 0.10 | NA | 2.37 | XXX
78725 | 26 | A | Kidney function study | 0.38 | 0.14 | 0.14 | 0.01 | 0.53 | 0.53 | XXX
78725 | TC | A | Kidney function study | 0.00 | NA | 1.75 | 0.09 | NA | 1.84 | XXX
78730 |  | A | Urinary bladder retention | 0.36 | NA | 1.57 | 0.09 | NA | 2.02 | XXX
78730 | 26 | A | Urinary bladder retention | 0.36 | 0.13 | 0.13 | 0.02 | 0.51 | 0.51 | XXX
78730 | TC | A | Urinary bladder retention | 0.00 | NA | 1.44 | 0.07 | NA | 1.51 | XXX
78740 |  | A | Ureteral reflux study | 0.57 | NA | 2.29 | 0.12 | NA | 2.98 | XXX
78740 | 26 | A | Ureteral reflux study | 0.57 | 0.20 | 0.20 | 0.02 | 0.79 | 0.79 | XXX
78740 | TC | A | Ureteral reflux study | 0.00 | NA | 2.09 | 0.10 | NA | 2.19 | XXX
78760 |  | A | Testicular imaging | 0.66 | NA | 2.87 | 0.15 | NA | 3.68 | XXX
78760 | 26 | A | Testicular imaging | 0.66 | 0.23 | 0.23 | 0.03 | 0.92 | 0.92 | XXX
78760 | TC | A | Testicular imaging | 0.00 | NA | 2.64 | 0.12 | NA | 2.76 | XXX
78761 |  | A | Testicular imaging/flow | 0.71 | NA | 3.40 | 0.17 | NA | 4.28 | XXX
78761 | 26 | A | Testicular imaging/flow | 0.71 | 0.25 | 0.25 | 0.03 | 0.99 | 0.99 | XXX
78761 | TC | A | Testicular imaging/flow | 0.00 | NA | 3.15 | 0.14 | NA | 3.29 | XXX
78799 |  | C | Genitourinary nuclear exam | 0.00 | NA | 0.00 | 0.00 | NA | 0.00 | XXX
78799 | 26 | C | Genitourinary nuclear exam | 0.00 | 0.00 | 0.00 | 0.00 | 0.00 | 0.00 | XXX
78799 | TC | C | Genitourinary nuclear exam | 0.00 | NA | 0.00 | 0.00 | NA | 0.00 | XXX
78800 |  | A | Tumor imaging, limited area | 0.66 | NA | 3.58 | 0.18 | NA | 4.42 | XXX
78800 | 26 | A | Tumor imaging, limited area | 0.66 | 0.23 | 0.23 | 0.03 | 0.92 | 0.92 | XXX
78800 | TC | A | Tumor imaging, limited area | 0.00 | NA | 3.35 | 0.15 | NA | 3.50 | XXX
78801 |  | A | Tumor imaging, mult areas | 0.79 | NA | 4.44 | 0.21 | NA | 5.44 | XXX
78801 | 26 | A | Tumor imaging, mult areas | 0.79 | 0.28 | 0.28 | 0.03 | 1.10 | 1.10 | XXX
78801 | TC | A | Tumor imaging, mult areas | 0.00 | NA | 4.16 | 0.18 | NA | 4.34 | XXX
78802 |  | A | Tumor imaging, whole body | 0.86 | NA | 5.76 | 0.28 | NA | 6.90 | XXX
78802 | 26 | A | Tumor imaging, whole body | 0.86 | 0.31 | 0.31 | 0.03 | 1.20 | 1.20 | XXX
78802 | TC | A | Tumor imaging, whole body | 0.00 | NA | 5.45 | 0.25 | NA | 5.70 | XXX
78803 |  | A | Tumor imaging (3D) | 1.09 | NA | 6.87 | 0.33 | NA | 8.29 | XXX
78803 | 26 | A | Tumor imaging (3D) | 1.09 | 0.41 | 0.41 | 0.04 | 1.54 | 1.54 | XXX
78803 | TC | A | Tumor imaging (3D) | 0.00 | NA | 6.46 | 0.29 | NA | 6.75 | XXX
78805 |  | A | Abscess imaging, ltd area | 0.73 | NA | 3.62 | 0.18 | NA | 4.53 | XXX
78805 | 26 | A | Abscess imaging, ltd area | 0.73 | 0.27 | 0.27 | 0.03 | 1.03 | 1.03 | XXX
78805 | TC | A | Abscess imaging, ltd area | 0.00 | NA | 3.35 | 0.15 | NA | 3.50 | XXX
78806 |  | A | Abscess imaging, whole body | 0.86 | NA | 6.64 | 0.32 | NA | 7.82 | XXX
78806 | 26 | A | Abscess imaging, whole body | 0.86 | 0.31 | 0.31 | 0.03 | 1.20 | 1.20 | XXX
78806 | TC | A | Abscess imaging, whole body | 0.00 | NA | 6.33 | 0.29 | NA | 6.62 | XXX
78807 |  | A | Nuclear localization/abscess | 1.09 | NA | 6.87 | 0.33 | NA | 8.29 | XXX
78807 | 26 | A | Nuclear localization/abscess | 1.09 | 0.41 | 0.41 | 0.04 | 1.54 | 1.54 | XXX
78807 | TC | A | Nuclear localization/abscess | 0.00 | NA | 6.46 | 0.29 | NA | 6.75 | XXX
78810 |  | N | Tumor imaging (PET) | +0.00 | NA | 0.76 | 0.00 | NA | 0.76 | XXX
78810 | 26 | N | Tumor imaging (PET) | +1.93 | 0.76 | 0.76 | 0.09 | 2.78 | 2.78 | XXX
78810 | TC | N | Tumor imaging (PET) | 0.00 | NA | 0.00 | 0.00 | NA | 0.00 | XXX
78890 |  | B | Nuclear medicine data proc | +0.05 | NA | 1.31 | 0.06 | NA | 1.42 | XXX
78890 | 26 | B | Nuclear medicine data proc | +0.05 | 0.02 | 0.02 | 0.01 | 0.08 | 0.08 | XXX
78890 | TC | B | Nuclear medicine data proc | +0.00 | NA | 1.29 | 0.05 | NA | 1.34 | XXX
78891 |  | B | Nuclear med data proc | +0.10 | NA | 2.62 | 0.12 | NA | 2.84 | XXX
78891 | 26 | B | Nuclear med data proc | +0.10 | 0.04 | 0.04 | 0.01 | 0.15 | 0.15 | XXX
78891 | TC | B | Nuclear med data proc | +0.00 | NA | 2.58 | 0.11 | NA | 2.69 | XXX
78990 |  | I | Provide diag radionuclide(s) | 0.00 | 0.00 | 0.00 | 0.00 | 0.00 | 0.00 | XXX
78999 |  | C | Nuclear diagnostic exam | 0.00 | NA | 0.00 | 0.00 | NA | 0.00 | XXX
78999 | 26 | C | Nuclear diagnostic exam | 0.00 | 0.00 | 0.00 | 0.00 | 0.00 | 0.00 | XXX
78999 | TC | C | Nuclear diagnostic exam | 0.00 | NA | 0.00 | 0.00 | NA | 0.00 | XXX
79000 |  | A | Init hyperthyroid therapy | 1.80 | NA | 3.22 | 0.19 | NA | 5.21 | XXX
79000 | 26 | A | Init hyperthyroid therapy | 1.80 | 0.64 | 0.64 | 0.07 | 2.51 | 2.51 | XXX
79000 | TC | A | Init hyperthyroid therapy | 0.00 | NA | 2.58 | 0.12 | NA | 2.70 | XXX
79001 |  | A | Repeat hyperthyroid therapy | 1.05 | NA | 1.67 | 0.10 | NA | 2.82 | XXX
79001 | 26 | A | Repeat hyperthyroid therapy | 1.05 | 0.38 | 0.38 | 0.04 | 1.47 | 1.47 | XXX
79001 | TC | A | Repeat hyperthyroid therapy | 0.00 | NA | 1.29 | 0.06 | NA | 1.35 | XXX
79020 |  | A | Thyroid ablation | 1.81 | NA | 3.22 | 0.19 | NA | 5.22 | XXX
79020 | 26 | A | Thyroid ablation | 1.81 | 0.64 | 0.64 | 0.07 | 2.52 | 2.52 | XXX
79020 | TC | A | Thyroid ablation | 0.00 | NA | 2.58 | 0.12 | NA | 2.70 | XXX
79030 |  | A | Thyroid ablation, carcinoma | 2.10 | NA | 3.34 | 0.20 | NA | 5.64 | XXX
79030 | 26 | A | Thyroid ablation, carcinoma | 2.10 | 0.76 | 0.76 | 0.08 | 2.94 | 2.94 | XXX
79030 | TC | A | Thyroid ablation, carcinoma | 0.00 | NA | 2.58 | 0.12 | NA | 2.70 | XXX
79035 |  | A | Thyroid metastatic therapy | 2.52 | NA | 3.52 | 0.21 | NA | 6.25 | XXX
79035 | 26 | A | Thyroid metastatic therapy | 2.52 | 0.94 | 0.94 | 0.09 | 3.55 | 3.55 | XXX
79035 | TC | A | Thyroid metastatic therapy | 0.00 | NA | 2.58 | 0.12 | NA | 2.70 | XXX
79100 |  | A | Hematopoetic nuclear therapy | 1.32 | NA | 3.07 | 0.17 | NA | 4.56 | XXX
79100 | 26 | A | Hematopoetic nuclear therapy | 1.32 | 0.49 | 0.49 | 0.05 | 1.86 | 1.86 | XXX
79100 | TC | A | Hematopoetic nuclear therapy | 0.00 | NA | 2.58 | 0.12 | NA | 2.70 | XXX
79200 |  | A | Intracavitary nuclear trmt | 1.99 | NA | 3.32 | 0.19 | NA | 5.50 | XXX
79200 | 26 | A | Intracavitary nuclear trmt | 1.99 | 0.74 | 0.74 | 0.07 | 2.80 | 2.80 | XXX
79200 | TC | A | Intracavitary nuclear trmt | 0.00 | NA | 2.58 | 0.12 | NA | 2.70 | XXX
79300 |  | C | Interstitial nuclear therapy | 0.00 | NA | 0.00 | 0.00 | NA | 0.00 | XXX
79300 | 26 | A | Interstitial nuclear therapy | 1.60 | 0.57 | 0.57 | 0.07 | 2.24 | 2.24 | XXX
79300 | TC | C | Interstitial nuclear therapy | 0.00 | NA | 0.00 | 0.00 | NA | 0.00 | XXX
79400 |  | A | Nonhemato nuclear therapy | 1.96 | NA | 3.30 | 0.20 | NA | 5.46 | XXX
79400 | 26 | A | Nonhemato nuclear therapy | 1.96 | 0.72 | 0.72 | 0.08 | 2.76 | 2.76 | XXX
79400 | TC | A | Nonhemato nuclear therapy | 0.00 | NA | 2.58 | 0.12 | NA | 2.70 | XXX
79420 |  | C | Intravascular nuclear ther | 0.00 | NA | 0.00 | 0.00 | NA | 0.00 | XXX
79420 | 26 | A | Intravascular nuclear ther | 1.51 | 0.53 | 0.53 | 0.06 | 2.10 | 2.10 | XXX
79420 | TC | C | Intravascular nuclear ther | 0.00 | NA | 0.00 | 0.00 | NA | 0.00 | XXX
79440 |  | A | Nuclear joint therapy | 1.99 | NA | 3.38 | 0.20 | NA | 5.57 | XXX
79440 | 26 | A | Nuclear joint therapy | 1.99 | 0.80 | 0.80 | 0.08 | 2.87 | 2.87 | XXX
79440 | TC | A | Nuclear joint therapy | 0.00 | NA | 2.58 | 0.12 | NA | 2.70 | XXX
79900 |  | C | Provide ther radiopharm(s) | 0.00 | 0.00 | 0.00 | 0.00 | 0.00 | 0.00 | XXX
79999 |  | C | Nuclear medicine therapy | 0.00 | NA | 0.00 | 0.00 | NA | 0.00 | XXX
79999 | 26 | C | Nuclear medicine therapy | 0.00 | 0.00 | 0.00 | 0.00 | 0.00 | 0.00 | XXX
79999 | TC | C | Nuclear medicine therapy | 0.00 | NA | 0.00 | 0.00 | NA | 0.00 | XXX
80048 |  | X | Basic metabolic panel | 0.00 | 0.00 | 0.00 | 0.00 | 0.00 | 0.00 | XXX
80050 |  | N | General health panel | 0.00 | 0.00 | 0.00 | 0.00 | 0.00 | 0.00 | XXX
80051 |  | X | Electrolyte panel | 0.00 | 0.00 | 0.00 | 0.00 | 0.00 | 0.00 | XXX
80053 |  | X | Comprehen metabolic panel | 0.00 | 0.00 | 0.00 | 0.00 | 0.00 | 0.00 | XXX
80055 |  | I | Obstetric panel | 0.00 | 0.00 | 0.00 | 0.00 | 0.00 | 0.00 | XXX
80061 |  | X | Lipid panel | 0.00 | 0.00 | 0.00 | 0.00 | 0.00 | 0.00 | XXX
80069 |  | X | Renal function panel | 0.00 | 0.00 | 0.00 | 0.00 | 0.00 | 0.00 | XXX
80072 |  | X | Arthritis panel | 0.00 | 0.00 | 0.00 | 0.00 | 0.00 | 0.00 | XXX
80074 |  | X | Acute hepatitis panel | 0.00 | 0.00 | 0.00 | 0.00 | 0.00 | 0.00 | XXX
80076 |  | X | Hepatic function panel | 0.00 | 0.00 | 0.00 | 0.00 | 0.00 | 0.00 | XXX
80090 |  | X | Torch antibody panel | 0.00 | 0.00 | 0.00 | 0.00 | 0.00 | 0.00 | XXX
80100 |  | X | Drug screen, qualitate/multi | 0.00 | 0.00 | 0.00 | 0.00 | 0.00 | 0.00 | XXX
80101 |  | X | Drug screen, single | 0.00 | 0.00 | 0.00 | 0.00 | 0.00 | 0.00 | XXX
80102 |  | X | Drug confirmation | 0.00 | 0.00 | 0.00 | 0.00 | 0.00 | 0.00 | XXX
80103 |  | X | Drug analysis, tissue prep | 0.00 | 0.00 | 0.00 | 0.00 | 0.00 | 0.00 | XXX
80150 |  | X | Assay of amikacin | 0.00 | 0.00 | 0.00 | 0.00 | 0.00 | 0.00 | XXX
80152 |  | X | Assay of amitriptyline | 0.00 | 0.00 | 0.00 | 0.00 | 0.00 | 0.00 | XXX
80154 |  | X | Assay of benzodiazepines | 0.00 | 0.00 | 0.00 | 0.00 | 0.00 | 0.00 | XXX
80156 |  | X | Assay, carbamazepine, total | 0.00 | 0.00 | 0.00 | 0.00 | 0.00 | 0.00 | XXX
80157 |  | X | Assay, carbamazepine, free | 0.00 | 0.00 | 0.00 | 0.00 | 0.00 | 0.00 | XXX
80158 |  | X | Assay of cyclosporine | 0.00 | 0.00 | 0.00 | 0.00 | 0.00 | 0.00 | XXX
80160 |  | X | Assay of desipramine | 0.00 | 0.00 | 0.00 | 0.00 | 0.00 | 0.00 | XXX
80162 |  | X | Assay of digoxin | 0.00 | 0.00 | 0.00 | 0.00 | 0.00 | 0.00 | XXX
80164 |  | X | Assay, dipropylacetic acid | 0.00 | 0.00 | 0.00 | 0.00 | 0.00 | 0.00 | XXX
80166 |  | X | Assay of doxepin | 0.00 | 0.00 | 0.00 | 0.00 | 0.00 | 0.00 | XXX
80168 |  | X | Assay of ethosuximide | 0.00 | 0.00 | 0.00 | 0.00 | 0.00 | 0.00 | XXX
80170 |  | X | Assay of gentamicin | 0.00 | 0.00 | 0.00 | 0.00 | 0.00 | 0.00 | XXX
80172 |  | X | Assay of gold | 0.00 | 0.00 | 0.00 | 0.00 | 0.00 | 0.00 | XXX
80173 |  | X | Assay of haloperidol | 0.00 | 0.00 | 0.00 | 0.00 | 0.00 | 0.00 | XXX
80174 |  | X | Assay of imipramine | 0.00 | 0.00 | 0.00 | 0.00 | 0.00 | 0.00 | XXX
80176 |  | X | Assay of lidocaine | 0.00 | 0.00 | 0.00 | 0.00 | 0.00 | 0.00 | XXX
80178 |  | X | Assay of lithium | 0.00 | 0.00 | 0.00 | 0.00 | 0.00 | 0.00 | XXX
80182 |  | X | Assay of nortriptyline | 0.00 | 0.00 | 0.00 | 0.00 | 0.00 | 0.00 | XXX
80184 |  | X | Assay of phenobarbital | 0.00 | 0.00 | 0.00 | 0.00 | 0.00 | 0.00 | XXX
80185 |  | X | Assay of phenytoin, total | 0.00 | 0.00 | 0.00 | 0.00 | 0.00 | 0.00 | XXX
80186 |  | X | Assay of phenytoin, free | 0.00 | 0.00 | 0.00 | 0.00 | 0.00 | 0.00 | XXX
80188 |  | X | Assay of primidone | 0.00 | 0.00 | 0.00 | 0.00 | 0.00 | 0.00 | XXX
80190 |  | X | Assay of procainamide | 0.00 | 0.00 | 0.00 | 0.00 | 0.00 | 0.00 | XXX
80192 |  | X | Assay of procainamide | 0.00 | 0.00 | 0.00 | 0.00 | 0.00 | 0.00 | XXX
80194 |  | X | Assay of quinidine | 0.00 | 0.00 | 0.00 | 0.00 | 0.00 | 0.00 | XXX
80196 |  | X | Assay of salicylate | 0.00 | 0.00 | 0.00 | 0.00 | 0.00 | 0.00 | XXX
80197 |  | X | Assay of tacrolimus | 0.00 | 0.00 | 0.00 | 0.00 | 0.00 | 0.00 | XXX
80198 |  | X | Assay of theophylline | 0.00 | 0.00 | 0.00 | 0.00 | 0.00 | 0.00 | XXX
80200 |  | X | Assay of tobramycin | 0.00 | 0.00 | 0.00 | 0.00 | 0.00 | 0.00 | XXX
80201 |  | X | Assay of topiramate | 0.00 | 0.00 | 0.00 | 0.00 | 0.00 | 0.00 | XXX
80202 |  | X | Assay of vancomycin | 0.00 | 0.00 | 0.00 | 0.00 | 0.00 | 0.00 | XXX
80299 |  | X | Quantitative assay, drug | 0.00 | 0.00 | 0.00 | 0.00 | 0.00 | 0.00 | XXX
80400 |  | X | Acth stimulation panel | 0.00 | 0.00 | 0.00 | 0.00 | 0.00 | 0.00 | XXX
80402 |  | X | Acth stimulation panel | 0.00 | 0.00 | 0.00 | 0.00 | 0.00 | 0.00 | XXX
80406 |  | X | Acth stimulation panel | 0.00 | 0.00 | 0.00 | 0.00 | 0.00 | 0.00 | XXX
80408 |  | X | Aldosterone suppression eval | 0.00 | 0.00 | 0.00 | 0.00 | 0.00 | 0.00 | XXX
80410 |  | X | Calcitonin stimul panel | 0.00 | 0.00 | 0.00 | 0.00 | 0.00 | 0.00 | XXX
80412 |  | X | CRH stimulation panel | 0.00 | 0.00 | 0.00 | 0.00 | 0.00 | 0.00 | XXX
80414 |  | X | Testosterone response | 0.00 | 0.00 | 0.00 | 0.00 | 0.00 | 0.00 | XXX
80415 |  | X | Estradiol response panel | 0.00 | 0.00 | 0.00 | 0.00 | 0.00 | 0.00 | XXX
80416 |  | X | Renin stimulation panel | 0.00 | 0.00 | 0.00 | 0.00 | 0.00 | 0.00 | XXX
80417 |  | X | Renin stimulation panel | 0.00 | 0.00 | 0.00 | 0.00 | 0.00 | 0.00 | XXX
80418 |  | X | Pituitary evaluation panel | 0.00 | 0.00 | 0.00 | 0.00 | 0.00 | 0.00 | XXX
80420 |  | X | Dexamethasone panel | 0.00 | 0.00 | 0.00 | 0.00 | 0.00 | 0.00 | XXX
80422 |  | X | Glucagon tolerance panel | 0.00 | 0.00 | 0.00 | 0.00 | 0.00 | 0.00 | XXX
80424 |  | X | Glucagon tolerance panel | 0.00 | 0.00 | 0.00 | 0.00 | 0.00 | 0.00 | XXX
80426 |  | X | Gonadotropin hormone panel | 0.00 | 0.00 | 0.00 | 0.00 | 0.00 | 0.00 | XXX
80428 |  | X | Growth hormone panel | 0.00 | 0.00 | 0.00 | 0.00 | 0.00 | 0.00 | XXX
80430 |  | X | Growth hormone panel | 0.00 | 0.00 | 0.00 | 0.00 | 0.00 | 0.00 | XXX
80432 |  | X | Insulin suppression panel | 0.00 | 0.00 | 0.00 | 0.00 | 0.00 | 0.00 | XXX
80434 |  | X | Insulin tolerance panel | 0.00 | 0.00 | 0.00 | 0.00 | 0.00 | 0.00 | XXX
80435 |  | X | Insulin tolerance panel | 0.00 | 0.00 | 0.00 | 0.00 | 0.00 | 0.00 | XXX
80436 |  | X | Metyrapone panel | 0.00 | 0.00 | 0.00 | 0.00 | 0.00 | 0.00 | XXX
80438 |  | X | TRH stimulation panel | 0.00 | 0.00 | 0.00 | 0.00 | 0.00 | 0.00 | XXX
80439 |  | X | TRH stimulation panel | 0.00 | 0.00 | 0.00 | 0.00 | 0.00 | 0.00 | XXX
80440 |  | X | TRH stimulation panel | 0.00 | 0.00 | 0.00 | 0.00 | 0.00 | 0.00 | XXX
80500 |  | A | Lab pathology consultation | 0.37 | 0.17 | 0.19 | 0.01 | 0.55 | 0.57 | XXX
80502 |  | A | Lab pathology consultation | 1.33 | 0.61 | 0.64 | 0.05 | 1.99 | 2.02 | XXX
81000 |  | X | Urinalysis, nonauto w/scope | 0.00 | 0.00 | 0.00 | 0.00 | 0.00 | 0.00 | XXX
81001 |  | X | Urinalysis, auto w/scope | 0.00 | 0.00 | 0.00 | 0.00 | 0.00 | 0.00 | XXX
81002 |  | X | Urinalysis nonauto w/o scope | 0.00 | 0.00 | 0.00 | 0.00 | 0.00 | 0.00 | XXX
81003 |  | X | Urinalysis, auto, w/o scope | 0.00 | 0.00 | 0.00 | 0.00 | 0.00 | 0.00 | XXX
81005 |  | X | Urinalysis | 0.00 | 0.00 | 0.00 | 0.00 | 0.00 | 0.00 | XXX
81007 |  | X | Urine screen for bacteria | 0.00 | 0.00 | 0.00 | 0.00 | 0.00 | 0.00 | XXX
81015 |  | X | Microscopic exam of urine | 0.00 | 0.00 | 0.00 | 0.00 | 0.00 | 0.00 | XXX
81020 |  | X | Urinalysis, glass test | 0.00 | 0.00 | 0.00 | 0.00 | 0.00 | 0.00 | XXX
81025 |  | X | Urine pregnancy test | 0.00 | 0.00 | 0.00 | 0.00 | 0.00 | 0.00 | XXX
81050 |  | X | Urinalysis, volume measure | 0.00 | 0.00 | 0.00 | 0.00 | 0.00 | 0.00 | XXX
81099 |  | X | Urinalysis test procedure | 0.00 | 0.00 | 0.00 | 0.00 | 0.00 | 0.00 | XXX
82000 |  | X | Assay of blood acetaldehyde | 0.00 | 0.00 | 0.00 | 0.00 | 0.00 | 0.00 | XXX
82003 |  | X | Assay of acetaminophen | 0.00 | 0.00 | 0.00 | 0.00 | 0.00 | 0.00 | XXX
82009 |  | X | Test for acetone/ketones | 0.00 | 0.00 | 0.00 | 0.00 | 0.00 | 0.00 | XXX
82010 |  | X | Acetone assay | 0.00 | 0.00 | 0.00 | 0.00 | 0.00 | 0.00 | XXX
82013 |  | X | Acetylcholinesterase assay | 0.00 | 0.00 | 0.00 | 0.00 | 0.00 | 0.00 | XXX
82016 |  | X | Acylcarnitines, qual | 0.00 | 0.00 | 0.00 | 0.00 | 0.00 | 0.00 | XXX
82017 |  | X | Acylcarnitines, quant | 0.00 | 0.00 | 0.00 | 0.00 | 0.00 | 0.00 | XXX
82024 |  | X | Assay of acth | 0.00 | 0.00 | 0.00 | 0.00 | 0.00 | 0.00 | XXX
82030 |  | X | Assay of adp & amp | 0.00 | 0.00 | 0.00 | 0.00 | 0.00 | 0.00 | XXX
82040 |  | X | Assay of serum albumin | 0.00 | 0.00 | 0.00 | 0.00 | 0.00 | 0.00 | XXX
82042 |  | X | Assay of urine albumin | 0.00 | 0.00 | 0.00 | 0.00 | 0.00 | 0.00 | XXX
82043 |  | X | Microalbumin, quantitative | 0.00 | 0.00 | 0.00 | 0.00 | 0.00 | 0.00 | XXX
82044 |  | X | Microalbumin, semiquant | 0.00 | 0.00 | 0.00 | 0.00 | 0.00 | 0.00 | XXX
82055 |  | X | Assay of ethanol | 0.00 | 0.00 | 0.00 | 0.00 | 0.00 | 0.00 | XXX
82075 |  | X | Assay of breath ethanol | 0.00 | 0.00 | 0.00 | 0.00 | 0.00 | 0.00 | XXX
82085 |  | X | Assay of aldolase | 0.00 | 0.00 | 0.00 | 0.00 | 0.00 | 0.00 | XXX
82088 |  | X | Assay of aldosterone | 0.00 | 0.00 | 0.00 | 0.00 | 0.00 | 0.00 | XXX
82101 |  | X | Assay of urine alkaloids | 0.00 | 0.00 | 0.00 | 0.00 | 0.00 | 0.00 | XXX
82103 |  | X | Alpha-1-antitrypsin, total | 0.00 | 0.00 | 0.00 | 0.00 | 0.00 | 0.00 | XXX
82104 |  | X | Alpha-1-antitrypsin, pheno | 0.00 | 0.00 | 0.00 | 0.00 | 0.00 | 0.00 | XXX
82105 |  | X | Alpha-fetoprotein, serum | 0.00 | 0.00 | 0.00 | 0.00 | 0.00 | 0.00 | XXX
82106 |  | X | Alpha-fetoprotein, amniotic | 0.00 | 0.00 | 0.00 | 0.00 | 0.00 | 0.00 | XXX
82108 |  | X | Assay of aluminum | 0.00 | 0.00 | 0.00 | 0.00 | 0.00 | 0.00 | XXX
82120 |  | X | Amines, vaginal fluid qual | 0.00 | 0.00 | 0.00 | 0.00 | 0.00 | 0.00 | XXX
82127 |  | X | Amino acid, single qual | 0.00 | 0.00 | 0.00 | 0.00 | 0.00 | 0.00 | XXX
82128 |  | X | Amino acids, mult qual | 0.00 | 0.00 | 0.00 | 0.00 | 0.00 | 0.00 | XXX
82131 |  | X | Amino acids, single quant | 0.00 | 0.00 | 0.00 | 0.00 | 0.00 | 0.00 | XXX
82135 |  | X | Assay, aminolevulinic acid | 0.00 | 0.00 | 0.00 | 0.00 | 0.00 | 0.00 | XXX
82136 |  | X | Amino acids, quant, 2-5 | 0.00 | 0.00 | 0.00 | 0.00 | 0.00 | 0.00 | XXX
82139 |  | X | Amino acids, quan, 6 or more | 0.00 | 0.00 | 0.00 | 0.00 | 0.00 | 0.00 | XXX
82140 |  | X | Assay of ammonia | 0.00 | 0.00 | 0.00 | 0.00 | 0.00 | 0.00 | XXX
82143 |  | X | Amniotic fluid scan | 0.00 | 0.00 | 0.00 | 0.00 | 0.00 | 0.00 | XXX
82145 |  | X | Assay of amphetamines | 0.00 | 0.00 | 0.00 | 0.00 | 0.00 | 0.00 | XXX
82150 |  | X | Assay of amylase | 0.00 | 0.00 | 0.00 | 0.00 | 0.00 | 0.00 | XXX
82154 |  | X | Androstanediol glucuronide | 0.00 | 0.00 | 0.00 | 0.00 | 0.00 | 0.00 | XXX
82157 |  | X | Assay of androstenedione | 0.00 | 0.00 | 0.00 | 0.00 | 0.00 | 0.00 | XXX
82160 |  | X | Assay of androsterone | 0.00 | 0.00 | 0.00 | 0.00 | 0.00 | 0.00 | XXX
82163 |  | X | Assay of angiotensin II | 0.00 | 0.00 | 0.00 | 0.00 | 0.00 | 0.00 | XXX
82164 |  | X | Angiotensin I enzyme test | 0.00 | 0.00 | 0.00 | 0.00 | 0.00 | 0.00 | XXX
82172 |  | X | Assay of apolipoprotein | 0.00 | 0.00 | 0.00 | 0.00 | 0.00 | 0.00 | XXX
82175 |  | X | Assay of arsenic | 0.00 | 0.00 | 0.00 | 0.00 | 0.00 | 0.00 | XXX
82180 |  | X | Assay of ascorbic acid | 0.00 | 0.00 | 0.00 | 0.00 | 0.00 | 0.00 | XXX
82190 |  | X | Atomic absorption | 0.00 | 0.00 | 0.00 | 0.00 | 0.00 | 0.00 | XXX
82205 |  | X | Assay of barbiturates | 0.00 | 0.00 | 0.00 | 0.00 | 0.00 | 0.00 | XXX
82232 |  | X | Assay of beta-2 protein | 0.00 | 0.00 | 0.00 | 0.00 | 0.00 | 0.00 | XXX
82239 |  | X | Bile acids, total | 0.00 | 0.00 | 0.00 | 0.00 | 0.00 | 0.00 | XXX
82240 |  | X | Bile acids, cholylglycine | 0.00 | 0.00 | 0.00 | 0.00 | 0.00 | 0.00 | XXX
82247 |  | X | Bilirubin, total | 0.00 | 0.00 | 0.00 | 0.00 | 0.00 | 0.00 | XXX
82248 |  | X | Bilirubin, direct | 0.00 | 0.00 | 0.00 | 0.00 | 0.00 | 0.00 | XXX
82252 |  | X | Fecal bilirubin test | 0.00 | 0.00 | 0.00 | 0.00 | 0.00 | 0.00 | XXX
82261 |  | X | Assay of biotinidase | 0.00 | 0.00 | 0.00 | 0.00 | 0.00 | 0.00 | XXX
82270 |  | X | Test for blood, feces | 0.00 | 0.00 | 0.00 | 0.00 | 0.00 | 0.00 | XXX
82273 |  | X | Test for blood, other source | 0.00 | 0.00 | 0.00 | 0.00 | 0.00 | 0.00 | XXX
82286 |  | X | Assay of bradykinin | 0.00 | 0.00 | 0.00 | 0.00 | 0.00 | 0.00 | XXX
82300 |  | X | Assay of cadmium | 0.00 | 0.00 | 0.00 | 0.00 | 0.00 | 0.00 | XXX
82306 |  | X | Assay of vitamin D | 0.00 | 0.00 | 0.00 | 0.00 | 0.00 | 0.00 | XXX
82307 |  | X | Assay of vitamin D | 0.00 | 0.00 | 0.00 | 0.00 | 0.00 | 0.00 | XXX
82308 |  | X | Assay of calcitonin | 0.00 | 0.00 | 0.00 | 0.00 | 0.00 | 0.00 | XXX
82310 |  | X | Assay of calcium | 0.00 | 0.00 | 0.00 | 0.00 | 0.00 | 0.00 | XXX
82330 |  | X | Assay of calcium | 0.00 | 0.00 | 0.00 | 0.00 | 0.00 | 0.00 | XXX
82331 |  | X | Calcium infusion test | 0.00 | 0.00 | 0.00 | 0.00 | 0.00 | 0.00 | XXX
82340 |  | X | Assay of calcium in urine | 0.00 | 0.00 | 0.00 | 0.00 | 0.00 | 0.00 | XXX
82355 |  | X | Calculus (stone) analysis | 0.00 | 0.00 | 0.00 | 0.00 | 0.00 | 0.00 | XXX
82360 |  | X | Calculus (stone) assay | 0.00 | 0.00 | 0.00 | 0.00 | 0.00 | 0.00 | XXX
82365 |  | X | Calculus (stone) assay | 0.00 | 0.00 | 0.00 | 0.00 | 0.00 | 0.00 | XXX
82370 |  | X | X-ray assay, calculus | 0.00 | 0.00 | 0.00 | 0.00 | 0.00 | 0.00 | XXX
82373 |  | X | Assay, c-d transfer measure | 0.00 | 0.00 | 0.00 | 0.00 | 0.00 | 0.00 | XXX
82374 |  | X | Assay, blood carbon dioxide | 0.00 | 0.00 | 0.00 | 0.00 | 0.00 | 0.00 | XXX
82375 |  | X | Assay, blood carbon monoxide | 0.00 | 0.00 | 0.00 | 0.00 | 0.00 | 0.00 | XXX
82376 |  | X | Test for carbon monoxide | 0.00 | 0.00 | 0.00 | 0.00 | 0.00 | 0.00 | XXX
82378 |  | X | Carcinoembryonic antigen | 0.00 | 0.00 | 0.00 | 0.00 | 0.00 | 0.00 | XXX
82379 |  | X | Assay of carnitine | 0.00 | 0.00 | 0.00 | 0.00 | 0.00 | 0.00 | XXX
82380 |  | X | Assay of carotene | 0.00 | 0.00 | 0.00 | 0.00 | 0.00 | 0.00 | XXX
82382 |  | X | Assay, urine catecholamines | 0.00 | 0.00 | 0.00 | 0.00 | 0.00 | 0.00 | XXX
82383 |  | X | Assay, blood catecholamines | 0.00 | 0.00 | 0.00 | 0.00 | 0.00 | 0.00 | XXX
82384 |  | X | Assay, three catecholamines | 0.00 | 0.00 | 0.00 | 0.00 | 0.00 | 0.00 | XXX
82387 |  | X | Assay of cathepsin-d | 0.00 | 0.00 | 0.00 | 0.00 | 0.00 | 0.00 | XXX
82390 |  | X | Assay of ceruloplasmin | 0.00 | 0.00 | 0.00 | 0.00 | 0.00 | 0.00 | XXX
82397 |  | X | Chemiluminescent assay | 0.00 | 0.00 | 0.00 | 0.00 | 0.00 | 0.00 | XXX
82415 |  | X | Assay of chloramphenicol | 0.00 | 0.00 | 0.00 | 0.00 | 0.00 | 0.00 | XXX
82435 |  | X | Assay of blood chloride | 0.00 | 0.00 | 0.00 | 0.00 | 0.00 | 0.00 | XXX
82436 |  | X | Assay of urine chloride | 0.00 | 0.00 | 0.00 | 0.00 | 0.00 | 0.00 | XXX
82438 |  | X | Assay, other fluid chlorides | 0.00 | 0.00 | 0.00 | 0.00 | 0.00 | 0.00 | XXX
82441 |  | X | Test for chlorohydrocarbons | 0.00 | 0.00 | 0.00 | 0.00 | 0.00 | 0.00 | XXX
82465 |  | X | Assay, bld/serum cholesterol | 0.00 | 0.00 | 0.00 | 0.00 | 0.00 | 0.00 | XXX
82480 |  | X | Assay, serum cholinesterase | 0.00 | 0.00 | 0.00 | 0.00 | 0.00 | 0.00 | XXX
82482 |  | X | Assay, rbc cholinesterase | 0.00 | 0.00 | 0.00 | 0.00 | 0.00 | 0.00 | XXX
82485 |  | X | Assay, chondroitin sulfate | 0.00 | 0.00 | 0.00 | 0.00 | 0.00 | 0.00 | XXX
82486 |  | X | Gas/liquid chromatography | 0.00 | 0.00 | 0.00 | 0.00 | 0.00 | 0.00 | XXX
82487 |  | X | Paper chromatography | 0.00 | 0.00 | 0.00 | 0.00 | 0.00 | 0.00 | XXX
82488 |  | X | Paper chromatography | 0.00 | 0.00 | 0.00 | 0.00 | 0.00 | 0.00 | XXX
82489 |  | X | Thin layer chromatography | 0.00 | 0.00 | 0.00 | 0.00 | 0.00 | 0.00 | XXX
82491 |  | X | Chromotography, quant, sing | 0.00 | 0.00 | 0.00 | 0.00 | 0.00 | 0.00 | XXX
82492 |  | X | Chromotography, quant, mult | 0.00 | 0.00 | 0.00 | 0.00 | 0.00 | 0.00 | XXX
82495 |  | X | Assay of chromium | 0.00 | 0.00 | 0.00 | 0.00 | 0.00 | 0.00 | XXX
82507 |  | X | Assay of citrate | 0.00 | 0.00 | 0.00 | 0.00 | 0.00 | 0.00 | XXX
82520 |  | X | Assay of cocaine | 0.00 | 0.00 | 0.00 | 0.00 | 0.00 | 0.00 | XXX
82523 |  | X | Collagen crosslinks | 0.00 | 0.00 | 0.00 | 0.00 | 0.00 | 0.00 | XXX
82525 |  | X | Assay of copper | 0.00 | 0.00 | 0.00 | 0.00 | 0.00 | 0.00 | XXX
82528 |  | X | Assay of corticosterone | 0.00 | 0.00 | 0.00 | 0.00 | 0.00 | 0.00 | XXX
82530 |  | X | Cortisol, free | 0.00 | 0.00 | 0.00 | 0.00 | 0.00 | 0.00 | XXX
82533 |  | X | Total cortisol | 0.00 | 0.00 | 0.00 | 0.00 | 0.00 | 0.00 | XXX
82540 |  | X | Assay of creatine | 0.00 | 0.00 | 0.00 | 0.00 | 0.00 | 0.00 | XXX
82541 |  | X | Column chromotography, qual | 0.00 | 0.00 | 0.00 | 0.00 | 0.00 | 0.00 | XXX
82542 |  | X | Column chromotography, quant | 0.00 | 0.00 | 0.00 | 0.00 | 0.00 | 0.00 | XXX
82543 |  | X | Column chromotograph/isotope | 0.00 | 0.00 | 0.00 | 0.00 | 0.00 | 0.00 | XXX
82544 |  | X | Column chromotograph/isotope | 0.00 | 0.00 | 0.00 | 0.00 | 0.00 | 0.00 | XXX
82550 |  | X | Assay of ck (cpk) | 0.00 | 0.00 | 0.00 | 0.00 | 0.00 | 0.00 | XXX
82552 |  | X | Assay of cpk in blood | 0.00 | 0.00 | 0.00 | 0.00 | 0.00 | 0.00 | XXX
82553 |  | X | Creatine, MB fraction | 0.00 | 0.00 | 0.00 | 0.00 | 0.00 | 0.00 | XXX
82554 |  | X | Creatine, isoforms | 0.00 | 0.00 | 0.00 | 0.00 | 0.00 | 0.00 | XXX
82565 |  | X | Assay of creatinine | 0.00 | 0.00 | 0.00 | 0.00 | 0.00 | 0.00 | XXX
82570 |  | X | Assay of urine creatinine | 0.00 | 0.00 | 0.00 | 0.00 | 0.00 | 0.00 | XXX
82575 |  | X | Creatinine clearance test | 0.00 | 0.00 | 0.00 | 0.00 | 0.00 | 0.00 | XXX
82585 |  | X | Assay of cryofibrinogen | 0.00 | 0.00 | 0.00 | 0.00 | 0.00 | 0.00 | XXX
82595 |  | X | Assay of cryoglobulin | 0.00 | 0.00 | 0.00 | 0.00 | 0.00 | 0.00 | XXX
82600 |  | X | Assay of cyanide | 0.00 | 0.00 | 0.00 | 0.00 | 0.00 | 0.00 | XXX
82607 |  | X | Vitamin B-12 | 0.00 | 0.00 | 0.00 | 0.00 | 0.00 | 0.00 | XXX
82608 |  | X | B-12 binding capacity | 0.00 | 0.00 | 0.00 | 0.00 | 0.00 | 0.00 | XXX
82615 |  | X | Test for urine cystines | 0.00 | 0.00 | 0.00 | 0.00 | 0.00 | 0.00 | XXX
82626 |  | X | Dehydroepiandrosterone | 0.00 | 0.00 | 0.00 | 0.00 | 0.00 | 0.00 | XXX
82627 |  | X | Dehydroepiandrosterone | 0.00 | 0.00 | 0.00 | 0.00 | 0.00 | 0.00 | XXX
82633 |  | X | Desoxycorticosterone | 0.00 | 0.00 | 0.00 | 0.00 | 0.00 | 0.00 | XXX
82634 |  | X | Deoxycortisol | 0.00 | 0.00 | 0.00 | 0.00 | 0.00 | 0.00 | XXX
82638 |  | X | Assay of dibucaine number | 0.00 | 0.00 | 0.00 | 0.00 | 0.00 | 0.00 | XXX
82646 |  | X | Assay of dihydrocodeinone | 0.00 | 0.00 | 0.00 | 0.00 | 0.00 | 0.00 | XXX
82649 |  | X | Assay of dihydromorphinone | 0.00 | 0.00 | 0.00 | 0.00 | 0.00 | 0.00 | XXX
82651 |  | X | Assay of dihydrotestosterone | 0.00 | 0.00 | 0.00 | 0.00 | 0.00 | 0.00 | XXX
82652 |  | X | Assay of dihydroxyvitamin d | 0.00 | 0.00 | 0.00 | 0.00 | 0.00 | 0.00 | XXX
82654 |  | X | Assay of dimethadione | 0.00 | 0.00 | 0.00 | 0.00 | 0.00 | 0.00 | XXX
82657 |  | X | Enzyme cell activity | 0.00 | 0.00 | 0.00 | 0.00 | 0.00 | 0.00 | XXX
82658 |  | X | Enzyme cell activity, ra | 0.00 | 0.00 | 0.00 | 0.00 | 0.00 | 0.00 | XXX
82664 |  | X | Electrophoretic test | 0.00 | 0.00 | 0.00 | 0.00 | 0.00 | 0.00 | XXX
82666 |  | X | Assay of epiandrosterone | 0.00 | 0.00 | 0.00 | 0.00 | 0.00 | 0.00 | XXX
82668 |  | X | Assay of erythropoietin | 0.00 | 0.00 | 0.00 | 0.00 | 0.00 | 0.00 | XXX
82670 |  | X | Assay of estradiol | 0.00 | 0.00 | 0.00 | 0.00 | 0.00 | 0.00 | XXX
82671 |  | X | Assay of estrogens | 0.00 | 0.00 | 0.00 | 0.00 | 0.00 | 0.00 | XXX
82672 |  | X | Assay of estrogen | 0.00 | 0.00 | 0.00 | 0.00 | 0.00 | 0.00 | XXX
82677 |  | X | Assay of estriol | 0.00 | 0.00 | 0.00 | 0.00 | 0.00 | 0.00 | XXX
82679 |  | X | Assay of estrone | 0.00 | 0.00 | 0.00 | 0.00 | 0.00 | 0.00 | XXX
82690 |  | X | Assay of ethchlorvynol | 0.00 | 0.00 | 0.00 | 0.00 | 0.00 | 0.00 | XXX
82693 |  | X | Assay of ethylene glycol | 0.00 | 0.00 | 0.00 | 0.00 | 0.00 | 0.00 | XXX
82696 |  | X | Assay of etiocholanolone | 0.00 | 0.00 | 0.00 | 0.00 | 0.00 | 0.00 | XXX
82705 |  | X | Fats/lipids, feces, qual | 0.00 | 0.00 | 0.00 | 0.00 | 0.00 | 0.00 | XXX
82710 |  | X | Fats/lipids, feces, quant | 0.00 | 0.00 | 0.00 | 0.00 | 0.00 | 0.00 | XXX
82715 |  | X | Assay of fecal fat | 0.00 | 0.00 | 0.00 | 0.00 | 0.00 | 0.00 | XXX
82725 |  | X | Assay of blood fatty acids | 0.00 | 0.00 | 0.00 | 0.00 | 0.00 | 0.00 | XXX
82726 |  | X | Long chain fatty acids | 0.00 | 0.00 | 0.00 | 0.00 | 0.00 | 0.00 | XXX
82728 |  | X | Assay of ferritin | 0.00 | 0.00 | 0.00 | 0.00 | 0.00 | 0.00 | XXX
82731 |  | X | Assay of fetal fibronectin | 0.00 | 0.00 | 0.00 | 0.00 | 0.00 | 0.00 | XXX
82735 |  | X | Assay of fluoride | 0.00 | 0.00 | 0.00 | 0.00 | 0.00 | 0.00 | XXX
82742 |  | X | Assay of flurazepam | 0.00 | 0.00 | 0.00 | 0.00 | 0.00 | 0.00 | XXX
82746 |  | X | Blood folic acid serum | 0.00 | 0.00 | 0.00 | 0.00 | 0.00 | 0.00 | XXX
82747 |  | X | Assay of folic acid, rbc | 0.00 | 0.00 | 0.00 | 0.00 | 0.00 | 0.00 | XXX
82757 |  | X | Assay of semen fructose | 0.00 | 0.00 | 0.00 | 0.00 | 0.00 | 0.00 | XXX
82759 |  | X | Assay of rbc galactokinase | 0.00 | 0.00 | 0.00 | 0.00 | 0.00 | 0.00 | XXX
82760 |  | X | Assay of galactose | 0.00 | 0.00 | 0.00 | 0.00 | 0.00 | 0.00 | XXX
82775 |  | X | Assay galactose transferase | 0.00 | 0.00 | 0.00 | 0.00 | 0.00 | 0.00 | XXX
82776 |  | X | Galactose transferase test | 0.00 | 0.00 | 0.00 | 0.00 | 0.00 | 0.00 | XXX
82784 |  | X | Assay of gammaglobulin igm | 0.00 | 0.00 | 0.00 | 0.00 | 0.00 | 0.00 | XXX
82785 |  | X | Assay of gammaglobulin ige | 0.00 | 0.00 | 0.00 | 0.00 | 0.00 | 0.00 | XXX
82787 |  | X | Igg 1, 2, 3 or 4, each | 0.00 | 0.00 | 0.00 | 0.00 | 0.00 | 0.00 | XXX
82800 |  | X | Blood pH | 0.00 | 0.00 | 0.00 | 0.00 | 0.00 | 0.00 | XXX
82803 |  | X | Blood gases: pH, pO2 & pCO2 | 0.00 | 0.00 | 0.00 | 0.00 | 0.00 | 0.00 | XXX
82805 |  | X | Blood gases W/02 saturation | 0.00 | 0.00 | 0.00 | 0.00 | 0.00 | 0.00 | XXX
82810 |  | X | Blood gases, O2 sat only | 0.00 | 0.00 | 0.00 | 0.00 | 0.00 | 0.00 | XXX
82820 |  | X | Hemoglobin-oxygen affinity | 0.00 | 0.00 | 0.00 | 0.00 | 0.00 | 0.00 | XXX
82926 |  | X | Assay of gastric acid | 0.00 | 0.00 | 0.00 | 0.00 | 0.00 | 0.00 | XXX
82928 |  | X | Assay of gastric acid | 0.00 | 0.00 | 0.00 | 0.00 | 0.00 | 0.00 | XXX
82938 |  | X | Gastrin test | 0.00 | 0.00 | 0.00 | 0.00 | 0.00 | 0.00 | XXX
82941 |  | X | Assay of gastrin | 0.00 | 0.00 | 0.00 | 0.00 | 0.00 | 0.00 | XXX
82943 |  | X | Assay of glucagon | 0.00 | 0.00 | 0.00 | 0.00 | 0.00 | 0.00 | XXX
82945 |  | X | Glucose other fluid | 0.00 | 0.00 | 0.00 | 0.00 | 0.00 | 0.00 | XXX
82946 |  | X | Glucagon tolerance test | 0.00 | 0.00 | 0.00 | 0.00 | 0.00 | 0.00 | XXX
82947 |  | X | Assay, glucose, blood quant | 0.00 | 0.00 | 0.00 | 0.00 | 0.00 | 0.00 | XXX
82948 |  | X | Reagent strip/blood glucose | 0.00 | 0.00 | 0.00 | 0.00 | 0.00 | 0.00 | XXX
82950 |  | X | Glucose test | 0.00 | 0.00 | 0.00 | 0.00 | 0.00 | 0.00 | XXX
82951 |  | X | Glucose tolerance test (GTT) | 0.00 | 0.00 | 0.00 | 0.00 | 0.00 | 0.00 | XXX
82952 |  | X | GTT-added samples | 0.00 | 0.00 | 0.00 | 0.00 | 0.00 | 0.00 | XXX
82953 |  | X | Glucose-tolbutamide test | 0.00 | 0.00 | 0.00 | 0.00 | 0.00 | 0.00 | XXX
82955 |  | X | Assay of g6pd enzyme | 0.00 | 0.00 | 0.00 | 0.00 | 0.00 | 0.00 | XXX
82960 |  | X | Test for G6PD enzyme | 0.00 | 0.00 | 0.00 | 0.00 | 0.00 | 0.00 | XXX
82962 |  | X | Glucose blood test | 0.00 | 0.00 | 0.00 | 0.00 | 0.00 | 0.00 | XXX
82963 |  | X | Assay of glucosidase | 0.00 | 0.00 | 0.00 | 0.00 | 0.00 | 0.00 | XXX
82965 |  | X | Assay of gdh enzyme | 0.00 | 0.00 | 0.00 | 0.00 | 0.00 | 0.00 | XXX
82975 |  | X | Assay of glutamine | 0.00 | 0.00 | 0.00 | 0.00 | 0.00 | 0.00 | XXX
82977 |  | X | Assay of GGT | 0.00 | 0.00 | 0.00 | 0.00 | 0.00 | 0.00 | XXX
82978 |  | X | Assay of glutathione | 0.00 | 0.00 | 0.00 | 0.00 | 0.00 | 0.00 | XXX
82979 |  | X | Assay, rbc glutathione | 0.00 | 0.00 | 0.00 | 0.00 | 0.00 | 0.00 | XXX
82980 |  | X | Assay of glutethimide | 0.00 | 0.00 | 0.00 | 0.00 | 0.00 | 0.00 | XXX
82985 |  | X | Glycated protein | 0.00 | 0.00 | 0.00 | 0.00 | 0.00 | 0.00 | XXX
83001 |  | X | Gonadotropin (FSH) | 0.00 | 0.00 | 0.00 | 0.00 | 0.00 | 0.00 | XXX
83002 |  | X | Gonadotropin (LH) | 0.00 | 0.00 | 0.00 | 0.00 | 0.00 | 0.00 | XXX
83003 |  | X | Assay, growth hormone (hgh) | 0.00 | 0.00 | 0.00 | 0.00 | 0.00 | 0.00 | XXX
83008 |  | X | Assay of guanosine | 0.00 | 0.00 | 0.00 | 0.00 | 0.00 | 0.00 | XXX
83010 |  | X | Assay of haptoglobin, quant | 0.00 | 0.00 | 0.00 | 0.00 | 0.00 | 0.00 | XXX
83012 |  | X | Assay of haptoglobins | 0.00 | 0.00 | 0.00 | 0.00 | 0.00 | 0.00 | XXX
83013 |  | X | H pylori analysis | 0.00 | 0.00 | 0.00 | 0.00 | 0.00 | 0.00 | XXX
83014 |  | X | H pylori drug admin/collect | 0.00 | 0.00 | 0.00 | 0.00 | 0.00 | 0.00 | XXX
83015 |  | X | Heavy metal screen | 0.00 | 0.00 | 0.00 | 0.00 | 0.00 | 0.00 | XXX
83018 |  | X | Quantitative screen, metals | 0.00 | 0.00 | 0.00 | 0.00 | 0.00 | 0.00 | XXX
83020 |  | X | Hemoglobin electrophoresis | +0.00 | 0.16 | 0.16 | 0.00 | 0.16 | 0.16 | XXX
83020 | 26 | A | Hemoglobin electrophoresis | 0.37 | 0.16 | 0.16 | 0.01 | 0.54 | 0.54 | XXX
83021 |  | X | Hemoglobin chromotography | 0.00 | 0.00 | 0.00 | 0.00 | 0.00 | 0.00 | XXX
83026 |  | X | Hemoglobin, copper sulfate | 0.00 | 0.00 | 0.00 | 0.00 | 0.00 | 0.00 | XXX
83030 |  | X | Fetal hemoglobin, chemical | 0.00 | 0.00 | 0.00 | 0.00 | 0.00 | 0.00 | XXX
83033 |  | X | Fetal hemoglobin assay, qual | 0.00 | 0.00 | 0.00 | 0.00 | 0.00 | 0.00 | XXX
83036 |  | X | Glycated hemoglobin test | 0.00 | 0.00 | 0.00 | 0.00 | 0.00 | 0.00 | XXX
83045 |  | X | Blood methemoglobin test | 0.00 | 0.00 | 0.00 | 0.00 | 0.00 | 0.00 | XXX
83050 |  | X | Blood methemoglobin assay | 0.00 | 0.00 | 0.00 | 0.00 | 0.00 | 0.00 | XXX
83051 |  | X | Assay of plasma hemoglobin | 0.00 | 0.00 | 0.00 | 0.00 | 0.00 | 0.00 | XXX
83055 |  | X | Blood sulfhemoglobin test | 0.00 | 0.00 | 0.00 | 0.00 | 0.00 | 0.00 | XXX
83060 |  | X | Blood sulfhemoglobin assay | 0.00 | 0.00 | 0.00 | 0.00 | 0.00 | 0.00 | XXX
83065 |  | X | Assay of hemoglobin heat | 0.00 | 0.00 | 0.00 | 0.00 | 0.00 | 0.00 | XXX
83068 |  | X | Hemoglobin stability screen | 0.00 | 0.00 | 0.00 | 0.00 | 0.00 | 0.00 | XXX
83069 |  | X | Assay of urine hemoglobin | 0.00 | 0.00 | 0.00 | 0.00 | 0.00 | 0.00 | XXX
83070 |  | X | Assay of hemosiderin, qual | 0.00 | 0.00 | 0.00 | 0.00 | 0.00 | 0.00 | XXX
83071 |  | X | Assay of hemosiderin, quant | 0.00 | 0.00 | 0.00 | 0.00 | 0.00 | 0.00 | XXX
83080 |  | X | Assay of b hexosaminidase | 0.00 | 0.00 | 0.00 | 0.00 | 0.00 | 0.00 | XXX
83088 |  | X | Assay of histamine | 0.00 | 0.00 | 0.00 | 0.00 | 0.00 | 0.00 | XXX
83090 |  | X | Assay of homocystine | 0.00 | 0.00 | 0.00 | 0.00 | 0.00 | 0.00 | XXX
83150 |  | X | Assay of for hva | 0.00 | 0.00 | 0.00 | 0.00 | 0.00 | 0.00 | XXX
83491 |  | X | Assay of corticosteroids | 0.00 | 0.00 | 0.00 | 0.00 | 0.00 | 0.00 | XXX
83497 |  | X | Assay of 5-hiaa | 0.00 | 0.00 | 0.00 | 0.00 | 0.00 | 0.00 | XXX
83498 |  | X | Assay of progesterone | 0.00 | 0.00 | 0.00 | 0.00 | 0.00 | 0.00 | XXX
83499 |  | X | Assay of progesterone | 0.00 | 0.00 | 0.00 | 0.00 | 0.00 | 0.00 | XXX
83500 |  | X | Assay, free hydroxyproline | 0.00 | 0.00 | 0.00 | 0.00 | 0.00 | 0.00 | XXX
83505 |  | X | Assay, total hydroxyproline | 0.00 | 0.00 | 0.00 | 0.00 | 0.00 | 0.00 | XXX
83516 |  | X | Immunoassay, nonantibody | 0.00 | 0.00 | 0.00 | 0.00 | 0.00 | 0.00 | XXX
83518 |  | X | Immunoassay, dipstick | 0.00 | 0.00 | 0.00 | 0.00 | 0.00 | 0.00 | XXX
83519 |  | X | Immunoassay, nonantibody | 0.00 | 0.00 | 0.00 | 0.00 | 0.00 | 0.00 | XXX
83520 |  | X | Immunoassay, RIA | 0.00 | 0.00 | 0.00 | 0.00 | 0.00 | 0.00 | XXX
83525 |  | X | Assay of insulin | 0.00 | 0.00 | 0.00 | 0.00 | 0.00 | 0.00 | XXX
83527 |  | X | Assay of insulin | 0.00 | 0.00 | 0.00 | 0.00 | 0.00 | 0.00 | XXX
83528 |  | X | Assay of intrinsic factor | 0.00 | 0.00 | 0.00 | 0.00 | 0.00 | 0.00 | XXX
83540 |  | X | Assay of iron | 0.00 | 0.00 | 0.00 | 0.00 | 0.00 | 0.00 | XXX
83550 |  | X | Iron binding test | 0.00 | 0.00 | 0.00 | 0.00 | 0.00 | 0.00 | XXX
83570 |  | X | Assay of idh enzyme | 0.00 | 0.00 | 0.00 | 0.00 | 0.00 | 0.00 | XXX
83582 |  | X | Assay of ketogenic steroids | 0.00 | 0.00 | 0.00 | 0.00 | 0.00 | 0.00 | XXX
83586 |  | X | Assay 17- ketosteroids | 0.00 | 0.00 | 0.00 | 0.00 | 0.00 | 0.00 | XXX
83593 |  | X | Fractionation, ketosteroids | 0.00 | 0.00 | 0.00 | 0.00 | 0.00 | 0.00 | XXX
83605 |  | X | Assay of lactic acid | 0.00 | 0.00 | 0.00 | 0.00 | 0.00 | 0.00 | XXX
83615 |  | X | Lactate (LD) (LDH) enzyme | 0.00 | 0.00 | 0.00 | 0.00 | 0.00 | 0.00 | XXX
83625 |  | X | Assay of ldh enzymes | 0.00 | 0.00 | 0.00 | 0.00 | 0.00 | 0.00 | XXX
83632 |  | X | Placental lactogen | 0.00 | 0.00 | 0.00 | 0.00 | 0.00 | 0.00 | XXX
83633 |  | X | Test urine for lactose | 0.00 | 0.00 | 0.00 | 0.00 | 0.00 | 0.00 | XXX
83634 |  | X | Assay of urine for lactose | 0.00 | 0.00 | 0.00 | 0.00 | 0.00 | 0.00 | XXX
83655 |  | X | Assay of lead | 0.00 | 0.00 | 0.00 | 0.00 | 0.00 | 0.00 | XXX
83661 |  | X | L/s ratio, fetal lung | 0.00 | 0.00 | 0.00 | 0.00 | 0.00 | 0.00 | XXX
83662 |  | X | Foam stability, fetal lung | 0.00 | 0.00 | 0.00 | 0.00 | 0.00 | 0.00 | XXX
83663 |  | X | Fluoro polarize, fetal lung | 0.00 | 0.00 | 0.00 | 0.00 | 0.00 | 0.00 | XXX
83664 |  | X | Lamellar bdy, fetal lung | 0.00 | 0.00 | 0.00 | 0.00 | 0.00 | 0.00 | XXX
83670 |  | X | Assay of lap enzyme | 0.00 | 0.00 | 0.00 | 0.00 | 0.00 | 0.00 | XXX
83690 |  | X | Assay of lipase | 0.00 | 0.00 | 0.00 | 0.00 | 0.00 | 0.00 | XXX
83715 |  | X | Assay of blood lipoproteins | 0.00 | 0.00 | 0.00 | 0.00 | 0.00 | 0.00 | XXX
83716 |  | X | Assay of blood lipoproteins | 0.00 | 0.00 | 0.00 | 0.00 | 0.00 | 0.00 | XXX
83718 |  | X | Assay of lipoprotein | 0.00 | 0.00 | 0.00 | 0.00 | 0.00 | 0.00 | XXX
83719 |  | X | Assay of blood lipoprotein | 0.00 | 0.00 | 0.00 | 0.00 | 0.00 | 0.00 | XXX
83721 |  | X | Assay of blood lipoprotein | 0.00 | 0.00 | 0.00 | 0.00 | 0.00 | 0.00 | XXX
83727 |  | X | Assay of lrh hormone | 0.00 | 0.00 | 0.00 | 0.00 | 0.00 | 0.00 | XXX
83735 |  | X | Assay of magnesium | 0.00 | 0.00 | 0.00 | 0.00 | 0.00 | 0.00 | XXX
83775 |  | X | Assay of md enzyme | 0.00 | 0.00 | 0.00 | 0.00 | 0.00 | 0.00 | XXX
83785 |  | X | Assay of manganese | 0.00 | 0.00 | 0.00 | 0.00 | 0.00 | 0.00 | XXX
83788 |  | X | Mass spectrometry qual | 0.00 | 0.00 | 0.00 | 0.00 | 0.00 | 0.00 | XXX
83789 |  | X | Mass spectrometry quant | 0.00 | 0.00 | 0.00 | 0.00 | 0.00 | 0.00 | XXX
83805 |  | X | Assay of meprobamate | 0.00 | 0.00 | 0.00 | 0.00 | 0.00 | 0.00 | XXX
83825 |  | X | Assay of mercury | 0.00 | 0.00 | 0.00 | 0.00 | 0.00 | 0.00 | XXX
83835 |  | X | Assay of metanephrines | 0.00 | 0.00 | 0.00 | 0.00 | 0.00 | 0.00 | XXX
83840 |  | X | Assay of methadone | 0.00 | 0.00 | 0.00 | 0.00 | 0.00 | 0.00 | XXX
83857 |  | X | Assay of methemalbumin | 0.00 | 0.00 | 0.00 | 0.00 | 0.00 | 0.00 | XXX
83858 |  | X | Assay of methsuximide | 0.00 | 0.00 | 0.00 | 0.00 | 0.00 | 0.00 | XXX
83864 |  | X | Mucopolysaccharides | 0.00 | 0.00 | 0.00 | 0.00 | 0.00 | 0.00 | XXX
83866 |  | X | Mucopolysaccharides screen | 0.00 | 0.00 | 0.00 | 0.00 | 0.00 | 0.00 | XXX
83872 |  | X | Assay synovial fluid mucin | 0.00 | 0.00 | 0.00 | 0.00 | 0.00 | 0.00 | XXX
83873 |  | X | Assay of csf protein | 0.00 | 0.00 | 0.00 | 0.00 | 0.00 | 0.00 | XXX
83874 |  | X | Assay of myoglobin | 0.00 | 0.00 | 0.00 | 0.00 | 0.00 | 0.00 | XXX
83883 |  | X | Assay, nephelometry not spec | 0.00 | 0.00 | 0.00 | 0.00 | 0.00 | 0.00 | XXX
83885 |  | X | Assay of nickel | 0.00 | 0.00 | 0.00 | 0.00 | 0.00 | 0.00 | XXX
83887 |  | X | Assay of nicotine | 0.00 | 0.00 | 0.00 | 0.00 | 0.00 | 0.00 | XXX
83890 |  | X | Molecule isolate | 0.00 | 0.00 | 0.00 | 0.00 | 0.00 | 0.00 | XXX
83891 |  | X | Molecule isolate nucleic | 0.00 | 0.00 | 0.00 | 0.00 | 0.00 | 0.00 | XXX
83892 |  | X | Molecular diagnostics | 0.00 | 0.00 | 0.00 | 0.00 | 0.00 | 0.00 | XXX
83893 |  | X | Molecule dot/slot/blot | 0.00 | 0.00 | 0.00 | 0.00 | 0.00 | 0.00 | XXX
83894 |  | X | Molecule gel electrophor | 0.00 | 0.00 | 0.00 | 0.00 | 0.00 | 0.00 | XXX
83896 |  | X | Molecular diagnostics | 0.00 | 0.00 | 0.00 | 0.00 | 0.00 | 0.00 | XXX
83897 |  | X | Molecule nucleic transfer | 0.00 | 0.00 | 0.00 | 0.00 | 0.00 | 0.00 | XXX
83898 |  | X | Molecule nucleic ampli | 0.00 | 0.00 | 0.00 | 0.00 | 0.00 | 0.00 | XXX
83901 |  | X | Molecule nucleic ampli | 0.00 | 0.00 | 0.00 | 0.00 | 0.00 | 0.00 | XXX
83902 |  | X | Molecular diagnostics | 0.00 | 0.00 | 0.00 | 0.00 | 0.00 | 0.00 | XXX
83903 |  | X | Molecule mutation scan | 0.00 | 0.00 | 0.00 | 0.00 | 0.00 | 0.00 | XXX
83904 |  | X | Molecule mutation identify | 0.00 | 0.00 | 0.00 | 0.00 | 0.00 | 0.00 | XXX
83905 |  | X | Molecule mutation identify | 0.00 | 0.00 | 0.00 | 0.00 | 0.00 | 0.00 | XXX
83906 |  | X | Molecule mutation identify | 0.00 | 0.00 | 0.00 | 0.00 | 0.00 | 0.00 | XXX
83912 |  | X | Genetic examination | +0.00 | 0.16 | 0.16 | 0.00 | 0.16 | 0.16 | XXX
83912 | 26 | A | Genetic examination | 0.37 | 0.16 | 0.16 | 0.01 | 0.54 | 0.54 | XXX
83915 |  | X | Assay of nucleotidase | 0.00 | 0.00 | 0.00 | 0.00 | 0.00 | 0.00 | XXX
83916 |  | X | Oligoclonal bands | 0.00 | 0.00 | 0.00 | 0.00 | 0.00 | 0.00 | XXX
83918 |  | X | Organic acids, total, quant | 0.00 | 0.00 | 0.00 | 0.00 | 0.00 | 0.00 | XXX
83919 |  | X | Organic acids, qual, each | 0.00 | 0.00 | 0.00 | 0.00 | 0.00 | 0.00 | XXX
83921 |  | X | Organic acid, single, quant | 0.00 | 0.00 | 0.00 | 0.00 | 0.00 | 0.00 | XXX
83925 |  | X | Assay of opiates | 0.00 | 0.00 | 0.00 | 0.00 | 0.00 | 0.00 | XXX
83930 |  | X | Assay of blood osmolality | 0.00 | 0.00 | 0.00 | 0.00 | 0.00 | 0.00 | XXX
83935 |  | X | Assay of urine osmolality | 0.00 | 0.00 | 0.00 | 0.00 | 0.00 | 0.00 | XXX
83937 |  | X | Assay of osteocalcin | 0.00 | 0.00 | 0.00 | 0.00 | 0.00 | 0.00 | XXX
83945 |  | X | Assay of oxalate | 0.00 | 0.00 | 0.00 | 0.00 | 0.00 | 0.00 | XXX
83970 |  | X | Assay of parathormone | 0.00 | 0.00 | 0.00 | 0.00 | 0.00 | 0.00 | XXX
83986 |  | X | Assay of body fluid acidity | 0.00 | 0.00 | 0.00 | 0.00 | 0.00 | 0.00 | XXX
83992 |  | X | Assay for phencyclidine | 0.00 | 0.00 | 0.00 | 0.00 | 0.00 | 0.00 | XXX
84022 |  | X | Assay of phenothiazine | 0.00 | 0.00 | 0.00 | 0.00 | 0.00 | 0.00 | XXX
84030 |  | X | Assay of blood pku | 0.00 | 0.00 | 0.00 | 0.00 | 0.00 | 0.00 | XXX
84035 |  | X | Assay of phenylketones | 0.00 | 0.00 | 0.00 | 0.00 | 0.00 | 0.00 | XXX
84060 |  | X | Assay acid phosphatase | 0.00 | 0.00 | 0.00 | 0.00 | 0.00 | 0.00 | XXX
84061 |  | X | Phosphatase, forensic exam | 0.00 | 0.00 | 0.00 | 0.00 | 0.00 | 0.00 | XXX
84066 |  | X | Assay prostate phosphatase | 0.00 | 0.00 | 0.00 | 0.00 | 0.00 | 0.00 | XXX
84075 |  | X | Assay alkaline phosphatase | 0.00 | 0.00 | 0.00 | 0.00 | 0.00 | 0.00 | XXX
84078 |  | X | Assay alkaline phosphatase | 0.00 | 0.00 | 0.00 | 0.00 | 0.00 | 0.00 | XXX
84080 |  | X | Assay alkaline phosphatases | 0.00 | 0.00 | 0.00 | 0.00 | 0.00 | 0.00 | XXX
84081 |  | X | Amniotic fluid enzyme test | 0.00 | 0.00 | 0.00 | 0.00 | 0.00 | 0.00 | XXX
84085 |  | X | Assay of rbc pg6d enzyme | 0.00 | 0.00 | 0.00 | 0.00 | 0.00 | 0.00 | XXX
84087 |  | X | Assay phosphohexose enzymes | 0.00 | 0.00 | 0.00 | 0.00 | 0.00 | 0.00 | XXX
84100 |  | X | Assay of phosphorus | 0.00 | 0.00 | 0.00 | 0.00 | 0.00 | 0.00 | XXX
84105 |  | X | Assay of urine phosphorus | 0.00 | 0.00 | 0.00 | 0.00 | 0.00 | 0.00 | XXX
84106 |  | X | Test for porphobilinogen | 0.00 | 0.00 | 0.00 | 0.00 | 0.00 | 0.00 | XXX
84110 |  | X | Assay of porphobilinogen | 0.00 | 0.00 | 0.00 | 0.00 | 0.00 | 0.00 | XXX
84119 |  | X | Test urine for porphyrins | 0.00 | 0.00 | 0.00 | 0.00 | 0.00 | 0.00 | XXX
84120 |  | X | Assay of urine porphyrins | 0.00 | 0.00 | 0.00 | 0.00 | 0.00 | 0.00 | XXX
84126 |  | X | Assay of feces porphyrins | 0.00 | 0.00 | 0.00 | 0.00 | 0.00 | 0.00 | XXX
84127 |  | X | Assay of feces porphyrins | 0.00 | 0.00 | 0.00 | 0.00 | 0.00 | 0.00 | XXX
84132 |  | X | Assay of serum potassium | 0.00 | 0.00 | 0.00 | 0.00 | 0.00 | 0.00 | XXX
84133 |  | X | Assay of urine potassium | 0.00 | 0.00 | 0.00 | 0.00 | 0.00 | 0.00 | XXX
84134 |  | X | Assay of prealbumin | 0.00 | 0.00 | 0.00 | 0.00 | 0.00 | 0.00 | XXX
84135 |  | X | Assay of pregnanediol | 0.00 | 0.00 | 0.00 | 0.00 | 0.00 | 0.00 | XXX
84138 |  | X | Assay of pregnanetriol | 0.00 | 0.00 | 0.00 | 0.00 | 0.00 | 0.00 | XXX
84140 |  | X | Assay of pregnenolone | 0.00 | 0.00 | 0.00 | 0.00 | 0.00 | 0.00 | XXX
84143 |  | X | Assay of 17-hydroxypregneno | 0.00 | 0.00 | 0.00 | 0.00 | 0.00 | 0.00 | XXX
84144 |  | X | Assay of progesterone | 0.00 | 0.00 | 0.00 | 0.00 | 0.00 | 0.00 | XXX
84146 |  | X | Assay of prolactin | 0.00 | 0.00 | 0.00 | 0.00 | 0.00 | 0.00 | XXX
84150 |  | X | Assay of prostaglandin | 0.00 | 0.00 | 0.00 | 0.00 | 0.00 | 0.00 | XXX
84152 |  | X | Assay of psa, complexed | 0.00 | 0.00 | 0.00 | 0.00 | 0.00 | 0.00 | XXX
84153 |  | X | Assay of psa, total | 0.00 | 0.00 | 0.00 | 0.00 | 0.00 | 0.00 | XXX
84154 |  | X | Assay of psa, free | 0.00 | 0.00 | 0.00 | 0.00 | 0.00 | 0.00 | XXX
84155 |  | X | Assay of protein | 0.00 | 0.00 | 0.00 | 0.00 | 0.00 | 0.00 | XXX
84160 |  | X | Assay of serum protein | 0.00 | 0.00 | 0.00 | 0.00 | 0.00 | 0.00 | XXX
84165 |  | X | Assay of serum proteins | +0.00 | 0.17 | 0.17 | 0.00 | 0.17 | 0.17 | XXX
84165 | 26 | A | Assay of serum proteins | 0.37 | 0.17 | 0.17 | 0.01 | 0.55 | 0.55 | XXX
84181 |  | X | Western blot test | +0.00 | 0.15 | 0.15 | 0.00 | 0.15 | 0.15 | XXX
84181 | 26 | A | Western blot test | 0.37 | 0.15 | 0.15 | 0.01 | 0.53 | 0.53 | XXX
84182 |  | X | Protein, western blot test | +0.00 | 0.17 | 0.17 | 0.00 | 0.17 | 0.17 | XXX
84182 | 26 | A | Protein, western blot test | 0.37 | 0.17 | 0.17 | 0.01 | 0.55 | 0.55 | XXX
84202 |  | X | Assay RBC protoporphyrin | 0.00 | 0.00 | 0.00 | 0.00 | 0.00 | 0.00 | XXX
84203 |  | X | Test RBC protoporphyrin | 0.00 | 0.00 | 0.00 | 0.00 | 0.00 | 0.00 | XXX
84206 |  | X | Assay of proinsulin | 0.00 | 0.00 | 0.00 | 0.00 | 0.00 | 0.00 | XXX
84207 |  | X | Assay of vitamin b-6 | 0.00 | 0.00 | 0.00 | 0.00 | 0.00 | 0.00 | XXX
84210 |  | X | Assay of pyruvate | 0.00 | 0.00 | 0.00 | 0.00 | 0.00 | 0.00 | XXX
84220 |  | X | Assay of pyruvate kinase | 0.00 | 0.00 | 0.00 | 0.00 | 0.00 | 0.00 | XXX
84228 |  | X | Assay of quinine | 0.00 | 0.00 | 0.00 | 0.00 | 0.00 | 0.00 | XXX
84233 |  | X | Assay of estrogen | 0.00 | 0.00 | 0.00 | 0.00 | 0.00 | 0.00 | XXX
84234 |  | X | Assay of progesterone | 0.00 | 0.00 | 0.00 | 0.00 | 0.00 | 0.00 | XXX
84235 |  | X | Assay of endocrine hormone | 0.00 | 0.00 | 0.00 | 0.00 | 0.00 | 0.00 | XXX
84238 |  | X | Assay, nonendocrine receptor | 0.00 | 0.00 | 0.00 | 0.00 | 0.00 | 0.00 | XXX
84244 |  | X | Assay of renin | 0.00 | 0.00 | 0.00 | 0.00 | 0.00 | 0.00 | XXX
84252 |  | X | Assay of vitamin b-2 | 0.00 | 0.00 | 0.00 | 0.00 | 0.00 | 0.00 | XXX
84255 |  | X | Assay of selenium | 0.00 | 0.00 | 0.00 | 0.00 | 0.00 | 0.00 | XXX
84260 |  | X | Assay of serotonin | 0.00 | 0.00 | 0.00 | 0.00 | 0.00 | 0.00 | XXX
84270 |  | X | Assay of sex hormone globul | 0.00 | 0.00 | 0.00 | 0.00 | 0.00 | 0.00 | XXX
84275 |  | X | Assay of sialic acid | 0.00 | 0.00 | 0.00 | 0.00 | 0.00 | 0.00 | XXX
84285 |  | X | Assay of silica | 0.00 | 0.00 | 0.00 | 0.00 | 0.00 | 0.00 | XXX
84295 |  | X | Assay of serum sodium | 0.00 | 0.00 | 0.00 | 0.00 | 0.00 | 0.00 | XXX
84300 |  | X | Assay of urine sodium | 0.00 | 0.00 | 0.00 | 0.00 | 0.00 | 0.00 | XXX
84305 |  | X | Assay of somatomedin | 0.00 | 0.00 | 0.00 | 0.00 | 0.00 | 0.00 | XXX
84307 |  | X | Assay of somatostatin | 0.00 | 0.00 | 0.00 | 0.00 | 0.00 | 0.00 | XXX
84311 |  | X | Spectrophotometry | 0.00 | 0.00 | 0.00 | 0.00 | 0.00 | 0.00 | XXX
84315 |  | X | Body fluid specific gravity | 0.00 | 0.00 | 0.00 | 0.00 | 0.00 | 0.00 | XXX
84375 |  | X | Chromatogram assay, sugars | 0.00 | 0.00 | 0.00 | 0.00 | 0.00 | 0.00 | XXX
84376 |  | X | Sugars, single, qual | 0.00 | 0.00 | 0.00 | 0.00 | 0.00 | 0.00 | XXX
84377 |  | X | Sugars, multiple, qual | 0.00 | 0.00 | 0.00 | 0.00 | 0.00 | 0.00 | XXX
84378 |  | X | Sugars single quant | 0.00 | 0.00 | 0.00 | 0.00 | 0.00 | 0.00 | XXX
84379 |  | X | Sugars multiple quant | 0.00 | 0.00 | 0.00 | 0.00 | 0.00 | 0.00 | XXX
84392 |  | X | Assay of urine sulfate | 0.00 | 0.00 | 0.00 | 0.00 | 0.00 | 0.00 | XXX
84402 |  | X | Assay of testosterone | 0.00 | 0.00 | 0.00 | 0.00 | 0.00 | 0.00 | XXX
84403 |  | X | Assay of total testosterone | 0.00 | 0.00 | 0.00 | 0.00 | 0.00 | 0.00 | XXX
84425 |  | X | Assay of vitamin b-1 | 0.00 | 0.00 | 0.00 | 0.00 | 0.00 | 0.00 | XXX
84430 |  | X | Assay of thiocyanate | 0.00 | 0.00 | 0.00 | 0.00 | 0.00 | 0.00 | XXX
84432 |  | X | Assay of thyroglobulin | 0.00 | 0.00 | 0.00 | 0.00 | 0.00 | 0.00 | XXX
84436 |  | X | Assay of total thyroxine | 0.00 | 0.00 | 0.00 | 0.00 | 0.00 | 0.00 | XXX
84437 |  | X | Assay of neonatal thyroxine | 0.00 | 0.00 | 0.00 | 0.00 | 0.00 | 0.00 | XXX
84439 |  | X | Assay of free thyroxine | 0.00 | 0.00 | 0.00 | 0.00 | 0.00 | 0.00 | XXX
84442 |  | X | Assay of thyroid activity | 0.00 | 0.00 | 0.00 | 0.00 | 0.00 | 0.00 | XXX
84443 |  | X | Assay thyroid stim hormone | 0.00 | 0.00 | 0.00 | 0.00 | 0.00 | 0.00 | XXX
84445 |  | X | Assay of tsi | 0.00 | 0.00 | 0.00 | 0.00 | 0.00 | 0.00 | XXX
84446 |  | X | Assay of vitamin e | 0.00 | 0.00 | 0.00 | 0.00 | 0.00 | 0.00 | XXX
84449 |  | X | Assay of transcortin | 0.00 | 0.00 | 0.00 | 0.00 | 0.00 | 0.00 | XXX
84450 |  | X | Transferase (AST) (SGOT) | 0.00 | 0.00 | 0.00 | 0.00 | 0.00 | 0.00 | XXX
84460 |  | X | Alanine amino (ALT) (SGPT) | 0.00 | 0.00 | 0.00 | 0.00 | 0.00 | 0.00 | XXX
84466 |  | X | Assay of transferrin | 0.00 | 0.00 | 0.00 | 0.00 | 0.00 | 0.00 | XXX
84478 |  | X | Assay of triglycerides | 0.00 | 0.00 | 0.00 | 0.00 | 0.00 | 0.00 | XXX
84479 |  | X | Assay of thyroid (t3 or t4) | 0.00 | 0.00 | 0.00 | 0.00 | 0.00 | 0.00 | XXX
84480 |  | X | Assay, triiodothyronine (t3) | 0.00 | 0.00 | 0.00 | 0.00 | 0.00 | 0.00 | XXX
84481 |  | X | Free assay (FT-3) | 0.00 | 0.00 | 0.00 | 0.00 | 0.00 | 0.00 | XXX
84482 |  | X | T3 reverse | 0.00 | 0.00 | 0.00 | 0.00 | 0.00 | 0.00 | XXX
84484 |  | X | Assay of troponin, quant | 0.00 | 0.00 | 0.00 | 0.00 | 0.00 | 0.00 | XXX
84485 |  | X | Assay duodenal fluid trypsin | 0.00 | 0.00 | 0.00 | 0.00 | 0.00 | 0.00 | XXX
84488 |  | X | Test feces for trypsin | 0.00 | 0.00 | 0.00 | 0.00 | 0.00 | 0.00 | XXX
84490 |  | X | Assay of feces for trypsin | 0.00 | 0.00 | 0.00 | 0.00 | 0.00 | 0.00 | XXX
84510 |  | X | Assay of tyrosine | 0.00 | 0.00 | 0.00 | 0.00 | 0.00 | 0.00 | XXX
84512 |  | X | Assay of troponin, qual | 0.00 | 0.00 | 0.00 | 0.00 | 0.00 | 0.00 | XXX
84520 |  | X | Assay of urea nitrogen | 0.00 | 0.00 | 0.00 | 0.00 | 0.00 | 0.00 | XXX
84525 |  | X | Urea nitrogen semi-quant | 0.00 | 0.00 | 0.00 | 0.00 | 0.00 | 0.00 | XXX
84540 |  | X | Assay of urine/urea-n | 0.00 | 0.00 | 0.00 | 0.00 | 0.00 | 0.00 | XXX
84545 |  | X | Urea-N clearance test | 0.00 | 0.00 | 0.00 | 0.00 | 0.00 | 0.00 | XXX
84550 |  | X | Assay of blood/uric acid | 0.00 | 0.00 | 0.00 | 0.00 | 0.00 | 0.00 | XXX
84560 |  | X | Assay of urine/uric acid | 0.00 | 0.00 | 0.00 | 0.00 | 0.00 | 0.00 | XXX
84577 |  | X | Assay of feces/urobilinogen | 0.00 | 0.00 | 0.00 | 0.00 | 0.00 | 0.00 | XXX
84578 |  | X | Test urine urobilinogen | 0.00 | 0.00 | 0.00 | 0.00 | 0.00 | 0.00 | XXX
84580 |  | X | Assay of urine urobilinogen | 0.00 | 0.00 | 0.00 | 0.00 | 0.00 | 0.00 | XXX
84583 |  | X | Assay of urine urobilinogen | 0.00 | 0.00 | 0.00 | 0.00 | 0.00 | 0.00 | XXX
84585 |  | X | Assay of urine vma | 0.00 | 0.00 | 0.00 | 0.00 | 0.00 | 0.00 | XXX
84586 |  | X | Assay of vip | 0.00 | 0.00 | 0.00 | 0.00 | 0.00 | 0.00 | XXX
84588 |  | X | Assay of vasopressin | 0.00 | 0.00 | 0.00 | 0.00 | 0.00 | 0.00 | XXX
84590 |  | X | Assay of vitamin a | 0.00 | 0.00 | 0.00 | 0.00 | 0.00 | 0.00 | XXX
84591 |  | X | Assay of nos vitamin | 0.00 | 0.00 | 0.00 | 0.00 | 0.00 | 0.00 | XXX
84597 |  | X | Assay of vitamin k | 0.00 | 0.00 | 0.00 | 0.00 | 0.00 | 0.00 | XXX
84600 |  | X | Assay of volatiles | 0.00 | 0.00 | 0.00 | 0.00 | 0.00 | 0.00 | XXX
84620 |  | X | Xylose tolerance test | 0.00 | 0.00 | 0.00 | 0.00 | 0.00 | 0.00 | XXX
84630 |  | X | Assay of zinc | 0.00 | 0.00 | 0.00 | 0.00 | 0.00 | 0.00 | XXX
84681 |  | X | Assay of c-peptide | 0.00 | 0.00 | 0.00 | 0.00 | 0.00 | 0.00 | XXX
84702 |  | X | Chorionic gonadotropin test | 0.00 | 0.00 | 0.00 | 0.00 | 0.00 | 0.00 | XXX
84703 |  | X | Chorionic gonadotropin assay | 0.00 | 0.00 | 0.00 | 0.00 | 0.00 | 0.00 | XXX
84830 |  | X | Ovulation tests | 0.00 | 0.00 | 0.00 | 0.00 | 0.00 | 0.00 | XXX
84999 |  | X | Clinical chemistry test | 0.00 | 0.00 | 0.00 | 0.00 | 0.00 | 0.00 | XXX
85002 |  | X | Bleeding time test | 0.00 | 0.00 | 0.00 | 0.00 | 0.00 | 0.00 | XXX
85007 |  | X | Differential WBC count | 0.00 | 0.00 | 0.00 | 0.00 | 0.00 | 0.00 | XXX
85008 |  | X | Nondifferential WBC count | 0.00 | 0.00 | 0.00 | 0.00 | 0.00 | 0.00 | XXX
85009 |  | X | Differential WBC count | 0.00 | 0.00 | 0.00 | 0.00 | 0.00 | 0.00 | XXX
85013 |  | X | Hematocrit | 0.00 | 0.00 | 0.00 | 0.00 | 0.00 | 0.00 | XXX
85014 |  | X | Hematocrit | 0.00 | 0.00 | 0.00 | 0.00 | 0.00 | 0.00 | XXX
85018 |  | X | Hemoglobin | 0.00 | 0.00 | 0.00 | 0.00 | 0.00 | 0.00 | XXX
85021 |  | X | Automated hemogram | 0.00 | 0.00 | 0.00 | 0.00 | 0.00 | 0.00 | XXX
85022 |  | X | Automated hemogram | 0.00 | 0.00 | 0.00 | 0.00 | 0.00 | 0.00 | XXX
85023 |  | X | Automated hemogram | 0.00 | 0.00 | 0.00 | 0.00 | 0.00 | 0.00 | XXX
85024 |  | X | Automated hemogram | 0.00 | 0.00 | 0.00 | 0.00 | 0.00 | 0.00 | XXX
85025 |  | X | Automated hemogram | 0.00 | 0.00 | 0.00 | 0.00 | 0.00 | 0.00 | XXX
85027 |  | X | Automated hemogram | 0.00 | 0.00 | 0.00 | 0.00 | 0.00 | 0.00 | XXX
85031 |  | X | Manual hemogram, cbc | 0.00 | 0.00 | 0.00 | 0.00 | 0.00 | 0.00 | XXX
85041 |  | X | Red blood cell (RBC) count | 0.00 | 0.00 | 0.00 | 0.00 | 0.00 | 0.00 | XXX
85044 |  | X | Reticulocyte count | 0.00 | 0.00 | 0.00 | 0.00 | 0.00 | 0.00 | XXX
85045 |  | X | Reticulocyte count | 0.00 | 0.00 | 0.00 | 0.00 | 0.00 | 0.00 | XXX
85046 |  | X | Reticyte/hgb concentrate | 0.00 | 0.00 | 0.00 | 0.00 | 0.00 | 0.00 | XXX
85048 |  | X | White blood cell (WBC) count | 0.00 | 0.00 | 0.00 | 0.00 | 0.00 | 0.00 | XXX
85060 |  | A | Blood smear interpretation | 0.45 | 0.20 | 0.20 | 0.02 | 0.67 | 0.67 | XXX
85095 |  | A | Bone marrow aspiration | 1.08 | 0.44 | 4.57 | 0.03 | 1.55 | 5.68 | XXX
85097 |  | A | Bone marrow interpretation | 0.94 | 0.42 | 1.81 | 0.03 | 1.39 | 2.78 | XXX
85102 |  | A | Bone marrow biopsy | 1.37 | 0.55 | 4.70 | 0.04 | 1.96 | 6.11 | XXX
85130 |  | X | Chromogenic substrate assay | 0.00 | 0.00 | 0.00 | 0.00 | 0.00 | 0.00 | XXX
85170 |  | X | Blood clot retraction | 0.00 | 0.00 | 0.00 | 0.00 | 0.00 | 0.00 | XXX
85175 |  | X | Blood clot lysis time | 0.00 | 0.00 | 0.00 | 0.00 | 0.00 | 0.00 | XXX
85210 |  | X | Blood clot factor II test | 0.00 | 0.00 | 0.00 | 0.00 | 0.00 | 0.00 | XXX
85220 |  | X | Blood clot factor V test | 0.00 | 0.00 | 0.00 | 0.00 | 0.00 | 0.00 | XXX
85230 |  | X | Blood clot factor VII test | 0.00 | 0.00 | 0.00 | 0.00 | 0.00 | 0.00 | XXX
85240 |  | X | Blood clot factor VIII test | 0.00 | 0.00 | 0.00 | 0.00 | 0.00 | 0.00 | XXX
85244 |  | X | Blood clot factor VIII test | 0.00 | 0.00 | 0.00 | 0.00 | 0.00 | 0.00 | XXX
85245 |  | X | Blood clot factor VIII test | 0.00 | 0.00 | 0.00 | 0.00 | 0.00 | 0.00 | XXX
85246 |  | X | Blood clot factor VIII test | 0.00 | 0.00 | 0.00 | 0.00 | 0.00 | 0.00 | XXX
85247 |  | X | Blood clot factor VIII test | 0.00 | 0.00 | 0.00 | 0.00 | 0.00 | 0.00 | XXX
85250 |  | X | Blood clot factor IX test | 0.00 | 0.00 | 0.00 | 0.00 | 0.00 | 0.00 | XXX
85260 |  | X | Blood clot factor X test | 0.00 | 0.00 | 0.00 | 0.00 | 0.00 | 0.00 | XXX
85270 |  | X | Blood clot factor XI test | 0.00 | 0.00 | 0.00 | 0.00 | 0.00 | 0.00 | XXX
85280 |  | X | Blood clot factor XII test | 0.00 | 0.00 | 0.00 | 0.00 | 0.00 | 0.00 | XXX
85290 |  | X | Blood clot factor XIII test | 0.00 | 0.00 | 0.00 | 0.00 | 0.00 | 0.00 | XXX
85291 |  | X | Blood clot factor XIII test | 0.00 | 0.00 | 0.00 | 0.00 | 0.00 | 0.00 | XXX
85292 |  | X | Blood clot factor assay | 0.00 | 0.00 | 0.00 | 0.00 | 0.00 | 0.00 | XXX
85293 |  | X | Blood clot factor assay | 0.00 | 0.00 | 0.00 | 0.00 | 0.00 | 0.00 | XXX
85300 |  | X | Antithrombin III test | 0.00 | 0.00 | 0.00 | 0.00 | 0.00 | 0.00 | XXX
85301 |  | X | Antithrombin III test | 0.00 | 0.00 | 0.00 | 0.00 | 0.00 | 0.00 | XXX
85302 |  | X | Blood clot inhibitor antigen | 0.00 | 0.00 | 0.00 | 0.00 | 0.00 | 0.00 | XXX
85303 |  | X | Blood clot inhibitor test | 0.00 | 0.00 | 0.00 | 0.00 | 0.00 | 0.00 | XXX
85305 |  | X | Blood clot inhibitor assay | 0.00 | 0.00 | 0.00 | 0.00 | 0.00 | 0.00 | XXX
85306 |  | X | Blood clot inhibitor test | 0.00 | 0.00 | 0.00 | 0.00 | 0.00 | 0.00 | XXX
85307 |  | X | Assay activated protein c | 0.00 | 0.00 | 0.00 | 0.00 | 0.00 | 0.00 | XXX
85335 |  | X | Factor inhibitor test | 0.00 | 0.00 | 0.00 | 0.00 | 0.00 | 0.00 | XXX
85337 |  | X | Thrombomodulin | 0.00 | 0.00 | 0.00 | 0.00 | 0.00 | 0.00 | XXX
85345 |  | X | Coagulation time | 0.00 | 0.00 | 0.00 | 0.00 | 0.00 | 0.00 | XXX
85347 |  | X | Coagulation time | 0.00 | 0.00 | 0.00 | 0.00 | 0.00 | 0.00 | XXX
85348 |  | X | Coagulation time | 0.00 | 0.00 | 0.00 | 0.00 | 0.00 | 0.00 | XXX
85360 |  | X | Euglobulin lysis | 0.00 | 0.00 | 0.00 | 0.00 | 0.00 | 0.00 | XXX
85362 |  | X | Fibrin degradation products | 0.00 | 0.00 | 0.00 | 0.00 | 0.00 | 0.00 | XXX
85366 |  | X | Fibrinogen test | 0.00 | 0.00 | 0.00 | 0.00 | 0.00 | 0.00 | XXX
85370 |  | X | Fibrinogen test | 0.00 | 0.00 | 0.00 | 0.00 | 0.00 | 0.00 | XXX
85378 |  | X | Fibrin degradation | 0.00 | 0.00 | 0.00 | 0.00 | 0.00 | 0.00 | XXX
85379 |  | X | Fibrin degradation | 0.00 | 0.00 | 0.00 | 0.00 | 0.00 | 0.00 | XXX
85384 |  | X | Fibrinogen | 0.00 | 0.00 | 0.00 | 0.00 | 0.00 | 0.00 | XXX
85385 |  | X | Fibrinogen | 0.00 | 0.00 | 0.00 | 0.00 | 0.00 | 0.00 | XXX
85390 |  | X | Fibrinolysins screen | +0.00 | 0.13 | 0.13 | 0.00 | 0.13 | 0.13 | XXX
85390 | 26 | A | Fibrinolysins screen | 0.37 | 0.13 | 0.13 | 0.01 | 0.51 | 0.51 | XXX
85400 |  | X | Fibrinolytic plasmin | 0.00 | 0.00 | 0.00 | 0.00 | 0.00 | 0.00 | XXX
85410 |  | X | Fibrinolytic antiplasmin | 0.00 | 0.00 | 0.00 | 0.00 | 0.00 | 0.00 | XXX
85415 |  | X | Fibrinolytic plasminogen | 0.00 | 0.00 | 0.00 | 0.00 | 0.00 | 0.00 | XXX
85420 |  | X | Fibrinolytic plasminogen | 0.00 | 0.00 | 0.00 | 0.00 | 0.00 | 0.00 | XXX
85421 |  | X | Fibrinolytic plasminogen | 0.00 | 0.00 | 0.00 | 0.00 | 0.00 | 0.00 | XXX
85441 |  | X | Heinz bodies, direct | 0.00 | 0.00 | 0.00 | 0.00 | 0.00 | 0.00 | XXX
85445 |  | X | Heinz bodies, induced | 0.00 | 0.00 | 0.00 | 0.00 | 0.00 | 0.00 | XXX
85460 |  | X | Hemoglobin, fetal | 0.00 | 0.00 | 0.00 | 0.00 | 0.00 | 0.00 | XXX
85461 |  | X | Hemoglobin, fetal | 0.00 | 0.00 | 0.00 | 0.00 | 0.00 | 0.00 | XXX
85475 |  | X | Hemolysin | 0.00 | 0.00 | 0.00 | 0.00 | 0.00 | 0.00 | XXX
85520 |  | X | Heparin assay | 0.00 | 0.00 | 0.00 | 0.00 | 0.00 | 0.00 | XXX
85525 |  | X | Heparin | 0.00 | 0.00 | 0.00 | 0.00 | 0.00 | 0.00 | XXX
85530 |  | X | Heparin-protamine tolerance | 0.00 | 0.00 | 0.00 | 0.00 | 0.00 | 0.00 | XXX
85535 |  | X | Iron stain, blood cells | 0.00 | 0.00 | 0.00 | 0.00 | 0.00 | 0.00 | XXX
85536 |  | X | Iron stain peripheral blood | 0.00 | 0.00 | 0.00 | 0.00 | 0.00 | 0.00 | XXX
85540 |  | X | Wbc alkaline phosphatase | 0.00 | 0.00 | 0.00 | 0.00 | 0.00 | 0.00 | XXX
85547 |  | X | RBC mechanical fragility | 0.00 | 0.00 | 0.00 | 0.00 | 0.00 | 0.00 | XXX
85549 |  | X | Muramidase | 0.00 | 0.00 | 0.00 | 0.00 | 0.00 | 0.00 | XXX
85555 |  | X | RBC osmotic fragility | 0.00 | 0.00 | 0.00 | 0.00 | 0.00 | 0.00 | XXX
85557 |  | X | RBC osmotic fragility | 0.00 | 0.00 | 0.00 | 0.00 | 0.00 | 0.00 | XXX
85576 |  | X | Blood platelet aggregation | +0.00 | 0.16 | 0.16 | 0.00 | 0.16 | 0.16 | XXX
85576 | 26 | A | Blood platelet aggregation | 0.37 | 0.16 | 0.16 | 0.01 | 0.54 | 0.54 | XXX
85585 |  | X | Blood platelet estimation | 0.00 | 0.00 | 0.00 | 0.00 | 0.00 | 0.00 | XXX
85590 |  | X | Platelet count, manual | 0.00 | 0.00 | 0.00 | 0.00 | 0.00 | 0.00 | XXX
85595 |  | X | Platelet count, automated | 0.00 | 0.00 | 0.00 | 0.00 | 0.00 | 0.00 | XXX
85597 |  | X | Platelet neutralization | 0.00 | 0.00 | 0.00 | 0.00 | 0.00 | 0.00 | XXX
85610 |  | X | Prothrombin time | 0.00 | 0.00 | 0.00 | 0.00 | 0.00 | 0.00 | XXX
85611 |  | X | Prothrombin test | 0.00 | 0.00 | 0.00 | 0.00 | 0.00 | 0.00 | XXX
85612 |  | X | Viper venom prothrombin time | 0.00 | 0.00 | 0.00 | 0.00 | 0.00 | 0.00 | XXX
85613 |  | X | Russell viper venom, diluted | 0.00 | 0.00 | 0.00 | 0.00 | 0.00 | 0.00 | XXX
85635 |  | X | Reptilase test | 0.00 | 0.00 | 0.00 | 0.00 | 0.00 | 0.00 | XXX
85651 |  | X | Rbc sed rate, nonautomated | 0.00 | 0.00 | 0.00 | 0.00 | 0.00 | 0.00 | XXX
85652 |  | X | Rbc sed rate, automated | 0.00 | 0.00 | 0.00 | 0.00 | 0.00 | 0.00 | XXX
85660 |  | X | RBC sickle cell test | 0.00 | 0.00 | 0.00 | 0.00 | 0.00 | 0.00 | XXX
85670 |  | X | Thrombin time, plasma | 0.00 | 0.00 | 0.00 | 0.00 | 0.00 | 0.00 | XXX
85675 |  | X | Thrombin time, titer | 0.00 | 0.00 | 0.00 | 0.00 | 0.00 | 0.00 | XXX
85705 |  | X | Thromboplastin inhibition | 0.00 | 0.00 | 0.00 | 0.00 | 0.00 | 0.00 | XXX
85730 |  | X | Thromboplastin time, partial | 0.00 | 0.00 | 0.00 | 0.00 | 0.00 | 0.00 | XXX
85732 |  | X | Thromboplastin time, partial | 0.00 | 0.00 | 0.00 | 0.00 | 0.00 | 0.00 | XXX
85810 |  | X | Blood viscosity examination | 0.00 | 0.00 | 0.00 | 0.00 | 0.00 | 0.00 | XXX
85999 |  | X | Hematology procedure | 0.00 | 0.00 | 0.00 | 0.00 | 0.00 | 0.00 | XXX
86000 |  | X | Agglutinins, febrile | 0.00 | 0.00 | 0.00 | 0.00 | 0.00 | 0.00 | XXX
86001 |  | X | Allergen specific igg | 0.00 | 0.00 | 0.00 | 0.00 | 0.00 | 0.00 | XXX
86003 |  | X | Allergen specific IgE | 0.00 | 0.00 | 0.00 | 0.00 | 0.00 | 0.00 | XXX
86005 |  | X | Allergen specific IgE | 0.00 | 0.00 | 0.00 | 0.00 | 0.00 | 0.00 | XXX
86021 |  | X | WBC antibody identification | 0.00 | 0.00 | 0.00 | 0.00 | 0.00 | 0.00 | XXX
86022 |  | X | Platelet antibodies | 0.00 | 0.00 | 0.00 | 0.00 | 0.00 | 0.00 | XXX
86023 |  | X | Immunoglobulin assay | 0.00 | 0.00 | 0.00 | 0.00 | 0.00 | 0.00 | XXX
86038 |  | X | Antinuclear antibodies | 0.00 | 0.00 | 0.00 | 0.00 | 0.00 | 0.00 | XXX
86039 |  | X | Antinuclear antibodies (ANA) | 0.00 | 0.00 | 0.00 | 0.00 | 0.00 | 0.00 | XXX
86060 |  | X | Antistreptolysin o, titer | 0.00 | 0.00 | 0.00 | 0.00 | 0.00 | 0.00 | XXX
86063 |  | X | Antistreptolysin o, screen | 0.00 | 0.00 | 0.00 | 0.00 | 0.00 | 0.00 | XXX
86077 |  | A | Physician blood bank service | 0.94 | 0.42 | 0.49 | 0.03 | 1.39 | 1.46 | XXX
86078 |  | A | Physician blood bank service | 0.94 | 0.43 | 0.52 | 0.03 | 1.40 | 1.49 | XXX
86079 |  | A | Physician blood bank service | 0.94 | 0.43 | 0.52 | 0.03 | 1.40 | 1.49 | XXX
86140 |  | X | C-reactive protein | 0.00 | 0.00 | 0.00 | 0.00 | 0.00 | 0.00 | XXX
86146 |  | X | Glycoprotein antibody | 0.00 | 0.00 | 0.00 | 0.00 | 0.00 | 0.00 | XXX
86147 |  | X | Cardiolipin antibody | 0.00 | 0.00 | 0.00 | 0.00 | 0.00 | 0.00 | XXX
86148 |  | X | Phospholipid antibody | 0.00 | 0.00 | 0.00 | 0.00 | 0.00 | 0.00 | XXX
86155 |  | X | Chemotaxis assay | 0.00 | 0.00 | 0.00 | 0.00 | 0.00 | 0.00 | XXX
86156 |  | X | Cold agglutinin, screen | 0.00 | 0.00 | 0.00 | 0.00 | 0.00 | 0.00 | XXX
86157 |  | X | Cold agglutinin, titer | 0.00 | 0.00 | 0.00 | 0.00 | 0.00 | 0.00 | XXX
86160 |  | X | Complement, antigen | 0.00 | 0.00 | 0.00 | 0.00 | 0.00 | 0.00 | XXX
86161 |  | X | Complement/function activity | 0.00 | 0.00 | 0.00 | 0.00 | 0.00 | 0.00 | XXX
86162 |  | X | Complement, total (CH50) | 0.00 | 0.00 | 0.00 | 0.00 | 0.00 | 0.00 | XXX
86171 |  | X | Complement fixation, each | 0.00 | 0.00 | 0.00 | 0.00 | 0.00 | 0.00 | XXX
86185 |  | X | Counterimmunoelectrophoresis | 0.00 | 0.00 | 0.00 | 0.00 | 0.00 | 0.00 | XXX
86215 |  | X | Deoxyribonuclease, antibody | 0.00 | 0.00 | 0.00 | 0.00 | 0.00 | 0.00 | XXX
86225 |  | X | DNA antibody | 0.00 | 0.00 | 0.00 | 0.00 | 0.00 | 0.00 | XXX
86226 |  | X | DNA antibody, single strand | 0.00 | 0.00 | 0.00 | 0.00 | 0.00 | 0.00 | XXX
86235 |  | X | Nuclear antigen antibody | 0.00 | 0.00 | 0.00 | 0.00 | 0.00 | 0.00 | XXX
86243 |  | X | Fc receptor | 0.00 | 0.00 | 0.00 | 0.00 | 0.00 | 0.00 | XXX
86255 |  | X | Fluorescent antibody, screen | +0.00 | 0.17 | 0.17 | 0.00 | 0.17 | 0.17 | XXX
86255 | 26 | A | Fluorescent antibody, screen | 0.37 | 0.17 | 0.17 | 0.01 | 0.55 | 0.55 | XXX
86256 |  | X | Fluorescent antibody, titer | +0.00 | 0.17 | 0.17 | 0.00 | 0.17 | 0.17 | XXX
86256 | 26 | A | Fluorescent antibody, titer | 0.37 | 0.17 | 0.17 | 0.01 | 0.55 | 0.55 | XXX
86277 |  | X | Growth hormone antibody | 0.00 | 0.00 | 0.00 | 0.00 | 0.00 | 0.00 | XXX
86280 |  | X | Hemagglutination inhibition | 0.00 | 0.00 | 0.00 | 0.00 | 0.00 | 0.00 | XXX
86294 |  | X | Immunoassay, tumor qual | 0.00 | 0.00 | 0.00 | 0.00 | 0.00 | 0.00 | XXX
86300 |  | X | Immunoassay, tumor ca 15-3 | 0.00 | 0.00 | 0.00 | 0.00 | 0.00 | 0.00 | XXX
86301 |  | X | Immunoassay, tumor, ca 19-9 | 0.00 | 0.00 | 0.00 | 0.00 | 0.00 | 0.00 | XXX
86304 |  | X | Immunoassay, tumor ca 125 | 0.00 | 0.00 | 0.00 | 0.00 | 0.00 | 0.00 | XXX
86308 |  | X | Heterophile antibodies | 0.00 | 0.00 | 0.00 | 0.00 | 0.00 | 0.00 | XXX
86309 |  | X | Heterophile antibodies | 0.00 | 0.00 | 0.00 | 0.00 | 0.00 | 0.00 | XXX
86310 |  | X | Heterophile antibodies | 0.00 | 0.00 | 0.00 | 0.00 | 0.00 | 0.00 | XXX
86316 |  | X | Immunoassay, tumor other | 0.00 | 0.00 | 0.00 | 0.00 | 0.00 | 0.00 | XXX
86317 |  | X | Immunoassay,infectious agent | 0.00 | 0.00 | 0.00 | 0.00 | 0.00 | 0.00 | XXX
86318 |  | X | Immunoassay,infectious agent | 0.00 | 0.00 | 0.00 | 0.00 | 0.00 | 0.00 | XXX
86320 |  | X | Serum immunoelectrophoresis | +0.00 | 0.16 | 0.17 | 0.00 | 0.16 | 0.17 | XXX
86320 | 26 | A | Serum immunoelectrophoresis | 0.37 | 0.16 | 0.17 | 0.01 | 0.54 | 0.55 | XXX
86325 |  | X | Other immunoelectrophoresis | +0.00 | 0.16 | 0.16 | 0.00 | 0.16 | 0.16 | XXX
86325 | 26 | A | Other immunoelectrophoresis | 0.37 | 0.16 | 0.16 | 0.01 | 0.54 | 0.54 | XXX
86327 |  | X | Immunoelectrophoresis assay | +0.00 | 0.19 | 0.19 | 0.00 | 0.19 | 0.19 | XXX
86327 | 26 | A | Immunoelectrophoresis assay | 0.42 | 0.19 | 0.19 | 0.01 | 0.62 | 0.62 | XXX
86329 |  | X | Immunodiffusion | 0.00 | 0.00 | 0.00 | 0.00 | 0.00 | 0.00 | XXX
86331 |  | X | Immunodiffusion ouchterlony | 0.00 | 0.00 | 0.00 | 0.00 | 0.00 | 0.00 | XXX
86332 |  | X | Immune complex assay | 0.00 | 0.00 | 0.00 | 0.00 | 0.00 | 0.00 | XXX
86334 |  | X | Immunofixation procedure | +0.00 | 0.17 | 0.17 | 0.00 | 0.17 | 0.17 | XXX
86334 | 26 | A | Immunofixation procedure | 0.37 | 0.17 | 0.17 | 0.01 | 0.55 | 0.55 | XXX
86337 |  | X | Insulin antibodies | 0.00 | 0.00 | 0.00 | 0.00 | 0.00 | 0.00 | XXX
86340 |  | X | Intrinsic factor antibody | 0.00 | 0.00 | 0.00 | 0.00 | 0.00 | 0.00 | XXX
86341 |  | X | Islet cell antibody | 0.00 | 0.00 | 0.00 | 0.00 | 0.00 | 0.00 | XXX
86343 |  | X | Leukocyte histamine release | 0.00 | 0.00 | 0.00 | 0.00 | 0.00 | 0.00 | XXX
86344 |  | X | Leukocyte phagocytosis | 0.00 | 0.00 | 0.00 | 0.00 | 0.00 | 0.00 | XXX
86353 |  | X | Lymphocyte transformation | 0.00 | 0.00 | 0.00 | 0.00 | 0.00 | 0.00 | XXX
86359 |  | X | T cells, total count | 0.00 | 0.00 | 0.00 | 0.00 | 0.00 | 0.00 | XXX
86360 |  | X | T cell, absolute count/ratio | 0.00 | 0.00 | 0.00 | 0.00 | 0.00 | 0.00 | XXX
86361 |  | X | T cell, absolute count | 0.00 | 0.00 | 0.00 | 0.00 | 0.00 | 0.00 | XXX
86376 |  | X | Microsomal antibody | 0.00 | 0.00 | 0.00 | 0.00 | 0.00 | 0.00 | XXX
86378 |  | X | Migration inhibitory factor | 0.00 | 0.00 | 0.00 | 0.00 | 0.00 | 0.00 | XXX
86382 |  | X | Neutralization test, viral | 0.00 | 0.00 | 0.00 | 0.00 | 0.00 | 0.00 | XXX
86384 |  | X | Nitroblue tetrazolium dye | 0.00 | 0.00 | 0.00 | 0.00 | 0.00 | 0.00 | XXX
86403 |  | X | Particle agglutination test | 0.00 | 0.00 | 0.00 | 0.00 | 0.00 | 0.00 | XXX
86406 |  | X | Particle agglutination test | 0.00 | 0.00 | 0.00 | 0.00 | 0.00 | 0.00 | XXX
86430 |  | X | Rheumatoid factor test | 0.00 | 0.00 | 0.00 | 0.00 | 0.00 | 0.00 | XXX
86431 |  | X | Rheumatoid factor, quant | 0.00 | 0.00 | 0.00 | 0.00 | 0.00 | 0.00 | XXX
86485 |  | C | Skin test, candida | 0.00 | 0.00 | 0.00 | 0.00 | 0.00 | 0.00 | XXX
86490 |  | A | Coccidioidomycosis skin test | 0.00 | NA | 0.29 | 0.02 | NA | 0.31 | XXX
86510 |  | A | Histoplasmosis skin test | 0.00 | NA | 0.31 | 0.02 | NA | 0.33 | XXX
86580 |  | A | TB intradermal test | 0.00 | NA | 0.25 | 0.02 | NA | 0.27 | XXX
86585 |  | A | TB tine test | 0.00 | NA | 0.20 | 0.01 | NA | 0.21 | XXX
86586 |  | C | Skin test, unlisted | 0.00 | 0.00 | 0.00 | 0.00 | 0.00 | 0.00 | XXX
86590 |  | X | Streptokinase, antibody | 0.00 | 0.00 | 0.00 | 0.00 | 0.00 | 0.00 | XXX
86592 |  | X | Blood serology, qualitative | 0.00 | 0.00 | 0.00 | 0.00 | 0.00 | 0.00 | XXX
86593 |  | X | Blood serology, quantitative | 0.00 | 0.00 | 0.00 | 0.00 | 0.00 | 0.00 | XXX
86602 |  | X | Antinomyces antibody | 0.00 | 0.00 | 0.00 | 0.00 | 0.00 | 0.00 | XXX
86603 |  | X | Adenovirus antibody | 0.00 | 0.00 | 0.00 | 0.00 | 0.00 | 0.00 | XXX
86606 |  | X | Aspergillus antibody | 0.00 | 0.00 | 0.00 | 0.00 | 0.00 | 0.00 | XXX
86609 |  | X | Bacterium antibody | 0.00 | 0.00 | 0.00 | 0.00 | 0.00 | 0.00 | XXX
86611 |  | X | Bartonella antibody | 0.00 | 0.00 | 0.00 | 0.00 | 0.00 | 0.00 | XXX
86612 |  | X | Blastomyces antibody | 0.00 | 0.00 | 0.00 | 0.00 | 0.00 | 0.00 | XXX
86615 |  | X | Bordetella antibody | 0.00 | 0.00 | 0.00 | 0.00 | 0.00 | 0.00 | XXX
86617 |  | X | Lyme disease antibody | 0.00 | 0.00 | 0.00 | 0.00 | 0.00 | 0.00 | XXX
86618 |  | X | Lyme disease antibody | 0.00 | 0.00 | 0.00 | 0.00 | 0.00 | 0.00 | XXX
86619 |  | X | Borrelia antibody | 0.00 | 0.00 | 0.00 | 0.00 | 0.00 | 0.00 | XXX
86622 |  | X | Brucella antibody | 0.00 | 0.00 | 0.00 | 0.00 | 0.00 | 0.00 | XXX
86625 |  | X | Campylobacter antibody | 0.00 | 0.00 | 0.00 | 0.00 | 0.00 | 0.00 | XXX
86628 |  | X | Candida antibody | 0.00 | 0.00 | 0.00 | 0.00 | 0.00 | 0.00 | XXX
86631 |  | X | Chlamydia antibody | 0.00 | 0.00 | 0.00 | 0.00 | 0.00 | 0.00 | XXX
86632 |  | X | Chlamydia igm antibody | 0.00 | 0.00 | 0.00 | 0.00 | 0.00 | 0.00 | XXX
86635 |  | X | Coccidioides antibody | 0.00 | 0.00 | 0.00 | 0.00 | 0.00 | 0.00 | XXX
86638 |  | X | Q fever antibody | 0.00 | 0.00 | 0.00 | 0.00 | 0.00 | 0.00 | XXX
86641 |  | X | Cryptococcus antibody | 0.00 | 0.00 | 0.00 | 0.00 | 0.00 | 0.00 | XXX
86644 |  | X | CMV antibody | 0.00 | 0.00 | 0.00 | 0.00 | 0.00 | 0.00 | XXX
86645 |  | X | CMV antibody, IgM | 0.00 | 0.00 | 0.00 | 0.00 | 0.00 | 0.00 | XXX
86648 |  | X | Diphtheria antibody | 0.00 | 0.00 | 0.00 | 0.00 | 0.00 | 0.00 | XXX
86651 |  | X | Encephalitis antibody | 0.00 | 0.00 | 0.00 | 0.00 | 0.00 | 0.00 | XXX
86652 |  | X | Encephalitis antibody | 0.00 | 0.00 | 0.00 | 0.00 | 0.00 | 0.00 | XXX
86653 |  | X | Encephalitis antibody | 0.00 | 0.00 | 0.00 | 0.00 | 0.00 | 0.00 | XXX
86654 |  | X | Encephalitis antibody | 0.00 | 0.00 | 0.00 | 0.00 | 0.00 | 0.00 | XXX
86658 |  | X | Enterovirus antibody | 0.00 | 0.00 | 0.00 | 0.00 | 0.00 | 0.00 | XXX
86663 |  | X | Epstein-barr antibody | 0.00 | 0.00 | 0.00 | 0.00 | 0.00 | 0.00 | XXX
86664 |  | X | Epstein-barr antibody | 0.00 | 0.00 | 0.00 | 0.00 | 0.00 | 0.00 | XXX
86665 |  | X | Epstein-barr antibody | 0.00 | 0.00 | 0.00 | 0.00 | 0.00 | 0.00 | XXX
86666 |  | X | Ehrlichia antibody | 0.00 | 0.00 | 0.00 | 0.00 | 0.00 | 0.00 | XXX
86668 |  | X | Francisella tularensis | 0.00 | 0.00 | 0.00 | 0.00 | 0.00 | 0.00 | XXX
86671 |  | X | Fungus antibody | 0.00 | 0.00 | 0.00 | 0.00 | 0.00 | 0.00 | XXX
86674 |  | X | Giardia lamblia antibody | 0.00 | 0.00 | 0.00 | 0.00 | 0.00 | 0.00 | XXX
86677 |  | X | Helicobacter pylori | 0.00 | 0.00 | 0.00 | 0.00 | 0.00 | 0.00 | XXX
86682 |  | X | Helminth antibody | 0.00 | 0.00 | 0.00 | 0.00 | 0.00 | 0.00 | XXX
86683 |  | X | Hemoglobin, fecal antibody | 0.00 | 0.00 | 0.00 | 0.00 | 0.00 | 0.00 | XXX
86684 |  | X | Hemophilus influenza | 0.00 | 0.00 | 0.00 | 0.00 | 0.00 | 0.00 | XXX
86687 |  | X | Htlv-i antibody | 0.00 | 0.00 | 0.00 | 0.00 | 0.00 | 0.00 | XXX
86688 |  | X | Htlv-ii antibody | 0.00 | 0.00 | 0.00 | 0.00 | 0.00 | 0.00 | XXX
86689 |  | X | HTLV/HIV confirmatory test | 0.00 | 0.00 | 0.00 | 0.00 | 0.00 | 0.00 | XXX
86692 |  | X | Hepatitis, delta agent | 0.00 | 0.00 | 0.00 | 0.00 | 0.00 | 0.00 | XXX
86694 |  | X | Herpes simplex test | 0.00 | 0.00 | 0.00 | 0.00 | 0.00 | 0.00 | XXX
86695 |  | X | Herpes simplex test | 0.00 | 0.00 | 0.00 | 0.00 | 0.00 | 0.00 | XXX
86696 |  | X | Herpes simplex type 2 | 0.00 | 0.00 | 0.00 | 0.00 | 0.00 | 0.00 | XXX
86698 |  | X | Histoplasma | 0.00 | 0.00 | 0.00 | 0.00 | 0.00 | 0.00 | XXX
86701 |  | X | HIV-1 | 0.00 | 0.00 | 0.00 | 0.00 | 0.00 | 0.00 | XXX
86702 |  | X | HIV-2 | 0.00 | 0.00 | 0.00 | 0.00 | 0.00 | 0.00 | XXX
86703 |  | X | HIV-1/HIV-2, single assay | 0.00 | 0.00 | 0.00 | 0.00 | 0.00 | 0.00 | XXX
86704 |  | X | Hep b core antibody, total | 0.00 | 0.00 | 0.00 | 0.00 | 0.00 | 0.00 | XXX
86705 |  | X | Hep b core antibody, igm | 0.00 | 0.00 | 0.00 | 0.00 | 0.00 | 0.00 | XXX
86706 |  | X | Hep b surface antibody | 0.00 | 0.00 | 0.00 | 0.00 | 0.00 | 0.00 | XXX
86707 |  | X | Hep be antibody | 0.00 | 0.00 | 0.00 | 0.00 | 0.00 | 0.00 | XXX
86708 |  | X | Hep a antibody, total | 0.00 | 0.00 | 0.00 | 0.00 | 0.00 | 0.00 | XXX
86709 |  | X | Hep a antibody, igm | 0.00 | 0.00 | 0.00 | 0.00 | 0.00 | 0.00 | XXX
86710 |  | X | Influenza virus antibody | 0.00 | 0.00 | 0.00 | 0.00 | 0.00 | 0.00 | XXX
86713 |  | X | Legionella antibody | 0.00 | 0.00 | 0.00 | 0.00 | 0.00 | 0.00 | XXX
86717 |  | X | Leishmania antibody | 0.00 | 0.00 | 0.00 | 0.00 | 0.00 | 0.00 | XXX
86720 |  | X | Leptospira antibody | 0.00 | 0.00 | 0.00 | 0.00 | 0.00 | 0.00 | XXX
86723 |  | X | Listeria monocytogenes ab | 0.00 | 0.00 | 0.00 | 0.00 | 0.00 | 0.00 | XXX
86727 |  | X | Lymph choriomeningitis ab | 0.00 | 0.00 | 0.00 | 0.00 | 0.00 | 0.00 | XXX
86729 |  | X | Lympho venereum antibody | 0.00 | 0.00 | 0.00 | 0.00 | 0.00 | 0.00 | XXX
86732 |  | X | Mucormycosis antibody | 0.00 | 0.00 | 0.00 | 0.00 | 0.00 | 0.00 | XXX
86735 |  | X | Mumps antibody | 0.00 | 0.00 | 0.00 | 0.00 | 0.00 | 0.00 | XXX
86738 |  | X | Mycoplasma antibody | 0.00 | 0.00 | 0.00 | 0.00 | 0.00 | 0.00 | XXX
86741 |  | X | Neisseria meningitidis | 0.00 | 0.00 | 0.00 | 0.00 | 0.00 | 0.00 | XXX
86744 |  | X | Nocardia antibody | 0.00 | 0.00 | 0.00 | 0.00 | 0.00 | 0.00 | XXX
86747 |  | X | Parvovirus antibody | 0.00 | 0.00 | 0.00 | 0.00 | 0.00 | 0.00 | XXX
86750 |  | X | Malaria antibody | 0.00 | 0.00 | 0.00 | 0.00 | 0.00 | 0.00 | XXX
86753 |  | X | Protozoa antibody nos | 0.00 | 0.00 | 0.00 | 0.00 | 0.00 | 0.00 | XXX
86756 |  | X | Respiratory virus antibody | 0.00 | 0.00 | 0.00 | 0.00 | 0.00 | 0.00 | XXX
86757 |  | X | Rickettsia antibody | 0.00 | 0.00 | 0.00 | 0.00 | 0.00 | 0.00 | XXX
86759 |  | X | Rotavirus antibody | 0.00 | 0.00 | 0.00 | 0.00 | 0.00 | 0.00 | XXX
86762 |  | X | Rubella antibody | 0.00 | 0.00 | 0.00 | 0.00 | 0.00 | 0.00 | XXX
86765 |  | X | Rubeola antibody | 0.00 | 0.00 | 0.00 | 0.00 | 0.00 | 0.00 | XXX
86768 |  | X | Salmonella antibody | 0.00 | 0.00 | 0.00 | 0.00 | 0.00 | 0.00 | XXX
86771 |  | X | Shigella antibody | 0.00 | 0.00 | 0.00 | 0.00 | 0.00 | 0.00 | XXX
86774 |  | X | Tetanus antibody | 0.00 | 0.00 | 0.00 | 0.00 | 0.00 | 0.00 | XXX
86777 |  | X | Toxoplasma antibody | 0.00 | 0.00 | 0.00 | 0.00 | 0.00 | 0.00 | XXX
86778 |  | X | Toxoplasma antibody, igm | 0.00 | 0.00 | 0.00 | 0.00 | 0.00 | 0.00 | XXX
86781 |  | X | Treponema pallidum, confirm | 0.00 | 0.00 | 0.00 | 0.00 | 0.00 | 0.00 | XXX
86784 |  | X | Trichinella antibody | 0.00 | 0.00 | 0.00 | 0.00 | 0.00 | 0.00 | XXX
86787 |  | X | Varicella-zoster antibody | 0.00 | 0.00 | 0.00 | 0.00 | 0.00 | 0.00 | XXX
86790 |  | X | Virus antibody nos | 0.00 | 0.00 | 0.00 | 0.00 | 0.00 | 0.00 | XXX
86793 |  | X | Yersinia antibody | 0.00 | 0.00 | 0.00 | 0.00 | 0.00 | 0.00 | XXX
86800 |  | X | Thyroglobulin antibody | 0.00 | 0.00 | 0.00 | 0.00 | 0.00 | 0.00 | XXX
86803 |  | X | Hepatitis c ab test | 0.00 | 0.00 | 0.00 | 0.00 | 0.00 | 0.00 | XXX
86804 |  | X | Hep c ab test, confirm | 0.00 | 0.00 | 0.00 | 0.00 | 0.00 | 0.00 | XXX
86805 |  | X | Lymphocytotoxicity assay | 0.00 | 0.00 | 0.00 | 0.00 | 0.00 | 0.00 | XXX
86806 |  | X | Lymphocytotoxicity assay | 0.00 | 0.00 | 0.00 | 0.00 | 0.00 | 0.00 | XXX
86807 |  | X | Cytotoxic antibody screening | 0.00 | 0.00 | 0.00 | 0.00 | 0.00 | 0.00 | XXX
86808 |  | X | Cytotoxic antibody screening | 0.00 | 0.00 | 0.00 | 0.00 | 0.00 | 0.00 | XXX
86812 |  | X | HLA typing, A, B, or C | 0.00 | 0.00 | 0.00 | 0.00 | 0.00 | 0.00 | XXX
86813 |  | X | HLA typing, A, B, or C | 0.00 | 0.00 | 0.00 | 0.00 | 0.00 | 0.00 | XXX
86816 |  | X | HLA typing, DR/DQ | 0.00 | 0.00 | 0.00 | 0.00 | 0.00 | 0.00 | XXX
86817 |  | X | HLA typing, DR/DQ | 0.00 | 0.00 | 0.00 | 0.00 | 0.00 | 0.00 | XXX
86821 |  | X | Lymphocyte culture, mixed | 0.00 | 0.00 | 0.00 | 0.00 | 0.00 | 0.00 | XXX
86822 |  | X | Lymphocyte culture, primed | 0.00 | 0.00 | 0.00 | 0.00 | 0.00 | 0.00 | XXX
86849 |  | X | Immunology procedure | 0.00 | 0.00 | 0.00 | 0.00 | 0.00 | 0.00 | XXX
86850 |  | X | RBC antibody screen | 0.00 | 0.00 | 0.00 | 0.00 | 0.00 | 0.00 | XXX
86860 |  | X | RBC antibody elution | 0.00 | 0.00 | 0.00 | 0.00 | 0.00 | 0.00 | XXX
86870 |  | X | RBC antibody identification | 0.00 | 0.00 | 0.00 | 0.00 | 0.00 | 0.00 | XXX
86880 |  | X | Coombs test | 0.00 | 0.00 | 0.00 | 0.00 | 0.00 | 0.00 | XXX
86885 |  | X | Coombs test | 0.00 | 0.00 | 0.00 | 0.00 | 0.00 | 0.00 | XXX
86886 |  | X | Coombs test | 0.00 | 0.00 | 0.00 | 0.00 | 0.00 | 0.00 | XXX
86890 |  | X | Autologous blood process | 0.00 | 0.00 | 0.00 | 0.00 | 0.00 | 0.00 | XXX
86891 |  | X | Autologous blood, op salvage | 0.00 | 0.00 | 0.00 | 0.00 | 0.00 | 0.00 | XXX
86900 |  | X | Blood typing, ABO | 0.00 | 0.00 | 0.00 | 0.00 | 0.00 | 0.00 | XXX
86901 |  | X | Blood typing, Rh (D) | 0.00 | 0.00 | 0.00 | 0.00 | 0.00 | 0.00 | XXX
86903 |  | X | Blood typing, antigen screen | 0.00 | 0.00 | 0.00 | 0.00 | 0.00 | 0.00 | XXX
86904 |  | X | Blood typing, patient serum | 0.00 | 0.00 | 0.00 | 0.00 | 0.00 | 0.00 | XXX
86905 |  | X | Blood typing, RBC antigens | 0.00 | 0.00 | 0.00 | 0.00 | 0.00 | 0.00 | XXX
86906 |  | X | Blood typing, Rh phenotype | 0.00 | 0.00 | 0.00 | 0.00 | 0.00 | 0.00 | XXX
86910 |  | N | Blood typing, paternity test | 0.00 | 0.00 | 0.00 | 0.00 | 0.00 | 0.00 | XXX
86911 |  | N | Blood typing, antigen system | 0.00 | 0.00 | 0.00 | 0.00 | 0.00 | 0.00 | XXX
86915 |  | X | Bone marrow/stem cell prep | 0.00 | 0.00 | 0.00 | 0.00 | 0.00 | 0.00 | XXX
86920 |  | X | Compatibility test | 0.00 | 0.00 | 0.00 | 0.00 | 0.00 | 0.00 | XXX
86921 |  | X | Compatibility test | 0.00 | 0.00 | 0.00 | 0.00 | 0.00 | 0.00 | XXX
86922 |  | X | Compatibility test | 0.00 | 0.00 | 0.00 | 0.00 | 0.00 | 0.00 | XXX
86927 |  | X | Plasma, fresh frozen | 0.00 | 0.00 | 0.00 | 0.00 | 0.00 | 0.00 | XXX
86930 |  | X | Frozen blood prep | 0.00 | 0.00 | 0.00 | 0.00 | 0.00 | 0.00 | XXX
86931 |  | X | Frozen blood thaw | 0.00 | 0.00 | 0.00 | 0.00 | 0.00 | 0.00 | XXX
86932 |  | X | Frozen blood freeze/thaw | 0.00 | 0.00 | 0.00 | 0.00 | 0.00 | 0.00 | XXX
86940 |  | X | Hemolysins/agglutinins, auto | 0.00 | 0.00 | 0.00 | 0.00 | 0.00 | 0.00 | XXX
86941 |  | X | Hemolysins/agglutinins | 0.00 | 0.00 | 0.00 | 0.00 | 0.00 | 0.00 | XXX
86945 |  | X | Blood product/irradiation | 0.00 | 0.00 | 0.00 | 0.00 | 0.00 | 0.00 | XXX
86950 |  | X | Leukacyte transfusion | 0.00 | 0.00 | 0.00 | 0.00 | 0.00 | 0.00 | XXX
86965 |  | X | Pooling blood platelets | 0.00 | 0.00 | 0.00 | 0.00 | 0.00 | 0.00 | XXX
86970 |  | X | RBC pretreatment | 0.00 | 0.00 | 0.00 | 0.00 | 0.00 | 0.00 | XXX
86971 |  | X | RBC pretreatment | 0.00 | 0.00 | 0.00 | 0.00 | 0.00 | 0.00 | XXX
86972 |  | X | RBC pretreatment | 0.00 | 0.00 | 0.00 | 0.00 | 0.00 | 0.00 | XXX
86975 |  | X | RBC pretreatment, serum | 0.00 | 0.00 | 0.00 | 0.00 | 0.00 | 0.00 | XXX
86976 |  | X | RBC pretreatment, serum | 0.00 | 0.00 | 0.00 | 0.00 | 0.00 | 0.00 | XXX
86977 |  | X | RBC pretreatment, serum | 0.00 | 0.00 | 0.00 | 0.00 | 0.00 | 0.00 | XXX
86978 |  | X | RBC pretreatment, serum | 0.00 | 0.00 | 0.00 | 0.00 | 0.00 | 0.00 | XXX
86985 |  | X | Split blood or products | 0.00 | 0.00 | 0.00 | 0.00 | 0.00 | 0.00 | XXX
86999 |  | X | Transfusion procedure | 0.00 | 0.00 | 0.00 | 0.00 | 0.00 | 0.00 | XXX
87001 |  | X | Small animal inoculation | 0.00 | 0.00 | 0.00 | 0.00 | 0.00 | 0.00 | XXX
87003 |  | X | Small animal inoculation | 0.00 | 0.00 | 0.00 | 0.00 | 0.00 | 0.00 | XXX
87015 |  | X | Specimen concentration | 0.00 | 0.00 | 0.00 | 0.00 | 0.00 | 0.00 | XXX
87040 |  | X | Blood culture for bacteria | 0.00 | 0.00 | 0.00 | 0.00 | 0.00 | 0.00 | XXX
87045 |  | X | Stool culture, bacteria | 0.00 | 0.00 | 0.00 | 0.00 | 0.00 | 0.00 | XXX
87046 |  | X | Stool cultr, bacteria, each | 0.00 | 0.00 | 0.00 | 0.00 | 0.00 | 0.00 | XXX
87070 |  | X | Culture, bacteria, other | 0.00 | 0.00 | 0.00 | 0.00 | 0.00 | 0.00 | XXX
87071 |  | X | Culture bacteri aerobic othr | 0.00 | 0.00 | 0.00 | 0.00 | 0.00 | 0.00 | XXX
87073 |  | X | Culture bacteria anaerobic | 0.00 | 0.00 | 0.00 | 0.00 | 0.00 | 0.00 | XXX
87075 |  | X | Culture bacteria anaerobic | 0.00 | 0.00 | 0.00 | 0.00 | 0.00 | 0.00 | XXX
87076 |  | X | Culture anaerobe ident, each | 0.00 | 0.00 | 0.00 | 0.00 | 0.00 | 0.00 | XXX
87077 |  | X | Culture aerobic identify | 0.00 | 0.00 | 0.00 | 0.00 | 0.00 | 0.00 | XXX
87081 |  | X | Culture screen only | 0.00 | 0.00 | 0.00 | 0.00 | 0.00 | 0.00 | XXX
87084 |  | X | Culture of specimen by kit | 0.00 | 0.00 | 0.00 | 0.00 | 0.00 | 0.00 | XXX
87086 |  | X | Urine culture/colony count | 0.00 | 0.00 | 0.00 | 0.00 | 0.00 | 0.00 | XXX
87088 |  | X | Urine bacteria culture | 0.00 | 0.00 | 0.00 | 0.00 | 0.00 | 0.00 | XXX
87101 |  | X | Skin fungi culture | 0.00 | 0.00 | 0.00 | 0.00 | 0.00 | 0.00 | XXX
87102 |  | X | Fungus isolation culture | 0.00 | 0.00 | 0.00 | 0.00 | 0.00 | 0.00 | XXX
87103 |  | X | Blood fungus culture | 0.00 | 0.00 | 0.00 | 0.00 | 0.00 | 0.00 | XXX
87106 |  | X | Fungi identification, yeast | 0.00 | 0.00 | 0.00 | 0.00 | 0.00 | 0.00 | XXX
87107 |  | X | Fungi identification, mold | 0.00 | 0.00 | 0.00 | 0.00 | 0.00 | 0.00 | XXX
87109 |  | X | Mycoplasma | 0.00 | 0.00 | 0.00 | 0.00 | 0.00 | 0.00 | XXX
87110 |  | X | Chlamydia culture | 0.00 | 0.00 | 0.00 | 0.00 | 0.00 | 0.00 | XXX
87116 |  | X | Mycobacteria culture | 0.00 | 0.00 | 0.00 | 0.00 | 0.00 | 0.00 | XXX
87118 |  | X | Mycobacteric identification | 0.00 | 0.00 | 0.00 | 0.00 | 0.00 | 0.00 | XXX
87140 |  | X | Cultur type immunofluoresc | 0.00 | 0.00 | 0.00 | 0.00 | 0.00 | 0.00 | XXX
87143 |  | X | Culture typing, glc/hplc | 0.00 | 0.00 | 0.00 | 0.00 | 0.00 | 0.00 | XXX
87147 |  | X | Culture type, immunologic | 0.00 | 0.00 | 0.00 | 0.00 | 0.00 | 0.00 | XXX
87149 |  | X | Culture type, nucleic acid | 0.00 | 0.00 | 0.00 | 0.00 | 0.00 | 0.00 | XXX
87152 |  | X | Culture type pulse field gel | 0.00 | 0.00 | 0.00 | 0.00 | 0.00 | 0.00 | XXX
87158 |  | X | Culture typing, added method | 0.00 | 0.00 | 0.00 | 0.00 | 0.00 | 0.00 | XXX
87164 |  | X | Dark field examination | +0.00 | 0.17 | 0.18 | 0.00 | 0.17 | 0.18 | XXX
87164 | 26 | A | Dark field examination | 0.37 | 0.17 | 0.18 | 0.01 | 0.55 | 0.56 | XXX
87166 |  | X | Dark field examination | 0.00 | 0.00 | 0.00 | 0.00 | 0.00 | 0.00 | XXX
87168 |  | X | Macroscopic exam arthropod | 0.00 | 0.00 | 0.00 | 0.00 | 0.00 | 0.00 | XXX
87169 |  | X | Macacroscopic exam parasite | 0.00 | 0.00 | 0.00 | 0.00 | 0.00 | 0.00 | XXX
87172 |  | X | Pinworm exam | 0.00 | 0.00 | 0.00 | 0.00 | 0.00 | 0.00 | XXX
87176 |  | X | Tissue homogenization, cultr | 0.00 | 0.00 | 0.00 | 0.00 | 0.00 | 0.00 | XXX
87177 |  | X | Ova and parasites smears | 0.00 | 0.00 | 0.00 | 0.00 | 0.00 | 0.00 | XXX
87181 |  | X | Microbe susceptible, diffuse | 0.00 | 0.00 | 0.00 | 0.00 | 0.00 | 0.00 | XXX
87184 |  | X | Microbe susceptible, disk | 0.00 | 0.00 | 0.00 | 0.00 | 0.00 | 0.00 | XXX
87185 |  | X | Microbe susceptible, enzyme | 0.00 | 0.00 | 0.00 | 0.00 | 0.00 | 0.00 | XXX
87186 |  | X | Microbe susceptible, mic | 0.00 | 0.00 | 0.00 | 0.00 | 0.00 | 0.00 | XXX
87187 |  | X | Microbe susceptible, mlc | 0.00 | 0.00 | 0.00 | 0.00 | 0.00 | 0.00 | XXX
87188 |  | X | Microbe suscept, macrobroth | 0.00 | 0.00 | 0.00 | 0.00 | 0.00 | 0.00 | XXX
87190 |  | X | Microbe suscept, mycobacteri | 0.00 | 0.00 | 0.00 | 0.00 | 0.00 | 0.00 | XXX
87197 |  | X | Bactericidal level, serum | 0.00 | 0.00 | 0.00 | 0.00 | 0.00 | 0.00 | XXX
87205 |  | X | Smear, gram stain | 0.00 | 0.00 | 0.00 | 0.00 | 0.00 | 0.00 | XXX
87206 |  | X | Smear, fluorescent/acid stai | 0.00 | 0.00 | 0.00 | 0.00 | 0.00 | 0.00 | XXX
87207 |  | X | Smear, special stain | +0.00 | 0.17 | 0.17 | 0.00 | 0.17 | 0.17 | XXX
87207 | 26 | A | Smear, special stain | 0.37 | 0.17 | 0.17 | 0.01 | 0.55 | 0.55 | XXX
87210 |  | X | Smear, wet mount, saline/ink | 0.00 | 0.00 | 0.00 | 0.00 | 0.00 | 0.00 | XXX
87220 |  | X | Tissue exam for fungi | 0.00 | 0.00 | 0.00 | 0.00 | 0.00 | 0.00 | XXX
87230 |  | X | Assay, toxin or antitoxin | 0.00 | 0.00 | 0.00 | 0.00 | 0.00 | 0.00 | XXX
87250 |  | X | Virus inoculate, eggs/animal | 0.00 | 0.00 | 0.00 | 0.00 | 0.00 | 0.00 | XXX
87252 |  | X | Virus inoculation, tissue | 0.00 | 0.00 | 0.00 | 0.00 | 0.00 | 0.00 | XXX
87253 |  | X | Virus inoculate tissue, addl | 0.00 | 0.00 | 0.00 | 0.00 | 0.00 | 0.00 | XXX
87254 |  | X | Virus inoculation, shell via | 0.00 | 0.00 | 0.00 | 0.00 | 0.00 | 0.00 | XXX
87260 |  | X | Adenovirus ag, if | 0.00 | 0.00 | 0.00 | 0.00 | 0.00 | 0.00 | XXX
87265 |  | X | Pertussis ag, if | 0.00 | 0.00 | 0.00 | 0.00 | 0.00 | 0.00 | XXX
87270 |  | X | Chlamydia trachomatis ag, if | 0.00 | 0.00 | 0.00 | 0.00 | 0.00 | 0.00 | XXX
87272 |  | X | Cryptosporidum/gardia ag, if | 0.00 | 0.00 | 0.00 | 0.00 | 0.00 | 0.00 | XXX
87273 |  | X | Herpes simplex 2, ag, if | 0.00 | 0.00 | 0.00 | 0.00 | 0.00 | 0.00 | XXX
87274 |  | X | Herpes simplex 1, ag, if | 0.00 | 0.00 | 0.00 | 0.00 | 0.00 | 0.00 | XXX
87275 |  | X | Influenza b, ag, if | 0.00 | 0.00 | 0.00 | 0.00 | 0.00 | 0.00 | XXX
87276 |  | X | Influenza a, ag, if | 0.00 | 0.00 | 0.00 | 0.00 | 0.00 | 0.00 | XXX
87277 |  | X | Legionella micdadei, ag, if | 0.00 | 0.00 | 0.00 | 0.00 | 0.00 | 0.00 | XXX
87278 |  | X | Legion pneumophilia ag, if | 0.00 | 0.00 | 0.00 | 0.00 | 0.00 | 0.00 | XXX
87279 |  | X | Parainfluenza, ag, if | 0.00 | 0.00 | 0.00 | 0.00 | 0.00 | 0.00 | XXX
87280 |  | X | Respiratory syncytial ag, if | 0.00 | 0.00 | 0.00 | 0.00 | 0.00 | 0.00 | XXX
87281 |  | X | Pneumocystis carinii, ag, if | 0.00 | 0.00 | 0.00 | 0.00 | 0.00 | 0.00 | XXX
87283 |  | X | Rubeola, ag, if | 0.00 | 0.00 | 0.00 | 0.00 | 0.00 | 0.00 | XXX
87285 |  | X | Treponema pallidum, ag, if | 0.00 | 0.00 | 0.00 | 0.00 | 0.00 | 0.00 | XXX
87290 |  | X | Varicella zoster, ag, if | 0.00 | 0.00 | 0.00 | 0.00 | 0.00 | 0.00 | XXX
87299 |  | X | Antibody detection, nos, if | 0.00 | 0.00 | 0.00 | 0.00 | 0.00 | 0.00 | XXX
87300 |  | X | Ag detection, polyval, if | 0.00 | 0.00 | 0.00 | 0.00 | 0.00 | 0.00 | XXX
87301 |  | X | Adenovirus ag, eia | 0.00 | 0.00 | 0.00 | 0.00 | 0.00 | 0.00 | XXX
87320 |  | X | Chylmd trach ag, eia | 0.00 | 0.00 | 0.00 | 0.00 | 0.00 | 0.00 | XXX
87324 |  | X | Clostridium ag, eia | 0.00 | 0.00 | 0.00 | 0.00 | 0.00 | 0.00 | XXX
87327 |  | X | Cryptococcus neoform ag, eia | 0.00 | 0.00 | 0.00 | 0.00 | 0.00 | 0.00 | XXX
87328 |  | X | Cryptospor ag, eia | 0.00 | 0.00 | 0.00 | 0.00 | 0.00 | 0.00 | XXX
87332 |  | X | Cytomegalovirus ag, eia | 0.00 | 0.00 | 0.00 | 0.00 | 0.00 | 0.00 | XXX
87335 |  | X | E coli 0157 ag, eia | 0.00 | 0.00 | 0.00 | 0.00 | 0.00 | 0.00 | XXX
87336 |  | X | Entamoeb hist dispr, ag, eia | 0.00 | 0.00 | 0.00 | 0.00 | 0.00 | 0.00 | XXX
87337 |  | X | Entamoeb hist group, ag, eia | 0.00 | 0.00 | 0.00 | 0.00 | 0.00 | 0.00 | XXX
87338 |  | X | Hpylori, stool, eia | 0.00 | 0.00 | 0.00 | 0.00 | 0.00 | 0.00 | XXX
87339 |  | X | Hpylori ag, eia | 0.00 | 0.00 | 0.00 | 0.00 | 0.00 | 0.00 | XXX
87340 |  | X | Hepatitis b surface ag, eia | 0.00 | 0.00 | 0.00 | 0.00 | 0.00 | 0.00 | XXX
87341 |  | X | Hepatitis b surface, ag, eia | 0.00 | 0.00 | 0.00 | 0.00 | 0.00 | 0.00 | XXX
87350 |  | X | Hepatitis be ag, eia | 0.00 | 0.00 | 0.00 | 0.00 | 0.00 | 0.00 | XXX
87380 |  | X | Hepatitis delta ag, eia | 0.00 | 0.00 | 0.00 | 0.00 | 0.00 | 0.00 | XXX
87385 |  | X | Histoplasma capsul ag, eia | 0.00 | 0.00 | 0.00 | 0.00 | 0.00 | 0.00 | XXX
87390 |  | X | Hiv-1 ag, eia | 0.00 | 0.00 | 0.00 | 0.00 | 0.00 | 0.00 | XXX
87391 |  | X | Hiv-2 ag, eia | 0.00 | 0.00 | 0.00 | 0.00 | 0.00 | 0.00 | XXX
87400 |  | X | Influenza a/b, ag, eia | 0.00 | 0.00 | 0.00 | 0.00 | 0.00 | 0.00 | XXX
87420 |  | X | Resp syncytial ag, eia | 0.00 | 0.00 | 0.00 | 0.00 | 0.00 | 0.00 | XXX
87425 |  | X | Rotavirus ag, eia | 0.00 | 0.00 | 0.00 | 0.00 | 0.00 | 0.00 | XXX
87427 |  | X | Shiga-like toxin ag, eia | 0.00 | 0.00 | 0.00 | 0.00 | 0.00 | 0.00 | XXX
87430 |  | X | Strep a ag, eia | 0.00 | 0.00 | 0.00 | 0.00 | 0.00 | 0.00 | XXX
87449 |  | X | Ag detect nos, eia, mult | 0.00 | 0.00 | 0.00 | 0.00 | 0.00 | 0.00 | XXX
87450 |  | X | Ag detect nos, eia, single | 0.00 | 0.00 | 0.00 | 0.00 | 0.00 | 0.00 | XXX
87451 |  | X | Ag detect polyval, eia, mult | 0.00 | 0.00 | 0.00 | 0.00 | 0.00 | 0.00 | XXX
87470 |  | X | Bartonella, dna, dir probe | 0.00 | 0.00 | 0.00 | 0.00 | 0.00 | 0.00 | XXX
87471 |  | X | Bartonella, dna, amp probe | 0.00 | 0.00 | 0.00 | 0.00 | 0.00 | 0.00 | XXX
87472 |  | X | Bartonella, dna, quant | 0.00 | 0.00 | 0.00 | 0.00 | 0.00 | 0.00 | XXX
87475 |  | X | Lyme dis, dna, dir probe | 0.00 | 0.00 | 0.00 | 0.00 | 0.00 | 0.00 | XXX
87476 |  | X | Lyme dis, dna, amp probe | 0.00 | 0.00 | 0.00 | 0.00 | 0.00 | 0.00 | XXX
87477 |  | X | Lyme dis, dna, quant | 0.00 | 0.00 | 0.00 | 0.00 | 0.00 | 0.00 | XXX
87480 |  | X | Candida, dna, dir probe | 0.00 | 0.00 | 0.00 | 0.00 | 0.00 | 0.00 | XXX
87481 |  | X | Candida, dna, amp probe | 0.00 | 0.00 | 0.00 | 0.00 | 0.00 | 0.00 | XXX
87482 |  | X | Candida, dna, quant | 0.00 | 0.00 | 0.00 | 0.00 | 0.00 | 0.00 | XXX
87485 |  | X | Chylmd pneum, dna, dir probe | 0.00 | 0.00 | 0.00 | 0.00 | 0.00 | 0.00 | XXX
87486 |  | X | Chylmd pneum, dna, amp probe | 0.00 | 0.00 | 0.00 | 0.00 | 0.00 | 0.00 | XXX
87487 |  | X | Chylmd pneum, dna, quant | 0.00 | 0.00 | 0.00 | 0.00 | 0.00 | 0.00 | XXX
87490 |  | X | Chylmd trach, dna, dir probe | 0.00 | 0.00 | 0.00 | 0.00 | 0.00 | 0.00 | XXX
87491 |  | X | Chylmd trach, dna, amp probe | 0.00 | 0.00 | 0.00 | 0.00 | 0.00 | 0.00 | XXX
87492 |  | X | Chylmd trach, dna, quant | 0.00 | 0.00 | 0.00 | 0.00 | 0.00 | 0.00 | XXX
87495 |  | X | Cytomeg, dna, dir probe | 0.00 | 0.00 | 0.00 | 0.00 | 0.00 | 0.00 | XXX
87496 |  | X | Cytomeg, dna, amp probe | 0.00 | 0.00 | 0.00 | 0.00 | 0.00 | 0.00 | XXX
87497 |  | X | Cytomeg, dna, quant | 0.00 | 0.00 | 0.00 | 0.00 | 0.00 | 0.00 | XXX
87510 |  | X | Gardner vag, dna, dir probe | 0.00 | 0.00 | 0.00 | 0.00 | 0.00 | 0.00 | XXX
87511 |  | X | Gardner vag, dna, amp probe | 0.00 | 0.00 | 0.00 | 0.00 | 0.00 | 0.00 | XXX
87512 |  | X | Gardner vag, dna, quant | 0.00 | 0.00 | 0.00 | 0.00 | 0.00 | 0.00 | XXX
87515 |  | X | Hepatitis b, dna, dir probe | 0.00 | 0.00 | 0.00 | 0.00 | 0.00 | 0.00 | XXX
87516 |  | X | Hepatitis b , dna, amp probe | 0.00 | 0.00 | 0.00 | 0.00 | 0.00 | 0.00 | XXX
87517 |  | X | Hepatitis b , dna, quant | 0.00 | 0.00 | 0.00 | 0.00 | 0.00 | 0.00 | XXX
87520 |  | X | Hepatitis c , rna, dir probe | 0.00 | 0.00 | 0.00 | 0.00 | 0.00 | 0.00 | XXX
87521 |  | X | Hepatitis c , rna, amp probe | 0.00 | 0.00 | 0.00 | 0.00 | 0.00 | 0.00 | XXX
87522 |  | X | Hepatitis c, rna, quant | 0.00 | 0.00 | 0.00 | 0.00 | 0.00 | 0.00 | XXX
87525 |  | X | Hepatitis g , dna, dir probe | 0.00 | 0.00 | 0.00 | 0.00 | 0.00 | 0.00 | XXX
87526 |  | X | Hepatitis g, dna, amp probe | 0.00 | 0.00 | 0.00 | 0.00 | 0.00 | 0.00 | XXX
87527 |  | X | Hepatitis g, dna, quant | 0.00 | 0.00 | 0.00 | 0.00 | 0.00 | 0.00 | XXX
87528 |  | X | Hsv, dna, dir probe | 0.00 | 0.00 | 0.00 | 0.00 | 0.00 | 0.00 | XXX
87529 |  | X | Hsv, dna, amp probe | 0.00 | 0.00 | 0.00 | 0.00 | 0.00 | 0.00 | XXX
87530 |  | X | Hsv, dna, quant | 0.00 | 0.00 | 0.00 | 0.00 | 0.00 | 0.00 | XXX
87531 |  | X | Hhv-6, dna, dir probe | 0.00 | 0.00 | 0.00 | 0.00 | 0.00 | 0.00 | XXX
87532 |  | X | Hhv-6, dna, amp probe | 0.00 | 0.00 | 0.00 | 0.00 | 0.00 | 0.00 | XXX
87533 |  | X | Hhv-6, dna, quant | 0.00 | 0.00 | 0.00 | 0.00 | 0.00 | 0.00 | XXX
87534 |  | X | Hiv-1, dna, dir probe | 0.00 | 0.00 | 0.00 | 0.00 | 0.00 | 0.00 | XXX
87535 |  | X | Hiv-1, dna, amp probe | 0.00 | 0.00 | 0.00 | 0.00 | 0.00 | 0.00 | XXX
87536 |  | X | Hiv-1, dna, quant | 0.00 | 0.00 | 0.00 | 0.00 | 0.00 | 0.00 | XXX
87537 |  | X | Hiv-2, dna, dir probe | 0.00 | 0.00 | 0.00 | 0.00 | 0.00 | 0.00 | XXX
87538 |  | X | Hiv-2, dna, amp probe | 0.00 | 0.00 | 0.00 | 0.00 | 0.00 | 0.00 | XXX
87539 |  | X | Hiv-2, dna, quant | 0.00 | 0.00 | 0.00 | 0.00 | 0.00 | 0.00 | XXX
87540 |  | X | Legion pneumo, dna, dir prob | 0.00 | 0.00 | 0.00 | 0.00 | 0.00 | 0.00 | XXX
87541 |  | X | Legion pneumo, dna, amp prob | 0.00 | 0.00 | 0.00 | 0.00 | 0.00 | 0.00 | XXX
87542 |  | X | Legion pneumo, dna, quant | 0.00 | 0.00 | 0.00 | 0.00 | 0.00 | 0.00 | XXX
87550 |  | X | Mycobacteria, dna, dir probe | 0.00 | 0.00 | 0.00 | 0.00 | 0.00 | 0.00 | XXX
87551 |  | X | Mycobacteria, dna, amp probe | 0.00 | 0.00 | 0.00 | 0.00 | 0.00 | 0.00 | XXX
87552 |  | X | Mycobacteria, dna, quant | 0.00 | 0.00 | 0.00 | 0.00 | 0.00 | 0.00 | XXX
87555 |  | X | M.tuberculo, dna, dir probe | 0.00 | 0.00 | 0.00 | 0.00 | 0.00 | 0.00 | XXX
87556 |  | X | M.tuberculo, dna, amp probe | 0.00 | 0.00 | 0.00 | 0.00 | 0.00 | 0.00 | XXX
87557 |  | X | M.tuberculo, dna, quant | 0.00 | 0.00 | 0.00 | 0.00 | 0.00 | 0.00 | XXX
87560 |  | X | M.avium-intra, dna, dir prob | 0.00 | 0.00 | 0.00 | 0.00 | 0.00 | 0.00 | XXX
87561 |  | X | M.avium-intra, dna, amp prob | 0.00 | 0.00 | 0.00 | 0.00 | 0.00 | 0.00 | XXX
87562 |  | X | M.avium-intra, dna, quant | 0.00 | 0.00 | 0.00 | 0.00 | 0.00 | 0.00 | XXX
87580 |  | X | M.pneumon, dna, dir probe | 0.00 | 0.00 | 0.00 | 0.00 | 0.00 | 0.00 | XXX
87581 |  | X | M.pneumon, dna, amp probe | 0.00 | 0.00 | 0.00 | 0.00 | 0.00 | 0.00 | XXX
87582 |  | X | M.pneumon, dna, quant | 0.00 | 0.00 | 0.00 | 0.00 | 0.00 | 0.00 | XXX
87590 |  | X | N.gonorrhoeae, dna, dir prob | 0.00 | 0.00 | 0.00 | 0.00 | 0.00 | 0.00 | XXX
87591 |  | X | N.gonorrhoeae, dna, amp prob | 0.00 | 0.00 | 0.00 | 0.00 | 0.00 | 0.00 | XXX
87592 |  | X | N.gonorrhoeae, dna, quant | 0.00 | 0.00 | 0.00 | 0.00 | 0.00 | 0.00 | XXX
87620 |  | X | Hpv, dna, dir probe | 0.00 | 0.00 | 0.00 | 0.00 | 0.00 | 0.00 | XXX
87621 |  | X | Hpv, dna, amp probe | 0.00 | 0.00 | 0.00 | 0.00 | 0.00 | 0.00 | XXX
87622 |  | X | Hpv, dna, quant | 0.00 | 0.00 | 0.00 | 0.00 | 0.00 | 0.00 | XXX
87650 |  | X | Strep a, dna, dir probe | 0.00 | 0.00 | 0.00 | 0.00 | 0.00 | 0.00 | XXX
87651 |  | X | Strep a, dna, amp probe | 0.00 | 0.00 | 0.00 | 0.00 | 0.00 | 0.00 | XXX
87652 |  | X | Strep a, dna, quant | 0.00 | 0.00 | 0.00 | 0.00 | 0.00 | 0.00 | XXX
87797 |  | X | Detect agent nos, dna, dir | 0.00 | 0.00 | 0.00 | 0.00 | 0.00 | 0.00 | XXX
87798 |  | X | Detect agent nos, dna, amp | 0.00 | 0.00 | 0.00 | 0.00 | 0.00 | 0.00 | XXX
87799 |  | X | Detect agent nos, dna, quant | 0.00 | 0.00 | 0.00 | 0.00 | 0.00 | 0.00 | XXX
87800 |  | X | Detect agnt mult, dna, direc | 0.00 | 0.00 | 0.00 | 0.00 | 0.00 | 0.00 | XXX
87801 |  | X | Detect agnt mult, dna, ampli | 0.00 | 0.00 | 0.00 | 0.00 | 0.00 | 0.00 | XXX
87810 |  | X | Chylmd trach assay w/optic | 0.00 | 0.00 | 0.00 | 0.00 | 0.00 | 0.00 | XXX
87850 |  | X | N. gonorrhoeae assay w/optic | 0.00 | 0.00 | 0.00 | 0.00 | 0.00 | 0.00 | XXX
87880 |  | X | Strep a assay w/optic | 0.00 | 0.00 | 0.00 | 0.00 | 0.00 | 0.00 | XXX
87899 |  | X | Agent nos assay w/optic | 0.00 | 0.00 | 0.00 | 0.00 | 0.00 | 0.00 | XXX
87901 |  | X | Genotype, dna, hiv reverse t | 0.00 | 0.00 | 0.00 | 0.00 | 0.00 | 0.00 | XXX
87903 |  | X | Phenotype, dna hiv w/culture | 0.00 | 0.00 | 0.00 | 0.00 | 0.00 | 0.00 | XXX
87904 |  | X | Phenotype, dna hiv w/clt add | 0.00 | 0.00 | 0.00 | 0.00 | 0.00 | 0.00 | XXX
87999 |  | X | Microbiology procedure | 0.00 | 0.00 | 0.00 | 0.00 | 0.00 | 0.00 | XXX
88000 |  | N | Autopsy (necropsy), gross | 0.00 | 0.00 | 0.00 | 0.00 | 0.00 | 0.00 | XXX
88005 |  | N | Autopsy (necropsy), gross | 0.00 | 0.00 | 0.00 | 0.00 | 0.00 | 0.00 | XXX
88007 |  | N | Autopsy (necropsy), gross | 0.00 | 0.00 | 0.00 | 0.00 | 0.00 | 0.00 | XXX
88012 |  | N | Autopsy (necropsy), gross | 0.00 | 0.00 | 0.00 | 0.00 | 0.00 | 0.00 | XXX
88014 |  | N | Autopsy (necropsy), gross | 0.00 | 0.00 | 0.00 | 0.00 | 0.00 | 0.00 | XXX
88016 |  | N | Autopsy (necropsy), gross | 0.00 | 0.00 | 0.00 | 0.00 | 0.00 | 0.00 | XXX
88020 |  | N | Autopsy (necropsy), complete | 0.00 | 0.00 | 0.00 | 0.00 | 0.00 | 0.00 | XXX
88025 |  | N | Autopsy (necropsy), complete | 0.00 | 0.00 | 0.00 | 0.00 | 0.00 | 0.00 | XXX
88027 |  | N | Autopsy (necropsy), complete | 0.00 | 0.00 | 0.00 | 0.00 | 0.00 | 0.00 | XXX
88028 |  | N | Autopsy (necropsy), complete | 0.00 | 0.00 | 0.00 | 0.00 | 0.00 | 0.00 | XXX
88029 |  | N | Autopsy (necropsy), complete | 0.00 | 0.00 | 0.00 | 0.00 | 0.00 | 0.00 | XXX
88036 |  | N | Limited autopsy | 0.00 | 0.00 | 0.00 | 0.00 | 0.00 | 0.00 | XXX
88037 |  | N | Limited autopsy | 0.00 | 0.00 | 0.00 | 0.00 | 0.00 | 0.00 | XXX
88040 |  | N | Forensic autopsy (necropsy) | 0.00 | 0.00 | 0.00 | 0.00 | 0.00 | 0.00 | XXX
88045 |  | N | Coroner's autopsy (necropsy) | 0.00 | 0.00 | 0.00 | 0.00 | 0.00 | 0.00 | XXX
88099 |  | N | Necropsy (autopsy) procedure | 0.00 | 0.00 | 0.00 | 0.00 | 0.00 | 0.00 | XXX
88104 |  | A | Cytopathology, fluids | 0.56 | NA | 0.81 | 0.04 | NA | 1.41 | XXX
88104 | 26 | A | Cytopathology, fluids | 0.56 | 0.26 | 0.26 | 0.02 | 0.84 | 0.84 | XXX
88104 | TC | A | Cytopathology, fluids | 0.00 | NA | 0.55 | 0.02 | NA | 0.57 | XXX
88106 |  | A | Cytopathology, fluids | 0.56 | NA | 0.55 | 0.04 | NA | 1.15 | XXX
88106 | 26 | A | Cytopathology, fluids | 0.56 | 0.26 | 0.26 | 0.02 | 0.84 | 0.84 | XXX
88106 | TC | A | Cytopathology, fluids | 0.00 | NA | 0.29 | 0.02 | NA | 0.31 | XXX
88107 |  | A | Cytopathology, fluids | 0.76 | NA | 0.89 | 0.05 | NA | 1.70 | XXX
88107 | 26 | A | Cytopathology, fluids | 0.76 | 0.35 | 0.35 | 0.03 | 1.14 | 1.14 | XXX
88107 | TC | A | Cytopathology, fluids | 0.00 | NA | 0.54 | 0.02 | NA | 0.56 | XXX
88108 |  | A | Cytopath, concentrate tech | 0.56 | NA | 0.72 | 0.04 | NA | 1.32 | XXX
88108 | 26 | A | Cytopath, concentrate tech | 0.56 | 0.26 | 0.26 | 0.02 | 0.84 | 0.84 | XXX
88108 | TC | A | Cytopath, concentrate tech | 0.00 | NA | 0.46 | 0.02 | NA | 0.48 | XXX
88125 |  | A | Forensic cytopathology | 0.26 | NA | 0.33 | 0.02 | NA | 0.61 | XXX
88125 | 26 | A | Forensic cytopathology | 0.26 | 0.12 | 0.12 | 0.01 | 0.39 | 0.39 | XXX
88125 | TC | A | Forensic cytopathology | 0.00 | NA | 0.21 | 0.01 | NA | 0.22 | XXX
88130 |  | X | Sex chromatin identification | 0.00 | 0.00 | 0.00 | 0.00 | 0.00 | 0.00 | XXX
88140 |  | X | Sex chromatin identification | 0.00 | 0.00 | 0.00 | 0.00 | 0.00 | 0.00 | XXX
88141 |  | A | Cytopath, c/v, interpret | 0.42 | 0.19 | 0.19 | 0.01 | 0.62 | 0.62 | XXX
88142 |  | X | Cytopath, c/v, thin layer | 0.00 | 0.00 | 0.00 | 0.00 | 0.00 | 0.00 | XXX
88143 |  | X | Cytopath c/v thin layer redo | 0.00 | 0.00 | 0.00 | 0.00 | 0.00 | 0.00 | XXX
88144 |  | X | Cytopath, c/v thin lyr redo | 0.00 | 0.00 | 0.00 | 0.00 | 0.00 | 0.00 | XXX
88145 |  | X | Cytopath, c/v thin lyr sel | 0.00 | 0.00 | 0.00 | 0.00 | 0.00 | 0.00 | XXX
88147 |  | X | Cytopath, c/v, automated | 0.00 | 0.00 | 0.00 | 0.00 | 0.00 | 0.00 | XXX
88148 |  | X | Cytopath, c/v, auto rescreen | 0.00 | 0.00 | 0.00 | 0.00 | 0.00 | 0.00 | XXX
88150 |  | X | Cytopath, c/v, manual | 0.00 | 0.00 | 0.00 | 0.00 | 0.00 | 0.00 | XXX
88152 |  | X | Cytopath, c/v, auto redo | 0.00 | 0.00 | 0.00 | 0.00 | 0.00 | 0.00 | XXX
88153 |  | X | Cytopath, c/v, redo | 0.00 | 0.00 | 0.00 | 0.00 | 0.00 | 0.00 | XXX
88154 |  | X | Cytopath, c/v, select | 0.00 | 0.00 | 0.00 | 0.00 | 0.00 | 0.00 | XXX
88155 |  | X | Cytopath, c/v, index add-on | 0.00 | 0.00 | 0.00 | 0.00 | 0.00 | 0.00 | XXX
88160 |  | A | Cytopath smear, other source | 0.50 | NA | 0.98 | 0.04 | NA | 1.52 | XXX
88160 | 26 | A | Cytopath smear, other source | 0.50 | 0.23 | 0.23 | 0.02 | 0.75 | 0.75 | XXX
88160 | TC | A | Cytopath smear, other source | 0.00 | NA | 0.75 | 0.02 | NA | 0.77 | XXX
88161 |  | A | Cytopath smear, other source | 0.50 | NA | 0.99 | 0.04 | NA | 1.53 | XXX
88161 | 26 | A | Cytopath smear, other source | 0.50 | 0.23 | 0.23 | 0.02 | 0.75 | 0.75 | XXX
88161 | TC | A | Cytopath smear, other source | 0.00 | NA | 0.76 | 0.02 | NA | 0.78 | XXX
88162 |  | A | Cytopath smear, other source | 0.76 | NA | 0.84 | 0.05 | NA | 1.65 | XXX
88162 | 26 | A | Cytopath smear, other source | 0.76 | 0.35 | 0.35 | 0.03 | 1.14 | 1.14 | XXX
88162 | TC | A | Cytopath smear, other source | 0.00 | NA | 0.49 | 0.02 | NA | 0.51 | XXX
88164 |  | X | Cytopath tbs, c/v, manual | 0.00 | 0.00 | 0.00 | 0.00 | 0.00 | 0.00 | XXX
88165 |  | X | Cytopath tbs, c/v, redo | 0.00 | 0.00 | 0.00 | 0.00 | 0.00 | 0.00 | XXX
88166 |  | X | Cytopath tbs, c/v, auto redo | 0.00 | 0.00 | 0.00 | 0.00 | 0.00 | 0.00 | XXX
88167 |  | X | Cytopath tbs, c/v, select | 0.00 | 0.00 | 0.00 | 0.00 | 0.00 | 0.00 | XXX
88170 |  | A | Fine needle aspiration | 1.27 | NA | 0.89 | 0.10 | NA | 2.26 | XXX
88170 | 26 | A | Fine needle aspiration | 1.27 | 0.55 | 0.55 | 0.07 | 1.89 | 1.89 | XXX
88170 | TC | A | Fine needle aspiration | 0.00 | NA | 0.34 | 0.03 | NA | 0.37 | XXX
88171 |  | A | Fine needle aspiration | 1.27 | NA | 0.73 | 0.08 | NA | 2.08 | XXX
88171 | 26 | A | Fine needle aspiration | 1.27 | 0.50 | 0.50 | 0.05 | 1.82 | 1.82 | XXX
88171 | TC | A | Fine needle aspiration | 0.00 | NA | 0.23 | 0.03 | NA | 0.26 | XXX
88172 |  | A | Cytopathology eval of fna | 0.60 | NA | 1.12 | 0.04 | NA | 1.76 | XXX
88172 | 26 | A | Cytopathology eval of fna | 0.60 | 0.27 | 0.27 | 0.02 | 0.89 | 0.89 | XXX
88172 | TC | A | Cytopathology eval of fna | 0.00 | NA | 0.85 | 0.02 | NA | 0.87 | XXX
88173 |  | A | Cytopath eval, fna, report | 1.39 | NA | 1.35 | 0.07 | NA | 2.81 | XXX
88173 | 26 | A | Cytopath eval, fna, report | 1.39 | 0.63 | 0.63 | 0.05 | 2.07 | 2.07 | XXX
88173 | TC | A | Cytopath eval, fna, report | 0.00 | NA | 0.72 | 0.02 | NA | 0.74 | XXX
88180 |  | A | Cell marker study | 0.36 | NA | 0.67 | 0.03 | NA | 1.06 | XXX
88180 | 26 | A | Cell marker study | 0.36 | 0.16 | 0.16 | 0.01 | 0.53 | 0.53 | XXX
88180 | TC | A | Cell marker study | 0.00 | NA | 0.51 | 0.02 | NA | 0.53 | XXX
88182 |  | A | Cell marker study | 0.77 | NA | 1.74 | 0.06 | NA | 2.57 | XXX
88182 | 26 | A | Cell marker study | 0.77 | 0.35 | 0.35 | 0.03 | 1.15 | 1.15 | XXX
88182 | TC | A | Cell marker study | 0.00 | NA | 1.39 | 0.03 | NA | 1.42 | XXX
88199 |  | C | Cytopathology procedure | 0.00 | NA | 0.00 | 0.00 | NA | 0.00 | XXX
88199 | 26 | C | Cytopathology procedure | 0.00 | 0.00 | 0.00 | 0.00 | 0.00 | 0.00 | XXX
88199 | TC | C | Cytopathology procedure | 0.00 | NA | 0.00 | 0.00 | NA | 0.00 | XXX
88230 |  | X | Tissue culture, lymphocyte | 0.00 | 0.00 | 0.00 | 0.00 | 0.00 | 0.00 | XXX
88233 |  | X | Tissue culture, skin/biopsy | 0.00 | 0.00 | 0.00 | 0.00 | 0.00 | 0.00 | XXX
88235 |  | X | Tissue culture, placenta | 0.00 | 0.00 | 0.00 | 0.00 | 0.00 | 0.00 | XXX
88237 |  | X | Tissue culture, bone marrow | 0.00 | 0.00 | 0.00 | 0.00 | 0.00 | 0.00 | XXX
88239 |  | X | Tissue culture, tumor | 0.00 | 0.00 | 0.00 | 0.00 | 0.00 | 0.00 | XXX
88240 |  | X | Cell cryopreserve/storage | 0.00 | 0.00 | 0.00 | 0.00 | 0.00 | 0.00 | XXX
88241 |  | X | Frozen cell preparation | 0.00 | 0.00 | 0.00 | 0.00 | 0.00 | 0.00 | XXX
88245 |  | X | Chromosome analysis, 20-25 | 0.00 | 0.00 | 0.00 | 0.00 | 0.00 | 0.00 | XXX
88248 |  | X | Chromosome analysis, 50-100 | 0.00 | 0.00 | 0.00 | 0.00 | 0.00 | 0.00 | XXX
88249 |  | X | Chromosome analysis, 100 | 0.00 | 0.00 | 0.00 | 0.00 | 0.00 | 0.00 | XXX
88261 |  | X | Chromosome analysis, 5 | 0.00 | 0.00 | 0.00 | 0.00 | 0.00 | 0.00 | XXX
88262 |  | X | Chromosome analysis, 15-20 | 0.00 | 0.00 | 0.00 | 0.00 | 0.00 | 0.00 | XXX
88263 |  | X | Chromosome analysis, 45 | 0.00 | 0.00 | 0.00 | 0.00 | 0.00 | 0.00 | XXX
88264 |  | X | Chromosome analysis, 20-25 | 0.00 | 0.00 | 0.00 | 0.00 | 0.00 | 0.00 | XXX
88267 |  | X | Chromosome analys, placenta | 0.00 | 0.00 | 0.00 | 0.00 | 0.00 | 0.00 | XXX
88269 |  | X | Chromosome analys, amniotic | 0.00 | 0.00 | 0.00 | 0.00 | 0.00 | 0.00 | XXX
88271 |  | X | Cytogenetics, dna probe | 0.00 | 0.00 | 0.00 | 0.00 | 0.00 | 0.00 | XXX
88272 |  | X | Cytogenetics, 3-5 | 0.00 | 0.00 | 0.00 | 0.00 | 0.00 | 0.00 | XXX
88273 |  | X | Cytogenetics, 10-30 | 0.00 | 0.00 | 0.00 | 0.00 | 0.00 | 0.00 | XXX
88274 |  | X | Cytogenetics, 25-99 | 0.00 | 0.00 | 0.00 | 0.00 | 0.00 | 0.00 | XXX
88275 |  | X | Cytogenetics, 100-300 | 0.00 | 0.00 | 0.00 | 0.00 | 0.00 | 0.00 | XXX
88280 |  | X | Chromosome karyotype study | 0.00 | 0.00 | 0.00 | 0.00 | 0.00 | 0.00 | XXX
88283 |  | X | Chromosome banding study | 0.00 | 0.00 | 0.00 | 0.00 | 0.00 | 0.00 | XXX
88285 |  | X | Chromosome count, additional | 0.00 | 0.00 | 0.00 | 0.00 | 0.00 | 0.00 | XXX
88289 |  | X | Chromosome study, additional | 0.00 | 0.00 | 0.00 | 0.00 | 0.00 | 0.00 | XXX
88291 |  | A | Cyto/molecular report | 0.52 | 0.23 | 0.23 | 0.02 | 0.77 | 0.77 | XXX
88299 |  | C | Cytogenetic study | 0.00 | 0.00 | 0.00 | 0.00 | 0.00 | 0.00 | XXX
88300 |  | A | Surgical path, gross | 0.08 | NA | 0.44 | 0.02 | NA | 0.54 | XXX
88300 | 26 | A | Surgical path, gross | 0.08 | 0.04 | 0.04 | 0.01 | 0.13 | 0.13 | XXX
88300 | TC | A | Surgical path, gross | 0.00 | NA | 0.40 | 0.01 | NA | 0.41 | XXX
88302 |  | A | Tissue exam by pathologist | 0.13 | NA | 1.12 | 0.03 | NA | 1.28 | XXX
88302 | 26 | A | Tissue exam by pathologist | 0.13 | 0.06 | 0.06 | 0.01 | 0.20 | 0.20 | XXX
88302 | TC | A | Tissue exam by pathologist | 0.00 | NA | 1.06 | 0.02 | NA | 1.08 | XXX
88304 |  | A | Tissue exam by pathologist | 0.22 | NA | 0.93 | 0.03 | NA | 1.18 | XXX
88304 | 26 | A | Tissue exam by pathologist | 0.22 | 0.10 | 0.10 | 0.01 | 0.33 | 0.33 | XXX
88304 | TC | A | Tissue exam by pathologist | 0.00 | NA | 0.83 | 0.02 | NA | 0.85 | XXX
88305 |  | A | Tissue exam by pathologist | 0.75 | NA | 1.77 | 0.05 | NA | 2.57 | XXX
88305 | 26 | A | Tissue exam by pathologist | 0.75 | 0.35 | 0.35 | 0.02 | 1.12 | 1.12 | XXX
88305 | TC | A | Tissue exam by pathologist | 0.00 | NA | 1.42 | 0.03 | NA | 1.45 | XXX
88307 |  | A | Tissue exam by pathologist | 1.59 | NA | 2.56 | 0.11 | NA | 4.26 | XXX
88307 | 26 | A | Tissue exam by pathologist | 1.59 | 0.73 | 0.73 | 0.06 | 2.38 | 2.38 | XXX
88307 | TC | A | Tissue exam by pathologist | 0.00 | NA | 1.83 | 0.05 | NA | 1.88 | XXX
88309 |  | A | Tissue exam by pathologist | 2.28 | NA | 3.57 | 0.13 | NA | 5.98 | XXX
88309 | 26 | A | Tissue exam by pathologist | 2.28 | 1.04 | 1.04 | 0.08 | 3.40 | 3.40 | XXX
88309 | TC | A | Tissue exam by pathologist | 0.00 | NA | 2.53 | 0.05 | NA | 2.58 | XXX
88311 |  | A | Decalcify tissue | 0.24 | NA | 0.19 | 0.02 | NA | 0.45 | XXX
88311 | 26 | A | Decalcify tissue | 0.24 | 0.11 | 0.11 | 0.01 | 0.36 | 0.36 | XXX
88311 | TC | A | Decalcify tissue | 0.00 | NA | 0.08 | 0.01 | NA | 0.09 | XXX
88312 |  | A | Special stains | 0.54 | NA | 1.69 | 0.03 | NA | 2.26 | XXX
88312 | 26 | A | Special stains | 0.54 | 0.25 | 0.25 | 0.02 | 0.81 | 0.81 | XXX
88312 | TC | A | Special stains | 0.00 | NA | 1.44 | 0.01 | NA | 1.45 | XXX
88313 |  | A | Special stains | 0.24 | NA | 1.16 | 0.02 | NA | 1.42 | XXX
88313 | 26 | A | Special stains | 0.24 | 0.11 | 0.11 | 0.01 | 0.36 | 0.36 | XXX
88313 | TC | A | Special stains | 0.00 | NA | 1.05 | 0.01 | NA | 1.06 | XXX
88314 |  | A | Histochemical stain | 0.45 | NA | 1.05 | 0.04 | NA | 1.54 | XXX
88314 | 26 | A | Histochemical stain | 0.45 | 0.20 | 0.20 | 0.02 | 0.67 | 0.67 | XXX
88314 | TC | A | Histochemical stain | 0.00 | NA | 0.85 | 0.02 | NA | 0.87 | XXX
88318 |  | A | Chemical histochemistry | 0.42 | NA | 1.78 | 0.02 | NA | 2.22 | XXX
88318 | 26 | A | Chemical histochemistry | 0.42 | 0.19 | 0.19 | 0.01 | 0.62 | 0.62 | XXX
88318 | TC | A | Chemical histochemistry | 0.00 | NA | 1.59 | 0.01 | NA | 1.60 | XXX
88319 |  | A | Enzyme histochemistry | 0.53 | NA | 1.75 | 0.04 | NA | 2.32 | XXX
88319 | 26 | A | Enzyme histochemistry | 0.53 | 0.24 | 0.24 | 0.02 | 0.79 | 0.79 | XXX
88319 | TC | A | Enzyme histochemistry | 0.00 | NA | 1.51 | 0.02 | NA | 1.53 | XXX
88321 |  | A | Microslide consultation | 1.30 | 0.59 | 0.62 | 0.04 | 1.93 | 1.96 | XXX
88323 |  | A | Microslide consultation | 1.35 | NA | 2.28 | 0.07 | NA | 3.70 | XXX
88323 | 26 | A | Microslide consultation | 1.35 | 0.62 | 0.62 | 0.05 | 2.02 | 2.02 | XXX
88323 | TC | A | Microslide consultation | 0.00 | NA | 1.66 | 0.02 | NA | 1.68 | XXX
88325 |  | A | Comprehensive review of data | 2.22 | 0.96 | 0.96 | 0.08 | 3.26 | 3.26 | XXX
88329 |  | A | Path consult introp | 0.67 | 0.31 | 0.41 | 0.02 | 1.00 | 1.10 | XXX
88331 |  | A | Path consult intraop, 1 bloc | 1.19 | NA | 0.84 | 0.07 | NA | 2.10 | XXX
88331 | 26 | A | Path consult intraop, 1 bloc | 1.19 | 0.54 | 0.54 | 0.04 | 1.77 | 1.77 | XXX
88331 | TC | A | Path consult intraop, 1 bloc | 0.00 | NA | 0.30 | 0.03 | NA | 0.33 | XXX
88332 |  | A | Path consult intraop, addl | 0.59 | NA | 0.46 | 0.04 | NA | 1.09 | XXX
88332 | 26 | A | Path consult intraop, addl | 0.59 | 0.27 | 0.27 | 0.02 | 0.88 | 0.88 | XXX
88332 | TC | A | Path consult intraop, addl | 0.00 | NA | 0.19 | 0.02 | NA | 0.21 | XXX
88342 |  | A | Immunocytochemistry | 0.85 | NA | 1.37 | 0.05 | NA | 2.27 | XXX
88342 | 26 | A | Immunocytochemistry | 0.85 | 0.39 | 0.39 | 0.03 | 1.27 | 1.27 | XXX
88342 | TC | A | Immunocytochemistry | 0.00 | NA | 0.98 | 0.02 | NA | 1.00 | XXX
88346 |  | A | Immunofluorescent study | 0.86 | NA | 1.38 | 0.05 | NA | 2.29 | XXX
88346 | 26 | A | Immunofluorescent study | 0.86 | 0.39 | 0.39 | 0.03 | 1.28 | 1.28 | XXX
88346 | TC | A | Immunofluorescent study | 0.00 | NA | 0.99 | 0.02 | NA | 1.01 | XXX
88347 |  | A | Immunofluorescent study | 0.86 | NA | 1.92 | 0.05 | NA | 2.83 | XXX
88347 | 26 | A | Immunofluorescent study | 0.86 | 0.38 | 0.38 | 0.03 | 1.27 | 1.27 | XXX
88347 | TC | A | Immunofluorescent study | 0.00 | NA | 1.54 | 0.02 | NA | 1.56 | XXX
88348 |  | A | Electron microscopy | 1.51 | NA | 6.42 | 0.11 | NA | 8.04 | XXX
88348 | 26 | A | Electron microscopy | 1.51 | 0.68 | 0.68 | 0.05 | 2.24 | 2.24 | XXX
88348 | TC | A | Electron microscopy | 0.00 | NA | 5.74 | 0.06 | NA | 5.80 | XXX
88349 |  | A | Scanning electron microscopy | 0.76 | NA | 7.92 | 0.08 | NA | 8.76 | XXX
88349 | 26 | A | Scanning electron microscopy | 0.76 | 0.35 | 0.35 | 0.03 | 1.14 | 1.14 | XXX
88349 | TC | A | Scanning electron microscopy | 0.00 | NA | 7.57 | 0.05 | NA | 7.62 | XXX
88355 |  | A | Analysis, skeletal muscle | 1.85 | NA | 3.96 | 0.12 | NA | 5.93 | XXX
88355 | 26 | A | Analysis, skeletal muscle | 1.85 | 0.85 | 0.85 | 0.07 | 2.77 | 2.77 | XXX
88355 | TC | A | Analysis, skeletal muscle | 0.00 | NA | 3.11 | 0.05 | NA | 3.16 | XXX
88356 |  | A | Analysis, nerve | 3.02 | NA | 4.47 | 0.16 | NA | 7.65 | XXX
88356 | 26 | A | Analysis, nerve | 3.02 | 1.36 | 1.36 | 0.10 | 4.48 | 4.48 | XXX
88356 | TC | A | Analysis, nerve | 0.00 | NA | 3.11 | 0.06 | NA | 3.17 | XXX
88358 |  | A | Analysis, tumor | 2.82 | NA | 1.71 | 0.16 | NA | 4.69 | XXX
88358 | 26 | A | Analysis, tumor | 2.82 | 1.28 | 1.28 | 0.10 | 4.20 | 4.20 | XXX
88358 | TC | A | Analysis, tumor | 0.00 | NA | 0.43 | 0.06 | NA | 0.49 | XXX
88362 |  | A | Nerve teasing preparations | 2.17 | NA | 1.39 | 0.12 | NA | 3.68 | XXX
88362 | 26 | A | Nerve teasing preparations | 2.17 | 0.97 | 0.97 | 0.07 | 3.21 | 3.21 | XXX
88362 | TC | A | Nerve teasing preparations | 0.00 | NA | 0.42 | 0.05 | NA | 0.47 | XXX
88365 |  | A | Tissue hybridization | 0.93 | NA | 1.43 | 0.05 | NA | 2.41 | XXX
88365 | 26 | A | Tissue hybridization | 0.93 | 0.41 | 0.41 | 0.03 | 1.37 | 1.37 | XXX
88365 | TC | A | Tissue hybridization | 0.00 | NA | 1.02 | 0.02 | NA | 1.04 | XXX
88371 |  | X | Protein, western blot tissue | +0.00 | 0.14 | 0.14 | 0.00 | 0.14 | 0.14 | XXX
88371 | 26 | A | Protein, western blot tissue | 0.37 | 0.14 | 0.14 | 0.01 | 0.52 | 0.52 | XXX
88372 |  | X | Protein analysis w/probe | +0.00 | 0.15 | 0.15 | 0.00 | 0.15 | 0.15 | XXX
88372 | 26 | A | Protein analysis w/probe | 0.37 | 0.15 | 0.15 | 0.01 | 0.53 | 0.53 | XXX
88399 |  | C | Surgical pathology procedure | 0.00 | NA | 0.00 | 0.00 | NA | 0.00 | XXX
88399 | 26 | C | Surgical pathology procedure | 0.00 | 0.00 | 0.00 | 0.00 | 0.00 | 0.00 | XXX
88399 | TC | C | Surgical pathology procedure | 0.00 | NA | 0.00 | 0.00 | NA | 0.00 | XXX
88400 |  | X | Bilirubin total transcut | 0.00 | 0.00 | 0.00 | 0.00 | 0.00 | 0.00 | XXX
89050 |  | X | Body fluid cell count | 0.00 | 0.00 | 0.00 | 0.00 | 0.00 | 0.00 | XXX
89051 |  | X | Body fluid cell count | 0.00 | 0.00 | 0.00 | 0.00 | 0.00 | 0.00 | XXX
89060 |  | X | Exam,synovial fluid crystals | +0.00 | 0.17 | 0.17 | 0.00 | 0.17 | 0.17 | XXX
89060 | 26 | A | Exam,synovial fluid crystals | 0.37 | 0.17 | 0.17 | 0.01 | 0.55 | 0.55 | XXX
89100 |  | A | Sample intestinal contents | 0.60 | 0.23 | 2.07 | 0.02 | 0.85 | 2.69 | XXX
89105 |  | A | Sample intestinal contents | 0.50 | 0.18 | 2.25 | 0.02 | 0.70 | 2.77 | XXX
89125 |  | X | Specimen fat stain | 0.00 | 0.00 | 0.00 | 0.00 | 0.00 | 0.00 | XXX
89130 |  | A | Sample stomach contents | 0.45 | 0.13 | 1.92 | 0.02 | 0.60 | 2.39 | XXX
89132 |  | A | Sample stomach contents | 0.19 | 0.08 | 1.82 | 0.01 | 0.28 | 2.02 | XXX
89135 |  | A | Sample stomach contents | 0.79 | 0.28 | 2.11 | 0.03 | 1.10 | 2.93 | XXX
89136 |  | A | Sample stomach contents | 0.21 | 0.08 | 1.39 | 0.01 | 0.30 | 1.61 | XXX
89140 |  | A | Sample stomach contents | 0.94 | 0.27 | 2.24 | 0.03 | 1.24 | 3.21 | XXX
89141 |  | A | Sample stomach contents | 0.85 | 0.35 | 2.76 | 0.03 | 1.23 | 3.64 | XXX
89160 |  | X | Exam feces for meat fibers | 0.00 | 0.00 | 0.00 | 0.00 | 0.00 | 0.00 | XXX
89190 |  | X | Nasal smear for eosinophils | 0.00 | 0.00 | 0.00 | 0.00 | 0.00 | 0.00 | XXX
89250 |  | X | Fertilization of oocyte | 0.00 | 0.00 | 0.00 | 0.00 | 0.00 | 0.00 | XXX
89251 |  | X | Culture oocyte w/embryos | 0.00 | 0.00 | 0.00 | 0.00 | 0.00 | 0.00 | XXX
89252 |  | X | Assist oocyte fertilization | 0.00 | 0.00 | 0.00 | 0.00 | 0.00 | 0.00 | XXX
89253 |  | X | Embryo hatching | 0.00 | 0.00 | 0.00 | 0.00 | 0.00 | 0.00 | XXX
89254 |  | X | Oocyte identification | 0.00 | 0.00 | 0.00 | 0.00 | 0.00 | 0.00 | XXX
89255 |  | X | Prepare embryo for transfer | 0.00 | 0.00 | 0.00 | 0.00 | 0.00 | 0.00 | XXX
89256 |  | X | Prepare cryopreserved embryo | 0.00 | 0.00 | 0.00 | 0.00 | 0.00 | 0.00 | XXX
89257 |  | X | Sperm identification | 0.00 | 0.00 | 0.00 | 0.00 | 0.00 | 0.00 | XXX
89258 |  | X | Cryopreservation, embryo | 0.00 | 0.00 | 0.00 | 0.00 | 0.00 | 0.00 | XXX
89259 |  | X | Cryopreservation, sperm | 0.00 | 0.00 | 0.00 | 0.00 | 0.00 | 0.00 | XXX
89260 |  | X | Sperm isolation, simple | 0.00 | 0.00 | 0.00 | 0.00 | 0.00 | 0.00 | XXX
89261 |  | X | Sperm isolation, complex | 0.00 | 0.00 | 0.00 | 0.00 | 0.00 | 0.00 | XXX
89264 |  | X | Identify sperm tissue | 0.00 | 0.00 | 0.00 | 0.00 | 0.00 | 0.00 | XXX
89300 |  | X | Semen analysis | 0.00 | 0.00 | 0.00 | 0.00 | 0.00 | 0.00 | XXX
89310 |  | X | Semen analysis | 0.00 | 0.00 | 0.00 | 0.00 | 0.00 | 0.00 | XXX
89320 |  | X | Semen analysis | 0.00 | 0.00 | 0.00 | 0.00 | 0.00 | 0.00 | XXX
89321 |  | X | Semen analysis | 0.00 | 0.00 | 0.00 | 0.00 | 0.00 | 0.00 | XXX
89325 |  | X | Sperm antibody test | 0.00 | 0.00 | 0.00 | 0.00 | 0.00 | 0.00 | XXX
89329 |  | X | Sperm evaluation test | 0.00 | 0.00 | 0.00 | 0.00 | 0.00 | 0.00 | XXX
89330 |  | X | Evaluation, cervical mucus | 0.00 | 0.00 | 0.00 | 0.00 | 0.00 | 0.00 | XXX
89350 |  | A | Sputum specimen collection | 0.00 | NA | 0.40 | 0.02 | NA | 0.42 | XXX
89355 |  | X | Exam feces for starch | 0.00 | 0.00 | 0.00 | 0.00 | 0.00 | 0.00 | XXX
89360 |  | A | Collect sweat for test | 0.00 | NA | 0.45 | 0.02 | NA | 0.47 | XXX
89365 |  | X | Water load test | 0.00 | 0.00 | 0.00 | 0.00 | 0.00 | 0.00 | XXX
89399 |  | C | Pathology lab procedure | 0.00 | NA | 0.00 | 0.00 | NA | 0.00 | XXX
89399 | 26 | C | Pathology lab procedure | 0.00 | 0.00 | 0.00 | 0.00 | 0.00 | 0.00 | XXX
89399 | TC | C | Pathology lab procedure | 0.00 | NA | 0.00 | 0.00 | NA | 0.00 | XXX
90281 |  | I | Human ig, im | 0.00 | 0.00 | 0.00 | 0.00 | 0.00 | 0.00 | XXX
90283 |  | I | Human ig, iv | 0.00 | 0.00 | 0.00 | 0.00 | 0.00 | 0.00 | XXX
90287 |  | I | Botulinum antitoxin | 0.00 | 0.00 | 0.00 | 0.00 | 0.00 | 0.00 | XXX
90288 |  | I | Botulism ig, iv | 0.00 | 0.00 | 0.00 | 0.00 | 0.00 | 0.00 | XXX
90291 |  | I | Cmv ig, iv | 0.00 | 0.00 | 0.00 | 0.00 | 0.00 | 0.00 | XXX
90296 |  | E | Diphtheria antitoxin | 0.00 | 0.00 | 0.00 | 0.00 | 0.00 | 0.00 | XXX
90371 |  | E | Hep b ig, im | 0.00 | 0.00 | 0.00 | 0.00 | 0.00 | 0.00 | XXX
90375 |  | E | Rabies ig, im/sc | 0.00 | 0.00 | 0.00 | 0.00 | 0.00 | 0.00 | XXX
90376 |  | E | Rabies ig, heat treated | 0.00 | 0.00 | 0.00 | 0.00 | 0.00 | 0.00 | XXX
90378 |  | X | Rsv ig, im, 50mg | 0.00 | 0.00 | 0.00 | 0.00 | 0.00 | 0.00 | XXX
90379 |  | E | Rsv ig, iv | 0.00 | 0.00 | 0.00 | 0.00 | 0.00 | 0.00 | XXX
90384 |  | I | Rh ig, full-dose, im | 0.00 | 0.00 | 0.00 | 0.00 | 0.00 | 0.00 | XXX
90385 |  | E | Rh ig, minidose, im | 0.00 | 0.00 | 0.00 | 0.00 | 0.00 | 0.00 | XXX
90386 |  | I | Rh ig, iv | 0.00 | 0.00 | 0.00 | 0.00 | 0.00 | 0.00 | XXX
90389 |  | E | Tetanus ig, im | 0.00 | 0.00 | 0.00 | 0.00 | 0.00 | 0.00 | XXX
90393 |  | E | Vaccina ig, im | 0.00 | 0.00 | 0.00 | 0.00 | 0.00 | 0.00 | XXX
90396 |  | E | Varicella-zoster ig, im | 0.00 | 0.00 | 0.00 | 0.00 | 0.00 | 0.00 | XXX
90399 |  | I | Immune globulin | 0.00 | 0.00 | 0.00 | 0.00 | 0.00 | 0.00 | XXX
90471 |  | N | Immunization admin | 0.00 | NA | 0.00 | 0.00 | NA | 0.00 | XXX
90472 |  | N | Immunization admin, each add | 0.00 | NA | 0.00 | 0.00 | NA | 0.00 | XXX
90476 |  | E | Adenovirus vaccine, type 4 | 0.00 | 0.00 | 0.00 | 0.00 | 0.00 | 0.00 | XXX
90477 |  | E | Adenovirus vaccine, type 7 | 0.00 | 0.00 | 0.00 | 0.00 | 0.00 | 0.00 | XXX
90581 |  | E | Anthrax vaccine, sc | 0.00 | 0.00 | 0.00 | 0.00 | 0.00 | 0.00 | XXX
90585 |  | E | Bcg vaccine, percut | 0.00 | 0.00 | 0.00 | 0.00 | 0.00 | 0.00 | XXX
90586 |  | E | Bcg vaccine, intravesical | 0.00 | 0.00 | 0.00 | 0.00 | 0.00 | 0.00 | XXX
90632 |  | E | Hep a vaccine, adult im | 0.00 | 0.00 | 0.00 | 0.00 | 0.00 | 0.00 | XXX
90633 |  | E | Hep a vacc, ped/adol, 2 dose | 0.00 | 0.00 | 0.00 | 0.00 | 0.00 | 0.00 | XXX
90634 |  | E | Hep a vacc, ped/adol, 3 dose | 0.00 | 0.00 | 0.00 | 0.00 | 0.00 | 0.00 | XXX
90636 |  | E | Hep a/hep b vacc, adult im | 0.00 | 0.00 | 0.00 | 0.00 | 0.00 | 0.00 | XXX
90645 |  | E | Hib vaccine, hboc, im | 0.00 | 0.00 | 0.00 | 0.00 | 0.00 | 0.00 | XXX
90646 |  | E | Hib vaccine, prp-d, im | 0.00 | 0.00 | 0.00 | 0.00 | 0.00 | 0.00 | XXX
90647 |  | E | Hib vaccine, prp-omp, im | 0.00 | 0.00 | 0.00 | 0.00 | 0.00 | 0.00 | XXX
90648 |  | E | Hib vaccine, prp-t, im | 0.00 | 0.00 | 0.00 | 0.00 | 0.00 | 0.00 | XXX
90657 |  | X | Flu vaccine, 6-35 mo, im | 0.00 | 0.00 | 0.00 | 0.00 | 0.00 | 0.00 | XXX
90658 |  | X | Flu vaccine, 3 yrs, im | 0.00 | 0.00 | 0.00 | 0.00 | 0.00 | 0.00 | XXX
90659 |  | X | Flu vaccine, whole, im | 0.00 | 0.00 | 0.00 | 0.00 | 0.00 | 0.00 | XXX
90660 |  | X | Flu vaccine, nasal | 0.00 | 0.00 | 0.00 | 0.00 | 0.00 | 0.00 | XXX
90665 |  | E | Lyme disease vaccine, im | 0.00 | 0.00 | 0.00 | 0.00 | 0.00 | 0.00 | XXX
90669 |  | N | Pneumococcal vacc, ped<5 | 0.00 | 0.00 | 0.00 | 0.00 | 0.00 | 0.00 | XXX
90675 |  | E | Rabies vaccine, im | 0.00 | 0.00 | 0.00 | 0.00 | 0.00 | 0.00 | XXX
90676 |  | E | Rabies vaccine, id | 0.00 | 0.00 | 0.00 | 0.00 | 0.00 | 0.00 | XXX
90680 |  | E | Rotovirus vaccine, oral | 0.00 | 0.00 | 0.00 | 0.00 | 0.00 | 0.00 | XXX
90690 |  | E | Typhoid vaccine, oral | 0.00 | 0.00 | 0.00 | 0.00 | 0.00 | 0.00 | XXX
90691 |  | E | Typhoid vaccine, im | 0.00 | 0.00 | 0.00 | 0.00 | 0.00 | 0.00 | XXX
90692 |  | E | Typhoid vaccine, h-p, sc/id | 0.00 | 0.00 | 0.00 | 0.00 | 0.00 | 0.00 | XXX
90693 |  | E | Typhoid vaccine, akd, sc | 0.00 | 0.00 | 0.00 | 0.00 | 0.00 | 0.00 | XXX
90700 |  | E | Dtap vaccine, im | 0.00 | 0.00 | 0.00 | 0.00 | 0.00 | 0.00 | XXX
90701 |  | E | Dtp vaccine, im | 0.00 | 0.00 | 0.00 | 0.00 | 0.00 | 0.00 | XXX
90702 |  | E | Dt vaccine < 7, im | 0.00 | 0.00 | 0.00 | 0.00 | 0.00 | 0.00 | XXX
90703 |  | E | Tetanus vaccine, im | 0.00 | 0.00 | 0.00 | 0.00 | 0.00 | 0.00 | XXX
90704 |  | E | Mumps vaccine, sc | 0.00 | 0.00 | 0.00 | 0.00 | 0.00 | 0.00 | XXX
90705 |  | E | Measles vaccine, sc | 0.00 | 0.00 | 0.00 | 0.00 | 0.00 | 0.00 | XXX
90706 |  | E | Rubella vaccine, sc | 0.00 | 0.00 | 0.00 | 0.00 | 0.00 | 0.00 | XXX
90707 |  | E | Mmr vaccine, sc | 0.00 | 0.00 | 0.00 | 0.00 | 0.00 | 0.00 | XXX
90708 |  | E | Measles-rubella vaccine, sc | 0.00 | 0.00 | 0.00 | 0.00 | 0.00 | 0.00 | XXX
90709 |  | E | Rubella & mumps vaccine, sc | 0.00 | 0.00 | 0.00 | 0.00 | 0.00 | 0.00 | XXX
90710 |  | E | Mmrv vaccine, sc | 0.00 | 0.00 | 0.00 | 0.00 | 0.00 | 0.00 | XXX
90712 |  | E | Oral poliovirus vaccine | 0.00 | 0.00 | 0.00 | 0.00 | 0.00 | 0.00 | XXX
90713 |  | E | Poliovirus, ipv, sc | 0.00 | 0.00 | 0.00 | 0.00 | 0.00 | 0.00 | XXX
90716 |  | E | Chicken pox vaccine, sc | 0.00 | 0.00 | 0.00 | 0.00 | 0.00 | 0.00 | XXX
90717 |  | E | Yellow fever vaccine, sc | 0.00 | 0.00 | 0.00 | 0.00 | 0.00 | 0.00 | XXX
90718 |  | E | Td vaccine > 7, im | 0.00 | 0.00 | 0.00 | 0.00 | 0.00 | 0.00 | XXX
90719 |  | E | Diphtheria vaccine, im | 0.00 | 0.00 | 0.00 | 0.00 | 0.00 | 0.00 | XXX
90720 |  | E | Dtp/hib vaccine, im | 0.00 | 0.00 | 0.00 | 0.00 | 0.00 | 0.00 | XXX
90721 |  | E | Dtap/hib vaccine, im | 0.00 | 0.00 | 0.00 | 0.00 | 0.00 | 0.00 | XXX
90723 |  | X | Dtap-hep b-ipv vaccine, im | 0.00 | 0.00 | 0.00 | 0.00 | 0.00 | 0.00 | XXX
90725 |  | E | Cholera vaccine, injectable | 0.00 | 0.00 | 0.00 | 0.00 | 0.00 | 0.00 | XXX
90727 |  | E | Plague vaccine, im | 0.00 | 0.00 | 0.00 | 0.00 | 0.00 | 0.00 | XXX
90732 |  | X | Pneumococcal vacc, adult/ill | 0.00 | 0.00 | 0.00 | 0.00 | 0.00 | 0.00 | XXX
90733 |  | E | Meningococcal vaccine, sc | 0.00 | 0.00 | 0.00 | 0.00 | 0.00 | 0.00 | XXX
90735 |  | E | Encephalitis vaccine, sc | 0.00 | 0.00 | 0.00 | 0.00 | 0.00 | 0.00 | XXX
90740 |  | X | Hepb vacc, ill pat 3 dose im | 0.00 | 0.00 | 0.00 | 0.00 | 0.00 | 0.00 | XXX
90743 |  | X | Hep b vacc, adol, 2 dose, im | 0.00 | 0.00 | 0.00 | 0.00 | 0.00 | 0.00 | XXX
90744 |  | X | Hepb vacc ped/adol 3 dose im | 0.00 | 0.00 | 0.00 | 0.00 | 0.00 | 0.00 | XXX
90746 |  | X | Hep b vaccine, adult, im | 0.00 | 0.00 | 0.00 | 0.00 | 0.00 | 0.00 | XXX
90747 |  | X | Hepb vacc, ill pat 4 dose im | 0.00 | 0.00 | 0.00 | 0.00 | 0.00 | 0.00 | XXX
90748 |  | E | Hep b/hib vaccine, im | 0.00 | 0.00 | 0.00 | 0.00 | 0.00 | 0.00 | XXX
90749 |  | E | Vaccine toxoid | 0.00 | 0.00 | 0.00 | 0.00 | 0.00 | 0.00 | XXX
90780 |  | A | IV infusion therapy, 1 hour | 0.00 | NA | 1.09 | 0.06 | NA | 1.15 | XXX
90781 |  | A | IV infusion, additional hour | 0.00 | NA | 0.55 | 0.03 | NA | 0.58 | ZZZ
90782 |  | T | Injection, sc/im | 0.00 | NA | 0.10 | 0.01 | NA | 0.11 | XXX
90783 |  | T | Injection, ia | 0.00 | NA | 0.40 | 0.02 | NA | 0.42 | XXX
90784 |  | T | Injection, iv | 0.00 | NA | 0.47 | 0.03 | NA | 0.50 | XXX
90788 |  | T | Injection of antibiotic | 0.00 | NA | 0.11 | 0.01 | NA | 0.12 | XXX
90799 |  | C | Ther/prophylactic/dx inject | 0.00 | 0.00 | 0.00 | 0.00 | 0.00 | 0.00 | XXX
90801 |  | A | Psy dx interview | 2.80 | 0.92 | 1.13 | 0.06 | 3.78 | 3.99 | XXX
90802 |  | A | Intac psy dx interview | 3.01 | 0.98 | 1.16 | 0.07 | 4.06 | 4.24 | XXX
90804 |  | A | Psytx, office, 20-30 min | 1.21 | 0.39 | 0.53 | 0.03 | 1.63 | 1.77 | XXX
90805 |  | A | Psytx, off, 20-30 min w/e&m | 1.37 | 0.44 | 0.59 | 0.03 | 1.84 | 1.99 | XXX
90806 |  | A | Psytx, off, 45-50 min | 1.86 | 0.62 | 0.75 | 0.04 | 2.52 | 2.65 | XXX
90807 |  | A | Psytx, off, 45-50 min w/e&m | 2.02 | 0.66 | 0.79 | 0.05 | 2.73 | 2.86 | XXX
90808 |  | A | Psytx, office, 75-80 min | 2.79 | 0.92 | 1.07 | 0.07 | 3.78 | 3.93 | XXX
90809 |  | A | Psytx, off, 75-80, w/e&m | 2.95 | 0.95 | 1.11 | 0.07 | 3.97 | 4.13 | XXX
90810 |  | A | Intac psytx, off, 20-30 min | 1.32 | 0.43 | 0.55 | 0.03 | 1.78 | 1.90 | XXX
90811 |  | A | Intac psytx, 20-30, w/e&m | 1.48 | 0.48 | 0.64 | 0.03 | 1.99 | 2.15 | XXX
90812 |  | A | Intac psytx, off, 45-50 min | 1.97 | 0.65 | 0.81 | 0.05 | 2.67 | 2.83 | XXX
90813 |  | A | Intac psytx, 45-50 min w/e&m | 2.13 | 0.70 | 0.87 | 0.05 | 2.88 | 3.05 | XXX
90814 |  | A | Intac psytx, off, 75-80 min | 2.90 | 0.95 | 1.17 | 0.07 | 3.92 | 4.14 | XXX
90815 |  | A | Intac psytx, 75-80 w/e&m | 3.06 | 0.98 | 1.19 | 0.07 | 4.11 | 4.32 | XXX
90816 |  | A | Psytx, hosp, 20-30 min | 1.25 | 0.42 | 0.57 | 0.03 | 1.70 | 1.85 | XXX
90817 |  | A | Psytx, hosp, 20-30 min w/e&m | 1.41 | 0.45 | 0.62 | 0.03 | 1.89 | 2.06 | XXX
90818 |  | A | Psytx, hosp, 45-50 min | 1.89 | 0.64 | 0.79 | 0.04 | 2.57 | 2.72 | XXX
90819 |  | A | Psytx, hosp, 45-50 min w/e&m | 2.05 | 0.65 | 0.82 | 0.05 | 2.75 | 2.92 | XXX
90821 |  | A | Psytx, hosp, 75-80 min | 2.83 | 0.95 | 1.11 | 0.06 | 3.84 | 4.00 | XXX
90822 |  | A | Psytx, hosp, 75-80 min w/e&m | 2.99 | 0.96 | 1.12 | 0.07 | 4.02 | 4.18 | XXX
90823 |  | A | Intac psytx, hosp, 20-30 min | 1.36 | 0.45 | 0.66 | 0.03 | 1.84 | 2.05 | XXX
90824 |  | A | Intac psytx, hsp 20-30 w/e&m | 1.52 | 0.49 | 0.71 | 0.03 | 2.04 | 2.26 | XXX
90826 |  | A | Intac psytx, hosp, 45-50 min | 2.01 | 0.68 | 0.89 | 0.04 | 2.73 | 2.94 | XXX
90827 |  | A | Intac psytx, hsp 45-50 w/e&m | 2.16 | 0.69 | 0.92 | 0.05 | 2.90 | 3.13 | XXX
90828 |  | A | Intac psytx, hosp, 75-80 min | 2.94 | 1.00 | 1.21 | 0.07 | 4.01 | 4.22 | XXX
90829 |  | A | Intac psytx, hsp 75-80 w/e&m | 3.10 | 1.00 | 1.24 | 0.07 | 4.17 | 4.41 | XXX
90845 |  | A | Psychoanalysis | 1.79 | 0.58 | 0.69 | 0.04 | 2.41 | 2.52 | XXX
90846 |  | R | Family psytx w/o patient | 1.83 | 0.61 | 0.73 | 0.04 | 2.48 | 2.60 | XXX
90847 |  | R | Family psytx w/patient | 2.21 | 0.74 | 0.86 | 0.05 | 3.00 | 3.12 | XXX
90849 |  | R | Multiple family group psytx | 0.59 | 0.20 | 0.37 | 0.01 | 0.80 | 0.97 | XXX
90853 |  | A | Group psychotherapy | 0.59 | 0.20 | 0.35 | 0.01 | 0.80 | 0.95 | XXX
90857 |  | A | Intac group psytx | 0.63 | 0.21 | 0.36 | 0.02 | 0.86 | 1.01 | XXX
90862 |  | A | Medication management | 0.95 | 0.31 | 0.44 | 0.02 | 1.28 | 1.41 | XXX
90865 |  | A | Narcosynthesis | 2.84 | 0.93 | 1.65 | 0.07 | 3.84 | 4.56 | XXX
90870 |  | A | Electroconvulsive therapy | 1.88 | 0.74 | 0.74 | 0.04 | 2.66 | 2.66 | 000
90871 |  | A | Electroconvulsive therapy | 2.72 | 1.02 | NA | 0.06 | 3.80 | NA | 000
90875 |  | N | Psychophysiological therapy | +1.20 | 0.47 | 0.89 | 0.03 | 1.70 | 2.12 | XXX
90876 |  | N | Psychophysiological therapy | +1.90 | 0.75 | 1.17 | 0.04 | 2.69 | 3.11 | XXX
90880 |  | A | Hypnotherapy | 2.19 | 0.70 | 0.88 | 0.05 | 2.94 | 3.12 | XXX
90882 |  | N | Environmental manipulation | 0.00 | 0.00 | 0.00 | 0.00 | 0.00 | 0.00 | XXX
90885 |  | B | Psy evaluation of records | +0.97 | 0.38 | 0.38 | 0.02 | 1.37 | 1.37 | XXX
90887 |  | B | Consultation with family | +1.48 | 0.59 | 0.82 | 0.03 | 2.10 | 2.33 | XXX
90889 |  | B | Preparation of report | 0.00 | 0.00 | 0.00 | 0.00 | 0.00 | 0.00 | XXX
90899 |  | C | Psychiatric service/therapy | 0.00 | 0.00 | 0.00 | 0.00 | 0.00 | 0.00 | XXX
90901 |  | A | Biofeedback train, any meth | 0.41 | 0.18 | 0.76 | 0.02 | 0.61 | 1.19 | 000
90911 |  | A | Biofeedback peri/uro/rectal | 0.89 | 0.37 | 0.89 | 0.04 | 1.30 | 1.82 | 000
90918 |  | A | ESRD related services, month | 11.18 | 5.35 | 5.35 | 0.30 | 16.83 | 16.83 | XXX
90919 |  | A | ESRD related services, month | 8.54 | 4.40 | 4.40 | 0.24 | 13.18 | 13.18 | XXX
90920 |  | A | ESRD related services, month | 7.27 | 3.81 | 3.81 | 0.19 | 11.27 | 11.27 | XXX
90921 |  | A | ESRD related services, month | 4.47 | 2.71 | 2.71 | 0.12 | 7.30 | 7.30 | XXX
90922 |  | A | ESRD related services, day | 0.37 | 0.16 | 0.16 | 0.01 | 0.54 | 0.54 | XXX
90923 |  | A | Esrd related services, day | 0.28 | 0.14 | 0.14 | 0.01 | 0.43 | 0.43 | XXX
90924 |  | A | Esrd related services, day | 0.24 | 0.13 | 0.13 | 0.01 | 0.38 | 0.38 | XXX
90925 |  | A | Esrd related services, day | 0.15 | 0.09 | 0.09 | 0.01 | 0.25 | 0.25 | XXX
90935 |  | A | Hemodialysis, one evaluation | 1.22 | 0.79 | NA | 0.03 | 2.04 | NA | 000
90937 |  | A | Hemodialysis, repeated eval | 2.11 | 1.11 | NA | 0.06 | 3.28 | NA | 000
90940 |  | X | Hemodialysis access study | 0.00 | 0.00 | 0.00 | 0.00 | 0.00 | 0.00 | XXX
90945 |  | A | Dialysis, one evaluation | 1.28 | 0.81 | NA | 0.04 | 2.13 | NA | 000
90947 |  | A | Dialysis, repeated eval | 2.16 | 1.13 | NA | 0.06 | 3.35 | NA | 000
90989 |  | X | Dialysis training, complete | 0.00 | 0.00 | 0.00 | 0.00 | 0.00 | 0.00 | XXX
90993 |  | X | Dialysis training, incompl | 0.00 | 0.00 | 0.00 | 0.00 | 0.00 | 0.00 | XXX
90997 |  | A | Hemoperfusion | 1.84 | 1.00 | NA | 0.05 | 2.89 | NA | 000
90999 |  | C | Dialysis procedure | 0.00 | 0.00 | 0.00 | 0.00 | 0.00 | 0.00 | XXX
91000 |  | A | Esophageal intubation | 0.73 | NA | 0.34 | 0.04 | NA | 1.11 | 000
91000 | 26 | A | Esophageal intubation | 0.73 | 0.26 | 0.26 | 0.03 | 1.02 | 1.02 | 000
91000 | TC | A | Esophageal intubation | 0.00 | NA | 0.08 | 0.01 | NA | 0.09 | 000
91010 |  | A | Esophagus motility study | 1.25 | NA | 1.27 | 0.10 | NA | 2.62 | 000
91010 | 26 | A | Esophagus motility study | 1.25 | 0.46 | 0.46 | 0.05 | 1.76 | 1.76 | 000
91010 | TC | A | Esophagus motility study | 0.00 | NA | 0.81 | 0.05 | NA | 0.86 | 000
91011 |  | A | Esophagus motility study | 1.50 | NA | 1.57 | 0.10 | NA | 3.17 | 000
91011 | 26 | A | Esophagus motility study | 1.50 | 0.56 | 0.56 | 0.05 | 2.11 | 2.11 | 000
91011 | TC | A | Esophagus motility study | 0.00 | NA | 1.01 | 0.05 | NA | 1.06 | 000
91012 |  | A | Esophagus motility study | 1.46 | NA | 1.67 | 0.12 | NA | 3.25 | 000
91012 | 26 | A | Esophagus motility study | 1.46 | 0.54 | 0.54 | 0.06 | 2.06 | 2.06 | 000
91012 | TC | A | Esophagus motility study | 0.00 | NA | 1.13 | 0.06 | NA | 1.19 | 000
91020 |  | A | Gastric motility | 1.44 | NA | 1.26 | 0.11 | NA | 2.81 | 000
91020 | 26 | A | Gastric motility | 1.44 | 0.51 | 0.51 | 0.06 | 2.01 | 2.01 | 000
91020 | TC | A | Gastric motility | 0.00 | NA | 0.75 | 0.05 | NA | 0.80 | 000
91030 |  | A | Acid perfusion of esophagus | 0.91 | NA | 0.56 | 0.05 | NA | 1.52 | 000
91030 | 26 | A | Acid perfusion of esophagus | 0.91 | 0.34 | 0.34 | 0.03 | 1.28 | 1.28 | 000
91030 | TC | A | Acid perfusion of esophagus | 0.00 | NA | 0.22 | 0.02 | NA | 0.24 | 000
91032 |  | A | Esophagus, acid reflux test | 1.21 | NA | 1.17 | 0.10 | NA | 2.48 | 000
91032 | 26 | A | Esophagus, acid reflux test | 1.21 | 0.44 | 0.44 | 0.05 | 1.70 | 1.70 | 000
91032 | TC | A | Esophagus, acid reflux test | 0.00 | NA | 0.73 | 0.05 | NA | 0.78 | 000
91033 |  | A | Prolonged acid reflux test | 1.30 | NA | 1.80 | 0.14 | NA | 3.24 | 000
91033 | 26 | A | Prolonged acid reflux test | 1.30 | 0.48 | 0.48 | 0.05 | 1.83 | 1.83 | 000
91033 | TC | A | Prolonged acid reflux test | 0.00 | NA | 1.32 | 0.09 | NA | 1.41 | 000
91052 |  | A | Gastric analysis test | 0.79 | NA | 0.62 | 0.05 | NA | 1.46 | 000
91052 | 26 | A | Gastric analysis test | 0.79 | 0.29 | 0.29 | 0.03 | 1.11 | 1.11 | 000
91052 | TC | A | Gastric analysis test | 0.00 | NA | 0.33 | 0.02 | NA | 0.35 | 000
91055 |  | A | Gastric intubation for smear | 0.94 | NA | 0.58 | 0.06 | NA | 1.58 | 000
91055 | 26 | A | Gastric intubation for smear | 0.94 | 0.28 | 0.28 | 0.04 | 1.26 | 1.26 | 000
91055 | TC | A | Gastric intubation for smear | 0.00 | NA | 0.30 | 0.02 | NA | 0.32 | 000
91060 |  | A | Gastric saline load test | 0.45 | NA | 0.36 | 0.04 | NA | 0.85 | 000
91060 | 26 | A | Gastric saline load test | 0.45 | 0.14 | 0.14 | 0.02 | 0.61 | 0.61 | 000
91060 | TC | A | Gastric saline load test | 0.00 | NA | 0.22 | 0.02 | NA | 0.24 | 000
91065 |  | A | Breath hydrogen test | 0.20 | NA | 0.42 | 0.03 | NA | 0.65 | 000
91065 | 26 | A | Breath hydrogen test | 0.20 | 0.07 | 0.07 | 0.01 | 0.28 | 0.28 | 000
91065 | TC | A | Breath hydrogen test | 0.00 | NA | 0.35 | 0.02 | NA | 0.37 | 000
91100 |  | A | Pass intestine bleeding tube | 1.08 | 0.46 | NA | 0.06 | 1.60 | NA | 000
91105 |  | A | Gastric intubation treatment | 0.37 | 0.20 | NA | 0.02 | 0.59 | NA | 000
91122 |  | A | Anal pressure record | 1.77 | NA | 1.34 | 0.17 | NA | 3.28 | 000
91122 | 26 | A | Anal pressure record | 1.77 | 0.64 | 0.64 | 0.10 | 2.51 | 2.51 | 000
91122 | TC | A | Anal pressure record | 0.00 | NA | 0.70 | 0.07 | NA | 0.77 | 000
91132 |  | C | Electrogastrography | 0.00 | NA | 0.00 | 0.00 | NA | 0.00 | XXX
91132 | 26 | C | Electrogastrography | 0.00 | 0.00 | 0.00 | 0.00 | 0.00 | 0.00 | XXX
91132 | TC | C | Electrogastrography | 0.00 | NA | 0.00 | 0.00 | NA | 0.00 | XXX
91133 |  | C | Electrogastrography w/test | 0.00 | NA | 0.00 | 0.00 | NA | 0.00 | XXX
91133 | 26 | C | Electrogastrography w/test | 0.00 | 0.00 | 0.00 | 0.00 | 0.00 | 0.00 | XXX
91133 | TC | C | Electrogastrography w/test | 0.00 | NA | 0.00 | 0.00 | NA | 0.00 | XXX
91299 |  | C | Gastroenterology procedure | 0.00 | NA | 0.00 | 0.00 | NA | 0.00 | XXX
91299 | 26 | C | Gastroenterology procedure | 0.00 | 0.00 | 0.00 | 0.00 | 0.00 | 0.00 | XXX
91299 | TC | C | Gastroenterology procedure | 0.00 | NA | 0.00 | 0.00 | NA | 0.00 | XXX
92002 |  | A | Eye exam, new patient | 0.88 | 0.36 | 1.12 | 0.02 | 1.26 | 2.02 | XXX
92004 |  | A | Eye exam, new patient | 1.67 | 0.71 | 1.72 | 0.03 | 2.41 | 3.42 | XXX
92012 |  | A | Eye exam established pat | 0.67 | 0.30 | 1.04 | 0.01 | 0.98 | 1.72 | XXX
92014 |  | A | Eye exam & treatment | 1.10 | 0.49 | 1.35 | 0.02 | 1.61 | 2.47 | XXX
92015 |  | N | Refraction | +0.38 | 0.15 | 1.43 | 0.01 | 0.54 | 1.82 | XXX
92018 |  | A | New eye exam & treatment | 2.50 | 1.15 | NA | 0.03 | 3.68 | NA | XXX
92019 |  | A | Eye exam & treatment | 1.31 | 0.60 | NA | 0.03 | 1.94 | NA | XXX
92020 |  | A | Special eye evaluation | 0.37 | 0.17 | 0.70 | 0.01 | 0.55 | 1.08 | XXX
92060 |  | A | Special eye evaluation | 0.69 | NA | 1.54 | 0.02 | NA | 2.25 | XXX
92060 | 26 | A | Special eye evaluation | 0.69 | 0.30 | 0.30 | 0.01 | 1.00 | 1.00 | XXX
92060 | TC | A | Special eye evaluation | 0.00 | NA | 1.24 | 0.01 | NA | 1.25 | XXX
92065 |  | A | Orthoptic/pleoptic training | 0.37 | NA | 0.83 | 0.02 | NA | 1.22 | XXX
92065 | 26 | A | Orthoptic/pleoptic training | 0.37 | 0.16 | 0.16 | 0.01 | 0.54 | 0.54 | XXX
92065 | TC | A | Orthoptic/pleoptic training | 0.00 | NA | 0.67 | 0.01 | NA | 0.68 | XXX
92070 |  | A | Fitting of contact lens | 0.70 | 0.33 | 0.98 | 0.01 | 1.04 | 1.69 | XXX
92081 |  | A | Visual field examination(s) | 0.36 | NA | 1.43 | 0.02 | NA | 1.81 | XXX
92081 | 26 | A | Visual field examination(s) | 0.36 | 0.16 | 0.16 | 0.01 | 0.53 | 0.53 | XXX
92081 | TC | A | Visual field examination(s) | 0.00 | NA | 1.27 | 0.01 | NA | 1.28 | XXX
92082 |  | A | Visual field examination(s) | 0.44 | NA | 1.28 | 0.02 | NA | 1.74 | XXX
92082 | 26 | A | Visual field examination(s) | 0.44 | 0.20 | 0.20 | 0.01 | 0.65 | 0.65 | XXX
92082 | TC | A | Visual field examination(s) | 0.00 | NA | 1.08 | 0.01 | NA | 1.09 | XXX
92083 |  | A | Visual field examination(s) | 0.50 | NA | 1.24 | 0.02 | NA | 1.76 | XXX
92083 | 26 | A | Visual field examination(s) | 0.50 | 0.23 | 0.23 | 0.01 | 0.74 | 0.74 | XXX
92083 | TC | A | Visual field examination(s) | 0.00 | NA | 1.01 | 0.01 | NA | 1.02 | XXX
92100 |  | A | Serial tonometry exam(s) | 0.92 | 0.40 | 0.78 | 0.02 | 1.34 | 1.72 | XXX
92120 |  | A | Tonography & eye evaluation | 0.81 | 0.32 | 0.76 | 0.02 | 1.15 | 1.59 | XXX
92130 |  | A | Water provocation tonography | 0.81 | 0.39 | 0.86 | 0.02 | 1.22 | 1.69 | XXX
92135 |  | A | Opthalmic dx imaging | 0.35 | NA | 1.20 | 0.02 | NA | 1.57 | XXX
92135 | 26 | A | Opthalmic dx imaging | 0.35 | 0.16 | 0.16 | 0.01 | 0.52 | 0.52 | XXX
92135 | TC | A | Opthalmic dx imaging | 0.00 | NA | 1.04 | 0.01 | NA | 1.05 | XXX
92140 |  | A | Glaucoma provocative tests | 0.50 | 0.22 | 0.95 | 0.01 | 0.73 | 1.46 | XXX
92225 |  | A | Special eye exam, initial | 0.38 | 0.16 | 1.66 | 0.01 | 0.55 | 2.05 | XXX
92226 |  | A | Special eye exam, subsequent | 0.33 | 0.15 | 1.74 | 0.01 | 0.49 | 2.08 | XXX
92230 |  | A | Eye exam with photos | 0.60 | 0.18 | 1.28 | 0.02 | 0.80 | 1.90 | XXX
92235 |  | A | Eye exam with photos | 0.81 | NA | 2.11 | 0.07 | NA | 2.99 | XXX
92235 | 26 | A | Eye exam with photos | 0.81 | 0.38 | 0.38 | 0.02 | 1.21 | 1.21 | XXX
92235 | TC | A | Eye exam with photos | 0.00 | NA | 1.73 | 0.05 | NA | 1.78 | XXX
92240 |  | A | Icg angiography | 1.10 | NA | 2.55 | 0.07 | NA | 3.72 | XXX
92240 | 26 | A | Icg angiography | 1.10 | 0.51 | 0.51 | 0.02 | 1.63 | 1.63 | XXX
92240 | TC | A | Icg angiography | 0.00 | NA | 2.04 | 0.05 | NA | 2.09 | XXX
92250 |  | A | Eye exam with photos | 0.44 | NA | 1.69 | 0.02 | NA | 2.15 | XXX
92250 | 26 | A | Eye exam with photos | 0.44 | 0.20 | 0.20 | 0.01 | 0.65 | 0.65 | XXX
92250 | TC | A | Eye exam with photos | 0.00 | NA | 1.49 | 0.01 | NA | 1.50 | XXX
92260 |  | A | Ophthalmoscopy/dynamometry | 0.20 | 0.09 | 0.22 | 0.01 | 0.30 | 0.43 | XXX
92265 |  | A | Eye muscle evaluation | 0.81 | NA | 1.35 | 0.04 | NA | 2.20 | XXX
92265 | 26 | A | Eye muscle evaluation | 0.81 | 0.33 | 0.33 | 0.02 | 1.16 | 1.16 | XXX
92265 | TC | A | Eye muscle evaluation | 0.00 | NA | 1.02 | 0.02 | NA | 1.04 | XXX
92270 |  | A | Electro-oculography | 0.81 | NA | 1.17 | 0.05 | NA | 2.03 | XXX
92270 | 26 | A | Electro-oculography | 0.81 | 0.36 | 0.36 | 0.03 | 1.20 | 1.20 | XXX
92270 | TC | A | Electro-oculography | 0.00 | NA | 0.81 | 0.02 | NA | 0.83 | XXX
92275 |  | A | Electroretinography | 1.01 | NA | 1.19 | 0.04 | NA | 2.24 | XXX
92275 | 26 | A | Electroretinography | 1.01 | 0.45 | 0.45 | 0.02 | 1.48 | 1.48 | XXX
92275 | TC | A | Electroretinography | 0.00 | NA | 0.74 | 0.02 | NA | 0.76 | XXX
92283 |  | A | Color vision examination | 0.17 | NA | 0.67 | 0.02 | NA | 0.86 | XXX
92283 | 26 | A | Color vision examination | 0.17 | 0.07 | 0.07 | 0.01 | 0.25 | 0.25 | XXX
92283 | TC | A | Color vision examination | 0.00 | NA | 0.60 | 0.01 | NA | 0.61 | XXX
92284 |  | A | Dark adaptation eye exam | 0.24 | NA | 2.15 | 0.02 | NA | 2.41 | XXX
92284 | 26 | A | Dark adaptation eye exam | 0.24 | 0.08 | 0.08 | 0.01 | 0.33 | 0.33 | XXX
92284 | TC | A | Dark adaptation eye exam | 0.00 | NA | 2.07 | 0.01 | NA | 2.08 | XXX
92285 |  | A | Eye photography | 0.20 | NA | 1.82 | 0.02 | NA | 2.04 | XXX
92285 | 26 | A | Eye photography | 0.20 | 0.09 | 0.09 | 0.01 | 0.30 | 0.30 | XXX
92285 | TC | A | Eye photography | 0.00 | NA | 1.73 | 0.01 | NA | 1.74 | XXX
92286 |  | A | Internal eye photography | 0.66 | NA | 1.98 | 0.03 | NA | 2.67 | XXX
92286 | 26 | A | Internal eye photography | 0.66 | 0.31 | 0.31 | 0.01 | 0.98 | 0.98 | XXX
92286 | TC | A | Internal eye photography | 0.00 | NA | 1.67 | 0.02 | NA | 1.69 | XXX
92287 |  | A | Internal eye photography | 0.81 | 0.30 | 1.89 | 0.02 | 1.13 | 2.72 | XXX
92310 |  | N | Contact lens fitting | +1.17 | 0.46 | 1.08 | 0.00 | 1.63 | 2.25 | XXX
92311 |  | A | Contact lens fitting | 1.08 | 0.40 | 1.02 | 0.03 | 1.51 | 2.13 | XXX
92312 |  | A | Contact lens fitting | 1.26 | 0.46 | 1.01 | 0.03 | 1.75 | 2.30 | XXX
92313 |  | A | Contact lens fitting | 0.92 | 0.31 | 1.02 | 0.02 | 1.25 | 1.96 | XXX
92314 |  | N | Prescription of contact lens | +0.69 | 0.27 | 0.89 | 0.00 | 0.96 | 1.58 | XXX
92315 |  | A | Prescription of contact lens | 0.45 | 0.18 | 0.74 | 0.01 | 0.64 | 1.20 | XXX
92316 |  | A | Prescription of contact lens | 0.68 | 0.27 | 0.82 | 0.01 | 0.96 | 1.51 | XXX
92317 |  | A | Prescription of contact lens | 0.45 | 0.15 | 0.88 | 0.01 | 0.61 | 1.34 | XXX
92325 |  | A | Modification of contact lens | 0.00 | NA | 0.39 | 0.01 | NA | 0.40 | XXX
92326 |  | A | Replacement of contact lens | 0.00 | NA | 1.61 | 0.05 | NA | 1.66 | XXX
92330 |  | A | Fitting of artificial eye | 1.08 | 0.43 | 0.98 | 0.04 | 1.55 | 2.10 | XXX
92335 |  | A | Fitting of artificial eye | 0.45 | 0.18 | 0.80 | 0.01 | 0.64 | 1.26 | XXX
92340 |  | N | Fitting of spectacles | +0.37 | 0.15 | 0.66 | 0.00 | 0.52 | 1.03 | XXX
92341 |  | N | Fitting of spectacles | +0.47 | 0.19 | 0.70 | 0.00 | 0.66 | 1.17 | XXX
92342 |  | N | Fitting of spectacles | +0.53 | 0.21 | 0.73 | 0.00 | 0.74 | 1.26 | XXX
92352 |  | B | Special spectacles fitting | +0.37 | 0.15 | 0.66 | 0.01 | 0.53 | 1.04 | XXX
92353 |  | B | Special spectacles fitting | +0.50 | 0.20 | 0.71 | 0.02 | 0.72 | 1.23 | XXX
92354 |  | B | Special spectacles fitting | +0.00 | NA | 8.72 | 0.08 | NA | 8.80 | XXX
92355 |  | B | Special spectacles fitting | +0.00 | NA | 4.27 | 0.01 | NA | 4.28 | XXX
92358 |  | B | Eye prosthesis service | +0.00 | NA | 0.95 | 0.04 | NA | 0.99 | XXX
92370 |  | N | Repair & adjust spectacles | +0.32 | 0.13 | 0.52 | 0.00 | 0.45 | 0.84 | XXX
92371 |  | B | Repair & adjust spectacles | +0.00 | NA | 0.61 | 0.02 | NA | 0.63 | XXX
92390 |  | N | Supply of spectacles | 0.00 | 0.00 | 0.00 | 0.00 | 0.00 | 0.00 | XXX
92391 |  | N | Supply of contact lenses | 0.00 | 0.00 | 0.00 | 0.00 | 0.00 | 0.00 | XXX
92392 |  | I | Supply of low vision aids | +0.00 | NA | 3.98 | 0.02 | NA | 4.00 | XXX
92393 |  | I | Supply of artificial eye | +0.00 | NA | 12.36 | 0.47 | NA | 12.83 | XXX
92395 |  | I | Supply of spectacles | +0.00 | NA | 1.35 | 0.08 | NA | 1.43 | XXX
92396 |  | I | Supply of contact lenses | +0.00 | NA | 2.27 | 0.06 | NA | 2.33 | XXX
92499 |  | C | Eye service or procedure | 0.00 | NA | 0.00 | 0.00 | NA | 0.00 | XXX
92499 | 26 | C | Eye service or procedure | 0.00 | 0.00 | 0.00 | 0.00 | 0.00 | 0.00 | XXX
92499 | TC | C | Eye service or procedure | 0.00 | NA | 0.00 | 0.00 | NA | 0.00 | XXX
92502 |  | A | Ear and throat examination | 1.51 | 1.32 | NA | 0.06 | 2.89 | NA | 000
92504 |  | A | Ear microscopy examination | 0.18 | 0.09 | 1.02 | 0.01 | 0.28 | 1.21 | XXX
92506 |  | A | Speech/hearing evaluation | 0.86 | 0.46 | 1.60 | 0.04 | 1.36 | 2.50 | XXX
92507 |  | A | Speech/hearing therapy | 0.52 | 0.28 | 1.47 | 0.02 | 0.82 | 2.01 | XXX
92508 |  | A | Speech/hearing therapy | 0.26 | 0.15 | 1.03 | 0.01 | 0.42 | 1.30 | XXX
92510 |  | A | Rehab for ear implant | 1.50 | 0.86 | 2.02 | 0.06 | 2.42 | 3.58 | XXX
92511 |  | A | Nasopharyngoscopy | 0.84 | 0.43 | 1.28 | 0.03 | 1.30 | 2.15 | 000
92512 |  | A | Nasal function studies | 0.55 | 0.19 | 1.08 | 0.02 | 0.76 | 1.65 | XXX
92516 |  | A | Facial nerve function test | 0.43 | 0.24 | 0.89 | 0.02 | 0.69 | 1.34 | XXX
92520 |  | A | Laryngeal function studies | 0.76 | 0.37 | 0.57 | 0.03 | 1.16 | 1.36 | XXX
92525 |  | G | Oral function evaluation | 1.50 | 0.59 | 1.66 | 0.07 | 2.16 | 3.23 | XXX
92526 |  | A | Oral function therapy | 0.55 | 0.26 | 1.72 | 0.02 | 0.83 | 2.29 | XXX
92531 |  | B | Spontaneous nystagmus study | 0.00 | 0.00 | 0.00 | 0.00 | 0.00 | 0.00 | XXX
92532 |  | B | Positional nystagmus study | 0.00 | 0.00 | 0.00 | 0.00 | 0.00 | 0.00 | XXX
92533 |  | B | Caloric vestibular test | 0.00 | 0.00 | 0.00 | 0.00 | 0.00 | 0.00 | XXX
92534 |  | B | Optokinetic nystagmus | 0.00 | 0.00 | 0.00 | 0.00 | 0.00 | 0.00 | XXX
92541 |  | A | Spontaneous nystagmus test | 0.40 | NA | 0.43 | 0.04 | NA | 0.87 | XXX
92541 | 26 | A | Spontaneous nystagmus test | 0.40 | 0.20 | 0.20 | 0.02 | 0.62 | 0.62 | XXX
92541 | TC | A | Spontaneous nystagmus test | 0.00 | NA | 0.23 | 0.02 | NA | 0.25 | XXX
92542 |  | A | Positional nystagmus test | 0.33 | NA | 0.43 | 0.03 | NA | 0.79 | XXX
92542 | 26 | A | Positional nystagmus test | 0.33 | 0.17 | 0.17 | 0.01 | 0.51 | 0.51 | XXX
92542 | TC | A | Positional nystagmus test | 0.00 | NA | 0.26 | 0.02 | NA | 0.28 | XXX
92543 |  | A | Caloric vestibular test | 0.10 | NA | 0.15 | 0.02 | NA | 0.27 | XXX
92543 | 26 | A | Caloric vestibular test | 0.10 | 0.05 | 0.05 | 0.01 | 0.16 | 0.16 | XXX
92543 | TC | A | Caloric vestibular test | 0.00 | NA | 0.10 | 0.01 | NA | 0.11 | XXX
92544 |  | A | Optokinetic nystagmus test | 0.26 | NA | 0.34 | 0.03 | NA | 0.63 | XXX
92544 | 26 | A | Optokinetic nystagmus test | 0.26 | 0.13 | 0.13 | 0.01 | 0.40 | 0.40 | XXX
92544 | TC | A | Optokinetic nystagmus test | 0.00 | NA | 0.21 | 0.02 | NA | 0.23 | XXX
92545 |  | A | Oscillating tracking test | 0.23 | NA | 0.32 | 0.03 | NA | 0.58 | XXX
92545 | 26 | A | Oscillating tracking test | 0.23 | 0.11 | 0.11 | 0.01 | 0.35 | 0.35 | XXX
92545 | TC | A | Oscillating tracking test | 0.00 | NA | 0.21 | 0.02 | NA | 0.23 | XXX
92546 |  | A | Sinusoidal rotational test | 0.29 | NA | 0.38 | 0.03 | NA | 0.70 | XXX
92546 | 26 | A | Sinusoidal rotational test | 0.29 | 0.14 | 0.14 | 0.01 | 0.44 | 0.44 | XXX
92546 | TC | A | Sinusoidal rotational test | 0.00 | NA | 0.24 | 0.02 | NA | 0.26 | XXX
92547 |  | A | Supplemental electrical test | 0.00 | NA | 0.55 | 0.05 | NA | 0.60 | ZZZ
92548 |  | A | Posturography | 0.50 | NA | 1.72 | 0.13 | NA | 2.35 | XXX
92548 | 26 | A | Posturography | 0.50 | 0.27 | 0.27 | 0.02 | 0.79 | 0.79 | XXX
92548 | TC | A | Posturography | 0.00 | NA | 1.45 | 0.11 | NA | 1.56 | XXX
92551 |  | N | Pure tone hearing test, air | 0.00 | 0.00 | 0.00 | 0.00 | 0.00 | 0.00 | XXX
92552 |  | A | Pure tone audiometry, air | 0.00 | NA | 0.44 | 0.03 | NA | 0.47 | XXX
92553 |  | A | Audiometry, air & bone | 0.00 | NA | 0.65 | 0.05 | NA | 0.70 | XXX
92555 |  | A | Speech threshold audiometry | 0.00 | NA | 0.37 | 0.03 | NA | 0.40 | XXX
92556 |  | A | Speech audiometry, complete | 0.00 | NA | 0.56 | 0.05 | NA | 0.61 | XXX
92557 |  | A | Comprehensive hearing test | 0.00 | NA | 1.17 | 0.10 | NA | 1.27 | XXX
92559 |  | N | Group audiometric testing | 0.00 | 0.00 | 0.00 | 0.00 | 0.00 | 0.00 | XXX
92560 |  | N | Bekesy audiometry, screen | 0.00 | 0.00 | 0.00 | 0.00 | 0.00 | 0.00 | XXX
92561 |  | A | Bekesy audiometry, diagnosis | 0.00 | NA | 0.70 | 0.05 | NA | 0.75 | XXX
92562 |  | A | Loudness balance test | 0.00 | NA | 0.40 | 0.03 | NA | 0.43 | XXX
92563 |  | A | Tone decay hearing test | 0.00 | NA | 0.37 | 0.03 | NA | 0.40 | XXX
92564 |  | A | Sisi hearing test | 0.00 | NA | 0.47 | 0.04 | NA | 0.51 | XXX
92565 |  | A | Stenger test, pure tone | 0.00 | NA | 0.39 | 0.03 | NA | 0.42 | XXX
92567 |  | A | Tympanometry | 0.00 | NA | 0.51 | 0.05 | NA | 0.56 | XXX
92568 |  | A | Acoustic reflex testing | 0.00 | NA | 0.37 | 0.03 | NA | 0.40 | XXX
92569 |  | A | Acoustic reflex decay test | 0.00 | NA | 0.40 | 0.03 | NA | 0.43 | XXX
92571 |  | A | Filtered speech hearing test | 0.00 | NA | 0.38 | 0.03 | NA | 0.41 | XXX
92572 |  | A | Staggered spondaic word test | 0.00 | NA | 0.09 | 0.01 | NA | 0.10 | XXX
92573 |  | A | Lombard test | 0.00 | NA | 0.34 | 0.03 | NA | 0.37 | XXX
92575 |  | A | Sensorineural acuity test | 0.00 | NA | 0.30 | 0.02 | NA | 0.32 | XXX
92576 |  | A | Synthetic sentence test | 0.00 | NA | 0.44 | 0.04 | NA | 0.48 | XXX
92577 |  | A | Stenger test, speech | 0.00 | NA | 0.70 | 0.06 | NA | 0.76 | XXX
92579 |  | A | Visual audiometry (vra) | 0.00 | NA | 0.71 | 0.05 | NA | 0.76 | XXX
92582 |  | A | Conditioning play audiometry | 0.00 | NA | 0.71 | 0.05 | NA | 0.76 | XXX
92583 |  | A | Select picture audiometry | 0.00 | NA | 0.88 | 0.07 | NA | 0.95 | XXX
92584 |  | A | Electrocochleography | 0.00 | NA | 2.44 | 0.17 | NA | 2.61 | XXX
92585 |  | A | Auditor evoke potent, compre | 0.50 | NA | 2.05 | 0.14 | NA | 2.69 | XXX
92585 | 26 | A | Auditor evoke potent, compre | 0.50 | 0.23 | 0.23 | 0.02 | 0.75 | 0.75 | XXX
92585 | TC | A | Auditor evoke potent, compre | 0.00 | NA | 1.82 | 0.12 | NA | 1.94 | XXX
92586 |  | A | Auditor evoke potent, limit | 0.00 | NA | 1.82 | 0.12 | NA | 1.94 | XXX
92587 |  | A | Evoked auditory test | 0.13 | NA | 1.36 | 0.10 | NA | 1.59 | XXX
92587 | 26 | A | Evoked auditory test | 0.13 | 0.07 | 0.07 | 0.01 | 0.21 | 0.21 | XXX
92587 | TC | A | Evoked auditory test | 0.00 | NA | 1.29 | 0.09 | NA | 1.38 | XXX
92588 |  | A | Evoked auditory test | 0.36 | NA | 1.62 | 0.12 | NA | 2.10 | XXX
92588 | 26 | A | Evoked auditory test | 0.36 | 0.17 | 0.17 | 0.01 | 0.54 | 0.54 | XXX
92588 | TC | A | Evoked auditory test | 0.00 | NA | 1.45 | 0.11 | NA | 1.56 | XXX
92589 |  | A | Auditory function test(s) | 0.00 | NA | 0.52 | 0.05 | NA | 0.57 | XXX
92590 |  | N | Hearing aid exam, one ear | 0.00 | 0.00 | 0.00 | 0.00 | 0.00 | 0.00 | XXX
92591 |  | N | Hearing aid exam, both ears | 0.00 | 0.00 | 0.00 | 0.00 | 0.00 | 0.00 | XXX
92592 |  | N | Hearing aid check, one ear | 0.00 | 0.00 | 0.00 | 0.00 | 0.00 | 0.00 | XXX
92593 |  | N | Hearing aid check, both ears | 0.00 | 0.00 | 0.00 | 0.00 | 0.00 | 0.00 | XXX
92594 |  | N | Electro hearng aid test, one | 0.00 | 0.00 | 0.00 | 0.00 | 0.00 | 0.00 | XXX
92595 |  | N | Electro hearng aid tst, both | 0.00 | 0.00 | 0.00 | 0.00 | 0.00 | 0.00 | XXX
92596 |  | A | Ear protector evaluation | 0.00 | NA | 0.58 | 0.05 | NA | 0.63 | XXX
92597 |  | G | Oral speech device eval | 1.35 | 0.53 | 1.60 | 0.05 | 1.93 | 3.00 | XXX
92598 |  | G | Modify oral speech device | 0.99 | 0.39 | 0.80 | 0.04 | 1.42 | 1.83 | XXX
92599 |  | C | ENT procedure/service | 0.00 | NA | 0.00 | 0.00 | NA | 0.00 | XXX
92599 | 26 | C | ENT procedure/service | 0.00 | 0.00 | 0.00 | 0.00 | 0.00 | 0.00 | XXX
92599 | TC | C | ENT procedure/service | 0.00 | NA | 0.00 | 0.00 | NA | 0.00 | XXX
92950 |  | A | Heart/lung resuscitation cpr | 3.80 | 1.16 | 1.37 | 0.21 | 5.17 | 5.38 | 000
92953 |  | A | Temporary external pacing | 0.23 | 0.23 | NA | 0.01 | 0.47 | NA | 000
92960 |  | A | Cardioversion electric, ext | 2.25 | 0.88 | 2.22 | 0.08 | 3.21 | 4.55 | 000
92961 |  | A | Cardioversion, electric, int | 4.60 | 1.85 | NA | 0.17 | 6.62 | NA | 000
92970 |  | A | Cardioassist, internal | 3.52 | 1.03 | NA | 0.17 | 4.72 | NA | 000
92971 |  | A | Cardioassist, external | 1.77 | 0.88 | NA | 0.06 | 2.71 | NA | 000
92975 |  | A | Dissolve clot, heart vessel | 7.25 | 3.00 | NA | 0.22 | 10.47 | NA | 000
92977 |  | A | Dissolve clot, heart vessel | 0.00 | NA | 7.93 | 0.38 | NA | 8.31 | XXX
92978 |  | A | Intravasc us, heart add-on | 1.80 | NA | 5.23 | 0.26 | NA | 7.29 | ZZZ
92978 | 26 | A | Intravasc us, heart add-on | 1.80 | 0.74 | 0.74 | 0.06 | 2.60 | 2.60 | ZZZ
92978 | TC | A | Intravasc us, heart add-on | 0.00 | NA | 4.49 | 0.20 | NA | 4.69 | ZZZ
92979 |  | A | Intravasc us, heart add-on | 1.44 | NA | 2.85 | 0.15 | NA | 4.44 | ZZZ
92979 | 26 | A | Intravasc us, heart add-on | 1.44 | 0.59 | 0.59 | 0.04 | 2.07 | 2.07 | ZZZ
92979 | TC | A | Intravasc us, heart add-on | 0.00 | NA | 2.26 | 0.11 | NA | 2.37 | ZZZ
92980 |  | A | Insert intracoronary stent | 14.84 | 6.15 | NA | 0.78 | 21.77 | NA | 000
92981 |  | A | Insert intracoronary stent | 4.17 | 1.72 | NA | 0.21 | 6.10 | NA | ZZZ
92982 |  | A | Coronary artery dilation | 10.98 | 4.56 | NA | 0.57 | 16.11 | NA | 000
92984 |  | A | Coronary artery dilation | 2.97 | 1.22 | NA | 0.16 | 4.35 | NA | ZZZ
92986 |  | A | Revision of aortic valve | 21.80 | 10.37 | NA | 1.14 | 33.31 | NA | 090
92987 |  | A | Revision of mitral valve | 22.70 | 10.75 | NA | 1.18 | 34.63 | NA | 090
92990 |  | A | Revision of pulmonary valve | 17.34 | 8.54 | NA | 0.90 | 26.78 | NA | 090
92992 |  | C | Revision of heart chamber | 0.00 | 0.00 | 0.00 | 0.00 | 0.00 | 0.00 | 090
92993 |  | C | Revision of heart chamber | 0.00 | 0.00 | 0.00 | 0.00 | 0.00 | 0.00 | 090
92995 |  | A | Coronary atherectomy | 12.09 | 5.01 | NA | 0.63 | 17.73 | NA | 000
92996 |  | A | Coronary atherectomy add-on | 3.26 | 1.38 | NA | 0.17 | 4.81 | NA | ZZZ
92997 |  | A | Pul art balloon repr, percut | 12.00 | 4.84 | NA | 0.63 | 17.47 | NA | 000
92998 |  | A | Pul art balloon repr, percut | 6.00 | 2.38 | NA | 0.31 | 8.69 | NA | ZZZ
93000 |  | A | Electrocardiogram, complete | 0.17 | NA | 0.51 | 0.03 | NA | 0.71 | XXX
93005 |  | A | Electrocardiogram, tracing | 0.00 | NA | 0.45 | 0.02 | NA | 0.47 | XXX
93010 |  | A | Electrocardiogram report | 0.17 | 0.06 | 0.06 | 0.01 | 0.24 | 0.24 | XXX
93012 |  | A | Transmission of ecg | 0.00 | NA | 2.32 | 0.15 | NA | 2.47 | XXX
93014 |  | A | Report on transmitted ecg | 0.52 | 0.19 | 0.19 | 0.02 | 0.73 | 0.73 | XXX
93015 |  | A | Cardiovascular stress test | 0.75 | NA | 1.95 | 0.11 | NA | 2.81 | XXX
93016 |  | A | Cardiovascular stress test | 0.45 | 0.18 | 0.18 | 0.01 | 0.64 | 0.64 | XXX
93017 |  | A | Cardiovascular stress test | 0.00 | NA | 1.66 | 0.09 | NA | 1.75 | XXX
93018 |  | A | Cardiovascular stress test | 0.30 | 0.12 | 0.12 | 0.01 | 0.43 | 0.43 | XXX
93024 |  | A | Cardiac drug stress test | 1.17 | NA | 1.57 | 0.11 | NA | 2.85 | XXX
93024 | 26 | A | Cardiac drug stress test | 1.17 | 0.47 | 0.47 | 0.04 | 1.68 | 1.68 | XXX
93024 | TC | A | Cardiac drug stress test | 0.00 | NA | 1.10 | 0.07 | NA | 1.17 | XXX
93040 |  | A | Rhythm ECG with report | 0.16 | NA | 0.19 | 0.02 | NA | 0.37 | XXX
93041 |  | A | Rhythm ECG, tracing | 0.00 | NA | 0.14 | 0.01 | NA | 0.15 | XXX
93042 |  | A | Rhythm ECG, report | 0.16 | 0.05 | 0.05 | 0.01 | 0.22 | 0.22 | XXX
93224 |  | A | ECG monitor/report, 24 hrs | 0.52 | NA | 3.57 | 0.21 | NA | 4.30 | XXX
93225 |  | A | ECG monitor/record, 24 hrs | 0.00 | NA | 1.22 | 0.07 | NA | 1.29 | XXX
93226 |  | A | ECG monitor/report, 24 hrs | 0.00 | NA | 2.15 | 0.12 | NA | 2.27 | XXX
93227 |  | A | ECG monitor/review, 24 hrs | 0.52 | 0.20 | 0.20 | 0.02 | 0.74 | 0.74 | XXX
93230 |  | A | ECG monitor/report, 24 hrs | 0.52 | NA | 3.84 | 0.22 | NA | 4.58 | XXX
93231 |  | A | Ecg monitor/record, 24 hrs | 0.00 | NA | 1.49 | 0.09 | NA | 1.58 | XXX
93232 |  | A | ECG monitor/report, 24 hrs | 0.00 | NA | 2.14 | 0.11 | NA | 2.25 | XXX
93233 |  | A | ECG monitor/review, 24 hrs | 0.52 | 0.20 | 0.20 | 0.02 | 0.74 | 0.74 | XXX
93235 |  | A | ECG monitor/report, 24 hrs | 0.45 | NA | 2.75 | 0.13 | NA | 3.33 | XXX
93236 |  | A | ECG monitor/report, 24 hrs | 0.00 | NA | 2.58 | 0.12 | NA | 2.70 | XXX
93237 |  | A | ECG monitor/review, 24 hrs | 0.45 | 0.17 | 0.17 | 0.01 | 0.63 | 0.63 | XXX
93268 |  | A | ECG record/review | 0.52 | NA | 3.74 | 0.24 | NA | 4.50 | XXX
93270 |  | A | ECG recording | 0.00 | NA | 1.22 | 0.07 | NA | 1.29 | XXX
93271 |  | A | Ecg/monitoring and analysis | 0.00 | NA | 2.32 | 0.15 | NA | 2.47 | XXX
93272 |  | A | Ecg/review, interpret only | 0.52 | 0.20 | 0.20 | 0.02 | 0.74 | 0.74 | XXX
93278 |  | A | ECG/signal-averaged | 0.25 | NA | 1.23 | 0.10 | NA | 1.58 | XXX
93278 | 26 | A | ECG/signal-averaged | 0.25 | 0.10 | 0.10 | 0.01 | 0.36 | 0.36 | XXX
93278 | TC | A | ECG/signal-averaged | 0.00 | NA | 1.13 | 0.09 | NA | 1.22 | XXX
93303 |  | A | Echo transthoracic | 1.30 | NA | 4.28 | 0.23 | NA | 5.81 | XXX
93303 | 26 | A | Echo transthoracic | 1.30 | 0.48 | 0.48 | 0.04 | 1.82 | 1.82 | XXX
93303 | TC | A | Echo transthoracic | 0.00 | NA | 3.80 | 0.19 | NA | 3.99 | XXX
93304 |  | A | Echo transthoracic | 0.75 | NA | 2.21 | 0.13 | NA | 3.09 | XXX
93304 | 26 | A | Echo transthoracic | 0.75 | 0.30 | 0.30 | 0.02 | 1.07 | 1.07 | XXX
93304 | TC | A | Echo transthoracic | 0.00 | NA | 1.91 | 0.11 | NA | 2.02 | XXX
93307 |  | A | Echo exam of heart | 0.92 | NA | 4.17 | 0.22 | NA | 5.31 | XXX
93307 | 26 | A | Echo exam of heart | 0.92 | 0.37 | 0.37 | 0.03 | 1.32 | 1.32 | XXX
93307 | TC | A | Echo exam of heart | 0.00 | NA | 3.80 | 0.19 | NA | 3.99 | XXX
93308 |  | A | Echo exam of heart | 0.53 | NA | 2.12 | 0.13 | NA | 2.78 | XXX
93308 | 26 | A | Echo exam of heart | 0.53 | 0.21 | 0.21 | 0.02 | 0.76 | 0.76 | XXX
93308 | TC | A | Echo exam of heart | 0.00 | NA | 1.91 | 0.11 | NA | 2.02 | XXX
93312 |  | A | Echo transesophageal | 2.20 | NA | 4.57 | 0.32 | NA | 7.09 | XXX
93312 | 26 | A | Echo transesophageal | 2.20 | 0.85 | 0.85 | 0.08 | 3.13 | 3.13 | XXX
93312 | TC | A | Echo transesophageal | 0.00 | NA | 3.72 | 0.24 | NA | 3.96 | XXX
93313 |  | A | Echo transesophageal | 0.95 | 0.21 | 4.70 | 0.05 | 1.21 | 5.70 | XXX
93314 |  | A | Echo transesophageal | 1.25 | NA | 4.21 | 0.28 | NA | 5.74 | XXX
93314 | 26 | A | Echo transesophageal | 1.25 | 0.49 | 0.49 | 0.04 | 1.78 | 1.78 | XXX
93314 | TC | A | Echo transesophageal | 0.00 | NA | 3.72 | 0.24 | NA | 3.96 | XXX
93315 |  | A | Echo transesophageal | 2.78 | NA | 4.78 | 0.34 | NA | 7.90 | XXX
93315 | 26 | A | Echo transesophageal | 2.78 | 1.06 | 1.06 | 0.10 | 3.94 | 3.94 | XXX
93315 | TC | A | Echo transesophageal | 0.00 | NA | 3.72 | 0.24 | NA | 3.96 | XXX
93316 |  | A | Echo transesophageal | 0.95 | 0.23 | 3.35 | 0.05 | 1.23 | 4.35 | XXX
93317 |  | A | Echo transesophageal | 1.83 | NA | 4.45 | 0.30 | NA | 6.58 | XXX
93317 | 26 | A | Echo transesophageal | 1.83 | 0.73 | 0.73 | 0.06 | 2.62 | 2.62 | XXX
93317 | TC | A | Echo transesophageal | 0.00 | NA | 3.72 | 0.24 | NA | 3.96 | XXX
93318 |  | C | Echo transesophageal intraop | 0.00 | NA | 0.00 | 0.00 | NA | 0.00 | XXX
93318 | 26 | C | Echo transesophageal intraop | 0.00 | 0.00 | 0.00 | 0.00 | 0.00 | 0.00 | XXX
93318 | TC | C | Echo transesophageal intraop | 0.00 | NA | 0.00 | 0.00 | NA | 0.00 | XXX
93320 |  | A | Doppler echo exam, heart | 0.38 | NA | 1.84 | 0.11 | NA | 2.33 | ZZZ
93320 | 26 | A | Doppler echo exam, heart | 0.38 | 0.15 | 0.15 | 0.01 | 0.54 | 0.54 | ZZZ
93320 | TC | A | Doppler echo exam, heart | 0.00 | NA | 1.69 | 0.10 | NA | 1.79 | ZZZ
93321 |  | A | Doppler echo exam, heart | 0.15 | NA | 1.15 | 0.08 | NA | 1.38 | ZZZ
93321 | 26 | A | Doppler echo exam, heart | 0.15 | 0.06 | 0.06 | 0.01 | 0.22 | 0.22 | ZZZ
93321 | TC | A | Doppler echo exam, heart | 0.00 | NA | 1.09 | 0.07 | NA | 1.16 | ZZZ
93325 |  | A | Doppler color flow add-on | 0.07 | NA | 2.89 | 0.18 | NA | 3.14 | ZZZ
93325 | 26 | A | Doppler color flow add-on | 0.07 | 0.03 | 0.03 | 0.01 | 0.11 | 0.11 | ZZZ
93325 | TC | A | Doppler color flow add-on | 0.00 | NA | 2.86 | 0.17 | NA | 3.03 | ZZZ
93350 |  | A | Echo transthoracic | 1.48 | NA | 2.33 | 0.13 | NA | 3.94 | XXX
93350 | 26 | A | Echo transthoracic | 1.48 | 0.60 | 0.60 | 0.02 | 2.10 | 2.10 | XXX
93350 | TC | A | Echo transthoracic | 0.00 | NA | 1.73 | 0.11 | NA | 1.84 | XXX
93501 |  | A | Right heart catheterization | 3.02 | NA | 17.20 | 1.03 | NA | 21.25 | 000
93501 | 26 | A | Right heart catheterization | 3.02 | 1.21 | 1.21 | 0.16 | 4.39 | 4.39 | 000
93501 | TC | A | Right heart catheterization | 0.00 | NA | 15.99 | 0.87 | NA | 16.86 | 000
93503 |  | A | Insert/place heart catheter | 2.91 | 0.74 | NA | 0.16 | 3.81 | NA | 000
93505 |  | A | Biopsy of heart lining | 4.38 | NA | 3.64 | 0.36 | NA | 8.38 | 000
93505 | 26 | A | Biopsy of heart lining | 4.38 | 1.77 | 1.77 | 0.23 | 6.38 | 6.38 | 000
93505 | TC | A | Biopsy of heart lining | 0.00 | NA | 1.87 | 0.13 | NA | 2.00 | 000
93508 |  | A | Cath placement, angiography | 4.10 | NA | 13.61 | 0.75 | NA | 18.46 | 000
93508 | 26 | A | Cath placement, angiography | 4.10 | 1.68 | 1.68 | 0.21 | 5.99 | 5.99 | 000
93508 | TC | A | Cath placement, angiography | 0.00 | NA | 11.93 | 0.54 | NA | 12.47 | 000
93510 |  | A | Left heart catheterization | 4.33 | NA | 36.72 | 2.13 | NA | 43.18 | 000
93510 | 26 | A | Left heart catheterization | 4.33 | 1.78 | 1.78 | 0.22 | 6.33 | 6.33 | 000
93510 | TC | A | Left heart catheterization | 0.00 | NA | 34.94 | 1.91 | NA | 36.85 | 000
93511 |  | A | Left heart catheterization | 5.03 | NA | 36.08 | 2.11 | NA | 43.22 | 000
93511 | 26 | A | Left heart catheterization | 5.03 | 2.07 | 2.07 | 0.26 | 7.36 | 7.36 | 000
93511 | TC | A | Left heart catheterization | 0.00 | NA | 34.01 | 1.85 | NA | 35.86 | 000
93514 |  | A | Left heart catheterization | 7.05 | NA | 36.71 | 2.22 | NA | 45.98 | 000
93514 | 26 | A | Left heart catheterization | 7.05 | 2.70 | 2.70 | 0.37 | 10.12 | 10.12 | 000
93514 | TC | A | Left heart catheterization | 0.00 | NA | 34.01 | 1.85 | NA | 35.86 | 000
93524 |  | A | Left heart catheterization | 6.95 | NA | 47.26 | 2.79 | NA | 57.00 | 000
93524 | 26 | A | Left heart catheterization | 6.95 | 2.81 | 2.81 | 0.36 | 10.12 | 10.12 | 000
93524 | TC | A | Left heart catheterization | 0.00 | NA | 44.45 | 2.43 | NA | 46.88 | 000
93526 |  | A | Rt & Lt heart catheters | 5.99 | NA | 48.13 | 2.81 | NA | 56.93 | 000
93526 | 26 | A | Rt & Lt heart catheters | 5.99 | 2.46 | 2.46 | 0.31 | 8.76 | 8.76 | 000
93526 | TC | A | Rt & Lt heart catheters | 0.00 | NA | 45.67 | 2.50 | NA | 48.17 | 000
93527 |  | A | Rt & Lt heart catheters | 7.28 | NA | 47.43 | 2.81 | NA | 57.52 | 000
93527 | 26 | A | Rt & Lt heart catheters | 7.28 | 2.98 | 2.98 | 0.38 | 10.64 | 10.64 | 000
93527 | TC | A | Rt & Lt heart catheters | 0.00 | NA | 44.45 | 2.43 | NA | 46.88 | 000
93528 |  | A | Rt & Lt heart catheters | 9.00 | NA | 48.19 | 2.90 | NA | 60.09 | 000
93528 | 26 | A | Rt & Lt heart catheters | 9.00 | 3.74 | 3.74 | 0.47 | 13.21 | 13.21 | 000
93528 | TC | A | Rt & Lt heart catheters | 0.00 | NA | 44.45 | 2.43 | NA | 46.88 | 000
93529 |  | A | Rt, Lt heart catheterization | 4.80 | NA | 46.41 | 2.68 | NA | 53.89 | 000
93529 | 26 | A | Rt, Lt heart catheterization | 4.80 | 1.96 | 1.96 | 0.25 | 7.01 | 7.01 | 000
93529 | TC | A | Rt, Lt heart catheterization | 0.00 | NA | 44.45 | 2.43 | NA | 46.88 | 000
93530 |  | A | Rt heart cath, congenital | 4.23 | NA | 17.53 | 1.11 | NA | 22.87 | 000
93530 | 26 | A | Rt heart cath, congenital | 4.23 | 1.54 | 1.54 | 0.24 | 6.01 | 6.01 | 000
93530 | TC | A | Rt heart cath, congenital | 0.00 | NA | 15.99 | 0.87 | NA | 16.86 | 000
93531 |  | A | R & l heart cath, congenital | 8.35 | NA | 48.92 | 2.96 | NA | 60.23 | 000
93531 | 26 | A | R & l heart cath, congenital | 8.35 | 3.25 | 3.25 | 0.46 | 12.06 | 12.06 | 000
93531 | TC | A | R & l heart cath, congenital | 0.00 | NA | 45.67 | 2.50 | NA | 48.17 | 000
93532 |  | A | R & l heart cath, congenital | 10.00 | NA | 48.33 | 2.95 | NA | 61.28 | 000
93532 | 26 | A | R & l heart cath, congenital | 10.00 | 3.88 | 3.88 | 0.52 | 14.40 | 14.40 | 000
93532 | TC | A | R & l heart cath, congenital | 0.00 | NA | 44.45 | 2.43 | NA | 46.88 | 000
93533 |  | A | R & l heart cath, congenital | 6.70 | NA | 46.91 | 2.86 | NA | 56.47 | 000
93533 | 26 | A | R & l heart cath, congenital | 6.70 | 2.46 | 2.46 | 0.43 | 9.59 | 9.59 | 000
93533 | TC | A | R & l heart cath, congenital | 0.00 | NA | 44.45 | 2.43 | NA | 46.88 | 000
93536 |  | A | Insert circulation assi | 4.85 | 1.97 | NA | 0.27 | 7.09 | NA | 000
93539 |  | A | Injection, cardiac cath | 0.40 | 0.16 | 0.85 | 0.01 | 0.57 | 1.26 | 000
93540 |  | A | Injection, cardiac cath | 0.43 | 0.18 | 0.86 | 0.01 | 0.62 | 1.30 | 000
93541 |  | A | Injection for lung angiogram | 0.29 | 0.12 | NA | 0.01 | 0.42 | NA | 000
93542 |  | A | Injection for heart x-rays | 0.29 | 0.12 | NA | 0.01 | 0.42 | NA | 000
93543 |  | A | Injection for heart x-rays | 0.29 | 0.12 | 0.55 | 0.01 | 0.42 | 0.85 | 000
93544 |  | A | Injection for aortography | 0.25 | 0.10 | 0.53 | 0.01 | 0.36 | 0.79 | 000
93545 |  | A | Inject for coronary x-rays | 0.40 | 0.16 | 0.85 | 0.01 | 0.57 | 1.26 | 000
93555 |  | A | Imaging, cardiac cath | 0.81 | NA | 6.26 | 0.31 | NA | 7.38 | XXX
93555 | 26 | A | Imaging, cardiac cath | 0.81 | 0.33 | 0.33 | 0.03 | 1.17 | 1.17 | XXX
93555 | TC | A | Imaging, cardiac cath | 0.00 | NA | 5.93 | 0.28 | NA | 6.21 | XXX
93556 |  | A | Imaging, cardiac cath | 0.83 | NA | 9.70 | 0.45 | NA | 10.98 | XXX
93556 | 26 | A | Imaging, cardiac cath | 0.83 | 0.34 | 0.34 | 0.03 | 1.20 | 1.20 | XXX
93556 | TC | A | Imaging, cardiac cath | 0.00 | NA | 9.36 | 0.42 | NA | 9.78 | XXX
93561 |  | A | Cardiac output measurement | 0.50 | NA | 0.67 | 0.07 | NA | 1.24 | 000
93561 | 26 | A | Cardiac output measurement | 0.50 | 0.16 | 0.16 | 0.02 | 0.68 | 0.68 | 000
93561 | TC | A | Cardiac output measurement | 0.00 | NA | 0.51 | 0.05 | NA | 0.56 | 000
93562 |  | A | Cardiac output measurement | 0.16 | NA | 0.34 | 0.04 | NA | 0.54 | 000
93562 | 26 | A | Cardiac output measurement | 0.16 | 0.05 | 0.05 | 0.01 | 0.22 | 0.22 | 000
93562 | TC | A | Cardiac output measurement | 0.00 | NA | 0.29 | 0.03 | NA | 0.32 | 000
93571 |  | A | Heart flow reserve measure | 1.80 | NA | 5.19 | 0.31 | NA | 7.30 | ZZZ
93571 | 26 | A | Heart flow reserve measure | 1.80 | 0.70 | 0.70 | 0.11 | 2.61 | 2.61 | ZZZ
93571 | TC | A | Heart flow reserve measure | 0.00 | NA | 4.49 | 0.20 | NA | 4.69 | ZZZ
93572 |  | A | Heart flow reserve measure | 1.44 | NA | 2.76 | 0.28 | NA | 4.48 | ZZZ
93572 | 26 | A | Heart flow reserve measure | 1.44 | 0.50 | 0.50 | 0.17 | 2.11 | 2.11 | ZZZ
93572 | TC | A | Heart flow reserve measure | 0.00 | NA | 2.26 | 0.11 | NA | 2.37 | ZZZ
93600 |  | A | Bundle of His recording | 2.12 | NA | 2.79 | 0.22 | NA | 5.13 | 000
93600 | 26 | A | Bundle of His recording | 2.12 | 0.87 | 0.87 | 0.11 | 3.10 | 3.10 | 000
93600 | TC | A | Bundle of His recording | 0.00 | NA | 1.92 | 0.11 | NA | 2.03 | 000
93602 |  | A | Intra-atrial recording | 2.12 | NA | 1.95 | 0.18 | NA | 4.25 | 000
93602 | 26 | A | Intra-atrial recording | 2.12 | 0.86 | 0.86 | 0.12 | 3.10 | 3.10 | 000
93602 | TC | A | Intra-atrial recording | 0.00 | NA | 1.09 | 0.06 | NA | 1.15 | 000
93603 |  | A | Right ventricular recording | 2.12 | NA | 2.51 | 0.20 | NA | 4.83 | 000
93603 | 26 | A | Right ventricular recording | 2.12 | 0.85 | 0.85 | 0.11 | 3.08 | 3.08 | 000
93603 | TC | A | Right ventricular recording | 0.00 | NA | 1.66 | 0.09 | NA | 1.75 | 000
93607 |  | A | Left ventricular recording | 3.26 | NA | 2.83 | 0.26 | NA | 6.35 | 000
93607 | 26 | A | Left ventricular recording | 3.26 | 1.36 | 1.36 | 0.17 | 4.79 | 4.79 | 000
93607 | TC | A | Left ventricular recording | 0.00 | NA | 1.47 | 0.09 | NA | 1.56 | 000
93609 |  | A | Mapping of tachycardia | 10.07 | NA | 6.79 | 0.66 | NA | 17.52 | 000
93609 | 26 | A | Mapping of tachycardia | 10.07 | 4.11 | 4.11 | 0.52 | 14.70 | 14.70 | 000
93609 | TC | A | Mapping of tachycardia | 0.00 | NA | 2.68 | 0.14 | NA | 2.82 | 000
93610 |  | A | Intra-atrial pacing | 3.02 | NA | 2.54 | 0.25 | NA | 5.81 | 000
93610 | 26 | A | Intra-atrial pacing | 3.02 | 1.21 | 1.21 | 0.17 | 4.40 | 4.40 | 000
93610 | TC | A | Intra-atrial pacing | 0.00 | NA | 1.33 | 0.08 | NA | 1.41 | 000
93612 |  | A | Intraventricular pacing | 3.02 | NA | 2.80 | 0.26 | NA | 6.08 | 000
93612 | 26 | A | Intraventricular pacing | 3.02 | 1.21 | 1.21 | 0.17 | 4.40 | 4.40 | 000
93612 | TC | A | Intraventricular pacing | 0.00 | NA | 1.59 | 0.09 | NA | 1.68 | 000
93615 |  | A | Esophageal recording | 0.99 | NA | 0.70 | 0.05 | NA | 1.74 | 000
93615 | 26 | A | Esophageal recording | 0.99 | 0.39 | 0.39 | 0.03 | 1.41 | 1.41 | 000
93615 | TC | A | Esophageal recording | 0.00 | NA | 0.31 | 0.02 | NA | 0.33 | 000
93616 |  | A | Esophageal recording | 1.49 | NA | 0.79 | 0.08 | NA | 2.36 | 000
93616 | 26 | A | Esophageal recording | 1.49 | 0.48 | 0.48 | 0.06 | 2.03 | 2.03 | 000
93616 | TC | A | Esophageal recording | 0.00 | NA | 0.31 | 0.02 | NA | 0.33 | 000
93618 |  | A | Heart rhythm pacing | 4.26 | NA | 5.65 | 0.42 | NA | 10.33 | 000
93618 | 26 | A | Heart rhythm pacing | 4.26 | 1.75 | 1.75 | 0.22 | 6.23 | 6.23 | 000
93618 | TC | A | Heart rhythm pacing | 0.00 | NA | 3.90 | 0.20 | NA | 4.10 | 000
93619 |  | A | Electrophysiology evaluation | 7.32 | NA | 10.57 | 0.77 | NA | 18.66 | 000
93619 | 26 | A | Electrophysiology evaluation | 7.32 | 2.98 | 2.98 | 0.38 | 10.68 | 10.68 | 000
93619 | TC | A | Electrophysiology evaluation | 0.00 | NA | 7.59 | 0.39 | NA | 7.98 | 000
93620 |  | A | Electrophysiology evaluation | 11.59 | NA | 13.58 | 1.04 | NA | 26.21 | 000
93620 | 26 | A | Electrophysiology evaluation | 11.59 | 4.75 | 4.75 | 0.60 | 16.94 | 16.94 | 000
93620 | TC | A | Electrophysiology evaluation | 0.00 | NA | 8.83 | 0.44 | NA | 9.27 | 000
93621 |  | C | Electrophysiology evaluation | 0.00 | NA | 0.00 | 0.00 | NA | 0.00 | 000
93621 | 26 | A | Electrophysiology evaluation | 12.66 | 5.19 | 5.19 | 0.66 | 18.51 | 18.51 | 000
93621 | TC | C | Electrophysiology evaluation | 0.00 | NA | 0.00 | 0.00 | NA | 0.00 | 000
93622 |  | C | Electrophysiology evaluation | 0.00 | NA | 0.00 | 0.00 | NA | 0.00 | 000
93622 | 26 | A | Electrophysiology evaluation | 12.74 | 5.22 | 5.22 | 0.67 | 18.63 | 18.63 | 000
93622 | TC | C | Electrophysiology evaluation | 0.00 | NA | 0.00 | 0.00 | NA | 0.00 | 000
93623 |  | C | Stimulation, pacing heart | 0.00 | NA | 0.00 | 0.00 | NA | 0.00 | ZZZ
93623 | 26 | A | Stimulation, pacing heart | 2.85 | 1.16 | 1.16 | 0.15 | 4.16 | 4.16 | ZZZ
93623 | TC | C | Stimulation, pacing heart | 0.00 | NA | 0.00 | 0.00 | NA | 0.00 | ZZZ
93624 |  | A | Electrophysiologic study | 4.81 | NA | 3.91 | 0.36 | NA | 9.08 | 000
93624 | 26 | A | Electrophysiologic study | 4.81 | 1.96 | 1.96 | 0.25 | 7.02 | 7.02 | 000
93624 | TC | A | Electrophysiologic study | 0.00 | NA | 1.95 | 0.11 | NA | 2.06 | 000
93631 |  | A | Heart pacing, mapping | 7.60 | NA | 8.89 | 1.17 | NA | 17.66 | 000
93631 | 26 | A | Heart pacing, mapping | 7.60 | 2.83 | 2.83 | 0.66 | 11.09 | 11.09 | 000
93631 | TC | A | Heart pacing, mapping | 0.00 | NA | 6.06 | 0.51 | NA | 6.57 | 000
93640 |  | A | Evaluation heart device | 3.52 | NA | 8.46 | 0.53 | NA | 12.51 | 000
93640 | 26 | A | Evaluation heart device | 3.52 | 1.40 | 1.40 | 0.18 | 5.10 | 5.10 | 000
93640 | TC | A | Evaluation heart device | 0.00 | NA | 7.06 | 0.35 | NA | 7.41 | 000
93641 |  | A | Electrophysiology evaluation | 5.93 | NA | 9.49 | 0.66 | NA | 16.08 | 000
93641 | 26 | A | Electrophysiology evaluation | 5.93 | 2.43 | 2.43 | 0.31 | 8.67 | 8.67 | 000
93641 | TC | A | Electrophysiology evaluation | 0.00 | NA | 7.06 | 0.35 | NA | 7.41 | 000
93642 |  | A | Electrophysiology evaluation | 4.89 | NA | 9.00 | 0.51 | NA | 14.40 | 000
93642 | 26 | A | Electrophysiology evaluation | 4.89 | 1.94 | 1.94 | 0.16 | 6.99 | 6.99 | 000
93642 | TC | A | Electrophysiology evaluation | 0.00 | NA | 7.06 | 0.35 | NA | 7.41 | 000
93650 |  | A | Ablate heart dysrhythm focus | 10.51 | 4.36 | NA | 0.55 | 15.42 | NA | 000
93651 |  | A | Ablate heart dysrhythm focus | 16.25 | 6.70 | NA | 0.85 | 23.80 | NA | 000
93652 |  | A | Ablate heart dysrhythm focus | 17.68 | 7.27 | NA | 0.92 | 25.87 | NA | 000
93660 |  | A | Tilt table evaluation | 1.89 | NA | 2.44 | 0.08 | NA | 4.41 | 000
93660 | 26 | A | Tilt table evaluation | 1.89 | 0.78 | 0.78 | 0.06 | 2.73 | 2.73 | 000
93660 | TC | A | Tilt table evaluation | 0.00 | NA | 1.66 | 0.02 | NA | 1.68 | 000
93662 |  | A | Intracardiac ecg (ice) | 2.80 | 1.16 | NA | 0.41 | 4.37 | NA | ZZZ
93668 |  | N | Peripheral vascular rehab | 0.00 | NA | 0.00 | 0.00 | NA | 0.00 | XXX
93720 |  | A | Total body plethysmography | 0.17 | NA | 0.75 | 0.06 | NA | 0.98 | XXX
93721 |  | A | Plethysmography tracing | 0.00 | NA | 0.70 | 0.05 | NA | 0.75 | XXX
93722 |  | A | Plethysmography report | 0.17 | 0.06 | 0.06 | 0.01 | 0.24 | 0.24 | XXX
93724 |  | A | Analyze pacemaker system | 4.89 | NA | 5.90 | 0.38 | NA | 11.17 | 000
93724 | 26 | A | Analyze pacemaker system | 4.89 | 2.00 | 2.00 | 0.18 | 7.07 | 7.07 | 000
93724 | TC | A | Analyze pacemaker system | 0.00 | NA | 3.90 | 0.20 | NA | 4.10 | 000
93727 |  | A | Analyze ilr system | 0.52 | 0.19 | 0.19 | 0.05 | 0.76 | 0.76 | XXX
93731 |  | A | Analyze pacemaker system | 0.45 | NA | 0.67 | 0.05 | NA | 1.17 | XXX
93731 | 26 | A | Analyze pacemaker system | 0.45 | 0.18 | 0.18 | 0.02 | 0.65 | 0.65 | XXX
93731 | TC | A | Analyze pacemaker system | 0.00 | NA | 0.49 | 0.03 | NA | 0.52 | XXX
93732 |  | A | Analyze pacemaker system | 0.92 | NA | 0.87 | 0.06 | NA | 1.85 | XXX
93732 | 26 | A | Analyze pacemaker system | 0.92 | 0.37 | 0.37 | 0.03 | 1.32 | 1.32 | XXX
93732 | TC | A | Analyze pacemaker system | 0.00 | NA | 0.50 | 0.03 | NA | 0.53 | XXX
93733 |  | A | Telephone analy, pacemaker | 0.17 | NA | 0.78 | 0.06 | NA | 1.01 | XXX
93733 | 26 | A | Telephone analy, pacemaker | 0.17 | 0.07 | 0.07 | 0.01 | 0.25 | 0.25 | XXX
93733 | TC | A | Telephone analy, pacemaker | 0.00 | NA | 0.71 | 0.05 | NA | 0.76 | XXX
93734 |  | A | Analyze pacemaker system | 0.38 | NA | 0.49 | 0.03 | NA | 0.90 | XXX
93734 | 26 | A | Analyze pacemaker system | 0.38 | 0.15 | 0.15 | 0.01 | 0.54 | 0.54 | XXX
93734 | TC | A | Analyze pacemaker system | 0.00 | NA | 0.34 | 0.02 | NA | 0.36 | XXX
93735 |  | A | Analyze pacemaker system | 0.74 | NA | 0.74 | 0.06 | NA | 1.54 | XXX
93735 | 26 | A | Analyze pacemaker system | 0.74 | 0.30 | 0.30 | 0.03 | 1.07 | 1.07 | XXX
93735 | TC | A | Analyze pacemaker system | 0.00 | NA | 0.44 | 0.03 | NA | 0.47 | XXX
93736 |  | A | Telephone analy, pacemaker | 0.15 | NA | 0.68 | 0.06 | NA | 0.89 | XXX
93736 | 26 | A | Telephone analy, pacemaker | 0.15 | 0.06 | 0.06 | 0.01 | 0.22 | 0.22 | XXX
93736 | TC | A | Telephone analy, pacemaker | 0.00 | NA | 0.62 | 0.05 | NA | 0.67 | XXX
93737 |  | A | Analyze cardio/defibrillator | 0.45 | NA | 0.67 | 0.04 | NA | 1.16 | XXX
93737 | 26 | A | Analyze cardio/defibrillator | 0.45 | 0.18 | 0.18 | 0.01 | 0.64 | 0.64 | XXX
93737 | TC | A | Analyze cardio/defibrillator | 0.00 | NA | 0.49 | 0.03 | NA | 0.52 | XXX
93738 |  | A | Analyze cardio/defibrillator | 0.92 | NA | 0.88 | 0.06 | NA | 1.86 | XXX
93738 | 26 | A | Analyze cardio/defibrillator | 0.92 | 0.38 | 0.38 | 0.03 | 1.33 | 1.33 | XXX
93738 | TC | A | Analyze cardio/defibrillator | 0.00 | NA | 0.50 | 0.03 | NA | 0.53 | XXX
93740 |  | B | Temperature gradient studies | +0.16 | NA | 0.21 | 0.02 | NA | 0.39 | XXX
93740 | 26 | B | Temperature gradient studies | +0.16 | 0.06 | 0.06 | 0.01 | 0.23 | 0.23 | XXX
93740 | TC | B | Temperature gradient studies | +0.00 | NA | 0.15 | 0.01 | NA | 0.16 | XXX
93741 |  | A | Analyze ht pace device sngl | 0.80 | NA | 0.98 | 0.05 | NA | 1.83 | XXX
93741 | 26 | A | Analyze ht pace device sngl | 0.80 | 0.32 | 0.32 | 0.02 | 1.14 | 1.14 | XXX
93741 | TC | A | Analyze ht pace device sngl | 0.00 | NA | 0.66 | 0.03 | NA | 0.69 | XXX
93742 |  | A | Analyze ht pace device sngl | 0.91 | NA | 1.02 | 0.05 | NA | 1.98 | XXX
93742 | 26 | A | Analyze ht pace device sngl | 0.91 | 0.36 | 0.36 | 0.02 | 1.29 | 1.29 | XXX
93742 | TC | A | Analyze ht pace device sngl | 0.00 | NA | 0.66 | 0.03 | NA | 0.69 | XXX
93743 |  | A | Analyze ht pace device dual | 1.03 | NA | 1.13 | 0.06 | NA | 2.22 | XXX
93743 | 26 | A | Analyze ht pace device dual | 1.03 | 0.41 | 0.41 | 0.03 | 1.47 | 1.47 | XXX
93743 | TC | A | Analyze ht pace device dual | 0.00 | NA | 0.72 | 0.03 | NA | 0.75 | XXX
93744 |  | A | Analyze ht pace device dual | 1.18 | NA | 1.13 | 0.06 | NA | 2.37 | XXX
93744 | 26 | A | Analyze ht pace device dual | 1.18 | 0.47 | 0.47 | 0.03 | 1.68 | 1.68 | XXX
93744 | TC | A | Analyze ht pace device dual | 0.00 | NA | 0.66 | 0.03 | NA | 0.69 | XXX
93760 |  | N | Cephalic thermogram | 0.00 | NA | 0.00 | 0.00 | NA | 0.00 | XXX
93762 |  | N | Peripheral thermogram | 0.00 | 0.00 | 0.00 | 0.00 | 0.00 | 0.00 | XXX
93770 |  | B | Measure venous pressure | +0.16 | NA | 0.09 | 0.02 | NA | 0.27 | XXX
93770 | 26 | B | Measure venous pressure | +0.16 | 0.06 | 0.06 | 0.01 | 0.23 | 0.23 | XXX
93770 | TC | B | Measure venous pressure | +0.00 | NA | 0.03 | 0.01 | NA | 0.04 | XXX
93784 |  | N | Ambulatory BP monitoring | 0.00 | 0.00 | 0.00 | 0.00 | 0.00 | 0.00 | XXX
93786 |  | N | Ambulatory BP recording | 0.00 | 0.00 | 0.00 | 0.00 | 0.00 | 0.00 | XXX
93788 |  | N | Ambulatory BP analysis | 0.00 | 0.00 | 0.00 | 0.00 | 0.00 | 0.00 | XXX
93790 |  | N | Review/report BP recording | 0.00 | 0.00 | 0.00 | 0.00 | 0.00 | 0.00 | XXX
93797 |  | A | Cardiac rehab | 0.18 | 0.07 | 0.37 | 0.01 | 0.26 | 0.56 | 000
93798 |  | A | Cardiac rehab/monitor | 0.28 | 0.11 | 0.45 | 0.01 | 0.40 | 0.74 | 000
93799 |  | C | Cardiovascular procedure | 0.00 | NA | 0.00 | 0.00 | NA | 0.00 | XXX
93799 | 26 | C | Cardiovascular procedure | 0.00 | 0.00 | 0.00 | 0.00 | 0.00 | 0.00 | XXX
93799 | TC | C | Cardiovascular procedure | 0.00 | NA | 0.00 | 0.00 | NA | 0.00 | XXX
93875 |  | A | Extracranial study | 0.22 | NA | 1.17 | 0.10 | NA | 1.49 | XXX
93875 | 26 | A | Extracranial study | 0.22 | 0.08 | 0.08 | 0.01 | 0.31 | 0.31 | XXX
93875 | TC | A | Extracranial study | 0.00 | NA | 1.09 | 0.09 | NA | 1.18 | XXX
93880 |  | A | Extracranial study | 0.60 | NA | 3.89 | 0.33 | NA | 4.82 | XXX
93880 | 26 | A | Extracranial study | 0.60 | 0.22 | 0.22 | 0.04 | 0.86 | 0.86 | XXX
93880 | TC | A | Extracranial study | 0.00 | NA | 3.67 | 0.29 | NA | 3.96 | XXX
93882 |  | A | Extracranial study | 0.40 | NA | 2.59 | 0.22 | NA | 3.21 | XXX
93882 | 26 | A | Extracranial study | 0.40 | 0.15 | 0.15 | 0.04 | 0.59 | 0.59 | XXX
93882 | TC | A | Extracranial study | 0.00 | NA | 2.44 | 0.18 | NA | 2.62 | XXX
93886 |  | A | Intracranial study | 0.94 | NA | 4.54 | 0.37 | NA | 5.85 | XXX
93886 | 26 | A | Intracranial study | 0.94 | 0.39 | 0.39 | 0.05 | 1.38 | 1.38 | XXX
93886 | TC | A | Intracranial study | 0.00 | NA | 4.15 | 0.32 | NA | 4.47 | XXX
93888 |  | A | Intracranial study | 0.62 | NA | 3.01 | 0.26 | NA | 3.89 | XXX
93888 | 26 | A | Intracranial study | 0.62 | 0.24 | 0.24 | 0.04 | 0.90 | 0.90 | XXX
93888 | TC | A | Intracranial study | 0.00 | NA | 2.77 | 0.22 | NA | 2.99 | XXX
93922 |  | A | Extremity study | 0.25 | NA | 1.22 | 0.13 | NA | 1.60 | XXX
93922 | 26 | A | Extremity study | 0.25 | 0.09 | 0.09 | 0.02 | 0.36 | 0.36 | XXX
93922 | TC | A | Extremity study | 0.00 | NA | 1.13 | 0.11 | NA | 1.24 | XXX
93923 |  | A | Extremity study | 0.45 | NA | 2.31 | 0.22 | NA | 2.98 | XXX
93923 | 26 | A | Extremity study | 0.45 | 0.16 | 0.16 | 0.04 | 0.65 | 0.65 | XXX
93923 | TC | A | Extremity study | 0.00 | NA | 2.15 | 0.18 | NA | 2.33 | XXX
93924 |  | A | Extremity study | 0.50 | NA | 2.51 | 0.26 | NA | 3.27 | XXX
93924 | 26 | A | Extremity study | 0.50 | 0.18 | 0.18 | 0.05 | 0.73 | 0.73 | XXX
93924 | TC | A | Extremity study | 0.00 | NA | 2.33 | 0.21 | NA | 2.54 | XXX
93925 |  | A | Lower extremity study | 0.58 | NA | 3.89 | 0.33 | NA | 4.80 | XXX
93925 | 26 | A | Lower extremity study | 0.58 | 0.21 | 0.21 | 0.04 | 0.83 | 0.83 | XXX
93925 | TC | A | Lower extremity study | 0.00 | NA | 3.68 | 0.29 | NA | 3.97 | XXX
93926 |  | A | Lower extremity study | 0.39 | NA | 2.60 | 0.22 | NA | 3.21 | XXX
93926 | 26 | A | Lower extremity study | 0.39 | 0.14 | 0.14 | 0.03 | 0.56 | 0.56 | XXX
93926 | TC | A | Lower extremity study | 0.00 | NA | 2.46 | 0.19 | NA | 2.65 | XXX
93930 |  | A | Upper extremity study | 0.46 | NA | 4.08 | 0.34 | NA | 4.88 | XXX
93930 | 26 | A | Upper extremity study | 0.46 | 0.17 | 0.17 | 0.03 | 0.66 | 0.66 | XXX
93930 | TC | A | Upper extremity study | 0.00 | NA | 3.91 | 0.31 | NA | 4.22 | XXX
93931 |  | A | Upper extremity study | 0.31 | NA | 2.71 | 0.22 | NA | 3.24 | XXX
93931 | 26 | A | Upper extremity study | 0.31 | 0.11 | 0.11 | 0.02 | 0.44 | 0.44 | XXX
93931 | TC | A | Upper extremity study | 0.00 | NA | 2.60 | 0.20 | NA | 2.80 | XXX
93965 |  | A | Extremity study | 0.35 | NA | 1.21 | 0.12 | NA | 1.68 | XXX
93965 | 26 | A | Extremity study | 0.35 | 0.13 | 0.13 | 0.02 | 0.50 | 0.50 | XXX
93965 | TC | A | Extremity study | 0.00 | NA | 1.08 | 0.10 | NA | 1.18 | XXX
93970 |  | A | Extremity study | 0.68 | NA | 4.31 | 0.38 | NA | 5.37 | XXX
93970 | 26 | A | Extremity study | 0.68 | 0.24 | 0.24 | 0.05 | 0.97 | 0.97 | XXX
93970 | TC | A | Extremity study | 0.00 | NA | 4.07 | 0.33 | NA | 4.40 | XXX
93971 |  | A | Extremity study | 0.45 | NA | 2.86 | 0.25 | NA | 3.56 | XXX
93971 | 26 | A | Extremity study | 0.45 | 0.16 | 0.16 | 0.03 | 0.64 | 0.64 | XXX
93971 | TC | A | Extremity study | 0.00 | NA | 2.70 | 0.22 | NA | 2.92 | XXX
93975 |  | A | Vascular study | 1.80 | NA | 5.26 | 0.47 | NA | 7.53 | XXX
93975 | 26 | A | Vascular study | 1.80 | 0.63 | 0.63 | 0.11 | 2.54 | 2.54 | XXX
93975 | TC | A | Vascular study | 0.00 | NA | 4.63 | 0.36 | NA | 4.99 | XXX
93976 |  | A | Vascular study | 1.21 | NA | 3.50 | 0.31 | NA | 5.02 | XXX
93976 | 26 | A | Vascular study | 1.21 | 0.42 | 0.42 | 0.06 | 1.69 | 1.69 | XXX
93976 | TC | A | Vascular study | 0.00 | NA | 3.08 | 0.25 | NA | 3.33 | XXX
93978 |  | A | Vascular study | 0.65 | NA | 4.02 | 0.36 | NA | 5.03 | XXX
93978 | 26 | A | Vascular study | 0.65 | 0.23 | 0.23 | 0.05 | 0.93 | 0.93 | XXX
93978 | TC | A | Vascular study | 0.00 | NA | 3.79 | 0.31 | NA | 4.10 | XXX
93979 |  | A | Vascular study | 0.44 | NA | 2.68 | 0.24 | NA | 3.36 | XXX
93979 | 26 | A | Vascular study | 0.44 | 0.16 | 0.16 | 0.04 | 0.64 | 0.64 | XXX
93979 | TC | A | Vascular study | 0.00 | NA | 2.52 | 0.20 | NA | 2.72 | XXX
93980 |  | A | Penile vascular study | 1.25 | NA | 3.88 | 0.35 | NA | 5.48 | XXX
93980 | 26 | A | Penile vascular study | 1.25 | 0.44 | 0.44 | 0.07 | 1.76 | 1.76 | XXX
93980 | TC | A | Penile vascular study | 0.00 | NA | 3.44 | 0.28 | NA | 3.72 | XXX
93981 |  | A | Penile vascular study | 0.44 | NA | 3.32 | 0.28 | NA | 4.04 | XXX
93981 | 26 | A | Penile vascular study | 0.44 | 0.15 | 0.15 | 0.02 | 0.61 | 0.61 | XXX
93981 | TC | A | Penile vascular study | 0.00 | NA | 3.17 | 0.26 | NA | 3.43 | XXX
93990 |  | A | Doppler flow testing | 0.25 | NA | 2.56 | 0.21 | NA | 3.02 | XXX
93990 | 26 | A | Doppler flow testing | 0.25 | 0.10 | 0.10 | 0.02 | 0.37 | 0.37 | XXX
93990 | TC | A | Doppler flow testing | 0.00 | NA | 2.46 | 0.19 | NA | 2.65 | XXX
94010 |  | A | Breathing capacity test | 0.17 | NA | 0.81 | 0.03 | NA | 1.01 | XXX
94010 | 26 | A | Breathing capacity test | 0.17 | 0.05 | 0.05 | 0.01 | 0.23 | 0.23 | XXX
94010 | TC | A | Breathing capacity test | 0.00 | NA | 0.76 | 0.02 | NA | 0.78 | XXX
94014 |  | A | Patient recorded spirometry | 0.52 | NA | 0.50 | 0.03 | NA | 1.05 | XXX
94015 |  | A | Patient recorded spirometry | 0.00 | NA | 0.33 | 0.01 | NA | 0.34 | XXX
94016 |  | A | Review patient spirometry | 0.52 | 0.17 | 0.17 | 0.02 | 0.71 | 0.71 | XXX
94060 |  | A | Evaluation of wheezing | 0.31 | NA | 1.22 | 0.06 | NA | 1.59 | XXX
94060 | 26 | A | Evaluation of wheezing | 0.31 | 0.10 | 0.10 | 0.01 | 0.42 | 0.42 | XXX
94060 | TC | A | Evaluation of wheezing | 0.00 | NA | 1.12 | 0.05 | NA | 1.17 | XXX
94070 |  | A | Evaluation of wheezing | 0.60 | NA | 3.83 | 0.10 | NA | 4.53 | XXX
94070 | 26 | A | Evaluation of wheezing | 0.60 | 0.19 | 0.19 | 0.02 | 0.81 | 0.81 | XXX
94070 | TC | A | Evaluation of wheezing | 0.00 | NA | 3.64 | 0.08 | NA | 3.72 | XXX
94150 |  | B | Vital capacity test | +0.07 | NA | 0.61 | 0.02 | NA | 0.70 | XXX
94150 | 26 | B | Vital capacity test | +0.07 | 0.03 | 0.03 | 0.01 | 0.11 | 0.11 | XXX
94150 | TC | B | Vital capacity test | +0.00 | NA | 0.58 | 0.01 | NA | 0.59 | XXX
94200 |  | A | Lung function test (MBC/MVV) | 0.11 | NA | 0.32 | 0.03 | NA | 0.46 | XXX
94200 | 26 | A | Lung function test (MBC/MVV) | 0.11 | 0.04 | 0.04 | 0.01 | 0.16 | 0.16 | XXX
94200 | TC | A | Lung function test (MBC/MVV) | 0.00 | NA | 0.28 | 0.02 | NA | 0.30 | XXX
94240 |  | A | Residual lung capacity | 0.26 | NA | 1.42 | 0.05 | NA | 1.73 | XXX
94240 | 26 | A | Residual lung capacity | 0.26 | 0.08 | 0.08 | 0.01 | 0.35 | 0.35 | XXX
94240 | TC | A | Residual lung capacity | 0.00 | NA | 1.34 | 0.04 | NA | 1.38 | XXX
94250 |  | A | Expired gas collection | 0.11 | NA | 0.66 | 0.02 | NA | 0.79 | XXX
94250 | 26 | A | Expired gas collection | 0.11 | 0.04 | 0.04 | 0.01 | 0.16 | 0.16 | XXX
94250 | TC | A | Expired gas collection | 0.00 | NA | 0.62 | 0.01 | NA | 0.63 | XXX
94260 |  | A | Thoracic gas volume | 0.13 | NA | 0.40 | 0.04 | NA | 0.57 | XXX
94260 | 26 | A | Thoracic gas volume | 0.13 | 0.04 | 0.04 | 0.01 | 0.18 | 0.18 | XXX
94260 | TC | A | Thoracic gas volume | 0.00 | NA | 0.36 | 0.03 | NA | 0.39 | XXX
94350 |  | A | Lung nitrogen washout curve | 0.26 | NA | 1.21 | 0.04 | NA | 1.51 | XXX
94350 | 26 | A | Lung nitrogen washout curve | 0.26 | 0.08 | 0.08 | 0.01 | 0.35 | 0.35 | XXX
94350 | TC | A | Lung nitrogen washout curve | 0.00 | NA | 1.13 | 0.03 | NA | 1.16 | XXX
94360 |  | A | Measure airflow resistance | 0.26 | NA | 0.65 | 0.06 | NA | 0.97 | XXX
94360 | 26 | A | Measure airflow resistance | 0.26 | 0.08 | 0.08 | 0.01 | 0.35 | 0.35 | XXX
94360 | TC | A | Measure airflow resistance | 0.00 | NA | 0.57 | 0.05 | NA | 0.62 | XXX
94370 |  | A | Breath airway closing volume | 0.26 | NA | 2.53 | 0.03 | NA | 2.82 | XXX
94370 | 26 | A | Breath airway closing volume | 0.26 | 0.08 | 0.08 | 0.01 | 0.35 | 0.35 | XXX
94370 | TC | A | Breath airway closing volume | 0.00 | NA | 2.45 | 0.02 | NA | 2.47 | XXX
94375 |  | A | Respiratory flow volume loop | 0.31 | NA | 0.48 | 0.03 | NA | 0.82 | XXX
94375 | 26 | A | Respiratory flow volume loop | 0.31 | 0.10 | 0.10 | 0.01 | 0.42 | 0.42 | XXX
94375 | TC | A | Respiratory flow volume loop | 0.00 | NA | 0.38 | 0.02 | NA | 0.40 | XXX
94400 |  | A | CO2 breathing response curve | 0.40 | NA | 0.84 | 0.06 | NA | 1.30 | XXX
94400 | 26 | A | CO2 breathing response curve | 0.40 | 0.13 | 0.13 | 0.01 | 0.54 | 0.54 | XXX
94400 | TC | A | CO2 breathing response curve | 0.00 | NA | 0.71 | 0.05 | NA | 0.76 | XXX
94450 |  | A | Hypoxia response curve | 0.40 | NA | 0.82 | 0.04 | NA | 1.26 | XXX
94450 | 26 | A | Hypoxia response curve | 0.40 | 0.11 | 0.11 | 0.02 | 0.53 | 0.53 | XXX
94450 | TC | A | Hypoxia response curve | 0.00 | NA | 0.71 | 0.02 | NA | 0.73 | XXX
94620 |  | A | Pulmonary stress test/simple | 0.64 | NA | 2.36 | 0.10 | NA | 3.10 | XXX
94620 | 26 | A | Pulmonary stress test/simple | 0.64 | 0.21 | 0.21 | 0.02 | 0.87 | 0.87 | XXX
94620 | TC | A | Pulmonary stress test/simple | 0.00 | NA | 2.15 | 0.08 | NA | 2.23 | XXX
94621 |  | A | Pulm stress test/complex | 1.42 | NA | 2.11 | 0.13 | NA | 3.66 | XXX
94621 | 26 | A | Pulm stress test/complex | 1.42 | 0.46 | 0.46 | 0.05 | 1.93 | 1.93 | XXX
94621 | TC | A | Pulm stress test/complex | 0.00 | NA | 1.65 | 0.08 | NA | 1.73 | XXX
94640 |  | A | Airway inhalation treatment | 0.00 | NA | 0.69 | 0.02 | NA | 0.71 | XXX
94642 |  | C | Aerosol inhalation treatment | 0.00 | 0.00 | 0.00 | 0.00 | 0.00 | 0.00 | XXX
94650 |  | A | Pressure breathing (IPPB) | 0.00 | NA | 0.65 | 0.02 | NA | 0.67 | XXX
94651 |  | A | Pressure breathing (IPPB) | 0.00 | NA | 0.60 | 0.02 | NA | 0.62 | XXX
94652 |  | A | Pressure breathing (IPPB) | 0.00 | NA | 0.75 | 0.06 | NA | 0.81 | XXX
94656 |  | A | Initial ventilator mgmt | 1.22 | 0.33 | NA | 0.06 | 1.61 | NA | XXX
94657 |  | A | Continued ventilator mgmt | 0.83 | 0.26 | NA | 0.03 | 1.12 | NA | XXX
94660 |  | A | Pos airway pressure, CPAP | 0.76 | 0.24 | 0.68 | 0.03 | 1.03 | 1.47 | XXX
94662 |  | A | Neg press ventilation, cnp | 0.76 | 0.25 | NA | 0.02 | 1.03 | NA | XXX
94664 |  | A | Aerosol or vapor inhalations | 0.00 | NA | 0.52 | 0.03 | NA | 0.55 | XXX
94665 |  | A | Aerosol or vapor inhalations | 0.00 | NA | 0.53 | 0.04 | NA | 0.57 | XXX
94667 |  | A | Chest wall manipulation | 0.00 | NA | 0.83 | 0.04 | NA | 0.87 | XXX
94668 |  | A | Chest wall manipulation | 0.00 | NA | 0.71 | 0.02 | NA | 0.73 | XXX
94680 |  | A | Exhaled air analysis, o2 | 0.26 | NA | 0.84 | 0.06 | NA | 1.16 | XXX
94680 | 26 | A | Exhaled air analysis, o2 | 0.26 | 0.09 | 0.09 | 0.01 | 0.36 | 0.36 | XXX
94680 | TC | A | Exhaled air analysis, o2 | 0.00 | NA | 0.75 | 0.05 | NA | 0.80 | XXX
94681 |  | A | Exhaled air analysis, o2/co2 | 0.20 | NA | 1.70 | 0.11 | NA | 2.01 | XXX
94681 | 26 | A | Exhaled air analysis, o2/co2 | 0.20 | 0.07 | 0.07 | 0.01 | 0.28 | 0.28 | XXX
94681 | TC | A | Exhaled air analysis, o2/co2 | 0.00 | NA | 1.63 | 0.10 | NA | 1.73 | XXX
94690 |  | A | Exhaled air analysis | 0.07 | NA | 0.55 | 0.04 | NA | 0.66 | XXX
94690 | 26 | A | Exhaled air analysis | 0.07 | 0.02 | 0.02 | 0.01 | 0.10 | 0.10 | XXX
94690 | TC | A | Exhaled air analysis | 0.00 | NA | 0.53 | 0.03 | NA | 0.56 | XXX
94720 |  | A | Monoxide diffusing capacity | 0.26 | NA | 1.44 | 0.06 | NA | 1.76 | XXX
94720 | 26 | A | Monoxide diffusing capacity | 0.26 | 0.08 | 0.08 | 0.01 | 0.35 | 0.35 | XXX
94720 | TC | A | Monoxide diffusing capacity | 0.00 | NA | 1.36 | 0.05 | NA | 1.41 | XXX
94725 |  | A | Membrane diffusion capacity | 0.26 | NA | 0.81 | 0.11 | NA | 1.18 | XXX
94725 | 26 | A | Membrane diffusion capacity | 0.26 | 0.08 | 0.08 | 0.01 | 0.35 | 0.35 | XXX
94725 | TC | A | Membrane diffusion capacity | 0.00 | NA | 0.73 | 0.10 | NA | 0.83 | XXX
94750 |  | A | Pulmonary compliance study | 0.23 | NA | 3.64 | 0.04 | NA | 3.91 | XXX
94750 | 26 | A | Pulmonary compliance study | 0.23 | 0.07 | 0.07 | 0.01 | 0.31 | 0.31 | XXX
94750 | TC | A | Pulmonary compliance study | 0.00 | NA | 3.57 | 0.03 | NA | 3.60 | XXX
94760 |  | T | Measure blood oxygen level | 0.00 | NA | 0.09 | 0.02 | NA | 0.11 | XXX
94761 |  | T | Measure blood oxygen level | 0.00 | NA | 0.18 | 0.05 | NA | 0.23 | XXX
94762 |  | A | Measure blood oxygen level | 0.00 | NA | 0.11 | 0.08 | NA | 0.19 | XXX
94770 |  | A | Exhaled carbon dioxide test | 0.15 | NA | 0.76 | 0.07 | NA | 0.98 | XXX
94770 | 26 | A | Exhaled carbon dioxide test | 0.15 | 0.04 | 0.04 | 0.01 | 0.20 | 0.20 | XXX
94770 | TC | A | Exhaled carbon dioxide test | 0.00 | NA | 0.72 | 0.06 | NA | 0.78 | XXX
94772 |  | C | Breath recording, infant | 0.00 | NA | 0.00 | 0.00 | NA | 0.00 | XXX
94772 | 26 | C | Breath recording, infant | 0.00 | 0.00 | 0.00 | 0.00 | 0.00 | 0.00 | XXX
94772 | TC | C | Breath recording, infant | 0.00 | NA | 0.00 | 0.00 | NA | 0.00 | XXX
94799 |  | C | Pulmonary service/procedure | 0.00 | NA | 0.00 | 0.00 | NA | 0.00 | XXX
94799 | 26 | C | Pulmonary service/procedure | 0.00 | 0.00 | 0.00 | 0.00 | 0.00 | 0.00 | XXX
94799 | TC | C | Pulmonary service/procedure | 0.00 | NA | 0.00 | 0.00 | NA | 0.00 | XXX
95004 |  | A | Allergy skin tests | 0.00 | NA | 0.10 | 0.01 | NA | 0.11 | XXX
95010 |  | A | Sensitivity skin tests | 0.15 | 0.07 | 0.44 | 0.01 | 0.23 | 0.60 | XXX
95015 |  | A | Sensitivity skin tests | 0.15 | 0.06 | 0.48 | 0.01 | 0.22 | 0.64 | XXX
95024 |  | A | Allergy skin tests | 0.00 | NA | 0.14 | 0.01 | NA | 0.15 | XXX
95027 |  | A | Skin end point titration | 0.00 | NA | 0.14 | 0.01 | NA | 0.15 | XXX
95028 |  | A | Allergy skin tests | 0.00 | NA | 0.23 | 0.01 | NA | 0.24 | XXX
95044 |  | A | Allergy patch tests | 0.00 | NA | 0.20 | 0.01 | NA | 0.21 | XXX
95052 |  | A | Photo patch test | 0.00 | NA | 0.25 | 0.01 | NA | 0.26 | XXX
95056 |  | A | Photosensitivity tests | 0.00 | NA | 0.17 | 0.01 | NA | 0.18 | XXX
95060 |  | A | Eye allergy tests | 0.00 | NA | 0.34 | 0.02 | NA | 0.36 | XXX
95065 |  | A | Nose allergy test | 0.00 | NA | 0.20 | 0.01 | NA | 0.21 | XXX
95070 |  | A | Bronchial allergy tests | 0.00 | NA | 2.25 | 0.02 | NA | 2.27 | XXX
95071 |  | A | Bronchial allergy tests | 0.00 | NA | 2.88 | 0.02 | NA | 2.90 | XXX
95075 |  | A | Ingestion challenge test | 0.95 | 0.42 | 0.88 | 0.03 | 1.40 | 1.86 | XXX
95078 |  | A | Provocative testing | 0.00 | NA | 0.25 | 0.02 | NA | 0.27 | XXX
95115 |  | A | Immunotherapy, one injection | 0.00 | NA | 0.38 | 0.02 | NA | 0.40 | 000
95117 |  | A | Immunotherapy injections | 0.00 | NA | 0.50 | 0.02 | NA | 0.52 | 000
95120 |  | I | Immunotherapy, one injection | 0.00 | 0.00 | 0.00 | 0.00 | 0.00 | 0.00 | XXX
95125 |  | I | Immunotherapy, many antigens | 0.00 | 0.00 | 0.00 | 0.00 | 0.00 | 0.00 | XXX
95130 |  | I | Immunotherapy, insect venom | 0.00 | 0.00 | 0.00 | 0.00 | 0.00 | 0.00 | XXX
95131 |  | I | Immunotherapy, insect venoms | 0.00 | 0.00 | 0.00 | 0.00 | 0.00 | 0.00 | XXX
95132 |  | I | Immunotherapy, insect venoms | 0.00 | 0.00 | 0.00 | 0.00 | 0.00 | 0.00 | XXX
95133 |  | I | Immunotherapy, insect venoms | 0.00 | 0.00 | 0.00 | 0.00 | 0.00 | 0.00 | XXX
95134 |  | I | Immunotherapy, insect venoms | 0.00 | 0.00 | 0.00 | 0.00 | 0.00 | 0.00 | XXX
95144 |  | A | Antigen therapy services | 0.06 | 0.03 | 0.25 | 0.01 | 0.10 | 0.32 | 000
95145 |  | A | Antigen therapy services | 0.06 | 0.02 | 0.50 | 0.01 | 0.09 | 0.57 | 000
95146 |  | A | Antigen therapy services | 0.06 | 0.02 | 0.58 | 0.01 | 0.09 | 0.65 | 000
95147 |  | A | Antigen therapy services | 0.06 | 0.02 | 0.84 | 0.01 | 0.09 | 0.91 | 000
95148 |  | A | Antigen therapy services | 0.06 | 0.03 | 0.81 | 0.01 | 0.10 | 0.88 | 000
95149 |  | A | Antigen therapy services | 0.06 | 0.02 | 1.00 | 0.01 | 0.09 | 1.07 | 000
95165 |  | A | Antigen therapy services | 0.06 | 0.02 | 0.20 | 0.01 | 0.09 | 0.27 | 000
95170 |  | A | Antigen therapy services | 0.06 | 0.02 | 0.26 | 0.01 | 0.09 | 0.33 | 000
95180 |  | A | Rapid desensitization | 2.01 | 0.84 | 1.66 | 0.04 | 2.89 | 3.71 | 000
95199 |  | C | Allergy immunology services | 0.00 | 0.00 | 0.00 | 0.00 | 0.00 | 0.00 | 000
95805 |  | A | Multiple sleep latency test | 1.88 | NA | 7.82 | 0.34 | NA | 10.04 | XXX
95805 | 26 | A | Multiple sleep latency test | 1.88 | 0.69 | 0.69 | 0.06 | 2.63 | 2.63 | XXX
95805 | TC | A | Multiple sleep latency test | 0.00 | NA | 7.13 | 0.28 | NA | 7.41 | XXX
95806 |  | A | Sleep study, unattended | 1.66 | NA | 1.74 | 0.32 | NA | 3.72 | XXX
95806 | 26 | A | Sleep study, unattended | 1.66 | 0.56 | 0.56 | 0.06 | 2.28 | 2.28 | XXX
95806 | TC | A | Sleep study, unattended | 0.00 | NA | 1.18 | 0.26 | NA | 1.44 | XXX
95807 |  | A | Sleep study, attended | 1.66 | NA | 10.85 | 0.40 | NA | 12.91 | XXX
95807 | 26 | A | Sleep study, attended | 1.66 | 0.55 | 0.55 | 0.05 | 2.26 | 2.26 | XXX
95807 | TC | A | Sleep study, attended | 0.00 | NA | 10.30 | 0.35 | NA | 10.65 | XXX
95808 |  | A | Polysomnography, 1-3 | 2.65 | NA | 19.34 | 0.44 | NA | 22.43 | XXX
95808 | 26 | A | Polysomnography, 1-3 | 2.65 | 0.97 | 0.97 | 0.09 | 3.71 | 3.71 | XXX
95808 | TC | A | Polysomnography, 1-3 | 0.00 | NA | 18.37 | 0.35 | NA | 18.72 | XXX
95810 |  | A | Polysomnography, 4 or more | 3.53 | NA | 16.46 | 0.47 | NA | 20.46 | XXX
95810 | 26 | A | Polysomnography, 4 or more | 3.53 | 1.25 | 1.25 | 0.12 | 4.90 | 4.90 | XXX
95810 | TC | A | Polysomnography, 4 or more | 0.00 | NA | 15.21 | 0.35 | NA | 15.56 | XXX
95811 |  | A | Polysomnography w/cpap | 3.80 | NA | 14.73 | 0.49 | NA | 19.02 | XXX
95811 | 26 | A | Polysomnography w/cpap | 3.80 | 1.33 | 1.33 | 0.13 | 5.26 | 5.26 | XXX
95811 | TC | A | Polysomnography w/cpap | 0.00 | NA | 13.40 | 0.36 | NA | 13.76 | XXX
95812 |  | A | Electroencephalogram (EEG) | 1.08 | NA | 3.68 | 0.13 | NA | 4.89 | XXX
95812 | 26 | A | Electroencephalogram (EEG) | 1.08 | 0.47 | 0.47 | 0.04 | 1.59 | 1.59 | XXX
95812 | TC | A | Electroencephalogram (EEG) | 0.00 | NA | 3.21 | 0.09 | NA | 3.30 | XXX
95813 |  | A | Electroencephalogram (EEG) | 1.73 | NA | 4.96 | 0.15 | NA | 6.84 | XXX
95813 | 26 | A | Electroencephalogram (EEG) | 1.73 | 0.73 | 0.73 | 0.06 | 2.52 | 2.52 | XXX
95813 | TC | A | Electroencephalogram (EEG) | 0.00 | NA | 4.23 | 0.09 | NA | 4.32 | XXX
95816 |  | A | Electroencephalogram (EEG) | 1.08 | NA | 3.33 | 0.12 | NA | 4.53 | XXX
95816 | 26 | A | Electroencephalogram (EEG) | 1.08 | 0.48 | 0.48 | 0.04 | 1.60 | 1.60 | XXX
95816 | TC | A | Electroencephalogram (EEG) | 0.00 | NA | 2.85 | 0.08 | NA | 2.93 | XXX
95819 |  | A | Electroencephalogram (EEG) | 1.08 | NA | 3.93 | 0.12 | NA | 5.13 | XXX
95819 | 26 | A | Electroencephalogram (EEG) | 1.08 | 0.48 | 0.48 | 0.04 | 1.60 | 1.60 | XXX
95819 | TC | A | Electroencephalogram (EEG) | 0.00 | NA | 3.45 | 0.08 | NA | 3.53 | XXX
95822 |  | A | Sleep electroencephalogram | 1.08 | NA | 2.43 | 0.15 | NA | 3.66 | XXX
95822 | 26 | A | Sleep electroencephalogram | 1.08 | 0.48 | 0.48 | 0.04 | 1.60 | 1.60 | XXX
95822 | TC | A | Sleep electroencephalogram | 0.00 | NA | 1.95 | 0.11 | NA | 2.06 | XXX
95824 |  | A | Electroencephalography | 0.74 | 0.29 | 0.70 | 0.05 | 1.08 | 1.49 | XXX
95827 |  | A | Night electroencephalogram | 1.08 | NA | 2.69 | 0.15 | NA | 3.92 | XXX
95827 | 26 | A | Night electroencephalogram | 1.08 | 0.43 | 0.43 | 0.03 | 1.54 | 1.54 | XXX
95827 | TC | A | Night electroencephalogram | 0.00 | NA | 2.26 | 0.12 | NA | 2.38 | XXX
95829 |  | A | Surgery electrocorticogram | 6.21 | NA | 28.49 | 0.33 | NA | 35.03 | XXX
95829 | 26 | A | Surgery electrocorticogram | 6.21 | 2.04 | 2.04 | 0.31 | 8.56 | 8.56 | XXX
95829 | TC | A | Surgery electrocorticogram | 0.00 | NA | 26.45 | 0.02 | NA | 26.47 | XXX
95830 |  | A | Insert electrodes for EEG | 1.70 | 0.77 | 3.40 | 0.07 | 2.54 | 5.17 | XXX
95831 |  | A | Limb muscle testing, manual | 0.28 | 0.13 | 0.49 | 0.01 | 0.42 | 0.78 | XXX
95832 |  | A | Hand muscle testing, manual | 0.29 | 0.11 | 0.43 | 0.01 | 0.41 | 0.73 | XXX
95833 |  | A | Body muscle testing, manual | 0.47 | 0.24 | 0.56 | 0.01 | 0.72 | 1.04 | XXX
95834 |  | A | Body muscle testing, manual | 0.60 | 0.29 | 0.57 | 0.02 | 0.91 | 1.19 | XXX
95851 |  | A | Range of motion measurements | 0.16 | 0.08 | 0.55 | 0.01 | 0.25 | 0.72 | XXX
95852 |  | A | Range of motion measurements | 0.11 | 0.05 | 0.45 | 0.01 | 0.17 | 0.57 | XXX
95857 |  | A | Tensilon test | 0.53 | 0.24 | 0.63 | 0.02 | 0.79 | 1.18 | XXX
95858 |  | A | Tensilon test & myogram | 1.56 | NA | 1.10 | 0.07 | NA | 2.73 | XXX
95858 | 26 | A | Tensilon test & myogram | 1.56 | 0.71 | 0.71 | 0.04 | 2.31 | 2.31 | XXX
95858 | TC | A | Tensilon test & myogram | 0.00 | NA | 0.39 | 0.03 | NA | 0.42 | XXX
95860 |  | A | Muscle test, one limb | 0.96 | NA | 1.22 | 0.05 | NA | 2.23 | XXX
95860 | 26 | A | Muscle test, one limb | 0.96 | 0.44 | 0.44 | 0.03 | 1.43 | 1.43 | XXX
95860 | TC | A | Muscle test, one limb | 0.00 | NA | 0.78 | 0.02 | NA | 0.80 | XXX
95861 |  | A | Muscle test, two limbs | 1.54 | NA | 1.43 | 0.10 | NA | 3.07 | XXX
95861 | 26 | A | Muscle test, two limbs | 1.54 | 0.71 | 0.71 | 0.05 | 2.30 | 2.30 | XXX
95861 | TC | A | Muscle test, two limbs | 0.00 | NA | 0.72 | 0.05 | NA | 0.77 | XXX
95863 |  | A | Muscle test, 3 limbs | 1.87 | NA | 1.77 | 0.11 | NA | 3.75 | XXX
95863 | 26 | A | Muscle test, 3 limbs | 1.87 | 0.85 | 0.85 | 0.06 | 2.78 | 2.78 | XXX
95863 | TC | A | Muscle test, 3 limbs | 0.00 | NA | 0.92 | 0.05 | NA | 0.97 | XXX
95864 |  | A | Muscle test, 4 limbs | 1.99 | NA | 2.67 | 0.16 | NA | 4.82 | XXX
95864 | 26 | A | Muscle test, 4 limbs | 1.99 | 0.92 | 0.92 | 0.06 | 2.97 | 2.97 | XXX
95864 | TC | A | Muscle test, 4 limbs | 0.00 | NA | 1.75 | 0.10 | NA | 1.85 | XXX
95867 |  | A | Muscle test, head or neck | 0.79 | NA | 0.94 | 0.06 | NA | 1.79 | XXX
95867 | 26 | A | Muscle test, head or neck | 0.79 | 0.37 | 0.37 | 0.03 | 1.19 | 1.19 | XXX
95867 | TC | A | Muscle test, head or neck | 0.00 | NA | 0.57 | 0.03 | NA | 0.60 | XXX
95868 |  | A | Muscle test, head or neck | 1.18 | NA | 1.23 | 0.08 | NA | 2.49 | XXX
95868 | 26 | A | Muscle test, head or neck | 1.18 | 0.54 | 0.54 | 0.04 | 1.76 | 1.76 | XXX
95868 | TC | A | Muscle test, head or neck | 0.00 | NA | 0.69 | 0.04 | NA | 0.73 | XXX
95869 |  | A | Muscle test, thor paraspinal | 0.37 | NA | 0.38 | 0.03 | NA | 0.78 | XXX
95869 | 26 | A | Muscle test, thor paraspinal | 0.37 | 0.17 | 0.17 | 0.01 | 0.55 | 0.55 | XXX
95869 | TC | A | Muscle test, thor paraspinal | 0.00 | NA | 0.21 | 0.02 | NA | 0.23 | XXX
95870 |  | A | Muscle test, nonparaspinal | 0.37 | NA | 0.37 | 0.03 | NA | 0.77 | XXX
95870 | 26 | A | Muscle test, nonparaspinal | 0.37 | 0.16 | 0.16 | 0.01 | 0.54 | 0.54 | XXX
95870 | TC | A | Muscle test, nonparaspinal | 0.00 | NA | 0.21 | 0.02 | NA | 0.23 | XXX
95872 |  | A | Muscle test, one fiber | 1.50 | NA | 1.26 | 0.08 | NA | 2.84 | XXX
95872 | 26 | A | Muscle test, one fiber | 1.50 | 0.67 | 0.67 | 0.04 | 2.21 | 2.21 | XXX
95872 | TC | A | Muscle test, one fiber | 0.00 | NA | 0.59 | 0.04 | NA | 0.63 | XXX
95875 |  | A | Limb exercise test | 1.34 | NA | 1.30 | 0.09 | NA | 2.73 | XXX
95875 | 26 | A | Limb exercise test | 1.34 | 0.56 | 0.56 | 0.04 | 1.94 | 1.94 | XXX
95875 | TC | A | Limb exercise test | 0.00 | NA | 0.74 | 0.05 | NA | 0.79 | XXX
95900 |  | A | Motor nerve conduction test | 0.42 | NA | 0.75 | 0.03 | NA | 1.20 | XXX
95900 | 26 | A | Motor nerve conduction test | 0.42 | 0.19 | 0.19 | 0.01 | 0.62 | 0.62 | XXX
95900 | TC | A | Motor nerve conduction test | 0.00 | NA | 0.56 | 0.02 | NA | 0.58 | XXX
95903 |  | A | Motor nerve conduction test | 0.60 | NA | 0.52 | 0.04 | NA | 1.16 | XXX
95903 | 26 | A | Motor nerve conduction test | 0.60 | 0.27 | 0.27 | 0.02 | 0.89 | 0.89 | XXX
95903 | TC | A | Motor nerve conduction test | 0.00 | NA | 0.25 | 0.02 | NA | 0.27 | XXX
95904 |  | A | Sense/mixed n conduction tst | 0.34 | NA | 0.68 | 0.03 | NA | 1.05 | XXX
95904 | 26 | A | Sense/mixed n conduction tst | 0.34 | 0.16 | 0.16 | 0.01 | 0.51 | 0.51 | XXX
95904 | TC | A | Sense/mixed n conduction tst | 0.00 | NA | 0.52 | 0.02 | NA | 0.54 | XXX
95920 |  | A | Intraop nerve test add-on | 2.11 | NA | 2.27 | 0.20 | NA | 4.58 | ZZZ
95920 | 26 | A | Intraop nerve test add-on | 2.11 | 0.98 | 0.98 | 0.14 | 3.23 | 3.23 | ZZZ
95920 | TC | A | Intraop nerve test add-on | 0.00 | NA | 1.29 | 0.06 | NA | 1.35 | ZZZ
95921 |  | A | Autonomic nerv function test | 0.90 | NA | 0.71 | 0.05 | NA | 1.66 | XXX
95921 | 26 | A | Autonomic nerv function test | 0.90 | 0.34 | 0.34 | 0.03 | 1.27 | 1.27 | XXX
95921 | TC | A | Autonomic nerv function test | 0.00 | NA | 0.37 | 0.02 | NA | 0.39 | XXX
95922 |  | A | Autonomic nerv function test | 0.96 | NA | 0.79 | 0.05 | NA | 1.80 | XXX
95922 | 26 | A | Autonomic nerv function test | 0.96 | 0.42 | 0.42 | 0.03 | 1.41 | 1.41 | XXX
95922 | TC | A | Autonomic nerv function test | 0.00 | NA | 0.37 | 0.02 | NA | 0.39 | XXX
95923 |  | A | Autonomic nerv function test | 0.90 | NA | 2.91 | 0.05 | NA | 3.86 | XXX
95923 | 26 | A | Autonomic nerv function test | 0.90 | 0.40 | 0.40 | 0.03 | 1.33 | 1.33 | XXX
95923 | TC | A | Autonomic nerv function test | 0.00 | NA | 2.51 | 0.02 | NA | 2.53 | XXX
95925 |  | A | Somatosensory testing | 0.54 | NA | 1.12 | 0.07 | NA | 1.73 | XXX
95925 | 26 | A | Somatosensory testing | 0.54 | 0.23 | 0.23 | 0.02 | 0.79 | 0.79 | XXX
95925 | TC | A | Somatosensory testing | 0.00 | NA | 0.89 | 0.05 | NA | 0.94 | XXX
95926 |  | A | Somatosensory testing | 0.54 | NA | 1.14 | 0.07 | NA | 1.75 | XXX
95926 | 26 | A | Somatosensory testing | 0.54 | 0.25 | 0.25 | 0.02 | 0.81 | 0.81 | XXX
95926 | TC | A | Somatosensory testing | 0.00 | NA | 0.89 | 0.05 | NA | 0.94 | XXX
95927 |  | A | Somatosensory testing | 0.54 | NA | 1.16 | 0.08 | NA | 1.78 | XXX
95927 | 26 | A | Somatosensory testing | 0.54 | 0.27 | 0.27 | 0.03 | 0.84 | 0.84 | XXX
95927 | TC | A | Somatosensory testing | 0.00 | NA | 0.89 | 0.05 | NA | 0.94 | XXX
95930 |  | A | Visual evoked potential test | 0.35 | NA | 0.67 | 0.02 | NA | 1.04 | XXX
95930 | 26 | A | Visual evoked potential test | 0.35 | 0.15 | 0.15 | 0.01 | 0.51 | 0.51 | XXX
95930 | TC | A | Visual evoked potential test | 0.00 | NA | 0.52 | 0.01 | NA | 0.53 | XXX
95933 |  | A | Blink reflex test | 0.59 | NA | 1.02 | 0.07 | NA | 1.68 | XXX
95933 | 26 | A | Blink reflex test | 0.59 | 0.25 | 0.25 | 0.02 | 0.86 | 0.86 | XXX
95933 | TC | A | Blink reflex test | 0.00 | NA | 0.77 | 0.05 | NA | 0.82 | XXX
95934 |  | A | H-reflex test | 0.51 | NA | 0.44 | 0.04 | NA | 0.99 | XXX
95934 | 26 | A | H-reflex test | 0.51 | 0.23 | 0.23 | 0.02 | 0.76 | 0.76 | XXX
95934 | TC | A | H-reflex test | 0.00 | NA | 0.21 | 0.02 | NA | 0.23 | XXX
95936 |  | A | H-reflex test | 0.55 | NA | 0.46 | 0.04 | NA | 1.05 | XXX
95936 | 26 | A | H-reflex test | 0.55 | 0.25 | 0.25 | 0.02 | 0.82 | 0.82 | XXX
95936 | TC | A | H-reflex test | 0.00 | NA | 0.21 | 0.02 | NA | 0.23 | XXX
95937 |  | A | Neuromuscular junction test | 0.65 | NA | 0.61 | 0.04 | NA | 1.30 | XXX
95937 | 26 | A | Neuromuscular junction test | 0.65 | 0.28 | 0.28 | 0.02 | 0.95 | 0.95 | XXX
95937 | TC | A | Neuromuscular junction test | 0.00 | NA | 0.33 | 0.02 | NA | 0.35 | XXX
95950 |  | A | Ambulatory eeg monitoring | 1.51 | NA | 4.05 | 0.44 | NA | 6.00 | XXX
95950 | 26 | A | Ambulatory eeg monitoring | 1.51 | 0.68 | 0.68 | 0.08 | 2.27 | 2.27 | XXX
95950 | TC | A | Ambulatory eeg monitoring | 0.00 | NA | 3.37 | 0.36 | NA | 3.73 | XXX
95951 |  | A | EEG monitoring/videorecord | 6.00 | NA | 22.95 | 0.58 | NA | 29.53 | XXX
95951 | 26 | A | EEG monitoring/videorecord | 6.00 | 2.67 | 2.67 | 0.20 | 8.87 | 8.87 | XXX
95951 | TC | A | EEG monitoring/videorecord | 0.00 | NA | 20.28 | 0.38 | NA | 20.66 | XXX
95953 |  | A | EEG monitoring/computer | 3.08 | NA | 7.60 | 0.46 | NA | 11.14 | XXX
95953 | 26 | A | EEG monitoring/computer | 3.08 | 1.36 | 1.36 | 0.10 | 4.54 | 4.54 | XXX
95953 | TC | A | EEG monitoring/computer | 0.00 | NA | 6.24 | 0.36 | NA | 6.60 | XXX
95954 |  | A | EEG monitoring/giving drugs | 2.45 | NA | 4.34 | 0.15 | NA | 6.94 | XXX
95954 | 26 | A | EEG monitoring/giving drugs | 2.45 | 1.08 | 1.08 | 0.10 | 3.63 | 3.63 | XXX
95954 | TC | A | EEG monitoring/giving drugs | 0.00 | NA | 3.26 | 0.05 | NA | 3.31 | XXX
95955 |  | A | EEG during surgery | 1.01 | NA | 2.28 | 0.19 | NA | 3.48 | XXX
95955 | 26 | A | EEG during surgery | 1.01 | 0.35 | 0.35 | 0.05 | 1.41 | 1.41 | XXX
95955 | TC | A | EEG during surgery | 0.00 | NA | 1.93 | 0.14 | NA | 2.07 | XXX
95956 |  | A | Eeg monitoring, cable/radio | 3.08 | NA | 31.21 | 0.47 | NA | 34.76 | XXX
95956 | 26 | A | Eeg monitoring, cable/radio | 3.08 | 1.38 | 1.38 | 0.11 | 4.57 | 4.57 | XXX
95956 | TC | A | Eeg monitoring, cable/radio | 0.00 | NA | 29.83 | 0.36 | NA | 30.19 | XXX
95957 |  | A | EEG digital analysis | 1.98 | NA | 2.57 | 0.17 | NA | 4.72 | XXX
95957 | 26 | A | EEG digital analysis | 1.98 | 0.89 | 0.89 | 0.07 | 2.94 | 2.94 | XXX
95957 | TC | A | EEG digital analysis | 0.00 | NA | 1.68 | 0.10 | NA | 1.78 | XXX
95958 |  | A | EEG monitoring/function test | 4.25 | NA | 3.53 | 0.29 | NA | 8.07 | XXX
95958 | 26 | A | EEG monitoring/function test | 4.25 | 1.82 | 1.82 | 0.18 | 6.25 | 6.25 | XXX
95958 | TC | A | EEG monitoring/function test | 0.00 | NA | 1.71 | 0.11 | NA | 1.82 | XXX
95961 |  | A | Electrode stimulation, brain | 2.97 | NA | 2.65 | 0.24 | NA | 5.86 | XXX
95961 | 26 | A | Electrode stimulation, brain | 2.97 | 1.36 | 1.36 | 0.18 | 4.51 | 4.51 | XXX
95961 | TC | A | Electrode stimulation, brain | 0.00 | NA | 1.29 | 0.06 | NA | 1.35 | XXX
95962 |  | A | Electrode stim, brain add-on | 3.21 | NA | 2.73 | 0.23 | NA | 6.17 | ZZZ
95962 | 26 | A | Electrode stim, brain add-on | 3.21 | 1.44 | 1.44 | 0.17 | 4.82 | 4.82 | ZZZ
95962 | TC | A | Electrode stim, brain add-on | 0.00 | NA | 1.29 | 0.06 | NA | 1.35 | ZZZ
95970 |  | A | Analyze neurostim, no prog | 0.45 | 0.14 | 0.17 | 0.03 | 0.62 | 0.65 | XXX
95971 |  | A | Analyze neurostim, simple | 0.78 | 0.23 | 0.29 | 0.06 | 1.07 | 1.13 | XXX
95972 |  | A | Analyze neurostim, complex | 1.50 | 0.56 | 0.64 | 0.17 | 2.23 | 2.31 | XXX
95973 |  | A | Analyze neurostim, complex | 0.92 | 0.37 | 0.41 | 0.07 | 1.36 | 1.40 | ZZZ
95974 |  | A | Cranial neurostim, complex | 3.00 | 1.35 | 1.35 | 0.15 | 4.50 | 4.50 | XXX
95975 |  | A | Cranial neurostim, complex | 1.70 | 0.75 | 0.76 | 0.07 | 2.52 | 2.53 | ZZZ
95999 |  | C | Neurological procedure | 0.00 | 0.00 | 0.00 | 0.00 | 0.00 | 0.00 | XXX
96100 |  | A | Psychological testing | 0.00 | NA | 1.73 | 0.15 | NA | 1.88 | XXX
96105 |  | A | Assessment of aphasia | 0.00 | NA | 1.73 | 0.15 | NA | 1.88 | XXX
96110 |  | C | Developmental test, lim | 0.00 | 0.00 | 0.00 | 0.00 | 0.00 | 0.00 | XXX
96111 |  | A | Developmental test, extend | 0.00 | NA | 1.73 | 0.15 | NA | 1.88 | XXX
96115 |  | A | Neurobehavior status exam | 0.00 | NA | 1.73 | 0.15 | NA | 1.88 | XXX
96117 |  | A | Neuropsych test battery | 0.00 | NA | 1.73 | 0.15 | NA | 1.88 | XXX
96400 |  | A | Chemotherapy, sc/im | 0.00 | NA | 0.13 | 0.01 | NA | 0.14 | XXX
96405 |  | A | Intralesional chemo admin | 0.52 | 0.24 | 1.78 | 0.02 | 0.78 | 2.32 | 000
96406 |  | A | Intralesional chemo admin | 0.80 | 0.32 | 2.44 | 0.02 | 1.14 | 3.26 | 000
96408 |  | A | Chemotherapy, push technique | 0.00 | NA | 0.95 | 0.05 | NA | 1.00 | XXX
96410 |  | A | Chemotherapy,infusion method | 0.00 | NA | 1.52 | 0.07 | NA | 1.59 | XXX
96412 |  | A | Chemo, infuse method add-on | 0.00 | NA | 1.13 | 0.06 | NA | 1.19 | ZZZ
96414 |  | A | Chemo, infuse method add-on | 0.00 | NA | 1.31 | 0.07 | NA | 1.38 | XXX
96420 |  | A | Chemotherapy, push technique | 0.00 | NA | 1.23 | 0.07 | NA | 1.30 | XXX
96422 |  | A | Chemotherapy,infusion method | 0.00 | NA | 1.21 | 0.07 | NA | 1.28 | XXX
96423 |  | A | Chemo, infuse method add-on | 0.00 | NA | 0.48 | 0.02 | NA | 0.50 | ZZZ
96425 |  | A | Chemotherapy,infusion method | 0.00 | NA | 1.41 | 0.07 | NA | 1.48 | XXX
96440 |  | A | Chemotherapy, intracavitary | 2.37 | 1.07 | 8.00 | 0.12 | 3.56 | 10.49 | 000
96445 |  | A | Chemotherapy, intracavitary | 2.20 | 1.05 | 8.36 | 0.07 | 3.32 | 10.63 | 000
96450 |  | A | Chemotherapy, into CNS | 1.89 | 0.90 | 6.74 | 0.06 | 2.85 | 8.69 | 000
96520 |  | A | Pump refilling, maintenance | 0.00 | NA | 0.88 | 0.05 | NA | 0.93 | XXX
96530 |  | A | Pump refilling, maintenance | 0.00 | NA | 1.05 | 0.05 | NA | 1.10 | XXX
96542 |  | A | Chemotherapy injection | 1.42 | 0.57 | 4.01 | 0.05 | 2.04 | 5.48 | XXX
96545 |  | B | Provide chemotherapy agent | +0.00 | 0.00 | 0.00 | 0.00 | 0.00 | 0.00 | XXX
96549 |  | C | Chemotherapy, unspecified | 0.00 | 0.00 | 0.00 | 0.00 | 0.00 | 0.00 | XXX
96570 |  | A | Photodynamic tx, 30 min | 1.10 | 0.43 | 0.43 | 0.04 | 1.57 | 1.57 | ZZZ
96571 |  | A | Photodynamic tx, addl 15 min | 0.55 | 0.22 | 0.22 | 0.02 | 0.79 | 0.79 | ZZZ
96900 |  | A | Ultraviolet light therapy | 0.00 | NA | 0.39 | 0.02 | NA | 0.41 | XXX
96902 |  | B | Trichogram | +0.41 | 0.16 | 0.24 | 0.01 | 0.58 | 0.66 | XXX
96910 |  | A | Photochemotherapy with UV-B | 0.00 | NA | 0.57 | 0.03 | NA | 0.60 | XXX
96912 |  | A | Photochemotherapy with UV-A | 0.00 | NA | 0.65 | 0.04 | NA | 0.69 | XXX
96913 |  | A | Photochemotherapy, UV-A or B | 0.00 | NA | 1.33 | 0.08 | NA | 1.41 | XXX
96999 |  | C | Dermatological procedure | 0.00 | 0.00 | 0.00 | 0.00 | 0.00 | 0.00 | XXX
97001 |  | A | Pt evaluation | 1.20 | 0.47 | 0.56 | 0.10 | 1.77 | 1.86 | XXX
97002 |  | A | Pt re-evaluation | 0.60 | 0.26 | 0.35 | 0.04 | 0.90 | 0.99 | XXX
97003 |  | A | Ot evaluation | 1.20 | 0.32 | 0.66 | 0.05 | 1.57 | 1.91 | XXX
97004 |  | A | Ot re-evaluation | 0.60 | 0.13 | 0.42 | 0.02 | 0.75 | 1.04 | XXX
97010 |  | B | Hot or cold packs therapy | +0.06 | NA | 0.24 | 0.01 | NA | 0.31 | XXX
97012 |  | A | Mechanical traction therapy | 0.25 | NA | 0.27 | 0.01 | NA | 0.53 | XXX
97014 |  | A | Electric stimulation therapy | 0.18 | NA | 0.25 | 0.01 | NA | 0.44 | XXX
97016 |  | A | Vasopneumatic device therapy | 0.18 | NA | 0.25 | 0.01 | NA | 0.44 | XXX
97018 |  | A | Paraffin bath therapy | 0.06 | NA | 0.22 | 0.01 | NA | 0.29 | XXX
97020 |  | A | Microwave therapy | 0.06 | NA | 0.23 | 0.01 | NA | 0.30 | XXX
97022 |  | A | Whirlpool therapy | 0.17 | NA | 0.44 | 0.01 | NA | 0.62 | XXX
97024 |  | A | Diathermy treatment | 0.06 | NA | 0.24 | 0.01 | NA | 0.31 | XXX
97026 |  | A | Infrared therapy | 0.06 | NA | 0.22 | 0.01 | NA | 0.29 | XXX
97028 |  | A | Ultraviolet therapy | 0.08 | NA | 0.23 | 0.01 | NA | 0.32 | XXX
97032 |  | A | Electrical stimulation | 0.25 | NA | 0.29 | 0.01 | NA | 0.55 | XXX
97033 |  | A | Electric current therapy | 0.26 | NA | 0.31 | 0.02 | NA | 0.59 | XXX
97034 |  | A | Contrast bath therapy | 0.21 | NA | 0.28 | 0.01 | NA | 0.50 | XXX
97035 |  | A | Ultrasound therapy | 0.21 | NA | 0.17 | 0.01 | NA | 0.39 | XXX
97036 |  | A | Hydrotherapy | 0.28 | NA | 0.37 | 0.01 | NA | 0.66 | XXX
97039 |  | A | Physical therapy treatment | 0.20 | NA | 0.28 | 0.01 | NA | 0.49 | XXX
97110 |  | A | Therapeutic exercises | 0.45 | NA | 0.19 | 0.03 | NA | 0.67 | XXX
97112 |  | A | Neuromuscular reeducation | 0.45 | NA | 0.30 | 0.02 | NA | 0.77 | XXX
97113 |  | A | Aquatic therapy/exercises | 0.44 | NA | 0.32 | 0.03 | NA | 0.79 | XXX
97116 |  | A | Gait training therapy | 0.40 | NA | 0.30 | 0.02 | NA | 0.72 | XXX
97124 |  | A | Massage therapy | 0.35 | NA | 0.29 | 0.01 | NA | 0.65 | XXX
97139 |  | A | Physical medicine procedure | 0.21 | NA | 0.26 | 0.01 | NA | 0.48 | XXX
97140 |  | A | Manual therapy | 0.43 | NA | 0.32 | 0.02 | NA | 0.77 | XXX
97150 |  | A | Group therapeutic procedures | 0.27 | NA | 0.27 | 0.02 | NA | 0.56 | XXX
97504 |  | A | Orthotic training | 0.45 | NA | 0.30 | 0.03 | NA | 0.78 | XXX
97520 |  | A | Prosthetic training | 0.45 | NA | 0.31 | 0.02 | NA | 0.78 | XXX
97530 |  | A | Therapeutic activities | 0.44 | NA | 0.18 | 0.02 | NA | 0.64 | XXX
97532 |  | A | Cognitive skills development | 0.44 | NA | 0.24 | 0.01 | NA | 0.69 | XXX
97533 |  | A | Sensory integration | 0.44 | NA | 0.30 | 0.01 | NA | 0.75 | XXX
97535 |  | A | Self care mngment training | 0.45 | NA | 0.30 | 0.02 | NA | 0.77 | XXX
97537 |  | A | Community/work reintegration | 0.45 | NA | 0.30 | 0.01 | NA | 0.76 | XXX
97542 |  | A | Wheelchair mngmnt training | 0.45 | NA | 0.30 | 0.01 | NA | 0.76 | XXX
97545 |  | R | Work hardening | 0.00 | 0.00 | 0.00 | 0.00 | 0.00 | 0.00 | XXX
97546 |  | R | Work hardening add-on | 0.00 | 0.00 | 0.00 | 0.00 | 0.00 | 0.00 | ZZZ
97601 |  | A | Wound care selective | 0.50 | NA | 0.50 | 0.04 | NA | 1.04 | XXX
97602 |  | B | Wound care non-selective | 0.00 | 0.00 | 0.00 | 0.00 | 0.00 | 0.00 | XXX
97703 |  | A | Prosthetic checkout | 0.25 | NA | 0.15 | 0.02 | NA | 0.42 | XXX
97750 |  | A | Physical performance test | 0.45 | NA | 0.25 | 0.02 | NA | 0.72 | XXX
97780 |  | N | Acupuncture w/o stimul | 0.00 | 0.00 | 0.00 | 0.00 | 0.00 | 0.00 | XXX
97781 |  | N | Acupuncture w/stimul | 0.00 | 0.00 | 0.00 | 0.00 | 0.00 | 0.00 | XXX
97799 |  | C | Physical medicine procedure | 0.00 | 0.00 | 0.00 | 0.00 | 0.00 | 0.00 | XXX
97802 |  | N | Medical nutrition, indiv, in | +0.00 | NA | 0.47 | 0.01 | NA | 0.48 | XXX
97803 |  | N | Med nutrition, indiv, subseq | +0.00 | NA | 0.34 | 0.01 | NA | 0.35 | XXX
97804 |  | N | Medical nutrition, group | +0.00 | NA | 0.14 | 0.01 | NA | 0.15 | XXX
98925 |  | A | Osteopathic manipulation | 0.45 | 0.15 | 0.37 | 0.01 | 0.61 | 0.83 | 000
98926 |  | A | Osteopathic manipulation | 0.65 | 0.26 | 0.43 | 0.02 | 0.93 | 1.10 | 000
98927 |  | A | Osteopathic manipulation | 0.87 | 0.31 | 0.51 | 0.03 | 1.21 | 1.41 | 000
98928 |  | A | Osteopathic manipulation | 1.03 | 0.36 | 0.59 | 0.03 | 1.42 | 1.65 | 000
98929 |  | A | Osteopathic manipulation | 1.19 | 0.38 | 0.65 | 0.04 | 1.61 | 1.88 | 000
98940 |  | A | Chiropractic manipulation | 0.45 | 0.13 | 0.25 | 0.01 | 0.59 | 0.71 | 000
98941 |  | A | Chiropractic manipulation | 0.65 | 0.18 | 0.31 | 0.02 | 0.85 | 0.98 | 000
98942 |  | A | Chiropractic manipulation | 0.87 | 0.24 | 0.37 | 0.03 | 1.14 | 1.27 | 000
98943 |  | N | Chiropractic manipulation | +0.40 | 0.16 | 0.34 | 0.01 | 0.57 | 0.75 | XXX
99000 |  | B | Specimen handling | 0.00 | 0.00 | 0.00 | 0.00 | 0.00 | 0.00 | XXX
99001 |  | B | Specimen handling | 0.00 | 0.00 | 0.00 | 0.00 | 0.00 | 0.00 | XXX
99002 |  | B | Device handling | 0.00 | 0.00 | 0.00 | 0.00 | 0.00 | 0.00 | XXX
99024 |  | B | Postop follow-up visit | 0.00 | 0.00 | 0.00 | 0.00 | 0.00 | 0.00 | XXX
99025 |  | B | Initial surgical evaluation | 0.00 | 0.00 | 0.00 | 0.00 | 0.00 | 0.00 | XXX
99050 |  | B | Medical services after hrs | 0.00 | 0.00 | 0.00 | 0.00 | 0.00 | 0.00 | XXX
99052 |  | B | Medical services at night | 0.00 | 0.00 | 0.00 | 0.00 | 0.00 | 0.00 | XXX
99054 |  | B | Medical servcs, unusual hrs | 0.00 | 0.00 | 0.00 | 0.00 | 0.00 | 0.00 | XXX
99056 |  | B | Non-office medical services | 0.00 | 0.00 | 0.00 | 0.00 | 0.00 | 0.00 | XXX
99058 |  | B | Office emergency care | 0.00 | 0.00 | 0.00 | 0.00 | 0.00 | 0.00 | XXX
99070 |  | B | Special supplies | 0.00 | 0.00 | 0.00 | 0.00 | 0.00 | 0.00 | XXX
99071 |  | B | Patient education materials | 0.00 | 0.00 | 0.00 | 0.00 | 0.00 | 0.00 | XXX
99075 |  | N | Medical testimony | 0.00 | 0.00 | 0.00 | 0.00 | 0.00 | 0.00 | XXX
99078 |  | B | Group health education | 0.00 | 0.00 | 0.00 | 0.00 | 0.00 | 0.00 | XXX
99080 |  | B | Special reports or forms | 0.00 | 0.00 | 0.00 | 0.00 | 0.00 | 0.00 | XXX
99082 |  | C | Unusual physician travel | 0.00 | 0.00 | 0.00 | 0.00 | 0.00 | 0.00 | XXX
99090 |  | B | Computer data analysis | 0.00 | 0.00 | 0.00 | 0.00 | 0.00 | 0.00 | XXX
99100 |  | B | Special anesthesia service | 0.00 | 0.00 | 0.00 | 0.00 | 0.00 | 0.00 | ZZZ
99116 |  | B | Anesthesia with hypothermia | 0.00 | 0.00 | 0.00 | 0.00 | 0.00 | 0.00 | ZZZ
99135 |  | B | Special anesthesia procedure | 0.00 | 0.00 | 0.00 | 0.00 | 0.00 | 0.00 | ZZZ
99140 |  | B | Emergency anesthesia | 0.00 | 0.00 | 0.00 | 0.00 | 0.00 | 0.00 | ZZZ
99141 |  | B | Sedation, iv/im or inhalant | +0.80 | 0.39 | 2.04 | 0.04 | 1.23 | 2.88 | XXX
99142 |  | B | Sedation, oral/rectal/nasal | +0.60 | 0.31 | 1.19 | 0.03 | 0.94 | 1.82 | XXX
99170 |  | A | Anogenital exam, child | 1.75 | 0.69 | 1.85 | 0.07 | 2.51 | 3.67 | 000
99172 |  | N | Ocular function screen | 0.00 | 0.00 | 0.00 | 0.00 | 0.00 | 0.00 | XXX
99173 |  | N | Visual acuity screen | 0.00 | 0.00 | 0.00 | 0.00 | 0.00 | 0.00 | XXX
99175 |  | A | Induction of vomiting | 0.00 | NA | 1.37 | 0.08 | NA | 1.45 | XXX
99183 |  | A | Hyperbaric oxygen therapy | 2.34 | 0.76 | NA | 0.12 | 3.22 | NA | XXX
99185 |  | A | Regional hypothermia | 0.00 | NA | 0.63 | 0.03 | NA | 0.66 | XXX
99186 |  | A | Total body hypothermia | 0.00 | NA | 1.75 | 0.37 | NA | 2.12 | XXX
99190 |  | X | Special pump services | 0.00 | 0.00 | 0.00 | 0.00 | 0.00 | 0.00 | XXX
99191 |  | X | Special pump services | 0.00 | 0.00 | 0.00 | 0.00 | 0.00 | 0.00 | XXX
99192 |  | X | Special pump services | 0.00 | 0.00 | 0.00 | 0.00 | 0.00 | 0.00 | XXX
99195 |  | A | Phlebotomy | 0.00 | NA | 0.44 | 0.02 | NA | 0.46 | XXX
99199 |  | C | Special service/proc/report | 0.00 | 0.00 | 0.00 | 0.00 | 0.00 | 0.00 | XXX
99201 |  | A | Office/outpatient visit, new | 0.45 | 0.16 | 0.45 | 0.02 | 0.63 | 0.92 | XXX
99202 |  | A | Office/outpatient visit, new | 0.88 | 0.33 | 0.74 | 0.05 | 1.26 | 1.67 | XXX
99203 |  | A | Office/outpatient visit, new | 1.34 | 0.50 | 1.07 | 0.08 | 1.92 | 2.49 | XXX
99204 |  | A | Office/outpatient visit, new | 2.00 | 0.74 | 1.48 | 0.10 | 2.84 | 3.58 | XXX
99205 |  | A | Office/outpatient visit, new | 2.67 | 0.96 | 1.77 | 0.12 | 3.75 | 4.56 | XXX
99211 |  | A | Office/outpatient visit, est | 0.17 | 0.06 | 0.37 | 0.01 | 0.24 | 0.55 | XXX
99212 |  | A | Office/outpatient visit, est | 0.45 | 0.17 | 0.51 | 0.02 | 0.64 | 0.98 | XXX
99213 |  | A | Office/outpatient visit, est | 0.67 | 0.24 | 0.67 | 0.03 | 0.94 | 1.37 | XXX
99214 |  | A | Office/outpatient visit, est | 1.10 | 0.40 | 1.02 | 0.04 | 1.54 | 2.16 | XXX
99215 |  | A | Office/outpatient visit, est | 1.77 | 0.65 | 1.33 | 0.07 | 2.49 | 3.17 | XXX
99217 |  | A | Observation care discharge | 1.28 | 0.45 | NA | 0.05 | 1.78 | NA | XXX
99218 |  | A | Observation care | 1.28 | 0.45 | NA | 0.05 | 1.78 | NA | XXX
99219 |  | A | Observation care | 2.14 | 0.74 | NA | 0.08 | 2.96 | NA | XXX
99220 |  | A | Observation care | 2.99 | 1.05 | NA | 0.11 | 4.15 | NA | XXX
99221 |  | A | Initial hospital care | 1.28 | 0.47 | NA | 0.05 | 1.80 | NA | XXX
99222 |  | A | Initial hospital care | 2.14 | 0.76 | NA | 0.08 | 2.98 | NA | XXX
99223 |  | A | Initial hospital care | 2.99 | 1.07 | NA | 0.10 | 4.16 | NA | XXX
99231 |  | A | Subsequent hospital care | 0.64 | 0.24 | NA | 0.02 | 0.90 | NA | XXX
99232 |  | A | Subsequent hospital care | 1.06 | 0.38 | NA | 0.03 | 1.47 | NA | XXX
99233 |  | A | Subsequent hospital care | 1.51 | 0.54 | NA | 0.05 | 2.10 | NA | XXX
99234 |  | A | Observ/hosp same date | 2.56 | 0.92 | NA | 0.11 | 3.59 | NA | XXX
99235 |  | A | Observ/hosp same date | 3.42 | 1.19 | NA | 0.13 | 4.74 | NA | XXX
99236 |  | A | Observ/hosp same date | 4.27 | 1.45 | NA | 0.17 | 5.89 | NA | XXX
99238 |  | A | Hospital discharge day | 1.28 | 0.45 | NA | 0.04 | 1.77 | NA | XXX
99239 |  | A | Hospital discharge day | 1.75 | 0.62 | NA | 0.05 | 2.42 | NA | XXX
99241 |  | A | Office consultation | 0.64 | 0.23 | 0.60 | 0.04 | 0.91 | 1.28 | XXX
99242 |  | A | Office consultation | 1.29 | 0.49 | 0.99 | 0.09 | 1.87 | 2.37 | XXX
99243 |  | A | Office consultation | 1.72 | 0.66 | 1.33 | 0.10 | 2.48 | 3.15 | XXX
99244 |  | A | Office consultation | 2.58 | 0.97 | 1.78 | 0.13 | 3.68 | 4.49 | XXX
99245 |  | A | Office consultation | 3.43 | 1.28 | 2.25 | 0.16 | 4.87 | 5.84 | XXX
99251 |  | A | Initial inpatient consult | 0.66 | 0.30 | NA | 0.04 | 1.00 | NA | XXX
99252 |  | A | Initial inpatient consult | 1.32 | 0.57 | NA | 0.08 | 1.97 | NA | XXX
99253 |  | A | Initial inpatient consult | 1.82 | 0.76 | NA | 0.09 | 2.67 | NA | XXX
99254 |  | A | Initial inpatient consult | 2.64 | 1.07 | NA | 0.11 | 3.82 | NA | XXX
99255 |  | A | Initial inpatient consult | 3.65 | 1.44 | NA | 0.15 | 5.24 | NA | XXX
99261 |  | A | Follow-up inpatient consult | 0.42 | 0.21 | NA | 0.02 | 0.65 | NA | XXX
99262 |  | A | Follow-up inpatient consult | 0.85 | 0.37 | NA | 0.03 | 1.25 | NA | XXX
99263 |  | A | Follow-up inpatient consult | 1.27 | 0.52 | NA | 0.04 | 1.83 | NA | XXX
99271 |  | A | Confirmatory consultation | 0.45 | 0.21 | 0.64 | 0.03 | 0.69 | 1.12 | XXX
99272 |  | A | Confirmatory consultation | 0.84 | 0.36 | 0.88 | 0.06 | 1.26 | 1.78 | XXX
99273 |  | A | Confirmatory consultation | 1.19 | 0.50 | 1.07 | 0.07 | 1.76 | 2.33 | XXX
99274 |  | A | Confirmatory consultation | 1.73 | 0.71 | 1.38 | 0.09 | 2.53 | 3.20 | XXX
99275 |  | A | Confirmatory consultation | 2.31 | 0.90 | 1.63 | 0.10 | 3.31 | 4.04 | XXX
99281 |  | A | Emergency dept visit | 0.33 | 0.09 | NA | 0.02 | 0.44 | NA | XXX
99282 |  | A | Emergency dept visit | 0.55 | 0.15 | NA | 0.03 | 0.73 | NA | XXX
99283 |  | A | Emergency dept visit | 1.24 | 0.32 | NA | 0.08 | 1.64 | NA | XXX
99284 |  | A | Emergency dept visit | 1.95 | 0.50 | NA | 0.12 | 2.57 | NA | XXX
99285 |  | A | Emergency dept visit | 3.06 | 0.75 | NA | 0.19 | 4.00 | NA | XXX
99288 |  | B | Direct advanced life support | 0.00 | 0.00 | 0.00 | 0.00 | 0.00 | 0.00 | XXX
99291 |  | A | Critical care, first hour | 4.00 | 1.33 | 1.59 | 0.14 | 5.47 | 5.73 | XXX
99292 |  | A | Critical care, addl 30 min | 2.00 | 0.66 | 0.86 | 0.07 | 2.73 | 2.93 | ZZZ
99295 |  | A | Neonatal critical care | 16.00 | 4.91 | NA | 0.70 | 21.61 | NA | XXX
99296 |  | A | Neonatal critical care | 8.00 | 2.63 | NA | 0.23 | 10.86 | NA | XXX
99297 |  | A | Neonatal critical care | 4.00 | 1.34 | NA | 0.12 | 5.46 | NA | XXX
99298 |  | A | Neonatal critical care | 2.75 | 0.96 | NA | 0.10 | 3.81 | NA | XXX
99301 |  | A | Nursing facility care | 1.20 | 0.42 | NA | 0.04 | 1.66 | NA | XXX
99302 |  | A | Nursing facility care | 1.61 | 0.56 | NA | 0.05 | 2.22 | NA | XXX
99303 |  | A | Nursing facility care | 2.01 | 0.69 | NA | 0.06 | 2.76 | NA | XXX
99311 |  | A | Nursing fac care, subseq | 0.60 | 0.21 | NA | 0.02 | 0.83 | NA | XXX
99312 |  | A | Nursing fac care, subseq | 1.00 | 0.34 | NA | 0.03 | 1.37 | NA | XXX
99313 |  | A | Nursing fac care, subseq | 1.42 | 0.49 | NA | 0.04 | 1.95 | NA | XXX
99315 |  | A | Nursing fac discharge day | 1.13 | 0.39 | NA | 0.04 | 1.56 | NA | XXX
99316 |  | A | Nursing fac discharge day | 1.50 | 0.53 | NA | 0.05 | 2.08 | NA | XXX
99321 |  | A | Rest home visit, new patient | 0.71 | 0.35 | 0.43 | 0.02 | 1.08 | 1.16 | XXX
99322 |  | A | Rest home visit, new patient | 1.01 | 0.45 | 0.68 | 0.03 | 1.49 | 1.72 | XXX
99323 |  | A | Rest home visit, new patient | 1.28 | 0.56 | 0.92 | 0.04 | 1.88 | 2.24 | XXX
99331 |  | A | Rest home visit, est pat | 0.60 | 0.31 | 0.46 | 0.02 | 0.93 | 1.08 | XXX
99332 |  | A | Rest home visit, est pat | 0.80 | 0.38 | 0.58 | 0.03 | 1.21 | 1.41 | XXX
99333 |  | A | Rest home visit, est pat | 1.00 | 0.45 | 0.71 | 0.03 | 1.48 | 1.74 | XXX
99341 |  | A | Home visit, new patient | 1.01 | 0.48 | 0.54 | 0.05 | 1.54 | 1.60 | XXX
99342 |  | A | Home visit, new patient | 1.52 | 0.69 | 0.84 | 0.05 | 2.26 | 2.41 | XXX
99343 |  | A | Home visit, new patient | 2.27 | 1.28 | 1.28 | 0.07 | 3.62 | 3.62 | XXX
99344 |  | A | Home visit, new patient | 3.03 | 1.31 | 1.59 | 0.10 | 4.44 | 4.72 | XXX
99345 |  | A | Home visit, new patient | 3.79 | 1.36 | 1.83 | 0.12 | 5.27 | 5.74 | XXX
99347 |  | A | Home visit, est patient | 0.76 | 0.36 | 0.47 | 0.03 | 1.15 | 1.26 | XXX
99348 |  | A | Home visit, est patient | 1.26 | 0.53 | 0.71 | 0.04 | 1.83 | 2.01 | XXX
99349 |  | A | Home visit, est patient | 2.02 | 0.81 | 1.07 | 0.06 | 2.89 | 3.15 | XXX
99350 |  | A | Home visit, est patient | 3.03 | 1.16 | 1.46 | 0.10 | 4.29 | 4.59 | XXX
99354 |  | A | Prolonged service, office | 1.77 | 0.63 | 1.46 | 0.06 | 2.46 | 3.29 | ZZZ
99355 |  | A | Prolonged service, office | 1.77 | 0.63 | 1.25 | 0.06 | 2.46 | 3.08 | ZZZ
99356 |  | A | Prolonged service, inpatient | 1.71 | 0.60 | NA | 0.06 | 2.37 | NA | ZZZ
99357 |  | A | Prolonged service, inpatient | 1.71 | 0.62 | NA | 0.06 | 2.39 | NA | ZZZ
99358 |  | B | Prolonged serv, w/o contact | 0.00 | 0.00 | 0.00 | 0.00 | 0.00 | 0.00 | ZZZ
99359 |  | B | Prolonged serv, w/o contact | 0.00 | 0.00 | 0.00 | 0.00 | 0.00 | 0.00 | ZZZ
99360 |  | X | Physician standby services | 0.00 | 0.00 | 0.00 | 0.00 | 0.00 | 0.00 | XXX
99361 |  | B | Physician/team conference | 0.00 | 0.00 | 0.00 | 0.00 | 0.00 | 0.00 | XXX
99362 |  | B | Physician/team conference | 0.00 | 0.00 | 0.00 | 0.00 | 0.00 | 0.00 | XXX
99371 |  | B | Physician phone consultation | 0.00 | 0.00 | 0.00 | 0.00 | 0.00 | 0.00 | XXX
99372 |  | B | Physician phone consultation | 0.00 | 0.00 | 0.00 | 0.00 | 0.00 | 0.00 | XXX
99373 |  | B | Physician phone consultation | 0.00 | 0.00 | 0.00 | 0.00 | 0.00 | 0.00 | XXX
99374 |  | B | Home health care supervision | +1.10 | 0.43 | 1.43 | 0.04 | 1.57 | 2.57 | XXX
99375 |  | G | Home health care supervision | 1.73 | 1.68 | 1.68 | 0.06 | 3.47 | 3.47 | XXX
99377 |  | B | Hospice care supervision | +1.10 | 0.43 | 1.43 | 0.04 | 1.57 | 2.57 | XXX
99378 |  | G | Hospice care supervision | 1.73 | 1.68 | 1.68 | 0.06 | 3.47 | 3.47 | XXX
99379 |  | B | Nursing fac care supervision | +1.10 | 0.43 | 1.43 | 0.03 | 1.56 | 2.56 | XXX
99380 |  | B | Nursing fac care supervision | +1.73 | 0.68 | 1.68 | 0.05 | 2.46 | 3.46 | XXX
99381 |  | N | Prev visit, new, infant | +1.19 | 0.47 | 1.46 | 0.04 | 1.70 | 2.69 | XXX
99382 |  | N | Prev visit, new, age 1-4 | +1.36 | 0.54 | 1.50 | 0.04 | 1.94 | 2.90 | XXX
99383 |  | N | Prev visit, new, age 5-11 | +1.36 | 0.54 | 1.44 | 0.04 | 1.94 | 2.84 | XXX
99384 |  | N | Prev visit, new, age 12-17 | +1.53 | 0.60 | 1.52 | 0.05 | 2.18 | 3.10 | XXX
99385 |  | N | Prev visit, new, age 18-39 | +1.53 | 0.60 | 1.52 | 0.05 | 2.18 | 3.10 | XXX
99386 |  | N | Prev visit, new, age 40-64 | +1.88 | 0.74 | 1.70 | 0.06 | 2.68 | 3.64 | XXX
99387 |  | N | Prev visit, new, 65 & over | +2.06 | 0.81 | 1.83 | 0.06 | 2.93 | 3.95 | XXX
99391 |  | N | Prev visit, est, infant | +1.02 | 0.40 | 1.00 | 0.03 | 1.45 | 2.05 | XXX
99392 |  | N | Prev visit, est, age 1-4 | +1.19 | 0.47 | 1.07 | 0.04 | 1.70 | 2.30 | XXX
99393 |  | N | Prev visit, est, age 5-11 | +1.19 | 0.47 | 1.04 | 0.04 | 1.70 | 2.27 | XXX
99394 |  | N | Prev visit, est, age 12-17 | +1.36 | 0.54 | 1.12 | 0.04 | 1.94 | 2.52 | XXX
99395 |  | N | Prev visit, est, age 18-39 | +1.36 | 0.54 | 1.15 | 0.04 | 1.94 | 2.55 | XXX
99396 |  | N | Prev visit, est, age 40-64 | +1.53 | 0.60 | 1.24 | 0.05 | 2.18 | 2.82 | XXX
99397 |  | N | Prev visit, est, 65 & over | +1.71 | 0.68 | 1.34 | 0.05 | 2.44 | 3.10 | XXX
99401 |  | N | Preventive counseling, indiv | +0.48 | 0.19 | 0.60 | 0.01 | 0.68 | 1.09 | XXX
99402 |  | N | Preventive counseling, indiv | +0.98 | 0.39 | 0.85 | 0.02 | 1.39 | 1.85 | XXX
99403 |  | N | Preventive counseling, indiv | +1.46 | 0.58 | 1.08 | 0.03 | 2.07 | 2.57 | XXX
99404 |  | N | Preventive counseling, indiv | +1.95 | 0.77 | 1.32 | 0.04 | 2.76 | 3.31 | XXX
99411 |  | N | Preventive counseling, group | +0.15 | 0.06 | 0.18 | 0.01 | 0.22 | 0.34 | XXX
99412 |  | N | Preventive counseling, group | +0.25 | 0.10 | 0.24 | 0.01 | 0.36 | 0.50 | XXX
99420 |  | N | Health risk assessment test | 0.00 | 0.00 | 0.00 | 0.00 | 0.00 | 0.00 | XXX
99429 |  | N | Unlisted preventive service | 0.00 | 0.00 | 0.00 | 0.00 | 0.00 | 0.00 | XXX
99431 |  | A | Initial care, normal newborn | 1.17 | 0.36 | NA | 0.04 | 1.57 | NA | XXX
99432 |  | A | Newborn care, not in hosp | 1.26 | 0.34 | 1.10 | 0.06 | 1.66 | 2.42 | XXX
99433 |  | A | Normal newborn care/hospital | 0.62 | 0.20 | NA | 0.02 | 0.84 | NA | XXX
99435 |  | A | Newborn discharge day hosp | 1.50 | 0.56 | NA | 0.05 | 2.11 | NA | XXX
99436 |  | A | Attendance, birth | 1.50 | 0.47 | 0.59 | 0.05 | 2.02 | 2.14 | XXX
99440 |  | A | Newborn resuscitation | 2.93 | 0.88 | NA | 0.11 | 3.92 | NA | XXX
99450 |  | N | Life/disability evaluation | 0.00 | 0.00 | 0.00 | 0.00 | 0.00 | 0.00 | XXX
99455 |  | R | Disability examination | 0.00 | 0.00 | 0.00 | 0.00 | 0.00 | 0.00 | XXX
99456 |  | R | Disability examination | 0.00 | 0.00 | 0.00 | 0.00 | 0.00 | 0.00 | XXX
99499 |  | C | Unlisted e&m service | 0.00 | 0.00 | 0.00 | 0.00 | 0.00 | 0.00 | XXX
A0021 |  | I | Outside state ambulance serv | 0.00 | 0.00 | 0.00 | 0.00 | 0.00 | 0.00 | XXX
A0030 |  | I | Air ambulance service | 0.00 | 0.00 | 0.00 | 0.00 | 0.00 | 0.00 | XXX
A0040 |  | I | Helicopter ambulance service | 0.00 | 0.00 | 0.00 | 0.00 | 0.00 | 0.00 | XXX
A0050 |  | I | Water amb service emergency | 0.00 | 0.00 | 0.00 | 0.00 | 0.00 | 0.00 | XXX
A0080 |  | I | Noninterest escort in non er | 0.00 | 0.00 | 0.00 | 0.00 | 0.00 | 0.00 | XXX
A0090 |  | I | Interest escort in non er | 0.00 | 0.00 | 0.00 | 0.00 | 0.00 | 0.00 | XXX
A0100 |  | I | Nonemergency transport taxi | 0.00 | 0.00 | 0.00 | 0.00 | 0.00 | 0.00 | XXX
A0110 |  | I | Nonemergency transport bus | 0.00 | 0.00 | 0.00 | 0.00 | 0.00 | 0.00 | XXX
A0120 |  | I | Noner transport mini-bus | 0.00 | 0.00 | 0.00 | 0.00 | 0.00 | 0.00 | XXX
A0130 |  | I | Noner transport wheelch van | 0.00 | 0.00 | 0.00 | 0.00 | 0.00 | 0.00 | XXX
A0140 |  | I | Nonemergency transport air | 0.00 | 0.00 | 0.00 | 0.00 | 0.00 | 0.00 | XXX
A0160 |  | I | Noner transport case worker | 0.00 | 0.00 | 0.00 | 0.00 | 0.00 | 0.00 | XXX
A0170 |  | I | Noner transport parking fees | 0.00 | 0.00 | 0.00 | 0.00 | 0.00 | 0.00 | XXX
A0180 |  | I | Noner transport lodgng recip | 0.00 | 0.00 | 0.00 | 0.00 | 0.00 | 0.00 | XXX
A0190 |  | I | Noner transport meals recip | 0.00 | 0.00 | 0.00 | 0.00 | 0.00 | 0.00 | XXX
A0200 |  | I | Noner transport lodgng escrt | 0.00 | 0.00 | 0.00 | 0.00 | 0.00 | 0.00 | XXX
A0210 |  | I | Noner transport meals escort | 0.00 | 0.00 | 0.00 | 0.00 | 0.00 | 0.00 | XXX
A0300 |  | I | Ambulance basic non-emer all | 0.00 | 0.00 | 0.00 | 0.00 | 0.00 | 0.00 | XXX
A0302 |  | I | Ambulance basic emergeny all | 0.00 | 0.00 | 0.00 | 0.00 | 0.00 | 0.00 | XXX
A0304 |  | I | Amb adv non-er no serv all | 0.00 | 0.00 | 0.00 | 0.00 | 0.00 | 0.00 | XXX
A0306 |  | I | Amb adv non-er spec serv all | 0.00 | 0.00 | 0.00 | 0.00 | 0.00 | 0.00 | XXX
A0308 |  | I | Amb adv er no spec serv all | 0.00 | 0.00 | 0.00 | 0.00 | 0.00 | 0.00 | XXX
A0310 |  | I | Amb adv er spec serv all | 0.00 | 0.00 | 0.00 | 0.00 | 0.00 | 0.00 | XXX
A0320 |  | I | Amb basic non-er + supplies | 0.00 | 0.00 | 0.00 | 0.00 | 0.00 | 0.00 | XXX
A0322 |  | I | Amb basic emerg + supplies | 0.00 | 0.00 | 0.00 | 0.00 | 0.00 | 0.00 | XXX
A0324 |  | I | Adv non-er serv sep mileage | 0.00 | 0.00 | 0.00 | 0.00 | 0.00 | 0.00 | XXX
A0326 |  | I | Adv non-er no serv sep mile | 0.00 | 0.00 | 0.00 | 0.00 | 0.00 | 0.00 | XXX
A0328 |  | I | Adv er no serv sep mileage | 0.00 | 0.00 | 0.00 | 0.00 | 0.00 | 0.00 | XXX
A0330 |  | I | Adv er spec serv sep mile | 0.00 | 0.00 | 0.00 | 0.00 | 0.00 | 0.00 | XXX
A0340 |  | I | Amb basic non-er + mileage | 0.00 | 0.00 | 0.00 | 0.00 | 0.00 | 0.00 | XXX
A0342 |  | I | Ambul basic emer + mileage | 0.00 | 0.00 | 0.00 | 0.00 | 0.00 | 0.00 | XXX
A0344 |  | I | Amb adv non-er no serv +mile | 0.00 | 0.00 | 0.00 | 0.00 | 0.00 | 0.00 | XXX
A0346 |  | I | Amb adv non-er serv + mile | 0.00 | 0.00 | 0.00 | 0.00 | 0.00 | 0.00 | XXX
A0348 |  | I | Adv emer no spec serv + mile | 0.00 | 0.00 | 0.00 | 0.00 | 0.00 | 0.00 | XXX
A0350 |  | I | Adv emer spec serv + mileage | 0.00 | 0.00 | 0.00 | 0.00 | 0.00 | 0.00 | XXX
A0360 |  | I | Basic non-er sep mile & supp | 0.00 | 0.00 | 0.00 | 0.00 | 0.00 | 0.00 | XXX
A0362 |  | I | Basic emer sep mile & supply | 0.00 | 0.00 | 0.00 | 0.00 | 0.00 | 0.00 | XXX
A0364 |  | I | Adv non-er no serv sep mi&su | 0.00 | 0.00 | 0.00 | 0.00 | 0.00 | 0.00 | XXX
A0366 |  | I | Adv non-er serv sep mil&supp | 0.00 | 0.00 | 0.00 | 0.00 | 0.00 | 0.00 | XXX
A0368 |  | I | Adv er no serv sep mile&supp | 0.00 | 0.00 | 0.00 | 0.00 | 0.00 | 0.00 | XXX
A0370 |  | I | Adv er spec serv sep mi&supp | 0.00 | 0.00 | 0.00 | 0.00 | 0.00 | 0.00 | XXX
A0380 |  | X | Basic life support mileage | 0.00 | 0.00 | 0.00 | 0.00 | 0.00 | 0.00 | XXX
A0382 |  | X | Basic support routine suppls | 0.00 | 0.00 | 0.00 | 0.00 | 0.00 | 0.00 | XXX
A0384 |  | X | Bls defibrillation supplies | 0.00 | 0.00 | 0.00 | 0.00 | 0.00 | 0.00 | XXX
A0390 |  | X | Advanced life support mileag | 0.00 | 0.00 | 0.00 | 0.00 | 0.00 | 0.00 | XXX
A0392 |  | X | Als defibrillation supplies | 0.00 | 0.00 | 0.00 | 0.00 | 0.00 | 0.00 | XXX
A0394 |  | X | Als IV drug therapy supplies | 0.00 | 0.00 | 0.00 | 0.00 | 0.00 | 0.00 | XXX
A0396 |  | X | Als esophageal intub suppls | 0.00 | 0.00 | 0.00 | 0.00 | 0.00 | 0.00 | XXX
A0398 |  | X | Als routine disposble suppls | 0.00 | 0.00 | 0.00 | 0.00 | 0.00 | 0.00 | XXX
A0420 |  | X | Ambulance waiting 1/2 hr | 0.00 | 0.00 | 0.00 | 0.00 | 0.00 | 0.00 | XXX
A0422 |  | X | Ambulance 02 life sustaining | 0.00 | 0.00 | 0.00 | 0.00 | 0.00 | 0.00 | XXX
A0424 |  | X | Extra ambulance attendant | 0.00 | 0.00 | 0.00 | 0.00 | 0.00 | 0.00 | XXX
A0425 |  | X | Ground mileage | 0.00 | 0.00 | 0.00 | 0.00 | 0.00 | 0.00 | XXX
A0426 |  | X | Als 1 | 0.00 | 0.00 | 0.00 | 0.00 | 0.00 | 0.00 | XXX
A0427 |  | X | ALS1-emergency | 0.00 | 0.00 | 0.00 | 0.00 | 0.00 | 0.00 | XXX
A0428 |  | X | bls | 0.00 | 0.00 | 0.00 | 0.00 | 0.00 | 0.00 | XXX
A0429 |  | X | BLS-emergency | 0.00 | 0.00 | 0.00 | 0.00 | 0.00 | 0.00 | XXX
A0430 |  | X | Fixed wing air transport | 0.00 | 0.00 | 0.00 | 0.00 | 0.00 | 0.00 | XXX
A0431 |  | X | Rotary wing air transport | 0.00 | 0.00 | 0.00 | 0.00 | 0.00 | 0.00 | XXX
A0432 |  | X | PI volunteer ambulance co | 0.00 | 0.00 | 0.00 | 0.00 | 0.00 | 0.00 | XXX
A0433 |  | X | als 2 | 0.00 | 0.00 | 0.00 | 0.00 | 0.00 | 0.00 | XXX
A0434 |  | X | Specialty care transport | 0.00 | 0.00 | 0.00 | 0.00 | 0.00 | 0.00 | XXX
A0435 |  | X | Fixed wing air mileage | 0.00 | 0.00 | 0.00 | 0.00 | 0.00 | 0.00 | XXX
A0436 |  | X | Rotary wing air mileage | 0.00 | 0.00 | 0.00 | 0.00 | 0.00 | 0.00 | XXX
A0888 |  | N | Noncovered ambulance mileage | 0.00 | 0.00 | 0.00 | 0.00 | 0.00 | 0.00 | XXX
A0999 |  | X | Unlisted ambulance service | 0.00 | 0.00 | 0.00 | 0.00 | 0.00 | 0.00 | XXX
A4206 |  | I | 1 CC sterile syringe&needle | 0.00 | 0.00 | 0.00 | 0.00 | 0.00 | 0.00 | XXX
A4207 |  | I | 2 CC sterile syringe&needle | 0.00 | 0.00 | 0.00 | 0.00 | 0.00 | 0.00 | XXX
A4208 |  | I | 3 CC sterile syringe&needle | 0.00 | 0.00 | 0.00 | 0.00 | 0.00 | 0.00 | XXX
A4209 |  | I | 5+ CC sterile syringe&needle | 0.00 | 0.00 | 0.00 | 0.00 | 0.00 | 0.00 | XXX
A4210 |  | N | Nonneedle injection device | 0.00 | 0.00 | 0.00 | 0.00 | 0.00 | 0.00 | XXX
A4211 |  | P | Supp for self-adm injections | 0.00 | 0.00 | 0.00 | 0.00 | 0.00 | 0.00 | XXX
A4212 |  | P | Non coring needle or stylet | 0.00 | 0.00 | 0.00 | 0.00 | 0.00 | 0.00 | XXX
A4213 |  | I | 20+ CC syringe only | 0.00 | 0.00 | 0.00 | 0.00 | 0.00 | 0.00 | XXX
A4214 |  | P | 30 CC sterile water/saline | 0.00 | 0.00 | 0.00 | 0.00 | 0.00 | 0.00 | XXX
A4215 |  | I | Sterile needle | 0.00 | 0.00 | 0.00 | 0.00 | 0.00 | 0.00 | XXX
A4220 |  | P | Infusion pump refill kit | 0.00 | 0.00 | 0.00 | 0.00 | 0.00 | 0.00 | XXX
A4221 |  | X | Maint drug infus cath per wk | 0.00 | 0.00 | 0.00 | 0.00 | 0.00 | 0.00 | XXX
A4222 |  | X | Drug infusion pump supplies | 0.00 | 0.00 | 0.00 | 0.00 | 0.00 | 0.00 | XXX
A4230 |  | X | Infus insulin pump non needl | 0.00 | 0.00 | 0.00 | 0.00 | 0.00 | 0.00 | XXX
A4231 |  | X | Infusion insulin pump needle | 0.00 | 0.00 | 0.00 | 0.00 | 0.00 | 0.00 | XXX
A4232 |  | X | Syringe w/needle insulin 3cc | 0.00 | 0.00 | 0.00 | 0.00 | 0.00 | 0.00 | XXX
A4244 |  | I | Alcohol or peroxide per pint | 0.00 | 0.00 | 0.00 | 0.00 | 0.00 | 0.00 | XXX
A4245 |  | I | Alcohol wipes per box | 0.00 | 0.00 | 0.00 | 0.00 | 0.00 | 0.00 | XXX
A4246 |  | I | Betadine/phisohex solution | 0.00 | 0.00 | 0.00 | 0.00 | 0.00 | 0.00 | XXX
A4247 |  | I | Betadine/iodine swabs/wipes | 0.00 | 0.00 | 0.00 | 0.00 | 0.00 | 0.00 | XXX
A4250 |  | N | Urine reagent strips/tablets | 0.00 | 0.00 | 0.00 | 0.00 | 0.00 | 0.00 | XXX
A4253 |  | P | Blood glucose/reagent strips | 0.00 | 0.00 | 0.00 | 0.00 | 0.00 | 0.00 | XXX
A4254 |  | X | Battery for glucose monitor | 0.00 | 0.00 | 0.00 | 0.00 | 0.00 | 0.00 | XXX
A4255 |  | X | Glucose monitor platforms | 0.00 | 0.00 | 0.00 | 0.00 | 0.00 | 0.00 | XXX
A4256 |  | P | Calibrator solution/chips | 0.00 | 0.00 | 0.00 | 0.00 | 0.00 | 0.00 | XXX
A4258 |  | P | Lancet device each | 0.00 | 0.00 | 0.00 | 0.00 | 0.00 | 0.00 | XXX
A4259 |  | P | Lancets per box | 0.00 | 0.00 | 0.00 | 0.00 | 0.00 | 0.00 | XXX
A4260 |  | N | Levonorgestrel implant | 0.00 | 0.00 | 0.00 | 0.00 | 0.00 | 0.00 | XXX
A4261 |  | N | Cervical cap contraceptive | 0.00 | 0.00 | 0.00 | 0.00 | 0.00 | 0.00 | XXX
A4262 |  | B | Temporary tear duct plug | 0.00 | 0.00 | 0.00 | 0.00 | 0.00 | 0.00 | XXX
A4263 |  | B | Permanent tear duct plug | 0.00 | 0.00 | 0.00 | 0.00 | 0.00 | 0.00 | XXX
A4265 |  | P | Paraffin | 0.00 | 0.00 | 0.00 | 0.00 | 0.00 | 0.00 | XXX
A4270 |  | B | Disposable endoscope sheath | 0.00 | 0.00 | 0.00 | 0.00 | 0.00 | 0.00 | XXX
A4280 |  | X | Brst prsths adhsv attchmnt | 0.00 | 0.00 | 0.00 | 0.00 | 0.00 | 0.00 | XXX
A4290 |  | X | Sacral nerve stim test lead | 0.00 | 0.00 | 0.00 | 0.00 | 0.00 | 0.00 | XXX
A4300 |  | B | Cath impl vasc access portal | 0.00 | 0.00 | 0.00 | 0.00 | 0.00 | 0.00 | XXX
A4301 |  | P | Implantable access syst perc | 0.00 | 0.00 | 0.00 | 0.00 | 0.00 | 0.00 | XXX
A4305 |  | P | Drug delivery system >=50 ML | 0.00 | 0.00 | 0.00 | 0.00 | 0.00 | 0.00 | XXX
A4306 |  | P | Drug delivery system <=5 ML | 0.00 | 0.00 | 0.00 | 0.00 | 0.00 | 0.00 | XXX
A4310 |  | P | Insert tray w/o bag/cath | 0.00 | 0.00 | 0.00 | 0.00 | 0.00 | 0.00 | XXX
A4311 |  | P | Catheter w/o bag 2-way latex | 0.00 | 0.00 | 0.00 | 0.00 | 0.00 | 0.00 | XXX
A4312 |  | P | Cath w/o bag 2-way silicone | 0.00 | 0.00 | 0.00 | 0.00 | 0.00 | 0.00 | XXX
A4313 |  | P | Catheter w/bag 3-way | 0.00 | 0.00 | 0.00 | 0.00 | 0.00 | 0.00 | XXX
A4314 |  | P | Cath w/drainage 2-way latex | 0.00 | 0.00 | 0.00 | 0.00 | 0.00 | 0.00 | XXX
A4315 |  | P | Cath w/drainage 2-way silcne | 0.00 | 0.00 | 0.00 | 0.00 | 0.00 | 0.00 | XXX
A4316 |  | P | Cath w/drainage 3-way | 0.00 | 0.00 | 0.00 | 0.00 | 0.00 | 0.00 | XXX
A4319 |  | X | Sterile H2O irrigation solut | 0.00 | 0.00 | 0.00 | 0.00 | 0.00 | 0.00 | XXX
A4320 |  | P | Irrigation tray | 0.00 | 0.00 | 0.00 | 0.00 | 0.00 | 0.00 | XXX
A4321 |  | X | Cath therapeutic irrig agent | 0.00 | 0.00 | 0.00 | 0.00 | 0.00 | 0.00 | XXX
A4322 |  | P | Irrigation syringe | 0.00 | 0.00 | 0.00 | 0.00 | 0.00 | 0.00 | XXX
A4323 |  | P | Saline irrigation solution | 0.00 | 0.00 | 0.00 | 0.00 | 0.00 | 0.00 | XXX
A4324 |  | X | Male ext cath w/adh coating | 0.00 | 0.00 | 0.00 | 0.00 | 0.00 | 0.00 | XXX
A4325 |  | X | Male ext cath w/adh strip | 0.00 | 0.00 | 0.00 | 0.00 | 0.00 | 0.00 | XXX
A4326 |  | P | Male external catheter | 0.00 | 0.00 | 0.00 | 0.00 | 0.00 | 0.00 | XXX
A4327 |  | P | Fem urinary collect dev cup | 0.00 | 0.00 | 0.00 | 0.00 | 0.00 | 0.00 | XXX
A4328 |  | P | Fem urinary collect pouch | 0.00 | 0.00 | 0.00 | 0.00 | 0.00 | 0.00 | XXX
A4329 |  | P | External catheter start set | 0.00 | 0.00 | 0.00 | 0.00 | 0.00 | 0.00 | XXX
A4330 |  | P | Stool collection pouch | 0.00 | 0.00 | 0.00 | 0.00 | 0.00 | 0.00 | XXX
A4331 |  | X | Extension drainage tubing | 0.00 | 0.00 | 0.00 | 0.00 | 0.00 | 0.00 | XXX
A4332 |  | X | Lubricant for cath insertion | 0.00 | 0.00 | 0.00 | 0.00 | 0.00 | 0.00 | XXX
A4333 |  | X | Urinary cath anchor device | 0.00 | 0.00 | 0.00 | 0.00 | 0.00 | 0.00 | XXX
A4334 |  | X | Urinary cath leg strap | 0.00 | 0.00 | 0.00 | 0.00 | 0.00 | 0.00 | XXX
A4335 |  | P | Incontinence supply | 0.00 | 0.00 | 0.00 | 0.00 | 0.00 | 0.00 | XXX
A4338 |  | P | Indwelling catheter latex | 0.00 | 0.00 | 0.00 | 0.00 | 0.00 | 0.00 | XXX
A4340 |  | P | Indwelling catheter special | 0.00 | 0.00 | 0.00 | 0.00 | 0.00 | 0.00 | XXX
A4344 |  | P | Cath indw foley 2 way silicn | 0.00 | 0.00 | 0.00 | 0.00 | 0.00 | 0.00 | XXX
A4346 |  | P | Cath indw foley 3 way | 0.00 | 0.00 | 0.00 | 0.00 | 0.00 | 0.00 | XXX
A4347 |  | P | Male external catheter | 0.00 | 0.00 | 0.00 | 0.00 | 0.00 | 0.00 | XXX
A4348 |  | X | Male ext cath extended wear | 0.00 | 0.00 | 0.00 | 0.00 | 0.00 | 0.00 | XXX
A4351 |  | P | Straight tip urine catheter | 0.00 | 0.00 | 0.00 | 0.00 | 0.00 | 0.00 | XXX
A4352 |  | P | Coude tip urinary catheter | 0.00 | 0.00 | 0.00 | 0.00 | 0.00 | 0.00 | XXX
A4353 |  | X | Intermittent urinary cath | 0.00 | 0.00 | 0.00 | 0.00 | 0.00 | 0.00 | XXX
A4354 |  | P | Cath insertion tray w/bag | 0.00 | 0.00 | 0.00 | 0.00 | 0.00 | 0.00 | XXX
A4355 |  | P | Bladder irrigation tubing | 0.00 | 0.00 | 0.00 | 0.00 | 0.00 | 0.00 | XXX
A4356 |  | P | Ext ureth clmp or compr dvc | 0.00 | 0.00 | 0.00 | 0.00 | 0.00 | 0.00 | XXX
A4357 |  | P | Bedside drainage bag | 0.00 | 0.00 | 0.00 | 0.00 | 0.00 | 0.00 | XXX
A4358 |  | P | Urinary leg bag | 0.00 | 0.00 | 0.00 | 0.00 | 0.00 | 0.00 | XXX
A4359 |  | P | Urinary suspensory w/o leg b | 0.00 | 0.00 | 0.00 | 0.00 | 0.00 | 0.00 | XXX
A4361 |  | P | Ostomy face plate | 0.00 | 0.00 | 0.00 | 0.00 | 0.00 | 0.00 | XXX
A4362 |  | P | Solid skin barrier | 0.00 | 0.00 | 0.00 | 0.00 | 0.00 | 0.00 | XXX
A4364 |  | P | Liq adhes for facial prosth | 0.00 | 0.00 | 0.00 | 0.00 | 0.00 | 0.00 | XXX
A4365 |  | X | Adhesive remover wipes | 0.00 | 0.00 | 0.00 | 0.00 | 0.00 | 0.00 | XXX
A4367 |  | P | Ostomy belt | 0.00 | 0.00 | 0.00 | 0.00 | 0.00 | 0.00 | XXX
A4368 |  | X | Ostomy filter | 0.00 | 0.00 | 0.00 | 0.00 | 0.00 | 0.00 | XXX
A4369 |  | X | Skin barrier liquid per oz | 0.00 | 0.00 | 0.00 | 0.00 | 0.00 | 0.00 | XXX
A4370 |  | X | Skin barrier paste per oz | 0.00 | 0.00 | 0.00 | 0.00 | 0.00 | 0.00 | XXX
A4371 |  | X | Skin barrier powder per oz | 0.00 | 0.00 | 0.00 | 0.00 | 0.00 | 0.00 | XXX
A4372 |  | X | Skin barrier solid 4x4 equiv | 0.00 | 0.00 | 0.00 | 0.00 | 0.00 | 0.00 | XXX
A4373 |  | X | Skin barrier with flange | 0.00 | 0.00 | 0.00 | 0.00 | 0.00 | 0.00 | XXX
A4374 |  | X | Skin barrier extended wear | 0.00 | 0.00 | 0.00 | 0.00 | 0.00 | 0.00 | XXX
A4375 |  | X | Drainable plastic pch w fcpl | 0.00 | 0.00 | 0.00 | 0.00 | 0.00 | 0.00 | XXX
A4376 |  | X | Drainable rubber pch w fcplt | 0.00 | 0.00 | 0.00 | 0.00 | 0.00 | 0.00 | XXX
A4377 |  | X | Drainable plstic pch w/o fp | 0.00 | 0.00 | 0.00 | 0.00 | 0.00 | 0.00 | XXX
A4378 |  | X | Drainable rubber pch w/o fp | 0.00 | 0.00 | 0.00 | 0.00 | 0.00 | 0.00 | XXX
A4379 |  | X | Urinary plastic pouch w fcpl | 0.00 | 0.00 | 0.00 | 0.00 | 0.00 | 0.00 | XXX
A4380 |  | X | Urinary rubber pouch w fcplt | 0.00 | 0.00 | 0.00 | 0.00 | 0.00 | 0.00 | XXX
A4381 |  | X | Urinary plastic pouch w/o fp | 0.00 | 0.00 | 0.00 | 0.00 | 0.00 | 0.00 | XXX
A4382 |  | X | Urinary hvy plstc pch w/o fp | 0.00 | 0.00 | 0.00 | 0.00 | 0.00 | 0.00 | XXX
A4383 |  | X | Urinary rubber pouch w/o fp | 0.00 | 0.00 | 0.00 | 0.00 | 0.00 | 0.00 | XXX
A4384 |  | X | Ostomy faceplt/silicone ring | 0.00 | 0.00 | 0.00 | 0.00 | 0.00 | 0.00 | XXX
A4385 |  | X | Ost skn barrier sld ext wear | 0.00 | 0.00 | 0.00 | 0.00 | 0.00 | 0.00 | XXX
A4386 |  | X | Ost skn barrier w flng ex wr | 0.00 | 0.00 | 0.00 | 0.00 | 0.00 | 0.00 | XXX
A4387 |  | X | Ost clsd pouch w att st barr | 0.00 | 0.00 | 0.00 | 0.00 | 0.00 | 0.00 | XXX
A4388 |  | X | Drainable pch w ex wear barr | 0.00 | 0.00 | 0.00 | 0.00 | 0.00 | 0.00 | XXX
A4389 |  | X | Drainable pch w st wear barr | 0.00 | 0.00 | 0.00 | 0.00 | 0.00 | 0.00 | XXX
A4390 |  | X | Drainable pch ex wear convex | 0.00 | 0.00 | 0.00 | 0.00 | 0.00 | 0.00 | XXX
A4391 |  | X | Urinary pouch w ex wear barr | 0.00 | 0.00 | 0.00 | 0.00 | 0.00 | 0.00 | XXX
A4392 |  | X | Urinary pouch w st wear barr | 0.00 | 0.00 | 0.00 | 0.00 | 0.00 | 0.00 | XXX
A4393 |  | X | Urine pch w ex wear bar conv | 0.00 | 0.00 | 0.00 | 0.00 | 0.00 | 0.00 | XXX
A4394 |  | X | Ostomy pouch liq deodorant | 0.00 | 0.00 | 0.00 | 0.00 | 0.00 | 0.00 | XXX
A4395 |  | X | Ostomy pouch solid deodorant | 0.00 | 0.00 | 0.00 | 0.00 | 0.00 | 0.00 | XXX
A4396 |  | X | Peristomal hernia supprt blt | 0.00 | 0.00 | 0.00 | 0.00 | 0.00 | 0.00 | XXX
A4397 |  | P | Irrigation supply sleeve | 0.00 | 0.00 | 0.00 | 0.00 | 0.00 | 0.00 | XXX
A4398 |  | P | Ostomy irrigation bag | 0.00 | 0.00 | 0.00 | 0.00 | 0.00 | 0.00 | XXX
A4399 |  | P | Ostomy irrig cone/cath w brs | 0.00 | 0.00 | 0.00 | 0.00 | 0.00 | 0.00 | XXX
A4400 |  | P | Ostomy irrigation set | 0.00 | 0.00 | 0.00 | 0.00 | 0.00 | 0.00 | XXX
A4402 |  | P | Lubricant per ounce | 0.00 | 0.00 | 0.00 | 0.00 | 0.00 | 0.00 | XXX
A4404 |  | P | Ostomy ring each | 0.00 | 0.00 | 0.00 | 0.00 | 0.00 | 0.00 | XXX
A4421 |  | P | Ostomy supply misc | 0.00 | 0.00 | 0.00 | 0.00 | 0.00 | 0.00 | XXX
A4454 |  | P | Tape all types all sizes | 0.00 | 0.00 | 0.00 | 0.00 | 0.00 | 0.00 | XXX
A4455 |  | P | Adhesive remover per ounce | 0.00 | 0.00 | 0.00 | 0.00 | 0.00 | 0.00 | XXX
A4460 |  | P | Elastic compression bandage | 0.00 | 0.00 | 0.00 | 0.00 | 0.00 | 0.00 | XXX
A4462 |  | X | Abdmnl drssng holder/binder | 0.00 | 0.00 | 0.00 | 0.00 | 0.00 | 0.00 | XXX
A4464 |  | N | Joint support device/garment | 0.00 | 0.00 | 0.00 | 0.00 | 0.00 | 0.00 | XXX
A4465 |  | P | Non-elastic extremity binder | 0.00 | 0.00 | 0.00 | 0.00 | 0.00 | 0.00 | XXX
A4470 |  | P | Gravlee jet washer | 0.00 | 0.00 | 0.00 | 0.00 | 0.00 | 0.00 | XXX
A4480 |  | P | Vabra aspirator | 0.00 | 0.00 | 0.00 | 0.00 | 0.00 | 0.00 | XXX
A4481 |  | X | Tracheostoma filter | 0.00 | 0.00 | 0.00 | 0.00 | 0.00 | 0.00 | XXX
A4483 |  | X | Moisture exchanger | 0.00 | 0.00 | 0.00 | 0.00 | 0.00 | 0.00 | XXX
A4490 |  | N | Above knee surgical stocking | 0.00 | 0.00 | 0.00 | 0.00 | 0.00 | 0.00 | XXX
A4495 |  | N | Thigh length surg stocking | 0.00 | 0.00 | 0.00 | 0.00 | 0.00 | 0.00 | XXX
A4500 |  | N | Below knee surgical stocking | 0.00 | 0.00 | 0.00 | 0.00 | 0.00 | 0.00 | XXX
A4510 |  | N | Full length surg stocking | 0.00 | 0.00 | 0.00 | 0.00 | 0.00 | 0.00 | XXX
A4550 |  | B | Surgical trays | 0.00 | 0.00 | 0.00 | 0.00 | 0.00 | 0.00 | XXX
A4554 |  | N | Disposable underpads | 0.00 | 0.00 | 0.00 | 0.00 | 0.00 | 0.00 | XXX
A4556 |  | P | Electrodes, pair | 0.00 | 0.00 | 0.00 | 0.00 | 0.00 | 0.00 | XXX
A4557 |  | P | Lead wires, pair | 0.00 | 0.00 | 0.00 | 0.00 | 0.00 | 0.00 | XXX
A4558 |  | P | Conductive paste or gel | 0.00 | 0.00 | 0.00 | 0.00 | 0.00 | 0.00 | XXX
A4561 |  | X | Pessary rubber, any type | 0.00 | 0.00 | 0.00 | 0.00 | 0.00 | 0.00 | XXX
A4562 |  | X | Pessary, non rubber,any type | 0.00 | 0.00 | 0.00 | 0.00 | 0.00 | 0.00 | XXX
A4565 |  | X | Slings | 0.00 | 0.00 | 0.00 | 0.00 | 0.00 | 0.00 | XXX
A4570 |  | I | Splint | 0.00 | 0.00 | 0.00 | 0.00 | 0.00 | 0.00 | XXX
A4572 |  | X | Rib belt | 0.00 | 0.00 | 0.00 | 0.00 | 0.00 | 0.00 | XXX
A4575 |  | N | Hyperbaric o2 chamber disps | 0.00 | 0.00 | 0.00 | 0.00 | 0.00 | 0.00 | XXX
A4580 |  | I | Cast supplies (plaster) | 0.00 | 0.00 | 0.00 | 0.00 | 0.00 | 0.00 | XXX
A4590 |  | I | Special casting material | 0.00 | 0.00 | 0.00 | 0.00 | 0.00 | 0.00 | XXX
A4595 |  | X | TENS suppl 2 lead per month | 0.00 | 0.00 | 0.00 | 0.00 | 0.00 | 0.00 | XXX
A4608 |  | X | Transtracheal oxygen cath | 0.00 | 0.00 | 0.00 | 0.00 | 0.00 | 0.00 | XXX
A4611 |  | X | Heavy duty battery | 0.00 | 0.00 | 0.00 | 0.00 | 0.00 | 0.00 | XXX
A4612 |  | X | Battery cables | 0.00 | 0.00 | 0.00 | 0.00 | 0.00 | 0.00 | XXX
A4613 |  | X | Battery charger | 0.00 | 0.00 | 0.00 | 0.00 | 0.00 | 0.00 | XXX
A4614 |  | X | Hand-held PEFR meter | 0.00 | 0.00 | 0.00 | 0.00 | 0.00 | 0.00 | XXX
A4615 |  | X | Cannula nasal | 0.00 | 0.00 | 0.00 | 0.00 | 0.00 | 0.00 | XXX
A4616 |  | X | Tubing (oxygen) per foot | 0.00 | 0.00 | 0.00 | 0.00 | 0.00 | 0.00 | XXX
A4617 |  | X | Mouth piece | 0.00 | 0.00 | 0.00 | 0.00 | 0.00 | 0.00 | XXX
A4618 |  | X | Breathing circuits | 0.00 | 0.00 | 0.00 | 0.00 | 0.00 | 0.00 | XXX
A4619 |  | X | Face tent | 0.00 | 0.00 | 0.00 | 0.00 | 0.00 | 0.00 | XXX
A4620 |  | X | Variable concentration mask | 0.00 | 0.00 | 0.00 | 0.00 | 0.00 | 0.00 | XXX
A4621 |  | X | Tracheotomy mask or collar | 0.00 | 0.00 | 0.00 | 0.00 | 0.00 | 0.00 | XXX
A4622 |  | X | Tracheostomy or larngectomy | 0.00 | 0.00 | 0.00 | 0.00 | 0.00 | 0.00 | XXX
A4623 |  | X | Tracheostomy inner cannula | 0.00 | 0.00 | 0.00 | 0.00 | 0.00 | 0.00 | XXX
A4624 |  | X | Tracheal suction tube | 0.00 | 0.00 | 0.00 | 0.00 | 0.00 | 0.00 | XXX
A4625 |  | X | Trach care kit for new trach | 0.00 | 0.00 | 0.00 | 0.00 | 0.00 | 0.00 | XXX
A4626 |  | X | Tracheostomy cleaning brush | 0.00 | 0.00 | 0.00 | 0.00 | 0.00 | 0.00 | XXX
A4627 |  | N | Spacer bag/reservoir | 0.00 | 0.00 | 0.00 | 0.00 | 0.00 | 0.00 | XXX
A4628 |  | X | Oropharyngeal suction cath | 0.00 | 0.00 | 0.00 | 0.00 | 0.00 | 0.00 | XXX
A4629 |  | X | Tracheostomy care kit | 0.00 | 0.00 | 0.00 | 0.00 | 0.00 | 0.00 | XXX
A4630 |  | X | Repl bat t.e.n.s. own by pt | 0.00 | 0.00 | 0.00 | 0.00 | 0.00 | 0.00 | XXX
A4631 |  | X | Wheelchair battery | 0.00 | 0.00 | 0.00 | 0.00 | 0.00 | 0.00 | XXX
A4635 |  | X | Underarm crutch pad | 0.00 | 0.00 | 0.00 | 0.00 | 0.00 | 0.00 | XXX
A4636 |  | X | Handgrip for cane etc | 0.00 | 0.00 | 0.00 | 0.00 | 0.00 | 0.00 | XXX
A4637 |  | X | Repl tip cane/crutch/walker | 0.00 | 0.00 | 0.00 | 0.00 | 0.00 | 0.00 | XXX
A4640 |  | X | Alternating pressure pad | 0.00 | 0.00 | 0.00 | 0.00 | 0.00 | 0.00 | XXX
A4641 |  | E | Diagnostic imaging agent | 0.00 | 0.00 | 0.00 | 0.00 | 0.00 | 0.00 | XXX
A4642 |  | E | Satumomab pendetide per dose | 0.00 | 0.00 | 0.00 | 0.00 | 0.00 | 0.00 | XXX
A4643 |  | E | High dose contrast MRI | 0.00 | 0.00 | 0.00 | 0.00 | 0.00 | 0.00 | XXX
A4644 |  | E | Contrast 100-199 MGs iodine | 0.00 | 0.00 | 0.00 | 0.00 | 0.00 | 0.00 | XXX
A4645 |  | E | Contrast 200-299 MGs iodine | 0.00 | 0.00 | 0.00 | 0.00 | 0.00 | 0.00 | XXX
A4646 |  | E | Contrast 300-399 MGs iodine | 0.00 | 0.00 | 0.00 | 0.00 | 0.00 | 0.00 | XXX
A4647 |  | B | Supp- paramagnetic contr mat | 0.00 | 0.00 | 0.00 | 0.00 | 0.00 | 0.00 | XXX
A4649 |  | P | Surgical supplies | 0.00 | 0.00 | 0.00 | 0.00 | 0.00 | 0.00 | XXX
A4650 |  | X | Supp esrd centrifuge | 0.00 | 0.00 | 0.00 | 0.00 | 0.00 | 0.00 | XXX
A4655 |  | X | Esrd syringe/needle | 0.00 | 0.00 | 0.00 | 0.00 | 0.00 | 0.00 | XXX
A4660 |  | X | Esrd blood pressure device | 0.00 | 0.00 | 0.00 | 0.00 | 0.00 | 0.00 | XXX
A4663 |  | X | Esrd blood pressure cuff | 0.00 | 0.00 | 0.00 | 0.00 | 0.00 | 0.00 | XXX
A4670 |  | N | Auto blood pressure monitor | 0.00 | 0.00 | 0.00 | 0.00 | 0.00 | 0.00 | XXX
A4680 |  | X | Activated carbon filters | 0.00 | 0.00 | 0.00 | 0.00 | 0.00 | 0.00 | XXX
A4690 |  | X | Dialyzers | 0.00 | 0.00 | 0.00 | 0.00 | 0.00 | 0.00 | XXX
A4700 |  | X | Standard dialysate solution | 0.00 | 0.00 | 0.00 | 0.00 | 0.00 | 0.00 | XXX
A4705 |  | X | Bicarb dialysate solution | 0.00 | 0.00 | 0.00 | 0.00 | 0.00 | 0.00 | XXX
A4712 |  | X | Sterile water | 0.00 | 0.00 | 0.00 | 0.00 | 0.00 | 0.00 | XXX
A4714 |  | X | Treated water for dialysis | 0.00 | 0.00 | 0.00 | 0.00 | 0.00 | 0.00 | XXX
A4730 |  | X | Fistula cannulation set dial | 0.00 | 0.00 | 0.00 | 0.00 | 0.00 | 0.00 | XXX
A4735 |  | X | Local/topical anesthetics | 0.00 | 0.00 | 0.00 | 0.00 | 0.00 | 0.00 | XXX
A4740 |  | X | Esrd shunt accessory | 0.00 | 0.00 | 0.00 | 0.00 | 0.00 | 0.00 | XXX
A4750 |  | X | Arterial or venous tubing | 0.00 | 0.00 | 0.00 | 0.00 | 0.00 | 0.00 | XXX
A4755 |  | X | Arterial and venous tubing | 0.00 | 0.00 | 0.00 | 0.00 | 0.00 | 0.00 | XXX
A4760 |  | X | Standard testing solution | 0.00 | 0.00 | 0.00 | 0.00 | 0.00 | 0.00 | XXX
A4765 |  | X | Dialysate concentrate | 0.00 | 0.00 | 0.00 | 0.00 | 0.00 | 0.00 | XXX
A4770 |  | X | Blood testing supplies | 0.00 | 0.00 | 0.00 | 0.00 | 0.00 | 0.00 | XXX
A4771 |  | X | Blood clotting time tube | 0.00 | 0.00 | 0.00 | 0.00 | 0.00 | 0.00 | XXX
A4772 |  | X | Dextrostick/glucose strips | 0.00 | 0.00 | 0.00 | 0.00 | 0.00 | 0.00 | XXX
A4773 |  | X | Hemostix | 0.00 | 0.00 | 0.00 | 0.00 | 0.00 | 0.00 | XXX
A4774 |  | X | Ammonia test paper | 0.00 | 0.00 | 0.00 | 0.00 | 0.00 | 0.00 | XXX
A4780 |  | X | Esrd sterilizing agent | 0.00 | 0.00 | 0.00 | 0.00 | 0.00 | 0.00 | XXX
A4790 |  | X | Esrd cleansing agents | 0.00 | 0.00 | 0.00 | 0.00 | 0.00 | 0.00 | XXX
A4800 |  | X | Heparin/antidote dialysis | 0.00 | 0.00 | 0.00 | 0.00 | 0.00 | 0.00 | XXX
A4820 |  | X | Supplies hemodialysis kit | 0.00 | 0.00 | 0.00 | 0.00 | 0.00 | 0.00 | XXX
A4850 |  | X | Rubber tipped hemostats | 0.00 | 0.00 | 0.00 | 0.00 | 0.00 | 0.00 | XXX
A4860 |  | X | Disposable catheter caps | 0.00 | 0.00 | 0.00 | 0.00 | 0.00 | 0.00 | XXX
A4870 |  | X | Plumbing/electrical work | 0.00 | 0.00 | 0.00 | 0.00 | 0.00 | 0.00 | XXX
A4880 |  | X | Water storage tanks | 0.00 | 0.00 | 0.00 | 0.00 | 0.00 | 0.00 | XXX
A4890 |  | R | Contracts/repair/maintenance | 0.00 | 0.00 | 0.00 | 0.00 | 0.00 | 0.00 | XXX
A4900 |  | X | Capd supply kit | 0.00 | 0.00 | 0.00 | 0.00 | 0.00 | 0.00 | XXX
A4901 |  | X | Ccpd supply kit | 0.00 | 0.00 | 0.00 | 0.00 | 0.00 | 0.00 | XXX
A4905 |  | X | Ipd supply kit | 0.00 | 0.00 | 0.00 | 0.00 | 0.00 | 0.00 | XXX
A4910 |  | X | Esrd nonmedical supplies | 0.00 | 0.00 | 0.00 | 0.00 | 0.00 | 0.00 | XXX
A4912 |  | X | Gomco drain bottle | 0.00 | 0.00 | 0.00 | 0.00 | 0.00 | 0.00 | XXX
A4913 |  | X | Esrd supply | 0.00 | 0.00 | 0.00 | 0.00 | 0.00 | 0.00 | XXX
A4914 |  | X | Preparation kit | 0.00 | 0.00 | 0.00 | 0.00 | 0.00 | 0.00 | XXX
A4918 |  | X | Venous pressure clamp | 0.00 | 0.00 | 0.00 | 0.00 | 0.00 | 0.00 | XXX
A4919 |  | X | Supp dialysis dialyzer holde | 0.00 | 0.00 | 0.00 | 0.00 | 0.00 | 0.00 | XXX
A4920 |  | X | Harvard pressure clamp | 0.00 | 0.00 | 0.00 | 0.00 | 0.00 | 0.00 | XXX
A4921 |  | X | Measuring cylinder | 0.00 | 0.00 | 0.00 | 0.00 | 0.00 | 0.00 | XXX
A4927 |  | X | Gloves | 0.00 | 0.00 | 0.00 | 0.00 | 0.00 | 0.00 | XXX
A5051 |  | P | Pouch clsd w barr attached | 0.00 | 0.00 | 0.00 | 0.00 | 0.00 | 0.00 | XXX
A5052 |  | P | Clsd ostomy pouch w/o barr | 0.00 | 0.00 | 0.00 | 0.00 | 0.00 | 0.00 | XXX
A5053 |  | P | Clsd ostomy pouch faceplate | 0.00 | 0.00 | 0.00 | 0.00 | 0.00 | 0.00 | XXX
A5054 |  | P | Clsd ostomy pouch w/flange | 0.00 | 0.00 | 0.00 | 0.00 | 0.00 | 0.00 | XXX
A5055 |  | P | Stoma cap | 0.00 | 0.00 | 0.00 | 0.00 | 0.00 | 0.00 | XXX
A5061 |  | P | Pouch drainable w barrier at | 0.00 | 0.00 | 0.00 | 0.00 | 0.00 | 0.00 | XXX
A5062 |  | P | Drnble ostomy pouch w/o barr | 0.00 | 0.00 | 0.00 | 0.00 | 0.00 | 0.00 | XXX
A5063 |  | P | Drain ostomy pouch w/flange | 0.00 | 0.00 | 0.00 | 0.00 | 0.00 | 0.00 | XXX
A5064 |  | I | Drain ostomy pouch w/fceplte | 0.00 | 0.00 | 0.00 | 0.00 | 0.00 | 0.00 | XXX
A5071 |  | P | Urinary pouch w/barrier | 0.00 | 0.00 | 0.00 | 0.00 | 0.00 | 0.00 | XXX
A5072 |  | P | Urinary pouch w/o barrier | 0.00 | 0.00 | 0.00 | 0.00 | 0.00 | 0.00 | XXX
A5073 |  | P | Urinary pouch on barr w/flng | 0.00 | 0.00 | 0.00 | 0.00 | 0.00 | 0.00 | XXX
A5074 |  | I | Urinary pouch w/faceplate | 0.00 | 0.00 | 0.00 | 0.00 | 0.00 | 0.00 | XXX
A5075 |  | I | Urinary pouch on faceplate | 0.00 | 0.00 | 0.00 | 0.00 | 0.00 | 0.00 | XXX
A5081 |  | P | Continent stoma plug | 0.00 | 0.00 | 0.00 | 0.00 | 0.00 | 0.00 | XXX
A5082 |  | P | Continent stoma catheter | 0.00 | 0.00 | 0.00 | 0.00 | 0.00 | 0.00 | XXX
A5093 |  | P | Ostomy accessory convex inse | 0.00 | 0.00 | 0.00 | 0.00 | 0.00 | 0.00 | XXX
A5102 |  | P | Bedside drain btl w/wo tube | 0.00 | 0.00 | 0.00 | 0.00 | 0.00 | 0.00 | XXX
A5105 |  | P | Urinary suspensory | 0.00 | 0.00 | 0.00 | 0.00 | 0.00 | 0.00 | XXX
A5112 |  | P | Urinary leg bag | 0.00 | 0.00 | 0.00 | 0.00 | 0.00 | 0.00 | XXX
A5113 |  | P | Latex leg strap | 0.00 | 0.00 | 0.00 | 0.00 | 0.00 | 0.00 | XXX
A5114 |  | P | Foam/fabric leg strap | 0.00 | 0.00 | 0.00 | 0.00 | 0.00 | 0.00 | XXX
A5119 |  | P | Skin barrier wipes box pr 50 | 0.00 | 0.00 | 0.00 | 0.00 | 0.00 | 0.00 | XXX
A5121 |  | P | Solid skin barrier 6x6 | 0.00 | 0.00 | 0.00 | 0.00 | 0.00 | 0.00 | XXX
A5122 |  | P | Solid skin barrier 8x8 | 0.00 | 0.00 | 0.00 | 0.00 | 0.00 | 0.00 | XXX
A5123 |  | P | Skin barrier with flange | 0.00 | 0.00 | 0.00 | 0.00 | 0.00 | 0.00 | XXX
A5126 |  | P | Disk/foam pad +or- adhesive | 0.00 | 0.00 | 0.00 | 0.00 | 0.00 | 0.00 | XXX
A5131 |  | P | Appliance cleaner | 0.00 | 0.00 | 0.00 | 0.00 | 0.00 | 0.00 | XXX
A5200 |  | X | Percutaneous catheter anchor | 0.00 | 0.00 | 0.00 | 0.00 | 0.00 | 0.00 | XXX
A5500 |  | X | Diab shoe for density insert | 0.00 | 0.00 | 0.00 | 0.00 | 0.00 | 0.00 | XXX
A5501 |  | X | Diabetic custom molded shoe | 0.00 | 0.00 | 0.00 | 0.00 | 0.00 | 0.00 | XXX
A5502 |  | X | Diabetic shoe density insert | 0.00 | 0.00 | 0.00 | 0.00 | 0.00 | 0.00 | XXX
A5503 |  | X | Diabetic shoe w/roller/rockr | 0.00 | 0.00 | 0.00 | 0.00 | 0.00 | 0.00 | XXX
A5504 |  | X | Diabetic shoe with wedge | 0.00 | 0.00 | 0.00 | 0.00 | 0.00 | 0.00 | XXX
A5505 |  | X | Diab shoe w/metatarsal bar | 0.00 | 0.00 | 0.00 | 0.00 | 0.00 | 0.00 | XXX
A5506 |  | X | Diabetic shoe w/off set heel | 0.00 | 0.00 | 0.00 | 0.00 | 0.00 | 0.00 | XXX
A5507 |  | X | Modification diabetic shoe | 0.00 | 0.00 | 0.00 | 0.00 | 0.00 | 0.00 | XXX
A5508 |  | X | Diabetic deluxe shoe | 0.00 | 0.00 | 0.00 | 0.00 | 0.00 | 0.00 | XXX
A6020 |  | P | Collagen wound dressing | 0.00 | 0.00 | 0.00 | 0.00 | 0.00 | 0.00 | XXX
A6021 |  | X | Collagen dressing <=16 sq in | 0.00 | 0.00 | 0.00 | 0.00 | 0.00 | 0.00 | XXX
A6022 |  | X | Collagen drsg>6<=48 sq in | 0.00 | 0.00 | 0.00 | 0.00 | 0.00 | 0.00 | XXX
A6023 |  | X | Collagen dressing >48 sq in | 0.00 | 0.00 | 0.00 | 0.00 | 0.00 | 0.00 | XXX
A6024 |  | X | Collagen dsg wound filler | 0.00 | 0.00 | 0.00 | 0.00 | 0.00 | 0.00 | XXX
A6025 |  | I | Silicone gel sheet, each | 0.00 | 0.00 | 0.00 | 0.00 | 0.00 | 0.00 | XXX
A6154 |  | P | Wound pouch each | 0.00 | 0.00 | 0.00 | 0.00 | 0.00 | 0.00 | XXX
A6196 |  | P | Alginate dressing <=16 sq in | 0.00 | 0.00 | 0.00 | 0.00 | 0.00 | 0.00 | XXX
A6197 |  | P | Alginate drsg >16 <=48 sq in | 0.00 | 0.00 | 0.00 | 0.00 | 0.00 | 0.00 | XXX
A6198 |  | P | alginate dressing > 48 sq in | 0.00 | 0.00 | 0.00 | 0.00 | 0.00 | 0.00 | XXX
A6199 |  | P | Alginate drsg wound filler | 0.00 | 0.00 | 0.00 | 0.00 | 0.00 | 0.00 | XXX
A6200 |  | X | Compos drsg <=16 no border | 0.00 | 0.00 | 0.00 | 0.00 | 0.00 | 0.00 | XXX
A6201 |  | X | Compos drsg >16<=48 no bdr | 0.00 | 0.00 | 0.00 | 0.00 | 0.00 | 0.00 | XXX
A6202 |  | X | Compos drsg >48 no border | 0.00 | 0.00 | 0.00 | 0.00 | 0.00 | 0.00 | XXX
A6203 |  | P | Composite drsg <= 16 sq in | 0.00 | 0.00 | 0.00 | 0.00 | 0.00 | 0.00 | XXX
A6204 |  | P | Composite drsg >16<=48 sq in | 0.00 | 0.00 | 0.00 | 0.00 | 0.00 | 0.00 | XXX
A6205 |  | P | Composite drsg > 48 sq in | 0.00 | 0.00 | 0.00 | 0.00 | 0.00 | 0.00 | XXX
A6206 |  | P | Contact layer <= 16 sq in | 0.00 | 0.00 | 0.00 | 0.00 | 0.00 | 0.00 | XXX
A6207 |  | P | Contact layer >16<= 48 sq in | 0.00 | 0.00 | 0.00 | 0.00 | 0.00 | 0.00 | XXX
A6208 |  | P | Contact layer > 48 sq in | 0.00 | 0.00 | 0.00 | 0.00 | 0.00 | 0.00 | XXX
A6209 |  | P | Foam drsg <=16 sq in w/o bdr | 0.00 | 0.00 | 0.00 | 0.00 | 0.00 | 0.00 | XXX
A6210 |  | P | Foam drg >16<=48 sq in w/o b | 0.00 | 0.00 | 0.00 | 0.00 | 0.00 | 0.00 | XXX
A6211 |  | P | Foam drg > 48 sq in w/o brdr | 0.00 | 0.00 | 0.00 | 0.00 | 0.00 | 0.00 | XXX
A6212 |  | P | Foam drg <=16 sq in w/border | 0.00 | 0.00 | 0.00 | 0.00 | 0.00 | 0.00 | XXX
A6213 |  | P | Foam drg >16<=48 sq in w/bdr | 0.00 | 0.00 | 0.00 | 0.00 | 0.00 | 0.00 | XXX
A6214 |  | P | Foam drg > 48 sq in w/border | 0.00 | 0.00 | 0.00 | 0.00 | 0.00 | 0.00 | XXX
A6215 |  | P | Foam dressing wound filler | 0.00 | 0.00 | 0.00 | 0.00 | 0.00 | 0.00 | XXX
A6216 |  | P | Non-sterile gauze<=16 sq in | 0.00 | 0.00 | 0.00 | 0.00 | 0.00 | 0.00 | XXX
A6217 |  | P | Non-sterile gauze>16<=48 sq | 0.00 | 0.00 | 0.00 | 0.00 | 0.00 | 0.00 | XXX
A6218 |  | P | Non-sterile gauze > 48 sq in | 0.00 | 0.00 | 0.00 | 0.00 | 0.00 | 0.00 | XXX
A6219 |  | P | Gauze <= 16 sq in w/border | 0.00 | 0.00 | 0.00 | 0.00 | 0.00 | 0.00 | XXX
A6220 |  | P | Gauze >16 <=48 sq in w/bordr | 0.00 | 0.00 | 0.00 | 0.00 | 0.00 | 0.00 | XXX
A6221 |  | P | Gauze > 48 sq in w/border | 0.00 | 0.00 | 0.00 | 0.00 | 0.00 | 0.00 | XXX
A6222 |  | P | Gauze <=16 in no w/sal w/o b | 0.00 | 0.00 | 0.00 | 0.00 | 0.00 | 0.00 | XXX
A6223 |  | P | Gauze >16<=48 no w/sal w/o b | 0.00 | 0.00 | 0.00 | 0.00 | 0.00 | 0.00 | XXX
A6224 |  | P | Gauze > 48 in no w/sal w/o b | 0.00 | 0.00 | 0.00 | 0.00 | 0.00 | 0.00 | XXX
A6228 |  | P | Gauze <= 16 sq in water/sal | 0.00 | 0.00 | 0.00 | 0.00 | 0.00 | 0.00 | XXX
A6229 |  | P | Gauze >16<=48 sq in watr/sal | 0.00 | 0.00 | 0.00 | 0.00 | 0.00 | 0.00 | XXX
A6230 |  | P | Gauze > 48 sq in water/salne | 0.00 | 0.00 | 0.00 | 0.00 | 0.00 | 0.00 | XXX
A6231 |  | X | Hydrogel dsg<=16 sq in | 0.00 | 0.00 | 0.00 | 0.00 | 0.00 | 0.00 | XXX
A6232 |  | X | Hydrogel dsg>16<=48 sq in | 0.00 | 0.00 | 0.00 | 0.00 | 0.00 | 0.00 | XXX
A6233 |  | X | Hydrogel dressing >48 sq in | 0.00 | 0.00 | 0.00 | 0.00 | 0.00 | 0.00 | XXX
A6234 |  | P | Hydrocolld drg <=16 w/o bdr | 0.00 | 0.00 | 0.00 | 0.00 | 0.00 | 0.00 | XXX
A6235 |  | P | Hydrocolld drg >16<=48 w/o b | 0.00 | 0.00 | 0.00 | 0.00 | 0.00 | 0.00 | XXX
A6236 |  | P | Hydrocolld drg > 48 in w/o b | 0.00 | 0.00 | 0.00 | 0.00 | 0.00 | 0.00 | XXX
A6237 |  | P | Hydrocolld drg <=16 in w/bdr | 0.00 | 0.00 | 0.00 | 0.00 | 0.00 | 0.00 | XXX
A6238 |  | P | Hydrocolld drg >16<=48 w/bdr | 0.00 | 0.00 | 0.00 | 0.00 | 0.00 | 0.00 | XXX
A6239 |  | P | Hydrocolld drg > 48 in w/bdr | 0.00 | 0.00 | 0.00 | 0.00 | 0.00 | 0.00 | XXX
A6240 |  | P | Hydrocolld drg filler paste | 0.00 | 0.00 | 0.00 | 0.00 | 0.00 | 0.00 | XXX
A6241 |  | P | Hydrocolloid drg filler dry | 0.00 | 0.00 | 0.00 | 0.00 | 0.00 | 0.00 | XXX
A6242 |  | P | Hydrogel drg <=16 in w/o bdr | 0.00 | 0.00 | 0.00 | 0.00 | 0.00 | 0.00 | XXX
A6243 |  | P | Hydrogel drg >16<=48 w/o bdr | 0.00 | 0.00 | 0.00 | 0.00 | 0.00 | 0.00 | XXX
A6244 |  | P | Hydrogel drg >48 in w/o bdr | 0.00 | 0.00 | 0.00 | 0.00 | 0.00 | 0.00 | XXX
A6245 |  | P | Hydrogel drg <= 16 in w/bdr | 0.00 | 0.00 | 0.00 | 0.00 | 0.00 | 0.00 | XXX
A6246 |  | P | Hydrogel drg >16<=48 in w/b | 0.00 | 0.00 | 0.00 | 0.00 | 0.00 | 0.00 | XXX
A6247 |  | P | Hydrogel drg > 48 sq in w/b | 0.00 | 0.00 | 0.00 | 0.00 | 0.00 | 0.00 | XXX
A6248 |  | P | Hydrogel drsg gel filler | 0.00 | 0.00 | 0.00 | 0.00 | 0.00 | 0.00 | XXX
A6250 |  | P | Skin seal protect moisturizr | 0.00 | 0.00 | 0.00 | 0.00 | 0.00 | 0.00 | XXX
A6251 |  | P | Absorpt drg <=16 sq in w/o b | 0.00 | 0.00 | 0.00 | 0.00 | 0.00 | 0.00 | XXX
A6252 |  | P | Absorpt drg >16 <=48 w/o bdr | 0.00 | 0.00 | 0.00 | 0.00 | 0.00 | 0.00 | XXX
A6253 |  | P | Absorpt drg > 48 sq in w/o b | 0.00 | 0.00 | 0.00 | 0.00 | 0.00 | 0.00 | XXX
A6254 |  | P | Absorpt drg <=16 sq in w/bdr | 0.00 | 0.00 | 0.00 | 0.00 | 0.00 | 0.00 | XXX
A6255 |  | P | Absorpt drg >16<=48 in w/bdr | 0.00 | 0.00 | 0.00 | 0.00 | 0.00 | 0.00 | XXX
A6256 |  | P | Absorpt drg > 48 sq in w/bdr | 0.00 | 0.00 | 0.00 | 0.00 | 0.00 | 0.00 | XXX
A6257 |  | P | Transparent film <= 16 sq in | 0.00 | 0.00 | 0.00 | 0.00 | 0.00 | 0.00 | XXX
A6258 |  | P | Transparent film >16<=48 in | 0.00 | 0.00 | 0.00 | 0.00 | 0.00 | 0.00 | XXX
A6259 |  | P | Transparent film > 48 sq in | 0.00 | 0.00 | 0.00 | 0.00 | 0.00 | 0.00 | XXX
A6260 |  | P | Wound cleanser any type/size | 0.00 | 0.00 | 0.00 | 0.00 | 0.00 | 0.00 | XXX
A6261 |  | P | Wound filler gel/paste /oz | 0.00 | 0.00 | 0.00 | 0.00 | 0.00 | 0.00 | XXX
A6262 |  | P | Wound filler dry form / gram | 0.00 | 0.00 | 0.00 | 0.00 | 0.00 | 0.00 | XXX
A6263 |  | P | Non-sterile elastic gauze/yd | 0.00 | 0.00 | 0.00 | 0.00 | 0.00 | 0.00 | XXX
A6264 |  | P | Non-sterile no elastic gauze | 0.00 | 0.00 | 0.00 | 0.00 | 0.00 | 0.00 | XXX
A6265 |  | P | Tape per 18 sq inches | 0.00 | 0.00 | 0.00 | 0.00 | 0.00 | 0.00 | XXX
A6266 |  | P | Impreg gauze no h20/sal/yard | 0.00 | 0.00 | 0.00 | 0.00 | 0.00 | 0.00 | XXX
A6402 |  | P | Sterile gauze <= 16 sq in | 0.00 | 0.00 | 0.00 | 0.00 | 0.00 | 0.00 | XXX
A6403 |  | P | Sterile gauze>16 <= 48 sq in | 0.00 | 0.00 | 0.00 | 0.00 | 0.00 | 0.00 | XXX
A6404 |  | P | Sterile gauze > 48 sq in | 0.00 | 0.00 | 0.00 | 0.00 | 0.00 | 0.00 | XXX
A6405 |  | P | Sterile elastic gauze /yd | 0.00 | 0.00 | 0.00 | 0.00 | 0.00 | 0.00 | XXX
A6406 |  | P | Sterile non-elastic gauze/yd | 0.00 | 0.00 | 0.00 | 0.00 | 0.00 | 0.00 | XXX
A7000 |  | X | Disposable canister for pump | 0.00 | 0.00 | 0.00 | 0.00 | 0.00 | 0.00 | XXX
A7001 |  | X | Nondisposable pump canister | 0.00 | 0.00 | 0.00 | 0.00 | 0.00 | 0.00 | XXX
A7002 |  | X | Tubing used w suction pump | 0.00 | 0.00 | 0.00 | 0.00 | 0.00 | 0.00 | XXX
A7003 |  | X | Nebulizer administration set | 0.00 | 0.00 | 0.00 | 0.00 | 0.00 | 0.00 | XXX
A7004 |  | X | Disposable nebulizer sml vol | 0.00 | 0.00 | 0.00 | 0.00 | 0.00 | 0.00 | XXX
A7005 |  | X | Nondisposable nebulizer set | 0.00 | 0.00 | 0.00 | 0.00 | 0.00 | 0.00 | XXX
A7006 |  | X | Filtered nebulizer admin set | 0.00 | 0.00 | 0.00 | 0.00 | 0.00 | 0.00 | XXX
A7007 |  | X | Lg vol nebulizer disposable | 0.00 | 0.00 | 0.00 | 0.00 | 0.00 | 0.00 | XXX
A7008 |  | X | Disposable nebulizer prefill | 0.00 | 0.00 | 0.00 | 0.00 | 0.00 | 0.00 | XXX
A7009 |  | X | Nebulizer reservoir bottle | 0.00 | 0.00 | 0.00 | 0.00 | 0.00 | 0.00 | XXX
A7010 |  | X | Disposable corrugated tubing | 0.00 | 0.00 | 0.00 | 0.00 | 0.00 | 0.00 | XXX
A7011 |  | X | Nondispos corrugated tubing | 0.00 | 0.00 | 0.00 | 0.00 | 0.00 | 0.00 | XXX
A7012 |  | X | Nebulizer water collec devic | 0.00 | 0.00 | 0.00 | 0.00 | 0.00 | 0.00 | XXX
A7013 |  | X | Disposable compressor filter | 0.00 | 0.00 | 0.00 | 0.00 | 0.00 | 0.00 | XXX
A7014 |  | X | Compressor nondispos filter | 0.00 | 0.00 | 0.00 | 0.00 | 0.00 | 0.00 | XXX
A7015 |  | X | Aerosol mask used w nebulize | 0.00 | 0.00 | 0.00 | 0.00 | 0.00 | 0.00 | XXX
A7016 |  | X | Nebulizer dome & mouthpiece | 0.00 | 0.00 | 0.00 | 0.00 | 0.00 | 0.00 | XXX
A7017 |  | X | Nebulizer not used w oxygen | 0.00 | 0.00 | 0.00 | 0.00 | 0.00 | 0.00 | XXX
A7018 |  | X | Water distilled w/nebulizer | 0.00 | 0.00 | 0.00 | 0.00 | 0.00 | 0.00 | XXX
A7019 |  | X | Saline solution dispenser | 0.00 | 0.00 | 0.00 | 0.00 | 0.00 | 0.00 | XXX
A7020 |  | X | Sterile H2O or NSS w lgv neb | 0.00 | 0.00 | 0.00 | 0.00 | 0.00 | 0.00 | XXX
A7501 |  | X | Tracheostoma valve w diaphra | 0.00 | 0.00 | 0.00 | 0.00 | 0.00 | 0.00 | XXX
A7502 |  | X | Replacement diaphragm/fplate | 0.00 | 0.00 | 0.00 | 0.00 | 0.00 | 0.00 | XXX
A7503 |  | X | HMES filter holder or cap | 0.00 | 0.00 | 0.00 | 0.00 | 0.00 | 0.00 | XXX
A7504 |  | X | Tracheostoma HMES filter | 0.00 | 0.00 | 0.00 | 0.00 | 0.00 | 0.00 | XXX
A7505 |  | X | HMES or trach valve housing | 0.00 | 0.00 | 0.00 | 0.00 | 0.00 | 0.00 | XXX
A7506 |  | X | HMES/trachvalve adhesivedisk | 0.00 | 0.00 | 0.00 | 0.00 | 0.00 | 0.00 | XXX
A7507 |  | X | Integrated filter & holder | 0.00 | 0.00 | 0.00 | 0.00 | 0.00 | 0.00 | XXX
A7508 |  | X | Housing & Integrated Adhesiv | 0.00 | 0.00 | 0.00 | 0.00 | 0.00 | 0.00 | XXX
A7509 |  | X | Heat & moisture exchange sys | 0.00 | 0.00 | 0.00 | 0.00 | 0.00 | 0.00 | XXX
A9150 |  | E | Misc/exper non-prescript dru | 0.00 | 0.00 | 0.00 | 0.00 | 0.00 | 0.00 | XXX
A9160 |  | N | Podiatrist non-covered servi | 0.00 | 0.00 | 0.00 | 0.00 | 0.00 | 0.00 | XXX
A9170 |  | N | Chiropractor non-covered ser | 0.00 | 0.00 | 0.00 | 0.00 | 0.00 | 0.00 | XXX
A9190 |  | N | Misc/expe personal comfort i | 0.00 | 0.00 | 0.00 | 0.00 | 0.00 | 0.00 | XXX
A9270 |  | N | Non-covered item or service | 0.00 | 0.00 | 0.00 | 0.00 | 0.00 | 0.00 | XXX
A9300 |  | N | Exercise equipment | 0.00 | 0.00 | 0.00 | 0.00 | 0.00 | 0.00 | XXX
A9500 |  | E | Technetium TC 99m sestamibi | 0.00 | 0.00 | 0.00 | 0.00 | 0.00 | 0.00 | XXX
A9502 |  | X | Technetium TC99M tetrofosmin | 0.00 | 0.00 | 0.00 | 0.00 | 0.00 | 0.00 | XXX
A9503 |  | E | Technetium TC 99m medronate | 0.00 | 0.00 | 0.00 | 0.00 | 0.00 | 0.00 | XXX
A9504 |  | X | Technetium tc 99m apcitide | 0.00 | 0.00 | 0.00 | 0.00 | 0.00 | 0.00 | XXX
A9505 |  | E | Thallous chloride TL 201/mci | 0.00 | 0.00 | 0.00 | 0.00 | 0.00 | 0.00 | XXX
A9507 |  | X | Indium/111 capromab pendetid | 0.00 | 0.00 | 0.00 | 0.00 | 0.00 | 0.00 | XXX
A9508 |  | X | Iobenguane sulfate I-131 | 0.00 | 0.00 | 0.00 | 0.00 | 0.00 | 0.00 | XXX
A9510 |  | X | Technetium TC99m Disofenin | 0.00 | 0.00 | 0.00 | 0.00 | 0.00 | 0.00 | XXX
A9600 |  | X | Strontium-89 chloride | 0.00 | 0.00 | 0.00 | 0.00 | 0.00 | 0.00 | XXX
A9605 |  | X | Samarium sm153 lexidronamm | 0.00 | 0.00 | 0.00 | 0.00 | 0.00 | 0.00 | XXX
A9700 |  | X | Echocardiography Contrast | 0.00 | 0.00 | 0.00 | 0.00 | 0.00 | 0.00 | XXX
A9900 |  | X | Supply/accessory/service | 0.00 | 0.00 | 0.00 | 0.00 | 0.00 | 0.00 | XXX
A9901 |  | X | Delivery/set up/dispensing | 0.00 | 0.00 | 0.00 | 0.00 | 0.00 | 0.00 | XXX
D0120 |  | N | Periodic oral evaluation | 0.00 | 0.00 | 0.00 | 0.00 | 0.00 | 0.00 | XXX
D0140 |  | N | Limit oral eval problm focus | 0.00 | 0.00 | 0.00 | 0.00 | 0.00 | 0.00 | XXX
D0150 |  | R | Comprehensve oral evaluation | 0.00 | 0.00 | 0.00 | 0.00 | 0.00 | 0.00 | YYY
D0160 |  | N | Extensv oral eval prob focus | 0.00 | 0.00 | 0.00 | 0.00 | 0.00 | 0.00 | XXX
D0170 |  | N | Re-eval,est pt,problem focus | 0.00 | 0.00 | 0.00 | 0.00 | 0.00 | 0.00 | XXX
D0210 |  | I | Intraor complete film series | 0.00 | 0.00 | 0.00 | 0.00 | 0.00 | 0.00 | XXX
D0220 |  | I | Intraoral periapical first f | 0.00 | 0.00 | 0.00 | 0.00 | 0.00 | 0.00 | XXX
D0230 |  | I | Intraoral periapical ea add | 0.00 | 0.00 | 0.00 | 0.00 | 0.00 | 0.00 | XXX
D0240 |  | R | Intraoral occlusal film | 0.00 | 0.00 | 0.00 | 0.00 | 0.00 | 0.00 | YYY
D0250 |  | R | Extraoral first film | 0.00 | 0.00 | 0.00 | 0.00 | 0.00 | 0.00 | YYY
D0260 |  | R | Extraoral ea additional film | 0.00 | 0.00 | 0.00 | 0.00 | 0.00 | 0.00 | YYY
D0270 |  | R | Dental bitewing single film | 0.00 | 0.00 | 0.00 | 0.00 | 0.00 | 0.00 | YYY
D0272 |  | R | Dental bitewings two films | 0.00 | 0.00 | 0.00 | 0.00 | 0.00 | 0.00 | YYY
D0274 |  | R | Dental bitewings four films | 0.00 | 0.00 | 0.00 | 0.00 | 0.00 | 0.00 | YYY
D0277 |  | R | Vert bitewings-sev to eight | 0.00 | 0.00 | 0.00 | 0.00 | 0.00 | 0.00 | XXX
D0290 |  | I | Dental film skull/facial bon | 0.00 | 0.00 | 0.00 | 0.00 | 0.00 | 0.00 | XXX
D0310 |  | I | Dental saliography | 0.00 | 0.00 | 0.00 | 0.00 | 0.00 | 0.00 | XXX
D0320 |  | I | Dental tmj arthrogram incl i | 0.00 | 0.00 | 0.00 | 0.00 | 0.00 | 0.00 | XXX
D0321 |  | I | Dental other tmj films | 0.00 | 0.00 | 0.00 | 0.00 | 0.00 | 0.00 | XXX
D0322 |  | I | Dental tomographic survey | 0.00 | 0.00 | 0.00 | 0.00 | 0.00 | 0.00 | XXX
D0330 |  | I | Dental panoramic film | 0.00 | 0.00 | 0.00 | 0.00 | 0.00 | 0.00 | XXX
D0340 |  | I | Dental cephalometric film | 0.00 | 0.00 | 0.00 | 0.00 | 0.00 | 0.00 | XXX
D0350 |  | I | Oral/facial images | 0.00 | 0.00 | 0.00 | 0.00 | 0.00 | 0.00 | XXX
D0415 |  | N | Bacteriologic study | 0.00 | 0.00 | 0.00 | 0.00 | 0.00 | 0.00 | XXX
D0425 |  | N | Caries susceptibility test | 0.00 | 0.00 | 0.00 | 0.00 | 0.00 | 0.00 | XXX
D0460 |  | R | Pulp vitality test | 0.00 | 0.00 | 0.00 | 0.00 | 0.00 | 0.00 | YYY
D0470 |  | N | Diagnostic casts | 0.00 | 0.00 | 0.00 | 0.00 | 0.00 | 0.00 | XXX
D0472 |  | R | Gross exam, prep & report | 0.00 | 0.00 | 0.00 | 0.00 | 0.00 | 0.00 | XXX
D0473 |  | R | Micro exam, prep & report | 0.00 | 0.00 | 0.00 | 0.00 | 0.00 | 0.00 | XXX
D0474 |  | R | Micro w exam of surg margins | 0.00 | 0.00 | 0.00 | 0.00 | 0.00 | 0.00 | XXX
D0480 |  | R | Cytopath smear prep & report | 0.00 | 0.00 | 0.00 | 0.00 | 0.00 | 0.00 | XXX
D0501 |  | R | Histopathologic examinations | 0.00 | 0.00 | 0.00 | 0.00 | 0.00 | 0.00 | YYY
D0502 |  | R | Other oral pathology procedu | 0.00 | 0.00 | 0.00 | 0.00 | 0.00 | 0.00 | YYY
D0999 |  | R | Unspecified diagnostic proce | 0.00 | 0.00 | 0.00 | 0.00 | 0.00 | 0.00 | YYY
D1110 |  | N | Dental prophylaxis adult | 0.00 | 0.00 | 0.00 | 0.00 | 0.00 | 0.00 | XXX
D1120 |  | N | Dental prophylaxis child | 0.00 | 0.00 | 0.00 | 0.00 | 0.00 | 0.00 | XXX
D1201 |  | N | Topical fluor w prophy child | 0.00 | 0.00 | 0.00 | 0.00 | 0.00 | 0.00 | XXX
D1203 |  | N | Topical fluor w/o prophy chi | 0.00 | 0.00 | 0.00 | 0.00 | 0.00 | 0.00 | XXX
D1204 |  | N | Topical fluor w/o prophy adu | 0.00 | 0.00 | 0.00 | 0.00 | 0.00 | 0.00 | XXX
D1205 |  | N | Topical fluoride w/ prophy a | 0.00 | 0.00 | 0.00 | 0.00 | 0.00 | 0.00 | XXX
D1310 |  | N | Nutri counsel-control caries | 0.00 | 0.00 | 0.00 | 0.00 | 0.00 | 0.00 | XXX
D1320 |  | N | Tobacco counseling | 0.00 | 0.00 | 0.00 | 0.00 | 0.00 | 0.00 | XXX
D1330 |  | N | Oral hygiene instruction | 0.00 | 0.00 | 0.00 | 0.00 | 0.00 | 0.00 | XXX
D1351 |  | N | Dental sealant per tooth | 0.00 | 0.00 | 0.00 | 0.00 | 0.00 | 0.00 | XXX
D1510 |  | R | Space maintainer fxd unilat | 0.00 | 0.00 | 0.00 | 0.00 | 0.00 | 0.00 | YYY
D1515 |  | R | Fixed bilat space maintainer | 0.00 | 0.00 | 0.00 | 0.00 | 0.00 | 0.00 | YYY
D1520 |  | R | Remove unilat space maintain | 0.00 | 0.00 | 0.00 | 0.00 | 0.00 | 0.00 | YYY
D1525 |  | R | Remove bilat space maintain | 0.00 | 0.00 | 0.00 | 0.00 | 0.00 | 0.00 | YYY
D1550 |  | R | Recement space maintainer | 0.00 | 0.00 | 0.00 | 0.00 | 0.00 | 0.00 | YYY
D2110 |  | N | Amalgam one surface primary | 0.00 | 0.00 | 0.00 | 0.00 | 0.00 | 0.00 | XXX
D2120 |  | N | Amalgam two surfaces primary | 0.00 | 0.00 | 0.00 | 0.00 | 0.00 | 0.00 | XXX
D2130 |  | N | Amalgam three surfaces prima | 0.00 | 0.00 | 0.00 | 0.00 | 0.00 | 0.00 | XXX
D2131 |  | N | Amalgam four/more surf prima | 0.00 | 0.00 | 0.00 | 0.00 | 0.00 | 0.00 | XXX
D2140 |  | N | Amalgam one surface permanen | 0.00 | 0.00 | 0.00 | 0.00 | 0.00 | 0.00 | XXX
D2150 |  | N | Amalgam two surfaces permane | 0.00 | 0.00 | 0.00 | 0.00 | 0.00 | 0.00 | XXX
D2160 |  | N | Amalgam three surfaces perma | 0.00 | 0.00 | 0.00 | 0.00 | 0.00 | 0.00 | XXX
D2161 |  | N | Amalgam 4 or > surfaces perm | 0.00 | 0.00 | 0.00 | 0.00 | 0.00 | 0.00 | XXX
D2330 |  | N | Resin one surface-anterior | 0.00 | 0.00 | 0.00 | 0.00 | 0.00 | 0.00 | XXX
D2331 |  | N | Resin two surfaces-anterior | 0.00 | 0.00 | 0.00 | 0.00 | 0.00 | 0.00 | XXX
D2332 |  | N | Resin three surfaces-anterio | 0.00 | 0.00 | 0.00 | 0.00 | 0.00 | 0.00 | XXX
D2335 |  | N | Resin 4/> surf or w incis an | 0.00 | 0.00 | 0.00 | 0.00 | 0.00 | 0.00 | XXX
D2336 |  | N | Composite resin crown | 0.00 | 0.00 | 0.00 | 0.00 | 0.00 | 0.00 | XXX
D2337 |  | N | Compo resin crown ant-perm | 0.00 | 0.00 | 0.00 | 0.00 | 0.00 | 0.00 | XXX
D2380 |  | N | Resin one surf poster primar | 0.00 | 0.00 | 0.00 | 0.00 | 0.00 | 0.00 | XXX
D2381 |  | N | Resin two surf poster primar | 0.00 | 0.00 | 0.00 | 0.00 | 0.00 | 0.00 | XXX
D2382 |  | N | Resin three/more surf post p | 0.00 | 0.00 | 0.00 | 0.00 | 0.00 | 0.00 | XXX
D2385 |  | N | Resin one surf poster perman | 0.00 | 0.00 | 0.00 | 0.00 | 0.00 | 0.00 | XXX
D2386 |  | N | Resin two surf poster perman | 0.00 | 0.00 | 0.00 | 0.00 | 0.00 | 0.00 | XXX
D2387 |  | N | Resin three/more surf post p | 0.00 | 0.00 | 0.00 | 0.00 | 0.00 | 0.00 | XXX
D2388 |  | N | Resin four/more, post perm | 0.00 | 0.00 | 0.00 | 0.00 | 0.00 | 0.00 | XXX
D2410 |  | N | Dental gold foil one surface | 0.00 | 0.00 | 0.00 | 0.00 | 0.00 | 0.00 | XXX
D2420 |  | N | Dental gold foil two surface | 0.00 | 0.00 | 0.00 | 0.00 | 0.00 | 0.00 | XXX
D2430 |  | N | Dental gold foil three surfa | 0.00 | 0.00 | 0.00 | 0.00 | 0.00 | 0.00 | XXX
D2510 |  | N | Dental inlay metalic 1 surf | 0.00 | 0.00 | 0.00 | 0.00 | 0.00 | 0.00 | XXX
D2520 |  | N | Dental inlay metallic 2 surf | 0.00 | 0.00 | 0.00 | 0.00 | 0.00 | 0.00 | XXX
D2530 |  | N | Dental inlay metl 3/more sur | 0.00 | 0.00 | 0.00 | 0.00 | 0.00 | 0.00 | XXX
D2542 |  | N | Dental onlay metallic 2 surf | 0.00 | 0.00 | 0.00 | 0.00 | 0.00 | 0.00 | XXX
D2543 |  | N | Dental onlay metallic 3 surf | 0.00 | 0.00 | 0.00 | 0.00 | 0.00 | 0.00 | XXX
D2544 |  | N | Dental onlay metl 4/more sur | 0.00 | 0.00 | 0.00 | 0.00 | 0.00 | 0.00 | XXX
D2610 |  | N | Inlay porcelain/ceramic 1 su | 0.00 | 0.00 | 0.00 | 0.00 | 0.00 | 0.00 | XXX
D2620 |  | N | Inlay porcelain/ceramic 2 su | 0.00 | 0.00 | 0.00 | 0.00 | 0.00 | 0.00 | XXX
D2630 |  | N | Dental onlay porc 3/more sur | 0.00 | 0.00 | 0.00 | 0.00 | 0.00 | 0.00 | XXX
D2642 |  | N | Dental onlay porcelin 2 surf | 0.00 | 0.00 | 0.00 | 0.00 | 0.00 | 0.00 | XXX
D2643 |  | N | Dental onlay porcelin 3 surf | 0.00 | 0.00 | 0.00 | 0.00 | 0.00 | 0.00 | XXX
D2644 |  | N | Dental onlay porc 4/more sur | 0.00 | 0.00 | 0.00 | 0.00 | 0.00 | 0.00 | XXX
D2650 |  | N | Inlay composite/resin one su | 0.00 | 0.00 | 0.00 | 0.00 | 0.00 | 0.00 | XXX
D2651 |  | N | Inlay composite/resin two su | 0.00 | 0.00 | 0.00 | 0.00 | 0.00 | 0.00 | XXX
D2652 |  | N | Dental inlay resin 3/mre sur | 0.00 | 0.00 | 0.00 | 0.00 | 0.00 | 0.00 | XXX
D2662 |  | N | Dental onlay resin 2 surface | 0.00 | 0.00 | 0.00 | 0.00 | 0.00 | 0.00 | XXX
D2663 |  | N | Dental onlay resin 3 surface | 0.00 | 0.00 | 0.00 | 0.00 | 0.00 | 0.00 | XXX
D2664 |  | N | Dental onlay resin 4/mre sur | 0.00 | 0.00 | 0.00 | 0.00 | 0.00 | 0.00 | XXX
D2710 |  | N | Crown resin laboratory | 0.00 | 0.00 | 0.00 | 0.00 | 0.00 | 0.00 | XXX
D2720 |  | N | Crown resin w/ high noble me | 0.00 | 0.00 | 0.00 | 0.00 | 0.00 | 0.00 | XXX
D2721 |  | N | Crown resin w/ base metal | 0.00 | 0.00 | 0.00 | 0.00 | 0.00 | 0.00 | XXX
D2722 |  | N | Crown resin w/ noble metal | 0.00 | 0.00 | 0.00 | 0.00 | 0.00 | 0.00 | XXX
D2740 |  | N | Crown porcelain/ceramic subs | 0.00 | 0.00 | 0.00 | 0.00 | 0.00 | 0.00 | XXX
D2750 |  | N | Crown porcelain w/ h noble m | 0.00 | 0.00 | 0.00 | 0.00 | 0.00 | 0.00 | XXX
D2751 |  | N | Crown porcelain fused base m | 0.00 | 0.00 | 0.00 | 0.00 | 0.00 | 0.00 | XXX
D2752 |  | N | Crown porcelain w/ noble met | 0.00 | 0.00 | 0.00 | 0.00 | 0.00 | 0.00 | XXX
D2780 |  | N | Crown 3/4 cast hi noble met | 0.00 | 0.00 | 0.00 | 0.00 | 0.00 | 0.00 | XXX
D2781 |  | N | Crown 3/4 cast base metal | 0.00 | 0.00 | 0.00 | 0.00 | 0.00 | 0.00 | XXX
D2782 |  | N | Crown 3/4 cast noble metal | 0.00 | 0.00 | 0.00 | 0.00 | 0.00 | 0.00 | XXX
D2783 |  | N | Crown 3/4 porcelain/ceramic | 0.00 | 0.00 | 0.00 | 0.00 | 0.00 | 0.00 | XXX
D2790 |  | N | Crown full cast high noble m | 0.00 | 0.00 | 0.00 | 0.00 | 0.00 | 0.00 | XXX
D2791 |  | N | Crown full cast base metal | 0.00 | 0.00 | 0.00 | 0.00 | 0.00 | 0.00 | XXX
D2792 |  | N | Crown full cast noble metal | 0.00 | 0.00 | 0.00 | 0.00 | 0.00 | 0.00 | XXX
D2799 |  | N | Provisional crown | 0.00 | 0.00 | 0.00 | 0.00 | 0.00 | 0.00 | XXX
D2910 |  | N | Dental recement inlay | 0.00 | 0.00 | 0.00 | 0.00 | 0.00 | 0.00 | XXX
D2920 |  | N | Dental recement crown | 0.00 | 0.00 | 0.00 | 0.00 | 0.00 | 0.00 | XXX
D2930 |  | N | Prefab stnlss steel crwn pri | 0.00 | 0.00 | 0.00 | 0.00 | 0.00 | 0.00 | XXX
D2931 |  | N | Prefab stnlss steel crown pe | 0.00 | 0.00 | 0.00 | 0.00 | 0.00 | 0.00 | XXX
D2932 |  | N | Prefabricated resin crown | 0.00 | 0.00 | 0.00 | 0.00 | 0.00 | 0.00 | XXX
D2933 |  | N | Prefab stainless steel crown | 0.00 | 0.00 | 0.00 | 0.00 | 0.00 | 0.00 | XXX
D2940 |  | N | Dental sedative filling | 0.00 | 0.00 | 0.00 | 0.00 | 0.00 | 0.00 | XXX
D2950 |  | N | Core build-up incl any pins | 0.00 | 0.00 | 0.00 | 0.00 | 0.00 | 0.00 | XXX
D2951 |  | N | Tooth pin retention | 0.00 | 0.00 | 0.00 | 0.00 | 0.00 | 0.00 | XXX
D2952 |  | N | Post and core cast + crown | 0.00 | 0.00 | 0.00 | 0.00 | 0.00 | 0.00 | XXX
D2953 |  | N | Each addtnl cast post | 0.00 | 0.00 | 0.00 | 0.00 | 0.00 | 0.00 | XXX
D2954 |  | N | Prefab post/core + crown | 0.00 | 0.00 | 0.00 | 0.00 | 0.00 | 0.00 | XXX
D2955 |  | N | Post removal | 0.00 | 0.00 | 0.00 | 0.00 | 0.00 | 0.00 | XXX
D2957 |  | N | Each addtnl prefab post | 0.00 | 0.00 | 0.00 | 0.00 | 0.00 | 0.00 | XXX
D2960 |  | N | Laminate labial veneer | 0.00 | 0.00 | 0.00 | 0.00 | 0.00 | 0.00 | XXX
D2961 |  | N | Lab labial veneer resin | 0.00 | 0.00 | 0.00 | 0.00 | 0.00 | 0.00 | XXX
D2962 |  | N | Lab labial veneer porcelain | 0.00 | 0.00 | 0.00 | 0.00 | 0.00 | 0.00 | XXX
D2970 |  | R | Temporary- fractured tooth | 0.00 | 0.00 | 0.00 | 0.00 | 0.00 | 0.00 | YYY
D2980 |  | N | Crown repair | 0.00 | 0.00 | 0.00 | 0.00 | 0.00 | 0.00 | XXX
D2999 |  | R | Dental unspec restorative pr | 0.00 | 0.00 | 0.00 | 0.00 | 0.00 | 0.00 | YYY
D3110 |  | N | Pulp cap direct | 0.00 | 0.00 | 0.00 | 0.00 | 0.00 | 0.00 | XXX
D3120 |  | N | Pulp cap indirect | 0.00 | 0.00 | 0.00 | 0.00 | 0.00 | 0.00 | XXX
D3220 |  | N | Therapeutic pulpotomy | 0.00 | 0.00 | 0.00 | 0.00 | 0.00 | 0.00 | XXX
D3221 |  | N | Gross pulpal debridement | 0.00 | 0.00 | 0.00 | 0.00 | 0.00 | 0.00 | XXX
D3230 |  | N | Pulpal therapy anterior prim | 0.00 | 0.00 | 0.00 | 0.00 | 0.00 | 0.00 | XXX
D3240 |  | N | Pulpal therapy posterior pri | 0.00 | 0.00 | 0.00 | 0.00 | 0.00 | 0.00 | XXX
D3310 |  | N | Anterior | 0.00 | 0.00 | 0.00 | 0.00 | 0.00 | 0.00 | XXX
D3320 |  | N | Root canal therapy 2 canals | 0.00 | 0.00 | 0.00 | 0.00 | 0.00 | 0.00 | XXX
D3330 |  | N | Root canal therapy 3 canals | 0.00 | 0.00 | 0.00 | 0.00 | 0.00 | 0.00 | XXX
D3331 |  | N | Non-surg tx root canal obs | 0.00 | 0.00 | 0.00 | 0.00 | 0.00 | 0.00 | XXX
D3332 |  | N | Incomplete endodontic tx | 0.00 | 0.00 | 0.00 | 0.00 | 0.00 | 0.00 | XXX
D3333 |  | N | Internal root repair | 0.00 | 0.00 | 0.00 | 0.00 | 0.00 | 0.00 | XXX
D3346 |  | N | Retreat root canal anterior | 0.00 | 0.00 | 0.00 | 0.00 | 0.00 | 0.00 | XXX
D3347 |  | N | Retreat root canal bicuspid | 0.00 | 0.00 | 0.00 | 0.00 | 0.00 | 0.00 | XXX
D3348 |  | N | Retreat root canal molar | 0.00 | 0.00 | 0.00 | 0.00 | 0.00 | 0.00 | XXX
D3351 |  | N | Apexification/recalc initial | 0.00 | 0.00 | 0.00 | 0.00 | 0.00 | 0.00 | XXX
D3352 |  | N | Apexification/recalc interim | 0.00 | 0.00 | 0.00 | 0.00 | 0.00 | 0.00 | XXX
D3353 |  | N | Apexification/recalc final | 0.00 | 0.00 | 0.00 | 0.00 | 0.00 | 0.00 | XXX
D3410 |  | N | Apicoect/perirad surg anter | 0.00 | 0.00 | 0.00 | 0.00 | 0.00 | 0.00 | XXX
D3421 |  | N | Root surgery bicuspid | 0.00 | 0.00 | 0.00 | 0.00 | 0.00 | 0.00 | XXX
D3425 |  | N | Root surgery molar | 0.00 | 0.00 | 0.00 | 0.00 | 0.00 | 0.00 | XXX
D3426 |  | N | Root surgery ea add root | 0.00 | 0.00 | 0.00 | 0.00 | 0.00 | 0.00 | XXX
D3430 |  | N | Retrograde filling | 0.00 | 0.00 | 0.00 | 0.00 | 0.00 | 0.00 | XXX
D3450 |  | N | Root amputation | 0.00 | 0.00 | 0.00 | 0.00 | 0.00 | 0.00 | XXX
D3460 |  | R | Endodontic endosseous implan | 0.00 | 0.00 | 0.00 | 0.00 | 0.00 | 0.00 | YYY
D3470 |  | N | Intentional replantation | 0.00 | 0.00 | 0.00 | 0.00 | 0.00 | 0.00 | XXX
D3910 |  | N | Isolation- tooth w rubb dam | 0.00 | 0.00 | 0.00 | 0.00 | 0.00 | 0.00 | XXX
D3920 |  | N | Tooth splitting | 0.00 | 0.00 | 0.00 | 0.00 | 0.00 | 0.00 | XXX
D3950 |  | N | Canal prep/fitting of dowel | 0.00 | 0.00 | 0.00 | 0.00 | 0.00 | 0.00 | XXX
D3999 |  | R | Endodontic procedure | 0.00 | 0.00 | 0.00 | 0.00 | 0.00 | 0.00 | YYY
D4210 |  | I | Gingivectomy/plasty per quad | 0.00 | 0.00 | 0.00 | 0.00 | 0.00 | 0.00 | XXX
D4211 |  | I | Gingivectomy/plasty per toot | 0.00 | 0.00 | 0.00 | 0.00 | 0.00 | 0.00 | XXX
D4220 |  | N | Gingival curettage per quadr | 0.00 | 0.00 | 0.00 | 0.00 | 0.00 | 0.00 | XXX
D4240 |  | N | Gingival flap proc w/ planin | 0.00 | 0.00 | 0.00 | 0.00 | 0.00 | 0.00 | XXX
D4245 |  | N | Apically positioned flap | 0.00 | 0.00 | 0.00 | 0.00 | 0.00 | 0.00 | XXX
D4249 |  | N | Crown lengthen hard tissue | 0.00 | 0.00 | 0.00 | 0.00 | 0.00 | 0.00 | XXX
D4260 |  | R | Osseous surgery per quadrant | 0.00 | 0.00 | 0.00 | 0.00 | 0.00 | 0.00 | YYY
D4263 |  | R | Bone replce graft first site | 0.00 | 0.00 | 0.00 | 0.00 | 0.00 | 0.00 | YYY
D4264 |  | R | Bone replce graft each add | 0.00 | 0.00 | 0.00 | 0.00 | 0.00 | 0.00 | YYY
D4266 |  | N | Guided tiss regen resorble | 0.00 | 0.00 | 0.00 | 0.00 | 0.00 | 0.00 | XXX
D4267 |  | N | Guided tiss regen nonresorb | 0.00 | 0.00 | 0.00 | 0.00 | 0.00 | 0.00 | XXX
D4268 |  | R | Surgical revision procedure | 0.00 | 0.00 | 0.00 | 0.00 | 0.00 | 0.00 | XXX
D4270 |  | R | Pedicle soft tissue graft pr | 0.00 | 0.00 | 0.00 | 0.00 | 0.00 | 0.00 | YYY
D4271 |  | R | Free soft tissue graft proc | 0.00 | 0.00 | 0.00 | 0.00 | 0.00 | 0.00 | YYY
D4273 |  | R | Subepithelial tissue graft | 0.00 | 0.00 | 0.00 | 0.00 | 0.00 | 0.00 | YYY
D4274 |  | N | Distal/proximal wedge proc | 0.00 | 0.00 | 0.00 | 0.00 | 0.00 | 0.00 | XXX
D4320 |  | N | Provision splnt intracoronal | 0.00 | 0.00 | 0.00 | 0.00 | 0.00 | 0.00 | XXX
D4321 |  | N | Provisional splint extracoro | 0.00 | 0.00 | 0.00 | 0.00 | 0.00 | 0.00 | XXX
D4341 |  | N | Periodontal scaling & root | 0.00 | 0.00 | 0.00 | 0.00 | 0.00 | 0.00 | XXX
D4355 |  | R | Full mouth debridement | 0.00 | 0.00 | 0.00 | 0.00 | 0.00 | 0.00 | YYY
D4381 |  | R | Localized chemo delivery | 0.00 | 0.00 | 0.00 | 0.00 | 0.00 | 0.00 | YYY
D4910 |  | N | Periodontal maint procedures | 0.00 | 0.00 | 0.00 | 0.00 | 0.00 | 0.00 | XXX
D4920 |  | N | Unscheduled dressing change | 0.00 | 0.00 | 0.00 | 0.00 | 0.00 | 0.00 | XXX
D4999 |  | N | Unspecified periodontal proc | 0.00 | 0.00 | 0.00 | 0.00 | 0.00 | 0.00 | XXX
D5110 |  | N | Dentures complete maxillary | 0.00 | 0.00 | 0.00 | 0.00 | 0.00 | 0.00 | XXX
D5120 |  | N | Dentures complete mandible | 0.00 | 0.00 | 0.00 | 0.00 | 0.00 | 0.00 | XXX
D5130 |  | N | Dentures immediat maxillary | 0.00 | 0.00 | 0.00 | 0.00 | 0.00 | 0.00 | XXX
D5140 |  | N | Dentures immediat mandible | 0.00 | 0.00 | 0.00 | 0.00 | 0.00 | 0.00 | XXX
D5211 |  | N | Dentures maxill part resin | 0.00 | 0.00 | 0.00 | 0.00 | 0.00 | 0.00 | XXX
D5212 |  | N | Dentures mand part resin | 0.00 | 0.00 | 0.00 | 0.00 | 0.00 | 0.00 | XXX
D5213 |  | N | Dentures maxill part metal | 0.00 | 0.00 | 0.00 | 0.00 | 0.00 | 0.00 | XXX
D5214 |  | N | Dentures mandibl part metal | 0.00 | 0.00 | 0.00 | 0.00 | 0.00 | 0.00 | XXX
D5281 |  | N | Removable partial denture | 0.00 | 0.00 | 0.00 | 0.00 | 0.00 | 0.00 | XXX
D5410 |  | N | Dentures adjust cmplt maxil | 0.00 | 0.00 | 0.00 | 0.00 | 0.00 | 0.00 | XXX
D5411 |  | N | Dentures adjust cmplt mand | 0.00 | 0.00 | 0.00 | 0.00 | 0.00 | 0.00 | XXX
D5421 |  | N | Dentures adjust part maxill | 0.00 | 0.00 | 0.00 | 0.00 | 0.00 | 0.00 | XXX
D5422 |  | N | Dentures adjust part mandbl | 0.00 | 0.00 | 0.00 | 0.00 | 0.00 | 0.00 | XXX
D5510 |  | N | Dentur repr broken compl bas | 0.00 | 0.00 | 0.00 | 0.00 | 0.00 | 0.00 | XXX
D5520 |  | N | Replace denture teeth complt | 0.00 | 0.00 | 0.00 | 0.00 | 0.00 | 0.00 | XXX
D5610 |  | N | Dentures repair resin base | 0.00 | 0.00 | 0.00 | 0.00 | 0.00 | 0.00 | XXX
D5620 |  | N | Rep part denture cast frame | 0.00 | 0.00 | 0.00 | 0.00 | 0.00 | 0.00 | XXX
D5630 |  | N | Rep partial denture clasp | 0.00 | 0.00 | 0.00 | 0.00 | 0.00 | 0.00 | XXX
D5640 |  | N | Replace part denture teeth | 0.00 | 0.00 | 0.00 | 0.00 | 0.00 | 0.00 | XXX
D5650 |  | N | Add tooth to partial denture | 0.00 | 0.00 | 0.00 | 0.00 | 0.00 | 0.00 | XXX
D5660 |  | N | Add clasp to partial denture | 0.00 | 0.00 | 0.00 | 0.00 | 0.00 | 0.00 | XXX
D5710 |  | N | Dentures rebase cmplt maxil | 0.00 | 0.00 | 0.00 | 0.00 | 0.00 | 0.00 | XXX
D5711 |  | N | Dentures rebase cmplt mand | 0.00 | 0.00 | 0.00 | 0.00 | 0.00 | 0.00 | XXX
D5720 |  | N | Dentures rebase part maxill | 0.00 | 0.00 | 0.00 | 0.00 | 0.00 | 0.00 | XXX
D5721 |  | N | Dentures rebase part mandbl | 0.00 | 0.00 | 0.00 | 0.00 | 0.00 | 0.00 | XXX
D5730 |  | N | Denture reln cmplt maxil ch | 0.00 | 0.00 | 0.00 | 0.00 | 0.00 | 0.00 | XXX
D5731 |  | N | Denture reln cmplt mand chr | 0.00 | 0.00 | 0.00 | 0.00 | 0.00 | 0.00 | XXX
D5740 |  | N | Denture reln part maxil chr | 0.00 | 0.00 | 0.00 | 0.00 | 0.00 | 0.00 | XXX
D5741 |  | N | Denture reln part mand chr | 0.00 | 0.00 | 0.00 | 0.00 | 0.00 | 0.00 | XXX
D5750 |  | N | Denture reln cmplt max lab | 0.00 | 0.00 | 0.00 | 0.00 | 0.00 | 0.00 | XXX
D5751 |  | N | Denture reln cmplt mand lab | 0.00 | 0.00 | 0.00 | 0.00 | 0.00 | 0.00 | XXX
D5760 |  | N | Denture reln part maxil lab | 0.00 | 0.00 | 0.00 | 0.00 | 0.00 | 0.00 | XXX
D5761 |  | N | Denture reln part mand lab | 0.00 | 0.00 | 0.00 | 0.00 | 0.00 | 0.00 | XXX
D5810 |  | N | Denture interm cmplt maxill | 0.00 | 0.00 | 0.00 | 0.00 | 0.00 | 0.00 | XXX
D5811 |  | N | Denture interm cmplt mandbl | 0.00 | 0.00 | 0.00 | 0.00 | 0.00 | 0.00 | XXX
D5820 |  | N | Denture interm part maxill | 0.00 | 0.00 | 0.00 | 0.00 | 0.00 | 0.00 | XXX
D5821 |  | N | Denture interm part mandbl | 0.00 | 0.00 | 0.00 | 0.00 | 0.00 | 0.00 | XXX
D5850 |  | N | Denture tiss conditn maxill | 0.00 | 0.00 | 0.00 | 0.00 | 0.00 | 0.00 | XXX
D5851 |  | N | Denture tiss condtin mandbl | 0.00 | 0.00 | 0.00 | 0.00 | 0.00 | 0.00 | XXX
D5860 |  | N | Overdenture complete | 0.00 | 0.00 | 0.00 | 0.00 | 0.00 | 0.00 | XXX
D5861 |  | N | Overdenture partial | 0.00 | 0.00 | 0.00 | 0.00 | 0.00 | 0.00 | XXX
D5862 |  | N | Precision attachment | 0.00 | 0.00 | 0.00 | 0.00 | 0.00 | 0.00 | XXX
D5867 |  | N | Replacement of precision att | 0.00 | 0.00 | 0.00 | 0.00 | 0.00 | 0.00 | XXX
D5875 |  | N | Prosthesis modification | 0.00 | 0.00 | 0.00 | 0.00 | 0.00 | 0.00 | XXX
D5899 |  | N | Removable prosthodontic proc | 0.00 | 0.00 | 0.00 | 0.00 | 0.00 | 0.00 | XXX
D5911 |  | R | Facial moulage sectional | 0.00 | 0.00 | 0.00 | 0.00 | 0.00 | 0.00 | YYY
D5912 |  | R | Facial moulage complete | 0.00 | 0.00 | 0.00 | 0.00 | 0.00 | 0.00 | YYY
D5913 |  | I | Nasal prosthesis | 0.00 | 0.00 | 0.00 | 0.00 | 0.00 | 0.00 | XXX
D5914 |  | I | Auricular prosthesis | 0.00 | 0.00 | 0.00 | 0.00 | 0.00 | 0.00 | XXX
D5915 |  | I | Orbital prosthesis | 0.00 | 0.00 | 0.00 | 0.00 | 0.00 | 0.00 | XXX
D5916 |  | I | Ocular prosthesis | 0.00 | 0.00 | 0.00 | 0.00 | 0.00 | 0.00 | XXX
D5919 |  | I | Facial prosthesis | 0.00 | 0.00 | 0.00 | 0.00 | 0.00 | 0.00 | XXX
D5922 |  | I | Nasal septal prosthesis | 0.00 | 0.00 | 0.00 | 0.00 | 0.00 | 0.00 | XXX
D5923 |  | I | Ocular prosthesis interim | 0.00 | 0.00 | 0.00 | 0.00 | 0.00 | 0.00 | XXX
D5924 |  | I | Cranial prosthesis | 0.00 | 0.00 | 0.00 | 0.00 | 0.00 | 0.00 | XXX
D5925 |  | I | Facial augmentation implant | 0.00 | 0.00 | 0.00 | 0.00 | 0.00 | 0.00 | XXX
D5926 |  | I | Replacement nasal prosthesis | 0.00 | 0.00 | 0.00 | 0.00 | 0.00 | 0.00 | XXX
D5927 |  | I | Auricular replacement | 0.00 | 0.00 | 0.00 | 0.00 | 0.00 | 0.00 | XXX
D5928 |  | I | Orbital replacement | 0.00 | 0.00 | 0.00 | 0.00 | 0.00 | 0.00 | XXX
D5929 |  | I | Facial replacement | 0.00 | 0.00 | 0.00 | 0.00 | 0.00 | 0.00 | XXX
D5931 |  | I | Surgical obturator | 0.00 | 0.00 | 0.00 | 0.00 | 0.00 | 0.00 | XXX
D5932 |  | I | Postsurgical obturator | 0.00 | 0.00 | 0.00 | 0.00 | 0.00 | 0.00 | XXX
D5933 |  | I | Refitting of obturator | 0.00 | 0.00 | 0.00 | 0.00 | 0.00 | 0.00 | XXX
D5934 |  | I | Mandibular flange prosthesis | 0.00 | 0.00 | 0.00 | 0.00 | 0.00 | 0.00 | XXX
D5935 |  | I | Mandibular denture prosth | 0.00 | 0.00 | 0.00 | 0.00 | 0.00 | 0.00 | XXX
D5936 |  | I | Temp obturator prosthesis | 0.00 | 0.00 | 0.00 | 0.00 | 0.00 | 0.00 | XXX
D5937 |  | I | Trismus appliance | 0.00 | 0.00 | 0.00 | 0.00 | 0.00 | 0.00 | XXX
D5951 |  | R | Feeding aid | 0.00 | 0.00 | 0.00 | 0.00 | 0.00 | 0.00 | YYY
D5952 |  | I | Pediatric speech aid | 0.00 | 0.00 | 0.00 | 0.00 | 0.00 | 0.00 | XXX
D5953 |  | I | Adult speech aid | 0.00 | 0.00 | 0.00 | 0.00 | 0.00 | 0.00 | XXX
D5954 |  | I | Superimposed prosthesis | 0.00 | 0.00 | 0.00 | 0.00 | 0.00 | 0.00 | XXX
D5955 |  | I | Palatal lift prosthesis | 0.00 | 0.00 | 0.00 | 0.00 | 0.00 | 0.00 | XXX
D5958 |  | I | Intraoral con def inter plt | 0.00 | 0.00 | 0.00 | 0.00 | 0.00 | 0.00 | XXX
D5959 |  | I | Intraoral con def mod palat | 0.00 | 0.00 | 0.00 | 0.00 | 0.00 | 0.00 | XXX
D5960 |  | I | Modify speech aid prosthesis | 0.00 | 0.00 | 0.00 | 0.00 | 0.00 | 0.00 | XXX
D5982 |  | I | Surgical stent | 0.00 | 0.00 | 0.00 | 0.00 | 0.00 | 0.00 | XXX
D5983 |  | R | Radiation applicator | 0.00 | 0.00 | 0.00 | 0.00 | 0.00 | 0.00 | YYY
D5984 |  | R | Radiation shield | 0.00 | 0.00 | 0.00 | 0.00 | 0.00 | 0.00 | YYY
D5985 |  | R | Radiation cone locator | 0.00 | 0.00 | 0.00 | 0.00 | 0.00 | 0.00 | YYY
D5986 |  | N | Fluoride applicator | 0.00 | 0.00 | 0.00 | 0.00 | 0.00 | 0.00 | XXX
D5987 |  | R | Commissure splint | 0.00 | 0.00 | 0.00 | 0.00 | 0.00 | 0.00 | YYY
D5988 |  | I | Surgical splint | 0.00 | 0.00 | 0.00 | 0.00 | 0.00 | 0.00 | XXX
D5999 |  | I | Maxillofacial prosthesis | 0.00 | 0.00 | 0.00 | 0.00 | 0.00 | 0.00 | XXX
D6010 |  | I | Odontics endosteal implant | 0.00 | 0.00 | 0.00 | 0.00 | 0.00 | 0.00 | XXX
D6020 |  | I | Odontics abutment placement | 0.00 | 0.00 | 0.00 | 0.00 | 0.00 | 0.00 | XXX
D6040 |  | I | Odontics eposteal implant | 0.00 | 0.00 | 0.00 | 0.00 | 0.00 | 0.00 | XXX
D6050 |  | I | Odontics transosteal implnt | 0.00 | 0.00 | 0.00 | 0.00 | 0.00 | 0.00 | XXX
D6055 |  | I | Implant connecting bar | 0.00 | 0.00 | 0.00 | 0.00 | 0.00 | 0.00 | XXX
D6056 |  | N | Prefabricated abutment | 0.00 | 0.00 | 0.00 | 0.00 | 0.00 | 0.00 | XXX
D6057 |  | N | Custom abutment | 0.00 | 0.00 | 0.00 | 0.00 | 0.00 | 0.00 | XXX
D6058 |  | N | Abutment supported crown | 0.00 | 0.00 | 0.00 | 0.00 | 0.00 | 0.00 | XXX
D6059 |  | N | Abutment supported mtl crown | 0.00 | 0.00 | 0.00 | 0.00 | 0.00 | 0.00 | XXX
D6060 |  | N | Abutment supported mtl crown | 0.00 | 0.00 | 0.00 | 0.00 | 0.00 | 0.00 | XXX
D6061 |  | N | Abutment supported mtl crown | 0.00 | 0.00 | 0.00 | 0.00 | 0.00 | 0.00 | XXX
D6062 |  | N | Abutment supported mtl crown | 0.00 | 0.00 | 0.00 | 0.00 | 0.00 | 0.00 | XXX
D6063 |  | N | Abutment supported mtl crown | 0.00 | 0.00 | 0.00 | 0.00 | 0.00 | 0.00 | XXX
D6064 |  | N | Abutment supported mtl crown | 0.00 | 0.00 | 0.00 | 0.00 | 0.00 | 0.00 | XXX
D6065 |  | N | Implant supported crown | 0.00 | 0.00 | 0.00 | 0.00 | 0.00 | 0.00 | XXX
D6066 |  | N | Implant supported mtl crown | 0.00 | 0.00 | 0.00 | 0.00 | 0.00 | 0.00 | XXX
D6067 |  | N | Implant supported mtl crown | 0.00 | 0.00 | 0.00 | 0.00 | 0.00 | 0.00 | XXX
D6068 |  | N | Abutment supported retainer | 0.00 | 0.00 | 0.00 | 0.00 | 0.00 | 0.00 | XXX
D6069 |  | N | Abutment supported retainer | 0.00 | 0.00 | 0.00 | 0.00 | 0.00 | 0.00 | XXX
D6070 |  | N | Abutment supported retainer | 0.00 | 0.00 | 0.00 | 0.00 | 0.00 | 0.00 | XXX
D6071 |  | N | Abutment supported retainer | 0.00 | 0.00 | 0.00 | 0.00 | 0.00 | 0.00 | XXX
D6072 |  | N | Abutment supported retainer | 0.00 | 0.00 | 0.00 | 0.00 | 0.00 | 0.00 | XXX
D6073 |  | N | Abutment supported retainer | 0.00 | 0.00 | 0.00 | 0.00 | 0.00 | 0.00 | XXX
D6074 |  | N | Abutment supported retainer | 0.00 | 0.00 | 0.00 | 0.00 | 0.00 | 0.00 | XXX
D6075 |  | N | Implant supported retainer | 0.00 | 0.00 | 0.00 | 0.00 | 0.00 | 0.00 | XXX
D6076 |  | N | Implant supported retainer | 0.00 | 0.00 | 0.00 | 0.00 | 0.00 | 0.00 | XXX
D6077 |  | N | Implant supported retainer | 0.00 | 0.00 | 0.00 | 0.00 | 0.00 | 0.00 | XXX
D6078 |  | N | Implnt/abut suprtd fixd dent | 0.00 | 0.00 | 0.00 | 0.00 | 0.00 | 0.00 | XXX
D6079 |  | N | Implnt/abut suprtd fixd dent | 0.00 | 0.00 | 0.00 | 0.00 | 0.00 | 0.00 | XXX
D6080 |  | I | Implant maintenance | 0.00 | 0.00 | 0.00 | 0.00 | 0.00 | 0.00 | XXX
D6090 |  | I | Repair implant | 0.00 | 0.00 | 0.00 | 0.00 | 0.00 | 0.00 | XXX
D6095 |  | I | Odontics repr abutment | 0.00 | 0.00 | 0.00 | 0.00 | 0.00 | 0.00 | XXX
D6100 |  | I | Removal of implant | 0.00 | 0.00 | 0.00 | 0.00 | 0.00 | 0.00 | XXX
D6199 |  | I | Implant procedure | 0.00 | 0.00 | 0.00 | 0.00 | 0.00 | 0.00 | XXX
D6210 |  | N | Prosthodont high noble metal | 0.00 | 0.00 | 0.00 | 0.00 | 0.00 | 0.00 | XXX
D6211 |  | N | Bridge base metal cast | 0.00 | 0.00 | 0.00 | 0.00 | 0.00 | 0.00 | XXX
D6212 |  | N | Bridge noble metal cast | 0.00 | 0.00 | 0.00 | 0.00 | 0.00 | 0.00 | XXX
D6240 |  | N | Bridge porcelain high noble | 0.00 | 0.00 | 0.00 | 0.00 | 0.00 | 0.00 | XXX
D6241 |  | N | Bridge porcelain base metal | 0.00 | 0.00 | 0.00 | 0.00 | 0.00 | 0.00 | XXX
D6242 |  | N | Bridge porcelain nobel metal | 0.00 | 0.00 | 0.00 | 0.00 | 0.00 | 0.00 | XXX
D6245 |  | N | Bridge porcelain/ceramic | 0.00 | 0.00 | 0.00 | 0.00 | 0.00 | 0.00 | XXX
D6250 |  | N | Bridge resin w/high noble | 0.00 | 0.00 | 0.00 | 0.00 | 0.00 | 0.00 | XXX
D6251 |  | N | Bridge resin base metal | 0.00 | 0.00 | 0.00 | 0.00 | 0.00 | 0.00 | XXX
D6252 |  | N | Bridge resin w/noble metal | 0.00 | 0.00 | 0.00 | 0.00 | 0.00 | 0.00 | XXX
D6519 |  | N | Inlay/onlay porce/ceramic | 0.00 | 0.00 | 0.00 | 0.00 | 0.00 | 0.00 | XXX
D6520 |  | N | Dental retainer two surfaces | 0.00 | 0.00 | 0.00 | 0.00 | 0.00 | 0.00 | XXX
D6530 |  | N | Retainer metallic 3+ surface | 0.00 | 0.00 | 0.00 | 0.00 | 0.00 | 0.00 | XXX
D6543 |  | N | Dental retainr onlay 3 surf | 0.00 | 0.00 | 0.00 | 0.00 | 0.00 | 0.00 | XXX
D6544 |  | N | Dental retainr onlay 4/more | 0.00 | 0.00 | 0.00 | 0.00 | 0.00 | 0.00 | XXX
D6545 |  | N | Dental retainr cast metl | 0.00 | 0.00 | 0.00 | 0.00 | 0.00 | 0.00 | XXX
D6548 |  | N | Porcelain/ceramic retainer | 0.00 | 0.00 | 0.00 | 0.00 | 0.00 | 0.00 | XXX
D6720 |  | N | Retain crown resin w hi nble | 0.00 | 0.00 | 0.00 | 0.00 | 0.00 | 0.00 | XXX
D6721 |  | N | Crown resin w/base metal | 0.00 | 0.00 | 0.00 | 0.00 | 0.00 | 0.00 | XXX
D6722 |  | N | Crown resin w/noble metal | 0.00 | 0.00 | 0.00 | 0.00 | 0.00 | 0.00 | XXX
D6740 |  | N | Crown porcelain/ceramic | 0.00 | 0.00 | 0.00 | 0.00 | 0.00 | 0.00 | XXX
D6750 |  | N | Crown porcelain high noble | 0.00 | 0.00 | 0.00 | 0.00 | 0.00 | 0.00 | XXX
D6751 |  | N | Crown porcelain base metal | 0.00 | 0.00 | 0.00 | 0.00 | 0.00 | 0.00 | XXX
D6752 |  | N | Crown porcelain noble metal | 0.00 | 0.00 | 0.00 | 0.00 | 0.00 | 0.00 | XXX
D6780 |  | N | Crown 3/4 high noble metal | 0.00 | 0.00 | 0.00 | 0.00 | 0.00 | 0.00 | XXX
D6781 |  | N | Crown 3/4 cast based metal | 0.00 | 0.00 | 0.00 | 0.00 | 0.00 | 0.00 | XXX
D6782 |  | N | Crown 3/4 cast noble metal | 0.00 | 0.00 | 0.00 | 0.00 | 0.00 | 0.00 | XXX
D6783 |  | N | Crown 3/4 porcelain/ceramic | 0.00 | 0.00 | 0.00 | 0.00 | 0.00 | 0.00 | XXX
D6790 |  | N | Crown full high noble metal | 0.00 | 0.00 | 0.00 | 0.00 | 0.00 | 0.00 | XXX
D6791 |  | N | Crown full base metal cast | 0.00 | 0.00 | 0.00 | 0.00 | 0.00 | 0.00 | XXX
D6792 |  | N | Crown full noble metal cast | 0.00 | 0.00 | 0.00 | 0.00 | 0.00 | 0.00 | XXX
D6920 |  | R | Dental connector bar | 0.00 | 0.00 | 0.00 | 0.00 | 0.00 | 0.00 | YYY
D6930 |  | N | Dental recement bridge | 0.00 | 0.00 | 0.00 | 0.00 | 0.00 | 0.00 | XXX
D6940 |  | N | Stress breaker | 0.00 | 0.00 | 0.00 | 0.00 | 0.00 | 0.00 | XXX
D6950 |  | N | Precision attachment | 0.00 | 0.00 | 0.00 | 0.00 | 0.00 | 0.00 | XXX
D6970 |  | N | Post & core plus retainer | 0.00 | 0.00 | 0.00 | 0.00 | 0.00 | 0.00 | XXX
D6971 |  | N | Cast post bridge retainer | 0.00 | 0.00 | 0.00 | 0.00 | 0.00 | 0.00 | XXX
D6972 |  | N | Prefab post & core plus reta | 0.00 | 0.00 | 0.00 | 0.00 | 0.00 | 0.00 | XXX
D6973 |  | N | Core build up for retainer | 0.00 | 0.00 | 0.00 | 0.00 | 0.00 | 0.00 | XXX
D6975 |  | N | Coping metal | 0.00 | 0.00 | 0.00 | 0.00 | 0.00 | 0.00 | XXX
D6976 |  | N | Each addtnl cast post | 0.00 | 0.00 | 0.00 | 0.00 | 0.00 | 0.00 | XXX
D6977 |  | N | Each addtl prefab post | 0.00 | 0.00 | 0.00 | 0.00 | 0.00 | 0.00 | XXX
D6980 |  | N | Bridge repair | 0.00 | 0.00 | 0.00 | 0.00 | 0.00 | 0.00 | XXX
D6999 |  | N | Fixed prosthodontic proc | 0.00 | 0.00 | 0.00 | 0.00 | 0.00 | 0.00 | XXX
D7110 |  | R | Oral surgery single tooth | 0.00 | 0.00 | 0.00 | 0.00 | 0.00 | 0.00 | YYY
D7120 |  | R | Each add tooth extraction | 0.00 | 0.00 | 0.00 | 0.00 | 0.00 | 0.00 | YYY
D7130 |  | R | Tooth root removal | 0.00 | 0.00 | 0.00 | 0.00 | 0.00 | 0.00 | YYY
D7210 |  | R | Rem imp tooth w mucoper flp | 0.00 | 0.00 | 0.00 | 0.00 | 0.00 | 0.00 | YYY
D7220 |  | R | Impact tooth remov soft tiss | 0.00 | 0.00 | 0.00 | 0.00 | 0.00 | 0.00 | YYY
D7230 |  | R | Impact tooth remov part bony | 0.00 | 0.00 | 0.00 | 0.00 | 0.00 | 0.00 | YYY
D7240 |  | R | Impact tooth remov comp bony | 0.00 | 0.00 | 0.00 | 0.00 | 0.00 | 0.00 | YYY
D7241 |  | R | Impact tooth rem bony w/comp | 0.00 | 0.00 | 0.00 | 0.00 | 0.00 | 0.00 | YYY
D7250 |  | R | Tooth root removal | 0.00 | 0.00 | 0.00 | 0.00 | 0.00 | 0.00 | YYY
D7260 |  | R | Oral antral fistula closure | 0.00 | 0.00 | 0.00 | 0.00 | 0.00 | 0.00 | YYY
D7270 |  | N | Tooth reimplantation | 0.00 | 0.00 | 0.00 | 0.00 | 0.00 | 0.00 | XXX
D7272 |  | N | Tooth transplantation | 0.00 | 0.00 | 0.00 | 0.00 | 0.00 | 0.00 | XXX
D7280 |  | N | Exposure impact tooth orthod | 0.00 | 0.00 | 0.00 | 0.00 | 0.00 | 0.00 | XXX
D7281 |  | N | Exposure tooth aid eruption | 0.00 | 0.00 | 0.00 | 0.00 | 0.00 | 0.00 | XXX
D7285 |  | I | Biopsy of oral tissue hard | 0.00 | 0.00 | 0.00 | 0.00 | 0.00 | 0.00 | XXX
D7286 |  | I | Biopsy of oral tissue soft | 0.00 | 0.00 | 0.00 | 0.00 | 0.00 | 0.00 | XXX
D7290 |  | N | Repositioning of teeth | 0.00 | 0.00 | 0.00 | 0.00 | 0.00 | 0.00 | XXX
D7291 |  | R | Transseptal fiberotomy | 0.00 | 0.00 | 0.00 | 0.00 | 0.00 | 0.00 | YYY
D7310 |  | I | Alveoplasty w/ extraction | 0.00 | 0.00 | 0.00 | 0.00 | 0.00 | 0.00 | XXX
D7320 |  | I | Alveoplasty w/o extraction | 0.00 | 0.00 | 0.00 | 0.00 | 0.00 | 0.00 | XXX
D7340 |  | I | Vestibuloplasty ridge extens | 0.00 | 0.00 | 0.00 | 0.00 | 0.00 | 0.00 | XXX
D7350 |  | I | Vestibuloplasty exten graft | 0.00 | 0.00 | 0.00 | 0.00 | 0.00 | 0.00 | XXX
D7410 |  | I | Rad exc lesion up to 1.25 cm | 0.00 | 0.00 | 0.00 | 0.00 | 0.00 | 0.00 | XXX
D7420 |  | I | Lesion > 1.25 cm | 0.00 | 0.00 | 0.00 | 0.00 | 0.00 | 0.00 | XXX
D7430 |  | I | Exc benign tumor to 1.25 cm | 0.00 | 0.00 | 0.00 | 0.00 | 0.00 | 0.00 | XXX
D7431 |  | I | Benign tumor exc > 1.25 cm | 0.00 | 0.00 | 0.00 | 0.00 | 0.00 | 0.00 | XXX
D7440 |  | I | Malig tumor exc to 1.25 cm | 0.00 | 0.00 | 0.00 | 0.00 | 0.00 | 0.00 | XXX
D7441 |  | I | Malig tumor > 1.25 cm | 0.00 | 0.00 | 0.00 | 0.00 | 0.00 | 0.00 | XXX
D7450 |  | I | Rem odontogen cyst to 1.25cm | 0.00 | 0.00 | 0.00 | 0.00 | 0.00 | 0.00 | XXX
D7451 |  | I | Rem odontogen cyst > 1.25 cm | 0.00 | 0.00 | 0.00 | 0.00 | 0.00 | 0.00 | XXX
D7460 |  | I | Rem nonodonto cyst to 1.25cm | 0.00 | 0.00 | 0.00 | 0.00 | 0.00 | 0.00 | XXX
D7461 |  | I | Rem nonodonto cyst > 1.25 cm | 0.00 | 0.00 | 0.00 | 0.00 | 0.00 | 0.00 | XXX
D7465 |  | I | Lesion destruction | 0.00 | 0.00 | 0.00 | 0.00 | 0.00 | 0.00 | XXX
D7471 |  | I | Rem exostosis any site | 0.00 | 0.00 | 0.00 | 0.00 | 0.00 | 0.00 | XXX
D7480 |  | I | Partial ostectomy | 0.00 | 0.00 | 0.00 | 0.00 | 0.00 | 0.00 | XXX
D7490 |  | I | Mandible resection | 0.00 | 0.00 | 0.00 | 0.00 | 0.00 | 0.00 | XXX
D7510 |  | I | I&d absc intraoral soft tiss | 0.00 | 0.00 | 0.00 | 0.00 | 0.00 | 0.00 | XXX
D7520 |  | I | I&d abscess extraoral | 0.00 | 0.00 | 0.00 | 0.00 | 0.00 | 0.00 | XXX
D7530 |  | I | Removal fb skin/areolar tiss | 0.00 | 0.00 | 0.00 | 0.00 | 0.00 | 0.00 | XXX
D7540 |  | I | Removal of fb reaction | 0.00 | 0.00 | 0.00 | 0.00 | 0.00 | 0.00 | XXX
D7550 |  | I | Removal of sloughed off bone | 0.00 | 0.00 | 0.00 | 0.00 | 0.00 | 0.00 | XXX
D7560 |  | I | Maxillary sinusotomy | 0.00 | 0.00 | 0.00 | 0.00 | 0.00 | 0.00 | XXX
D7610 |  | I | Maxilla open reduct simple | 0.00 | 0.00 | 0.00 | 0.00 | 0.00 | 0.00 | XXX
D7620 |  | I | Clsd reduct simpl maxilla fx | 0.00 | 0.00 | 0.00 | 0.00 | 0.00 | 0.00 | XXX
D7630 |  | I | Open red simpl mandible fx | 0.00 | 0.00 | 0.00 | 0.00 | 0.00 | 0.00 | XXX
D7640 |  | I | Clsd red simpl mandible fx | 0.00 | 0.00 | 0.00 | 0.00 | 0.00 | 0.00 | XXX
D7650 |  | I | Open red simp malar/zygom fx | 0.00 | 0.00 | 0.00 | 0.00 | 0.00 | 0.00 | XXX
D7660 |  | I | Clsd red simp malar/zygom fx | 0.00 | 0.00 | 0.00 | 0.00 | 0.00 | 0.00 | XXX
D7670 |  | I | Closd rductn splint alveolus | 0.00 | 0.00 | 0.00 | 0.00 | 0.00 | 0.00 | XXX
D7680 |  | I | Reduct simple facial bone fx | 0.00 | 0.00 | 0.00 | 0.00 | 0.00 | 0.00 | XXX
D7710 |  | I | Maxilla open reduct compound | 0.00 | 0.00 | 0.00 | 0.00 | 0.00 | 0.00 | XXX
D7720 |  | I | Clsd reduct compd maxilla fx | 0.00 | 0.00 | 0.00 | 0.00 | 0.00 | 0.00 | XXX
D7730 |  | I | Open reduct compd mandble fx | 0.00 | 0.00 | 0.00 | 0.00 | 0.00 | 0.00 | XXX
D7740 |  | I | Clsd reduct compd mandble fx | 0.00 | 0.00 | 0.00 | 0.00 | 0.00 | 0.00 | XXX
D7750 |  | I | Open red comp malar/zygma fx | 0.00 | 0.00 | 0.00 | 0.00 | 0.00 | 0.00 | XXX
D7760 |  | I | Clsd red comp malar/zygma fx | 0.00 | 0.00 | 0.00 | 0.00 | 0.00 | 0.00 | XXX
D7770 |  | I | Open reduc compd alveolus fx | 0.00 | 0.00 | 0.00 | 0.00 | 0.00 | 0.00 | XXX
D7780 |  | I | Reduct compnd facial bone fx | 0.00 | 0.00 | 0.00 | 0.00 | 0.00 | 0.00 | XXX
D7810 |  | I | Tmj open reduct-dislocation | 0.00 | 0.00 | 0.00 | 0.00 | 0.00 | 0.00 | XXX
D7820 |  | I | Closed tmp manipulation | 0.00 | 0.00 | 0.00 | 0.00 | 0.00 | 0.00 | XXX
D7830 |  | I | Tmj manipulation under anest | 0.00 | 0.00 | 0.00 | 0.00 | 0.00 | 0.00 | XXX
D7840 |  | I | Removal of tmj condyle | 0.00 | 0.00 | 0.00 | 0.00 | 0.00 | 0.00 | XXX
D7850 |  | I | Tmj meniscectomy | 0.00 | 0.00 | 0.00 | 0.00 | 0.00 | 0.00 | XXX
D7852 |  | I | Tmj repair of joint disc | 0.00 | 0.00 | 0.00 | 0.00 | 0.00 | 0.00 | XXX
D7854 |  | I | Tmj excisn of joint membrane | 0.00 | 0.00 | 0.00 | 0.00 | 0.00 | 0.00 | XXX
D7856 |  | I | Tmj cutting of a muscle | 0.00 | 0.00 | 0.00 | 0.00 | 0.00 | 0.00 | XXX
D7858 |  | I | Tmj reconstruction | 0.00 | 0.00 | 0.00 | 0.00 | 0.00 | 0.00 | XXX
D7860 |  | I | Tmj cutting into joint | 0.00 | 0.00 | 0.00 | 0.00 | 0.00 | 0.00 | XXX
D7865 |  | I | Tmj reshaping components | 0.00 | 0.00 | 0.00 | 0.00 | 0.00 | 0.00 | XXX
D7870 |  | I | Tmj aspiration joint fluid | 0.00 | 0.00 | 0.00 | 0.00 | 0.00 | 0.00 | XXX
D7871 |  | N | Lysis + lavage w catheters | 0.00 | 0.00 | 0.00 | 0.00 | 0.00 | 0.00 | XXX
D7872 |  | I | Tmj diagnostic arthroscopy | 0.00 | 0.00 | 0.00 | 0.00 | 0.00 | 0.00 | XXX
D7873 |  | I | Tmj arthroscopy lysis adhesn | 0.00 | 0.00 | 0.00 | 0.00 | 0.00 | 0.00 | XXX
D7874 |  | I | Tmj arthroscopy disc reposit | 0.00 | 0.00 | 0.00 | 0.00 | 0.00 | 0.00 | XXX
D7875 |  | I | Tmj arthroscopy synovectomy | 0.00 | 0.00 | 0.00 | 0.00 | 0.00 | 0.00 | XXX
D7876 |  | I | Tmj arthroscopy discectomy | 0.00 | 0.00 | 0.00 | 0.00 | 0.00 | 0.00 | XXX
D7877 |  | I | Tmj arthroscopy debridement | 0.00 | 0.00 | 0.00 | 0.00 | 0.00 | 0.00 | XXX
D7880 |  | I | Occlusal orthotic appliance | 0.00 | 0.00 | 0.00 | 0.00 | 0.00 | 0.00 | XXX
D7899 |  | I | Tmj unspecified therapy | 0.00 | 0.00 | 0.00 | 0.00 | 0.00 | 0.00 | XXX
D7910 |  | I | Dent sutur recent wnd to 5cm | 0.00 | 0.00 | 0.00 | 0.00 | 0.00 | 0.00 | XXX
D7911 |  | I | Dental suture wound to 5 cm | 0.00 | 0.00 | 0.00 | 0.00 | 0.00 | 0.00 | XXX
D7912 |  | I | Suture complicate wnd > 5 cm | 0.00 | 0.00 | 0.00 | 0.00 | 0.00 | 0.00 | XXX
D7920 |  | I | Dental skin graft | 0.00 | 0.00 | 0.00 | 0.00 | 0.00 | 0.00 | XXX
D7940 |  | R | Reshaping bone orthognathic | 0.00 | 0.00 | 0.00 | 0.00 | 0.00 | 0.00 | YYY
D7941 |  | I | Bone cutting ramus closed | 0.00 | 0.00 | 0.00 | 0.00 | 0.00 | 0.00 | XXX
D7943 |  | I | Cutting ramus open w/graft | 0.00 | 0.00 | 0.00 | 0.00 | 0.00 | 0.00 | XXX
D7944 |  | I | Bone cutting segmented | 0.00 | 0.00 | 0.00 | 0.00 | 0.00 | 0.00 | XXX
D7945 |  | I | Bone cutting body mandible | 0.00 | 0.00 | 0.00 | 0.00 | 0.00 | 0.00 | XXX
D7946 |  | I | Reconstruction maxilla total | 0.00 | 0.00 | 0.00 | 0.00 | 0.00 | 0.00 | XXX
D7947 |  | I | Reconstruct maxilla segment | 0.00 | 0.00 | 0.00 | 0.00 | 0.00 | 0.00 | XXX
D7948 |  | I | Reconstruct midface no graft | 0.00 | 0.00 | 0.00 | 0.00 | 0.00 | 0.00 | XXX
D7949 |  | I | Reconstruct midface w/graft | 0.00 | 0.00 | 0.00 | 0.00 | 0.00 | 0.00 | XXX
D7950 |  | I | Mandible graft | 0.00 | 0.00 | 0.00 | 0.00 | 0.00 | 0.00 | XXX
D7955 |  | I | Repair maxillofacial defects | 0.00 | 0.00 | 0.00 | 0.00 | 0.00 | 0.00 | XXX
D7960 |  | I | Frenulectomy/frenulotomy | 0.00 | 0.00 | 0.00 | 0.00 | 0.00 | 0.00 | XXX
D7970 |  | I | Excision hyperplastic tissue | 0.00 | 0.00 | 0.00 | 0.00 | 0.00 | 0.00 | XXX
D7971 |  | I | Excision pericoronal gingiva | 0.00 | 0.00 | 0.00 | 0.00 | 0.00 | 0.00 | XXX
D7980 |  | I | Sialolithotomy | 0.00 | 0.00 | 0.00 | 0.00 | 0.00 | 0.00 | XXX
D7981 |  | I | Excision of salivary gland | 0.00 | 0.00 | 0.00 | 0.00 | 0.00 | 0.00 | XXX
D7982 |  | I | Sialodochoplasty | 0.00 | 0.00 | 0.00 | 0.00 | 0.00 | 0.00 | XXX
D7983 |  | I | Closure of salivary fistula | 0.00 | 0.00 | 0.00 | 0.00 | 0.00 | 0.00 | XXX
D7990 |  | I | Emergency tracheotomy | 0.00 | 0.00 | 0.00 | 0.00 | 0.00 | 0.00 | XXX
D7991 |  | I | Dental coronoidectomy | 0.00 | 0.00 | 0.00 | 0.00 | 0.00 | 0.00 | XXX
D7995 |  | I | Synthetic graft facial bones | 0.00 | 0.00 | 0.00 | 0.00 | 0.00 | 0.00 | XXX
D7996 |  | I | Implant mandible for augment | 0.00 | 0.00 | 0.00 | 0.00 | 0.00 | 0.00 | XXX
D7997 |  | N | Appliance removal | 0.00 | 0.00 | 0.00 | 0.00 | 0.00 | 0.00 | XXX
D7999 |  | I | Oral surgery procedure | 0.00 | 0.00 | 0.00 | 0.00 | 0.00 | 0.00 | XXX
D8010 |  | N | Limited dental tx primary | 0.00 | 0.00 | 0.00 | 0.00 | 0.00 | 0.00 | XXX
D8020 |  | N | Limited dental tx transition | 0.00 | 0.00 | 0.00 | 0.00 | 0.00 | 0.00 | XXX
D8030 |  | N | Limited dental tx adolescent | 0.00 | 0.00 | 0.00 | 0.00 | 0.00 | 0.00 | XXX
D8040 |  | N | Limited dental tx adult | 0.00 | 0.00 | 0.00 | 0.00 | 0.00 | 0.00 | XXX
D8050 |  | N | Intercep dental tx primary | 0.00 | 0.00 | 0.00 | 0.00 | 0.00 | 0.00 | XXX
D8060 |  | N | Intercep dental tx transitn | 0.00 | 0.00 | 0.00 | 0.00 | 0.00 | 0.00 | XXX
D8070 |  | N | Compre dental tx transition | 0.00 | 0.00 | 0.00 | 0.00 | 0.00 | 0.00 | XXX
D8080 |  | N | Compre dental tx adolescent | 0.00 | 0.00 | 0.00 | 0.00 | 0.00 | 0.00 | XXX
D8090 |  | N | Compre dental tx adult | 0.00 | 0.00 | 0.00 | 0.00 | 0.00 | 0.00 | XXX
D8210 |  | N | Orthodontic rem appliance tx | 0.00 | 0.00 | 0.00 | 0.00 | 0.00 | 0.00 | XXX
D8220 |  | N | Fixed appliance therapy habt | 0.00 | 0.00 | 0.00 | 0.00 | 0.00 | 0.00 | XXX
D8660 |  | N | Preorthodontic tx visit | 0.00 | 0.00 | 0.00 | 0.00 | 0.00 | 0.00 | XXX
D8670 |  | N | Periodic orthodontc tx visit | 0.00 | 0.00 | 0.00 | 0.00 | 0.00 | 0.00 | XXX
D8680 |  | N | Orthodontic retention | 0.00 | 0.00 | 0.00 | 0.00 | 0.00 | 0.00 | XXX
D8690 |  | N | Orthodontic treatment | 0.00 | 0.00 | 0.00 | 0.00 | 0.00 | 0.00 | XXX
D8691 |  | N | Repair ortho appliance | 0.00 | 0.00 | 0.00 | 0.00 | 0.00 | 0.00 | XXX
D8692 |  | N | Replacement retainer | 0.00 | 0.00 | 0.00 | 0.00 | 0.00 | 0.00 | XXX
D8999 |  | N | Orthodontic procedure | 0.00 | 0.00 | 0.00 | 0.00 | 0.00 | 0.00 | XXX
D9110 |  | R | Tx dental pain minor proc | 0.00 | 0.00 | 0.00 | 0.00 | 0.00 | 0.00 | YYY
D9210 |  | I | Dent anesthesia w/o surgery | 0.00 | 0.00 | 0.00 | 0.00 | 0.00 | 0.00 | XXX
D9211 |  | I | Regional block anesthesia | 0.00 | 0.00 | 0.00 | 0.00 | 0.00 | 0.00 | XXX
D9212 |  | I | Trigeminal block anesthesia | 0.00 | 0.00 | 0.00 | 0.00 | 0.00 | 0.00 | XXX
D9215 |  | I | Local anesthesia | 0.00 | 0.00 | 0.00 | 0.00 | 0.00 | 0.00 | XXX
D9220 |  | I | General anesthesia | 0.00 | 0.00 | 0.00 | 0.00 | 0.00 | 0.00 | XXX
D9221 |  | I | General anesthesia ea ad 15m | 0.00 | 0.00 | 0.00 | 0.00 | 0.00 | 0.00 | XXX
D9230 |  | R | Analgesia | 0.00 | 0.00 | 0.00 | 0.00 | 0.00 | 0.00 | YYY
D9241 |  | I | Intravenous sedation | 0.00 | 0.00 | 0.00 | 0.00 | 0.00 | 0.00 | XXX
D9242 |  | I | IV sedation ea ad 30 m | 0.00 | 0.00 | 0.00 | 0.00 | 0.00 | 0.00 | XXX
D9248 |  | R | Sedation (non-iv) | 0.00 | 0.00 | 0.00 | 0.00 | 0.00 | 0.00 | XXX
D9310 |  | I | Dental consultation | 0.00 | 0.00 | 0.00 | 0.00 | 0.00 | 0.00 | XXX
D9410 |  | I | Dental house call | 0.00 | 0.00 | 0.00 | 0.00 | 0.00 | 0.00 | XXX
D9420 |  | I | Hospital call | 0.00 | 0.00 | 0.00 | 0.00 | 0.00 | 0.00 | XXX
D9430 |  | I | Office visit during hours | 0.00 | 0.00 | 0.00 | 0.00 | 0.00 | 0.00 | XXX
D9440 |  | I | Office visit after hours | 0.00 | 0.00 | 0.00 | 0.00 | 0.00 | 0.00 | XXX
D9610 |  | I | Dent therapeutic drug inject | 0.00 | 0.00 | 0.00 | 0.00 | 0.00 | 0.00 | XXX
D9630 |  | R | Other drugs/medicaments | 0.00 | 0.00 | 0.00 | 0.00 | 0.00 | 0.00 | YYY
D9910 |  | N | Dent appl desensitizing med | 0.00 | 0.00 | 0.00 | 0.00 | 0.00 | 0.00 | XXX
D9911 |  | N | Appl desensitizing resin | 0.00 | 0.00 | 0.00 | 0.00 | 0.00 | 0.00 | XXX
D9920 |  | N | Behavior management | 0.00 | 0.00 | 0.00 | 0.00 | 0.00 | 0.00 | XXX
D9930 |  | R | Treatment of complications | 0.00 | 0.00 | 0.00 | 0.00 | 0.00 | 0.00 | YYY
D9940 |  | R | Dental occlusal guard | 0.00 | 0.00 | 0.00 | 0.00 | 0.00 | 0.00 | YYY
D9941 |  | N | Fabrication athletic guard | 0.00 | 0.00 | 0.00 | 0.00 | 0.00 | 0.00 | XXX
D9950 |  | R | Occlusion analysis | 0.00 | 0.00 | 0.00 | 0.00 | 0.00 | 0.00 | YYY
D9951 |  | R | Limited occlusal adjustment | 0.00 | 0.00 | 0.00 | 0.00 | 0.00 | 0.00 | YYY
D9952 |  | R | Complete occlusal adjustment | 0.00 | 0.00 | 0.00 | 0.00 | 0.00 | 0.00 | YYY
D9970 |  | N | Enamel microabrasion | 0.00 | 0.00 | 0.00 | 0.00 | 0.00 | 0.00 | XXX
D9971 |  | N | Odontoplasty 1-2 teeth | 0.00 | 0.00 | 0.00 | 0.00 | 0.00 | 0.00 | XXX
D9972 |  | N | Extrnl bleaching per arch | 0.00 | 0.00 | 0.00 | 0.00 | 0.00 | 0.00 | XXX
D9973 |  | N | Extrnl bleaching per tooth | 0.00 | 0.00 | 0.00 | 0.00 | 0.00 | 0.00 | XXX
D9974 |  | N | Intrnl bleaching per tooth | 0.00 | 0.00 | 0.00 | 0.00 | 0.00 | 0.00 | XXX
D9999 |  | I | Adjunctive procedure | 0.00 | 0.00 | 0.00 | 0.00 | 0.00 | 0.00 | XXX
G0001 |  | X | Drawing blood for specimen | 0.00 | 0.00 | 0.00 | 0.00 | 0.00 | 0.00 | XXX
G0002 |  | A | Temporary urinary catheter | 0.50 | 0.17 | 3.10 | 0.03 | 0.70 | 3.63 | 000
G0004 |  | A | ECG transm phys review & int | 0.52 | NA | 7.35 | 0.45 | NA | 8.32 | XXX
G0005 |  | A | ECG 24 hour recording | 0.00 | NA | 1.22 | 0.07 | NA | 1.29 | XXX
G0006 |  | A | ECG transmission & analysis | 0.00 | NA | 5.92 | 0.36 | NA | 6.28 | XXX
G0007 |  | A | ECG phy review & interpret | 0.52 | 0.21 | 0.21 | 0.02 | 0.75 | 0.75 | XXX
G0008 |  | X | Admin influenza virus vac | 0.00 | 0.00 | 0.00 | 0.00 | 0.00 | 0.00 | XXX
G0009 |  | X | Admin pneumococcal vaccine | 0.00 | 0.00 | 0.00 | 0.00 | 0.00 | 0.00 | XXX
G0010 |  | X | Admin hepatitis b vaccine | 0.00 | 0.00 | 0.00 | 0.00 | 0.00 | 0.00 | XXX
G0015 |  | A | Post symptom ECG tracing | 0.00 | NA | 5.92 | 0.36 | NA | 6.28 | XXX
G0016 |  | A | Post symptom ECG md review | 0.52 | 0.23 | 0.23 | 0.02 | 0.77 | 0.77 | XXX
G0025 |  | B | Collagen skin test kit | 0.00 | 0.00 | 0.00 | 0.00 | 0.00 | 0.00 | XXX
G0026 |  | X | Fecal leukocyte examination | 0.00 | 0.00 | 0.00 | 0.00 | 0.00 | 0.00 | XXX
G0027 |  | X | Semen analysis | 0.00 | 0.00 | 0.00 | 0.00 | 0.00 | 0.00 | XXX
G0030 |  | C | PET imaging prev PET single | 0.00 | NA | 0.00 | 0.00 | NA | 0.00 | XXX
G0030 | 26 | A | PET imaging prev PET single | 1.50 | 0.52 | 0.52 | 0.04 | 2.06 | 2.06 | XXX
G0030 | TC | C | PET imaging prev PET single | 0.00 | NA | 0.00 | 0.00 | NA | 0.00 | XXX
G0031 |  | C | PET imaging prev PET multple | 0.00 | NA | 0.00 | 0.00 | NA | 0.00 | XXX
G0031 | 26 | A | PET imaging prev PET multple | 1.87 | 0.70 | 0.70 | 0.06 | 2.63 | 2.63 | XXX
G0031 | TC | C | PET imaging prev PET multple | 0.00 | NA | 0.00 | 0.00 | NA | 0.00 | XXX
G0032 |  | C | PET follow SPECT 78464 singl | 0.00 | NA | 0.00 | 0.00 | NA | 0.00 | XXX
G0032 | 26 | A | PET follow SPECT 78464 singl | 1.50 | 0.52 | 0.52 | 0.05 | 2.07 | 2.07 | XXX
G0032 | TC | C | PET follow SPECT 78464 singl | 0.00 | NA | 0.00 | 0.00 | NA | 0.00 | XXX
G0033 |  | C | PET follow SPECT 78464 mult | 0.00 | NA | 0.00 | 0.00 | NA | 0.00 | XXX
G0033 | 26 | A | PET follow SPECT 78464 mult | 1.87 | 0.70 | 0.70 | 0.06 | 2.63 | 2.63 | XXX
G0033 | TC | C | PET follow SPECT 78464 mult | 0.00 | NA | 0.00 | 0.00 | NA | 0.00 | XXX
G0034 |  | C | PET follow SPECT 76865 singl | 0.00 | NA | 0.00 | 0.00 | NA | 0.00 | XXX
G0034 | 26 | A | PET follow SPECT 76865 singl | 1.50 | 0.52 | 0.52 | 0.05 | 2.07 | 2.07 | XXX
G0034 | TC | C | PET follow SPECT 76865 singl | 0.00 | NA | 0.00 | 0.00 | NA | 0.00 | XXX
G0035 |  | C | PET follow SPECT 78465 mult | 0.00 | NA | 0.00 | 0.00 | NA | 0.00 | XXX
G0035 | 26 | A | PET follow SPECT 78465 mult | 1.87 | 0.70 | 0.70 | 0.06 | 2.63 | 2.63 | XXX
G0035 | TC | C | PET follow SPECT 78465 mult | 0.00 | NA | 0.00 | 0.00 | NA | 0.00 | XXX
G0036 |  | C | PET follow cornry angio sing | 0.00 | NA | 0.00 | 0.00 | NA | 0.00 | XXX
G0036 | 26 | A | PET follow cornry angio sing | 1.50 | 0.52 | 0.52 | 0.04 | 2.06 | 2.06 | XXX
G0036 | TC | C | PET follow cornry angio sing | 0.00 | NA | 0.00 | 0.00 | NA | 0.00 | XXX
G0037 |  | C | PET follow cornry angio mult | 0.00 | NA | 0.00 | 0.00 | NA | 0.00 | XXX
G0037 | 26 | A | PET follow cornry angio mult | 1.87 | 0.70 | 0.70 | 0.06 | 2.63 | 2.63 | XXX
G0037 | TC | C | PET follow cornry angio mult | 0.00 | NA | 0.00 | 0.00 | NA | 0.00 | XXX
G0038 |  | C | PET follow myocard perf sing | 0.00 | NA | 0.00 | 0.00 | NA | 0.00 | XXX
G0038 | 26 | A | PET follow myocard perf sing | 1.50 | 0.52 | 0.52 | 0.04 | 2.06 | 2.06 | XXX
G0038 | TC | C | PET follow myocard perf sing | 0.00 | NA | 0.00 | 0.00 | NA | 0.00 | XXX
G0039 |  | C | PET follow myocard perf mult | 0.00 | NA | 0.00 | 0.00 | NA | 0.00 | XXX
G0039 | 26 | A | PET follow myocard perf mult | 1.87 | 0.70 | 0.70 | 0.07 | 2.64 | 2.64 | XXX
G0039 | TC | C | PET follow myocard perf mult | 0.00 | NA | 0.00 | 0.00 | NA | 0.00 | XXX
G0040 |  | C | PET follow stress echo singl | 0.00 | NA | 0.00 | 0.00 | NA | 0.00 | XXX
G0040 | 26 | A | PET follow stress echo singl | 1.50 | 0.52 | 0.52 | 0.04 | 2.06 | 2.06 | XXX
G0040 | TC | C | PET follow stress echo singl | 0.00 | NA | 0.00 | 0.00 | NA | 0.00 | XXX
G0041 |  | C | PET follow stress echo mult | 0.00 | NA | 0.00 | 0.00 | NA | 0.00 | XXX
G0041 | 26 | A | PET follow stress echo mult | 1.87 | 0.70 | 0.70 | 0.05 | 2.62 | 2.62 | XXX
G0041 | TC | C | PET follow stress echo mult | 0.00 | NA | 0.00 | 0.00 | NA | 0.00 | XXX
G0042 |  | C | PET follow ventriculogm sing | 0.00 | NA | 0.00 | 0.00 | NA | 0.00 | XXX
G0042 | 26 | A | PET follow ventriculogm sing | 1.50 | 0.52 | 0.52 | 0.04 | 2.06 | 2.06 | XXX
G0042 | TC | C | PET follow ventriculogm sing | 0.00 | NA | 0.00 | 0.00 | NA | 0.00 | XXX
G0043 |  | C | PET follow ventriculogm mult | 0.00 | NA | 0.00 | 0.00 | NA | 0.00 | XXX
G0043 | 26 | A | PET follow ventriculogm mult | 1.87 | 0.70 | 0.70 | 0.06 | 2.63 | 2.63 | XXX
G0043 | TC | C | PET follow ventriculogm mult | 0.00 | NA | 0.00 | 0.00 | NA | 0.00 | XXX
G0044 |  | C | PET following rest ECG singl | 0.00 | NA | 0.00 | 0.00 | NA | 0.00 | XXX
G0044 | 26 | A | PET following rest ECG singl | 1.50 | 0.52 | 0.52 | 0.04 | 2.06 | 2.06 | XXX
G0044 | TC | C | PET following rest ECG singl | 0.00 | NA | 0.00 | 0.00 | NA | 0.00 | XXX
G0045 |  | C | PET following rest ECG mult | 0.00 | NA | 0.00 | 0.00 | NA | 0.00 | XXX
G0045 | 26 | A | PET following rest ECG mult | 1.87 | 0.70 | 0.70 | 0.06 | 2.63 | 2.63 | XXX
G0045 | TC | C | PET following rest ECG mult | 0.00 | NA | 0.00 | 0.00 | NA | 0.00 | XXX
G0046 |  | C | PET follow stress ECG singl | 0.00 | NA | 0.00 | 0.00 | NA | 0.00 | XXX
G0046 | 26 | A | PET follow stress ECG singl | 1.50 | 0.52 | 0.52 | 0.04 | 2.06 | 2.06 | XXX
G0046 | TC | C | PET follow stress ECG singl | 0.00 | NA | 0.00 | 0.00 | NA | 0.00 | XXX
G0047 |  | C | PET follow stress ECG mult | 0.00 | NA | 0.00 | 0.00 | NA | 0.00 | XXX
G0047 | 26 | A | PET follow stress ECG mult | 1.87 | 0.70 | 0.70 | 0.06 | 2.63 | 2.63 | XXX
G0047 | TC | C | PET follow stress ECG mult | 0.00 | NA | 0.00 | 0.00 | NA | 0.00 | XXX
G0050 |  | A | Residual urine by ultrasound | 0.00 | NA | 0.84 | 0.04 | NA | 0.88 | XXX
G0101 |  | A | CA screen;pelvic/breast exam | 0.45 | 0.18 | 0.69 | 0.01 | 0.64 | 1.15 | XXX
G0102 |  | A | Prostate ca screening; dre | 0.17 | 0.06 | 0.37 | 0.01 | 0.24 | 0.55 | XXX
G0103 |  | X | Psa, total screening | 0.00 | 0.00 | 0.00 | 0.00 | 0.00 | 0.00 | XXX
G0104 |  | A | CA screen;flexi sigmoidscope | 0.88 | 0.45 | 1.88 | 0.05 | 1.38 | 2.81 | 000
G0105 |  | A | Colorectal scrn; hi risk ind | 3.68 | 1.74 | 7.30 | 0.20 | 5.62 | 11.18 | 000
G0106 |  | A | Colon CA screen;barium enema | 0.99 | NA | 2.55 | 0.15 | NA | 3.69 | XXX
G0106 | 26 | A | Colon CA screen;barium enema | 0.99 | 0.35 | 0.35 | 0.04 | 1.38 | 1.38 | XXX
G0106 | TC | A | Colon CA screen;barium enema | 0.00 | NA | 2.20 | 0.11 | NA | 2.31 | XXX
G0107 |  | X | CA screen; fecal blood test | 0.00 | 0.00 | 0.00 | 0.00 | 0.00 | 0.00 | XXX
G0108 |  | A | Diab manage trn per indiv | 0.00 | NA | 1.64 | 0.01 | NA | 1.65 | XXX
G0109 |  | A | Diab manage trn ind/group | 0.00 | NA | 0.96 | 0.01 | NA | 0.97 | XXX
G0110 |  | R | Nett pulm-rehab educ; ind | 0.90 | 0.36 | 0.75 | 0.03 | 1.29 | 1.68 | XXX
G0111 |  | R | Nett pulm-rehab educ; group | 0.27 | 0.11 | 0.29 | 0.01 | 0.39 | 0.57 | XXX
G0112 |  | R | Nett;nutrition guid, initial | 1.72 | 0.68 | 1.48 | 0.05 | 2.45 | 3.25 | XXX
G0113 |  | R | Nett;nutrition guid,subseqnt | 1.29 | 0.51 | 1.15 | 0.04 | 1.84 | 2.48 | XXX
G0114 |  | R | Nett; psychosocial consult | 1.20 | 0.47 | 0.49 | 0.03 | 1.70 | 1.72 | XXX
G0115 |  | R | Nett; psychological testing | 1.20 | 0.38 | 0.71 | 0.04 | 1.62 | 1.95 | XXX
G0116 |  | R | Nett; psychosocial counsel | 1.11 | 0.44 | 1.24 | 0.04 | 1.59 | 2.39 | XXX
G0120 |  | A | Colon ca scrn; barium enema | 0.99 | NA | 2.55 | 0.15 | NA | 3.69 | XXX
G0120 | 26 | A | Colon ca scrn; barium enema | 0.99 | 0.35 | 0.35 | 0.04 | 1.38 | 1.38 | XXX
G0120 | TC | A | Colon ca scrn; barium enema | 0.00 | NA | 2.20 | 0.11 | NA | 2.31 | XXX
G0121 |  | A | Colon ca scrn not hi rsk ind | 3.68 | 1.74 | 7.30 | 0.20 | 5.62 | 11.18 | 000
G0122 |  | N | Colon ca scrn; barium enema | +0.99 | NA | 2.59 | 0.15 | NA | 3.73 | XXX
G0122 | 26 | N | Colon ca scrn; barium enema | +0.99 | 0.39 | 0.39 | 0.04 | 1.42 | 1.42 | XXX
G0122 | TC | N | Colon ca scrn; barium enema | +0.00 | NA | 2.20 | 0.11 | NA | 2.31 | XXX
G0123 |  | X | Screen cerv/vag thin layer | 0.00 | 0.00 | 0.00 | 0.00 | 0.00 | 0.00 | XXX
G0124 |  | A | Screen c/v thin layer by MD | 0.42 | 0.19 | 0.19 | 0.01 | 0.62 | 0.62 | XXX
G0125 |  | A | Lung image (PET) | 1.50 | 0.52 | 56.08 | 2.00 | 4.02 | 59.58 | XXX
G0125 | 26 | A | Lung image (PET) | 1.50 | 0.52 | 0.52 | 0.05 | 2.07 | 2.07 | XXX
G0125 | TC | A | Lung image (PET) | 0.00 | NA | 55.56 | 1.95 | NA | 57.51 | XXX
G0126 |  | A | Lung image (PET) staging | 1.87 | 0.70 | 56.26 | 2.01 | 4.58 | 60.14 | XXX
G0126 | 26 | A | Lung image (PET) staging | 1.87 | 0.70 | 0.70 | 0.06 | 2.63 | 2.63 | XXX
G0126 | TC | A | Lung image (PET) staging | 0.00 | NA | 55.56 | 1.95 | NA | 57.51 | XXX
G0127 |  | R | Trim nail(s) | 0.11 | 0.05 | 0.52 | 0.01 | 0.17 | 0.64 | 000
G0128 |  | R | CORF skilled nursing service | 0.08 | 0.03 | 0.03 | 0.01 | 0.12 | 0.12 | XXX
G0130 |  | A | Single energy x-ray study | 0.22 | NA | 0.90 | 0.05 | NA | 1.17 | XXX
G0130 | 26 | A | Single energy x-ray study | 0.22 | 0.11 | 0.11 | 0.01 | 0.34 | 0.34 | XXX
G0130 | TC | A | Single energy x-ray study | 0.00 | NA | 0.79 | 0.04 | NA | 0.83 | XXX
G0131 |  | A | CT scan, bone density study | 0.25 | NA | 3.18 | 0.14 | NA | 3.57 | XXX
G0131 | 26 | A | CT scan, bone density study | 0.25 | 0.13 | 0.13 | 0.01 | 0.39 | 0.39 | XXX
G0131 | TC | A | CT scan, bone density study | 0.00 | NA | 3.05 | 0.13 | NA | 3.18 | XXX
G0132 |  | A | CT scan, bone density study | 0.22 | NA | 0.90 | 0.05 | NA | 1.17 | XXX
G0132 | 26 | A | CT scan, bone density study | 0.22 | 0.11 | 0.11 | 0.01 | 0.34 | 0.34 | XXX
G0132 | TC | A | CT scan, bone density study | 0.00 | NA | 0.79 | 0.04 | NA | 0.83 | XXX
G0141 |  | A | Scr c/v cyto,autosys and md | 0.42 | 0.19 | 0.19 | 0.01 | 0.62 | 0.62 | XXX
G0143 |  | X | Scr c/v cyto,thinlayer,rescr | 0.00 | 0.00 | 0.00 | 0.00 | 0.00 | 0.00 | XXX
G0144 |  | X | Scr c/v cyto,thinlayer,rescr | 0.00 | 0.00 | 0.00 | 0.00 | 0.00 | 0.00 | XXX
G0145 |  | X | Scr c/v cyto,thinlayer,rescr | 0.00 | 0.00 | 0.00 | 0.00 | 0.00 | 0.00 | XXX
G0147 |  | X | Scr c/v cyto, automated sys | 0.00 | 0.00 | 0.00 | 0.00 | 0.00 | 0.00 | XXX
G0148 |  | X | Scr c/v cyto, autosys, rescr | 0.00 | 0.00 | 0.00 | 0.00 | 0.00 | 0.00 | XXX
G0163 |  | A | Pet for rec of colorectal ca | 1.50 | 0.56 | 56.12 | 2.00 | 4.06 | 59.62 | XXX
G0163 | 26 | A | Pet for rec of colorectal ca | 1.50 | 0.56 | 0.56 | 0.05 | 2.11 | 2.11 | XXX
G0163 | TC | A | Pet for rec of colorectal ca | 0.00 | NA | 55.56 | 1.95 | NA | 57.51 | XXX
G0164 |  | A | Pet for lymphoma staging | 1.87 | 0.69 | 56.25 | 2.01 | 4.57 | 60.13 | XXX
G0164 | 26 | A | Pet for lymphoma staging | 1.87 | 0.69 | 0.69 | 0.06 | 2.62 | 2.62 | XXX
G0164 | TC | A | Pet for lymphoma staging | 0.00 | NA | 55.56 | 1.95 | NA | 57.51 | XXX
G0165 |  | A | Pet,rec of melanoma/met ca | 1.50 | 0.59 | 56.15 | 2.00 | 4.09 | 59.65 | XXX
G0165 | 26 | A | Pet,rec of melanoma/met ca | 1.50 | 0.59 | 0.59 | 0.05 | 2.14 | 2.14 | XXX
G0165 | TC | A | Pet,rec of melanoma/met ca | 0.00 | NA | 55.56 | 1.95 | NA | 57.51 | XXX
G0166 |  | A | Extrnl counterpulse, per tx | 0.07 | 0.03 | 3.75 | 0.01 | 0.11 | 3.83 | XXX
G0167 |  | C | Hyperbaric oz tx;no md reqrd | 0.00 | 0.00 | 0.00 | 0.00 | 0.00 | 0.00 | XXX
G0168 |  | A | Wound closure by adhesive | 0.45 | 0.25 | 1.80 | 0.01 | 0.71 | 2.26 | 000
G0173 |  | X | Stereo radoisurgery,complete | 0.00 | 0.00 | 0.00 | 0.00 | 0.00 | 0.00 | XXX
G0174 |  | X | Intensitymodulatedradiation | 0.00 | 0.00 | 0.00 | 0.00 | 0.00 | 0.00 | XXX
G0175 |  | X | OPPS Service,sched team conf | 0.00 | 0.00 | 0.00 | 0.00 | 0.00 | 0.00 | XXX
G0176 |  | X | OPPS/PHP;activity therapy | 0.00 | 0.00 | 0.00 | 0.00 | 0.00 | 0.00 | XXX
G0177 |  | X | OPPS/PHP; train & educ serv | 0.00 | 0.00 | 0.00 | 0.00 | 0.00 | 0.00 | XXX
G0178 |  | X | Intensitymodulatedradiation | 0.00 | 0.00 | 0.00 | 0.00 | 0.00 | 0.00 | XXX
G0179 |  | A | MD recertification HHA patie | 0.45 | NA | 1.11 | 0.06 | NA | 1.62 | XXX
G0180 |  | A | MD certification HHA patient | 0.67 | NA | 1.19 | 0.06 | NA | 1.92 | XXX
G0181 |  | A | Home health care supervision | 1.73 | NA | 1.45 | 0.06 | NA | 3.24 | XXX
G0182 |  | A | Hospice care supervision | 1.73 | NA | 1.78 | 0.06 | NA | 3.57 | XXX
G0183 |  | X | Ocular photodynamic therapy | 0.00 | 0.00 | 0.00 | 0.00 | 0.00 | 0.00 | XXX
G0184 |  | A | Ocular photodynamic tx, 2nd | 0.47 | 0.23 | 0.23 | 0.50 | 1.20 | 1.20 | ZZZ
G0185 |  | C | Transpuppillary thermotx | 0.00 | 0.00 | 0.00 | 0.00 | 0.00 | 0.00 | YYY
G0186 |  | C | Dstry eye lesn,fdr vssl tech | 0.00 | 0.00 | 0.00 | 0.00 | 0.00 | 0.00 | YYY
G0187 |  | C | Dstry mclr drusen,photocoag | 0.00 | 0.00 | 0.00 | 0.00 | 0.00 | 0.00 | YYY
G0188 |  | C | Xray lwr extrmty-full lngth | 0.00 | NA | 0.00 | 0.00 | NA | 0.00 | XXX
G0188 | 26 | C | Xray lwr extrmty-full lngth | 0.00 | 0.00 | 0.00 | 0.00 | 0.00 | 0.00 | XXX
G0188 | TC | C | Xray lwr extrmty-full lngth | 0.00 | NA | 0.00 | 0.00 | NA | 0.00 | XXX
G0190 |  | X | Immunization administration | 0.00 | 0.00 | 0.00 | 0.00 | 0.00 | 0.00 | XXX
G0191 |  | X | Immunization admin,each add | 0.00 | 0.00 | 0.00 | 0.00 | 0.00 | 0.00 | XXX
G0192 |  | N | Immunization oral/intranasal | 0.00 | 0.00 | 0.00 | 0.00 | 0.00 | 0.00 | XXX
G0193 |  | C | Endoscopicstudyswallowfunctn | 0.00 | 0.00 | 0.00 | 0.00 | 0.00 | 0.00 | XXX
G0194 |  | C | Sensorytestingendoscopicstud | 0.00 | 0.00 | 0.00 | 0.00 | 0.00 | 0.00 | XXX
G0195 |  | A | Clinicalevalswallowingfunct | 1.50 | 0.77 | 2.06 | 0.07 | 2.34 | 3.63 | XXX
G0196 |  | A | Evalofswallowingwithradioopa | 1.50 | 0.77 | 2.06 | 0.07 | 2.34 | 3.63 | XXX
G0197 |  | A | Evalofptforprescipspeechdevi | 1.35 | 0.78 | 1.99 | 0.04 | 2.17 | 3.38 | XXX
G0198 |  | A | Patientadapation&trainforspe | 0.99 | 0.58 | 1.08 | 0.03 | 1.60 | 2.10 | XXX
G0199 |  | A | Reevaluationofpatientusespec | 1.01 | 0.59 | 1.80 | 0.03 | 1.63 | 2.84 | XXX
G0200 |  | A | Evalofpatientprescipofvoicep | 1.35 | 0.78 | 1.99 | 0.04 | 2.17 | 3.38 | XXX
G0201 |  | A | Modifortraininginusevoicepro | 0.99 | 0.58 | 1.08 | 0.03 | 1.60 | 2.10 | XXX
G0202 |  | G | Screen Mammogram, digital | 0.00 | 0.00 | 0.00 | 0.00 | 0.00 | 0.00 | XXX
G0203 |  | G | Scr Mamm, film to digital | 0.00 | 0.00 | 0.00 | 0.00 | 0.00 | 0.00 | XXX
G0204 |  | G | Diag Mamm, digital, bilat | 0.69 | NA | 1.56 | 0.09 | NA | 2.34 | XXX
G0204 | 26 | G | Diag Mamm, digital, bilat | 0.69 | 0.27 | 0.27 | 0.03 | 0.99 | 0.99 | XXX
G0204 | TC | G | Diag Mamm, digital, bilat | 0.00 | NA | 1.29 | 0.06 | NA | 1.35 | XXX
G0205 |  | G | Diag Mamm, film/digit/bil | 0.69 | NA | 1.56 | 0.09 | NA | 2.34 | XXX
G0205 | 26 | G | Diag Mamm, film/digit/bil | 0.69 | 0.27 | 0.27 | 0.03 | 0.99 | 0.99 | XXX
G0205 | TC | G | Diag Mamm, film/digit/bil | 0.00 | NA | 1.29 | 0.06 | NA | 1.35 | XXX
G0206 |  | G | Diag Mamm, digital, uni | 0.58 | NA | 1.27 | 0.08 | NA | 1.93 | XXX
G0206 | 26 | G | Diag Mamm, digital, uni | 0.58 | 0.23 | 0.23 | 0.03 | 0.84 | 0.84 | XXX
G0206 | TC | G | Diag Mamm, digital, uni | 0.00 | NA | 1.04 | 0.05 | NA | 1.09 | XXX
G0207 |  | G | Diag Mamm, film/digit/uni | 0.58 | NA | 1.27 | 0.08 | NA | 1.93 | XXX
G0207 | 26 | G | Diag Mamm, film/digit/uni | 0.58 | 0.23 | 0.23 | 0.03 | 0.84 | 0.84 | XXX
G0207 | TC | G | Diag Mamm, film/digit/uni | 0.00 | NA | 1.04 | 0.05 | NA | 1.09 | XXX
G0210 |  | C | PET img wholebody dxlung ca | 0.00 | NA | 0.00 | 0.00 | NA | 0.00 | XXX
G0210 | 26 | A | PET img wholebody dxlung ca | 1.50 | 0.60 | 0.60 | 0.04 | 2.14 | 2.14 | XXX
G0210 | TC | C | PET img wholebody dxlung ca | 0.00 | NA | 0.00 | 0.00 | NA | 0.00 | XXX
G0211 |  | C | PET img wholebody init lung | 0.00 | NA | 0.00 | 0.00 | NA | 0.00 | XXX
G0211 | 26 | A | PET img wholebody init lung | 1.50 | 0.60 | 0.60 | 0.04 | 2.14 | 2.14 | XXX
G0211 | TC | C | PET img wholebody init lung | 0.00 | NA | 0.00 | 0.00 | NA | 0.00 | XXX
G0212 |  | C | PET img wholebod restag lung | 0.00 | NA | 0.00 | 0.00 | NA | 0.00 | XXX
G0212 | 26 | A | PET img wholebod restag lung | 1.50 | 0.60 | 0.60 | 0.04 | 2.14 | 2.14 | XXX
G0212 | TC | C | PET img wholebod restag lung | 0.00 | NA | 0.00 | 0.00 | NA | 0.00 | XXX
G0213 |  | C | PET img wholebody dx colorec | 0.00 | NA | 0.00 | 0.00 | NA | 0.00 | XXX
G0213 | 26 | A | PET img wholebody dx colorec | 1.50 | 0.60 | 0.60 | 0.04 | 2.14 | 2.14 | XXX
G0213 | TC | C | PET img wholebody dx colorec | 0.00 | NA | 0.00 | 0.00 | NA | 0.00 | XXX
G0214 |  | C | PET img wholebody init color | 0.00 | NA | 0.00 | 0.00 | NA | 0.00 | XXX
G0214 | 26 | A | PET img wholebody init color | 1.50 | 0.60 | 0.60 | 0.04 | 2.14 | 2.14 | XXX
G0214 | TC | C | PET img wholebody init color | 0.00 | NA | 0.00 | 0.00 | NA | 0.00 | XXX
G0215 |  | C | PET img wholebod restag colr | 0.00 | NA | 0.00 | 0.00 | NA | 0.00 | XXX
G0215 | 26 | A | PET img wholebod restag colr | 1.50 | 0.60 | 0.60 | 0.04 | 2.14 | 2.14 | XXX
G0215 | TC | C | PET img wholebod restag colr | 0.00 | NA | 0.00 | 0.00 | NA | 0.00 | XXX
G0216 |  | C | PET img wholebod dx melanoma | 0.00 | NA | 0.00 | 0.00 | NA | 0.00 | XXX
G0216 | 26 | A | PET img wholebod dx melanoma | 1.50 | 0.60 | 0.60 | 0.04 | 2.14 | 2.14 | XXX
G0216 | TC | C | PET img wholebod dx melanoma | 0.00 | NA | 0.00 | 0.00 | NA | 0.00 | XXX
G0217 |  | C | PET img wholbod init melano | 0.00 | NA | 0.00 | 0.00 | NA | 0.00 | XXX
G0217 | 26 | A | PET img wholbod init melano | 1.50 | 0.60 | 0.60 | 0.04 | 2.14 | 2.14 | XXX
G0217 | TC | C | PET img wholbod init melano | 0.00 | NA | 0.00 | 0.00 | NA | 0.00 | XXX
G0218 |  | C | PET img wholebod restag mela | 0.00 | NA | 0.00 | 0.00 | NA | 0.00 | XXX
G0218 | 26 | A | PET img wholebod restag mela | 1.50 | 0.60 | 0.60 | 0.04 | 2.14 | 2.14 | XXX
G0218 | TC | C | PET img wholebod restag mela | 0.00 | NA | 0.00 | 0.00 | NA | 0.00 | XXX
G0219 |  | C | PET img wholbod melano non-c | 0.00 | NA | 0.00 | 0.00 | NA | 0.00 | XXX
G0219 | 26 | A | PET img wholbod melano non-c | 1.50 | 0.60 | 0.60 | 0.04 | 2.14 | 2.14 | XXX
G0219 | TC | C | PET img wholbod melano non-c | 0.00 | NA | 0.00 | 0.00 | NA | 0.00 | XXX
G0220 |  | C | PET img wholebod dx lymphoma | 0.00 | NA | 0.00 | 0.00 | NA | 0.00 | XXX
G0220 | 26 | A | PET img wholebod dx lymphoma | 1.50 | 0.60 | 0.60 | 0.04 | 2.14 | 2.14 | XXX
G0220 | TC | C | PET img wholebod dx lymphoma | 0.00 | NA | 0.00 | 0.00 | NA | 0.00 | XXX
G0221 |  | C | PET img wholbod init lympho | 0.00 | NA | 0.00 | 0.00 | NA | 0.00 | XXX
G0221 | 26 | A | PET img wholbod init lympho | 1.50 | 0.60 | 0.60 | 0.04 | 2.14 | 2.14 | XXX
G0221 | TC | C | PET img wholbod init lympho | 0.00 | NA | 0.00 | 0.00 | NA | 0.00 | XXX
G0222 |  | C | PET img wholbod resta lymph | 0.00 | NA | 0.00 | 0.00 | NA | 0.00 | XXX
G0222 | 26 | A | PET img wholbod resta lymph | 1.50 | 0.60 | 0.60 | 0.04 | 2.14 | 2.14 | XXX
G0222 | TC | C | PET img wholbod resta lymph | 0.00 | NA | 0.00 | 0.00 | NA | 0.00 | XXX
G0223 |  | C | PET imag wholbod reg dx head | 0.00 | NA | 0.00 | 0.00 | NA | 0.00 | XXX
G0223 | 26 | A | PET imag wholbod reg dx head | 1.50 | 0.60 | 0.60 | 0.04 | 2.14 | 2.14 | XXX
G0223 | TC | C | PET imag wholbod reg dx head | 0.00 | NA | 0.00 | 0.00 | NA | 0.00 | XXX
G0224 |  | C | PET imag wholbod req ini hea | 0.00 | NA | 0.00 | 0.00 | NA | 0.00 | XXX
G0224 | 26 | A | PET imag wholbod req ini hea | 1.50 | 0.60 | 0.60 | 0.04 | 2.14 | 2.14 | XXX
G0224 | TC | C | PET imag wholbod reg ini hea | 0.00 | NA | 0.00 | 0.00 | NA | 0.00 | XXX
G0225 |  | C | PET whol restag headneck onl | 0.00 | NA | 0.00 | 0.00 | NA | 0.00 | XXX
G0225 | 26 | A | PET whol restag headneck onl | 1.50 | 0.60 | 0.60 | 0.04 | 2.14 | 2.14 | XXX
G0225 | TC | C | PET whol restag headneck onl | 0.00 | NA | 0.00 | 0.00 | NA | 0.00 | XXX
G0226 |  | C | PET img wholbod dx esophagl | 0.00 | NA | 0.00 | 0.00 | NA | 0.00 | XXX
G0226 | 26 | A | PET img wholbod dx esophagl | 1.50 | 0.60 | 0.60 | 0.04 | 2.14 | 2.14 | XXX
G0226 | TC | C | PET img wholbod dx esophagl | 0.00 | NA | 0.00 | 0.00 | NA | 0.00 | XXX
G0227 |  | C | PET img wholbod ini esophage | 0.00 | NA | 0.00 | 0.00 | NA | 0.00 | XXX
G0227 | 26 | A | PET img wholbod ini esophage | 1.50 | 0.60 | 0.60 | 0.04 | 2.14 | 2.14 | XXX
G0227 | TC | C | PET img wholbod ini esophage | 0.00 | NA | 0.00 | 0.00 | NA | 0.00 | XXX
G0228 |  | C | PET img wholbod restg esopha | 0.00 | NA | 0.00 | 0.00 | NA | 0.00 | XXX
G0228 | 26 | A | PET img wholbod restg esopha | 1.50 | 0.60 | 0.60 | 0.04 | 2.14 | 2.14 | XXX
G0228 | TC | C | PET img wholbod restg esopha | 0.00 | NA | 0.00 | 0.00 | NA | 0.00 | XXX
G0229 |  | C | PET img metabolic brain pres | 0.00 | NA | 0.00 | 0.00 | NA | 0.00 | XXX
G0229 | 26 | A | PET img metabolic brain pres | 1.50 | 0.60 | 0.60 | 0.04 | 2.14 | 2.14 | XXX
G0229 | TC | C | PET img metabolic brain pres | 0.00 | NA | 0.00 | 0.00 | NA | 0.00 | XXX
G0230 |  | C | PET mycard viability post s | 0.00 | NA | 0.00 | 0.00 | NA | 0.00 | XXX
G0230 | 26 | A | PET mycard viability post s | 1.50 | 0.60 | 0.60 | 0.04 | 2.14 | 2.14 | XXX
G0230 | TC | C | PET mycard viability post s | 0.00 | NA | 0.00 | 0.00 | NA | 0.00 | XXX
G9001 |  | X | MCCD, initial rate | 0.00 | 0.00 | 0.00 | 0.00 | 0.00 | 0.00 | XXX
G9002 |  | X | MCCD,maintenance rate | 0.00 | 0.00 | 0.00 | 0.00 | 0.00 | 0.00 | XXX
G9003 |  | X | MCCD, risk adj hi, initial | 0.00 | 0.00 | 0.00 | 0.00 | 0.00 | 0.00 | XXX
G9004 |  | X | MCCD, risk adj lo, initial | 0.00 | 0.00 | 0.00 | 0.00 | 0.00 | 0.00 | XXX
G9005 |  | X | MCCD, risk adj, maintenance | 0.00 | 0.00 | 0.00 | 0.00 | 0.00 | 0.00 | XXX
G9006 |  | X | MCCD, Home monitoring | 0.00 | 0.00 | 0.00 | 0.00 | 0.00 | 0.00 | XXX
G9007 |  | X | MCCD, sch team conf | 0.00 | 0.00 | 0.00 | 0.00 | 0.00 | 0.00 | XXX
G9008 |  | X | Mccd,phys coor-care ovrsght | 0.00 | 0.00 | 0.00 | 0.00 | 0.00 | 0.00 | XXX
G9016 |  | N | Demo-smoking cessation coun | 0.00 | 0.00 | 0.00 | 0.00 | 0.00 | 0.00 | XXX
Gxxx1 |  | A | Mammogram, screen, dir dig | 0.70 | NA | 2.78 | 0.09 | NA | 3.57 | XXX
Gxxx1 | 26 | A | Mammogram, screen, dir dig | 0.70 | 0.28 | 0.28 | 0.03 | 1.01 | 1.01 | XXX
Gxxx1 | TC | A | Mammogram, screen, dir dig | 0.00 | NA | 2.50 | 0.06 | NA | 2.56 | XXX
Gxxx2 |  | A | Diag mammo, unilat, dir dig | 0.70 | NA | 2.27 | 0.08 | NA | 3.05 | XXX
Gxxx2 | 26 | A | Diag mammo, unilat, dir dig | 0.70 | 0.28 | 0.28 | 0.03 | 1.01 | 1.01 | XXX
Gxxx2 | TC | A | Diag mammo, unilat, dir dig | 0.00 | NA | 1.99 | 0.05 | NA | 2.04 | XXX
Gxxx3 |  | A | Diag mammo, bilat, dir dig | 0.87 | NA | 2.81 | 0.09 | NA | 3.77 | XXX
Gxxx3 | 26 | A | Diag mammo, bilat, dir dig | 0.87 | 0.34 | 0.34 | 0.03 | 1.24 | 1.24 | XXX
Gxxx3 | TC | A | Diag mammo, bilat, dir dig | 0.00 | NA | 2.47 | 0.06 | NA | 2.53 | XXX
Gxxx4 |  | A | Computer aided detection | 0.06 | NA | 0.43 | 0.02 | NA | 0.51 | XXX
Gxxx4 | 26 | A | Computer aided detection | 0.06 | 0.02 | 0.02 | 0.01 | 0.09 | 0.09 | XXX
Gxxx4 | TC | A | Computer aided detection | 0.00 | NA | 0.41 | 0.01 | NA | 0.42 | XXX
Gxxx5 |  | A | Glaucoma screen, md perform | 0.45 | 0.22 | 0.39 | 0.02 | 0.69 | 0.86 | XXX
Gxxx6 |  | A | Glaucoma screen, md supv. | 0.17 | 0.08 | 0.25 | 0.01 | 0.26 | 0.43 | XXX
H0001 |  | I | Alcohol and/or drug assess | 0.00 | 0.00 | 0.00 | 0.00 | 0.00 | 0.00 | XXX
H0002 |  | I | Alcohol and/or drug screenin | 0.00 | 0.00 | 0.00 | 0.00 | 0.00 | 0.00 | XXX
H0003 |  | I | Alcohol and/or drug screenin | 0.00 | 0.00 | 0.00 | 0.00 | 0.00 | 0.00 | XXX
H0004 |  | I | Alcohol and/or drug services | 0.00 | 0.00 | 0.00 | 0.00 | 0.00 | 0.00 | XXX
H0005 |  | I | Alcohol and/or drug services | 0.00 | 0.00 | 0.00 | 0.00 | 0.00 | 0.00 | XXX
H0006 |  | I | Alcohol and/or drug services | 0.00 | 0.00 | 0.00 | 0.00 | 0.00 | 0.00 | XXX
H0007 |  | I | Alcohol and/or drug services | 0.00 | 0.00 | 0.00 | 0.00 | 0.00 | 0.00 | XXX
H0008 |  | I | Alcohol and/or drug services | 0.00 | 0.00 | 0.00 | 0.00 | 0.00 | 0.00 | XXX
H0009 |  | I | Alcohol and/or drug services | 0.00 | 0.00 | 0.00 | 0.00 | 0.00 | 0.00 | XXX
H0010 |  | I | Alcohol and/or drug services | 0.00 | 0.00 | 0.00 | 0.00 | 0.00 | 0.00 | XXX
H0011 |  | I | Alcohol and/or drug services | 0.00 | 0.00 | 0.00 | 0.00 | 0.00 | 0.00 | XXX
H0012 |  | I | Alcohol and/or drug services | 0.00 | 0.00 | 0.00 | 0.00 | 0.00 | 0.00 | XXX
H0013 |  | I | Alcohol and/or drug services | 0.00 | 0.00 | 0.00 | 0.00 | 0.00 | 0.00 | XXX
H0014 |  | I | Alcohol and/or drug services | 0.00 | 0.00 | 0.00 | 0.00 | 0.00 | 0.00 | XXX
H0015 |  | I | Alcohol and/or drug services | 0.00 | 0.00 | 0.00 | 0.00 | 0.00 | 0.00 | XXX
H0016 |  | I | Alcohol and/or drug services | 0.00 | 0.00 | 0.00 | 0.00 | 0.00 | 0.00 | XXX
H0017 |  | I | Alcohol and/or drug services | 0.00 | 0.00 | 0.00 | 0.00 | 0.00 | 0.00 | XXX
H0018 |  | I | Alcohol and/or drug services | 0.00 | 0.00 | 0.00 | 0.00 | 0.00 | 0.00 | XXX
H0019 |  | I | Alcohol and/or drug services | 0.00 | 0.00 | 0.00 | 0.00 | 0.00 | 0.00 | XXX
H0020 |  | I | Alcohol and/or drug services | 0.00 | 0.00 | 0.00 | 0.00 | 0.00 | 0.00 | XXX
H0021 |  | I | Alcohol and/or drug training | 0.00 | 0.00 | 0.00 | 0.00 | 0.00 | 0.00 | XXX
H0022 |  | I | Alcohol and/or drug interven | 0.00 | 0.00 | 0.00 | 0.00 | 0.00 | 0.00 | XXX
H0023 |  | I | Alcohol and/or drug outreach | 0.00 | 0.00 | 0.00 | 0.00 | 0.00 | 0.00 | XXX
H0024 |  | I | Alcohol and/or drug preventi | 0.00 | 0.00 | 0.00 | 0.00 | 0.00 | 0.00 | XXX
H0025 |  | I | Alcohol and/or drug preventi | 0.00 | 0.00 | 0.00 | 0.00 | 0.00 | 0.00 | XXX
H0026 |  | I | Alcohol and/or drug preventi | 0.00 | 0.00 | 0.00 | 0.00 | 0.00 | 0.00 | XXX
H0027 |  | I | Alcohol and/or drug preventi | 0.00 | 0.00 | 0.00 | 0.00 | 0.00 | 0.00 | XXX
H0028 |  | I | Alcohol and/or drug preventi | 0.00 | 0.00 | 0.00 | 0.00 | 0.00 | 0.00 | XXX
H0029 |  | I | Alcohol and/or drug preventi | 0.00 | 0.00 | 0.00 | 0.00 | 0.00 | 0.00 | XXX
H0030 |  | I | Alcohol and/or drug hotline | 0.00 | 0.00 | 0.00 | 0.00 | 0.00 | 0.00 | XXX
J0120 |  | E | Tetracyclin injection | 0.00 | 0.00 | 0.00 | 0.00 | 0.00 | 0.00 | XXX
J0130 |  | E | Abciximab injection | 0.00 | 0.00 | 0.00 | 0.00 | 0.00 | 0.00 | XXX
J0150 |  | E | Injection adenosine 6 MG | 0.00 | 0.00 | 0.00 | 0.00 | 0.00 | 0.00 | XXX
J0151 |  | E | Adenosine injection | 0.00 | 0.00 | 0.00 | 0.00 | 0.00 | 0.00 | XXX
J0170 |  | E | Adrenalin epinephrin inject | 0.00 | 0.00 | 0.00 | 0.00 | 0.00 | 0.00 | XXX
J0190 |  | E | Inj biperiden lactate/5 mg | 0.00 | 0.00 | 0.00 | 0.00 | 0.00 | 0.00 | XXX
J0200 |  | E | Alatrofloxacin mesylate | 0.00 | 0.00 | 0.00 | 0.00 | 0.00 | 0.00 | XXX
J0205 |  | E | Alglucerase injection | 0.00 | 0.00 | 0.00 | 0.00 | 0.00 | 0.00 | XXX
J0207 |  | E | Amifostine | 0.00 | 0.00 | 0.00 | 0.00 | 0.00 | 0.00 | XXX
J0210 |  | E | Methyldopate hcl injection | 0.00 | 0.00 | 0.00 | 0.00 | 0.00 | 0.00 | XXX
J0256 |  | E | Alpha 1 proteinase inhibitor | 0.00 | 0.00 | 0.00 | 0.00 | 0.00 | 0.00 | XXX
J0270 |  | E | Alprostadil for injection | 0.00 | 0.00 | 0.00 | 0.00 | 0.00 | 0.00 | XXX
J0275 |  | E | Alprostadil urethral suppos | 0.00 | 0.00 | 0.00 | 0.00 | 0.00 | 0.00 | XXX
J0280 |  | E | Aminophyllin 250 MG inj | 0.00 | 0.00 | 0.00 | 0.00 | 0.00 | 0.00 | XXX
J0282 |  | E | Amiodarone HCl | 0.00 | 0.00 | 0.00 | 0.00 | 0.00 | 0.00 | XXX
J0285 |  | E | Amphotericin B | 0.00 | 0.00 | 0.00 | 0.00 | 0.00 | 0.00 | XXX
J0286 |  | E | Amphotericin B lipid complex | 0.00 | 0.00 | 0.00 | 0.00 | 0.00 | 0.00 | XXX
J0290 |  | E | Ampicillin 500 MG inj | 0.00 | 0.00 | 0.00 | 0.00 | 0.00 | 0.00 | XXX
J0295 |  | E | Ampicillin sodium per 1.5 gm | 0.00 | 0.00 | 0.00 | 0.00 | 0.00 | 0.00 | XXX
J0300 |  | E | Amobarbital 125 MG inj | 0.00 | 0.00 | 0.00 | 0.00 | 0.00 | 0.00 | XXX
J0330 |  | E | Succinycholine chloride inj | 0.00 | 0.00 | 0.00 | 0.00 | 0.00 | 0.00 | XXX
J0340 |  | E | Nandrolon phenpropionate inj | 0.00 | 0.00 | 0.00 | 0.00 | 0.00 | 0.00 | XXX
J0350 |  | E | Injection anistreplase 30 u | 0.00 | 0.00 | 0.00 | 0.00 | 0.00 | 0.00 | XXX
J0360 |  | E | Hydralazine hcl injection | 0.00 | 0.00 | 0.00 | 0.00 | 0.00 | 0.00 | XXX
J0380 |  | E | Inj metaraminol bitartrate | 0.00 | 0.00 | 0.00 | 0.00 | 0.00 | 0.00 | XXX
J0390 |  | E | Chloroquine injection | 0.00 | 0.00 | 0.00 | 0.00 | 0.00 | 0.00 | XXX
J0395 |  | E | Arbutamine HCl injection | 0.00 | 0.00 | 0.00 | 0.00 | 0.00 | 0.00 | XXX
J0400 |  | E | Inj trimethaphan camsylate | 0.00 | 0.00 | 0.00 | 0.00 | 0.00 | 0.00 | XXX
J0456 |  | E | Azithromycin | 0.00 | 0.00 | 0.00 | 0.00 | 0.00 | 0.00 | XXX
J0460 |  | E | Atropine sulfate injection | 0.00 | 0.00 | 0.00 | 0.00 | 0.00 | 0.00 | XXX
J0470 |  | E | Dimecaprol injection | 0.00 | 0.00 | 0.00 | 0.00 | 0.00 | 0.00 | XXX
J0475 |  | E | Baclofen 10 MG injection | 0.00 | 0.00 | 0.00 | 0.00 | 0.00 | 0.00 | XXX
J0476 |  | E | Baclofen intrathecal trial | 0.00 | 0.00 | 0.00 | 0.00 | 0.00 | 0.00 | XXX
J0500 |  | E | Dicyclomine injection | 0.00 | 0.00 | 0.00 | 0.00 | 0.00 | 0.00 | XXX
J0510 |  | E | Benzquinamide injection | 0.00 | 0.00 | 0.00 | 0.00 | 0.00 | 0.00 | XXX
J0515 |  | E | Inj benztropine mesylate | 0.00 | 0.00 | 0.00 | 0.00 | 0.00 | 0.00 | XXX
J0520 |  | E | Bethanechol chloride inject | 0.00 | 0.00 | 0.00 | 0.00 | 0.00 | 0.00 | XXX
J0530 |  | E | Penicillin g benzathine inj | 0.00 | 0.00 | 0.00 | 0.00 | 0.00 | 0.00 | XXX
J0540 |  | E | Penicillin g benzathine inj | 0.00 | 0.00 | 0.00 | 0.00 | 0.00 | 0.00 | XXX
J0550 |  | E | Penicillin g benzathine inj | 0.00 | 0.00 | 0.00 | 0.00 | 0.00 | 0.00 | XXX
J0560 |  | E | Penicillin g benzathine inj | 0.00 | 0.00 | 0.00 | 0.00 | 0.00 | 0.00 | XXX
J0570 |  | E | Penicillin g benzathine inj | 0.00 | 0.00 | 0.00 | 0.00 | 0.00 | 0.00 | XXX
J0580 |  | E | Penicillin g benzathine inj | 0.00 | 0.00 | 0.00 | 0.00 | 0.00 | 0.00 | XXX
J0585 |  | E | Botulinum toxin a per unit | 0.00 | 0.00 | 0.00 | 0.00 | 0.00 | 0.00 | XXX
J0590 |  | E | Ethylnorepinephrine hcl inj | 0.00 | 0.00 | 0.00 | 0.00 | 0.00 | 0.00 | XXX
J0600 |  | E | Edetate calcium disodium inj | 0.00 | 0.00 | 0.00 | 0.00 | 0.00 | 0.00 | XXX
J0610 |  | E | Calcium gluconate injection | 0.00 | 0.00 | 0.00 | 0.00 | 0.00 | 0.00 | XXX
J0620 |  | E | Calcium glycer & lact/10 ML | 0.00 | 0.00 | 0.00 | 0.00 | 0.00 | 0.00 | XXX
J0630 |  | E | Calcitonin salmon injection | 0.00 | 0.00 | 0.00 | 0.00 | 0.00 | 0.00 | XXX
J0635 |  | E | Calcitriol injection | 0.00 | 0.00 | 0.00 | 0.00 | 0.00 | 0.00 | XXX
J0640 |  | E | Leucovorin calcium injection | 0.00 | 0.00 | 0.00 | 0.00 | 0.00 | 0.00 | XXX
J0670 |  | E | Inj mepivacaine HCL/10 ml | 0.00 | 0.00 | 0.00 | 0.00 | 0.00 | 0.00 | XXX
J0690 |  | E | Cefazolin sodium injection | 0.00 | 0.00 | 0.00 | 0.00 | 0.00 | 0.00 | XXX
J0694 |  | E | Cefoxitin sodium injection | 0.00 | 0.00 | 0.00 | 0.00 | 0.00 | 0.00 | XXX
J0695 |  | E | Cefonocid sodium injection | 0.00 | 0.00 | 0.00 | 0.00 | 0.00 | 0.00 | XXX
J0696 |  | E | Ceftriaxone sodium injection | 0.00 | 0.00 | 0.00 | 0.00 | 0.00 | 0.00 | XXX
J0697 |  | E | Sterile cefuroxime injection | 0.00 | 0.00 | 0.00 | 0.00 | 0.00 | 0.00 | XXX
J0698 |  | E | Cefotaxime sodium injection | 0.00 | 0.00 | 0.00 | 0.00 | 0.00 | 0.00 | XXX
J0702 |  | E | Betamethasone acet&sod phosp | 0.00 | 0.00 | 0.00 | 0.00 | 0.00 | 0.00 | XXX
J0704 |  | E | Betamethasone sod phosp/4 MG | 0.00 | 0.00 | 0.00 | 0.00 | 0.00 | 0.00 | XXX
J0710 |  | E | Cephapirin sodium injection | 0.00 | 0.00 | 0.00 | 0.00 | 0.00 | 0.00 | XXX
J0713 |  | E | Inj ceftazidime per 500 mg | 0.00 | 0.00 | 0.00 | 0.00 | 0.00 | 0.00 | XXX
J0715 |  | E | Ceftizoxime sodium / 500 MG | 0.00 | 0.00 | 0.00 | 0.00 | 0.00 | 0.00 | XXX
J0720 |  | E | Chloramphenicol sodium injec | 0.00 | 0.00 | 0.00 | 0.00 | 0.00 | 0.00 | XXX
J0725 |  | E | Chorionic gonadotropin/1000u | 0.00 | 0.00 | 0.00 | 0.00 | 0.00 | 0.00 | XXX
J0730 |  | E | Chlorpheniramin maleate inj | 0.00 | 0.00 | 0.00 | 0.00 | 0.00 | 0.00 | XXX
J0735 |  | E | Clonidine hydrochloride | 0.00 | 0.00 | 0.00 | 0.00 | 0.00 | 0.00 | XXX
J0740 |  | E | Cidofovir injection | 0.00 | 0.00 | 0.00 | 0.00 | 0.00 | 0.00 | XXX
J0743 |  | E | Cilastatin sodium injection | 0.00 | 0.00 | 0.00 | 0.00 | 0.00 | 0.00 | XXX
J0745 |  | E | Inj codeine phosphate /30 MG | 0.00 | 0.00 | 0.00 | 0.00 | 0.00 | 0.00 | XXX
J0760 |  | E | Colchicine injection | 0.00 | 0.00 | 0.00 | 0.00 | 0.00 | 0.00 | XXX
J0770 |  | E | Colistimethate sodium inj | 0.00 | 0.00 | 0.00 | 0.00 | 0.00 | 0.00 | XXX
J0780 |  | E | Prochlorperazine injection | 0.00 | 0.00 | 0.00 | 0.00 | 0.00 | 0.00 | XXX
J0800 |  | E | Corticotropin injection | 0.00 | 0.00 | 0.00 | 0.00 | 0.00 | 0.00 | XXX
J0810 |  | E | Cortisone injection | 0.00 | 0.00 | 0.00 | 0.00 | 0.00 | 0.00 | XXX
J0835 |  | E | Inj cosyntropin per 0.25 MG | 0.00 | 0.00 | 0.00 | 0.00 | 0.00 | 0.00 | XXX
J0850 |  | E | Cytomegalovirus imm IV /vial | 0.00 | 0.00 | 0.00 | 0.00 | 0.00 | 0.00 | XXX
J0895 |  | E | Deferoxamine mesylate inj | 0.00 | 0.00 | 0.00 | 0.00 | 0.00 | 0.00 | XXX
J0900 |  | E | Testosterone enanthate inj | 0.00 | 0.00 | 0.00 | 0.00 | 0.00 | 0.00 | XXX
J0945 |  | E | Brompheniramine maleate inj | 0.00 | 0.00 | 0.00 | 0.00 | 0.00 | 0.00 | XXX
J0970 |  | E | Estradiol valerate injection | 0.00 | 0.00 | 0.00 | 0.00 | 0.00 | 0.00 | XXX
J1000 |  | E | Depo-estradiol cypionate inj | 0.00 | 0.00 | 0.00 | 0.00 | 0.00 | 0.00 | XXX
J1020 |  | E | Methylprednisolone 20 MG inj | 0.00 | 0.00 | 0.00 | 0.00 | 0.00 | 0.00 | XXX
J1030 |  | E | Methylprednisolone 40 MG inj | 0.00 | 0.00 | 0.00 | 0.00 | 0.00 | 0.00 | XXX
J1040 |  | E | Methylprednisolone 80 MG inj | 0.00 | 0.00 | 0.00 | 0.00 | 0.00 | 0.00 | XXX
J1050 |  | E | Medroxyprogesterone inj | 0.00 | 0.00 | 0.00 | 0.00 | 0.00 | 0.00 | XXX
J1055 |  | N | Medrxyprogester acetate inj | 0.00 | 0.00 | 0.00 | 0.00 | 0.00 | 0.00 | XXX
J1060 |  | E | Testosterone cypionate 1 ML | 0.00 | 0.00 | 0.00 | 0.00 | 0.00 | 0.00 | XXX
J1070 |  | E | Testosterone cypionat 100 MG | 0.00 | 0.00 | 0.00 | 0.00 | 0.00 | 0.00 | XXX
J1080 |  | E | Testosterone cypionat 200 MG | 0.00 | 0.00 | 0.00 | 0.00 | 0.00 | 0.00 | XXX
J1090 |  | E | Testosterone cypionate 50 MG | 0.00 | 0.00 | 0.00 | 0.00 | 0.00 | 0.00 | XXX
J1095 |  | E | Inj dexamethasone acetate | 0.00 | 0.00 | 0.00 | 0.00 | 0.00 | 0.00 | XXX
J1100 |  | E | Dexamethasone sodium phos | 0.00 | 0.00 | 0.00 | 0.00 | 0.00 | 0.00 | XXX
J1110 |  | E | Inj dihydroergotamine mesylt | 0.00 | 0.00 | 0.00 | 0.00 | 0.00 | 0.00 | XXX
J1120 |  | E | Acetazolamid sodium injectio | 0.00 | 0.00 | 0.00 | 0.00 | 0.00 | 0.00 | XXX
J1160 |  | E | Digoxin injection | 0.00 | 0.00 | 0.00 | 0.00 | 0.00 | 0.00 | XXX
J1165 |  | E | Phenytoin sodium injection | 0.00 | 0.00 | 0.00 | 0.00 | 0.00 | 0.00 | XXX
J1170 |  | E | Hydromorphone injection | 0.00 | 0.00 | 0.00 | 0.00 | 0.00 | 0.00 | XXX
J1180 |  | E | Dyphylline injection | 0.00 | 0.00 | 0.00 | 0.00 | 0.00 | 0.00 | XXX
J1190 |  | E | Dexrazoxane HCl injection | 0.00 | 0.00 | 0.00 | 0.00 | 0.00 | 0.00 | XXX
J1200 |  | E | Diphenhydramine hcl injectio | 0.00 | 0.00 | 0.00 | 0.00 | 0.00 | 0.00 | XXX
J1205 |  | E | Chlorothiazide sodium inj | 0.00 | 0.00 | 0.00 | 0.00 | 0.00 | 0.00 | XXX
J1212 |  | E | Dimethyl sulfoxide 50% 50 ML | 0.00 | 0.00 | 0.00 | 0.00 | 0.00 | 0.00 | XXX
J1230 |  | E | Methadone injection | 0.00 | 0.00 | 0.00 | 0.00 | 0.00 | 0.00 | XXX
J1240 |  | E | Dimenhydrinate injection | 0.00 | 0.00 | 0.00 | 0.00 | 0.00 | 0.00 | XXX
J1245 |  | E | Dipyridamole injection | 0.00 | 0.00 | 0.00 | 0.00 | 0.00 | 0.00 | XXX
J1250 |  | E | Inj dobutamine HCL/250 mg | 0.00 | 0.00 | 0.00 | 0.00 | 0.00 | 0.00 | XXX
J1260 |  | E | Dolasetron mesylate | 0.00 | 0.00 | 0.00 | 0.00 | 0.00 | 0.00 | XXX
J1320 |  | E | Amitriptyline injection | 0.00 | 0.00 | 0.00 | 0.00 | 0.00 | 0.00 | XXX
J1325 |  | E | Epoprostenol injection | 0.00 | 0.00 | 0.00 | 0.00 | 0.00 | 0.00 | XXX
J1327 |  | E | Eptifibatide injection | 0.00 | 0.00 | 0.00 | 0.00 | 0.00 | 0.00 | XXX
J1330 |  | E | Ergonovine maleate injection | 0.00 | 0.00 | 0.00 | 0.00 | 0.00 | 0.00 | XXX
J1362 |  | E | Erythromycin glucep / 250 MG | 0.00 | 0.00 | 0.00 | 0.00 | 0.00 | 0.00 | XXX
J1364 |  | E | Erythro lactobionate /500 MG | 0.00 | 0.00 | 0.00 | 0.00 | 0.00 | 0.00 | XXX
J1380 |  | E | Estradiol valerate 10 MG inj | 0.00 | 0.00 | 0.00 | 0.00 | 0.00 | 0.00 | XXX
J1390 |  | E | Estradiol valerate 20 MG inj | 0.00 | 0.00 | 0.00 | 0.00 | 0.00 | 0.00 | XXX
J1410 |  | E | Inj estrogen conjugate 25 MG | 0.00 | 0.00 | 0.00 | 0.00 | 0.00 | 0.00 | XXX
J1435 |  | E | Injection estrone per 1 MG | 0.00 | 0.00 | 0.00 | 0.00 | 0.00 | 0.00 | XXX
J1436 |  | E | Etidronate disodium inj | 0.00 | 0.00 | 0.00 | 0.00 | 0.00 | 0.00 | XXX
J1438 |  | E | Etanercept injection | 0.00 | 0.00 | 0.00 | 0.00 | 0.00 | 0.00 | XXX
J1440 |  | E | Filgrastim 300 mcg injeciton | 0.00 | 0.00 | 0.00 | 0.00 | 0.00 | 0.00 | XXX
J1441 |  | E | Filgrastim 480 mcg injection | 0.00 | 0.00 | 0.00 | 0.00 | 0.00 | 0.00 | XXX
J1450 |  | E | Fluconazole | 0.00 | 0.00 | 0.00 | 0.00 | 0.00 | 0.00 | XXX
J1452 |  | E | Intraocular Fomivirsen na | 0.00 | 0.00 | 0.00 | 0.00 | 0.00 | 0.00 | XXX
J1455 |  | E | Foscarnet sodium injection | 0.00 | 0.00 | 0.00 | 0.00 | 0.00 | 0.00 | XXX
J1460 |  | E | Gamma globulin 1 CC inj | 0.00 | 0.00 | 0.00 | 0.00 | 0.00 | 0.00 | XXX
J1470 |  | E | Gamma globulin 2 CC inj | 0.00 | 0.00 | 0.00 | 0.00 | 0.00 | 0.00 | XXX
J1480 |  | E | Gamma globulin 3 CC inj | 0.00 | 0.00 | 0.00 | 0.00 | 0.00 | 0.00 | XXX
J1490 |  | E | Gamma globulin 4 CC inj | 0.00 | 0.00 | 0.00 | 0.00 | 0.00 | 0.00 | XXX
J1500 |  | E | Gamma globulin 5 CC inj | 0.00 | 0.00 | 0.00 | 0.00 | 0.00 | 0.00 | XXX
J1510 |  | E | Gamma globulin 6 CC inj | 0.00 | 0.00 | 0.00 | 0.00 | 0.00 | 0.00 | XXX
J1520 |  | E | Gamma globulin 7 CC inj | 0.00 | 0.00 | 0.00 | 0.00 | 0.00 | 0.00 | XXX
J1530 |  | E | Gamma globulin 8 CC inj | 0.00 | 0.00 | 0.00 | 0.00 | 0.00 | 0.00 | XXX
J1540 |  | E | Gamma globulin 9 CC inj | 0.00 | 0.00 | 0.00 | 0.00 | 0.00 | 0.00 | XXX
J1550 |  | E | Gamma globulin 10 CC inj | 0.00 | 0.00 | 0.00 | 0.00 | 0.00 | 0.00 | XXX
J1560 |  | E | Gamma globulin > 10 CC inj | 0.00 | 0.00 | 0.00 | 0.00 | 0.00 | 0.00 | XXX
J1561 |  | E | Immune globulin 500 mg | 0.00 | 0.00 | 0.00 | 0.00 | 0.00 | 0.00 | XXX
J1563 |  | E | IV immune globulin | 0.00 | 0.00 | 0.00 | 0.00 | 0.00 | 0.00 | XXX
J1565 |  | E | RSV-ivig | 0.00 | 0.00 | 0.00 | 0.00 | 0.00 | 0.00 | XXX
J1570 |  | E | Ganciclovir sodium injection | 0.00 | 0.00 | 0.00 | 0.00 | 0.00 | 0.00 | XXX
J1580 |  | E | Garamycin gentamicin inj | 0.00 | 0.00 | 0.00 | 0.00 | 0.00 | 0.00 | XXX
J1600 |  | E | Gold sodium thiomaleate inj | 0.00 | 0.00 | 0.00 | 0.00 | 0.00 | 0.00 | XXX
J1610 |  | E | Glucagon hydrochloride/1 MG | 0.00 | 0.00 | 0.00 | 0.00 | 0.00 | 0.00 | XXX
J1620 |  | E | Gonadorelin hydroch/ 100 mcg | 0.00 | 0.00 | 0.00 | 0.00 | 0.00 | 0.00 | XXX
J1626 |  | E | Granisetron HCl injection | 0.00 | 0.00 | 0.00 | 0.00 | 0.00 | 0.00 | XXX
J1630 |  | E | Haloperidol injection | 0.00 | 0.00 | 0.00 | 0.00 | 0.00 | 0.00 | XXX
J1631 |  | E | Haloperidol decanoate inj | 0.00 | 0.00 | 0.00 | 0.00 | 0.00 | 0.00 | XXX
J1642 |  | E | Inj heparin sodium per 10 u | 0.00 | 0.00 | 0.00 | 0.00 | 0.00 | 0.00 | XXX
J1644 |  | E | Inj heparin sodium per 1000u | 0.00 | 0.00 | 0.00 | 0.00 | 0.00 | 0.00 | XXX
J1645 |  | E | Dalteparin sodium | 0.00 | 0.00 | 0.00 | 0.00 | 0.00 | 0.00 | XXX
J1650 |  | E | Inj enoxaparin sodium | 0.00 | 0.00 | 0.00 | 0.00 | 0.00 | 0.00 | XXX
J1670 |  | E | Tetanus immune globulin inj | 0.00 | 0.00 | 0.00 | 0.00 | 0.00 | 0.00 | XXX
J1690 |  | E | Prednisolone tebutate inj | 0.00 | 0.00 | 0.00 | 0.00 | 0.00 | 0.00 | XXX
J1700 |  | E | Hydrocortisone acetate inj | 0.00 | 0.00 | 0.00 | 0.00 | 0.00 | 0.00 | XXX
J1710 |  | E | Hydrocortisone sodium ph inj | 0.00 | 0.00 | 0.00 | 0.00 | 0.00 | 0.00 | XXX
J1720 |  | E | Hydrocortisone sodium succ i | 0.00 | 0.00 | 0.00 | 0.00 | 0.00 | 0.00 | XXX
J1730 |  | E | Diazoxide injection | 0.00 | 0.00 | 0.00 | 0.00 | 0.00 | 0.00 | XXX
J1739 |  | E | Hydroxyprogesterone cap 125 | 0.00 | 0.00 | 0.00 | 0.00 | 0.00 | 0.00 | XXX
J1741 |  | E | Hydroxyprogesterone cap 250 | 0.00 | 0.00 | 0.00 | 0.00 | 0.00 | 0.00 | XXX
J1742 |  | E | Ibutilide fumarate injection | 0.00 | 0.00 | 0.00 | 0.00 | 0.00 | 0.00 | XXX
J1745 |  | E | Infliximab injection | 0.00 | 0.00 | 0.00 | 0.00 | 0.00 | 0.00 | XXX
J1750 |  | E | Iron dextran | 0.00 | 0.00 | 0.00 | 0.00 | 0.00 | 0.00 | XXX
J1785 |  | E | Injection imiglucerase /unit | 0.00 | 0.00 | 0.00 | 0.00 | 0.00 | 0.00 | XXX
J1790 |  | E | Droperidol injection | 0.00 | 0.00 | 0.00 | 0.00 | 0.00 | 0.00 | XXX
J1800 |  | E | Propranolol injection | 0.00 | 0.00 | 0.00 | 0.00 | 0.00 | 0.00 | XXX
J1810 |  | E | Droperidol/fentanyl inj | 0.00 | 0.00 | 0.00 | 0.00 | 0.00 | 0.00 | XXX
J1820 |  | E | Insulin injection | 0.00 | 0.00 | 0.00 | 0.00 | 0.00 | 0.00 | XXX
J1825 |  | E | Interferon beta-1a | 0.00 | 0.00 | 0.00 | 0.00 | 0.00 | 0.00 | XXX
J1830 |  | E | Interferon beta-1b / .25 MG | 0.00 | 0.00 | 0.00 | 0.00 | 0.00 | 0.00 | XXX
J1840 |  | E | Kanamycin sulfate 500 MG inj | 0.00 | 0.00 | 0.00 | 0.00 | 0.00 | 0.00 | XXX
J1850 |  | E | Kanamycin sulfate 75 MG inj | 0.00 | 0.00 | 0.00 | 0.00 | 0.00 | 0.00 | XXX
J1885 |  | E | Ketorolac tromethamine inj | 0.00 | 0.00 | 0.00 | 0.00 | 0.00 | 0.00 | XXX
J1890 |  | E | Cephalothin sodium injection | 0.00 | 0.00 | 0.00 | 0.00 | 0.00 | 0.00 | XXX
J1910 |  | E | Kutapressin injection | 0.00 | 0.00 | 0.00 | 0.00 | 0.00 | 0.00 | XXX
J1930 |  | E | Propiomazine injection | 0.00 | 0.00 | 0.00 | 0.00 | 0.00 | 0.00 | XXX
J1940 |  | E | Furosemide injection | 0.00 | 0.00 | 0.00 | 0.00 | 0.00 | 0.00 | XXX
J1950 |  | E | Leuprolide acetate /3.75 MG | 0.00 | 0.00 | 0.00 | 0.00 | 0.00 | 0.00 | XXX
J1955 |  | E | Inj levocarnitine per 1 gm | 0.00 | 0.00 | 0.00 | 0.00 | 0.00 | 0.00 | XXX
J1956 |  | E | Levofloxacin injection | 0.00 | 0.00 | 0.00 | 0.00 | 0.00 | 0.00 | XXX
J1960 |  | E | Levorphanol tartrate inj | 0.00 | 0.00 | 0.00 | 0.00 | 0.00 | 0.00 | XXX
J1970 |  | E | Methotrimeprazine injection | 0.00 | 0.00 | 0.00 | 0.00 | 0.00 | 0.00 | XXX
J1980 |  | E | Hyoscyamine sulfate inj | 0.00 | 0.00 | 0.00 | 0.00 | 0.00 | 0.00 | XXX
J1990 |  | E | Chlordiazepoxide injection | 0.00 | 0.00 | 0.00 | 0.00 | 0.00 | 0.00 | XXX
J2000 |  | E | Lidocaine injection | 0.00 | 0.00 | 0.00 | 0.00 | 0.00 | 0.00 | XXX
J2010 |  | E | Lincomycin injection | 0.00 | 0.00 | 0.00 | 0.00 | 0.00 | 0.00 | XXX
J2060 |  | E | Lorazepam injection | 0.00 | 0.00 | 0.00 | 0.00 | 0.00 | 0.00 | XXX
J2150 |  | E | Mannitol injection | 0.00 | 0.00 | 0.00 | 0.00 | 0.00 | 0.00 | XXX
J2175 |  | E | Meperidine hydrochl /100 MG | 0.00 | 0.00 | 0.00 | 0.00 | 0.00 | 0.00 | XXX
J2180 |  | E | Meperidine/promethazine inj | 0.00 | 0.00 | 0.00 | 0.00 | 0.00 | 0.00 | XXX
J2210 |  | E | Methylergonovin maleate inj | 0.00 | 0.00 | 0.00 | 0.00 | 0.00 | 0.00 | XXX
J2240 |  | E | Metocurine iodide injection | 0.00 | 0.00 | 0.00 | 0.00 | 0.00 | 0.00 | XXX
J2250 |  | E | Inj midazolam hydrochloride | 0.00 | 0.00 | 0.00 | 0.00 | 0.00 | 0.00 | XXX
J2260 |  | E | Inj milrinone lactate / 5 ML | 0.00 | 0.00 | 0.00 | 0.00 | 0.00 | 0.00 | XXX
J2270 |  | E | Morphine sulfate injection | 0.00 | 0.00 | 0.00 | 0.00 | 0.00 | 0.00 | XXX
J2271 |  | E | Morphine so4 injection 100mg | 0.00 | 0.00 | 0.00 | 0.00 | 0.00 | 0.00 | XXX
J2275 |  | E | Morphine sulfate injection | 0.00 | 0.00 | 0.00 | 0.00 | 0.00 | 0.00 | XXX
J2300 |  | E | Inj nalbuphine hydrochloride | 0.00 | 0.00 | 0.00 | 0.00 | 0.00 | 0.00 | XXX
J2310 |  | E | Inj naloxone hydrochloride | 0.00 | 0.00 | 0.00 | 0.00 | 0.00 | 0.00 | XXX
J2320 |  | E | Nandrolone decanoate 50 MG | 0.00 | 0.00 | 0.00 | 0.00 | 0.00 | 0.00 | XXX
J2321 |  | E | Nandrolone decanoate 100 MG | 0.00 | 0.00 | 0.00 | 0.00 | 0.00 | 0.00 | XXX
J2322 |  | E | Nandrolone decanoate 200 MG | 0.00 | 0.00 | 0.00 | 0.00 | 0.00 | 0.00 | XXX
J2330 |  | E | Thiothixene injection | 0.00 | 0.00 | 0.00 | 0.00 | 0.00 | 0.00 | XXX
J2350 |  | E | Niacinamide/niacin injection | 0.00 | 0.00 | 0.00 | 0.00 | 0.00 | 0.00 | XXX
J2352 |  | E | Octreotide acetate injection | 0.00 | 0.00 | 0.00 | 0.00 | 0.00 | 0.00 | XXX
J2355 |  | E | Oprelvekin injection | 0.00 | 0.00 | 0.00 | 0.00 | 0.00 | 0.00 | XXX
J2360 |  | E | Orphenadrine injection | 0.00 | 0.00 | 0.00 | 0.00 | 0.00 | 0.00 | XXX
J2370 |  | E | Phenylephrine hcl injection | 0.00 | 0.00 | 0.00 | 0.00 | 0.00 | 0.00 | XXX
J2400 |  | E | Chloroprocaine hcl injection | 0.00 | 0.00 | 0.00 | 0.00 | 0.00 | 0.00 | XXX
J2405 |  | E | Ondansetron hcl injection | 0.00 | 0.00 | 0.00 | 0.00 | 0.00 | 0.00 | XXX
J2410 |  | E | Oxymorphone hcl injection | 0.00 | 0.00 | 0.00 | 0.00 | 0.00 | 0.00 | XXX
J2430 |  | E | Pamidronate disodium /30 MG | 0.00 | 0.00 | 0.00 | 0.00 | 0.00 | 0.00 | XXX
J2440 |  | E | Papaverin hcl injection | 0.00 | 0.00 | 0.00 | 0.00 | 0.00 | 0.00 | XXX
J2460 |  | E | Oxytetracycline injection | 0.00 | 0.00 | 0.00 | 0.00 | 0.00 | 0.00 | XXX
J2480 |  | E | Hydrochlorides of opium inj | 0.00 | 0.00 | 0.00 | 0.00 | 0.00 | 0.00 | XXX
J2500 |  | E | Paricalcitol | 0.00 | 0.00 | 0.00 | 0.00 | 0.00 | 0.00 | XXX
J2510 |  | E | Penicillin g procaine inj | 0.00 | 0.00 | 0.00 | 0.00 | 0.00 | 0.00 | XXX
J2512 |  | E | Inj pentagastrin per 2 ML | 0.00 | 0.00 | 0.00 | 0.00 | 0.00 | 0.00 | XXX
J2515 |  | E | Pentobarbital sodium inj | 0.00 | 0.00 | 0.00 | 0.00 | 0.00 | 0.00 | XXX
J2540 |  | E | Penicillin g potassium inj | 0.00 | 0.00 | 0.00 | 0.00 | 0.00 | 0.00 | XXX
J2543 |  | E | Piperacillin/tazobactam | 0.00 | 0.00 | 0.00 | 0.00 | 0.00 | 0.00 | XXX
J2545 |  | E | Pentamidine isethionte/300mg | 0.00 | 0.00 | 0.00 | 0.00 | 0.00 | 0.00 | XXX
J2550 |  | E | Promethazine hcl injection | 0.00 | 0.00 | 0.00 | 0.00 | 0.00 | 0.00 | XXX
J2560 |  | E | Phenobarbital sodium inj | 0.00 | 0.00 | 0.00 | 0.00 | 0.00 | 0.00 | XXX
J2590 |  | E | Oxytocin injection | 0.00 | 0.00 | 0.00 | 0.00 | 0.00 | 0.00 | XXX
J2597 |  | E | Inj desmopressin acetate | 0.00 | 0.00 | 0.00 | 0.00 | 0.00 | 0.00 | XXX
J2640 |  | E | Prednisolone sodium ph inj | 0.00 | 0.00 | 0.00 | 0.00 | 0.00 | 0.00 | XXX
J2650 |  | E | Prednisolone acetate inj | 0.00 | 0.00 | 0.00 | 0.00 | 0.00 | 0.00 | XXX
J2670 |  | E | Totazoline hcl injection | 0.00 | 0.00 | 0.00 | 0.00 | 0.00 | 0.00 | XXX
J2675 |  | E | Inj progesterone per 50 MG | 0.00 | 0.00 | 0.00 | 0.00 | 0.00 | 0.00 | XXX
J2680 |  | E | Fluphenazine decanoate 25 MG | 0.00 | 0.00 | 0.00 | 0.00 | 0.00 | 0.00 | XXX
J2690 |  | E | Procainamide hcl injection | 0.00 | 0.00 | 0.00 | 0.00 | 0.00 | 0.00 | XXX
J2700 |  | E | Oxacillin sodium injeciton | 0.00 | 0.00 | 0.00 | 0.00 | 0.00 | 0.00 | XXX
J2710 |  | E | Neostigmine methylslfte inj | 0.00 | 0.00 | 0.00 | 0.00 | 0.00 | 0.00 | XXX
J2720 |  | E | Inj protamine sulfate/10 MG | 0.00 | 0.00 | 0.00 | 0.00 | 0.00 | 0.00 | XXX
J2725 |  | E | Inj protirelin per 250 mcg | 0.00 | 0.00 | 0.00 | 0.00 | 0.00 | 0.00 | XXX
J2730 |  | E | Pralidoxime chloride inj | 0.00 | 0.00 | 0.00 | 0.00 | 0.00 | 0.00 | XXX
J2760 |  | E | Phentolaine mesylate inj | 0.00 | 0.00 | 0.00 | 0.00 | 0.00 | 0.00 | XXX
J2765 |  | E | Metoclopramide hcl injection | 0.00 | 0.00 | 0.00 | 0.00 | 0.00 | 0.00 | XXX
J2770 |  | E | Quinupristin/dalfopristin | 0.00 | 0.00 | 0.00 | 0.00 | 0.00 | 0.00 | XXX
J2780 |  | E | Ranitidine hydrochloride inj | 0.00 | 0.00 | 0.00 | 0.00 | 0.00 | 0.00 | XXX
J2790 |  | E | Rho d immune globulin inj | 0.00 | 0.00 | 0.00 | 0.00 | 0.00 | 0.00 | XXX
J2792 |  | E | Rho(D) immune globulin h, sd | 0.00 | 0.00 | 0.00 | 0.00 | 0.00 | 0.00 | XXX
J2795 |  | E | Ropivacaine HCl injection | 0.00 | 0.00 | 0.00 | 0.00 | 0.00 | 0.00 | XXX
J2800 |  | E | Methocarbamol injection | 0.00 | 0.00 | 0.00 | 0.00 | 0.00 | 0.00 | XXX
J2810 |  | E | Inj theophylline per 40 MG | 0.00 | 0.00 | 0.00 | 0.00 | 0.00 | 0.00 | XXX
J2820 |  | E | Sargramostim injection | 0.00 | 0.00 | 0.00 | 0.00 | 0.00 | 0.00 | XXX
J2860 |  | E | Secobarbital sodium inj | 0.00 | 0.00 | 0.00 | 0.00 | 0.00 | 0.00 | XXX
J2910 |  | E | Aurothioglucose injeciton | 0.00 | 0.00 | 0.00 | 0.00 | 0.00 | 0.00 | XXX
J2912 |  | E | Sodium chloride injection | 0.00 | 0.00 | 0.00 | 0.00 | 0.00 | 0.00 | XXX
J2915 |  | E | NA Ferric Gluconate Complex | 0.00 | 0.00 | 0.00 | 0.00 | 0.00 | 0.00 | XXX
J2920 |  | E | Methylprednisolone injection | 0.00 | 0.00 | 0.00 | 0.00 | 0.00 | 0.00 | XXX
J2930 |  | E | Methylprednisolone injection | 0.00 | 0.00 | 0.00 | 0.00 | 0.00 | 0.00 | XXX
J2950 |  | E | Promazine hcl injeciton | 0.00 | 0.00 | 0.00 | 0.00 | 0.00 | 0.00 | XXX
J2970 |  | E | Methicillin sodium injection | 0.00 | 0.00 | 0.00 | 0.00 | 0.00 | 0.00 | XXX
J2993 |  | E | Reteplase injection | 0.00 | 0.00 | 0.00 | 0.00 | 0.00 | 0.00 | XXX
J2995 |  | E | Inj streptokinase /250000 IU | 0.00 | 0.00 | 0.00 | 0.00 | 0.00 | 0.00 | XXX
J2997 |  | E | Alteplase recombinant | 0.00 | 0.00 | 0.00 | 0.00 | 0.00 | 0.00 | XXX
J3000 |  | E | Streptomycin injection | 0.00 | 0.00 | 0.00 | 0.00 | 0.00 | 0.00 | XXX
J3010 |  | E | Fentanyl citrate injeciton | 0.00 | 0.00 | 0.00 | 0.00 | 0.00 | 0.00 | XXX
J3030 |  | E | Sumatriptan succinate / 6 MG | 0.00 | 0.00 | 0.00 | 0.00 | 0.00 | 0.00 | XXX
J3070 |  | E | Pentazocine hcl injeciton | 0.00 | 0.00 | 0.00 | 0.00 | 0.00 | 0.00 | XXX
J3080 |  | E | Chlorprothixene injection | 0.00 | 0.00 | 0.00 | 0.00 | 0.00 | 0.00 | XXX
J3105 |  | E | Terbutaline sulfate inj | 0.00 | 0.00 | 0.00 | 0.00 | 0.00 | 0.00 | XXX
J3120 |  | E | Testosterone enanthate inj | 0.00 | 0.00 | 0.00 | 0.00 | 0.00 | 0.00 | XXX
J3130 |  | E | Testosterone enanthate inj | 0.00 | 0.00 | 0.00 | 0.00 | 0.00 | 0.00 | XXX
J3140 |  | E | Testosterone suspension inj | 0.00 | 0.00 | 0.00 | 0.00 | 0.00 | 0.00 | XXX
J3150 |  | E | Testosteron propionate inj | 0.00 | 0.00 | 0.00 | 0.00 | 0.00 | 0.00 | XXX
J3230 |  | E | Chlorpromazine hcl injection | 0.00 | 0.00 | 0.00 | 0.00 | 0.00 | 0.00 | XXX
J3240 |  | E | Thyrotropin injection | 0.00 | 0.00 | 0.00 | 0.00 | 0.00 | 0.00 | XXX
J3245 |  | E | Tirofiban hydrochloride | 0.00 | 0.00 | 0.00 | 0.00 | 0.00 | 0.00 | XXX
J3250 |  | E | Trimethobenzamide hcl inj | 0.00 | 0.00 | 0.00 | 0.00 | 0.00 | 0.00 | XXX
J3260 |  | E | Tobramycin sulfate injection | 0.00 | 0.00 | 0.00 | 0.00 | 0.00 | 0.00 | XXX
J3265 |  | E | Injection torsemide 10 mg/ml | 0.00 | 0.00 | 0.00 | 0.00 | 0.00 | 0.00 | XXX
J3270 |  | E | Imipramine hcl injection | 0.00 | 0.00 | 0.00 | 0.00 | 0.00 | 0.00 | XXX
J3280 |  | E | Thiethylperazine maleate inj | 0.00 | 0.00 | 0.00 | 0.00 | 0.00 | 0.00 | XXX
J3301 |  | E | Triamcinolone acetonide inj | 0.00 | 0.00 | 0.00 | 0.00 | 0.00 | 0.00 | XXX
J3302 |  | E | Triamcinolone diacetate inj | 0.00 | 0.00 | 0.00 | 0.00 | 0.00 | 0.00 | XXX
J3303 |  | E | Triamcinolone hexacetonl inj | 0.00 | 0.00 | 0.00 | 0.00 | 0.00 | 0.00 | XXX
J3305 |  | E | Inj trimetrexate glucoronate | 0.00 | 0.00 | 0.00 | 0.00 | 0.00 | 0.00 | XXX
J3310 |  | E | Perphenazine injeciton | 0.00 | 0.00 | 0.00 | 0.00 | 0.00 | 0.00 | XXX
J3320 |  | E | Spectinomycn di-hcl inj | 0.00 | 0.00 | 0.00 | 0.00 | 0.00 | 0.00 | XXX
J3350 |  | E | Urea injection | 0.00 | 0.00 | 0.00 | 0.00 | 0.00 | 0.00 | XXX
J3360 |  | E | Diazepam injection | 0.00 | 0.00 | 0.00 | 0.00 | 0.00 | 0.00 | XXX
J3364 |  | E | Urokinase 5000 IU injection | 0.00 | 0.00 | 0.00 | 0.00 | 0.00 | 0.00 | XXX
J3365 |  | E | Urokinase 250,000 IU inj | 0.00 | 0.00 | 0.00 | 0.00 | 0.00 | 0.00 | XXX
J3370 |  | R | Vancomycin hcl injeciton | 0.00 | 0.00 | 0.00 | 0.00 | 0.00 | 0.00 | XXX
J3390 |  | E | Methoxamine injection | 0.00 | 0.00 | 0.00 | 0.00 | 0.00 | 0.00 | XXX
J3400 |  | E | Triflupromazine hcl inj | 0.00 | 0.00 | 0.00 | 0.00 | 0.00 | 0.00 | XXX
J3410 |  | E | Hydroxyzine hcl injeciton | 0.00 | 0.00 | 0.00 | 0.00 | 0.00 | 0.00 | XXX
J3420 |  | E | Vitamin b12 injection | 0.00 | 0.00 | 0.00 | 0.00 | 0.00 | 0.00 | XXX
J3430 |  | E | Vitamin k phytonadione inj | 0.00 | 0.00 | 0.00 | 0.00 | 0.00 | 0.00 | XXX
J3450 |  | E | Mephentermine sulfate inj | 0.00 | 0.00 | 0.00 | 0.00 | 0.00 | 0.00 | XXX
J3470 |  | E | Hyaluronidase injection | 0.00 | 0.00 | 0.00 | 0.00 | 0.00 | 0.00 | XXX
J3475 |  | E | Inj magnesium sulfate | 0.00 | 0.00 | 0.00 | 0.00 | 0.00 | 0.00 | XXX
J3480 |  | E | Inj potassium chloride | 0.00 | 0.00 | 0.00 | 0.00 | 0.00 | 0.00 | XXX
J3485 |  | E | Zidovudine | 0.00 | 0.00 | 0.00 | 0.00 | 0.00 | 0.00 | XXX
J3490 |  | E | Drugs unclassified injection | 0.00 | 0.00 | 0.00 | 0.00 | 0.00 | 0.00 | XXX
J3520 |  | N | Edetate disodium per 150 mg | 0.00 | 0.00 | 0.00 | 0.00 | 0.00 | 0.00 | XXX
J3530 |  | E | Nasal vaccine inhalation | 0.00 | 0.00 | 0.00 | 0.00 | 0.00 | 0.00 | XXX
J3535 |  | N | Metered dose inhaler drug | 0.00 | 0.00 | 0.00 | 0.00 | 0.00 | 0.00 | XXX
J3570 |  | N | Laetrile amygdalin vit B17 | 0.00 | 0.00 | 0.00 | 0.00 | 0.00 | 0.00 | XXX
J7030 |  | E | Normal saline solution infus | 0.00 | 0.00 | 0.00 | 0.00 | 0.00 | 0.00 | XXX
J7040 |  | E | Normal saline solution infus | 0.00 | 0.00 | 0.00 | 0.00 | 0.00 | 0.00 | XXX
J7042 |  | E | 5% dextrose/normal saline | 0.00 | 0.00 | 0.00 | 0.00 | 0.00 | 0.00 | XXX
J7050 |  | E | Normal saline solution infus | 0.00 | 0.00 | 0.00 | 0.00 | 0.00 | 0.00 | XXX
J7051 |  | E | Sterile saline/water | 0.00 | 0.00 | 0.00 | 0.00 | 0.00 | 0.00 | XXX
J7060 |  | E | 5% dextrose/water | 0.00 | 0.00 | 0.00 | 0.00 | 0.00 | 0.00 | XXX
J7070 |  | E | D5w infusion | 0.00 | 0.00 | 0.00 | 0.00 | 0.00 | 0.00 | XXX
J7100 |  | E | Dextran 40 infusion | 0.00 | 0.00 | 0.00 | 0.00 | 0.00 | 0.00 | XXX
J7110 |  | E | Dextran 75 infusion | 0.00 | 0.00 | 0.00 | 0.00 | 0.00 | 0.00 | XXX
J7120 |  | E | Ringers lactate infusion | 0.00 | 0.00 | 0.00 | 0.00 | 0.00 | 0.00 | XXX
J7130 |  | E | Hypertonic saline solution | 0.00 | 0.00 | 0.00 | 0.00 | 0.00 | 0.00 | XXX
J7190 |  | X | Factor viii | 0.00 | 0.00 | 0.00 | 0.00 | 0.00 | 0.00 | XXX
J7191 |  | X | Factor VIII (porcine) | 0.00 | 0.00 | 0.00 | 0.00 | 0.00 | 0.00 | XXX
J7192 |  | X | Factor viii recombinant | 0.00 | 0.00 | 0.00 | 0.00 | 0.00 | 0.00 | XXX
J7194 |  | X | Factor ix complex | 0.00 | 0.00 | 0.00 | 0.00 | 0.00 | 0.00 | XXX
J7197 |  | X | Antithrombin iii injection | 0.00 | 0.00 | 0.00 | 0.00 | 0.00 | 0.00 | XXX
J7198 |  | E | Anti-inhibitor | 0.00 | 0.00 | 0.00 | 0.00 | 0.00 | 0.00 | XXX
J7199 |  | E | Hemophilia clot factor noc | 0.00 | 0.00 | 0.00 | 0.00 | 0.00 | 0.00 | XXX
J7300 |  | N | Intraut copper contraceptive | 0.00 | 0.00 | 0.00 | 0.00 | 0.00 | 0.00 | XXX
J7310 |  | E | Ganciclovir long act implant | 0.00 | 0.00 | 0.00 | 0.00 | 0.00 | 0.00 | XXX
J7315 |  | E | Sodium hyaluronate injection | 0.00 | 0.00 | 0.00 | 0.00 | 0.00 | 0.00 | XXX
J7320 |  | E | Hylan G-F 20 injection | 0.00 | 0.00 | 0.00 | 0.00 | 0.00 | 0.00 | XXX
J7330 |  | E | Cultured chondrocytes implnt | 0.00 | 0.00 | 0.00 | 0.00 | 0.00 | 0.00 | XXX
J7500 |  | X | Azathioprine oral 50mg | 0.00 | 0.00 | 0.00 | 0.00 | 0.00 | 0.00 | XXX
J7501 |  | X | Azathioprine parenteral | 0.00 | 0.00 | 0.00 | 0.00 | 0.00 | 0.00 | XXX
J7502 |  | E | Cyclosporine oral 100 mg | 0.00 | 0.00 | 0.00 | 0.00 | 0.00 | 0.00 | XXX
J7504 |  | X | Lymphocyte immune globulin | 0.00 | 0.00 | 0.00 | 0.00 | 0.00 | 0.00 | XXX
J7505 |  | X | Monoclonal antibodies | 0.00 | 0.00 | 0.00 | 0.00 | 0.00 | 0.00 | XXX
J7506 |  | X | Prednisone oral | 0.00 | 0.00 | 0.00 | 0.00 | 0.00 | 0.00 | XXX
J7507 |  | E | Tacrolimus oral per 1 MG | 0.00 | 0.00 | 0.00 | 0.00 | 0.00 | 0.00 | XXX
J7508 |  | E | Tacrolimus oral per 5 MG | 0.00 | 0.00 | 0.00 | 0.00 | 0.00 | 0.00 | XXX
J7509 |  | X | Methylprednisolone oral | 0.00 | 0.00 | 0.00 | 0.00 | 0.00 | 0.00 | XXX
J7510 |  | X | Prednisolone oral per 5 mg | 0.00 | 0.00 | 0.00 | 0.00 | 0.00 | 0.00 | XXX
J7513 |  | E | Daclizumab, parenteral | 0.00 | 0.00 | 0.00 | 0.00 | 0.00 | 0.00 | XXX
J7515 |  | E | Cyclosporine oral 25 mg | 0.00 | 0.00 | 0.00 | 0.00 | 0.00 | 0.00 | XXX
J7516 |  | E | Cyclosporin parenteral 250mg | 0.00 | 0.00 | 0.00 | 0.00 | 0.00 | 0.00 | XXX
J7517 |  | E | Mycophenolate mofetil oral | 0.00 | 0.00 | 0.00 | 0.00 | 0.00 | 0.00 | XXX
J7520 |  | E | Sirolimus, oral | 0.00 | 0.00 | 0.00 | 0.00 | 0.00 | 0.00 | XXX
J7525 |  | E | Tacrolimus injection | 0.00 | 0.00 | 0.00 | 0.00 | 0.00 | 0.00 | XXX
J7599 |  | X | Immunosuppressive drug noc | 0.00 | 0.00 | 0.00 | 0.00 | 0.00 | 0.00 | XXX
J7608 |  | E | Acetylcysteine inh sol u d | 0.00 | 0.00 | 0.00 | 0.00 | 0.00 | 0.00 | XXX
J7618 |  | E | Albuterol inh sol con | 0.00 | 0.00 | 0.00 | 0.00 | 0.00 | 0.00 | XXX
J7619 |  | E | Albuterol inh sol u d | 0.00 | 0.00 | 0.00 | 0.00 | 0.00 | 0.00 | XXX
J7628 |  | E | Bitolterol mes inhal sol con | 0.00 | 0.00 | 0.00 | 0.00 | 0.00 | 0.00 | XXX
J7629 |  | E | Bitolterol mes inh sol u d | 0.00 | 0.00 | 0.00 | 0.00 | 0.00 | 0.00 | XXX
J7631 |  | E | Cromolyn sodium inh sol u d | 0.00 | 0.00 | 0.00 | 0.00 | 0.00 | 0.00 | XXX
J7635 |  | E | Atropine inhal sol con | 0.00 | 0.00 | 0.00 | 0.00 | 0.00 | 0.00 | XXX
J7636 |  | E | Atropine inhal sol unit dose | 0.00 | 0.00 | 0.00 | 0.00 | 0.00 | 0.00 | XXX
J7637 |  | E | Dexamethasone inhal sol con | 0.00 | 0.00 | 0.00 | 0.00 | 0.00 | 0.00 | XXX
J7638 |  | E | Dexamethasone inhal sol u d | 0.00 | 0.00 | 0.00 | 0.00 | 0.00 | 0.00 | XXX
J7639 |  | E | Dornase alpha inhal sol u d | 0.00 | 0.00 | 0.00 | 0.00 | 0.00 | 0.00 | XXX
J7642 |  | E | Glycopyrrolate inhal sol con | 0.00 | 0.00 | 0.00 | 0.00 | 0.00 | 0.00 | XXX
J7643 |  | E | Glycopyrrolate inhal sol u d | 0.00 | 0.00 | 0.00 | 0.00 | 0.00 | 0.00 | XXX
J7644 |  | E | Ipratropium brom inh sol u d | 0.00 | 0.00 | 0.00 | 0.00 | 0.00 | 0.00 | XXX
J7648 |  | E | Isoetharine hcl inh sol con | 0.00 | 0.00 | 0.00 | 0.00 | 0.00 | 0.00 | XXX
J7649 |  | E | Isoetharine hcl inh sol u d | 0.00 | 0.00 | 0.00 | 0.00 | 0.00 | 0.00 | XXX
J7658 |  | E | Isoproterenolhcl inh sol con | 0.00 | 0.00 | 0.00 | 0.00 | 0.00 | 0.00 | XXX
J7659 |  | E | Isoproterenol hcl inh sol ud | 0.00 | 0.00 | 0.00 | 0.00 | 0.00 | 0.00 | XXX
J7668 |  | E | Metaproterenol inh sol con | 0.00 | 0.00 | 0.00 | 0.00 | 0.00 | 0.00 | XXX
J7669 |  | E | Metaproterenol inh sol u d | 0.00 | 0.00 | 0.00 | 0.00 | 0.00 | 0.00 | XXX
J7680 |  | E | Terbutaline so4 inh sol con | 0.00 | 0.00 | 0.00 | 0.00 | 0.00 | 0.00 | XXX
J7681 |  | E | Terbutaline so4 inh sol u d | 0.00 | 0.00 | 0.00 | 0.00 | 0.00 | 0.00 | XXX
J7682 |  | E | Tobramycin inhalation sol | 0.00 | 0.00 | 0.00 | 0.00 | 0.00 | 0.00 | XXX
J7683 |  | E | Triamcinolone inh sol con | 0.00 | 0.00 | 0.00 | 0.00 | 0.00 | 0.00 | XXX
J7684 |  | E | Triamcinolone inh sol u d | 0.00 | 0.00 | 0.00 | 0.00 | 0.00 | 0.00 | XXX
J7699 |  | E | Inhalation solution for DME | 0.00 | 0.00 | 0.00 | 0.00 | 0.00 | 0.00 | XXX
J7799 |  | E | Non-inhalation drug for DME | 0.00 | 0.00 | 0.00 | 0.00 | 0.00 | 0.00 | XXX
J8499 |  | N | Oral prescrip drug non chemo | 0.00 | 0.00 | 0.00 | 0.00 | 0.00 | 0.00 | XXX
J8510 |  | E | Oral busulfan | 0.00 | 0.00 | 0.00 | 0.00 | 0.00 | 0.00 | XXX
J8520 |  | E | Capecitabine, oral, 150 mg | 0.00 | 0.00 | 0.00 | 0.00 | 0.00 | 0.00 | XXX
J8521 |  | E | Capecitabine, oral, 500 mg | 0.00 | 0.00 | 0.00 | 0.00 | 0.00 | 0.00 | XXX
J8530 |  | E | Cyclophosphamide oral 25 MG | 0.00 | 0.00 | 0.00 | 0.00 | 0.00 | 0.00 | XXX
J8560 |  | E | Etoposide oral 50 MG | 0.00 | 0.00 | 0.00 | 0.00 | 0.00 | 0.00 | XXX
J8600 |  | E | Melphalan oral 2 MG | 0.00 | 0.00 | 0.00 | 0.00 | 0.00 | 0.00 | XXX
J8610 |  | E | Methotrexate oral 2.5 MG | 0.00 | 0.00 | 0.00 | 0.00 | 0.00 | 0.00 | XXX
J8700 |  | E | Temozolmide | 0.00 | 0.00 | 0.00 | 0.00 | 0.00 | 0.00 | XXX
J8999 |  | E | Oral prescription drug chemo | 0.00 | 0.00 | 0.00 | 0.00 | 0.00 | 0.00 | XXX
J9000 |  | E | Doxorubic hcl 10 MG vl chemo | 0.00 | 0.00 | 0.00 | 0.00 | 0.00 | 0.00 | XXX
J9001 |  | E | Doxorubicin hcl liposome inj | 0.00 | 0.00 | 0.00 | 0.00 | 0.00 | 0.00 | XXX
J9015 |  | E | Aldesleukin/single use vial | 0.00 | 0.00 | 0.00 | 0.00 | 0.00 | 0.00 | XXX
J9020 |  | E | Asparaginase injection | 0.00 | 0.00 | 0.00 | 0.00 | 0.00 | 0.00 | XXX
J9031 |  | E | Bcg live intravesical vac | 0.00 | 0.00 | 0.00 | 0.00 | 0.00 | 0.00 | XXX
J9040 |  | E | Bleomycin sulfate injection | 0.00 | 0.00 | 0.00 | 0.00 | 0.00 | 0.00 | XXX
J9045 |  | E | Carboplatin injection | 0.00 | 0.00 | 0.00 | 0.00 | 0.00 | 0.00 | XXX
J9050 |  | E | Carmus bischl nitro inj | 0.00 | 0.00 | 0.00 | 0.00 | 0.00 | 0.00 | XXX
J9060 |  | E | Cisplatin 10 MG injeciton | 0.00 | 0.00 | 0.00 | 0.00 | 0.00 | 0.00 | XXX
J9062 |  | E | Cisplatin 50 MG injeciton | 0.00 | 0.00 | 0.00 | 0.00 | 0.00 | 0.00 | XXX
J9065 |  | E | Inj cladribine per 1 MG | 0.00 | 0.00 | 0.00 | 0.00 | 0.00 | 0.00 | XXX
J9070 |  | E | Cyclophosphamide 100 MG inj | 0.00 | 0.00 | 0.00 | 0.00 | 0.00 | 0.00 | XXX
J9080 |  | E | Cyclophosphamide 200 MG inj | 0.00 | 0.00 | 0.00 | 0.00 | 0.00 | 0.00 | XXX
J9090 |  | E | Cyclophosphamide 500 MG inj | 0.00 | 0.00 | 0.00 | 0.00 | 0.00 | 0.00 | XXX
J9091 |  | E | Cyclophosphamide 1.0 grm inj | 0.00 | 0.00 | 0.00 | 0.00 | 0.00 | 0.00 | XXX
J9092 |  | E | Cyclophosphamide 2.0 grm inj | 0.00 | 0.00 | 0.00 | 0.00 | 0.00 | 0.00 | XXX
J9093 |  | E | Cyclophosphamide lyophilized | 0.00 | 0.00 | 0.00 | 0.00 | 0.00 | 0.00 | XXX
J9094 |  | E | Cyclophosphamide lyophilized | 0.00 | 0.00 | 0.00 | 0.00 | 0.00 | 0.00 | XXX
J9095 |  | E | Cyclophosphamide lyophilized | 0.00 | 0.00 | 0.00 | 0.00 | 0.00 | 0.00 | XXX
J9096 |  | E | Cyclophosphamide lyophilized | 0.00 | 0.00 | 0.00 | 0.00 | 0.00 | 0.00 | XXX
J9097 |  | E | Cyclophosphamide lyophilized | 0.00 | 0.00 | 0.00 | 0.00 | 0.00 | 0.00 | XXX
J9100 |  | E | Cytarabine hcl 100 MG inj | 0.00 | 0.00 | 0.00 | 0.00 | 0.00 | 0.00 | XXX
J9110 |  | E | Cytarabine hcl 500 MG inj | 0.00 | 0.00 | 0.00 | 0.00 | 0.00 | 0.00 | XXX
J9120 |  | E | Dactinomycin actinomycin d | 0.00 | 0.00 | 0.00 | 0.00 | 0.00 | 0.00 | XXX
J9130 |  | E | Dacarbazine 10 MG inj | 0.00 | 0.00 | 0.00 | 0.00 | 0.00 | 0.00 | XXX
J9140 |  | E | Dacarbazine 200 MG inj | 0.00 | 0.00 | 0.00 | 0.00 | 0.00 | 0.00 | XXX
J9150 |  | E | Daunorubicin | 0.00 | 0.00 | 0.00 | 0.00 | 0.00 | 0.00 | XXX
J9151 |  | E | Daunorubicin citrate liposom | 0.00 | 0.00 | 0.00 | 0.00 | 0.00 | 0.00 | XXX
J9160 |  | E | Denileukin diftitox, 300 mcg | 0.00 | 0.00 | 0.00 | 0.00 | 0.00 | 0.00 | XXX
J9165 |  | E | Diethylstilbestrol injection | 0.00 | 0.00 | 0.00 | 0.00 | 0.00 | 0.00 | XXX
J9170 |  | E | Docetaxel | 0.00 | 0.00 | 0.00 | 0.00 | 0.00 | 0.00 | XXX
J9180 |  | E | Epirubicin HCl injection | 0.00 | 0.00 | 0.00 | 0.00 | 0.00 | 0.00 | XXX
J9181 |  | E | Etoposide 10 MG inj | 0.00 | 0.00 | 0.00 | 0.00 | 0.00 | 0.00 | XXX
J9182 |  | E | Etoposide 100 MG inj | 0.00 | 0.00 | 0.00 | 0.00 | 0.00 | 0.00 | XXX
J9185 |  | E | Fludarabine phosphate inj | 0.00 | 0.00 | 0.00 | 0.00 | 0.00 | 0.00 | XXX
J9190 |  | E | Fluorouracil injection | 0.00 | 0.00 | 0.00 | 0.00 | 0.00 | 0.00 | XXX
J9200 |  | E | Floxuridine injection | 0.00 | 0.00 | 0.00 | 0.00 | 0.00 | 0.00 | XXX
J9201 |  | E | Gemcitabine HCl | 0.00 | 0.00 | 0.00 | 0.00 | 0.00 | 0.00 | XXX
J9202 |  | E | Goserelin acetate implant | 0.00 | 0.00 | 0.00 | 0.00 | 0.00 | 0.00 | XXX
J9206 |  | E | Irinotecan injection | 0.00 | 0.00 | 0.00 | 0.00 | 0.00 | 0.00 | XXX
J9208 |  | E | Ifosfomide injection | 0.00 | 0.00 | 0.00 | 0.00 | 0.00 | 0.00 | XXX
J9209 |  | E | Mesna injection | 0.00 | 0.00 | 0.00 | 0.00 | 0.00 | 0.00 | XXX
J9211 |  | E | Idarubicin hcl injeciton | 0.00 | 0.00 | 0.00 | 0.00 | 0.00 | 0.00 | XXX
J9212 |  | E | Interferon alfacon-1 | 0.00 | 0.00 | 0.00 | 0.00 | 0.00 | 0.00 | XXX
J9213 |  | E | Interferon alfa-2a inj | 0.00 | 0.00 | 0.00 | 0.00 | 0.00 | 0.00 | XXX
J9214 |  | E | Interferon alfa-2b inj | 0.00 | 0.00 | 0.00 | 0.00 | 0.00 | 0.00 | XXX
J9215 |  | E | Interferon alfa-n3 inj | 0.00 | 0.00 | 0.00 | 0.00 | 0.00 | 0.00 | XXX
J9216 |  | E | Interferon gamma 1-b inj | 0.00 | 0.00 | 0.00 | 0.00 | 0.00 | 0.00 | XXX
J9217 |  | E | Leuprolide acetate suspnsion | 0.00 | 0.00 | 0.00 | 0.00 | 0.00 | 0.00 | XXX
J9218 |  | E | Leuprolide acetate injeciton | 0.00 | 0.00 | 0.00 | 0.00 | 0.00 | 0.00 | XXX
J9219 |  | E | Leuprolide acetate implant | 0.00 | 0.00 | 0.00 | 0.00 | 0.00 | 0.00 | XXX
J9230 |  | E | Mechlorethamine hcl inj | 0.00 | 0.00 | 0.00 | 0.00 | 0.00 | 0.00 | XXX
J9245 |  | E | Inj melphalan hydrochl 50 MG | 0.00 | 0.00 | 0.00 | 0.00 | 0.00 | 0.00 | XXX
J9250 |  | E | Methotrexate sodium inj | 0.00 | 0.00 | 0.00 | 0.00 | 0.00 | 0.00 | XXX
J9260 |  | E | Methotrexate sodium inj | 0.00 | 0.00 | 0.00 | 0.00 | 0.00 | 0.00 | XXX
J9265 |  | E | Paclitaxel injection | 0.00 | 0.00 | 0.00 | 0.00 | 0.00 | 0.00 | XXX
J9266 |  | E | Pegaspargase/singl dose vial | 0.00 | 0.00 | 0.00 | 0.00 | 0.00 | 0.00 | XXX
J9268 |  | E | Pentostatin injection | 0.00 | 0.00 | 0.00 | 0.00 | 0.00 | 0.00 | XXX
J9270 |  | E | Plicamycin (mithramycin) inj | 0.00 | 0.00 | 0.00 | 0.00 | 0.00 | 0.00 | XXX
J9280 |  | E | Mitomycin 5 MG inj | 0.00 | 0.00 | 0.00 | 0.00 | 0.00 | 0.00 | XXX
J9290 |  | E | Mitomycin 20 MG inj | 0.00 | 0.00 | 0.00 | 0.00 | 0.00 | 0.00 | XXX
J9291 |  | E | Mitomycin 40 MG inj | 0.00 | 0.00 | 0.00 | 0.00 | 0.00 | 0.00 | XXX
J9293 |  | E | Mitoxantrone hydrochl / 5 MG | 0.00 | 0.00 | 0.00 | 0.00 | 0.00 | 0.00 | XXX
J9310 |  | E | Rituximab cancer treatment | 0.00 | 0.00 | 0.00 | 0.00 | 0.00 | 0.00 | XXX
J9320 |  | E | Streptozocin injection | 0.00 | 0.00 | 0.00 | 0.00 | 0.00 | 0.00 | XXX
J9340 |  | E | Thiotepa injection | 0.00 | 0.00 | 0.00 | 0.00 | 0.00 | 0.00 | XXX
J9350 |  | E | Topotecan | 0.00 | 0.00 | 0.00 | 0.00 | 0.00 | 0.00 | XXX
J9355 |  | E | Trastuzumab | 0.00 | 0.00 | 0.00 | 0.00 | 0.00 | 0.00 | XXX
J9357 |  | E | Valrubicin, 200 mg | 0.00 | 0.00 | 0.00 | 0.00 | 0.00 | 0.00 | XXX
J9360 |  | E | Vinblastine sulfate inj | 0.00 | 0.00 | 0.00 | 0.00 | 0.00 | 0.00 | XXX
J9370 |  | E | Vincristine sulfate 1 MG inj | 0.00 | 0.00 | 0.00 | 0.00 | 0.00 | 0.00 | XXX
J9375 |  | E | Vincristine sulfate 2 MG inj | 0.00 | 0.00 | 0.00 | 0.00 | 0.00 | 0.00 | XXX
J9380 |  | E | Vincristine sulfate 5 MG inj | 0.00 | 0.00 | 0.00 | 0.00 | 0.00 | 0.00 | XXX
J9390 |  | E | Vinorelbine tartrate/10 mg | 0.00 | 0.00 | 0.00 | 0.00 | 0.00 | 0.00 | XXX
J9600 |  | E | Porfimer sodium | 0.00 | 0.00 | 0.00 | 0.00 | 0.00 | 0.00 | XXX
J9999 |  | E | Chemotherapy drug | 0.00 | 0.00 | 0.00 | 0.00 | 0.00 | 0.00 | XXX
M0064 |  | A | Visit for drug monitoring | 0.37 | 0.12 | 0.26 | 0.01 | 0.50 | 0.64 | XXX
M0075 |  | N | Cellular therapy | 0.00 | 0.00 | 0.00 | 0.00 | 0.00 | 0.00 | XXX
M0076 |  | N | Prolotherapy | 0.00 | 0.00 | 0.00 | 0.00 | 0.00 | 0.00 | XXX
M0100 |  | N | Intragastric hypothermia | 0.00 | 0.00 | 0.00 | 0.00 | 0.00 | 0.00 | XXX
M0300 |  | N | IV chelationtherapy | 0.00 | 0.00 | 0.00 | 0.00 | 0.00 | 0.00 | XXX
M0301 |  | N | Fabric wrapping of aneurysm | 0.00 | 0.00 | 0.00 | 0.00 | 0.00 | 0.00 | XXX
M0302 |  | A | Assessment of cardiac output | 0.17 | NA | 0.85 | 0.02 | NA | 1.04 | XXX
M0302 | 26 | A | Assessment of cardiac output | 0.17 | 0.07 | 0.07 | 0.01 | 0.25 | 0.25 | XXX
M0302 | TC | A | Assessment of cardiac output | 0.00 | NA | 0.78 | 0.01 | NA | 0.79 | XXX
P2028 |  | X | Cephalin floculation test | 0.00 | 0.00 | 0.00 | 0.00 | 0.00 | 0.00 | XXX
P2029 |  | X | Congo red blood test | 0.00 | 0.00 | 0.00 | 0.00 | 0.00 | 0.00 | XXX
P2031 |  | N | Hair analysis | 0.00 | 0.00 | 0.00 | 0.00 | 0.00 | 0.00 | XXX
P2033 |  | X | Blood thymol turbidity | 0.00 | 0.00 | 0.00 | 0.00 | 0.00 | 0.00 | XXX
P2038 |  | X | Blood mucoprotein | 0.00 | 0.00 | 0.00 | 0.00 | 0.00 | 0.00 | XXX
P3000 |  | X | Screen pap by tech w md supv | 0.00 | 0.00 | 0.00 | 0.00 | 0.00 | 0.00 | XXX
P3001 |  | A | Screening pap smear by phys | 0.42 | 0.19 | 0.19 | 0.01 | 0.62 | 0.62 | XXX
P7001 |  | I | Culture bacterial urine | 0.00 | 0.00 | 0.00 | 0.00 | 0.00 | 0.00 | XXX
P9010 |  | E | Whole blood for transfusion | 0.00 | 0.00 | 0.00 | 0.00 | 0.00 | 0.00 | XXX
P9011 |  | E | Blood split unit | 0.00 | 0.00 | 0.00 | 0.00 | 0.00 | 0.00 | XXX
P9012 |  | E | Cryoprecipitate each unit | 0.00 | 0.00 | 0.00 | 0.00 | 0.00 | 0.00 | XXX
P9016 |  | E | RBC leukocytes reduced | 0.00 | 0.00 | 0.00 | 0.00 | 0.00 | 0.00 | XXX
P9017 |  | E | One donor fresh frozn plasma | 0.00 | 0.00 | 0.00 | 0.00 | 0.00 | 0.00 | XXX
P9019 |  | E | Platelets, each unit | 0.00 | 0.00 | 0.00 | 0.00 | 0.00 | 0.00 | XXX
P9020 |  | E | Plaelet rich plasma unit | 0.00 | 0.00 | 0.00 | 0.00 | 0.00 | 0.00 | XXX
P9021 |  | E | Red blood cells unit | 0.00 | 0.00 | 0.00 | 0.00 | 0.00 | 0.00 | XXX
P9022 |  | E | Washed red blood cells unit | 0.00 | 0.00 | 0.00 | 0.00 | 0.00 | 0.00 | XXX
P9023 |  | X | Frozen plasma, pooled, sd | 0.00 | 0.00 | 0.00 | 0.00 | 0.00 | 0.00 | XXX
P9031 |  | X | Platelets leukocytes reduced | 0.00 | 0.00 | 0.00 | 0.00 | 0.00 | 0.00 | XXX
P9032 |  | X | Platelets, irradiated | 0.00 | 0.00 | 0.00 | 0.00 | 0.00 | 0.00 | XXX
P9033 |  | X | Platelets leukoreduced irrad | 0.00 | 0.00 | 0.00 | 0.00 | 0.00 | 0.00 | XXX
P9034 |  | X | Platelets, pheresis | 0.00 | 0.00 | 0.00 | 0.00 | 0.00 | 0.00 | XXX
P9035 |  | X | Platelet pheres leukoreduced | 0.00 | 0.00 | 0.00 | 0.00 | 0.00 | 0.00 | XXX
P9036 |  | X | Platelet pheresis irradiated | 0.00 | 0.00 | 0.00 | 0.00 | 0.00 | 0.00 | XXX
P9037 |  | X | Plate pheres leukoredu irrad | 0.00 | 0.00 | 0.00 | 0.00 | 0.00 | 0.00 | XXX
P9038 |  | X | RBC irradiated | 0.00 | 0.00 | 0.00 | 0.00 | 0.00 | 0.00 | XXX
P9039 |  | X | RBC deglycerolized | 0.00 | 0.00 | 0.00 | 0.00 | 0.00 | 0.00 | XXX
P9040 |  | X | RBC leukoreduced irradiated | 0.00 | 0.00 | 0.00 | 0.00 | 0.00 | 0.00 | XXX
P9041 |  | X | Albumin(human), 5% | 0.00 | 0.00 | 0.00 | 0.00 | 0.00 | 0.00 | XXX
P9042 |  | X | Albumin (human), 25% | 0.00 | 0.00 | 0.00 | 0.00 | 0.00 | 0.00 | XXX
P9043 |  | X | Plasma protein fraction | 0.00 | 0.00 | 0.00 | 0.00 | 0.00 | 0.00 | XXX
P9044 |  | X | Cryoprecipitatereducedplasma | 0.00 | 0.00 | 0.00 | 0.00 | 0.00 | 0.00 | XXX
P9603 |  | X | One-way allow prorated miles | 0.00 | 0.00 | 0.00 | 0.00 | 0.00 | 0.00 | XXX
P9604 |  | X | One-way allow prorated trip | 0.00 | 0.00 | 0.00 | 0.00 | 0.00 | 0.00 | XXX
P9612 |  | X | Catheterize for urine spec | 0.00 | 0.00 | 0.00 | 0.00 | 0.00 | 0.00 | XXX
P9615 |  | X | Urine specimen collect mult | 0.00 | 0.00 | 0.00 | 0.00 | 0.00 | 0.00 | XXX
Q0035 |  | A | Cardiokymography | 0.17 | NA | 0.45 | 0.03 | NA | 0.65 | XXX
Q0035 | 26 | A | Cardiokymography | 0.17 | 0.07 | 0.07 | 0.01 | 0.25 | 0.25 | XXX
Q0035 | TC | A | Cardiokymography | 0.00 | NA | 0.38 | 0.02 | NA | 0.40 | XXX
Q0091 |  | A | Obtaining screen pap smear | 0.37 | 0.15 | 0.72 | 0.01 | 0.53 | 1.10 | XXX
Q0092 |  | A | Set up port xray equipment | 0.00 | NA | 0.31 | 0.01 | NA | 0.32 | XXX
Q0111 |  | X | Wet mounts/ w preparations | 0.00 | 0.00 | 0.00 | 0.00 | 0.00 | 0.00 | XXX
Q0112 |  | X | Potassium hydroxide preps | 0.00 | 0.00 | 0.00 | 0.00 | 0.00 | 0.00 | XXX
Q0113 |  | X | Pinworm examinations | 0.00 | 0.00 | 0.00 | 0.00 | 0.00 | 0.00 | XXX
Q0114 |  | X | Fern test | 0.00 | 0.00 | 0.00 | 0.00 | 0.00 | 0.00 | XXX
Q0115 |  | X | Post-coital mucous exam | 0.00 | 0.00 | 0.00 | 0.00 | 0.00 | 0.00 | XXX
Q0136 |  | X | Non esrd epoetin alpha inj | 0.00 | 0.00 | 0.00 | 0.00 | 0.00 | 0.00 | XXX
Q0144 |  | N | Azithromycin dihydrate, oral | 0.00 | 0.00 | 0.00 | 0.00 | 0.00 | 0.00 | XXX
Q0160 |  | X | Factor IX non-recombinant | 0.00 | 0.00 | 0.00 | 0.00 | 0.00 | 0.00 | XXX
Q0161 |  | X | Factor IX recombinant | 0.00 | 0.00 | 0.00 | 0.00 | 0.00 | 0.00 | XXX
Q0163 |  | X | Diphenhydramine HCl 50mg | 0.00 | 0.00 | 0.00 | 0.00 | 0.00 | 0.00 | XXX
Q0164 |  | X | Prochlorperazine maleate 5mg | 0.00 | 0.00 | 0.00 | 0.00 | 0.00 | 0.00 | XXX
Q0165 |  | X | Prochlorperazine maleate10mg | 0.00 | 0.00 | 0.00 | 0.00 | 0.00 | 0.00 | XXX
Q0166 |  | X | Granisetron HCl 1 mg oral | 0.00 | 0.00 | 0.00 | 0.00 | 0.00 | 0.00 | XXX
Q0167 |  | X | Dronabinol 2.5mg oral | 0.00 | 0.00 | 0.00 | 0.00 | 0.00 | 0.00 | XXX
Q0168 |  | X | Dronabinol 5mg oral | 0.00 | 0.00 | 0.00 | 0.00 | 0.00 | 0.00 | XXX
Q0169 |  | X | Promethazine HCl 12.5mg oral | 0.00 | 0.00 | 0.00 | 0.00 | 0.00 | 0.00 | XXX
Q0170 |  | X | Promethazine HCl 25 mg oral | 0.00 | 0.00 | 0.00 | 0.00 | 0.00 | 0.00 | XXX
Q0171 |  | X | Chlorpromazine HCl 10mg oral | 0.00 | 0.00 | 0.00 | 0.00 | 0.00 | 0.00 | XXX
Q0172 |  | X | Chlorpromazine HCl 25mg oral | 0.00 | 0.00 | 0.00 | 0.00 | 0.00 | 0.00 | XXX
Q0173 |  | X | Trimethobenzamide HCl 250mg | 0.00 | 0.00 | 0.00 | 0.00 | 0.00 | 0.00 | XXX
Q0174 |  | X | Thiethylperazine maleate10mg | 0.00 | 0.00 | 0.00 | 0.00 | 0.00 | 0.00 | XXX
Q0175 |  | X | Perphenazine 4mg oral | 0.00 | 0.00 | 0.00 | 0.00 | 0.00 | 0.00 | XXX
Q0176 |  | X | Perphenazine 8mg oral | 0.00 | 0.00 | 0.00 | 0.00 | 0.00 | 0.00 | XXX
Q0177 |  | X | Hydroxyzine pamoate 25mg | 0.00 | 0.00 | 0.00 | 0.00 | 0.00 | 0.00 | XXX
Q0178 |  | X | Hydroxyzine pamoate 50mg | 0.00 | 0.00 | 0.00 | 0.00 | 0.00 | 0.00 | XXX
Q0179 |  | X | Ondansetron HCl 8mg oral | 0.00 | 0.00 | 0.00 | 0.00 | 0.00 | 0.00 | XXX
Q0180 |  | X | Dolasetron mesylate oral | 0.00 | 0.00 | 0.00 | 0.00 | 0.00 | 0.00 | XXX
Q0181 |  | X | Unspecified oral anti-emetic | 0.00 | 0.00 | 0.00 | 0.00 | 0.00 | 0.00 | XXX
Q0183 |  | X | Nonmetabolic active tissue | 0.00 | 0.00 | 0.00 | 0.00 | 0.00 | 0.00 | XXX
Q0184 |  | X | Metabolically active tissue | 0.00 | 0.00 | 0.00 | 0.00 | 0.00 | 0.00 | XXX
Q0185 |  | X | Metabolic active D/E tissue | 0.00 | 0.00 | 0.00 | 0.00 | 0.00 | 0.00 | XXX
Q0186 |  | I | Paramedic intercept, rural | 0.00 | 0.00 | 0.00 | 0.00 | 0.00 | 0.00 | XXX
Q0187 |  | E | Factor viia recombinant | 0.00 | 0.00 | 0.00 | 0.00 | 0.00 | 0.00 | XXX
Q1001 |  | X | Ntiol category 1 | 0.00 | 0.00 | 0.00 | 0.00 | 0.00 | 0.00 | XXX
Q1002 |  | X | Ntiol category 2 | 0.00 | 0.00 | 0.00 | 0.00 | 0.00 | 0.00 | XXX
Q1003 |  | X | Ntiol category 3 | 0.00 | 0.00 | 0.00 | 0.00 | 0.00 | 0.00 | XXX
Q1004 |  | X | Ntiol category 4 | 0.00 | 0.00 | 0.00 | 0.00 | 0.00 | 0.00 | XXX
Q1005 |  | X | Ntiol category 5 | 0.00 | 0.00 | 0.00 | 0.00 | 0.00 | 0.00 | XXX
Q2001 |  | N | Oral cabergoline 0.5 mg | 0.00 | 0.00 | 0.00 | 0.00 | 0.00 | 0.00 | XXX
Q2002 |  | E | Elliotts b solution per ml | 0.00 | 0.00 | 0.00 | 0.00 | 0.00 | 0.00 | XXX
Q2003 |  | E | Aprotinin, 10,000 kiu | 0.00 | 0.00 | 0.00 | 0.00 | 0.00 | 0.00 | XXX
Q2004 |  | E | Bladder calculi irrig sol | 0.00 | 0.00 | 0.00 | 0.00 | 0.00 | 0.00 | XXX
Q2005 |  | E | Corticorelin ovine triflutat | 0.00 | 0.00 | 0.00 | 0.00 | 0.00 | 0.00 | XXX
Q2006 |  | E | Digoxin immune fab (ovine) | 0.00 | 0.00 | 0.00 | 0.00 | 0.00 | 0.00 | XXX
Q2007 |  | E | Ethanolamine oleate 100 mg | 0.00 | 0.00 | 0.00 | 0.00 | 0.00 | 0.00 | XXX
Q2008 |  | E | Fomepizole, 1.5 mg | 0.00 | 0.00 | 0.00 | 0.00 | 0.00 | 0.00 | XXX
Q2009 |  | E | Fosphenytoin, 50 mg | 0.00 | 0.00 | 0.00 | 0.00 | 0.00 | 0.00 | XXX
Q2010 |  | E | Glatiramer acetate, per dose | 0.00 | 0.00 | 0.00 | 0.00 | 0.00 | 0.00 | XXX
Q2011 |  | E | Hemin, per 1 mg | 0.00 | 0.00 | 0.00 | 0.00 | 0.00 | 0.00 | XXX
Q2012 |  | E | Pegademase bovine, 25 iu | 0.00 | 0.00 | 0.00 | 0.00 | 0.00 | 0.00 | XXX
Q2013 |  | E | Pentastarch 10% solution | 0.00 | 0.00 | 0.00 | 0.00 | 0.00 | 0.00 | XXX
Q2014 |  | E | Sermorelin acetate, 0.5 mg | 0.00 | 0.00 | 0.00 | 0.00 | 0.00 | 0.00 | XXX
Q2015 |  | E | Somatrem, 5 mg | 0.00 | 0.00 | 0.00 | 0.00 | 0.00 | 0.00 | XXX
Q2016 |  | E | Somatropin, 1 mg | 0.00 | 0.00 | 0.00 | 0.00 | 0.00 | 0.00 | XXX
Q2017 |  | E | Teniposide, 50 mg | 0.00 | 0.00 | 0.00 | 0.00 | 0.00 | 0.00 | XXX
Q2018 |  | E | Urofollitropin, 75 iu | 0.00 | 0.00 | 0.00 | 0.00 | 0.00 | 0.00 | XXX
Q2019 |  | E | Basiliximab | 0.00 | 0.00 | 0.00 | 0.00 | 0.00 | 0.00 | XXX
Q2020 |  | E | Histrelin acetate | 0.00 | 0.00 | 0.00 | 0.00 | 0.00 | 0.00 | XXX
Q2021 |  | E | Lepirudin | 0.00 | 0.00 | 0.00 | 0.00 | 0.00 | 0.00 | XXX
Q2022 |  | E | VonWillebrandFactrCmplxperIU | 0.00 | 0.00 | 0.00 | 0.00 | 0.00 | 0.00 | XXX
Q3001 |  | E | Brachytherapy Radioelements | 0.00 | 0.00 | 0.00 | 0.00 | 0.00 | 0.00 | XXX
Q3002 |  | E | Gallium ga 67 | 0.00 | 0.00 | 0.00 | 0.00 | 0.00 | 0.00 | XXX
Q3003 |  | E | Technetium tc99m bicisate | 0.00 | 0.00 | 0.00 | 0.00 | 0.00 | 0.00 | XXX
Q3004 |  | E | Xenon xe 133 | 0.00 | 0.00 | 0.00 | 0.00 | 0.00 | 0.00 | XXX
Q3005 |  | E | Technetium tc99m mertiatide | 0.00 | 0.00 | 0.00 | 0.00 | 0.00 | 0.00 | XXX
Q3006 |  | E | Technetium tc99m glucepatate | 0.00 | 0.00 | 0.00 | 0.00 | 0.00 | 0.00 | XXX
Q3007 |  | E | Sodium phosphate p32 | 0.00 | 0.00 | 0.00 | 0.00 | 0.00 | 0.00 | XXX
Q3008 |  | E | Indium 111-in pentetreotide | 0.00 | 0.00 | 0.00 | 0.00 | 0.00 | 0.00 | XXX
Q3009 |  | E | Technetium tc99m oxidronate | 0.00 | 0.00 | 0.00 | 0.00 | 0.00 | 0.00 | XXX
Q3010 |  | E | Technetium tc99mlabeledrbcs | 0.00 | 0.00 | 0.00 | 0.00 | 0.00 | 0.00 | XXX
Q3011 |  | E | Chromic phosphate p32 | 0.00 | 0.00 | 0.00 | 0.00 | 0.00 | 0.00 | XXX
Q3012 |  | E | Cyanocobalamin cobalt co57 | 0.00 | 0.00 | 0.00 | 0.00 | 0.00 | 0.00 | XXX
Q3013 |  | E | Injection, verteporfin, 15mg | 0.00 | 0.00 | 0.00 | 0.00 | 0.00 | 0.00 | XXX
Q4001 |  | X | Cast sup body cast, plas | 0.00 | 0.00 | 0.00 | 0.00 | 0.00 | 0.00 | XXX
Q4002 |  | X | Cast sup body cast, fib | 0.00 | 0.00 | 0.00 | 0.00 | 0.00 | 0.00 | XXX
Q4003 |  | X | Cast sup shoulder cast, pl | 0.00 | 0.00 | 0.00 | 0.00 | 0.00 | 0.00 | XXX
Q4004 |  | X | Cast sup shoulder cast, fib | 0.00 | 0.00 | 0.00 | 0.00 | 0.00 | 0.00 | XXX
Q4005 |  | X | Cast sup long arm, ad, pl | 0.00 | 0.00 | 0.00 | 0.00 | 0.00 | 0.00 | XXX
Q4006 |  | X | Cast sup long arm, ad, fib | 0.00 | 0.00 | 0.00 | 0.00 | 0.00 | 0.00 | XXX
Q4007 |  | X | Cast sup long arm ped, pl | 0.00 | 0.00 | 0.00 | 0.00 | 0.00 | 0.00 | XXX
Q4008 |  | X | Cast sup, long arm ped, fib | 0.00 | 0.00 | 0.00 | 0.00 | 0.00 | 0.00 | XXX
Q4009 |  | X | Cast sup sh arm, pl | 0.00 | 0.00 | 0.00 | 0.00 | 0.00 | 0.00 | XXX
Q4010 |  | X | Cast sup sh arm, fib | 0.00 | 0.00 | 0.00 | 0.00 | 0.00 | 0.00 | XXX
Q4011 |  | X | Cast sup sh arm ped, pl | 0.00 | 0.00 | 0.00 | 0.00 | 0.00 | 0.00 | XXX
Q4012 |  | X | Cast sup sh arm ped, fib | 0.00 | 0.00 | 0.00 | 0.00 | 0.00 | 0.00 | XXX
Q4013 |  | X | Cast sup gauntlet, pl | 0.00 | 0.00 | 0.00 | 0.00 | 0.00 | 0.00 | XXX
Q4014 |  | X | Cast sup gauntlet, fib | 0.00 | 0.00 | 0.00 | 0.00 | 0.00 | 0.00 | XXX
Q4015 |  | X | Cast sup gauntlet ped, | 0.00 | 0.00 | 0.00 | 0.00 | 0.00 | 0.00 | XXX
Q4016 |  | X | Cast sup gauntlet ped, fib | 0.00 | 0.00 | 0.00 | 0.00 | 0.00 | 0.00 | XXX
Q4017 |  | X | Cast sup l arm splint, pl | 0.00 | 0.00 | 0.00 | 0.00 | 0.00 | 0.00 | XXX
Q4018 |  | X | Cast sup l arm splint, fib | 0.00 | 0.00 | 0.00 | 0.00 | 0.00 | 0.00 | XXX
Q4019 |  | X | Cast sup l arm splint ped, p | 0.00 | 0.00 | 0.00 | 0.00 | 0.00 | 0.00 | XXX
Q4020 |  | X | Cast sup l arm splint ped, f | 0.00 | 0.00 | 0.00 | 0.00 | 0.00 | 0.00 | XXX
Q4021 |  | X | Cast sup sh arm splint, pl | 0.00 | 0.00 | 0.00 | 0.00 | 0.00 | 0.00 | XXX
Q4022 |  | X | Cast sup sh arm splint, fib | 0.00 | 0.00 | 0.00 | 0.00 | 0.00 | 0.00 | XXX
Q4023 |  | X | Cast sup sh arm splint ped, | 0.00 | 0.00 | 0.00 | 0.00 | 0.00 | 0.00 | XXX
Q4024 |  | X | Cast sup sh arm splint ped, | 0.00 | 0.00 | 0.00 | 0.00 | 0.00 | 0.00 | XXX
Q4025 |  | X | Cast sup, hip spica, pl | 0.00 | 0.00 | 0.00 | 0.00 | 0.00 | 0.00 | XXX
Q4026 |  | X | Cast sup hip spica, fib | 0.00 | 0.00 | 0.00 | 0.00 | 0.00 | 0.00 | XXX
Q4027 |  | X | Cast sup hip spica, pl | 0.00 | 0.00 | 0.00 | 0.00 | 0.00 | 0.00 | XXX
Q4028 |  | X | Cast sup, hip spica, fib | 0.00 | 0.00 | 0.00 | 0.00 | 0.00 | 0.00 | XXX
Q4029 |  | X | Cast sup long leg, pl | 0.00 | 0.00 | 0.00 | 0.00 | 0.00 | 0.00 | XXX
Q4030 |  | X | Cast sup, long leg, fib | 0.00 | 0.00 | 0.00 | 0.00 | 0.00 | 0.00 | XXX
Q4031 |  | X | Cast sup, long leg ped, pl | 0.00 | 0.00 | 0.00 | 0.00 | 0.00 | 0.00 | XXX
Q4032 |  | X | Cast sup, long leg ped, fib | 0.00 | 0.00 | 0.00 | 0.00 | 0.00 | 0.00 | XXX
Q4033 |  | X | Cast sup, leg cylinder, pl | 0.00 | 0.00 | 0.00 | 0.00 | 0.00 | 0.00 | XXX
Q4034 |  | X | Cast sup, leg cylinder, fib | 0.00 | 0.00 | 0.00 | 0.00 | 0.00 | 0.00 | XXX
Q4035 |  | X | Cast sup, leg cylinder ped, | 0.00 | 0.00 | 0.00 | 0.00 | 0.00 | 0.00 | XXX
Q4036 |  | X | Cast sup, leg cylinder ped, | 0.00 | 0.00 | 0.00 | 0.00 | 0.00 | 0.00 | XXX
Q4037 |  | X | Cast sup, sh leg, pl | 0.00 | 0.00 | 0.00 | 0.00 | 0.00 | 0.00 | XXX
Q4038 |  | X | Cast sup, sh leg, fib | 0.00 | 0.00 | 0.00 | 0.00 | 0.00 | 0.00 | XXX
Q4039 |  | X | Cast sup, sh leg ped, pl | 0.00 | 0.00 | 0.00 | 0.00 | 0.00 | 0.00 | XXX
Q4040 |  | X | Cast sup, sh leg ped, fib | 0.00 | 0.00 | 0.00 | 0.00 | 0.00 | 0.00 | XXX
Q4041 |  | X | Cast sup, l leg splint , pl | 0.00 | 0.00 | 0.00 | 0.00 | 0.00 | 0.00 | XXX
Q4042 |  | X | Cast sup, l leg splint , fib | 0.00 | 0.00 | 0.00 | 0.00 | 0.00 | 0.00 | XXX
Q4043 |  | X | Cast sup, l leg splintped, p | 0.00 | 0.00 | 0.00 | 0.00 | 0.00 | 0.00 | XXX
Q4044 |  | X | Cast sup, l leg splint ped, | 0.00 | 0.00 | 0.00 | 0.00 | 0.00 | 0.00 | XXX
Q4045 |  | X | Cast sup, sh leg splint , pl | 0.00 | 0.00 | 0.00 | 0.00 | 0.00 | 0.00 | XXX
Q4046 |  | X | Cast sup, sh leg splint, fib | 0.00 | 0.00 | 0.00 | 0.00 | 0.00 | 0.00 | XXX
Q4047 |  | X | Cast sup, sh leg splint ped, | 0.00 | 0.00 | 0.00 | 0.00 | 0.00 | 0.00 | XXX
Q4048 |  | X | Cast sup, sh leg splint ped, | 0.00 | 0.00 | 0.00 | 0.00 | 0.00 | 0.00 | XXX
Q4049 |  | X | Finger splint, static | 0.00 | 0.00 | 0.00 | 0.00 | 0.00 | 0.00 | XXX
Q4050 |  | X | Cast sup, unlisted casts | 0.00 | 0.00 | 0.00 | 0.00 | 0.00 | 0.00 | XXX
Q4051 |  | X | Splint sup, misc | 0.00 | 0.00 | 0.00 | 0.00 | 0.00 | 0.00 | XXX
Q9920 |  | E | Epoetin with hct <= 20 | 0.00 | 0.00 | 0.00 | 0.00 | 0.00 | 0.00 | XXX
Q9921 |  | E | Epoetin with hct = 21 | 0.00 | 0.00 | 0.00 | 0.00 | 0.00 | 0.00 | XXX
Q9922 |  | E | Epoetin with hct = 22 | 0.00 | 0.00 | 0.00 | 0.00 | 0.00 | 0.00 | XXX
Q9923 |  | E | Epoetin with hct = 23 | 0.00 | 0.00 | 0.00 | 0.00 | 0.00 | 0.00 | XXX
Q9924 |  | E | Epoetin with hct = 24 | 0.00 | 0.00 | 0.00 | 0.00 | 0.00 | 0.00 | XXX
Q9925 |  | E | Epoetin with hct = 25 | 0.00 | 0.00 | 0.00 | 0.00 | 0.00 | 0.00 | XXX
Q9926 |  | E | Epoetin with hct = 26 | 0.00 | 0.00 | 0.00 | 0.00 | 0.00 | 0.00 | XXX
Q9927 |  | E | Epoetin with hct = 27 | 0.00 | 0.00 | 0.00 | 0.00 | 0.00 | 0.00 | XXX
Q9928 |  | E | Epoetin with hct = 28 | 0.00 | 0.00 | 0.00 | 0.00 | 0.00 | 0.00 | XXX
Q9929 |  | E | Epoetin with hct = 29 | 0.00 | 0.00 | 0.00 | 0.00 | 0.00 | 0.00 | XXX
Q9930 |  | E | Epoetin with hct = 30 | 0.00 | 0.00 | 0.00 | 0.00 | 0.00 | 0.00 | XXX
Q9931 |  | E | Epoetin with hct = 31 | 0.00 | 0.00 | 0.00 | 0.00 | 0.00 | 0.00 | XXX
Q9932 |  | E | Epoetin with hct = 32 | 0.00 | 0.00 | 0.00 | 0.00 | 0.00 | 0.00 | XXX
Q9933 |  | E | Epoetin with hct = 33 | 0.00 | 0.00 | 0.00 | 0.00 | 0.00 | 0.00 | XXX
Q9934 |  | E | Epoetin with hct = 34 | 0.00 | 0.00 | 0.00 | 0.00 | 0.00 | 0.00 | XXX
Q9935 |  | E | Epoetin with hct = 35 | 0.00 | 0.00 | 0.00 | 0.00 | 0.00 | 0.00 | XXX
Q9936 |  | E | Epoetin with hct = 36 | 0.00 | 0.00 | 0.00 | 0.00 | 0.00 | 0.00 | XXX
Q9937 |  | E | Epoetin with hct = 37 | 0.00 | 0.00 | 0.00 | 0.00 | 0.00 | 0.00 | XXX
Q9938 |  | E | Epoetin with hct = 38 | 0.00 | 0.00 | 0.00 | 0.00 | 0.00 | 0.00 | XXX
Q9939 |  | E | Epoetin with hct = 39 | 0.00 | 0.00 | 0.00 | 0.00 | 0.00 | 0.00 | XXX
Q9940 |  | E | Epoetin with hct >= 40 | 0.00 | 0.00 | 0.00 | 0.00 | 0.00 | 0.00 | XXX
R0070 |  | C | Transport portable x-ray | 0.00 | 0.00 | 0.00 | 0.00 | 0.00 | 0.00 | XXX
R0075 |  | C | Transport port x-ray multipl | 0.00 | 0.00 | 0.00 | 0.00 | 0.00 | 0.00 | XXX
R0076 |  | B | Transport portable EKG | 0.00 | 0.00 | 0.00 | 0.00 | 0.00 | 0.00 | XXX
S0009 |  | I | Injection, butorphanol tartr | 0.00 | 0.00 | 0.00 | 0.00 | 0.00 | 0.00 | XXX
S0012 |  | I | Butorphanol tartrate, nasal | 0.00 | 0.00 | 0.00 | 0.00 | 0.00 | 0.00 | XXX
S0014 |  | I | Tacrine hydrochloride, 10 mg | 0.00 | 0.00 | 0.00 | 0.00 | 0.00 | 0.00 | XXX
S0016 |  | I | Injection, amikacin sulfate | 0.00 | 0.00 | 0.00 | 0.00 | 0.00 | 0.00 | XXX
S0017 |  | I | Injection, aminocaproic acid | 0.00 | 0.00 | 0.00 | 0.00 | 0.00 | 0.00 | XXX
S0020 |  | I | Injection, bupivicaine hydro | 0.00 | 0.00 | 0.00 | 0.00 | 0.00 | 0.00 | XXX
S0021 |  | I | Injection, cefoperazone sod | 0.00 | 0.00 | 0.00 | 0.00 | 0.00 | 0.00 | XXX
S0023 |  | I | Injection, cimetidine hydroc | 0.00 | 0.00 | 0.00 | 0.00 | 0.00 | 0.00 | XXX
S0024 |  | I | Injection, ciprofloxacin | 0.00 | 0.00 | 0.00 | 0.00 | 0.00 | 0.00 | XXX
S0028 |  | I | Injection, famotidine, 20 mg | 0.00 | 0.00 | 0.00 | 0.00 | 0.00 | 0.00 | XXX
S0029 |  | I | Injection, fluconazole | 0.00 | 0.00 | 0.00 | 0.00 | 0.00 | 0.00 | XXX
S0030 |  | I | Injection, metronidazole | 0.00 | 0.00 | 0.00 | 0.00 | 0.00 | 0.00 | XXX
S0032 |  | I | Injection, nafcillin sodium | 0.00 | 0.00 | 0.00 | 0.00 | 0.00 | 0.00 | XXX
S0034 |  | I | Injection, ofloxacin, 400 mg | 0.00 | 0.00 | 0.00 | 0.00 | 0.00 | 0.00 | XXX
S0039 |  | I | Injection, sulfamethoxazole | 0.00 | 0.00 | 0.00 | 0.00 | 0.00 | 0.00 | XXX
S0040 |  | I | Injection, ticarcillin disod | 0.00 | 0.00 | 0.00 | 0.00 | 0.00 | 0.00 | XXX
S0071 |  | I | Injection, acyclovir sodium | 0.00 | 0.00 | 0.00 | 0.00 | 0.00 | 0.00 | XXX
S0072 |  | I | Injection, amikacin sulfate | 0.00 | 0.00 | 0.00 | 0.00 | 0.00 | 0.00 | XXX
S0073 |  | I | Injection, aztreonam, 500 mg | 0.00 | 0.00 | 0.00 | 0.00 | 0.00 | 0.00 | XXX
S0074 |  | I | Injection, cefotetan disodiu | 0.00 | 0.00 | 0.00 | 0.00 | 0.00 | 0.00 | XXX
S0077 |  | I | Injection, clindamycin phosp | 0.00 | 0.00 | 0.00 | 0.00 | 0.00 | 0.00 | XXX
S0078 |  | I | Injection, fosphenytoin sodi | 0.00 | 0.00 | 0.00 | 0.00 | 0.00 | 0.00 | XXX
S0080 |  | I | Injection, pentamidine iseth | 0.00 | 0.00 | 0.00 | 0.00 | 0.00 | 0.00 | XXX
S0081 |  | I | Injection, piperacillin sodi | 0.00 | 0.00 | 0.00 | 0.00 | 0.00 | 0.00 | XXX
S0085 |  | I | injection, gatifloxacin | 0.00 | 0.00 | 0.00 | 0.00 | 0.00 | 0.00 | XXX
S0086 |  | I | Injection, verteporfin, 15mg | 0.00 | 0.00 | 0.00 | 0.00 | 0.00 | 0.00 | XXX
S0090 |  | I | Sildenafil citrate, 25 mg | 0.00 | 0.00 | 0.00 | 0.00 | 0.00 | 0.00 | XXX
S0096 |  | I | Injection, itraconazole, 200 | 0.00 | 0.00 | 0.00 | 0.00 | 0.00 | 0.00 | XXX
S0156 |  | I | Exemestane, 25 mg | 0.00 | 0.00 | 0.00 | 0.00 | 0.00 | 0.00 | XXX
S0157 |  | I | Becaplermin gel 1%, 0.5 gm | 0.00 | 0.00 | 0.00 | 0.00 | 0.00 | 0.00 | XXX
S0220 |  | I | Medical conference by physic | 0.00 | 0.00 | 0.00 | 0.00 | 0.00 | 0.00 | XXX
S0221 |  | I | Medical conference, 60 min | 0.00 | 0.00 | 0.00 | 0.00 | 0.00 | 0.00 | XXX
S0601 |  | I | Screening proctoscopy | 0.00 | 0.00 | 0.00 | 0.00 | 0.00 | 0.00 | XXX
S0605 |  | I | Digital rectal examination, | 0.00 | 0.00 | 0.00 | 0.00 | 0.00 | 0.00 | XXX
S0610 |  | I | Annual gynecological examina | 0.00 | 0.00 | 0.00 | 0.00 | 0.00 | 0.00 | XXX
S0612 |  | I | Annual gynecological examina | 0.00 | 0.00 | 0.00 | 0.00 | 0.00 | 0.00 | XXX
S0620 |  | I | Routine ophthalmological exa | 0.00 | 0.00 | 0.00 | 0.00 | 0.00 | 0.00 | XXX
S0621 |  | I | Routine ophthalmological exa | 0.00 | 0.00 | 0.00 | 0.00 | 0.00 | 0.00 | XXX
S0630 |  | I | Removal of sutures | 0.00 | 0.00 | 0.00 | 0.00 | 0.00 | 0.00 | XXX
S0800 |  | I | Laser in situ keratomileusis | 0.00 | 0.00 | 0.00 | 0.00 | 0.00 | 0.00 | XXX
S0810 |  | I | Photorefractive keratectomy | 0.00 | 0.00 | 0.00 | 0.00 | 0.00 | 0.00 | XXX
S0820 |  | I | Computerized corneal topogra | 0.00 | 0.00 | 0.00 | 0.00 | 0.00 | 0.00 | XXX
S0830 |  | I | Ultrasound pachymetry | 0.00 | 0.00 | 0.00 | 0.00 | 0.00 | 0.00 | XXX
S1015 |  | I | IV tubing extension set | 0.00 | 0.00 | 0.00 | 0.00 | 0.00 | 0.00 | XXX
S1016 |  | I | Non-pvc intravenous administ | 0.00 | 0.00 | 0.00 | 0.00 | 0.00 | 0.00 | XXX
S2052 |  | I | Transplantation of small int | 0.00 | 0.00 | 0.00 | 0.00 | 0.00 | 0.00 | XXX
S2053 |  | I | Transplantation of small int | 0.00 | 0.00 | 0.00 | 0.00 | 0.00 | 0.00 | XXX
S2054 |  | I | Transplantation of multivisc | 0.00 | 0.00 | 0.00 | 0.00 | 0.00 | 0.00 | XXX
S2055 |  | I | Harvesting of donor multivis | 0.00 | 0.00 | 0.00 | 0.00 | 0.00 | 0.00 | XXX
S2060 |  | I | Lobar lung transplantation | 0.00 | 0.00 | 0.00 | 0.00 | 0.00 | 0.00 | XXX
S2061 |  | I | Donor lobectomy (lung) | 0.00 | 0.00 | 0.00 | 0.00 | 0.00 | 0.00 | XXX
S2102 |  | I | Islet cell tissue transplant | 0.00 | 0.00 | 0.00 | 0.00 | 0.00 | 0.00 | XXX
S2103 |  | I | Adrenal tissue transplant | 0.00 | 0.00 | 0.00 | 0.00 | 0.00 | 0.00 | XXX
S2120 |  | I | Low density lipoprotein(LDL) | 0.00 | 0.00 | 0.00 | 0.00 | 0.00 | 0.00 | XXX
S2140 |  | I | Cord blood harvesting | 0.00 | 0.00 | 0.00 | 0.00 | 0.00 | 0.00 | XXX
S2142 |  | I | Cord blood-derived stem-cell | 0.00 | 0.00 | 0.00 | 0.00 | 0.00 | 0.00 | XXX
S2180 |  | I | Donor leukocyte infusion | 0.00 | 0.00 | 0.00 | 0.00 | 0.00 | 0.00 | XXX
S2202 |  | I | Echosclerotherapy | 0.00 | 0.00 | 0.00 | 0.00 | 0.00 | 0.00 | XXX
S2205 |  | I | Minimally invasive direct co | 0.00 | 0.00 | 0.00 | 0.00 | 0.00 | 0.00 | XXX
S2206 |  | I | Minimally invasive direct co | 0.00 | 0.00 | 0.00 | 0.00 | 0.00 | 0.00 | XXX
S2207 |  | I | Minimally invasive direct co | 0.00 | 0.00 | 0.00 | 0.00 | 0.00 | 0.00 | XXX
S2208 |  | I | Minimally invasive direct co | 0.00 | 0.00 | 0.00 | 0.00 | 0.00 | 0.00 | XXX
S2209 |  | I | Minimally invasive direct co | 0.00 | 0.00 | 0.00 | 0.00 | 0.00 | 0.00 | XXX
S2210 |  | I | Cryosurgical ablation (in si | 0.00 | 0.00 | 0.00 | 0.00 | 0.00 | 0.00 | XXX
S2220 |  | I | Thrombectomy, coronary | 0.00 | 0.00 | 0.00 | 0.00 | 0.00 | 0.00 | XXX
S2300 |  | I | Arthroscopy, shoulder, surgi | 0.00 | 0.00 | 0.00 | 0.00 | 0.00 | 0.00 | XXX
S2340 |  | I | Chemodenervation of abductor | 0.00 | 0.00 | 0.00 | 0.00 | 0.00 | 0.00 | XXX
S2350 |  | I | Diskectomy, anterior, with d | 0.00 | 0.00 | 0.00 | 0.00 | 0.00 | 0.00 | XXX
S2351 |  | I | Diskectomy, anterior, with d | 0.00 | 0.00 | 0.00 | 0.00 | 0.00 | 0.00 | XXX
S2370 |  | I | Intradiscal electrothermal | 0.00 | 0.00 | 0.00 | 0.00 | 0.00 | 0.00 | XXX
S2371 |  | I | Each additional interspace | 0.00 | 0.00 | 0.00 | 0.00 | 0.00 | 0.00 | XXX
S3620 |  | X | Newborn metabolic screening | 0.00 | 0.00 | 0.00 | 0.00 | 0.00 | 0.00 | XXX
S3645 |  | I | HIV-1 antibody testing of or | 0.00 | 0.00 | 0.00 | 0.00 | 0.00 | 0.00 | XXX
S3650 |  | I | Saliva test, hormone level; | 0.00 | 0.00 | 0.00 | 0.00 | 0.00 | 0.00 | XXX
S3652 |  | I | Saliva test, hormone level; | 0.00 | 0.00 | 0.00 | 0.00 | 0.00 | 0.00 | XXX
S3700 |  | I | Bladder tumor-associated | 0.00 | 0.00 | 0.00 | 0.00 | 0.00 | 0.00 | XXX
S3708 |  | I | Gastrointestinal fat absorpt | 0.00 | 0.00 | 0.00 | 0.00 | 0.00 | 0.00 | XXX
S3902 |  | I | Ballistocardiogram | 0.00 | 0.00 | 0.00 | 0.00 | 0.00 | 0.00 | XXX
S3904 |  | I | Masters two step | 0.00 | 0.00 | 0.00 | 0.00 | 0.00 | 0.00 | XXX
S3906 |  | I | Transfusion, direct, blood | 0.00 | 0.00 | 0.00 | 0.00 | 0.00 | 0.00 | XXX
S5000 |  | I | Prescription drug, generic | 0.00 | 0.00 | 0.00 | 0.00 | 0.00 | 0.00 | XXX
S5001 |  | I | Prescription drug,brand name | 0.00 | 0.00 | 0.00 | 0.00 | 0.00 | 0.00 | XXX
S5002 |  | I | Fat emulsion 10% in 250 ml | 0.00 | 0.00 | 0.00 | 0.00 | 0.00 | 0.00 | XXX
S5003 |  | I | Fat emulsion 20% in 250 ml | 0.00 | 0.00 | 0.00 | 0.00 | 0.00 | 0.00 | XXX
S5010 |  | I | 5% dextrose and 45% saline | 0.00 | 0.00 | 0.00 | 0.00 | 0.00 | 0.00 | XXX
S5011 |  | I | 5% dextrose in lactated ring | 0.00 | 0.00 | 0.00 | 0.00 | 0.00 | 0.00 | XXX
S5012 |  | I | 5% dextrose with potassium | 0.00 | 0.00 | 0.00 | 0.00 | 0.00 | 0.00 | XXX
S5013 |  | I | 5% dextrose/45%saline,1000ml | 0.00 | 0.00 | 0.00 | 0.00 | 0.00 | 0.00 | XXX
S5014 |  | I | 5% dextrose/45%saline,1500ml | 0.00 | 0.00 | 0.00 | 0.00 | 0.00 | 0.00 | XXX
S5016 |  | I | Antibiotic admin supplies w/ | 0.00 | 0.00 | 0.00 | 0.00 | 0.00 | 0.00 | XXX
S5017 |  | I | Antibiotic adminsupplies w/o | 0.00 | 0.00 | 0.00 | 0.00 | 0.00 | 0.00 | XXX
S5018 |  | I | Pain therapy admin supplies | 0.00 | 0.00 | 0.00 | 0.00 | 0.00 | 0.00 | XXX
S5019 |  | I | Chemotherapy admin supplies | 0.00 | 0.00 | 0.00 | 0.00 | 0.00 | 0.00 | XXX
S5020 |  | I | Chemotherapy admin supplies | 0.00 | 0.00 | 0.00 | 0.00 | 0.00 | 0.00 | XXX
S5021 |  | I | Hydration therapy admin supp | 0.00 | 0.00 | 0.00 | 0.00 | 0.00 | 0.00 | XXX
S5022 |  | I | Growth hormone therapy | 0.00 | 0.00 | 0.00 | 0.00 | 0.00 | 0.00 | XXX
S5025 |  | I | Infusion pump rental,perdiem | 0.00 | 0.00 | 0.00 | 0.00 | 0.00 | 0.00 | XXX
S5503 |  | I | Maintenance of implanted vas | 0.00 | 0.00 | 0.00 | 0.00 | 0.00 | 0.00 | XXX
S8001 |  | I | Radiofrequency stimulation | 0.00 | 0.00 | 0.00 | 0.00 | 0.00 | 0.00 | XXX
S8035 |  | I | Magnetic source imaging | 0.00 | 0.00 | 0.00 | 0.00 | 0.00 | 0.00 | XXX
S8040 |  | I | Topographic brain mapping | 0.00 | 0.00 | 0.00 | 0.00 | 0.00 | 0.00 | XXX
S8049 |  | I | Intraoperative radiation the | 0.00 | 0.00 | 0.00 | 0.00 | 0.00 | 0.00 | XXX
S8080 |  | I | Scintimammography | 0.00 | 0.00 | 0.00 | 0.00 | 0.00 | 0.00 | XXX
S8085 |  | I | Fluorine-18 fluorodeoxygluco | 0.00 | 0.00 | 0.00 | 0.00 | 0.00 | 0.00 | XXX
S8092 |  | I | Electron beam computed tomog | 0.00 | 0.00 | 0.00 | 0.00 | 0.00 | 0.00 | XXX
S8095 |  | I | Wig (for medically-induced h | 0.00 | 0.00 | 0.00 | 0.00 | 0.00 | 0.00 | XXX
S8096 |  | I | Portable peak flow meter | 0.00 | 0.00 | 0.00 | 0.00 | 0.00 | 0.00 | XXX
S8105 |  | I | Oximeter for measuring blood | 0.00 | 0.00 | 0.00 | 0.00 | 0.00 | 0.00 | XXX
S8110 |  | I | Peak expiratory flow rate (p | 0.00 | 0.00 | 0.00 | 0.00 | 0.00 | 0.00 | XXX
S8200 |  | I | Chest compression vest | 0.00 | 0.00 | 0.00 | 0.00 | 0.00 | 0.00 | XXX
S8205 |  | I | Chest compression system gen | 0.00 | 0.00 | 0.00 | 0.00 | 0.00 | 0.00 | XXX
S8210 |  | I | Mucus trap | 0.00 | 0.00 | 0.00 | 0.00 | 0.00 | 0.00 | XXX
S8260 |  | I | Oral orthotic for treatment | 0.00 | 0.00 | 0.00 | 0.00 | 0.00 | 0.00 | XXX
S8400 |  | I | Incontinence pants, each | 0.00 | 0.00 | 0.00 | 0.00 | 0.00 | 0.00 | XXX
S8402 |  | I | Diapers, each | 0.00 | 0.00 | 0.00 | 0.00 | 0.00 | 0.00 | XXX
S8405 |  | I | Incontinence liners, each | 0.00 | 0.00 | 0.00 | 0.00 | 0.00 | 0.00 | XXX
S8950 |  | I | Complex lymphedema therapy, | 0.00 | 0.00 | 0.00 | 0.00 | 0.00 | 0.00 | XXX
S8999 |  | I | Resuscitation bag | 0.00 | 0.00 | 0.00 | 0.00 | 0.00 | 0.00 | XXX
S9001 |  | I | Home uterine monitor with or | 0.00 | 0.00 | 0.00 | 0.00 | 0.00 | 0.00 | XXX
S9007 |  | I | Ultrafiltration monitor | 0.00 | 0.00 | 0.00 | 0.00 | 0.00 | 0.00 | XXX
S9015 |  | I | Automated EEG monitoring | 0.00 | 0.00 | 0.00 | 0.00 | 0.00 | 0.00 | XXX
S9022 |  | I | Digital subtraction angiogra | 0.00 | 0.00 | 0.00 | 0.00 | 0.00 | 0.00 | XXX
S9023 |  | I | Xenon regional cerebral bloo | 0.00 | 0.00 | 0.00 | 0.00 | 0.00 | 0.00 | XXX
S9024 |  | I | Paranasal sinus ultrasound | 0.00 | 0.00 | 0.00 | 0.00 | 0.00 | 0.00 | XXX
S9025 |  | I | Omnicardiogram/cardiointegra | 0.00 | 0.00 | 0.00 | 0.00 | 0.00 | 0.00 | XXX
S9035 |  | I | Medical equipment or supplie | 0.00 | 0.00 | 0.00 | 0.00 | 0.00 | 0.00 | XXX
S9055 |  | I | Procuren or other growth fac | 0.00 | 0.00 | 0.00 | 0.00 | 0.00 | 0.00 | XXX
S9056 |  | I | Coma stimulation per diem | 0.00 | 0.00 | 0.00 | 0.00 | 0.00 | 0.00 | XXX
S9061 |  | I | Medical supplies and equipme | 0.00 | 0.00 | 0.00 | 0.00 | 0.00 | 0.00 | XXX
S9075 |  | I | Smoking cessation treatment | 0.00 | 0.00 | 0.00 | 0.00 | 0.00 | 0.00 | XXX
S9085 |  | I | Meniscal allograft transplan | 0.00 | 0.00 | 0.00 | 0.00 | 0.00 | 0.00 | XXX
S9088 |  | I | Services provided in urgent | 0.00 | 0.00 | 0.00 | 0.00 | 0.00 | 0.00 | XXX
S9090 |  | I | Vertebral axial decompressio | 0.00 | 0.00 | 0.00 | 0.00 | 0.00 | 0.00 | XXX
S9122 |  | I | Home health aide or certifie | 0.00 | 0.00 | 0.00 | 0.00 | 0.00 | 0.00 | XXX
S9123 |  | I | Nursing care, in the home; b | 0.00 | 0.00 | 0.00 | 0.00 | 0.00 | 0.00 | XXX
S9124 |  | I | Nursing care, in the home; b | 0.00 | 0.00 | 0.00 | 0.00 | 0.00 | 0.00 | XXX
S9125 |  | I | Respite care, in the home, p | 0.00 | 0.00 | 0.00 | 0.00 | 0.00 | 0.00 | XXX
S9126 |  | I | Hospice care, in the home, p | 0.00 | 0.00 | 0.00 | 0.00 | 0.00 | 0.00 | XXX
S9127 |  | I | Social work visit, in the ho | 0.00 | 0.00 | 0.00 | 0.00 | 0.00 | 0.00 | XXX
S9128 |  | I | Speech therapy, in the home, | 0.00 | 0.00 | 0.00 | 0.00 | 0.00 | 0.00 | XXX
S9129 |  | I | Occupational therapy, in the | 0.00 | 0.00 | 0.00 | 0.00 | 0.00 | 0.00 | XXX
S9140 |  | I | Diabetic Management Program, | 0.00 | 0.00 | 0.00 | 0.00 | 0.00 | 0.00 | XXX
S9141 |  | I | Diabetic Management Program, | 0.00 | 0.00 | 0.00 | 0.00 | 0.00 | 0.00 | XXX
S9200 |  | I | Nursing services and all nec | 0.00 | 0.00 | 0.00 | 0.00 | 0.00 | 0.00 | XXX
S9210 |  | I | Nursing services and all nec | 0.00 | 0.00 | 0.00 | 0.00 | 0.00 | 0.00 | XXX
S9220 |  | I | Nursing services and all nec | 0.00 | 0.00 | 0.00 | 0.00 | 0.00 | 0.00 | XXX
S9225 |  | I | Nursing services and all nec | 0.00 | 0.00 | 0.00 | 0.00 | 0.00 | 0.00 | XXX
S9230 |  | I | Nursing services and all nec | 0.00 | 0.00 | 0.00 | 0.00 | 0.00 | 0.00 | XXX
S9300 |  | I | Nursing services and all nec | 0.00 | 0.00 | 0.00 | 0.00 | 0.00 | 0.00 | XXX
S9308 |  | I | Nursing services and all nec | 0.00 | 0.00 | 0.00 | 0.00 | 0.00 | 0.00 | XXX
S9310 |  | I | Nursing services and all nec | 0.00 | 0.00 | 0.00 | 0.00 | 0.00 | 0.00 | XXX
S9395 |  | I | Nursing services and all nec | 0.00 | 0.00 | 0.00 | 0.00 | 0.00 | 0.00 | XXX
S9420 |  | I | Nursing services and all nec | 0.00 | 0.00 | 0.00 | 0.00 | 0.00 | 0.00 | XXX
S9423 |  | I | Nursing services, patient as | 0.00 | 0.00 | 0.00 | 0.00 | 0.00 | 0.00 | XXX
S9425 |  | I | Nursing services and all nec | 0.00 | 0.00 | 0.00 | 0.00 | 0.00 | 0.00 | XXX
S9435 |  | I | Medical foods for inborn err | 0.00 | 0.00 | 0.00 | 0.00 | 0.00 | 0.00 | XXX
S9455 |  | I | Diabetic Management Program, | 0.00 | 0.00 | 0.00 | 0.00 | 0.00 | 0.00 | XXX
S9460 |  | I | Diabetic Management Program, | 0.00 | 0.00 | 0.00 | 0.00 | 0.00 | 0.00 | XXX
S9465 |  | I | Diabetic Management Program, | 0.00 | 0.00 | 0.00 | 0.00 | 0.00 | 0.00 | XXX
S9470 |  | I | Nutritional counseling, diet | 0.00 | 0.00 | 0.00 | 0.00 | 0.00 | 0.00 | XXX
S9472 |  | I | Cardiac rehabilitation progr | 0.00 | 0.00 | 0.00 | 0.00 | 0.00 | 0.00 | XXX
S9473 |  | I | Pulmonary rehabilitation pro | 0.00 | 0.00 | 0.00 | 0.00 | 0.00 | 0.00 | XXX
S9474 |  | I | Enterostomal therapy by a re | 0.00 | 0.00 | 0.00 | 0.00 | 0.00 | 0.00 | XXX
S9475 |  | I | Ambulatory setting substance | 0.00 | 0.00 | 0.00 | 0.00 | 0.00 | 0.00 | XXX
S9480 |  | I | Intensive outpatient psychia | 0.00 | 0.00 | 0.00 | 0.00 | 0.00 | 0.00 | XXX
S9485 |  | I | Crisis intervention mental h | 0.00 | 0.00 | 0.00 | 0.00 | 0.00 | 0.00 | XXX
S9524 |  | I | Nursing services related to | 0.00 | 0.00 | 0.00 | 0.00 | 0.00 | 0.00 | XXX
S9526 |  | I | Skilled nursing visits for | 0.00 | 0.00 | 0.00 | 0.00 | 0.00 | 0.00 | XXX
S9527 |  | I | Insertion of a peripherally | 0.00 | 0.00 | 0.00 | 0.00 | 0.00 | 0.00 | XXX
S9528 |  | I | Insertion of midline central | 0.00 | 0.00 | 0.00 | 0.00 | 0.00 | 0.00 | XXX
S9533 |  | I | Pain management, intravenous | 0.00 | 0.00 | 0.00 | 0.00 | 0.00 | 0.00 | XXX
S9535 |  | I | Administration of hematopoie | 0.00 | 0.00 | 0.00 | 0.00 | 0.00 | 0.00 | XXX
S9539 |  | I | Administration of antibiotic | 0.00 | 0.00 | 0.00 | 0.00 | 0.00 | 0.00 | XXX
S9543 |  | I | Administration of medication | 0.00 | 0.00 | 0.00 | 0.00 | 0.00 | 0.00 | XXX
S9545 |  | I | Administration of immune glo | 0.00 | 0.00 | 0.00 | 0.00 | 0.00 | 0.00 | XXX
S9550 |  | I | Home IV therapy, hydration | 0.00 | 0.00 | 0.00 | 0.00 | 0.00 | 0.00 | XXX
S9555 |  | I | Additional home infusion | 0.00 | 0.00 | 0.00 | 0.00 | 0.00 | 0.00 | XXX
S9990 |  | I | Services provided as part of | 0.00 | 0.00 | 0.00 | 0.00 | 0.00 | 0.00 | XXX
S9991 |  | I | Services provided as part of | 0.00 | 0.00 | 0.00 | 0.00 | 0.00 | 0.00 | XXX
S9992 |  | I | Transportation costs to and | 0.00 | 0.00 | 0.00 | 0.00 | 0.00 | 0.00 | XXX
S9994 |  | I | Lodging costs (e.g. hotel ch | 0.00 | 0.00 | 0.00 | 0.00 | 0.00 | 0.00 | XXX
S9996 |  | I | Meals for clinical trial par | 0.00 | 0.00 | 0.00 | 0.00 | 0.00 | 0.00 | XXX
S9999 |  | I | Sales tax | 0.00 | 0.00 | 0.00 | 0.00 | 0.00 | 0.00 | XXX
V2020 |  | X | Vision svcs frames purchases | 0.00 | 0.00 | 0.00 | 0.00 | 0.00 | 0.00 | XXX
V2025 |  | N | Eyeglasses delux frames | 0.00 | 0.00 | 0.00 | 0.00 | 0.00 | 0.00 | XXX
V2100 |  | X | Lens spher single plano 4.00 | 0.00 | 0.00 | 0.00 | 0.00 | 0.00 | 0.00 | XXX
V2101 |  | X | Single visn sphere 4.12-7.00 | 0.00 | 0.00 | 0.00 | 0.00 | 0.00 | 0.00 | XXX
V2102 |  | X | Singl visn sphere 7.12-20.00 | 0.00 | 0.00 | 0.00 | 0.00 | 0.00 | 0.00 | XXX
V2103 |  | X | Spherocylindr 4.00d/12-2.00d | 0.00 | 0.00 | 0.00 | 0.00 | 0.00 | 0.00 | XXX
V2104 |  | X | Spherocylindr 4.00d/2.12-4d | 0.00 | 0.00 | 0.00 | 0.00 | 0.00 | 0.00 | XXX
V2105 |  | X | Spherocylinder 4.00d/4.25-6d | 0.00 | 0.00 | 0.00 | 0.00 | 0.00 | 0.00 | XXX
V2106 |  | X | Spherocylinder 4.00d/>6.00d | 0.00 | 0.00 | 0.00 | 0.00 | 0.00 | 0.00 | XXX
V2107 |  | X | Spherocylinder 4.25d/12-2d | 0.00 | 0.00 | 0.00 | 0.00 | 0.00 | 0.00 | XXX
V2108 |  | X | Spherocylinder 4.25d/2.12-4d | 0.00 | 0.00 | 0.00 | 0.00 | 0.00 | 0.00 | XXX
V2109 |  | X | Spherocylinder 4.25d/4.25-6d | 0.00 | 0.00 | 0.00 | 0.00 | 0.00 | 0.00 | XXX
V2110 |  | X | Spherocylinder 4.25d/over 6d | 0.00 | 0.00 | 0.00 | 0.00 | 0.00 | 0.00 | XXX
V2111 |  | X | Spherocylindr 7.25d/.25-2.25 | 0.00 | 0.00 | 0.00 | 0.00 | 0.00 | 0.00 | XXX
V2112 |  | X | Spherocylindr 7.25d/2.25-4d | 0.00 | 0.00 | 0.00 | 0.00 | 0.00 | 0.00 | XXX
V2113 |  | X | Spherocylindr 7.25d/4.25-6d | 0.00 | 0.00 | 0.00 | 0.00 | 0.00 | 0.00 | XXX
V2114 |  | X | Spherocylinder over 12.00d | 0.00 | 0.00 | 0.00 | 0.00 | 0.00 | 0.00 | XXX
V2115 |  | X | Lens lenticular bifocal | 0.00 | 0.00 | 0.00 | 0.00 | 0.00 | 0.00 | XXX
V2116 |  | X | Nonaspheric lens bifocal | 0.00 | 0.00 | 0.00 | 0.00 | 0.00 | 0.00 | XXX
V2117 |  | X | Aspheric lens bifocal | 0.00 | 0.00 | 0.00 | 0.00 | 0.00 | 0.00 | XXX
V2118 |  | X | Lens aniseikonic single | 0.00 | 0.00 | 0.00 | 0.00 | 0.00 | 0.00 | XXX
V2199 |  | X | Lens single vision not oth c | 0.00 | 0.00 | 0.00 | 0.00 | 0.00 | 0.00 | XXX
V2200 |  | X | Lens spher bifoc plano 4.00d | 0.00 | 0.00 | 0.00 | 0.00 | 0.00 | 0.00 | XXX
V2201 |  | X | Lens sphere bifocal 4.12-7.0 | 0.00 | 0.00 | 0.00 | 0.00 | 0.00 | 0.00 | XXX
V2202 |  | X | Lens sphere bifocal 7.12-20. | 0.00 | 0.00 | 0.00 | 0.00 | 0.00 | 0.00 | XXX
V2203 |  | X | Lens sphcyl bifocal 4.00d/.1 | 0.00 | 0.00 | 0.00 | 0.00 | 0.00 | 0.00 | XXX
V2204 |  | X | Lens sphcy bifocal 4.00d/2.1 | 0.00 | 0.00 | 0.00 | 0.00 | 0.00 | 0.00 | XXX
V2205 |  | X | Lens sphcy bifocal 4.00d/4.2 | 0.00 | 0.00 | 0.00 | 0.00 | 0.00 | 0.00 | XXX
V2206 |  | X | Lens sphcy bifocal 4.00d/ove | 0.00 | 0.00 | 0.00 | 0.00 | 0.00 | 0.00 | XXX
V2207 |  | X | Lens sphcy bifocal 4.25-7d/. | 0.00 | 0.00 | 0.00 | 0.00 | 0.00 | 0.00 | XXX
V2208 |  | X | Lens sphcy bifocal 4.25-7/2. | 0.00 | 0.00 | 0.00 | 0.00 | 0.00 | 0.00 | XXX
V2209 |  | X | Lens sphcy bifocal 4.25-7/4. | 0.00 | 0.00 | 0.00 | 0.00 | 0.00 | 0.00 | XXX
V2210 |  | X | Lens sphcy bifocal 4.25-7/ov | 0.00 | 0.00 | 0.00 | 0.00 | 0.00 | 0.00 | XXX
V2211 |  | X | Lens sphcy bifo 7.25-12/.25- | 0.00 | 0.00 | 0.00 | 0.00 | 0.00 | 0.00 | XXX
V2212 |  | X | Lens sphcyl bifo 7.25-12/2.2 | 0.00 | 0.00 | 0.00 | 0.00 | 0.00 | 0.00 | XXX
V2213 |  | X | Lens sphcyl bifo 7.25-12/4.2 | 0.00 | 0.00 | 0.00 | 0.00 | 0.00 | 0.00 | XXX
V2214 |  | X | Lens sphcyl bifocal over 12. | 0.00 | 0.00 | 0.00 | 0.00 | 0.00 | 0.00 | XXX
V2215 |  | X | Lens lenticular bifocal | 0.00 | 0.00 | 0.00 | 0.00 | 0.00 | 0.00 | XXX
V2216 |  | X | Lens lenticular nonaspheric | 0.00 | 0.00 | 0.00 | 0.00 | 0.00 | 0.00 | XXX
V2217 |  | X | Lens lenticular aspheric bif | 0.00 | 0.00 | 0.00 | 0.00 | 0.00 | 0.00 | XXX
V2218 |  | X | Lens aniseikonic bifocal | 0.00 | 0.00 | 0.00 | 0.00 | 0.00 | 0.00 | XXX
V2219 |  | X | Lens bifocal seg width over | 0.00 | 0.00 | 0.00 | 0.00 | 0.00 | 0.00 | XXX
V2220 |  | X | Lens bifocal add over 3.25d | 0.00 | 0.00 | 0.00 | 0.00 | 0.00 | 0.00 | XXX
V2299 |  | X | Lens bifocal speciality | 0.00 | 0.00 | 0.00 | 0.00 | 0.00 | 0.00 | XXX
V2300 |  | X | Lens sphere trifocal 4.00d | 0.00 | 0.00 | 0.00 | 0.00 | 0.00 | 0.00 | XXX
V2301 |  | X | Lens sphere trifocal 4.12-7. | 0.00 | 0.00 | 0.00 | 0.00 | 0.00 | 0.00 | XXX
V2302 |  | X | Lens sphere trifocal 7.12-20 | 0.00 | 0.00 | 0.00 | 0.00 | 0.00 | 0.00 | XXX
V2303 |  | X | Lens sphcy trifocal 4.0/.12- | 0.00 | 0.00 | 0.00 | 0.00 | 0.00 | 0.00 | XXX
V2304 |  | X | Lens sphcy trifocal 4.0/2.25 | 0.00 | 0.00 | 0.00 | 0.00 | 0.00 | 0.00 | XXX
V2305 |  | X | Lens sphcy trifocal 4.0/4.25 | 0.00 | 0.00 | 0.00 | 0.00 | 0.00 | 0.00 | XXX
V2306 |  | X | Lens sphcyl trifocal 4.00/>6 | 0.00 | 0.00 | 0.00 | 0.00 | 0.00 | 0.00 | XXX
V2307 |  | X | Lens sphcy trifocal 4.25-7/. | 0.00 | 0.00 | 0.00 | 0.00 | 0.00 | 0.00 | XXX
V2308 |  | X | Lens sphc trifocal 4.25-7/2. | 0.00 | 0.00 | 0.00 | 0.00 | 0.00 | 0.00 | XXX
V2309 |  | X | Lens sphc trifocal 4.25-7/4. | 0.00 | 0.00 | 0.00 | 0.00 | 0.00 | 0.00 | XXX
V2310 |  | X | Lens sphc trifocal 4.25-7/>6 | 0.00 | 0.00 | 0.00 | 0.00 | 0.00 | 0.00 | XXX
V2311 |  | X | Lens sphc trifo 7.25-12/.25- | 0.00 | 0.00 | 0.00 | 0.00 | 0.00 | 0.00 | XXX
V2312 |  | X | Lens sphc trifo 7.25-12/2.25 | 0.00 | 0.00 | 0.00 | 0.00 | 0.00 | 0.00 | XXX
V2313 |  | X | Lens sphc trifo 7.25-12/4.25 | 0.00 | 0.00 | 0.00 | 0.00 | 0.00 | 0.00 | XXX
V2314 |  | X | Lens sphcyl trifocal over 12 | 0.00 | 0.00 | 0.00 | 0.00 | 0.00 | 0.00 | XXX
V2315 |  | X | Lens lenticular trifocal | 0.00 | 0.00 | 0.00 | 0.00 | 0.00 | 0.00 | XXX
V2316 |  | X | Lens lenticular nonaspheric | 0.00 | 0.00 | 0.00 | 0.00 | 0.00 | 0.00 | XXX
V2317 |  | X | Lens lenticular aspheric tri | 0.00 | 0.00 | 0.00 | 0.00 | 0.00 | 0.00 | XXX
V2318 |  | X | Lens aniseikonic trifocal | 0.00 | 0.00 | 0.00 | 0.00 | 0.00 | 0.00 | XXX
V2319 |  | X | Lens trifocal seg width > 28 | 0.00 | 0.00 | 0.00 | 0.00 | 0.00 | 0.00 | XXX
V2320 |  | X | Lens trifocal add over 3.25d | 0.00 | 0.00 | 0.00 | 0.00 | 0.00 | 0.00 | XXX
V2399 |  | X | Lens trifocal speciality | 0.00 | 0.00 | 0.00 | 0.00 | 0.00 | 0.00 | XXX
V2410 |  | X | Lens variab asphericity sing | 0.00 | 0.00 | 0.00 | 0.00 | 0.00 | 0.00 | XXX
V2430 |  | X | Lens variable asphericity bi | 0.00 | 0.00 | 0.00 | 0.00 | 0.00 | 0.00 | XXX
V2499 |  | X | Variable asphericity lens | 0.00 | 0.00 | 0.00 | 0.00 | 0.00 | 0.00 | XXX
V2500 |  | X | Contact lens pmma spherical | 0.00 | 0.00 | 0.00 | 0.00 | 0.00 | 0.00 | XXX
V2501 |  | X | Cntct lens pmma-toric/prism | 0.00 | 0.00 | 0.00 | 0.00 | 0.00 | 0.00 | XXX
V2502 |  | X | Contact lens pmma bifocal | 0.00 | 0.00 | 0.00 | 0.00 | 0.00 | 0.00 | XXX
V2503 |  | X | Cntct lens pmma color vision | 0.00 | 0.00 | 0.00 | 0.00 | 0.00 | 0.00 | XXX
V2510 |  | X | Cntct gas permeable sphericl | 0.00 | 0.00 | 0.00 | 0.00 | 0.00 | 0.00 | XXX
V2511 |  | X | Cntct toric prism ballast | 0.00 | 0.00 | 0.00 | 0.00 | 0.00 | 0.00 | XXX
V2512 |  | X | Cntct lens gas permbl bifocl | 0.00 | 0.00 | 0.00 | 0.00 | 0.00 | 0.00 | XXX
V2513 |  | X | Contact lens extended wear | 0.00 | 0.00 | 0.00 | 0.00 | 0.00 | 0.00 | XXX
V2520 |  | P | Contact lens hydrophilic | 0.00 | 0.00 | 0.00 | 0.00 | 0.00 | 0.00 | XXX
V2521 |  | X | Cntct lens hydrophilic toric | 0.00 | 0.00 | 0.00 | 0.00 | 0.00 | 0.00 | XXX
V2522 |  | X | Cntct lens hydrophil bifocl | 0.00 | 0.00 | 0.00 | 0.00 | 0.00 | 0.00 | XXX
V2523 |  | X | Cntct lens hydrophil extend | 0.00 | 0.00 | 0.00 | 0.00 | 0.00 | 0.00 | XXX
V2530 |  | X | Contact lens gas impermeable | 0.00 | 0.00 | 0.00 | 0.00 | 0.00 | 0.00 | XXX
V2531 |  | X | Contact lens gas permeable | 0.00 | 0.00 | 0.00 | 0.00 | 0.00 | 0.00 | XXX
V2599 |  | X | Contact lens/es other type | 0.00 | 0.00 | 0.00 | 0.00 | 0.00 | 0.00 | XXX
V2600 |  | X | Hand held low vision aids | 0.00 | 0.00 | 0.00 | 0.00 | 0.00 | 0.00 | XXX
V2610 |  | X | Single lens spectacle mount | 0.00 | 0.00 | 0.00 | 0.00 | 0.00 | 0.00 | XXX
V2615 |  | X | Telescop/othr compound lens | 0.00 | 0.00 | 0.00 | 0.00 | 0.00 | 0.00 | XXX
V2623 |  | X | Plastic eye prosth custom | 0.00 | 0.00 | 0.00 | 0.00 | 0.00 | 0.00 | XXX
V2624 |  | X | Polishing artifical eye | 0.00 | 0.00 | 0.00 | 0.00 | 0.00 | 0.00 | XXX
V2625 |  | X | Enlargemnt of eye prosthesis | 0.00 | 0.00 | 0.00 | 0.00 | 0.00 | 0.00 | XXX
V2626 |  | X | Reduction of eye prosthesis | 0.00 | 0.00 | 0.00 | 0.00 | 0.00 | 0.00 | XXX
V2627 |  | X | Scleral cover shell | 0.00 | 0.00 | 0.00 | 0.00 | 0.00 | 0.00 | XXX
V2628 |  | X | Fabrication & fitting | 0.00 | 0.00 | 0.00 | 0.00 | 0.00 | 0.00 | XXX
V2629 |  | X | Prosthetic eye other type | 0.00 | 0.00 | 0.00 | 0.00 | 0.00 | 0.00 | XXX
V2630 |  | X | Anter chamber intraocul lens | 0.00 | 0.00 | 0.00 | 0.00 | 0.00 | 0.00 | XXX
V2631 |  | X | Iris support intraoclr lens | 0.00 | 0.00 | 0.00 | 0.00 | 0.00 | 0.00 | XXX
V2632 |  | X | Post chmbr intraocular lens | 0.00 | 0.00 | 0.00 | 0.00 | 0.00 | 0.00 | XXX
V2700 |  | X | Balance lens | 0.00 | 0.00 | 0.00 | 0.00 | 0.00 | 0.00 | XXX
V2710 |  | X | Glass/plastic slab off prism | 0.00 | 0.00 | 0.00 | 0.00 | 0.00 | 0.00 | XXX
V2715 |  | X | Prism lens/es | 0.00 | 0.00 | 0.00 | 0.00 | 0.00 | 0.00 | XXX
V2718 |  | X | Fresnell prism press-on lens | 0.00 | 0.00 | 0.00 | 0.00 | 0.00 | 0.00 | XXX
V2730 |  | X | Special base curve | 0.00 | 0.00 | 0.00 | 0.00 | 0.00 | 0.00 | XXX
V2740 |  | X | Rose tint plastic | 0.00 | 0.00 | 0.00 | 0.00 | 0.00 | 0.00 | XXX
V2741 |  | X | Non-rose tint plastic | 0.00 | 0.00 | 0.00 | 0.00 | 0.00 | 0.00 | XXX
V2742 |  | X | Rose tint glass | 0.00 | 0.00 | 0.00 | 0.00 | 0.00 | 0.00 | XXX
V2743 |  | X | Non-rose tint glass | 0.00 | 0.00 | 0.00 | 0.00 | 0.00 | 0.00 | XXX
V2744 |  | X | Tint photochromatic lens/es | 0.00 | 0.00 | 0.00 | 0.00 | 0.00 | 0.00 | XXX
V2750 |  | X | Anti-reflective coating | 0.00 | 0.00 | 0.00 | 0.00 | 0.00 | 0.00 | XXX
V2755 |  | X | UV lens/es | 0.00 | 0.00 | 0.00 | 0.00 | 0.00 | 0.00 | XXX
V2760 |  | X | Scratch resistant coating | 0.00 | 0.00 | 0.00 | 0.00 | 0.00 | 0.00 | XXX
V2770 |  | X | Occluder lens/es | 0.00 | 0.00 | 0.00 | 0.00 | 0.00 | 0.00 | XXX
V2780 |  | X | Oversize lens/es | 0.00 | 0.00 | 0.00 | 0.00 | 0.00 | 0.00 | XXX
V2781 |  | X | Progressive lens per lens | 0.00 | 0.00 | 0.00 | 0.00 | 0.00 | 0.00 | XXX
V2785 |  | X | Corneal tissue processing | 0.00 | 0.00 | 0.00 | 0.00 | 0.00 | 0.00 | XXX
V2790 |  | X | Amniotic membrane | 0.00 | 0.00 | 0.00 | 0.00 | 0.00 | 0.00 | XXX
V2799 |  | X | Miscellaneous vision service | 0.00 | 0.00 | 0.00 | 0.00 | 0.00 | 0.00 | XXX
V5008 |  | N | Hearing screening | 0.00 | 0.00 | 0.00 | 0.00 | 0.00 | 0.00 | XXX
V5010 |  | N | Assessment for hearing aid | 0.00 | 0.00 | 0.00 | 0.00 | 0.00 | 0.00 | XXX
V5011 |  | N | Hearing aid fitting/checking | 0.00 | 0.00 | 0.00 | 0.00 | 0.00 | 0.00 | XXX
V5014 |  | N | Hearing aid repair/modifying | 0.00 | 0.00 | 0.00 | 0.00 | 0.00 | 0.00 | XXX
V5020 |  | N | Conformity evaluation | 0.00 | 0.00 | 0.00 | 0.00 | 0.00 | 0.00 | XXX
V5030 |  | N | Body-worn hearing aid air | 0.00 | 0.00 | 0.00 | 0.00 | 0.00 | 0.00 | XXX
V5040 |  | N | Body-worn hearing aid bone | 0.00 | 0.00 | 0.00 | 0.00 | 0.00 | 0.00 | XXX
V5050 |  | N | Hearing aid monaural in ear | 0.00 | 0.00 | 0.00 | 0.00 | 0.00 | 0.00 | XXX
V5060 |  | N | Behind ear hearing aid | 0.00 | 0.00 | 0.00 | 0.00 | 0.00 | 0.00 | XXX
V5070 |  | N | Glasses air conduction | 0.00 | 0.00 | 0.00 | 0.00 | 0.00 | 0.00 | XXX
V5080 |  | N | Glasses bone conduction | 0.00 | 0.00 | 0.00 | 0.00 | 0.00 | 0.00 | XXX
V5090 |  | N | Hearing aid dispensing fee | 0.00 | 0.00 | 0.00 | 0.00 | 0.00 | 0.00 | XXX
V5100 |  | N | Body-worn bilat hearing aid | 0.00 | 0.00 | 0.00 | 0.00 | 0.00 | 0.00 | XXX
V5110 |  | N | Hearing aid dispensing fee | 0.00 | 0.00 | 0.00 | 0.00 | 0.00 | 0.00 | XXX
V5120 |  | N | Body-worn binaur hearing aid | 0.00 | 0.00 | 0.00 | 0.00 | 0.00 | 0.00 | XXX
V5130 |  | N | In ear binaural hearing aid | 0.00 | 0.00 | 0.00 | 0.00 | 0.00 | 0.00 | XXX
V5140 |  | N | Behind ear binaur hearing ai | 0.00 | 0.00 | 0.00 | 0.00 | 0.00 | 0.00 | XXX
V5150 |  | N | Glasses binaural hearing aid | 0.00 | 0.00 | 0.00 | 0.00 | 0.00 | 0.00 | XXX
V5160 |  | N | Dispensing fee binaural | 0.00 | 0.00 | 0.00 | 0.00 | 0.00 | 0.00 | XXX
V5170 |  | N | Within ear cros hearing aid | 0.00 | 0.00 | 0.00 | 0.00 | 0.00 | 0.00 | XXX
V5180 |  | N | Behind ear cros hearing aid | 0.00 | 0.00 | 0.00 | 0.00 | 0.00 | 0.00 | XXX
V5190 |  | N | Glasses cros hearing aid | 0.00 | 0.00 | 0.00 | 0.00 | 0.00 | 0.00 | XXX
V5200 |  | N | Cros hearing aid dispens fee | 0.00 | 0.00 | 0.00 | 0.00 | 0.00 | 0.00 | XXX
V5210 |  | N | In ear bicros hearing aid | 0.00 | 0.00 | 0.00 | 0.00 | 0.00 | 0.00 | XXX
V5220 |  | N | Behind ear bicros hearing ai | 0.00 | 0.00 | 0.00 | 0.00 | 0.00 | 0.00 | XXX
V5230 |  | N | Glasses bicros hearing aid | 0.00 | 0.00 | 0.00 | 0.00 | 0.00 | 0.00 | XXX
V5240 |  | N | Dispensing fee bicros | 0.00 | 0.00 | 0.00 | 0.00 | 0.00 | 0.00 | XXX
V5299 |  | R | Hearing service | 0.00 | 0.00 | 0.00 | 0.00 | 0.00 | 0.00 | XXX
V5336 |  | N | Repair communication device | 0.00 | 0.00 | 0.00 | 0.00 | 0.00 | 0.00 | XXX
V5362 |  | R | Speech screening | 0.00 | 0.00 | 0.00 | 0.00 | 0.00 | 0.00 | XXX
V5363 |  | R | Language screening | 0.00 | 0.00 | 0.00 | 0.00 | 0.00 | 0.00 | XXX
V5364 |  | R | Dysphagia screening | 0.00 | 0.00 | 0.00 | 0.00 | 0.00 | 0.00 | XXX
¹ CPT codes and descriptions only are copyright 2001 American Medical Association. All Rights Reserved. Applicable FARS/DFARS Apply.
² Copyright 1994 American Dental Association. All rights reserved(D0110-D9999).
³ + Indicates RVUs are not use for Medicate payments.
⁴ PE RVUs = Practice Expense Relative Value Units.

[FR Doc. 01-18951 Filed 8-1-01; 8:45 am]

BILLING CODE 4120-01-P